DEPARTMENT OF HEALTH AND HUMAN SERVICES

Centers for Medicare & Medicaid Services

42 CFR Parts 405, 412, 413, 415, 419, 422, and 485

[CMS-1500-P]

RIN 0938-AN57

Medicare Program; Proposed Changes to the Hospital Inpatient Prospective Payment Systems and Fiscal Year 2006 Rates

AGENCY: Centers for Medicare and Medicaid Services (CMS), HHS.

ACTION: Proposed rule.

SUMMARY: We are proposing to revise the Medicare hospital inpatient prospective payment systems (IPPS) for operating and capital-related costs to implement changes arising from our continuing experience with these systems. In addition, in the Addendum to this proposed rule, we describe the proposed changes to the amounts and factors used to determine the rates for Medicare hospital inpatient services for operating costs and capital-related costs. We also are setting forth proposed rate-of-increase limits as well as proposed policy changes for hospitals and hospital units excluded from the IPPS that are paid in full or in part on a reasonable cost basis subject to these limits. These proposed changes would be applicable to discharges occurring on or after October 1, 2005, with one exception: The proposed changes relating to submittal of hospital wage data by a campus or campuses of a multicampus hospital system (that is, the proposed changes to § 412.230(d)(2) of the regulations) would be effective upon publication of the final rule.

Among the policy changes that we are proposing to make are changes relating to: the classification of cases to the diagnosis-related groups (DRGs); the long-term care (LTC)-DRGs and relative weights; the wage data, including the occupational mix data, used to compute the wage index; rebasing and revision of the hospital market basket; applications for new technologies and medical services add-on payments; policies governing postacute care transfers, payments to hospitals for the direct and indirect costs of graduate medical education, submission of hospital quality data, payment adjustment for low-volume hospitals, changes in the requirements for provider-based facilities; and changes in the requirements for critical access hospitals (CAHs).

DATES: Comments will be considered if received at the appropriate address, as provided in the ADDRESSES section, no later than 5 p.m. on June 24, 2005.

ADDRESSES: In commenting, please refer to file code CMS-1500-P. Because of staff and resource limitations, we cannot accept comments by facsimile (FAX) transmission.

You may submit comments in one of three ways (no duplicates, please):

1. Electronically

You may submit electronic comments to http://www.cms.hhs.gov/regulations/ecomments (attachments should be in Microsoft Word, WordPerfect, or Excel; however, we prefer Microsoft Word).

2. By Mail

You may mail written comments (one original and two copies) to the following address only: Centers for Medicare & Medicaid Services, Department of Health and Human Services, Attention: CMS-1500-P, P.O. Box 8011, Baltimore, MD 21244-1850.

Please allow sufficient time for mailed comments to be received before the close of the comment period.

3. By Hand or Courier

If you prefer, you may deliver (by hand or courier) your written comments (one original and two copies) before the close of the comment period to one of the following addresses. If you intend to deliver your comments to the Baltimore address, please call telephone number (410) 786-7195 in advance to schedule your arrival with one of our staff members.

Room 445-G, Hubert H. Humphrey Building, 200 Independence Avenue, SW., Washington, DC 20201, or 7500 Security Boulevard, Baltimore, MD 21244-1850.

(Because access to the interior of the Hubert H. Humphrey Building is not readily available to persons without Federal Government identification, commenters are encouraged to leave their comments in the CMS drop slots located in the main lobby of the building. A stamp-in clock is available for persons wishing to retain proof of filing by stamping in and retaining an extra copy of the comments being filed.)

Comments mailed to the addresses indicated as appropriate for hand or courier delivery may be delayed and received after the comment period.

Inspection of Public Comments: All comments received before the close of the comment period are available for viewing by the public, including any personally identifiable or confidential business information that is included in a comment. After the close of the comment period, CMS posts all electronic comments received before the close of the comment period on its public Web site. Written comments received timely will be available for public inspection as they are received, generally beginning approximately 4 weeks after publication of a document, at the headquarters of the Centers for Medicare & Medicaid Services, 7500 Security Boulevard, Baltimore, MD 21244, Monday through Friday of each week from 8:30 a.m. to 4 p.m. To schedule an appointment to view public comments, phone 1-800-743-3951.

For comments that relate to information collection requirements, mail a copy of comments to the following addresses:

Centers for Medicare & Medicaid Services, Office of Strategic Operations and Regulatory Affairs, Security and Standards Group, Office of Regulations Development and Issuances, Room C4-24-02 7500 Security Boulevard, Baltimore, Maryland 21244-1850, Attn: James Wickliffe, CMS-1500-P; and

Office of Information and Regulatory Affairs, Office of Management and Budget, Room 3001, New Executive Office Building, Washington, DC 20503, Attn: Christopher Martin, CMS Desk Officer, CMS-1500-P, Christopher_Martin@omb.eop.gov. Fax (202) 395-6974.

FOR FURTHER INFORMATION CONTACT:

Marc Harstein, (410) 786-4539, Operating Prospective Payment, Diagnosis-Related Groups (DRGs), Wage Index, New Medical Services and Technology Add-On Payments, Hospital Geographic Reclassifications, Postacute Care Transfers, and Disproportionate Share Hospital Issues.

Tzvi Hefter, (410) 786-4487, Capital Prospective Payment, Excluded Hospitals, Graduate Medical Education, Critical Access Hospitals, and Long-Term Care (LTC)-DRGs, and Provider-Based Facilities Issues.

Steve Heffler, (410) 786-1211, Hospital Market Basket Revision and Rebasing.

Siddhartha Mazumdar, (410) 786-6673, Rural Hospital Community Demonstration Project Issues.

Mary Collins, (410) 786-3189, Critical Access Hospitals (CAHs) Issues.

Dr. Mark Krushat, (410) 786-6809, Quality Data for Annual Payment Update Issues.

Martha Kuespert, (410) 786-4605 Specialty Hospitals Definition Issues.

SUPPLEMENTARY INFORMATION:

Electronic Access

This Federal Register document is also available from the Federal Register online database through GPO Access, a service of the U.S. Government Printing Office. Free public access is available on a Wide Area Information Server (WAIS) through the Internet and via asynchronous dial-in. Internet users can access the database by using the World Wide Web; the Superintendent of Documents home page address is http://www.access.gpo.gov/nara_docs, by using local WAIS client software, or by telnet to swais.access.gpo.gov, then login as guest (no password required). Dial-in users should use communications software and modem to call (202) 512-1661; type swais, then login as guest (no password required).

Acronyms

AAOS American Association of Orthopedic Surgeons

ACGME Accreditation Council on Graduate Medical Education

AHIMA American Health Information Management Association

AHA American Hospital Association

AICD Automatic cardioverter defibrillator

AMI Acute myocardial infarction

AOA American Osteopathic Association

ASC Ambulatory Surgical Center

ASP Average sales price

AWP Average wholesale price

BBA Balanced Budget Act of 1997, Pub. L. 105-33

BES Business Expenses Survey

BIPA Medicare, Medicaid, and SCHIP [State Children's Health Insurance Program] Benefits Improvement and Protection Act of 2000, Pub. L. 106-554

BLS Bureau of Labor Statistics

CAH Critical access hospital

CBSAs Core-Based Statistical Areas

CC Complication or comorbidity

CIPI Capital Input Price Index

CMS Centers for Medicare & Medicaid Services

CMSA Consolidated Metropolitan Statistical Area

COBRA Consolidated Omnibus Reconciliation Act of 1985, Pub. L. 99-272

CoP Condition of Participation

CPI Consumer Price Index

CRNA Certified registered nurse anesthetist

CRT Cardiac Resynchronization Therapy

DRG Diagnosis-related group

DSH Disproportionate share hospital

ECI Employment Cost Index

FDA Food and Drug Administration

FIPS Federal Information Processing Standards

FQHC Federally qualified health center

FTE Full-time equivalent

FY Federal fiscal year

GAAP Generally accepted accounting principles

GAF Geographic adjustment factor

HIC Health Insurance Card

HIS Health Information System

GME Graduate medical education

HCRIS Hospital Cost Report Information System

HIPC Health Information Policy Council

HIPAA Health Insurance Portability and Accountability Act of 1996, Pub. L. 104-191

HHA Home health agency

HHS Department of Health and Human Services

HPSA Health Professions Shortage Area

HQA Hospital Quality Alliance

ICD-9-CM International Classification of Diseases, Ninth Revision, Clinical Modification

ICD-10-PCS International Classification of Diseases, Tenth Edition, Procedure Coding System

ICF/MRs Intermediate care facilities for the mentally retarded

ICU Intensive Care Unit

IHS Indian Health Service

IME Indirect medical education

IPPS Acute care hospital inpatient prospective payment system

IPF Inpatient psychiatric facility

IRF Inpatient rehabilitation facility

IRP Initial residency period

JCAHO Joint Commission on Accreditation of Healthcare Organizations

LAMCs Large area metropolitan counties

LTC-DRG Long-term care diagnosis-related group

LTCH Long-term care hospital

MCE Medicare Code Editor

MCO Managed care organization

MDC Major diagnostic category

MDH Medicare-dependent small rural hospital

MedPAC Medicare Payment Advisory Commission

MedPAR Medicare Provider Analysis and Review File

MEI Medicare Economic Index

MGCRB Medicare Geographic Classification Review Board

MMA Medicare Prescription Drug, Improvement, and Modernization Act of 2003, Pub. L. 108-173

MRHFP Medicare Rural Hospital Flexibility Program

MSA Metropolitan Statistical Area

NAICS North American Industrial Classification System

NCD National coverage determination

NCHS National Center for Health Statistics

NCVHS National Committee on Vital and Health Statistics

NECMA New England County Metropolitan Areas

NICU Neonatal intensive care unit

NQF National Quality Forum

NTIS National Technical Information Service

NVHRI National Voluntary Hospital Reporting Initiative

OES Occupational Employment Statistics

OIG Office of the Inspector General

OMB Executive Office of Management and Budget

O.R. Operating room

OSCAR Online Survey Certification and Reporting (System)

OSHA Occupational Safety and Health Act

PRM Provider Reimbursement Manual

PPI Producer Price Index

PMS Performance Measurement System

PMSAs Primary Metropolitan Statistical Areas

PPS Prospective payment system

PRA Per resident amount

ProPAC Prospective Payment Assessment Commission

PRRB Provider Reimbursement Review Board

PS&R Provider Statistical and Reimbursement System

QIA Quality Improvement Organizations

RHC Rural health clinic

RHQDAPU Reporting Hospital Quality Data for Annual Payment Update

RNHCI Religious nonmedical health care institution

RRC Rural referral center

RUCAs Rural-Urban Commuting Area Codes

SCH Sole community hospital

SDP Single Drug Pricer

SIC Standard Industrial Codes

SNF Skilled nursing facility

SOCs Standard occupational classifications

SOM State Operations Manual

SSA Social Security Administration

SSI Supplemental Security Income

TEFRA Tax Equity and Fiscal Responsibility Act of 1982, Pub. L. 97-248

UHDDS Uniform Hospital Discharge Data Set

Table of Contents

I. Background

A. Summary

1. Acute Care Hospital Inpatient Prospective Payment System (IPPS)

2. Hospitals and Hospital Units Excluded from the IPPS

a. IRFs

b. LTCH

c. IPFs

3. Critical Access Hospitals (CAHs)

4. Payments for Graduate Medical Education (GME)

B. Major Contents of this Proposed Rule

1. Proposed Changes to the DRG Reclassifications and Recalibrations of Relative Weights

2. Proposed Changes to the Hospital Wage Index

3. Proposed Revision and Rebasing of the Hospital Market Basket

4. Other Decisions and Proposed Changes to the PPS for Inpatient Operating and GME Costs

5. PPS for Capital-Related Costs

6. Proposed Changes for Hospitals and Hospital Units Excluded from the IPPS

7. Proposed Payment for Blood Clotting Factors for Inpatients with Hemophilia

8. Determining Proposed Prospective Payment Operating and Capital Rates and Rate-of-Increase Limits

9. Impact Analysis

10. Recommendation of Update Factor for Hospital Inpatient Operating Costs

11. Discussion of Medicare Payment Advisory Commission Recommendations

II. Proposed Changes to DRG Classifications and Relative Weights

A. Background

B. DRG Reclassifications

1. General

2. Pre-MDC: Intestinal Transplantation

3. MDC 1 (Diseases and Disorders of the Nervous System)

a. Strokes

b. Unruptured Cerebral Aneurysms

4. MDC 5 (Diseases and Disorders of the Circulatory System)

a. Automatic Implantable Cardioverter/Defibrillator

b. Coronary Artery Stents

c. Insertion of Left Atrial Appendage Device

d. External Heart Assist System Implant

e. Carotid Artery Stent

f. Extracorporeal Membrane Oxygenation (ECMO)

5. MDC 6 (Diseases and Disorders of the Digestive System): Artificial Anal Sphincter

6. MDC 8 (Diseases and Disorders of the Musculoskeletal System and Connective Tissue)

a. Hip and Knee Replacements

b. Kyphoplasty

c. Multiple Level Spinal Fusion

7. MDC 18 (Infectious and Parasitic Diseases (Systemic or Unspecified Sites)): Severe Sepsis

8. MDC 20 (Alcohol/Drug Use and Alcohol/Drug Induced Organic Mental Disorders): Drug-Induced Dementia

9. Medicare Code Editor (MCE) Changes

a. Newborn Age Edit

b. Newborn Diagnoses Edit

c. Diagnoses Allowed for “Males Only” Edit

d. Tobacco Use Disorder Edit

e. Noncovered Procedure Edit

10. Surgical Hierarchies

11. Refinement of Complications and Comorbidities (CC) List

a. Background

b. Comprehensive Review of the CC List

c. CC Exclusion List for FY 2006

12. Review of Procedure Codes in DRGs 468, 476, and 477

a. Moving Procedure Codes from DRG 468 or DRG 477 to MDCs

b. Reassignment of Procedures among DRGs 468, 476, and 477

c. Adding Diagnosis or Procedure Codes to MDCs

13. Changes to the ICD-9-CM Coding System

14. Other Issues: Acute Intermittent Porphyria

C. Proposed Recalibration of DRG Weights

D. Proposed LTC-DRG Reclassifications and Relative Weights for LTCHs for FY 2006

1. Background

2. Proposed Changes in the LTC-DRG Classifications

a. Background

b. Patient Classifications into DRGs

3. Development of the Proposed FY 2006 LTC-DRG Relative Weights

a. General Overview of Development of the LTC-DRG Relative Weights

b. Data

c. Hospital-Specific Relative Value Methodology

d. Proposed Low-Volume LTC-DRGs

4. Steps for Determining the Proposed FY 2006 LTC-DRG Relative Weights

E. Proposed Add-On Payments for New Services and Technologies

1. Background

2. FY 2006 Status of Technology Approved for FY 2005 Add-On Payments

3. Reevaluation of FY 2005 Applications That Were Not Approved

4. FY 2006 Applicants for New Technology Add-On Payments

III. Proposed Changes to the Hospital Wage Index

A. Background

B. Core-Based Statistical Areas for the Proposed Hospital Wage Index

C. Proposed Occupational Mix Adjustment to FY 2006 Index

1. Development of Data for the Proposed Occupational Mix Adjustment

2. Calculation of the Proposed Occupational Mix Adjustment Factor and the Proposed Occupational Mix Adjusted Wage Index

D. Worksheet S-3 Wage Data for the Proposed FY 2006 Wage Index Update

E. Verification of Worksheet S-3 Wage Data

F. Computation of the Proposed FY 2006 Unadjusted Wage Index

G. Computation of the Proposed FY 2006 Blended Wage Index

H. Proposed Revisions to the Wage Index Based on Hospital Redesignation

1. General

2. Effects of Reclassification

3. Proposed Application of Hold Harmless Protection for Certain Urban Hospitals Redesignated as Rural

4. FY 2006 MGCRB Reclassifications

5. Proposed FY 2006 Redesignations under Section 1886(d)(8)(B) of the Act

6. Reclassifications under Section 508 of Pub. L. 108-173

I. Proposed FY 2006 Wage Index Adjustment Based on Commuting Patterns of Hospital Employees

J. Process for Requests for Wage Index Data Corrections

IV. Proposed Rebasing and Revision of the Hospital Market Baskets

A. Background

B. Rebasing and Revising the Hospital Market Basket

1. Development of Cost Categories and Weights

2. PPS—Selection of Price Proxies

3. Labor-Related Share

C. Separate Market Basket for Hospitals and Hospital Units Excluded from the IPPS

1. Hospitals Paid Based on Their Reasonable Costs

2. Excluded Hospitals Paid Under Blend Methodology

3. Development of Cost Categories and Weights for the Proposed 2002-Based Excluded Hospital Market Basket

D. Frequency of Updates of Weights in IPPS Hospital Market Basket

E. Capital Input Price Index Section

V. Other Decisions and Proposed Changes to the IPPS for Operating Costs and GME Costs

A. Postacute Care Transfer Payment Policy

1. Background

2. Changes to DRGs Subject to the Postacute Care Transfer Policy

B. Reporting of Hospital Quality Data for Annual Hospital Payment Update

1. Background

2. Requirements for Hospital Reporting of Quality Data

C. Sole Community Hospitals and Medicare Dependent Hospitals

1. Background

2. Budget Neutrality Adjustment to Hospital Payments Based on Hospital-Specific Rate

3. Technical Change

D. Rural Referral Centers

1. Case-Mix Index

2. Discharges

3. Technical Change

E. Payment Adjustment for Low-Volume Hospitals

F. Indirect Medical Education (IME) Adjustment

1. Background

2. IME Adjustment for TEFRA Hospitals Converting to IPPS Hospitals

3. Section 1886(d)(3)(E) Teaching Hospitals That Withdraw Rural Reclassification

G. Payment to Disproportionate Share Hospitals (DSHs)

1. Background

2. Implementation of Section 951 of Pub. L. 108-173

H. Geographic Reclassifications

1. Background

2. Multicampus Hospitals

3. Urban Group Hospital Reclassifications

4. Clarification of Goldsmith Modification Criterion for Urban Hospitals Seeking Reclassification as Rural

I. Payment for Direct Graduate Medical Education

1. Background

2. Direct GME Initial Residency Period

a. Background

b. Direct GME Initial Residency Period Limitation: Simultaneous Match

3. New Teaching Hospitals' Participation in Medicare GME Affiliated Groups

4. GME FTE Cap Adjustments for Rural Hospitals

5. Technical Changes: Cross-References

J. Provider-Based Status of Facilities under Medicare

1. Background

2. Limits on Scope of Provider-Based Regulations—Facilities for Which Provider-Based Determinations Will Not Be Made

3. Location Requirement for Off-Campus Facilities: Application to Certain Neonatal Intensive Care Units

4. Technical and Clarifying Changes

K. Rural Community Hospital Demonstration Program

L. Definition of a Hospital in Connection with Specialty Hospitals

VI. PPS for Capital-Related Costs

VII. Proposed Changes for Hospitals and Hospital Units Excluded from the IPPS

A. Payments to Excluded Hospitals and Hospital Units

1. Payments to Existing Excluded Hospitals and Hospital Units

2. Updated Caps for New Excluded Hospitals and Units

3. Implementation of a PPS for IRFs

4. Implementation of a PPS for LTCHs

5. Implementation of a PPS for IPFs

B. Critical Access Hospitals (CAHs)

1. Background

2. Proposed Policy Change Relating to Continued Participation by CAHs in Lugar Counties

3. Proposed Policy Change Relating to Designation of CAHs as Necessary Providers

a. Determination of the Relocation Status of a CAH

b. Relocation of a CAH Using a Waiver to Meet the CoP for Distance

VIII. Payment for Blood Clotting Factor Administered to Hemophilia Inpatients

IX. MedPAC Recommendations

A. Medicare Payment Policy

B. Physician-Owned Specialty Hospitals

C. Other MedPAC Recommendations

X. Other Required Information

A. Requests for Data from the Public

B. Collection of Information Requirements

C. Public Comments

Regulation Text

Addendum—Proposed Schedule of Standardized Amounts Effective with Discharges Occurring On or After October 1, 2004 and Update Factors and Rate-of-Increase Percentages Effective With Cost Reporting Periods Beginning On or After October 1, 2004

I. Summary and Background

II. Proposed Changes to Prospective Payment Rates for Hospital Inpatient Operating Costs for FY 2006

A. Calculation of the Adjusted Standardized Amount

1. Standardization of Base-Year Costs or Target Amounts

2. Computing the Average Standardized Amount

3. Updating the Average Standardized Amount

4. Other Adjustments to the Average Standardized Amount

a. Recalibration of DRG Weights and Updated Wage Index—Budget Neutrality Adjustment

b. Reclassified Hospitals—Budget Neutrality Adjustment

c. Outliers

d. Rural Community Hospital Demonstration Program Adjustment (Section 410A of Pub. L. 108-173)

5. Proposed FY 2006 Standardized Amount

B. Adjustments for Area Wage Levels and Cost-of-Living

1. Adjustment for Area Wage Levels

2. Adjustment for Cost-of-Living in Alaska and Hawaii

C. DRG Relative Weights

D. Calculation of Proposed Prospective Payment Rates for FY 2006

1. Federal Rate

2. Hospital-Specific Rate (Applicable Only to SCHs and MDHs)

a. Calculation of Hospital-Specific Rate

b. Updating the FY 1982, FY 1987, and FY 1996 Hospital-Specific Rates for FY 2006

3. General Formula for Calculation of Proposed Prospective Payment Rates for Hospitals Located in Puerto Rico Beginning On or After October 1, 2005 and Before October 1, 2006

a. Puerto Rico Rate

b. National Rate

III. Proposed Changes to Payment Rates for Acute Care Hospital Inpatient Capital-Related Costs for FY 2006

A. Determination of Proposed Federal Hospital Inpatient Capital-Related Prospective Payment Rate Update

1. Proposed Capital Standard Federal Rate Update

a. Description of the Update Framework

b. Comparison of CMS and MedPAC Update Recommendation

2. Proposed Outlier Payment Adjustment Factor

3. Proposed Budget Neutrality Adjustment Factor for Changes in DRG Classifications and Weights and the Geographic Adjustment Factor

4. Proposed Exceptions Payment Adjustment Factor

5. Proposed Capital Standard Federal Rate for FY 2006

6. Proposed Special Capital Rate for Puerto Rico Hospitals

B. Calculation of Proposed Inpatient Capital-Related Prospective Payments for FY 2006

C. Capital Input Price Index

1. Background

2. Forecast of the CIPI for FY 2006

IV. Proposed Changes to Payment Rates for Excluded Hospitals and Hospital Units: Rate-of-Increase Percentages

A. Payments to Existing Excluded Hospitals and Units

B. Updated Caps for New Excluded Hospitals and Units

V. Payment for Blood Clotting Factor Administered to Hemophilia Inpatients

Tables

Table 1A—National Adjusted Operating Standardized Amounts, Labor/Nonlabor (69.7 Percent Labor Share/30.3 Percent Nonlabor Share If Wage Index Is Greater Than 1)

Table 1B—National Adjusted Operating Standardized Amounts, Labor/Nonlabor (62 Percent Labor Share/38 Percent Nonlabor Share If Wage Index Is Less Than or Equal to 1)

Table 1C—Adjusted Operating Standardized Amounts for Puerto Rico, Labor/Nonlabor

Table 1D—Capital Standard Federal Payment Rate

Table 2—Hospital Case-Mix Indexes for Discharges Occurring in Federal Fiscal Year 2004; Hospital Average Hourly Wage for Federal Fiscal Years 2004 (2000 Wage Data), 2005 (2001 Wage Data), and 2006 (2002 Wage Data) Wage Indexes and 3-Year Average of Hospital Average Hourly Wages

Table 3A—FY 2006 and 3-Year Average Hourly Wage for Urban Areas

Table 3B—FY 2006 and 3-Year Average Hourly Wage for Rural Areas

Table 4A—Wage Index and Capital Geographic Adjustment Factor (GAF) for Urban Areas

Table 4B—Wage Index and Capital Geographic Adjustment Factor (GAF) for Rural Areas

Table 4C—Wage Index and Capital Geographic Adjustment Factor (GAF) for Hospitals That Are Reclassified

Table 4F—Puerto Rico Wage Index and Capital Geographic Adjustment Factor (GAF)

Table 4J—Out-Migration Adjustment—FY 2006

Table 5—List of Diagnosis-Related Groups (DRGs), Relative Weighting Factors, and Geometric and Arithmetic Mean Length of Stay (LOS)

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions from the CC Exclusions List

Table 7A—Medicare Prospective Payment System Selected Percentile Lengths of Stay: FY 2004 MedPAR Update December 2004 GROUPER V22.0

Table 7B—Medicare Prospective Payment System Selected Percentile Lengths of Stay: FY 2004 MedPAR Update December 2004 GROUPER V23.0

Table 8A—Statewide Average Operating Cost-to-Charge Ratios—March 2005

Table 8B—Statewide Average Capital Cost-to-Charge Ratios—March 2005

Table 9A—Hospital Reclassifications and Redesignations by Individual Hospital—FY 2006

Table 9B—Hospital Reclassifications and Redesignation by Individual Hospital Under Section 508 of Pub. L. 108-173—FY 2005

Table 9C—Hospitals Redesignated as Rural under Section 1886(d)(8)(E) of the Act—FY 2006

Table 10—Geometric Mean Plus the Lesser of .75 of the National Adjusted Operating Standardized Payment Amount (Increased to Reflect the Difference Between Costs and Charges) or .75 of One Standard Deviation of Mean Charges by Diagnosis-Related Groups (DRGs)—March 2005

Table 11—Proposed FY 2006 LTC-DRGs, Relative Weights, Geometric Average Length of Stay, and 5/6ths of the Geometric Average Length of Stay

Appendix A—Regulatory Impact Analysis

Appendix B—Recommendation of Update Factors for Operating Cost Rates of Payment for Inpatient Hospital Services

I. Background

A. Summary

1. Acute Care Hospital Inpatient Prospective Payment System (IPPS)

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system (PPS). Under these PPSs, Medicare payment for hospital inpatient operating and capital-related costs is made at predetermined, specific rates for each hospital discharge. Discharges are classified according to a list of diagnosis-related groups (DRGs).

The base payment rate is comprised of a standardized amount that is divided into a labor-related share and a nonlabor-related share. The labor-related share is adjusted by the wage index applicable to the area where the hospital is located; and if the hospital is located in Alaska or Hawaii, the nonlabor-related share is adjusted by a cost-of-living adjustment factor. This base payment rate is multiplied by the DRG relative weight.

If the hospital treats a high percentage of low-income patients, it receives a percentage add-on payment applied to the DRG-adjusted base payment rate. This add-on payment, known as the disproportionate share hospital (DSH) adjustment, provides for a percentage increase in Medicare payments to hospitals that qualify under either of two statutory formulas designed to identify hospitals that serve a disproportionate share of low-income patients. For qualifying hospitals, the amount of this adjustment may vary based on the outcome of the statutory calculations.

If the hospital is an approved teaching hospital, it receives a percentage add-on payment for each case paid under the IPPS (known as the indirect medical education (IME) adjustment). This percentage varies, depending on the ratio of residents to beds.

Additional payments may be made for cases that involve new technologies or medical services that have been approved for special add-on payments. To qualify, a new technology or medical service must demonstrate that it is a substantial clinical improvement over technologies or services otherwise available, and that, absent an add-on payment, it would be inadequately paid under the regular DRG payment.

The costs incurred by the hospital for a case are evaluated to determine whether the hospital is eligible for an additional payment as an outlier case. This additional payment is designed to protect the hospital from large financial losses due to unusually expensive cases. Any outlier payment due is added to the DRG-adjusted base payment rate, plus any DSH, IME, and new technology or medical service add-on adjustments.

Although payments to most hospitals under the IPPS are made on the basis of the standardized amounts, some categories of hospitals are paid the higher of a hospital-specific rate based on their costs in a base year (the higher of FY 1982, FY 1987, or FY 1996) or the IPPS rate based on the standardized amount. For example, sole community hospitals (SCHs) are the sole source of care in their areas, and Medicare-dependent, small rural hospitals (MDHs) are a major source of care for Medicare beneficiaries in their areas. Both of these categories of hospitals are afforded this special payment protection in order to maintain access to services for beneficiaries. (An MDH receives only 50 percent of the difference between the IPPS rate and its hospital-specific rates if the hospital-specific rate is higher than the IPPS rate. In addition, an MDH does not have the option of using FY 1996 as the base year for its hospital-specific rate.)

Section 1886(g) of the Act requires the Secretary to pay for the capital-related costs of inpatient hospital services “in accordance with a prospective payment system established by the Secretary.” The basic methodology for determining capital prospective payments is set forth in our regulations at 42 CFR 412.308 and 412.312. Under the capital PPS, payments are adjusted by the same DRG for the case as they are under the operating IPPS. Similar adjustments are also made for IME and DSH as under the operating IPPS. In addition, hospitals may receive an outlier payment for those cases that have unusually high costs.

The existing regulations governing payments to hospitals under the IPPS are located in 42 CFR part 412, Subparts A through M.

2. Hospitals and Hospital Units Excluded From the IPPS

Under section 1886(d)(1)(B) of the Act, as amended, certain specialty hospitals and hospital units are excluded from the IPPS. These hospitals and units are: Psychiatric hospitals and units; rehabilitation hospitals and units; long-term care hospitals (LTCHs); children's hospitals; and cancer hospitals. Various sections of the Balanced Budget Act of 1997 (Pub. L. 105-33), the Medicare, Medicaid and SCHIP [State Children's Health Insurance Program] Balanced Budget Refinement Act of 1999 (Pub. L. 106-113), and the Medicare, Medicaid, and SCHIP Benefits Improvement and Protection Act of 2000 (Pub. L. 106-554) provide for the implementation of PPSs for rehabilitation hospitals and units (referred to as inpatient rehabilitation facilities (IRFs)), psychiatric hospitals and units (referred to as inpatient psychiatric facilities (IPFs)), and LTCHs, as discussed below. Children's hospitals and cancer hospitals continue to be paid under reasonable cost-based reimbursement.

The existing regulations governing payments to excluded hospitals and hospital units are located in 42 CFR Parts 412 and 413.

a. IRFs

Under section 1886(j) of the Act, as amended, rehabilitation hospitals and units (IRFs) have been transitioned from payment based on a blend of reasonable cost reimbursement subject to a hospital-specific annual limit under section 1886(b) of the Act and the adjusted facility Federal prospective payment rate for cost reporting periods beginning January 1, 2002 through September 30, 2002, to payment at 100 percent of the Federal rate effective for cost reporting periods beginning on or after October 1, 2002 (66 FR 41316, August 7, 2001; 67 FR 49982, August 1, 2002; and 68 FR 45674, August 1, 2003). The existing regulations governing payments under the IRF PPS are located in 42 CFR Part 412, Subpart P.

b. LTCHs

Under the authority of sections 123(a) and (c) of Pub. L. 106-113 and section 307(b)(1) of Pub. L. 106-554, LTCHs are being transitioned from being paid for inpatient hospital services based on a blend of reasonable cost-based reimbursement under section 1886(b) of the Act to 100 percent of the Federal rate during a 5-year period, beginning with cost reporting periods that start on or after October 1, 2002. For cost reporting periods beginning on or after October 1, 2006, LTCHs will be paid 100 percent of the Federal rate (May 7, 2004 LTCH PPS final rule (69 FR 25674)). LTCHs may elect to be paid based on 100 percent of the Federal rate instead of a blended payment in any year during the 5-year transition period. The existing regulations governing payment under the LTCH PPS are located in 42 CFR Part 412, Subpart O.

c. IPFs

Under the authority of sections 124(a) and (c) of Pub. L. 106-113, inpatient psychiatric facilities (IPFs) (formerly psychiatric hospitals and psychiatric units of acute care hospitals) are paid under the new IPF PPS. Under the IPF PPS, some IPFs are transitioning from being paid for inpatient hospital services based on a blend of reasonable cost-based payment and a Federal per diem payment rate, effective for cost reporting periods beginning on or after January 1, 2005 (November 15, 2004 IPF PPS final rule (69 FR 66921)). For cost reporting periods beginning on or after July 1, 2008, IPFs will be paid 100 percent of the Federal per diem payment amount. The existing regulations governing payment under the IPF PPS are located in 42 CFR part 412, subpart N.

3. Critical Access Hospitals (CAHs)

Under sections 1814, 1820, and 1834(g) of the Act, payments are made to critical access hospitals (CAHs) (that is, rural hospitals or facilities that meet certain statutory requirements) for inpatient and outpatient services based on 101 percent of reasonable cost. Reasonable cost is determined under the provisions of section 1861(v)(1)(A) of the Act and existing regulations under 42 CFR Parts 413 and 415.

4. Payments for Graduate Medical Education (GME)

Under section 1886(a)(4) of the Act, costs of approved educational activities are excluded from the operating costs of inpatient hospital services. Hospitals with approved graduate medical education (GME) programs are paid for the direct costs of GME in accordance with section 1886(h) of the Act; the amount of payment for direct GME costs for a cost reporting period is based on the hospital's number of residents in that period and the hospital's costs per resident in a base year. The existing regulations governing payments to the various types of hospitals are located in 42 CFR Part 413.

On August 11, 2004, we published a final rule in the Federal Register (69 FR 48916) that implemented changes to the Medicare hospital inpatient prospective payment systems for both operating cost and capital-related costs, as well as changes addressing payments for excluded hospitals and payments for GME costs. Generally these changes were effective for discharges occurring on or after October 1, 2004. On October 7, 2004, we published a document in the Federal Register (69 FR 60242) that corrected technical errors made in the August 11, 2004 final rule. On December 30, 2004, we published another document in the Federal Register (69 FR 78525) that further corrected the August 11, 2004 final rule and the October 7, 2004 correction to that rule, effective January 1, 2005.

B. Major Contents of This Proposed Rule

In this proposed rule, we are setting forth proposed changes to the Medicare IPPS for operating costs and for capital-related costs in FY 2006. We also are setting forth proposed changes relating to payments for GME costs, payments to certain hospitals and units that continue to be excluded from the IPPS and paid on a reasonable cost basis, payments for DSHs, and requirements and payments for CAHs. The changes being proposed would be effective for discharges occurring on or after October 1, 2005, unless otherwise noted.

The following is a summary of the major changes that we are proposing to make:

1. Proposed Changes to the DRG Reclassifications and Recalibrations of Relative Weights

As required by section 1886(d)(4)(C) of the Act, in section II. of this proposed rule, we are proposing annual adjustments to the DRG classifications and relative weights. Based on analyses of Medicare claims data, we are proposing to establish a number of new DRGs and make changes to the designation of diagnosis and procedure codes under other existing DRGs.

The major DRG classification changes we are proposing include:

• Reassigning procedure code 35.52 (Repair of atrial septal defect with prosthesis, closed technique) from DRG 108 to DRG 518 (Percutaneous Cardiovascular Procedure Without Coronary Artery Stent or AMI);

• Reassigning procedure code 37.26 (Cardiac electrophysiologic stimulation and recording studies) from DRGs 535 and 536 to DRGs 515 (Cardiac Defibrillator Implant Without Cardiac Catheterization);

• Splitting DRG 209 into two new DRGs based on the presence or absence of the procedure codes for major joint replacement or reattachment of lower extremity and revision of hip or knee replacement, DRG 545 (Revision of Hip or Knee Replacement) and DRG 544 (Major Joint Replacement or Reattachment of Lower Extremity);

• Reassigning procedure code 26.12 (Open biopsy of salivary gland or duct) from DRG 468 to DRG 477 (Nonextensive O.R. Procedure Unrelated To Principal Diagnosis);

• Reassigning the principal diagnosis codes for curvature of the spine or malignancy from DRGs 497 and 498 to proposed new DRG 546 (Spinal Fusion Except Cervical with PDX of Curvature of the Spine or Malignancy);

• Splitting DRGs 516 and 526 into four new DRGs based on the presence or absence of a CC;

• Reassigning procedure code 39.65 (Extracorporeal membrane oxygenation [ECMO]) from DRGs 104 and 105 to DRG 541 (ECMO or Tracheostomy with Mechanical Ventilation 96+ Hours or Principal Diagnosis Except Face, Mouth and Neck Diagnoses With Major Operating Room Procedure).

We also are presenting our reevaluation of certain FY 2005 applicants for add-on payments for high-cost new medical services and technologies, and our analysis of FY 2006 applicants (including public input, as directed by Pub. L. 108-173, obtained in a town hall meeting).

We are proposing the annual update of the long-term care diagnosis-related group (LTC-DRG) classifications and relative weights for use under the LTCH PPS for FY 2006.

2. Proposed Changes to the Hospital Wage Index

In section III. of this preamble, we are proposing revisions to the wage index and the annual update of the wage data. Specific issues addressed include the following:

• The FY 2006 wage index update, using wage data from cost reporting periods that began during FY 2002.

• The proposed occupational mix adjustment to the wage index that we began to apply effective October 1, 2004.

• The proposed revisions to the wage index based on hospital redesignations and reclassifications.

• The proposed adjustment to the wage index for FY 2006 based on commuting patterns of hospital employees who reside in a county and work in a different area with a higher wage index.

• The timetable for reviewing and verifying the wage data that will be in effect for the proposed FY 2006 wage index.

3. Proposed Revision and Rebasing of the Hospital Market Baskets

In section IV. of this proposed rule, we are proposing rebasing and revising the hospital operating and capital market baskets to be used in developing the FY 2006 update factor for the operating prospective payment rates and the excluded hospital market basket to be used in developing the FY 2006 update factor for the excluded hospital rate-of-increase limits. We are also setting forth the data sources used to determine the revised market basket relative weights and choice of price proxies.

4. Other Decisions and Proposed Changes to the PPS for Inpatient Operating and GME Costs

In section V. of this proposed rule, we discuss a number of provisions of the regulations in 42 CFR Parts 412 and 413 and set forth proposed changes concerning the following:

• Solicitation of public comments on two options for possible expansion of the current postacute care transfer policy.

• The reporting of hospital quality data as a condition for receiving the full annual payment update increase.

• Proposed changes in the payment adjustment for low-volume hospitals.

• Proposed IME adjustment for TEFRA hospitals that are converting to IPPS hospitals, and IME FTE resident caps for urban hospitals that are granted rural reclassification and then withdraw that rural classification.

• Proposed changes to implement section 951 of Pub. L. 108-173 relating to the provision of patient stay/SSI days data maintained by CMS to hospitals for the purpose of determining their DSH percentage.

• Proposed changes relating to hospitals' geographic classifications, including multicampus hospitals and urban group hospital reclassifications.

• Proposed changes and clarifications relating to GME, including GME initial residency period limitation, new teaching hospitals' participation in Medicare GME affiliated groups, and the GME FTE cap adjustment for rural hospitals;

• Solicitation of public comments on possible changes in requirements for provider-based entities relating to entities the location requirements for certain neonatal intensive care units as off-campus facilities;

• Discussion of the second year of implementation of the Rural Community Hospital Demonstration Program; and

• Clarification of the definition of a hospital as it relates to “specialty hospitals” participating in the Medicare program.

5. PPS for Capital-Related Costs

In section VI. of this proposed rule, we are not proposing any policy changes to the capital-related prospective payment system. For the readers' benefit, we discuss the payment policy requirements for capital-related costs and capital payments to hospitals.

6. Proposed Changes for Hospitals and Hospital Units Excluded From the IPPS

In section VII. of this proposed rule, we discuss the proposed revisions and clarifications concerning excluded hospitals and hospital units, proposed policy changes relating to continued participation by CAHs located in counties redesignated under section 1886(d)(8)(B) of the Act (Lugar counties), and proposed policy changes relating to designation of CAHs as necessary providers.

7. Proposed Changes in Payment for Blood Clotting Factor

In section VIII of this proposed rule, we discuss the proposed change in payment for blood clotting factor administered to inpatients with hemophilia for FY 2006.

8. Determining Prospective Payment Operating and Capital Rates and Rate-of-Increase Limits

In the Addendum to this proposed rule, we set forth proposed changes to the amounts and factors for determining the FY 2006 prospective payment rates for operating costs and capital-related costs. We also establish the proposed threshold amounts for outlier cases. In addition, we address the proposed update factors for determining the rate-of-increase limits for cost reporting periods beginning in FY 2006 for hospitals and hospital units excluded from the PPS.

9. Impact Analysis

In Appendix A of this proposed rule, we set forth an analysis of the impact that the proposed changes would have on affected hospitals.

10. Recommendation of Update Factor for Hospital Inpatient Operating Costs

In Appendix B of this proposed rule, as required by sections 1886(e)(4) and (e)(5) of the Act, we provided our recommendations of the appropriate percentage changes for FY 2006 for the following:

• A single average standardized amount for all areas for hospital inpatient services paid under the IPPS for operating costs (and hospital-specific rates applicable to SCHs and MDHs).

• Target rate-of-increase limits to the allowable operating costs of hospital inpatient services furnished by hospitals and hospital units excluded from the IPPS.

11. Discussion of Medicare Payment Advisory Commission Recommendations

Under section 1805(b) of the Act, the Medicare Payment Advisory Commission (MedPAC) is required to submit a report to Congress, no later than March 1 of each year, in which MedPAC reviews and makes recommendations on Medicare payment policies. MedPAC's March 2005 recommendation concerning hospital inpatient payment policies addressed only the update factor for inpatient hospital operating costs and capital-related costs under the IPPS and for hospitals and distinct part hospital units excluded from the IPPS. This recommendation is addressed in Appendix B of this proposed rule. MedPAC issued a second Report to Congress: Physician-Owned Specialty Hospitals, March 2005, which addressed other issues relating to Medicare payments to hospitals for inpatient services. The recommendations on these issues from this second report are addressed in section IX. of this preamble. For further information relating specifically to the MedPAC March 2005 reports or to obtain a copy of the reports, contact MedPAC at (202) 220-3700 or visit MedPAC's Web site at: http://www.medpac.gov.

II. Proposed Changes to DRG Classifications and Relative Weights

A. Background

Section 1886(d) of the Act specifies that the Secretary shall establish a classification system (referred to as DRGs) for inpatient discharges and adjust payments under the IPPS based on appropriate weighting factors assigned to each DRG. Therefore, under the IPPS, we pay for inpatient hospital services on a rate per discharge basis that varies according to the DRG to which a beneficiary's stay is assigned. The formula used to calculate payment for a specific case multiplies an individual hospital's payment rate per case by the weight of the DRG to which the case is assigned. Each DRG weight represents the average resources required to care for cases in that particular DRG, relative to the average resources used to treat cases in all DRGs.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources. The proposed changes to the DRG classification system and the recalibration of the DRG weights for discharges occurring on or after October 1, 2005, are discussed below.

B. DRG Reclassifications

(If you choose to comment on issues in this section, please include the caption “DRG Reclassifications” at the beginning of your comment.)

1. General

Cases are classified into DRGs for payment under the IPPS based on the principal diagnosis, up to eight additional diagnoses, and up to six procedures performed during the stay. In a small number of DRGs, classification is also based on the age, sex, and discharge status of the patient. The diagnosis and procedure information is reported by the hospital using codes from the International Classification of Diseases, Ninth Revision, Clinical Modification (ICD-9-CM).

The process of forming the DRGs was begun by dividing all possible principal diagnoses into mutually exclusive principal diagnosis areas referred to as Major Diagnostic Categories (MDCs). The MDCs were formed by physician panels as the first step toward ensuring that the DRGs would be clinically coherent. The diagnoses in each MDC correspond to a single organ system or etiology and, in general, are associated with a particular medical specialty. Thus, in order to maintain the requirement of clinical coherence, no final DRG could contain patients in different MDCs. Most MDCs are based on a particular organ system of the body. For example, MDC 6 is Diseases and Disorders of the Digestive System. This approach is used because clinical care is generally organized in accordance with the organ system affected. However, some MDCs are not constructed on this basis because they involve multiple organ systems (for example, MDC 22 (Burns)). For FY 2005, cases are assigned to one of 519 DRGs in 25 MDCs. The table below lists the 25 MDCs.

In general, cases are assigned to an MDC based on the patient's principal diagnosis before assignment to a DRG. However, for FY 2005, there are nine DRGs to which cases are directly assigned on the basis of ICD-9-CM procedure codes. These DRGs are for heart transplant or implant of heart assist systems, liver and/or intestinal transplants, bone marrow, lung, simultaneous pancreas/kidney, and pancreas transplants and for tracheostomies. Cases are assigned to these DRGs before they are classified to an MDC. The table below lists the current nine pre-MDCs.

Once the MDCs were defined, each MDC was evaluated to identify those additional patient characteristics that would have a consistent effect on the consumption of hospital resources. Since the presence of a surgical procedure that required the use of the operating room would have a significant effect on the type of hospital resources used by a patient, most MDCs were initially divided into surgical DRGs and medical DRGs. Surgical DRGs are based on a hierarchy that orders operating room (O.R.) procedures or groups of O.R. procedures by resource intensity. Medical DRGs generally are differentiated on the basis of diagnosis and age (less than or greater than 17 years of age). Some surgical and medical DRGs are further differentiated based on the presence or absence of a complication or a comorbidity (CC).

Generally, nonsurgical procedures and minor surgical procedures that are not usually performed in an operating room are not treated as O.R. procedures. However, there are a few non-O.R. procedures that do affect DRG assignment for certain principal diagnoses, for example, extracorporeal shock wave lithotripsy for patients with a principal diagnosis of urinary stones.

Once the medical and surgical classes for an MDC were formed, each class of patients was evaluated to determine if complications, comorbidities, or the patient's age would consistently affect the consumption of hospital resources. Physician panels classified each diagnosis code based on whether the diagnosis, when present as a secondary condition, would be considered a substantial complication or comorbidity.

A substantial complication or comorbidity was defined as a condition, which because of its presence with a specific principal diagnosis, would cause an increase in the length of stay by at least one day in at least 75 percent of the patients. Each medical and surgical class within an MDC was tested to determine if the presence of any substantial comorbidities or complications would consistently affect the consumption of hospital resources.

The actual process of forming the DRGs was, and continues to be, highly iterative, involving a combination of statistical results from test data combined with clinical judgment. In deciding whether to create a separate DRG, we consider whether the resource consumption and clinical characteristics of the patients with a given set of conditions are significantly different than the remaining patients in the DRG. We evaluate patient care costs using average charges and length of stay as proxies for costs and rely on the judgment of our medical officers to decide whether patients are distinct or clinically similar to other patients in the DRG. In evaluating resource costs, we consider both the absolute and percentage differences in average charges between the cases we are selecting for review and the remainder of cases in the DRG. We also consider variation in charges within these groups; that is, whether observed average differences are consistent across patients or attributable to cases that are extreme in terms of charges or length of stay, or both. Further, we also consider the number of patients who will have a given set of characteristics and generally prefer not to create a new DRG unless it will include a substantial number of cases. As we explain in more detail in section IX. of this preamble, MedPAC has made a number of recommendations regarding the DRG system. As part of our review and analysis of MedPAC's recommendations, we will consider whether to establish guidelines for making DRG reclassification decisions.

A patient's diagnosis, procedure, discharge status, and demographic information is fed into the Medicare claims processing systems and subjected to a series of automated screens called the Medicare Code Editor (MCE). The MCE screens are designed to identify cases that require further review before classification into a DRG.

After patient information is screened through the MCE and any further development of the claim is conducted, the cases are classified into the appropriate DRG by the Medicare GROUPER software program. The GROUPER program was developed as a means of classifying each case into a DRG on the basis of the diagnosis and procedure codes and, for a limited number of DRGs, demographic information (that is, sex, age, and discharge status).

After cases are screened through the MCE and assigned to a DRG by the GROUPER, the PRICER software calculates a base DRG payment. The PRICER calculates the payments for each case covered by the IPPS based on the DRG relative weight and additional factors associated with each hospital, such as IME and DSH adjustments. These additional factors increase the payment amount to hospitals above the base DRG payment.

The records for all Medicare hospital inpatient discharges are maintained in the Medicare Provider Analysis and Review (MedPAR) file. The data in this file are used to evaluate possible DRG classification changes and to recalibrate the DRG weights. However, in the July 30, 1999 IPPS final rule (64 FR 41500), we discussed a process for considering non-MedPAR data in the recalibration process. In order for us to consider using particular non-MedPAR data, we must have sufficient time to evaluate and test the data. The time necessary to do so depends upon the nature and quality of the non-MedPAR data submitted. Generally, however, a significant sample of the non-MedPAR data should be submitted by mid-October for consideration in conjunction with the next year's proposed rule. This allows us time to test the data and make a preliminary assessment as to the feasibility of using the data. Subsequently, a complete database should be submitted by early December for consideration in conjunction with the next year's proposed rule.

Many of the changes to the DRG classifications are the result of specific issues brought to our attention by interested parties. We encourage individuals with concerns about DRG classifications to bring those concerns to our attention in a timely manner so they can be carefully considered for possible inclusion in the next proposed rule and if included, may be subjected to public review and comment. Therefore, similar to the timetable for interested parties to submit non-MedPAR data for consideration in the DRG recalibration process, concerns about DRG classification issues should be brought to our attention no later than early December in order to be considered and possibly included in the next annual proposed rule updating the IPPS.

The changes we are proposing to the DRG classification system for FY 2006 for the FY 2006 GROUPER, version 23.0 and to the methodology used to recalibrate the DRG weights are set forth below. Unless otherwise noted in this proposed rule, our DRG analysis is based on data from the December 2004 update of the FY 2004 MedPAR file, which contains hospital bills received through December 31, 2004 for discharges in FY 2004.

2. Pre-MDC: Intestinal Transplantation

In the FY 2005 IPPS final rule (69 FR 48976), we moved intestinal transplantation cases that were assigned to ICD-9-CM procedure code 46.97 (Transplant of intestine) out of DRG 148 (Major Small and Large Bowel Procedures with CC) and DRG 149 (Major Small and Large Bowel Procedures Without CC) and into DRG 480 (Liver Transplant). We also changed the title for DRG 480 to “Liver Transplant and/or Intestinal Transplant.” We moved these cases out of DRGs 148 and 149 because our analysis demonstrated that the average charges for intestinal transplants are significantly higher than the average charges for other cases in these DRGs. We stated at that time that we would continue to monitor these cases.

Based on our review of the FY 2004 MedPAR data, we found 959 cases assigned to DRG 480 with overall average charges of approximately $165,622. There were only three cases involving an intestinal transplant alone and one case in which both an intestinal transplant and a liver transplant were performed. The average charges for the intestinal transplant cases ($138,922) were comparable to the average charges for the liver transplant cases ($165,314), while the remaining combination of an intestinal transplant and a liver transplant case had much higher charges ($539,841), and would be paid as an outlier case. Therefore, we are not proposing any DRG modification for intestinal transplantation cases at this time.

We note that an institution that performs intestinal transplantation, in correspondence to us written following the publication of the FY 2005 IPPS final rule, agreed with our decision to move cases assigned to code 46.97 to DRG 480.

3. MDC 1 (Diseases and Disorders of the Nervous System)

a. Strokes

In 1996, the Food and Drug Administration (FDA) approved the use of tissue plasminogen activator (tPA), one type of thrombolytic agent that dissolves blood clots. In 1998, the ICD-9-CM Coordination and Maintenance Committee created code 99.10 (Injection or infusion of thrombolytic agent) in order to be able to uniquely identify the administration of thrombolytic agents. Studies have shown that tPA can be effective in reducing the amount of damage the brain sustains during an ischemic stroke, which is caused by blood clots that block blood flow to the brain. The use of tPA is approved for patients who have blood clots in the brain, but not for patients who have a bleeding or hemorrhagic stroke. Thrombolytic therapy has been shown to be most effective when used within the first 3 hours after the onset of a stroke, and it is contraindicated in hemorrhagic stroke. The presence or absence of code 99.10 does not currently influence DRG assignment. Since code 99.10 became effective, we have been monitoring the DRGs and cases in which this code can be found, particularly with respect to cardiac and stroke DRGs.

Last year, we met with representatives from several hospital stroke centers who recommended modification of the existing stroke DRGs 14 (Intracranial Hemorrhage or Cerebral Infarction) and 15 (Nonspecific CVA and Precerebral Occlusion Without Infarction) by using the administration of tPA as a proxy to identify patients who have severe strokes. The representatives stated that using tPA as a proxy for the more severely ill stroke patient would recognize the higher charges these cases generate because of their higher hospital resource utilization.

The stroke representatives made two suggestions concerning DRGs 14 and 15. First, they proposed modifying DRG 14 by renaming it “Ischemic Stroke Treatment with a Reperfusion Agent,” and including only those cases containing code 99.10. The remainder of stroke cases where the patient was not treated with a reperfusion agent would be included in DRG 15, which would be renamed “Hemorrhagic Stroke or Ischemic Stroke without a Reperfusion Agent.” Hemorrhagic stroke cases now found in DRG 14 that are not treated with a reperfusion agent would migrate to DRG 15.

The second suggestion was to leave DRGs 14 and 15 as they currently exist, and create a new DRG, with a recommended title “Ischemic Stroke Treatment with a Reperfusion Agent.” This suggested DRG would only include strokes caused by clots, not by hemorrhages, and would include the administration of tPA, identified by procedure code 99.10.

We have examined the MedPAR data for the cases in DRGs 14 and 15, and have divided the cases based on the presence of a principal diagnosis of hemorrhage or occlusive ischemia, and the presence of procedure code 99.10. The following table displays the results:

The above table shows that the average standardized charges for cases treated with a reperfusion agent are more than $16,000 and $10,000 higher than all other cases in DRGs 14 and 15, respectively. While these data suggest that patients treated with a reperfusion agent are more expensive than all other stroke patients, this conclusion is based on a small number of cases. At this time, we are not proposing a change to the stroke DRGs because of this concern. However, we believe it is possible that more patients are being treated with a reperfusion agent than indicated by our data because the presence of code 99.10 does not affect DRG assignment and may be underreported.

We invite public comment on the changes to DRGs 14 and 15 suggested by the hospital representatives. In addition, we are interested in public comment on the number of patients currently being treated with a reperfusion agent as well as the potential costs of these patients relative to others with strokes that are also included in DRGs 14 and 15.

b. Unruptured Cerebral Aneurysms

In the FY 2004 IPPS final rule (68 FR 45353), we created DRG 528 (Intracranial Vascular Procedures With a Principal Diagnosis of Hemorrhage) in MDC 1. We received a comment at that time that suggested we create another DRG for intracranial vascular procedures for unruptured cerebral aneurysms. For the FY 2004 IPPS final rule (68 FR 45353) and the FY 2005 IPPS final rule (69 FR 48957), we evaluated the data for cases in the MedPAR file involving unruptured cerebral aneurysms assigned to DRG 1 (Craniotomy Age >17 With CC) and DRG 2 (Craniotomy Age >17 Without CC) and concluded that the average charges were consistent with those for other cases found in DRGs 1 and 2. Therefore, we did not propose a change to the DRG assignment for unruptured cerebral aneurysms.

We have reviewed the latest data for unruptured cerebral aneurysms cases. In our analysis of the FY 2004 MedPAR data, we found 1,136 unruptured cerebral aneurysm cases assigned to DRG 1 and 964 unruptured cerebral aneurysm cases assigned to DRG 2. Although the average charges for the unruptured cerebral aneurysm cases in DRG 1 ($53,455) and DRG 2 ($34,028) were slightly higher than the average charges for all cases in DRG 1 ($51,466) and DRG 2 ($30,346), we do not believe these differences are significant enough to warrant a change in these two DRGs at this time. Therefore, we are not proposing a change in the structure of these DRGs relating to unruptured cerebral aneurysm cases for FY 2006.

4. MDC 5 (Diseases and Disorders of the Circulatory System)

a. Automatic Implantable Cardioverter/Defibrillator

As part of our annual review of DRGs, for FY 2006, we performed a review of cases in the FY 2004 MedPAR file involving the implantation of a defibrillator in the following DRGs:

DRG 515 (Cardiac Defibrillator Implant Without Cardiac Catheterization).

DRG 535 (Cardiac Defibrillator Implant With Cardiac Catheterization With Acute Myocardial Infarction, Heart Failure, or Shock).

DRG 536 (Cardiac Defibrillator Implant With Cardiac Catheterization Without Acute Myocardial Infarction, Heart Failure, or Shock).

While conducting our review, we noted that there had been considerable comments from hospital coders on code 37.26 (Cardiac electrophysiologic stimulation and recording studies (EPS)), which is included in these DRGs. These comments from hospital coders were directed at both CMS and the American Hospital Association. The procedure codes for these three DRGs describe the procedures that are considered to be a cardiac catheterization. Code 37.26 is classified as a cardiac catheterization within these DRGs. Therefore, the submission of code 37.26 affects the DRG assignment for defibrillator cases and leads to the assignment of DRGs 535 or 536. When a cardiac catheterization is performed, the case is assigned to DRGs 535 or 536, depending on whether or not the patient also had an acute myocardial infarction, heart failure, or shock. The following chart shows the number of cases in each DRG, along with their average length of stay and average charges, found in the data:

We have received a number of questions from hospital coders regarding the correct use of code 37.26. There is considerable confusion about whether or not code 37.26 should be reported when the procedure is performed as part of the defibrillator implantation. Currently, the ICD-9-CM instructs the coder not to report code 37.26 when a defibrillator is inserted. There is an inclusion term under the defibrillator code 37.94 (Implantation or replacement of automatic cardioverter/defibrillator, total system [AICD]) which states that EPS is included in code 37.94. We discussed modifying this instruction at the October 7-8, 2004 meeting of the ICD-9-CM Coordination and Maintenance Committee. We received a number of comments opposing a modification to the use of code 37.26 to also allow it to be reported with an AICD insertion. A report of this meeting can be found on the Web site: http://www.cms.hhs.gov/paymentsystem/icd9.

We performed an analysis of cases within DRGs 535 and 536 with cardiac catheterization and with and without code 37.26 and with code 37.26 only reported without cardiac catheterization and found the following:

The data show that when code 37.26 is the only procedure reported from the list of cardiac catheterizations, the average charges and the average length of stay are considerably lower. For example, the average standardized charges for a defibrillator implant with only an EPS are $85,390.88 in DRG 536, while the average standardized charges for DRG 536 with a cardiac catheterization, but not an EPS, are $110,493.86. The average standardized charges for all cases in DRG 536 are $94,453.62. The data show similar findings for DRG 535, with lower lengths of stay and average charges when the only code reported from the cardiac catheterization list is an EPS. When we also consider that there may be some coding problems in the use of code 37.26, we believe it is appropriate to propose a modification to these DRGs.

Data reflected in the chart above show that the average standardized charges for DRG 515 were $83,659.76. These average charges are closer to those in DRG 536 with code 37.26 and without any other cardiac catheterization code reported. While the cases in DRG 535 with code 37.26 and without a cardiac catheterization have higher average charges than the average charges for cases in DRG 515, these cases have much lower average charges than the average charges for overall cases in DRG 535. For these reasons, we are proposing to remove code 37.26 from the list of cardiac catheterizations for DRGs 535 and 536. If a defibrillator is implanted and an EPS is performed with no other type of cardiac catheterization, the case would be assigned to DRG 515.

CMS issued a National Coverage Determination for implantable cardioverter defibrillators, effective January 27, 2005, that expands coverage and requires, in certain cases, that patient data be reported when the defibrillator is implanted for the clinical indication of primary prevention of sudden cardiac death. The submission of data on patients receiving an implantable cardioverter defibrillator for primary prevention to a data collection system is needed for the determination that the implantable cardioverter defibrillator is reasonable and necessary and for quality improvement. These data will be made available in some form to providers and practitioners to inform their decisions, monitor performance quality, and benchmark and identify best practices. We made a temporary registry available for use when the policy became effective and used the Quality Net Exchange for data submission because Medicare-participating hospitals already use the Exchange to report data.

We intend to transition from the temporary registry using the Quality Net Exchange to a more sophisticated follow-on registry that will have the ability to collect longitudinal data. Some providers have suggested that CMS increase reimbursement for implantable cardioverter defibrillators to compensate the provider for reporting data. ICD data reporting includes elements of patient demographics, clinical characteristics and indications, medications, provider information, and complications. Since these data elements are commonly found in patient medical records, it is CMS' expectation that these data are readily available to the individuals abstracting and reporting data. Therefore, we believe that increased reimbursement is not needed at this time.

b. Coronary Artery Stents

In the FY 2005 IPPS final rule (69 FR 48971 through 48974), we addressed two comments from industry representatives about the DRG assignments for coronary artery stents. These commenters had expressed concern about whether the reimbursement for stents is adequate, especially for insertion of multiple stents. They also expressed concern about whether the current DRG structure represents the most clinically coherent classification of stent cases.

The current DRG structure incorporates stent cases into the following two pairs of DRGs, depending on whether bare metal or drug-eluting stents are used and whether acute myocardial infarction (AMI) is present:

• DRG 516 (Percutaneous Cardiovascular Procedures with AMI).

• DRG 517 (Percutaneous Cardiovascular Procedures with Nondrug-Eluting Stent without AMI).

• DRG 526 (Percutaneous Cardiovascular Procedures with Drug-Eluting Stent with AMI).

• DRG 527 (Percutaneous Cardiovascular Procedures with Drug-Eluting Stent without AMI).

The commenters presented two recommendations for refinement and restructuring of the current coronary stent DRGs. One of the recommendations involved restructuring these DRGs to create two additional stent DRGs that are closely patterned after the existing pairs, and would reflect insertion of multiple stents with and without AMI. The commenters recommended incorporating either stenting code 36.06 (Insertion of nondrug-eluting coronary artery stent(s)) or code 36.07 (Insertion of drug-eluting coronary artery stent(s)) when they are reported along with code 36.05 (Multiple vessel percutaneous transluminal coronary angioplasty [PTCA] or coronary atherectomy performed during the same operation, with or without mention of thrombolytic agent). The commenter's first concern was that hospitals may be steering patients toward coronary artery bypass graft surgery in place of stenting in order to avoid significant financial losses due to what it considered the inadequate reimbursement for inserting multiple stents.

In our response to comments in the FY 2005 IPPS final rule, we indicated that it was premature to act on this recommendation because the current coding structure for coronary artery stents cannot distinguish cases in which multiple stents are inserted from those in which only a single stent is inserted. Current codes are able to identify performance of PTCA in more than one vessel by use of code 36.05. However, while this code indicates that PTCA was performed in more than one vessel, its use does not reflect the exact number of procedures performed or the exact number of vessels treated. Similarly, when codes 36.06 and 36.07 are used, they document the insertion of at least one stent. However, these stenting codes do not identify how many stents were inserted in a procedure, nor distinguish insertion of a single stent from insertion of multiple stents. Even the use of one of the stenting codes in conjunction with multiple-PTCA code 36.05 does not distinguish insertion of a single stent from multiple stents. The use of code 36.05 in conjunction with code 36.06 or code 36.07 indicates only performance of PTCA in more than one vessel, along with insertion of at least one stent. The precise numbers of PTCA-treated vessels, the number of vessels into which stents were inserted, and the total number of stents inserted in all treated vessels cannot be determined. Therefore, the capabilities of the current coding structure do not permit the distinction between single and multiple vessel stenting that would be required under the recommended restructuring of the coronary stent DRGs.

We agree that the DRG classification of cases involving coronary stents must be clinically coherent and provide for adequate reimbursement, including those cases requiring multiple stents. For this reason, we created four new ICD-9-CM codes identifying multiple stent insertion (codes 00.45, 00.46, 00.47, and 00.48) and four new codes identifying multiple vessel treatment (codes 00.40, 00.41, 00.42, and 00.43) at the October 7, 2004 ICD-9-CM Coordination and Maintenance Committee Meeting. These eight new codes can be found in Table 6B of this proposed rule. We have worked closely with the coronary stent industry and the clinical community to identify the most logical code structure to identify new codes for both multiple vessel and multiple stent use. Effective October 1, 2005, code 36.05 will be deleted and the eight new codes will be used in its place. Coders are encouraged to use as many codes as necessary to describe each case, using one code to describe the angioplasty or atherectomy, and one code each for the number of vessels treated and the number of stents inserted. Coders are encouraged to record codes accurately, as these data will potentially be the basis for future DRG restructuring. While we agree that use of multiple vessel and stent codes will provide useful information in the future on hospital costs associated with percutaneous coronary procedures, we believe it remains premature to proceed with a restructuring of the current coronary stent DRGs on the basis of the number of vessels treated or the number of stents inserted, or both, in the absence of data reflecting use of this new coding structure.

The commenter's second recommendation was that we distinguish “complex” from “noncomplex” cases in the stent DRGs by expanding the higher weighted DRGs (516 and 526) to include conditions other than AMI. The commenter recommended recognizing certain comorbid and complicating conditions, including hypertensive renal failure, congestive heart failure, diabetes, arteriosclerotic cardiovascular disease, cerebrovascular disease, and certain procedures such as multiple vessel angioplasty or atherectomy (as evidenced by the presence of procedure code 36.05), as indicators of complex cases for this purpose. Specifically, the commenters recommended replacing the current structure with the following four DRGs:

• Recommended restructured DRG 516 (Complex percutaneous cardiovascular procedures with non-drug-eluting stents).

• Recommended restructured DRG 517 (Noncomplex percutaneous cardiovascular procedures with non-drug-eluting stents).

• Recommended restructured DRG 526 (Complex percutaneous cardiovascular procedures with drug-eluting stents).

• Recommended restructured DRG 527 (Noncomplex percutaneous cardiovascular procedures with drug-eluting stents).

The commenter argued that this structure would provide an improvement in both clinical and resource coherence over the current structure that classifies cases according to the type of stent inserted and the presence or absence of AMI alone, without considering other complicating conditions. The commenter also presented an analysis, based on previous MedPAR data, that evaluated charges and lengths of stay for cases with expected high resource use and reclassified cases into its recommended new structure of paired “complex” and “noncomplex” DRGs. The commenter's analysis showed some evidence of clinical and resource coherence in the recommended DRG structure. However, we did not adopt the proposal in the FY 2005 IPPS final rule. First, the data presented by the commenter still represented preliminary experience under a relatively new DRG structure. Second, the analysis did not reveal significant gains in resource coherence compared to existing DRGs for stenting cases. Therefore, we were reluctant to adopt this approach because of comments and concern about whether the overall level of payment in the coronary stent DRGs was adequate. However, we indicated that this issue deserved further study and consideration, and that we would conduct an analysis of this recommendation and other approaches to restructuring these DRGs with updated data in the FY 2006 proposed rule.

This year, we have analyzed the MedPAR data to determine the impact of certain secondary diagnoses or complicating conditions on the four DRGs cited above. Specifically, we examined the data in DRGs 516, 517, 526, and 527, based on the presence of coronary stents (codes 36.06 and 36.07) and the following additional diagnoses:

• Congestive heart failure (represented by codes 398.91 (Rheumatic heart failure (congestive)), 402.01 (Hypertensive heart disease, malignant, with heart failure), 402.11, (Hypertensive heart disease, benign, with heart failure), 402.91 (Hypertensive heart disease, unspecified, with heart failure), 404.01 (Hypertensive heart and renal disease, malignant, with heart failure), 404.03 (Hypertensive heart and renal disease, malignant, with heart failure and renal failure), 404.11 (Hypertensive heart and renal disease, benign, with heart failure), 404.13 (Hypertensive heart and renal disease, benign, with heart failure and renal failure), 404.91 (Hypertensive heart and renal disease, unspecified, with heart failure), 404.93 (Hypertensive heart and renal disease, unspecified, with heart failure and renal failure), 428.0 (Congestive heart failure, unspecified), and 428.1 (Left heart failure)).

• Arteriosclerotic cardiovascular disease (represented by code 429.2 (Cardiovascular disease, unspecified)).

• Cerebrovascular disease (represented by codes 430.0 (Subarachnoid hemorrhage), 431.0 (Intracerebral hemorrhage), 432.0 (Nontraumatic extradural hemorrhage), 432.1, Subdural hemorrhage, 432.9, (Unspecified intracranial hemorrhage), 433.01 (Occlusion and stenosis of basilar artery, with cerebral infarction), 433.11 (Occlusion and stenosis of carotid artery, with cerebral infarction), 433.21 (Occlusion and stenosis of vertebral artery, with cerebral infarction), 433.31 (Occlusion and stenosis of multiple and bilateral precerebral arteries, with cerebral infarction), 433.81 (Occlusion and stenosis of other specified precerebral artery, with cerebral infarction), 434.01 (Cerebral thrombosis with cerebral infarction), 434.11 (Cerebral embolism with cerebral infarction), 434.91 (Cerebral artery occlusion with cerebral infarction, unspecified), 436.0 (Acute, but ill-defined, cerebrovascular disease)).

• Secondary diagnosis of acute myocardial infarction (represented by codes 410.01 (Acute myocardial infarction of anterolateral wall, initial episode of care), 410.11 (Acute myocardial infarction of other anterior wall, initial episode of care), 410.21 (Acute myocardial infarction of inferolateral wall, initial episode of care), 410.31 (Acute myocardial infarction of inferoposterior wall, initial episode of care), 410.41 (Acute myocardial infarction of other inferior wall, initial episode of care), 410.51 (Acute myocardial infarction of other lateral wall, initial episode of care), 410.61 (True posterior wall infarction, initial episode of care), 410.71 (Subendocardial infarction, initial episode of care), 410.81 (Acute myocardial infarction of other specified sites, initial episode of care), 410.91 (Acute myocardial infarction of unspecified site, initial episode of care)).

• Renal failure (represented by codes 403.01 (Hypertensive renal disease, malignant, with renal failure), 403.11 (Hypertensive renal disease, benign, with renal failure), 403.91 (Hypertensive renal disease, unspecified, with renal failure), 585.0 (Chronic renal failure), V42.0 (Organ or tissue replaced by transplant, kidney), V45.1 (Renal dialysis status), V56.0 (Extracorporeal dialysis), V56.1 (Fitting and adjustment of extracorporeal dialysis catheter), V56.2 (Fitting and adjustment of peritoneal dialysis catheter)). Any renal failure with congestive heart failure will be captured in the 404.xx codes listed above.

We reviewed the cases in the four coronary stent DRGs and found that most of the additional or “complicated” cases did, in fact, have higher average charges in most instances. However, these results could potentially be duplicated for many DRGs, or sets of DRGs, within the PPS structure. That is, cases with selected complicating factors will tend to have higher average lengths of stay and average charges than cases without those complicating factors. Since cases with the selected complicating factors necessarily contain sicker patients, longer lengths of stay and higher average charges are to be expected. For example, cases in which patients with a cardiac condition also have renal failure are quite likely to consume higher resources than patients only with a cardiac condition. In addition, selectively recognizing the recommended secondary diagnoses or complicating conditions raises some issues related to the logic and structural integrity of the DRG system. Generally, we have taken into account the higher costs of cases with complications by maintaining a general list of comorbidities and complications (the CC) list), and, where appropriate, distinguishing pairs of DRGs by “with and without CCs.” (This system also specifies exclusions from each pair, to account for cases where a condition on the CC list is an expected and normal constituent of the diagnoses reflected in the paired DRGs.) In order to maintain the basic DRG body-system structure, we have not employed special lists of procedures and diagnoses from one MDC to make determinations about the structure of DRGs in another MDC. The recommended restructuring of the coronary stent DRGs is inconsistent with this principle and may create a new precedent of selecting specific comorbidities and complications to restructure DRGs. For example, the presence of code 403.11 (Hypertensive renal disease, malignant, with renal failure) may distinguish cases with higher average charges, but the same argument could be raised for many other procedures across other MDCs.

Rather than establishing such a precedent, we are proposing to restructure the coronary stent DRGs on the basis of the standard CC list to differentiate cases that require greater resources. We believe this list to be more inclusive of true comorbid or complicating conditions than selection of specific secondary diagnosis codes. Therefore, restructuring these DRGs on this basis would result in a logical arrangement of cases with regard to both clinical coherence and resource consumption. We have compared the existing CC list with the list of the codes recommended by the commenter as secondary diagnoses. All of the recommended codes already appear on the CC list except for codes 429.2, 432.9, V56.1, and V56.2. Code 429.2 represents a very vague diagnosis (arteriosclerotic cardiovascular disease (ASCVD)). Code 432.9 represents a nonspecific principal diagnosis that is rejected by the MCE when reported as the principal diagnosis. Codes V56.1 and V56.2 describe conditions relating to dialysis for renal failure. Therefore, we believe that our proposal to utilize the existing CC list would encompass most of the cases on the recommended list, as well as other cases with additional CCs requiring additional resources. We have examined the MedPAR data for the cases in the coronary stent DRGs, distinguishing cases that include CCs and those that do not. The following table displays the results:

The data show a clear differentiation in average charges between the cases in DRG 516 and 526 “with CC” and those “without CC.” Therefore, the data suggest that a “with and without CC” split in DRG 516 and 526 is warranted. At the same time, the data do not show such a clear differentiation, in either average charges or lengths of stay, among the cases in DRGs 517 and 527.

Therefore, we are proposing to delete DRGs 516 and 526, and to substitute four new DRGs in their place. These new DRGs would be patterned after existing DRGs 516 and 526, except that they would be split based on the presence or absence of a secondary diagnosis on the existing CC list. Specifically, we are proposing to create DRG 547 (Percutaneous Cardiovascular Procedure with AMI with CC), DRG 548 (Percutaneous Cardiovascular Procedure with AMI without CC), DRG 549 (Percutaneous Cardiovascular Procedure with Drug-Eluting Stent with AMI with CC), and DRG 550 (Percutaneous Cardiovascular Procedure with Drug-Eluting Stent with AMI without CC). As we noted above, the MedPAR data do not support restructuring DRGs 517 and 527 based on the presence or absence of a CC. Therefore, we are proposing to retain these two DRGs in their current forms. We believe this revised structure will result in a more inclusive and comprehensive array of cases within MDC 5 without selectively recognizing certain secondary diagnoses as “complex.”

While we are proposing some restructuring of the coronary stent DRGs for FY 2006, it is important to note that we will continue to monitor and analyze clinical and resource trends in this area. For example, we have found indications in the current data that treatment may be moving toward use of drug-eluting stents, and away from use of bare metal stents. Specifically, cases in DRGs 516 and 517, which utilize bare metal stents, comprise only 44.4 percent, or less than half, of the cases in the four coronary stent DRGs in the MedPAR data we analyzed. As use of drug-eluting stents becomes the standard of treatment, we may consider over time whether to dispense with the distinction between these stents and the older bare metal stent technology in the structure of the coronary stent DRGs. In addition, we will continue to consider whether the structure of these DRGs ought to reflect differences in the number of vessels treated or the number of stents inserted, or both. As we discussed above, a new coding structure capable of identifying multiple vessel treatment and the insertion of multiple stents will go into effect on October 1, 2005. It remains premature to restructure the coronary stent DRGs on the basis of the number of vessels treated or the number of stents inserted, or both, until data reflecting the use of these new codes become available. However, we will analyze those data when they become available in order to determine whether a restructuring based on multiple vessel treatment or insertion of multiple stents, or both, is warranted. Our proposal to restructure two of the current coronary stent DRGs into paired “with and without CC” DRGs for FY 2006 does not preclude proposals in subsequent years to restructure the coronary stent DRGs in one or both of these ways.

c. Insertion of Left Atrial Appendage Device

Atrial fibrillation is a common heart rhythm disorder that can lead to a cardiovascular blood clot formation leading to increased risk of stroke. According to product literature, nearly all strokes are from embolic clots arising in the left atrial appendage of the heart: an appendage for which there is no useful function. Standard therapy uses anticoagulation drugs. However, these drugs may be contraindicated in certain patients and may cause complications such as bleeding. The underlying concept behind the left atrial appendage device is to block off the left atrial appendage, so that the blood clots formed therein cannot travel to other sites in the vascular system. The device is implanted using a percutaneous catheter procedure under fluoroscopy through the femoral vein. Implantation is performed in a hospital catheterization laboratory using standard transseptal technique, with the patient generally under local anesthesia. The procedure takes approximately 1 hour, and most patients stay overnight in the hospital.

In the FY 2005 IPPS final rule (69 FR 48978, August 11, 2004), we discussed the DRG assignment of new ICD-9-CM procedure code 37.90 (Insertion of left atrial appendage device) for clinical trials, effective for discharges occurring on or after October 1, 2004, to DRG 518 (Percutaneous Cardiovascular Procedure without Coronary Artery Stent or Acute Myocardial Infarction)). In that final rule, we addressed the DRG assignment of procedure code 37.90 in response to a comment from a manufacturer who suggested that placement of the code in DRG 108 (Other Cardiothoracic Procedures) was more representative of the complexity of the procedure than placement in DRG 518. The manufacturer indicated that the suggested placement of procedure code 37.90 in DRG 108 was justified because another percutaneous procedure, described by ICD-9-CM procedure code 35.52 (Repair of atrial septal defect with prosthesis, closed technique), was assigned to DRG 108. As we indicated in the FY 2005 final rule (69 FR 48978), this comment prompted us to examine data in the FY 2003 MedPAR file for cases of code 35.52 assigned to DRG 108 and DRG 518 in comparison to all cases assigned to DRG 108. We found the following:

Therefore, we concluded that procedure code 35.52 showed a decided similarity to the cases found in DRG 518, not DRG 108. At that time, we determined that we would analyze the cases for both clinical coherence and charge data as part of the IPPS FY 2006 process of identifying the most appropriate DRG assignment for procedure code 35.52.

We have now examined data from the FY 2004 MedPAR file and found results for cases assigned to DRG 108 and DRG 518 that are similar to last year's findings as indicated in the chart below:

From this comparison, we found that when an atrial septal defect is percutaneously repaired, and procedure code 35.52 is the only code reported in DRG 108, there is a significant discrepancy in both the average charges and the average length of stay between the cases with procedure code 35.52 reported in DRG 108 and the total cases in DRG 108. The total cases in DRG 108 have average charges of $51,744 greater than the 872 cases in DRG 108 reporting procedure code 35.52 as the only procedure. The total cases in DRG 108 also have an average length of stay of 7.39 days greater than the average length of stay for cases in DRG 108 with procedure code 35.52 reported. In comparison, the total cases in DRG 518 have average charges of only $1,988 lower than the cases in DRG 108 with only procedure code 35.52 reported. In addition, the length of stay in total cases in DRG 518 is more closely related to cases in DRG 108 with only procedure code 35.52 reported.

Based on our analysis of these data, we are proposing to move procedure code 35.52 out of DRG 108 and place it in DRG 518. We believe that this proposal would result in a more coherent group of cases in DRG 518 that reflect all percutaneous procedures.

d. External Heart Assist System Implant

In the August 1, 2002, final rule (67 FR 49989), we attempted to clinically and financially align ventricular assist device (VAD) procedures by creating DRG 525 (Heart Assist System Implant). We also noted that cases in which a heart transplant also occurred during the same hospitalization episode would continue to be assigned to DRG 103 (Heart Transplant).

After further data review during the next 2 years, we decided to realign the DRGs containing VAD codes for FY 2005. In the August 11, 2004 final rule (69 FR 48927), we announced changes to DRG 103, DRG 104 (Cardiac Valve and Other Major Cardiothoracic Procedure with Cardiac Catheterization), DRG 105 (Cardiac Valve and Other Major Cardiothoracic Procedures Without Cardiac Catheterization), and DRG 525.

In summary, these changes included—

• Moving code 37.66 (Insertion of implantable heart assist system) out of DRG 525 and into DRG 103.

• Renaming DRG 525 as “Other Heart Assist System Implant.”

• Moving code 37.62 (Insertion of non-implantable heart assist system) out of DRGs 104 and 105 and back into DRG 525.

DRG 525 currently consists of any principal diagnosis in MDC 5, plus the following surgical procedure codes:

• 37.52, Implantation of total replacement heart system *.

• 37.53, Replacement or repair of thoracic unit of total replacement heart system *.

• 37.54, Replacement or repair of other implantable component of total replacement heart system *.

• 37.62, Insertion of non-implantable heart assist system.

• 37.63, Repair of heart assist system.

• 37.65, Implant of external heart assist system.

* These codes represent noncovered services for Medicare beneficiaries. However, it is our longstanding practice to assign every code in the ICD-9-CM classification to a DRG. Therefore, they have been assigned to DRG 525.

Since that decision, we have been encouraged by a manufacturer to reevaluate DRG 525 for FY 2006. The manufacturer requested that we again review the data surrounding cases reporting code 37.65 and has suggested moving these cases into DRG 103. The manufacturer pointed out the following: Code 37.65 describes the implantation of an external heart assist system and is currently approved by the FDA as a bridge-to-recovery device. From the standpoint of clinical status, the patients in DRG 103 and receiving an external heart assist system are similar because their native hearts cannot support circulation, and absent a heart transplant, a mechanical pump is needed for patient survival. The surgical procedures for implantation of both an internal VAD and an external VAD are very similar. However, the external heart assist system (code 37.65) is a less expensive device than the implantable heart assist system (code 37.66). The manufacturer suggested that the payment differential between DRGs 103 and 525 is an incentive to choose the higher paying device, and asserted that only a subset of patients receiving an implantable heart assist system are best served by this device. The manufacturer also suggested that the initial use of the least expensive therapeutically appropriate device yields both the best clinical outcomes and the lowest total system costs.

We note that, under the DRG system, our intent is to create payments that are reflective of the average resources required to treat a particular case. Our goal is that physicians and hospitals should make treatment decisions based on the clinical needs of the patient and not financial incentives.

When we reviewed the FY 2004 MedPAR data, we were able to demonstrate the following comparisons:

The above table shows that the 37.8 percent of cases in DRG 525 that reported code 37.65 have average charges that are nearly $33,000 higher than the average charges for all cases in the DRG. However, the average charges for the subset of cases with code 37.65 in DRG 525 ($206,497) are more than $107,086 lower than the average charges for all cases in DRG 103 ($313,583). Furthermore, the average length of stay for the subset of patients in DRG 525 receiving an external heart assist system was 9.26 days compared to 37.5 days for the 633 cases in DRG 103.

We note that the analysis above presents the difference in average charges, not costs. Because hospitals' charges are higher than costs, the difference in hospital costs will be less than the figures shown here. Moving cases containing code 37.65 from DRG 525 to DRG 103 would have two consequences. The cases in DRG 103 reporting code 37.65 would be appreciably overreimbursed, which would be inconsistent with our goal of coherent reimbursement structure within the DRGs. In addition, the relative weight of DRG 103 would decrease by moving the less resource-intensive external heart procedures into the same DRG with the more expensive heart transplant cases. The net effect would be an underpayment for heart transplant cases. Alternatively, we also reconsidered our position on moving the insertion of an implantable heart assist system (code 37.66) back into DRG 525. However, as shown in the FY 2005 IPPS final rule (69 FR 48929), the resource costs associated with caring for a patient receiving an implantable heart assist system are far more similar to those cases receiving a heart transplant in DRG 103 than they are to cases in DRG 525. For these reasons, we are not proposing to make any changes to the structure of either DRG 103 or DRG 525 in this proposed rule.

e. Carotid Artery Stent

Stroke is the third leading cause of death in the United States and the leading cause of serious, long-term disability. Approximately 70 percent of all strokes occur in people age 65 and older. The carotid artery, located in the neck, is the principal artery supplying the head and neck with blood. Accumulation of plaque in the carotid artery can lead to stroke either by decreasing the blood flow to the brain or by having plaque break free and lodge in the brain or in other arteries to the head. The percutaneous transluminal angioplasty (PTA) procedure involves inflating a balloon-like device in the narrowed section of the carotid artery to reopen the vessel. A carotid stent is then deployed in the artery to prevent the vessel from closing or restenosing. A distal filter device (embolic protection device) may also be present, which is intended to prevent pieces of plaque from entering the bloodstream.

Effective July 1, 2001, Medicare covers PTA of the carotid artery concurrent with carotid stent placement when furnished in accordance with the FDA-approved protocols governing Category B Investigational Device Exemption (IDE) clinical trials. PTA of the carotid artery, when provided solely for the purpose of carotid artery dilation concurrent with carotid stent placement, is considered to be a reasonable and necessary service only when provided in the context of such clinical trials and, therefore, is considered a covered service for the purposes of these trials. Performance of PTA in the carotid artery when used to treat obstructive lesions outside of approved protocols governing Category B IDE clinical trials remains a noncovered service.

At the April 1, 2004 ICD-9-CM Coordination and Maintenance Committee meeting, we discussed creation of a new code or codes to identify carotid artery stenting, along with a concomitant percutaneous angioplasty or atherectomy (PTA) code for delivery of the stent(s). This subject was addressed in response to the need to identify carotid artery stenting for use in clinical trials in the upcoming fiscal year. Public comment confirmed the need for specific codes for this procedure. We established codes for carotid artery stenting procedures effective October 1, 2004, for patients who are enrolled in an FDA-approved clinical trial and are using on-label FDA approved stents and embolic protection devices.

New procedure codes 00.61 (Percutaneous angioplasty or atherectomy of precerebral (extracranial vessel(s)) and 00.63 (Percutaneous insertion of carotid artery stent(s)) were published in Table 6B, New Procedure Codes in the FY 2005 IPPS final rule (69 FR 49624).

Procedure code 00.61 was assigned to four MDCs and seven DRGs. The most likely scenario is that in which cases are assigned to MDC 1 (Diseases and Disorders of the Nervous System in DRGs 533 (Extracranial Procedures with CC) and 534 (Extracranial Procedures without CC). Cases may also be assigned to MDC 5 (Diseases and Disorders of the Circulatory System), MDC 21 (Injuries, Poisoning, and Toxic Effects of Drugs), and MDC 24 (Multiple Significant Trauma). Other less likely DRG assignments can be found in Table 6B in the Addendum to the FY 2005 IPPS final rule (69 FR 49624).

In the FY 2005 final rule, we indicated that we would continue to monitor DRGs 533 and 534 and procedure code 00.61 in combination with procedure code 00.63 in upcoming annual DRG reviews. For this proposed rule, we are using proxy codes to evaluate the costs and DRG assignments for carotid artery stenting because codes 00.61 and 00.63 were only approved for use beginning October 1, 2004, and because MedPAR data for this period are not yet available. We used procedure code 39.50 (Angioplasty or atherectomy of other noncoronary vessel(s)) in combination with procedure code 39.90 (Insertion of nondrug-eluting peripheral vessel stent(s)) in DRGs 533 and 534 as the proxy codes for coronary artery stenting. For this evaluation, we used principal diagnosis code 433.10 (Occlusion and stenosis of carotid artery, without mention of cerebral infarction) because this diagnosis most closely reflects the clinical trial criteria.

The following chart shows our findings:

The patients receiving a carotid stent (codes 39.50 and 39.90) represented 3.5 percent of all cases in DRG 534. On average, patients receiving a carotid stent had slightly shorter average lengths of stay than other patients in DRGs 533 and 534. While the average charges for patients receiving a carotid artery stent were higher than for other patients in DRG 534, in our view, the small number of cases and the magnitude of the difference in average charges are not sufficient to justify a change in the DRGs.

Because we have a paucity of data for the carotid stent device and its insertion, and no data utilizing procedure codes 00.61 and 00.63 in a clinical trial setting, we believe it is premature to revise the DRG structure at this time. We expect to revisit this analysis once data become available on the new codes for carotid artery stents.

f. Extracorporeal Membrane Oxygenation (ECMO)

Extracorporeal membrane oxygenation (ECMO) is a procedure to create a closed chest, heart-lung bypass system by insertion of vascular catheters. Patients receiving this procedure require mechanical ventilation. ECMO is performed for a small number of severely ill patients who are at high risk of dying without this procedure. Most often it is done for neonates with persistent pulmonary hypertension and respiratory failure for whom other treatments have failed, certain severely ill neonates receiving major cardiac procedures or diaphragmatic hernia repair, and certain older children and adults, most of whom are receiving major cardiac procedures.

We received several letters from institutions that perform ECMO. The commenters stated that, in the CMS GROUPER logic, this procedure has little or no impact on the DRG assignment in the newborn, pediatric, and adult population. According to these letters, patients receiving ECMO are highly resource intensive and should have a unique DRG that reflects the costs of these resources. The commenters recommended the creation of a new DRG for ECMO with a DRG weight equal to or greater than the DRG weight for tracheostomy.

ECMO is assigned to procedure code 39.65 (Extracorporeal membrane oxygenation). This code is classified as an O.R. procedure and is assigned to DRG 104 (Cardiac Valve and Other Major Cardiothoracic Procedure With Cardiac Catheterization) and DRG 105 (Cardiac Valve and Other Major Cardiothoracic Procedure Without Cardiac Catheterization). When ECMO is performed with other O.R. procedures, the case is assigned to the higher weighted DRG. For example, when ECMO and a tracheostomy are performed during the same admission, the case would be assigned to DRG 541 (Tracheostomy with Mechanical Ventilation 96+ Hours or Principal Diagnosis Except Face, Mouth, and Neck Diagnoses With Major O.R.).

We note that the primary focus of updates to the Medicare DRG classification system is changes relating to the Medicare patient population, not the pediatric patient population. Because ECMO is primarily a pediatric procedure and rarely performed in an adult population, we have few cases in our data to use to evaluate resource costs. We are aware that other insurers sometimes use Medicare's rates to make payments. We advise private insurers to make appropriate modifications to our payment system when it is being used for children or other patients who are not generally found in the Medicare population.

To evaluate the appropriateness of payment under the current DRG assignment, we have reviewed the FY 2004 MedPAR data and found 78 ECMO cases in 13 DRGs. The following table illustrates the results of our findings:

The average charges for all ECMO cases were approximately $258,821, and the average length of stay was approximately 20.7 days. The average charges for the ECMO cases are closer to the average charges for DRG 541 ($273,656) than to the average charges of DRG 104 ($147,766) and DRG 105 ($131,700). Of the 78 ECMO cases, 14 cases are already assigned to DRG 541. We believe that the data indicate that DRG 541 would be a more appropriate DRG assignment for cases where ECMO is performed. We further note that under the All Payer DRG System used in New York State, cases involving ECMO are assigned to the tracheostomy DRG. Thus, the assignment of ECMO cases to the tracheostomy DRG for Medicare would be similar to how these cases are grouped in another DRG system. For these reasons, we are proposing to reassign ECMO cases reporting code 39.65 to DRG 541. We are also proposing to change the title of DRG 541 to: “ECMO or Tracheostomy With Mechanical Ventilation 96+ Hours or Principal Diagnosis Except Face, Mouth and Neck Diagnoses With Major O.R.”

5. MDC 6 (Diseases and Disorders of the Digestive System): Artificial Anal Sphincter

In the FY 2003 IPPS final rule (67 FR 50242), we created two new codes for procedures involving an artificial anal sphincter, effective for discharges occurring on or after October 1, 2002: code 49.75 (Implantation or revision of artificial anal sphincter) is used to identify cases involving implantation or revision of an artificial anal sphincter and code 49.76 (Removal of artificial anal sphincter) is used to identify cases involving the removal of the device. In Table 6B of that final rule, we assigned both codes to one of four MDCs, based on principal diagnosis, and one of six DRGs within those MDCs: MDC 6 (Diseases and Disorders of the Digestive System), DRGs 157 and 158 (Anal and Stomal Procedures With and Without CC, respectively); MDC 9 (Diseases and Disorders of the Skin, Subcutaneous Tissue and Breast), DRG 267 (Perianal and Pilonidal Procedures); MDC 21 (Injuries, Poisonings, and Toxic Effects of Drugs), DRGs 442 and 443 (Other O.R. Procedures for Injuries With and without CC, respectively); and MDC 24 (Multiple Significant Trauma), DRG 486 (Other O.R. Procedures for Multiple Significant Trauma).

In the FY 2004 IPPS final rule (68 FR 45372), we discussed the assignment of these codes in response to a request we had received to consider reassignment of these two codes to different MDCs and DRGs. The requester believed that the average charges ($44,000) for these codes warranted reassignment. In the FY 2004 IPPS final rule, we stated that we did not have sufficient MedPAR data available on the reporting of codes 49.75 and 49.76 to make a determination on DRG reassignment of these codes. We agreed that, if warranted, we would give further consideration to the DRG assignments of these codes because it is our customary practice to review DRG assignment(s) for newly created codes to determine clinical coherence and similar resource consumption after we have had the opportunity to collect MedPAR data on utilization, average lengths of stay, average charges, and distribution throughout the system. In the FY 2005 IPPS final rule, we reviewed the FY 2003 MedPAR data for the presence of codes 49.75 and 49.76 and determined that these procedures were not a clinical match with the other procedures in DRGs 157 and 158. Therefore, for FY 2005, we moved procedure codes 49.75 and 49.76 out of DRGs 157 and 158 and into DRGs 146 and 147 (Rectal Resection With and Without CC, respectively). This change had the effect of doubling the payment for the cases with procedure codes 49.75 and 49.76 assigned to DRGs 146 and 147 based on increases in the relative weights. One commenter had suggested that we create a new DRG for “Complex Anal/Rectal Procedure with Implant.” However, we noted that the DRG structure is a system of averages and is based on groups of patients with similar characteristics. At that time, we indicated that we would continue to monitor procedure codes 49.75 and 49.76 and the DRGs to which they are assigned.

For this FY 2006 proposed rule, we reviewed the FY 2004 MedPAR data for the presence of codes 49.75 and 49.76. We found that these two procedures are still of low incidence. Among the six possible DRG assignments, we found a total of 18 cases reported with codes 49.75 and 49.76 for the implant, revision, or removal of the artificial anal sphincter. We found 13 of these cases in DRGs 146 and 147 (compared to 12,558 total cases in these DRGs), and the remaining 5 cases in DRGs 442 and 443 (compared to 19,701 total cases in these DRGs).

We believe the number of cases with codes 49.75 and 49.76 in these DRGs is too low to provide meaningful data of statistical significance. Therefore, we are not proposing any further changes to the DRGs for these procedures at this time. Neither are we proposing to change the structure of DRGs 146 or 147 at this time.

6. MDC 8 (Diseases and Disorders of the Musculoskeletal System and Connective Tissue)

a. Hip and Knee Replacements

Orthopedic surgeons representing the American Association of Orthopaedic Surgeons (AAOS) requested that we subdivide DRG 209 (Major Joint and Limb Reattachment Procedures of Lower Extremity) in MDC 8 by creating a new DRG for revision of lower joint procedures. The AAOS made a presentation at the October 7-8, 2004 meeting of the ICD-9-CM Coordination and Maintenance Committee meeting. A summary report of this meeting can be found at the CMS Web site: http://www.cms.hhs.gov/paymentsystems/icd9/. We also received written comments on this request.

The AAOS surgeons stated that cases involving patients who require a revision of a prior replacement of a knee or hip require significantly more resources than cases in which patients receive an initial joint replacement. They pointed out that total joint replacement is one of the most commonly performed and successful operations in orthopedic surgery. The surgeons mentioned that, in 2002, over 300,000 hip replacement and 350,000 knee replacement procedures were performed in the United States. They also pointed out that these procedures are a frequent reason for Medicare hospitalization. The surgeons stated that total joint replacements have been shown to be highly cost-effective procedures, resulting in dramatic improvements in quality of life for patients suffering from disabling arthritic conditions involving the hip or knee. In addition, they reported that the medical literature indicates success rates of greater than 90 percent for implant survivorship, reduction in pain, and improvement in function at a 10-year to 15-year followup. However, despite these excellent results with primary total joint replacement, factors related to implant longevity and evolving patient demographics have led to an increase in the volume of revision total joint procedures performed in the United States over the past decade.

Total hip replacement is an operation that is intended to reduce pain and restore function in the hip joint by replacing the arthritic hip joint with a prosthetic ball and socket joint. The prosthetic hip joint consists of a metal alloy femoral component with a modular femoral head made of either metal or ceramic (the “ball”) that articulates with a metal acetabular component with a modular liner made of either metal, ceramic, or high-density polyethylene (the “socket”).

The AAOS surgeons stated that in a normal knee, four ligaments help hold the bones in place so that the joint works properly. When a knee becomes arthritic, these ligaments can become scarred or damaged. During knee replacement surgery, some of these ligaments, as well as the joint surfaces, are substituted or replaced by the new artificial prostheses. Two types of fixation are used to hold the prostheses in place. Cemented designs use polymethyl methacrylate to hold the prostheses in place. Cementless designs rely on bone growing into the surface of the implant for fixation.

The surgeons stated that all hip and knee replacements have an articular bearing surface that is subject to wear (the acetabular bearing surface in the hip and the tibial bearing surface in the knee). Traditionally, these bearing surfaces have been made of metal-on-metal or metal-on-polyethylene, although newer materials (both metals and ceramics) have been used more recently. Earlier hip and knee implant designs had nonmodular bearing surfaces, but later designs included modular articular bearing surfaces to reduce inventory and potentially simplify revision surgery. Wear of the articular bearing surface occurs over time and has been found to be related to many factors, including the age and activity level of the patient. In some cases, wear of the articular bearing surface can produce significant debris particles that can cause peri-prosthetic bone resorption (also known and osteolysis) and mechanical loosening of the prosthesis. Wear of the bearing surface can also lead to instability or prosthetic dislocation, or both, and is a common cause of revision hip or knee replacement surgery.

Depending on the cause of failure of the hip replacement, the type of implants used in the previous surgery, the amount and quality of the patient's remaining bone stock, and factors related to the patient's overall health and anatomy, revision hip replacement surgery can be relatively straightforward or extremely complex. Revision hip replacement can involve replacing any part or all of the implant, including the femoral or acetabular components, and the bearing surface (the femoral head and acetabular liner), and may involve major reconstruction of the bones and soft tissues around the hip. All of these procedures differ significantly in their clinical indications, outcomes, and resource intensity.

The AAOS surgeons provided the following summary of the types of revision knee replacement procedures: Among revision knee replacement procedures, patients who underwent complete revision of all components had longer operative times, higher complication rates, longer lengths of stay, and significantly higher resource utilization, according to studies conducted by the AAOS. Revision of the isolated modular tibial insert component was the next most resource-intensive procedure, and primary total knee replacement was the least resource-intensive of all the procedures studied.

• Isolated Modular Tibial Insert Exchange. Isolated removal and exchange of the modular tibial bearing surface involves replacing the modular polyethylene bearing surface without removing the femoral, tibial, or patellar components of the prosthetic joint. Common indications for this procedure include wear of the polyethylene bearing surface or instability (for example, looseness) of the prosthetic knee joint. Patient recovery times are much shorter with this procedure than with removal and exchange of either the tibial, femoral, or patellar components.

• Revision of the Tibial Component. Revision of the tibial component involves removal and exchange of the entire tibial component, including both the metal base plate and the modular polyethylene bearing surface. Common indications for tibial component revision are wear of the modular bearing surface, aseptic loosening (often associated with osteolysis), or infection. Depending on the amount of associated bone loss and the integrity of the ligaments around the knee, tibial component revision may require the use of specialized implants with stems that extend into the tibial canal and/or the use of metal augments or bone graft to fill bony defects.

• Revision of the Femoral Component. Revision of the femoral component involves removal and exchange of the metal implant that covers the end of the thigh-bone (the distal femur). Common indications for femoral component revision are aseptic loosening with or without associated osteolysis/bone loss, or infection. Similar to tibial revision, femoral component revision that is associated with extensive bone loss often involves the use of specialized implants with stems that extend into the femoral canal and/or the use of metal augments or bone graft to fill bony defects.

• Revision of the Patellar Component. Complications related to the patella-femoral joint are one of the most common indications for revision knee replacement surgery. Early patellar implant designs had a metal backing covered by high-density polyethylene; these implants were associated with a high rate of failure due to fracture of the relatively thin polyethylene bearing surface. Other common reasons for isolated patellar component revision include poor tracking of the patella in the femoral groove leading to wear and breakage of the implant, fracture of the patella with or without loosening of the patellar implant, rupture of the quadriceps or patellar tendon, and infection.

• Revision of All Components (Tibial, Femoral, and Patellar). The most common type of revision knee replacement procedure is a complete total knee revision. A complete revision of all implants is more common in knee replacements than hip replacements because the components of an artificial knee are not compatible across vendors or types of prostheses. Therefore, even if only one of the implants is loose or broken, a complete revision of all components is often required in order to ensure that the implants are compatible. Complete total knee revision often involves extensive surgical approaches, including osteotomizing (for example, cutting) the tibia bone in order to adequately expose the knee joint and gain access to the implants. These procedures often involve extensive bone loss, requiring reconstruction with specialized implants with long stems and metal augments or bone graft to fill bony defects. Depending on the status of the ligaments in the knee, complete total knee revision at times requires implantation of a highly constrained or “hinged” knee replacement in order to ensure stability of the knee joint.

• Reimplantation from previous resection or cement spacer. In cases of deep infection of a prosthetic knee, removal of the implants with implantation of an antibiotic-impregnated cement spacer, followed by 6 weeks of intravenous antibiotics is often required in order to clear the infection. Revision knee replacement from an antibiotic impregnated cement spacer often involves complex bony reconstruction due to extensive bone loss that occurs as a result of the infection and removal of the often well-fixed implants. As noted above, the clinical outcomes following revision from a spacer are often poor due to limited functional capacity while the spacer is in place, prolonged periods of protected weight bearing (following reconstruction of extensive bony defects), and the possibility of chronic infection.

The surgeons stated that the current ICD-9-CM codes did not adequately capture the complex nature of revisions of hip and knee replacements. Currently, code 81.53 (Revision of hip replacement) captures all “partial” and “total” revision hip replacement procedures. Code 81.55 (Revision of knee replacement) captures all revision knee replacement procedures. These two codes currently capture a wide variety of procedures that differ in their clinical indications, resource intensity, and clinical outcomes.

An AAOS representative made a presentation at the October 7-8, 2004 ICD-9-CM Coordination and Maintenance Committee. Based on the comments received at the October 7-8, 2004 meeting and subsequent written comments, new ICD-9-CM procedure codes were developed to better capture the variety of ways that revision of hip and knee replacements can be performed: codes 00.70 through 00.73 and code 81.53 for revisions of hip replacements and codes 00.80 through 00.84 and code 81.55 for revisions of knee replacements. These new and revised procedure codes, which will be effective on October 1, 2005, can be found in Table 6B and Table 6F of this proposed rule. The commenters stated that claims data using these new and specific codes should provide improved data on these procedures for future DRG modifications.

However, the commenters requested that CMS consider DRG modifications based on current data using the existing revision codes. The commenters reported on a recently completed study comparing detailed hospital resource utilization and clinical characteristics in over 10,000 primary and revision hip and knee replacement procedures at 3 high volume institutions: The Massachusetts General Hospital, the Mayo Clinic, and the University of California at San Francisco. The purpose of this study was to evaluate differences in clinical outcomes and resource utilization among patients who underwent different types of primary and revision hip or knee replacement procedures. The study found significant differences in operative time, complication rates, hospital length of stay, discharge disposition, and resource utilization among patients who underwent different types of revision hip or knee replacement procedures.

Among revision hip replacement procedures, patients who underwent both femoral and acetabular component revision had longer operative times, higher complication rates, longer lengths of stay, significantly higher resource utilization, and were more likely to be discharged to a subacute care facility. Isolated femoral component revision was the next most resource-intensive procedure, followed by isolated acetabular revision. Primary hip replacement was the least resource intensive of all the procedures studied. Similarly, among revision knee replacement procedures, patients who underwent complete revision of all components had longer operative times, higher complication rates, longer lengths of stay, and significantly higher resource utilization. Revision of one component was the next most resource-intensive procedure. Primary total knee replacement was the least resource intensive of all the procedures studied.

In addition, the commenters indicated that the data showed that extensive bone loss around the implants and the presence of a peri-prosthetic fracture were the most significant predictors of higher resource utilization among all revision hip and knee replacement procedures, even when controlling for other significant patient and procedural characteristics.

For this proposed rule, we examined data in the FY 2004 MedPAR file on the current hip replacement procedures (codes 81.51, 81.52, 81.53) as well as the replacements and revisions of knee replacement procedures (codes 81.54 and 81.55) in DRG 209. We found that revisions were significantly more resource intensive than the original hip and knee replacements. We found average charges for revisions of hip and knee replacements were approximately $7,000 higher than average charges for the original joint replacements, as shown in the following charts. The average charges for revisions of hip replacements were 21 percent higher than the average charges for initial hip replacements. The average charges for revisions of knee replacements were 25 percent higher than for initial knee replacements.

We note that there were no cases in DRG 209 for reattachment of the foot, lower leg, or thigh (codes 84.29, 84.27, and 84.28).

To address the higher resource costs associated with hip and knee revisions relative to the initial joint replacement procedure, we are proposing to delete DRG 209, create a proposed new DRG 544 (Major Joint Replacement or Reattachment of Lower Extremity), and create a proposed new DRG 545 (Revision of Hip or Knee Replacement).

We are proposing to assign the following codes to the new proposed DRG 544:

• 81.51, Total hip replacement.

• 81.52, Partial hip replacement.

• 81.54, Total knee replacement.

• 81.56, Total ankle replacement.

• 84.26, Foot reattachment.

• 84.27, Lower leg/ankle reattach.

• 84.28, Thigh reattachment.

We are proposing to assign the following codes to the proposed new DRG 545:

• 00.70, Revision of hip replacement, both acetabular and femoral components.

• 00.71, Revision of hip replacement, acetabular component.

• 00.72, Revision of hip replacement, femoral component.

• 00.73, Revision of hip replacement, acetabular liner and/or femoral head only.

• 00.80, Revision of knee replacement, total (all components).

• 00.81, Revision of knee replacement, tibial component.

• 00.82, Revision of knee replacement, femoral component.

• 00.83, Revision of knee replacement, patellar component.

• 00.84, Revision of knee replacement, tibial insert (liner).

• 81.53, Revision of hip replacement, not otherwise specified.

• 81.55, Revision of knee replacement, not otherwise specified.

We agree with the commenters and the AAOS that the creation of a new DRG for revisions of hip and knee replacements should resolve payment issues for hospitals that perform the more difficult revisions of joint replacements. In addition, as stated earlier, we have worked with the orthopedic community to develop new procedure codes that better capture data on the types of revisions of hip and knee replacements. These new codes will be implemented on October 1, 2005. Once we receive claims data using these new codes, we will review data to determine if additional DRG modifications are needed. This effort may include assigning some of the revision codes, such as 00.83 and 00.84 to a separate DRG. As stated earlier, the AAOS has found that some of the procedures may not be as resource intensive. Therefore, the AAOS has requested that CMS closely examine data from the use of the new codes and consider future revisions.

b. Kyphoplasty

In the FY 2005 IPPS final rule (69 FR 48938), we discussed the creation of new codes for vertebroplasty (81.65) and kyphoplasty (81.66), which went into effect on October 1, 2004. Prior to October 1, 2004, both of these surgical procedures were assigned to code 78.49 (Other repair or plastic operation on bone). For FY 2005, we assigned these codes to DRGs 233 and 234 (Other Musculoskeletal System and Connective Tissue O.R. Procedure With and Without CC, respectively) in MDC 8 (Table 6B of the FY 2005 final rule). (In the FY 2005 IPPS final rule (69 FR 48938), we indicated that new codes 81.65 and 81.66 were assigned to DRGs 223 and 234. We made a typographical error when indicating that these codes were assigned to DRG 223. Codes 81.65 and 81.66 have been assigned to DRGs 233 and 234.) Last year, we received comments opposing the assignment of code 81.66 to DRGs 233 and 234. The commenters supported the creation of the codes for kyphoplasty and vertebroplasty but recommended that code 81.66 be assigned to DRGs 497 and 498 (Spinal Fusion Except Cervical With and Without CC, respectively). The commenters stated that kyphoplasty requires special inflatable bone tamps and bone cement and is a significantly more resource intensive procedure than vertebroplasty. The commenters further stated that, while kyphoplasty involves internal fixation of the spinal fracture and restoration of vertebral heights, vertebroplasty involves only fixation. The commenters indicated that hospital costs for kyphoplasty procedures are more similar to resources used in a spinal fusion.

We stated in the FY 2005 IPPS final rule that we did not have data in the MedPAR file on kyphoplasty and vertebroplasty. Prior to October 1, 2004, both procedures were assigned in code 78.49, which was assigned to DRGs 233 and 234 in MDC 8. We stated that we would continue to review this area as part of our annual review of MedPAR data. While we do not have separate data for kyphoplasty because code 81.66 was not established until October 1, 2004, for this proposed rule, we did examine data on code 78.49, which includes both kyphoplasty and vertebroplasty procedures reported in DRGs 233 and 234. The following chart illustrates our findings:

We do not believe these data findings support moving cases represented by code 78.49 out of DRGs 233 and 234. While we cannot distinguish cases that are kyphoplasty from cases that are vertebroplasty, cases represented by code 78.49 have lower charges than do other cases within DRGs 233 and 234. Therefore, we are not proposing to change the DRG assignment of code 81.66 to DRGs 233 and 234 at this time. However, once specific charge data are available, we will consider whether further changes are warranted.

c. Multiple Level Spinal Fusion

On October 1, 2003, the following ICD-9-CM codes were created to identify the number of levels of vertebra fused during a spinal fusion procedure:

• 81.62, Fusion or refusion of 2-3 vertebrae.

• 81.63, Fusion or refusion of 4-8 vertebrae.

• 81.64, Fusion or refusion of 9 or more vertebrae.

Prior to the creation of these codes, we received a comment recommending the establishment of new DRGs that would be differentiated based on the number of vertebrae fused. In the FY 2005 IPPS final rule (69 FR 48936), we stated that we did not yet have any reported cases utilizing these multiple level spinal fusion codes. We stated that we would wait until sufficient data were available prior to making a final determination on whether to create separate DRGs based on the number of vertebrae fused. We also stated that spinal fusion surgery was an area undergoing rapid changes.

Effective October 1, 2004, we created a series of codes that describe a new type of spinal surgery, spinal disc replacement. Our medical advisors describe these procedures as a more conservative approach for back pain than the spinal fusion surgical procedure. These codes are as follows:

• 84.60, Insertion of spinal disc prosthesis, not otherwise specified.

• 84.61, Insertion of partial spinal disc prosthesis, cervical.

• 84.62, Insertion of total spinal disc prosthesis, cervical.

• 84.63, Insertion of spinal disc prosthesis, thoracic.

• 84.64, Insertion of partial spinal disc prosthesis, lumbosacral.

• 84.65, Insertion of total spinal disc prosthesis, lumbosacral.

• 84.66, Revision or replacement of artificial spinal disc prosthesis, cervical.

• 84.67, Revision or replacement of artificial spinal disc prosthesis, thoracic.

• 84.68, Revision or replacement of artificial spinal disc prosthesis, lumbosacral.

• 84.69, Revision or replacement of artificial spinal disc prosthesis, not otherwise specified.

We also created the following two codes effective October 1, 2004, for these new types of spinal surgery that are also a more conservative approach to back pain than is spinal fusion:

• 81.65 Vertebroplasty.

• 81.66 Kyphoplasty.

We do not yet have data in the MedPAR file on these new types of procedures. Therefore, we cannot yet determine what effect these new types of procedures will have on the frequency of spinal fusion procedures.

However, we do have data in the MedPAR file on multiple level spinal procedures for analysis for this year's proposed rule. We examined data in the FY 2004 MedPAR file on spinal fusion cases in the following DRGs:

• DRG 496 (Combined Anterior/Posterior Spinal Fusion).

• DRG 497 (Spinal Fusion Except Cervical With CC).

• DRG 498 (Spinal Fusion Except Cervical Without CC).

• DRG 519 (Cervical Spinal Fusion With CC).

• DRG 520 (Cervical Spinal Fusion Without CC).

Multiple level spinal fusion is captured by code 81.63 (Fusion or refusion of 4-8 vertebrae) and code 81.64 (Fusion or refusion of 9 or more vertebrae). Code 81.62 includes the fusion of 2-3 vertebrae and is not considered a multiple level spinal fusion. Orthopedic surgeons stated at the October 7-8, 2004 ICD-9-CM Coordination and Maintenance Committee meeting that the most simple and common type of spinal fusion involves fusing either 2 or 3 vertebrae. These surgeons stated that there was not a significant difference in resource utilization for cases involving the fusion of 2 versus 3 vertebrae. For this reason, the orthopedic surgeons recommended that fusion of 2 and 3 vertebrae be grouped into one ICD-9-CM code.

We reviewed the Medicare charge data to determine whether the number of vertebrae fused or specific diagnoses have an effect on average length of stay and resource use for a patient. We found that, while fusing 4 or more levels of the spine results in a small increase in the average length of stay and a somewhat larger increase in average charges for spinal fusion patients, an even greater impact was made by the presence of a principal diagnosis of curvature of the spine or malignancy. The following list of diagnoses describes conditions that have a significant impact on resource use for spinal fusion patients:

• 170.2, Malignant neoplasm of vertebral column, excluding sacrum and coccyx.

• 198.5, Secondary malignant neoplasm of bone and bone marrow.

• 732.0, Juvenile osteochondrosis of spine.

• 733.13, Pathologic fracture of vertebrae.

• 737.0, Adolescent postural kyphosis.

• 737.10, Kyphosis (acquired) (postural).

• 737.11, Kyphosis due to radiation.

• 737.12, Kyphosis, postlaminectomy.

• 737.19, Kyphosis (acquired), other.

• 737.20, Lordosis (acquired) (postural).

• 737.21, Lordosis, postlaminectomy

• 737.22, Other postsurgical lordosis.

• 737.29, Lordosis (acquired), other.

• 737.30, Scoliosis [and kyphoscoliosis], idiopathic.

• 737.31, Resolving infantile idiopathic scoliosis.

• 737.32, Progressive infantile idiopathic scoliosis.

• 737.33, Scoliosis due to radiation.

• 737.34, Thoracogenic scoliosis.

• 737.39, Other kyphoscoliosis and scoliosis.

• 737.40, Curvature of spine, unspecified.

• 737.41, Curvature of spine associated with other conditions, kyphosis.

• 737.42, Curvature of spine associated with other conditions, lordosis.

• 737.43, Curvature of spine associated with other conditions, scoliosis.

• 737.8, Other curvatures of spine.

• 737.9, Unspecified curvature of spine.

• 754.2, Congenital scoliosis.

• 756.51, Osteogenesis imperfecta.

The majority of fusion patients with these diagnoses were in DRGs 497 and 498. The chart below reflects our findings. We also include in the chart statistics for cases in DRGs 497 and 498 with spinal fusion of 4 or more vertebrae and cases with a principal diagnosis of curvature of the spine or bone malignancy.

Thus, these diagnoses result in a significant increase in resource use. While the fusing of 4 or more vertebrae resulted in average charges of $77,352, the impact of a principal diagnosis of curvature of the spine or bone malignancy was substantially greater with average charges of $95,315.

Based on this analysis, we are proposing to create a new DRG for noncervical spinal fusions with a principal diagnosis of curvature of the spine and malignancies. The proposed new DRG would be: proposed new DRG 546 (Spinal Fusions Except Cervical With Principal Diagnosis of Curvature of the Spine or Malignancy). Cases included in this proposed new DRG would include all noncervical spinal fusions previously assigned to DRGs 497 and 498 that have a principal diagnosis of curvature of the spine or malignancy and would include the following codes listed above: 170.2, 198.5, 732.0, 733.13, 737.0, 737.10, 737.11, 737.12, 737.19, 737.20, 737.21, 737.22, 737.29, 737.30, 737.31, 737.32, 737.33, 737.34, 737.39, 737.40, 737.41, 737.42, 737.43, 737.8, 737.9, 754.2, and 756.51. The proposed DRG 546 would not include cases currently assigned to DRGs 496, 519, or 520 that have a principal diagnosis of curvature of the spine or malignancy. The structure of DRGs 496, 519, and 520 would remain the same.

As part of our meeting with the AAOS on DRG 209 in February 2005 (discussed under section II.B.6.a. of this preamble), the AAOS offered to work with CMS to analyze clinical issues and make revisions to the spinal fusion DRGs (DRGs 496 through 498 and 519 and 520). At this time, we are limiting our proposed changes to the spinal fusion DRGs for FY 2006 to the creation of the proposed DRG 546 discussed above. However, we look forward to working with the AAOS to obtain its clinical recommendations concerning our proposed changes and potential additional modifications to the spinal fusion DRGs. We are also soliciting comments from the public on our proposed changes and how to incorporate new types of spinal procedures such as kyphoplasty and spinal disc prostheses into the spinal fusion DRGs.

7. MDC 18 (Infectious and Parasitic Diseases (Systemic or Unspecified Sites)): Severe Sepsis

As we did for FY 2005, we received a request to consider the creation of a separate DRG for the diagnosis of severe sepsis for FY 2006. Severe sepsis is described by ICD-9-CM code 995.92 (Systemic inflammatory response syndrome due to infection with organ dysfunction). Patients admitted with sepsis currently are assigned to DRG 416 (Septicemia Age > 17) and DRG 417 (Septicemia Age 0-17) in MDC 18 (Infectious and Parasitic Diseases, Systemic or Unspecified Sites). The commenter requested that all cases in which severe sepsis is present on admission, as well as those cases in which it develops after admission (which are currently classified elsewhere), be included in this new DRG. We addressed this issue in the FY 2005 IPPS final rule (69 FR 48975). As indicated last year, we do not feel the current clinical definition of severe sepsis is specific enough to identify a meaningful cohort of patients in terms of clinical coherence and resource utilization to warrant a separate DRG. Sepsis is found across hundreds of medical and surgical DRGs, and the term “organ dysfunction” implicates numerous currently existing diagnosis codes. While we recognize that Medicare beneficiaries with severe sepsis are quite ill and require extensive hospital resources, we do not believe that they can be identified adequately to justify removing them from all of the other DRGs in which they appear. We are not proposing a new DRG for severe sepsis at this time.

8. MDC 20 (Alcohol/Drug Use and Alcohol/Drug Induced Organic Mental Disorders): Drug-Induced Dementia

In the FY 2005 IPPS final rule (69 FR 48939, August 11, 2004), we discussed a request that CMS modify DRGs 521 through 523 by removing the principal diagnosis code 292.82 (Drug-induced dementia) from these alcohol and drug abuse DRGs. These DRGs are as follows:

• DRG 521 (Alcohol/Drug Abuse or Dependence With CC).

• DRG 522 (Alcohol/Drug Abuse or Dependence With Rehabilitation Therapy Without CC).

• DRG 523 (Alcohol/Drug Abuse or Dependence Without Rehabilitation Therapy Without CC).

The commenter indicated that a patient who has a drug-induced dementia should not be classified to an alcohol/drug DRG. However, the commenter did not propose a new DRG assignment for code 292.82. Our medical advisors evaluated the request and determined that the most appropriate DRG classification for a patient with drug-induced dementia was within MDC 20. The medical advisors indicated that because the dementia is drug induced, it is appropriately classified to DRGs 521 through 523 in MDC 20. Therefore, we did not propose a new DRG classification for the principal diagnosis code 292.82.

In the FY 2005 IPPS final rule, we addressed a comment from an organization representing hospital coders that disagreed with our decision to keep code 292.82 in DRGs 521 through 523. The commenter stated that DRGs 521 through 523 are described as alcohol/drug abuse and dependence DRGs, and that drug-induced dementia can be caused by an adverse effect of a prescribed medication or a poisoning. The commenter did not believe that assignment to DRGs 521 through 523 was appropriate if the drug-induced dementia is due to one of these events and the patient is not alcohol or drug dependent. The commenter recommended that admissions for drug-induced dementia be classified to DRGs 521 through 523 only if there is a secondary diagnosis indicating alcohol/drug abuse or dependence.

The commenter recommended that drug-induced dementia that is due to the adverse effect of a drug or poisoning be classified to the same DRGs as other types of dementia, such as DRG 429 (Organic Disturbances and Mental Retardation). The commenter believed that when drug-induced dementia is caused by a poisoning, either accidental or intentional, the appropriate poisoning code would be sequenced as the principal diagnosis and, therefore, these cases would likely already be assigned to DRGs 449 and 450 (Poisoning and Toxic Effects of Drugs, Age Greater than 17, With and Without CC, respectively) and DRG 451 (Poisoning and Toxic Effects of Drugs, Age 0-17). The commenter stated that these would be the appropriate DRG assignments for drug-induced dementia due to a poisoning. We received a similar comment from a hospital organization.

In the FY 2005 IPPS final rule, we acknowledged that the commenters raised additional issues surrounding the DRG assignment for code 292.82 that should be considered. The commenters provided alternatives for DRG assignment based on sequencing of the principal diagnosis and reporting of additional secondary diagnoses. We recognized that patients may develop drug-induced dementia from drugs that are prescribed, as well as from drugs that are not prescribed. However, because dementia develops as a result of use of a drug, we believed the current DRG assignment to DRGs 521 through 523 remained appropriate. Some commenters have agreed with the current DRG assignment of code 292.82 since the dementia was caused by use of a drug. We agree that if either accidental or intentional poisoning caused the drug-induced dementia, the appropriate poisoning code should be sequenced as the principal diagnosis. As one commenter stated, these cases would be assigned to DRGs 449 through 451. We encouraged hospitals to examine the coding for these types of cases to determine if there were any coding or sequencing errors. As suggested by the commenter, if code 292.82 were reported as a secondary diagnosis and not a principal diagnosis in cases of poisoning or adverse drug reactions, the number of cases on DRGs 521 through 523 would decline.

In the FY 2005 IPPS final rule, we agreed to analyze this area for FY 2006 and to look at the alternative DRG assignments suggested by the commenters. For this proposed rule, we examined data from the FY 2004 MedPAR file on cases in DRGs 521 through 523 with a principal diagnosis of code 292.82. We found that there were only 134 cases reported with the principal diagnosis code 292.82 in DRGs 521 through 523 without a diagnosis of drug and alcohol abuse. The average standardized charges for cases with a principal diagnosis of code 292.82 that did not have a secondary diagnosis of drug/alcohol abuse or dependence were $12,244.35, compared to the average standardized charges for all cases in DRG 521, which were $10,543.69. There were no cases in DRG 522 with a principal diagnosis of code 292.82. We found only 24 cases in DRG 523 with a principal diagnosis of code 292.82. Given the small number of cases in DRG 522 and 523, and the similarity in average standardized charges between those cases in DRG 521 with a principal diagnosis of code 292.82 and without a secondary diagnosis of drug/alcohol abuse or dependence to the overall average for all cases in the DRG, we do not believe the data suggest that a modification to DRGs 521 through 523 is warranted. Therefore, we are not proposing changes to the current structure of DRGs 521 through 523 for FY 2006.

9. Medicare Code Editor (MCE) Changes

(If you choose to comment on issues in this section, please include the caption “Medicare Code Editor” at the beginning of your comment.)

As explained under section II.B.1. of this preamble, the Medicare Code Editor (MCE) is a software program that detects and reports errors in the coding of Medicare claims data. Patient diagnoses, procedure(s), discharge status, and demographic information go into the Medicare claims processing systems and are subjected to a series of automated screens. The MCE screens are designed to identify cases that require further review before classification into a DRG.

a. Newborn Age Edit

In the past, we have discussed and received comments concerning revision of the pediatric portions of the Medicare IPPS DRG classification system, that is, MDC 15 (Newborns and Other Neonates With Conditions Originating in the Perinatal Period). Most recently, we addressed these comments in both the FY 2005 proposed rule (69 FR 28210) and the FY 2005 IPPS final rule (69 FR 48938). In those rules, we indicated that we would be responsive to specific requests for updating MDC 15 on a limited, case-by-case basis.

We have recently received a request through the Open Door Forum to revise the MCE “newborn age edit” by removing over 100 codes located in Chapter 15 of ICD-9-CM that are identified as “newborn” codes. This request was made because these codes usually cause an edit or denial to be triggered when they are used on children greater than 1 year of age. However, the underlying issue with these particular edits is that other payers have adopted the CMS Medicare Code Editor in a wholesale manner, instead of adapting it for use in their own patient populations.

We acknowledge that Medicare DRGs are sometimes used to classify other patient groups. However, CMS' primary focus of updates to the Medicare DRG classification system is on changes relating to the Medicare patient population, not the pediatric or neonatal patient populations.

There are practical considerations regarding the assumption of a larger role for the Medicare DRG in the pediatric or neonatal areas, given the difference between the Medicare population and that of newborns and children. There are also challenges surrounding the development of DRG classification systems and applications appropriate to children. We do not have the clinical expertise to make decisions about these patients, and must rely on outside clinicians for advice. In addition, because newborns and other children are generally not eligible for Medicare, we must rely on outside data to make decisions. We recognize that there are evolving alternative classification systems for children and encourage payers to use the CMS MCE as a template while making modifications appropriate for pediatric patients.

Therefore, we would encourage those non-Medicare systems needing a more comprehensive pediatric system of edits to update their systems by choosing from other existing systems or programs that are currently in use. Because of our reluctance to assume expertise in the pediatric arena, we are not proposing to make the commenter's suggested changes to the MCE “newborn age edit” for FY 2006.

b. Newborn Diagnoses Edit

Last year, in our changes to the MCE, we inadvertently added code 796.6 (Abnormal findings on neonatal screening) to both the MCE edit for “Maternity Diagnoses—age 12 through 55”, and the MCE edit for “Diagnoses Allowed for Females Only”. We are proposing to remove code 796.6 from these two edits and add it to the “Newborn Diagnoses” edit.

c. Diagnoses Allowed for “Males Only” Edit

We have received a request to remove two codes from the “Diagnoses Allowed for Males Only” edit, related to androgen insensitivity syndrome (AIS). AIS is a new term for testicular feminization. Code 257.8 (Other testicular dysfunction) is used to describe individuals who, despite having XY chromosomes, develop as females with normal female genitalia and mammary glands. Testicles are present in the same general area as the ovaries, but are undescended and are at risk for development of testicular cancer, so are generally surgically removed. These individuals have been raised as females, and would continue to be considered female, despite their XY chromosome makeup. Therefore, as AIS is coded to 257.8, and has posed a problem associated with the gender edit, we are proposing to remove this code from the “Males Only” edit in the MCE.

A similar clinical scenario can occur with certain disorders that cause a defective biosynthesis of testicular androgen. This disorder is included in code 257.2 (Other testicular hypofunction). Therefore, we also are proposing to remove code 257.2 from the “Male Only” gender edit in the MCE.

d. Tobacco Use Disorder Edit

We have become aware of the possible need to add code 305.1 (Tobacco use disorder) to the MCE in order to make admissions for tobacco use disorder a noncovered Medicare service when code 305.1 is reported as the principal diagnosis. On March 22, 2005, CMS published a final decision memorandum and related national coverage determination (NCD) on smoking cessation counseling services on its Web site: (http://www.cms.hhs.gov/coverage/). Among other things, this NCD provides that: “Inpatient hospital stays with the principal diagnosis of 305.1, Tobacco Use Disorder, are not reasonable and necessary for the effective delivery of tobacco cessation counseling services. Therefore, we will not cover tobacco cessation services if tobacco cessation is the primary reason for the patient's hospital stay.” Therefore, in order to maintain internal consistency with CMS programs and decisions, we are proposing to add code 305.1 to the MCE edit “Questionable Admission-Principal Diagnosis Only” in order to make tobacco use disorder a noncovered admission.

e. Noncovered Procedure Edit

Effective October 1, 2004, CMS adopted the use of code 00.61 (Percutaneous angioplasty or atherectomey of precerebral (extracranial) vessel(s) (PTA)) and code 00.63 (Percutaneous insertion of carotid artery stent(s). Both codes are to be recorded to indicate the insertion of a carotid artery stent or stents. At the time of the creation of the codes, the coverage indication for carotid artery stenting was only for patients in a clinical trial setting, and diagnostic code V70.7 (Examination of participation in a clinical trial) was required for payment of these cases. However, effective October 12, 2004, Medicare covers PTA of the carotid artery concurrent with the placement of an FDA-approved carotid stent for an FDA-approved indication when furnished in accordance with FDA-approved protocols governing post-approval studies. Therefore, as the coverage indication has changed, we are proposing to remove codes 00.61, 00.63, and V70.7 from the MCE noncovered procedure edit.

10. Surgical Hierarchies

(If you choose to comment on issues in this section, please include the caption “Surgical Hierarchy” at the beginning of your comment.)

Some inpatient stays entail multiple surgical procedures, each one of which, occurring by itself, could result in assignment of the case to a different DRG within the MDC to which the principal diagnosis is assigned. Therefore, it is necessary to have a decision rule within the GROUPER by which these cases are assigned to a single DRG. The surgical hierarchy, an ordering of surgical classes from most resource-intensive to least resource-intensive, performs that function. Application of this hierarchy ensures that cases involving multiple surgical procedures are assigned to the DRG associated with the most resource-intensive surgical class.

Because the relative resource intensity of surgical classes can shift as a function of DRG reclassification and recalibrations, we reviewed the surgical hierarchy of each MDC, as we have for previous reclassifications and recalibrations, to determine if the ordering of classes coincides with the intensity of resource utilization.

A surgical class can be composed of one or more DRGs. For example, in MDC 11, the surgical class “kidney transplant” consists of a single DRG (DRG 302) and the class “kidney, ureter and major bladder procedures” consists of three DRGs (DRGs 303, 304, and 305). Consequently, in many cases, the surgical hierarchy has an impact on more than one DRG. The methodology for determining the most resource-intensive surgical class involves weighting the average resources for each DRG by frequency to determine the weighted average resources for each surgical class. For example, assume surgical class A includes DRGs 1 and 2 and surgical class B includes DRGs 3, 4, and 5. Assume also that the average charge of DRG 1 is higher than that of DRG 3, but the average charges of DRGs 4 and 5 are higher than the average charge of DRG 2. To determine whether surgical class A should be higher or lower than surgical class B in the surgical hierarchy, we would weight the average charge of each DRG in the class by frequency (that is, by the number of cases in the DRG) to determine average resource consumption for the surgical class. The surgical classes would then be ordered from the class with the highest average resource utilization to that with the lowest, with the exception of “other O.R. procedures” as discussed below.

This methodology may occasionally result in assignment of a case involving multiple procedures to the lower-weighted DRG (in the highest, most resource-intensive surgical class) of the available alternatives. However, given that the logic underlying the surgical hierarchy provides that the GROUPER search for the procedure in the most resource-intensive surgical class, in cases involving multiple procedures, this result is sometimes unavoidable.

We note that, notwithstanding the foregoing discussion, there are a few instances when a surgical class with a lower average charge is ordered above a surgical class with a higher average charge. For example, the “other O.R. procedures” surgical class is uniformly ordered last in the surgical hierarchy of each MDC in which it occurs, regardless of the fact that the average charge for the DRG or DRGs in that surgical class may be higher than that for other surgical classes in the MDC. The “other O.R. procedures” class is a group of procedures that are only infrequently related to the diagnoses in the MDC, but are still occasionally performed on patients in the MDC with these diagnoses. Therefore, assignment to these surgical classes should only occur if no other surgical class more closely related to the diagnoses in the MDC is appropriate.

A second example occurs when the difference between the average charges for two surgical classes is very small. We have found that small differences generally do not warrant reordering of the hierarchy because, as a result of reassigning cases on the basis of the hierarchy change, the average charges are likely to shift such that the higher-ordered surgical class has a lower average charge than the class ordered below it.

Based on the preliminary recalibration of the DRGs, we are proposing to revise the surgical hierarchy for MDC 5 (Diseases and Disorders of the Circulatory System) and MDC 8 (Diseases and Disorders of the Musculoskeletal System and Connective Tissue) as follows:

In MDC 5, we are proposing to reorder—

• DRG 116 (Other Permanent Cardiac Pacemaker Implant) above DRG 549 (Percutaneous Cardiovascular Procedure With Drug-Eluting Stent With AMI With CC).

• DRG 549 above DRG 550 (Percutaneous Cardiovascular Procedure With Drug-Eluting Stent With AMI Without CC).

• DRG 550 above DRG 547 (Percutaneous Cardiovascular Procedure With AMI With CC).

• DRG 547 above DRG 548 (Percutaneous Cardiovascular Procedure With AMI Without CC).

• DRG 548 above DRG 527 (Percutaneous Cardiovascular Procedure With Drug-Eluting Stent Without AMI).

• DRG 527 above DRG 517 (Percutaneous Cardiovascular Procedure With Non-Drug Eluting Stent Without AMI).

• DRG 517 above DRG 518 (Percutaneous Cardiovascular Procedure Without Coronary Artery Stent or AMI).

• DRG 518 above DRGs 478 and 479 (Other Vascular Procedures With and Without CC, respectively).

In MDC 8, we are proposing to reorder—

• DRG 496 (Combined Anterior/Posterior Spinal Fusion) above DRG 546 (Spinal Fusion Except Cervical With Principal Diagnosis of Curvature of the Spine or Malignancy).

• DRG 546 above DRGs 497 and 498 (Spinal Fusion Except Cervical With and Without CC, respectively).

• DRG 217 (Wound Debridement and Skin Graft Except Hand, For Musculoskeletal and Connective Tissue Disease) above DRG 545 (Revision of Hip or Knee Replacement).

• DRG 545 above DRG 544 (Major Joint Replacement or Reattachment).

• DRG 544 above DRGs 519 and 520 (Cervical Spinal Fusion With and Without CC, respectively).

11. Refinement of Complications and Comorbidities (CC) List

(If you choose to comment on issues in this section, please include the caption “CC List” at the beginning of your comment.)

a. Background

As indicated earlier in this preamble, under the IPPS DRG classification system, we have developed a standard list of diagnoses that are considered complications or comorbidities (CCs). Historically, we developed this list using physician panels that classified each diagnosis code based on whether the diagnosis, when present as a secondary condition, would be considered a substantial complication or comorbidity. A substantial complication or comorbidity was defined as a condition that, because of its presence with a specific principal diagnosis, would cause an increase in the length of stay by at least 1 day in at least 75 percent of the patients.

b. Comprehensive Review of the CC List

In previous years, we have made changes to the standard list of CCs, either by adding new CCs or deleting CCs already on the list, but we have never conducted a comprehensive review of the list. There are currently 3,285 diagnosis codes on the CC list. There are 121-paired DRGs that are split on the presence or absence of a CC.

We have reviewed these paired DRGs and found that the majority of cases that are assigned to DRGs that have a CC split fall into the DRG with CC. While this fact is not new, we have found that a much higher proportion of cases are being grouped to the DRG with a CC than had occurred in the past. In our review of the DRGs included in Table 7b of the September 1, 1987 Federal Register rule (52 FR 33125), we found the following percentages of cases assigned a CC in those DRGs that had a CC split (DRG Definitions Manual, GROUPER Version 5.0 (1986 data)):

• Cases with CC: 61.9 percent.

• Cases without CC: 38.1 percent.

When we compared the above DRG 1986 data to the DRG 2004 data that were included in the DRGs Definitions Manual, GROUPER Version 22.0, we found the following:

• Cases with CC: 79.9 percent.

• Cases without CC: 20.1 percent.

(We used DRGs Definitions Manual, GROUPER Version 5.0, for this analysis because prior versions of the DRGs Definitions Manual used age as a surrogate for a CC and the split was “CC and/or age greater than 69”.)

The vast majority of patients being treated in inpatient settings have a CC as currently defined, and we believe that it is possible that the CC distinction has lost much of its ability to differentiate the resource needs of patients. The original definition used to develop the CC list (the presence of a CC would be expected to extend the length of stay of at least 75 percent of the patients who had the CC by at least one day) was used beginning in 1981 and has been part of the IPPS since its inception in 1983. There has been no substantive review of the CC list since its original development. In reviewing this issue, our clinical experts found several diseases that appear to be obvious candidates to be on the CC list, but currently are not:

Conversely, our medical experts believe the following conditions are examples of common conditions that are on the CC list, but are not likely to lead to higher treatment costs when present as a secondary diagnosis:

We note that the above conditions are examples only of why we believe the CC list needs a comprehensive review. In addition to this review, we note that these conditions may be treated differently under several DRG systems currently in use. For instance, ICD-9-CM code 414.12 (Dissection of coronary artery) is listed as a “Major CC” under the All Patient (AP) DRGs, GROUPER Version 21.0 and an “Extreme” CC under the All Patient Refined (APR) DRGs, GROUPER Version 20.0, but is not listed as a CC at all in GROUPER Version 22.0 of the DRGs Definitions Manual used by Medicare. Similarly, ICD-9-CM code 424.0 (Mitral valve disorder) is a CC under GROUPER Version 22.0 of the DRGs Definitions Manual for Medicare's DRG system, a minor CC under the GROUPER Version 20.0 of the APR-DRGs, and not a CC at all under GROUPER Version 21.0 of the AP-DRGs.

Given the long period of time that has elapsed since the original CC list was developed, the incremental nature of changes to it, and changes in the way inpatient care is delivered, we are planning a comprehensive and systematic review of the CC list for the IPPS rule for FY 2007. As part of this process, we plan to consider revising the standard for determining when a condition is a CC. For instance, we may use an alternative to classifying a condition as a CC based on how it affects the length of stay of a case. Similar to other aspects of the DRG system, we may consider the effect of a specific secondary diagnosis on the charges or costs of a case to evaluate whether to include the condition on the CC list. Using a statistical algorithm, we may classify each diagnosis based on its effect on hospital charges (or costs) relative to other cases when present as a secondary diagnosis to obtain better information on when a particular condition is likely to increase hospital costs. For example, Code 293.84 (Anxiety disorder in conditions classified elsewhere), which is currently listed as a CC, might be removed from the CC list if analysis of the data do not support the fact that it represents a significant increase in resource utilization, and a code such as 359.4 (Toxic myopathy), which is currently not listed as a CC, could be added to the CC list if the data support it. In addition to using hospital charge data as a basis for a review, we would expect to supplement the process with review by our medical experts. Further, we may also consider doing a comparison of the Medicare DRG CC list with other DRG systems such as the AP-DRGs and the APR-DRGs to determine how the same secondary diagnoses are treated under these systems.

By performing a comprehensive review of the CC list, we expect to revise the DRG classification system to better reflect resource utilization and remove conditions from the CC list that only have a marginal impact on a hospital's costs. We believe that a comprehensive review of the CC list would be consistent with MedPAC's recommendation that we improve the DRG system to better recognize severity. We will provide more detail about how we expect to undertake this analysis in the future, and any changes to the CC list will only be adopted after a notice and comment rulemaking that fully explains the methodology we plan to use in conducting this review. We encourage comment at this time regarding possible ways that more meaningful indicators of clinical severity and their implications for resource use can be incorporated into our comprehensive review and possible restructuring of the CC list.

c. CC Exclusions List for FY 2006

In the September 1, 1987 final notice (52 FR 33143) concerning changes to the DRG classification system, we modified the GROUPER logic so that certain diagnoses included on the standard list of CCs would not be considered valid CCs in combination with a particular principal diagnosis. We created the CC Exclusions List for the following reasons: (1) to preclude coding of CCs for closely related conditions; (2) to preclude duplicative or inconsistent coding from being treated as CCs; and (3) to ensure that cases are appropriately classified between the complicated and uncomplicated DRGs in a pair. As we indicated above, we developed this list of diagnoses, using physician panels, to include those diagnoses that, when present as a secondary condition, would be considered a substantial complication or comorbidity. In previous years, we have made changes to the list of CCs, either by adding new CCs or deleting CCs already on the list. At this time, we are not proposing to delete any of the diagnosis codes on the CC list for FY 2006.

In the May 19, 1987 proposed notice (52 FR 18877) and the September 1, 1987 final notice (52 FR 33154), we explained that the excluded secondary diagnoses were established using the following five principles:

• Chronic and acute manifestations of the same condition should not be considered CCs for one another.

• Specific and nonspecific (that is, not otherwise specified (NOS)) diagnosis codes for the same condition should not be considered CCs for one another.

• Codes for the same condition that cannot coexist, such as partial/total, unilateral/bilateral, obstructed/unobstructed, and benign/malignant, should not be considered CCs for one another.

• Codes for the same condition in anatomically proximal sites should not be considered CCs for one another.

• Closely related conditions should not be considered CCs for one another.

The creation of the CC Exclusions List was a major project involving hundreds of codes. We have continued to review the remaining CCs to identify additional exclusions and to remove diagnoses from the master list that have been shown not to meet the definition of a CC.¹

¹ See the FY 1989 final rule (53 FR 38485) [September 30, 1988] for the revision made for the discharges occurring in FY 1989; the FY 1990 final rule (54 FR 36552) [September 1, 1989] for the FY 1990 revision; the FY 1991 final rule (55 FR 36126) [September 4, 1990] for the FY 1991 revision; the FY 1992 final rule (56 FR 43209) [August 30, 1991] for the FY 1992 revision; the FY 1993 final rule (57 FR 39753) [September 1, 1992] for the FY 1993 revision; the FY 1994 final rule (58 FR 46278) [September 1, 1993] for the FY 1994 revisions; the FY 1995 final rule (59 FR 45334) [September 1, 1994] for the FY 1995 revisions; the FY 1996 final rule (60 FR 45782) [September 1, 1995] for the FY 1996 revisions; the FY 1997 final rule (61 FR 46171) [August 30, 1996] for the FY 1997 revisions; the FY 1998 final rule (62 FR 45966) [August 29, 1997] for the FY 1998 revisions; the FY 1999 final rule (63 FR 40954) [July 31, 1998] for the FY 1999 revisions; the FY 2001 final rule (65 FR 47064) [August 1, 2000] for the FY 2001 revisions; the FY 2002 final rule (66 FR 39851) [August 1, 2001] for the FY 2002 revisions; the FY 2003 final rule (67 FR 49998) [August 1, 2002] for the FY 2003 revisions; the FY 2004 final rule (68 FR 45364) [August 1, 2003] for the FY 2004 revisions; and the FY 2005 final rule (69 FR 49848) [August 11, 2004] for the FY 2005 revisions. In the FY 2000 final rule (64 FR 41490) [July 30, 1999], we did not modify the CC Exclusions List because we did not make any changes to the ICD-9-CM codes for FY 2000.

We are proposing a limited revision of the CC Exclusions List to take into account the proposed changes that will be made in the ICD-9-CM diagnosis coding system effective October 1, 2004. (See section II.B.13. of this preamble for a discussion of ICD-9-CM changes.) We are proposing these changes in accordance with the principles established when we created the CC Exclusions List in 1987.

Tables 6G and 6H in the Addendum to this proposed rule contain the revisions to the CC Exclusions List that would be effective for discharges occurring on or after October 1, 2005. Each table shows the principal diagnoses with changes to the excluded CCs. Each of these principal diagnoses is shown with an asterisk, and the additions or deletions to the CC Exclusions List are provided in an indented column immediately following the affected principal diagnosis.

CCs that are added to the list are in Table 6G—Additions to the CC Exclusions List. Beginning with discharges on or after October 1, 2005, the indented diagnoses would not be recognized by the GROUPER as valid CCs for the asterisked principal diagnosis.

CCs that are deleted from the list are in Table 6H—Deletions from the CC Exclusions List. Beginning with discharges on or after October 1, 2005, the indented diagnoses would be recognized by the GROUPER as valid CCs for the asterisked principal diagnosis.

Copies of the original CC Exclusions List applicable to FY 1988 can be obtained from the National Technical Information Service (NTIS) of the Department of Commerce. It is available in hard copy for $152.50 plus shipping and handling. A request for the FY 1988 CC Exclusions List (which should include the identification accession number (PB) 88-133970) should be made to the following address: National Technical Information Service, United States Department of Commerce, 5285 Port Royal Road, Springfield, VA 22161; or by calling (800) 553-6847.

Users should be aware of the fact that all revisions to the CC Exclusions List (FYs 1989, 1990, 1991, 1992, 1993, 1994, 1995, 1996, 1997, 1998, 1999, 2001, 2002, 2003, 2004, and 2005) and those in Tables 6G and 6H of this proposed rule for FY 2006 must be incorporated into the list purchased from NTIS in order to obtain the CC Exclusions List applicable for discharges occurring on or after October 1, 2005. (Note: There was no CC Exclusions List in FY 2000 because we did not make changes to the ICD-9-CM codes for FY 2000.)

Alternatively, the complete documentation of the GROUPER logic, including the current CC Exclusions List, is available from 3M/Health Information Systems (HIS), which, under contract with CMS, is responsible for updating and maintaining the GROUPER program. The current DRG Definitions Manual, Version 22.0, is available for $225.00, which includes $15.00 for shipping and handling. Version 23.0 of this manual, which will include the final FY 2006 DRG changes, will be available for $225.00. These manuals may be obtained by writing 3M/HIS at the following address: 100 Barnes Road, Wallingford, CT 06492; or by calling (203) 949-0303. Please specify the revision or revisions requested.

12. Review of Procedure Codes in DRGs 468, 476, and 477

(If you choose to comment on issues in this section, please include the caption “DRGs 468, 476, and 477” at the beginning of your comment.)

Each year, we review cases assigned to DRG 468 (Extensive O.R. Procedure Unrelated to Principal Diagnosis), DRG 476 (Prostatic O.R. Procedure Unrelated to Principal Diagnosis), and DRG 477 (Nonextensive O.R. Procedure Unrelated to Principal Diagnosis) to determine whether it would be appropriate to change the procedures assigned among these DRGs.

DRGs 468, 476, and 477 are reserved for those cases in which none of the O.R. procedures performed are related to the principal diagnosis. These DRGs are intended to capture atypical cases, that is, those cases not occurring with sufficient frequency to represent a distinct, recognizable clinical group. DRG 476 is assigned to those discharges in which one or more of the following prostatic procedures are performed and are unrelated to the principal diagnosis:

• 60.0, Incision of prostate.

• 60.12, Open biopsy of prostate.

• 60.15, Biopsy of periprostatic tissue. [?USGPO Galley End:?][?USGPO Galley End:?]

• 60.18, Other diagnostic procedures on prostate and periprostatic tissue.

• 60.21, Transurethral prostatectomy.

• 60.29, Other transurethral prostatectomy.

• 60.61, Local excision of lesion of prostate.

• 60.69, Prostatectomy, not elsewhere classified.

• 60.81, Incision of periprostatic tissue.

• 60.82, Excision of periprostatic tissue.

• 60.93, Repair of prostate.

• 60.94, Control of (postoperative) hemorrhage of prostate.

• 60.95, Transurethral balloon dilation of the prostatic urethra.

• 60.96, Transurethral destruction of prostate tissue by microwave thermotherapy.

• 60.97, Other transurethral destruction of prostate tissue by other thermotherapy.

• 60.99, Other operations on prostate.

All remaining O.R. procedures are assigned to DRGs 468 and 477, with DRG 477 assigned to those discharges in which the only procedures performed are nonextensive procedures that are unrelated to the principal diagnosis.²

² The original list of the ICD-9-CM procedure codes for the procedures we consider nonextensive procedures, if performed with an unrelated principal diagnosis, was published in Table 6C in section IV. of the Addendum to the FY 1989 final rule (53 FR 38591). As part of the FY 1991 final rule (55 FR 36135), the FY 1992 final rule (56 FR 43212), the FY 1993 final rule (57 FR 23625), the FY 1994 final rule (58 FR 46279), the FY 1995 final rule (59 FR 45336), the FY 1996 final rule (60 FR 45783), the FY 1997 final rule (61 FR 46173), and the FY 1998 final rule (62 FR 45981), we moved several other procedures from DRG 468 to DRG 477, and some procedures from DRG 477 to DRG 468. No procedures were moved in FY 1999, as noted in the final rule (63 FR 40962); in FY 2000 (64 FR 41496); in FY 2001 (65 FR 47064); or in FY 2002 (66 FR 39852). In the FY 2003 final rule (67 FR 49999) we did not move any procedures from DRG 477. However, we did move procedure codes from DRG 468 and placed them in more clinically coherent DRGs. In the FY 2004 final rule (68 FR 45365), we moved several procedures from DRG 468 to DRGs 476 and 477 because the procedures are nonextensive. In the FY 2005 final rule (69 FR 48950), we moved one procedure from DRG 468 to 477. In addition, we added several existing procedures to DRGs 476 and 477.

a. Moving Procedure Codes From DRG 468 or DRG 477 to MDCs

We annually conduct a review of procedures producing assignment to DRG 468 or DRG 477 on the basis of volume, by procedure, to see if it would be appropriate to move procedure codes out of these DRGs into one of the surgical DRGs for the MDC into which the principal diagnosis falls. The data are arrayed two ways for comparison purposes. We look at a frequency count of each major operative procedure code. We also compare procedures across MDCs by volume of procedure codes within each MDC.

We identify those procedures occurring in conjunction with certain principal diagnoses with sufficient frequency to justify adding them to one of the surgical DRGs for the MDC in which the diagnosis falls. Based on this year's review, we did not identify any procedures in DRGs 468 or 477 that should be removed to one of the surgical DRGs. Therefore, in this proposed rule, we are not proposing any changes for FY 2006.

b. Reassignment of Procedures Among DRGs 468, 476, and 477

We also annually review the list of ICD-9-CM procedures that, when in combination with their principal diagnosis code, result in assignment to DRGs 468, 476, and 477, to ascertain if any of those procedures should be reassigned from one of these three DRGs to another of the three DRGs based on average charges and the length of stay. We look at the data for trends such as shifts in treatment practice or reporting practice that would make the resulting DRG assignment illogical. If we find these shifts, we would propose to move cases to keep the DRGs clinically similar or to provide payment for the cases in a similar manner. Generally, we move only those procedures for which we have an adequate number of discharges to analyze the data.

It has come to our attention that procedure code 26.12 (Open biopsy of salivary gland or duct) is assigned to DRG 468 (Extensive O.R. Procedure Unrelated to Principal Diagnosis). We believe this to be an error, as code 26.31 (Partial sialoadenectomy), which is a more extensive procedure than code 26.12, is assigned to DRG 477. Therefore, we are proposing to correct this error by moving code 26.12 out of DRG 468 and reassigning it to DRG 477.

We are not proposing to move any procedure codes from DRG 476 to DRGs 468 or 477, or from DRG 477 to DRGs 468 or 476.

c. Adding Diagnosis or Procedure Codes to MDCs

Based on our review this year, we are not proposing to add any diagnosis codes to MDCs.

13. Changes to the ICD-9-CM Coding System

As described in section II.B.1. of this preamble, the ICD-9-CM is a coding system used for the reporting of diagnoses and procedures performed on a patient. In September 1985, the ICD-9-CM Coordination and Maintenance Committee was formed. This is a Federal interdepartmental committee, co-chaired by the National Center for Health Statistics (NCHS) and CMS, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The Official Version of the ICD-9-CM contains the list of valid diagnosis and procedure codes. (The Official Version of the ICD-9-CM is available from the Government Printing Office on CD-ROM for $25.00 by calling (202) 512-1800.) The Official Version of the ICD-9-CM is no longer available in printed manual form from the Federal Government; it is only available on CD-ROM. Users who need a paper version are referred to one of the many products available from publishing houses.

The NCHS has lead responsibility for the ICD-9-CM diagnosis codes included in the Tabular List and Alphabetic Index for Diseases, while CMS has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA), the American Hospital Association (AHA), and various physician specialty groups, as well as individual physicians, medical record administrators, health information management professionals, and other members of the public, to contribute ideas on coding matters. After considering the opinions expressed at the public meetings and in writing, the Committee formulates recommendations, which then must be approved by the agencies.

The Committee presented proposals for coding changes for implementation in FY 2006 at a public meeting held on October 7-8, 2004, and finalized the coding changes after consideration of comments received at the meetings and in writing by January 12, 2005. Those coding changes are announced in Tables 6A through 6F of the Addendum to this proposed rule. The Committee held its 2005 meeting on March 31-April l, 2005. Proposed new codes for which there was a consensus of public support and for which complete tabular and indexing charges can be made by May 2005 will be included in the October 1, 2005 update to ICD-9-CM. These additional codes will be included in Tables 6A through 6F of the final rule.

Copies of the minutes of the procedure codes discussions at the Committee's October 7-8, 2004 meeting can be obtained from the CMS Web site: http://www.cms.hhs.gov/paymentsystems/icd9/. The minutes of the diagnoses codes discussions at the October 7-8, 2004 meeting are found at: http://www.cdc.gov/nchs/icd9.htm. Paper copies of these minutes are no longer available and the mailing list has been discontinued. These Web sites also provide detailed information about the Committee, including information on requesting a new code, attending a Committee meeting, and timeline requirements and meeting dates.

We encourage commenters to address suggestions on coding issues involving diagnosis codes to: Donna Pickett, Co-Chairperson, ICD-9-CM Coordination and Maintenance Committee, NCHS, Room 2402, 3311 Toledo Road, Hyattsville, MD 20782. Comments may be sent by e-mail to: dfp4@cdc.gov.

Questions and comments concerning the procedure codes should be addressed to: Patricia E. Brooks, Co-Chairperson, ICD-9-CM Coordination and Maintenance Committee, CMS, Center for Medicare Management, Hospital and Ambulatory Policy Group, Division of Acute Care, C4-08-06, 7500 Security Boulevard, Baltimore, MD 21244-1850. Comments may be sent by e-mail to: Patricia.Brooks1@cms.hhs.gov.

The ICD-9-CM code changes that have been approved will become effective October 1, 2005. The new ICD-9-CM codes are listed, along with their DRG classifications, in Tables 6A and 6B (New Diagnosis Codes and New Procedure Codes, respectively) in the Addendum to this proposed rule. As we stated above, the code numbers and their titles were presented for public comment at the ICD-9-CM Coordination and Maintenance Committee meetings. Both oral and written comments were considered before the codes were approved. In this proposed rule, we are only soliciting comments on the proposed classification of these new codes.

For codes that have been replaced by new or expanded codes, the corresponding new or expanded diagnosis codes are included in Table 6A. New procedure codes are shown in Table 6B. Diagnosis codes that have been replaced by expanded codes or other codes or have been deleted are in Table 6C (Invalid Diagnosis Codes). These invalid diagnosis codes will not be recognized by the GROUPER beginning with discharges occurring on or after October 1, 2005. Table 6D contains invalid procedure codes. These invalid procedure codes will not be recognized by the GROUPER beginning with discharges occurring on or after October 1, 2005. Revisions to diagnosis code titles are in Table 6E (Revised Diagnosis Code Titles), which also includes the DRG assignments for these revised codes. Table 6F includes revised procedure code titles for FY 2006.

In the September 7, 2001 final rule implementing the IPPS new technology add-on payments (66 FR 46906), we indicated we would attempt to include proposals for procedure codes that would describe new technology discussed and approved at the April meeting as part of the code revisions effective the following October. As stated previously, ICD-9-CM codes discussed at the March 31-April 1, 2005 Committee meeting that receive consensus and that can be finalized by May 2005 will be included in Tables 6A through 6F of the final rule.

Section 503(a) of Pub. L. 108-173 included a requirement for updating ICD-9-CM codes twice a year instead of a single update on October 1 of each year. This requirement was included as part of the amendments to the Act relating to recognition of new technology under the IPPS. Section 503(a) amended section 1886(d)(5)(K) of the Act by adding a clause (vii) which states that the “Secretary shall provide for the addition of new diagnosis and procedure codes in April 1 of each year, but the addition of such codes shall not require the Secretary to adjust the payment (or diagnosis-related group classification) * * * until the fiscal year that begins after such date.” This requirement improves the recognition of new technologies under the IPPS system by providing information on these new technologies at an earlier date. Data will be available 6 months earlier than would be possible with updates occurring only once a year on October 1.

While section 503(a) states that the addition of new diagnosis and procedure codes on April 1 of each year shall not require the Secretary to adjust the payment, or DRG classification under section 1886(d) of the Act until the fiscal year that begins after such date, we have to update the DRG software and other systems in order to recognize and accept the new codes. We also publicize the code changes and the need for a mid-year systems update by providers to capture the new codes. Hospitals also have to obtain the new code books and encoder updates, and make other system changes in order to capture and report the new codes.

The ICD-9-CM Coordination and Maintenance Committee holds its meetings in the Spring and Fall, usually in April and September, in order to update the codes and the applicable payment and reporting systems by October 1 of each year. Items are placed on the agenda for the ICD-9-CM Coordination and Maintenance Committee meeting if the request is received at least 2 months prior to the meeting. This requirement allows time for staff to review and research the coding issues and prepare material for discussion at the meeting. It also allows time for the topic to be publicized in meeting announcements in the Federal Register as well as on the CMS Web site. The public decides whether or not to attend the meeting based on the topics listed on the agenda. Final decisions on code title revisions are currently made by March 1 so that these titles can be included in the IPPS proposed rule. A complete addendum describing details of all changes to ICD-9-CM, both tabular and index, are publicized on CMS and NCHS Web pages in May of each year. Publishers of coding books and software use this information to modify their products that are used by health care providers. This 5-month time period has proved to be necessary for hospitals and other providers to update their systems.

A discussion of this timeline and the need for changes are included in the December 4-5, 2003 ICD-9-CM Coordination and Maintenance Committee minutes. The public agreed that there was a need to hold the fall meetings earlier, in September or October, in order to meet the new implementation dates. The public provided comment that additional time would be needed to update hospital systems and obtain new code books and coding software. There was considerable concern expressed about the impact this new April update would have on providers.

In the FY 2005 IPPS final rule, we implemented section 503(a) by developing a mechanism for approving, in time for the April update, diagnoses and procedure code revisions needed to describe new technologies and medical services for purposes of the new technology add-on payment process. We also established the following process for making these determinations. Topics considered during the Fall ICD-9-CM Coordination and Maintenance Committee meeting are considered for an April 1 update if a strong and convincing case is made by the requester at the Committee's public meeting. The request must identify the reason why a new code is needed in April for purposes of the new technology process. The participants at the meeting and those reviewing the Committee meeting summary report are provided the opportunity to comment on this expedited request. All other topics are considered for the October 1 update. Participants at the Committee meeting are encouraged to comment on all such requests. There were no requests for an expedited April l, 2005 implementation of an ICD-9-CM code at the October 7-8, 2004 Committee meeting. Therefore, there were no new ICD-9-CM codes implemented on April 1, 2005.

We believe that this process captures the intent of section 503(a). This requirement was included in the provision revising the standards and process for recognizing new technology under the IPPS. In addition, the need for approval of new codes outside the existing cycle (October 1) arises most frequently and most acutely where the new codes will capture new technologies that are (or will be) under consideration for new technology add-on payments. Thus, we believe this provision was intended to expedite data collection through the assignment of new ICD-9-CM codes for new technologies seeking higher payments.

Current addendum and code title information is published on the CMS Web page at: http://www.cms.hhs.gov/paymentsystems/icd9. Summary tables showing new, revised, and deleted code titles are also posted on the following CMS Web page: http://www.cms.hhs.gov/medlearn/icd9code.asp. Information on ICD-9-CM diagnosis codes, along with the Official ICD-9-CM Coding Guidelines, can be found on the Wep page at: http://www.cdc.gov/nchs/icd9.htm. Information on new, revised, and deleted ICD-9-CM codes is also provided to the AHA for publication in the Coding Clinic for ICD-9-CM. AHA also distributes information to publishers and software vendors.

CMS also sends copies of all ICD-9-CM coding changes to its contractors for use in updating their systems and providing education to providers.

These same means of disseminating information on new, revised, and deleted ICD-9-CM codes will be used to notify providers, publishers, software vendors, contractors, and others of any changes to the ICD-9-CM codes that are implemented in April. Currently, code titles are also published in the IPPS proposed and final rules. The code titles are adopted as part of the ICD-9-CM Coordination and Maintenance Committee process. The code titles are not subject to comment in the proposed or final rules. We will continue to publish the October code updates in this manner within the IPPS proposed and final rules. For codes that are implemented in April, we will assign the new procedure code to the same DRG in which its predecessor code was assigned so there will be no DRG impact as far as DRG assignment. This mapping was specified by Pub. L. 108-173. Any midyear coding updates will be available through the websites indicated above and through the Coding Clinic for ICD-9-CM. Publishers and software vendors currently obtain code changes through these sources in order to update their code books and software systems. We will strive to have the April 1 updates available through these websites 5 months prior to implementation (that is, early November of the previous year), as is the case for the October 1 updates. Codebook publishers are evaluating how they will provide any code updates to their subscribers. Some publishers may decide to publish mid-year book updates. Others may decide to sell an addendum that lists the changes to the October 1 code book. Coding personnel should contact publishers to determine how they will update their books. CMS and its contractors will also consider developing provider education articles concerning this change to the effective date of certain ICD-9-CM codes.

14. Other Issues: Acute Intermittent Porphyria

Acute intermittent porphyria is a rare metabolic disorder. The condition is described by code 277.1 (Disorders of porphyrin metabolism). Code 277.1 is assigned to DRG 299 (Inborn Errors of Metabolism) under MDC 10 (Endocrine, Nutritional, and Metabolic Diseases and Disorders).

In the FY 2005 final rule (69 FR 48981), we discussed the DRG assignment of acute intermittent porphyria. This discussion was a result of correspondence that we received during the comment period for the FY 2005 proposed rule in which the commenter suggested that Medicare hospitalization payments do not accurately reflect the cost of treatment. At that time, we indicated that we would take this comment into consideration when we analyzed the MedPAR data for this proposed rule for FY 2006.

Our review of the most recent MedPAR data shows a total of 1,370 cases overall in DRG 299, of which 471 had a principal diagnosis coded as 277.1. The average length of stay for all cases in DRG 299 was 5.17 days, while the average length of stay for porphyria cases with code 277.1 was 6.0 days. The average charges for all cases in DRG 299 were $15,891, while the average changes for porphyria cases with code 277.1 were $21,920. Based on our analysis of these data, we do not believe that there is a sufficient difference between the average charges and average length of stay for these cases to justify a change to the DRG assignment for treating this condition.

C. Proposed Recalibration of DRG Weights

(If you choose to comment on issues in this section, please include the caption “DRG Weights” at the beginning of your comment.)

We are proposing to use the same basic methodology for the FY 2006 recalibration as we did for FY 2005 (FY 2005 IPPS final rule (69 FR 48981)). That is, we have recalibrated the DRG weights based on charge data for Medicare discharges using the most current charge information available (the FY 2004 MedPAR file).

The MedPAR file is based on fully coded diagnostic and procedure data for all Medicare inpatient hospital bills. The FY 2004 MedPAR data used in this final rule include discharges occurring between October 1, 2003 and September 30, 2004, based on bills received by CMS through December 31, 2004, from all hospitals subject to the IPPS and short-term acute care hospitals in Maryland (which are under a waiver from the IPPS under section 1814(b)(3) of the Act). The FY 2004 MedPAR file includes data for approximately 11,910,025 Medicare discharges. Discharges for Medicare beneficiaries enrolled in a Medicare+Choice managed care plan are excluded from this analysis. The data excludes CAHs, including hospitals that subsequently became CAHs after the period from which the data were taken.

The proposed methodology used to calculate the DRG relative weights from the FY 2004 MedPAR file is as follows:

• To the extent possible, all the claims were regrouped using the DRG classification revisions discussed in section II.B. of this preamble.

• The transplant cases that were used to establish the relative weight for heart and heart-lung, liver, and lung transplants (DRGs 103, 480, and 495) were limited to those Medicare-approved transplant centers that have cases in the FY 2004 MedPAR file. (Medicare coverage for heart, heart-lung, liver, and lung transplants is limited to those facilities that have received approval from CMS as transplant centers.)

• Organ acquisition costs for kidney, heart, heart-lung, liver, lung, pancreas, and intestinal (or multivisceral organs) transplants continue to be paid on a reasonable cost basis. Because these acquisition costs are paid separately from the prospective payment rate, it is necessary to subtract the acquisition charges from the total charges on each transplant bill that showed acquisition charges before computing the average charge for the DRG and before eliminating statistical outliers.

• Charges were standardized to remove the effects of differences in area wage levels, indirect medical education and disproportionate share payments, and, for hospitals in Alaska and Hawaii, the applicable cost-of-living adjustment.

• The average standardized charge per DRG was calculated by summing the standardized charges for all cases in the DRG and dividing that amount by the number of cases classified in the DRG. A transfer case is counted as a fraction of a case based on the ratio of its transfer payment under the per diem payment methodology to the full DRG payment for nontransfer cases. That is, a transfer case receiving payment under the transfer methodology equal to half of what the case would receive as a nontransfer would be counted as 0.5 of a total case.

• Statistical outliers were eliminated by removing all cases that are beyond 3.0 standard deviations from the mean of the log distribution of both the charges per case and the charges per day for each DRG.

• The average charge for each DRG was then recomputed (excluding the statistical outliers) and divided by the national average standardized charge per case to determine the relative weight.

The proposed new weights are normalized by an adjustment factor of 1.47263 so that the average case weight after recalibration is equal to the average case weight before recalibration. This proposed adjustment is intended to ensure that recalibration by itself neither increases nor decreases total payments under the IPPS.

When we recalibrated the DRG weights for previous years, we set a threshold of 10 cases as the minimum number of cases required to compute a reasonable weight. We used that same case threshold in recalibrating the proposed DRG weights for FY 2006. Using the FY 2004 MedPAR data set, there are 41 DRGs that contain fewer than 10 cases. We are proposing to compute the weights for these low-volume DRGs by adjusting the FY 2005 weights of these DRGs by the percentage change in the average weight of the cases in the other DRGs.

Section 1886(d)(4)(C)(iii) of the Act requires that, beginning with FY 1991, reclassification and recalibration changes be made in a manner that assures that the aggregate payments are neither greater than nor less than the aggregate payments that would have been made without the changes. Although normalization is intended to achieve this effect, equating the average case weight after recalibration to the average case weight before recalibration does not necessarily achieve budget neutrality with respect to aggregate payments to hospitals because payments to hospitals are affected by factors other than average case weight. Therefore, as we have done in past years and as discussed in section II.A.4.a. of the Addendum to this proposed rule, we are making a budget neutrality adjustment to ensure that the requirement of section 1886(d)(4)(C)(iii) of the Act is met.

D. Proposed LTC-DRG Reclassifications and Relative Weights for LTCHs for FY 2006

(If you choose to comment on issues in this section, please include the caption “LTC-DRGs” at the beginning of your comment.)

1. Background

In the June 6, 2003 LTCH PPS final rule (68 FR 34122), we changed the LTCH PPS annual payment rate update cycle to be effective July 1 through June 30 instead of October 1 through September 30. In addition, because the patient classification system utilized under the LTCH PPS is based directly on the DRGs used under the IPPS for acute care hospitals, in that same final rule, we explained that the annual update of the long-term care diagnosis-related group (LTC-DRG) classifications and relative weights will continue to remain linked to the annual reclassification and recalibration of the CMS-DRGs used under the IPPS. In that same final rule, we specified that we will continue to update the LTC-DRG classifications and relative weights to be effective for discharges occurring on or after October 1 through September 30 each year. Furthermore, we stated that we will publish the annual update of the LTC-DRGs in the proposed and final rules for the IPPS.

In the past, the annual update to the IPPS DRGs has been based on the annual revisions to the ICD-9-CM codes and was effective each October 1. As discussed in the FY 2005 IPPS final rule (69 FR 48954 through 48957) and in the February 3, 2005 LTCH PPS proposed rule (70 FR 5729 through 5733), with the implementation of section 503 (a) of Pub. L. 108-173, there is the possibility that one feature of the GROUPER software program may be updated twice during a Federal fiscal year (October 1 and April 1) as required by the statute for the IPPS. Specifically, ICD-9-CM diagnosis and procedure codes for new medical technology may be created and added to existing DRGs in the middle of the Federal fiscal year on April 1. This policy change will have no effect, however, on the LTC-DRG relative weights which will continue to be updated only once a year (October 1), nor will there be any impact on Medicare payments under the LTCH PPS. The use of the ICD-9-CM code set is also compliant with the current requirements of the Transactions and Code Sets Standards regulations at 45 CFR Parts 160 and 162, promulgated in accordance with the Health Insurance Portability and Accountability Act of 1996 (HIPAA), Pub. L. 104-191.

In the health care industry, historically annual changes to the ICD-9-CM codes were effective for discharges occurring on or after October 1 each year. Thus, the manual and electronic versions of the GROUPER software, which are based on the ICD-9-CM codes, were also revised annually and effective for discharges occurring on or after October 1 each year. As noted above, the patient classification system used under the LTCH PPS (LTC-DRGs) is based on the patient classification system used under the IPPS (CMS-DRGs), which historically had been updated annually and effective for discharges occurring on or after October 1 through September 30 each year. As mentioned above, the ICD-9-CM coding update process has been revised, as discussed in greater detail in the FY 2005 IPPS final rule (69 FR 48954 through 48957). Specifically, section 503(a) of Pub. L. 108-173 includes a requirement for updating ICD-9-CM codes as often as twice a year instead of the current process of annual updates on October 1 of each year. This requirement is included as part of the amendments to the Act relating to recognition of new medical technology under the IPPS. Section 503(a) of Pub L. 108-173 amended section 1886(d)(5)(K) of the Act by adding a new clause (vii) which states that “the Secretary shall provide for the addition of new diagnosis and procedure codes in [sic] April 1 of each year, but the addition of such codes shall not require the Secretary to adjust the payment (or diagnosis-related group classification) * * * until the fiscal year that begins after such date.” This requirement will improve the recognition of new technologies under the IPPS by accounting for those ICD-9-CM codes in the MedPAR claims data at an earlier date. Despite the fact that aspects of the GROUPER software may be updated to recognize any new technology ICD-9-CM codes, as discussed in the February 3, 2005 LTCH PPS proposed rule (70 FR 5730 through 5733), there will be no impact on either LTC-DRG assignments or payments under the LTCH PPS at that time. That is, changes to the LTC-DRGs (such as the creation or deletion of LTC-DRGs) and the relative weights will continue to be updated in the manner and timing (October 1) as they are now.

As noted above and as described in the February 3, 2005 LTCH PPS proposed rule (70 FR 5730), updates to the GROUPER for both the IPPS and the LTCH PPS (with respect to relative weights and the creation or deletion of DRGs) are made in the annual IPPS proposed and final rules and are effective each October 1. We explained in the FY 2005 IPPS final rule (69 FR 48955 and 48956), that since we do not publish a midyear IPPS rule, April 1 code updates discussed above will not be published in a midyear IPPS rule. Rather, we will assign any new diagnostic or procedure codes to the same DRG in which its predecessor code was assigned, so that there will be no impact on the DRG assignments. Any proposed coding updates will be available through the websites indicated in the same rule and provided above in section II.B. of this preamble and through the Coding Clinic for ICD-9-CM. Publishers and software vendors currently obtain code changes through these sources in order to update their code books and software system. If new codes are implemented on April 1, revised code books and software systems, including the GROUPER software program, will be necessary because we must use current ICD-9-CM codes. Therefore, for purposes of the LTCH PPS, since each ICD-9-CM code must be included in the GROUPER algorithm to classify each case into a LTC-DRG, the GROUPER software program used under the LTCH PPS would need to be revised to accommodate any new codes.

As we discussed in the FY 2005 IPPS final rule (69 FR 48956), in implementing section 503(a) of Pub. L. 108-173, there will only be an April 1 update if new technology codes are requested and approved. It should be noted that any new codes created for April 1 implementation will be limited to those diagnosis and procedure code revisions primarily needed to describe new technologies and medical services. However, we reiterate that the process of discussing updates to the ICD-9-CM has been an open process through the ICD-9-CM C&M Committee since 1995. Requestors will be given the opportunity to present the merits of their proposed new code and make a clear and convincing case for the need to update ICD-9-CM codes for purposes of the IPPS new technology add-on payment process through an April 1 update.

In addition, in the FY 2005 IPPS final rule (69 FR 48956), we stated that at the October 2004 ICD-9-CM Coordination and Maintenance Committee meeting, no new codes were proposed for an April 1, 2005 implementation, and the next update to the ICD-9-CM coding system would not occur until October 1, 2005 (FY 2006). Presently, as there were no coding changes suggested for an April 1, 2005 update, the ICD-9-CM coding set implemented on October 1, 2004 will continue through September 30, 2005 (FY 2005). The proposed update to the ICD-9-CM coding system for FY 2006 is discussed above in section II.B. of this preamble.

In this proposed rule, we are proposing revisions to the LTC-DRG classifications and relative weights and, to the extent that they are finalized, we will publish them in the corresponding IPPS final rule, to be effective October 1, 2005 through September 30, 2006 (FY 2006), using the latest available data. The proposed LTC-DRGs and relative weights for FY 2006 in this proposed rule are based on the proposed IPPS DRGs (GROUPER Version 23.0) discussed in section II. of this proposed rule.

2. Proposed Changes in the LTC-DRG Classifications

a. Background

Section 123 of Pub. L. 106-113 specifically requires that the PPS for LTCHs be a per discharge system with a DRG-based patient classification system reflecting the differences in patient resources and costs in LTCHs while maintaining budget neutrality. Section 307(b)(1) of Pub. L. 106-554 modified the requirements of section 123 of Pub. L. 106-113 by specifically requiring that the Secretary examine “the feasibility and the impact of basing payment under such a system [the LTCH PPS] on the use of existing (or refined) hospital diagnosis-related groups (DRGs) that have been modified to account for different resource use of long-term care hospital patients as well as the use of the most recently available hospital discharge data.”

In accordance with section 307(b)(1) of Pub. L. 106-554 and § 412.515 of our existing regulations, the LTCH PPS uses information from LTCH patient records to classify patient cases into distinct LTC-DRGs based on clinical characteristics and expected resource needs. The LTC-DRGs used as the patient classification component of the LTCH PPS correspond to the DRGs under the IPPS for acute care hospitals. Thus, in this proposed rule, we are proposing to use the IPPS GROUPER Version 23.0 for FY 2006 to process LTCH PPS claims for LTCH occurring from October 1, 2005 through September 30, 2006. The proposed changes to the CMS DRG classification system used under the IPPS for FY 2006 (GROUPER Version 23.0) are discussed in section II.B. of the preamble to this proposed rule.

Under the LTCH PPS, we determine relative weights for each of the CMS DRGs to account for the difference in resource use by patients exhibiting the case complexity and multiple medical problems characteristic of LTCH patients. In a departure from the IPPS, as we discussed in the August 30, 2002 LTCH PPS final rule (67 FR 55985), which implemented the LTCH PPS, and the FY 2004 IPPS final rule (68 FR 45374), we use low-volume quintiles in determining the LTC-DRG weights for LTC-DRGs with less than 25 LTCH cases, because LTCHs do not typically treat the full range of diagnoses as do acute care hospitals. Specifically, we group those low-volume LTC-DRGs (LTC-DRGs with fewer than 25 cases) into 5 quintiles based on average charge per discharge. (A listing of the composition of low-volume quintiles for the FY 2005 LTC-DRGs (based on FY 2003 MedPAR data) appears in section II.D.3. of the FY 2005 IPPS final rule (69 FR 48985 through 48989).) We also adjust for cases in which the stay at the LTCH is less than or equal to five-sixths of the geometric average length of stay; that is, short-stay outlier cases (§ 412.529), as discussed below in section II.D.4. of this preamble.

b. Patient Classifications into DRGs

Generally, under the LTCH PPS, Medicare payment is made at a predetermined specific rate for each discharge; that is, payment varies by the LTC-DRG to which a beneficiary's stay is assigned. Similar to case classification for acute care hospitals under the IPPS (see section II.B. of this preamble), cases are classified into LTC-DRGs for payment under the LTCH PPS based on the principal diagnosis, up to eight additional diagnoses, and up to six procedures performed during the stay, as well as age, sex, and discharge status of the patient. The diagnosis and procedure information is reported by the hospital using codes from the ICD-9-CM.

As discussed in section II.B. of this preamble, the CMS DRGs are organized into 25 major diagnostic categories (MDCs), most of which are based on a particular organ system of the body; the remainder involve multiple organ systems (such as MDC 22, Burns). Accordingly, the principal diagnosis determines MDC assignment. Within most MDCs, cases are then divided into surgical DRGs and medical DRGs. Some surgical and medical DRGs are further differentiated based on the presence or absence of CCs. (See section II.B. of this preamble for further discussion of surgical DRGs and medical DRGs.)

Because the assignment of a case to a particular LTC-DRG will help determine the amount that is paid for the case, it is important that the coding is accurate. As used under the IPPS, classifications and terminology used under the LTCH PPS are consistent with the ICD-9-CM and the Uniform Hospital Discharge Data Set (UHDDS), as recommended to the Secretary by the National Committee on Vital and Health Statistics (“Uniform Hospital Discharge Data: Minimum Data Set, National Center for Health Statistics, April 1980”) and as revised in 1984 by the Health Information Policy Council (HIPC) of the U.S. Department of Health and Human Services. We point out again that the ICD-9-CM coding terminology and the definitions of principal and other diagnoses of the UHDDS are consistent with the requirements of the Transactions and Code Sets Standards under HIPAA (45 CFR Parts 160 and 162).

The emphasis on the need for proper coding cannot be overstated. Inappropriate coding of cases can adversely affect the uniformity of cases in each LTC-DRG and produce inappropriate weighting factors at recalibration and result in inappropriate payments under the LTCH PPS. LTCHs are to follow the same coding guidelines used by the acute care hospitals to ensure accuracy and consistency in coding practices. There will be only one LTC-DRG assigned per long-term care hospitalization; it will be assigned at the discharge. Therefore, it is mandatory that the coders continue to report the same principal diagnosis on all claims and include all diagnostic codes that coexist at the time of admission, that are subsequently developed, or that affect the treatment received. Similarly, all procedures performed during that stay are to be reported on each claim.

Upon the discharge of the patient from a LTCH, the LTCH must assign appropriate diagnosis and procedure codes from the ICD-9-CM. Completed claim forms are to be submitted electronically to the LTCH's Medicare fiscal intermediary. Medicare fiscal intermediaries enter the clinical and demographic information into their claims processing systems and subject this information to a series of automated screening processes called the Medicare Code Editor (MCE). These screens are designed to identify cases that require further review before assignment into an LTC-DRG can be made.

After screening through the MCE, each LTCH claim will be classified into the appropriate LTC-DRG by the Medicare LTCH GROUPER. The LTCH GROUPER is specialized computer software based on the same GROUPER used under the IPPS. After the LTC-DRG is assigned, the Medicare fiscal intermediary determines the prospective payment by using the Medicare LTCH PPS PRICER program, which accounts for LTCH hospital-specific adjustments. As provided for under the IPPS, we provide an opportunity for the LTCH to review the LTC-DRG assignments made by the fiscal intermediary and to submit additional information within a specified timeframe (§ 412.513(c)).

The GROUPER is used both to classify past cases in order to measure relative hospital resource consumption to establish the LTC-DRG weights and to classify current cases for purposes of determining payment. The records for all Medicare hospital inpatient discharges are maintained in the MedPAR file. The data in this file are used to evaluate possible DRG classification changes and to recalibrate the DRG weights during our annual update (as discussed in section II. of this preamble). The LTC-DRG relative weights are based on data for the population of LTCH discharges, reflecting the fact that LTCH patients represent a different patient mix than patients in short-term acute care hospitals.

3. Development of the Proposed FY 2006 LTC-DRG Relative Weights

a. General Overview of Development of the LTC-DRG Relative Weights

As we stated in the August 30, 2002 LTCH PPS final rule (67 FR 55981), one of the primary goals for the implementation of the LTCH PPS is to pay each LTCH an appropriate amount for the efficient delivery of care to Medicare patients. The system must be able to account adequately for each LTCH's case-mix in order to ensure both fair distribution of Medicare payments and access to adequate care for those Medicare patients whose care is more costly. To accomplish these goals, we adjust the LTCH PPS standard Federal prospective payment system rate by the applicable LTC-DRG relative weight in determining payment to LTCHs for each case. Under the LTCH PPS, relative weights for each LTC-DRG are a primary element used to account for the variations in cost per discharge and resource utilization among the payment groups (§ 412.515). To ensure that Medicare patients classified to each LTC-DRG have access to an appropriate level of services and to encourage efficiency, we calculate a relative weight for each LTC-DRG that represents the resources needed by an average inpatient LTCH case in that LTC-DRG. For example, cases in an LTC-DRG with a relative weight of 2 will, on average, cost twice as much as cases in an LTC-DRG with a weight of 1.

b. Data

To calculate the proposed LTC-DRG relative weights for FY 2006 in this proposed rule, we obtained total Medicare allowable charges from FY 2004 Medicare hospital bill data from the December 2004 update of the MedPAR file, and we used the proposed Version 23.0 of the CMS GROUPER for IPPS (as discussed in section II.B. of this preamble) to classify cases. Consistent with the methodology under the IPPS, we are proposing to recalculate the FY 2006 LTC-DRG relative weights based on the best available data for this proposed rule.

As we discussed in the FY 2005 IPPS final rule (69 FR 48984), we have excluded the data from LTCHs that are all-inclusive rate providers and LTCHs that are reimbursed in accordance with demonstration projects authorized under section 402(a) of Pub. L. 90-248 (42 U.S.C. 1395b-1) or section 222(a) of Pub. L. 92-603 (42 U.S.C. 1395b-1). Therefore, in the development of the proposed FY 2006 LTC-DRG relative weights, we have excluded the data of the 19 all-inclusive rate providers and the 3 LTCHs that are paid in accordance with demonstration projects that had claims in the FY 2003 MedPAR file.

In the FY 2005 IPPS final rule (6 FR 48984), we discussed coding inaccuracies that were found in the claims data for a large chain of LTCHs in the FY 2002 MedPAR file, which were used to determine the LTC-DRG relative weights for FY 2004. As we discussed in the same final rule, after notifying the large chain of LTCHs whose claims contained the coding inaccuracies to request that they resubmit those claims with the correct diagnosis, from an analysis of LTCH claims data from the December 2003 update of the FY 2003 MedPAR file, it appeared that such claims data no longer contain coding errors. Therefore, it was not necessary to correct the FY 2003 MedPAR data for the development of the FY 2005 LTC-DRGs and relative weights established in the same final rule.

As stated above, in this proposed rule, we are proposing to use the December 2004 update of the FY 2004 MedPAR file for the determination of the proposed FY 2006 LTC-DRG relative weights as these are the best available data. Based on an analysis of LTCH claims data from the December 2004 update of the FY 2004 MedPAR file, it appears that such claims data do not contain coding inaccuracies found previously in LTCH claims data. Therefore, it was not necessary to correct the FY 2004 MedPAR data for the development of the proposed FY 2006 LTC-DRGs and relative weights presented in this proposed rule.

c. Hospital-Specific Relative Value Methodology

By nature, LTCHs often specialize in certain areas, such as ventilator-dependent patients and rehabilitation and wound care. Some case types (DRGs) may be treated, to a large extent, in hospitals that have, from a perspective of charges, relatively high (or low) charges. This nonarbitrary distribution of cases with relatively high (or low) charges in specific LTC-DRGs has the potential to inappropriately distort the measure of average charges. To account for the fact that cases may not be randomly distributed across LTCHs, we use a hospital-specific relative value method to calculate the LTC-DRG relative weights instead of the methodology used to determine the DRG relative weights under the IPPS described above in section II.C. of this preamble. We believe this method will remove this hospital-specific source of bias in measuring LTCH average charges. Specifically, we reduce the impact of the variation in charges across providers on any particular LTC-DRG relative weight by converting each LTCH's charge for a case to a relative value based on that LTCH's average charge.

Under the hospital-specific relative value method, we standardize charges for each LTCH by converting its charges for each case to hospital-specific relative charge values and then adjusting those values for the LTCH's case-mix. The adjustment for case-mix is needed to rescale the hospital-specific relative charge values (which, by definition, averages 1.0 for each LTCH). The average relative weight for a LTCH is its case-mix, so it is reasonable to scale each LTCH's average relative charge value by its case-mix. In this way, each LTCH's relative charge value is adjusted by its case-mix to an average that reflects the complexity of the cases it treats relative to the complexity of the cases treated by all other LTCHs (the average case-mix of all LTCHs).

In accordance with the methodology established under § 412.523, we standardize charges for each case by first dividing the adjusted charge for the case (adjusted for short-stay outliers under § 412.529 as described in section II.D.4. (step 3) of this preamble) by the average adjusted charge for all cases at the LTCH in which the case was treated. Short-stay outliers under § 412.529 are cases with a length of stay that is less than or equal to five-sixths the average length of stay of the LTC-DRG. The average adjusted charge reflects the average intensity of the health care services delivered by a particular LTCH and the average cost level of that LTCH. The resulting ratio is multiplied by that LTCH's case-mix index to determine the standardized charge for the case.

Multiplying by the LTCH's case-mix index accounts for the fact that the same relative charges are given greater weight in a LTCH with higher average costs than they would at a LTCH with low average costs which is needed to adjust each LTCH's relative charge value to reflect its case-mix relative to the average case-mix for all LTCHs. Because we standardize charges in this manner, we count charges for a Medicare patient at a LTCH with high average charges as less resource intensive than they would be at a LTCH with low average charges. For example, a $10,000 charge for a case in a LTCH with an average adjusted charge of $17,500 reflects a higher level of relative resource use than a $10,000 charge for a case in a LTCH with the same case-mix, but an average adjusted charge of $35,000. We believe that the adjusted charge of an individual case more accurately reflects actual resource use for an individual LTCH because the variation in charges due to systematic differences in the markup of charges among LTCHs is taken into account.

d. Proposed Low-Volume LTC-DRGs

In order to account for LTC-DRGs with low-volume (that is, with fewer than 25 LTCH cases), in accordance with the methodology established in the August 30, 2002 LTCH PPS final rule (67 FR 55984), we group those low-volume LTC-DRGs into one of five categories (quintiles) based on average charges, for the purposes of determining relative weights. For this proposed rule, using LTCH cases from the December 2004 update of the FY 2004 MedPAR file, we identified 172 LTC-DRGs that contained between 1 and 24 cases. This list of proposed LTC-DRGs was then divided into one of the 5 low-volume quintiles, each containing a minimum of 34 LTC-DRGs (172/5 = 34 with 2 LTC-DRGs as the remainder). For FY 2006, we are proposing to make an assignment to a specific low-volume quintile by sorting the low-volume proposed LTC-DRGs in ascending order by average charge. For this proposed rule, this results in an assignment to a specific low volume quintile of the sorted 172 low-volume proposed LTC-DRGs by ascending order by average charge. Because the number of LTC-DRGs with less than 25 LTCH cases is not evenly divisible by five, the average charge of the low-volume proposed LTC-DRG was used to determine which low-volume quintile received the additional proposed LTC-DRG. After sorting the 172 low-volume LTC-DRGs in ascending order, we are proposing that the first fifth of low-volume LTC-DRGs with the lowest average charge would be grouped into Quintile 1. The highest average charge cases would be grouped into Quintile 5. Since the average charge of the proposed 35th LTC-DRG in the sorted list is closer to the proposed 34th LTC-DRG's average charge (assigned to Quintile 1) than to the average charge of the proposed 36th LTC-DRG in the sorted list (to be assigned to Quintile 2), we are proposing to place it into Quintile 1. This process was repeated through the remaining low-volume proposed LTC-DRGs so that 2 proposed low-volume quintiles contain 35 proposed LTC-DRGs and 3 proposed low-volume quintiles contain 34 proposed LTC-DRGs.

In order to determine the proposed relative weights for the proposed LTC-DRGs with low volume for FY 2006, in accordance with the methodology established in the August 30, 2002 LTCH PPS final rule (67 FR 55984), we are proposing to use the proposed five low-volume quintiles described above. The composition of each of the proposed five low-volume quintiles shown in the chart below would be used in determining the proposed LTC-DRG relative weights for FY 2006. We would determine a proposed relative weight and (geometric) average length of stay for each of the proposed five low-volume quintiles using the formula that we apply to the regular proposed LTC-DRGs (25 or more cases), as described below in section II.D.4. of this preamble. We are proposing to assign the same relative weight and average length of stay to each of the proposed LTC-DRGs that make up that proposed low-volume quintile. We note that, as this system is dynamic, it is possible that the number and specific type of LTC-DRGs with a low volume of LTCH cases will vary in the future. We use the best available claims data in the MedPAR file to identify low-volume LTC-DRGs and to calculate the relative weights based on our methodology.

4. Steps for Determining the Proposed FY 2006 LTC-DRG Relative Weights

As we noted previously, the proposed FY 2006 LTC-DRG relative weights are determined in accordance with the methodology established in the August 1, 2003 IPPS final rule (68 FR 45367). In summary, LTCH cases must be grouped in the appropriate LTC-DRG, while taking into account the low-volume proposed LTC-DRGs as described above, before the proposed FY 2006 LTC-DRG relative weights can be determined. After grouping the cases in the appropriate proposed LTC-DRG, we are proposing to calculate the proposed relative weights for FY 2006 in this proposed rule by first removing statistical outliers and cases with a length of stay of 7 days or less, as discussed in greater detail below. Next, we are proposing to adjust the number of cases in each proposed LTC-DRG for the effect of short-stay outlier cases under § 412.529, as also discussed in greater detail below. The short-stay adjusted discharges and corresponding charges are used to calculate “relative adjusted weights” in each proposed LTC-DRG using the hospital-specific relative value method described above.

Below we discuss in detail the steps for calculating the proposed FY 2006 LTC-DRG relative weights.

Step 1—Remove statistical outliers.

The first step in the calculation of the proposed FY 2006 LTC-DRG relative weights is to remove statistical outlier cases. We define statistical outliers as cases that are outside of 3.0 standard deviations from the mean of the log distribution of both charges per case and the charges per day for each LTC-DRG. These statistical outliers are removed prior to calculating the proposed relative weights. We believe that they may represent aberrations in the data that distort the measure of average resource use. Including those LTCH cases in the calculation of the proposed relative weights could result in an inaccurate proposed relative weight that does not truly reflect relative resource use among the proposed LTC-DRGs.

Step 2—Remove cases with a length of stay of 7 days or less.

The proposed FY 2006 LTC-DRG relative weights reflect the average of resources used on representative cases of a specific type. Generally, cases with a length of stay 7 days or less do not belong in a LTCH because these stays do not fully receive or benefit from treatment that is typical in a LTCH stay, and full resources are often not used in the earlier stages of admission to a LTCH. If we were to include stays of 7 days or less in the computation of the proposed FY 2006 LTC-DRG relative weights, the value of many proposed relative weights would decrease and, therefore, payments would decrease to a level that may no longer be appropriate.

We do not believe that it would be appropriate to compromise the integrity of the payment determination for those LTCH cases that actually benefit from and receive a full course of treatment at a LTCH, in order to include data from these very short-stays. Thus, in determining the proposed FY 2006 LTC-DRG relative weights, we remove LTCH cases with a length of stay of 7 days or less.

Step 3—Adjust charges for the effects of short-stay outliers.

After removing cases with a length of stay of 7 days or less, we are left with cases that have a length of stay of greater than or equal to 8 days. The next step in the calculation of the proposed FY 2006 LTC-DRG relative weights is to adjust each LTCH's charges per discharge for those remaining cases for the effects of short-stay outliers as defined in § 412.529(a). (However, we note that even if a case was removed in Step 2 (that is, cases with a length of stay of 7 days or less), it was paid as a short-stay outlier if its length of stay was less than or equal to five-sixths of the average length of stay of the LTC-DRG, in accordance with § 412.529.)

We make this adjustment by counting a short-stay outlier as a fraction of a discharge based on the ratio of the length of stay of the case to the average length of stay for the proposed LTC-DRG for nonshort-stay outlier cases. This has the effect of proportionately reducing the impact of the lower charges for the short-stay outlier cases in calculating the average charge for the proposed LTC-DRG. This process produces the same result as if the actual charges per discharge of a short-stay outlier case were adjusted to what they would have been had the patient's length of stay been equal to the average length of stay of the proposed LTC-DRG.

As we explained in the FY 2005 IPPS final rule (69 FR 48991), counting short-stay outlier cases as full discharges with no adjustment in determining the proposed LTC-DRG relative weights would lower the proposed LTC-DRG relative weight for affected proposed LTC-DRGs because the relatively lower charges of the short-stay outlier cases would bring down the average charge for all cases within a proposed LTC-DRG. This would result in an “underpayment” to nonshort-stay outlier cases and an “overpayment” to short-stay outlier cases. Therefore, in this proposed rule, we adjust for short-stay outlier cases under § 412.529 in this manner because it results in more appropriate payments for all LTCH cases.

Step 4—Calculate the Proposed FY 2006 LTC-DRG relative weights on an iterative basis.

The process of calculating the proposed LTC-DRG relative weights using the hospital specific relative value methodology is iterative. First, for each LTCH case, we calculate a hospital-specific relative charge value by dividing the short-stay outlier adjusted charge per discharge (see step 3) of the LTCH case (after removing the statistical outliers (see step 1)) and LTCH cases with a length of stay of 7 days or less (see step 2) by the average charge per discharge for the LTCH in which the case occurred. The resulting ratio is then multiplied by the LTCH's case-mix index to produce an adjusted hospital-specific relative charge value for the case. An initial case-mix index value of 1.0 is used for each LTCH.

For each proposed LTC-DRG, the proposed FY 2006 LTC-DRG relative weight is calculated by dividing the average of the adjusted hospital-specific relative charge values (from above) for the proposed LTC-DRG by the overall average hospital-specific relative charge value across all cases for all LTCHs. Using these recalculated proposed LTC-DRG relative weights, each proposed LTCH's average relative weight for all of its cases (case-mix) is calculated by dividing the sum of all the proposed LTCH's LTC-DRG relative weights by its total number of cases. The LTCHs' hospital-specific relative charge values above are multiplied by these hospital specific case-mix indexes. These hospital-specific case-mix adjusted relative charge values are then used to calculate a new set of proposed LTC-DRG relative weights across all LTCHs. In this proposed rule, this iterative process is continued until there is convergence between the weights produced at adjacent steps, for example, when the maximum difference is less than 0.0001.

Step 5-Adjust the proposed FY 2006 LTC-DRG relative weights to account for nonmonotonically increasing relative weights.

As explained in section II.B. of this preamble, the proposed FY 2006 CMS DRGs, which the proposed FY 2006 LTC-DRGs are based, contain “pairs” that are differentiated based on the presence or absence of CCs. The proposed LTC-DRGs with CCs are defined by certain secondary diagnoses not related to or inherently a part of the disease process identified by the principal diagnosis, but the presence of additional diagnoses does not automatically generate a CC. As we discussed in the FY 2005 IPPS final rule (69 FR 48991), the value of monotonically increasing relative weights rises as the resource use increases (for example, from uncomplicated to more complicated). The presence of CCs in a proposed LTC-DRG means that cases classified into a “without CC” proposed LTC-DRG are expected to have lower resource use (and lower costs). In other words, resource use (and costs) are expected to decrease across “with CC”/“without CC” pairs of proposed LTC-DRGs.

For a case to be assigned to a proposed LTC-DRG with CCs, more coded information is called for (that is, at least one relevant secondary diagnosis), than for a case to be assigned to a proposed LTC-DRG “without CCs” (which is based on only one principal diagnosis and no relevant secondary diagnoses). Currently, the LTCH claims data include both accurately coded cases without complications and cases that have complications (and cost more), but were not coded completely. Both types of cases are grouped to a proposed LTC-DRG “without CCs” because only one principal diagnosis was coded. Since the LTCH PPS was only implemented for cost reporting periods beginning on or after October 1, 2002 (FY 2003) and LTCHs were previously paid under cost-based reimbursement, which is not based on patient diagnoses, coding by LTCHs for these cases may not have been as detailed as possible.

Thus, in developing the FY 2003 LTC-DRG relative weights for the LTCH PPS based on FY 2001 claims data, as we discussed in the August 30, 2002 LTCH PPS final rule (67 FR 55990), we found on occasion that the data suggested that cases classified to the LTC-DRG “with CCs” of a “with CC”/“without CC” pair had a lower average charge than the corresponding LTC-DRG “without CCs.” Similarly, as discussed in the FY 2005 IPPS final rule (69 FR 48991 through 48992), based on FY 2003 claims data, we also found on occasion that the data suggested that cases classified to the LTC-DRG “with CCs” of a “with CC”/“without CC” pair have a lower average charge than the corresponding LTC-DRG “without CCs” for the FY 2005 LTC-DRG relative weights.

We believe this anomaly may be due to coding that may not have fully reflected all comorbidities that were present. Specifically, LTCHs may have failed to code relevant secondary diagnoses, which resulted in cases that actually had CCs being classified into a “without CC” LTC-DRG. It would not be appropriate to pay a lower amount for the “with CC” LTC-DRG because, in general, cases classified into a “with CC” LTC-DRG are expected to have higher resource use (and higher cost) as discussed above. Therefore, previously when we determined the LTC-DRG relative weights in accordance with the methodology established in the August 30, 2002 LTCH PPS final rule (67 FR 55990), we grouped both the cases “with CCs” and “without CCs” together for the purpose of calculating the LTC-DRG relative weights for FYs 2003 through 2005. As we stated in that same final rule, we will continue to employ this methodology to account for nonmonotonically increasing relative weights until we have adequate data to calculate appropriate separate weights for these anomalous LTC-DRG pairs. We expect that, as was the case when we first implemented the IPPS, this problem will be self-correcting, as LTCHs submit more completely coded data in the future.

There are three types of “with CC” and “without CC” pairs that could be nonmonotonic; that is, where the “without CC” proposed LTC-DRG would have a higher average charge than the “with CC” proposed LTC-DRG. For this proposed rule, using the LTCH cases in the December 2004 update of the FY 2004 MedPAR file (the best available data at this time), we identified one of the three types of nonmonotonic LTC-DRG pairs.

The first category of nonmonotonically increasing proposed relative weights for FY 2006 proposed LTC-DRG pairs “with and without CCs” contains zero pairs of proposed LTC-DRGs in which both the proposed LTC-DRG “with CCs” and the proposed LTC-DRG “without CCs” had 25 or more LTCH cases and, therefore, did not fall into one of the 5 low-volume quintiles. For those nonmonotonic proposed LTC-DRG pairs, we would combine the LTCH cases and compute a new proposed relative weight based on the case-weighted average of the combined LTCH cases of the proposed LTC-DRGs. The case-weighted average charge is determined by dividing the total charges for all LTCH cases by the total number of LTCH cases for the combined proposed LTC-DRG. This new proposed relative weight would then be assigned to both of the proposed LTC-DRGs in the pair. In this proposed rule, for FY 2006, there are no proposed LTC-DRGs that fall into this category.

The second category of nonmonotonically increasing relative weights for proposed LTC-DRG pairs “with and without CCs” consists of one pair of proposed LTC-DRGs that has fewer than 25 cases, and each proposed LTC-DRG would be grouped to different proposed low-volume quintiles in which the “without CC” proposed LTC-DRG is in a higher-weighted proposed low-volume quintile than the “with CC” proposed LTC-DRG. For those pairs, we would combine the LTCH cases and determine the case-weighted average charge for all LTCH cases. The case-weighted average charge is determined by dividing the total charges for all LTCH cases by the total number of LTCH cases for the combined proposed LTC-DRG. Based on the case-weighted average LTCH charge, we determine within which low-volume quintile the “combined LTC-DRG” is grouped. Both proposed LTC-DRGs in the pair are then grouped into the same proposed low-volume quintile, and thus have the same proposed relative weight. In this proposed rule, for FY 2006, proposed LTC-DRGs 531 and 532 fall into this category.

The third category of nonmonotonically increasing relative weights for proposed LTC-DRG pairs “with and without CCs” consists of zero pairs of proposed LTC-DRGs where one of the proposed LTC-DRGs has fewer than 25 LTCH cases and is grouped to a proposed low-volume quintile and the other proposed LTC-DRG has 25 or more LTCH cases and has its own proposed LTC-DRG relative weight, and the proposed LTC-DRG “without CCs” has the higher proposed relative weight. We remove the proposed low-volume LTC-DRG from the proposed low-volume quintile and combine it with the other proposed LTC-DRG for the computation of a new proposed relative weight for each of these proposed LTC-DRGs. This new proposed relative weight is assigned to both proposed LTC-DRGs, so they each have the same proposed relative weight. In this proposed rule, for FY 2006, there are no proposed LTC-DRGs that fall into this category.

Step 6-Determine a proposed FY 2006 LTC-DRG relative weight for proposed LTC-DRGs with no LTCH cases.

As we stated above, we determine the proposed relative weight for each proposed LTC-DRG using charges reported in the December 2004 update of the FY 2004 MedPAR file. Of the 526 proposed LTC-DRGs for FY 2006, we identified 194 proposed LTC-DRGs for which there were no LTCH cases in the database. That is, based on data from the FY 2004 MedPAR file used in this proposed rule, no patients who would have been classified to those LTC-DRGs were treated in LTCHs during FY 2004 and, therefore, no charge data were reported for those proposed LTC-DRGs. Thus, in the process of determining the proposed LTC-DRG relative weights, we are unable to determine weights for these 194 proposed LTC-DRGs using the methodology described in steps 1 through 5 above. However, because patients with a number of the diagnoses under these proposed LTC-DRGs may be treated at LTCHs beginning in FY 2006, we assign proposed relative weights to each of the 194 “no volume” proposed LTC-DRGs based on clinical similarity and relative costliness to one of the remaining 332 (156—194 = 332) proposed LTC-DRGs for which we are able to determine proposed relative weights, based on FY 2004 claims data.

As there are currently no LTCH cases in these “no volume” proposed LTC-DRGs, we determine proposed relative weights for the 194 proposed LTC-DRGs with no LTCH cases in the FY 2004 MedPAR file used in this proposed rule by grouping them to the appropriate proposed low-volume quintile. This methodology is consistent with our methodology used in determining proposed relative weights to account for the proposed low-volume LTC-DRGs described above.

Our methodology for determining proposed relative weights for the proposed “no volume” LTC-DRGs is as follows: We crosswalk the proposed no volume LTC-DRGs by matching them to other similar proposed LTC-DRGs for which there were LTCH cases in the FY 2004 MedPAR file based on clinical similarity and intensity of use of resources as determined by care provided during the period of time surrounding surgery, surgical approach (if applicable), length of time of surgical procedure, post-operative care, and length of stay. We assign the proposed relative weight for the applicable proposed low-volume quintile to the proposed no volume LTC-DRG if the proposed LTC-DRG to which it is crosswalked is grouped to one of the proposed low-volume quintiles. If the proposed LTC-DRG to which the proposed no volume LTC-DRG is crosswalked is not one of the proposed LTC-DRGs to be grouped to one of the proposed low-volume quintiles, we compare the proposed relative weight of the proposed LTC-DRG to which the proposed no volume LTC-DRG is crosswalked to the proposed relative weights of each of the five quintiles and we assign the proposed no volume LTC-DRG the proposed relative weight of the proposed low-volume quintile with the closest weight. For this proposed rule, a list of the proposed no volume FY 2006 LTC-DRGs and the proposed FY 2006 LTC-DRG to which it is crosswalked in order to determine the appropriate proposed low-volume quintile for the assignment of a relative weight for FY 2006 is shown in the chart below.

To illustrate this methodology for determining the proposed relative weights for the 194 proposed LTC-DRGs with no LTCH cases, we are providing the following examples, which refer to the proposed no volume LTC-DRGs crosswalk information for FY 2006 provided in the chart above.

Example 1:

There were no cases in the FY 2004 MedPAR file used for this proposed rule for proposed LTC-DRG 163 (Hernia Procedures Age 0-17). Since the procedure is similar in resource use and the length and complexity of the procedures and the length of stay are similar, we determined that proposed LTC-DRG 178 (Uncomplicated Peptic Ulcer Without CC), which is assigned to proposed low-volume Quintile 3 for the purpose of determining the proposed FY 2006 relative weights, would display similar clinical and resource use. Therefore, we assign the same proposed relative weight of proposed LTC-DRG 178 of 0.7586 (proposed Quintile 3) for FY 2006 (Table 11 in the Addendum to this proposed rule) to proposed LTC-DRG 163.

Example 2:

There were no LTCH cases in the FY 2004 MedPAR file used in this proposed rule for proposed LTC-DRG 91 (Simple Pneumonia and Pleurisy Age 0-17). Since the severity of illness in patients with bronchitis and asthma is similar in patients regardless of age, we determined that proposed LTC-DRG 90 (Simple Pneumonia and Pleurisy Age >17 Without CC) would display similar clinical and resource use characteristics and have a similar length of stay to proposed LTC-DRG 91. There were over 25 cases in proposed LTC-DRG 90. Therefore, it would not be assigned to a low-volume quintile for the purpose of determining the proposed LTC-DRG relative weights. However, under our established methodology, proposed LTC-DRG 91, with no LTCH cases, would need to be grouped to a proposed low-volume quintile. We determined that the proposed low-volume quintile with the closest weight to proposed LTC-DRG 90 (0.5004) (refer to Table 11 in the Addendum to this proposed rule) would be proposed low-volume Quintile 1 (0. 4502) (refer to Table 11 in the Addendum to this proposed rule). Therefore, we assign proposed LTC-DRG 91 a proposed relative weight of 0.4502 for FY 2006.

Furthermore, we are proposing LTC-DRG relative weights of 0.0000 for heart, kidney, liver, lung, pancreas, and simultaneous pancreas/kidney transplants (LTC-DRGs 103, 302, 480, 495, 512, and 513, respectively) for FY 2006 because Medicare will only cover these procedures if they are performed at a hospital that has been certified for the specific procedures by Medicare and presently no LTCH has been so certified.

Based on our research, we found that most LTCHs only perform minor surgeries, such as minor small and large bowel procedures, to the extent any surgeries are performed at all. Given the extensive criteria that must be met to become certified as a transplant center for Medicare, we believe it is unlikely that any LTCHs would become certified as a transplant center. In fact, in the nearly 20 years since the implementation of the IPPS, there has never been a LTCH that even expressed an interest in becoming a transplant center.

However, if in the future a LTCH applies for certification as a Medicare-approved transplant center, we believe that the application and approval procedure would allow sufficient time for us to determine appropriate weights for the LTC-DRGs affected. At the present time, we would only include these six transplant LTC-DRGs in the GROUPER program for administrative purposes. Because we use the same GROUPER program for LTCHs as is used under the IPPS, removing these LTC-DRGs would be administratively burdensome.

Again, we note that as this system is dynamic, it is entirely possible that the number of proposed LTC-DRGs with a zero volume of LTCH cases based on the system will vary in the future. We used the best most recent available claims data in the MedPAR file to identify zero volume LTC-DRGs and to determine the proposed relative weights in this proposed rule.

Table 11 in the Addendum to this proposed rule lists the proposed LTC-DRGs and their respective proposed relative weights, geometric mean length of stay, and five-sixths of the geometric mean length of stay (to assist in the determination of short-stay outlier payments under § 412.529) for FY 2006.

E. Proposed Add-On Payments for New Services and Technologies

(If you choose to comment on issues in this section, please include the caption “New Technology Applications” at the beginning of your comment.)

1. Background

Sections 1886(d)(5)(K) and (L) of the Act establish a process of identifying and ensuring adequate payment for new medical services and technologies under the IPPS. Section 1886(d)(5)(K)(vi) of the Act specifies that a medical service or technology will be considered new if it meets criteria established by the Secretary after notice and opportunity for public comment. Section 1886(d)(5)(K)(ii)(I) of the Act specifies that the process must apply to a new medical service or technology if, “based on the estimated costs incurred with respect to discharges involving such service or technology, the DRG prospective payment rate otherwise applicable to such discharges under this subsection is inadequate.”

The regulations implementing this provision establish three criteria for new medical services and techniques to receive an additional payment. First, § 412.87(b)(2) defines when a specific medical service or technology will be considered new for purposes of new medical service or technology add-on payments. The statutory provision contemplated the special payment treatment for new medical services or technologies until such time as data are available to reflect the cost of the technology in the DRG weights through recalibration. There is a lag of 2 to 3 years from the point a new medical service or technology is first introduced on the market and when data reflecting the use of the medical service or technology are used to calculate the DRG weights. For example, data from discharges occurring during FY 2004 are used to calculate the proposed FY 2006 DRG weights in this proposed rule. Section 412.87(b)(2) provides that a “medical service or technology may be considered new within 2 or 3 years after the point at which data begin to become available reflecting the ICD-9-CM code assigned to the new medical service or technology (depending on when a new code is assigned and data on the new medical service or technology become available for DRG recalibration). After CMS has recalibrated the DRGs, based on available data, to reflect the costs of an otherwise new medical service or technology, the medical service or technology will no longer be considered ‘new’ under the criterion for this section.”

The 2-year to 3-year period during which a technology or medical service can be considered new would ordinarily begin with FDA approval, unless there was some documented delay in bringing the product onto the market after that approval (for instance, component production or drug production had been postponed until FDA approval due to shelf life concerns or manufacturing issues). After the DRGs have been recalibrated to reflect the costs of an otherwise new medical service or technology, the special add-on payment for new medical services or technology ceases (§ 412.87(b)(2)). For example, an approved new technology that received FDA approval in October 2004 and entered the market at that time may be eligible to receive add-on payments as a new technology until FY 2007 (discharges occurring before October 1, 2006), when data reflecting the costs of the technology would be used to recalibrate the DRG weights. Because the FY 2007 DRG weights will be calculated using FY 2005 MedPAR data, the costs of such a new technology would likely be reflected in the FY 2007 DRG weights.

Section 412.87(b)(3) further provides that, to receive special payment treatment, new medical services or technologies must be inadequately paid otherwise under the DRG system. To assess whether technologies would be inadequately paid under the DRGs, we establish thresholds to evaluate applicants for new technology add-on payments. In the FY 2004 IPPS final rule (68 FR 45385), we established the threshold at the geometric mean standardized charge for all cases in the DRG plus 75 percent of 1 standard deviation above the geometric mean standardized charge (based on the logarithmic values of the charges and transformed back to charges) for all cases in the DRG to which the new medical service or technology is assigned (or the case-weighted average of all relevant DRGs, if the new medical service or technology occurs in many different DRGs). Table 10 in the Addendum to the FY 2004 IPPS final rule (68 FR 45648) listed the qualifying threshold by DRG, based on the discharge data that we used to calculate the FY 2004 DRG weights.

However, section 503(b)(1) of Pub. L. 108-173 amended section 1886(d)(5)(K)(ii)(I) of the Act to provide for “applying a threshold* * *that is the lesser of 75 percent of the standardized amount (increased to reflect the difference between cost and charges) or 75 percent of 1 standard deviation for the diagnosis-related group involved.” The provisions of section 503(b)(1) apply to classification for fiscal years beginning with FY 2005. We updated Table 10 from the October 6, 2003 Federal Register correction document, which contains the thresholds that we used to evaluate applications for new service or technology add-on payments for FY 2005, using the section 503(b)(1) measures stated above, and posted these new thresholds on our Web site at: http://www.cms.hhs.gov/providers/hipps/newtech.asp. In the FY 2005 IPPS final rule (in Table 10 of the Addendum), we included the final thresholds that are being used to evaluate applicants for new technology add-on payments for FY 2006. (Refer to section IV.D. of the preamble to the FY 2005 IPPS final rule (69 FR 49084) for a discussion of a revision of the regulations to incorporate the change made by section 503(b)(1) of Pub. L. 108-173.)

Section 412.87(b)(1) of our existing regulations provides that a new technology is an appropriate candidate for an additional payment when it represents an advance in medical technology that substantially improves, relative to technologies previously available, the diagnosis or treatment of Medicare beneficiaries. For example, a new technology represents a substantial clinical improvement when it reduces mortality, decreases the number of hospitalizations or physician visits or reduces recovery time compared to the technologies previously available. (See the September 7, 2001 final rule (66 FR 46902) for a complete discussion of this criterion.)

The new medical service or technology add-on payment policy provides additional payments for cases with high costs involving eligible new medical services or technologies while preserving some of the incentives under the average-based payment system. The payment mechanism is based on the cost to hospitals for the new medical service or technology. Under § 412.88, Medicare pays a marginal cost factor of 50 percent for the costs of a new medical service or technology in excess of the full DRG payment. If the actual costs of a new medical service or technology case exceed the DRG payment by more than the 50-percent marginal cost factor of the new medical service or technology, Medicare payment is limited to the DRG payment plus 50 percent of the estimated costs of the new technology.

The report language accompanying section 533 of Pub. L. 106-554 indicated Congressional intent that the Secretary implement the new mechanism on a budget neutral basis (H.R. Conf. Rep. No. 106-1033, 106th Cong., 2nd Sess. at 897 (2000)). Section 1886(d)(4)(C)(iii) of the Act requires that the adjustments to annual DRG classifications and relative weights must be made in a manner that ensures that aggregate payments to hospitals are not affected. Therefore, in the past, we accounted for projected payments under the new medical service and technology provision during the upcoming fiscal year at the same time we estimated the payment effect of changes to the DRG classifications and recalibration. The impact of additional payments under this provision was then included in the budget neutrality factor, which was applied to the standardized amounts and the hospital-specific amounts.

Section 503(d)(2) of Pub. L. 108-173 amended section 1886(d)(5)(K)(ii)(III) of the Act to provide that there shall be no reduction or adjustment in aggregate payments under the IPPS due to add-on payments for new medical services and technologies. Therefore, add-on payments for new medical services or technologies for FY 2005 and later years will not be budget neutral.

Applicants for add-on payments for new medical services or technologies for FY 2007 must submit a formal request, including a full description of the clinical applications of the medical service or technology and the results of any clinical evaluations demonstrating that the new medical service or technology represents a substantial clinical improvement, along with a significant sample of data to demonstrate the medical service or technology meets the high-cost threshold, no later than October 15, 2005. Applicants must submit a complete database no later than December 30, 2005. Complete application information, along with final deadlines for submitting a full application, will be available after publication of the FY 2006 final rule at our Web site: http://www.cms.hhs.gov/providers/hipps/default.asp. To allow interested parties to identify the new medical services or technologies under review before the publication of the proposed rule for FY 2007, the website will also list the tracking forms completed by each applicant.

2. Public Input Before Publication of This Notice of Proposed Rulemaking on Add-On Payments

Section 503(b)(2) of Pub. L. 108-173 amended section 1886(d)(5)(K) of the Act by adding a clause (viii) to provide for a mechanism for public input before publication of a notice of proposed rulemaking regarding whether a medical service or technology represents a substantial improvement or advancement. The revised process for evaluating new medical service and technology applications requires the Secretary to—

• Provide, before publication of a proposed rule, for public input regarding whether a new service or technology represents an advance in medical technology that substantially improves the diagnosis or treatment of Medicare beneficiaries.

• Make public and periodically update a list of the services and technologies for which an application for add-on payments is pending.

• Accept comments, recommendations, and data from the public regarding whether a service or technology represents a substantial improvement.

• Provide, before publication of a proposed rule, for a meeting at which organizations representing hospitals, physicians, manufacturers, and any other interested party may present comments, recommendations, and data regarding whether a new service or technology represents a substantial clinical improvement to the clinical staff of CMS.

In order to provide an opportunity for public input regarding add-on payments for new medical services and technologies for FY 2006 before publication of this proposed rule, we published a notice in the Federal Register on December 30, 2004 (69 FR 78466) and held a town hall meeting at the CMS Headquarters Office in Baltimore, MD, on February 23, 2005. In the announcement notice for the meeting, we stated that the opinions and alternatives provided during the meeting would assist us in our evaluations of applications by allowing public discussions of the substantial clinical improvement criteria for each of the FY 2006 new medical service and technology add-on payment applications before the publication of this FY 2006 IPPS proposed rule.

Approximately 45 participants registered and attended in person, while additional participants listened over an open telephone line. The participants focused on presenting data on the substantial clinical improvement aspect of their products, as well as the need for additional payments to ensure access to Medicare beneficiaries. In addition, we received written comments regarding the substantial clinical improvement criterion for the applicants. We have considered these comments in our evaluation of each new application for FY 2006 in this proposed rule. We have summarized these comments or, if applicable, indicated that no comments were received, at the end of the discussion of the individual applications.

Section 503(c) of Pub. L. 108-173 amended section 1886(d)(5)(K) of the Act by adding a new clause (ix) requiring that, before establishing any add-on payment for a new medical service or technology, the Secretary shall seek to identify one or more DRGs associated with the new technology, based on similar clinical or anatomical characteristics and the costs of the technology and assign the new technology into a DRG where the average costs of care most closely approximate the costs of care using the new technology. No add-on payment shall be made with respect to such a new technology.

At the time an application for new technology add-on payments is submitted, the DRGs associated with the new technology are identified. We only determine that a new technology add-on payment is appropriate when the reimbursement under these DRGs is not adequate for this new technology. The criterion for this determination is the cost threshold, which we discuss below. We discuss the assignments of several new technologies within the DRG payment system in section II.B. of this proposed rule.

In this proposed rule, we evaluate whether new technology add-on payments will continue in FY 2006 for the three technologies that currently receive such payments. In addition, we present our evaluations of eight applications for add-on payments in FY 2006. The eight applications for FY 2006 include two applications for products that were denied new technology add-on payments for FY 2005.

3. FY 2006 Status of Technology Approved for FY 2005 Add-On Payments

a. INFUSE ™ (Bone Morphogenetic Proteins (BMPs) for Spinal Fusions)

INFUSE ™ was approved by FDA for use on July 2, 2002, and became available on the market immediately thereafter. In the FY 2004 IPPS final rule (68 FR 45388), we approved INFUSE ™ for add-on payments under § 412.88, effective for FY 2004. This approval was on the basis of using INFUSE ™ for single-level, lumbar spinal fusion, consistent with the FDA's approval and the data presented to us by the applicant. Therefore, we limited the add-on payment to cases using this technology for anterior lumbar fusions in DRGs 497 (Spinal Fusion Except Cervical With CC) and 498 (Spinal Fusion Except Cervical Without CC). Cases involving INFUSE ™ that are eligible for the new technology add-on payment are identified by assignment to DRGs 497 and 498 as a lumbar spinal fusion, with the combination of ICD-9-CM procedure codes 84.51 (Insertion of interbody spinal fusion device) and 84.52 (Insertion of recombinant bone morphogenetic protein).

The FDA approved INFUSE ™ for use on July 2, 2002. For FY 2005, INFUSE ™ was still within the 2-year to 3-year period during which a technology can be considered new under the regulations. Therefore, in the FY 2005 IPPS final rule (69 FR 49007 through 49009), we continued add-on payments for FY 2005 for cases receiving INFUSE ™ for spinal fusions in DRGs 497 (Spinal Fusion Except Cervical With CC) and 498 (Spinal Fusion Except Cervical Without CC).

As we discussed in the September 7, 2001 final rule (66 FR 46915), an approval of a new technology for special payment should extend to all technologies that are substantially similar. Otherwise, our payment policy would bestow an advantage to the first applicant to receive approval for a particular new technology. In last year's final rule (69 FR 49008), we discussed another product, called OP-1 Putty, manufactured by Stryker Biotech, that promotes natural bone growth by using a closely related bone morphogenetic protein called rhBMP-7. (INFUSE ™ is rhBMP-2.) We also stated in last year's final rule that we had determined that the costs associated with the OP-1 Putty are similar to those associated with INFUSE ™. Because the OP-1 Putty became available on the market in May 2004 (when it received FDA approval for spinal fusions) for similar spinal fusion procedures and because this product also eliminates the need for the autograft bone surgery, we extended new technology add-on payments to this technology as well for FY 2005.

As noted above, the period for which technologies are eligible to receive new technology add-on payments is 2 to 3 years after the product becomes available on the market and data reflecting the cost of the technology are reflected in the DRG weights. The FDA approved INFUSE ™ bone graft on July 2, 2002. Therefore, data reflecting the cost of the technology are now reflected in the DRG weights. In addition, by the end of FY 2005, the add-on payment will have been made for 2 years. Therefore, we are proposing to discontinue new technology add-on payment for INFUSE ™ for FY 2006. Because we apply the same policies in making new technology payment for OP-1 Putty as we do for INFUSE ™, we are proposing to discontinue new technology add-on payment for OP-1 Putty as well for FY 2006.

b. InSync® Defibrillator System (Cardiac Resynchronization Therapy With Defibrillation (CRT-D))

Cardiac Resynchronization Therapy (CRT), also known as bi-ventricular pacing, is a therapy for chronic heart failure. A CRT implantable system provides electrical stimulation to the right atrium, right ventricle, and left ventricle to coordinate or resynchronize ventricular contractions and improve cardiac output.

In the FY 2005 IPPS final rule (69 FR 49016), we determined that cardiac resynchronization therapy with defibrillator (CRT-D) was eligible for add-on payments in FY 2005. Cases involving CRT-D that are eligible for new technology add-on payments are identified by either one of the following two ICD-9-CM procedure codes: 00.51 (Implantation of Cardiac Resynchronization Defibrillator, Total System (CRT-D)) or 00.54 (Implantation or Replacement of Pulse Generator Device Only (CRT-D)). InSync® Defibrillation System received FDA approval on June 26, 2002. However, another manufacturer, Guidant, received FDA approval for its CRT-D device on May 2, 2002. As we discussed in the September 7, 2001 final rule (66 FR 46915), an approval of a new technology for special payment should extend to all technologies that are substantially similar. Otherwise, our payment policy would bestow an advantage to the first applicant to receive approval for a particular new technology. We also noted that we would extend new technology add-on payments for the entire FY 2005 even though the 2-3 year period of newness ended in May 2005 for CRT-D since predictability is an important aspect of the prospective payment methodology and, therefore, we believe it is appropriate to apply a consistent payment methodology for new technologies throughout the fiscal year (69 FR 49016).

As noted in the FY 2005 IPPS final rule (69 FR 49014), because CRT-Ds were available upon the initial FDA approval in May 2002, we considered the technology to be new from this date. As a result, for FY 2006, the CRT-D will be beyond the 2-3 year period during which a technology can be considered new. Therefore, we are proposing to discontinue add-on payments for the CRT-D for FY 2006.

c. Kinetra® Implantable Neurostimulator for Deep Brain Stimulation

Medtronic, Inc. submitted an application for approval of the Kinetra® implantable neurostimulator device for new technology add-on payments for FY 2005. The Kinetra® device was approved by the FDA on December 16, 2003. The Kinetra® implantable neurostimulator is designed to deliver electrical stimulation to the subthalamic nucleus (STN) or internal globus pallidus (GPi) in order to ameliorate symptoms caused by abnormal neurotransmitter levels that lead to abnormal cell-to-cell electrical impulses in Parkinson's Disease and essential tremor. Before the development of Kinetra®, treating bilateral symptoms of patients with these disorders required the implantation of two neurostimulators (in the form of a product called Soletra™, also manufactured by Medtronic): one for the right side of the brain (to control symptoms on the left side of the body), the other for the left side of the brain (to control symptoms on the right side of the body). Additional procedures were required to create pockets in the chest cavity to place the two generators required to run the individual leads. The Kinetra® neurostimulator generator, implanted in the pectoral area, is designed to eliminate the need for two devices by accommodating two leads that are placed in both the left and right sides of the brain to deliver the necessary impulses. The manufacturer argued that the development of a single neurostimulator that treats bilateral symptoms provides a less invasive treatment option for patients, and simpler implantation, follow up, and programming procedures for physicians.

In December 2003, the FDA approved the device. Therefore, for FY 2006, Kinetra® qualifies under the newness criterion because FDA approval was within the statutory timeframe of 2 to 3 years and its costs are not yet reflected in the DRG weights. Because there were no data available to evaluate costs associated with Kinetra®, in the FY 2005 IPPS final rule, we conducted the cost analysis using Soletra™, the predecessor technology used to treat this condition, as a proxy for Kinetra®. The preexisting technology provided the closest means to track cases that have actually used similar technology and served to identify the need and use of the new device. The manufacturer informed us that the cost of the Kinetra® device is twice the price of a single Soletra™ device. Because most patients would receive two Soletra™ devices if the Kinetra® device is not implanted, we believed data regarding the cost of Soletra™ would give a good measure of the actual costs that would be incurred. Medtronic submitted data for 104 cases that involved the Soletra™ device (26 cases in DRG 1 (Craniotomy Age > 17 With CC), and 78 cases in DRG 2 (Craniotomy Age > 17 Without CC)). These cases were identified from the FY 2002 MedPAR file using procedure codes 02.93 (Implantation, intracranial neurostimulator) and 86.09 (Other incision of skin and subcutaneous tissue). In the analysis presented by the applicant, the mean standardized charges for cases involving Soletra™ in DRGs 1 and 2 were $69,018 and $44,779, respectively. The mean standardized charge for these Soletra™ cases according to Medtronic's data was $50,839.

Last year, we used the same procedure codes to identify 187 cases involving the Soletra™ device in DRGs 1 and 2 in the FY 2003 MedPAR file. Similar to the Medtronic data, 53 of the cases were found in DRG 1, and 134 cases were found in DRG 2. The average standardized charges for these cases in DRGs 1 and 2 were $51,163 and $44,874, respectively. Therefore, the case-weighted average standardized charge for cases that included implantation of the Soletra™ device was $46,656. The new cost thresholds established under the revised criteria in Pub. L. 108-173 for DRGs 1 and 2 are $43,245 and $30,129, respectively. Accordingly, the case-weighted threshold to qualify for new technology add-on payment using the data we identified was determined to be $33,846. Under this analysis, Kinetra® met the cost threshold.

We note that an ICD-9-CM code was approved for dual array pulse generator devices, effective October 1, 2004, for IPPS tracking purposes. The new ICD-9-CM code that will be assigned to this device is 86.95 (Insertion or replacement of dual array neurostimulator pulse generator), which includes dual array and dual channel generators for intracranial, spinal, and peripheral neurostimulators. The code will not separately identify cases with the Kinetra® device and will only be used to distinguish single versus dual channel-pulse generator devices. Because the code only became effective on October 1, 2004, we do not have any specific data regarding the costs of cases involving dual array pulse generator devices.

The manufacturer claimed that Kinetra® provides a range of substantial improvements beyond previously available technology. These include a reduced rate of device-related complications and hospitalizations or physician visits and less surgical trauma because only one generator implantation procedure is required. Kinetra® has a reed switch disabling function that physicians can use to prevent inadvertent shutoff of the device, as occurs when accidentally tripped by electromagnetic inference (caused by common products such as metal detectors and garage door openers). Kinetra® also provides significant patient control, allowing patients to monitor whether the device is on or off, to monitor battery life, and to fine-tune the stimulation therapy within clinician-programmed parameters. While Kinetra® provides the ability for patients to better control their symptoms and reduce the complications associated with the existing technology, it does not eliminate the necessity for two surgeries. Because the patients who receive the device are often frail, the implantation generally occurs in two phases: the brain leads are implanted in one surgery, and the generator is implanted in another surgery, typically on another day. However, implanting Kinetra® does reduce the number of potential surgeries compared to its predecessor (which requires two surgeries to implant the two single-lead arrays to the brain and an additional surgery for implantation of the second generator). Therefore, the Kinetra® device reduces the number of surgeries from 3 to 2.

Last year, we solicited comments on (1) the issue of whether the device is sufficiently different from the previously used technology to qualify as a substantially improved treatment for the same patient symptoms; (2) the cost of the device; and (3) the approval of the device for add-on payment, given the uncertainty over the frequency with which the patients receiving the device have the generator implanted in a second hospital stay, and the frequency with which this implantation occurs in an outpatient setting. In the response, we received sufficient evidence to demonstrate that Kinetra® does represent a substantial clinical improvement over the previous Soletra ™ device. Specifically, the increased patient control, reduced surgery, fewer complications, and elimination of environmental interference significantly improve patient outcomes. Therefore, we approved Kinetra® for new technology add-on payments for FY 2005.

Cases receiving Kinetra® for Parkinson's disease or essential tremor on or after October 1, 2004, are eligible to receive an add-on payment of up to $8,285, or half the cost of the device, which is approximately $16,570. These cases are identified by the presence of procedure codes 02.93 (Implantation or replacement of intracranial neurostimulator leads) and 86.95 (Insertion or replacement of dual array neurostimulator pulse generator). If a claim has only the procedure code identifying the implantation of the intracranial leads, or if the claim identifies only insertion of the generator, no add-on payment will be made.

This technology received FDA approval on December 16, 2003, and remains within the 2 to 3 year period during which it can be considered new. Therefore, we are proposing to continue add-on payments for Kinetra® Inplantable Neurostimulator for deep brain stimulation for FY 2006.

4. FY 2006 Applications for New Technology Add-On

a. INFUSE ™ Bone Graft (Bone Morphogenetic Proteins (BMPs) for Tibia Fractures)

Bone Morphogenetic Proteins (BMPs) have been shown to have the capacity to induce new bone formation and, therefore, to enhance the healing of fractures. Using recombinant techniques, some BMPs (also referred to as rhBMPs) can be produced in large quantities. This innovation has cleared the way for the potential use of BMPs in a variety of clinical applications such as in delayed union and nonunion of fractured bones and spinal fusions. One such product, rhBMP-2, is developed as an alternative to bone graft with spinal fusions.

Medtronic Sofamor Danek (Medtronic) resubmitted an application (previously submitted for consideration for FY 2005) for a new technology add-on payment in FY 2006 for the use of INFUSE ™ Bone Graft in open tibia fractures. In cases of open tibia fractures, INFUSE ™ is applied using an absorbable collagen sponge, which is then applied to the fractured bone to promote new bone formation and improved healing. The manufacturer contends that patient access to this technology is restricted due to the increased costs of treating these cases with INFUSE ™. The FDA approved use of INFUSE ™ for open tibia fractures on April 30, 2004.

Medtronic's first application for a new technology add-on payment for INFUSE ™ Bone Graft in open tibia fractures was denied. As we discussed in the FY 2005 IPPS final rule (69 FR 49010), the FY 2005 application for INFUSE ™ for open tibia fractures was denied because a similar product, OP-1, was approved in 2001 for the treatment of nonunion of tibia fractures.

Comment: In comments presented at the February 2005 new technology town hall meeting, Medtronic contended that there was no opportunity for public comment on our decision regarding OP-1 Putty: “the public had no opportunity to comment on whether the follow-on products were ‘substantially similar' to the primary technologies under consideration. The absence of such provisions led to unpredictability and confusion about the new-technology add-on program.”

Response: In the FY 2005 IPPS final rule, we noted that a commenter brought the existence of the Stryker Biotech OP-1 product to our attention during the comment period on the IPPS proposed rule for FY 2005. The commenter noted OP-1's clinical similarity to INFUSE ™ and contended that the products should be treated the same with respect to new technology payments when the product is used for tibia fractures. At that time, we determined that, despite the differences in indications under the respective FDA approvals, the two products were in use for many of the same kinds of cases. Specifically, clinical studies on the safety of OP-1 included patients with complicated fractures of the tibia, and those cases were similar to the cases described in the clinical trials for INFUSE ™ for open tibia fractures. In addition, cases involving the use of OP-1 for long bone union and open tibia fractures are assigned to the same DRGs (DRGs 218 and 219 (Lower Extremity Procedures With and Without CC, respectively)) as cases involving INFUSE ™. Therefore, we denied new technology add-on payments for INFUSE ™ for open tibia fractures for FY 2005 on the grounds that the technology involving the use of bone morphogenetic proteins to treat severe long bone fractures (including open tibia fractures) and recalcitrant long bone fractures had been in use for more than 3 years.

We note that Medtronic had ample opportunity, prior to the issuance of the FY 2005 IPPS final rule, to bring to our attention the fact that there was a similar product on the market that was being used in long bone fractures. We based our decision for FY 2005 on the record that was placed at our disposal by the applicant and by commenters during the comment period. Nevertheless, we have considered the issues raised by these two products again in the course of evaluating Medtronic's new application for approval of INFUSE ™ for new technology add-on payments in FY 2006.

As part of its FY 2006 application, Medtronic advanced several arguments designed to demonstrate that OP-1 and INFUSE ™ are substantially different. The application cites data from several studies as evidence of the clinical superiority of INFUSE ™ over OP-1. Medtronic presented studies at the February 2005 new technology town hall meeting to provide evidence that INFUSE ™ is superior to OP-1 in the time it takes for critical-sized defects to heal and in radiographic assessment, mechanical testing of the repaired bone, and histology of the union for trial subjects receiving INFUSE ™ compared with OP-1. (Study subjects were canines whose ulnas had 2.5 cm each of bone removed and then equal amounts of OP-1 and INFUSE ™ were put into the front legs in a head to head trial.) Medtronic has also argued that these studies demonstrate that OP-1 has been shown to be less effective than using the patient's own bone or the current standard of care (nail fixation with soft tissue medical management). Medtronic argued that the INFUSE ™ product is not only superior to OP-1 for patients with open tibia fractures, but also that it is superior to any other treatment for these serious injuries.

Medtronic also pointed out that the FDA approved OP-1 for Humanitarian Device Exemption (HDE) status, whereas INFUSE ™ received a Pre-Market Approval (PMA). To receive HDE approval, a product only needs to meet a safety standard, while standards of both safety and efficacy have to be met for a PMA approval. Medtronic argued that, because the only point the manufacturer of OP-1 was able to prove was that it did not harm those individuals that received it, the efficacy of OP-1 not only has not been demonstrated for the general population, but also more specifically, it has not been proven in the Medicare population. Medtronic presented arguments that INFUSE ™ is a superior product to OP-1 because the INFUSE ™ product has demonstrated safety and efficacy, while the OP-1 product has merely demonstrated that it is safe to use in humans. Medtronic pointed to the labeled indications and package inserts provided with the two products, stating that only INFUSE ™ provides a substantial clinical improvement to patients receiving a BMP product.

We do not believe that the different types of FDA approvals for the two products are relevant to distinguish between the two products in determining whether either product should be considered for new technology add-on payments under the IPPS. Manufacturers seek different types of FDA approval for many different reasons, including timing, the availability of adequate studies, the availability of resources to pursue research studies, and the size of the patient population that may be affected. The FDA has stated that the HDE approval process was established to address cases involving devices used in the treatment or diagnosis of diseases affecting fewer than 4,000 individuals in the United States per year: “A device manufacturer's research and development costs could exceed its market returns for diseases or conditions affecting small patient populations. FDA, therefore, developed and published [the regulation establishing the HDE process] to provide an incentive for the development of devices for use in the treatment or diagnosis of diseases affecting these populations.” (http://www.accessdata.fda.gov/scripts/cdrh/cfdocs/cfHDE/HDEInformation.cfm). The fact that two products received different types of approval does not demonstrate either that they are substantially different for purposes of new technology add-on payments, or that one is new and the other is not. Nor do the different types of FDA approval imply that one product could meet our substantial clinical improvement criterion and the other could not. Neither type of FDA approval requires that products establish substantial clinical improvement, as is required for approval of new technology add-on payments. Theoretically, a product that receives an FDA HDE approval could subsequently meet our substantial clinical improvement criterion, while a product that receives an FDA PMA approval could fail to do so. We base our substantial clinical improvement determinations on the evidence presented in the course of the application process, and not on the type of FDA approval.

For purposes of determining whether the use of rhBMPs for open tibia fracture represents a new technology, the crucial consideration is whether the costs of this technology are represented in the weights of the relevant DRGs. Cases that involve treatment of non-healed and acute tibia fractures fall into the same DRGs. We have identified 10,047 cases involving the use of rhBMPs in the FY 2004 MedPAR data file. This use includes the approved indications for INFUSE ™ in spinal fusions (6,712 cases) and tibia DRGs (77 cases). However, we note that an additional 3,258 cases involving the off-label use of rhBMPs were found in 47 DRGs in the FY 2004 MedPAR data. We also note that, in our analysis of the FY 2003 MedPAR data, an additional 890 cases of off-label use (identified by the presence of ICD-9-CM code 84.52) were found in 36 DRGs. Therefore, we note that the use of rhBMPs, made by Medtronic or otherwise, has penetrated the cost data that were used to set the FY 2005 and FY 2006 DRG weights. Whether or not it is possible to differentiate between patient populations that would be eligible to receive the OP-1 Implant for nonunions or the INFUSE ™ bone graft for open tibia fractures, the patient populations both fall into the same DRGs. In addition, we have determined that the costs associated with the two products are comparable (69 FR 49009). Therefore, because BMP products have been used in treating both types of fractures included in the same DRGs since 2001, we continue to believe that the hospital charge data used in developing the relative weights reflect the costs of these products.

Comment: In our Federal Register announcement of the February 23, 2005 new technology town hall meeting, held on February 23, 2005, we solicited comments on the issue of when products should be considered substantially similar. As a result, Medtronic recommended several criteria for determining whether two or more products are substantially similar and requested that we apply these criteria in determining whether OP-1 and INFUSE ™ are similar for new technology add-on payment purposes. The three criteria recommended by Medtronic are:

• The technologies or services in question use the same, or a similar, mechanism of action to achieve the therapeutic outcome.

• The technologies or services are indicated for use in the same population for the same condition.

• The technologies or services achieve the same level of substantial improvement.

Medtronic has also argued that, according to its proposed criteria, OP-1 would fail on two of the three proposed tests for substantial similarity:

• According to Medtronic, the OP-1 implant “arguably” uses the same or a similar mechanism of action to achieve the therapeutic outcome.

• OP-1 and INFUSE ™ are indicated for use in different population and different conditions. According to Medtronic, INFUSE ™ Bone Graft has an indication for acute, open tibia fractures only, used within 14 days, and is to be used with an intramedullary (IM) nail as part of the primary procedure. There is no limitation on the number of patients that can receive the technology. OP-1 Implant is indicated only for recalcitrant long-bone non-unions that have failed to heal. The HDE approval also specifies that use of OP-1 is limited to secondary procedures (as would be expected with nonunions). The number of patients able to receive the device is limited to 4,000 patients per year and with oversight from an Institutional Review Board.

• Medtronic argues the products do not achieve the same level of substantial improvement (as discussed above).

Response: We agree with Medtronic that the first proposed criterion has some relevance in determining whether products are substantially similar. In evaluating the application for new technology add-on payments last year, we made the determination that, while these products are not identical chemically, the products do use the same mechanism of action to achieve the therapeutic outcome. However, we do not agree that the other two criteria recommended by Medtronic are relevant considerations for this purpose. As we have discussed above, we believe that whether cases involving different products are assigned to the same DRGs is a more relevant consideration than whether the products have the same specific indications. In addition, as we have already stated, we continue to believe that the hospital charge data used in developing the relative weights of the relevant DRGs reflect the costs of these products. Furthermore, we do not necessarily agree that considerations about the degrees of clinical improvements offered by different products should enter into decisions about whether products are new. We have always based our decisions about new technology add-on payments on a logical sequence of determinations, moving from the newness criterion to the cost criterion and finally to the substantial clinical improvement criterion. Specifically, we do not make determinations about substantial improvement unless a product has already been determined to be new and to meet the cost criterion. Therefore, we are reluctant to import substantial clinical improvement considerations into the logical prior decision about whether technologies are new. Furthermore, while we may sometimes need to make separate determinations about whether similar products meet the substantial clinical improvement criterion, we do not believe that it would be appropriate to make determinations about whether one product or another is clinically superior. However, we welcome comments while we continue to consider these issues.

Comment: Medtronic suggested revisions to the application process that are designed to assist in identifying substantially similar products and provide the public with opportunity for comment on specific instances in which substantial similarity is an issue. The suggested proposed revisions are:

• After receipt of all new applications for a fiscal year, CMS should publish a Federal Register notice specifically asking manufacturers to identify if they wish to receive consideration for products that may be substantially similar to applications received. Such notice would probably occur in January. Responses would be required by a date certain in advance of the new technology town hall meeting, and would include justification of how the products meet the “substantial similarity” criteria.

• The new technology town hall meeting should include a discussion of products identified by manufacturers as “substantially similar” to other approved products or pending applications.

• CMS should publish initial findings about “substantial similarity” in the proposed hospital inpatient rule, with opportunity for public comment.

• CMS should publish ultimate findings in the inpatient final rule.

Alternatively, Medtronic suggested that, if a manufacturer identifies a product that may be substantially similar to a technology with an approved add-on payment, the manufacturer may choose to submit an application under the normal deadlines for the add-on payment program.

Response: We appreciate Medtronic's suggestions for evaluating similar technologies for new technology add-on payment. We have stated on several occasions that we wish to avoid creating situations in which similar products receive different treatment because only one manufacturer has submitted an application for new technology add-on payments. As we discussed in the September 7, 2001 Federal Register (66 FR 46915), an approval of a new technology for special payment should extend to all technologies that are substantially similar. Otherwise, our payment policy would bestow an advantage to the first applicant to receive approval for a particular new technology.

In addition, we note that commenters on the FY 2005 proposed rule placed a great deal of emphasis on the fact that many manufacturers developing new technologies are not aware of the existence of the add-on payment provision or lack the resources to apply for add-on payment. Therefore, commenters on that proposed rule argued that the regulations we have established are already too stringent and cumbersome, especially for small manufacturers to access the new technology add-on payment process. The proposal by Medtronic would place further burden on these small manufacturers, both to know that an application has been made for a similar product and to make representations on a product that may or may not be on the market. Therefore, we are reluctant to adopt a process that places the formal burden on a competitor to seek equal treatment. However, we welcome comments while we continue to consider these issues.

We note that Medtronic submitted data on 236 cases using INFUSE ™ for open tibia fractures in the FY 2003 MedPAR data file, as identified by procedure code 79.36 (Reduction, fracture, open, internal fixation, tibia and fibula) and diagnosis codes of either 823.30 (Fracture of tibia alone, shaft, open) or 823.32 (Fracture of fibula and tibia, shaft, open). Medtronic also noted that the patients in clinical trials with malunion fractures (diagnosis code 733.81) or nonunion fractures (diagnosis code 733.82) would also be likely candidates to receive INFUSE ™. Based on the data submitted by the applicant, INFUSE ™ would be used primarily in two different DRGs: 218 and 219 (Lower Extremity and Humerus Procedures Except Hip, Foot, Femur Age > 17, With and Without CC, respectively). The analysis performed by the applicant resulted in a case-weighted cost threshold of $24,461 for these DRGs. The average case-weighted standardized charge for cases using INFUSE ™ in these DRGs would be $39,537. Therefore, the applicant maintains that INFUSE ™ for open tibia fractures meets the cost criterion.

However, because the costs of INFUSE ™ and OP-1 are already reflected in the relevant DRGs, these products cannot be considered new. Therefore, we are proposing to deny new technology add-on payments for INFUSE ™ bone graft for open tibia fractures for FY 2006.

b. Aquadex™ System 100 Fluid Removal System (System 100)

CHF Solutions, Inc. resubmitted an application (previously submitted for consideration for FY 2005) for the approval of the System 100 for new technology add-on payments for FY 2006. The System 100 is designed to remove excess fluid (primarily excess water) from patients suffering from severe fluid overload through the process of ultrafiltration. Fluid retention, sometimes to an extreme degree, is a common problem for patients with chronic congestive heart failure. This technology removes excess fluid without causing hemodynamic instability. It also avoids the inherent nephrotoxicity and tachyphylaxis associated with aggressive diuretic therapy, the mainstay of current therapy for fluid overload in congestive heart failure.

The System 100 consists of: (1) An S-100 console; (2) a UF 500 blood circuit; (3) an extended length catheter (ELC); and (4) a catheter extension tubing. The System 100 is designed to monitor the extracorporeal blood circuit and to alert the user to abnormal conditions. Vascular access is established via the peripheral venous system, and up to 4 liters of excess fluid can be removed in an 8-hour period.

On June 3, 2002, FDA approved the System 100 for use with peripheral venous access. On November 20, 2003, FDA approved the System 100 for expanded use with central venous access and catheter extension use for infusion or withdrawal circuit line with other commercially applicable venous catheters. According to the applicant, although the FDA first approved System 100 in June 2002, it was not used by hospitals until August 2002 because of the substantial amount of time necessary to market and sell the device to hospitals. The applicant presented data and evidence demonstrating that the System 100 was not marketed until August 2002.

We note the applicant submitted an application for FY 2005 and was denied new technology add-on payments. Our review indicated that the applicant did not present sufficient objective clinical evidence to determine that the System 100 meets the substantial clinical improvement criterion (such as a large prospective, randomized clinical trial) even though it is indicated for use in patients with congestive heart failure, a common condition in the Medicare population. However, for FY 2006, we are proposing to deny System 100 new technology add-on payments on the basis of our determination that it is no longer new. Technology is no longer considered new 2 to 3 years after data reflecting its costs begin to become available. Because data on the costs of the System 100 first became available in 2002, the costs are currently reflected in the DRG weights and the device is no longer new.

The applicant also submitted information for the cost and substantial clinical improvement criteria. As stated last year, it is important to note at the outset of the cost analysis that the console is reusable and is, therefore, a capital cost. Only the circuits and catheters are components that represent operating expenses. Section 1886(d)(5)(K)(i) of the Act requires that the Secretary establish a mechanism to recognize the costs of new medical services or technologies under the payment system established under subsection (d) of section 1886, which establishes the system for paying for the operating costs of inpatient hospital services. The system of payment for capital costs is established under section 1886(g) of the Act, which makes no mention of any add-on payments for a new medical service or technology. Therefore, it is not appropriate to include capital costs in the add-on payments for a new medical service or technology and these costs should also not be considered in evaluating whether a technology meets the cost criterion. The applicant has applied for add-on payments for only the circuits and catheter, which represent the operating expenses of the device. However, as stated in the FY 2005 IPPS final rule, we believe that the catheters cannot be considered new technology for this device. As a result, we considered only the UF 500 disposable blood circuit as relevant to the evaluation of the cost criterion.

The applicant submitted data from the FY 2003 MedPAR file in support of its application for new technology add-on payments for FY 2006. The applicant used a combination of diagnosis codes to determine which cases could potentially use the System 100. The applicant found 28,155 cases with the following combination of ICD-9-CM diagnosis codes: 428.0 through 428.9 (Heart Failure), 402.91 (Unspecified with Heart Failure), or 402.11 (Hypertensive Heart Disease with Heart Failure), in combination with 276.6 (Fluid Overload) and 782.3 (Edema). The 28,155 cases were found among 148 DRGs with 50.1 percent of cases mapped across DRGs 88, 89, 127, 277 and 316. The applicant eliminated those DRGs with less than 150 cases, which resulted in a total of 22,620 cases that could potentially use the System 100. The case-weighted average standardized charge across all DRGs was $13,619.32. The case-weighted threshold across all DRGs was $16,125.42. Although the case-weighted threshold is greater than the case-weighted standardized charge, it is necessary to include the standardized charge for the circuits used in each case. In order to establish the charge per circuit, the applicant submitted data regarding 76 actual cases that used the System 100. Based on these 76 cases, the standardized charge per circuit was $2,591. The applicant also stated that an average of two circuits are used per case. Therefore, adding $5,182 for the charge of the two circuits to the case-weighted average standardized charge of $13,619.32 results in a total case-weighted standardized charge of $18,801.32. This amount is greater than the case-weighted threshold of $16,125.42.

The applicant contended that the System 100 represents a substantial clinical improvement for the following reasons: It removes excess fluid without the use of diuretics; it does not lead to electrolyte imbalance, hemodynamic instability or worsening renal function; it can restore diuretic responsiveness; it does not adversely affect the renin-angiotensin system; it reduces length of hospital stay for the treatment of congestive heart failure, and it requires only peripheral venous access. The applicant also noted that there are some clinical trials that have demonstrated the clinical safety and effectiveness as well as cost effectiveness of the System 100 in treating patients with fluid overload.

However, as stated above, we are proposing to deny new technology add-on payments for the System 100 because it does not meet the newness criterion.

We received no public comments regarding this application for add-on payments.

c. CHARITE™ Artificial Disc (CHARITE™)

DePuy Spine™ submitted an application for new technology add-on payments for the CHARITE™ Artificial Disc for FY 2006. This device is a prosthetic intervertebral disc. DePuy Spine™ stated that the CHARITE™ Artificial Disc is the first artificial disc approved for use in the United States. It is a 3-piece articulating medical device consisting of a sliding core that is placed between two metal endplates. The sliding core is made from a medical grade plastic and the endplates are made from medical grade cobalt chromium alloy. The endplates support the core and have small teeth that are secured to the vertebrae above and below the disc space. The sliding core fits in between the endplates.

On October 26, 2004, the FDA approved the CHARITE™ Artificial Disc for single level spinal arthroplasty in skeletally mature patients with degenerative disc disease (DDD) between L4 and S1. The FDA further stated that DDD is defined as discogenic back pain with degeneration of the disc confirmed by patient history and radiographic studies. These DDD patients should have no more than 3 mm of spondylolisthesis at an involved level. Patients receiving the CHARITE™ Artificial Disc should have failed at least 6 months of conservative treatment prior to implantation of the CHARITE™ Artificial Disc. Because the device is within the statutory timeframe of 2 to 3 years and data is not yet reflected within the DRGs, we consider the CHARITE™ Artificial Disc to meet the newness criterion.

We note that an ICD-9-CM code was effective October 1, 2004, for IPPS tracking purposes. The code assigned to the CHARITE™ was 84.65 (Insertion of total spinal disc prosthesis, lumbosacral).

For analysis of the cost criterion, the applicant submitted two sets of data: one that used actual cases and one that used FY 2003 MedPAR cases. The applicant expects that cases using the CHARITE™ will map to DRGs 499 and 500. The applicant submitted 68 actual cases from 35 hospitals that used the CHARITE™. Of these 68 cases, only 3 were Medicare patients; the remaining cases were privately insured patients or patients for whom the payer was unknown. Using data from the 68 actual cases, the average standardized charge was $40,722. The applicant maintained that this figure is well in excess of the thresholds for DRGs 499 and 500 (regardless of a case weighted threshold) of $24,828 and $17,299 respectively. Based on this analysis, the applicant maintained that the CHARITÉ™ meets the cost criterion because the average standardized charge exceeds the charge thresholds for DRGs 499 and 500.

In addition, as stated above, the applicant submitted cases from the FY 2003 MedPAR file. The applicant searched the MedPAR file for ICD-9-CM procedure codes 81.06, 81.07, and 81.08 in combination with diagnosis codes 722.10, 722.2, 722.5, 722.52, 722.6, 722.7, 722.73 and 756.12, to identify a patient population that could be eligible for the CHARITE™ Artificial Disc and found a total of 12,680 cases. However, these cases are from the FY 2003 MedPAR file and precede the effective date of ICD-9-CM code 84.65 that is currently used to track the device. Of these 12,680 cases, 55.5 percent were reported in DRG 497, and 44.5 percent were reported in DRG 498. The applicant stated that cases using the CHARITE™ device group to the DRGs for back and neck procedures that exclude spinal fusions (DRGs 499 and 500). However, the applicant argues that the CHARITE™ could be a substitute for spinal fusion procedures found in DRGs 497 and 498 and, therefore, used cases from these DRGs to evaluate whether the CHARITE™ meets the cost criterion and to argue that procedures using the technology should be grouped to the spinal fusion DRGs. The average standardized charge per case was $50,098 for DRG 497 and $41,290 for DRG 498. Using revenue codes 272 and 278 from the MedPAR file, the applicant then subtracted the charges for surgical and medical supplies used in connection with spinal fusion procedures, which resulted in a standardized charge of all other charges of $24,333 for DRG 497 and $22,183 for DRG 498. Based on the actual cases above, the applicant then estimated the average standardized charge for surgical and medical supplies per case for the CHARITE™ was $20,033. The applicant estimated that charges have grown by 15 percent from FY 2003 to FY 2005 and, therefore, deflated the average standardized charge for surgical and medical supplies of the CHARITE™ by 15 percent to $17,420. The applicant then added the average standardized charge for surgical and medical supplies of the CHARITE™ to the standardized charge of all other charges for DRG 497 and 498 and also inflated the charges by 15 percent in order to update the data to FY 2005 charge levels. This amounted to a case-weighted average standardized charge of $46,256. Although the analysis was completed with DRGs 497 and 498, it is necessary to compare the average standardized charge to the thresholds of DRGs 499 and 500 because the GROUPER maps these cases to DRGs 499 and 500. As a result, the case-weighted threshold was $21,480. Similar to the analysis above, the applicant stated that the case-weighted average standardized charge is greater than the case-weighted threshold and, as a result, the applicant maintained that the CHARITE™ meets the cost criterion.

The applicant also contended that the CHARITE™ represents a substantial clinical improvement over existing technology. Use of the CHARITE™ may eliminate the need for spinal fusion and the use of autogenous bone, and the applicant stated that, based on the Investigational Device Exemption (IDE) study, “A Prospective Randomized Multicenter Comparison of Artificial Disc vs. Fusion for Single Level Lumbar Degenerative Disc Disease” (Blumenthal, S, et al, National American Spine Society 2004 Abstract) that patients who received the CHARITE™ Artificial Disc were discharged from the hospital after an average of 3.7 days compared to 4.2 days in the fusion group. Furthermore, the applicant stated that patients who received the CHARITE™ Artificial Disc had a statistically greater improvement in Oswetry Disability Index scores and Visual Analog Scale Pain scores compared to the fusion group at 6 weeks and 3, 6 and 12 months. The study also showed greater improvement from baseline compared to the fusion group on the Physical Component Score at 3, 6, and 23 months. In addition, the applicant states that patients receiving the CHARITE™ Artificial Disc returned to normal activities in half the time, compared to patients who underwent fusion, and at the 2 year follow up, 15 percent of patients who underwent a fusion were dissatisfied with the postoperative improvements compared to 2 percent who received the CHARITE™ Artificial Disc. Also, patients who received the CHARITE™ Artificial Disc returned to work on average of 12.3 weeks after surgery compared to 16.3 weeks after circumferential fusion and 14.4 weeks with Bagby and Kuslich cages. The applicant finally stated that the motion preserving technology of the CHARITE™ Artificial Disc may reduce the risk of increase of degenerative disc disease (DDD). The applicant explained that degeneration of adjacent discs due to increased stress has been strongly associated with spinal fusion utilizing instrumentation. In a followup of 100 patients (minimum 10 years) who received the CHARITE™ Artificial Disc, the incidence of adjacent level DDD was 2 percent.

We are continuing to review the information on whether the CHARITE ™ Artificial Disc would appear to represent a substantial clinical improvement over existing technology for certain patient populations. Based on the studies submitted to the FDA and CMS, we remain concerned that the information presented may not definitively substantiate whether the CHARITE ™ Artificial Disc is a substantial clinical improvement over spinal fusion. In addition, we are concerned that the cited IDE study enrolled no patients over 60 years of age, which excludes much of the Medicare population, and we are concerned that the device is contraindicated in patients with “significant osteoporosis,” which is quite common in the Medicare population. We invite comment on both of these points and on the more general question of whether the device satisfies the substantial clinical improvement criterion.

Despite the issues mentioned above, we are still considering whether it is appropriate to approve new technology add-on payment status for the CHARITE ™ Artificial Disc for FY 2006. If approved for add-on payments, the device would be reimbursed up to half of the costs for the device. Because the manufacturer has stated that the cost for the CHARITE ™ Artificial Disc would be $11,500, the maximum add-on payment for the device would be $5,750. In the final rule, we will make a final determination on whether the CHARITE ™ Artificial Disc should receive new technology add-on payments for FY 2006 based on public comments and our continuing analyses.

We finally note that the applicant requested a DRG reassignment for cases of the CHARITE ™ Artificial Disc from DRGs 499 (Back and Neck Procedures Except Spinal Fusion With CC) and 500 (Back and Neck Procedures Except Spinal Fusion Without CC) to DRGs 497 (Spinal Fusion Except Cervical With CC) and 498 (Spinal Fusion Except Cervical Without CC). The applicant argued that the costs associated with an artificial disc surgery are similar to spinal fusion and inclusion in DRGs 497 and 498 would obviate the need to make a new technology add-on payment. On October 1, 2004, we created new codes for the insertion of spinal disc prostheses (codes 84.60 through 84.69). In the FY 2005 IPPS proposed rule and the final rule, we described the new DRG assignments for these new codes in Table 6B of the Addendum to the rules. We received a number of comments recommending that we change the DRG assignments from DRGs 499 and 500 in MDC 8 to the DRGs for spinal fusion (DRGs 497 and 498). In the FY 2005 IPPS final rule (69 FR 48938), we indicated that DRGs 497 and 498 are limited to spinal fusion procedures. Because the surgery involving the CHARITE ™ is not a spinal fusion, we decided not to include this procedure in these DRGs. However, we will continue to analyze this issue and are interested in public comments on both the new technology application for the CHARITE ™ and the DRG assignment for spinal disc prostheses.

We received no public comments regarding this application for new technology add-on payments.

d. Endovascular Graft Repair of the Thoracic Aorta

Endovascular stent-grafting of the descending thoracic aorta (TA) provides a less invasive alternative to the traditional open surgical approach required for the management of descending thoracic aortic aneurysms. W.L. Gore & Associates, Inc. submitted an application for consideration of its Endovascular Graft Repair of the Thoracic Aorta (GORE TAG) for new technology add-on payments for FY 2006. The GORE TAG device is a tubular stent-graft mounted on a catheter-based delivery system, and it replaces the synthetic graft normally sutured in place during open surgery. The device is identified using ICD-9-CM procedure code 39.79 (Other endovascular repair (of aneurysm) of other vessels). The applicant has requested a unique ICD-9-CM procedure code.

At this point the time of the initial application, the FDA hads not yet approved this technology for general use. Subsequently, however, we were notified that FDA approval was granted on March 23, 2005. Although we discuss some of the data submitted with the application for new technology add-on payments below, we are unable to include a detailed analysis of cost data and substantial clinical improvement data in this proposed rule because FDA approval occurred too late for us to conduct a complete analysis.

The applicant submitted cost threshold information for the GORE TAG device. According to the manufacturer, cases using the GORE TAG device would fall into DRGs 110 and 111 (Major Cardiovascular Procedures With and Without CC, respectively). The applicant identified 185 cases in the FY 2003 MedPAR using procedure code 39.79 (Other endovascular repair (of aneurysm) of other vessels) and primary diagnosis codes 441.2 (Thoracic aneurysm, without mention of rupture), 441.1 (Thoracic aneurysm, ruptured), or 441.01 (Dissection of aorta, thoracic). The case-weighted standardized charge for 177 of these cases was $60,905. According to the manufacturer, the case-weighted cost threshold for these DRGs is $49,817. Based on this analysis, the manufacturer maintained that the technology meets our cost threshold.

The manufacturer argued that the GORE TAG represents a substantial clinical improvement over existing technology, primarily by avoiding the traditional open aneurysm repair procedure with its associated high morbidity and mortality. The applicant argued that a descending thoracic aorta aneurysm is a potentially life threatening condition that currently requires a major operative procedure for its treatment. The mortality and complication rates associated with this surgery are very high, and the surgery is frequently performed under urgent or emergent conditions. The applicant noted that such complications can increase the length of the hospital stay and can include neurological damage, paralysis, renal failure, pulmonary emboli, hemorrhage, and sepsis. The average time for patients undergoing surgical repair to return to normal activity is 3 to 4 months, but can be significantly longer.

In comparison, the applicant argued that endovascular stent-grafting done with the GORE TAG thoracic endoprosthesis is minimally invasive. The manufacturer noted that patients treated with the endovascular technique experience far less aneurysm-related mortality and morbidity, compared to those patients that receive the open procedure resulting in reduced overall length-of-stay, less intensive care unit days and less operative complications.

We received the following public comments, in accordance with section 503(b)(2) of Pub. L. 108-173, regarding this application for add-on payments.

Comment: Several commenters expressed support for approval of new technology add-on payments for the GORE TAG device. These commenters noted that the data presented to the FDA advisory panel for consideration for FDA approval of the device clearly demonstrate the safety and efficacy of the GORE TAG device. They also noted that nearly 200 patients have been treated with the endografts, with a highly significant difference in both postoperative mortality and a reduction in the incidence of spinal cord ischemic complications, with some commenters noting the trial results, which showed a reduction in the rate of paraplegia from 14 percent to 3 percent, compared to open surgery. The commenters also stressed the rigorous nature of the open surgery, which requires a left lateral thoracotomy, resulting in significant morbidity. The commenters further argued that, since many of the patients with degenerative aneurysm of the thoracic aorta are elderly or present with significant comorbidities, or both, it is “a common circumstance in clinical practice to deny repair to such patients because of the magnitude of the conventional open surgery.” Other commenters stated that the 5-year mortality in all patients diagnosed with thoracic aortic aneurysm is as high as 80 percent in some groups of patients. Therefore, the commenters argued, the GORE TAG device for thoracic aortic aneurysm satisfies the criteria for substantial clinical improvement.

Response: We appreciate the commenters' input on this criterion. We will consider these comments regarding the substantial clinical improvement criterion in the final rule if we determine that the technology meets the other two criteria.

Comment: A representative of another device manufacturer stated at the town hall meeting that the manufacturer has a similar product awaiting FDA approval.

Response: As we discussed in the September 7, 2001 Federal Register (66 FR 46915), an approval of a new technology for special payment should extend to all technologies that are substantially similar. Otherwise, our payment policy would bestow an advantage to the first applicant to receive approval for a particular new technology. In this case, we will determine whether the GORE TAG device qualifies for new technology add-on payments in the FY 2006 final rule. In the event that this technology satisfies all the criteria, we would extend new technology payments to any substantially similar technology that also receives FDA approval prior to publication of the FY 2006 final rule. We welcome comments regarding this technology in light of its recent FDA approval, particularly with regard to the cost threshold and the substantial clinical improvement criteria.

e. Restore® Rechargeable Implantable Neurostimulator

Medtronic Neurological submitted an application for new technology add-on payments for its Restore® Rechargeable Implantable Neurostimulator. The Restore® Rechargeable Implantable Neurostimulator is designed to deliver electrical stimulation to the spinal cord for treatment of chronic, intractable pain.

Neurostimulation is designed to deliver electrical stimulation to the spinal cord to block the sensation of pain. The current technology standard for neurostimulators utilizes internal sealed batteries as the power source to generate the electrical current. These internal batteries have finite lives, and require replacement when their power has been completely discharged. According to the manufacturer, the Restore® Rechargeable Implantable Neurostimulator “represents the next generation of neurostimulator technology, allowing the physician to set the voltage parameters in such a way that fully meets the patient's requirements to achieve adequate pain relief without fear of premature depletion of the battery.” The applicant stated that the expected life of the Restore® rechargeable battery is 9 years, compared to an average life of 3 years for conventional neurostimulator batteries. The applicant stated that this represents a significant clinical improvement because patients can use any power settings that are necessary to achieve pain relief with less concern for battery depletion and subsequent battery replacement.

This device has not yet received approval for use by the FDA; however, another manufacturer has received approval for a similar device. (Advanced Bionics' Precision® Rechargeable Neurostimulator was approved by the FDA on April 27, 2004.)

Medtronic Neurological also provided data to determine whether the Restore® Rechargeable Implantable Neurostimulator meets the cost criterion. Medtronic Neurological stated that the cases involving use of the device would primarily fall into DRGs 499, 500, 531 and 532, which have a case-weighted threshold of $24,090. The manufacturer stated that the anticipated average standardized charge per case involving the Restore® technology is $59,265. This manufacturer derived this estimate by identifying cases in the FY 2003 MedPAR that reported procedure code 03.93 (Insertion or replacement of spinal neurostimulators). The manufacturer then added the total cost of the Restore® Rechargeable Implantable Neurostimulator to the average standardized charges for those cases. Of the applicable charges for the Restore® Rechargeable Implantable Neurostimulator, only the components that the applicant identified as new would be eligible for new technology add-on payments. Medtronic Neurological submitted information that distinguished the old and new components of the device and submitted data indicating that the neurostimulator itself is $17,995 and the patient recharger, antenna, and belt are $3,140. Thus, the total cost for new components would be $21,135, with a maximum add-on amount of $10,568 if the product were to be approved for new technology payments.

We note that we reviewed a technology for add-on payments for FY 2003 called Renew™ Radio Frequency Spinal Cord Stimulation (SCS) Therapy, made by Advanced Neuromodulation Systems (ANS). In the FY 2003 final rule, we discussed and subsequently denied an application for new technology add-on payment for Renew™ SCS because “Renew™ SCS was introduced in July 1999 as a device for the treatment of chronic intractable pain of the trunk and limbs.” (67 FR 50019) We also noted, “[t]his system only requires one surgical placement and does not require additional surgeries to replace batteries as do other internal SCS systems.”

The applicant also stated in its application for Restore® that cases where it is used will be identified by ICD-9-CM procedure code 03.93 (Insertion or replacement of spinal neurostimulators). As we discussed in the FY 2003 final rule (67 FR 50019), the Renew™ SCS is identified by the same ICD-9-CM procedure code. The applicant has also applied for a new ICD-9-CM code for rechargeable neurostimulator pulse generator (We refer readers to Tables 6A through 6H in the Addendum to this proposed rule for information regarding ICD-9-CM codes.) Because both technologies are similar, we asked Medtronic to provide information that would demonstrate how the products were substantially different. The applicant noted that the Renew™ SCS, while programmable and rechargeable, is not a good option for those patients who have high energy requirements because of chronic intractable pain that will result in more battery wear and subsequent surgery to replace the device. Both systems rely on rechargeable batteries, and in the case of Renew™ SCS the energy is transmitted through the skin from a radiofrequency source for the purpose of recharging. The manufacturer of the Restore® device contends that it is superior to the Renew™ device because Renew™ requires an external component that uses a skin adhesive that is uncomfortable and inconvenient (causes skin irritation, is affected by moisture that will come from bathing, sweating, swimming, etc.), leading to patient noncompliance.

Because FDA approval has not yet been received for this device, we are making no decision concerning the Restore® application at this time. We will make a formal determination if FDA approval occurs in sufficient time for full consideration in the final FY 2006 rule. However, we have reservations about whether this technology is new for purposes of the new technology add-on payments because of its similarity to other products that are also used to treat the same conditions. Although we recognize the benefits of a more easily rechargeable neurostimulator system, we believe that the Restore® device may not be sufficiently different from predecessor devices to meet the newness criterion for the new technology add-on payment. As we discussed above, similar products have been on the market since 1999. Therefore, these technologies are already represented in the DRG weights and are not considered new for the purposes of the new technology add-on payment provision. We welcome comments on this issue, specifically regarding how the Restore® device may or may not be significantly different from previous devices. We also seek comments on whether the product meets the cost and significant improvement criteria.

We received no public comments regarding this application for add-on payments.

f. Safe-Cross® Radio Frequency Total Occlusion Crossing System (Safe-Cross®)

Intraluminal Therapeutics submitted an application for the Safe Cross® Radio Frequency (RF) Total Occlusion Crossing System. This device performs the function of a guidewire during percutaneous transluminal angioplasty of chronic total occlusions of peripheral and coronary arteries. Using fiberoptic guidance and radiofrequency ablation, it is able to cross lesions where a standard guidewire is unsuccessful. On November 21, 2003, the FDA approved the Safe Cross® for use in iliac and superficial femoral arteries. The device was approved by the FDA for all native peripheral arteries except carotids in August 2004. In January 2004, the FDA approved the Safe Cross® for coronary arteries as well. Because the device is within the statutory timeframe of 2 to 3 years for all approved uses and data regarding the cost of this device are not yet reflected within the DRG weights, we consider the Safe Cross® to meet the newness criterion.

We note that the applicant submitted an application for a distinctive ICD-9-CM code. The applicant noted in its application that the device is currently coded with ICD-9-CM procedure codes 36.09 (Other removal of coronary artery obstruction) and 39.50 (Angioplasty or atherectomy of other noncoronary vessels).

As we stated in last year's final rule, section 1886(d)(5)(K)(i) of the Act requires that the Secretary establish a mechanism to recognize the costs of new medical services or technologies under the payment system established under subsection (d) of section 1886, which establishes the system for paying for the operating costs of inpatient hospital services. The system of payment for capital costs is established under section 1886(g) of the Act, which makes no mention of any add-on payments for a new medical service or technology. Therefore, it is not appropriate to include capital costs in the add-on payments for a new medical service or technology, and these costs should not be considered in evaluating whether a technology meets the cost criterion. As a result, we consider only the Safe Cross® crossing wire, ground pad, and accessories to be operating equipment that is relevant to the evaluation of the cost criterion.

The applicant submitted the following two analyses on the cost criterion. The first analysis contained 27 actual cases from two hospitals. Of these 27 cases, 25.1 percent of the cases were reported in DRGs 24 (Seizure and Headache Age >17 With CC), 107 (Coronary Bypass With Cardiac Catheterization), 125 (Circulatory Disorders Except AMI, With Cardiac Catheterization and Without Complex Diagnosis), 518 (Percutaneous Cardiovascular Procedure Without Coronary Artery Stent or AMI), and 526 (Percutaneous Cardiovascular Procedure With Drug-Eluting Stent With AMI); and 74.9 percent were reported in DRG 527 (Percutaneous Cardiovascular Procedure With Drug-Eluting Stent Without AMI). This resulted in a case-weighted threshold of $35,956 and a case-weighted average standardized charge of $40,319. Because the case-weighted average standardized charge is greater than the case-weighted threshold, the applicant maintained that the Safe Cross® meets the cost criterion.

The applicant also submitted cases from the FY 2003 MedPAR. The applicant found a total of 1,274,535 cases that could be eligible for the Safe Cross® using diagnosis codes 411 through 411.89 (Other acute and subacute forms of ischemic heart disease) or 414 through 414.19 (Other forms of chronic ischemic heart disease) in combination with any of the following procedure codes: 36.01 (Single vessel percutaneous transluminal coronary angioplasty (PTCA) or coronary atherectomy without mention of thrombolytic agent), 36.02 (Single vessel PTCA or coronary atherectomy with mention of thrombolytic agent), 36.05 (Multiple vessel PTCA or coronary atherectomy performed during the same operation with or without mention of thrombolytic agent), 36.06 (Insertion of nondrug-eluting coronary artery stent(s)), 36.07 (Insertion of drug-eluting coronary artery stent(s)) and 36.09 (Other removal of coronary artery obstruction). A total of 59.40 percent of these cases fell into DRG 517 (Percutaneous Cardiovascular Procedure With Nondrug-Eluting Stent Without AMI), 16.4 percent of cases into DRG 516 (Percutaneous Cardiovascular Procedure With AMI), and 16.2 percent of cases into DRG 527, while the rest of the cases fell into the remaining DRGs 124, 518 and 526. The average case-weighted standardized charge per case was $40,318. This amount included an extra $6,000 for the charges related to the Safe Cross®. The case-weighed threshold across the DRGs mentioned above was $35,955. Similar to the analysis above, because the case-weighted average standardized charge is greater than the case-weighted threshold, the applicant maintained that the Safe Cross® meets the cost criterion.

The applicant maintained that the device meets the substantial clinical improvement criterion. The applicant explained that many traditional guidewires fail to cross a total arterial occlusion due to difficulty in navigating the vessel and to the fibrotic nature of the obstructing plaque. By using fiberoptic guidance and radiofrequency ablation, the Safe Cross® succeeds where standard guidewires fail. The applicant further maintained that in clinical trials where traditional guidewires failed, the Safe Cross® succeeded in 54 percent of cases of coronary artery chronic total occlusions (CTOs), and in 76 percent of cases of peripheral artery CTOs.

However, we note that we use similar standards to evaluate substantial clinical improvement in the IPPS and OPPS. The IPPS regulations provide that technology may be approved for add-on payments when it “represents an advance in medical technology that substantially improves, relative to technologies previously available, the diagnosis or treatment of Medicare beneficiaries” (66 FR 46912). Under the OPPS, the standard for approval of new devices is “a substantial improvement in medical benefits for Medicare beneficiaries compared to the benefits obtained by devices in previously established (that is, existing or previously existing) categories or other available treatments” (67 FR 66782). Furthermore, the OPPS and IPPS employ identical language (for IPPS, see 66 FR 46914, and for OPPS, see 67 FR 66782) to explain and elaborate on the kinds of considerations that are taken into account in determining whether a new technology represents substantial improvement. In both systems, we employ the following kinds of considerations in evaluating particular requests for special payment for new technology:

• The device offers a treatment option for a patient population unresponsive to, or ineligible for, currently available treatments.

• The device offers the ability to diagnose a medical condition in a patient population where that medical condition is currently undetectable or offers the ability to diagnose a medical condition earlier in a patient population than allowed by currently available methods. There must also be evidence that use of the device to make a diagnosis affects the management of the patient.

• Use of the device significantly improves clinical outcomes for a patient population as compared to currently available treatments. Some examples of outcomes that are frequently evaluated in studies of medical devices are the following:

—Reduced mortality rate with use of the device.

—Reduced rate of device-related complications.

—Decreased rate of subsequent diagnostic or therapeutic interventions (for example, due to reduced rate of recurrence of the disease process).

—Decreased number of future hospitalizations or physician visits.

—More rapid beneficial resolution of the disease process treatment because of the use of the device.

—Decreased pain, bleeding, or other quantifiable symptom.

—Reduced recovery time.

In a letter to the applicant dated October 25, 2004, we denied approval of the Safe Cross® for pass-through payments for the OPPS on the basis that the technology did not meet the substantial clinical improvement criterion. In particular, we found that studies failed to show long-term or intermediate-term results, and the device had a relatively low rate of successfully opening occlusions. Since that initial determination, the applicant has requested reconsideration for pass-through payments under the IPPS. However, on the basis of the original findings under the OPPS, we do not now believe that the technology can qualify for new technology add-on payments under the IPPS. Therefore, we are proposing to deny new technology add-on payment for FY 2006 for Safe Cross® on the grounds that it does not appear to be a substantial clinical improvement over existing technologies. We welcome further information on whether this device meets the substantial clinical improvement criterion, and we will consider any further information prior to making our final determination in the final rule.

We received no public comments regarding this application for add-on payments.

g. Trident® Ceramic Acetabular System

Stryker Orthopaedics submitted an application for new technology add-on payments for the Trident® Ceramic Acetabular System. This system is used to replace the “ball and socket” joint of a hip when a total hip replacement is performed for patients suffering from arthritis or related conditions. The applicant stated that, unlike conventional hip replacement systems, the Trident® system utilizes alumina ceramic-on-ceramic bearing surfaces rather than metal-on-plastic or metal-on-metal. Alumina ceramic is the hardest material next to diamond. The Trident® System is a patented design that captures the ceramic insert in a titanium sleeve. This design increases the strength of the ceramic insert by 50 percent over other designs. The manufacturer stated that the alumina ceramic bearing of the device is a substantial clinical improvement because it is extremely hard and scratch resistant, has a low coefficient of friction and excellent wear resistance, has improved lubrication over metal or polyethylene, has no potential for metal ion release, and has less alumina particle debris. The manufacturer also stated that fewer hip revisions are needed when this product is used (2.7 percent of ceramic versus 7.5 percent for polyethylene). Stryker stated that the ceramic implant also causes less osteolysis (or bone loss from particulate debris). Due to these improvements over traditional hip implants, the manufacturer stated the Trident® Ceramic Acetabular System has demonstrated significantly lower wear versus the conventional plastic/metal system in the laboratory; therefore, it is anticipated that these improved wear characteristics will extend the life of the implant.

The Trident® Ceramic Acetabular System received FDA approval in February 3, 2003. However, this product was not available on the market until April 2003. The period that technologies are eligible to receive new technology add-on payment is no less than 2 years but not more than 3 years from the point the product comes on the market. At this point, we begin to collect charges reflecting the cost of the device in the MedPAR data. Because the device became available on the market in April 2003, charges reflecting the cost of the device may have been included in the data used to calculate the DRG weights in FY 2005 and the proposed DRG weights for FY 2006. Therefore, the technology may no longer be considered new for the purposes of new technology add-on payments. For this reason, we are proposing to deny add-on payments for the Trident® Ceramic Acetabular System for FY 2006.

Although we are proposing not to approve this application because the Trident® Ceramic Acetabular System does not meet the newness criterion, we note that the applicant submitted information on the cost and substantial clinical improvement criteria.

The applicant submitted cost threshold information for the Trident® Ceramic Acetabular System, stating that cases using the system would be included in DRG 209 (Major Joint and Limb Reattachment Procedures of Lower Extremity). The manufacturer indicated that there is not an ICD-9-CM code specific to ceramic hip arthroplasty, but it is currently reported using code 81.51 (Total hip replacement). Of the applicable charges for the Trident® Ceramic Acetabular System, only the components that the applicant identified as new would be eligible for new technology add-on payments. The estimated cost of the new portions of the device, according to the information provided in the application, is $6,009. The charge threshold for DRG 209 is $34,195. The data submitted by Stryker Orthopaedics showed an average standardized charge, assuming a 28 percent implant markup, of $34,230.

Regarding the issue of substantial clinical improvement, we recognize that the Trident® Ceramic Acetabular System represents an incremental advance in prosthetic hip technology. However, we also recognize that there are a number of other new prostheses available that utilize a variety of bearing surface materials that also offer increased longevity and decreased wear. For this reason, we do not believe that the Trident® system has demonstrated itself to be a clearly superior new technology.

We received the following public comments, in accordance with section 503(b)(2) of Pub. L. 108-173, regarding this application for add-on payments.

Comment: One commenter noted that clinical outcomes for the Trident® Ceramic Acetabular System are not a significant clinical improvement over similar devices on the market. A member of the orthopedic community noted at the new technology town hall meeting that this system is not the only new product that promises significantly improved results because of enhancements to materials and design. This commenter suggested that it may be inappropriate to recognize only one of these new hip replacement products for new technology add-on payments.

Response: We appreciate the commenter's input on this criterion. We will consider these comments regarding the substantial clinical improvement criterion. However, based on the observations provided at the town hall meeting, we are considering alternative methods of recognizing technological improvements in this area other than approving only one of these new technologies for add-on payments. For example, as discussed in section II.B.6.a. of the preamble to this proposed rule, we are proposing to split DRG 209 to create a new DRG for revisions of hip and knee replacements. We would leave all other replacements and attachment procedures in a separate, new DRG. We also stated that we will be reviewing these DRGs based on new procedure codes that will provide more detailed data on the specific nature of the revision procedures performed. In addition, we are creating new procedure codes that will identify the type of bearing surface of a hip replacement. As we obtain data from these new codes, we will consider additional DRG revisions to better capture the various types of joint procedures. We may consider a future restructuring of the joint replacement and revision DRGs that would better capture the higher costs of products that offer greater durability, extended life, and improved outcomes. In doing so, of course, we may need to create additional, more precise ICD-9-CM codes. We welcome comments on this issue, and generally on whether the Trident® Ceramic Acetabular System meets the criteria to qualify for new technology add-on payments.

h. Wingspan ™ Stent System with Gateway ™ PTA Balloon Catheter

Boston Scientific submitted an application for the Wingspan ™ Stent System with Gateway ™ PTA Balloon Catheter for new technology add-on payments. The device is designed for the treatment of patients with intracranial atherosclerotic disease who suffer from recurrent stroke despite medical management. The device consists of the following: a self-expanding nitinol stent, a multilumen over the wire delivery catheter, and a Gateway PTA Balloon Catheter. The device is used to treat stenoses that occur in the intracranial vessels. Prior to stent placement, the Gateway PTA Balloon is inflated to dilate the target lesion, and then the stent is deployed across the lesion to restore and maintain luminal patency. Effective October 1, 2004, two new ICD-9-CM procedure codes were created to code intracranial angioplasty and intracranial stenting procedures: procedure codes 00.62 (Percutaneous angioplasty or atherectomy of intracranial vessels) and 00.65 (Percutaneous insertion of intracranial vascular stents).

On January 9, 2004, the FDA designated the Wingspan ™ as a Humanitarian Use Designation (HUD). The manufacturer has also applied for Humanitarian Device Exemption (HDE) status and expects approval from the FDA in July 2005. It is important to note that currently CMS has a noncoverage policy for percutaneous transluminal angioplasty to treat lesions of intracranial vessels. The applicant is working closely with CMS to review this decision upon FDA approval. Because the device is neither FDA-approved nor Medicare-covered, we do not believe it is appropriate to present our full analysis on whether the technology meets the individual criteria for the new technology add-on payment. However, we note that the applicant did submit the following information below on the cost criterion and substantial clinical improvement criterion.

The manufacturer submitted data from MedPAR and non-MedPAR databases. The non-MedPAR data was from the 2003 patient discharge data from California's Office of Statewide Health Planning and Development database for hospitals in California and from the 2003 patient data from Florida's Agency for Health Care Administration for hospitals in Florida. The applicant identified cases that had a diagnosis code of 437.0 (Cerebral atherosclerosis), 437.1 (Other generalized ischemic cerebrovascular disease) or 437.9 (Unspecified) or any diagnosis code that begins with the prefix of 434 (Occlusion of cerebral arteries) in combination with procedure code 39.50 (Angioplasty or atherectomy of noncoronary vessel) or procedure code 39.90 (Insertion of nondrug-eluting, noncoronary artery stents). The applicant used procedure codes 39.50 and 39.90 because procedure codes 00.62 and 00.65 were not available until FY 2005. The applicant found cases in DRG 5 (Extracranial Vascular Procedures) (which previously existed under the Medicare IPPS DRG system prior to a DRG split) and in DRGs 533 (Extracranial Procedure with CC) and 534 (Extracranial Procedure Without CC). Even though DRG 5 was split into DRGs 533 and 534 in FY 2003, some hospitals continued to use DRG 5 for non-Medicare cases. The applicant found 22 cases that had an intracranial PTA with a stent. The average (nonstandardized) charge per case was $78,363.

The applicant also submitted data from the FY 2002 and FY 2003 MedPAR files. Using the latest data from the FY 2003 MedPAR and the same combination of diagnosis and procedure codes mentioned above to identify cases of intracranial PTA with stenting, the applicant found 116 cases in DRG 533 and 20 cases in DRG 534. The case-weighted average standardized charge per case was $51,173. The average case-weighted threshold was $25,394. Based on this analysis, the applicant maintained that the technology meets the cost criteria since the average case-weighted standardized charge per case is greater than the average case-weighted threshold.

The applicant also maintained that the technology meets the substantial clinical improvement criterion. Currently, there is no available surgical or medical treatment for recurrent stroke that occurs despite optimal medical management. The Wingspan ™ is the first commercially available PTA/stent system designed specifically for the intracranial vasculature. However, because the Wingspan ™ does not have FDA approval or Medicare coverage, as stated above, we are proposing to deny add-on payment for this new technology.

We received no public comments regarding this application for add-on payments.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of statistical areas established by the Office of Management and Budget (OMB). A discussion of the proposed FY 2006 hospital wage index based on the statistical areas, including OMB's revised definitions of Metropolitan Areas, appears under section III.B. of this preamble.

Beginning October 1, 1993, section 1886(d)(3)(E) of the Act requires that we update the wage index annually. Furthermore, this section provides that the Secretary base the update on a survey of wages and wage-related costs of short-term, acute care hospitals. The survey should measure the earnings and paid hours of employment by occupational category, and must exclude the wages and wage-related costs incurred in furnishing skilled nursing services. This provision also requires us to make any updates or adjustments to the wage index in a manner that ensures that aggregate payments to hospitals are not affected by the change in the wage index. The proposed adjustment for FY 2006 is discussed in section II.B. of the Addendum to this proposed rule.

As discussed below in section III.G. of this preamble, we also take into account the geographic reclassification of hospitals in accordance with sections 1886(d)(8)(B) and 1886(d)(10) of the Act when calculating the wage index. Under section 1886(d)(8)(D) of the Act, the Secretary is required to adjust the standardized amounts so as to ensure that aggregate payments under the IPPS after implementation of the provisions of sections 1886(d)(8)(B) and (C) and 1886(d)(10) of the Act are equal to the aggregate prospective payments that would have been made absent these provisions. The proposed budget neutrality adjustment for FY 2006 is discussed in section II.B. of the Addendum to this proposed rule.

Section 1886(d)(3)(E) of the Act also provides for the collection of data every 3 years on the occupational mix of employees for short-term, acute care hospitals participating in the Medicare program, in order to construct an occupational mix adjustment to the wage index. A discussion of the proposed occupational mix adjustment that we are proposing to apply beginning October 1, 2005 (the proposed FY 2006 wage index) appears under section III.C. of this preamble.

B. Core-Based Statistical Areas Used for the Proposed Hospital Wage Index

(If you choose to comment on issues in this section, please include the caption “CBSAs” at the beginning of your comment.)

The wage index is calculated and assigned to hospitals on the basis of the labor market area in which the hospital is located. In accordance with the broad discretion under section 1886(d)(3)(E) of the Act, beginning with FY 2005, we define hospital labor market areas based on the Core-Based Statistical Areas (CBSAs) established by OMB and announced in December 2003 (69 FR 49027). OMB defines a CBSA, beginning in 2003, as “a geographic entity associated with at least one core of 10,000 or more population, plus adjacent territory that has a high degree of social and economic integration with the core as measured by commuting ties.” The standards designate and define two categories of CBSAs: Metropolitan Statistical Areas (MSAs) and Micropolitan Statistical Areas (65 FR 82235).

According to OMB, MSAs are based on urbanized areas of 50,000 or more population, and Micropolitan Statistical Areas (referred to in this discussion as Micropolitan Areas) are based on urban clusters with a population of at least 10,000 but less than 50,000. Counties that do not fall within CBSAs are deemed “Outside CBSAs.” In the past, OMB defined MSAs around areas with a minimum core population of 50,000, and smaller areas were “Outside MSAs.”

The general concept of the CBSAs is that of an area containing a recognized population nucleus and adjacent communities that have a high degree of integration with that nucleus. The purpose of the standards is to provide nationally consistent definitions for collecting, tabulating, and publishing Federal statistics for a set of geographic areas. CBSAs include adjacent counties that have a minimum of 25 percent commuting to the central counties of the area. (This is an increase over the minimum commuting threshold of 15 percent for outlying counties applied in the previous MSA definition.)

The new CBSAs established by OMB comprised MSAs and the new Micropolitan Areas based on Census 2000 data. (A copy of the announcement may be obtained at the following Internet address: http://www.whitehouse.gov/omb/bulletins/fy04/b04-03.html.) The definitions recognize 49 new MSAs and 565 new Micropolitan Areas, and extensively revised the composition of many of the existing MSAs.

The new area designations resulted in a higher wage index for some areas and lower wage index for others. Further, some hospitals that were previously classified as urban are now in rural areas. Given the significant payment impacts upon some hospitals because of these changes, we provided a transition period to the new labor market areas in the FY 2005 IPPS final rule (69 FR 49027 through 49034). As part of that transition, we allowed urban hospitals that became rural under the new definitions to maintain their assignment to the Metropolitan Statistical Area (MSA) where they were previously located for the 3-year period of FY 2005, FY 2006, and FY 2007. Specifically, these hospitals were assigned the wage index of the urban area to which they previously belonged. (For purposes of wage index computation, the wage data of these hospitals remained assigned to the statewide rural area in which they are located.) The hospitals receiving this transition will not be considered urban hospitals; rather they will maintain their status as rural hospitals. Thus, the hospital would not be eligible, for example, for a large urban add-on payment under the capital PPS. In other words, it is the wage index, but not the urban or rural status, of these hospitals that is being affected by this transition. The higher wage indices that these hospitals are receiving are also being taken into consideration in determining whether they qualify for the out-commuting adjustment discussed in section III.I. of this preamble and the amount of any adjustment.

FY 2006 will be the second year of this transition period. We will continue to assign the wage index for the urban area in which the hospital was previously located through FY 2007. In order to ensure this provision remains budget neutral, we will continue to adjust the standardized amount by a transition budget neutrality factor to account for these hospitals. Doing so is consistent with the requirement of section 1886(d)(3)(E) of the Act that any “adjustments or updates [to the adjustment for different area wage levels] * * * shall be made in a manner that assures that aggregate payments * * * are not greater or less than those that would have been made in the year without such adjustment.”

Beginning in FY 2008, these hospitals will receive their statewide rural wage index, although they will be eligible to apply for reclassification by the MGCRB, both during this transition period as well as in subsequent years.

In addition, in the FY 2005 IPPS final rule (69 FR 49032 through 49033), we provided a 1-year transition blend for hospitals that, due solely to the changes in the labor market definitions, experienced a decrease in their FY 2005 wage index compared to the wage index they would have received using the labor market areas included in calculating their FY 2004 wage index. Hospitals that experienced a decrease in their wage index as a result of adoption of the new labor market area changes received a wage index based on 50 percent of the CBSA labor market area definitions and 50 percent of the wage index that the provider would have received under the FY 2004 MSA boundaries (in both cases using the FY 2001 wage data). This blend applied to any provider experiencing a decrease due to the new definitions, including providers who were reclassifying under MGCRB requirements, section 1886(d)(8)(B) of the Act, or section 508 of Pub. L. 108-173. In the FY 2005 IPPS final rule (69 FR 49027 through 49033), we described the determination of this blend in detail. We noted that this blend would not prevent a decrease in wage index due to any reason other than adoption of CBSAs, nor did it apply to hospitals that benefited from a higher wage index due to the new labor market definitions.

Consistent with the FY 2005 IPPS final rule, we are proposing that hospitals receive 100 percent of their wage index based upon the new CBSA configurations beginning in FY 2006. Specifically, we will determine for each hospital a new wage index employing wage index data from FY 2002 hospital cost reports and using the CBSA labor market definitions.

C. Proposed Occupational Mix Adjustment to FY 2006 Index

(If you choose to comment on issues in this section, please include the caption “Occupational Mix Adjustment” at the beginning of your comment.)

As stated earlier, section 1886(d)(3)(E) of the Act provides for the collection of data every 3 years on the occupational mix of employees for each short-term, acute care hospital participating in the Medicare program, in order to construct an occupational mix adjustment to the wage index, for application beginning October 1, 2004 (the FY 2005 wage index). The purpose of the occupational mix adjustment is to control for the effect of hospitals' employment choices on the wage index. For example, hospitals may choose to employ different combinations of registered nurses, licensed practical nurses, nursing aides, and medical assistants for the purpose of providing nursing care to their patients. The varying labor costs associated with these choices reflect hospital management decisions rather than geographic differences in the costs of labor.

1. Development of Data for the Proposed Occupational Mix Adjustment

In the FY 2005 IPPS final rule (69 FR 49034), we discussed in detail the data we used to calculate the occupational mix adjustment to the FY 2005 wage index. For the FY 2006 wage index, we are proposing to use the same CMS Wage Index Occupational Mix Survey and Bureau of Labor Statistics (BLS) data that we used for the FY 2005 wage index, with two exceptions. The CMS survey requires hospitals to report the number of total paid hours for directly hired and contract employees in occupations that provide the following services: nursing, physical therapy, occupational therapy, respiratory therapy, medical and clinical laboratory, dietary, and pharmacy. These services each include several standard occupational classifications (SOCs), as defined by the BLS' Occupational Employment Statistics (OES) survey. For the proposed FY 2006 wage index, we used revised survey data for 20 hospitals that took advantage of the opportunity we afforded hospitals to submit changes to their occupational mix data during the FY 2006 wage index data collection process (see discussion of wage data corrections process under section III.J. of this preamble). We also excluded survey data for hospitals that became designated as CAHs since the original survey data were collected and hospitals for which there are no corresponding cost report data for the proposed FY 2006 wage index. The proposed FY 2006 wage index includes occupational mix data from 3,563 out of 3,765 hospitals (94.6 percent response rate). The results of the occupational mix survey are included in the chart below:

2. Calculation of the Proposed FY 2006 Occupational Mix Adjustment Factor and the Proposed FY 2006 Occupational Mix Adjusted Wage Index

For the proposed FY 2006 wage index, we are proposing to use the same methodology that we used to calculate the occupational mix adjustment to the FY 2005 wage index (69 FR 49042). We are proposing to use the following steps for calculating the proposed FY 2006 occupational mix adjustment factor and the occupational mix adjusted wage index:

Step 1—For each hospital, the percentage of the general service category attributable to an SOC is determined by dividing the SOC hours by the general service category's total hours. Repeat this calculation for each of the 19 SOCs.

Step 2—For each hospital, the weighted average hourly rate for an SOC is determined by multiplying the percentage of the general service category (from Step 1) by the national average hourly rate for that SOC from the 2001 BLS OES survey, which was used in calculating the occupational mix adjustment for the FY 2005 wage index. The 2001 OES survey is BLS' latest available hospital-specific survey. (See Chart 4 in the FY 2005 IPPS final rule, 69 FR 49038.) Repeat this calculation for each of the 19 SOCs.

Step 3—For each hospital, the hospital's adjusted average hourly rate for a general service category is computed by summing the weighted hourly rate for each SOC within the general category. Repeat this calculation for each of the 7 general service categories.

Step 4—For each hospital, the occupational mix adjustment factor for a general service category is calculated by dividing the national adjusted average hourly rate for the category by the hospital's adjusted average hourly rate for the category. (The national adjusted average hourly rate is computed in the same manner as Steps 1 through 3, using instead, the total SOC and general service category hours for all hospitals in the occupational mix survey database.) Repeat this calculation for each of the 7 general service categories. If the hospital's adjusted rate is less than the national adjusted rate (indicating the hospital employs a less costly mix of employees within the category), the occupational mix adjustment factor will be greater than 1.0000. If the hospital's adjusted rate is greater than the national adjusted rate, the occupational mix adjustment factor will be less than 1.0000.

Step 5—For each hospital, the occupational mix adjusted salaries and wage-related costs for a general service category is calculated by multiplying the hospital's total salaries and wage-related costs (from Step 5 of the unadjusted wage index calculation in section F) by the percentage of the hospital's total workers attributable to the general service category and by the general service category's occupational mix adjustment factor (from Step 4 above). Repeat this calculation for each of the 7 general service categories. The remaining portion of the hospital's total salaries and wage-related costs that is attributable to all other employees of the hospital is not adjusted for occupational mix.

Step 6—For each hospital, the total occupational mix adjusted salaries and wage-related costs for a hospital are calculated by summing the occupational mix adjusted salaries and wage-related costs for the 7 general service categories (from Step 5) and the unadjusted portion of the hospital's salaries and wage-related costs for all other employees. To compute a hospital's occupational mix adjusted average hourly wage, divide the hospital's total occupational mix adjusted salaries and wage-related costs by the hospital's total hours (from Step 4 of the unadjusted wage index calculation in Section F).

Step 7—To compute the occupational mix adjusted average hourly wage for an urban or rural area, sum the total occupational mix adjusted salaries and wage-related costs for all hospitals in the area, then sum the total hours for all hospitals in the area. Next, divide the area's occupational mix adjusted salaries and wage-related costs by the area's hours.

Step 8—To compute the national occupational mix adjusted average hourly wage, sum the total occupational mix adjusted salaries and wage-related costs for all hospitals in the nation, then sum the total hours for all hospitals in the nation. Next, divide the national occupational mix adjusted salaries and wage-related costs by the national hours. The proposed national occupational mix adjusted average hourly wage for FY 2006 is $27.9988.

Step 9—To compute the occupational mix adjusted wage index, divide each area's occupational mix adjusted average hourly wage (Step 7) by the national occupational mix adjusted average hourly wage (Step 8).

Step 10—To compute the Puerto Rico specific occupational mix adjusted wage index, follow the Steps 1 through 9 above. The proposed Puerto Rico occupational mix adjusted average hourly wage for FY 2006 is $12.9875.

An example of the occupational mix adjustment was included in the FY 2005 IPPS final rule (69 FR 49043).

For the FY 2005 final wage index, we used the unadjusted wage data for hospitals that did not submit occupational mix survey data. For calculation purposes, this equates to applying the national SOC mix to the wage data for these hospitals, because hospitals having the same mix as the Nation would have an occupational mix adjustment factor equaling 1.0000. In the FY 2005 IPPS final rule (69 FF 49035), we noted that we would revisit this matter with subsequent collections of the occupational mix data. Because we are using essentially the same survey data for the proposed FY 2006 occupational mix adjustment that we used for FY 2005, with the only exceptions as stated in section III.C.1. of this preamble, we are proposing to treat the wage data for hospitals that did not respond to the survey in this same manner for the proposed FY 2006 wage index.

In implementing an occupational mix adjusted wage index based on the above calculation, the proposed wage index values for 14 rural areas (29.8 percent) and 206 urban areas (53.5 percent) would decrease as a result of the adjustment. Six (6) rural areas (12.8 percent) and 111 urban areas (28.8 percent) would experience a decrease of 1 percent or greater in their wage index values. The largest negative impact for a rural area would be 1.9 percent and for an urban area, 4.3 percent. Meanwhile, 33 rural areas (70.2 percent) and 179 urban areas (46.5 percent) would experience an increase in their wage index values. Although these results show that rural hospitals would gain the most from an occupational mix adjustment to the wage index, their gains may not be as great as might have been expected. Further, it might not have been anticipated that almost one-third of rural hospitals would actually fare worse under the adjustment. Overall, a fully implemented occupational mix adjusted wage index would have a redistributive effect on Medicare payments to hospitals.

In the FY 2005 IPPS, we indicated that, for future data collections, we would revise the occupational mix survey to allow hospitals to provide both salaries and hours data for each of the employment categories that are included on the survey. We also indicated that we would assess whether future occupational mix surveys should be based on the calendar year or if the data should be collected on a fiscal year basis as part of the Medicare cost report. (One logistical problem is that cost report data are collected yearly, but occupational mix survey data are collected only every 3 years.) We are currently reviewing options for revising the occupational mix survey and improving the data collection process. We will publish any changes we make to the occupational mix survey in a Federal Register notice.

In our continuing efforts to meet the information needs of the public, we are providing three additional public use files for the proposed occupational mix adjusted wage index: (1) A file including each hospital's unadjusted and adjusted average hourly wage (FY 2006 Proposed Rule Occupational Mix Adjusted and Unadjusted Average Hourly Wage by Provider); (2) a file including each CBSA's adjusted and unadjusted average hourly wage (FY 2006 Proposed Rule Occupational Mix Adjusted and Unadjusted Average Hourly Wage and Pre-Reclassified Wage Index by CBSA); and (3) a file including each hospital's occupational mix adjustment factors by occupational category (Provider Occupational Mix Adjustment Factors for Each Occupational Category). These additional files are being released concurrently with the publication of this proposed rule and are posted on the Internet, at http://www.cms.hhs.gov/providers/hipps/ippswage.asp. We will also post these files with future applications of the occupational mix adjustment.

D. Worksheet S-3 Wage Data for the Proposed FY 2006 Wage Index Update

(If you choose to comment on issues in this section, please include the caption “Wage Data” at the beginning of your comment.)

The proposed FY 2006 wage index values (effective for hospital discharges occurring on or after October 1, 2005 and before October 1, 2006) in section VI. of the Addendum to this proposed rule are based on the data collected from the Medicare cost reports submitted by hospitals for cost reporting periods beginning in FY 2002 (the FY 2005 wage index was based on FY 2001 wage data).

The proposed FY 2006 wage index includes the following categories of data associated with costs paid under the IPPS (as well as outpatient costs):

• Salaries and hours from short-term, acute care hospitals (including paid lunch hours and hours associated with military leave and jury duty).

• Home office costs and hours.

• Certain contract labor costs and hours (which includes direct patient care, certain top management, pharmacy, laboratory, and nonteaching physician Part A services).

• Wage-related costs, including pensions and other deferred compensation costs.

The September 1, 1994 Federal Register (59 FR 45356) included a list of core wage-related costs that are included in the wage index, and discussed criteria for including other wage-related costs. In that discussion, we instructed hospitals to use generally accepted accounting principles (GAAPs) in developing wage-related costs for the wage index for cost reporting periods beginning on or after October 1, 1994. We discussed our rationale that “the application of GAAPs for purposes of compiling data on wage-related costs used to construct the wage index will more accurately reflect relative labor costs, because certain wage-related costs (such as pension costs), as recorded under GAAPs, tend to be more static from year to year.”

Since publication of the September 1, 1994 rule, we have periodically received inquiries for more specific guidance on developing wage-related costs for the wage index. In response, we have provided clarifications in the IPPS rules (for example, health insurance costs (66 FR 39859)) and in the cost report instructions (Provider Reimbursement Manual (PRM), Part II, Section 3605.2). Due to recent questions and concerns we received regarding inconsistent reporting and overreporting of pension and other deferred compensation plan costs, as a result of an ongoing Office of Inspector General review, we are clarifying in this proposed rule that hospitals must comply with the PRM, Part I, sections 2140. 2141, and 2142 and related Medicare program instructions for developing pension and other deferred compensation plan costs as wage-related costs for the wage index. The Medicare instructions for pension costs and other deferred compensation costs combine GAAPs, Medicare payment principles, and other Federal labor requirements. We believe that the Medicare instructions allow for consistent reporting among hospitals and for the development of reasonable deferred compensation plan costs for purposes of the wage index.

Beginning with the FY 2007 wage index, hospitals and fiscal intermediaries must ensure that pension, post-retirement health benefits, and other deferred compensation plan costs for the wage index are developed according to the above terms.

Consistent with the wage index methodology for FY 2005, the proposed wage index for FY 2006 also excludes the direct and overhead salaries and hours for services not subject to IPPS payment, such as SNF services, home health services, costs related to GME (teaching physicians and residents) and certified registered nurse anesthetists (CRNAs), and other subprovider components that are not paid under the IPPS. The proposed FY 2006 wage index also excludes the salaries, hours, and wage-related costs of hospital-based rural health clinics (RHCs), and Federally qualified health centers (FQHCs) because Medicare pays for these costs outside of the IPPS (68 FR 45395). In addition, salaries, hours and wage-related costs of CAHs are excluded from the wage index, for the reasons explained in the FY 2004 IPPS final rule (68 FR 45397).

Data collected for the IPPS wage index are also currently used to calculate wage indices applicable to other providers, such as SNFs, home health agencies, and hospices. In addition, they are used for prospective payments to rehabilitation, psychiatric, and long-term care hospitals, and for hospital outpatient services.

In the August 11, 2004 final rule, we stated that a commenter had asked CMS to designate provider-based clinics as IPPS-excluded areas in order to remove the costs from the wage index (69 FR 49049). The commenter noted that provider-based clinics are like physician private offices, which are excluded from the wage index calculation, and that services provided in the provider-based clinics are paid for not through the IPPS, but rather under the hospital outpatient PPS. In response to the comment, we stated that we were not prepared to grant the commenter's request without first studying the issue, and that we would explore the matter of salaries related to provider-based clinics in a future rule.

Regulations at 42 CFR 413.65 describe the criteria and procedures for determining whether a facility or organization is provider-based. Historically, under the Medicare program, some providers, referred to as “main providers,” have functioned as single entities while owning and operating multiple provider-based departments, locations, and facilities that are treated as part of the main provider for Medicare purposes. Section 413.65(a)(2) defines various types of provider-based facilities, including “department of a provider.” A “department of a provider” means a facility or organization that is either created by, or acquired by, a main provider for the purposes of furnishing health care services of the same type as those furnished by the main provider under the name, ownership, and financial and administrative control of the main provider * * * a department of a provider may not itself be qualified to participate in Medicare as a provider under § 489.2 * * * the term ‘department of a provider' does not include an RHC or * * * an FQHC.” Thus, if a facility offers services that are similar to those provided in a freestanding physician's office, and the facility meets the criteria to become provider-based under § 413.65, the facility would be considered a “department of a provider.” More specifically, the facility would be part of the main provider's outpatient department, since the facility offers health care services of the same type as those furnished by the main provider, and because a physician's office would not be subject to a provider agreement or receive a Medicare provider number under § 489.2. (We note that a provider-based RHC or FQHC may, by itself, be qualified to participate in Medicare as a provider under § 489.2 and, thus, would be classified not as a “department of a provider” but as a “provider-based entity,” as defined at § 413.65(a)(2)). This provider-based facility, or provider-based clinic, as the commenter referred to it, would be reported on the main provider's Medicare cost report as an outpatient service cost center, on Worksheet A, line 60. With the exception of RHC and FQHC salaries that have been excluded from the wage index beginning with FY 2004 (68 FR 45395, August 1, 2003), the salaries attributable to employees working in these outpatient service cost centers, including emergency departments, are included in the main provider's total salaries on Worksheet S-3, Part II, line 1, and accordingly, are included in the wage index calculation. We have historically included the salaries and wages of hospital employees working in the outpatient departments in the calculation of the hospital wage index since these employees often work in both the IPPS and in the outpatient areas of the hospital. Consistent with this longstanding treatment of outpatient salary costs in the wage index calculation, we believe it is appropriate to continue to include the salaries and wages of employees working in outpatient departments, including provider-based clinics, in the wage index calculation.

E. Verification of Worksheet S-3 Wage Data

(If you choose to comment on issues in this section, please include the caption “Wage Data” at the beginning of your comment.)

The wage data for the proposed FY 2006 wage index were obtained from Worksheet S-3, Parts II and III of the FY 2002 Medicare cost reports. Instructions for completing the Worksheet S-3, Parts II and III are in the Provider Reimbursement Manual, Part I, sections 3605.2 and 3605.3. The data file used to construct the proposed wage index includes FY 2002 data submitted to us as of February 23, 2005. As in past years, we performed an intensive review of the wage data, mostly through the use of edits designed to identify aberrant data.

We asked our fiscal intermediaries to revise or verify data elements that resulted in specific edit failures. Some unresolved data elements are included in the calculation of the proposed FY 2006 wage index, pending their resolution before calculation of the final FY 2006 index. We instructed the fiscal intermediaries to complete their data verification of questionable data elements and to transmit any changes to the wage data no later than April 15, 2005. We believe all unresolved data elements will be resolved by the date the final rule is issued. The revised data will be reflected in the final rule.

Also, as part of our editing process, we removed the data for 438 hospitals from our database: 402 hospitals became CAHs by the time we published the February public use file, and 28 hospitals were low Medicare utilization hospitals or failed edits that could not be corrected because the hospitals terminated the program or changed ownership. In addition, we removed the wage data for 8 hospitals with incomplete or inaccurate data resulting in zero or negative, or otherwise aberrant, average hourly wages. We have notified the fiscal intermediaries of these hospitals and will continue to work with the fiscal intermediaries to correct these data until we finalize our database to compute the final wage index. The data for these hospitals will be included in the final wage index if we receive corrected data that passes our edits. As a result, the proposed FY 2006 wage index is calculated based on FY 2002 wage data from 3,765 hospitals.

In constructing the proposed FY 2006 wage index, we include the wage data for facilities that were IPPS hospitals in FY 2002, even for those facilities that have since terminated their participation in the program as hospitals, as long as those data do not fail any of our edits for reasonableness. We believe that including the wage data for these hospitals is, in general, appropriate to reflect the economic conditions in the various labor market areas during the relevant past period. However, we exclude the wage data for CAHs (as discussed in 68 FR 45397). The proposed wage index in this proposed rule excludes hospitals that are designated as CAHs by February 1, 2005, the date of the latest available Medicare CAH listing at the time we released the proposed wage index public use file on February 25, 2005.

F. Computation of the Proposed FY 2006 Unadjusted Wage Index

(If you choose to comment on issues in this section, please include the caption “Wage Index” at the beginning of your comment.)

The method used to compute the proposed FY 2006 wage index without an occupational mix adjustment follows:

Step 1—As noted above, we based the proposed FY 2006 wage index on wage data reported on the FY 2002 Medicare cost reports. We gathered data from each of the non-Federal, short-term, acute care hospitals for which data were reported on the Worksheet S-3, Parts II and III of the Medicare cost report for the hospital's cost reporting period beginning on or after October 1, 2001 and before October 1, 2002. In addition, we included data from some hospitals that had cost reporting periods beginning before October 2001 and reported a cost reporting period covering all of FY 2002. These data were included because no other data from these hospitals would be available for the cost reporting period described above, and because particular labor market areas might be affected due to the omission of these hospitals. However, we generally describe these wage data as FY 2002 data. We note that, if a hospital had more than one cost reporting period beginning during FY 2002 (for example, a hospital had two short cost reporting periods beginning on or after October 1, 2001 and before October 1, 2002), we included wage data from only one of the cost reporting periods, the longer, in the wage index calculation. If there was more than one cost reporting period and the periods were equal in length, we included the wage data from the later period in the wage index calculation.

Step 2—Salaries—The method used to compute a hospital's average hourly wage excludes certain costs that are not paid under the IPPS. In calculating a hospital's average salaries plus wage-related costs, we subtracted from Line 1 (total salaries) the GME and CRNA costs reported on Lines 2, 4.01, 6, and 6.01, the Part B salaries reported on Lines 3, 5 and 5.01, home office salaries reported on Line 7, and excluded salaries reported on Lines 8 and 8.01 (that is, direct salaries attributable to SNF services, home health services, and other subprovider components not subject to the IPPS). We also subtracted from Line 1 the salaries for which no hours were reported. To determine total salaries plus wage-related costs, we added to the net hospital salaries the costs of contract labor for direct patient care, certain top management, pharmacy, laboratory, and nonteaching physician Part A services (Lines 9 and 10), home office salaries and wage-related costs reported by the hospital on Lines 11 and 12, and nonexcluded area wage-related costs (Lines 13, 14, and 18).

We note that contract labor and home office salaries for which no corresponding hours are reported were not included. In addition, wage-related costs for nonteaching physician Part A employees (Line 18) are excluded if no corresponding salaries are reported for those employees on Line 4.

Step 3—Hours—With the exception of wage-related costs, for which there are no associated hours, we computed total hours using the same methods as described for salaries in Step 2.

Step 4—For each hospital reporting both total overhead salaries and total overhead hours greater than zero, we then allocated overhead costs to areas of the hospital excluded from the wage index calculation. First, we determined the ratio of excluded area hours (sum of Lines 8 and 8.01 of Worksheet S-3, Part II) to revised total hours (Line 1 minus the sum of Part II, Lines 2, 3, 4.01, 5, 5.01, 6, 6.01, 7, and Part III, Line 13 of Worksheet S-3). We then computed the amounts of overhead salaries and hours to be allocated to excluded areas by multiplying the above ratio by the total overhead salaries and hours reported on Line 13 of Worksheet S-3, Part III. Next, we computed the amounts of overhead wage-related costs to be allocated to excluded areas using three steps: (1) We determined the ratio of overhead hours (Part III, Line 13) to revised hours (Line 1 minus the sum of Lines 2, 3, 4.01, 5, 5.01, 6, 6.01, 7, 8, and 8.01); (2) we computed overhead wage-related costs by multiplying the overhead hours ratio by wage-related costs reported on Part II, Lines 13, 14, and 18; and (3) we multiplied the computed overhead wage-related costs by the above excluded area hours ratio. Finally, we subtracted the computed overhead salaries, wage-related costs, and hours associated with excluded areas from the total salaries (plus wage-related costs) and hours derived in Steps 2 and 3.

Step 5—For each hospital, we adjusted the total salaries plus wage-related costs to a common period to determine total adjusted salaries plus wage-related costs. To make the wage adjustment, we estimated the percentage change in the employment cost index (ECI) for compensation for each 30-day increment from October 14, 2001 through April 15, 2003 for private industry hospital workers from the Bureau of Labor Statistics' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. The factors used to adjust the hospital's data were based on the midpoint of the cost reporting period, as indicated below.

For example, the midpoint of a cost reporting period beginning January 1, 2002 and ending December 31, 2002 is June 30, 2002. An adjustment factor of 1.03083 would be applied to the wages of a hospital with such a cost reporting period. In addition, for the data for any cost reporting period that began in FY 2002 and covered a period of less than 360 days or more than 370 days, we annualized the data to reflect a 1-year cost report. Dividing the data by the number of days in the cost report and then multiplying the results by 365 accomplishes annualization.

Step 6—Each hospital was assigned to its appropriate urban or rural labor market area before any reclassifications under section 1886(d)(8)(B), section 1886(d)(8)(E), or section 1886(d)(10) of the Act. Within each urban or rural labor market area, we added the total adjusted salaries plus wage-related costs obtained in Step 5 for all hospitals in that area to determine the total adjusted salaries plus wage-related costs for the labor market area.

Step 7—We divided the total adjusted salaries plus wage-related costs obtained under both methods in Step 6 by the sum of the corresponding total hours (from Step 4) for all hospitals in each labor market area to determine an average hourly wage for the area.

Step 8—We added the total adjusted salaries plus wage-related costs obtained in Step 5 for all hospitals in the nation and then divided the sum by the national sum of total hours from Step 4 to arrive at a national average hourly wage. Using the data as described above, the proposed national average hourly wage is $27.9730.

Step 9—For each urban or rural labor market area, we calculated the hospital wage index value by dividing the area average hourly wage obtained in Step 7 by the national average hourly wage computed in Step 8.

Step 10—Following the process set forth above, we developed a separate Puerto Rico-specific wage index for purposes of adjusting the Puerto Rico standardized amounts. (The national Puerto Rico standardized amount is adjusted by a wage index calculated for all Puerto Rico labor market areas based on the national average hourly wage as described above.) We added the total adjusted salaries plus wage-related costs (as calculated in Step 5) for all hospitals in Puerto Rico and divided the sum by the total hours for Puerto Rico (as calculated in Step 4) to arrive at an overall proposed average hourly wage of $12.9957 for Puerto Rico. For each labor market area in Puerto Rico, we calculated the Puerto Rico-specific wage index value by dividing the area average hourly wage (as calculated in Step 7) by the overall Puerto Rico average hourly wage.

Step 11—Section 4410 of Pub. L. 105-33 provides that, for discharges on or after October 1, 1997, the area wage index applicable to any hospital that is located in an urban area of a State may not be less than the area wage index applicable to hospitals located in rural areas in that State. Furthermore, this wage index floor is to be implemented in such a manner as to ensure that aggregate IPPS payments are not greater or less than those that would have been made in the year if this section did not apply. For FY 2006, this change affects 147 hospitals in 52 urban areas. The areas affected by this provision are identified by a footnote in Table 4A in the Addendum of this proposed rule.

G. Computation of the Proposed FY 2006 Blended Wage Index

(If you choose to comment on issues in this section, please include the caption “Blended Wage Index” at the beginning of your comments.)

For the final FY 2005 wage index, we used a blend of the occupational mix adjusted wage index and the unadjusted wage index. Specifically, we adjusted 10 percent of the FY 2005 wage index adjustment factor by a factor reflecting occupational mix. Given that 2003-2004 was the first time for the administration of the occupational mix survey, hospitals had a short timeframe for collecting their occupational mix survey data and documentation, the wage data were not in all cases from a 1-year period, and there was no baseline data for purposes of developing a desk review program, we found it prudent not to adjust the entire wage index factor by the occupational mix. However, we did find the data sufficiently reliable for applying an adjustment to 10 percent of the wage index. We found the data reliable because hospitals were given an opportunity to review their survey data and submit changes in the Spring of 2004, hospitals were already familiar with the BLS OES survey categories, hospitals were required to be able to provide documentation that could be used by fiscal intermediaries to verify survey data, and the results of our survey were consistent with the findings of the 2001 BLS OES survey, especially for nursing and physical therapy categories. In addition, we noted that we were moving cautiously with implementing the occupational mix adjustment in recognition of changing trends in hiring nurses, the largest group in the survey. We noted that some States had recently established floors on the minimum level of registered nurse staffing in hospitals in order to maintain licensure. In addition, in some rural areas, we believed that hospitals might be accounting for shortages of physicians by hiring more registered nurses. (A complete discussion of the FY 2005 wage index adjustment factor can be found in section III.G. of the FY 2005 IPPS final rule (69 FR 49052)).

In the FY 2005 final rule, we noted that while the statute required us to collect occupational mix data every 3 years, the statute does not specify how the occupational mix adjustment is to be constructed or applied. We are clarifying in this proposed rule that the October 1, 2004 deadline for implementing an occupational mix adjustment is not codified in section 1886(d)(3)(E) of the Act, which requires only a collection and measurement of occupational mix data, but rather stems from the effective date provisions in section 304(c) of the Medicare, Medicaid and SCHIP Benefits Improvement and Protection Act of 2000, Pub. L. 106-554 (BIPA). Although we believe that applying the occupational mix to 10 percent of the wage index factor fully implements the occupational mix adjustment, we also interpret BIPA as requiring only that we begin applying an adjustment by October 1, 2004. BIPA required the Secretary to complete, “by not later than September 30, 2003, for application beginning October 1, 2004,” both the collection of occupational mix data and the measurement of such data. (BIPA, section 304(c)(3).) Thus, even if adjusting 10 percent of the wage index for occupational mix were not (as we believe it to be) considered to be full implementation of the BIPA effective date, we certainly began our application of the adjustment as of October 1, 2004.

In addition, section 1886(d)(3)(E) of the Act provides broad authority for us to establish the factor we use to adjust hospital costs to take into account area differences in wage levels. The statute is clear that the wage index factor is to be “established by the Secretary.” The occupational mix is only one part of this wage index factor, which, for the most part, is calculated on the basis of average hourly wage data submitted by all hospitals in the United States. In exercising the Secretary's broad discretion to establish the factor that adjusts for geographic wage differences, in FY 2005 we adjusted 10 percent of such factor to account for occupational mix.

Indeed, we have often used percentage figures or blended amounts in exercising the Secretary's authority to establish the factor that adjusts for wage differences. For example, in the FY 2005 final rule, we implemented new mapping boundaries for assigning hospitals to the geographic labor market areas used for calculating the wage index. For hospitals that were harmed by the new geographic boundaries, we used a blended rate based on 50 percent of the wage index that would apply using the new geographic boundaries effective for FY 2005 and 50 percent of the wage index that would apply using the old geographic boundaries that were effective during FY 2004 (69 FR 49033). Similarly, beginning with FY 2000, we began phasing out costs related to GME and CRNAs from the wage index (64 FR 41505). Thus, for example, the FY 2001 wage index was based on a blend of 60 percent of an average hourly wage including these costs, and 40 percent of an average hourly wage excluding these costs (65 FR 47071).

For FY 2006, we are again proposing to adjust 10 percent of the wage index factor for occupational mix. In computing the occupational mix adjustment for the proposed FY 2006 wage index, we used the occupational mix survey data that we collected for the FY 2005 wage index, replacing the survey data for 20 hospitals that submitted revised data, and excluding the survey data for hospitals with no corresponding Worksheet S-3 wage data for FY 2006 wage index. While we considered adjusting 100 percent of the wage index by the occupational mix, we did not believe it was appropriate to use first-year survey data to make such a large adjustment. As hospitals gain additional experience with the occupational mix survey, and as we develop more information upon which to audit the data we receive, we expect to increase the portion of the wage index that is adjusted.

We also acknowledge the District Court opinion in Bellevue Hospital Center v. Leavitt, No. 04-8639 (S.D.N.Y, March 2005) finding that the statute requires full implementation of the occupational mix adjustment beginning October 1, 2004, and granting summary judgment to plaintiffs on the matter. At the time this proposed rule was written, an appeal had not yet been heard in the Circuit Court. Thus, because it was not yet clear whether the decision would be appealed, we determined that, for FY 2006, we would continue to propose the policy we believe to be most prudent in light of the survey data being used to adjust the wage index.

With 10 percent of the proposed FY 2006 wage index adjusted for occupational mix, the wage index values for 13 rural areas (27.7 percent) and 204 urban areas (53.0 percent) would decrease as a result of the adjustment. These decreases would be minimal; the largest negative impact for a rural area would be 0.19 percent and for an urban area, 0.42 percent. Conversely, 34 rural areas (72.3 percent) and 181 urban areas (47.0 percent) would benefit from this adjustment, with 1 urban area increasing 2.1 percent and 1 rural area increasing 0.39 percent. As there are no significant differences between the FY 2005 and the FY 2006 occupational mix survey data and results, we believe it is appropriate to again apply the occupational mix to 10 percent of the proposed FY 2006 wage index. (See Appendix A to this proposed rule for further analysis of the impact of the occupational mix adjustment on the proposed FY 2006 wage index.)

The wage index values in Tables 4A, 4B, 4C, and 4F and the average hourly wages in Tables 2, 3A, and 3B in the Addendum to this proposed rule include the occupational mix adjustment.

H. Proposed Revisions to the Wage Index Based on Hospital Redesignation

(If you choose to comment on issues in this section, please include the caption “Hospital Redesignations and Reclassifications” at the beginning of your comment.)

1. General

Under section 1886(d)(10) of the Act, the Medicare Geographic Classification Review Board (MGCRB) considers applications by hospitals for geographic reclassification for purposes of payment under the IPPS. Hospitals must apply to the MGCRB to reclassify by September 1 of the year preceding the year during which reclassification is sought. Generally, hospitals must be proximate to the labor market area to which they are seeking reclassification and must demonstrate characteristics similar to hospitals located in that area. The MGCRB issues its decisions by the end of February for reclassifications that become effective for the following fiscal year (beginning October 1). The regulations applicable to reclassifications by the MGCRB are located in §§ 412.230 through 412.280.

Section 1886(d)(10)(D)(v) of the Act provides that, beginning with FY 2001, a MGCRB decision on a hospital reclassification for purposes of the wage index is effective for 3 fiscal years, unless the hospital elects to terminate the reclassification. Section 1886(d)(10)(D)(vi) of the Act provides that the MGCRB must use the 3 most recent years' average hourly wage data in evaluating a hospital's reclassification application for FY 2003 and any succeeding fiscal year.

Section 304(b) of Pub. L. 106-554 provides that the Secretary must establish a mechanism under which a statewide entity may apply to have all of the geographic areas in the State treated as a single geographic area for purposes of computing and applying a single wage index, for reclassifications beginning in FY 2003. The implementing regulations for this provision are located at § 412.235.

Section 1886(d)(8)(B) of the Act requires the Secretary to treat a hospital located in a rural county adjacent to one or more urban areas as being located in the MSA to which the greatest number of workers in the county commute if: the rural county would otherwise be considered part of an urban area under the standards for designating MSAs if the commuting rates used in determining outlying counties were determined on the basis of the aggregate number of resident workers who commute to (and, if applicable under the standards, from) the central county or counties of all contiguous MSAs. In light of the new CBSA definitions and the Census 2000 data that we implemented for FY 2005 (69 FR 49027), we undertook to identify those counties meeting these criteria. The eligible counties are identified below under section III.H.5. of this preamble.

2. Effects of Reclassification

Section 1886(d)(8)(C) of the Act provides that the application of the wage index to redesignated hospitals is dependent on the hypothetical impact that the wage data from these hospitals would have on the wage index value for the area to which they have been redesignated. These requirements for determining the wage index values for redesignated hospitals is applicable both to the hospitals located in rural counties deemed urban under section 1886(d)(8)(B) of the Act and hospitals that were reclassified as a result of the MGCRB decisions under section 1886(d)(10) of the Act. Therefore, as provided in section 1886(d)(8)(C) of the Act,³ the wage index values were determined by considering the following:

³ Although section 1886(d)(8)(C)(iv)(I) of the Act also provides that the wage index for an urban area may not decrease as a result of redesignated hospitals if the urban area wage index is already below the wage index for rural areas in the State in which the urban area is located, the provision was effectively made moot by section 4410 of Pub. L. 105-33, which provides that the area wage index applicable to any hospital that is located in an urban area of a State may not be less than the area wage index applicable to hospitals located in rural areas in that State. Also, section 1886(d)(8)(C)(iv)(II) of the Act provides that an urban area's wage index may not decrease as a result of redesignated hospitals if the urban area is located in a State that is composed of a single urban area.

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• If including the wage data for the redesignated hospitals increases the wage index value for the urban area to which the hospitals are redesignated, both the area and the redesignated hospitals receive the combined wage index value. Otherwise, the hospitals located in the urban area receive a wage index excluding the wage data of hospitals redesignated into the area.

• The wage data for a reclassified urban hospital is included in both the wage index calculation of the area to which the hospital is reclassified (subject to the rules described above) and the wage index calculation of the urban area where the hospital is physically located.

• Rural areas whose wage index values would be reduced by excluding the wage data for hospitals that have been redesignated to another area continue to have their wage index values calculated as if no redesignation had occurred (otherwise, redesignated rural hospitals are excluded from the calculation of the rural wage index).

• The wage index value for a redesignated rural hospital cannot be reduced below the wage index value for the rural areas of the State in which the hospital is located.

3. Proposed Application of Hold Harmless Protection for Certain Urban Hospitals Redesignated as Rural

Section 401(a) of Pub. L. 106-113 (the Balanced Budget Refinement Act of 1999) amended section 1886(d)(8) of the Act by adding paragraph (E). Section 401(a) created a mechanism that permits an urban hospital to apply to the Secretary to be treated, for purposes of subsection (d), as being located in the rural area of the State in which the hospital is located. A hospital that is granted redesignation under section 1886(d)(8)(E) of the Act, as added by section 401 of Pub. L. 106-113 is, therefore, treated as a rural hospital for all purposes of payment under the Medicare IPPS, including the standardized amount, wage index, and disproportionate share calculations as of the effective date of the redesignation. Under current policy, as a result of an approved redesignation of an urban hospital as a rural hospital, the wage index data are excluded from the wage index calculation for the area where the urban hospital is geographically located and included in the rural hospital wage index calculation.

Last year, we became aware of an instance where the approved redesignation of an urban hospital as rural under section 1886(d)(8)(E) of the Act resulted in the hospital's data having an adverse impact on the rural wage index. We received a public comment noting that specific “hold harmless” provisions apply to reclassifications that occur under section 1886(d)(8)(B) and section 1886(d)(10) of the Act. That is, if a hospital is granted geographic reclassification under section 1886(d)(8)(B) or section 1886(d)(10) of the Act, there are certain rules that apply when the inclusion of the hospital's data results in a reduction of the reclassification area's wage index, and these rules are slightly different for urban areas versus rural areas. These rules are more fully described in the FY 2005 IPPS final rule (69 FR 49053). Generally stated, these rules prevent a rural area from being adversely affected as a result of reclassification. That is, if excluding the reclassifying hospitals' wage data would decrease the wage index of the rural area, the reclassifying hospitals are included in the rural area's wage index. Otherwise, the reclassifying hospitals are excluded. For hospitals reclassifying out of urban areas, the rules provide that the wage data for the reclassified urban hospital is included in the wage index calculation of the urban area where the hospital is physically located.

The commenter recommended that we revise our regulations and apply similar hold harmless provisions and treat hospitals redesignated under 1886(d)(8)(E) of the Act in the same manner as reclassifications under section 1886(d)(8)(B) and section 1886(d)(10) of the Act. In our continued effort to promote consistency, equity and to simplify our rules with respect to how we construct the wage indexes of rural and urban areas, we are persuaded that there is a need to modify our policy when hospital redesignations occur under section 1886(d)(8)(E) of the Act. Therefore, for the FY 2006 wage index, we are proposing to apply the hold harmless rule that currently applies when rural hospitals are reclassifying out of the rural area (from rural to urban) to situations where hospitals are reclassifying into the rural area (from urban to rural under section 1886(d)(8)(E) of the Act). Thus, the rule would be that the wage data of the urban hospital reclassifying into the rural area is included in the rural area's wage index, if including the urban hospital's data increases the wage index of the rural area. Otherwise, the wage data is excluded. Similarly, we are proposing to apply to these cases the rule that currently applies when urban hospitals reclassify under the MGCRB process. Thus, the wage data for an urban hospital reclassifying under section 1886(d)(8)(E) of the Act is always included in the wage index of the urban area where the hospital is located, and can also be included in the wage index of the rural area to which it is reclassifying (if doing so increases the rural area's wage index). We believe this proposal provides uniformity in the way geographic areas are treated under all types of reclassifications. In addition, our proposal promotes predictability by alleviating fluctuations in the wage indexes due to a section 401 redesignation.

We are including in the Addendum to this proposed rule Table 9C, which shows hospitals redesignated under section 1886(d)(8)(E) of the Act.

4. FY 2006 MGCRB Reclassifications

At the time this proposed rule was constructed, the MGCRB had completed its review of FY 2006 reclassification requests. There were 295 hospitals approved for wage index reclassifications by the MGCRB for FY 2006. Because MGCRB wage index reclassifications are effective for 3 years, hospitals reclassified during FY 2004 or FY 2005 are eligible to continue to be reclassified based on prior reclassifications to current MSAs during FY 2006. There were 395 hospitals reclassified for wage index for FY 2005, and 94 hospitals reclassified for wage index in FY 2004. Some of the hospitals that reclassified in FY 2004 and FY 2005 have elected not to continue their reclassifications in FY 2006 because, under the new labor market area definitions, they are now physically located in the areas to which they previously reclassified. Of all of the hospitals approved for reclassification for FY 2004, FY 2005, and FY 2006, 672 hospitals will be in a reclassification status for FY 2006.

Prior to FY 2004, hospitals had been able to apply to be reclassified for purposes of either the wage index or the standardized amount. Section 401 of Pub. L. 108-173 established that all hospitals will be paid on the basis of the large urban standardized amount, beginning with FY 2004. Consequently, all hospitals are paid on the basis of the same standardized amount, which made such reclassifications moot. Although there could still be some benefit in terms of payments for some hospitals under the DSH payment adjustment for operating IPPS, section 402 of Pub. L. 108-173 equalized DSH payment adjustments for rural and urban hospitals, with the exception that the rural DSH adjustment is capped at 12 percent (except that RRCs have no cap). (A detailed discussion of this application appears in section IV.I. of the preamble of the FY 2005 IPPS final rule (69 FR 49085.)

5. Proposed FY 2006 Redesignations Under Section 1886(d)(8)(B) of the Act

Beginning October 1, 1988, section 1886(d)(8)(B) of the Act required us to treat a hospital located in a rural county adjacent to one or more urban areas as being located in the MSA if certain criteria were met. Prior to FY 2005, the rule was that a rural county adjacent to one or more urban areas would be treated as being located in the MSA to which the greatest number of workers in the county commute, if the rural county would otherwise be considered part of an urban area under the standards published in the Federal Register on January 3, 1980 (45 FR 956) for designating MSAs (and NECMAs), and if the commuting rates used in determining outlying counties (or, for New England, similar recognized areas) were determined on the basis of the aggregate number of resident workers who commute to (and, if applicable under the standards, from) the central county or counties of all contiguous MSAs (or NECMAs). Hospitals that met the criteria using the January 3, 1980 version of these OMB standards were deemed urban for purposes of the standardized amounts and for purposes of assigning the wage data index.

On June 6, 2003, OMB announced the new CBSAs based on Census 2000 data. For FY 2005, we used OMB's 2000 CBSA standards and the Census 2000 data to identify counties qualifying for redesignation under section 1886(d)(8)(B) for the purpose of assigning the wage index to the urban area. We presented this listing, effective for discharges occurring on or after October 1, 2004 (FY 2005), in Chart 6 of the FY 2005 final rule (69 FR 49057). However, Chart 6 in the FY 2005 final rule contained a printing error in which we misidentified rural counties that qualified for redesignation under section 1886(d)(8)(B) of the Act. The list of rural counties qualifying to be urban in that Chart 6 incorrectly included Monroe, PA and Walworth, WI. This error was made only in the chart and not in the application of the rules; that is, we correctly applied the rules to the correct rural counties qualifying to be urban for FY 2005.

In addition, we discovered that, in the FY 2005 IPPS final rule, we had erroneously printed the names of the entire Metropolitan Statistical Areas rather than the Metropolitan Division names. Because we recognized Metropolitan Divisions as MSAs in the FY 2005 IPPS final rule (69 FR 49029), we should have printed the division names for the following counties: Henry, FL; Starke, IN; Henderson, TX; Fannin, TX; and Island, WA.

The chart below contains the corrected listing of the rural counties designated as urban under section 1886(d)(8)(B) of the Act that we are proposing to use for FY 2006. We are proposing that, for discharges occurring on or after October 1, 2005, hospitals located in the first column of this chart will be redesignated for purposes of using the wage index of the urban area listed in the second column.

BILLING CODE 4120-01-P

BILLING CODE 4120-01-C

As in the past, hospitals redesignated under section 1886(d)(8)(B) of the Act are also eligible to be reclassified to a different area by the MGCRB. Affected hospitals are permitted to compare the reclassified wage index for the labor market area in Table 4C in the Addendum of this proposed rule into which they have been reclassified by the MGCRB to the wage index for the area to which they are redesignated under section 1886(d)(8)(B) of the Act. Hospitals may withdraw from an MGCRB reclassification within 45 days of the publication of this proposed rule.

6. Reclassifications Under Section 508 of Pub. L. 108-173

Under section 508 of Pub. L. 108-173, a qualifying hospital could appeal the wage index classification otherwise applicable to the hospital and apply for reclassification to another area of the State in which the hospital is located (or, at the discretion of the Secretary, to an area within a contiguous State). We implemented this process through notices published in the Federal Register on January 6, 2004 (69 FR 661) and February 13, 2004 (69 FR 7340). Such reclassifications are applicable to discharges occurring during the 3-year period beginning April 1, 2004 and ending March 31, 2007. Under section 508(b), reclassifications under this process do not affect the wage index computation for any area or for any other hospital and cannot be effected in a budget neutral manner.

We show the reclassifications effective under the one-time appeal process in Table 9B in the Addendum to this proposed rule.

I. Proposed FY 2006 Wage Index Adjustment Based on Commuting Patterns of Hospital Employees

(If you choose to comment on issues in this section, please include the caption “Out-Migration Adjustment” at the beginning of your comment.)

In accordance with the broad discretion under section 1886(d)(13) of the Act, as added by section 505 of Pub. L. 108-173, beginning with FY 2005, we established a process to make adjustments to the hospital wage index based on commuting patterns of hospital employees. The process, outlined in the FY 2005 IPPS final rule (69 FR 49061), provides for an increase in the wage index for hospitals located in certain counties that have a relatively high percentage of hospital employees who reside in the county but work in a different county (or counties) with a higher wage index. Such adjustments to the wage index are effective for 3 years, unless a hospital requests to waive the application of the adjustment. A county will not lose its status as a qualifying county due to wage index changes during the 3-year period, and counties will receive the same wage index increase for those 3 years. However, a county that qualifies in any given year may no longer qualify after the 3-year period, or it may qualify but receive a different adjustment to the wage index level. Hospitals that receive this adjustment to their wage index are not eligible for reclassification under section 1886(d)(8) or section 1886(d)(10) of the Act. Adjustments under this provision are not subject to the IPPS budget neutrality requirements at section 1886(d)(3)(E) or section 1886(d)(8)(D) of the Act.

Hospitals located in counties that qualify for the wage index adjustment are to receive an increase in the wage index that is equal to the average of the differences between the wage indexes of the labor market area(s) with higher wage indexes and the wage index of the resident county, weighted by the overall percentage of hospital workers residing in the qualifying county who are employed in any labor market area with a higher wage index. We have employed the prereclassified wage indexes in making these calculations.

We are proposing that hospitals located in the qualifying counties identified in Table 4J in the Addendum to this proposed rule that have not already reclassified through section 1886(d)(10) of the Act, redesignated through section 1886(d)(8) of the Act, received a section 508 reclassification, or requested to waive the application of the out-migration adjustment would receive the wage index adjustment listed in the table for FY 2006. We used the same formula described in the FY 2005 final rule (69 FR 49064) to calculate the out-migration adjustment. This proposed adjustment was calculated as follows:

Step 1. Subtract the wage index for the qualifying county from the wage index for the higher wage area(s).

Step 2. Divide the number of hospital employees residing in the qualifying county who are employed in such higher wage index area by the total number of hospital employees residing in the qualifying county who are employed in any higher wage index area. Multiply this result by the result obtaining in Step 1.

Step 3. Sum the products resulting from Step 2 (if the qualifying county has workers commuting to more than one higher wage area).

Step 4. Multiply the result from Step 3 by the percentage of hospital employees who are residing in the qualifying county and who are employed in any higher wage index area.

The proposed adjustments calculated for qualifying hospitals are listed in Table 4J in the Addendum to this proposed rule. These proposed adjustments would be effective for each county for a period of 3 fiscal years. Hospitals that received the adjustment in FY 2005 will be eligible to retain that same adjustment for FY 2006 and FY 2007. For hospitals in newly qualified counties, adjustments to the wage index would be effective for 3 years, beginning with discharges occurring on or after October 1, 2005.

As previously noted, hospitals receiving the wage index adjustment under section 1886(d)(13)(F) of the Act are not eligible for reclassification under section 1886(d)(10) of the Act or reclassifications under section 508 of Pub. L. 108-173. Hospitals that wish to waive the application of this wage index adjustment must notify CMS within 45 days of the publication of this proposed rule. Waiver notification should be sent to the following address: Centers for Medicare and Medicaid Services, Center for Medicare Management, Attention: Wage Index Adjustment Waivers, Division of Acute Care, Room C4-08-06, 7500 Security Boulevard, Baltimore, MD 21244-1850. We will assume that hospitals that have been redesignated under section 1886(d)(8) of the Act or reclassified under section 886(d)(10) of the Act or under section 508 of Pub. L. 108-173 would prefer to keep their redesignation/reclassification unless they explicitly notify CMS that they would like to receive the out-migration adjustment instead. In addition, hospitals that wish to retain their redesignation/reclassification (instead of receiving the out-migration adjustment) for FY 2006 do not need to submit a formal request to CMS, and will automatically retain their redesignation/reclassification status for FY 2006. However, consistent with § 412.273, hospitals that have been reclassified by the MGCRB are permitted to withdraw their applications within 45 days of the publication of this proposed rule. Hospitals that have been reclassified by the MGCRB (including reclassifications under section 508 of Pub. L. 108-173) may terminate an existing 3-year reclassification within 45 days of the publication of this proposed rule in order to receive the wage index adjustment under this provision. Hospitals that are eligible to receive the wage index adjustment and that withdraw their application for reclassification will then automatically receive the wage index adjustment listed in Table 4J in the Addendum to this proposed rule. The request for withdrawal of an application for reclassification or termination of an existing 3-year reclassification that would be effective in FY 2006 must be received by the MGCRB within 45 days of the publication of this proposed rule. Hospitals should carefully review the wage index adjustment that they would receive under this provision (as listed in Table 2 in the Addendum to this proposed rule) in comparison to the wage index adjustment that they would receive under the MGCRB reclassification (Table 9 in the Addendum to this proposed rule).

J. Process for Requests for Wage Index Data Corrections

(If you choose to comment on issues in this section, please include the caption “Wage Index Data Corrections” at the beginning of your comment.)

In the FY 2005 IPPS final rule (68 FR 27194), we revised the process and timetable for application for development of the wage index, beginning with the FY 2005 wage index. The preliminary and unaudited Worksheet S-3 wage data and occupational mix survey files were made available on October 8, 2004 through the Internet on the CMS Web site at: http://cms.hhs.gov/providers/hipps/ippswage.asp. In a memorandum dated October 6, 2004, we instructed all Medicare fiscal intermediaries to inform the IPPS hospitals they service of the availability of the wage index data files and the process and timeframe for requesting revisions (including the specific deadlines listed below). We also instructed the fiscal intermediaries to advise hospitals that these data are also made available directly through their representative hospital organizations.

If a hospital wished to request a change to its data as shown in the October 8, 2004 wage and occupational mix data files, the hospital was to submit corrections along with complete, detailed supporting documentation to its fiscal intermediary by November 29, 2004. Hospitals were notified of this deadline and of all other possible deadlines and requirements, including the requirement to review and verify their data as posted on the preliminary wage index data file on the Internet, through the October 6, 2004 memorandum referenced above.

In the October 6, 2004 memorandum, we also specified that a hospital could only request revisions to the occupational mix data for the reporting period that the hospital used in its original FY 2005 wage index occupational mix survey. That is, a hospital that submitted occupational mix data for the 12-month reporting period could not switch to submitting data for the 4-week reporting period and vice versa. Further, a hospital could not submit an occupational mix survey for the periods beginning before January 1, 2003, or after January 11, 2004. In addition, a hospital that did not submit an occupational mix survey for the FY 2005 wage index was not permitted to submit a survey for the FY 2006 wage index.

The fiscal intermediaries notified the hospitals by mid-February 2005 of any changes to the wage index data as a result of the desk reviews and the resolution of the hospitals' late November 2004 change requests. The fiscal intermediaries also submitted the revised data to CMS by mid-February 2005. CMS published the proposed wage index public use files that included hospitals' revised wage data on February 25, 2005. In a memorandum also dated February 25, 2005, we instructed fiscal intermediaries to notify all hospitals regarding the availability of the proposed wage index public use files and the criteria and process for requesting corrections and revisions to the wage index data. Hospitals had until March 14, 2005 to submit requests to the fiscal intermediaries for reconsideration of adjustments made by the fiscal intermediaries as a result of the desk review, and to correct errors due to CMS's or the fiscal intermediary's mishandling of the wage index data. Hospitals were also required to submit sufficient documentation to support their requests.

After reviewing requested changes submitted by hospitals, fiscal intermediaries are to submit any additional revisions resulting from the hospitals' reconsideration requests by April 15, 2005. The deadline for a hospital to request CMS intervention in cases where the hospital disagrees with the fiscal intermediary's policy interpretations is April 22, 2005.

Hospitals should also examine Table 2 in the Addendum to this proposed rule. Table 2 contains each hospital's adjusted average hourly wage used to construct the wage index values for the past 3 years, including the FY 2002 data used to construct the FY 2006 wage index. We note that the hospital average hourly wages shown in Table 2 only reflect changes made to a hospital's data and transmitted to CMS by February 23, 2005.

We will release a final wage index data public use file in early May 2005 to hospital associations and the public on the Internet at http://www.cms.hhs.gov/providers/hipps/ippswage.asp. The May 2005 public use file will be made available solely for the limited purpose of identifying any potential errors made by CMS or the fiscal intermediary in the entry of the final wage data that result from the correction process described above (revisions submitted to CMS by the fiscal intermediaries by April 15, 2005). If, after reviewing the May 2005 final file, a hospital believes that its wage data were incorrect due to a fiscal intermediary or CMS error in the entry or tabulation of the final wage data, it should send a letter to both its fiscal intermediary and CMS that outlines why the hospital believes an error exists and provide all supporting information, including relevant dates (for example, when it first became aware of the error). CMS and the fiscal intermediaries must receive these requests no later than June 10, 2005. Requests mailed to CMS should be sent to:

Centers for Medicare & Medicaid Services, Center for Medicare Management, Attention: Wage Index Team, Division of Acute Care, C4-08-06, 7500 Security Boulevard, Baltimore, MD 21244-1850.

Each request also must be sent to the fiscal intermediary. The fiscal intermediary will review requests upon receipt and contact CMS immediately to discuss its findings.

At this point in the process, that is, after the release of the May 2005 wage index data file, changes to the hospital wage data will only be made in those very limited situations involving an error by the fiscal intermediary or CMS that the hospital could not have known about before its review of the final wage index data file. Specifically, neither the intermediary nor CMS will approve the following types of requests:

• Requests for wage data corrections that were submitted too late to be included in the data transmitted to CMS by fiscal intermediaries on or before April 15, 2005.

• Requests for correction of errors that were not, but could have been, identified during the hospital's review of the February 25, 2005 wage index data file.

• Requests to revisit factual determinations or policy interpretations made by the fiscal intermediary or CMS during the wage index data correction process.

Verified corrections to the wage index received timely by CMS and the fiscal intermediaries (that is, by June 10, 2005) will be incorporated into the final wage index to be published by August 1, 2005, and to be effective October 1, 2005.

We created the processes described above to resolve all substantive wage index data correction disputes before we finalize the wage and occupational mix data for the FY 2006 payment rates. Accordingly, hospitals that do not meet the procedural deadlines set forth above will not be afforded a later opportunity to submit wage index data corrections or to dispute the fiscal intermediary's decision with respect to requested changes. Specifically, our policy is that hospitals that do not meet the procedural deadlines set forth above will not be permitted to challenge later, before the Provider Reimbursement Review Board, the failure of CMS to make a requested data revision (See W. A. Foote Memorial Hospital v. Shalala, No. 99-CV-75202-DT (E.D. Mich. 2001), also Palisades General Hospital v. Thompson, No. 99-1230 (D.D.C. 2003)).

Again, we believe the wage index data correction process described above provides hospitals with sufficient opportunity to bring errors in their wage index data to the fiscal intermediaries' attention. Moreover, because hospitals will have access to the final wage index data by early May 2005, they have the opportunity to detect any data entry or tabulation errors made by the fiscal intermediary or CMS before the development and publication of the final FY 2006 wage index by August 1, 2005, and the implementation of the FY 2006 wage index on October 1, 2005. If hospitals avail themselves of the opportunities afforded to provide and make corrections to the wage data, the wage index implemented on October 1 should be accurate. Nevertheless, in the event that errors are identified by hospitals and brought to our attention after June 10, 2005, we retain the right to make midyear changes to the wage index under very limited circumstances.

Specifically, in accordance with § 412.64(k)(1) of our existing regulations, we make midyear corrections to the wage index for an area only if a hospital can show that: (1) The fiscal intermediary or CMS made an error in tabulating its data; and (2) the requesting hospital could not have known about the error or did not have an opportunity to correct the error, before the beginning of the fiscal year. For purposes of this provision, “before the beginning of the fiscal year” means by the June deadline for making corrections to the wage data for the following fiscal year's wage index. This provision is not available to a hospital seeking to revise another hospital's data that may be affecting the requesting hospital's wage index for the labor market area. As indicated earlier, since CMS makes the wage data available to a hospital on the CMS website prior to publishing both the proposed and final IPPS rules, and the fiscal intermediaries notify hospitals directly of any wage data changes after completing their desk reviews, we do not expect that midyear corrections would be necessary. However, under our current policy, if the correction of a data error changes the wage index value for an area, the revised wage index value will be effective prospectively from the date the correction is made.

We are proposing to revise § 412.64(k)(2) to specify that a change to the wage index can be made retroactive to the beginning of the Federal fiscal year only when: (1) The fiscal intermediary or CMS made an error in tabulating data used for the wage index calculation; (2) the hospital knew about the error and requested that the fiscal intermediary and CMS correct the error using the established process and within the established schedule for requesting corrections to the wage data, before the beginning of the fiscal year for the applicable IPPS update (that is, by the June 10, 2005 deadline for the FY 2006 wage index); and (3) CMS agreed that the fiscal intermediary or CMS made an error in tabulating the hospital's wage data and the wage index should be corrected. We are proposing this change because there may be instances in which a hospital identifies an error in its wage data and submits a correction request using all appropriate procedures and by the June deadline, CMS agrees that the fiscal intermediary or CMS caused the error in the hospital's wage data and that the wage index must be corrected, but CMS fails to publish or implement the corrected wage index value by the beginning of the Federal fiscal year. We believe that the above proposed revision to § 412.64(k)(2) is appropriate and fair. We also believe that unlike a generalized retroactive policy, the situations where this will occur will be minimal, thus minimizing the administrative burden associated with such retroactive corrections. In those circumstances where a hospital requests a correction to its wage data before CMS calculates the final wage index (that is, by the June deadline), and CMS acknowledges that the error in the hospital's wage data caused by CMS's or the fiscal intermediary's mishandling of the data, we believe that the hospital should not be penalized by our delay in publishing or implementing the correction. As with our current policy, this provision would not be available to a hospital seeking to revise another hospital's data. In addition, the provision could not be used to correct prior years' wage data; it could only be used for the current Federal fiscal year. In other situations, we continue to believe that it is appropriate to make prospective corrections to the wage index in those circumstances where a hospital could not have known about or did not have the opportunity to correct the fiscal intermediary's or CMS's error before the beginning of the fiscal year (that is, by the June deadline).

We are proposing to make this change to § 412.64(k)(2) effective on October 1, 2005, that is, beginning with the FY 2006 wage index. We note that, as with prospective changes to the wage index, the proposed retroactive correction would be made irrespective of whether the change increases or decreases a hospital's payment rate. In addition, we note that the policy of retroactive adjustment would still apply in those instances where a judicial decision reverses a CMS denial of a hospital's wage data revision request.

In addition, we are proposing to correct the FY 2005 wage index retroactively (that is, from October 1, 2004) on a one-time only basis for a limited circumstance using the authority provided under section 903(a)(1) of Pub. L. 108-173. This provision authorizes the Secretary to make retroactive changes to items and services if failure to apply such changes would be contrary to the public interest. However, as indicated, our current regulations at § 412.64(k)(1) allow only for a prospective correction to the hospitals' area wage index values. We are proposing to correct the FY 2005 wage index retroactively in the limited circumstance where a hospital meets all of the following criteria: (1) The fiscal intermediary or CMS made an error in tabulating a hospital's FY 2005 wage index data; (2) the hospital informed the fiscal intermediary or CMS, or both, about the error, following the established schedule and process for requesting corrections to its FY 2005 wage index data; and (3) CMS agreed before October 1 that the fiscal intermediary or CMS made an error in tabulating the hospital's wage data and the wage index should be corrected by the beginning of the Federal fiscal year (that is, by October 1, 2004), but CMS was unable to publish the correction by the beginning of the fiscal year.

On December 30, 2004, we published in the Federal Register a correction notice to the FY 2005 IPPS final rule that included the corrected wage data for four hospitals that meet all of the three above stated criteria (69 FR 78526). These corrections were effective January 1, 2005. As noted, our current regulations allow only for a prospective correction to the hospitals' area wage index values. However, we believe that, in the limited circumstance mentioned above, a retroactive correction to the FY 2005 wage index is appropriate and meets the condition of section 903(a)(1) of Pub. L. 108-173 that “failure to apply the change retroactively would be contrary to the public interest.”

IV. Proposed Rebasing and Revision of the Hospital Market Baskets

(If you choose to comment on issues in this section, please include the caption “Hospital Market Basket” at the beginning of your comment.)

A. Background

Effective for cost reporting periods beginning on or after July 1, 1979, we developed and adopted a hospital input price index (that is, the hospital market basket for operating costs). Although “market basket” technically describes the mix of goods and services used to produce hospital care, this term is also commonly used to denote the input price index (that is, cost category weights and price proxies combined) derived from that market basket. Accordingly, the term “market basket” as used in this document refers to the hospital input price index.

The terms “rebasing” and “revising,” while often used interchangeably, actually denote different activities. “Rebasing” means moving the base year for the structure of costs of an input price index (for example, in this proposed rule, we are proposing to shift the base year cost structure for the IPPS hospital index from FY 1997 to FY 2002). “Revising” means changing data sources, or price proxies, used in the input price index.

The percentage change in the market basket reflects the average change in the price of goods and services hospitals purchase in order to furnish inpatient care. We first used the market basket to adjust hospital cost limits by an amount that reflected the average increase in the prices of the goods and services used to provide hospital inpatient care. This approach linked the increase in the cost limits to the efficient utilization of resources.

Since the inception of the IPPS, the projected change in the hospital market basket has been the integral component of the update factor by which the prospective payment rates are updated every year. An explanation of the hospital market basket used to develop the prospective payment rates was published in the Federal Register on September 1, 1983 (48 FR 39764). We also refer the reader to the August 1, 2002 Federal Register (67 FR 50032) in which we discussed the previous rebasing of the hospital input price index.

The hospital market basket is a fixed weight, Laspeyres-type price index that is constructed in three steps. First, a base period is selected (in this proposed rule, FY 2002) and total base period expenditures are estimated for a set of mutually exclusive and exhaustive spending categories based upon type of expenditure. Then the proportion of total operating costs that each category represents is determined. These proportions are called cost or expenditure weights. Second, each expenditure category is matched to an appropriate price or wage variable, referred to as a price proxy. In nearly every instance, these price proxies are price levels derived from publicly available statistical series that are published on a consistent schedule, preferably at least on a quarterly basis.

Finally, the expenditure weight for each cost category is multiplied by the level of its respective price proxy. The sum of these products (that is, the expenditure weights multiplied by their price levels) for all cost categories yields the composite index level of the market basket in a given period. Repeating this step for other periods produces a series of market basket levels over time. Dividing an index level for a given period by an index level for an earlier period produces a rate of growth in the input price index over that time period.

The market basket is described as a fixed-weight index because it describes the change in price over time of the same mix of goods and services purchased to provide hospital services in a base period. The effects on total expenditures resulting from changes in the quantity or mix of goods and services (intensity) purchased subsequent to the base period are not measured. For example, shifting a traditionally inpatient type of care to an outpatient setting might affect the volume of inpatient goods and services purchased by the hospital, but would not be factored into the price change measured by a fixed weight hospital market basket. In this manner, the market basket measures only the pure price change. Only when the index is rebased using a more recent base period would the quantity and intensity effects be captured in the cost weights. Therefore, we rebase the market basket periodically so the cost weights reflect changes in the mix of goods and services that hospitals purchase (hospital inputs) to furnish inpatient care between base periods. We last rebased the hospital market basket cost weights effective for FY 2003 (67 FR 50032, August 1, 2002), with FY 1997 data used as the base period for the construction of the market basket cost weights.

B. Rebasing and Revising the Hospital Market Basket

1. Development of Cost Categories and Weights

a. Medicare Cost Reports

The major source of expenditure data for developing the proposed rebased and revised hospital market basket cost weights is the FY 2002 Medicare cost reports. These cost reports are from IPPS hospitals only. They do not reflect data from hospitals excluded from the IPPS or CAHs. The IPPS cost reports yield seven major expenditure or cost categories: wages and salaries, employee benefits, contract labor, pharmaceuticals, professional liability insurance (malpractice), blood and blood products, and a residual “all other.”

b. Other Data Sources

In addition to the Medicare cost reports, other sources of data used in developing the market basket weights are the Benchmark Input-Output Tables (I-Os) created by the Bureau of Economic Analysis, U.S. Department of Commerce, and the Business Expenses Survey developed by the Bureau of the Census, U.S. Department of Commerce, from its Economic Census.

New data for these Census sources are scheduled for publication every 5 years, but often take up to 7 years after the reference year. Only an Annual I-O is produced each year, but the Annual I-O contains less industry detail than does the Benchmark I-O. When we rebased the market basket using FY 1997 data in the FY 2003 IPPS final rule, the 1997 Benchmark I-O was not yet available. Therefore, we did not incorporate data from that source into the FY 1997-based market basket (67 FR 50033). However, we did use a secondary source, the 1997 Annual Input-Output tables. The third source of data, the 1997 Business Expenditure Survey (now known as the Business Expenses Survey) was used to develop weights for the utilities and telephone services categories.

The 1997 Benchmark I-O data are a much more comprehensive and complete set of data than the 1997 Annual I-O estimates. The 1997 Annual I-O is an update of the 1992 I-O tables, while the 1997 Benchmark I-O is an entirely new set of numbers derived from the 1997 Economic Census. The 2002 Benchmark Input-Output tables are not yet available. Therefore, we are proposing to use the 1997 Benchmark I-O data in the proposed FY 2002-based market basket, to be effective for FY 2006. Instead of using the less detailed, less accurate Annual I-O data, we aged the 1997 Benchmark I-O data forward to FY 2002. The methodology we used to age the data involves applying the annual price changes from the price proxies to the appropriate cost categories. We repeat this practice for each year.

The “all other” cost category is further divided into other hospital expenditure category shares using the 1997 Benchmark Input-Output tables. Therefore, the “all other” cost category expenditure shares are proportional to their relationship to “all other” totals in the I-O tables. For instance, if the cost for telephone services were to represent 10 percent of the sum of the “all other” I-O (see below) hospital expenditures, then telephone services would represent 10 percent of the market basket's “all other” cost category.

2. PPS—Selection of Price Proxies

After computing the FY 2002 cost weights for the proposed rebased hospital market basket, it is necessary to select appropriate wage and price proxies to reflect the rate-of-price change for each expenditure category. With the exception of the Professional Liability proxy, all the indicators are based on Bureau of Labor Statistics (BLS) data and are grouped into one of the following BLS categories:

• Producer Price Indexes—Producer Price Indexes (PPIs) measure price changes for goods sold in other than retail markets. PPIs are preferable price proxies for goods that hospitals purchase as inputs in producing their outputs because the PPIs would better reflect the prices faced by hospitals. For example, we use a special PPI for prescription drugs, rather than the Consumer Price Index (CPI) for prescription drugs because hospitals generally purchase drugs directly from the wholesaler. The PPIs that we use measure price change at the final stage of production.

• Consumer Price Indexes—Consumer Price Indexes (CPIs) measure change in the prices of final goods and services bought by the typical consumer. Because they may not represent the price faced by a producer, we used CPIs only if an appropriate PPI was not available, or if the expenditures were more similar to those of retail consumers in general rather than purchases at the wholesale level. For example, the CPI for food purchased away from home is used as a proxy for contracted food services.

• Employment Cost Indexes—Employment Cost Indexes (ECIs) measure the rate of change in employee wage rates and employer costs for employee benefits per hour worked. These indexes are fixed-weight indexes and strictly measure the change in wage rates and employee benefits per hour. Appropriately, they are not affected by shifts in employment mix.

We evaluated the price proxies using the criteria of reliability, timeliness, availability, and relevance. Reliability indicates that the index is based on valid statistical methods and has low sampling variability. Timeliness implies that the proxy is published regularly, at least once a quarter. Availability means that the proxy is publicly available. Finally, relevance means that the proxy is applicable and representative of the cost category weight to which it is applied. The CPIs, PPIs, and ECIs selected meet these criteria.

Chart 2 sets forth the complete proposed market basket including cost categories, weights, and price proxies. For comparison purposes, the corresponding FY 1997-based market basket is listed as well. A summary outlining the choice of the various proxies follows the chart.

BILLING CODE 4120-01-P

BILLING CODE 4120-01-C

BILLING CODE 4120-01-C

a. Wages and Salaries

For measuring the price growth of wages in the proposed FY 2002-based market basket, we are proposing to use the ECI for wages and salaries for civilian hospital workers as the proxy for wages in the hospital market basket. This same proxy was used for the 1997-based market basket.

b. Employee Benefits

The proposed FY 2002-based hospital market basket uses the ECI for employee benefits for civilian hospital workers. This is the same proxy that was used in the FY 1997-based market basket.

c. Nonmedical Professional Fees

The ECI for compensation for professional and technical workers in private industry is applied to this category because it includes occupations such as management and consulting, legal, accounting and engineering services. The same proxy was used in the FY 1997-based market basket.

d. Fuel, Oil, and Gasoline

The percentage change in the price of gas fuels as measured by the PPI (Commodity Code #0552) is applied to this component. The same proxy was used in the FY 1997-based market basket.

e. Electricity

The percentage change in the price of commercial electric power as measured by the PPI (Commodity Code #0542) is applied to this component. The same proxy was used in the FY 1997-based market basket.

f. Water and Sewerage

The percentage change in the price of water and sewerage maintenance as measured by the CPI for all urban consumers (CPI Code #CUUR0000SEHG01) is applied to this component. The same proxy was used in the FY 1997-based market basket.

g. Professional Liability Insurance

The proposed FY 2002-based index uses the percentage change in the hospital professional liability insurance (PLI) premiums as estimated by the CMS Hospital Professional Liability Index, which we use as a proxy in the Medicare Economic Index (68 FR 63244), for the proxy of this category. Similar to the Physicians Professional Liability Index, we attempt to collect commercial insurance premiums for a fixed level of coverage, holding nonprice factors constant (such as a change in the level of coverage). In the FY 1997-based market basket, the same price proxy was used.

We continue to research options for improving our proxy for professional liability insurance. This research includes exploring various options for expanding our current survey, including the identification of another entity that would be willing to work with us to collect more complete and comprehensive data. We are also exploring other options such as third party or industry data that might assist us in creating a more precise measure of PLI premiums. At this time, we have not yet identified a preferred option. Therefore, we are not proposing to make any changes to the proxy in this proposed rule.

h. Pharmaceuticals

The percentage change in the price of prescription drugs as measured by the PPI (PPI Code #PPI283D#RX) is used as a proxy for this category. This is a special index produced by BLS and is the same proxy used in the 1997-based index.

i. Food: Direct Purchases

The percentage change in the price of processed foods and feeds as measured by the PPI (Commodity Code #02) is applied to this component. The same proxy was used in the FY 1997-based market basket.

j. Food: Contract Services

The percentage change in the price of food purchased away from home as measured by the CPI for all urban consumers (CPI Code #CUUR0000SEFV) is applied to this component. The same proxy was used in the FY 1997-based market basket.

k. Chemicals

The percentage change in the price of industrial chemical products as measured by the PPI (Commodity Code #061) is applied to this component. While the chemicals hospitals purchase include industrial as well as other types of chemicals, the industrial chemicals component constitutes the largest proportion by far. Thus, we believe that Commodity Code #061 is the appropriate proxy. The same proxy was used in the FY 1997-based market basket.

l. Medical Instruments

The percentage change in the price of medical and surgical instruments as measured by the PPI (Commodity Code #1562) is applied to this component. The same proxy was used in the FY 1997-based market basket.

m. Photographic Supplies

The percentage change in the price of photographic supplies as measured by the PPI (Commodity Code #1542) is applied to this component. The same proxy was used in the FY 1997-based market basket.

n. Rubber and Plastics

The percentage change in the price of rubber and plastic products as measured by the PPI (Commodity Code #07) is applied to this component. The same proxy was used in the FY 1997-based market basket.

o. Paper Products

The percentage change in the price of converted paper and paperboard products as measured by the PPI (Commodity Code #0915) is used. The same proxy was used in the FY 1997-based market basket.

p. Apparel

The percentage change in the price of apparel as measured by the PPI (Commodity Code #381) is applied to this component. The same proxy was used in the FY 1997-based market basket.

q. Machinery and Equipment

The percentage change in the price of machinery and equipment as measured by the PPI (Commodity Code #11) is applied to this component. The same proxy was used in the FY 1997-based market basket.

r. Miscellaneous Products

The percentage change in the price of all finished goods less food and energy as measured by the PPI (Commodity Code #SOP3500) is applied to this component. Using this index removes the double-counting of food and energy prices, which are already captured elsewhere in the market basket. The same proxy was used in the FY 1997-based index. The weight for this cost category is higher than in the FY 1997-based index because the weight for blood and blood products (1.082) is added to it. In the FY 1997-based market basket, we included a separate cost category for blood and blood products, using the BLS PPI (Commodity Code #063711) for blood and derivatives as a price proxy. A review of recent trends in the PPI for blood and derivatives suggests that its movements may not be consistent with the trends in blood costs faced by hospitals. While this proxy did not match exactly with the product hospitals are buying, its trend over time appears to be reflective of the historical price changes of blood purchased by hospitals. However, an apparent divergence over recent periods led us to reevaluate whether the PPI for blood and derivatives was an appropriate measure of the changing price of blood. We ran test market baskets classifying blood in three separate cost categories: blood and blood products, contained within chemicals as was done for the FY 1992-based index, and within miscellaneous products. These categories use as proxies the following PPIs: The PPI for blood and blood products, the PPI for chemicals, and the PPI for finished goods less food and energy, respectively. Of these three proxies, the PPI for finished goods less food and energy moved most like the recent blood cost and price trends. In addition, the impact on the overall market basket by using different proxies for blood was negligible, mostly due to the relatively small weight for blood in the market basket. Therefore, we chose the PPI for finished goods less food and energy for the blood proxy because we believe it will best be able to proxy price changes (not quantities or required tests) associated with blood purchased by hospitals. We will continue to evaluate this proxy for its appropriateness and will explore the development of alternative price indexes to proxy the price changes associated with this cost.

s. Telephone

The percentage change in the price of telephone services as measured by the CPI for all urban consumers (CPI Code # CUUR0000SEED) is applied to this component. The same proxy was used in the FY 1997-based market basket.

t. Postage

The percentage change in the price of postage as measured by the CPI for all urban consumers (CPI Code # CUUR0000SEEC01) is applied to this component. The same proxy was used in the FY 1997-based market basket.

u. All Other Services: Labor Intensive

The percentage change in the ECI for compensation paid to service workers employed in private industry is applied to this component. The same proxy was used in the FY 1997-based market basket.

v. All Other Services: Nonlabor Intensive

The percentage change in the all-items component of the CPI for all urban consumers (CPI Code # CUUR0000SA0) is applied to this component. The same proxy was used in the FY 1997-based market basket.

For further discussion of the rationales for choosing many of the specific price proxies, we refer the reader to the August 1, 2002 final rule (67 FR 50037).

3. Labor-Related Share

(If you choose to comment on issues in this section, please include the caption “Labor-Related Share” at the beginning of your comment.)

Under section 1886(d)(3)(E) of the Act, the Secretary estimates from time to time the proportion of payments that are labor-related. “The Secretary shall adjust the proportion (as estimated by the Secretary from time to time) of hospitals' costs which are attributable to wages and wage-related costs of the DRG prospective payment rates. * * *” We refer to the proportion of hospitals' costs that are attributable to wages and wage-related costs as the “labor-related share.”

The labor-related share is used to determine the proportion of the national PPS base payment rate to which the area wage index is applied. We are proposing to continue to use our current methodology of defining the labor-related share as the national average proportion of operating costs that are related to, influenced by, or vary with the local labor markets. We believe that the operating cost categories that are related to, influenced by, or vary with the local labor markets are wages and salaries, fringe benefits, professional fees, contract labor, and labor intensive services. Therefore, we are proposing to calculate the labor-related share by adding the relative weights for these operating cost categories. After we reviewed all cost categories in the proposed IPPS market basket using this definition of labor-related, we removed postage costs from the proposed FY 2002-based labor-related share because we no longer believe these costs are likely to vary with the local labor market. Using the cost category weights that we determined in section IV.B. of this preamble, we calculated a labor-related share of 69.731 percent, using the FY 2002-based PPS market basket. Accordingly, we are proposing to implement a labor-related share of 69.7 percent for discharges occurring on or after October 1, 2005. We note that section 403 of Pub. L. 108-173 amended sections 1886(d)(3)(E) and 1886(d)(9)(C)(iv) of the Act to provide that the Secretary must employ 62 percent as the labor-related share unless this employment “would result in lower payments than would otherwise be made.”

We also are proposing an update to the labor-related share for Puerto Rico. Consistent with our methodology for determining the national labor-related share, we are proposing to add the Puerto Rico-specific relative weights for wages and salaries, fringe benefits, and contract labor. Because there are no Puerto Rico-specific relative weights for professional fees and labor intensive services, we are proposing to use the national weights. Alternatively, we could apply the national labor-related share to the Puerto Rico-specific rate. We note that we are still reviewing our data and have not yet calculated the updated Puerto Rico-specific labor-related share percentage. Therefore, the labor-related and nonlabor-related portions of the Puerto Rico-specific standardized amount listed in Table 1C of the Addendum to this proposed rule reflect the current (FY 2005) labor-related share for Puerto Rico of 71.3 percent. Once we have calculated the updated labor-related share for Puerto Rico, we will post it on the CMS website at http://www.cms.hhs.gov/providers/hipps. In addition, if we adopt this proposal, we would publish the updated Puerto Rico labor-related share in the IPPS final rule. We welcome comments on our proposal to update the labor-related share for Puerto Rico.

Unlike the 1997 Annual I-O which was based on Standard Industrial Codes (SIC), the 1997 Benchmark I-O is categorized using the North American Industrial Classification System (NAICS). This change required us to classify all cost categories under NAICS, including a reevaluation of labor-related costs on the NAICS definitions. Chart 4 compares the FY 1992-based labor-related share, the current measure, with the FY 2002-based labor-related share. When we rebased the market basket to reflect FY 1997 data, we did not change the labor-related share (67 FR 50041). Therefore, the FY 1992-based labor-related share is the current measure.

Although we are proposing to continue to calculate the labor-related share by adding the relative weights of the labor-related operating cost categories, we continue to evaluate alternative methodologies. In the May 9, 2002 Federal Register (67 FR 31447), we discussed our research on the methodology for the labor-related share. This research involved analyzing the compensation share (the sum of wages and salaries and benefits) separately for urban and rural hospitals, using regression analysis to determine the proportion of costs influenced by the area wage index, and exploring alternative methodologies to determine whether all or only a portion of professional fees and nonlabor intensive services should be considered labor-related.

Our original analysis, which appeared in the May 9, 2002 Federal Register (67 FR 31447) and which focused mainly on edited FY 1997 hospital data, found that the compensation share of costs for hospitals in rural areas was higher on average than the compensation share for hospitals in urban areas. We also researched whether only a proportion of the costs in professional fees and labor-intensive services should be considered labor-related, not the entire cost categories. However, there was not enough information available to make this determination.

Our finding that the average compensation share of costs for rural hospitals was higher than the average compensation for urban hospitals was validated consistently through our regression analysis. Regression analysis is a statistical technique that determines the relationship between a dependent variable and one or more independent variables. We tried several regression specifications in an effort to determine the proportion of costs that are influenced by the area wage index. Furthermore, MedPAC raised the possibility that regression may be an alternative to the current market basket methodology. Our initial regression specification (in log form) was Medicare operating cost per Medicare discharge as the dependent variable and the independent variables being the area wage index, the case-mix index, the ratio of residents per bed (as proxy for IME status), and a dummy variable that equals one if the hospital is located in a metropolitan area with a population of 1 million or more. (A dummy variable represents the presence or absence of a particular characteristic.) This regression produced a coefficient for all hospitals for the area wage index of 0.638 (which is equivalent to the labor share and can be interpreted as an elasticity because of the log specification) with an adjusted R-squared of 64.3. (Adjusted R-squared is a measure of how well the regression model fits the data.) While, on the surface, this appeared to be a reasonable result, this same specification for urban hospitals had a coefficient of 0.532 (adjusted R-squared = 53.2) and a coefficient of 0.709 (adjusted R-squared = 36.4) for rural hospitals. This highlighted some apparent problems with the specification because the overall regression results appear to be masking underlying problems. It did not seem reasonable that urban hospitals would have a labor share below their actual compensation share or that the discrepancy between urban and rural hospitals would be this large. When we standardized the Medicare operating cost per Medicare discharge for case mix, the fit, as measured by adjusted R-squared, fell dramatically and the urban/rural discrepancy became even larger.

Based on this initial result, we tried two modifications to the FY 1997 regressions to correct for the underlying problems. First, we edited the data differently to determine if a few reports were causing the inconsistent results. We found when we tightened the edits, the wage index coefficient was lower and the fit was worse. When we loosened the edits, we found higher wage index coefficients and still a worse fit. Second, we added additional variables to the regression equation to attempt to explain some of the variation that was not being captured. We found the best fit occurred when the following variables were added: The occupancy rate, the number of hospital beds, a dummy variable that equals one if the hospital is privately owned and zero otherwise, a dummy variable that equals one if the hospital is government-controlled and zero otherwise, the Medicare length-of-stay, the number of FTEs per bed, and the age of fixed assets. The result of this specification was a wage index coefficient of 0.620 (adjusted R-squared = 68.7), with the regression on rural hospitals having a coefficient of 0.772 (adjusted R-squared = 45.0) and the regression on urban hospitals having a coefficient of 0.474 (adjusted R-squared = 60.9). Neither of these alternatives seemed to help the underlying difficulties with the regression analysis.

Subsequent to the work described above, we have undertaken the research necessary to reevaluate the current assumptions used in determining the labor-related share. We ran regressions applying the previous specifications to more recent data (FY 2001 and FY 2002), and, as described below, we ran regressions using alternative specifications. Once again we encourage comments on this research and any information that is available to help determine the most appropriate measure.

The first step in our regression analysis to determine the proportion of hospitals' costs that varied with labor-related costs was to edit the data, which had significant outliers in some of the variables we used in the regressions. We originally began with an edit that excluded the top and bottom 5 percent of reports based on average Medicare cost per discharge and number of discharges. We also used edits to exclude reports that did not meet basic criteria for use, such as having costs greater than zero for total, operating, and capital for the overall facility and just the Medicare proportion. We also required that the hospital occupancy rate, length-of-stay, number of beds, FTEs, and overall and Medicare discharges be greater than zero. Finally, we excluded reports with occupancy rates greater than one.

Our regression specification (in log form) was Medicare operating cost per Medicare discharge as the dependent variable (the same dependent variable we used in the regression analysis described in the May 9, 2002 Federal Register) with the independent variables being the compensation per FTE, the ratio of interns and residents per bed (as proxy for IME status), the occupancy rate, the number of hospital beds, a dummy variable that equals one if the hospital is privately owned and is zero otherwise, a dummy variable that equals one if the hospital is government-controlled and is zero otherwise, the Medicare length-of-stay, the number of FTEs per bed, the age of fixed assets, and a dummy variable that equals one if the hospital is located in a metropolitan area with a population of 1 million or more. This is a similar model to the one described in the May 9, 2002 Federal Register (67 FR 31447) as having the best fit, with two notable exceptions. First, the area wage index is replaced by compensation per FTE, where compensation is the sum of hospital wages and salaries, contract labor costs, and benefits. The area wage index is a payment variable computed by averaging wages across all hospitals within each MSA, whereas compensation per FTE differs from one hospital to the next. Second, the case-mix index is no longer included as a regressor because it is correlated with other independent variables in the regression. In other words, the other independent variables are capturing part of the effect of the case-mix index. We made these two specification changes in an attempt to only use cost variables to explain the variation in Medicare operating costs per discharge. We believe this is appropriate in order to compare to the results we are getting from the market basket methodology, which is based solely on cost data. As we will show below, the use of payment variables on the right-hand side of the equation appears to be producing less reasonable results when cost data are used.

The revised specification for FY 2002 produced a coefficient for all hospitals for compensation per FTE of 0.673 (which is roughly equivalent to the labor share and can be interpreted as an elasticity because of the log specification) with an adjusted R-squared of 63.7. The coefficient result for FY 2001 is 64.5, with an adjusted R-squared of 65.2. (For comparison, a separate regression for FY 2002 with the log area wage index and log case-mix index included in the set of regressors displays a log area wage index coefficient of 75.6 (adjusted R-squared = 67.7).) For FY 2001, the coefficient for the log area wage index is 72.3 (adjusted R-squared = 67.9). On the surface, these seem to be reasonable results. However, a closer look reveals some problems. In FY 2001, the coefficient for urban hospitals was 59.6 (adjusted R-squared = 57.3), and the coefficient for rural hospitals was 61.3 (adjusted R-squared = 50.6). On the other hand, in FY 2002, the coefficient for urban hospitals increased to 69.2 (adjusted R-squared = 55.9), and the coefficient for rural hospitals decreased to 58.2 (adjusted R squared = 46.0). The results for FY 2001 seem reasonable, but not when compared with the results for FY 2002. Furthermore, for FY 2002 the compensation share of costs for hospitals in rural areas was higher on average than the compensation share for hospitals in urban areas. Rural areas had an average compensation share of 63.3 percent, while urban areas had a share of 60.5 percent. This compares to a share of 61.2 percent for all hospitals.

Due to these problems, we do not believe the regression analysis is producing sound enough evidence at this point for us to make the decision to change from the current method for calculating the labor-related share. We continue to analyze these data and work on alternative specifications, including working with MedPAC, who in the past have done similar analysis in their studies of payment adequacy. Comments on this approach would be welcomed, given the difficulties we have encountered.

We also continue to look into ways to refine our market basket approach to more accurately account for the proportion of costs influenced by the local labor market. Specifically, we are looking at the professional fees and labor-intensive cost categories to determine if only a proportion of the costs in these categories should be considered labor-related, not the entire cost category. Professional fees include management and consulting fees, legal services, accounting services, and engineering services. Labor-intensive services are mostly building services, but also include other maintenance and repair services.

We conducted preliminary research into whether the various types of professional fees are more or less likely to be purchased in local labor markets. Through contact with a handful of hospitals in only two States, we asked for the percentages of their advertising, legal, and management and consulting services that they purchased in either local, regional, or national labor markets. The results were quite consistent across all of the hospitals, indicating most advertising and legal services are purchased in local or regional markets and nearly all management and consulting services are purchased in national labor markets. This suggested we may be appropriately reflecting advertising and legal services in the labor-related share, but we plan to investigate further whether management and consulting services are appropriately reflected. We do not believe that this limited effort produced enough evidence for us to change our methodology. However, we do plan to expand our efforts in this area to ensure we appropriately determine the labor-related share. We are soliciting data or studies that would be helpful in this analysis. We are unsure if we will be able to finish this analysis in time for inclusion in the FY 2006 IPPS final rule.

As mentioned previously, we are proposing to continue to calculate the labor-related share by adding the relative weights of the operating cost categories that are related to, influenced by, or vary with the local labor markets. These categories include wages and salaries, fringe benefits, professional fees, contract labor and labor-intensive services. Since we no longer believe that postage costs meet our definition of labor-related, we are excluding them from the labor-related share. Using this methodology, we calculated a labor-related share of 69.731. Therefore, we are proposing a labor-related share of 69.731.

C. Separate Market Basket for Hospitals and Hospital Units Excluded from the IPPS

(If you choose to comment on issues in this section, please include the caption “Excluded Hospital Market Basket” at the beginning of your comment.)

1. Hospitals Paid Based on Their Reasonable Costs

On August 7, 2001, we published a final rule in the Federal Register (66 FR 41316) establishing the PPS for IRFs, effective for cost reporting periods beginning on or after January 1, 2002. On August 30, 2002, we published a final rule in the Federal Register (67 FR 55954) establishing the PPS for LTCHs, effective for cost reporting periods beginning on or after October 1, 2002. On November 15, 2004, we published a final rule in the Federal Register (69 FR 66922) establishing the PPS for the IPFs, effective for cost reporting periods beginning on or after January 1, 2005.

Prior to being paid under a PPS, IRFs, LTCHs, and IPFs were reimbursed solely under the reasonable cost-based system under § 413.40 of the regulations, which impose rate-of-increase limits. Children's and cancer hospitals and religious nonmedical health care institutions (RNHCIs) are still reimbursed solely under the reasonable cost-based system, subject to the rate-of-increase limits. Under these limits, an annual target amount (expressed in terms of the inpatient operating cost per discharge) is set for each hospital based on the hospital's own historical cost experience trended forward by the applicable rate-of-increase percentages. To the extent a LTCH or IPF receives a blend of reasonable cost-based payment and the Federal prospective payment rate amount, the reasonable cost portion of the payment is also subject to the applicable rate-of-increase percentage. Section 1886(b)(3)(B)(ii) of the Act sets the percentage increase of the limits, which in certain years was based upon the market basket percentage increase. Beginning in FY 2003 and subsequent years, the applicable rate-of-increase is the market basket percentage increase. The market basket currently (and historically) used is the excluded hospital operating market basket, representing the cost structure of rehabilitation, long-term care, psychiatric, children's, and cancer hospitals (FY 2003 final rule, 67 FR 50042).

Because IRFs, LTCHs, and some IPFs are now paid under a PPS, we are considering developing a separate market basket for these hospitals that contains both operating and capital costs. We would publish any proposal to use a revised separate market basket for each of these types of hospitals when we propose the nest update of their respective PPS rates. Children's and cancer hospitals are two of the remaining three types of hospitals excluded from the IPPS that are still being paid based solely on their reasonable costs, subject to target amounts. (RNHCIs, the third type of IPPS-excluded entity still subject to target amounts, are reimbursed under § 403.752(a) of the regulations.) Because there are a small number of children's and cancer hospitals and RNHCIs, which receive in total less than 1 percent of all Medicare payments to hospitals and because these hospitals provide limited Medicare cost report data, we are not proposing to create a separate market basket specifically for these hospitals. Under the broad authority in sections 1886(b)(3)(A) and (B), 1886(b)(3)(E), and 1871 of the Act, we are proposing to use the proposed FY 2002 IPPS operating market basket percentage increase to update the target amounts for children's and cancer hospitals reimbursed under sections 1886(b)(3)(A) and (b)(3)(E) of the Act and the market basket for RNHCIs under § 403.752(a) of the regulations. This proposal reflects our belief that it is best to use an index that most closely represents the cost structure of children's and cancer hospitals and RNHCIs. The FY 2002 cost weights for wages and salaries, professional liability, and “all other” for children's and cancer hospitals are noticeably closer to those in the IPPS operating market basket than those in the excluded hospital market basket, which is based on the cost structure of IRFs, LTCHs, IPFs, and children's and cancer hospitals and RNHCIs. Therefore, we believe it is more appropriate to use the IPPS operating market basket for children's and cancer hospitals and RNHCIs. However, when we compare the weights for LTCHs and IPFs to the weights for IPPS hospitals, we did not find them comparable. Therefore, we do not believe it is appropriate to use the IPPS market basket for LTCHs and IPFs.

For similar reasons, we are considering at some other date proposing a separate market basket to update the adjusted Federal payment amount for IRFs, LTCHs, and IPFs. We expect that these changes would be proposed in separate proposed rules for each of these three hospital types. We envision that these changes should apply to the adjusted Federal payment rate, and not the portion of the payment that is based on a facility-specific (or reasonable cost) payment to the extent such a hospital or unit is paid under a blend methodology. In other words, to the extent any of these hospitals are paid under a blend methodology whereby a percentage of the payment is based on reasonable cost principles, we would not propose to make changes to the existing methodology for developing the market basket for the reasonable cost portion of the payment because this portion of the payment is being phased out, if it is not already a nonexistent feature of the PPSs for IRFs, LTCHs, and IPFs. We do not believe that it makes sense to propose to create an entirely new methodology for creating the market basket index which updates the “reasonable cost” portion of a blend methodology since the “reasonable cost portion” will last at most for just 1 or 3 additional years (1 year for LTCHs paid under a blend methodology since LTCHs only have 1 year remaining in their transition, and 3 years for IPFs since IPFs paid under a blend methodology only have 3 years remaining under a blend methodology). However, the same cannot be said for the adjusted Federal payment amount. In the case of the IRF PPS, all IRFs are paid at 100 percent of the adjusted Federal payment amount and will continue to be paid based on 100 percent of this amount for perpetuity. In the LTCH PPS, most LTCHs (98 percent) are already paid at 100 percent of the adjusted Federal payment amount. In the case of the few LTCHs that are paid under a blend methodology for cost reporting periods beginning on or after October 1, 2006, payment will be based entirely on the adjusted Federal prospective payment rate. In the case of IPFs, new IPFs (as defined in § 412.426(c)) will be paid at 100 percent of the adjusted Federal prospective payment rate (the Federal per diem payment amount), while all others will continue to transition to 100 percent of the Federal per diem payment amount. In any event, even those transitioning will be at 100 percent of the adjusted Federal prospective payment rate in 3 years.

Chart 5 compares the updates for the FY 2002-based IPPS operating market basket, our proposed index used to update the target amounts for children's and cancer hospitals, and RNHCIs, with a FY 2002-based excluded hospital market basket that is based on the current methodology (that is, based on the cost structure of IRFs, LTCHs, IPFs, and children's and cancer hospitals). Although the percent change in the IPPS operating market basket is typically lower than the percent change in the FY 2002-based excluded hospital market basket (see charts), we believe it is important to propose using the market basket that most closely reflects the cost structure of children's and cancer hospitals. We invite comments on our proposal to use the proposed FY 2002 IPPS operating market basket to update the target amounts for children's and cancer hospitals reimbursed under sections 1886(b)(3)(A) and (b)(3)(E) of the Act and the market basket for RNHCIs under § 403.752(a) of the regulations.

Chart 5 shows the historical and forecasted updates under both the proposed FY 2002-based IPPS operating market basket and the proposed FY 2002-based excluded hospital market basket. The forecasts are based on Global Insight, Inc. 4th quarter, 2004 forecast with historical data through the 3rd quarter of 2004. Global Insight, Inc. is a nationally recognized economic and financial forecasting firm that contracts with CMS to forecast the components of the market baskets.

2. Excluded Hospitals Paid Under a Blend Methodology

As we discuss in greater detail in Appendix B to this proposed rule, in the past, hospitals and hospital units excluded from the IPPS have been paid based on their reasonable costs, subject to TEFRA limits. However, some of these categories of excluded hospitals and hospital units are now paid under their own PPSs. Specifically, some LTCHs and most IPFs are or will be transitioning from reasonable cost-based payments (subject to the TEFRA limits) to prospective payments under their respective PPSs. Under the respective transition period methodologies for the LTCH PPS and the IPF PPS, which are described below, payment is based, in part, on a decreasing percentage of the reasonable cost-based payment amount, which is subject to the TEFRA limits and an increasing percentage of the Federal prospective payment rate. For those LTCHs and IPFs whose PPS payment is comprised in part of a reasonable cost-based payment will have those reasonable cost-based payment amounts limited by the hospital's TEFRA ceiling.

Effective for cost reporting periods beginning on or after October 1, 2002, LTCHs are paid under the LTCH PPS, which was implemented with a 5-year transition period, transitioning existing LTCHs to a payment based on the fully Federal prospective payment rate (August 30, 2002; 67 FR 55954). However, a LTCH may elect to be paid at 100 percent of the Federal prospective rate at the start of any of its cost reporting periods during the 5-year transition period. A “new” LTCH, as defined in § 412.23(e)(4), are paid based on 100 percent of the standard Federal rate. Effective for cost reporting periods beginning on or after January 1, 2005, IPFs are paid under the IPF PPS under which they receive payment based on a prospectively determined Federal per diem rate that is based on the sum of the average routine operating, ancillary, and capital costs for each patient day of psychiatric care in an IPF, adjusted for budget neutrality. During a 3-year transition period, existing IPFs are paid based on a blend of the reasonable cost-based payments and the Federal prospective per diem base rate. For cost reporting periods beginning on or after January 1, 2008, existing IPFs are to be paid based on 100 percent of the Federal per diem rate. A “new” IPF, as defined in § 412.426(c), are paid based on 100 percent of the Federal per diem payment amount. Any LTCHs or IPFs that receive a PPS payment that includes a reasonable cost-based payment during its respective transition period will have that portion of its payment subject to the TEFRA limits.

Under the broad authority of section 1886(b)(3)(A) and (b)(3)(B) of the Act, for LTCHs and IPFs that are transitioning to the fully Federal prospective payment rate, we are proposing to use the rebased FY 2002 based-excluded hospital market basket to update the reasonable cost-based portion of their payments. The proposed market basket update is described in detail below. We do not believe the IPPS operating market basket should be used for the proposed update to the reasonable cost-based portion of the payments to LTCHs or IPFs because this market basket does not reflect the cost structure of LTCHs and IPFs.

3. Development of Cost Categories and Weights for the Proposed FY 2002-Based Excluded Hospital Market Basket

a. Medicare Cost Reports

The major source of expenditure data for developing the proposed rebased and revised excluded hospital market basket cost weights is the FY 2002 Medicare cost reports. We choose FY 2002 as the base year because we believe this is the most recent, relatively complete year (with a 90-percent reporting rate) of Medicare cost report data. These cost reports are from rehabilitation, psychiatric, long-term care, children's, cancer, and religious nonmedical excluded hospitals. They do not reflect data from IPPS hospitals or CAHs. These are the same hospitals included in the FY 1997-based excluded hospital market basket, except for religious nonmedical hospitals. Due to insufficient Medicare cost report data for these excluded hospitals, their cost reports yield only four major expenditure or cost categories: Wages and salaries, pharmaceuticals, professional liability insurance (malpractice), and a residual “all other.”

Since the cost weights for the FY 2002-based excluded hospital market basket are based on facility costs, we are proposing to use those cost reports for IRFs, LTCHs, and children's, cancer, and RNHCIs whose Medicare average length of stay is within 15 percent (that is, 15 percent higher or lower) of the total facility average length of stay for the hospital. We are proposing to use a less stringent edit for Medicare length of stay for IPFs, requiring the average length of stay to be within 30 or 50 percent (depending on the total facility average length of stay) of the total facility length of stay. This allows us to increase our sample size by over 150 reports and produce a cost weight more consistent with the overall facility. The edit we applied to IPFs when developing the FY 1997-based excluded hospital market basket was based on the best available data at the time.

We believe that limiting our sample to hospitals with a Medicare average length of stay within a comparable range of the total facility average length of stay provides a more accurate reflection of the structure of costs for Medicare treatments. Our method results in including in our data set hospitals with a share of Medicare patient days relative to total patient days that was approximately three times greater than for those hospitals excluded from our sample. Our goal is to measure cost shares that are reflective of case-mix and practice patterns associated with providing services to Medicare beneficiaries.

Cost weights for benefits, contract labor and blood and blood products were derived using the proposed FY 2002-based IPPS market basket. This is necessary because these data are poorly reported in the cost reports for non-IPPS hospitals. For example, the ratio of the benefit cost weight to the wages and salaries cost weight was applied to the proposed excluded hospital wages and salaries cost weight to derive a benefit cost weight for the proposed excluded hospital market basket.

b. Other Data Sources

In addition to the Medicare cost reports, the other source of data used in developing the excluded hospital market basket weights is the Benchmark Input-Output Tables (I-Os) created by the Bureau of Economic Analysis, U.S. Department of Commerce.

New data for this source are scheduled for publication every 5 years, but often take up to 7 years after the reference year. Only an Annual I-O is produced each year, but the Annual I-O contains less industry detail than does the Benchmark I-O. When we rebased the excluded hospital market basket using FY 1997 data in the FY 2003 IPPS final rule, the 1997 Benchmark I-O was not yet available. Therefore, we did not incorporate data from that source into the FY 1997-based excluded hospital market basket (67 FR 50033). However, we did use a secondary source the 1997 Annual Input-Output tables. The third source of data, the 1997 Business Expenditure Survey (now known as the Business Expenses Survey), was used to develop weights for the utilities and telephone services categories.

The 1997 Benchmark I-O data are a much more comprehensive and complete set of data than the 1997 Annual I-O estimates. The 1997 Annual I-O is an update of the 1992 I-O tables, while the 1997 Benchmark I-O is an entirely new set of numbers derived from the 1997 Economic Census. The 2002 Benchmark Input-Output tables are not yet available. Therefore, we are proposing to use the 1997 Benchmark I-O data in the proposed FY 2002-based excluded hospital market basket, to be effective for FY 2006. Instead of using the less detailed, less accurate Annual I-O data, we aged the 1997 Benchmark I-O data forward to FY 2002. The methodology we used to age the data involves applying the annual price changes from the price proxies to the appropriate cost categories. We repeat this practice for each year.

The “all other” cost category is further divided into other hospital expenditure category shares using the 1997 Benchmark Input-Output tables. Therefore, the “all other” cost category expenditure shares are proportional to their relationship to “all other” totals in the I-O tables. For instance, if the cost for telephone services were to represent 10 percent of the sum of the “all other” I-O (see below) hospital expenditures, then telephone services would represent 10 percent of the market basket's “all other” cost category. The remaining detailed cost categories under the residual “all other” cost category were derived using the 1997 Benchmark Input-Output Tables aged to FY 2002 using relative price changes.

4. Proposed 2002-Based Excluded Hospital Market Basket—Selection of Price Proxies

After computing the FY 2002 cost weights for the proposed rebased excluded hospital market basket, it is necessary to select appropriate wage and price proxies to reflect the rate-of-price change for each expenditure category. With the exception of the Professional Liability proxy, all the indicators are based on Bureau of Labor Statistics (BLS) data and are grouped into one of the following BLS categories:

• Producer Price Indexes—Producer Price Indexes (PPIs) measure price changes for goods sold in other than retail markets. PPIs are preferable price proxies for goods that hospitals purchase as inputs in producing their outputs because the PPIs would better reflect the prices faced by hospitals. For example, we use a special PPI for prescription drugs, rather than the Consumer Price Index (CPI) for prescription drugs because hospitals generally purchase drugs directly from the wholesaler. The PPIs that we use measure price change at the final stage of production.

• Consumer Price Indexes—Consumer Price Indexes (CPIs) measure change in the prices of final goods and services bought by the typical consumer. Because they may not represent the price faced by a producer, we used CPIs only if an appropriate PPI was not available, or if the expenditures were more similar to those of retail consumers in general rather than purchases at the wholesale level. For example, the CPI for food purchased away from home is used as a proxy for contracted food services.

• Employment Cost Indexes—Employment Cost Indexes (ECIs) measure the rate of change in employee wage rates and employer costs for employee benefits per hour worked. These indexes are fixed-weight indexes and strictly measure the change in wage rates and employee benefits per hour. Appropriately, they are not affected by shifts in employment mix.

We evaluated the price proxies using the criteria of reliability, timeliness, availability, and relevance. Reliability indicates that the index is based on valid statistical methods and has low sampling variability. Timeliness implies that the proxy is published regularly, at least once a quarter. Availability means that the proxy is publicly available. Finally, relevance means that the proxy is applicable and representative of the cost category weight to which it is applied. The CPIs, PPIs, and ECIs selected meet these criteria and, therefore, we believe they continue to be the best measure of price changes for the cost categories to which they are applied.

Chart 7 sets forth the complete proposed FY 2002-based excluded hospital market basket including cost categories, weights, and price proxies. For comparison purposes, the corresponding FY 1997-based excluded hospital market basket is listed as well. A summary outlining the choice of the various proxies follows the charts.

BILLING CODE 4120-01-P

BILLING CODE 4120-01-C

a. Wages and Salaries

For measuring the price growth of wages in the proposed FY 2002-based excluded hospital market basket, we are proposing to use the ECI for wages and salaries for civilian hospital workers as the proxy for wages. This same proxy was used for the FY 1997-based excluded hospital market basket.

b. Employee Benefits

The proposed FY 2002-based excluded hospital market basket uses the ECI for employee benefits for civilian hospital workers. This is the same proxy that was used in the FY 1997-based excluded hospital market basket.

c. Nonmedical Professional Fees

The ECI for compensation for professional and technical workers in private industry is applied to this category because it includes occupations such as management and consulting, legal, accounting and engineering services. The same proxy was used in the FY 1997-based excluded hospital market basket.

d. Fuel, Oil, and Gasoline

The percentage change in the price of gas fuels as measured by the PPI (Commodity Code #0552) is applied to this component. The same proxy was used in the FY 1997-based excluded hospital market basket.

e. Electricity

The percentage change in the price of commercial electric power as measured by the PPI (Commodity Code #0542) is applied to this component. The same proxy was used in the FY 1997-based excluded hospital market basket.

f. Water and Sewerage

The percentage change in the price of water and sewerage maintenance as measured by the CPI for all urban consumers (CPI Code # CUUR0000SEHG01) is applied to this component. The same proxy was used in the FY 1997-based excluded hospital market basket.

g. Professional Liability Insurance

The proposed FY 2002-based excluded hospital market basket uses the percentage change in the hospital professional liability insurance (PLI) premiums as estimated by the CMS Hospital Professional Liability Index for the proxy of this category. Similar to the Physicians Professional Liability Index, we attempt to collect commercial insurance premiums for a fixed level of coverage, holding nonprice factors constant (such as a change in the level of coverage). In the FY 1997-based excluded hospital market basket, the same price proxy was used.

We continue to research options for improving our proxy for professional liability insurance. This research includes exploring various options for expanding our current survey, including the identification of another entity that would be willing to work with us to collect more complete and comprehensive data. We are also exploring other options such as third party or industry data that might assist us in creating a more precise measure of PLI premiums. At this time, we have not yet identified a preferred option. Therefore, we are not proposing to make any changes to the proxy in this proposed rule.

h. Pharmaceuticals

The percentage change in the price of prescription drugs as measured by the PPI (PPI Code #PPI283D#RX) is used as a proxy for this category. This is a special index produced by BLS and is the same proxy used in the FY 1997-based excluded hospital market basket.

i. Food: Direct Purchases

The percentage change in the price of processed foods and feeds as measured by the PPI (Commodity Code #02) is applied to this component. The same proxy was used in the FY 1997-based excluded hospital market basket.

j. Food: Contract Services

The percentage change in the price of food purchased away from home as measured by the CPI for all urban consumers (CPI Code # CUUR0000SEFV) is applied to this component. The same proxy was used in the FY 1997-based excluded hospital market basket.

k. Chemicals

The percentage change in the price of industrial chemical products as measured by the PPI (Commodity Code #061) is applied to this component. While the chemicals hospitals purchase include industrial as well as other types of chemicals, the industrial chemicals component constitutes the largest proportion by far. Thus, we believe that Commodity Code #061 is the appropriate proxy. The same proxy was used in the FY 1997-based excluded hospital market basket.

l. Medical Instruments

The percentage change in the price of medical and surgical instruments as measured by the PPI (Commodity Code #1562) is applied to this component. The same proxy was used in the FY 1997-based excluded hospital market basket.

m. Photographic Supplies

The percentage change in the price of photographic supplies as measured by the PPI (Commodity Code #1542) is applied to this component. The same proxy was used in the FY 1997-based excluded hospital market basket.

n. Rubber and Plastics

The percentage change in the price of rubber and plastic products as measured by the PPI (Commodity Code #07) is applied to this component. The same proxy was used in the FY 1997-based excluded hospital market basket.

o. Paper Products

The percentage change in the price of converted paper and paperboard products as measured by the PPI (Commodity Code #0915) is used. The same proxy was used in the FY 1997-based excluded hospital market basket.

p. Apparel

The percentage change in the price of apparel as measured by the PPI (Commodity Code #381) is applied to this component. The same proxy was used in the FY 1997-based excluded hospital market basket.

q. Machinery and Equipment

The percentage change in the price of machinery and equipment as measured by the PPI (Commodity Code #11) is applied to this component. The same proxy was used in the FY 1997-based excluded hospital market basket.

r. Miscellaneous Products

The percentage change in the price of all finished goods less food and energy as measured by the PPI (Commodity Code #SOP3500) is applied to this component. Using this index removes the double-counting of food and energy prices, which are already captured elsewhere in the market basket. The same proxy was used in the FY 1997-based excluded hospital market basket. The weight for this cost category is higher than in the FY 1997-based index because it also includes blood and blood products. In the FY 1997-based excluded hospital market basket, we included a separate cost category for blood and blood products, using the BLS PPI (Commodity Code #063711) for blood and derivatives as a price proxy. A review of recent trends in the PPI for blood and derivatives suggests that its movements may not be consistent with the trends in blood costs faced by hospitals. While this proxy did not match exactly with the product hospitals are buying, its trend over time appears to be reflective of the historical price changes of blood purchased by hospitals. However, an apparent divergence over recent periods led us to reevaluate whether the PPI for blood and derivatives was an appropriate measure of the changing price of blood. We ran test market baskets classifying blood in three separate cost categories: blood and blood products, contained within chemicals as was done for the FY 1992-based index, and within miscellaneous products. These categories use as proxies the following PPIs: the PPI for blood and blood products, the PPI for chemicals, and the PPI for finished goods less food and energy, respectively. Of these three proxies, the PPI for finished goods less food and energy moved most like the recent blood cost and price trends. In addition, the impact on the overall market basket by using different proxies for blood was negligible, mostly due to the relatively small weight for blood in the market basket. Therefore, we chose the PPI for finished goods less food and energy for the blood proxy because we believe it will best be able to proxy price changes (not quantities or required tests) associated with blood purchased by hospitals. We will continue to evaluate this proxy for its appropriateness and will explore the development of alternative price indexes to proxy the price changes associated with this cost.

s. Telephone

The percentage change in the price of telephone services as measured by the CPI for all urban consumers (CPI Code #CUUR0000SEED) is applied to this component. The same proxy was used in the FY 1997-based excluded hospital market basket.

t. Postage

The percentage change in the price of postage as measured by the CPI for all urban consumers (CPI Code #CUUR0000SEEC01) is applied to this component. The same proxy was used in the FY 1997-based excluded hospital market basket.

u. All Other Services: Labor Intensive

The percentage change in the ECI for compensation paid to service workers employed in private industry is applied to this component. The same proxy was used in the FY 1997-based excluded hospital market basket.

v. All Other Services: Nonlabor Intensive

The percentage change in the all-items component of the CPI for all urban consumers (CPI Code #CUUR0000SA0) is applied to this component. The same proxy was used in the FY 1997-based excluded hospital market basket.

For further discussion of the rationale for choosing many of the specific price proxies, we refer the reader to the August 1, 2002 final rule (67 FR 50037).

D. Frequency of Updates of Weights in IPPS Hospital Market Basket

Section 404 of Pub. L. 108-173 (MMA) requires CMS to report in this proposed rule the research that has been done to determine a new frequency for rebasing the hospital market basket. Specifically, section 404 states:

“(a) More frequent updates in weights. After revising the weights used in the hospital market basket under section 1886(b)(3)(B)(iii) of the Social Security Act (42 U.S.C. 1395ww(b)(3)(B)(iii)) to reflect the most current data available, the Secretary shall establish a frequency for revising such weights, including the labor share, in such market basket to reflect the most current data available more frequently than once every 5 years; and

“(b) Incorporation of explanation in rulemaking. The Secretary shall include in the publication of the final rule for payment for inpatient hospitals services under section 1886(d) of the Social Security Act (42 U.S.C. 1395ww(d)) for fiscal year 2006, an explanation of the reasons for, and options considered, in determining the frequency established under subsection (a).”

This section of the proposed rule discusses the research we have done to fulfill this requirement, and proposes a rebasing frequency that makes optimal use of available data.

Our past practice has been to monitor the appropriateness of the market basket on a consistent basis in order to rebase and revise the index when necessary. The decision to rebase and revise the index has been driven in large part by the availability of the data necessary to produce a complete index. In the past, we have supplemented the Medicare cost report data that are available on an annual basis with Bureau of the Census hospital expense data that are typically available only every 5 years (usually in years ending in 2 and 7). Because of this, we have generally rebased the index every 5 years. However, prior to the requirement associated with section 404 of Pub. L. 108-173, there was no legislative requirement regarding the timing of rebasing the hospital market basket nor was there a hard rule that we used in determining this frequency. ProPAC, one of MedPAC's predecessor organizations, did a report to the Secretary on April 1, 1985, that supported periodic rebasing at least every 5 years.

The most recent rebasing of the hospital market basket was just 3 years ago, for the FY 2003 update. Since its inception with the hospital PPS in FY 1984, the hospital market basket has been rebased several times (FY 1987 update, FY 1991 update, FY 1997 update, FY 1998 update, and FY 2003 update). One of the reasons we believe it appropriate to rebase the index on a periodic basis is that rebasing (as opposed to revising, as explained in section IV.A. of this preamble) tends to have only a minor impact on the actual percentage increase applied to the PPS update. There are two major reasons for this: (1) The cost category weights tend to be relatively stable over shorter term periods (3 to 5 years); and (2) the update is based on a forecast, which means the individual price series tend not to grow as differently as they have in some historical periods.

We focused our research in two major areas. First, we reviewed the frequency and availability of the data needed to produce the market basket. Second, we analyzed the impact on the market basket of determining the market basket weights under various frequencies. We did this by developing market baskets that had base years for every year between 1997 and 2002, and then analyzed how different the market basket percent changes were over various periods. We used the results from these areas of research to assist in our determination of a new rebasing frequency. Based on this analysis, we are proposing to rebase the hospital market basket every 4 years. This would mean the next rebasing would occur for the FY 2010 update.

As we have described in numerous Federal Register documents over the past few decades, the hospital market basket weights are the compilation of data from more than one data source. When we are discussing rebasing the weights in the hospital market basket, there are two major data sources: (1) The Medicare cost reports; and (2) expense surveys from the Bureau of the Census (the Economic Census is used to develop data for the Bureau of Economic Analysis' input-output series). We will explore the future availability of each of these data sources.

Each Medicare-participating hospital submits a Medicare cost report to CMS on an annual basis. It takes roughly 2 years before “nearly complete” Medicare cost report data are available. For example, approximately 90 percent of FY 2002 Medicare cost report data were available in October 2004 (only 50 percent of FY 2003 data was available), although only 20 percent of these reports were settled. We choose FY 2002 as the base year because we believe this is the most recent, relatively complete year (with a 90 percent reporting rate) of Medicare cost report data. In developing the hospital market basket weights, we have used the Medicare cost reports to determine the weights for six major cost categories (wages, benefits, contract labor, pharmaceuticals, professional liability, and blood). In FY 2002, these six categories accounted for 68.5 percent of the hospital market basket. Therefore, it is possible to develop a new set of market basket weights for these categories on an annual basis, but with a substantial lag (for the FY 2006 update, we consider the latest year of historical data to be FY 2002).

The second source of data is the U.S. Department of Commerce, Bureau of Economic Analysis' Benchmark Input-Output (I-O) table. These data are published every 5 years with a more significant lag than the Medicare cost reports. For example, the 1997 Benchmark I-O tables were not published until the beginning of 2003. We have sometimes used data from a third data source, the Bureau of the Census' Business Expenses Survey (BES), which is also published every 5 years. The BES data are used as an input into the I-O data, and thus are published a few months prior to the release of the I-O. However, the BES contains only a fraction of the detail contained in the I-O.

Chart 9 below takes into consideration the expected availability of these major data sources and summarizes how they could be incorporated into the development of future market basket weights.

It would be necessary to age the I-O or BES data to the year for which cost report data are available using the price changes between those periods. While not a preferred method in developing the market basket weights, we have done this in the past when rebasing the index. We are proposing to age the 1997 Benchmark I-O data for this proposed rule.

As the table clearly indicates, the most optimal rebasing frequency from a data availability standpoint is every 5 years. That is, if we were to next rebase for the FY 2011 update, we could use the 2002 Benchmark I-O data that would recently be available. In order to match the Medicare cost report data that would be available at that time (FY 2007 data), we would have to age the I-O data to FY 2007. However, this would be aging the data only 5 years, whereas if the rebasing frequency was determined to be every 4 years, we would have to age 1997 I-O data to FY 2006. While aging data over 5 years is problematic (there can be significant utilization and intensity changes over that length period, as opposed to only a year or two), it would be significantly worse to age data over an 8-year or 9-year period. If we were on a 5-year rebasing frequency, for the FY 2016 update, we would use cost report data for FY 2012 and the newly available 2007 I-O data. Again, the I-O data would have to be aged only 5 years to match the cost report data.

We can look at the implications of determining a rebasing frequency of every 3 or 4 years. Considering a frequency of 3 years first, we would next rebase for the FY 2009 update using FY 2005 Medicare cost report data and 1997 I-O data (the same data currently being used in the proposed FY 2002-based market basket). This is problematic because the 1997 I-O data would need to be aged 8 years to match the cost report data. The next two rebasings would be for the FY 2012 update (using FY 2008 cost report data and 2002 I-O data) and FY 2015 (using FY 2011 cost report data and 2002 I-O data). This means that while we are making optimal use of the Medicare cost report data, we would be forced to use the same I-O data in consecutive rebasings and would have to age that data as much as 9 years to use the same year as the cost report data.

For a rebasing frequency of every 4 years, our next rebasing would be for the FY 2010 update using FY 2006 Medicare cost report data and 1997 I-O data. This is also problematic because the 1997 I-O data would need to be aged 9 years to match the cost report data. The next two rebasings would be for the FY 2014 update (using FY 2010 cost report data and 2002 I-O data) and FY 2018 (using FY 2014 cost report data and 2007 I-O data). Again, this frequency would make optimal use of the Medicare cost report data but would require aging of the I-O data between 7 and 9 years in order to match the cost report data.

It is clear from this analysis that neither the 3-year nor 4-year rebasing frequencies makes as good use of all the data as rebasing every 5 years. In addition, when comparing the 3-year and 4-year rebasing frequencies, no one method stands out as being significantly improved over another. Thus, this analysis does not lead us to draw any definitive conclusions as to a rebasing frequency more appropriate than every 5 years.

Our second area of research in determining a new rebasing frequency was to analyze the impact on the market basket of determining the market basket weights under various frequencies. We did this by using the current historical data that are available (both Medicare cost report and I-O) to develop market baskets with base year weights for each year between FY 1997 and FY 2002. We then analyzed how differently the market baskets moved over various historical periods.

Approaching the analysis this way allowed us to develop six hypothetical market baskets with different base years (FY 1997, FY 1998, FY 1999, FY 2000, FY 2001, and FY 2002). As we have done when developing the official market baskets, we used Medicare cost report data where available. Thus, cost report data were used to determine the weights for wages and salaries, benefits, contract labor, pharmaceuticals, blood and blood products, and all other costs. We used the 1997 Benchmark I-O data to fill out the remainder of the market basket weights (note that this produces a different index for FY 1997 than the official FY 1997-based hospital market basket that used the Annual 1997 I-O data), aging the data to the appropriate year to match the cost report data. This means the FY 2002-based index used in this analysis matches the FY 2002-based market basket we are proposing in this rule. Chart 10 shows the weights from these hypothetical market baskets:

Note that the weights remain relatively stable between periods. It is for this reason that we believe defining the market basket as a Laspeyres-type, fixed-weight index is appropriate. Because the weights in the market basket are generally for aggregated costs (for example, wages and salaries for all employees), there is not much volatility in the weights between periods, especially over shorter time spans. As the results of this analysis will show, it is for this reason that rebasing the market basket more frequently than every 5 years is expected to have little impact on the overall percent change in the hospital market basket.

Using these hypothetical market baskets, we can produce market basket percent changes over historical periods to determine what is the impact of using various base periods. In our analysis, we consider the hypothetical FY 1997-based index to be the benchmark measure and the other indexes to indicate the impact of rebasing over various frequencies. The hypothetical FY 2000-based index would reflect the impact of rebasing every 3 years, the hypothetical FY 2001-based index would reflect the impact of rebasing every 4 years, and the hypothetical FY 2002-based index would reflect the impact of rebasing every 5 years. Chart 11 shows the results of these comparisons.

It is clear from this comparison that there is little difference between the indexes, and, for some FYs, there would be no difference in the market basket update factor if we had rebased the market basket more frequently. In particular, there is no difference in the hypothetical indexes based between FY 2000 and FY 2002. This suggests that setting the rebasing frequency to 3, 4, or 5 years will have little or no impact on the resulting market basket. As we found when analyzing data availability, this portion of our research does not suggest that rebasing the market basket more frequently than every 5 years results in an improved market basket or that there is any noticeable difference between rebasing every 3 or 4 years.

Market basket rebasing is a 1-year to 2-year long process that includes data processing, analytical work, methodology reevaluation, and regulatory process. After developing a rebased and revised market basket, there are extensive internal review processes that a rule must undergo, both in proposed and final form. Once the proposed rule has been published, there is a 60-day comment period set aside for the public to respond to the proposed rule. After comments are received, we then need adequate time to research and reply to all comments submitted. The last part of the regulatory process is the 60-day requirement—the final rule must be published 60 days before the provisions of the rule can become effective.

We would like to rebase all of our indexes (PPS operating, PPS capital, excluded hospital with capital, SNFs, HHAs, and Medicare Economic Index) on a regular schedule. Therefore, if we were to choose a 3-year rebasing schedule, we would have to rebase more than one index at a time. This may potentially limit the amount of time we could devote to the market basket rebasing process. In addition, we recognize that, in the future, we may be required to develop additional market baskets that would require frequent rebasing.

Given the number of market baskets we are responsible for rebasing and revising, the regulatory process for each, and the availability of source data, we believe that while it is not necessary, rebasing and revising the hospital market baskets every 4 years is the most appropriate frequency to meet the legislative requirement.

E. Capital Input Price Index Section

The Capital Input Price Index (CIPI) was originally described in the September 1, 1992 Federal Register (57 FR 40016). There have been subsequent discussions of the CIPI presented in the May 26, 1993 (58 FR 30448), September 1, 1993 (58 FR 46490), May 27, 1994 (59 FR 27876), September 1, 1994 (59 FR 45517), June 2, 1995 (60 FR 29229), September 1, 1995 (60 FR 45815), May 31, 1996 (61 FR 27466), and August 30, 1996 (61 FR 46196) issues of the Federal Register. The August 1, 2002 (67 FR 50032) rule discussed the most recent revision and rebasing of the CIPI to a FY 1997 base year, which reflects the capital cost structure facing hospitals in that year.

We are proposing to revise and rebase the CIPI to a FY 2002 base year to reflect the more recent structure of capital costs in hospitals. Unlike the PPS operating market basket, we do not have FY 2002 Medicare cost report data available for the development of the capital cost weights, due to a change in the FY 2002 cost reporting requirements. Rather, we used hospital capital expenditure data for the capital cost categories of depreciation, interest, and other capital expenses for FY 2001 and aged these data to a FY 2002 base year using the relevant vintage-weighted price proxies. As with the FY 1997-based index, we have developed two sets of weights in order to calculate the proposed FY 2002-based CIPI. The first set of proposed weights identifies the proportion of hospital capital expenditures attributable to each expenditure category, while the second set of proposed weights is a set of relative vintage weights for depreciation and interest. The set of vintage weights is used to identify the proportion of capital expenditures within a cost category that is attributable to each year over the useful life of the capital assets in that category. A more thorough discussion of vintage weights is provided later in this section.

Both sets of proposed weights are developed using the best data sources available. In reviewing source data, we determined that the Medicare cost reports provided accurate data for all capital expenditure cost categories. We are proposing to use the FY 2001 Medicare cost reports for PPS hospitals, aged to FY 2002, excluding expenses from hospital-based subproviders, to determine weights for all three cost categories: depreciation, interest, and other capital expenses. We compared the weights determined from the Medicare cost reports to the 2002 Bureau of the Census' Business Expenses Survey and found the weights to be similar to those developed from the Medicare cost reports.

Lease expenses are not broken out as a separate cost category in the CIPI, but are distributed among the cost categories of depreciation, interest, and other, reflecting the assumption that the underlying cost structure of leases is similar to capital costs in general. As was done in previous rebasings of the CIPI, we assumed 10 percent of lease expenses are overhead and assigned them to the other capital expenses cost category as overhead. The remaining lease expenses were distributed to the three cost categories based on the proportion of depreciation, interest, and other capital expenses to total capital costs excluding lease expenses.

Depreciation contains two subcategories: building and fixed equipment and movable equipment. The split between building and fixed equipment and movable equipment was determined using the Medicare cost reports. This methodology was also used to compute the FY 1997-based index.

Total interest expense cost category is split between government/nonprofit and profit interest. The FY 1997-based CIPI allocated 85 percent of the total interest cost weight to government/nonprofit interest, proxied by average yield on domestic municipal bonds, and 15 percent to for-profit interest, proxied by average yield on Moody's Aaa bonds (67 FR 50044). The methodology used to derive this split is explained in the June 2, 1995 issue of the Federal Register (60 FR 29233). We are proposing to derive the split using the relative FY 2001 Medicare cost report data on interest expenses for government/nonprofit and profit hospitals. Based on these data, we are proposing a 75/25 split between government/nonprofit and profit interest. We believe it is important that this split reflects the latest relative cost structure of interest expenses. The proposed split of 75/25 had little (less than 0.1 percent in any given year) or no effect on the annual capital market basket percent change in both the historical and forecasted periods.

Chart 12 presents a comparison of the proposed FY 2002-based CIPI capital cost weights and the FY 1997-based CIPI capital cost weights.

Because capital is acquired and paid for over time, capital expenses in any given year are determined by both past and present purchases of physical and financial capital. The vintage-weighted CIPI is intended to capture the long-term consumption of capital, using vintage weights for depreciation (physical capital) and interest (financial capital). These vintage weights reflect the proportion of capital purchases attributable to each year of the expected life of building and fixed equipment, movable equipment, and interest. We used the vintage weights to compute vintage-weighted price changes associated with depreciation and interest expense.

Vintage weights are an integral part of the CIPI. Capital costs are inherently complicated and are determined by complex capital purchasing decisions, over time, based on such factors as interest rates and debt financing. In addition, capital is depreciated over time instead of being consumed in the same period it is purchased. The CIPI accurately reflects the annual price changes associated with capital costs, and is a useful simplification of the actual capital investment process. By accounting for the vintage nature of capital, we are able to provide an accurate, stable annual measure of price changes. Annual nonvintage price changes for capital are unstable due to the volatility of interest rate changes and, therefore, do not reflect the actual annual price changes for Medicare capital-related costs. CMS' CIPI reflects the underlying stability of the capital acquisition process and provides hospitals with the ability to plan for changes in capital payments.

To calculate the vintage weights for depreciation and interest expenses, we needed a time series of capital purchases for building and fixed equipment and movable equipment. We found no single source that provides the best time series of capital purchases by hospitals for all of the above components of capital purchases. The early Medicare cost reports did not have sufficient capital data to meet this need. While the AHA Panel Survey provided a consistent database back to 1963, it did not provide annual capital purchases. The AHA Panel Survey provided a time series of depreciation expenses through 1997 which could be used to infer capital purchases over time. From 1998 to 2001, hospital depreciation expenses were calculated by multiplying the AHA Annual Survey total hospital expenses by the ratio of depreciation to total hospital expenses from the Medicare cost reports. Beginning in 2001, the AHA Annual Survey began collecting depreciation expenses. We hope to be able to use these data in future rebasings.

In order to estimate capital purchases from AHA data on depreciation expenses, the expected life for each cost category (building and fixed equipment, movable equipment, and interest) is needed to calculate vintage weights. We used FY 2001 Medicare cost reports to determine the expected life of building and fixed equipment and movable equipment. The expected life of any piece of equipment can be determined by dividing the value of the asset (excluding fully depreciated assets) by its current year depreciation amount. This calculation yields the estimated useful life of an asset if depreciation were to continue at current year levels, assuming straight-line depreciation. From the FY 2001 cost reports, the expected life of building and fixed equipment was determined to be 23 years, and the expected life of movable equipment was determined to be 11 years. The FY 1997-based CIPI showed the same expected life for the two categories of depreciation.

Although we are proposing to use this methodology for deriving the useful life of an asset, we intend to conduct a further review of the methodology between the publication of this proposed rule and the final rule. We plan to review alternate data sources, if available, and analyze in more detail the hospital's capital cost structure reported in the Medicare cost reports.

We are proposing to use the building and fixed equipment and movable equipment weights derived from FY 2001 Medicare cost reports to separate the depreciation expenses into annual amounts of building and fixed equipment depreciation and movable equipment depreciation. Year-end asset costs for building and fixed equipment and movable equipment were determined by multiplying the annual depreciation amounts by the expected life calculations from the FY 2001 Medicare cost reports. We then calculated a time series back to 1963 of annual capital purchases by subtracting the previous year asset costs from the current year asset costs. From this capital purchase time series, we were able to calculate the vintage weights for building and fixed equipment and movable equipment. Each of these sets of vintage weights is explained in detail below.

For building and fixed equipment vintage weights, the real annual capital purchase amounts for building and fixed equipment derived from the AHA Panel Survey were used. The real annual purchase amount was used to capture the actual amount of the physical acquisition, net of the effect of price inflation. This real annual purchase amount for building and fixed equipment was produced by deflating the nominal annual purchase amount by the building and fixed equipment price proxy, the Boeckh Institutional Construction Index. Because building and fixed equipment have an expected life of 23 years, the vintage weights for building and fixed equipment are deemed to represent the average purchase pattern of building and fixed equipment over 23-year periods. With real building and fixed equipment purchase estimates available back to 1963, we averaged sixteen 23-year periods to determine the average vintage weights for building and fixed equipment that are representative of average building and fixed equipment purchase patterns over time. Vintage weights for each 23-year period are calculated by dividing the real building and fixed capital purchase amount in any given year by the total amount of purchases in the 23-year period. This calculation is done for each year in the 23-year period, and for each of the sixteen 23-year periods. We are proposing to use the average of each year across the sixteen 23-year periods to determine the 2002 average building and fixed equipment vintage weights for the FY 2002-based CIPI.

For movable equipment vintage weights, the real annual capital purchase amounts for movable equipment derived from the AHA Panel Survey were used to capture the actual amount of the physical acquisition, net of price inflation. This real annual purchase amount for movable equipment was calculated by deflating the nominal annual purchase amount by the movable equipment price proxy, the PPI for Machinery and Equipment. Based on our determination that movable equipment has an expected life of 11 years, the vintage weights for movable equipment represent the average expenditure for movable equipment over an 11-year period. With real movable equipment purchase estimates available back to 1963, twenty-eight 11-year periods were averaged to determine the average vintage weights for movable equipment that are representative of average movable equipment purchase patterns over time. Vintage weights for each 11-year period are calculated by dividing the real movable capital purchase amount for any given year by the total amount of purchases in the 11-year period. This calculation was done for each year in the 11-year period, and for each of the twenty-eight 11-year periods. We are proposing to use the average of each year across the twenty-eight 11-year periods to determine the average movable equipment vintage weights for the FY 2002-based CIPI.

For interest vintage weights, the nominal annual capital purchase amounts for total equipment (building and fixed, and movable) derived from the AHA Panel and Annual Surveys were used. Nominal annual purchase amounts were used to capture the value of the debt instrument. Because we have determined that hospital debt instruments have an expected life of 23 years, the vintage weights for interest are deemed to represent the average purchase pattern of total equipment over 23-year periods. With nominal total equipment purchase estimates available back to 1963, sixteen 23-year periods were averaged to determine the average vintage weights for interest that are representative of average capital purchase patterns over time. Vintage weights for each 23-year period are calculated by dividing the nominal total capital purchase amount for any given year by the total amount of purchases in the 23-year period. This calculation is done for each year in the 23-year period and for each of the sixteen 23-year periods. We are proposing to use the average of each year across the sixteen 23-year periods to determine the average interest vintage weights for the FY 2002-based CIPI. The vintage weights for the FY 1997 CIPI and the proposed FY 2002 CIPI are presented in Chart 13.

After the capital cost category weights were computed, it was necessary to select appropriate price proxies to reflect the rate of increase for each expenditure category. Our proposed price proxies for the FY 2002-based CIPI are the same as those used in the FY 1997-based CIPI. We still believe these are the most appropriate proxies for hospital capital costs that meet our selection criteria of relevance, timeliness, availability, and reliability. We ran the proposed FY 2002-based index using the Moody's Aaa bonds average yield and then using the Moody's Baa bonds average yield as proxy for the for-profit interest cost category. There was no difference in the two sets of index percent changes either historically or forecasted. The rationale for selecting these price proxies is explained more fully in the August 30, 1996 final rule (61 FR 46196). The proposed proxies are presented in Chart 14.

Global Insight, Inc. forecasts a 0.7 percent increase in the FY 2002-based CIPI for 2006, as shown in Chart 15. This is the result of a 1.3 percent increase in projected depreciation prices (building and fixed equipment, and movable equipment) and a 2.7 percent increase in other capital expense prices, partially offset by a 2.3 percent decrease in vintage-weighted interest rates in FY 2006, as indicated in Chart 15. Accordingly, we are proposing a 0.7 percent increase in the CIPI.

Rebasing the CIPI from FY 1997 to FY 2002 decreased the percent change in the FY 2006 forecast by 0.1 percentage point, from 0.8 to 0.7, as shown in Chart 12. The difference is caused mostly by changes in the relationships between the cost category weights within depreciation and interest. The fixed depreciation cost weight relative to the movable depreciation cost weight and the nonprofit/government interest cost weight relative to the for-profit interest cost weight are both less in the FY 2002-based CIPI. The changes in these relationships have a small effect on the FY 2002-based CIPI percent changes. However, when added together, they are responsible for a negative one-tenth percentage point difference between the FY 2002-based CIPI and the FY 1997-based CIPI.

V. Other Decisions and Proposed Changes to the IPPS for Operating Costs and GME Costs

A. Postacute Care Transfer Payment Policy (§ 412.4)

(If you choose to comment on issues in this section, please include the caption “Postacute Care Transfers” at the beginning of your comment.)

1. Background

Existing regulations at § 412.4(a) define discharges under the IPPS as situations in which a patient is formally released from an acute care hospital or dies in the hospital. Section 412.4(b) defines transfers from one acute care hospital to another, and § 412.4(c) defines transfers to certain postacute care providers. Our policy provides that, in transfer situations, full payment is made to the final discharging hospital and each transferring hospital is paid a per diem rate for each day of the stay, not to exceed the full DRG payment that would have been made if the patient had been discharged without being transferred.

The per diem rate paid to a transferring hospital is calculated by dividing the full DRG payment by the geometric mean length of stay for the DRG. Based on an analysis that showed that the first day of hospitalization is the most expensive (60 FR 45804), our policy provides for payment that is double the per diem amount for the first day (§ 412.4(f)(1)). Transfer cases are also eligible for outlier payments. The outlier threshold for transfer cases is equal to the fixed-loss outlier threshold for nontransfer cases, divided by the geometric mean length of stay for the DRG, multiplied by the length of stay for the case, plus one day. The purpose of the IPPS transfer payment policy is to avoid providing an incentive for a hospital to transfer patients to another hospital early in the patients' stay in order to minimize costs while still receiving the full DRG payment. The transfer policy adjusts the payments to approximate the reduced costs of transfer cases.

2. Changes to DRGs Subject to the Postacute Care Transfer Policy (§§ 412.4(c) and (d))

Section 1886(d)(5)(J) of the Act provides that, effective for discharges on or after October 1, 1998, a “qualified discharge” from one of 10 DRGs selected by the Secretary to a postacute care provider would be treated as a transfer case. This section required the Secretary to define and pay as transfers all cases assigned to one of 10 DRGs selected by the Secretary, if the individuals are discharged to one of the following postacute care settings:

• A hospital or hospital unit that is not a subsection 1886(d) hospital. (Section 1886(d)(1)(B) of the Act identifies the hospitals and hospital units that are excluded from the term “subsection (d) hospital” as psychiatric hospitals and units, rehabilitation hospitals and units, children's hospitals, long-term care hospitals, and cancer hospitals.)

• A SNF (as defined at section 1819(a) of the Act).

• Home health services provided by a home health agency, if the services relate to the condition or diagnosis for which the individual received inpatient hospital services, and if the home health services are provided within an appropriate period (as determined by the Secretary).

In the July 31, 1998 IPPS final rule (63 FR 40975 through 40976), we specified that a patient discharged to home would be considered transferred to postacute care if the patient received home health services within 3 days after the date of discharge. In addition, in the July 31, 1998 final rule, we did not include patients transferred to a swing-bed for skilled nursing care in the definition of postacute care transfer cases (63 FR 40977).

Section 1886(d)(5)(J) of the Act directed the Secretary to select 10 DRGs based upon a high volume of discharges to postacute care and a disproportionate use of postacute care services. As discussed in the July 31, 1998 final rule, these 10 DRGs were selected in 1998 based on the MedPAR data from FY 1996. Using that information, we identified and selected the first 20 DRGs that had the largest proportion of discharges to postacute care (and at least 14,000 such transfer cases). In order to select 10 DRGs from the 20 DRGs on our list, we considered the volume and percentage of discharges to postacute care that occurred before the mean length of stay and whether the discharges occurring early in the stay were more likely to receive postacute care. We identified 10 DRGs to be subject to the postacute care transfer rule starting in FY 1999.

Section 1886(d)(5)(J)(iv) of the Act authorizes the Secretary to expand the postacute care transfer policy for FY 2001 or subsequent fiscal years to additional DRGs based on a high volume of discharges to postacute care facilities and a disproportionate use of postacute care services. In the FY 2004 IPPS final rule (68 FR 45412), we expanded the postacute care transfer policy to include additional DRGs. We established the following criteria that a DRG must meet, for both of the 2 most recent years for which data are available, in order to be included under the postacute care transfer policy:

• At least 14,000 postacute care transfer cases;

• At least 10 percent of its postacute care transfers occurring before the geometric mean length of stay;

• A geometric mean length of stay of at least 3 days; and

• If a DRG is not already included in the policy, a decline in its geometric mean length of stay during the most recent 5-year period of at least 7 percent.

In the FY 2004 IPPS final rule, we identified 21 new DRGs that met these criteria. We also determined that one DRG from the original group of 10 DRGs (DRG 263) no longer met the volume criterion of 14,000 transfer cases. Therefore, we removed DRGs 263 and 264 (DRG 264 is paired with DRG 263) from the policy and expanded the postacute care transfer policy to include payments for transfer cases in the new 21 DRGs, effective October 1, 2003. As a result, a total of 29 DRGs were subject to the postacute care transfer policy in FY 2004. In the FY 2004 IPPS final rule, we indicated that we would review and update this list periodically to assess whether additional DRGs should be added or existing DRGs should be removed (68 FR 45413).

For FY 2005, we analyzed the available data from the FY 2003 MedPAR file. For the 2 most recent years of available data (FY 2002 and FY 2003), we found that no additional DRGs qualified under the four criteria set forth in the IPPS final rule for FY 2004. We also analyzed the DRGs included under the policy for FY 2004 to determine if they still met the criteria to remain under the policy. In addition, we analyzed the special circumstances arising from a change to one of the DRGs included under the policy in FY 2004.

In the FY 2005 IPPS final rule (69 FR 48942), we deleted DRG 483 (Tracheostomy With Mechanical Ventilation 96+ Hours or Principal Diagnosis Except Face, Mouth, and Neck Diagnosis) and established the following new DRGs as replacements: DRG 541 (Tracheostomy With Mechanical Ventilation 96+ Hours or Principal Diagnosis Except Face, Mouth and Neck Diagnoses With Major O.R. Procedure) and DRG 542 (Tracheostomy with Mechanical Ventilation 96+ Hours or Principal Diagnosis Except Face, Mouth and Neck Diagnoses Without Major O.R. Procedure). Cases in the existing DRG 483 were assigned to the new DRGs 541 and 542 based on the presence or absence of a major O.R. procedure, in addition to the tracheostomy code that was previously required for assignment to DRG 483. Specifically, if the patient's case involves a major O.R. procedure (a procedure whose code is included on the list that is assigned to DRG 468 (Extensive O.R. Procedure Unrelated to Principal Diagnosis), except for tracheostomy codes 31.21 and 31.29), the case is assigned to the DRG 541. If the patient does not have an additional major O.R. procedure (that is, if there is only a tracheostomy code assigned to the case), the case is assigned to DRG 542.

Based on data analysis, we determined that neither DRG 541 nor DRG 542 would have enough cases to meet the existing threshold of 14,000 transfer cases for inclusion in the postacute care transfer policy. Nevertheless, we believed the cases that would be incorporated into these two DRGs remained appropriate candidates for application of the postacute care transfer policy and that the subdivision of DRG 483 should not change the original application of the postacute care transfer policy to the cases once included in that DRG. Therefore, for FY 2005, we proposed alternate criteria to be applied in cases where DRGs do not satisfy the existing criteria, for discharges occurring on or after October 1, 2004 (69 FR 28273 and 28374). The proposed new criteria were designed to address situations such as those posed by the split of DRG 483, where there remain substantial grounds for inclusion of cases within the postacute care transfer policy, although one or more of the original criteria may no longer apply. Under the proposed alternate criteria, DRGs 430, 541, and 542 would have qualified for inclusion in the postacute care transfer policy.

In the response to comments on our FY 2005 proposal, we decided not to adopt the proposed alternate criteria for including DRGs under the postacute care transfer policy in the FY 2005 IPPS final rule. Instead we adopted the policy of simply grandfathering, for a period of 2 years, any cases that were previously included within a DRG that has split, when the split DRG qualified for inclusion in the postacute care transfer policy for both of the previous 2 years. Under this policy, the cases that were previously assigned to DRG 483 and that now fall into DRGs 541 and 542 continue to be subject to the policy. Therefore, effective for discharges on or after October 1, 2004, 30 DRGs, including new DRGs 541 and 542, are subject to the postacute care transfer policy. We indicated that we would monitor the frequency with which these cases are transferred to postacute care settings and the percentage of these cases that are short-stay transfer cases. Because we did not adopt the proposed alternate criteria for DRG inclusion in the postacute care transfer policy, DRG 430 (Psychoses) did not meet the criteria for inclusion and has not been subject to the postacute care transfer policy for FY 2005. We also invited comments on how to treat the cases formerly included in a split DRG after the grandfathering period.

We note that some commenters also suggested that, in place of the proposed alternate criteria, we should adopt a policy of permanently applying the postacute care transfer policy to a DRG once it has initially qualified for inclusion in the policy. These commenters noted that removing DRGs from the postacute care transfer policy makes the payment system less stable and results in inconsistent incentives over time. They also argued that “a drop in the number of transfers to postacute care settings is to be expected after the transfer policy is applied to a DRG, but the frequency of transfers may well rise again if the DRG is removed from the policy.” We indicated that we would consider adopting this general policy once we had evaluated the experience with the specific cases that are subject to the grandfathering policy for FY 2005 and FY 2006.

In the May 18, 2004 proposed rule, we also called attention to the data concerning DRG 263, which was subject to the postacute care transfer policy until FY 2004. We removed DRG 263 from the postacute care transfer policy for FY 2004 because it did not have the minimum number of cases (14,000) transferred to postacute care (13,588 transfer cases in FY 2002, with more than 50 percent of transfer cases being short-stay transfers). The FY 2003 MedPAR data show that there were 15,602 transfer cases in the DRG in FY 2003, of which 46 percent were short-stay transfers. Because we removed the DRG from the postacute care transfer policy in FY 2004, it must meet all criteria to be included under the policy in subsequent fiscal years. Because the geometric mean length of stay for DRG 263 showed only a 6-percent decrease since 1999, DRG 263 did not qualify to be added to the policy for FY 2005 under the existing criteria that were included in last year's rule. DRG 263 would have qualified under the volume threshold and percent of short-stay transfer cases under the proposed new alternate criteria contained in the FY 2005 proposed rule. However, it still would not have met the proposed required decline in length of stay to qualify to be added to the policy for FY 2005. We indicated that we would continue to monitor the experience with DRG 263, especially in light of the comment that recommended a general policy of grandfathering cases that qualify under the criteria for inclusion in the postacute care transfer policy.

The table below displays the 30 DRGs that are included in the postacute care transfer policy, effective for discharges occurring on or after October 1, 2004.

For this year's proposed rule, we have conducted an extensive analysis of the FY 2003 and FY 2004 MedPAR data to monitor the effects of the postacute care transfer policy. We have also conducted an overall assessment of the postacute care transfer policy since its inception in FY 1999. Specifically, we have examined the relationship between rates of postacute care utilization and the geometric mean length of stay and the relationship between a high volume and a high proportion of postacute care transfers within a DRG in light of experience under the current policy. Specifically, we examined whether a decline in the geometric mean length of stay is associated with an increase in the volume and proportion of total cases in a DRG that are discharges to postacute care. We analyzed these data as part of determining whether to retain the criteria that a DRG must have a decline in the geometric mean length of stay of at least 7 percent in the previous 5-year period to be included under the postacute care transfer policy.

Our current criteria for inclusion in the postacute care transfer policy include a requirement that, if a DRG is not already included in the policy, there must be a decline of at least 7 percent in the DRG's geometric mean length of stay during the most recent 5-year period. It has come to our attention that not all DRGs that experience an increase in postacute care utilization also experience a decrease in geometric mean length of stay. In fact, some DRGs with increases in postacute care utilization during the past several years have also experienced an increase in the geometric mean length of stay. The table below lists a number of DRGs that experienced increases in postacute care utilization and increases in the geometric mean length of stay from FY 2002 through FY 2004:

Our current criteria also include a requirement that a DRG have at least 14,000 total postacute care transfer cases in order to be included in the policy. We have examined the data on the numbers of transfers and the percentage of postacute care transfer cases across DRGs. Among the 30 DRGs currently included within the postacute care transfer policy, the percentage of postacute care transfer cases ranges from a low of 15 percent to a high of 76 percent. Among DRGs that are not currently included within the policy, many have a relatively high percentage of postacute care transfer cases in proportion to the total volume of cases for the DRG or a relatively high volume of discharges to postacute care facilities, or both. For this reason, we reviewed the data for all DRGs before proposing a change to the postacute care transfer payment policy. As part of this review, we found that:

• Of 550 DRGs, 26 have been deactivated and 17 have no cases in the FY 2004 MedPAR files. We are not proposing any changes for these DRGs because application of the postacute care transfer policy to them would have no effect.

• Of the remaining 507 DRGs, 220 have geometric mean lengths of stay that are less than 3.0 days. Because the transfer payment policy provides 2 times the per diem rate for the first day of care (due to the large proportion of charges incurred on the first day of a patient's treatment), including these DRGs in the transfer policy would be relatively meaningless as they would all receive a full DRG payment. For this reason, we are not proposing any changes to the postacute care transfer policy for these DRGs.

• Of the remaining 287 DRGs, 64 have fewer than 100 short-stay transfer cases. In addition, 39 of these 64 DRGs have fewer than 50 short-stay transfer cases. Consistent with the statutory guidance, we are not proposing any change to how we apply the postacute care transfer payment policy to these DRGs because we believe that these DRGs do not have a high volume of discharges to postacute care facilities or involve a disproportionate use of postacute care services.

Once we eliminated the DRGs cited above from consideration for the postacute care transfer policy, we examined the characteristics of the remaining 223 DRGs. We found that these DRGs had three common characteristics:

• The DRG had at least 2,000 total postacute care transfer cases.

• At least 20 percent of all cases in the DRG were discharged to postacute care settings.

• 10 percent of all discharges to postacute care were prior to the geometric mean length of stay for the DRG.

Consistent with the statutory guidance giving the Secretary the authority to make a DRG subject to the postacute care transfer policy based on a high volume of discharges to postacute care facilities and a disproportionate use of postacute care services, we believe these DRGs have characteristics that make them appropriate for inclusion in the postacute care transfer policy.

As a result of our analysis, we believe that it is appropriate to consider major revisions to the criteria for including a DRG within the postacute care transfer policy. First, our analysis calls into question the requirement that a DRG experience a decline in the geometric mean length of stay over the most recent 5-year period. Our findings that some DRGs with increases in postacute care utilization during the past several years have also experienced increases in geometric mean length of stay indicate that this criterion is no longer effective to identify those DRGs that should be subject to the postacute care transfer policy. In addition, our findings about the number of DRGs with relatively high volumes (at least 2,000 cases) and relatively high proportions (at least 20 percent) of postacute care utilization suggest that we should revise the requirement that a DRG have at least 14,000 total postacute care transfer cases to be included within the postacute care transfer policy.

Our analysis does confirm that it is appropriate to maintain the requirement that a DRG must have a geometric mean length of stay of at least 3.0 days in order to be included within the postacute care transfer policy. We believe that this policy should be retained because, under the transfer payment methodology, hospitals receive the entire payment for cases in these DRGs in the first 2 days of the stay. Lowering the limit below 3.0 days would, therefore, have no effect on payment for DRGs with geometric mean lengths-of-stay in this range. For the reasons discussed in the May 19, 2003 proposed rule (68 FR 27199) and because it is a common characteristic of DRGs with a large number of cases discharged to postacute care, we also continue to believe that it is appropriate to retain the criterion that at least 10 percent of all cases that are transferred to postacure care should be short-stay cases where the patient is transferred before the geometric mean length of stay for the DRG. We also continue to believe that both DRGs in a CC/non-CC pair should be subject to the postacute care transfer policy if one of the DRGs meets the criteria for inclusion. By including both DRGs in a CC/non-CC pair, our policy will preclude an incentive for hospitals to code cases in ways designed to avoid triggering the application of the policy, for example, by excluding codes that would identify a complicating or comorbid condition in order to assign a case to a non-CC DRG that is not subject to the policy.

Therefore, we are considering substantial revisions to the four criteria that are currently used to determine whether a DRG qualifies for inclusion in the postacute care transfer policy. The current criteria provide that, in order to be included within the policy, a DRG must have, for both of the 2 most recent years for which data are available:

• At least 14,000 total postacute care transfer cases;

• At least 10 percent of its postacute care transfers occurring before the geometric mean length of stay;

• A geometric mean length of stay of at least 3 days;

• If a DRG is not already included in the policy, a decline in its geometric mean length of stay during the most recent 5-year period of at least 7 percent; and

• If the DRG is one of a paired set of DRGs based on the presence or absence of a comorbidity or complication, both paired DRGs are included if either one meets the first three criteria above.

As a result of our analysis, we considered two options for revising the current criteria. Option 1 is to include all DRGs within the postacute care transfer policy. This option has the advantage of providing consistent treatment of all DRGs. However, as we discussed above, our analysis tends to indicate that, at a minimum, it may be appropriate to maintain the requirement that a DRG must have a geometric mean length of stay of at least 3.0 days because, under the transfer payment methodology, hospitals receive the entire payment for these DRGs in the first 2 days of the stay. Lowering the limit below 3.0 days, would therefore have little or no effect on payment for DRGs with geometric mean lengths of stay in this range.

Option 2 that we considered is to expand the application of the postacute care transfer policy by applying the policy to any DRG that meets the following criteria:

• The DRG has at least 2,000 postacute care transfer cases;

• At least 20 percent of the cases in the DRG are discharged to postacute care;

• Out of the cases discharged to postacute care, at least 10 percent occur before the geometric mean length of stay for the DRG;.

• The DRG has a geometric mean length of stay of at least 3.0 days;

• If the DRG is one of a paired set of DRGs based on the presence or absence of a comorbidity or complication, both paired DRGs are included if either one meets the first three criteria above.

Option 2 would expand the application of the postacute care transfer policy to 223 DRGs that have both a relatively high volume and a relatively high proportion of postacute care utilization. The proposed change would also avoid applying the postacute care transfer policy to DRGs with only a small number or proportion of cases transferred to postacute care. The table below shows the DRGs that would be included in the postacute care transfer policy under this option:

We believe that the analysis that we have conducted suggest that substantial revisions to the criteria for including a DRG within the postacute care transfer policy are warranted. In this proposed rule, we are formally proposing Option 2 as presented above. However, we invite comments on both of these options and on the analysis that we have presented.

The impact section in Appendix A of this proposed rule discusses our findings on the effects of adopting Option 2. The proposed DRG relative weights included in Tables 5 and 7 of the Addendum to this proposed rule also include the effect of changing the postacute care transfer policy as described in Option 2 above. We note that if we adopt either option discussed above, or a variation based on comments submitted, we would follow procedures similar to those that are currently followed for treating cases identified as transfers in the DRG recalibration process. That is, as described in the discussion of DRG recalibration in section II.C. of the preamble to this proposed rule, additional transfer cases would be counted as a fraction of a case based on the ratio of a hospital's transfer payment under the per diem payment methodology to the full DRG payment for nontransfer cases.

Section 1886(d)(5)(J)(i) of the Act recognizes that, in some cases, a substantial portion of the cost of care is incurred in the early days of the inpatient stay. Similar to the policy for transfers between two acute care hospitals, transferring hospitals receive twice the per diem rate for the first day of treatment and the per diem rate for each following day of the stay before the transfer, up to the full DRG payment, for cases discharged to postacute care. However, three of the DRGs subject to the postacute care transfer policy exhibit an even higher share of costs very early in the hospital stay in postacute care transfer situations. For these DRGs, hospitals receive 50 percent of the full DRG payment plus the single per diem (rather than double the per diem) for the first day of the stay and 50 percent of the per diem for the remaining days of the stay, up to the full DRG payment.

In previous years, we determined that DRGs 209 and 211 met this cost threshold and qualified to receive this special payment methodology. Because DRG 210 is paired with DRG 211, we include payment for cases in that DRG for the same reason we include paired DRGs in the postacute care transfer policy (to eliminate any incentive to code incorrectly in order to receive higher payment for those cases). The FY 2004 MedPAR data show that DRGs 209 and 211 continue to have charges on the first day of the stay that are higher than 50 percent of the average charges in the DRGs. In addition, several of the DRGs that may be added to the postacute care transfer policy under the options that we are considering may also meet the 50 percent threshold in their average charges. We have identified those additional DRGs that are subject to the special payment methodology in Tables 5 and 7 of the Addendum to this proposed rule.

B. Reporting of Hospital Quality Data for Annual Hospital Payment Update (§ 412.64(d)(2))

(If you choose to comment on issues in this section, please include the caption “Hospital Quality Data” at the beginning of your document.)

1. Background

Section 1886(b)(3)(B)(vii) of the Act, as added by section 501(b) of Pub. L. 108-173 revised the mechanism used to update the standardized amount of payment for inpatient hospital operating costs. Specifically, the statute provides for a reduction of 0.4 percentage points to the update percentage increase (also known as the market basket update) for each of FYs 2005 through 2007 for any “subsection (d) hospital” that does not submit data on a set of 10 quality indicators established by the Secretary as of November 1, 2003. The statute also provides that any reduction will apply only to the fiscal year involved, and will not be taken into account in computing the applicable percentage increase for a subsequent fiscal year. This measure establishes an incentive for IPPS hospitals to submit data on the quality measures established by the Secretary.

We initially implemented section 1886(b)(3)(B)(vii) of the Act in the FY 2005 IPPS final rule (August 11, 2004, 69 FR 49078) in continuity with the Department's Hospital Quality Initiative as described at the CMS Web site: http://www.cms.hhs.gov/quality/hospitals. At a press conference on December 12, 2002, the Secretary of the Department of Health and Human Services (HHS) announced a series of steps that HHS and its collaborators were taking to promote public reporting of hospital quality information. These collaborators include the American Hospital Association, the Federation of American Hospitals, the Association of American Medical Colleges, the Joint Commission on Accreditation of Healthcare Organizations (JCAHO), the National Quality Forum, the American Medical Association, the Consumer-Purchaser Disclosure Project, the American Association of Retired Persons, the American Federation of Labor-Congress of Industrial Organizations, the Agency for Healthcare Research and Quality, as well as CMS, Quality Improvement Organizations (QIOs), and others.

In July 2003, CMS began the National Voluntary Hospital Reporting Initiative (NVHRI), now known as the Hospital Quality Alliance (HQA): Improving Care through Information. Data from this initiative have been used to populate a professional Web site providing data to healthcare professionals. This website will be followed by the development of a consumer Web site in an easy-to-use format. The consumer Web site is intended to be an important tool for individuals to use in making decisions about health care options. This information will assist beneficiaries by providing comparison information for consumers who need to select a hospital. It will also serve as a way to encourage accountability of hospitals for the care they provide to patients.

The 10 measures that were employed in this voluntary initiative as of November 1, 2003, are:

• Heart Attack (Acute Myocardial Infarction)

Was aspirin given to the patient upon arrival to the hospital?

Was aspirin prescribed when the patient was discharged?

Was a beta-blocker given to the patient upon arrival to the hospital?

Was a beta-blocker prescribed when the patient was discharged?

Was an ACE inhibitor given for the patient with heart failure?

• Heart failure

Did the patient get an assessment of his or her heart function?

Was an ACE inhibitor given to the patient?

• Pneumonia

Was an antibiotic given to the patient in a timely way?

Had a patient received a pneumococcal vaccination?

Was the patient's oxygen level assessed?

These measures have been endorsed by the National Quality Forum (NQF) and are a subset of the same measures currently collected for the JCAHO by its accredited hospitals. The Secretary adopted collection of data on these 10 quality measures in order to: (1) provide useful and valid information about hospital quality to the public; (2) provide hospitals with a sense of predictability about public reporting expectations; (3) begin to standardize data and data collection mechanisms; and (4) foster hospital quality improvement. Many hospitals are currently participating in the National Voluntary Hospital Reporting Initiative (NVHRI), and are submitting data to the QIO Clinical Warehouse for that purpose.

Over the next several years, hospitals are encouraged to take steps toward the adoption of electronic medical records (EMRs) that will allow for reporting of clinical quality data from the electronic record directly to a CMS data repository. CMS intends to begin working toward creating measures specifications and a system or mechanism, or both, that will accept the data directly without requiring the transfer of the raw data into an XML file as currently exists. The Department is presently working cooperatively with other Federal agencies in the development of Federal health architecture data standards. CMS encourages hospitals that are developing systems to conform them to both industry standards and the Federal health architecture data standards, and to ensure that they would capture the data necessary for quality measures. Ideally, such systems will also provide point-of-care decision support that enables high levels of performance on the measures. Hospitals using EMRs to produce data on quality measures will be held to the same performance expectations as hospitals not using EMRs. We are exploring requirements for the submission of electronically produced data and other options to encourage the submission of such data, and invite comments on this issue.

2. Requirements for Hospital Reporting of Quality Data

The procedures for participating in the Reporting Hospital Quality Data for the Annual Payment Update (RHQDAPU) program created in accordance with section 501(b) of Pub. L. 108-173 can be found on the QualityNet Exchange at the Web site: http://www.qnetexchange.org in the “Reporting Hospital Quality Data for Annual Payment Update Reference Checklist”. This checklist also contains all of the forms to be completed by hospitals participating in the program. In order to participate in the hospital reporting initiative, hospitals must follow these steps:

• The hospital must identify a QualityNet Exchange Administrator who follows the registration process and submits the information through the QIO. This must be done regardless of whether the hospital uses a vendor for transmission of data.

• All participants must first register with the QualityNet Exchange, regardless of the method used for data submission. If a hospital is currently participating in the voluntary reporting initiative, re-registration on QualityNet Exchange is unnecessary. However, the hospital must complete the Reporting Hospital Quality Data for Annual Payment Update Notice of Participation form. All hospitals must send this form to their QIOs.

• The hospital must collect data for all 10 measures and submit the data to the QIO Clinical Warehouse either using the CMS Abstraction & Reporting Tool (CART), the JCAHO Oryx Core Measures Performance Measurement System (PMS), or another third-party vendor that has met the measurement specification requirements for data transmission to QualityNet Exchange. The QIO Clinical Warehouse will submit the data to CMS on behalf of the hospitals. The submission will be done through QualityNet Exchange, which is a secure site that voluntarily meets or exceeds all current Health Insurance Portability and Accountability Act (HIPAA) requirements, while maintaining QIO confidentiality as required under the relevant regulations and statutes. The information in the Clinical Warehouse is considered QIO data and, therefore, is subject to the stringent QIO confidentiality regulations in 42 CFR Part 480.

For the first year of the program, FY 2005, hospitals were required to begin the submission of data by July 1, 2004, under the provisions of section 1886(b)(3)(B)(vii)(II) of the Act, as added by section 501(b) of Pub. L. 108-173. Because section 501(b) of Pub. L. 108-173 granted a 30-day grace period for submission of data for purposes of the FY 2005 update, hospitals were given until August 1, 2004, for completed submissions to be successfully accepted into the QIO Clinical Warehouse. Hospitals were required to submit data for the first calendar quarter of 2004. We received data from over 98 percent of the eligible hospitals.

For FY 2006, we are proposing that hospitals must continuously submit the required 10 measures each quarter according to the schedule found on the Web site at http://www.qnetexchange.org. New facilities must submit the data using the same schedule, as dictated by the quarter they begin discharging patients. We will expect that all hospitals will have submitted data to the QIO Clinical Warehouse for discharges through the fourth quarter of calendar year 2004 (October to December 2004). Hospitals have 4½ months from the end of the fourth quarter until the closing of the warehouse (from December 31, 2004, until May 15, 2005) to make sure there are no errors in the submitted data. The warehouse is closed at that time in order to draw the validation sample and to begin preparing the public file for Hospital Compare public reporting. Data from fourth quarter 2004 discharges (October through December 2004) will be the last quarter of data with a submission deadline (May 15, 2005) that precedes our deadline for certifying the hospitals eligible to receive the full update for FY 2006. As we required for FY 2005, the data for each quarter must be submitted on time and pass all of the edits and consistency checks required in the clinical warehouse. Hospitals that do not treat a condition or have very few discharges will not be penalized and will receive the full annual payment update if they submit all the data they do possess.

New hospitals should begin collecting and reporting data immediately and complete the registration requirements for the RHQDAPU. New hospitals will be held to the same standard as established facilities when determining the expected number of discharges for the calendar quarters covered for each fiscal year. The annual payment updates would be based on the successful submission of data to CMS via the QIO Clinical Warehouse by the established deadlines.

For FY 2005, hospitals could withdraw from RHQDAPU at any time up to August 1, 2004. Hospitals withdrawing from the program did not receive the full market basket update and, instead, received a reduction of 0.4 percentage points in their update. By law, a hospital's actions each year will not affect its update in a subsequent year. Therefore, a hospital must meet the requirements for RHQDAPU each year the program is in effect. Failure of a hospital to receive the full update in one year does not affect its update in a succeeding year.

For the first year, FY 2005, there were no chart-audit validation criteria in place. Based upon our experience from the FY 2005 submissions, and upon our requirement for reliable and valid data, we are proposing to place the following additional requirements on hospitals for the data for the FY 2006 payment update. These requirements, as well as additional information on validation requirements, will be placed on QualityNet Exchange.

• The hospital must have passed our validation requirement of a minimum of 80 percent reliability, based upon our chart-audit validation process, for the third quarter data of calendar year 2004 in order to receive the full market basket update in FY 2006. These data were due to the clinical warehouse by February 15, 2005. We will use appropriate confidence intervals to determine if a hospital has achieved an 80-percent reliability. The use of confidence intervals will allow us to establish an appropriate range below the 80-percent reliability threshold that will demonstrate a sufficient level of validity to allow the data to still be considered valid. We will estimate the percent reliability based upon a review of five charts and then calculate the upper 95 percent confidence limit for that estimate. If this upper limit is above the required 80 percent, the hospital data will be considered validated. We are proposing to use the design specific estimate of the variance for the confidence interval calculation, which, in this case, is a single stage cluster sample, with unequal cluster sizes. (For reference, see Cochran, William G. (1977) Sampling Techniques, John Wiley & Sons, New York, chapter 3, section 3.12.)

We will use a two-step process to determine if a hospital is submitting valid data. At the first step, we will calculate the percent agreement for all of the variables submitted in all of the charts, whether or not they are related to the 10 measures. If a hospital falls below the 80 percent cutoff, we will then restrict the comparison to those variables associated with the 10 measures required under section 501(b) of Pub. L. 108-173. We will recalculate the percent agreement and the estimated 95 percent confidence interval and again compare to the 80 percent cutoff point. If a hospital passes under this restricted set of variables, the hospital will be considered to be submitting valid data for purposes of this proposed rule.

Under the standard appeal process, all hospitals are given the detailed results of the Clinical Data Abstraction Center (CDAC) reabstraction along with their estimated percent reliability and the upper bound of the 95 percent confidence interval. If a hospital disagrees with any of the abstraction results from the CDAC, the hospital has 10 days to appeal these results to their QIO. The QIO will review the appeal with the hospital and, if the QIO review agrees with the hospitals original abstraction, the QIO will forward the appeal to the CDAC for a final determination. If the QIO does not agree with the hospital's appeal, then the original results stand. When the CDAC has made its final determination, the new results will be provided to the hospital through the usual processes and the validation described previously will be repeated. This process is described in detail at the following Web site: http://www.qnetexchange.org. Hospitals that fail to receive the required 80-percent reliability after the standard appeals process may ask that CMS accept the fourth quarter of calendar year 2004 validation results as a final attempt to present evidence of reliability. However, in order to process the fourth quarter data in time to meet our internal deadlines, these hospitals will need to submit the charts requested for reabstraction as soon as possible, but no later than August 1, 2005, in order for us to guarantee consideration of this information. Hospitals that make the early submission of these data and pass the 80-percent reliability minimum level will satisfy this requirement. In reviewing the data for these hospitals, we plan to combine the 5 cases from the third quarter and the 5 cases from the fourth quarter into a single sample to determine whether the 80 percent reliability level is met. This gives us the greatest accuracy when estimating the reliability level. The confidence interval approach accounts for the variation in coding among the 5 charts pulled each quarter and for the entire year around the overall hospital mean score (on all individual data elements compared). The closer each case's reliability score is to the hospital mean score, the tighter the confidence interval established for that hospital. A hospital may code each chart equally inaccurately, achieve a tight confidence interval, and fail to pass even though its overall score is just below the passing threshold (75 percent, for example). A hospital with more variation among charts will achieve a broader confidence interval, which may allow it to pass even though some charts score very low and others very high. As we gain experience with this system, we will adjust it as appropriate over time as we build our sample of validated cases and learn more about hospital performance against the thresholds we establish.

We believe we have adopted the most suitable statistical tests for the hospital data we are trying to validate, but we invite public comments on this and any other approaches hospitals choose to comment on. We are particularly interested in comments from hospitals on the initial starting points for the passing threshold, the confidence interval established, and the sampling approach. Because we will be receiving data each quarter from hospitals, our information on the sampling methodology will improve with each quarter's submissions. We will analyze this information to determine if any changes in our methodology are required. We will make any necessary revisions to the sampling methodology and the statistical approach through manual issuances and other guidance to hospitals.

• The hospital must have two consecutive quarters of publishable data. The information collected by CMS through this rule will be displayed for public viewing on the Internet. Prior to this display, hospitals are permitted to preview their information as we have it recorded. In our previous experience, a number of hospitals requested that this information not be displayed due to errors in the submitted data that were not of the sort that could be detected by the normal edit and consistency checks. We acquiesced to these requests in the public interest and because of our own desire to present correct data. However, we still believe that the hospital bears the responsibility of submitting correct data that can serve as valid and reliable information. Therefore, in order to receive the full market basket update for IPPS, we are proposing to establish a requirement for two consecutive quarters of publishable data. We published the first quarter of calendar year 2004 data in November 2004. The first two quarters of calendar year 2004 data were published in March 2005. Our plans are to publish the first three quarters of calendar year 2004 in August 2005. For the FY 2006 update, we will expect that all hospitals receiving the full market basket update for FY 2006 to have published data for all of the required 10 measures for both the March and August 2005 publications. Allowances would be made for hospitals that do not treat a particular condition and for new hospitals that have not had the opportunity to provide the required data.

C. Sole Community Hospitals (SCHs) and Medicare Dependent Hospitals (MDHs) (§§ 412.73, 412.75, 412.77, 412.92 and 412.108)

(If you choose to comment on issues in this section, please include the caption “Sole Community Hospitals and Medicare Dependent Hospitals” at the beginning of your comments.)

1. Background

Under the IPPS, special payment protections are provided to a sole community hospital (SCH). Section 1886(d)(5)(D)(iii) of the Act defines an SCH as a hospital that, by reason of factors such as isolated location, weather conditions, travel conditions, absence of other like hospitals (as determined by the Secretary), or historical designation by the Secretary as an essential access community hospital, is the sole source of inpatient hospital services reasonably available to Medicare beneficiaries. The regulations that set forth the criteria that a hospital must meet to be classified as an SCH are located in § 412.92 of the regulations. Although SCHs and MDHs are paid under a special payment methodology, they are hospitals that are paid under section 1886(d) of the Act. Like all IPPS hospitals paid under section 1886(d) of the Act, SCHs and MDHs are paid for their discharges based on the DRG weights calculated under section 1886(d)(4) of the Act.

Effective with hospital cost reporting periods beginning on or after October 1, 2000, section 1886(d)(5)(D)(i) of the Act (as amended by section 6003(e) of Pub. L. 101-239) and section 1886(b)(3)(I) of the Act (as added by section 405 of Pub. L. 106-113 and further amended by section 213 of Pub. L. 106-554), provide that SCHs are paid based on whichever of the following rates yields the greatest aggregate payment to the hospital for the cost reporting period:

• The Federal rate applicable to the hospital;

• The updated hospital-specific rate based on FY 1982 costs per discharge;

• The updated hospital-specific rate based on FY 1987 costs per discharge; or

• The updated hospital-specific rate based on FY 1996 costs per discharge.

For purposes of payment to SCHs for which the FY 1996 hospital-specific rate yields the greatest aggregate payment, payments for discharges during FYs 2001, 2002, and 2003 were based on a blend of the FY 1996 hospital-specific rate and the greater of the Federal rate or the updated FY 1982 or FY 1987 hospital-specific rate. For discharges during FY 2004 and subsequent fiscal years, payments based on the FY 1996 hospital-specific rate are 100 percent of the updated FY 1996 hospital-specific rate.

For each cost reporting period, the fiscal intermediary determines which of the payment options will yield the highest rate of payment. Payments are automatically made at the highest rate using the best data available at the time the fiscal intermediary makes the determination. However, it may not be possible for the fiscal intermediary to determine in advance precisely which of the rates will yield the highest payment by year's end. In many instances, it is not possible to forecast the outlier payments, the amount of the DSH adjustment, or the IME adjustment, all of which are applicable only to payments based on the Federal rate. The fiscal intermediary makes a final adjustment at the close of the cost reporting period to determine precisely which of the payment rates would yield the highest payment to the hospital.

If a hospital disagrees with the fiscal intermediary's determination regarding the final amount of program payment to which it is entitled, it has the right to appeal the fiscal intermediary's decision in accordance with the procedures set forth in subpart R of part 400, which concern provider payment determinations and appeals.

Under section 1886(d)(5)(G) of the Act, Medicare dependent hospitals (MDHs) are paid based on the Federal national rate or, if higher, the Federal national rate plus 50 percent of the difference between the Federal national rate and the updated hospital-specific rate based on FY 1982 or FY 1987 costs per discharge, whichever is higher. MDHs do not have the option to use their FY 1996 hospital-specific rate. The regulations that set forth the criteria that a hospital must meet to be classified as an MDH are located in § 412.108.

2. Budget Neutrality Adjustment to Hospital Payments Based on Hospital-Specific Rate

Under section 1886(d)(4)(C)(i) of the Act, beginning in FY 1988 and for each fiscal year thereafter, the Secretary is required to adjust the DRG classifications and weighting factors established under sections 1886(d)(4)(A) and (d)(4)(B) of the Act to reflect changes in treatment patterns, technology, and other factors that may change the use of hospital resources. For discharges beginning in FY 1991, section 1886(d)(4)(C)(iii) of the Act requires the Secretary to ensure that adjustments to DRG classifications and weighting factors result in aggregate DRG payments that are budget neutral (not greater or less than the aggregate payments without the adjustments). In addition, section 1886(d)(3)(E) of the Act requires the Secretary to update the hospital wage index annually in a manner that does not affect aggregate payments to hospitals under section 1886(d) of the Act.

As discussed in the May 9, 1990 IPPS proposed rule (55 FR 19466), we normalize the proposed recalibrated DRG weights by an adjustment factor so that the average case weight after recalibration is equal to the average case weight prior to recalibration. While this adjustment is intended to ensure that recalibration does not affect total payments to hospitals under section 1886(d) of the Act, our analysis has indicated that the normalization adjustment does not achieve budget neutrality with respect to aggregate payments to hospitals under section 1886(d) of the Act. In order to comply with the requirement of section 1886(d)(4)(C)(iii) of the Act that the DRG reclassification changes and recalibration of the relative weights be budget neutral and the requirement of section 1886(d)(3)(E) of the Act that the updated wage index be implemented in a budget neutral manner, we compare the estimated aggregate payments using the current year's relative weights and wage index factors to aggregate payments using the prior year's weights and factors. Based on this comparison, we compute a budget neutrality adjustment factor. This budget neutrality adjustment factor is then applied to the standardized per discharge payment amount. Beginning in FY 1994, in applying the current year's budget neutrality adjustment factor to both the standard Federal rate and hospital-specific rates, we do not remove the prior years' budget neutrality adjustment factors because estimated aggregate payments after the changes in the DRG relative weights and wage index factors must equal estimated aggregate payments prior to the changes. If we removed the prior year adjustment, we would not satisfy this condition. (58 FR 30269)

We are bound by the Act to ensure that aggregate payments to hospitals under section 1886(d) of the Act are projected to neither increase nor decrease as a result of the annual updates to the DRG classifications and weighting factors and for the updated wage indices. However, we have broad authority under the statute to determine the method for implementing budget neutrality. We have maintained since 1991 that the budget neutrality adjustment is applied, as described above, to all hospitals paid under section 1886(d) of the Act, including those that are paid based on a hospital-specific rate. Thus, the budget neutrality factor applies to payments to SCHs and MDHs.

Hospitals that are paid under section 1886(d) of the Act based on a hospital-specific rate are subject to the DRG reclassification and recalibration factor component of the budget neutrality adjustment because, as IPPS hospitals, they are paid based on DRGs. As described above, changes in DRG relative weights from one year to the next affect aggregate SCH and MDH payments, which in turn affect total Medicare payments to hospitals under section 1886(d) of the Act. Because SCHs and MDHs are paid under section 1886(d) of the Act, we believe their DRG payments should be factored into the DRG reclassification and recalibration factor component of the budget neutrality adjustment to ensure that recalibration does not affect total payments to hospitals under section 1886(d) of the Act. Therefore, we continue to believe it is appropriate to apply the DRG reclassification and recalibration factor component of the budget neutrality adjustment to SCHs and MDHs. Furthermore, consistent with the requirement of section 1886(d)(4)(C)(iii) of the Act that DRG reclassification changes and recalibration of relative weights be budget neutral, we continue to believe it is appropriate to apply this adjustment without removing the previous year's adjustment factor.

In the May 9, 1990 proposed rule (55 FR 19466), we discussed the rationale behind our decision to apply the wage index portion of the budget neutrality adjustment factors to hospitals that are paid under section 1886(d) of the Act based on a hospital-specific rate. We described how, even though the wage index is only applicable to those hospitals that are paid based on the Federal rate, the changes in wage index can cause changes in the payment basis for some SCHs, and MDHs. That is, depending on the size of the increase in their wage index values, some hospitals that had been paid based on the hospital-specific rate could now be paid based on the Federal rate when the wage index-adjusted Federal rate exceeds the hospital-specific rate. In some instances, hospitals that had previously been paid based on the Federal rate may be paid based on the hospital-specific rate if the Federal rate is adjusted by a lower wage index and the hospital-specific rate now exceeds the Federal rate. These shifts in the payment basis affect aggregate program payments and, therefore, are taken into account in the budget neutrality adjustment. In addition, we maintained that because we apply the adjustment to all hospitals paid based on the Federal rate under section 1886(d) of the Act, it would be fair to apply it to hospitals that are paid under section 1886(d) of the Act based on hospital-specific rates. We believed that if we did not apply the budget neutrality factor to hospitals paid based on their hospital-specific rate, hospitals that are paid on the Federal rate would be subject to larger reductions to make up for not adjusting payments to hospitals that are paid based on hospital-specific rates.

Concerns have been raised that hospitals under section 1886(d) of the Act whose reimbursement is based on a hospital-specific rate should not be subject to the wage index component of the budget neutrality adjustment. Hospital-specific rates reflect the effects of hospitals' area wage levels and, therefore, are not adjusted by an area wage index. Accordingly, the concern is that a budget neutrality factor for changes in the wage index should not be applied to hospitals that are paid based on a hospital-specific rate. In addition, it has been suggested that the budget neutrality adjustment that CMS applies to hospitals paid on a hospital-specific rate should be similar to the budget neutrality adjustment made to hospitals in Puerto Rico. Hospitals in Puerto Rico that are paid under the IPPS are paid based on a blend of the national prospective payment rate and the Puerto Rico-specific prospective payment rate (42 CFR 412.212). Beginning in FY 1991, the Puerto Rico-specific standardized amount became subject to a budget neutrality adjustment. This budget neutrality adjustment included both the DRG reclassification and recalibration factor component and the wage index component. However, beginning in FY 1998, the Puerto Rico-specific rate has been subject only to the DRG reclassification and recalibration factor component of the budget neutrality adjustment (62 FR 46038) and not to the wage index component of the budget neutrality adjustment. In other words, beginning in FY 1998, the budget neutrality adjustment for the Puerto Rico-specific rate reflects only the DRG reclassification and recalibration factor component. This adjustment is computed, as described above, for all hospitals paid under section 1886(d) of the Act, without removing the previous year's budget neutrality adjustment.

We have considered the concern that it is inappropriate to apply a budget neutrality factor that includes a component for changes in the wage index to a hospital with a payment rate that is not adjusted by a wage index adjustment. In cases in which a hospital's payments are ultimately based on a hospital-specific rate, that portion of the payment is not adjusted by a wage index. We believe that our current policy is valid, for the reasons indicated above and in previous rulemaking documents, but we recognize that there are also valid grounds to review the regulations and consider other approaches. Accordingly, we are revisiting this policy. After further consideration of these issues, we are proposing to remove the wage index component from the budget neutrality adjustment applied to the hospital-specific rate for hospitals paid under section 1886(d) of the Act. The DRG reclassification and recalibration factor component of the budget neutrality adjustment would still apply to these hospitals, as payments to SCHs and MDHs are based on DRGs and affect total Medicare payments to hospitals under section 1886(d) of the Act. In applying this budget neutrality adjustment factor, which would include only the DRG reclassification and recalibration factor component, to the hospital-specific rate, we would not remove the prior years' budget neutrality adjustment factors. This would satisfy the statutory requirement that estimated aggregate payments after the changes in the DRG relative weights equal estimated aggregate payments prior to the changes. We are proposing that the wage index portion of the budget neutrality adjustment would not be applied to hospital-specific amounts, as these amounts are not adjusted by an area wage index. While this may result in a slightly higher budget neutrality adjustment applied to all other IPPS hospitals, because these hospitals actually are paid based on the revised wage indices and are affected by wage index changes, we believe this is appropriate. In addition, we note that in FY 1990 when this policy was first discussed, we did not calculate a budget neutrality factor that reflected only the DRG changes. Because we now calculate such a budget neutrality factor for Puerto Rico hospitals, it would not be administratively burdensome to apply the same budget neutrality factor to SCHs and MDHs.

We are proposing to add a new paragraph (f) to § 412.73, a new paragraph (i) to § 412.75, and a new paragraph (j) to § 412.77 relating to the computation of the hospital-specific rate to clarify our longstanding policy that CMS makes an adjustment to the hospital-specific rate to ensure that changes to the DRG reclassifications and recalibrations of the DRG relative weights are made in a manner so that aggregate payments to hospitals under section 1886(d) of the Act are not affected, and that this adjustment is made without removing the budget neutrality adjustment for the prior year. These provisions are cross-referenced in § 412.92 for SCHs and § 412.108 for MDHs for purposes of computing the hospital-specific rates for these hospitals. This proposed regulatory text will reflect the proposed changes to the way CMS applies the budget neutrality adjustment to hospitals paid under section 1886(d) of the Act based on the hospital-specific rate. Specifically, it would indicate that the budget neutrality adjustment made to hospitals paid under section 1886(d) of the Act based on the hospital-specific rate will only account for the DRG reclassification and recallibration factor component. The budget neutrality adjustment would no longer include the wage index factor component.

3. Technical Change

In the September 4, 1990 IPPS final rule (55 FR 36056), we made changes to the regulations at § 412.92 to incorporate the provisions of section 6003(e) of Pub. L. 101-239. Section 6003(e) of Pub. L. 101-239 provided for a permanent payment methodology for SCHs that recognized distortions in operating costs in years subsequent to the implementation of the IPPS and provided for opportunity for payment based on a new base year. As a result of this legislation, we deleted from the regulations a special provision that we had included under § 412.92(g) that provided for a payment adjustment to compensate SCHs reasonably for the increased operating costs resulting from the addition of new services or facilities.

We have discovered that, in making the changes to § 412.92 in the September 4, 1990 final rule to remove paragraph (g), we inadvertently failed to make a conforming change to paragraph (d)(3) that references the provisions of paragraph (g) relating to a payment adjustment for significant increases in a SCH's operating costs. In this proposed rule, we are proposing to make this technical correction by revising paragraph (d)(3).

D. Rural Referral Centers (§ 412.96)

(If you choose to comment on issues in this section, please include the caption “Rural Referral Centers” at the beginning of your document.)

Under the authority of section 1886(d)(5)(C)(i) of the Act, the regulations at § 412.96 set forth the criteria that a hospital must meet in order to qualify under the IPPS as a rural referral center. For discharges occurring before October 1, 1994, rural referral centers received the benefit of payment based on the other urban standardized amount rather than the rural standardized amount. Although the other urban and rural standardized amounts are the same for discharges occurring on or after October 1, 1994, rural referral centers continue to receive special treatment under both the DSH payment adjustment and the criteria for geographic reclassification.

Section 402 of Pub. L. 108-173 raised the DSH adjustment for other rural hospitals with less than 500 beds and rural referral centers. Other rural hospitals with less than 500 beds are subject to a 12-percent cap on DSH payments. Rural referral centers are not subject to the 12.0 percent cap on DSH payments that is applicable to other rural hospitals (with the exception of rural hospitals with 500 or more beds). Rural referral centers are not subject to the proximity criteria when applying for geographic reclassification, and they do not have to meet the requirement that a hospital's average hourly wage must exceed 106 percent of the average hourly wage of the labor market area where the hospital is located.

Section 4202(b) of Pub. L. 105-33 states, in part, “[a]ny hospital classified as a rural referral center by the Secretary * * * for fiscal year 1991 shall be classified as such a rural referral center for fiscal year 1998 and each subsequent year.” In the August 29, 1997 final rule with comment period (62 FR 45999), we also reinstated rural referral center status for all hospitals that lost the status due to triennial review or MGCRB reclassification, but not to hospitals that lost rural referral center status because they were now urban for all purposes because of the OMB designation of their geographic area as urban. However, subsequently, in the August 1, 2000 final rule (65 FR 47089), we indicated that we were revisiting that decision. Specifically, we stated that we would permit hospitals that previously qualified as a rural referral center and lost their status due to OMB redesignation of the county in which they are located from rural to urban to be reinstated as a rural referral center. Otherwise, a hospital seeking rural referral center status must satisfy the applicable criteria. For FYs 1984 through 2004, we used the definitions of “urban” and “rural” in § 412.63. For FY 2005 and subsequent years, the revised definitions of “urban” and “rural” in § 412.64 apply.

One of the criteria under which a hospital may qualify as a rural referral center is to have 275 or more beds available for use (§ 412.96(b)(1)(ii)). A rural hospital that does not meet the bed size requirement can qualify as a rural referral center if the hospital meets two mandatory prerequisites (a minimum case-mix index and a minimum number of discharges) and at least one of three optional criteria (relating to specialty composition of medical staff, source of inpatients, or referral volume) (§ 412.96(c)(1) through (c)(5)). (See also the September 30, 1988 Federal Register (53 FR 38513)). With respect to the two mandatory prerequisites, a hospital may be classified as a rural referral center if—

• The hospital's case-mix index is at least equal to the lower of the median case-mix index for urban hospitals in its census region, excluding hospitals with approved teaching programs, or the median case-mix index for all urban hospitals nationally; and

• The hospital's number of discharges is at least 5,000 per year, or, if fewer, the median number of discharges for urban hospitals in the census region in which the hospital is located. (The number of discharges criterion for an osteopathic hospital is at least 3,000 discharges per year, as specified in section 1886(d)(5)(C)(i) of the Act.)

1. Case-Mix Index

Section 412.96(c)(1) provides that CMS will establish updated national and regional case-mix index values in each year's annual notice of prospective payment rates for purposes of determining rural referral center status. The methodology we use to determine the proposed national and regional case-mix index values is set forth in regulations at § 412.96(c)(1)(ii). The proposed national median case-mix index value for FY 2006 includes all urban hospitals nationwide, and the proposed regional values for FY 2006 are the median values of urban hospitals within each census region, excluding those hospitals with approved teaching programs (that is, those hospitals receiving indirect medical education payments as provided in § 412.105). These proposed values are based on discharges occurring during FY 2004 (October 1, 2003 through September 30, 2004) and include bills posted to CMS' records through December 2004.

We are proposing that, in addition to meeting other criteria, if they are to qualify for initial rural referral center status for cost reporting periods beginning on or after October 1, 2005, rural hospitals with fewer than 275 beds must have a case-mix index value for FY 2004 that is at least—

• 1.3659; or

• The median case-mix index value (not transfer-adjusted) for urban hospitals (excluding hospitals with approved teaching programs as identified in § 412.105) calculated by CMS for the census region in which the hospital is located.

The proposed median case-mix index values by region are set forth in the following table:

The preceding numbers will be revised in the final rule to the extent required to reflect the updated FY 2004 MedPAR file, which will contain data from additional bills through March 31, 2005.

Hospitals seeking to qualify as rural referral centers or those wishing to know how their case-mix index value compares to the criteria should obtain hospital-specific case-mix index values (not transfer-adjusted) from their fiscal intermediaries. Data are available on the Provider Statistical and Reimbursement (PS&R) System. In keeping with our policy on discharges, these case-mix index values are computed based on all Medicare patient discharges subject to DRG-based payment.

2. Discharges

Section 412.96(c)(2)(i) provides that CMS will set forth the national and regional numbers of discharges in each year's annual notice of prospective payment rates for purposes of determining rural referral center status. As specified in section 1886(d)(5)(C)(ii) of the Act, the national standard is set at 5,000 discharges. We are proposing to update the regional standards based on discharges for urban hospitals' cost reporting periods that began during FY 2002 (that is, October 1, 2001 through September 30, 2002), which is the latest available cost report data we have at this time.

Therefore, we are proposing that, in addition to meeting other criteria, a hospital, if it is to qualify for initial rural referral center status for cost reporting periods beginning on or after October 1, 2005, must have as the number of discharges for its cost reporting period that began during FY 2002 a figure that is at least—

• 5,000 (3,000 for an osteopathic hospital); or

• The median number of discharges for urban hospitals in the census region in which the hospital is located, as indicated in the following table:

These numbers will be revised in the final rule based on the latest available cost report data.

We reiterate that if an osteopathic hospital is to qualify for rural referral center status for cost reporting periods beginning on or after October 1, 2005, the hospital would be required to have at least 3,000 discharges for its cost reporting period that began during FY 2002.

3. Technical Change

In the FY 1998 IPPS final rule (62 FR 46028), we removed paragraph (f) from § 412.96. Paragraph (f) was removed when the requirement for triennial reviews of rural referral centers was terminated (62 FR 45998 through 45600, 46028 through 46029). However, we inadvertently failed to address all of the related cross-references to paragraph (f) in the entire § 412.96. Therefore, we are proposing to revise § 412.96 to remove paragraphs (h)(4) and (i)(4), consistent with the removal of paragraph (f).

E. Payment Adjustment for Low-Volume Hospitals (§ 412.101)

(If you choose to comment on issues in this section, please include the caption “Low-Volume Hospital Payment Adjustment” at the beginning of your comment.)

Section 1886(d)(12) of the Act, as added by section 406 of Pub. L. 108-173, provides for a payment adjustment to account for the higher costs per discharge of low-volume hospitals under the IPPS. Section 1886(d)(12)(C)(i) of the Act defines a low-volume hospital as a “subsection (d) hospital * * * that the Secretary determines is located more than 25 road miles from another subsection (d) hospital and that has less than 800 discharges during the fiscal year.” Section 1886(d)(12)(C)(ii) of the Act further stipulates that the term “discharge” refers to total discharges, and not merely to Medicare discharges. Specifically, the term refers to the “inpatient acute care discharge of an individual regardless of whether the individual is entitled to benefits under part A.” Finally, the provision requires the Secretary to determine an applicable percentage increase for these low-volume hospitals based on the “empirical relationship” between “the standardized cost-per-case for such hospitals and the total number of discharges of these hospitals and the amount of the additional incremental costs (if any) that are associated with such number of discharges.” The statute thus mandates the Secretary to develop an empirically justifiable adjustment based on the relationship between costs and discharges for these low-volume hospitals. The statute also limits the adjustment to no more than 25 percent.

According to the analysis conducted for the FY 2005 IPPS final rule (69 FR 49099 through 49102), a 25 percent low-volume adjustment to all qualifying hospitals with less than 200 discharges was found to be most consistent with the statutory requirement to provide relief to low-volume hospitals where there is empirical evidence that higher incremental costs are associated with low numbers of total discharges. However, we acknowledged that the empirical evidence did not provide robust support for that conclusion and indicated that we would reexamine the empirical evidence for the FY 2006 IPPS final rule with the intention of modifying or even eliminating the adjustment if the empirical evidence indicates that it is appropriate to do so.

In the FY 2005 IPPS final rule (69 FR 49102), we indicated that our analysis showed that there are fewer than 100 hospitals with less than 200 total discharges. At that time, we were unable to determine how many of these hospitals also meet the requirement that a low-volume hospital be more than 25 road miles from the nearest IPPS hospital in order to qualify for the adjustment. Our data systems currently indicate that 10 hospitals are receiving the low-volume adjustment.

As indicated in the FY 2005 IPPS final rule, we have now conducted a more detailed multivariate analysis on the empirical basis for a low-volume adjustment for FY 2006. In order to further evaluate the need for a proposed change in the development of the low-volume adjustment, we replicated much of the analysis conducted for the FY 2005 IPPS final rule, using updated data. We again empirically modeled the relationship between hospital costs-per-case and total discharges in several ways. We used both regression analysis and straight-line statistics to examine this relationship.

We conducted three different regression analyses. For all of the analyses, we simulated the FY 2005 cost environment by inflating FY 2002 and FY 2003 hospital cost report data to FY 2005 using the full hospital market basket updates. We note that, at the time of this analysis, we only had cost report data from FY 2003 for approximately 57 percent of the IPPS hospitals. Therefore, we have placed a greater weight on the results from the simulated FY 2002 cost data, which are significantly more complete. We again simulated the FY 2005 payment environment because payments have undergone several changes between FY 2002 and FY 2003 and FY 2005, making the results of the earlier data less relevant. Furthermore, many of these policy changes may already have helped increase payments to low-volume hospitals. We were unable to simulate the FY 2006 environment because payment factors for FY 2006 were not available at the time of our analysis.

In the first regression analysis, we used a dummy variable approach to model the relationship between standardized costs and total discharges. Using FY 2002 cost data, we found some evidence for a low-volume payment adjustment for hospitals with up to 199 discharges, consistent with our current policy. Using FY 2003 cost data, the empirical evidence only supported an adjustment for hospitals with up to 99 total discharges.

We also used a descriptive analysis approach to understand empirically the relationship between costs and total discharges. We grouped all hospitals by their total discharges and compared the mean Medicare per discharge payment to Medicare per discharge cost ratios. Hospitals with less than 800 total discharges were split into 24 cohorts based on increments of 25 discharges. When using the FY 2002 cost report data, the mean payment-to-cost ratios were below one (implying that Medicare per discharge costs exceeded Medicare per discharge payments) for all cohorts of hospitals with less than 200 discharges, after which the ratio was consistently above one. When using the FY 2003 cost report data, the mean payment-to-cost ratios were below one for all but two cohorts up to those with less than 175 total discharges, after which the ratio was consistently above one. No obvious increasing trend in the ratios, from which it would be possible to infer a formula to generate adjustments for hospitals based upon the number of discharges, was evident. Because more than 70 percent of hospitals with less than 200 discharges had ratios below 0.80, this analysis supports applying the highest payment adjustment to all providers with less than 200 discharges that are eligible for the low-volume adjustment.

The second regression analysis modeled the Medicare per discharge cost to Medicare per discharge payment ratio as a function of total discharges. The cost-to-payment ratio model more explicitly accounts for the relative values of per discharge costs and per discharge payments. These models provided some evidence for a statistically significant negative relationship between the cost-to-payment ratio and total discharges. However, that result was limited to FY 2002 data. FY 2003 data displayed no significant relationship between the cost-to-payment ratio and total discharges.

The third regression analysis employed per discharge costs minus per discharge payments as the dependent variable and total discharges as an explanatory variable. The results of this analysis were similar to the other regression analyses: some evidence was provided for an adjustment with the FY 2002 data, but not with the FY 2003 data, simulated for FY 2005. In fact, the FY 2003 data results suggest (with a positive intercept and positive coefficient on total discharges) that payments are greater than costs for all hospitals, including the low-volume hospitals.

Based upon these multivariate analyses using the FY 2002 cost report data, a case can be made that hospitals with fewer than 200 total discharges have per discharge costs that are statistically significantly higher relative to their Medicare per discharge payments in comparison to hospitals with 200 or more total discharges. Therefore, we are proposing to extend the existing low-volume adjustment for FY 2006. That is, a low-volume adjustment would again be provided for qualifying hospitals with less than 200 discharges. As noted above, the descriptive data do not reveal any pattern that could provide a formula for calculating an adjustment in relation to the number of discharges. However, the descriptive analysis of the data does indicate that, for a large majority of the hospitals with less than 200 discharges, the maximum adjustment of 25 percent would be appropriate because, for example, the payment-to-cost ratios for more than 70 percent of these hospitals are 0.80 or less. The maximum adjustment of 25 percent would still leave most of these hospitals with payment-to-cost ratios below 1.00. Because a large majority of hospitals with less than 200 discharges have payment-to-cost ratios below 1.00, we are proposing to again provide hospitals with less than 200 total discharges in the most recent submitted cost report an adjustment of 25 percent on each Medicare discharge. This policy is consistent with the existing language in § 412.101(a) and (b).

However, the initial analysis of the FY 2003 data does not seem to provide strong empirical evidence for a relationship between Medicare per discharge costs and total discharges. Therefore, we will reevaluate the appropriateness of the low-volume adjustment in the FY 2007 proposed rule.

F. Indirect Medical Education (IME) Adjustment (§ 412.105)

(If you choose to comment on issues in this section, please include the caption “IME Adjustment” at the beginning of your comment.)

1. Background

Section 1886(d)(5)(B) of the Act provides that prospective payment hospitals that have residents in an approved graduate medical education (GME) program receive an additional payment to reflect the higher indirect costs of teaching hospitals relative to nonteaching hospitals. The regulations regarding the calculation of this additional payment, known as the indirect medical education (IME) adjustment, are located at § 412.105. The IME adjustment to the DRG payment is based in part on the applicable IME adjustment factor. The IME adjustment factor is calculated using a hospital's ratio of residents to beds, which is represented as r, and a formula multiplier, which is represented as c, in the following equation: c × [{1 + r} .405 − 1]. The formula is traditionally described in terms of a certain percentage increase in payment for every 10-percent increase in the resident-to-bed ratio.

2. IME Adjustment for TEFRA Hospitals Converting to IPPS Hospitals

The Balanced Budget Act of 1997 (Pub. L. 105-33) established a limit on the number of allopathic and osteopathic residents that a hospital may include in its full-time equivalent (FTE) count for direct GME and IME payment purposes. Under section 1886(h)(4)(F) of the Act, a hospital's unweighted FTE count of residents may not exceed the hospital's unweighted FTE count for its most recent cost reporting period ending on or before December 31, 1996. Under section 1886(d)(5)(B)(v) of the Act, the limit on the FTE resident count for IME purposes is effective for discharges occurring on or after October 1, 1997. A similar limit is effective for direct GME purposes for cost reporting periods beginning on or after October 1, 1997.

When these provisions were enacted, hospitals reported their weighted FTE resident count for direct GME and their unweighted FTE resident count for IME on the Medicare cost report. The cost report was subsequently modified to require reporting of unweighted FTE resident counts for both direct GME and IME. However, for cost reporting periods ending on or before December 31, 1996 (the cost report on which the FTE limit is based), hospitals were not required to report unweighted FTE resident counts for direct GME purposes. Therefore, a separate data collection effort was required to obtain the unweighted FTE resident counts. The fiscal intermediaries worked with hospitals to determine the unweighted FTE resident counts for direct GME for cost reporting periods ending on or before December 31, 1996, for purposes of implementing the FTE cap.

During this process, the fiscal intermediaries did not determine IME FTE resident counts for hospitals that were excluded from the IPPS (that is, psychiatric hospitals, LTCHs, rehabilitation hospitals, children's hospitals, and cancer hospitals) because these hospitals were not paid under the IPPS and, therefore, did not receive any IME payment adjustments. Only the FTE resident data related to direct GME payments were relevant for these excluded hospitals and, therefore, only those data were collected. However, it has come to our attention that some hospitals that were excluded from the IPPS during the cost reporting period ending on or before December 31, 1996 (that is, the cost reporting period during which the hospital's FTE resident limit was established under section 1886(h)(4)(F) of the Act for purposes of direct GME payments) have either failed to continue to qualify for exclusion from the IPPS or deliberately changed their operations in a way to become subject to the IPPS and, as a result, have subsequently become subject to the IME payment adjustment provisions of the IPPS. For example, a provider that was a rehabilitation hospital during its cost reporting period ending on December 31, 1996, but no longer meets the regulatory criteria to qualify as a rehabilitation hospital would become subject to the IPPS and be able to receive IME payments. However, because no IME FTE resident count for the cost reporting period ending on or before December 31, 1996, was determined, such a hospital does not have an unweighted FTE resident limit for IME.

To address this situation, we are proposing to incorporate in the regulations (proposed § 412.105(f)(1)(xiii)) CMS' existing policy in such situations which provides for the establishment of an IME FTE cap for a hospital that was excluded from the IPPS during its base year and that subsequently became subject to the IPPS. We are clarifying and proposing to adopt into regulations our existing policy that, in such a situation, the fiscal intermediary would determine an IME FTE cap for the hospital, applicable beginning with the hospital's payments under the IPPS, based on the FTE count of residents during the cost reporting period(s) used to determine the hospital's direct GME FTE cap in accordance with existing § 412.105(f) of the regulations. The new IPPS hospital's IME FTE cap would be subject to the same rules and adjustments as any IPPS hospital's IME FTE cap in accordance with § 412.105(f) of the regulations.

While calculation of the IME FTE cap for a TEFRA hospital that converts to an IPPS hospital may require that fiscal intermediaries obtain information from cost reporting periods that are closed, allowing a fiscal intermediary to obtain this information should not be understood as allowing a fiscal intermediary to reopen closed cost reports that are beyond the normal reopening period in order to carry out the provisions of this proposed regulation.

Finally, there may be situations where the data necessary to carry out this policy are not available. For example, under this proposal, if a children's hospital converts to an IPPS hospital on July 1, 2007, the fiscal intermediary may need to determine the count of FTE residents for IME purposes training at the hospital during the most recent cost reporting period ending on or before December 31, 1996, in order to establish an IME FTE cap for the hospital, effective for discharges occurring on or after October 1, 2007. However, the count of FTE residents for IME purposes from the cost reporting period ending on or before December 31, 1996, may no longer be available, as the minimum time that hospitals are required to retain records is 5 years from the date the hospital submits the cost report. We believe this problem may not occur with sufficient frequency to warrant specific regulatory action. We are specifically soliciting comments as to whether and how hospitals believe this is a problem that needs to be addressed.

In some cases, a hospital that was previously excluded from the IPPS may become subject to the IPPS as a result of a merger between two or more hospitals where the surviving hospital is subject to the IPPS (and not creating an IPPS hospital with an excluded unit). In such cases, CMS policy is that the FTE resident cap for the surviving hospital should reflect the combined FTE resident caps for the hospitals that merged. If two or more hospitals merge after the conclusion of each hospital's base year for purposes of calculating resident FTE caps, the surviving hospital's FTE resident cap is an aggregation of the FTE resident cap for each hospital participating in the merger. When a merger involves an IPPS-excluded hospital, the base year IME FTE count for the IPPS-excluded hospital has not been determined. We are clarifying and proposing to codify in regulations our existing policy that, in such cases, the fiscal intermediary would determine an IME FTE cap for the IPPS-excluded hospital for purposes of determining the merged hospital's IME FTE cap in accordance with § 412.105(f) of the regulations. Once this cap is determined, the aggregate IME FTE cap of the surviving entity may be calculated in accordance with existing CMS policy for mergers.

We note that we would compute an IME cap for an IPPS-excluded hospital only in cases of a merger between an IPPS-excluded hospital and an acute care IPPS hospital, where the entire surviving entity is subject to the IPPS. No such IME FTE cap would be computed for an IPPS-excluded hospital in instances where an IPPS-excluded hospital and an acute care IPPS hospital agree to form a Medicare GME affiliated group for purposes of aggregating FTE resident caps. In cases where an IPPS-excluded hospital enters into a Medicare GME affiliation agreement with other IPPS hospitals, the IPPS-excluded hospital can contribute only its direct GME FTE cap to the aggregate FTE cap for the group. This is because, as long as a hospital remains excluded from the IPPS, that hospital will not have an FTE resident cap established for purposes of IME. Under no circumstances may an IPPS-excluded hospital be considered to contribute any FTE residents to a Medicare GME affiliation group for purposes of the aggregate IME FTE resident cap. IPPS-excluded hospitals do not currently, and would not under this proposed policy, have an IME FTE resident cap.

3. Section 1886(d)(8)(E) Teaching Hospitals That Withdraw Rural Reclassification

In section V.I. of this preamble, we discuss situations in which an urban hospital may become rural under a reclassification request under section 1886(d)(8)(E) of the Act. Under section 1886(d)(8)(E) of the Act, an urban hospital may file an application to be treated as being located in a rural area. Becoming rural under this provision affects only payments under section 1886(d) of the Act. If the hospital is a teaching hospital, the hospital could not receive adjustments to its direct GME FTE cap because payments for direct GME are made under section 1886(h) of the Act and the section 1886(d)(8)(E) reclassifications affect only the payments that are made under section 1886(d) of the Act. Therefore, an urban hospital that reclassifies as rural under this provision may receive the 130-percent adjustment to its IME FTE resident cap. In addition, its IME FTE cap may be adjusted for any new programs (similar to a hospital that is actually located in an area designated as rural) under section 1886(d)(5)(B)(v) of the Act, as amended by section 407 of Pub. L. 106-113 (BBRA).

An urban hospital treated as rural under section 1886(d)(8)(E) of the Act may subsequently withdraw its election and return to its urban status under the regulations at § 412.103. We are proposing that, effective with discharges occurring on or after October 1, 2005, hospitals that rescind their section 1886(d)(8)(E) reclassifications and return to being urban would not be eligible for permanent increases in their IME caps. Rather, any adjustments the hospitals received to their IME caps due to their rural status would be forfeited upon returning to urban status. Although we read the relevant IME FTE cap provisions in section 1886(d)(5)(B) of the Act as effecting a permanent increase to the FTE cap, we believe we have the statutory authority under section 1886(d)(5)(I) of the Act to make necessary adjustments to these caps that we believe are appropriate. Section 1886(d)(5)(I)(i) of the Act grants the Secretary authority to provide by regulation for “such other exceptions and adjustments to such payment amounts under this subsection as the Secretary deems appropriate.” We believe it is appropriate that a section 1886(d)(8)(E) hospital forfeit the adjustments it received solely due to its reclassification to rural status when it returns to being urban. Otherwise, urban hospitals might reclassify to rural areas under section 1886(d)(8)(E) of the Act for a short period of time solely as a means of receiving an increase to their IME FTE caps. These hospitals could reclassify for as little as one year, simply in order to receive a permanent increase to their IME FTE caps. Because section 1886(d)(8)(E) hospitals have control over when they switch in and out of rural status, we believe any other policy would be subject to gaming and inappropriate usage of the section 1886(d)(8)(E) authority. In contrast, hospitals that become urban due to the OMB-revised labor area designations have no control in the matter, and therefore would not be subject to the same type of manipulation of payment rates we believe would exist with the section 1886(d)(8)(E) hospitals.

(We note that the above proposed policy would have no effect on rural track resident training programs. Section 1886(h)(4)(H)(iv) of the Act, which governs direct GME, provides that an urban hospital may receive adjustments to its FTE caps for establishing “separately accredited approved medical residency training programs (or rural tracks) in an [sic] rural area.” The provisions governing IME state that “Rules similar to the rules of subsection (h)(4)(H) shall apply for purposes of” determining FTE resident caps (section 1886(d)(5)(B)(viii) of the Act). Since the requirement that the hospital be located in a rural area is found in the provisions governing direct GME (section 1886(h) of the Act), not the provision governing IME, and since hospitals cannot reclassify as rural for purposes of section 1886(h) of the Act, we believe that, as provided in section 1886(h) of the Act, the hospital with which the urban hospital establishes the rural track must be physically located in an area designated as rural. We do not believe we would be properly incorporating the rules of section 1886(h) of the Act or creating a rule similar to that used in section 1886(h) of the Act if we were to allow counting of such reclassified hospitals.)

For the reasons stated above, we are proposing to amend the regulations at § 412.105 by adding a new paragraph (f)(1)(xiv) to provide that a hospital that rescinds its section 1886(d)(8)(E) reclassification will forfeit any adjustments to its IME FTE cap it received due to its rural status. Thus, for example, a hospital that reclassified as rural under section 1886(d)(8)(e) of the Act with an IME FTE cap of 10 would have received a 130 percent adjustment to its IME cap (that is, 10 FTEs × 1.3). Furthermore, if this hospital, while reclassified as rural, started a new 3-year residency program with 2 residents in each program year, its FTE cap would have been increased by an additional 6 FTEs to 19 FTEs (that is, 13 FTEs + 6 FTEs). However, once this hospital rescinds its reclassification under section 1886(d)(8)(E) of the Act to become urban again, its IME FTE cap would return to 10 FTEs (its original pre-reclassification IME FTE cap).

G. Payment to Disproportionate Share Hospitals (DSHs) (§ 412.106)

(If you choose to comment on issues in this section, please include the caption “DSH Adjustment Data” at the beginning of your comment.)

1. Background

Section 1886(d)(5)(F) of the Act provides for additional payments to subsection (d) hospitals that serve a disproportionate share of low-income patients. The Act specifies two methods for a hospital to qualify for the Medicare disproportionate share hospital (DSH) adjustment. Under the first method, hospitals that are located in an urban area and have 100 or more beds may receive a DSH payment adjustment if the hospital can demonstrate that, during its cost reporting period, more than 30 percent of its net inpatient care revenues are derived from State and local government payments for care furnished to indigent patients. These hospitals are commonly known as “Pickle hospitals.” The second method, which is also the most commonly used method for a hospital to qualify, is based on a complex statutory formula under which payment adjustments are based on the level of the hospital's DSH patient percentage, which is the sum of two fractions: the “Medicare fraction” and the “Medicaid fraction.” The Medicare fraction is computed by dividing the number of patient days that are furnished to patients who were entitled to both Medicare Part A and Supplemental Security Income (SSI) benefits by the total number of patient days furnished to patients entitled to benefits under Medicare Part A. The Medicaid fraction is computed by dividing the number of patient days furnished to patients who, for those days, were eligible for Medicaid but were not entitled to benefits under Medicare Part A by the number of total hospital patient days in the same period.

2. Implementation of Section 951 of Pub. L. 108-173 (MMA)

Section 951 of Pub. L. 108-173 requires the Secretary to arrange to furnish the data necessary for hospitals to compute the number of patient days used in calculating the disproportionate patient percentages. The provision is not specific as to whether it applies to the patient day data used to determine the Medicare fraction or the Medicaid fraction. We are interpreting section 951 to require the Secretary to arrange to furnish to hospitals the data necessary to calculate both the Medicare and Medicaid fractions. With respect to both the Medicare and Medicaid fractions, we also are interpreting section 951 to require CMS to arrange to furnish the personally identifiable information that would enable a hospital to compare and verify its records, in the case of the Medicare fraction, against the CMS' records, and in the case of the Medicaid fraction, against the State Medicaid agency's records. Currently, as explained in more detail below, CMS provides the Medicare SSI days to certain hospitals that request these data. Hospitals are currently required under the regulation at § 412.106(b)(4)(iii) to provide the data adequate to prove eligibility for the Medicaid, non-Medicare days.

As indicated above, the numerator of the Medicare fraction includes the number of patient days furnished by the hospital to patients who were entitled to both Medicare Part A and SSI benefits. This number is divided by the hospital's total number of patient days furnished to patients entitled to benefits under Medicare Part A. In order to determine the numerator of this fraction for each hospital, CMS obtains a data file from the Social Security Administration (SSA). CMS matches personally identifiable information from the SSI file against its Medicare Part A entitlement information for the fiscal year to determine the number of Medicare SSI days for each hospital during each fiscal year. These data are maintained in the MedPAR Limited Data Set (LDS) as described in more detail below and discussed in a notice published on August 18, 2000 in the Federal Register (65 FR 50548). The number of patient days furnished by the hospital to Medicare beneficiaries entitled to SSI is divided by the hospital's total number of Medicare days (the denominator of the Medicare fraction). CMS determines this number from Medicare claims data; hospitals also have this information in their records. The Medicare fraction for each hospital is posted on the CMS Web site (http://www.cms.hhs.gov) under the SSI/Medicare Part A Disproportionate Share Percentage File. Under current regulations at § 412.106(b)(3), a hospital may request to have its Medicare fraction recomputed based on the hospital's cost reporting period if that year differs from the Federal fiscal year. This request may be made only once per cost reporting period, and the hospital must accept the resulting DSH percentage for that year, whether or not it is a more favorable number than the DSH percentage based on the Federal fiscal year.

In accordance with section 951 of Pub. L. 108-173, we are proposing to change the process that we use to make Medicare data used in the DSH calculation available to hospitals. Currently, as stated above, CMS calculates the Medicare fraction for each section 1886(d) hospital using data from the MedPAR LDS (as established in a notice published in the August 18, 2000 Federal Register (65 FR 50548)). The MedPAR LDS contains a summary of all services furnished to a Medicare beneficiary, from the time of admission through discharge, for a stay in an inpatient hospital or skilled nursing facility, or both; SSI eligibility information; and enrollment data on Medicare beneficiaries. The MedPAR LDS is protected by the Privacy Act of 1974 (5 U.S.C. 552a) and the Privacy Rule of the Health Insurance Portability and Accountability Act of 1996 (Pub. L. 104-191). The Privacy Act allows us to disclose information without an individual's consent if the information is to be used for a purpose that is compatible with the purpose(s) for which the information was collected. Any such compatible use of data is known as a “routine use.” In order to obtain this privacy-protected data, the hospital must qualify under the routine use that was described in the August 18, 2000 Federal Register. Currently, a hospital qualifies under the routine use if it has an appeal properly pending before the Provider Reimbursement Review Board (PRRB) or before an intermediary on the issue of whether it is entitled to DSH payments, or the amount of such payments. Once determined eligible to receive the data under the routine use, the hospital is then required to sign a data use agreement with CMS to ensure that the data are appropriately used and protected, and pay the requisite fee.

Beginning with cost reporting periods that include December 8, 2004 (within one year of the date of enactment of Pub. L. 108-173), we are proposing to furnish MedPAR LDS data for a hospital's patients eligible for both SSI and Medicare at the hospital's request, regardless of whether there is a properly pending appeal relating to DSH payments. We are proposing to make the information available for either the Federal fiscal year or, if the hospital's fiscal year differs from the Federal fiscal year, for the months included in the two Federal fiscal years that encompass the hospital's cost reporting period. Under our proposal, the hospital could use these data to calculate and verify its Medicare fraction, and to decide whether it prefers to have the fraction determined on the basis of its fiscal year rather than a Federal fiscal year. The data set made available to hospitals would be the same data set CMS uses to calculate the Medicare fractions for the Federal fiscal year.

Because we interpret section 951 to require the Secretary to arrange to furnish these data, we do not believe that it will continue to be appropriate to charge hospitals to access the data. These proposed changes would require CMS to modify the current routine use for the MedPAR LDS to reflect changes in the data provided and the circumstances under which they are made available to hospitals. In a future Federal Register document, we will publish the details of any necessary modifications to the current routine use to implement section 951 of Pub. L. 108-173. We welcome comments on all aspects of these proposed changes.

The numerator of the Medicaid fraction includes hospital inpatient days that are furnished to patients who, for those days, were eligible for Medicaid but were not entitled to benefits under Medicare Part A. Under the regulation at § 412.106(b)(4)(iii), hospitals are responsible for proving Medicaid eligibility for each Medicaid patient day and verifying with the State that patients were eligible for Medicaid on the claimed days. The number of Medicaid, non-Medicare days is divided by the hospital's total number of inpatient days in the same period. Total inpatient days are reported on the Medicare cost report. (This number is also available in the hospital's own records.)

Much of the data used to calculate the Medicaid fraction of the DSH patient percentage are available to hospitals from their own records or from the States. We recognize that Medicaid State plans are only permitted to use and disclose information concerning applicants and recipients for “purposes directly connected with the administration of the [State] plan” under section 1902(a)(7) of the Act. Regulations at 42 CFR 431.302 define these purposes to include establishing eligibility (§ 431.302(a)) and determining the amount of medical assistance (§ 431.302(b)). Thus, State plans are permitted under the currently applicable statutory and regulatory provisions governing the disclosure of individually identifiable data on Medicaid applicants and recipients to provide hospitals the data needed to meet their obligation under § 412.106(b)(4)(iii) in the context of either an “eligibility inquiry” with the State plan or in order to assist the hospital, and thus the State plan, in determining the amount of medical assistance.

In the process of developing a plan for implementing section 951 with respect to the data necessary to calculate the Medicaid fraction, we asked our regional offices to report on the availability of this information to hospitals and on any problems that hospitals face in obtaining the information that they need. The information we received suggested that, in the vast majority of cases, there are established procedures for hospitals or their authorized representatives to obtain the information needed for hospitals to meet their obligation under § 412.106(b)(4)(iii) and to calculate their Medicaid fraction. There is no uniform national method for hospitals to verify Medicaid eligibility for a specific patient on a specific day. For instance, some States, such as Arizona, have secure online systems that providers may use to check eligibility information. However, in most States, providers send a list of patients to the State Medicaid office for verification. Other States, such as Hawaii, employ a third party private company to maintain the Medicaid database and run eligibility matches for providers. The information that providers submit to State plans (or third party contractors) differs among States as well. Most States require the patient's name, date of birth, gender, social security number, Medicaid identification, and admission and discharge dates. States or the third parties may respond with either “Yes/No” or with more detailed Medicaid enrollment and eligibility information such as whether or not the patient is a dual-eligible, whether the patient is enrolled in a fee-for-service or HMO plan, and under which State assistance category the individual qualified for Medicaid.⁴

⁴ Bear in mind that States and hospitals should, in keeping with the HIPAA Privacy Rule, limit the data exchanged in the context of these inquiries and responses to the minimum necessary to accomplish the task

We note that we have been made aware of at least one instance in which a State is concerned about providing hospitals with the requisite eligibility data. We understand that the basis for the State's objections is section 1902(a)(7) of the Act. The State is concerned that section 1902(a)(7) of the Act prohibits the State from providing eligibility data for any purpose other than a purpose related to State plan administration. However, as described above, we believe that States are permitted to verify Medicaid eligibility for hospitals as a purpose directly related to State plan administration under § 431.302.

In addition, we believe it is reasonable to continue to place the burden of furnishing the data adequate to prove eligibility for each Medicaid patient day claimed for DSH percentage calculation purposes on hospitals because, since they have provided inpatient care to these patients for which they billed the relevant payors, including the State Medicaid plan, they will necessarily already be in possession of much of this information. We continue to believe hospitals are best situated to provide and verify Medicaid eligibility information. Although we believe the mechanisms are currently in place to enable hospitals to obtain the data necessary to calculate their Medicaid fraction of the DSH patient percentage, there is currently no mandatory requirement imposed upon State Medicaid agencies to verify eligibility for hospitals. At this point, we believe there is no need to modify the Medicaid State plan regulations to require that State plans verify Medicaid eligibility for hospitals. However, should we find that States are not voluntarily providing or verifying Medicaid eligibility information for hospitals, we will consider amending the State plan regulations to add a requirement that State plans provide certain eligibility information to hospitals.

H. Geographic Reclassifications (§§ 412.103 and 412.230)

(If you choose to comment on issues in this section, please include the caption “Geographic Reclassifications” at the beginning of your comment.)

1. Background

With the creation of the MGCRB, beginning in FY 1991, under section 1886(d)(10) of the Act, hospitals could request reclassification from one geographic location to another for the purpose of using the other area's standardized amount for inpatient operating costs or the wage index value, or both (September 6, 1990 interim final rule with comment period (55 FR 36754), June 4, 1991 final rule with comment period (56 FR 25458), and June 4, 1992 proposed rule (57 FR 23631)). As a result of legislative changes under section 402(b) of Pub. L. 108-7, Pub. L. 108-89, and section 401 of Pub. L. 108-173, the standardized amount reclassification criterion for large urban and other areas is no longer necessary or appropriate and has been removed from our reclassification policy (69 FR 49103). We implemented this provision in the FY 2005 IPPS final rule (69 FR 49103). As a result, hospitals can request reclassification for the purposes of the wage index only and not the standardized amount. Implementing regulations in Subpart L of Part 412 (§§ 412.230 et seq.) set forth criteria and conditions for reclassifications for purposes of the wage index from rural to urban, rural to rural, or from an urban area to another urban area, with special rules for SCHs and rural referral centers.

Under section 1886(d)(8)(E) of the Act, an urban hospital may file an application to be treated as being located in a rural area if certain conditions are met. The regulations implementing this provision are located under § 412.103.

Effective with reclassifications for FY 2003, section 1886(d)(10)(D)(vi)(II) of the Act provides that the MGCRB must use the average of the 3 years of hourly wage data from the most recently published data for the hospital when evaluating a hospital's request for reclassification. The regulations at § 412.230(d)(2)(ii) stipulate that the wage data are taken from the CMS hospital wage survey used to construct the wage index in effect for prospective payment purposes. To evaluate applications for wage index reclassifications for FY 2006, the MGCRB used the 3-year average hourly wages published in Table 2 of the August 11, 2004 IPPS final rule (69 FR 49295). These average hourly wages are taken from data used to calculate the wage indexes for FY 2003, FY 2004, and FY 2005, based on cost reporting periods beginning during FY 1999, FY 2000, and FY 2001, respectively.

2. Multicampus Hospitals (§ 412.230)

As discussed in section III.B. of this preamble, on June 6, 2003, the OMB announced the new CBSAs, comprised of Metropolitan Statistical Areas (MSAs) and Micropolitan Statistical Areas, based on Census 2000 data. Effective October 1, 2004, for the IPPS, we implemented new labor market areas based on the CBSA definitions of MSAs. In some cases, the new CBSAs resulted in previously existing MSAs being divided into two or more separate labor market areas. In the FY 2005 IPPS final rule (69 FR 48916), we acknowledged that the implementation of the new MSAs would have a considerable impact on hospitals. Therefore, we made every effort to implement transitional provisions that would mitigate the negative effects of the new labor market areas on hospitals that request reclassification to another area for purposes of the wage index and on all hospitals.

Subsequent to the publication of the FY 2005 IPPS final rule, we became aware of a situation in which, as a result of the new labor market areas, a multicampus hospital previously located in a single MSA is now located in more than one CBSA. Under our current policy, a multicampus hospital with campuses located in the same labor market area receives a single wage index. However, if the campuses are located in more than one labor market area, payment for each discharge is determined using the wage index value for the MSA (or metropolitan division, where applicable) in which the campus of the hospital is located. In addition, the current provision set forth in section 2779F of the Medicare State Operations Manual provides that, in the case of a merger of hospitals, if the merged facilities operate as a single institution, the institution must submit a single cost report, which necessitates a single provider identification number. This provision does not differentiate between merged facilities in a single wage index area or in multiple wage index areas. As a result, the wage index data for the merged facility is reported for the entire entity on a single cost report.

The current criteria for a hospital being reclassified to another wage area by the MGCRB do not address the circumstances under which a single campus of a multicampus hospital may seek reclassification. That is, a hospital must provide data from the CMS hospital wage survey for the average hourly wage comparison that is used to support a request for reclassification. However, because a multicampus hospital is required to report data for the entire entity on a single cost report, there is no wage survey data for the individual hospital campus that can be used in a reclassification application. In an effort to remedy this situation, for FY 2007 and subsequent year reclassifications, we are proposing to allow a campus of a multicampus hospital system that wishes to seek geographic reclassification to another labor market area to report campus-specific wage data using a supplemental Form S-3 (CMS' manual version of Worksheet S-3) for purposes of the wage data comparison. These data would then constitute the appropriate wage data under § 412.232(d)(2) for purposes of comparing the hospital's wages to the wages of hospitals in the area to which it seeks reclassification as well as the area in which it is located. Before the data could be used in a reclassification application, the hospital's fiscal intermediary would have to review the allocation of the entire hospital's wage data among the individual campuses.

For FY 2006 reclassification applications, we are proposing to allow a campus of a multicampus hospital system to use the average hourly wage data submitted for the entire multicampus hospital system as its appropriate wage data under § 412.232(d)(2). We are establishing this special rule for FY 2006 reclassifications because the deadline for submitting an application to the MGCRB was September 1, 2004, and there no longer is an opportunity to provide a Supplemental Form S-3 that allocates the wage data by individual hospital campus. This special rule will be applied only to an individual campus of a multicampus hospital system that made an application for reclassification for FY 2006 and that otherwise meets all of the reclassification criteria. We do not believe that the special rule is necessary for reclassifications for FY 2007 because the deadline for making those applications has not yet passed and a hospital seeking reclassification will be able to provide the Supplemental Form S-3 that allocates the wage data by individual hospital campus. We are proposing to apply these new criteria to geographic reclassification applications that were received by September 1, 2004, and that will take effect for FY 2006.

We are proposing to revise the regulations at § 412.230(d)(2) by redesignating paragraph (d)(2)(iii) as paragraph (d)(2)(v) and adding new paragraph (d)(2))(iii) and (d)(2)(iv) to incorporate the proposed new criteria for multicampus hospitals.

3. Urban Group Hospital Reclassifications

In FY 2005 IPPS final rule (69 FR 49104), we set forth, under § 412.234(a)(3)(ii), revised criteria for urban hospitals to be reclassified as a group. After the publication of the final rule, we became aware that portions of our policy discussion with respect to the implementing decision were inadvertently omitted. This policy was corrected in the October 7, 2004, correction to the final rule (69 FR 60248). The correction specified that “hospitals located in counties that are in the same Combined Statistical Area (under the MSA definitions announced by the OMB on June 6, 2003); or in the same Consolidated Metropolitan Statistical Area (CMSA) (under the standards published by the OMB on March 30, 1990) as the urban area to which they seek redesignation qualify as meeting the proximity requirement for reclassification to the urban area to which they seek redesignation.”

In making the determination to revise our urban group reclassification policy, we took into consideration the magnitude of the changes that would have resulted from our adoption of the new labor market areas. The resulting policy was intended to preserve the reclassification opportunities for urban county groups; in other words, an eligible urban county group would have to meet either the CSA or CMSA criteria, but not both to be eligible for consideration.

As a result of adopting the new labor market area definitions, we reexamined the appropriateness of the FY 2005 changes with emphasis on determining whether including “* * * or in the same Consolidated Metropolitan Statistical Area (CMSA) (under the standards published by the OMB on March 30, 1990)” as a qualifying criterion, is necessary or consistent with our plans to fully implement the new labor area market definitions.

Based on our experiences now that the new labor market areas are in effect and since we revised the urban county group regulations, we no longer think it is necessary to retain use of a 1990-based standard as a criterion for determining whether an urban county group is eligible for reclassification. We believe it is reasonable to use the area definitions that are based on the most recent statistics; in other words, the CSA standard. Therefore, we are proposing to delete § 412.234(a)(3)(ii) to remove reference to the CMSA eligibility criterion. Beginning with FY 2006, we are proposing to require that hospitals must be located in counties that are in the same Combined Statistical Area (under the MSA definitions announced by the OMB on June 6, 2003) as the urban area to which they seek redesignation to qualify as meeting the proximity requirement for reclassification to the urban area to which they seek redesignation. We believe that this proposed change would improve the overall consistency of our policies by using a single labor market area definition for all aspects of the wage index and reclassification.

4. Clarification of Goldsmith Modification Criterion for Urban Hospitals Seeking Reclassification as Rural

Under section 1886(d)(8)(E) of the Act, certain urban hospitals may file an application for reclassification as rural if the hospital meets certain criteria. One of these criteria is that the hospital is located in a rural census tract of a CBSA, as determined under the most recent version of the Goldsmith Modification as determined by the Office of Rural Health Policy. This provision is implemented in our regulations at § 412.103(a)(1).

The original Goldsmith Modification was developed using data from the 1980 census. In order to more accurately reflect current demographic and geographic characteristics of the Nation, the Office of Rural Health Policy, in partnership with the Department of Agriculture's Economic Research Service and the University of Washington, has developed the Rural-Urban Commuting Area codes (RUCAs) (69 FR 47518 through 47529, August 5, 2004). Rather than being limited to large area metropolitan counties (LAMCs), RUCAs use urbanization, population density, and daily commuting data to categorize every census tract in the country. RUCAs are the updated version of the Goldsmith Modification and are used to identify rural census tracts in all metropolitan counties.

We are proposing to update the Medicare regulations at § 412.103(a)(1) to incorporate this change in the identification of rural census tracts. We are also proposing to update the website and the agency location at which the RUCA codes are accessible.

5. Cross-Reference Changes

In the FY 2005 IPPS final rule, in conjunction with changes made by various sections of Pub. L. 108-173 and changes in the OMB standards for defining labor market areas, we established a new § 412.64 governing rules for establishing Federal rates for inpatient operating costs for FY 2005 and subsequent years. In this new section, we included definitions of “urban” and “rural” for the purpose of determining the geographic location or classification of hospitals under the IPPS. These definitions were previous located in § 412.63(b), applicable to FYs 1985 through 2004, and in § 412.62(f), applicable to FY 1984. References to the definitions under § 412.62(f) and § 412.63(b), appear throughout 42 CFR Chapter IV. However, when we finalized the provisions of § 412.64, we inadvertently omitted updating some of these cross-references to reflect the change in the location of the two definitions for FYs 2005 and subsequent years. We are proposing to change the cross-references to the definitions of “urban” and “rural” to reflect their current locations in Subpart D of Part 412, as applicable.

I. Payment for Direct Graduate Medical Education (§ 413.79)

(If you choose to comment on issues in this section, please include the caption “Graduate Medical Education” at the beginning of your comment.)

1. Background

Section 1886(h) of the Act, as added by section 9202 of the Consolidated Omnibus Budget Reconciliation Act (COBRA) of 1985 (Pub. L. 99-272) and implemented in regulations at existing §§ 413.75 through 413.83, establishes a methodology for determining payments to hospitals for the costs of approved graduate medical education (GME) programs. Section 1886(h)(2) of the Act, as added by COBRA, sets forth a payment methodology for the determination of a hospital-specific, base-period per resident amount (PRA) that is calculated by dividing a hospital's allowable costs of GME for a base period by its number of residents in the base period. The base period is, for most hospitals, the hospital's cost reporting period beginning in FY 1984 (that is, the period of beginning between October 1, 1983, through September 30, 1984). Medicare direct GME payments are calculated by multiplying the PRA times the weighted number of full-time equivalent (FTE) residents working in all areas of the hospital (and nonhospital sites, when applicable), and the hospital's Medicare share of total inpatient days. In addition, as specified in section 1886(h)(2)(D)(ii) of the Act, for cost reporting periods beginning on or after October 1, 1993, through September 30, 1995, each hospital-specific PRA for the previous cost reporting period is not updated for inflation for any FTE residents who are not either a primary care or an obstetrics and gynecology resident. As a result, hospitals that train primary care and obstetrics and gynecology residents, as well as nonprimary care residents in FY 1994 or FY 1995, have two separate PRAs: One for primary care and obstetrics and gynecology residents and one for nonprimary care residents.

Pub. L. 106-113 amended section 1886(h)(2) of the Act to establish a methodology for the use of a national average PRA in computing direct GME payments for cost reporting periods beginning on or after October 1, 2000, and on or before September 30, 2005. Pub. L. 106-113 established a “floor” for hospital-specific PRAs equal to 70 percent of the locality-adjusted national average PRA. In addition, the BBRA established a “ceiling” that limited the annual adjustment to a hospital-specific PRA if the PRA exceeded 140 percent of the locality-adjusted national average PRA. Section 511 of the BIPA (Pub. L. 106-554) increased the floor established by the BBRA to equal 85 percent of the locality-adjusted national average PRA. Existing regulations at § 413.77(d)(2)(iii) specify that, for purposes of calculating direct GME payments, each hospital-specific PRA is compared to the floor and the ceiling to determine whether a hospital-specific PRA should be revised.

Section 1886(h)(4)(F) of the Act established limits on the number of allopathic and osteopathic residents that hospitals may count for purposes of calculating direct GME payments. For most hospitals, the limits were the number of allopathic and osteopathic FTE residents training in the hospital's most recent cost reporting period ending on or before December 31, 1996.

2. Direct GME Initial Residency Period (IRP) § 413.79(a)(10)

a. Background

As we have generally described above, the amount of direct GME payment to a hospital is based in part on the number of FTE residents the hospital is allowed to count for direct GME purposes during a year. The number of FTE residents, and thus the amount of direct GME payment to a hospital, is directly affected by CMS policy on how “initial residency periods” are determined for residents. Section 1886(h)(4)(C)(ii) of the Act, implemented at § 413.79(b)(1), provides that while a resident is in the “initial residency period” (IRP), the resident is weighted at 1.00. Section 1886(h)(4)(C)(iii) of the Act, implemented at § 413.79(b)(2), requires that if a resident is not in the resident's IRP, the resident is weighted at .50 FTE resident.

Section 1886(h)(5)(F) of the Act defines “initial residency period” as the “period of board eligibility,” and, subject to specific exceptions, limits the initial residency period to an “aggregate period of formal training” of no more than 5 years for any individual. Section 1886(h)(5)(G) of the Act generally defines “period of board eligibility” for a resident as “the minimum number of years of formal training necessary to satisfy the requirements for initial board eligibility in the particular specialty for which the resident is training.” Existing § 413.79(a) of the regulations generally defines “initial residency period” as the “minimum number of years required for board eligibility.” Existing § 413.79(a)(5) provides that “time spent in residency programs that do not lead to certification in a specialty or subspecialty, but that otherwise meet the definition of approved programs * * * is counted toward the initial residency period limitation.” Section 1886(h)(5)(F) of the Act further provides that “the initial residency period shall be determined, with respect to a resident, as of the time the resident enters the residency training program.”

The IRP is determined as of the time the resident enters the “initial” or first residency training program and is based on the period of board eligibility associated with that medical specialty. Thus, these provisions limit the amount of FTE resident time that may be counted for a resident who, after entering a training program in one specialty, switches to a program in a specialty with a longer period of board eligibility or completes training in one specialty training program and then continues training in a subspecialty (for example, cardiology and gastroenterology are subspecialties of internal medicine).

b. Direct GME Initial Residency Period Limitation: Simultaneous Match

We understand that there are numerous programs, including anesthesiology, dermatology, psychiatry, and radiology, that require a year of generalized clinical training to be used as a prerequisite for the subsequent training in the particular specialty. For example, in order to become board eligible in anesthesiology, a resident must first complete a generalized training year and then complete 3 years of training in anesthesiology. This first year of generalized residency training is commonly known as the “clinical base year.” Often, the clinical base year requirement is fulfilled by completing either a preliminary year in internal medicine (although the preliminary year can also be in other specialties such as general surgery or family practice), or a transitional year program (which is not associated with any particular medical specialty).

In many cases, during the final year of medical school, medical students apply for training in specialty residency training programs. Typically, a medical student who wants to train to become a specialist is “matched” to both the clinical base year program and the specialty residency training program at the same time. For example, the medical student who wants to become an anesthesiologist will apply and “match” simultaneously for a clinical base year in an internal medicine program for year 1 and for an anesthesiology training program beginning in year 2.

Prior to October 1, 2004, CMS' policy was that the IRP is determined for a resident based on the program in which he or she participates in the resident's first year of training, without regard to the specialty in which the resident ultimately seeks board certification. Therefore, for example, a resident who chooses to fulfill the clinical base year requirement for an anesthesiology program with a preliminary year in an internal medicine program will be “labeled” with the IRP associated with internal medicine, that is, 3 years (3 years of training are required to become board eligible in internal medicine), even though the resident may seek board certification in anesthesiology, which requires a minimum of 4 years of training to become board eligible. As a result, this resident would have an IRP of 3 years and, therefore, be weighted at 0.5 FTE in his or her fourth year of anesthesiology training for purposes of direct GME payment.

Effective with cost reporting periods beginning on or after October 1, 2004, to address programs that require a clinical base year, we revised our policy in the FY 2005 IPPS final rule (69 FR 49170 through 49174) concerning the IRP. Specifically, under the revised policy, if a hospital can document that a particular resident matches simultaneously for a first year of training in a clinical base year in one medical specialty, and for additional year(s) of training in a different specialty program, the resident's IRP will be based on the period of board eligibility associated with the specialty program in which the resident matches for the subsequent year(s) of training and not on the period of board eligibility associated with the clinical base year program. This change in policy is codified at § 413.79(a)(10) of the regulations.

This policy applies regardless of whether the resident completes the first year of training in a separately accredited transitional year program or in a preliminary (or first) year in another residency training program such as internal medicine.

In addition, because programs that require a clinical base year are nonprimary care specialties, we specified in § 413.79(a)(10) that the nonprimary care PRA would apply for the entire duration of the initial residency period. By treating the first year as part of a nonprimary care specialty program, the hospital will be paid at the lower nonprimary care PRA rather than the higher primary care PRA, even if the residents are training in a primary care program during the clinical base year.

In the FY 2005 IPPS final rule (69 FR 49170 and 49171), we also defined “residency match” to mean, for purposes of direct GME, a national process by which applicants to approved medical residency programs are paired with programs on the basis of preferences expressed by both the applicants and the program directors.

These policy changes, which were effective October 1, 2004, are only applicable to residents that simultaneously match in both a clinical base year program and a longer specialty residency program. We have become aware of situations where residents, upon completion of medical school, only match for a program beginning in the second residency year in an advanced specialty training program but fail to match for a clinical base year of training. Residents that match into an advanced program but fail to match into a clinical base year program may independently pursue unfilled residency positions in preliminary year programs after the match process is complete. However, because these residents do not “simultaneously match” into both a preliminary year and an advanced program, currently their IRP cannot be determined based on the period of board eligibility associated with the advanced program, as specified in § 413.79(a)(10). Rather, the IRP for such residents would continue to be determined based on the specialty associated with the preliminary year program. For example, a student in the final year of medical school may match into a radiology program that begins in the second residency year, but not match with any clinical base year program. Under our current policy, if subsequent to conclusion of the match process, this resident secured a preliminary year position in an internal medicine program, the resident would not have met the requirements at § 413.79(a)(10) for a simultaneous match and the IRP for this resident would be based on the length of time required to complete an internal medicine program (3 years) rather than the length of the radiology program (4 years).

The intent of the “simultaneous match” provision of § 413.79(a)(10) is to identify in a verifiable manner the specialty associated with the program in which the resident will initially train and seek board certification. It is also the intent of § 413.79(a)(10) that a resident's IRP would not change if the resident, after initially entering a training program in one specialty, changes programs to train in another medical specialty. The “simultaneous match” provisions of § 413.79(a)(10) allow CMS to both identify the specialty associated with the program in which the resident is ultimately expected to train and seek board certification and prevent inappropriate revision of the IRP in cases where a resident changes specialties subsequent to beginning residency training. However, we note that when a medical student in his or her final year of medical school matches into an advanced program (for example, anesthesiology) for the second program year, but fails to match in a clinical base year, and obtains a preliminary year position outside the match process, we can still identify the specialty associated with the program in which the resident is ultimately expected to train and seek board certification and prevent inappropriate changes to the IRP if the resident changes specialties subsequent to beginning residency training.

Therefore, we are proposing to revise § 413.79(a)(10) to state that, when a hospital can document that a resident matched in an advanced residency training program beginning in the second residency year prior to commencement of any residency training, the resident's IRP will be determined based on the period of board eligibility for the specialty associated with the advanced program, without regard to the fact that the resident had not matched for a clinical base year training program.

We note that this proposed policy change would not result in a policy to determine the IRP for all residents who must complete a clinical base year during the second residency training year based on the specialty associated with that second residency training year. That is, we are not proposing that, for any resident whose first year of training is completed in a program that provides a general clinical base year as required by the ACGME for certain specialties, an IRP should be assigned in the second year based on the specialty the resident enters in the second year of training. As we stated in the FY 2005 IPPS final rule (69 FR 49172), a “second year” policy would not allow CMS to distinguish between those residents who, in their second year of training, match in a specialty program prior to their first year of training, those residents who participated in a clinical base year in a specialty and then continued training in that specialty, and those residents who simply switched specialties in their second year. Rather, we are proposing that, if a hospital can document that a particular resident had matched in an advanced specialty program that requires completion of a clinical base year prior to the resident's first year of training, the IRP would not be determined based on the period of board eligibility for the specialty associated with the clinical base year program, for purposes of direct GME payment. Rather, under those circumstances, the IRP would be determined based upon the period of board eligibility associated with the specialty program in which the resident has matched and is expected to begin training in the second program year.

3. New Teaching Hospitals' Participation in Medicare GME Affiliated Groups (§ 413.79(e)(1))

In the August 29, 1997 final rule (62 FR 46005 through 46006) and the May 12, 1998 final rule (63 FR 26331 through 23336), we established rules for applying the FTE resident limit (or “FTE cap”) for calculating Medicare direct GME and IME payments to hospitals. We added regulations, currently at § 413.79(e), to provide for an adjustment to the FTE cap for certain hospitals that begin training residents in new medical residency training programs. For purposes of this provision, a new program is one that receives initial accreditation or begins training residents on or after January 1, 1995. Although we refer only to the direct GME provision throughout the remainder of this discussion, a similar cap adjustment is made under § 412.105(f) for IME purposes. Therefore, this proposal applies to both IME and direct GME.

A new teaching hospital is one that had no allopathic or osteopathic residents in its most recent cost reporting period ending on or before December 31, 1996. Under § 413.79(e)(1), if a new teaching hospital establishes one or more new medical residency training programs, the hospital's unweighted FTE caps for both direct GME and IME will be based on the product of the highest number of FTE residents in any program year in the third year of the hospital's first new program and the number of years in which residents are expected to complete the program(s), based on the minimum number of years of training that are accredited for the type of program(s).

The regulations at § 413.79(e)(1)(iv) specify that hospitals in urban areas that qualify for an FTE cap adjustment for residents in newly approved programs under § 413.79(e)(1) are not permitted to be part of a Medicare GME affiliated group for purposes of establishing an aggregate FTE cap. (A Medicare GME affiliated group is defined in the regulations at § 413.75(b).) We established this policy because of our concern that hospitals with existing medical residency training programs could otherwise, with the cooperation of new teaching hospitals, circumvent the statutory FTE resident caps by establishing new medical residency programs in the new teaching hospitals solely for the purpose of affiliating with the new teaching hospitals to receive an upward adjustment to their FTE cap under an affiliation agreement. This would effectively allow existing teaching hospitals to achieve an increase in their FTE resident caps beyond the number allowed by their statutory caps.

In contrast, hospitals in rural areas that qualify for an adjustment under § 413.79(e)(1)(v) are allowed to enter into a Medicare GME affiliation. Although we recognize that rural hospitals would not be immune from the kind of “gaming” arrangement described above, we allow new rural teaching hospitals that begin training residents in new programs, and thereby increase their FTE cap, to affiliate because we understand that rural hospitals may not have a sufficient volume of patient care utilization at the rural hospital site to be able to support a training program that meets accreditation standards. Securing sufficient patient volumes to meet accreditation requirements may necessitate rotations of the residents to another hospital. Accordingly, the regulations allow new teaching hospitals in rural areas to enter into Medicare GME affiliation agreements. However, an affiliation is only permitted if the rural hospital provides training for at least one-third of the FTE residents participating in all of the joint programs of the affiliated hospitals because, as we stated in the May 12, 1998 Federal Register (63 FR 26333), we believe that requiring at least one-third of the training to take place in the rural area allows operation of programs that focus on, but are not exclusively limited to, training in rural areas.

Through comment and feedback from industry trade groups and hospitals, we understand that, while these rules were meant to prevent gaming on the part of existing teaching hospitals, they could also preclude affiliations that clearly are designed to facilitate additional training at the new teaching hospital.

For example, Hospital A had no allopathic or osteopathic residents in its most recent cost reporting period ending on or before December 31, 1996. As such, Hospital A's caps for direct GME and IME are both zero. Hospital A and Hospital B enter into a Medicare GME affiliation for the academic year beginning on July 1, 2003, and ending on June 30, 2004. On July 1, 2003, Hospital A begins training residents from an existing family medicine program located at Hospital B. This rotation will result in 5 FTE residents training at Hospital A. Through the affiliation agreement, Hospital A receives a positive adjustment of 5 FTE's for both its direct GME and IME caps. Hospital B receives a corresponding negative adjustment of 5 FTEs under the affiliation agreement. Hospital A's Board of Directors is interested in starting a new residency program in Internal Medicine that would begin training residents at Hospital A on July 1, 2005. If Hospital A establishes the new program, under existing Medicare regulations, Hospital A will have its direct GME and IME caps (which were both previously established at zero) permanently adjusted to reflect the additional residents training in the newly approved program in accordance with § 413.79(e)(1). However, under existing regulations, Hospital A may no longer enter into an affiliation with Hospital B after it receives the adjustment to its FTE caps under § 413.79(e)(1).

We are proposing to revise § 413.79(e)(1)(iv) so that new urban teaching hospitals that qualify for an adjustment under § 413.79(e)(1) may enter into a Medicare GME affiliation agreement under certain circumstances. Specifically, a new urban teaching hospital that qualifies for an adjustment to its FTE caps for a newly approved program may enter into a Medicare GME affiliation agreement, but only if the resulting adjustments to its direct GME and IME caps are “positive adjustments.” “Positive adjustment” means, for the purpose of this policy, that there is an increase in the new teaching hospital's caps as a result of the affiliation agreement. At no time would the caps of a hospital located in an urban area that qualifies for adjustment to its FTE caps for a new program under § 413.79(e)(1), be allowed to decrease as a result of a Medicare GME affiliation agreement. We believe this proposed policy change would allow new urban teaching hospitals flexibility to start new teaching programs without jeopardizing their ability to count additional FTE residents training at the hospital under an affiliation agreement.

We remain concerned that hospitals with existing medical residency training programs could cooperate with a new teaching hospital to circumvent the statutory FTE caps by establishing new programs at the new teaching hospital, and, through a Medicare GME affiliation agreement, moving most or all of the new residency program to its own hospital, thereby receiving an upward adjustment to its FTE caps. For this reason, we are proposing to revise § 413.79(e)(1)(iv) of the regulations to provide that a hospital that qualifies for an adjustment to its caps under § 413.79(e)(1) would not be permitted to enter into an affiliation agreement that would produce a negative adjustment to its FTE resident cap.

Continuing the example shown above, under the proposed change in policy, Hospital A and Hospital B would be able to continue the Medicare GME affiliation agreement under which Hospital A trained residents from Hospital B's family practice program because Hospital A would receive an increase in its direct GME or IME caps under an affiliation after qualifying for a new program adjustment under § 413.79(e)(1). However, Hospital B would not be able to receive an increase in its caps as a result of a Medicare GME affiliation agreement with Hospital A.

Thus, we are proposing the above policy change to provide some flexibility to hospitals that are currently prohibited from entering into a Medicare GME affiliation agreement, while continuing to protect the statutory FTE resident caps from being undermined by gaming. We solicit comments on the proposed change.

4. GME FTE Cap Adjustment for Rural Hospitals (§ 413.79(c) and (k))

As stated earlier under section V.I.1. of this preamble, Medicare makes both direct and indirect GME payments to hospitals for the training of residents. Direct GME payments are made in accordance with section 1886(h) of the Act, based generally on the hospital-specific PRA, the number of FTE residents a hospital trains, and the hospital's percentage of Medicare inpatient utilization. Indirect GME payments (referred to as IME) are made in accordance with section 1886(d)(5)(B) of the Act as an adjustment to DRG payment and are based generally on the ratio of the hospital's FTE residents to the number of hospital beds. It is well-established that the calculation of both direct GME and IME payments is affected by the number of FTE residents a hospital is allowed to count; generally, the greater the number of FTE residents a hospital counts, the greater the amount of Medicare direct GME and IME payments the hospital will receive.

Effective October 1, 1997, Congress instituted caps on the number of allopathic and osteopathic residents a hospital is allowed to count for direct GME and IME purposes at sections 1886(h)(4)(F) (direct GME) and 1886(d)(5)(B)(v) (IME) of the Act. These caps were instituted in an attempt to end the implicit incentive for hospitals to increase the number of FTE residents. Dental and podiatric residents were not included in these statutorily mandated caps.

Congress provided certain exceptions for rural hospitals when establishing the 1996 caps “with the intent of encouraging physician training and practice in rural areas” (65 FR 47032). For example, the statute states at section 1886(h)(4)(H)(i) that, in promulgating rules regarding application of the FTE caps to training programs established after January 1, 1995, “the Secretary shall give special consideration to facilities that meet the needs of underserved rural areas.” Accordingly, in implementing this provision, we provided in the regulations under § 413.86(g)(6)(i)(C) (now § 413.79(e)(1)(iii)) that “except for rural hospitals, the cap will not be adjusted for new programs established more than 3 years after the first program begins training residents. In other words, only hospitals located in rural areas (that is, areas that are not designated as an MSA), receive adjustments to their unweighted FTE caps to reflect residents in new medical residency training programs past the third year after the first residency program began training in that hospital (62 FR 46006).

Section 413.79(e)(1) specifies the new program adjustment as the “product of the highest number of residents in any program year during the third year of the * * * program's existence * * * and the number of years in which residents are expected to complete the program based on the minimum accredited length for the type of program.” The regulation applies only to new programs (as defined under § 413.79(1)) established by rural hospitals, not for expansion of previously existing programs. For example, if a rural hospital has an unweighted FTE cap for direct GME of 100 and begins training residents in a new 3-year residency program that has 10 residents in each of its first 3 program years (for a total of 30 residents in the entire program in the program's third year), the hospital's direct GME FTE cap of 100 would be permanently adjusted at the conclusion of the third program year by 30, and the hospital's new FTE cap would be 130. A similar adjustment would be made to the hospital's FTE cap for IME in accordance with the regulations at § 412.105(f)(1)(iv)(A). However, the rural hospital would not be able to receive adjustments to its FTE cap for any expansion of a preexisting program.

In 1999, Congress passed an additional provision under section 407 of Pub. L. 106-113 (BBRA) to promote physician training in rural areas. Section 407 of the Pub. L. 106-113 amended the FTE caps provision at sections 1886(h)(4)(F) and 1886(d)(5)(B)(v) of the Act to provide that “effective for cost reporting periods beginning on or after April 1, 2000, [a rural hospital's FTE cap] is 130 percent of the unweighted FTE count * * * for those residents for the most recent cost reporting period ending on or before December 31, 1996.” In other words, the otherwise applicable FTE caps for rural hospitals were multiplied by 1.3 to encourage rural hospitals to expand preexisting residency programs. (As described above, even prior to the BBRA change, rural hospitals were able to receive FTE cap adjustments for new programs.) For example, a hospital that was rural as of April 1, 2000, and had a direct GME cap of 100 FTEs would receive a permanent cap adjustment of 30 FTEs (100 FTEs × 1.3 = 130 FTEs) and effective for cost reporting periods beginning on or after April 1, 2000, its FTE for direct GME would be 130. (A similar adjustment would be made to the FTE cap for IME for discharges occurring on or after April 1, 2000.)

We recently received questions regarding the application of the 130-percent FTE cap adjustment and the new program adjustment for rural hospitals in instances in which a rural teaching hospital is later redesignated as an urban hospital or reclassifies back to being an urban hospital after having been classified as rural. We are aware of two circumstances when a rural hospital may subsequently be reclassified as urban. The first circumstance involves labor market area changes, and the second involves urban hospitals, after having been reclassified as rural through section 1886(d)(8)(E) of the Act, that elect to be considered urban again. In both situations, if the hospital in question was a teaching hospital, its FTE caps would have been subject to the 130 percent and new program FTE cap adjustments while it was designated or classified as rural. The issue is whether the adjusted caps would continue to apply after the hospital becomes urban or returns to being treated as urban. Below we first address hospitals that lost their status as urban hospitals due to new labor market areas. We then address hospitals that rescinded their section 1886(d)(8)(E) reclassifications. (We note that reclassification by the MGCRB under section 1886(d)(10) of the Act, as well as reclassifications under section 1886(d)(8)(B) of the Act, are effective only for purposes of the wage index and would not affect the hospital's IME or direct GME payments).

a. Formerly Rural Hospitals That Became Urban Due to the New CBSA Labor Market Areas

In the FY 2005 IPPS final rule, we adopted the new CBSA-based labor market areas announced by OMB on June 6, 2003, and these areas became effective October 1, 2004. As a result of these new labor market areas, a number of hospitals that previously were located outside of an MSA and therefore considered rural are now located in a CBSA that is designated as urban and considered urban.

We believe that previously rural hospitals that received adjustments due to establishing new medical training programs should not now be required to forego such adjustments simply because they have now been redesignated as urban. Such hospitals added and received accreditation for new medical training programs under the assumption that such programs would effect a permanent increase in their FTE caps. Indeed, we believe it would be nonsensical to view the fact that these hospitals are now urban as causing them to lose the adjustments that stemmed directly from the permissible and encouraged establishment of new medical training programs. Such hospitals cannot reach back into the past and alter whether they added the new programs or not. Nor would it be reasonable to prohibit them from counting FTE residents training in new programs that they worked to accredit. (We note that the hospitals would not be required to close the programs. Rather, if they were not permitted to retain the adjustments to their FTE caps they received as a result of having established new programs, they would no longer be permitted to count FTE residents that exceeded their original, preadjustment FTE caps for purposes of direct GME and IME payments. The effect might be that the hospital would have to close the program(s) as a result of decreased Medicare funding, but the hospital would be free to continue to operate the programs(s).)

For these reasons, we believe the best reading of our regulation at § 413.79(e)(3), which states that if a hospital “is located in a rural area,” it may adjust its FTE cap to reflect residents training in new programs, is that hospitals were permitted to receive a permanent adjustment to their FTE caps if, at the time of adding a new program, the hospitals were rural. A hospital's subsequent designation as urban or rural due to labor market area changes becomes irrelevant, because the central question is whether the hospital is rural at the time it adds the new programs. Therefore, we are clarifying in this proposed rule our policy that hospitals that became urban in FY 2005 due to the new labor market areas would nevertheless be permitted to retain the adjustments they received for new programs as long as they were rural at the time they received them. (Once such hospitals receive a designation as “urban,” they may no longer seek FTE cap adjustments relating to new training programs; they may only retain the adjustments they received for the new programs they added when they were rural.)

Similarly, we believe that rural hospitals that received the statutorily mandated 130 percent adjustment to their FTE caps would be disadvantaged if we were to rescind this adjustment due to new urban designation. Such hospitals expanded their already existing training programs under the assumption that these expansions would cause a permanent increase in their FTE caps. Many of these hospitals expanded their programs only once the BBRA became effective (in 2000). Thus, they have had only a few years to expand their programs and receive the cap adjustment mandated by statute. For these reasons, we believe it is permissible to read sections 1886(h)(4)(F)(i) and 1886(d)(5)(B)(v) of the Act as permitting a permanent adjustment to the FTE caps at the time a rural hospital adds residents to its already existing program(s). The language states that the total number of FTE residents with respect to a “hospital's approved medical residency training program in the fields of allopathic medicine and osteopathic medicine may not exceed the number (or, 130 percent of such number in the case of a hospital located in a rural area) of such full-time equivalent residents for the hospital's most recent cost reporting period ending on or before December 31, 1996.” As with the addition of new programs, we interpret the language “130 percent of such number in the case of a hospital located in a rural area,” as meaning only that the hospital was required to be rural at the time it received the 30-percent increase. Once the hospital received such increase, the increase became a permanent increase in the FTE cap and should not be rescinded based on subsequent designation as an urban hospital.

We believe our interpretations are consistent with legislative intent. Congress provided for these FTE cap adjustments for rural hospitals with the intent of encouraging physician training and practice in rural areas. If rural hospitals had believed that new CBSAs would cause them to lose the adjustments, they would not have had the incentives Congress wished to increase the number of FTE residents training in their programs. These hospitals might have feared losing the adjustments as a result of new labor market areas, and therefore not carried out Congress' intent to expand their already existing residency training programs or add new residency training programs.

To provide an example of the how the above statutory interpretations would be applied, a hospital located in a rural area prior to October 1, 2004, with an unweighted direct GME FTE cap of 100 would have received a 30-percent increase in its FTE cap so that its adjusted cap was 130 FTEs. The rural hospital also could have received an adjustment for any new medical residency program. If this hospital, while rural, started a new 3-year residency program with 10 residents in each program year, its FTE cap would have been increased by an additional 30 FTEs to 160 FTEs (that is, (100 FTEs × 1.3) + 30 FTEs = 160 FTEs). Under our reading of the statute, if this hospital is now located in an urban area due to the new CBSAs, it would retain this cap of 160 FTEs.

We also believe that the statute should be interpreted as permitting urban hospitals with rural track training programs to retain the adjustment they received for such programs at § 413.79(k), even if the “rural” tracks as of October 1, 2004, are now located in urban areas due to the new OMB labor market areas. As explained in the FY 2001 IPPS final rule (66 FR 47033), we provided that an urban hospital that establishes a separately accredited medical residency training program in a rural area (that is, a rural track) may receive an adjustment to reflect the number of residents in that program (existing § 413.79(k)). Section 1886(h)(4)(H)(iv) of the Act states: “In the case of a hospital that is not located in a rural area but establishes separately accredited approved medical residency training programs (or rural tracks) in an (sic) rural area or has an accredited training program with an integrated rural track, the Secretary shall adjust the limitation under subparagraph (F) in an appropriate manner insofar as it applies to such programs in such rural areas in order to encourage the training of physicians in rural areas.”

Again, we believe that the reading that best carries out Congressional intent is one that allows the adjustment for rural tracks to remain permanent as long as the rural track training programs continue, even if the once-rural tracks are now urban due to new labor market area boundaries. Congress clearly intended to encourage the training of physicians in the rural tracks identified by the statute. However, if the FTE cap adjustments were merely temporary, and hospitals could not rely on retaining the adjustments relating to the rural training programs in which they invested, then Congress' wishes to encourage rural training programs might not have been realized. Hospitals would always need to speculate as to whether the FTE cap adjustments relating to the rural track programs they established would be lost each time new labor market areas were adopted (which normally occurs once every 10 years). Thus, we believe the statutory language should be interpreted as allowing an urban hospital to retain its FTE cap adjustment for rural track programs as long as the tracks were actually located in rural areas at the time the urban hospital received its adjustment. However, if the urban hospital wants to receive a cap adjustment for a new rural track residency program, the rural track must involve rural hospitals that are located in rural areas based on the most recent OMB labor market designations as specified in the FY 2005 IPPS final rule. We are proposing to add a new paragraph (k)(7) to § 413.79 to incorporate this proposal.

b. Section 1886(d)(8)(E) Hospitals

As stated above, a second situation exists where a hospital that is treated as rural returns to being urban under section 1886(d)(8)(E) of the Act (§ 412.103 of the regulations). Under this provision, an urban hospital may file an application to be treated as being located in a rural area. A hospital's reclassification as located in a rural area under this provision affects only payments under section 1886(d) of the Act. Accordingly, a hospital that is treated as rural under this provision can receive the FTE cap adjustments that any other rural hospital receives, but only to the FTE cap that applies for purposes of IME payments, which are made under section 1886(d) of the Act. The hospital could not receive adjustments to its direct GME FTE cap because payments for direct GME are made under section 1886(h) of the Act and the section 1886(d)(8)(E) reclassifications affect only the payments that are made under that section 1886(d) of the Act. Therefore, a hospital that reclassifies as rural under section 1886(d)(8)(E) of the Act may receive the 130-percent adjustment to its IME FTE cap and its IME FTE cap may be adjusted for any new programs, similar to hospitals that are actually located in a rural location. A hospital treated as rural under section 1886(d)(8)(E) of the Act may subsequently withdraw its election and return to its urban status under the regulations at § 412.103. We are proposing that, effective with discharges occurring on or after October 1, 2005, a different policy should apply for hospitals that reclassify under section 1886(d)(8)(E) of the Act than the policy that applies to rural hospitals redesignated as urban due to changes in labor market areas, as discussed in section IV.F.3 of this preamble.

5. Technical Changes: Cross References

• In the FY 2005 IPPS final rule (69 FR 49234), we redesignated the contents of § 413.86 as §§ 413.75 through 413.83. We also updated cross-references to § 413.86 that were located in various sections under 42 CFR Parts 400 through 499. We inadvertently did not capture all of the needed cross-reference changes. In this proposed rule, we are proposing to correct the additional cross-references in 42 CFR Parts 405, 412, 413, 415, 419, and 422 that were not made in the August 11, 2004 final rule.

• When we redesignated § 413.86 as §§ 413.75 through 413.83 in the FY 2005 IPPS final rule, we also made a corresponding redesignation of § 413.80 as § 413.89. We are proposing to correct cross-references to § 413.80 in 42 CFR Parts 412, 413, 417, and 419 to reflect the redesignation of this section as § 413.89.

J. Provider-Based Status of Facilities and Organizations Under Medicare

(If you choose to comment on issues in this section, please include the caption “Provider-Based Entities” at the beginning of your comment.)

1. Background

Since the beginning of the Medicare program, some providers, which we refer to as “main providers,” have functioned as a single entity while owning and operating multiple provider-based departments, locations, and facilities that were treated as part of the main provider for Medicare purposes. Having clear criteria for provider-based status is important because this designation can result in additional Medicare payments for services furnished at the provider-based facility, and may also increase the coinsurance liability of Medicare beneficiaries for those services.

To set forth Medicare policies with regard to the provider-based status of facilities and organizations, we have published a number of Federal Register documents as follows:

• In a proposed rule published in the Federal Register on September 8, 1998 (63 FR 47552), we proposed specific and comprehensive criteria for determining whether a facility or organization is provider-based. In the preamble to the proposed rule, we explained why we believed meeting each criterion would be necessary to a finding that a facility or organization qualifies for provider-based status. After considering public comments on the September 8, 1998 proposed rule and making appropriate revisions, on April 7, 2000 (65 FR 18504), we published a final rule setting forth the provider-based regulations at 42 CFR 413.65.

• Before the regulations that were issued on April 7, 2000 could be implemented, Congress enacted the Medicare, Medicaid, and SCHIP Benefits Improvement and Protection Act of 2000 (BIPA), Pub. L. 106-544. Section 404 of BIPA delayed implementation of the April 7, 2000 provider-based rules with respect to many providers, and mandated changes in the criteria at § 413.65 for determining provider-based status.

• In order to conform our regulations to the requirements of section 404 of BIPA and to codify certain clarifications of provider-based policy that had previously been posted on the CMS Web site, we published another proposed rule on August 24, 2001 (66 FR 44672). After considering public comments on the August 24, 2001 proposed rule and making appropriate revisions, we published a final rule on November 30, 2001 setting forth the provider-based regulations (66 FR 59909).

• On May 9, 2002, we proposed further significant revisions to the provider-based regulations at § 413.65 (67 FR 31480). After considering public comments on the May 9, 2002 proposed rule and making appropriate revisions, on August 1, 2002, we published a final rule specifying the criteria that must be met to qualify for provider-based status (67 FR 50078). These regulations remain in effect and continue to be codified at § 413.65.

Following is a discussion of the major provisions of the provider-based regulations: Section 413.65(a) of the regulations describes the scope of that section and provides definitions of key terms used in the regulations. Paragraph (b) describes the procedure for making provider-based determinations, and paragraph (c) imposes requirements for reporting material changes in relationships between main providers and provider-based facilities or organizations. In paragraph (d), we specify the requirements that are applicable to all facilities or organizations seeking provider-based status, and in paragraph (e), we describe the additional requirements applicable to off-campus facilities or organizations (generally, those located more than 250 yards from the provider's main buildings). Paragraphs (f) through (o) set forth policies regarding joint ventures, obligations of provider-based facilities, facilities operated under management contracts or providing all services under arrangements, procedures in connection with certain provider-based determinations, and specific types of facilities such as Indian Health Service (IHS) and Tribal facilities and Federally qualified health centers (FQHCs).

2. Limits on the Scope of the Provider-Based Regulations—Facilities for Which Provider-Based Determinations Will Not Be Made

In § 413.65(a) (1)(ii), we list specific types of facilities and organizations for which determinations of provider-based status will not be made. We previously concluded that provider-based determinations should not be made for these facilities because the outcome of the determination (that is, whether a facility, unit, or department is found to be freestanding or provider-based) would not affect the methodology used to make Medicare or Medicaid payment, the scope of benefits available to a Medicare beneficiary in or at the facility, or the deductible or coinsurance liability of a Medicare beneficiary in or at the facility.

We have now concluded that, under the principle stated above, rural health clinics affiliated with hospitals having 50 or more beds should be added to the list of facilities for which provider-based status determinations are not made. Therefore, we are proposing to revise § 413.65(a)(1)(ii) to add rural health clinics with hospitals having 50 or more beds to the listing of the types of facilities for which a provider-based status determination will not be made. We believe this proposed revision to § 413.65(a)(1)(ii) is appropriate because all rural health clinics affiliated with hospitals having 50 or more beds are paid on the same basis as rural health clinics not affiliated with any hospital, and the scope of Medicare Part B benefits and beneficiary liability for Medicare Part B deductible and coinsurance amounts would be the same, regardless of whether the rural health clinic was found to be provider-based or freestanding.

In setting forth this proposal, we recognize that rural health clinics affiliated with hospitals report their costs using the hospital's cost report rather than by filing a separate rural health clinic cost report, and that whether or not a rural health clinic is hospital-affiliated will affect the selection of a fiscal intermediary for the clinic. However, we do not believe these administrative differences provide a sufficient reason to make provider-based determinations for such rural health clinics.

3. Location Requirement for Off-Campus Facilities: Application to Certain Neonatal Intensive Care Units

As we stated in the preamble to May 9, 2002 proposed rule for changes in the provider-based rules (67 FR 31485), we recognize that provider-based status is not limited to on-campus facilities or organizations and that facilities or organizations located off the main provider campus may also be sufficiently integrated with the main provider to justify a provider-based designation. However, the off-campus location of the facilities or organizations may make such integration harder to achieve, and such integration should not simply be presumed to exist. Therefore, to ensure that off-campus facilities or organizations seeking provider-based status are appropriately integrated, we have adopted certain requirements regarding the location of off-campus facilities or organizations. These requirements are set forth in § 413.65(e)(3). Section 413.65(e)(3) specifies that a facility or organization not located on the main campus of the potential main provider can qualify for provider-based status only if it is located within a 35-mile radius of the campus of the hospital or CAH that is the potential main provider, or meets any one of the following requirements.

• The facility or organization is owned and operated by a hospital or CAH that has a disproportionate share adjustment (as determined under § 412.106) greater than 11.75 percent or is described in § 412.106(c)(2) of the regulations which implement section 1886(e)(5)(F)(i)(II) of the Act and is—

—Owned or operated by a unit of State or local government;

—A public or nonprofit corporation that is formally granted governmental powers by a unit of State or local government; or

—A private hospital that has a contract with a State or local government that includes the operation of clinics located off the main campus of the hospital to assure access in a well-defined service area to health care services for low-income individuals who are not entitled to benefits under Medicare (or medical assistance under a Medicaid State plan). (§ 413.65(e)(3)(i))

• The facility or organization demonstrates a high level of integration with the main provider by showing that it meets all of the other provider-based criteria and demonstrates that it serves the same patient population as the main provider, by submitting records showing that, during the 12-month period immediately preceding the first day of the month in which the application for provider-based status is filed with CMS, and for each subsequent 12-month period—

—At least 75 percent of the patients served by the facility or organization reside in the same zip code areas as at least 75 percent of the patients served by the main provider (§ 413.65(e)(3)(ii)(A)); or

—At least 75 percent of the patients served by the facility or organization who required the type of care furnished by the main provider received that care from that provider (for example, at least 75 percent of the patients of a rural health clinic seeking provider-based status received inpatient hospital services from the hospital that is the main provider (§ 413.65(e)(3)(ii)(B)).

Section 413.65(e)(3)(ii)(C) of the regulations allows new facilities or organizations to qualify as provider-based entities. Under this section, if a facility or organization is unable to meet the criteria in § 413.65(e)(3)(ii)(A) or (e)(3)(ii)(B) because it was not in operation during all of the 12-month period before the start of the period for which provider-based status is sought, the facility or organization may nevertheless meet the location requirement of paragraph (e)(3) of § 413.65 if it is located in a zip code area included among those that, during all of the 12-month period before the start of the period for which provider-based status is sought, accounted for at least 75 percent of the patients served by the main provider.

CMS has been advised that, in some cases, the location requirements in current regulations may inadvertently impede the delivery of intensive care services to newborn infants in areas where there is no nearby children's hospital with a neonatal intensive care unit (NICU). According to those who expressed this concern, hospitals participating in the Medicare program as children's hospitals establish off-site neonatal intensive care units (NICUs) which they operate and staff but which are located in space leased from other hospitals. The hospitals in which the offsite NICUs are housed typically are short-term, acute care hospitals located in rural areas. According to comments that CMS has received, the nearest children's hospital in a rural area is usually located a considerable distance from individual rural communities, which prevents infants in these rural communities from having ready access to the specialized care offered by NICUs.

We have received a suggestion that this configuration (that of a hospital participating in the Medicare program as a hospital whose inpatients are predominantly individuals under 18 years of age under section 1886(d)(1)(B)(iii) of the Act, establishing an offsite NICU which it operates and staffs but which is located in space leased from another hospital) can be very helpful in making neonatal intensive care more quickly available in areas where community hospitals are located. In addition, this configuration can offer relief to families who otherwise would be required to travel long distances to obtain this care for their infants. However, offsite NICUs would not be able to qualify for provider-based status under the location criteria in our current regulations if they are located more than 35 miles from the children's hospital that would be the main provider, are not owned and operated by a hospital meeting the requirements of § 413.65(e)(3)(i), and cannot meet either of the “75 percent tests” for service to the same patient population as the potential main provider that are specified in existing § 413.65(e)(3)(ii)(A) and § 413.65(e)(3)(ii)(B).

We understand the concern that requiring a patient to be transported to an NICU located on the campus of a distant children's hospital could create an unacceptable medical risk to the life of a newborn at a most critical time. To help us better understand this issue and determine what action, if any, CMS should take on it, we are soliciting specific public comment on the following question:

• Is the problem as described above actually occurring and, if so, in what locations? We are particularly interested in learning which areas of which States are experiencing such a problem, and in receiving specific information, such as the rates of transfer of newborns from community hospitals to children's hospital on-campus NICUs relative to adult or non-neonatal pediatric transfers for intensive care services, which describe the problem objectively. Such objective information will be much more useful than expressions of opinion or anecdotes.

We also wish to ask those who believe such a problem is currently occurring to comment on which of the following approaches would be most effective in resolving it. The proposed approaches on which we are soliciting specific comments are:

▪ A change in the Medicare provider-based regulations to create an exception to the location requirements for NICUs located in community hospitals that are more than 35 miles from the children's hospital that is the potential main provider. The exception might take the form of a more generous mileage allowance (such as being within 50 miles of the potential main provider) or could require other criteria to be met. However, the exception would be available only if there is no other NICU within 35 miles of the community hospital.

▪ A change in the national Medicaid regulations to allow off-campus NICUs that meet other provider-based requirements under § 413.65 to qualify as provider-based for purposes of payment under Medicaid, even though those facilities would not qualify as provider-based under Medicare. (We note that under 42 CFR 440.10(a)(3)(iii), services are considered to be “inpatient hospital services” under the Medicaid program only if they are furnished in an institution that meets the requirements for participation in Medicare as a hospital. Because of the age of the patients they serve, NICUs typically have no Medicare utilization but a substantial proportion of their patients may be Medicaid patients.)

▪ A change in individual State's Medicaid plans that would provide enhanced financial incentives for community hospitals to establish NICUs, possibly in collaboration with children's hospitals.

▪ The establishment of children's hospitals that meet the requirements for being hospitals-within-hospitals under 42 CFR 412.22(e). (We note that this option, unlike the three above, would not require any revision of Medicare or Medicaid regulations or individual State Medicaid plans).

We also welcome suggestions for specific options other than those listed above.

4. Technical and Clarifying Changes to § 413.65

a. Definitions. In paragraph (a)(2) of § 413.65, we state that the term “Provider-based entity” means a provider of health care services, or an RHC as defined in § 405.2401(b), that is either created by, or acquired by, a main provider for the purpose of furnishing health care services of a different type from those of the main provider under the name, ownership and administrative and financial control of the main provider, in accordance with the provisions of § 413.65. In recognition of the fact that provider-based entities, unlike departments of a provider, offer a type of services different from those of the main provider and participate separately in Medicare, we are proposing to revise this requirement by deleting the word “name” from this definition. This change would simplify compliance with the provider-based criteria since entities that do not now operate under the potential main provider's name will not be obligated to change their names in order to be treated as provider-based.

b. Provider-based determinations. In paragraph (b)(3)(ii) of § 413.65, we state that, in the case of a facility not located on the campus of the potential main provider, the provider seeking a determination would be required to submit an attestation stating that the facility meets the criteria in paragraphs (d) and (e) of § 413.65, and if the facility is operated as a joint venture or under a management contract, the requirements of paragraph (f) or paragraph (h) of § 413.65, as applicable. However, paragraph (f), which sets forth rules regarding provider-based status for joint ventures, states clearly that a facility or organization operated as a joint venture may qualify for provider-based status only if it is located on the main campus of the potential main provider. To avoid any misunderstanding regarding the content of attestations for off-campus facilities, we are proposing to revise paragraph (b)(3)(ii) by removing the reference to compliance with requirements in paragraph (f) for joint ventures. We also are proposing to add a sentence to paragraph (b)(3)(i), regarding attestations for on-campus facilities, to state that if the facility is operated as a joint venture, the attestation by the potential main provider regarding that facility would also have to include a statement that the provider will comply with the requirements of paragraph (f) of § 413.65.

c. Additional requirements applicable to off-campus facilities or organizations—Operation under the ownership and control of the main provider. In paragraph (e)(1)(i), regarding 100 percent ownership by the main provider of the business enterprise that constitutes the facility or organization seeking provider-bases status, we are proposing to add the word “main” before the word “provider”, to clarify that the main provider must own and control the facility or organization seeking provider-based status. We are also proposing, for purposes of clarifying the requirements in paragraph (e)(1), to add the word “main” before the word “provider” in paragraphs (e)(1)(ii) and (e)(1)(iii).

d. Additional requirements applicable to off-campus facilities or organizations—Location. We are proposing several clarifying changes to this paragraph, as follows:

Currently, the opening sentence of § 413.65(e)(3) states that a facility or organization for which provider-based status is sought must be located within a 35-mile radius of the campus of the hospital or CAH that is the potential main provider, except when the requirements in paragraph (e)(3)(i), (e)(3)(ii), or (e)(3)(iii) of that section are met. However, the regulation text that follows does not contain a paragraph designation as paragraph (e)(3)(iii). We are proposing to correct this error by redesignating existing paragraph (e)(3)(ii)(C) as paragraph (e)(3)(iv). We are also proposing to revise this sentence to state that the facility or organization must meet the requirements in paragraph (e)(3)(i), (e)(3)(ii), (e)(3)(iii), (e)(3)(iv) or, in the case of an RHC, paragraph (e)(3)(v) of § 413.65 and the requirements in paragraph (e)(3)(vi) of § 413.65.

We are proposing to revise the opening sentence of § 413.65(e)(3) to reflect the changes in the coding of this paragraph as described above.

We are also proposing to redesignate paragraph (v) of § 413.65(e)(3) as paragraph (e)(3)(vi) and correct a drafting error by adding the word “that” before “has fewer than 50 beds”. This proposed addition is a grammatical change that is intended only to clarify the size of the hospital with which a rural health clinic must have a provider-based relationship in order to qualify under the special location requirement in that paragraph.

e. Paragraph (g)—Obligations of hospital outpatient departments and hospital-based entities. We are proposing to revise the first sentence of paragraph (g)(7), regarding beneficiary notices of coinsurance liability, to clarify that notice must be given only if the service is one for which the beneficiary will incur a coinsurance liability for both an outpatient visit to the hospital and the physician service. This should help to make it clear that notice is not required for visits that do not result in additional coinsurance liability. In addition, we are proposing to reorganize the subsequent paragraphs of that section for clarity.

K. Rural Community Hospital Demonstration Program

(If you choose to comment on issues in this section, please include the caption “Rural Community Hospital Demonstration Program” at the beginning of your comments.)

In accordance with the requirements of section 410A(a) of Pub. L. 108-173, the Secretary has established a 5-year demonstration (beginning with selected hospitals' first cost reporting period beginning on or after October 1, 2004) to test the feasibility and advisability of establishing “rural community hospitals” for Medicare payment purposes for covered inpatient hospital services furnished to Medicare beneficiaries. A rural community hospital, as defined in section 410A(f)(1), is a hospital that—

• Is located in a rural area (as defined in section 1886(d)(2)(D) of the Act) or treated as being so located under section 1886(d)(8)(E) of the Act;

• Has fewer than 51 beds (excluding beds in a distinct part psychiatric or rehabilitation unit) as reported in its most recent cost report;

• Provides 24-hour emergency care services; and

• Is not designated or eligible for designation as a CAH.

As we indicated in the FY 2005 IPPS final rule (69 FR 49078), in accordance with sections 410A(a)(2) and (4) of Pub. L. 108-173 and using 2002 data from the U.S. Census Bureau, we identified 10 States with the lowest population density from which to select hospitals: Alaska, Idaho, Montana, Nebraska, Nevada, New Mexico, North Dakota, South Dakota, Utah, and Wyoming. (Source: U.S. Census Bureau Statistical Abstract of the United States: 2003) Thirteen rural community hospitals located within these States are participating in the demonstration.

Under the demonstration, participating hospitals are paid the reasonable costs of providing covered inpatient hospital services (other than services furnished by a psychiatric or rehabilitation unit of a hospital that is a distinct part), applicable for discharges occurring in the first cost reporting period beginning on or after the October 1, 2004 implementation date of the demonstration program. Payment will be the lesser amount of reasonable cost or a target amount in subsequent cost reporting periods. The target amount in the second cost reporting period is defined as the reasonable costs of providing covered inpatient hospital services in the first cost reporting period, increased by the inpatient prospective payment update factor (as defined in section 1886(b)(3)(B) of the Act) for that particular cost reporting period. The target amount in subsequent cost reporting periods is defined as the preceding cost reporting period's target amount, increased by the inpatient prospective payment update factor (as defined in section 1886(b)(3)(B) of the Act) for that particular cost reporting period.

Covered inpatient hospital services means inpatient hospital services (defined in section 1861(b) of the Act) and includes extended care services furnished under an agreement under section 1883 of the Act.

Section 410A of Pub. L. 108-173 requires that “in conducting the demonstration program under this section, the Secretary shall ensure that the aggregate payments made by the Secretary do not exceed the amount which the Secretary would have paid if the demonstration program under this section was not implemented.” Generally, when CMS implements a demonstration on a budget neutral basis, the demonstration is budget neutral in its own terms; in other words, aggregate payments to the participating providers do not exceed the amount that would be paid to those same providers in the absence of the demonstration. This form of budget neutrality is viable when, by changing payments or aligning incentives to improve overall efficiency, or both, a demonstration may reduce the use of some services or eliminate the need for others, resulting in reduced expenditures for the demonstration participants. These reduced expenditures offset increased payments elsewhere under the demonstration, thus ensuring that the demonstration as a whole is budget neutral or yields savings. However, the small scale of this demonstration, in conjunction with the payment methodology, makes it extremely unlikely that this demonstration could be viable under the usual form of budget neutrality. Specifically, cost-based payments to 13 small rural hospitals are likely to increase Medicare outlays without producing any offsetting reduction in Medicare expenditures elsewhere. Therefore, a rural community hospital's participation in this demonstration is unlikely to yield benefits to the participant if budget neutrality were to be implemented by reducing other payments for these providers.

In order to achieve budget neutrality for this demonstration, we are proposing to adjust national inpatient PPS rates by an amount sufficient to account for the added costs of this demonstration. In other words, we apply budget neutrality across the payment system as a whole rather than merely across the participants of this demonstration. As we discussed in the FY 2005 IPPS final rule (69 FR 49183), we believe that the language of the statutory budget neutrality requirements permits the agency to implement the budget neutrality provision in this manner. For FY 2006, using the most recent cost report data (that is, data for FY 2003), adjusted for increased estimated cost for the 13 participating hospitals, we are proposing that the estimated adjusted amount would be $12,706,334. This adjusted amount reflects the estimated difference between cost and IPPS payment based on data from hospitals' cost reports. We discuss the proposed payment rate adjustment that would be required to ensure the budget neutrality of the demonstration in section II.A.4. of the Addendum to this proposed rule.

The data collection instrument for the demonstration has been approved by OMB under the title “Medicare Waiver Demonstration Application,” under OMB approval number 0938-0880, with a current expiration date of July 30, 2006.

L. Definition of a Hospital in Connection With Specialty Hospitals

(If you choose to comment on issues in this section, please include the caption “Specialty Hospitals” at the beginning of your comment.)

Section 1861(e) of the Act provides a definition for a “hospital” for purposes of participating in the Medicare program. In order to be a Medicare-participating hospital, an institution must, among other things, be primarily engaged in furnishing services to inpatients. This requirement is incorporated in our regulations on conditions of participation for hospitals at 42 CFR 482.1. An institution that applies for a Medicare provider agreement as a hospital but is unable to meet this requirement will have its application denied in accordance with our authority at 42 CFR 489.12. In addition, institutions that have a Medicare hospital provider agreement but are no longer primarily engaging in furnishing services to inpatients are subject to having their provider agreements terminated pursuant to 42 CFR 489.53. Although compliance with this requirement is not problematic for most hospitals, the issue of whether an institution is primarily engaged in providing care to inpatients has recently come to our attention in two arisen two contexts. First, an institution has applied to be certified as an “emergency hospital,” yet the institution has 29 outpatient beds for emergency patients, including observation and post-anesthesia care, and only 2 inpatient beds. Emergency treatment by nature does not usually involve overnight stays. Second, the issue has also arisen in the area of “specialty hospitals.” (For purposes of this discussion, “specialty hospitals” are those hospitals specifically defined as such in section 507 of Pub. L. 108-173 (MMA), that is, those hospitals that are primarily or exclusively engaged in the care and treatment of:

(i) Patients with a cardiac condition; (ii) patients with an orthopedic condition; or (iii) patients receiving a surgical procedure.)

“Specialty hospitals” are of interest partly because of section 507 of Pub. L. 108-173, which amended the hospital ownership exception to the physician self-referral prohibition statute, section 1877 of the Act. Prior to the enactment of Pub. L. 108-173, the “whole hospital” exception contained in section 1877(d)(3) of the Act allowed a physician to refer Medicare patients to a hospital in which the physician (or an immediate family member of the physician) had an ownership or investment interest, if the physician was authorized to perform services at the hospital and the ownership or investment interest was in the entire hospital and not a subdivision of the hospital. Section 507 of Pub. L. 108-173 added an additional criterion to the whole hospital exception, specifying that for the 18-month period beginning on December 8, 2003 and ending on June 8, 2005, physician ownership and investment interests in “specialty hospitals” would not qualify for the whole hospital exception. The term “specialty hospital” does not include any hospital determined by the Secretary to be in operation or “under development” as of November 18, 2003.

In our advisory opinions that we issue as to whether a requesting entity is subject to the 18-month moratorium described above, we inform the requesting entity that, among other things, it must meet the definition of a hospital that is contained in section 1861(e) of the Act. It has come to our attention that some institutions entities that describe themselves as surgical or orthopedic specialty hospitals may be primarily primarily engaged in furnishing services to outpatients, and thus would might not meet the definition of a hospital as contained in section 1861(e) of the Act. Therefore, although an institution entity may satisfy the “under development” criteria for purposes of being excepted from the moratorium on physician-owner referrals to specialty hospitals, if we were to determine such entity is not primarily engaged in inpatient care at the time it seeks certification to participate in the Medicare program, its application for a provider agreement as a hospital would will be denied and it would not be eligible for the whole hospital exception to the prohibition on physician self-referrals. Further, if we were to determine that a specialty hospital that is operating under an existing Medicare provider agreement but is not, or is no longer, primarily engaged in treating inpatients, the hospital is subject to having its provider agreement terminated; in this event, it could no longer take advantage of and lose the protection of the whole hospital exception.

VI. PPS for Capital-Related Costs

(If you choose to comment on issues in this section, please include the caption “Capital-Related Costs” at the beginning of your comment.)

In this proposed rule, we are not proposing any changes in the policies governing the determination of the payment rates for capital-related costs for short-term acute care hospitals under the IPPS. However, for the readers' benefit, we are providing a summary of the statutory basis for the PPS for hospital capital-related costs and the methodology used to determine capital-related payments to hospitals. A discussion of the proposed rates and factors for FY 2006 (determined under our established methodology) can be found in section III. of the Addendum of this proposed rule.

Section 1886(g) of the Act requires the Secretary to pay for the capital-related costs of inpatient acute hospital services “in accordance with a PPS established by the Secretary.” Under the statute, the Secretary has broad authority in establishing and implementing the PPS for hospital inpatient capital-related costs. We initially implemented the PPS for capital-related costs in the August 30, 1991 IPPS final rule (56 FR 43358), in which we established a 10-year transition period to change the payment methodology for Medicare hospital inpatient capital-related costs from a reasonable cost-based methodology to a prospective methodology (based fully on the Federal rate).

Federal fiscal year (FY) 2001 was the last year of the 10-year transition period established to phase in the PPS for hospital inpatient capital-related costs. For cost reporting periods beginning in FY 2002, capital PPS payments are based solely on the Federal rate for most acute care hospitals (other than certain new hospitals and hospitals receiving certain exception payments). The basic methodology for determining capital prospective payments using the Federal rate is set forth in § 412.312. For the purpose of calculating payments for each discharge, the standard Federal rate is adjusted as follows:

(Standard Federal Rate) × (DRG Weight) × (Geographic Adjustment Factor (GAF)) × (Large Urban Add-on, if applicable) × (COLA Adjustment for hospitals located in Alaska and Hawaii) × (1 + Capital DSH Adjustment Factor + Capital IME Adjustment Factor, if applicable)

Hospitals also may receive outlier payments for those cases that qualify under the thresholds established for each fiscal year as specified in § 412.312(c) of the regulations.

The regulations at § 412.348(f) provide that a hospital may request an additional payment if the hospital incurs unanticipated capital expenditures in excess of $5 million due to extraordinary circumstances beyond the hospital's control. This policy was originally established for hospitals during the 10-year transition period, but as we discussed in the August 1, 2002 IPPS final rule (67 FR 50102), we revised the regulations at § 412.312 to specify that payments for extraordinary circumstances are also made for cost reporting periods after the transition period (that is, cost reporting periods beginning on or after October 1, 2001). Additional information on the exceptions payment for extraordinary circumstances in § 412.348(f) can be found in the FY 2005 IPPS final rule (69 FR 49185 through 49186).

During the transition period, under §§ 412.348(b) through (e), eligible hospitals could receive regular exception payments. These exception payments guaranteed a hospital a minimum payment percentage of its Medicare allowable capital-related costs depending on the class of hospital (§ 412.348(c)), but were available only during the 10-year transition period. After the end of the transition period, eligible hospitals can no longer receive this exception payment. However, even after the transition period, eligible hospitals receive additional payments under the special exceptions provisions at § 412.348(g), which guarantees all eligible hospitals a minimum payment of 70 percent of its Medicare allowable capital-related costs provided that special exceptions payments do not exceed 10 percent of total capital IPPS payments. Special exceptions payments may be made only for the 10 years from the cost reporting year in which the hospital completes its qualifying project, and the hospital must have completed the project no later than the hospital's cost reporting period beginning before October 1, 2001. Thus, an eligible hospital may receive special exceptions payments for up to 10 years beyond the end of the capital PPS transition period. Hospitals eligible for special exceptions payments were required to submit documentation to the intermediary indicating the completion date of their project. (For more detailed information regarding the special exceptions policy under § 412.348(g), refer to the August 1, 2001 IPPS final rule (66 FR 39911 through 39914) and the August 1, 2002 IPPS final rule (67 FR 50102).)

Under the PPS for capital-related costs, § 412.300(b) of the regulations defines a new hospital as a hospital that has operated (under current or previous ownership) for less than 2 years. (For more detailed information see the August 30, 1991 final rule (56 FR 43418).) During the 10-year transition period, a new hospital was exempt from the capital PPS for its first 2 years of operation and was paid 85 percent of its reasonable costs during that period. Originally, this provision was effective only through the transition period and, therefore, ended with cost reporting periods beginning in FY 2002. Because we believe that special protection to new hospitals is also appropriate even after the transition period, as discussed in the August 1, 2002 IPPS final rule (67 FR 50101), we revised the regulations at § 412.304(c)(2) to provide that, for cost reporting periods beginning on or after October 1, 2002, a new hospital (defined under § 412.300(b)) is paid 85 percent of its allowable Medicare inpatient hospital capital-related costs through its first 2 years of operation, unless the new hospital elects to receive fully-prospective payment based on 100 percent of the Federal rate. (Refer to the August 1, 2001 IPPS final rule (66 FR 39910) for a detailed discussion of the statutory basis for the system, the development and evolution of the system, the methodology used to determine capital-related payments to hospitals both during and after the transition period, and the policy for providing exception payments.)

Section 412.374 provides for the use of a blended payment amount for prospective payments for capital-related costs to hospitals located in Puerto Rico. Accordingly, under the capital PPS, we compute a separate payment rate specific to Puerto Rico hospitals using the same methodology used to compute the national Federal rate for capital-related costs. In general, hospitals located in Puerto Rico are paid a blend of the applicable capital PPS Puerto Rico rate and the applicable capital PPS Federal rate.

Prior to FY 1998, hospitals in Puerto Rico were paid a blended capital PPS rate that consisted of 75 percent of the applicable capital PPS Puerto Rico specific rate and 25 percent of the applicable capital PPS Federal rate. However, effective October 1, 1997 (FY 1998), in conjunction with the change to the operating PPS blend percentage for Puerto Rico hospitals required by section 4406 of Pub. L. 105-33, we revised the methodology for computing capital PPS payments to hospitals in Puerto Rico to be based on a blend of 50 percent of the Puerto Rico rate and 50 percent of the Federal rate. Similarly, effective beginning in FY 2005, in conjunction with the change in operating PPS payments to hospitals in Puerto Rico for FY 2005 required by section 504 of Pub. L. 108-173, we again revised the methodology for computing capital PPS payments to hospitals in Puerto Rico to be based on a blend of 25 percent of the Puerto Rico rate and 75 percent of the Federal rate for discharges occurring on or after October 1, 2004.

VII. Proposed Changes for Hospitals and Hospital Units Excluded From the IPPS

(If you choose to comment on issues in this section, please include the caption “Excluded Hospitals and Units” at the beginning of your comment.)

A. Payments to Existing Hospitals and Hospital Units (§§ 413.40(c), (d), and (f))

1. Payments to Existing Excluded Hospitals and Hospital Units

Section 1886(b)(3)(H) of the Act (as amended by section 4414 of Pub. L. 105-33) established caps on the target amounts for cost reporting periods beginning on or after October 1, 1997 through September 30, 2002, for certain existing hospitals and hospital units excluded from the IPPS. Section 413.40(c)(4)(iii) of the implementing regulations states that “In the case of a psychiatric hospital or unit, rehabilitation hospital or unit, or long-term care hospital, the target amount is the lower of amounts specified in paragraph (c)(4)(iii)(A) or (c)(4)(iii)(B) of this section.” Accordingly, in general, for hospitals and units within these three classes of providers for the applicable 5-year period, the target amount is the lower of either: the hospital-specific target amount (§ 413.40(c)(4)(iii)(A)) or the 75th percentile cap (§ 413.40(c)(4)(iii)(B)). (We note that, in the case of LTCHs, for cost reporting periods beginning during FY 2001, the hospital-specific target amount is the net allowable cost in a base period increased by the applicable update factors multiplied by 1.25.)

Questions have been raised as to whether § 413.40(c)(4)(iii) (specifically paragraph (c)(4)(iii)(A)) continues to apply beyond FY 2002. In order to clarify the policy for periods after FY 2002, we note that § 413.40(c)(4)(iii) applies only to cost reporting periods beginning on or after October 1, 1997 through September 30, 2002, for psychiatric hospitals and units, rehabilitation hospitals and units, and LTCHs. We discussed this applicable time period in the May 12, 1998 Federal Register (63 FR 26344) when we discussed implementing the caps. Specifically, we clarified our regulations to indicate that the target amount for FYs 1998 through 2002 is equal to the lower of the hospital-specific target amount or the 75th percentile of target amounts for hospitals in the same class for cost reporting periods ending during FY 1996, increased by the applicable market basket percentage for the subject period. We did not intend for the provisions of § 413.40(c)(4)(iii) to apply beyond FY 2002, as we specifically included an ending date; that is, we stated that the target amount calculation provisions were for FYs 1998 through 2002. More recently, in the FY 2003 IPPS final rule (67 FR 50103), we clarified again how the target amount for FY 2003 was to be determined by stating that: “* * * for cost reporting periods beginning in FY 2003, the hospital or unit should use its previous year's target amount, updated by the appropriate rate-of-increase percentage.” Thus, the time-limited provision of § 413.40(c)(4)(iii) is neither a new policy nor a change in policy.

For cost reporting periods beginning on or after October 1, 2002, to the extent one of the above-mentioned excluded hospitals or units has all or a portion of its payment determined under reasonable cost principles, the target amounts for the reasonable cost-based portion of the payment are determined in accordance with section 1886(b)(3)(A)(ii) of the Act and the regulations at § 413.40(c)(4)(ii). Section 413.40(c)(4)(ii) states, “Subject to the provisions of [§ 413.40] paragraph (c)(4)(iii) of this section, for subsequent cost reporting periods, the target amount equals the hospital's target amount for the previous cost reporting period increased by the update factor for the subject cost reporting period unless the provisions of [§ 413.40] paragraph (c)(5)(ii) of this section apply.” Thus, since § 413.40(c)(4)(ii) indicates that the provisions of that paragraph are subject to the provisions of § 413.40(c)(4)(iii), which are applicable only for cost reporting periods beginning on or after October 1, 1997 through September 30, 2002, the target amount for FY 2003 is determined by updating the target amount for FY 2002 (the target amount from the previous period) by the applicable update factor. Accordingly, we are proposing to make a change to the language in § 413.40(c)(4)(iii) to clarify that the provisions of this paragraph relating to the caps on target amounts are for a specific period of time only, that is, cost reporting periods beginning on or after October 1, 1997, and before October 1, 2002.

The inpatient operating costs of children's hospitals and cancer hospitals that are excluded from the IPPS are subject to the rate-of-increase limits established under the authority of section 1886(b) of the Act and implemented in the regulations at § 413.40. Under these limits, an annual target amount (expressed in terms of the inpatient operating cost per discharge) is set for each hospital, based on the hospital's own historical cost experience, trended forward by the applicable percentage increase. This target amount is applied as a ceiling on the allowable costs per discharge for the hospital's cost reporting period. (We note that, in accordance with § 403.752(a) of the regulations, RNHCIs are also subject to the rate-of-increase limits established under § 413.40 of the regulations.)

2. Updated Caps for New Excluded Hospitals and Units

Section 1886(b)(7) of the Act established the method for determining the payment amount for new rehabilitation hospitals and units, psychiatric hospitals and units, and LTCHs that first received payment as a hospital or unit excluded from the IPPS on or after October 1, 1997. However, effective for cost reporting periods beginning on or after October 1, 2002, this payment amount (or “new provider cap”) no longer applies to any new rehabilitation hospital or unit because they now are paid 100 percent of the Federal prospective rate under the IRF PPS.

In addition, LTCHs that meet the definition of a new LTCH under § 412.23(e)(4) are also paid 100 percent of the fully Federal prospective payment rate under the LTCH PPS. In contrast, those “new” LTCHs that meet the criteria under § 413.40(f)(2)(ii) (that is, that were not paid as an excluded hospital prior to October 1, 1997), but were paid as a LTCH before October 1, 2002, may be paid under the LTCH PPS transition methodology with the reasonable cost portion of the payment subject to § 413.40(f)(2)(ii). Finally, LTCHs that existed prior to October 1, 1997, may also be paid under the LTCH PPS transition methodology with the reasonable cost portion of the payment subject to § 413.40(c)(4)(ii). (The last LTCHs that were subject to the payment amount limitation for “new” LTCHs were new LTCHs that had their first cost reporting period beginning on September 30, 2002. In that case, the payment amount limitation remained applicable for the next 2 years—September 30, 2002 through September 29, 2003, and September 30, 2003 through September 29, 2004. This is because, under existing regulations at § 413.40(f)(2)(ii), a “new hospital” would be subject to the same payment (target amount) in its second cost reporting period that was applicable to the LTCH in its first cost reporting period. Accordingly, for these hospitals, the updated payment amount limitation that we published in the FY 2003 IPPS final rule (67 FR 50103) applied through September 29, 2004. Consequently, there is no longer a need to publish updated payment amounts for new (§ 413.40(f)(2)(ii)) LTCHs. A discussion of how the payment limitations were calculated can be found in the August 29, 1997 final rule with comment period (62 FR 46019); the May 12, 1998 final rule (63 FR 26344); the July 31, 1998 final rule (63 FR 41000); and the July 30, 1999 final rule (64 FR 41529).

A freestanding inpatient rehabilitation hospital, an inpatient rehabilitation unit of an acute care hospital, and an inpatient rehabilitation unit of a CAH are referred to as IRFs. Effective for cost reporting periods beginning on or after October 1, 2002, this payment limitation is also no longer applicable to new rehabilitation hospitals and units because they are paid 100 percent of the Federal prospective rate under the IRF PPS. Therefore, it is also no longer necessary to update the payment limitation for new rehabilitation hospitals or units.

For psychiatric hospitals and units, under the IPF PPS, there is a 3-year transition period during which existing IPFs will receive a blended payment of the Federal per diem payment amount and the payment amount that IPFs would receive under the reasonable cost-based payment (TEFRA) methodology. However, new IPFs (those facilities that under present or previous ownership (or both) have their first cost reporting period as an IPF begin on or after January 1, 2005, are paid the fully Federal per diem payment amount rather than a blended payment amount. (See section VII.A.5. of the preamble of this proposed rule for further discussion of the IPF PPS.) Thus, the payment limitations under the TEFRA payment system are not applicable for new IPFs that meet the definition in § 412.426(c).

However, “new” IPFs that meet the criteria under § 413.40(f)(2)(ii) (that is, that were not paid as an excluded hospital prior to October 1, 1997), but were paid as an IPF before January 1, 2005, are paid under the IPF PPS transition methodology with the reasonable cost portion of the payment determined according to § 413.40(f)(2)(ii), that is, subject to the payment amount limitation. The last “new” IPFs that were subject to the payment amount limitation were IPFs that had their first cost reporting period beginning on December 31, 2004. For these hospitals, the payment amount limitation that was published in the FY 2005 IPPS final rule (69 FR 49189) for cost reporting periods beginning on or after October 1, 2004, and before January 1, 2005, remains applicable for the IPF's first two cost reporting periods. IPFs with a first cost reporting period beginning on or after January 1, 2005, are paid 100 percent of the Federal rate and are not subject to the payment amount limitation. Therefore, since the last IPFs eligible for a blended payment have a cost reporting period beginning on December 31, 2004, the payment limitation published for FY 2005 remains applicable for these IPFs, and publication of the updated payment amount limitation is no longer needed. We note that IPFs that existed prior to October 1, 1997, may also be paid under the IPF transition methodology with the reasonable cost portion of the payment subject to § 413.40(c)(4)(ii).

The payment limitations for new hospitals under TEFRA do not apply to new LTCHs, IRFs, or IPFs, that is, these hospitals with their first cost reporting period beginning on or after the date that the particular class of hospitals implemented their respective PPS. Therefore, for the reasons noted above, we are proposing to discontinue publishing Tables 4G and 4H (Pre-Reclassified Wage Index for Urban and Rural Areas, respectively) in the annual proposed and final IPPS rules.

3. Implementation of a PPS for IRFs

Section 1886(j) of the Act, as added by section 4421(a) of Pub. L. 105-33, provided for the phase-in of a case-mix adjusted PPS for inpatient hospital services furnished by a rehabilitation hospital or a rehabilitation hospital unit (referred to in the statute as rehabilitation facilities) for cost reporting periods beginning on or after October 1, 2000, and before October 1, 2002, with payments based entirely on the adjusted Federal prospective payment for cost reporting periods beginning on or after October 1, 2002. Section 1886(j) of the Act was amended by section 125 of Pub. L. 106-113 to require the Secretary to use a discharge as the payment unit under the PPS for inpatient hospital services furnished by rehabilitation facilities and to establish classes of patient discharges by functional-related groups. Section 305 of Pub. L. 106-554 further amended section 1886(j) of the Act to allow rehabilitation facilities, subject to the blend methodology, to elect to be paid the full Federal prospective payment rather than the transitional period payments specified in the Act.

On August 7, 2001, we issued a final rule in the Federal Register (66 FR 41316) establishing the PPS for inpatient rehabilitation facilities, effective for cost reporting periods beginning on or after January 1, 2002. There was a transition period for cost reporting periods beginning on or after January 1, 2002 and ending before October 1, 2002. For cost reporting periods beginning on or after October 1, 2002, payments are based entirely on the Federal prospective payment rate determined under the IRF PPS.

4. Implementation of a PPS for LTCHs

In accordance with the requirements of section 123 of Pub. L. 106-113, as modified by section 307(b) of Pub. L. 106-554, we established a per discharge, DRG-based PPS for LTCHs as described in section 1886(d)(1)(B)(iv) of the Act for cost reporting periods beginning on or after October 1, 2002, in a final rule issued on August 30, 2002 (67 FR 55954). The LTCH PPS uses information from LTCH hospital patient records to classify patients into distinct LTC-DRGs based on clinical characteristics and expected resource needs. Separate payments are calculated for each LTC-DRG with additional adjustments applied.

We published in the Federal Register on May 7, 2004, a final rule (69 FR 25673) that updated the payment rates for the upcoming rate year LTCH PPS and made policy changes effective as of July 1, 2004. The 5-year transition period to the fully Federal prospective rate will end with cost reporting periods beginning on or after October 1, 2005 and before October 1, 2006. For cost reporting periods beginning on or after October 1, 2006, payment is based entirely on the adjusted Federal prospective payment rate. However, existing hospitals can elect payment under 100 percent of the adjusted Federal prospective payment rate. Moreover, LTCHs as defined in § 412.23(e)(4) are paid under 100 percent of the adjusted Federal prospective payment rate.

5. Implementation of a PPS for IPFs

In accordance with section 124 of the BBRA and section 405(g)(2) of Pub. L. 108-173, we established a PPS for inpatient hospital services furnished in psychiatric hospitals and psychiatric units of acute care hospitals and CAHs (inpatient psychiatric facilities (IPFs)). On November 15, 2004, we issued in the Federal Register a final rule (69 FR 66922) that established the IPF PPS, effective for IPF cost reporting periods beginning on or after January 1, 2005. Under the final rule, we compute a Federal per diem base rate to be paid to all IPFs for inpatient psychiatric services based on the sum of the average routine operating, ancillary, and capital costs for each patient day of psychiatric care in an IPF, adjusted for budget neutrality. The Federal per diem base rate is adjusted to reflect certain patient characteristics, including age, specified DRGs, selected high-cost comorbidities, and day of the stay, and certain facility characteristics, including a wage index adjustment, rural location, indirect teaching costs, the presence of a full-service emergency department, and cost-of-living adjustments for IPFs located in Alaska and Hawaii. We have established a 3-year transition period during which IPFs will be paid based on a blend of reasonable cost-based payment and IPF PPS payments. For cost reporting periods beginning on or after January 1, 2008, IPFs will be paid 100 percent of the Federal per diem payment amount.

B. Critical Access Hospitals (CAHs)

(If you choose to comment on issues in this section, please include the caption “Critical Access Hospitals” at the beginning of your comment.)

1. Background

Section 1820 of the Act provides for the establishment of Medicare Rural Hospital Flexibility Programs (MRHFPs), under which individual States may designate certain facilities as critical access hospitals (CAHs). Facilities that are so designated and meet the CAH conditions of participation (CoPs) under 42 CFR Part 485, Subpart F, will be certified as CAHs by CMS. Regulations governing payments to CAHs for services to Medicare beneficiaries are located in 42 CFR Part 413.

2. Proposed Policy Change Relating to Continued Participation by CAHs in Lugar Counties

Criteria for the designation of a CAH under the MRHFP at section 1820(c)(2)(b)(i) of the Act require that a hospital be located in a rural area as defined in section 1886(d)(2)(D) of the Act or be treated as being located in a rural area in accordance with section 1886(d)(8)(E) of the Act. The regulations at § 485.610 further define “rural area” for purposes of being a CAH. Under § 485.610(b), a CAH must meet any one of the following three location requirements. First, a CAH must not be located in an MSA as defined by the Office of Management and Budget, not be deemed to be located in an urban area under 42 CFR 412.63(b), and not be reclassified by CMS or the MGCRB as urban for purposes of the standardized payment amount, nor be a member of a group of hospitals reclassified to an urban area under 42 CFR 412.232. Second, if a CAH does not meet the first criterion, if located in an MSA, a CAH will be treated as rural if it has reclassified under 42 CFR 412.103. Third, as we stated in the FY 2005 IPPS final rule, if the CAH cannot meet either of the first two requirements and is located in a revised labor market area (CBSA) under the standards announced by OMB on June 6, 2003 and adopted by CMS effective October 1, 2004, it has until September 30, 2006, to meet one of the other classification requirements without losing its CAH status.

Under section 1886(d)(8)(B) of the Act, hospitals that are located in a rural county that is adjacent to one or more urban counties are considered to be located in the urban MSA to which the greatest number of workers in the county commute, if certain conditions, specified in section 1886(d)(8)(B) of the Act, are met. Regulations implementing this provision are set forth in 42 CFR 412.62(f)(1) (for FY 1984), 42 CFR 412.63(b)(3) (for FYs 1985 through 2004), and at 42 CFR 412.64(b)(3) (for FY 2005 and subsequent fiscal years). The provision (section 1886(d)(8)(B) of the Act) is referred to as the “Lugar provision” and the counties described by it are referred to as the “Lugar counties.”

As explained more fully in the FY 2005 IPPS final rule (69 FR 48916), certain counties that previously were not considered Lugar counties were, effective October 1, 2004, redesignated as Lugar counties as a result of the most recent census data and the new labor market area definitions announced by OMB on June 6, 2003. Some CAHs located in these newly designated Lugar counties are now unable to meet the rural location requirements described above, even though they were in full compliance with the location requirements in effect at the time they converted from short-term acute care hospital to CAH status.

We have received comments that suggest that it would be inappropriate for a facility to be required to terminate participation as a CAH and resume participating as a short-term acute care hospital because of a change in county classification that did not result from any change in functioning by the CAH. After consideration of these comments, we are clarifying our policy with respect to facilities located in Lugar counties. As we noted in the FY 2005 IPPS final rule, we believe it is appropriate to allow facilities located in counties that began to be considered part of MSAs effective October 1, 2004, as a result of data from the 2000 census and implementation of the new labor market area definitions announced by OMB on June 6, 2003, an opportunity to obtain rural designations under applicable State law or regulations from their State legislatures or regulatory agencies. Similarly, we believe that when a CAH's status as being located in a Lugar county occurs as a result of changes that the CAH did not originate and that were beyond its control, such as a change in the OMB standards for labor market area definitions, it is appropriate for the CAH to be allowed a reasonable opportunity to reclassify to rural status. Thus, we are clarifying our policy to note that CAHs in counties that were designated as Lugar counties effective October 1, 2004, because of implementation of the new labor market area definitions announced by OMB on June 6, 2003, are to be given the same reclassification opportunity. Of course, the opportunity to reclassify would not be available to a CAH if the CAH itself were to initiate some change, such as a redesignation as urban rather than rural under State law or regulations, which would invalidate a prior § 412.103 reclassification. As a result, we are proposing to make changes to § 485.610(b) of the regulations that would permit CAHs located in a county that, in FY 2004, was not part of a Lugar county, but as of FY 2005 was included in such a county as a result of the new labor market area definitions, to maintain their CAH status until September 30, 2006. These changes, if adopted in final form, would permit CAHs in newly designated Lugar counties to continue participating in Medicare as CAHs until September 30, 2006. We expect that this will provide these CAHs with sufficient time to seek reclassification as rural facilities under the current regulations at § 412.103. In other words, after October 1, 2006, these facilities must meet at least one of the criteria in § 412.103(a)(1) through (a)(3) to be eligible to reclassify from urban to rural status. Once the § 412.103 reclassification is approved, the facilities would meet the CAH rural location requirements in § 485.610(b)(2). In addition, consistent with the clarification of the policy, we are proposing to amend the regulations at § 412.103(a)(4) to reflect the proposed change in the text of the CAH location regulations at § 485.610(b)(3).

In addition, we are making a technical amendment to § 485.610(b)(1)(ii) by replacing the reference to 42 CFR 412.63(b) with 42 CFR 412.64(b). This proposed technical amendment would conform the regulations to reflect the rules governing geographic reclassification (found at § 412.64) that are already in place for fiscal years beginning on or after October 1, 2004 (69 FR 49242).

3. Proposed Policy Change Relating to Designation of CAHs as Necessary Providers

Section 405(h) of Pub. L. 108-173 amended section 1820(c)(2)(B)(i)(II) of the Act by adding language that terminated a State's authority to waive the location requirement for a CAH by designating the CAH as a necessary provider, effective January 1, 2006. Currently, a CAH is required to be located more than a 35-mile drive (or in the case of mountainous terrain or secondary roads, a 15-mile drive) from a hospital or another CAH, unless the CAH is certified by the State as a necessary provider of health care services to residents in the area. Under this provision, after January 1, 2006, States will no longer be able to designate a CAH based upon a determination that it is a necessary provider of health care. In addition, section 405(h) of Pub. L. 108-173 amended section 1820(h) of the Act to include a grandfathering provision for CAHs that are certified as necessary providers prior to January 1, 2006. In the FY 2005 IPPS final rule (69 FR 49220), we incorporated these amendments in our regulations at § 485.610 (c). Under that regulation, any CAH that is designated as a necessary provider in its State rural health plan prior to January 1, 2006, will be permitted to maintain its necessary provider designation. However, the regulations are limited to CAHs that were necessary providers as of January 1, 2006, and does not address the situation where the CAH is no longer the same facility due to relocation, cessation of business, or a substitute facility. Currently, CMS Regional Offices make the decision for continued certification following relocation of a certified facility on a case-by-case basis.

The criteria used to qualify a CAH as a necessary provider were established by each State in its MRHFP. The State's MRHFP defined those CAHs that provide necessary services to a particular patient community in the event that the facility did not meet the required 35-mile (or 15-mile with stated exceptions) distance requirement from the nearest hospital or CAH. Each State's criteria are different, but the criteria share certain similarities and all define a necessary provider related to the facility location. Therefore, it becomes crucial to define whether the necessary provider designation remains pertinent in the event the certified CAH builds in a different location. Accordingly, the first step of this process is to determine whether building a new CAH facility in a different location is a replacement of an existing facility in essentially the same location, a relocation of the facility in a new location, or a cessation of business at one location and establishment of new business at another location.

a. Determination of the Relocation Status of a CAH

(1) Replacement in the same location. Under this approach, we are proposing that, if the CAH is constructing renovation of the same building in the same location, the renovation is considered to be a replacement of the same provider and not relocation. We would consider a construction of the CAH to be a replacement if construction was undertaken within 250 yards of the current building, as set by prior precedence in defining a hospital campus. In addition, if the replacement is constructed on land that is contiguous to the current CAH, and that land was owned by the CAH prior to enactment of Pub. L. 108-173, and the CAH is operating under a State-issued necessary provider waiver that is grandfathered by Pub. L. 108-173, we would consider that construction to be a replacement of the existing provider and the provisions of the grandfathered necessary provider designation would continue to apply regardless of when the construction or renovation work commenced and was completed.

(2) Relocation of a CAH. Under our proposed approach, if the CAH is constructing a new facility in a location that does not qualify the construction as replacement of an existing facility in the same location under the criteria in the preceding paragraph, we would need to determine if this building would be a relocation of the current provider or a cessation of business at one location and establishment of a new business at another location. In the event of relocation, the CAH must ensure that the provider is functioning as essentially the same provider in order to operate under the same provider agreement. A provider that is changing location is considered to have closed the old facility if the original community or service area can no longer be expected to be served at the new location. The distance of the moved CAH from its old location will be considered, but it will not be the sole determining factor in granting the relocation of a CAH under the same provider agreement. For example, a specialty hospital may move a considerable distance and still care for generally the same inpatient population, while the relocation of a CAH at a relatively short distance within a rural area may greatly affect the community served.

In the event that CMS determines the rebuilding of the CAH in a different location to be a relocation, the provider agreement would continue to apply to the CAH at the new location. In addition to the relocation being within the same service area, serving the same population, the CAH would need to be providing essentially the same services with the same staff; that is, at least 75 percent of the same staff and 75 percent of the range of services are maintained in the new location as the same provider of services. We are proposing the use of a 75-percent threshold because we believe it indicates that the CAH that is relocating demonstrates that it will maintain a high level of involvement, as opposed to just a majority involvement, in the current community. We note that CMS has also used a 75-percent threshold in other provider designation policies such as the provider-based policies at § 413.65(e)(3)(ii).

In all cases of relocation, the CAH must continue to meet all of the CoPs found at 42 CFR Part 485, Subpart F, including location in a rural area as provided for at § 485.610.

(3) Cessation of business at one location. Under existing CMS policy, if the CAH relocation results in the cessation of furnishing services to the same community, we would not consider this to be a relocation, but instead would consider such a scenario a cessation of business at one location and establishment of a new business at another location. Cessation of business is a basis for voluntary termination of the provider agreement under 42 CFR Part 489. If the proposed move constitutes a cessation of business, the CMS Regional Office may assist the provider in obtaining an agreement to participate under a new provider number. Furthermore, in such a situation, the regulations require the provider to give advanced notice to CMS and the public regarding its intent to stop providing medical services to the community. There is no appeals process for a voluntary termination. Under our current policies, the cessation of business by a CAH automatically terminates the CAH designation, regardless of whether the designation was obtained through a necessary provider determination.

b. Relocation of a CAH Using a Necessary Provider Designation To Meet the CoP for Distance

Once it has been determined that constructing a new facility will cause the CAH to relocate, the second step is to determine if the CAH that has a necessary provider designation can maintain this designation after relocating.

We recognize that § 485.610(c) relating to location relative to other facilities or necessary provider certification states that, after January 1, 2006, the “necessary provider” designation will no longer be used to waive the mileage requirements. In addition, CMS policy regarding a change of size or location of a provider states that there may be situations where the facility relocation is so far removed from the originally approved site that we would conclude that this is a different provider or supplier, for example, it has different employees, services, and patients. Furthermore, the language of section 1820(c)(2)(i) of the Act allows a State to waive the mileage requirement and designate a facility as a necessary provider of health care services to residents in the area. We have interpreted “services to residents in the area” to mean that the necessary provider designation does not automatically follow the provider if the facility relocates to a different location because it is no longer furnishing “services to patients” in the area determined to need a necessary provider.

We do not intend to change this policy. Our proposal, noted below, is intended to establish a methodology to be used by all CMS Regional Offices in making such a decision consistent with the statutory provisions concerning necessary provider designation.

In this proposed rule, we are proposing to amend the regulations at § 485.610 to set forth the criteria by which those relocated CAHs designated as necessary providers that embarked on a replacement facility project before the sunset provision was enacted on December 8, 2003, but find that they cannot be operational in the replacement facility by January 1, 2006, can retain their necessary provider status. As required by statute, no additional CAHs will be certified as a necessary provider on or after January 1, 2006. We recognize that the statute refers to a facility designated as a CAH while relocation of a facility may result in a different building. However, to provide flexibility for a facility designated as a CAH whose location may change, but is essentially the same facility in a different location, we are proposing to amend the regulations to account for this scenario. Essentially, we recognize that the necessary provider designation may need to be applied to certain relocated CAHs. To this end, we are proposing to use the specified relocation criteria as the initial step to determine continuing necessary provider status. Specifically, in this proposed rule, we are proposing that, when a CAH is determined to have relocated, it may nonetheless continue to operate under its necessary provider designation that exempts the distance from other providers only if the following conditions are met:

(1) The relocated CAH has submitted an application to the State agency for relocation prior to the January 1, 2006, sunset date. If the CAH is applying under a grandfathered status under section 1820(h)(3) of the Act, the following items would need to be included in the application:

• A demonstration that the CAH will meet the same State criteria for the necessary provider designation that were established when the waiver was originally issued. For example, if the location waiver was granted because the CAH was located in a health professional shortage area (HPSA), the CAH must remain in that HPSA.

• Assurance that, after the relocation, the CAH will be servicing the same community and will be operating essentially the same services with essentially the same staff (that is, a demonstration that it is serving at least 75 percent of the same service area, with 75 percent of the same services offered, and staffed by 75 percent of the same staff, including medical staff, contracted staff, and employees). This is essentially the same criteria used in determining whether the CAH has relocated.

• Assurance that the CAH will remain in compliance with all of the CoPs at 42 CFR Part 485 in the new location. Compliance will be established with a full survey in the new location to include the Life Safety Code and would include any off-site locations and rehabilitation or psychiatric distinct part units.

• A demonstration that construction plans were “under development” prior to the effective date of Pub. L. 108-173 (December 8, 2003) in the application the CAH submits to continue using a necessary provider designation. Supporting documentation could include the drafting of architectural specifications, the letting of bids for construction, the purchase of land and building supplies, documented efforts to secure financing for construction, expenditure of funds for construction, and compliance with state requirements for construction such as zoning requirements, application for a certificate of need, and architectural review. However, we recognize that it may not have been feasible for a CAH to have completed all of these activities noted above as examples prior to December 8, 2003. Thus, we expect the CMS Regional Offices to consider all of the criteria and make case-by-case determinations of whether a relocated CAH continues to warrant necessary provider status. We note that we have also used the above documentation guidelines in Publication 100-20 for grandfathered specialty hospitals to determine if construction plans were “under development.”

In proposing these criteria, our intent in clarifying the sunset of the necessary provider designation provision is to allow CAHs to complete construction projects that were initiated prior to the enactment of Pub. L. 108-173, which we believe is consistent with the statutory language of section 405(h) of Pub. L. 108-173.

(2) In the application, the CAH demonstrates that the replacement will facilitate the access to care and improve the delivery of services to Medicare beneficiaries. We are soliciting comments on how a necessary provider CAH should demonstrate that the replacement will improve access to care.

These guidelines are meant to be applied to the relocated CAH that meets the CoP in the new location and wishes to maintain a necessary provider designation in order to meet the distance requirement at § 485.610(c). They are not meant to preclude a CAH from relocating at any time if the CAH does not seek to maintain the necessary provider designation. Any CAH may relocate at any time if the CAH meets the definition of relocation and can meet all the CoPs at 42 CFR part 485, subpart F, as determined by the CMS Regional Offices on a case-by-case basis.

Accordingly, we are proposing to revise § 485.610 of the regulations by adding a new paragraph (d) to incorporate this proposal. Specifically, the proposed new paragraph (d) would specify that a CAH may maintain its necessary provider certification provided for under § 485.610(c) if the new facility meets the requirements for either a replacement facility that is constructed within 250 yards of the current building or contiguous to the current CAH on land owned by the CAH prior to December 8, 2003; or as a relocated CAH if, at the relocated site, the CAH provides essentially (75 percent) the same services to the same service area with essentially the same staff. The CAH that plans to relocate must provide documentation demonstrating that its plans to rebuild in the relocated area were undertaken prior to December 8, 2003. We are also proposing that if a CAH that has a necessary provider certification from the State places a new facility in service on or after January 1, 2006, and does not meet either the requirements for a replacement facility or a relocated facility, as specified in the regulations, the action will be considered a cessation of business.

VIII. Payment for Blood Clotting Factor Administered to Hemophilia Inpatients

(If you choose to comment on issues in this section, please include the caption “Blood Clotting Factor” at the beginning of your comment.)

Section 1886(a)(4) of the Act excludes the costs of administering blood clotting factors to individuals with hemophilia from the definition of “operating costs of inpatient hospital services.” Section 6011(b) of Pub. L. 101-239 (the Omnibus Budget Reconciliation Act of 1989) states that the Secretary of Health and Human Services shall determine the payment amount made to hospitals under Part A of Title XVIII of the Act for the costs of administering blood clotting factors to individuals with hemophilia by multiplying a predetermined price per unit of blood clotting factor by the number of units provided to the individual. The regulations governing payment for blood clotting factor furnished to hospital inpatients are located in §§ 412.2(f)(8) and 412.115(b).

Consistent with the rates paid under section 1842(o) of the Act for Medicare Part B drugs (including blood clotting factor furnished to individuals who are not inpatients), in FY 2005, we made payments for blood clotting factors furnished to inpatients at 95 percent of average wholesale price (AWP). Section 303 of Pub. L. 108-173 established section 1847A of the Act which requires that almost all Medicare Part B drugs not paid on a cost or prospective basis be paid at 106 percent of average sales price (ASP) and provided for payment of a furnishing fee for blood clotting factor, effective January 1, 2005. On November 15, 2004, we issued regulations in the Federal Register (69 FR 66299) that implemented the provisions of section 1847A for payment for Medicare Part B drugs using the 106 percent of ASP payment methodology and for payment of the furnishing fee. These regulations are codified at 42 CFR 410.63 and subpart K of Part 414.

To ensure consistency in payment for Medicare Part A and Medicare Part B drugs, we are proposing to revise §§ 412.2(f)(8) and 412.115(b) of the regulations governing the IPPS to specify that, for discharges occurring on or after October 1, 2005, the additional payment for the blood clotting factor administered to hemophilia inpatients is made based on the average sales price methodology specified in subpart K of 42 CFR part 414 and the furnishing fee specified in § 410.63.

The proposed payment amount per unit and the unit payment for the furnishing fee for blood clotting factor administered to hospital inpatients who have hemophilia that we are proposing to apply under the IPPS for FY 2006 are specified in section V. of the Addendum to this proposed rule.

IX. MedPAC Recommendations

(If you choose to comment on issues in this section, please include the caption “MedPAC Recommendations” at the beginning of your comment.)

We are required by section 1886(e)(4)(B) of the Act to respond to MedPAC's IPPS recommendations in our annual proposed IPPS rule. In March 2005, MedPAC released the following two reports to Congress, which included IPPS recommendations: “Report to Congress: Medicare Payment Policy” and “Report to Congress: Physician-Owned Specialty Hospitals.” We have reviewed each of these reports and have given them careful consideration in conjunction with the policies set forth in this document. These recommendations and our responses are set forth below. For further information relating specifically to the MedPAC reports or to obtain a copy of the reports, contact MedPAC at (202) 653-7220, or visit MedPAC's Web site at: http://www.medpac.gov.

A. Medicare Payment Policy

MedPAC's Recommendation 2A-1 concerning the update factor for inpatient hospital operating costs and for hospitals and distinct-part hospital units excluded from the IPPS is discussed in Appendix B to this proposed rule.

Recommendation 4A: The Congress should establish a quality incentive payment policy for hospitals in Medicare.

Response: We are exploring provider payment policies that link quality to Medicare reimbursement in a cost neutral manner under our demonstration authority. We currently have demonstrations underway that will identify and examine the components of such a policy.

B. Physician-Owned Specialty Hospitals

Recommendation 1: The Secretary should improve payment accuracy in the hospital inpatient PPS by:

• Refining the current DRGs to more fully capture differences in severity of illness among patients.

• Basing the DRG relative weights on the estimated cost of providing care rather than on charges.

• Basing the weights on the national average of hospitals' relative values in each DRG.

In making this recommendation, MedPAC recognized several implementation issues regarding potential low volume DRGs and potential changes in hospital coding and reporting behavior. In particular, MedPAC recommended that the Secretary project the likely effect of reporting improvements on total payments and make an offsetting adjustment to the standardized amounts.

Response: We expect to make changes to the DRGs to better reflect severity of illness. The following discussion briefly describes some of the options we are considering. As we discussed in section II.B. of this preamble, there is a standard list of diagnoses that are considered complications or comorbidities (CC). These conditions, when present as a secondary diagnosis, may result in payment using a higher weighted DRG. Currently, 3,285 diagnosis codes on this list, and 121-paired DRGs are differentiated based on the presence or absence of a CC. Our analysis indicates that the majority of cases assigned to these DRGs fall into the “with CC” DRGs. We believe that it is possible that the CC distinction has lost much of its ability to differentiate the resource needs of patients, given the long period of time since the original CC list was developed and the incremental nature of subsequent changes in an environment of major changes in the way inpatient care is delivered.

We are planning a comprehensive and systematic review of the CC list for the IPPS rule for FY 2007. As part of this process, we will consider revising the standard for determining when a condition is a CC. For instance, we expect to use an alternative to the current method of classifying a condition as a CC based on how it affects the length of stay of a case. Similar to other aspects of the DRG system, we expect to consider the effect of a specific secondary diagnosis on the charges or costs of a case to evaluate whether to include the condition on the CC list.

Another option we are considering is a selective review of the specific DRGs, such as cardiac, orthopedic, and surgical DRGs, that are alleged to be overpaid and that create incentives for physicians to form specialty hospitals. We expect to selectively review particular DRGs based on statistical criteria such as the range or standard deviation among charges for cases included within the DRG. It is possible specific DRGs have high variation in resource costs and that a better recognition of severity would reduce incentives for hospitals to select the least costly and most profitable patients within these DRGs. Any analysis we perform would balance the goal of making payment based on an accurate coding system that recognizes severity of illness with the premise that the IPPS is a system of payment based on averages. We agree with MedPAC that, in refining the DRGs, we must continue to be mindful of issues such as the instability of small volume DRGs and the potential impact of changes in hospital coding and reporting behavior. As MedPAC noted, previous refinements to DRG definitions have led to unanticipated increases in payment because of more complete reporting of patients' diagnoses and procedures. As part of our analysis of possible refinements to the DRGs, we have concerns with our ability to account for the effect of changes in coding behavior on payment.

We are also considering the use of alternative DRG systems such as the all patient refined diagnosis related groups (APR-DRGs) in place of Medicare's current DRG system. The APR-DRGs have a greater number of DRGs that could relate payment rates more closely to patient resource needs, and thus reduce the advantages of selection of desirable patients within DRGs by specialty hospitals. However, any large change to the DRGs could have substantial effects across all hospitals. Therefore, we believe we must thoroughly analyze such options and their impacts on the various types of hospitals before making any proposal. In addition, as noted above, we are concerned about our ability to account for the effect of changes in coding behavior on payment if we were to significantly expand the number of DRGs. Therefore, in light of the above, we must consider how to mitigate the risk of paying significantly more for the alternatives discussed above while measuring the benefit for Medicare beneficiaries.

In response to MedPAC's recommendation that we improve payment accuracy by basing the DRG relative weights on the estimated cost of providing care rather than on charges, we note that we do not have access to any information that would provide a direct measure of the costs of individual discharges. Claims filed by hospitals do provide information on the charges for individual cases. At present, we use this information to set the relative weights for the DRGs. We obtain information on costs from the hospital cost reports, but this information is at best at the department level; it does not include information about the costs of individual cases. Consequently, the most straightforward way to estimate costs of an individual case is to calculate a cost-to-charge ratio for some body of claims (for example, for a hospital's radiology department), and then apply this ratio to the charges for that department.

However, this procedure is not without disadvantages because assignment of costs to departments is not uniform from hospital to hospital, given the variability of hospital accounting systems, and because cost information is not available until a year or more after claims information. In addition, the application of a cost-to-charge ratio that is uniform across any body of claims may result in biased estimates of individual costs if hospital charging behavior is not uniform. Thus, it is alleged that hospitals mark up lower cost services less than higher cost services, and to the extent they do so, application of a uniform cost-to-charge ratio will result in underestimates of the costs of higher cost services and vice versa. We use estimated costs, based on hospital-specific, department-level cost-to-charge ratios, in the hospital outpatient prospective payment system. The accuracy of this procedure has generated some concern, and without further analysis, the extent to which accuracy of inpatient payments would be improved by adopting this method is not obvious.

We will closely analyze the impact of such a change from the current charge-based DRG weights to cost-based DRG weights. We note that such a change is complex and would require further analysis. With this in mind, CMS will consider the following issues in performing this analysis:

• The effect of using cost-to-charge ratio data, which is frequently older than the claims data we use to set the charge-based weights, and the impact on these data of any changes in hospitals' charging behavior that resulted from the recent modifications to the outlier payment methodology (68 FR 34494; June 9, 2003);

• Whether using this method has different effects on DRGs that have experienced substantial technological change compared to DRGs with more stable procedures for care;

• The effect of using a routine cost-to-charge ratio and department-level ancillary cost-to-charge data as compared to either an overall hospital cost-to-charge ratio or a routine cost-to-charge ratio and an overall ancillary cost-to-charge ratio, particularly in considering earlier studies performed for the Prospective Payment Assessment Commission, the predecessor to MedPAC, indicating that an overall ancillary cost-to-charge ratio led to more accurate estimates of case level costs; ⁵

⁵ Cost Accounting for Health Care Organizations, Technical Report Series, 1-93-01, ProPAC, March 1993, page 6. Using a cost report package, the contractor simulated single and multiple ancillary cost-to-charge ratios and found that inpatient ancillary costs were 2.5 percent understated relative to what hospitals thought their costs were with the single cost-to-charge ratio, and 4.9 percent understated with the multiple cost-to-charge ratios.

• Whether developing relative weights by estimating costs from charges multiplied by cost-to-charge ratios versus whether the sole use of charges improves payment accuracy; and

• How payments to hospitals would be affected by MedPAC's suggestion intended to simplify recalibration, to recalibrate weights based on costs every few years, and to calculate an adjustment to charge-based weights for the intervening periods.

In response to the recommendation that the Secretary should improve payment accuracy in the IPPS by basing the weights on the national average of hospitals' relative values in each DRG, we note that presently we set the relative weights using standardized charges (adjusted to remove the effects of differences in area wage costs and in IME and DSH payments). In contrast, MedPAC proposes that Medicare set the DRG relative weights using unstandardized, hospital-specific charges. Each hospital's unstandardized charges would become the basis for determining the relative weights for the DRGs for that hospital. These relative weights would be adjusted by the hospital's case-mix index when combining each hospital's relative weights to determine a national relative weight for all hospitals. This adjustment is designed to reduce the influence that a single hospital's charge structure could have on determining the relative weight when it provides a high proportion of the total, nationwide number of discharges in a particular DRG.

We will analyze the possibility of moving to hospital specific relative values while conducting the analysis outlined above in response to the recommendations regarding improved severity adjustment and using charges adjusted to estimated cost using cost-to-charge ratios to set the relative weights. We note that we use this method at present to set weights for the LTCH PPS. We use this method for LTCHs because of the small volume of providers and the possibility that only a few providers provide care for certain DRGs. The charges of one or a few hospitals could thus materially affect the relative weights for these DRGs. In this event, looking at relative values within hospitals first can smooth out the hospital-specific effects on DRG weights. A 1993 Rand Report on hospital specific relative values noted the possibility of DRG compression (or the undervaluing of high-cost cases and the overvaluing of low-cost cases) if we were to shift to a hospital-specific relative value method from the current method for determining DRG weights. We will need to consider whether the resultant level of compression is appropriate.

Recommendation 2: The Congress should amend the law to give the Secretary authority to adjust the DRG relative weights to account for differences in the prevalence of high-cost outlier cases.

Response: While MedPAC's language suggests that the law would need to be amended for us to adopt this suggestion, we believe the statute may give the Secretary broad discretion to consider all factors that change the relative use of hospital resources in calculating the DRG relative weights. We believe that MedPAC's recommendation springs from a concern that including high-charge outlier cases in the relative-weight calculation results in overvaluing DRGs that have a high prevalence of outlier cases. However, we believe that excluding outlier cases completely in calculating the relative weights would be inappropriate. Doing so would undervalue the relative weight for a DRG with a high percentage of outliers by not including that portion of hospital charges that is above the median but below the outlier threshold. We believe it would be preferable to adjust the charges used for calculating the relative weights to exclude the portion of charges above the outlier threshold but to include the charges up to the outlier threshold. At this time, we expect to further analyze these ideas as we consider the other changes recommended by MedPAC and welcome public comments on this issue.

Finally, we believe that the recommendations made by MedPAC, or some variants of them, have significant promise in improving the accuracy of rates in the inpatient payment prospective payment system. We agree with MedPAC that they should be pursued even in the absence of concerns about the proliferation of specialty hospitals. However, until we have completed further analysis of these options and their effects, we cannot predict the extent to which they will provide payment equity between specialty and general hospitals. In fact, we must caution that any system that groups cases and provides a standard payment for cases in the group (that is, the IPPS among other Medicare payment systems) will always present some opportunities for providers to specialize in cases where they believe margins may be better. Improving payment accuracy should reduce these opportunities, and it may do so to the extent that Medicare payments no longer provide a significant impetus to further development of specialty hospitals.

Recommendation 3: The Congress and the Secretary should implement the case-mix measurement and outlier policies over a transitional period.

Response: Before proposing any changes to the DRGs, we would need to model the impact of any specific proposal and our authority under the statute to determine whether any changes should be implemented immediately or over a period of time. We do note that with regard to revising the existing DRG system with a new DRG system that fully captures differences in severity, there would likely be unique complexities in creating a transition from one DRG system to another. Our payment would be a blend of two different relative weights that would have to be determined using two different systems of DRGs. The systems and legal implications of such a transition or any other major change to the DRGs could be significant.

C. Other MedPAC Recommendations

MedPAC also made the following recommendations that we will address in our Report to Congress on Specialty Hospitals:

Recommendation 4: The Congress should extend the current [Pub. L. 108-173] moratorium on physician-owned single specialty hospitals until January 1, 2007.

Recommendation 5: The Congress should grant the Secretary the authority to allow gainsharing arrangements between physicians and hospitals and to regulate those arrangements to protect the quality of care and minimize financial incentives that could affect physician referrals.

X. Other Required Information

A. Requests for Data From the Public

In order to respond promptly to public requests for data related to the prospective payment system, we have established a process under which commenters can gain access to raw data on an expedited basis. Generally, the data are available in computer tape or cartridge format; however, some files are available on diskette as well as on the Internet at http://www.cms.hhs.gov/providers/hipps. Data files and the cost for each file, if applicable, are listed below. Anyone wishing to purchase data tapes, cartridges, or diskettes should submit a written request along with a company check or money order (payable to CMS-PUF) to cover the cost to the following address: Centers for Medicare & Medicaid Services, Public Use Files, Accounting Division, P.O. Box 7520, Baltimore, MD 21207-0520, (410) 786-3691. Files on the Internet may be downloaded without charge.

1. CMS Wage Data

This file contains the hospital hours and salaries for FY 2002 used to create the FY 2006 prospective payment system wage index. The file will be available by the beginning of February for the NPRM and the beginning of May for the final rule.

These files support the following:

• NPRM published in the Federal Register.

• Final Rule published in the Federal Register.

Media: Diskette/most recent year on the Internet.

File Cost: $165.00 per year.

Periods Available: FY 2006 PPS Update.

2. CMS Hospital Wages Indices (Formerly: Urban and Rural Wage Index Values Only)

This file contains a history of all wage indices since October 1, 1983.

Media: Diskette/most recent year on the Internet.

File Cost: $165.00 per year.

Periods Available: FY 2006 PPS Update.

3. FY 2006 Proposed Rule Occupational Mix Adjusted and Unadjusted AHW by Provider

This file includes each hospital's adjusted and unadjusted average hourly wage.

Media: Internet.

Periods Available: FY 2006 PPS Update.

4. FY 2006 Proposed Rule Occupational Mix Adjusted and Unadjusted AHW and Pre-Reclassified Wage Index by CBSA

This file includes each CBSA's adjusted and unadjusted average hourly wage.

Media: Internet.

Periods Available: FY 2006 PPS Update.

5. Provider Occupational Mix Adjustment Factors for Each Occupational Category

This file contains each hospital's occupational mix adjustment factors by occupational category.

Media: Internet.

Periods Available: FY 2006 PPS Update.

6. PPS SSA/FIPS MSA State and County Crosswalk.

This file contains a crosswalk of State and county codes used by the Social Security Administration (SSA) and the Federal Information Processing Standards (FIPS), county name, and a historical list of Metropolitan Statistical Areas (MSAs).

Media: Diskette/Internet.

File Cost: $165.00 per year.

Periods Available: FY 2006 PPS Update.

7. Reclassified Hospitals New Wage Index (Formerly: Reclassified Hospitals by Provider Only)

This file contains a list of hospitals that were reclassified for the purpose of assigning a new wage index. Two versions of these files are created each year. They support the following:

• NPRM published in the Federal Register.

• Final Rule published in the Federal Register.

Media: Diskette/Internet.

File Cost: $165.00 per year.

Periods Available: FY 2006 PPS Update.

8. PPS-IV to PPS-XII Minimum Data Set

The Minimum Data Set contains cost, statistical, financial, and other information from Medicare hospital cost reports. The data set includes only the most current cost report (as submitted, final settled, or reopened) submitted for a Medicare participating hospital by the Medicare fiscal intermediary to CMS. This data set is updated at the end of each calendar quarter and is available on the last day of the following month.

Media: Tape/Cartridge.

File Cost: $770.00 per year.

(Note: The PPS-XIII, PPS-XIV, PPS-XV, PPS-XVI, PPS-XVII, PPS-XVIII, and PPS-XIX Minimum Data Sets are part of the PPS-XIII, PPS-XIV, PPS-XV, PPS-XVI, PPS-XVII, PPS-XVIII, PPS-XIX, and PPS-XX Hospital Data Set Files (refer to item 7 below).)

9. PPS-IX to PPS-XII Capital Data Set

The Capital Data Set contains selected data for capital-related costs, interest expense and related information and complete balance sheet data from the Medicare hospital cost report. The data set includes only the most current cost report (as submitted, final settled or reopened) submitted for Medicare certified hospital by the Medicare fiscal intermediary to CMS. This data set is updated at the end of each calendar quarter and is available on the last day of the following month.

Media: Tape/Cartridge.

Fine Cost: $770.00 per year.

(Note: The PPS-XIII, PPS-XIV, PPS-XV, PPS-XVI, PPS-XVII, PPS-XVIII, and PPS-XIX Capital Data Sets are part of the PPS-XIII, PPS-XIV, PPS-XV, PPS-XVI, PPS-XVII, PPS-XVIII, PPS-XIX, and PPS-XX Hospital Data Set Files (refer to item 7 below).)

10. PPS-XIII to PPS-XX Capital Data Set

The file contains costs, statistical, financial, and other data from the Medicare Hospital Cost Report. The data set includes only the most current cost report (as submitted, final settled or reopened) submitted for Medicare-certified hospital by the Medicare fiscal intermediary to CMS. This data set is updated at the end of each calendar quarter and is available on the last day of the following month.

Media: Diskette/Internet.

Fine Cost: $2,500.00.

11. Provider-Specific File

This file is a component of the PRICER program used in the fiscal intermediary's system to compute DRG payments for individual bills. The file contains records for all prospective payment system eligible hospitals, including hospitals in waiver States, and data elements used in the prospective payment system recalibration processes and related activities. Beginning with December 1988, the individual records were enlarged to include pass-through per diems and other elements.

Media: Diskette/Internet.

File Cost: $265.00.

Periods Available: FY 2006 PPS Update.

12. CMS Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• NPRM published in the Federal Register.

• Final rule published in the Federal Register.

Media: Diskette/most recent year on Internet.

Price: $165.00 per year/per file.

Periods Available: FY 1985 through FY 2006.

13. DRG Relative Weights (Formerly Table 5 DRG)

This file contains a listing of DRGs, DRG narrative description, relative weights, and geometric and arithmetic mean lengths of stay as published in the Federal Register. The hard copy image has been copied to diskette. There are two versions of this file as published in the Federal Register:

• NPRM.

• Final rule.

Media: Diskette/Internet.

File Cost: $165.00.

Periods Available: FY 2006 PPS Update.

14. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet.

File Cost: $165.00.

Periods Available: FY 2006 PPS Update.

15. AOR/BOR Tables

This file contains data used to develop the DRG relative weights. It contains mean, maximum, minimum, standard deviation, and coefficient of variation statistics by DRG for length of stay and standardized charges. The BOR tables are “Before Outliers Removed” and the AOR is “After Outliers Removed.” (Outliers refers to statistical outliers, not payment outliers.)

Two versions of this file are created each year. They support the following:

• NPRM published in the Federal Register.

• Final rule published in the Federal Register.

Media: Diskette/Internet.

File Cost: $165.00.

Periods Available: FY 2006 PPS Update.

16. Prospective Payment System (PPS) Standardizing File

This file contains information that standardizes the charges used to calculate relative weights to determine payments under the prospective payment system. Variables include wage index, cost-of-living adjustment (COLA), case-mix index, disproportionate share, and the Metropolitan Statistical Area (MSA). The file supports the following:

• NPRM published in the Federal Register.

• Final rule published in the Federal Register.

Media: Internet.

File Cost: No charge.

Periods Available: FY 2006 PPS Update.

For further information concerning these data tapes, contact the CMS Public Use Files Hotline at (410) 786-3691.

Commenters interested in obtaining or discussing any other data used in constructing this rule should contact Mark Hartstein at (410) 786-4548.

B. Collection of Information Requirements

Under the Paperwork Reduction Act of 1995 (PRA), we are required to provide 60-day notice in the Federal Register and solicit public comment before a collection of information requirement is submitted to the Office of Management and Budget (OMB) for review and approval. In order to evaluate fairly whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

Therefore, we are soliciting public comments on each of these issues for the information collection requirements discussed below.

The following information collection requirements included in this proposed rule and their associated burdens are subject to the PRA.

Section 412.64 Federal Rates for Inpatient Operating Costs for Federal Fiscal Year 2005 and Subsequent Fiscal Years

Section 412.64(d)(2) requires hospitals to submit quality data on a quarterly basis to CMS, as specified by CMS. In this document, we are setting out the specific requirements related to the data that must be submitted. The burden associated with this section is the time and effort associated with collecting, copying and submitting this data. We estimate that there will be approximately 4,000 respondents per year. Of this number, approximately 3,600 hospitals are JCAHO accredited and are currently collecting measures and submitting data to the JCAHO on a quarterly basis. Of the JCAHO accredited hospitals, approximately 3,300 are collecting the same measures CMS will be collecting for public reporting. Therefore, there will be no additional burden for these hospitals. Only approximately 300 of the JCAHO accredited hospitals will need to collect an additional topic in addition to the data already collected for maintaining JCAHO accreditation. In addition, there are approximately 400 hospitals that do not participate in the JCAHO accreditation process. These hospitals will have the additional burden of collecting data on all three topics.

For JCAHO accredited hospitals that are not already collecting all of the required measures, we estimate it will take 25 hours per month per topic for collection. We expect the burden for all of these hospitals to total 102,000 hours per year, including time allotted for overhead. For non-JCAHO accredited hospitals, we estimate the burden to be 136,000 hours per year. This estimate also includes overhead. The total number of burden hours for all hospitals combined is 238,000. The number of responders will vary according to the level of voluntary participation. One hundred percent of the data may be collected electronically.

In the preamble to this proposed rule, we are proposing additional validation criteria to ensure that the quality data being sent to CMS are accurate. Our validation process requires participating hospitals to submit five charts per quarter. The burden associated with this requirement is the time and effort associated with collecting, copying, and submitting these charts. It will take approximately 2 hours per hospital to submit the 5 charts per quarter. There will be a total of approximately 19,000 charts (3,800 hospitals × charts per hospital) submitted by the hospitals to CMS per quarter for a total burden of 7,600 hours per quarter and a total annual burden of 30,400 hours.

Section 413.65 Requirements for a Determination That a Facility or an Organization Has Provider-Based Status

Proposed § 413.65(b)(3)(i) requires potential main providers seeking a determination of provider-based status for a facility that is located on the campus of the potential main provider to submit an attestation stating that the facility meets the criteria in paragraph (d) of § 413.65 and, if it is a hospital, to also attest that it will fulfill the obligations of hospital outpatient departments and hospital-based entities described in paragraph (g) of § 413.65. We are also proposing to amend this paragraph to require that in the case of a facility that is operated as a joint venture, the potential main provider attest that it will comply with the requirements of paragraph (f) of § 413.65.

Proposed § 413.65(b)(3)(ii) provides that, if a facility is not located on the campus of the potential main provider, the potential main provider must submit an attestation stating that the facility meets the criteria in paragraph (d) and (e) of § 413.65 and, if it is a hospital, to also attest that it will fulfill the obligations of hospital outpatient departments and hospital-based entities described in paragraph (g) of § 413.65. If the facility is operated under a management contract, the potential main provider also attest that the facility meets the requirements of paragraph (h) of § 413.65.

Proposed § 413.65(e)(3) requires that a facility or organization for which provider-based status is sought that is not located on the campus of a potential main provider must (i) be located within a 35-mile radius of the campus of the hospital or CAH that is the potential main provider, or (ii) be owned and operated by a hospital or CAH that has a disproportionate share adjustment (as determined under § 412.106 of this chapter) greater than 11.75 percent and is described in § 412.106(c)(2) of this chapter implementing section 1886(e)(5)(F)(i)(II) of the Act and is (A) owned or operated by a unit of State or local government, (B) a public or nonprofit corporation formally granted governmental powers by a unit of State or local government; or (C) a private hospital having a contract with a State or local government that includes the operation of clinics located off the main campus of the hospital to assure access in a well-defined service area to health care services for low-income individuals who are not entitled to benefits under Medicare (or medical assistance under a Medicaid State plan), or (iii) demonstrate a high level of integration with the main provider by showing that it meets all of the other provider-based criteria and demonstrate that it serves the same patient population as the main provider, by submitting certain records showing the information contained in paragraphs (e)(3)(iii)(A) and (e)(3)(iii)(B) of this section or (iv) if the facility or organization is unable to meet the criteria in paragraph (e)(3)(iii)(A) or paragraph (e)(3)(iii)(B) because it was not in operation during all of the 12-month period described in paragraph (e)(3)(iii), be located in a zip code area included among those that, during all of the 12-month period described in paragraph (e)(3)(iii), accounted for at least 75 percent of the patients served by the main provider, or (v) in the case of an RHC, (A) be an RHC that is otherwise qualified as a provider-based entity of a hospital that has fewer than 50 beds, and (B) the hospital with which the facility or organization has a provider-based relationship be located in a rural area, and (vi) be located in the same State as the main provider or, when consistent with the laws of both States, in adjacent States.

Section 413.65(g)(7) provides that when a Medicare beneficiary is treated in a hospital outpatient department that is not located on the main provider's campus, the treatment is not required to be provided by the antidumping rules of section 489.24, and the beneficiary will incur a coinsurance liability for an outpatient visit to the hospital, as well as for the physician service the hospital must provide written notice to the beneficiary, before delivery of services of the amount of the beneficiary's potential financial liability. If the exact type and extent of care is not known, the hospital must provide written notice to the beneficiary that explains that the beneficiary will incur a coinsurance liability to the hospital that he or she would not incur if the facility were not provider-based, an estimate based on typical or average charges for visits to the facility, and a statement that the patient's actual liability will depend upon the actual services furnished by the hospital.

While the information collection requirements contained in this section are subject to the PRA, the burden associated with this requirement is currently approved under OMB approval no. 0938-0798.

Section 485.610 Condition of Participation: Status and Location

In order to be considered a relocation, we are proposing under § 485.610(d)(2)(ii) to require a CAH to provide documentation demonstrating that its plans to rebuild in a relocated area were undertaken prior to December 8, 2003. This requirement does impose an information collection requirement. However, because this burden would be imposed on less than 10 CAHs, under 5 CFR 1320.2(c), these requirements are exempt from the PRA.

We have submitted a copy of this proposed rule to OMB for its review of the information collection requirements described above.

If you have any comments on the information collection and recordkeeping requirements, please mail the copies directly to the following:

Centers for Medicare & Medicaid Services, Office of Strategic Operations and Regulatory Affairs, Security and Standards Group, Regulations Development and Issuances Group, Room C4-24-02, 7500 Security Boulevard, Baltimore, MD 21244-1850, Attn.: James Wickliffe, CMS-1500-P.

Office of Information and Regulatory Affairs, Office of Management and Budget, Room 3001, New Executive Office Building, Washington, DC 20503, Attn: Christopher Martin, CMS Desk Officer.

Comments submitted to OMB may also be e-mailed to the following address: Christopher_Martin@omb.eop.gov; or faxed to OMB at (202) 395-6974 or (202) 395-5167. Attn.: CMS-1500-P.

C. Public Comments

Because of the large number of items of correspondence we normally receive on a proposed rule, we are not able to acknowledge or respond to them individually. However, in preparing the final rule, we will consider all comments concerning the provisions of this proposed rule that we receive by the date and time specified in the DATES section of this preamble and respond to those comments in the preamble to that rule. We emphasize that section 1886(e)(5) of the Act requires the final rule for FY 2006 to be published by August 1, 2005, and we will consider only those comments that deal specifically with the matters discussed in this proposed rule.

List of Subjects

42 CFR Part 405

Administrative practice and procedure, Health facilities, Health professions, Kidney diseases, Medicare, Reporting and recordkeeping requirements, Rural area, X-rays.

42 CFR Part 412

Administrative practice and procedure, Health facilities, Medicare, Puerto Rico, Reporting and recordkeeping requirements.

42 CFR Part 413

Health facilities, Kidney diseases, Medicare, Puerto Rico, Reporting and recordkeeping requirements.

42 CFR Part 415

Health facilities, Health professions, Medicare, and reporting and recordkeeping requirements.

42 CFR Part 419

Hospitals, Medicare, Reporting and recordkeeping requirements.

42 CFR Part 422

Health maintenance organizations (HMO), Medicare+Choice, Provider sponsored organizations (PSO).

42 CFR Part 485

Grant programs-health, Health facilities, Medicaid, Medicare, Reporting and recordkeeping requirements.

For the reasons stated in the preamble of this proposed rule, the Centers for Medicare & Medicaid Services is proposing to amend 42 CFR chapter IV as follows:

PART 405—FEDERAL HEALTH INSURANCE FOR THE AGED AND DISABLED

A. Part 405 is amended as follows:

1. The authority citation for Part 405 continues to read as follows:

Authority: Secs. 1102, 1861, 1862(a), 1871, 1874, 1881, and 1886(k) of the Social Security Act (42 U.S.C. 1302, 1395x, 1395y(a), 1395hh, 1395kk, 1395rr, and 1395ww(k)), and sec. 353 of the Public Health Service Act (42 U.S.C. 263a).

§ 405.2468 [Amended]

2. In § 405.2468(f)(1), the reference “§ 413.86(b)” is removed and the reference “§ 413.75(b)” is added in its place.

PART 412—PROSPECTIVE PAYMENT SYSTEMS FOR INPATIENT HOSPITAL SERVICES

B. Part 412 is amended as follows:

1. The authority citation for Part 412 continues to read as follows:

Authority: Secs. 1102 and 1871 of the Social Security Act (42 U.S.C. 1302 and 1395hh).

§ 412.1 [Amended]

2. In § 412.1(a)(1), the reference “§ 413.86” is removed and the reference “§§ 413.75 through 413.83” is added in its place.

§ 412.2 [Amended]

3. In § 412.2—

a. In paragraph (f)(7), remove the reference “§ 413.86” and add in its place the reference “§§ 413.75 through 413.83”.

b. At the end of paragraph (f)(8), add the following sentence: “For discharges occurring on or after October 1, 2005, the additional payment is made based on the average sales price methodology specified in Subpart K, Part 414 of this subchapter and the furnishing fee specified in § 410.63 of this subchapter.”

4. Section 412.64 is amended by revising paragraph (k)(2) to read as follows:

§ 412.64 Federal rates for inpatient operating costs for Federal fiscal year 2005 and subsequent fiscal years.

* * * * *

(k) Midyear corrections to the wage index.

* * * * *

(2)(i) Except as provided in paragraph (k)(2)(ii) of this section, a midyear correction to the wage index is effective prospectively from the date the change is made to the wage index.

(ii) Effective October 1, 2005, a change to the wage index may be made retroactively to the beginning of the Federal fiscal year, if, for the fiscal year in question, CMS determines all of the following—

(A) The fiscal intermediary or CMS made an error in tabulating data used for the wage index calculation;

(B) The hospital knew about the error in its wage data and requested the fiscal intermediary and CMS to correct the error both within the established schedule for requesting corrections to the wage data (which is at least before the beginning of the fiscal year for the applicable update to the hospital inpatient prospective payment system) and using the established process; and

(C) CMS agreed before October 1 that the fiscal intermediary or CMS made an error in tabulating the hospital's wage data and the wage index should be corrected.

* * * * *

5. Section 412.73 is amended by adding a new paragraph (f) to read as follows:

§ 412.73 Determination of the hospital-specific rate based on a Federal fiscal year 1982 base period.

* * * * *

(f) Maintaining budget neutrality. CMS makes an adjustment to the hospital-specific rate to ensure that changes to the DRG classifications and recalibrations of the DRG relative weights are made in a manner so that aggregate payments to section 1886(d) hospitals are not affected.

6. Section 412.75 is amended by adding a new paragraph (i) to read as follows:

§ 412.75 Determination of the hospital-specific rate for inpatient operating costs based on a Federal fiscal year 1987 base period.

* * * * *

(i) Maintaining budget neutrality. CMS makes an adjustment to the hospital-specific rate to ensure that changes to the DRG classifications and recalibrations of the DRG relative weights are made in a manner so that aggregate payments to section 1886(d) hospitals are not affected.

7. Section 412.77 is amended by—

a. Revising paragraph (a)(1).

b. Adding a new paragraph (j).

The revision and addition read as follows:

§ 412.77 Determination of the hospital-specific rate for inpatient operating costs for sole community hospitals based on a Federal fiscal year 1996 base period.

(a) Applicability. (1) This section applies to a hospital that has been designated as a sole community hospital, as described in § 412.92. If the 1996 hospital-specific rate exceeds the rate that would otherwise apply, that is, either the Federal rate under § 412.64 (or under § 412.63 for periods prior to FY 2005) or the hospital-specific rates for either FY 1982 under § 412.73 or FY 1987 under § 412.75, this 1996 rate will be used in the payment formula set forth in § 412.92(d)(1).

* * * * *

(j) Maintaining budget neutrality. CMS makes an adjustment to the hospital-specific rate to ensure that changes to the DRG classifications and recalibrations of the DRG relative weights are made in a manner so that aggregate payments to section 1886(d) hospitals are not affected.

8. Section 412.90 is amended by revising paragraph (e)(1) to read as follows:

§ 412.90 General rules.

* * * * *

(e) Hospitals located in areas that are reclassified from urban to rural. (1) CMS adjusts the rural Federal payment amounts for inpatient operating costs for hospitals located in geographic areas that are reclassified from urban to rural as defined in subpart D of this part. This adjustment is set forth in § 412.102.

* * * * *

9. Section 412.92 is amended by—

a. In paragraph (a) introductory text, removing the reference “§ 412.83(b)” and adding in its place the reference “§ 412.64”.

b. Revising paragraph (d)(1)(i).

c. Revising paragraph (d)(3).

The revisions and addition read as follows:

§ 412.92 Special treatment: Sole community hospitals.

* * * * *

(d) Determining prospective payment rates for inpatient operating costs for sole community hospitals. (1) * * *

(i) The Federal payment rate applicable to the hospitals as determined under subpart D of this part.

* * * * *

(3) Adjustment to payments. A sole community hospital may receive an adjustment to its payments to take into account a significant decrease in the number of discharges, as described in paragraph (e) of this section.

* * * * *

10. Section 412.96 is amended by—

a. Revising paragraph (b)(1) introductory text.

b. Revising paragraph (c) introductory text.

c. In paragraph (c)(1) introductory text, removing the reference “paragraph (g)” and adding in its place the reference “paragraph (h)”.

d. In paragraph (c)(2)(i), removing the reference “paragraph (h)” and adding in its place the reference “paragraph (i)”.

e. Revising paragraph (g)(1).

f. In the introductory text of paragraph (h), removing the phrase “paragraphs (g)(1) through (g)(4)” and adding in its place the phrase “paragraphs (h)(1) through (h)(4)”.

g. In paragraph (h)(2), removing the reference “(g)(1)” and adding in its place the reference “(h)(1)”.

h. Removing paragraph (h)(4).

i. In paragraph (i)(2), removing the reference “(h)(1)” and adding in its place the reference “(i)(1)”.

j. Removing paragraph (i)(4).

The revisions read as follows:

§ 412.96 Special treatment: Referral centers.

* * * * *

(b) Criteria for cost reporting periods beginning on or after October 1, 1983.* * *

(1) The hospital is located in a rural area (as defined in subpart D of this part) and has the following number of beds, as determined under the provisions of § 412.105(b) available for use:

* * * * *

(c) Alternative criteria. For cost reporting periods beginning on or after October 1, 1985, a hospital that does not meet the criteria of paragraph (b) of this section is classified as a referral center if it is located in a rural area (as defined in subpart D of this part) and meets the criteria specified in paragraphs (c)(1) and (c)(2) of this section and at least one of the three criteria specified in paragraphs (c)(3), (c)(4), and (c)(5) of this section.

* * * * *

(g) Hospital cancellation of referral center status. (1) A hospital may at any time request cancellation of its status as a referral center and be paid prospective payments per discharge based on the applicable rural rate, as determined in accordance with subpart D of this part.

* * * * *

11. Section 412.103 is amended by revising paragraphs (a)(1) and (a)(4) to read as follows:

§ 412.103 Special treatment: Hospitals located in urban areas and that apply for reclassification as rural.

(a) * * *

(1) The hospital is located in a rural census tract of a Metropolitan Statistical Area (MSA) as determined under the most recent version of the Goldsmith Modification, the Rural-Urban Commuting Area codes, as determined by the Office of Rural Health Policy (ORHP) of the Health Resources and Services Administration, which is available via the ORHP Web site at: http://www.ruralhealth.hrsa.gov or from the U.S. Department of Health and Human Services, Health Resources and Services Administration, Office of Rural Health Policy, 5600 Fishers Lane, Room 9A-55, Rockville, MD 20857.

* * * * *

(4) For any period after September 30, 2004 and before October 1, 2006, a CAH in a county that, in FY 2004, was not part of an MSA as defined by the Office of Management and Budget and was not considered to be urban under § 412.64(b)(3) of this chapter, but as of FY 2005 was included as part of an MSA or was considered to be urban under § 412.64(b)(3) of this chapter as a result of the most recent census data and implementation of the new MSA definitions announced by OMB on June 6, 2003, may be reclassified as being located in a rural area for purposes of meeting the rural location requirement under § 485.610(b) of this chapter if it meets any of the requirements in paragraphs (a)(1), (a)(2), or (a)(3) of this section.

* * * * *

12. Section 412.105 is amended by—

a. Adding a new paragraph (f)(1)(iv)(D).

b. Adding a new paragraph (f)(1)(xiii).

c. Adding a new paragraph (f)(1)(xiv).

The additions read as follows:

§ 412.105 Special treatment: Hospitals that incur indirect costs for graduate medical education programs.

* * * * *

(f) Determining the total number of full-time equivalent residents for cost reporting periods beginning on or after July 1, 1991. (1) * * *

(iv) * * *

(D) A rural hospital redesignated as urban after September 30, 2004, as a result of the most recent census data and implementation of the new labor market area definitions announced by OMB on June 6, 2003, may retain the increases to its full-time equivalent resident cap that it received under paragraphs (f)(1)(iv)(A) and (f)(1)(vii) of this section while it was located in a rural area.

* * * * *

(xiii) For a hospital that was excluded from the hospital inpatient prospective payment system under Part 413 of this chapter and that subsequently changed to a hospital subject to the hospital inpatient prospective payment system for cost reporting periods ending on or before December 31, 1996, the total number of full-time equivalent residents for payment purposes is determined in accordance with the provisions of this paragraph (f). In the case of a merger of two or more hospitals, for purposes of this paragraph, the surviving hospital's number of full-time equivalent residents for payment purposes is equal to the aggregate number of the full-time equivalent resident count of each of the merged hospitals as determined in accordance with the provisions of this paragraph (f).

(xiv) Effective for discharges occurring on or after October 1, 2005, an urban hospital that reclassifies to a rural area under § 412.103 and then subsequently elects to revert back to urban classification will not be allowed to retain the adjustment to its IME FTE resident cap that it received as a result of being reclassified as rural.

* * * * *

13. Section 412.108 is amended by revising paragraph (c)(1) to read as follows:

§ 412.108 Special treatment: Medicare-dependent, small rural hospitals.

* * * * *

(c) Payment methodology. * * *

(1) The Federal payment rate applicable to the hospital, as determined under subpart D of this part, subject to the regional floor defined in § 412.70(c)(6).

* * * * *

14. Section 412.109 is amended by revising paragraph (b)(2) to read as follows:

§ 412.109 Special treatment: Essential access community hospitals (EACHs).

* * * * *

(b) Location in a rural area. * * *

(2) Is not deemed to be located in an urban area under subpart D of this part.

* * * * *

§ 412.113 [Amended]

15. In § 412.113—

a. In paragraph (b)(2), the reference “§ 413.86 of this chapter.” is removed and the reference “§§ 413.75 through 413.83 of this subchapter.” is added in its place.

b. In paragraph (b)(3), the reference “§ 413.86(c) of this chapter,” is removed and the reference “§ 413.75(c) of this subchapter,” is added in its place.

§ 412.115 [Amended]

16. In § 412.115—

a. In paragraph (a), the reference “§ 413.80” is removed and the reference “§ 413.89” is added in its place.

b. At the end of paragraph (b), add the following sentence: “For discharges occurring on or after October 1, 2005, the additional payment is made based on the average sales price methodology specified in subpart K, part 414 of this chapter and the furnishing fee specified in § 410.63 of this subchapter.”

17. Section 412.230 is amended by—

a. Redesignating paragraph (d)(2)(iii) as paragraph (d)(2)(v).

b. Adding new paragraphs (d)(2)(iii) and (d)(2)(iv).

The additions read as follows:

§ 412.230 Criteria for an individual hospital seeking redesignation to another rural area or an urban area.

* * * * *

(d) Use of urban or other rural area's wage index.—* * *

(2) Appropriate wage data. * * *

(iii) For applications submitted for reclassifications effective in FY 2006, a campus of a multicampus hospital system may seek reclassification to another CBSA. As part of its reclassification request, the requesting entity may submit the composite wage data for the entire multicampus hospital system as its hospital-specific data.

(iv) For applications submitted for reclassifications effective in FY 2007 and subsequent years, a campus of a multicampus hospital system may seek reclassification to another CBSA. As part of its reclassification request, the requesting entity must submit campus-specific wage data for purposes of the wage index comparison.

* * * * *

18. Section 412.234 is amended by—

a. In paragraph (a)(3)(ii), removing the phrase “fiscal years 2006 and thereafter” and adding in its place the phrase “fiscal year 2006”.

b. Adding a new paragraph (a)(3)(iii).

c. In paragraph (b)(1), removing the phrase “or NECMA”.

The addition reads as follows:

§ 412.234 Criteria for all hospitals in an urban county seeking redesignation to another urban area.

(a) * * *

(3) * * *

(iii) For Federal fiscal year 2007 and thereafter, hospitals located in counties that are in the same Consolidated Statistical Area (CSA) (under the MSA definitions announced by the OMB on June 6, 2003) as the urban area to which they seek redesignation qualify as meeting the proximity requirement for reclassification to the urban area to which they seek redesignation.

* * * * *

§ 412.278 [Amended]

19. In § 412.278(b)(1), the phrase “Office of Payment Policy” is removed and the phrase “Hospital and Ambulatory Policy Group” is added in its place.

20. Section 412.304 is amended by revising paragraph (a) to read as follows:

§ 412.304 Implementation of the capital prospective payment system.

(a) General rule. As described in §§ 412.312 through 412.370, effective with cost reporting periods beginning on or after October 1, 1991, CMS pays an amount determined under the capital prospective payment system for each inpatient hospital discharge as defined in § 412.4. This amount is in addition to the amount payable under the prospective payment system for inpatient hospital operating costs as determined under subpart D of this part.

* * * * *

§ 412.521 [Amended]

21. In § 412.521—

a. Under paragraph (b)(2)(i), the reference “§§ 413.85, 413.86, and 413.87 of this subchapter.” is removed and the reference “§§ 413.75 through 413.83, 413.85, and 413.87 of this subchapter.” is added in its place.

b. Under paragraph (b)(2)(ii), the reference “§ 413.80” is removed and the reference “§ 413.89” is added in its place.

PART 413—PRINCIPLES OF REASONABLE COST REIMBURSEMENT; PAYMENT FOR END-STAGE RENAL DISEASE SERVICES; PROSPECTIVELY DETERMINED PAYMENT RATES FOR SKILLED NURSING FACILITIES

C. Part 413 is amended as follows:

1. The authority citation for Part 413 continued to read as follows:

Authority: Secs. 1102, 1812(d), 1814(b), 1815, 1833(a), (i), and (n), 1871, 1881, 1883, and 1886 of the Social Security Act (42 U.S.C. 1302, 1395d(d), 1395f(b), 1395g, 1395l(a), (i), and (n), 1395hh, 1395rr, 1395tt, and 1395ww).

§ 413.13 [Amended]

2. In § 413.13 (d)(1), the reference “§ 413.80” is removed and the reference “§ 413.89” is added in its place.

3. Section 413.40 is amended by—

a. In paragraph(a)(3), under the definition of “Net inpatient operating costs”, removing the reference “§§ 413.85 and 413.86” and adding in its place the reference “§§ 413.75 through 413.83 and 413.85”.

b. Revising paragraph (c)(4)(iii).

§ 413.40 Ceiling on the rate of increase in hospital inpatient costs.

* * * * *

(c) Costs subject to the ceiling—* * *

(4) Target amounts. * * *

(iii) For cost reporting periods beginning on or after October 1, 1997 through September 30, 2002, in the case of a psychiatric hospital or unit, rehabilitation hospital or unit, or long-term care hospital, the target amount is the lower of the amounts specified in paragraph (c)(4)(iii)(A) or paragraph (c)(4)(iii)(B) of this section.

* * * * *

4. Section 413.65 is amended by—

a. Reprinting the introductory text of paragraph (a)(1)(ii) and adding a new paragraph (a)(1)(ii)(L).

b. Revising the definition of “Provider-based entity” under paragraph (a)(2).

c. Revising paragraphs (b)(3)(i) and (b)(3)(ii).

d. Revising paragraphs (e)(1) introductory text and (e)(1)(i).

e. Revising paragraph (e)(3).

f. Revising paragraph (g)(7).

The addition and revision read as follows:

§ 413.65 Requirements for a determination that a facility or an organization has provider-based status.

(a) Scope and definitions. * * *

(1) * * *

(ii) The determinations of provider-based status for payment purposes described in this section are not made as to whether the following facilities are provider-based:

* * * * *

(L) Rural health clinics (RHCs) affiliated with hospitals having 50 or more beds.

* * * * *

(2) Definitions. * * *

Provider-based entity means a provider of health care services, or an RHC as defined in § 405.2401(b) of this chapter, that is either created by, or acquired by, a main provider for the purpose of furnishing health care services of a different type from those of the main provider under the ownership and administrative and financial control of the main provider, in accordance with the provisions of this section. A provider-based entity comprises both the specific physical facility that serves as the site of services of a type for which payment could be claimed under the Medicare or Medicaid program, and the personnel and equipment needed to deliver the services at that facility. A provider-based entity may, by itself, be qualified to participate in Medicare as a provider under § 489.2 of this chapter, and the Medicare conditions of participation do apply to a provider-based entity as an independent entity.

* * * * *

(b) Provider-based determinations.— * * *

(3)(i) Except as specified in paragraphs (b)(2) and (b)(5) of this section, if a potential main provider seeks a determination of provider-based status for a facility that is located on the campus of the potential main provider, the provider would be required to submit an attestation stating that the facility meets the criteria in paragraph (d) of this section and, if it is a hospital, also attest that it will fulfill the obligations of hospital outpatient departments and hospital-based entities described in paragraph (g) of this section. The provider seeking such a determination would also be required to maintain documentation of the basis for its attestations and to make that documentation available to CMS and to CMS contractors upon request. If the facility is operated as a joint venture, the provider would also have to attest that it will comply with the requirements of paragraph (f) of this section.

(ii) If the facility is not located on the campus of the potential main provider, the provider seeking a determination would be required to submit an attestation stating that the facility meets the criteria in paragraphs (d) and (e) of this section, and if the facility is operated under a management contract, the requirements of paragraph (h) of this section. If the potential main provider is a hospital, the hospital also would be required to attest that it will fulfill the obligations of hospital outpatient departments and hospital-based entities described in paragraph (g) of this section. The provider would be required to supply documentation of the basis for its attestations to CMS at the time it submits its attestations.

* * * * *

(e) * * *

(1) Operation under the ownership and control of the main provider. The facility or organization seeking provider-based status is operated under the ownership and control of the main provider, as evidenced by the following:

(i) The business enterprise that constitutes the facility or organization is 100 percent owned by the main provider.

* * * * *

(3) Location. The facility or organization meets the requirements in paragraph (e)(3)(i), (e)(3)(ii), (e)(3)(iii), (e)(3)(iv), or, in the case of an RHC, paragraph (e)(3)(v) of this section, and the requirements in paragraph (e)(3)(vi) of this section.

(i) The facility or organization is located within a 35-mile radius of the campus of the hospital or CAH that is the potential main provider.

(ii) The facility or organization is owned and operated by a hospital or CAH that has a disproportionate share adjustment (as determined under § 412.106 of this chapter) greater than 11.75 percent and is described in § 412.106(c)(2) of this chapter implementing section 1886(e)(5)(F)(i)(II) of the Act and is—

(A) Owned or operated by a unit of State or local government;

(B) A public or nonprofit corporation that is formally granted governmental powers by a unit of State or local government; or

(C) A private hospital that has a contract with a State or local government that includes the operation of clinics located off the main campus of the hospital to assure access in a well-defined service area to health care services for low-income individuals who are not entitled to benefits under Medicare (or medical assistance under a Medicaid State plan).

(iii) The facility or organization demonstrates a high level of integration with the main provider by showing that it meets all of the other provider-based criteria and demonstrates that it serves the same patient population as the main provider, by submitting records showing that, during the 12-month period immediately preceding the first day of the month in which the application for provider-based status is filed with CMS, and for each subsequent 12-month period—

(A) At least 75 percent of the patients served by the facility or organization reside in the same zip code areas as at least 75 percent of the patients served by the main provider; or

(B) At least 75 percent of the patients served by the facility or organization who required the type of care furnished by the main provider received that care from that provider (for example, at least 75 percent of the patients of an RHC seeking provider-based status received inpatient hospital services from the hospital that is the main provider).

(iv) If the facility or organization is unable to meet the criteria in paragraph (e)(3)(iii)(A) or paragraph (e)(3)(iii)(B) of this section because it was not in operation during all of the 12-month period described in paragraph (e)(3)(iii) of this section, the facility or organization is located in a zip code area included among those that, during all of the 12-month period described in paragraph (e)(3)(iii) of this section, accounted for at least 75 percent of the patients served by the main provider.

(v) Both of the following criteria are met:

(A) The facility or organization is an RHC that is otherwise qualified as a provider-based entity of a hospital that has fewer than 50 beds, as determined under § 412.105(b) of this chapter; and

(B) The hospital with which the facility or organization has a provider-based relationship is located in a rural area, as defined in Subpart D of Part 412 of this subchapter.

(vi) A facility or organization may qualify for provider-based status under this section only if the facility or organization and the main provider are located in the same State or, when consistent with the laws of both States, in adjacent States.

* * * * *

(g) Obligations. * * *

(7) When a Medicare beneficiary is treated in a hospital outpatient department that is not located on the main provider's campus, the treatment is not required to be provided by the antidumping rules in § 489.24 of this chapter, and the beneficiary will incur a coinsurance liability for an outpatient visit to the hospital as well as for the physician service, the following requirements must be met:

(i) The hospital must provide written notice to the beneficiary, before the delivery of services, of—

(A) The amount of the beneficiary's potential financial liability; or

(B) If the exact type and extent of care needed are not known, an explanation that the beneficiary will incur a coinsurance liability to the hospital that he or she would not incur if the facility were not provider-based, an estimate based on typical or average charges for visits to the facility, and a statement that the patient's actual liability will depend upon the actual services furnished by the hospital.

(ii) The notice must be one that the beneficiary can read and understand.

(iii) If the beneficiary is unconscious, under great duress, or for any other reason unable to read a written notice and understand and act on his or her own rights, the notice must be provided, before the delivery of services, to the beneficiary's authorized representative.

(iv) In cases where a hospital outpatient department provides examination or treatment that is required to be provided by the antidumping rules of § 489.24 of this chapter, notice, as described in this paragraph (g)(7), must be given as soon as possible after the existence of an emergency has been ruled out or the emergency condition has been stabilized.

* * * * *

5. Section 413.75 is amended in paragraph (b) by revising paragraph (1) under the definition of “Medicare GME affiliated group” to read as follows:

§ 413.75 Direct GME payments: General requirements.

* * * * *

(b) * * *

Medicare GME affiliated group means—

(1) Two or more hospitals that are located in the same urban or rural area (as those terms are defined in subpart D of part 412 of this subchapter.

* * * * *

§ 413.77 [Amended]

6. In § 413.77, under paragraph (e)(1)(iii), the reference “§ 412.62(f)(1)(i) of this chapter.” is removed and the reference “subpart D of part 412 of this subchapter”. is added in its place.

7. Section 413.79 is amended by—

a. Revising paragraph (a)(10).

b. Revising the introductory text of paragraph (c)(2).

c. In paragraph (c)(3)(i), removing the reference “§ 412.62(f)(iii)” and adding in its place the reference “subpart D of part 412 of this subchapter”.

d. Adding a new paragraph (c)(6).

e. Revising paragraph (e)(1)(iv).

f. In the introductory text of paragraph (k), removing the reference “(k)(6)” and adding in its place the reference “(k)(7)”.

g. Adding a new paragraph (k)(7).

The revisions and additions read as follows:

§ 413.79 Direct GME payments: Determination of the weighted number of FTE residents.

* * * * *

(a) * * *

(10) Effective for portions of cost reporting periods beginning on or after October 1, 2004, if a hospital can document that a resident simultaneously matched for one year of training in a particular specialty program, and for a subsequent year(s) of training in a different specialty program, the resident's initial residency period will be determined based on the period of board eligibility for the specialty associated with the program for which the resident matched for the subsequent year(s) of training. Effective for cost reporting periods beginning on or after October 1, 2005, if a hospital can document that a particular resident, prior to beginning the first year of residency training, matched in a specialty program for which training would begin at the conclusion of the first year of training, that resident's initial residency period will be determined in the resident's first year of training based on the period of board eligibility associated with the specialty program for which the resident matched for subsequent training year(s).

* * * * *

(c) Unweighted FTE counts. * * *

(2) Determination of the FTE resident cap. Subject to the provisions of paragraphs (c)(3) through (c)(6) of this section and § 413.81, for purposes of determining direct GME payment—

* * * * *

(6) FTE resident caps for rural hospitals that are reclassified as urban. A rural hospital redesignated as urban after September 30, 2004, as a result of the most recent census data and implementation of the new MSA definitions announced by OMB on June 6, 2003, may retain the increases to its FTE resident cap that it received under paragraphs (c)(2)(i), (e)(1)(iii), and (e)(3) of this section while it was located in a rural area.

* * * * *

(e) New medical residency training programs. * * *

(1) * * *

(iv) An urban hospital that qualifies for an adjustment to its FTE cap under paragraph (e)(1) of this section is permitted to be part of a Medicare GME affiliated group for purposes of establishing an aggregate FTE cap only if the adjustment that results from the affiliation is an increase to the urban hospital's FTE cap.

* * * * *

(k) Residents training in rural track programs. * * *

(7) If an urban hospital had established a rural track training program under the provisions of this paragraph (k) with a hospital located in a rural area and that rural area subsequently becomes an urban area due to the most recent census data and implementation of the new labor market area definitions announced by OMB on June 6, 2003, the urban hospital may continue to adjust its FTE resident limit in accordance with this paragraph (k) for the rural track programs established prior to the adoption of such new labor market area definitions. In order to receive an adjustment to its FTE resident cap for a new rural track residency program, the urban hospital must establish a rural track program with hospitals that are designated rural based on the most recent geographical location designations adopted by CMS.

* * * * *

§ 413.87 [Amended]

8. In § 413.87(d) introductory text, the reference “§ 413.86(d)(4)” is removed and the reference “§ 413.76(d)(4)” is added in its place.

§ 413.178 [Amended]

9. In § 413.178—

a. In paragraph (a), the reference “§ 413.80(b)” is removed and the reference “§ 413.89(b)” is added in its place.

b. In paragraph (b), the reference “§ 413.80” is removed and the reference “§ 413.89” is added in its place.

PART 415—SERVICES FURNISHED BY PHYSICIANS IN PROVIDERS, SUPERVISING PHYSICIANS IN TEACHING SETTINGS, AND RESIDENTS IN CERTAIN SETTINGS

D. Part 415 is amended as follows:

1. The authority citation for part 415 continued to read as follows:

Authority: Secs. 1102 and 1871 of the Social Security Act (42 U.S.C. 1302 and 1395hh).

§ 415.55 [Amended]

2. In § 415.55(a)(5), the reference “§ 413.86” is removed and the reference “§§ 413.75 through 413.83” is added in its place.

§ 415.70 [Amended]

3. In § 415.70(a)(2), the reference “§ 413.86” is removed and the reference “§§ 413.75 through 413.83” is added in its place.

§ 415.102 [Amended]

4. In § 415.102(c)(1), the reference “§ 413.86” is removed and the reference “§§ 413.75 through 413.83” is added in its place.

§ 415.150 [Amended]

5. In § 415.150(b), the reference “§ 413.86” is removed and the phrase “§§ 413.75 through 413.83” is added in its place.

§ 415.152 [Amended]

6. In § 415.152—

a. In paragraph (2) of the definition of “Approved graduate medical education (GME) program”, the reference “§ 413.86(b)” is removed and the reference “§ 413.75(b)” is added in its place.

b. In the definition of “Teaching setting”, the reference “§ 413.86,” is removed and the reference “§§ 413.75 through 413.83,” is added in its place.

§ 415.160 [Amended]

7. In § 415.160—

a. In paragraph (c)(2), the reference “§ 413.86” is removed and the reference “§ 413.78” is added in its place.

b. In paragraph (d)(2), the reference “§ 413.86” is removed and the reference “§§ 413.75 through 413.83” is added in its place.

§ 415.174 [Amended]

8. In § 415.174(a)(1), the reference “§ 413.86.” is removed and the phrase “§§ 413.75 through 413.83.” is added in its place.

§ 415.200 [Amended]

9. In § 415.200(a), the reference “§ 413.86” is removed and the reference “§§ 413.75 through 413.83” is added in its place.

§ 415.204 [Amended]

10. In § 415.204(a)(2), the reference “§ 413.86” is removed and the reference “§§ 413.75 through 413.83” is added in its place.

§ 415.206 [Amended]

11. In § 415.206(a), the reference “§ 413.86(f)(1)(iii)” is removed and the reference “§ 413.78” is added in its place.

§ 415.208 [Amended]

12. In § 415.208—

a. In paragraph (b)(1), the reference “§ 413.86” is removed and the reference “§§ 413.75 through 413.83” is added in its place.

b. In paragraph (b)(4), the reference “§ 413.86” is removed and the reference “§§ 413.75 through 413. 83” is added in its place.

PART 419—PROSPECTIVE PAYMENT SYSTEM FOR OUTPATIENT DEPARTMENT SERVICES

F. Part 419 is amended as follows:

1. The authority citation for part 419 continues to read as follows:

Authority: Secs. 1102, 1833(t), and 1871 of the Social Security Act (42 U.S.C. 1302, 1395l(t), and 1395hh).

§ 419.2 [Amended]

2. In § 419.2—

a. In paragraph (c)(1), the reference “§ 413.86” is removed and the reference “§§ 413.75 through 413.83” is added in its place.

b. In paragraph (c)(6), the reference “§ 413.80(b)” is removed and the reference “§ 413.89(b)” is added in its place.

PART 422—SPECIAL RULES FOR SERVICES FURNISHED BY NONCONTRACT PROVIDERS

G. Part 422 is amended as follows:

1. The authority citation of part 422 continues to read as follows:

Authority: Secs. 1102 and 1871 of the Social Security Act (42 U.S.C. 1302 and 1395hh).

§ 422.214 [Amended]

2. In § 422.214—

a. In paragraph (b), the phrase “§§ 412.105(g) and 413.86(d))” is removed and the phrase “§§ 412.105(g) and 413.76))” is added in its place.

b. In paragraph (b), the phrase “Section 413.86 (d)” is removed and the phrase “Section 413.76” is added in its place.

§ 422.216 [Amended]

3. In § 422.216(a)(4), the reference “§§ 412.105(g) and 413.86(d)” is removed and the reference “§§ 412.105(g) and 413.76” is added in its place.

PART 485—CONDITIONS OF PARTICIPATION: SPECIALIZED PROVIDERS

G. Part 485 is amended as follows:

1. The authority citation for Part 485 continues to read as follows:

Authority: Secs. 1102 and 1871 of the Social Security Act (42 U.S.C. 1302 and 1395(hh)).

2. Section 485.610 is amended by—

a. In paragraph (b)(1)(i), removing the reference “§ 412.62(f)” and adding in its place the reference “§ 412.64(b)”.

b. In paragraph (b)(1)(ii), removing the reference “§ 412.63(b)” and adding in its place the reference “§ 412.64(b)”.

c. Revising paragraph (b)(3).

d. Adding a new paragraph (d).

The revisions and additions read as follows:

§ 485.610 Condition of participation: Status and location.

* * * * *

(b) * * *

(3) Effective only for October 1, 2004 through September 30, 2006, the CAH does not meet the location requirements in either paragraph (b)(1) or paragraph (b)(2) of this section and is located in a county that, in FY 2004, was not part of a Metropolitan Statistical Area as defined by the Office of Budget Management and was not considered to be urban under § 412.63(b)(3) of this chapter, but as of FY 2005 was included as part of such an MSA or was considered to be urban under § 412.64(b)(3) of this chapter, as a result of the most recent census data and implementation of the new MSA definitions announced by OMB on June 6, 2003.

* * * * *

(d) Standard: Relocation of CAHs with a necessary provider designation. A CAH that has a necessary provider certification from the State and places a new facility in service after January 1, 2006, can continue to meet the location requirement of paragraph (c) of this section based on the necessary provider certification only if the new facility meets either the requirement for replacement in the same location in paragraph (d)(1) of this section or the requirement for a relocation of a CAH in paragraph (d)(2) of this section.

(1) A new construction of a CAH will be considered as a replacement facility if the construction is undertaken within 250 yards of the current building or contiguous to the current CAH on land owned by the CAH prior to December 8, 2003.

(2) A new facility CAH will be considered as a relocation of a CAH if, at the relocated site—

(i) The CAH serves at least 75 percent of the same service area that it served prior to its relocation, provides at least 75 percent of the same services that it provided prior to the relocation, and is staffed by 75 percent of the same staff (including medical staff, contracted staff, and employees); and

(ii) The CAH provides documentation demonstrating that its plans to rebuild in the relocated area were undertaken prior to December 8, 2003.

(3) If a CAH that has a necessary provider certification from the State places a new facility in service on or after January 1, 2006, and does not meet either the requirements in paragraph (d)(1) or paragraph (d)(2) of this section, the action will be considered a cessation of business as described in § 489.52(b)(3).

(Catalog of Federal Domestic Assistance Program No. 93.773, Medicare—Hospital Insurance; and Program No. 93.774, Medicare—Supplementary Medical Insurance Program)

Dated: April 19, 2005.
Mark B. McClellan,
Administrator, Centers for Medicare & Medicaid Services.
Dated: April 22, 2005.
Michael O. Leavitt,
Secretary.

[Editorial Note: The following Addendum and appendixes will not appear in the Code of Federal Regulations.]

Addendum—Proposed Schedule of Standardized Amount Effective With Discharges Occurring On or After October 1, 2005 and Update Factors and Rate-of-Increase Percentages Effective With Cost Reporting Periods Beginning On or After October 1, 2005

(If you choose to comment on issues in this section, please include the caption “Operating Payment Rates” at the beginning of your comment.)

I. Summary and Background

In this Addendum, we are setting forth the proposed amounts and factors for determining prospective payment rates for Medicare hospital inpatient operating costs and Medicare hospital inpatient capital-related costs. We are also setting forth the proposed rate-of-increase percentages for updating the target amounts for hospitals and hospital units excluded from the IPPS.

For discharges occurring on or after October 1, 2005, except for SCHs, MDHs, and hospitals located in Puerto Rico, each hospital's payment per discharge under the IPPS will be based on 100 percent of the Federal national rate, which will be based on the national adjusted standardized amount. This amount reflects the national average hospital costs per case from a base year, updated for inflation.

SCHs are paid based on whichever of the following rates yields the greatest aggregate payment: the Federal national rate; the updated hospital-specific rate based on FY 1982 costs per discharge; the updated hospital-specific rate based on FY 1987 costs per discharge; or the updated hospital-specific rate based on FY 1996 costs per discharge.

Under section 1886(d)(5)(G) of the Act, MDHs are paid based on the Federal national rate or, if higher, the Federal national rate plus 50 percent of the difference between the Federal national rate and the updated hospital-specific rate based on FY 1982 or FY 1987 costs per discharge, whichever is higher. MDHs do not have the option to use their FY 1996 hospital-specific rate.

For hospitals in Puerto Rico, the payment per discharge is based on the sum of 25 percent of a Puerto Rico rate that reflects base year average costs per case of Puerto Rico hospitals and 75 percent of the Federal national rate. (See section II.D.3. of this Addendum for a complete description.)

As discussed below in section II. of this Addendum, we are proposing to make changes in the determination of the prospective payment rates for Medicare inpatient operating costs for FY 2006. The proposed changes, to be applied prospectively effective with discharges occurring on or after October 1, 2005, affect the calculation of the Federal rates. In section III. of this Addendum, we discuss our proposed changes for determining the prospective payment rates for Medicare inpatient capital-related costs for FY 2006. Section IV. of this Addendum sets forth our proposed changes for determining the rate-of-increase limits for hospitals excluded from the IPPS for FY 2006. Section V. of this Addendum sets forth policies on payment for blood clotting factors administered to hemophilia patients. The tables to which we refer in the preamble of this proposed rule are presented in section VI. of this Addendum.

II. Proposed Changes to Prospective Payment Rates for Hospital Inpatient Operating Costs for FY 2006

The basic methodology for determining prospective payment rates for hospital inpatient operating costs for FY 2005 and subsequent fiscal years is set forth at § 412.64. The basic methodology for determining the prospective payment rates for hospital inpatient operating costs for hospitals located in Puerto Rico for FY 2005 and subsequent fiscal years is set forth at §§ 412.211 and 412.212. Below we discuss the factors used for determining the prospective payment rates.

In summary, the proposed standardized amounts set forth in Tables 1A, 1B, 1C, and 1D of section VI. of this Addendum reflect—

• Equalization of the standardized amounts for urban and other areas at the level computed for large urban hospitals during FY 2004 and onward, as provided for under section 1886(d)(3)(A)(iv) of the Act, updated by the applicable percentage increase required under sections 1886(b)(3)(B)(i)(XIX) and 1886(b)(3)(B)(vii) of the Act.

• The two labor-related shares that are applicable to the standardized amounts, depending on whether the hospital's payments would be higher with a lower (in the case of a wage index below 1.0000) or higher (in the case of a wage index above 1.0000) labor share, as provided for under sections 1886(d)(3)(E) and 1886(d)(9)(C)(iv) of the Act;

• Updates of 3.2 percent for all areas (that is, the full market basket percentage increase of 3.2 percent, as required by section 1886(b)(3)(B)(i)(XIX) of the Act, and reflecting the requirements of section 1886(b)(3)(B)(vii) of the Act to reduce the applicable percentage increase by 0.4 percentage points for hospitals that fail to submit data, in a form and manner specified by the Secretary, relating to the quality of inpatient care furnished by the hospital;

• An adjustment to ensure the proposed DRG recalibration and wage index update and changes are budget neutral, as provided for under sections 1886(d)(4)(C)(iii) and 1886(d)(3)(E) of the Act, by applying new budget neutrality adjustment factors to the standardized amount;

• An adjustment to ensure the effects of the special transition measures adopted in relation to the implementation of new labor market areas are budget neutral;

• An adjustment to ensure the effects of geographic reclassification are budget neutral, as provided for in section 1886(d)(8)(D) of the Act, by removing the FY 2005 budget neutrality factor and applying a revised factor;

• An adjustment to apply the new outlier offset by removing the FY 2005 outlier offset and applying a new offset;

• An adjustment to ensure the effects of the rural community hospital demonstration required under section 410A of Pub. L. 108-173 are budget neutral, as required under section 410A(c)(2) of Pub. L. 108-173.

A. Calculation of the Adjusted Standardized Amount

1. Standardization of Base-Year Costs or Target Amounts

The national standardized amount is based on per discharge averages of adjusted hospital costs from a base period (section 1886(d)(2)(A) of the Act) or, for Puerto Rico, adjusted target amounts from a base period (section 1886(d)(9)(B)(i) of the Act), updated and otherwise adjusted in accordance with the provisions of section 1886(d) of the Act. The September 1, 1983 interim final rule (48 FR 39763) contained a detailed explanation of how base-year cost data (from cost reporting periods ending during FY 1981) were established in the initial development of standardized amounts for the IPPS. The September 1, 1987 final rule (52 FR 33043 and 33066) contains a detailed explanation of how the target amounts were determined, and how they are used in computing the Puerto Rico rates.

Sections 1886(d)(2)(B) and (d)(2)(C) of the Act require us to update base-year per discharge costs for FY 1984 and then standardize the cost data in order to remove the effects of certain sources of cost variations among hospitals. These effects include case-mix, differences in area wage levels, cost-of-living adjustments for Alaska and Hawaii, indirect medical education costs, and costs to hospitals serving a disproportionate share of low-income patients.

Under section 1886(d)(3)(E) of the Act, the Secretary estimates, from time-to-time, the proportion of hospitals' costs that are attributable to wages and wage-related costs. The standardized amount is divided into labor-related and nonlabor-related amounts; only the proportion considered the labor-related amount is adjusted by the wage index. Section 403 of Pub. L. 108-173 revises the proportion of the standardized amount that is considered labor-related. Specifically, section 1886(d)(3)(E) of the Act (as amended by section 403 of Pub. L. 108-173) requires that 62 percent of the standardized amount be adjusted by the wage index, unless doing so would result in lower payments to a hospital than would otherwise be made. (Section 403(b) of Pub. L. 108-173 extended this provision to the Puerto Rico standardized amounts.) We are proposing to update the labor-related share to 69.7 percent for FY 2006, as discussed in section IV.B.3. of the preamble to this proposed rule. We note that the revised labor-related share that we are proposing for FY 2006 was determined to be 69.731, as discussed in section IV of the preamble to this proposed rule. We are proposing to continue with our previous methodology and round the labor-related share to 69.7 percent for purposes of establishing the labor-related and nonlabor-related portions of the standardized amount. As discussed in section IV. of the preamble to this proposed rule, we are also proposing to rebase the current labor-related share for the Puerto Rico-specific amounts for FY 2006. Since the proposed rebased Puerto Rico labor-related share has not yet been calculated, the proposed standardized amounts that appear in Table 1C of this Addendum for providers with a wage index greater than 1.0000 reflect the current (FY 2005) labor-related share for the Puerto Rico-specific amounts of 71.3 percent for FY 2006. However, in the final rule, if we adopt our proposal to rebase the labor-related share for Puerto Rico, these amounts would reflect this revised labor-related share. We are proposing to adjust 62 percent of the national standardized amount and 62 percent of the Puerto Rico-specific amount by the wage index for all hospitals whose wage indexes are less than or equal to 1.0000. For all hospitals whose wage values are greater than 1.0000, we are proposing to adjust the national standardized amount by a labor-related share of 69.7 percent.

2. Computing the Average Standardized Amount

Sections 1886(d)(3)(A)(iv) of the Act previously required the Secretary to compute the following two average standardized amounts for discharges occurring in a fiscal year: One for hospitals located in large urban areas and one for hospitals located in other areas. In accordance with section 1886(b)(3)(B)(i) of the Act, the large urban average standardized amount was 1.6 percent higher than the other area average standardized amount. In addition, under sections 1886(d)(9)(B)(iii) and 1886(d)(9)(C)(i) of the Act, the average standardized amounts per discharge were determined for hospitals located in urban and rural areas in Puerto Rico.

Section 402(b) of Pub. L. 108-7 required that, effective for discharges occurring on or after April 1, 2003, and before October 1, 2003, the Federal rate for all IPPS hospitals would be based on the large urban standardized amount. Subsequently, Pub. L. 108-89 extended section 402(b) of Pub. L. 108-7 beginning with discharges on or after October 1, 2003 and before March 31, 2004. Finally, section 401(a) of Pub. L. 108-173 amended section 1886(d)(3)(A)(iv) of the Act to require that, beginning with FY 2004 and thereafter, an equal standardized amount is to be computed for all hospitals at the level computed for large urban hospitals during FY 2003, updated by the applicable percentage update. This provision in effect makes permanent the equalization of the standardized amounts at the level of the previous standardized amount for large urban hospitals. Section 401(c) of Pub. L. 108-173 also amended section 1886(d)(9)(A) of the Act to equalize the Puerto Rico-specific urban and rural area rates. Accordingly, we are providing in this proposed rule for a single national standardized amount and a single Puerto Rico standardized amount for FY 2006.

3. Updating the Average Standardized Amount

In accordance with section 1886(d)(3)(A)(iv)(II) of the Act, we are proposing to update the equalized standardized amount for FY 2006 by the full estimated market basket percentage increase for hospitals in all areas, as specified in section 1886(b)(3)(B)(i)(XIX) of the Act, as amended by section 501 of Pub. L. 108-173. The percentage change in the market basket reflects the average change in the price of goods and services purchased by hospitals to furnish inpatient care. The most recent forecast of the hospital market basket increase for FY 2006 is 3.2 percent. Thus, for FY 2006, the proposed update to the average standardized amount is 3.2 percent for hospitals in all areas.

Section 1886(b)(3)(B) of the Act specifies the mechanism used to update the standardized amount for payment for inpatient hospital operating costs. Section 1886(b)(3)(B)(vii) of the Act, as amended by section 501(b) of Pub. L. 108-173, provides for a reduction of 0.4 percentage points to the update percentage increase (also known as the market basket update) for each of FYs 2005 through 2007 for any “subsection (d) hospital” that does not submit data on a set of 10 quality indicators established by the Secretary as of November 1, 2003. The statute also provides that any reduction will apply only to the fiscal year involved, and will not be taken into account in computing the applicable percentage increase for a subsequent fiscal year. This measure establishes an incentive for hospitals to submit data on quality measures established by the Secretary. The proposed standardized amounts in Tables 1A through 1D of section VI. of this Addendum reflect these differential amounts.

Although the update factors for FY 2006 are set by law, we are required by section 1886(e)(3) of the Act to report to the Congress our initial recommendation of update factors for FY 2006 for both IPPS hospitals and hospitals and hospital units excluded from the IPPS. Our recommendation on the update factors (which is required by sections 1886(e)(4)(A) and (e)(5)(A) of the Act) is set forth as Appendix B of this proposed rule.

4. Other Adjustments to the Average Standardized Amount

As in the past, we are proposing to adjust the FY 2006 standardized amount to remove the effects of the FY 2005 geographic reclassifications and outlier payments before applying the FY 2006 updates. We then apply the new offsets for outliers and geographic reclassifications to the standardized amount for FY 2006.

We do not remove the prior year's budget neutrality adjustments for reclassification and recalibration of the DRG weights and for updated wage data because, in accordance with section 1886(d)(4)(C)(iii) of the Act, estimated aggregate payments after the changes in the DRG relative weights and wage index should equal estimated aggregate payments prior to the changes. If we removed the prior year adjustment, we would not satisfy this condition.

Budget neutrality is determined by comparing aggregate IPPS payments before and after making the changes that are required to be budget neutral (for example, reclassifying and recalibrating the DRGs, updating the wage data, and geographic reclassifications). We include outlier payments in the payment simulations because outliers may be affected by changes in these payment parameters.

We are also proposing to adjust the standardized amount this year by an amount estimated to ensure that aggregate IPPS payments do not exceed the amount of payments that would have been made in the absence of the rural community hospital demonstration required under section 410A of Pub. L. 108-173. This demonstration is required to be budget neutral under section 410A(c)(2) of Pub. L. 108-173.

a. Recalibration of DRG Weights and Updated Wage Index—Budget Neutrality Adjustment

Section 1886(d)(4)(C)(iii) of the Act specifies that, beginning in FY 1991, the annual DRG reclassification and recalibration of the relative weights must be made in a manner that ensures that aggregate payments to hospitals are not affected. As discussed in section II. of the preamble, we normalized the recalibrated DRG weights by an adjustment factor, so that the average case weight after recalibration is equal to the average case weight prior to recalibration. However, equating the average case weight after recalibration to the average case weight before recalibration does not necessarily achieve budget neutrality with respect to aggregate payments to hospitals because payments to hospitals are affected by factors other than average case weight. Therefore, as we have done in past years, we are proposing to make a budget neutrality adjustment to ensure that the requirement of section 1886(d)(4)(C)(iii) of the Act is met.

Section 1886(d)(3)(E) of the Act requires us to update the hospital wage index on an annual basis beginning October 1, 1993. This provision also requires us to make any updates or adjustments to the wage index in a manner that ensures that aggregate payments to hospitals are not affected by the change in the wage index. For FY 2006, we are proposing to continue to adjust 10 percent of the wage index factor for occupational mix. We describe the proposed occupational mix adjustment in section III.C. of the preamble to this proposed rule. Because section 1886(d)(3)(E) of the Act requires us to update the wage index on a budget neutral basis, we are including the effects of this proposed occupational mix adjustment on the wage index in our budget neutrality calculations.

In FY 2005, those urban hospitals that became rural under the new labor market area definitions were assigned the wage index of the urban area in which they were located under the previous labor market definitions for a 3-year period of FY 2005, FY 2006, and FY 2007. Because we are in the second year of this 3-year transition, we are proposing to adjust the standardized amounts for FY 2006 to ensure budget neutrality for this policy. We discuss this adjustment in section III.B. of the preamble to this proposed rule.

Section 4410 of Pub. L. 105-33 provides that, for discharges on or after October 1, 1997, the area wage index applicable to any hospital that is not located in a rural area may not be less than the area wage index applicable to hospitals located in rural areas in that State. This provision is required by section 4410(b) of Pub. L. 105-33 to be budget neutral. Therefore, we include the effects of this provision in our calculation of the wage update budget neutrality factor. As discussed in the FY 2005 IPPS final rule (69 FR 49110), we are in the second year of the 3-year provision that uses an imputed wage index floor for States that have no rural areas and States that have geographic rural areas, but that have no hospitals actually classified as rural. We are also adjusting for the effects of this provision in our calculation of the wage update budget neutrality factor.

To comply with the requirement that DRG reclassification and recalibration of the relative weights be budget neutral, and the requirement that the updated wage index be budget neutral, we used FY 2004 discharge data to simulate payments and compared aggregate payments using the FY 2005 relative weights and wage index to aggregate payments using the proposed FY 2006 relative weights and wage index. The same methodology was used for the FY 2005 budget neutrality adjustment.

Based on this comparison, we computed a proposed budget neutrality adjustment factor equal to 1.002494. We also are proposing to adjust the Puerto Rico-specific standardized amount for the effect of DRG reclassification and recalibration. We computed a proposed budget neutrality adjustment factor for the Puerto Rico-specific standardized amount equal to 0.999003. These proposed budget neutrality adjustment factors are applied to the standardized amounts without removing the effects of the FY 2005 budget neutrality adjustments. In addition, as discussed in section V.C.2. of the preamble to this proposed rule, we are proposing to apply the same DRG reclassification and recalibration budget neutrality factor of 0.999003 to the hospital-specific rates that are effective for cost reporting periods beginning on or after October 1, 2005.

Using the same data, we calculated a transition budget neutrality adjustment to account for the “hold harmless” policy under which urban hospitals that became rural under the new labor market area definitions were assigned the wage index of the urban area in which they were located under the previous labor market area definitions for a 3-year period of FY 2005, FY 2006, and FY 2007 (see Table 2 in section VI. of this Addendum). Using the prereclassified wage index, we simulated payments under the new labor market area definitions and compared them to simulated payments under the “hold harmless” policy. Based on this comparison, we computed a proposed transition budget neutrality adjustment of 0.999529.

b. Reclassified Hospitals—Budget Neutrality Adjustment

Section 1886(d)(8)(B) of the Act provides that, effective with discharges occurring on or after October 1, 1988, certain rural hospitals are deemed urban. In addition, section 1886(d)(10) of the Act provides for the reclassification of hospitals based on determinations by the MGCRB. Under section 1886(d)(10) of the Act, a hospital may be reclassified for purposes of the wage index.

Under section 1886(d)(8)(D) of the Act, the Secretary is required to adjust the standardized amount to ensure that aggregate payments under the IPPS after implementation of the provisions of sections 1886(d)(8)(B) and (C) and 1886(d)(10) of the Act are equal to the aggregate prospective payments that would have been made absent these provisions. (We note that neither the wage index reclassifications provided under section 508 of Pub. L. 108-173 nor the wage index adjustments provided under section 505 of Pub. L. 108-173 are budget neutral. Section 508(b) of Pub. L. 108-173 provides that the wage index reclassifications approved under section 508(a) of Pub. L. 108-173 “shall not be effected in a budget neutral manner.” Section 505(a) of Pub. L. 108-173 similarly provides that any increase in a wage index under that section shall not be taken into account “in applying any budget neutrality adjustment with respect to such index” under section 1886(d)(8)(D) of the Act.) To calculate this proposed budget neutrality factor, we used FY 2004 discharge data to simulate payments, and compared total IPPS payments prior to any reclassifications under sections 1886(d)(8)(B) and (C) and 1886(d)(10) of the Act to total IPPS payments after such reclassifications. Based on these simulations, we are proposing to apply an adjustment factor of 0.992905 to ensure that the effects of this reclassification are budget neutral.

The proposed adjustment factor is applied to the standardized amount after removing the effects of the FY 2005 budget neutrality adjustment factor. We note that the proposed FY 2006 adjustment reflects FY 2006 wage index reclassifications approved by the MGCRB or the Administrator, and the effects of MGCRB reclassifications approved in FY 2004 and FY 2005 (section 1886(d)(10)(D)(v) of the Act makes wage index reclassifications effective for 3 years).

c. Outliers

Section 1886(d)(5)(A) of the Act provides for payments in addition to the basic prospective payments for “outlier” cases involving extraordinarily high costs. To qualify for outlier payments, a case must have costs above a fixed-loss cost threshold amount (a dollar amount by which the costs of a case must exceed payments in order to qualify for outlier payment). To determine whether the costs of a case exceed the fixed-loss threshold, a hospital's cost-to-charge ratio is applied to the total covered charges for the case to convert the charges to costs. Payments for eligible cases are then made based on a marginal cost factor, which is a percentage of the costs above the threshold.

In accordance with section 1886(d)(5)(A)(iv) of the Act, outlier payments for any year are projected to be not less than 5 percent nor more than 6 percent of total operating DRG payments plus outlier payments. Section 1886(d)(3)(B) of the Act requires the Secretary to reduce the average standardized amount by a factor to account for the estimated proportion of total DRG payments made to outlier cases. Similarly, section 1886(d)(9)(B)(iv) of the Act requires the Secretary to reduce the average standardized amounts applicable to hospitals in Puerto Rico to account for the estimated proportion of total DRG payments made to outlier cases. More information on outlier payments may be found on the CMS Web site at http://www.cms.hhs.gov/providers/hipps/ippsotlr.asp.

i. Proposed FY 2006 outlier fixed-loss threshold. For FY 2006, we are proposing a new methodology to calculate the outlier fixed-loss threshold. For FY 2004, we simulated outlier payments by applying FY 2004 rates and policies using cases from the FY 2002 MedPAR file. In order to determine the FY 2004 outlier fixed-loss threshold, it was necessary to inflate the charges on the MedPAR claims by 2 years, from FY 2002 to FY 2004. In order to determine the FY 2004 threshold, we used the 2-year average annual rate-of-change in charges per case to inflate FY 2002 charges to approximate FY 2004 charges. (We refer the reader to the FY 2004 IPPS final rule (67 FR 45476) for a complete discussion of the FY 2004 methodology.) In the IPPS proposed rule for FY 2005 (69 FR 28376), we proposed to use the same methodology we used for determining the FY 2004 outlier fix-loss threshold to determine the FY 2005 outlier threshold. We further noted that the rate-of-increase in the 2-year average annual rate-of-change in charges derived from the period before the changes we made to the policy affecting the applicable cost-to-charge ratios (68 FR 34494) and, therefore, they may have represented rates-of-increase that could be higher than the rates-of-increase under our new policy. As a result, we welcomed comments on the data we were using to update charges for purposes of the threshold and specifically encouraged commenters to provide recommendations for data that might better reflect current trends in charge increases.

In response to the many comments we received on this proposed FY 2005 methodology, in the IPPS final rule for FY 2005 (69 FR 49275), we revised that proposed methodology and used the following methodology to calculate the final FY 2005 outlier fixed-loss threshold. Instead of using the 2-year average annual rate-of-change in charges per case from FY 2001 to FY 2002 and FY 2002 to FY 2003, we used more recent data to determine the annual rate-of-change in charges for the FY 2005 outlier threshold. Specifically, we compared the rate-of-increase in charges from the first half-year of FY 2003 to the first half-year of FY 2004. We stated that we believed this methodology would result in a more accurate determination of the rate-of-change in charges per case between FY 2003 and FY 2005. Although a full year of data was available for FY 2003, we did not have a full year of FY 2004 data at the time we set the FY 2005 outlier threshold. Therefore, we stated that we believed it was optimal to employ comparable periods in determining the rate-of-change from one year to the next. We also stated that we believed this methodology was the best methodology for determining the rate-of-change in charges per case because it used the most recent charge data available. Using this methodology, we established a fixed-loss cost outlier threshold for FY 2005 equal to the prospective payment rate for the DRG, plus any IME and DSH payment, and any add-on payment for new technology, plus $25,800.

For FY 2006, we are proposing to use a new methodology to calculate the outlier threshold that will take into account the lower inflation in hospital charges that is occurring as a result of the June 9, 2003 outlier final rule (68 FR 34505), which changed our methodology for determining outlier payments by implementing the use of more current and accurate cost-to-charge ratios when paying for outliers. As we have done in the past, to calculate the proposed FY 2006 outlier thresholds, we simulated payments by applying proposed FY 2006 rates and policies using cases from the FY 2004 MedPAR files. Therefore, in order to determine the appropriate proposed FY 2006 outlier threshold, it was necessary to inflate the charges on the MedPAR claims by 2 years, from FY 2004 to FY 2006.

However, we are not proposing to inflate charges using a 2-year average annual rate-of-change in charges per case from FY 2002 to FY 2003 and FY 2003 to FY 2004 because of the distortion in FY 2002 and FY 2003 charge data caused by the exceptionally high rate of hospital charge inflation during those years. Instead, we are proposing to use more recent data that reflect changes under the new outlier policy. However, we will continue to consider other methodologies in the future when calculating the outlier threshold once we have 2 complete years of charge data under the new outlier policy.

Specifically, we are proposing to establish the proposed FY 2006 outlier threshold as follows: Using the latest data available, the 1-year average annualized rate-of-change in charges per case from the last quarter of FY 2003 in combination with the first quarter of FY 2004 (July 1, 2003 through December 31, 2003) to the last quarter of FY 2004 in combination with the first quarter of FY 2005 (July 1, 2004 through December 31, 2004) was 8.65 percent (1.0865), or 18.04 percent (1.1804) over 2 years. As we have done in the past, we are proposing to use hospital cost-to-charge ratios from the most recent Provider Specific File, in this case the December 2004 update, in establishing the proposed FY 2006 outlier threshold. This file includes cost-to-charge ratios that reflect implementation of the changes to the policy for determining the applicable cost-to-charge ratios that became effective August 8, 2003 (68 FR 34494).

Using this methodology, we are proposing to establish a fixed-loss cost outlier threshold for FY 2006 equal to the prospective payment rate for the DRG, plus any IME and DSH payments, and any add-on payments for new technology, plus $26,675. In addition, as stated in the June 9, 2003 outlier final rule (68 FR 34505), we believe the use of charge inflation is more appropriate than our previous methodology of cost inflation because charges tend to increase at a much faster rate than costs. Although charges have increased at a slower rate since the implementation of changes to our outlier payment methodology in 2003, we believe the use of charges is still appropriate because this trend is still evident.

As we did in establishing the FY 2005 outlier threshold (69 FR 49278), we are not including in the calculation of the outlier threshold the possibility that hospitals' cost-to-charge ratios and outlier payments may be reconciled upon cost report settlement. We believe that, due to the policy implemented in the June 9, 2003 outlier final rule, cost-to-charge ratios will no longer fluctuate significantly and, therefore, few hospitals, if any, will actually have these ratios reconciled upon cost report settlement. In addition, it is difficult to predict which specific hospitals will have cost-to-charge ratios and outlier payments reconciled in their cost reports in any given year. We also note that reconciliation occurs because hospitals' actual cost-to-charge ratios for the cost reporting period are different than the interim cost-to-charge ratios used to calculate outlier payments when a bill is processed. Our simulations assume cost-to-charge ratios accurately measure hospital costs and, therefore, are more reflective of post-reconciliation than pre-reconciliation outlier payments. As a result, we omitted any assumptions about the effects of reconciliation from the outlier threshold calculation.

ii. Other changes concerning outliers. As stated in the September 1, 1993 final rule (58 FR 46348), we establish outlier thresholds that are applicable to both hospital inpatient operating costs and hospital inpatient capital-related costs. When we modeled the combined operating and capital outlier payments, we found that using a common set of thresholds resulted in a lower percentage of outlier payments for capital-related costs than for operating costs. We project that the proposed thresholds for FY 2006 will result in outlier payments equal to 5.1 percent of operating DRG payments and 5.03 percent of capital payments based on the Federal rate.

In accordance with section 1886(d)(3)(B) of the Act, we reduced the proposed FY 2005 standardized amount by the same percentage to account for the projected proportion of payments paid to outliers.

The proposed outlier adjustment factors that would be applied to the standardized amount for FY 2006 are as follows:

We are proposing to apply the outlier adjustment factors to the FY 2006 rates after removing the effects of the FY 2005 outlier adjustment factors on the standardized amount.

To determine whether a case qualifies for outlier payments, we apply hospital-specific cost-to-charge ratios to the total covered charges for the case. Operating and capital costs for the case are calculated separately by applying separate operating and capital cost-to-charge ratios. These costs are then combined and compared with the fixed-loss outlier threshold.

The June 9, 2003 outlier final rule (68 FR 34494) eliminated the application of the statewide average for hospitals whose cost-to-charge ratios fall below 3 standard deviations from the national mean cost-to-charge ratio. However, for those hospitals for which the fiscal intermediary computes operating cost-to-charge ratios greater than 1.220 or capital cost-to-charge ratios greater than 0.169, or hospitals for whom the fiscal intermediary is unable to calculate a cost-to-charge ratio (as described at § 412.84(i)(3) of our regulations), we are still using statewide average ratios to calculate costs to determine whether a hospital qualifies for outlier payments.⁶ Table 8A in section VI. of this Addendum contains the proposed statewide average operating cost-to-charge ratios for urban hospitals and for rural hospitals for which the fiscal intermediary is unable to compute a hospital-specific cost-to-charge ratio within the above range. Effective for discharges occurring on or after October 1, 2005, these proposed statewide average ratios would replace the ratios published in the IPPS final rule for FY 2005 (69 FR 49687). Table 8B in section VI. of this Addendum contains the proposed comparable statewide average capital cost-to-charge ratios. Again, the proposed cost-to-charge ratios in Tables 8A and 8B would be used during FY 2006 when hospital-specific cost-to-charge ratios based on the latest settled cost report are either not available or are outside the range noted above.

⁶ These figures represent 3.0 standard deviations from the mean of the log distribution of cost-to-charge ratios for all hospitals.

iii. FY 2004 and FY 2005 outlier payments. In the FY 2005 IPPS final rule, we stated that, based on available data, we estimated that actual FY 2004 outlier payments would be approximately 3.6 percent of actual total DRG payments (69 FR 49278, as corrected at 69 FR 60252). This estimate was computed based on simulations using the FY 2003 MedPAR file (discharge data for FY 2003 bills). That is, the estimate of actual outlier payments did not reflect actual FY 2004 bills, but instead reflected the application of FY 2004 rates and policies to available FY 2003 bills.

Our current estimate, using available FY 2004 bills, is that actual outlier payments for FY 2004 were approximately 3.5 percent of actual total DRG payments. Thus, the data indicate that, for FY 2004, the percentage of actual outlier payments relative to actual total payments is lower than we projected before FY 2004 (and, thus, is less than the percentage by which we reduced the standardized amounts for FY 2004). We note that, for FY 2005, the outlier threshold was lowered to $25,800 compared to $31,000 for FY 2004. The outlier threshold was lower in FY 2005 than FY 2004 as a result of slower growth in hospital charge inflation. We believe that this slower growth was due to changes in hospital charge practices following implementation of the outlier final rule published on June 9, 2003. Nevertheless, consistent with the policy and statutory interpretation we have maintained since the inception of the IPPS, we do not plan to make retroactive adjustments to outlier payments to ensure that total outlier payments for FY 2004 are equal to 5.1 percent of total DRG payments.

We currently estimate that actual outlier payments for FY 2005 will be approximately 4.4 percent of actual total DRG payments, 0.7 percentage points lower than the 5.1 percent we projected in setting outlier policies for FY 2005. This estimate is based on simulations using the FY 2004 MedPAR file (discharge data for FY 2004 bills). We used these data to calculate an estimate of the actual outlier percentage for FY 2005 by applying FY 2005 rates and policies, including an outlier threshold of $25,800 to available FY 2004 bills.

d. Rural Community Hospital Demonstration Program Adjustment (Section 410A of Pub. L. 108-173)

Section 410A of Pub. L. 108-173 requires the Secretary to establish a demonstration that will modify reimbursement for inpatient services for up to 15 small rural hospitals. Section 410A(c)(2) of Pub. L. 108-173 requires that “in conducting the demonstration program under this section, the Secretary shall ensure that the aggregate payments made by the Secretary do not exceed the amount which the Secretary would have paid if the demonstration program under this section was not implemented.” As discussed in section V.K. of the preamble to this proposed rule, we are proposing to satisfy this requirement by adjusting national IPPS rates by a factor that is sufficient to account for the added costs of this demonstration. We estimate that the average additional annual payment that will be made to each participating hospital under the demonstration will be approximately $977,410. We based this estimate on the recent historical experience of the difference between inpatient cost and payment for hospitals that are participating in the demonstration. For 13 participating hospitals, the total annual impact of the demonstration program is estimated to be $12,706,334. The required adjustment to the Federal rate used in calculating Medicare inpatient prospective payments as a result of the demonstration is 0.999863.

In order to achieve budget neutrality, we are proposing to adjust national IPPS rates by an amount sufficient to account for the added costs of this demonstration. In other words, we are proposing to apply budget neutrality across the payment system as a whole rather than merely across the participants of this demonstration. We believe that the language of the statutory budget neutrality requirement permits the agency to implement the budget neutrality provision in this manner. This is because the statutory language requires that “aggregate payments made by the Secretary do not exceed the amount which the Secretary would have paid if the demonstration * * * was not implemented,” but does not identify the range across which aggregate payments must be held equal.

5. Proposed FY 2006 Standardized Amount

The adjusted standardized amount is divided into labor-related and nonlabor-related portions. Tables 1A and 1B in section VI. of this Addendum contain the national standardized amount that we are proposing to apply to all hospitals, except hospitals in Puerto Rico. The amounts shown in the two tables differ only in that the labor-related share applied to the standardized amounts in Table 1A is 69.7 percent, and the labor-related share applied to the standardized amounts in Table 1B is 62 percent. In accordance with sections 1886(d)(3)(E) and 1886(d)(9)(C)(iv) of the Act, we are applying the labor-related share of 62 percent, unless the application of that percentage would result in lower payments to a hospital than would otherwise be made. The effect of this proposed application is that the labor-related share of the standardized amount is 62 percent for all hospitals whose wage indexes are less than or equal to 1.0000.

As discussed in section IV.B.3. of the preamble to this proposed rule (reflecting the Secretary's current estimate of the proportion of costs that are attributable to wages and wage-related costs), we are proposing to set the labor-related share of the standardized amount at 69.7 percent for hospitals whose wage indexes are greater than 1.0000. In addition, Tables 1A and 1B include proposed standardized amounts reflecting the full 3.2 percent update for FY 2006, and proposed standardized amounts reflecting the 0.4 percentage point reduction to the update applicable for hospitals that fail to submit quality data consistent with section 501(b) of Pub. L. 108-173. (Tables 1C and 1D show the proposed standardized amounts for Puerto Rico for FY 2006, reflecting the different labor-related shares that apply, that is, 71.3 percent or 62 percent.)

The following table illustrates the proposed changes from the FY 2005 national average standardized amount. The first column shows the proposed changes from the FY 2005 standardized amounts for hospitals that satisfy the quality data submission requirement for receiving the full update (3.2 percent). The second column shows the proposed changes for hospitals receiving the reduced update (2.8 percent). The first row of the table shows the proposed updated (through FY 2005) average standardized amount after restoring the FY 2005 offsets for outlier payments, demonstration budget neutrality, the wage index transition budget neutrality and geographic reclassification budget neutrality. The DRG reclassification and recalibration and wage index budget neutrality factor is cumulative. Therefore, the FY 2005 factor is not removed from the amount in the table. We have added separate rows to this table to reflect the different labor-related shares that apply to hospitals.

Under section 1886(d)(9)(A)(ii) of the Act, the Federal portion of the Puerto Rico payment rate is based on the discharge-weighted average of the national large urban standardized amount (as set forth in Table 1A). The labor-related and nonlabor-related portions of the national average standardized amounts for Puerto Rico hospitals are set forth in Table 1C of section VI. of this Addendum. This table also includes the Puerto Rico standardized amounts. The labor-related share applied to the Puerto Rico standardized amount is 71.3 percent, or 62 percent, depending on which is more advantageous to the hospital. (Section 1886(d)(9)(C)(iv) of the Act, as amended by section 403(b) of Pub. L. 108-173, provides that the labor-related share for hospitals in Puerto Rico will be 62 percent, unless the application of that percentage would result in lower payments to the hospital.)

B. Adjustments for Area Wage Levels and Cost-of-Living

Tables 1A through 1D, as set forth in section VI. of this Addendum, contain the labor-related and nonlabor-related shares that we are proposing to use to calculate the prospective payment rates for hospitals located in the 50 States, the District of Columbia, and Puerto Rico. This section addresses two types of adjustments to the standardized amounts that are made in determining the proposed prospective payment rates as described in this Addendum.

1. Adjustment for Area Wage Levels

Sections 1886(d)(3)(E) and 1886(d)(9)(C)(iv) of the Act require that we make an adjustment to the labor-related portion of the national and Puerto Rico prospective payment rates, respectively, to account for area differences in hospital wage levels. This adjustment is made by multiplying the labor-related portion of the adjusted standardized amounts by the appropriate wage index for the area in which the hospital is located. In section III. of the preamble to this proposed rule, we discuss the data and methodology for the proposed FY 2006 wage index. The proposed FY 2006 wage indexes are set forth in Tables 4A, 4B, 4C, and 4F of section VI. of this Addendum.

2. Adjustment for Cost-of-Living in Alaska and Hawaii

Section 1886(d)(5)(H) of the Act authorizes an adjustment to take into account the unique circumstances of hospitals in Alaska and Hawaii. Higher labor-related costs for these two States are taken into account in the adjustment for area wages described above. For FY 2006, we are proposing to adjust the payments for hospitals in Alaska and Hawaii by multiplying the nonlabor-related portion of the standardized amount by the appropriate adjustment factor contained in the table below. If the Office of Personnel Management releases revised cost-of-living adjustment factors before July 1, 2005, we will publish them in the final rule and use them in determining FY 2006 payments.

C. DRG Relative Weights

As discussed in section II. of the preamble, we have developed a classification system for all hospital discharges, assigning them into DRGs, and have developed relative weights for each DRG that reflect the resource utilization of cases in each DRG relative to Medicare cases in other DRGs. Table 5 of section VI. of this Addendum contains the relative weights that we are proposing to use for discharges occurring in FY 2006. These factors have been recalibrated as explained in section II. of the preamble of this proposed rule.

D. Calculation of Proposed Prospective Payment Rates for FY 2006

General Formula for Calculation of Prospective Payment Rates for FY 2006

The proposed operating prospective payment rate for all hospitals paid under the IPPS located outside of Puerto Rico, except SCHs and MDHs, equals the Federal rate based on the corresponding amounts in Table 1A or Table 1B in section VI. of this Addendum.

The proposed prospective payment rate for SCHs equals the higher of the applicable Federal rate (from Table 1A or Table 1B) or the hospital-specific rate as described below. The proposed prospective payment rate for MDHs equals the higher of the Federal rate, or the Federal rate plus 50 percent of the difference between the Federal rate and the hospital-specific rate as described below. The proposed prospective payment rate for Puerto Rico equals 25 percent of the Puerto Rico rate plus 75 percent of the applicable national rate from Table 1C or Table 1D in section VI. of this Addendum.

1. Federal Rate

For discharges occurring on or after October 1, 2005 and before October 1, 2006, except for SCHs, MDHs, and hospitals in Puerto Rico, payment under the IPPS is based exclusively on the Federal rate.

The Federal rate is determined as follows:

Step 1—Select the appropriate average standardized amount considering the applicable wage index (Table 1A for wage indexes greater than 1.0000 and Table 1B for wage indexes less than or equal to 1.0000) and whether the hospital has submitted qualifying quality data (full update for qualifying hospitals, update minus 0.4 percentage points for nonqualifying hospitals).

Step 2—Multiply the labor-related portion of the standardized amount by the applicable wage index for the geographic area in which the hospital is located or the area to which the hospital is reclassified (see Tables 4A, 4B, and 4C of section VI. of this Addendum).

Step 3—For hospitals in Alaska and Hawaii, multiply the nonlabor-related portion of the standardized amount by the appropriate cost-of-living adjustment factor.

Step 4—Add the amount from Step 2 and the nonlabor-related portion of the standardized amount (adjusted, if appropriate, under Step 3).

Step 5—Multiply the final amount from Step 4 by the relative weight corresponding to the appropriate DRG (see Table 5 of section VI. of this Addendum).

The Federal rate as determined in Step 5 may then be further adjusted if the hospital qualifies for either the IME or DSH adjustment.

2. Hospital-Specific Rate (Applicable Only to SCHs and MDHs)

a. Calculation of Hospital-Specific Rate

Section 1886(b)(3)(C) of the Act provides that SCHs are paid based on whichever of the following rates yields the greatest aggregate payment: the Federal rate; the updated hospital-specific rate based on FY 1982 costs per discharge; the updated hospital-specific rate based on FY 1987 costs per discharge; or the updated hospital-specific rate based on FY 1996 costs per discharge.

Section 1886(d)(5)(G) of the Act provides that MDHs are paid based on whichever of the following rates yields the greatest aggregate payment: The Federal rate or the Federal rate plus 50 percent of the difference between the Federal rate and the greater of the updated hospital-specific rates based on either FY 1982 or FY 1987 costs per discharge. MDHs do not have the option to use their FY 1996 hospital-specific rate.

Hospital-specific rates have been determined for each of these hospitals based on the FY 1982 costs per discharge, the FY 1987 costs per discharge, or, for SCHs, the FY 1996 costs per discharge. For a more detailed discussion of the calculation of the hospital-specific rates, we refer the reader to the September 1, 1983 interim final rule (48 FR 39772); the April 20, 1990 final rule with comment (55 FR 15150); the September 4, 1990 final rule (55 FR 35994); and the August 1, 2000 final rule (65 FR 47082). In addition, for both SCHs and MDHs, the hospital-specific rate is adjusted by the proposed budget neutrality adjustment factor (that is, by the recalibration budget neutrality factor of 0.999003) as discussed in section V.C.2. of the preamble to this proposed rule. The resulting rate would be used in determining the payment rate an SCH or MDH would receive for its discharges beginning on or after October 1, 2005.

b. Updating the FY 1982, FY 1987, and FY 1996 Hospital-Specific Rates for FY 2005

We are proposing to increase the hospital-specific rates by 3.2 percent (the hospital market basket percentage increase) for SCHs and MDHs for FY 2006. Section 1886(b)(3)(C)(iv) of the Act provides that the update factor applicable to the hospital-specific rates for SCHs is equal to the update factor provided under section 1886(b)(3)(B)(iv) of the Act, which, for SCHs in FY 2006, is the market basket rate of increase. Section 1886(b)(3)(D) of the Act provides that the update factor applicable to the hospital-specific rates for MDHs also equals the update factor provided under section 1886(b)(3)(B)(iv) of the Act, which, for FY 2006, is the market basket rate-of-increase.

3. General Formula for Calculation of Proposed Prospective Payment Rates for Hospitals Located in Puerto Rico Beginning On or After October 1, 2005 and Before October 1, 2006

Under section 504 of Pub. L. 108-173, effective for discharges occurring on or after October 1, 2004, hospitals located in Puerto Rico are paid based on a blend of 75 percent of the national prospective payment rate and 25 percent of the Puerto Rico-specific rate.

a. Puerto Rico Rate

The Puerto Rico prospective payment rate is determined as follows:

Step 1—Select the appropriate average standardized amount considering the applicable wage index (see Table 1C).

Step 2—Multiply the labor-related portion of the standardized amount by the appropriate Puerto Rico-specific wage index (see Table 4F of section VI. of the Addendum).

Step 3—Add the amount from Step 2 and the nonlabor-related portion of the standardized amount.

Step 4—Multiply the amount from Step 3 by the appropriate DRG relative weight.

Step 5—Multiply the result in Step 4 by 25 percent (see Table 5 of section VI. of the Addendum).

b. National Rate

The national prospective payment rate is determined as follows:

Step 1—Select the appropriate average standardized amount considering the applicable wage index (see Table 1C).

Step 2—Add the amount from Step 1 and the nonlabor-related portion of the national average standardized amount.

Step 3—Multiply the amount from Step 2 by the appropriate DRG relative weight (see Table 5 of section VI. of the Addendum).

Step 4—Multiply the result in Step 3 by 75 percent.

The sum of the Puerto Rico rate and the national rate computed above equals the prospective payment for a given discharge for a hospital located in Puerto Rico. This rate may then be further adjusted if the hospital qualifies for either the IME or DSH adjustment.

III. Proposed Changes to Payment Rates for Acute Care Hospital Inpatient Capital-Related Costs for FY 2006

(If you choose to comment on issues in this section, please include the caption “Capital Payment Rate” at the beginning of your comment.)

The PPS for acute care hospital inpatient capital-related costs was implemented for cost reporting periods beginning on or after October 1, 1991. Effective with that cost reporting period, hospitals were paid during a 10-year transition period (which extended through FY 2001) to change the payment methodology for Medicare acute care hospital inpatient capital-related costs from a reasonable cost-based methodology to a prospective methodology (based fully on the Federal rate).

The basic methodology for determining Federal capital prospective rates is set forth in regulations at §§ 412.308 through 412.352. Below we discuss the factors that we are proposing to use to determine the capital Federal rate for FY 2006, which would be effective for discharges occurring on or after October 1, 2005. The 10-year transition period ended with hospital cost reporting periods beginning on or after October 1, 2001 (FY 2002). Therefore, for cost reporting periods beginning in FY 2002, all hospitals (except “new” hospitals under § 412.304(c)(2)) are paid based on 100 percent of the capital Federal rate. For FY 1992, we computed the standard Federal payment rate for capital-related costs under the IPPS by updating the FY 1989 Medicare inpatient capital cost per case by an actuarial estimate of the increase in Medicare inpatient capital costs per case. Each year after FY 1992, we update the capital standard Federal rate, as provided at § 412.308(c)(1), to account for capital input price increases and other factors. The regulations at § 412.308(c)(2) provide that the capital Federal rate is adjusted annually by a factor equal to the estimated proportion of outlier payments under the capital Federal rate to total capital payments under the capital Federal rate. In addition, § 412.308(c)(3) requires that the capital Federal rate be reduced by an adjustment factor equal to the estimated proportion of payments for (regular and special) exceptions under § 412.348. Section 412.308(c)(4)(ii) requires that the capital standard Federal rate be adjusted so that the effects of the annual DRG reclassification and the recalibration of DRG weights and changes in the geographic adjustment factor are budget neutral.

For FYs 1992 through 1995, § 412.352 required that the capital Federal rate also be adjusted by a budget neutrality factor so that aggregate payments for inpatient hospital capital costs were projected to equal 90 percent of the payments that would have been made for capital-related costs on a reasonable cost basis during the fiscal year. That provision expired in FY 1996. Section 412.308(b)(2) describes the 7.4 percent reduction to the capital rate that was made in FY 1994, and § 412.308(b)(3) describes the 0.28 percent reduction to the capital rate made in FY 1996 as a result of the revised policy of paying for transfers. In FY 1998, we implemented section 4402 of Pub. L. 105-33, which required that, for discharges occurring on or after October 1, 1997, and before October 1, 2002, the unadjusted capital standard Federal rate is reduced by 17.78 percent. As we discussed in the FY 2003 IPPS final rule (67 FR 50102) and implemented in § 412.308(b)(6)), a small part of that reduction was restored effective October 1, 2002.

To determine the appropriate budget neutrality adjustment factor and the regular exceptions payment adjustment during the 10-year transition period, we developed a dynamic model of Medicare inpatient capital-related costs; that is, a model that projected changes in Medicare inpatient capital-related costs over time. With the expiration of the budget neutrality provision, the capital cost model was only used to estimate the regular exceptions payment adjustment and other factors during the transition period. As we explained in the FY 2002 IPPS final rule (66 FR 39911), beginning in FY 2002, an adjustment for regular exception payments is no longer necessary because regular exception payments were only made for cost reporting periods beginning on or after October 1, 1991, and before October 1, 2001 (see § 412.348(b)). Because, effective with cost reporting periods beginning in FY 2002, payments are no longer being made under the regular exception policy, we no longer use the capital cost model. The capital cost model and its application during the transition period are described in Appendix B of the FY 2002 IPPS final rule (66 FR 40099).

Section 412.374 provides for the use of a blended payment system for payments to Puerto Rico hospitals under the PPS for acute care hospital inpatient capital-related costs. Accordingly, under the capital PPS, we compute a separate payment rate specific to Puerto Rico hospitals using the same methodology used to compute the national Federal rate for capital-related costs. In accordance with section 1886(d)(9)(A) of the Act, under the IPPS for acute care hospital operating costs, hospitals located in Puerto Rico are paid for operating costs under a special payment formula. Prior to FY 1998, hospitals in Puerto Rico were paid a blended operating rate that consisted of 75 percent of the applicable standardized amount specific to Puerto Rico hospitals and 25 percent of the applicable national average standardized amount. Similarly, prior to FY 1998, hospitals in Puerto Rico were paid a blended capital rate that consisted of 75 percent of the applicable capital Puerto Rico specific rate and 25 percent of the applicable capital Federal rate. However, effective October 1, 1997, in accordance with section 4406 of Pub. L. 105-33, operating payments to hospitals in Puerto Rico were revised to be based on a blend of 50 percent of the applicable standardized amount specific to Puerto Rico hospitals and 50 percent of the applicable national average standardized amount. In conjunction with this change to the operating blend percentage, effective with discharges occurring on or after October 1, 1997, we also revised the methodology for computing capital payments to hospitals in Puerto Rico to be based on a blend of 50 percent of the Puerto Rico capital rate and 50 percent of the capital Federal rate.

As we discussed in the FY 2005 IPPS final rule (69 FR 49185), section 504 of Pub. L. 108-173 increased the national portion of the operating IPPS payments for Puerto Rico hospitals from 50 percent to 62.5 percent and decreased the Puerto Rico portion of the operating IPPS payments from 50 percent to 37.5 percent for discharges occurring on or after April 1, 2004 through September 30, 2004 (see the March 26, 2004 One-Time Notification (Change Request 3158)). In addition, section 504 of Pub. L. 108-173 provided that the national portion of operating IPPS payments for Puerto Rico hospitals is equal to 75 percent and the Puerto Rico portion of operating IPPS payments is equal to 25 percent for discharges occurring on or after October 1, 2004. Consistent with that change in operating IPPS payments to hospitals in Puerto Rico, for FY 2005 (as we discussed in the FY 2005 IPPS final rule), we revised the methodology for computing capital payments to hospitals located in Puerto Rico to be based on a blend of 25 percent of the Puerto Rico capital rate and 75 percent of the capital Federal rate for discharges occurring on or after October 1, 2004.

A. Determination of Proposed Federal Hospital Inpatient Capital-Related Prospective Payment Rate Update

In the FY 2005 IPPS final rule (69 FR 49283) and corrected in a December 30, 2004 correction notice (69 FR 78532), we established a capital Federal rate of $416.53 for FY 2005.

In the discussion that follows, we explain the factors that were used to determine the proposed FY 2006 capital Federal rate. In particular, we explain why the proposed FY 2006 capital Federal rate would increase 0.7 percent compared to the FY 2005 capital Federal rate. We also estimate aggregate capital payments would decrease by 0.1 percent during this same period. This decrease is due to several factors, including a projected decrease in the number of Medicare fee-for-service hospital admissions, and a decrease in the proposed geographic adjustment factor (GAF) values (which are based on the proposed wage index values). Our Office of the Actuary projects a decrease in Medicare fee-for-service Part A enrollment, in part, because of a projected increase in Medicare managed care enrollment as a result of the implementation of several provisions of Pub. L. 108-173. We are projecting a slight increase in the proposed GAF values (based on the proposed wage index) for some hospitals as a result of the completion of the transition to the CBSA-based labor market area definitions (as discussed in section III. of the preamble of this proposed rule). Thus, we are projecting that capital PPS payments would remain relatively unchanged from FY 2005 to FY 2006.

Total payments to hospitals under the IPPS are relatively unaffected by changes in the capital prospective payments. Since capital payments constitute about 10 percent of hospital payments, a 1-percent change in the capital Federal rate yields only about 0.1 percent change in actual payments to hospitals. Aggregate payments under the capital IPPS are estimated to decrease slightly in FY 2006 compared to FY 2005, as discussed above.

1. Projected Capital Standard Federal Rate Update

a. Description of the Update Framework

Under § 412.308(c)(1), the capital standard Federal rate is updated on the basis of an analytical framework that takes into account changes in a capital input price index (CIPI) and several other policy adjustment factors. Specifically, we have adjusted the projected CIPI rate-of-increase as appropriate each year for case-mix index-related changes, for intensity, and for errors in previous CIPI forecasts. The proposed update factor for FY 2006 under that framework is 0.7 percent based on the best data available at this time. The proposed update factor is based on a projected 0.7 percent increase in the CIPI, a 0.0 percent adjustment for intensity, a 0.0 percent adjustment for case-mix, a 0.0 percent adjustment for the FY 2004 DRG reclassification and recalibration, and a forecast error correction of 0.0 percent. As discussed below in section III.C. of this Addendum, we believe that the CIPI is the most appropriate input price index for capital costs to measure capital price changes in a given year. We also explain the basis for the FY 2006 CIPI projection in that same section of this Addendum. Below we describe the proposed policy adjustments that have been applied.

The case-mix index is the measure of the average DRG weight for cases paid under the IPPS. Because the DRG weight determines the prospective payment for each case, any percentage increase in the case-mix index corresponds to an equal percentage increase in hospital payments.

The case-mix index can change for any of several reasons:

• The average resource use of Medicare patients changes (“real” case-mix change);

• Changes in hospital coding of patient records result in higher weight DRG assignments (“coding effects”); and

• The annual DRG reclassification and recalibration changes may not be budget neutral (“reclassification effect”).

We define real case-mix change as actual changes in the mix (and resource requirements) of Medicare patients as opposed to changes in coding behavior that result in assignment of cases to higher weighted DRGs but do not reflect higher resource requirements. The capital update framework includes the same case-mix index adjustment used in the former operating IPPS update framework (as discussed in the May 18, 2005 IPPS proposed rule for FY 2005 (69 FR 28816)). (We are no longer using an update framework in making a recommendation for updating the operating IPPS standardized amounts as discussed in section III. of Appendix B of this proposed rule.)

For FY 2006, we are projecting a 1.0 percent total increase in the case-mix index. We estimate that the real case-mix increase would also equal 1.0 percent in FY 2006. The net adjustment for change in case-mix is the difference between the projected increase in real case-mix and the projected total increase in real case-mix. Therefore, the net proposed adjustment for case-mix change in FY 2006 is 0.0 percentage points.

The capital update framework also contains an adjustment for the effects of DRG reclassification and recalibration. This adjustment is intended to remove the effect on total payments of prior year changes to the DRG classifications and relative weights, in order to retain budget neutrality for all case-mix index-related changes other than those due to patient severity. Due to the lag time in the availability of data, there is a 2-year lag in data used to determine the adjustment for the effects of DRG reclassification and recalibration. For example, we are adjusting for the effects of the FY 2004 DRG reclassification and recalibration as part of our proposed update for FY 2006. We estimate that FY 2004 DRG reclassification and recalibration would result in a 0.0 percent change in the case-mix when compared with the case-mix index that would have resulted if we had not made the reclassification and recalibration changes to the DRGs. Therefore, we are proposing to make a 0.0 percent adjustment for DRG reclassification and recalibration in the update for FY 2006 to maintain budget neutrality.

The capital update framework also contains an adjustment for forecast error. The input price index forecast is based on historical trends and relationships ascertainable at the time the update factor is established for the upcoming year. In any given year, there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the measurement of the forecast error. A forecast error of -0.1 percentage points was calculated for the FY 2004 update. That is, current historical data indicate that the forecasted FY 2004 CIPI used in calculating the FY 2004 update factor (0.7 percent) slightly overstated the actual realized price increases (0.6 percent) by 0.1 percentage points. This slight overprediction was mostly due to a prediction of the cuts in the interest rate by the Federal Reserve Board in 2004. However, the Federal Reserve Board did not cut interest rates during 2004, which impacted the interest component of the CIPI. However, since this estimation of the change in the CIPI is less than 0.25 percentage points, it is not reflected in the update recommended under this framework. Therefore, we are proposing to make a 0.0 percent adjustment for forecast error in the update for FY 2006.

Under the capital IPPS system framework, we also make an adjustment for changes in intensity. We calculate this adjustment using the same methodology and data that are used in the framework for the operating PPS. The intensity factor for the operating update framework reflects how hospital services are utilized to produce the final product, that is, the discharge. This component accounts for changes in the use of quality-enhancing services, for changes in within-DRG severity, and for expected modification of practice patterns to remove noncost-effective services.

We calculate case-mix constant intensity as the change in total charges per admission, adjusted for price level changes (the CPI for hospital and related services) and changes in real case-mix. The use of total charges in the calculation of the intensity factor makes it a total intensity factor; that is, charges for capital services are already built into the calculation of the factor. Therefore, we have incorporated the intensity adjustment from the operating update framework into the capital update framework. Without reliable estimates of the proportions of the overall annual intensity increases that are due, respectively, to ineffective practice patterns and to the combination of quality-enhancing new technologies and within-DRG complexity, we assume, as in the operating update framework, that one-half of the annual increase is due to each of these factors. The capital update framework thus provides an add-on to the input price index rate of increase of one-half of the estimated annual increase in intensity, to allow for within-DRG severity increases and the adoption of quality-enhancing technology.

We have developed a Medicare-specific intensity measure based on a 5-year average. Past studies of case-mix change by the RAND Corporation (Has DRG Creep Crept Up? Decomposing the Case Mix Index Change Between 1987 and 1988 by G.M. Carter, J.P. Newhouse, and D.A. Relles, R-4098-HCFA/ProPAC (1991)) suggest that real case-mix change was not dependent on total change, but was usually a fairly steady 1.0 to 1.4 percent per year. We use 1.4 percent as the upper bound because the RAND study did not take into account that hospitals may have induced doctors to document medical records more completely in order to improve payment.

We calculate case-mix constant intensity as the change in total charges per admission, adjusted for price level changes (the CPI for hospital and related services), and changes in real case-mix. As we noted above, in accordance with § 412.308(c)(1)(ii), we began updating the capital standard Federal rate in FY 1996 using an update framework that takes into account, among other things, allowable changes in the intensity of hospital services. For FYs 1996 through 2001, we found that case-mix constant intensity was declining and we established a 0.0 percent adjustment for intensity in each of those years. For FYs 2002 and 2003, we found that case-mix constant intensity was increasing and we established a 0.3 percent adjustment and 1.0 percent adjustment for intensity, respectively. For FYs 2004 and 2005, we found that the charge data appeared to be skewed (as discussed in greater detail below) and we established a 0.0 percent adjustment in each of those years. Furthermore, we stated that we would continue to apply a 0.0 percent adjustment for intensity until any increase in charges can be tied to intensity rather than attempts to maximize outlier payments.

Using the methodology described above, for FY 2006 we examined the change in total charges per admission, adjusted for price level changes (the CPI for hospital and related services), and changes in real case-mix for FYs 1999 through 2004. We found that, over this period and in particular the last 4 years of this period (FYs 2000 through 2003), the charge data appear to be skewed. More specifically, we found a dramatic increase in hospital charges for FYs 2000 through 2004 without a corresponding increase in the hospital case-mix index. These findings are similar to the considerable increase in hospitals’ charges, which we found when we were determining the intensity factor in the FY 2004 and FY 2005 update recommendations as discussed in the FY 2004 IPPS final rule (68 FR 45482) and the FY 2005 IPPS final rule (69 FR 49285), respectively. If hospitals were treating new or different types of cases, which would result in an appropriate increase in charges per discharge, then we would expect hospitals' case-mix to increase proportionally.

As we discussed in the FY 2005 IPPS final rule (69 FR 49285), because our intensity calculation relies heavily upon charge data and we believe that these charge data may be inappropriately skewed, we established a 0.0 percent adjustment for intensity for FY 2005. We believed that it was appropriate to apply a zero intensity adjustment until we believe that any increase in charges can be tied to intensity rather than to attempts to maximize outlier payments. As discussed above, we believe that the most recently available charge data used to make this determination may still be inappropriately skewed. Therefore, we are proposing a 0.0 percent adjustment for intensity for FY 2006. In the past (FYs 1996 through 2001) when we found intensity to be declining, we believed a zero (rather than negative) intensity adjustment was appropriate. Similarly, we believe that it is appropriate to propose to apply a zero intensity adjustment for FY 2006 until any increase in charges can be tied to intensity rather than to attempts to maximize outlier payments.

Above we described the basis of the components used to develop the proposed 0.7 percent capital update factor for FY 2006 as shown in the table below.

b. Comparison of CMS and MedPAC Update Recommendation

In the past, MedPAC has included update recommendations for capital PPS in a Report to Congress. In its March 2005 Report to Congress, MedPAC did not make an update recommendation for capital PPS payments for FY 2006. However, in that same report, MedPAC made an update recommendation for hospital inpatient and outpatient services (page 40). MedPAC reviews inpatient and outpatient services together since they are so closely interrelated. MedPAC recommended an increase in the payment rate for the operating IPPS by the projected increase in the hospital market basket index, less 0.4 percent for FY 2006, based on their assessment of beneficiaries' access to care, volume of services, access to capital, quality of care, and the relationship of Medicare payments and costs. In addition, the Commission considered the efficient provision of services in making its FY 2006 update recommendations. (MedPAC's Report to the Congress: Medicare Payment Policy, March 2005, page 44.)

2. Proposed Outlier Payment Adjustment Factor

Section 412.312(c) establishes a unified outlier methodology for inpatient operating and inpatient capital-related costs. A single set of thresholds is used to identify outlier cases for both inpatient operating and inpatient capital-related payments. Section 412.308(c)(2) provides that the standard Federal rate for inpatient capital-related costs be reduced by an adjustment factor equal to the estimated proportion of capital related outlier payments to total inpatient capital-related PPS payments. The outlier thresholds are set so that operating outlier payments are projected to be 5.1 percent of total operating DRG payments.

In the FY 2005 IPPS final rule (69 FR 49286), we estimate that outlier payments for capital will equal 4.94 percent of inpatient capital-related payments based on the capital Federal rate in FY 2005. Based on the thresholds as set forth in section II.A.4.c. of this Addendum, we estimate that outlier payments for capital would equal 5.03 percent for inpatient capital-related payments based on the proposed Federal rate in FY 2006. Therefore, we are proposing to apply an outlier adjustment factor of 0.9497 to the capital Federal rate. Thus, the percentage of capital outlier payments to total capital standard payments for FY 2006 would be higher than the percentages for FY 2005.

The outlier reduction factors are not built permanently into the capital rates; that is, they are not applied cumulatively in determining the capital Federal rate. The proposed FY 2006 outlier adjustment of 0.9497 is a −0.09 percent change from the FY 2005 outlier adjustment of 0.9506. The net change in the proposed outlier adjustment to the capital Federal rate for FY 2006 is 0.9991 (0.9497/0.9506). Thus, the proposed outlier adjustment decreases the FY 2006 capital Federal rate by 0.09 percent compared with the FY 2005 outlier adjustment.

3. Proposed Budget Neutrality Adjustment Factor for Changes in DRG Classifications and Weights and the GAF

Section 412.308(c)(4)(ii) requires that the capital Federal rate be adjusted so that aggregate payments for the fiscal year based on the capital Federal rate after any changes resulting from the annual DRG reclassification and recalibration and changes in the GAF are projected to equal aggregate payments that would have been made on the basis of the capital Federal rate without such changes.

Since we implemented a separate GAF for Puerto Rico, we apply separate budget neutrality adjustments for the national GAF and the Puerto Rico GAF. We apply the same budget neutrality factor for DRG reclassifications and recalibration nationally and for Puerto Rico. Separate adjustments were unnecessary for FY 1998 and earlier because the GAF for Puerto Rico was implemented in FY 1998.

In the past, we used the actuarial capital cost model (described in Appendix B of the FY 2002 IPPS final rule (66 FR 40099)) to estimate the aggregate payments that would have been made on the basis of the capital Federal rate with and without changes in the DRG classifications and weights and in the GAF to compute the adjustment required to maintain budget neutrality for changes in DRG weights and in the GAF. During the transition period, the capital cost model was also used to estimate the regular exception payment adjustment factor. As we explain in section III.A.4. of this Addendum, beginning in FY 2002, an adjustment for regular exception payments is no longer necessary. Therefore, we are no longer using the capital cost model. Instead, we are using historical data based on hospitals' actual cost experiences to determine the exceptions payment adjustment factor for special exceptions payments.

To determine the proposed factors for FY 2006, we compared (separately for the national capital rate and the Puerto Rico capital rate) estimated aggregate capital Federal rate payments based on the FY 2005 DRG relative weights and the average FY 2005 GAF (that is, the weighted average of the GAFs applied from October 2004 through December 2004 and the GAFs applied from January 2005 through September 2005) to estimated aggregate capital Federal rate payments based on the proposed FY 2006 relative weights and the proposed FY 2006 GAF. As we established in the FY 2005 IPPS final rule (69 FR 49287), the budget neutrality factors were 0.9914 for the national capital rate and 0.9895 for the Puerto Rico capital rate for discharges occurring on or after October 1, 2004 through December 31, 2004 (the first quarter of FY 2005). As a result of the corrections to the FY 2005 GAF values established in the December 30, 2004 correction notice (69 FR 78531), effective for January 1, 2005 through September 30, 2005 (the last three quarters of FY 2005), the budget neutrality factor for the national capital rate is 0.9912 and the budget neutrality factor for the Puerto Rico capital rate remained unchanged (0.9895). For FY 2005, the weighted average budget neutrality adjustment factors were 0.9912 (0.9914 × ¼ + 0.9912 × ¾) for the national capital rate (calculations were done on unrounded numbers) and 0.9895 for the Puerto Rico capital rate. In making the comparison, we set the regular and special exceptions reduction factors to 1.00. To achieve budget neutrality for the changes in the national GAF, based on calculations using updated data, we are proposing to apply an incremental budget neutrality adjustment of 1.0022 for FY 2006 to the weighted average of the previous cumulative FY 2005 adjustments of 0.9912 (yielding a proposed adjustment of 0.9934) through FY 2006 (calculations done on unrounded numbers). For the Puerto Rico GAF, we are proposing to apply an incremental budget neutrality adjustment of 1.0240 for FY 2006 to the previous cumulative FY 2005 adjustment of 0.9895, yielding a proposed cumulative adjustment of 1.0132 through FY 2006.

We then compared estimated aggregate capital Federal rate payments based on the FY 2005 DRG relative weights and the average FY 2005 GAF to estimated aggregate capital Federal rate payments based on the proposed FY 2006 DRG relative weights and the proposed FY 2006 GAF. The proposed incremental adjustment for DRG classifications and changes in relative weights is 0.9998 both nationally and for Puerto Rico. The proposed cumulative adjustments for DRG classifications and changes in relative weights and for changes in the GAF through FY 2005 are 0.9931 nationally and 1.013 for Puerto Rico. The following table summarizes the adjustment factors for each fiscal year:

The methodology used to determine the proposed recalibration and geographic (DRG/GAF) budget neutrality adjustment factor for FY 2006 is similar to that used in establishing budget neutrality adjustments under the PPS for operating costs. One difference is that, under the operating PPS, the budget neutrality adjustments for the effect of geographic reclassifications are determined separately from the effects of other changes in the hospital wage index and the DRG relative weights. Under the capital PPS, there is a single DRG/GAF budget neutrality adjustment factor (the national capital rate and the Puerto Rico capital rate are determined separately) for changes in the GAF (including geographic reclassification) and the DRG relative weights. In addition, there is no adjustment for the effects that geographic reclassification has on the other payment parameters, such as the payments for serving low-income patients, indirect medical education payments, or the large urban add-on payments.

In the FY 2005 IPPS final rule (69 FR 49288), we calculated a GAF/DRG budget neutrality factor of 1.0006 for FY 2005. As we noted above, as a result of the revisions to the GAF effective for discharges occurring on or after January 1, 2005 established in the December 30, 2004 correction notice (69 FR 78351), we calculated a GAF/DRG budget neutrality factor of 1.0004 for discharges occurring in the remainder of FY 2005. For FY 2006, we are proposing a GAF/DRG budget neutrality factor of 1.0019. The GAF/DRG budget neutrality factors are built permanently into the capital rates; that is, they are applied cumulatively in determining the capital Federal rate. This follows from the requirement that estimated aggregate payments each year be no more or less than they would have been in the absence of the annual DRG reclassification and recalibration and changes in the GAF. The proposed incremental change in the adjustment from the average from FY 2005 to FY 2006 is 1.0019. The proposed cumulative change in the capital Federal rate due to this adjustment is 0.9931 (the product of the incremental factors for FYs 1993 through 2005 and the proposed incremental factor of 1.0019 for FY 2006). (We note that averages of the incremental factors that were in effect during FYs 2004 and 2005, respectively, were used in the calculation of the proposed cumulative adjustment of 0.9931 for FY 2006.)

This proposed factor accounts for DRG reclassifications and recalibration and for changes in the GAF. It also incorporates the effects on the GAF of FY 2006 geographic reclassification decisions made by the MGCRB compared to FY 2005 decisions. However, it does not account for changes in payments due to changes in the DSH and IME adjustment factors or in the large urban add-on.

4. Proposed Exceptions Payment Adjustment Factor

Section 412.308(c)(3) requires that the capital standard Federal rate be reduced by an adjustment factor equal to the estimated proportion of additional payments for both regular exceptions and special exceptions under § 412.348 relative to total capital PPS payments. In estimating the proportion of regular exception payments to total capital PPS payments during the transition period, we used the actuarial capital cost model originally developed for determining budget neutrality (described in Appendix B of the FY 2002 IPPS final rule (66 FR 40099)) to determine the exceptions payment adjustment factor, which was applied to both the Federal and hospital-specific capital rates.

An adjustment for regular exception payments is no longer necessary in determining the proposed FY 2006 capital Federal rate because, in accordance with § 412.348(b), regular exception payments were only made for cost reporting periods beginning on or after October 1, 1991 and before October 1, 2001. Accordingly, as we explained in the FY 2002 IPPS final rule (66 FR 39949), in FY 2002 and subsequent fiscal years, no payments will be made under the regular exceptions provision. However, in accordance with § 412.308(c), we still need to compute a budget neutrality adjustment for special exception payments under § 412.348(g). We describe our methodology for determining the special exceptions adjustment used in calculating the proposed FY 2006 capital Federal rate below.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exceptions payments if it meets (1) a project need requirement as described at § 412.348(g)(2), which, in the case of certain urban hospitals, includes an excess capacity test as described at § 412.348(g)(4); (2) an age of assets test as described at § 412.348(g)(3); and (3) a project size requirement as described at § 412.348(g)(5).

Based on information compiled from our fiscal intermediaries, six hospitals have qualified for special exceptions payments under § 412.348(g). Since we have cost reports ending in FY 2004 for all of these hospitals, we calculated the proposed adjustment based on actual cost experience. Using data from cost reports ending in FY 2004 from the December 2004 update of the HCRIS data, we divided the capital special exceptions payment amounts for the six hospitals that qualified for special exceptions by the total capital PPS payment amounts (including special exception payments) for all hospitals. Based on the data from cost reports ending in FY 2004, this ratio is rounded to 0.0003. Because we have not received all cost reports ending in FY 2004, we also divided the FY 2004 special exceptions payments by the total capital PPS payment amounts for all hospitals with cost reports ending in FY 2003. This ratio also rounds to 0.0003. Because special exceptions are budget neutral, we are proposing to offset the capital Federal rate by 0.03 percent for special exceptions payments for FY 2006. Therefore, the proposed exceptions adjustment factor is equal to 0.9997 (1−0.0003) to account for special exceptions payments in FY 2006.

In the FY 2005 IPPS final rule (69 FR 49288), we estimated that total (special) exceptions payments for FY 2005 would equal 0.04 percent of aggregate payments based on the capital Federal rate. Therefore, we applied an exceptions adjustment factor of 0.9996 (1−0.0004) in determining the FY 2005 capital Federal rate. As we stated above, we estimate that exceptions payments in FY 2006 would equal 0.03 percent of aggregate payments based on the proposed FY 2006 capital Federal rate. Therefore, we are proposing to apply an exceptions payment adjustment factor of 0.9997 to the capital Federal rate for FY 2006. The proposed exceptions adjustment factor for FY 2006 is 0.01 percent higher than the factor for FY 2005 published in the FY 2005 IPPS final rule (69 FR 49288). The exceptions reduction factors are not built permanently into the capital rates; that is, the factors are not applied cumulatively in determining the capital Federal rate. Therefore, the proposed net change in the exceptions adjustment factor used in determining the proposed FY 2006 capital Federal rate is 1.0001 (0.9997/0.9996).

5. Proposed Capital Standard Federal Rate for FY 2006

In the FY 2005 IPPS final rule (69 FR 49283) and corrected in a December 30, 2004 correction notice (69 FR 78532), we established a capital Federal rate of $416.53 for FY 2005. In this proposed rule, we are proposing to establish a capital Federal rate of $419.90 for FY 2006. The proposed capital Federal rate for FY 2006 was calculated as follows:

• The proposed FY 2006 update factor is 1.0070; that is, the update is 0.7 percent.

• The proposed FY 2006 budget neutrality adjustment factor that is applied to the capital standard Federal payment rate for changes in the DRG relative weights and in the GAF is 1.0019.

• The proposed FY 2006 outlier adjustment factor is 0.9497.

• The proposed FY 2006 (special) exceptions payment adjustment factor is 0.9997.

Because the proposed capital Federal rate has already been adjusted for differences in case-mix, wages, cost-of-living, indirect medical education costs, and payments to hospitals serving a disproportionate share of low-income patients, we are proposing to make no additional adjustments in the capital standard Federal rate for these factors, other than the budget neutrality factor for changes in the DRG relative weights and the GAF.

We are providing a chart that shows how each of the proposed factors and adjustments for FY 2006 affected the computation of the proposed FY 2006 capital Federal rate in comparison to the average FY 2005 capital Federal rate. The proposed FY 2006 update factor has the effect of increasing the capital Federal rate by 0.70 percent compared to the average FY 2005 Federal rate. The proposed GAF/DRG budget neutrality factor has the effect of increasing the capital Federal rate by 0.19 percent. The proposed FY 2006 outlier adjustment factor has the effect of decreasing the capital Federal rate by 0.09 percent compared to the average FY 2005 capital Federal rate, and the proposed FY 2006 exceptions payment adjustment factor has the effect of increasing the capital Federal rate by 0.01 percent compared to the exceptions payment adjustment factor for the FY 2005 capital Federal rate. The combined effect of all the proposed changes is to increase the capital Federal rate by 0.81 percent compared to the average FY 2005 capital Federal rate.

6. Proposed Special Capital Rate for Puerto Rico Hospitals

Section 412.374 provides for the use of a blended payment system for payments to Puerto Rico hospitals under the PPS for acute care hospital inpatient capital-related costs. Accordingly, under the capital PPS, we compute a separate payment rate specific to Puerto Rico hospitals using the same methodology used to compute the national Federal rate for capital-related costs. Under the broad authority of section 1886(g) of the Act, as discussed in section VI. of the preamble of this proposed rule, beginning with discharges occurring on or after October 1, 2004, capital payments to hospitals in Puerto Rico are based on a blend of 25 percent of the Puerto Rico capital rate and 75 percent of the capital Federal rate. The Puerto Rico capital rate is derived from the costs of Puerto Rico hospitals only, while the capital Federal rate is derived from the costs of all acute care hospitals participating in the IPPS (including Puerto Rico).

To adjust hospitals' capital payments for geographic variations in capital costs, we apply a GAF to both portions of the blended capital rate. The GAF is calculated using the operating IPPS wage index and varies, depending on the labor market area or rural area in which the hospital is located. We use the Puerto Rico wage index to determine the GAF for the Puerto Rico part of the capital-blended rate and the national wage index to determine the GAF for the national part of the blended capital rate.

Because we implemented a separate GAF for Puerto Rico in FY 1998, we also apply separate budget neutrality adjustments for the national GAF and for the Puerto Rico GAF. However, we apply the same budget neutrality factor for DRG reclassifications and recalibration nationally and for Puerto Rico. As we stated above in section III.A.4. of this Addendum, for Puerto Rico, the proposed GAF budget neutrality factor is 1.0240, while the proposed DRG adjustment is 0.9998, for a combined cumulative adjustment of 1.0130.

In computing the payment for a particular Puerto Rico hospital, the Puerto Rico portion of the capital rate (25 percent) is multiplied by the Puerto Rico-specific GAF for the labor market area in which the hospital is located, and the national portion of the capital rate (75 percent) is multiplied by the national GAF for the labor market area in which the hospital is located (which is computed from national data for all hospitals in the United States and Puerto Rico). In FY 1998, we implemented a 17.78 percent reduction to the Puerto Rico capital rate as a result of Pub. L. 105-33. In FY 2003, a small part of that reduction was restored.

For FY 2005, before application of the GAF, the special capital rate for Puerto Rico hospitals was $199.01 for discharges occurring on or after October 1, 2004 through September 30, 2005. With the changes we are proposing to the factors used to determine the capital rate, the proposed FY 2006 special capital rate for Puerto Rico is $205.64.

B. Calculation of Proposed Inpatient Capital-Related Prospective Payments for FY 2006

Because the 10-year capital PPS transition period ended in FY 2001, all hospitals (except “new” hospitals under § 412.324(b) and under § 412.304(c)(2)) are paid based on 100 percent of the capital Federal rate in FY 2006. The applicable proposed capital Federal rate was determined by making adjustments as follows:

• For outliers, by dividing the proposed capital standard Federal rate by the proposed outlier reduction factor for that fiscal year; and

• For the payment adjustments applicable to the hospital, by multiplying the hospital's proposed GAF, disproportionate share adjustment factor, and IME adjustment factor, when appropriate.

For purposes of calculating payments for each discharge during FY 2006, the capital standard Federal rate is adjusted as follows: (Standard Federal Rate) × (DRG weight) × (GAF) × (Large Urban Add-on, if applicable) × (COLA adjustment for hospitals located in Alaska and Hawaii) × (1 + Disproportionate Share Adjustment Factor + IME Adjustment Factor, if applicable). The result is the adjusted capital Federal rate.

Hospitals also may receive outlier payments for those cases that qualify under the thresholds established for each fiscal year. Section 412.312(c) provides for a single set of thresholds to identify outlier cases for both inpatient operating and inpatient capital-related payments. The proposed outlier thresholds for FY 2006 are in section II.A.4.c. of this Addendum. For FY 2006, a case qualifies as a cost outlier if the cost for the case plus the IME and DSH payments is greater than the prospective payment rate for the DRG plus $26,675.

An eligible hospital may also qualify for a special exceptions payment under § 412.348(g) for up through the 10th year beyond the end of the capital transition period if it meets: (1) A project need requirement described at § 412.348(g)(2), which in the case of certain urban hospitals includes an excess capacity test as described at § 412.348(g)(4); and (2) a project size requirement as described at § 412.348(g)(5). Eligible hospitals include SCHs, urban hospitals with at least 100 beds that have a DSH patient percentage of at least 20.2 percent or qualify for DSH payments under § 412.106(c)(2), and hospitals that have a combined Medicare and Medicaid inpatient utilization of at least 70 percent. Under § 412.348(g)(8), the amount of a special exceptions payment is determined by comparing the cumulative payments made to the hospital under the capital PPS to the cumulative minimum payment level. This amount is offset by: (1) Any amount by which a hospital's cumulative capital payments exceed its cumulative minimum payment levels applicable under the regular exceptions process for cost reporting periods beginning during which the hospital has been subject to the capital PPS; and (2) any amount by which a hospital's current year operating and capital payments (excluding 75 percent of operating DSH payments) exceed its operating and capital costs. Under § 412.348(g)(6), the minimum payment level is 70 percent for all eligible hospitals.

During the transition period, new hospitals (as defined under § 412.300) were exempt from the capital PPS for their first 2 years of operation and were paid 85 percent of their reasonable costs during that period. Effective with the third year of operation through the remainder of the transition period, under § 412.324(b), we paid the hospitals under the appropriate transition methodology. If the hold-harmless methodology were applicable, the hold-harmless payment for assets in use during the base period would extend for 8 years, even if the hold-harmless payments extend beyond the normal transition period. Under § 412.304(c)(2), for cost reporting periods beginning on or after October 1, 2002, we pay a new hospital 85 percent of its reasonable costs during the first 2 years of operation unless it elects to receive payment based on 100 percent of the capital Federal rate. Effective with the third year of operation, we pay the hospital based on 100 percent of the capital Federal rate (that is, the same methodology used to pay all other hospitals subject to the capital PPS).

C. Capital Input Price Index

1. Background

Like the operating input price index, the capital input price index (CIPI) is a fixed-weight price index that measures the price changes associated with capital costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

We periodically update the base year for the operating and capital input prices to reflect the changing composition of inputs for operating and capital expenses. The CIPI was last rebased to FY 1997 in the FY 2003 IPPS final rule (67 FR 50044). (We note that we are proposing a rebasing to FY 2002 in section IV. of the preamble of this proposed rule.)

2. Forecast of the CIPI for FY 2006

Based on the latest forecast by Global Insight, Inc. (first quarter of 2005), we are forecasting the CIPI to increase 0.7 percent in FY 2006. This reflects a projected 1.3 percent increase in vintage-weighted depreciation prices (building and fixed equipment, and movable equipment) and a 2.7 percent increase in other capital expense prices in FY 2006, partially offset by a 2.3 percent decline in vintage-weighted interest expenses in FY 2006. The weighted average of these three factors produces the 0.7 percent increase for the CIPI as a whole in FY 2006.

IV. Proposed Changes to Payment Rates for Excluded Hospitals and Hospital Units: Rate-of-Increase Percentages

(If you choose to comment on issues in this section, please include the caption “Excluded Hospitals Rate-of-Increase” at the beginning of your comment.)

A. Payments to Existing Excluded Hospitals and Units

As discussed in section VII. of the preamble of this proposed rule, in accordance with section 1886(b)(3)(H)(i) of the Act and effective for cost reporting periods beginning on or after October 1, 2002, payments to existing psychiatric hospitals and units, rehabilitation hospitals and units, and long-term care hospitals (LTCHs) excluded from the IPPS are no longer subject to a cap on a hospital-specific target amount (expressed in terms of the inpatient operating cost per discharge under TEFRA) that is set for each hospital, based on the hospital's own historical cost experience trended forward by the applicable percentage increase. However, the inpatient operating costs of children's hospitals and cancer hospitals that are excluded from the IPPS continue to be subject to the rate-of-increase limits established under the authority of section 1886(b) of the Act and § 413.40 of the regulations. This target amount is applied as a ceiling on the allowable costs per discharge for the hospital's cost reporting period.

Effective for cost reporting periods beginning on or after October 1, 2002, rehabilitation hospitals and units are paid 100 percent of the adjusted Federal prospective payment rate under the IRP PPS. Effective for cost reporting periods beginning on or after October 1, 2002, LTCHs also are no longer paid on a reasonable cost basis, but are paid under a LTCH DRG-based PPS. In implementing the LTCH PPS for existing LTCHs, we established a 5-year transition period from reasonable cost-based payments (subject to the TEFRA limit) to fully Federal prospective payment amounts during which a LTCH may receive a blended payment consisting of two payment components—one based on reasonable cost under the TEFRA payment system, and the other based on the standard Federal prospective payment rate. However, an existing LTCH may elect to be paid based on 100 percent of the standard Federal prospective payment rate during the transition period.

IPFs that have their first cost reporting period beginning on or after January 1, 2005, are not paid on a reasonable cost basis but paid under a prospective per diem payment system. As part of the PPS for existing IPFs, we have established a 3-year transition period during which IPFs will be paid based on a blend of reasonable cost-based payment (subject to the TEFRA limit) and the prospective per diem payment rate. For cost reporting periods beginning on or after January l, 2008, IPFs will be paid 100 percent of the Federal prospective per diem payment amount.

Excluded psychiatric hospitals and units as well as LTCHs that are paid under a blended methodology will have the reasonable cost-based portion of their payment subject to a hospital target amount and, if applicable, the payment amount limitation.

B. Updated Caps for New Excluded Hospitals and Units

Section 1886(b)(7) of the Act established the method for determining the payment amount for new rehabilitation hospitals and units, psychiatric hospitals and units, and LTCHs that first received payment as a hospital or unit excluded from the IPPS on or after October 1, 1997. However, due to the implementation of the IRF PPS, effective for cost reporting periods beginning on or after October 1, 2002, this payment amount (or “new provider cap”) no longer applies to any new rehabilitation hospital or unit because they now are paid 100 percent of the Federal prospective rate under the IRF PPS. In addition, LTCHs that meet the definition of a new LTCH under § 412.23(e)(4) are paid 100 percent of the fully Federal prospective payment rate. In contrast, those “new” LTCHs that meet the criteria under § 413.40(f)(2)(ii) (that is, that were not paid as an excluded hospital prior to October 1, 1997, but were paid as a LTCH before October 1, 2002), may be paid under the LTCH PPS transition methodology, with the reasonable cost portion of the payment subject to § 413.40(f)(2)(ii). Finally, LTCHs that existed prior to October 1, 1997, may also be paid under the LTCH PPS transition methodology, with the reasonable cost portion subject to § 413.40(c)(4)(ii). (The last LTCHs that were subject to the payment amount limitation for “new” LTCHs were new LTCHs that had their first cost reporting period beginning on September 30, 2002. In that case, the payment amount limitation remained applicable for the next 2 years—September 30, 2002 through September 29, 2003, and September 30, 2003 through September 29, 2004. This is because, under existing regulations at § 413.40(f)(2)(ii), the “new hospital” would be subject to the same payment (target amount) in its second cost reporting period that was applicable to the LTCH in its first cost reporting period. Accordingly, for this hospital, the updated payment amount limitation that we published in the FY 2003 IPPS final rule (67 FR 50103) applied through September 29, 2004. Consequently, there is no longer a need to publish updated payment amounts for new (§ 413.40(f)(2)(ii)) LTCHs. A discussion of how the payment limitations were calculated can be found in the August 29, 1997 final rule with comment period (62 FR 46019); the May 12, 1998 final rule (63 FR 26344); the July 31, 1998 final rule (63 FR 41000); and the July 30, 1999 final rule (64 FR 41529).

With the implementation of the LTCH PPS, payment limitations do not apply to any new LTCHs that meet the definition at § 412.23(e)(4) because they are paid 100 percent of the Federal prospective payment rate.

A freestanding inpatient rehabilitation hospital, an inpatient rehabilitation unit of an acute care hospital, and an inpatient rehabilitation unit of a CAH are referred to as IRFs. Effective for cost reporting periods beginning on or after October 1, 2002, this payment limitation is also no longer applicable to new rehabilitation hospitals and units because they are paid 100 percent of the Federal prospective rate under the IRF PPS. Therefore, it is also no longer necessary to update the payment limitation for new rehabilitation hospitals or units.

Under the IPF PPS, there is a 3-year transition period during which existing IPFs will receive a blended payment of the Federal per diem payment amount and the payment amount that IPFs would receive under the reasonable cost-based payment (TEFRA) methodology. IPFs that were “new” under § 413.40(f)(2)(ii) (that is, that were not paid as an excluded hospital prior to October 1, 1997, but were paid as an IPF prior to January 1, 2005), would have the reasonable cost portion of the transition period payment subject to the payment amount limitation as determined according to § 413.40(f)(2)(ii). The last “new” IPFs that were subject to the payment amount limitation were IPFs that had their first cost reporting period beginning on December 31, 2004. For these hospitals, the payment amount limitation that was published in the FY 2005 IPPS final rule (69 FR 49189) for cost reporting periods beginning on or after October 1, 2004, and before January 1, 2005, remains applicable for the IPF's first two cost reporting periods. IPFs with a first cost reporting period beginning on or after January 1, 2005, are paid 100 percent of the Federal rate and are not subject to the payment amount limitation. Therefore, since the last IPFs eligible for a blended payment have a cost reporting period beginning on December 31, 2004, the payment limitation published for FY 2005 remains applicable for these IPFs, and publication of the updated payment amount limitation is no longer needed. We note that IPFs that existed prior to October 1, 1997, may also be paid under the IPF transition methodology with the reasonable cost portion of the payment subject to § 413.40(c)(4)(ii).

The payment limitations for new hospitals under TEFRA do not apply to new LTCHs, IRFs, or IPFs, that is, these hospitals with their first cost reporting period beginning on or after the date that the particular class of hospitals implemented the respective PPS. Therefore, for the reasons noted above, we are proposing to discontinue publishing Tables 4G and 4H (Pre-Reclassified Wage Index for Urban and Rural Areas, respectively) in the annual proposed and final IPPS rules.

V. Payment for Blood Clotting Factor Administered to Hemophilia Inpatients

(If you choose to comment on issues in this section, please include the caption “Payment for Blood Clotting Factor” at the beginning of your comments.)

As discussed in section VIII. of the preamble to this proposed rule, section 1886(a)(4) of the Act excludes the costs of administering blood clotting factors to individuals with hemophilia from the definition of “operating costs of inpatient hospital services.” Section 6011(b) of Pub. L. 101-239 (the Omnibus Budget Reconciliation Act of 1989) provides that the Secretary shall determine the payment amount made to hospitals under Part A of Title XVIII of the Act for the costs of administering blood clotting factors to individuals with hemophilia by multiplying a predetermined price per unit of blood clotting factor by the number of units provided to the individual. Currently, we use the average wholesale price (AWP) methodology used to determine rates paid for Medicare Part B drugs to price blood clotting factors administered to inpatients who have hemophilia under Medicare Part A. Section 303 of Pub. L. 108-173 amended the Act by adding section 1847A, which changed the drug pricing system under Medicare Part B. Effective January 1, 2005, section 1847A of the Act established a payment methodology based on average sales price (ASP) under which almost all Medicare Part B drugs and biologicals not paid on a cost or prospective basis are paid at 106 percent of the ASP.

In the FY 2005 IPPS final rule (69 FR 49292), we had instructed the fiscal intermediaries for FY 2005 to continue to use the Single Drug Pricer (SDP) to establish the pricing limits for the blood clotting factor administered to hemophilia inpatients at 95 percent of the AWP. We did not use the new ASP pricing methodology for Part A blood clotting factor in FY 2005 because the IPPS final rule was published in advance of final regulations implementing the ASP payment methodology for Part B drugs and biologicals. Final regulations establishing the ASP methodology and the furnishing fee for blood clotting factor under Medicare Part B were published on November 15, 2004 (69 FR 66299). Therefore, we believe that a consistent methodology should be used to pay for blood clotting factor administered under both Medicare Part A and Part B. For this reason, we are proposing for FY 2006 that the fiscal intermediaries make payment for blood clotting factor using 106 percent of ASP and make payment for the furnishing fee at $0.14 per individual unit (I.U.) that is currently used for Medicare Part B drugs. The ASP will be updated quarterly. The furnishing fee will be updated annually based on the consumer price index.

VI. Tables

This section contains the tables referred to throughout the preamble to this proposed rule and in this Addendum. Tables 1A, 1B, 1C, 1D, 2, 3A, 3B, 4A, 4B, 4C, 4F, 4J, 5, 6A, 6B, 6C, 6D, 6E, 6F, 6G, 6H, 7A, 7B, 8A, 8B, 9A, 9B, 9C, 10, and 11 are presented below. The tables presented below are as follows:

Table 1A—National Adjusted Operating Standardized Amounts, Labor/Nonlabor (69.7 Percent Labor Share/30.3 Percent Nonlabor Share If Wage Index Is Greater Than 1);

Table 1B—National Adjusted Operating Standardized Amounts, Labor/Nonlabor (62 Percent Labor Share/38 Percent Nonlabor Share If Wage Index Is Less Than or Equal To 1);

Table 1C—Adjusted Operating Standardized Amounts for Puerto Rico, Labor/Nonlabor;

Table 1D—Capital Standard Federal Payment Rate;

Table 2—Hospital Case-Mix Indexes for Discharges Occurring in Federal Fiscal Year 2004; Hospital Average Hourly Wage for Federal Fiscal Years 2004 (2000 Wage Data), 2005 (2001 Wage Data), and 2006 (2002 Wage Data) Wage Indexes and 3-Year Average of Hospital Average Hourly Wages;

Table 3A—FY 2006 3-Year Average Hourly Wage for Urban Areas by CBSA;

Table 3B—FY 2006 and 3-Year Average Hourly Wage for Rural Areas by CBSA;

Table 4A—Wage Index and Capital Geographic Adjustment Factor (GAF) for Urban Areas by CBSA;

Table 4B—Wage Index and Capital Geographic Adjustment Factor (GAF) for Rural Areas by CBSA;

Table 4C—Wage Index and Capital Geographic Adjustment Factor (GAF) for Hospitals That Are Reclassified by CBSA;

Table 4F—Puerto Rico Wage Index and Capital Geographic Adjustment Factor (GAF) by CBSA;

Table 4J—Out-Migration Adjustment—FY 2006;

Table 5—List of Diagnosis Related Groups (DRGs), Relative Weighting Factors, Geometric and Arithmetic Mean Length of Stay;

Table 6A—New Diagnosis Codes;

Table 6B—New Procedure Codes;

Table 6C—Invalid Diagnosis Codes;

Table 6D—Invalid Procedure Codes;

Table 6E—Revised Diagnosis Code Titles;

Table 6F—Revised Procedure Code Titles;

Table 6G—Additions to the CC Exclusions List;

Table 6H—Deletions from the CC Exclusions List;

Table 7A—Medicare Prospective Payment System Selected Percentile Lengths of Stay FY 2004 MedPAR Update December 2004 GROUPER V22.0;

Table 7B—Medicare Prospective Payment System Selected Percentile Lengths of Stay FY 2004 MedPAR Update December 2004 GROUPER V23.0;

Table 8A—Statewide Average Operating Cost-to-Charge Ratios—March 2005;

Table 8B—Statewide Average Capital Cost-to-Charge Ratios—March 2005;

Table 9A—Hospital Reclassifications and Redesignations by Individual Hospital and CBSA—FY 2006;

Table 9B—Hospital Reclassifications and Redesignations by Individual Hospital Under Section 508 of Pub. L. 108-173—FY 2006;

Table 9C—Hospitals Redesignated as Rural under Section 1886(s)(8)(E) of the Act—FY 2006;

Table 10—Geometric Mean Plus the Lesser of .75 of the National Adjusted Operating Standardized Payment Amount (Increased to Reflect the Difference Between Costs and Charges) or .75 of One Standard Deviation of Mean Charges by Diagnosis-Related Groups (DRGs)—March 2005;

Table 11—Proposed FY 2006 LTC-DRGs, Relative Weights, Geometric Average Length of Stay, and 5/6ths of the Geometric Average Length of Stay.

Table 1A.—National Adjusted Operating Standardized Amounts, Labor/NonLabor
[69.7 Percent labor share/30.3 percent nonlabor share if wage index greater than 1]
Full update (3.2 Percent): Labor-related | Full update (3.2 Percent): Nonlabor-related | Reduced update (2.8 Percent): Labor-related | Reduced update (2.8 Percent): Nonlabor-related
$3,286.14 | $1,428.55 | $3,273.40 | $1,423.01

Table 1B.—National Adjusted Operating Standardized Amounts, Labor/Nonlabor
[62 Percent labor share/38 percent nonlabor share if wage index less than or equal to 1]
Full update (3.2 Percent): Labor-related | Full update (3.2 Percent): Nonlabor-related | Reduced update (2.8 Percent): Labor-related | Reduced update (2.8 Percent): Nonlabor-related
$2,923.11 | $1,791.58 | $2,911.78 | $1,784.63

Table 1C.—Adjusted Operating Standardized Amounts for Puerto Rico, Labor/Nonlabor
Rates if wage index greater than 1 | Labor | Nonlabor | Rates if wage index less than or equal to 1: Labor | Rates if wage index less than or equal to 1: Nonlabor
National | $3,286.14 | $1,428.55 | $2,923.11 | $1,791.58
uerto Rico | $1,608.99 | $647.66 | $1,431.24 | $812.25

Table 1D.—Capital Standard Federal Payment Rate
| Rate
National | $419.90
Puerto Rico | $205.64

Table 2.—Hospital Case-Mix Indexes for Discharges Occurring in Federal Fiscal Year 2004; Hospital Average Hourly Wage for Federal Fiscal Years 2004 (2000 Wage Data), 2005 (2001 Wage Data), and 2006 (2002 Wage Data) Wage Indexes and 3-Year Average of Hospital Average Hourly Wages
Provider number | Case-mix index | Wage index FY 2006 | Average hourly wage FY 2004 | Average hourly wage FY 2005 | Average hourly wage FY 2006 | Average hourly wage ** (3 years)
010001 | 1.4678 | 0.7743 | 19.4061 | 20.6563 | 21.3753 | 20.5001
010004 | *** | * | 22.2674 | 22.7585 | * | 22.4801
010005 ʰ | 1.1407 | 0.8872 | 19.6063 | 20.4937 | 22.4906 | 20.9007
010006 | 1.4394 | 0.8305 | 19.0976 | 21.0241 | 23.4823 | 21.1655
010007 | 1.0619 | 0.7495 | 17.5462 | 16.8811 | 18.2430 | 17.5458
010008 | 0.9712 | 0.8276 | 19.6573 | 23.8333 | 20.4591 | 21.3782
010009 | 0.9770 | 0.8517 | 20.4309 | 21.6422 | 23.2229 | 21.7690
010010 ʰ | 1.0191 | 0.9124 | 19.2644 | 22.3021 | 22.3366 | 21.3489
010011 | 1.5689 | 0.8979 | 25.8231 | 24.8166 | 27.4850 | 26.0626
010012 | 1.2232 | 0.9099 | 20.0896 | 21.7622 | 22.7020 | 21.5233
010015 | 0.9785 | 0.7495 | 18.8890 | 20.4732 | 22.1736 | 20.6719
010016 | 1.3257 | 0.8979 | 21.7918 | 23.0414 | 25.1502 | 23.3217
010018 | 1.3369 | 0.8979 | 19.2071 | 20.5888 | 22.2990 | 20.6865
010019 | 1.2272 | 0.8305 | 18.9177 | 20.1336 | 22.0906 | 20.4039
010021 ʰ | 1.1869 | 0.7743 | 17.7596 | 20.7108 | 18.6785 | 19.0123
010022 | 0.9401 | 0.9414 | 22.2267 | 25.8797 | 24.5670 | 24.2502
010023 | 1.8430 | 0.8600 | 20.4901 | 23.7791 | 27.3303 | 23.6794
010024 | 1.5884 | 0.8600 | 18.5942 | 20.0067 | 20.7265 | 19.7702
010025 | 1.3235 | 0.8402 | 19.3649 | 19.8561 | 21.2674 | 20.1430
010027 | 0.7634 | 0.7495 | 14.0975 | 14.9585 | 15.3704 | 14.7992
010029 | 1.5415 | 0.8402 | 20.9868 | 21.6724 | 22.6976 | 21.8061
010031 | *** | * | 21.0176 | 20.9463 | * | 20.9818
010032 | 0.8730 | 0.7495 | 16.4713 | 18.5073 | 19.1555 | 18.1219
010033 | 2.0553 | 0.8979 | 24.5088 | 25.5165 | 26.4666 | 25.5126
010034 | 0.9588 | 0.8600 | 14.9333 | 17.1625 | 16.9686 | 16.3417
010035 | 1.2540 | 0.8872 | 21.6182 | 23.1319 | 22.2870 | 22.3532
010036 | 1.1183 | 0.7495 | 19.2501 | 20.5125 | 22.9747 | 20.9446
010038 | 1.3277 | 0.7702 | 18.6578 | 20.3935 | 21.4509 | 20.2189
010039 | 1.6315 | 0.9124 | 23.0339 | 23.4151 | 25.8594 | 24.1509
010040 | 1.4605 | 0.7974 | 20.7779 | 21.6708 | 22.8851 | 21.7864
010043 | 1.0587 | 0.8979 | 19.9012 | 19.5422 | 22.5945 | 20.7320
010044 | 1.0475 | 0.8872 | 25.8560 | 23.0220 | 21.4036 | 23.2608
010045 | 1.0959 | 0.8872 | 22.7713 | 20.5658 | 20.0357 | 20.9382
010046 | 1.4626 | 0.7974 | 19.6754 | 20.8935 | 21.6965 | 20.8067
010047 | 0.8793 | 0.7495 | 16.1695 | 19.5937 | 21.0604 | 18.8438
010049 | 1.0828 | 0.7495 | 16.2973 | 17.7801 | 20.2413 | 18.1494
010050 | 1.0401 | 0.8979 | 20.7398 | 21.5625 | 22.1584 | 21.5077
010051 | 0.8969 | 0.8724 | 14.3006 | 14.7053 | 15.2208 | 14.7351
010052 | 0.8624 | 0.7495 | 11.9019 | 21.3673 | 16.4959 | 15.4174
010053 | 1.0098 | 0.7495 | 17.3238 | 17.4160 | 19.0108 | 17.9166
010054 | 1.0570 | 0.8517 | 20.6382 | 23.1894 | 22.5554 | 22.1149
010055 | 1.4983 | 0.7743 | 18.9664 | 19.1847 | 22.6828 | 20.2397
010056 | 1.5206 | 0.8979 | 21.1104 | 22.7183 | 23.7144 | 22.5773
010058 | 0.8800 | 0.8979 | 17.7800 | 20.3182 | 18.5537 | 18.9295
010059 | 1.0562 | 0.8517 | 20.5534 | 23.6963 | 21.3237 | 21.8874
010061 | 0.9666 | 0.7495 | 17.0447 | 20.5683 | 21.9374 | 19.8090
010062 | 1.0674 | 0.7743 | 17.1786 | 18.1323 | 18.3435 | 17.8796
010064 | 1.7183 | 0.8979 | 22.2280 | 25.4345 | 26.1110 | 24.2542
010065 | 1.4288 | 0.8276 | 17.2698 | 20.0108 | 21.2363 | 19.5522
010066 | 0.8327 | 0.7495 | 14.8696 | 17.0935 | 17.6152 | 16.5083
010068 | 1.2192 | 0.8979 | 18.3308 | 17.5690 | 19.0789 | 18.3440
010069 | 1.0478 | 0.7495 | 17.0957 | 19.6317 | 21.3608 | 19.4027
010072 | 1.1391 | 0.7702 | 18.8807 | 21.5419 | 21.8169 | 20.7331
010073 | 0.9330 | 0.7495 | 14.9826 | 16.4043 | 16.4168 | 15.9303
010078 | 1.3809 | 0.7702 | 20.1447 | 21.0633 | 21.5616 | 20.9141
010079 | 1.1647 | 0.9124 | 20.7401 | 20.4254 | 21.8199 | 21.0143
010083 ʰ | 1.2094 | 0.8089 | 19.8524 | 20.2166 | 22.3041 | 20.7945
010084 | 1.5531 | 0.8979 | 21.6522 | 22.5219 | 24.7127 | 22.9810
010085 | 1.2261 | 0.8517 | 22.5282 | 23.7007 | 24.4710 | 23.5499
010086 | 1.0771 | 0.7495 | 18.0122 | 19.4332 | 18.6081 | 18.6721
010087 | 1.9176 | 0.7902 | 19.7620 | 21.6226 | 22.5225 | 21.2536
010089 | 1.2348 | 0.8979 | 19.5783 | 22.2508 | 22.7508 | 21.4924
010090 | 1.6643 | 0.7902 | 20.0287 | 21.4322 | 23.6948 | 21.7237
010091 | 0.9178 | 0.7495 | 17.4672 | 19.4222 | 18.6912 | 18.5367
010092 | 1.5079 | 0.8724 | 19.9351 | 22.0709 | 24.6542 | 22.1991
010095 | 0.8622 | 0.8724 | 12.5243 | 13.4426 | 13.9326 | 13.3037
010097 | 0.7734 | 0.8600 | 15.1593 | 17.1735 | 16.7548 | 16.2912
010098 | 1.1131 | 0.7495 | 15.1629 | 19.6717 | 14.3076 | 16.0844
010099 | 0.9798 | 0.7495 | 16.3307 | 18.1849 | 18.7909 | 17.7973
010100 ʰ | 1.6637 | 0.8089 | 19.8146 | 20.0027 | 21.2915 | 20.4113
010101 | 1.1105 | 0.7702 | 19.0718 | 21.0085 | 21.6593 | 20.5878
010102 | 0.8953 | 0.7495 | 16.4637 | 19.9196 | 21.0903 | 19.1526
010103 | 1.8475 | 0.8979 | 22.5709 | 24.2201 | 26.1163 | 24.2529
010104 | 1.7281 | 0.8979 | 20.9391 | 24.1929 | 24.9226 | 23.2581
010108 | 1.0770 | 0.8600 | 20.7787 | 23.7803 | 28.4624 | 24.2639
010109 | 0.9471 | 0.7495 | 18.2235 | 21.7128 | 21.7997 | 20.5179
010110 | 0.7216 | 0.7495 | 16.0015 | 19.2706 | 18.6633 | 18.1283
010112 | 0.9699 | 0.7495 | 17.9243 | 17.2963 | 16.8902 | 17.3960
010113 | 1.6431 | 0.7902 | 19.4106 | 20.4181 | 21.4209 | 20.4385
010114 | 1.3235 | 0.8979 | 20.1763 | 21.5319 | 22.3431 | 21.3345
010115 | 0.8225 | 0.7495 | 15.7872 | 17.5985 | 29.1465 | 19.5466
010118 | 1.2436 | 0.8276 | 19.5302 | 18.8560 | 19.7673 | 19.4467
010119 | *** | * | 20.5245 | 21.8215 | * | 21.1743
010120 | 0.9483 | 0.7902 | 19.4368 | 20.5855 | 20.9450 | 20.3424
010121 | *** | * | 17.1640 | 17.0329 | 24.0867 | 18.5589
010125 | 1.0257 | 0.7495 | 16.8622 | 16.8419 | 18.4114 | 17.3762
010126 | 1.1015 | 0.8276 | 19.9647 | 23.1856 | 23.1381 | 22.1149
010128 | 0.8325 | 0.7495 | 14.7646 | 17.9354 | 21.4201 | 18.0579
010129 ʰ | 0.9813 | 0.7902 | 16.4905 | 18.7821 | 21.3555 | 19.1436
010130 | 0.9433 | 0.8979 | 18.7190 | 18.4944 | 23.2488 | 20.0658
010131 | 1.3281 | 0.9124 | 22.9969 | 24.2197 | 25.7837 | 24.4029
010134 | *** | 0.7495 | 17.7717 | * | * | 17.7717
010138 | 0.6035 | 0.7495 | 14.2025 | 13.5082 | 13.8475 | 13.8713
010139 | 1.5206 | 0.8979 | 22.8390 | 24.9410 | 25.3014 | 24.4108
010143 | 1.1648 | 0.8872 | 20.5639 | 22.1312 | 22.0215 | 21.5734
010144 | 1.5626 | 0.7902 | 19.1497 | 20.6425 | 20.7433 | 20.2040
010145 | 1.2572 | 0.8724 | 22.1394 | 23.1976 | 25.1442 | 23.5267
010146 | 1.0392 | 0.7702 | 21.3083 | 19.9944 | 20.8917 | 20.7213
010148 | 0.8756 | 0.7495 | 17.6829 | 18.5309 | 20.5294 | 19.0227
010149 | 1.3179 | 0.8600 | 21.0086 | 23.1593 | 26.5854 | 23.4663
010150 | 1.0456 | 0.7495 | 21.2360 | 20.6738 | 21.6377 | 21.1783
010152 | 1.1957 | 0.7902 | 21.6038 | 22.1626 | 22.6202 | 22.1446
010157 | 1.1130 | 0.8305 | 19.6977 | 21.3574 | 24.3560 | 21.7462
010158 | 1.0822 | 0.8517 | 18.5464 | 22.4440 | 24.3531 | 21.6528
010161 | *** | * | * | 27.5119 | * | 27.5119
020001 | 1.6973 | 1.2110 | 30.1452 | 31.6091 | 33.6407 | 31.9031
020004 | 1.1807 | 1.1977 | 27.3516 | 29.9926 | 32.0966 | 29.8229
020005 | 0.9509 | 1.1977 | 32.7936 | * | * | 32.7936
020008 | 1.2368 | 1.1977 | 33.4543 | 34.5856 | 35.9236 | 34.6652
020010 | *** | 1.1977 | 20.7929 | * | * | 20.7929
020013 | *** | 1.1977 | 30.6423 | * | * | 30.6423
020017 | 1.9426 | 1.2110 | 30.3017 | 32.9281 | 33.5852 | 32.3606
020024 | 1.1382 | 1.1977 | 28.0930 | 27.9799 | 33.0644 | 29.9221
030001 | 1.3278 | 1.0139 | 25.7513 | 27.7572 | 29.9840 | 27.8499
030002 | 2.0596 | 1.0139 | 25.6038 | 27.9628 | 29.0519 | 27.5075
030003 | *** | * | 22.1436 | * | * | 22.1436
030007 | 1.3390 | 0.8991 | 26.1551 | 26.9442 | 29.6174 | 27.6578
030009 | 0.8821 | 0.9007 | 19.9131 | 21.4065 | 22.3992 | 21.1294
030010 | 1.3277 | 0.9007 | 20.7204 | 22.8647 | 24.8275 | 22.8055
030011 | 1.4456 | 0.9007 | 21.0028 | 22.8422 | 25.1361 | 23.0075
030012 | 1.2863 | 0.9884 | 24.2366 | 25.5205 | 26.3859 | 25.4550
030013 | 1.3235 | 0.9102 | 21.9766 | 23.5229 | 25.7050 | 23.8047
030014 | 1.4420 | 1.0139 | 23.3663 | 25.1189 | 25.6259 | 24.7232
030016 | 1.2336 | 1.0139 | 24.3380 | 27.1583 | 26.7003 | 26.0910
030017 | 1.9999 | 1.0139 | 21.8792 | 24.4055 | 26.2452 | 24.0378
030018 | 1.2176 | 1.0139 | 24.9216 | 24.4308 | 28.9476 | 25.9371
030019 | 1.3058 | 1.0139 | 23.2973 | 28.4917 | 27.3156 | 26.2053
030022 | 1.5630 | 1.0139 | 24.9941 | 25.1461 | 26.4404 | 25.5437
030023 | 1.6295 | 1.2094 | 28.6627 | 28.4112 | 33.8333 | 30.2808
030024 | 1.9347 | 1.0139 | 26.7641 | 28.3470 | 31.6658 | 28.9293
030027 | 0.9159 | 0.8991 | 19.4583 | 21.0527 | 20.4031 | 20.3074
030030 | 1.6344 | 1.0139 | 25.2425 | 24.6005 | 30.2712 | 26.5838
030033 | 1.1959 | 1.1713 | 26.3814 | 26.6009 | 26.6531 | 26.5511
030036 | 1.3185 | 1.0139 | 24.9432 | 26.5708 | 30.3521 | 27.3868
030037 | 2.1135 | 1.0139 | 23.0542 | 30.3907 | 28.6453 | 27.0409
030038 | 1.5694 | 1.0139 | 25.2632 | 26.5178 | 29.5509 | 27.6724
030040 | 0.9316 | 0.8991 | 21.2717 | 22.5130 | 24.8145 | 22.8703
030043 | 1.3135 | 0.8991 | 23.5172 | 26.0825 | 24.7932 | 24.8113
030044 | 0.8987 | 0.8991 | 21.9503 | 19.5714 | * | 20.6512
030055 ʰ | 1.3518 | 1.1416 | 22.8612 | 23.1837 | 24.5202 | 23.5684
030059 | *** | * | * | 24.7676 | * | 24.7676
030060 | 1.1006 | 0.8991 | 21.7685 | 22.3551 | 24.3523 | 22.7950
030061 | 1.6076 | 1.0139 | 22.9706 | 23.4722 | 25.5529 | 24.0363
030062 | 1.1689 | 0.8991 | 21.1639 | 21.9849 | 23.8068 | 22.3433
030064 | 1.9175 | 0.9007 | 22.8009 | 24.6732 | 25.4922 | 24.2954
030065 | 1.5581 | 1.0139 | 24.6064 | 25.6738 | 27.1646 | 25.8836
030067 | 1.0095 | 0.8991 | 18.4003 | 19.1332 | 20.4376 | 19.2370
030068 | 1.0906 | 0.8991 | 19.7097 | 19.7030 | 20.8846 | 20.1346
030069 ʰ | 1.3425 | 1.1416 | 24.5432 | 25.6243 | 26.3518 | 25.5167
030080 | 1.5124 | 0.9007 | 22.8953 | 24.3573 | 25.2077 | 24.1500
030083 | 1.2683 | 1.0139 | 24.3273 | 24.9269 | 27.5353 | 25.6343
030085 | 1.5138 | 0.9007 | 21.8196 | 23.2070 | 24.5792 | 23.3008
030087 | 1.5725 | 1.0139 | 25.6351 | 26.3878 | 26.6594 | 26.2197
030088 | 1.3763 | 1.0139 | 23.5761 | 23.2478 | 26.6796 | 24.5472
030089 | 1.5398 | 1.0139 | 24.5055 | 26.2166 | 27.1835 | 26.0965
030092 | 1.3775 | 1.0139 | 24.0515 | 25.4127 | 27.3203 | 25.7452
030093 | 1.2260 | 1.0139 | 23.2485 | 23.5623 | 25.8955 | 24.3686
030094 | 1.3354 | 1.0139 | 24.5992 | 26.9985 | 29.5948 | 27.0516
030099 | 0.8991 | 0.8991 | 20.3310 | 26.7996 | 26.3236 | 24.0344
030100 | 1.9686 | 0.9007 | 27.6299 | * | 29.0691 | 28.4177
030101 ʰ | 1.3930 | 1.1416 | 23.7661 | 25.0077 | 26.1927 | 25.0150
030102 | 2.4590 | 1.0139 | 27.9419 | * | 29.0942 | 28.5553
030103 | 1.6379 | 1.0139 | 29.1105 | 28.2832 | 30.1994 | 29.2117
030104 | *** | * | 34.6028 | * | * | 34.6028
030106 | 1.5145 | 1.0139 | * | 30.4791 | 34.7222 | 32.1177
040001 | 1.0582 | 0.8615 | 18.7141 | 23.1475 | 23.7718 | 21.8056
040002 | 1.1265 | 0.7478 | 18.0776 | 19.3429 | 20.1384 | 19.2037
040003 | 1.0545 | 0.7478 | 16.3918 | 18.5000 | * | 17.3854
040004 | 1.5197 | 0.8615 | 21.2335 | 23.3504 | 25.0286 | 23.2843
040007 | 1.6581 | 0.8768 | 23.3992 | 23.4565 | 25.7142 | 24.1728
040010 | 1.3488 | 0.8615 | 20.7114 | 22.0984 | 23.0274 | 21.9856
040011 | 1.0063 | 0.7478 | 18.8346 | 19.0319 | 17.9740 | 18.5849
040014 | 1.3420 | 0.8552 | 22.4970 | 24.0846 | 25.3451 | 23.9535
040015 | 1.0378 | 0.7478 | 18.8513 | 18.0793 | 19.2831 | 18.7435
040016 | 1.6546 | 0.8768 | 21.2198 | 22.7219 | 22.1228 | 22.0244
040017 | 1.0968 | 0.8251 | 17.7545 | 19.4365 | 21.9875 | 19.7066
040018 | 0.9839 | 0.8231 | 22.0408 | 23.8515 | 23.6044 | 23.2404
040019 | 1.1290 | 0.9108 | 21.1711 | 21.5316 | 23.7328 | 22.1722
040020 | 1.5076 | 0.9108 | 18.6419 | 20.9136 | 21.6603 | 20.4199
040021 | 1.2489 | 0.8768 | 23.5620 | 24.7771 | 25.6917 | 24.7363
040022 | 1.6031 | 0.8615 | 21.4194 | 23.7462 | 25.3039 | 23.4686
040024 | 1.0523 | 0.7478 | 17.5750 | 20.1101 | * | 18.8371
040026 | 1.4887 | 0.9066 | 22.7699 | 24.3053 | 25.4072 | 24.2169
040027 | 1.3418 | 0.8251 | 19.3388 | 19.9348 | 21.1412 | 20.1077
040029 | 1.5379 | 0.8768 | 22.1882 | 22.8770 | 24.0704 | 23.0869
040032 | 0.9581 | 0.7478 | 16.2781 | 18.5171 | * | 17.4291
040035 | 0.9080 | 0.7478 | 11.8237 | 13.4265 | * | 12.6475
040036 | 1.5682 | 0.8768 | 21.6742 | 24.2851 | 26.3226 | 24.0976
040039 | 1.3369 | 0.7793 | 15.9673 | 17.7976 | 19.5998 | 17.8170
040041 | 1.1827 | 0.8552 | 20.4646 | 22.0188 | 22.1531 | 21.5535
040042 | 1.3549 | 0.9346 | 16.2285 | 18.9550 | 19.9627 | 18.3286
040045 | 0.9321 | 0.7478 | 19.5572 | 18.7952 | 17.6742 | 18.6280
040047 | 1.0748 | 0.7793 | 21.6323 | 21.5334 | 21.9163 | 21.6924
040050 | 1.0797 | 0.7478 | 15.1428 | 15.4782 | 16.3930 | 15.6589
040051 | 0.9177 | 0.7478 | 17.6964 | 18.8943 | 19.1401 | 18.6103
040053 | 0.9720 | 0.7478 | 19.2586 | 20.8153 | 20.7824 | 20.2863
040054 | 1.0287 | 0.7478 | 16.5573 | 16.7370 | 18.2684 | 17.1740
040055 | 1.5474 | 0.8231 | 19.7336 | 22.2237 | 23.3156 | 21.7960
040062 | 1.5855 | 0.8231 | 21.9336 | 21.6403 | 23.1543 | 22.2707
040066 | 1.0396 | 0.7478 | 21.7766 | 23.4616 | * | 22.6592
040067 | 1.0244 | 0.7478 | 16.0516 | 15.1441 | 16.8799 | 16.0038
040069 | 1.0357 | 0.9108 | 20.5968 | 21.7607 | 24.4662 | 22.2668
040071 | 1.5128 | 0.8552 | 19.4324 | 22.9350 | 24.3824 | 22.1870
040072 | 1.0728 | 0.8552 | 19.3079 | 20.8269 | 19.9009 | 19.9951
040074 | 1.1860 | 0.8768 | 22.0800 | 22.6147 | 25.2423 | 23.2187
040075 | 0.9521 | 0.7478 | 15.7875 | 16.2583 | 18.3254 | 17.1733
040076 | 1.0208 | 0.8552 | 23.5947 | 21.0442 | 20.6272 | 21.3785
040077 | 0.9549 | 0.7478 | 16.7832 | 18.3261 | 17.1210 | 17.3842
040078 | 1.5395 | 0.8552 | 21.4854 | 24.4589 | 24.5378 | 23.4806
040080 | 0.9908 | 0.7793 | 18.4470 | 21.3483 | 22.3392 | 20.6867
040081 | 0.8047 | 0.7478 | 13.2797 | 13.7148 | 15.1081 | 14.0348
040084 | 1.0773 | 0.8768 | 20.1163 | 22.6441 | 24.7225 | 22.5619
040085 | 0.9955 | 0.7478 | 15.5811 | 18.0756 | 29.8444 | 19.6100
040088 | 1.3084 | 0.8767 | 20.0032 | 21.2974 | 22.6183 | 21.3215
040091 | 1.1599 | 0.8293 | 20.6688 | 23.0252 | 23.0080 | 22.2365
040100 | 1.3376 | 0.8552 | 17.8889 | 19.3560 | 20.0460 | 19.1639
040105 | 1.0117 | 0.7478 | 15.4697 | 15.8171 | 18.2182 | 16.4079
040107 | 0.7276 | 0.7478 | 17.6695 | * | * | 17.6695
040114 | 1.7030 | 0.8768 | 21.6849 | 23.5628 | 24.8992 | 23.4046
040118 | 1.4016 | 0.7968 | 21.7913 | 24.2547 | 24.7363 | 23.6447
040119 | 1.4402 | 0.8552 | 19.9013 | 20.1631 | 21.0103 | 20.3637
040126 | 0.8718 | 0.7478 | 13.3832 | 12.5944 | 14.0701 | 13.3074
040132 | *** | * | 29.2343 | 36.5525 | 28.1390 | 31.3524
040134 | 2.4142 | 0.8768 | 24.4646 | * | 27.3412 | 25.9794
040137 | 1.1908 | 0.8768 | 24.7813 | 23.4672 | 25.2907 | 24.5263
040138 | 1.2572 | 0.8615 | 22.3523 | 23.3615 | 25.7513 | 23.9295
040140 | *** | * | * | 25.1224 | * | 25.1224
040141 | 0.7691 | 0.8615 | * | * | 24.0901 | 24.0901
040142 | 1.2882 | 0.9066 | * | * | 27.9695 | 27.9695
050002 | 1.3621 | 1.5474 | 30.9729 | 31.9709 | 34.1948 | 32.4064
050006 | 1.6269 | 1.1909 | 25.4604 | 27.6176 | 30.5373 | 27.9248
050007 | 1.4885 | 1.4970 | 34.1406 | 37.5804 | 38.7033 | 36.8959
050008 | 1.3528 | 1.4970 | 32.4067 | 36.9371 | 39.1539 | 36.3445
050009 | 1.7971 | 1.3955 | 30.2740 | 35.5384 | 39.6393 | 35.2947
050013 | 2.0269 | 1.3955 | 29.8401 | 31.7637 | 31.9837 | 31.2570
050014 | 1.1326 | 1.2953 | 27.7646 | 29.5726 | 33.0373 | 30.2311
050015 | 1.2904 | 1.0848 | 27.5652 | 30.1398 | 30.7940 | 29.4852
050016 | 1.2223 | 1.1357 | 25.5508 | 25.5735 | 26.2162 | 25.7788
050017 | 1.9454 | 1.2953 | 28.4911 | 30.5863 | 36.8978 | 31.9726
050018 | 1.1521 | 1.1762 | 17.9621 | 20.3179 | 22.3472 | 20.1629
050022 | 1.5867 | 1.1297 | 28.1312 | 28.2773 | 29.8632 | 28.8610
050024 | 1.0894 | 1.1417 | 25.1425 | 26.9378 | 27.5587 | 26.6747
050025 | 1.8083 | 1.1417 | 29.8262 | 31.7242 | 36.1622 | 32.6605
050026 | 1.5241 | 1.1417 | 24.2564 | 26.6406 | 28.3027 | 26.5474
050028 | 1.2262 | 1.0848 | 18.7866 | 21.5448 | 26.6160 | 21.9931
050029 | *** | * | 30.2538 | 34.3934 | * | 31.9320
050030 | 1.2312 | 1.0848 | 21.9251 | 22.9148 | 24.9707 | 23.2719
050032 | *** | * | 28.8046 | * | * | 28.8046
050038 | 1.5479 | 1.5114 | 36.1619 | 35.0441 | 38.7527 | 36.6692
050039 | 1.6010 | 1.0848 | 26.8993 | 29.8179 | 31.6734 | 29.4369
050040 | 1.2018 | 1.1762 | 30.7426 | 31.8983 | 32.7413 | 31.8084
050042 | 1.3668 | 1.1909 | 27.6765 | 29.8062 | 33.9415 | 30.4516
050043 | 1.6285 | 1.5474 | 37.3217 | 39.6054 | 43.1589 | 40.0134
050045 | 1.2751 | 1.0848 | 22.1691 | 22.7051 | 23.8408 | 22.8906
050046 | 1.2116 | 1.1660 | 25.5490 | 25.2786 | 25.6875 | 25.5104
050047 | 1.7028 | 1.4970 | 34.4427 | 39.3993 | 40.9874 | 38.4201
050054 | 1.1776 | 1.1297 | 21.3495 | 27.1437 | 24.1262 | 24.0051
050055 | 1.2386 | 1.4970 | 36.1182 | 36.9386 | 37.5879 | 36.9364
050056 | 1.3348 | 1.1762 | 27.1458 | 29.4829 | 27.9330 | 28.1647
050057 | 1.6190 | 1.0848 | 24.2759 | 26.2099 | 29.4351 | 26.6650
050058 | 1.5358 | 1.1762 | 25.9389 | 27.3584 | 33.8215 | 29.0264
050060 | 1.4954 | 1.0848 | 22.9491 | 26.5515 | 27.3282 | 25.6824
050061 | 0.8559 | 1.1525 | 25.3042 | * | 32.2172 | 28.5425
050063 | 1.3227 | 1.1762 | 28.6093 | 32.0515 | 33.3039 | 31.3845
050065 | 1.7399 | 1.1660 | 28.8369 | 33.8223 | 34.0280 | 32.3405
050067 | 1.2228 | 1.1885 | 27.8867 | 29.6982 | 31.9597 | 29.7844
050068 | *** | * | 21.9031 | * | * | 21.9031
050070 | 1.2848 | 1.4970 | 39.5178 | 40.5645 | 45.3382 | 41.9509
050071 | 1.3395 | 1.5474 | 40.1344 | 41.1036 | 45.3882 | 42.3609
050072 | 1.3403 | 1.5474 | 39.2529 | 40.8108 | 44.2651 | 41.6223
050073 | 1.3622 | 1.5474 | 38.6763 | 41.3430 | 45.9765 | 42.1975
050075 | 1.2439 | 1.5474 | 40.2265 | 43.7101 | 47.2356 | 44.0053
050076 | 2.0351 | 1.5474 | 40.8075 | 43.0845 | 46.4990 | 43.5903
050077 | 1.6700 | 1.1417 | 27.1234 | 29.6264 | 32.0245 | 29.6181
050078 | 1.2906 | 1.1762 | 24.1091 | 25.6814 | 27.9269 | 25.7615
050079 | 1.4307 | 1.5474 | 38.8981 | 42.7385 | 47.8597 | 43.4884
050082 | 1.6699 | 1.1660 | 27.5022 | 28.9139 | 37.7783 | 31.5037
050084 | 1.5479 | 1.1333 | 26.0607 | 28.2664 | 33.0179 | 29.0525
050088 | *** | 1.1357 | 27.1103 | 26.4093 | 25.7385 | 26.4472
050089 | 1.3648 | 1.1660 | 24.7857 | 29.4884 | 33.5323 | 29.3416
050090 | 1.2969 | 1.4739 | 27.4193 | 31.1774 | 32.9584 | 30.4520
050091 | 1.1034 | 1.1762 | 29.2522 | 30.1534 | 30.8560 | 30.1209
050093 | 1.5128 | 1.0848 | 29.2642 | 31.1083 | 33.4119 | 31.3614
050096 | 1.3036 | 1.1762 | 23.0525 | 24.2277 | 24.6680 | 23.9648
050097 | *** | * | 24.6726 | 26.6788 | * | 25.5991
050099 | 1.5210 | 1.1660 | 27.1282 | 28.7711 | 31.0437 | 29.0188
050100 | 1.7200 | 1.1417 | 25.6798 | 28.0303 | 29.6949 | 27.8627
050101 | 1.2944 | 1.4888 | 32.9866 | 35.4655 | 39.5330 | 36.1079
050102 | 1.3036 | 1.1297 | 25.5763 | 24.9381 | 29.1364 | 26.2832
050103 | 1.5463 | 1.1762 | 27.8079 | 28.7375 | 34.2529 | 30.2688
050104 | 1.4057 | 1.1762 | 26.1592 | 29.1240 | 29.7326 | 28.3301
050107 | 1.3890 | 1.1525 | 22.6900 | 27.6002 | 33.1358 | 27.7768
050108 | 1.9703 | 1.2953 | 28.5244 | 31.4271 | 35.5711 | 32.0693
050110 | 1.2602 | 1.1525 | 21.9297 | 20.0769 | 22.4428 | 21.4435
050111 | 1.2835 | 1.1762 | 23.7715 | 26.6345 | 28.1588 | 26.1803
050112 | 1.5361 | 1.1762 | 31.9797 | 34.0258 | 36.8026 | 34.4310
050113 | 1.2729 | 1.4970 | 32.6932 | 34.2851 | 33.8064 | 33.6092
050114 | 1.3830 | 1.1762 | 28.1938 | 29.2858 | 31.1294 | 29.5973
050115 | 1.4364 | 1.1417 | 24.1481 | 27.5207 | 30.9288 | 27.6106
050116 | 1.5151 | 1.1762 | 28.2924 | 28.8193 | 34.5110 | 30.5901
050117 | 1.2630 | 1.1123 | 24.7555 | 28.2227 | 32.4414 | 28.3268
050118 | 1.1710 | 1.1885 | 28.9358 | 33.0650 | 35.4044 | 32.6634
050121 | 1.3350 | 1.0848 | 25.0858 | 25.5962 | 27.9537 | 26.3210
050122 | 1.5372 | 1.1333 | 29.1534 | 29.7629 | 34.2416 | 31.1709
050124 | 1.2385 | 1.1762 | 23.0843 | 26.7065 | 28.0288 | 25.9680
050125 | 1.3685 | 1.5114 | 35.6573 | 40.9218 | 41.7020 | 39.5040
050126 | 1.3912 | 1.1762 | 27.7126 | 29.6203 | 26.4194 | 27.8473
050127 | 1.3401 | 1.2953 | 21.8719 | 23.6208 | 26.0500 | 23.7297
050128 | 1.5403 | 1.1417 | 28.7668 | 28.3278 | 31.0662 | 29.4553
050129 | 1.7571 | 1.1660 | 25.2780 | 27.8488 | 32.2680 | 28.7272
050131 | 1.2972 | 1.4970 | 37.7845 | 38.6834 | 40.5321 | 39.0707
050132 | 1.4262 | 1.1762 | 27.8805 | 29.4317 | 35.1544 | 30.7495
050133 | 1.4967 | 1.0951 | 25.1948 | 27.6030 | 31.3530 | 28.2112
050135 | 0.9765 | 1.1762 | * | 24.9415 | 24.3927 | 24.6796
050136 | 1.2106 | 1.4739 | 31.6146 | 35.2834 | 37.4560 | 34.8123
050137 | 1.2468 | 1.1762 | 35.0503 | 36.5409 | 38.4827 | 36.7225
050138 | 1.9167 | 1.1762 | 43.0858 | 43.8671 | 46.9557 | 44.6742
050139 | 1.2908 | 1.1762 | 33.8749 | 35.1013 | 37.6217 | 35.5604
050140 | 1.4660 | 1.1660 | 36.1708 | 37.5473 | 39.6269 | 37.8550
050144 | 1.4053 | 1.1762 | 30.3679 | 32.4042 | 33.5109 | 32.1636
050145 | 1.3142 | 1.4140 | 37.5722 | 39.5676 | 42.3134 | 39.8846
050148 | 1.1060 | 1.0848 | 17.3908 | 24.7063 | 27.3005 | 22.6027
050149 | 1.4351 | 1.1762 | 28.0500 | 30.1596 | 33.2270 | 30.4737
050150 | 1.1785 | 1.2953 | 26.7728 | 31.5333 | 31.7560 | 29.9321
050152 | 1.4009 | 1.4970 | 34.5694 | 40.3464 | 43.6487 | 39.6060
050153 | 1.5352 | 1.5114 | 34.5870 | 40.4446 | 43.3190 | 39.3912
050155 | 0.9838 | 1.1762 | 21.2068 | 21.8829 | 21.8550 | 21.6128
050158 | 1.2377 | 1.1762 | 30.6598 | 33.6400 | 35.1326 | 33.3121
050159 | 1.3232 | 1.1660 | 27.4051 | 30.8069 | 31.3199 | 29.8120
050167 | 1.3635 | 1.1333 | 23.2022 | 25.9850 | 28.5179 | 25.9911
050168 | 1.6244 | 1.1660 | 27.5313 | 30.8036 | 33.2506 | 30.5684
050169 | 1.4269 | 1.1762 | 25.6896 | 26.2864 | 27.4644 | 26.5104
050170 | *** | * | 29.4075 | * | * | 29.4075
050173 | 1.2514 | 1.1660 | 27.7070 | 27.6097 | 30.3582 | 28.5541
050174 | 1.6425 | 1.4739 | 33.5204 | 36.3117 | 40.1747 | 36.7717
050175 | 1.2918 | 1.1762 | 26.9627 | 31.5615 | 30.5733 | 29.6977
050177 | 1.2491 | 1.1660 | 23.1575 | 24.7531 | 25.1442 | 24.3743
050179 | 1.2005 | 1.1885 | 23.0583 | 25.8072 | 27.1155 | 25.4092
050180 | 1.5845 | 1.5474 | 36.9905 | 40.8101 | 39.8123 | 39.2517
050186 | *** | * | 27.6638 | * | * | 27.6638
050189 | 0.9939 | 1.4140 | 32.3513 | 20.0709 | 29.1280 | 26.2226
050191 | 1.4343 | 1.1762 | 28.1689 | * | 34.2091 | 31.2052
050192 | 0.9731 | 1.0848 | 19.5327 | 21.2448 | 27.0424 | 22.7189
050193 | 1.1968 | 1.1660 | 24.6307 | 30.7341 | 29.6421 | 28.4881
050194 | 1.3119 | 1.5159 | 28.1413 | 38.6750 | 40.9096 | 35.6972
050195 | 1.5170 | 1.5474 | 42.1735 | 43.9696 | 48.4358 | 44.9294
050196 | 1.0762 | 1.0848 | 20.7257 | 25.2168 | 32.1933 | 25.8088
050197 | 1.9645 | 1.4970 | * | 40.8832 | 48.9052 | 44.8389
050204 | 1.4068 | 1.1762 | 24.9458 | 25.2512 | 28.6423 | 26.2829
050205 | 1.2244 | 1.1762 | 25.2841 | 28.0504 | 27.8611 | 27.0700
050207 | 1.2714 | 1.0951 | 25.1863 | 27.0216 | 29.5215 | 27.2272
050211 | 1.2713 | 1.5474 | 34.3396 | 38.3319 | 41.2166 | 37.8840
050214 | *** | 1.1762 | 22.4773 | 24.4785 | 23.9972 | 23.6229
050215 | 1.6351 | 1.5114 | 36.6063 | 41.6886 | 43.7985 | 40.7257
050217 | 1.1451 | 1.0848 | 22.2055 | 23.6286 | 24.9606 | 23.6369
050219 | 1.0993 | 1.1762 | 21.8649 | 22.9226 | 22.4065 | 22.4391
050222 | 1.6663 | 1.1417 | 25.2922 | 26.3882 | 29.1094 | 27.0242
050224 | 1.7203 | 1.1660 | 26.2108 | 26.7916 | 29.3143 | 27.4653
050225 | 1.5203 | 1.0848 | 25.0219 | 29.5184 | 29.9656 | 28.1785
050226 | 1.5875 | 1.1660 | 26.0826 | 29.2259 | 30.6541 | 28.6959
050228 | 1.3521 | 1.5474 | 38.6751 | 40.1362 | 42.4226 | 40.4482
050230 | 1.3593 | 1.1660 | 30.0380 | 34.1417 | 32.9555 | 32.4641
050231 | 1.6236 | 1.1762 | 27.8896 | 30.1298 | 30.9607 | 29.7082
050232 | 1.4386 | 1.1357 | 25.3439 | 24.4383 | 27.4099 | 25.6865
050234 | 1.1726 | 1.1417 | 24.0754 | 29.2421 | 29.6560 | 27.4243
050235 | 1.5578 | 1.1762 | 27.2838 | 27.8965 | 29.2979 | 28.1654
050236 | 1.3813 | 1.1660 | 27.0687 | 28.1969 | 32.1647 | 29.0012
050238 | 1.4440 | 1.1762 | 26.0312 | 29.1481 | 31.1764 | 28.8569
050239 | 1.5765 | 1.1762 | 27.0866 | 28.2327 | 31.0963 | 28.8857
050240 | 1.6442 | 1.1762 | 32.8542 | 35.2284 | 35.5735 | 34.6528
050242 | 1.3378 | 1.5159 | 34.4412 | 39.7629 | 44.3130 | 39.6054
050243 | 1.6214 | 1.1297 | 28.5626 | 31.8153 | 31.4883 | 30.6830
050245 | 1.3020 | 1.1660 | 25.7585 | 27.0949 | 28.6527 | 27.2127
050248 | 1.0286 | 1.4140 | 29.1192 | 31.6240 | 35.3864 | 32.0261
050251 | 1.0004 | 1.0848 | 24.4552 | 26.5021 | 27.2675 | 26.0899
050253 | *** | 1.1564 | 23.9246 | 22.2450 | 24.0044 | 23.3808
050254 | 1.2166 | 1.2953 | 23.3358 | 24.1512 | 26.3150 | 24.6804
050256 | 1.5778 | 1.1762 | 26.8618 | 28.4728 | 29.8194 | 28.4077
050257 | 0.9814 | 1.0848 | 17.4909 | 20.8367 | 21.3216 | 19.7770
050261 | 1.3007 | 1.0848 | 21.4693 | 25.3005 | 27.3234 | 24.7145
050262 | 2.1232 | 1.1762 | 33.0425 | 36.1162 | 44.0256 | 37.8981
050264 | 1.3196 | 1.5474 | 37.4742 | 41.3478 | 41.1211 | 39.9496
050267 | *** | * | 26.6558 | 26.7060 | * | 26.6806
050270 | 1.3272 | 1.1417 | 27.9871 | 30.0540 | 32.4812 | 30.2697
050272 | 1.3628 | 1.1660 | 24.0921 | 25.9103 | 27.1989 | 25.7666
050276 | 1.1883 | 1.5474 | 34.7422 | 41.2251 | 39.3778 | 38.5361
050277 | 1.0330 | 1.1762 | 35.6323 | 35.8246 | 32.5213 | 34.3014
050278 | 1.5907 | 1.1762 | 26.0331 | 28.0351 | 29.9244 | 28.0988
050279 | 1.2108 | 1.1660 | 23.5145 | 25.5299 | 27.6573 | 25.5685
050280 | 1.6443 | 1.2207 | 28.5504 | 30.6723 | 35.2030 | 31.5494
050281 | 1.4863 | 1.1762 | 25.7832 | 26.2623 | 27.3824 | 26.5030
050283 | 1.5233 | 1.5474 | 35.1831 | 38.5600 | 42.8618 | 39.0003
050286 | *** | * | 19.7352 | 19.4973 | * | 19.6057
050289 | 1.5691 | 1.4970 | 34.9645 | 38.6875 | 41.1061 | 38.2220
050290 | 1.6177 | 1.1762 | 31.9510 | 32.6388 | 34.5482 | 33.0758
050291 | 1.8090 | 1.4739 | 28.3451 | 29.6162 | 35.3653 | 31.1027
050292 | 0.9624 | 1.1297 | 27.6114 | 27.0775 | 26.8879 | 27.1685
050295 | 1.5134 | 1.0848 | 25.4332 | 31.5960 | 36.1950 | 30.7774
050296 | 1.1551 | 1.5114 | 33.5948 | 34.9952 | 39.0061 | 36.0343
050298 | 1.1272 | 1.1660 | 26.1707 | 25.8232 | 27.7416 | 26.6026
050299 | 1.2244 | 1.1762 | 26.9870 | 27.7535 | 31.5435 | 28.9060
050300 | 1.5741 | 1.1660 | 26.3182 | 28.3862 | 30.7148 | 28.5022
050301 | 1.2254 | 1.0848 | 25.7167 | 28.5769 | 31.9995 | 28.7858
050305 | 1.4519 | 1.5474 | 38.7597 | 40.9978 | 44.8630 | 41.5654
050308 | 1.4919 | 1.5114 | 31.6790 | 38.0564 | 43.0691 | 37.5162
050309 | 1.3873 | 1.2953 | 25.5367 | 28.9181 | 34.4278 | 29.9079
050312 | 1.4865 | 1.2207 | 28.2557 | 32.6846 | 33.9022 | 31.7615
050313 | 1.2403 | 1.1333 | 25.3372 | 27.5321 | 31.4999 | 28.4222
050315 | 1.2710 | 1.0848 | 23.6638 | 26.1224 | 27.6037 | 25.8181
050320 | 1.2238 | 1.5474 | 31.4570 | 36.3252 | 40.2352 | 36.0082
050324 | 1.9289 | 1.1417 | 28.4931 | 30.9958 | 32.9792 | 30.9355
050325 | 1.1756 | 1.0848 | 26.6325 | 30.2280 | 30.6117 | 29.1581
050327 | 1.6847 | 1.1660 | 33.0549 | 29.8327 | 33.0087 | 31.8986
050329 | 1.2743 | 1.1297 | 26.6341 | 26.8021 | 26.2120 | 26.5339
050331 | 1.1721 | 1.4739 | 21.5193 | 20.9847 | 20.2692 | 20.9637
050333 | 1.0706 | 1.0848 | 15.6929 | 15.3119 | 23.4009 | 17.5306
050334 | 1.6937 | 1.4140 | 37.2336 | 38.7635 | 40.7467 | 38.9455
050335 | 1.4438 | 1.0848 | 24.9274 | 27.4046 | 26.2576 | 26.2253
050336 | 1.1664 | 1.1333 | 23.2687 | 25.3062 | 28.5659 | 25.7519
050342 | 1.2238 | 1.0848 | 23.0282 | 24.7654 | 26.8507 | 24.9581
050348 | 1.6959 | 1.1660 | 28.9864 | 33.2676 | 37.7898 | 33.4975
050349 | 0.9453 | 1.0848 | 15.6043 | 16.9251 | 17.4791 | 16.6299
050350 | 1.3661 | 1.1762 | 27.2573 | 29.4262 | 31.1833 | 29.2715
050351 | 1.5133 | 1.1762 | 27.4042 | 29.3082 | 30.8661 | 29.2314
050352 | 1.2358 | 1.2953 | 32.6572 | 24.2931 | 33.9362 | 30.0053
050353 | 1.5568 | 1.1762 | 25.4309 | 26.6332 | 29.1630 | 27.0686
050355 | *** | 1.0848 | * | 11.2498 | 5.0506 | 7.4928
050357 | 1.4494 | 1.1525 | 25.2126 | 26.7265 | 32.3095 | 27.5322
050359 | 1.1442 | 1.0848 | 22.9175 | 23.6030 | 24.7311 | 23.7960
050360 | 1.4616 | 1.4970 | 35.9032 | 38.8658 | 37.0769 | 37.3332
050366 | 1.2256 | 1.0848 | 23.4696 | 25.7692 | 31.1854 | 26.8679
050367 | 1.4438 | 1.4888 | 32.6760 | 34.4959 | 38.7604 | 35.6778
050369 | 1.3974 | 1.1762 | 28.0909 | 27.1327 | 29.5697 | 28.2751
050373 | 1.4860 | 1.1762 | 30.7301 | 32.2315 | 32.2596 | 31.7447
050376 | 1.4575 | 1.1762 | 30.3530 | 30.7562 | 32.5870 | 31.2266
050377 | *** | * | 14.3892 | 20.2484 | * | 16.9896
050378 | 0.9702 | 1.1762 | 30.4937 | 33.9087 | 34.2417 | 32.8674
050379 | *** | 1.0848 | 27.5151 | 31.7645 | 32.9575 | 30.5157
050380 | 1.5471 | 1.5114 | 35.8014 | 39.1098 | 42.0782 | 38.9514
050382 | 1.4204 | 1.1762 | 26.8950 | 26.0927 | 27.4131 | 26.8049
050385 | 1.3521 | 1.4739 | * | 25.5735 | 34.5184 | 29.9098
050390 | 1.1788 | 1.1297 | 25.7881 | 28.7761 | 26.0066 | 26.7871
050391 | 1.3048 | 1.1762 | 20.2887 | 21.3012 | 18.1004 | 19.7304
050392 | 1.0187 | 1.0848 | 21.8139 | 22.7209 | * | 22.2790
050393 | 1.3163 | 1.1762 | 26.4918 | 28.2369 | 30.0661 | 28.2139
050394 | 1.4938 | 1.1660 | 25.1869 | 26.0074 | 27.2543 | 26.2043
050396 | 1.5902 | 1.1525 | 28.4161 | 30.5470 | 33.5699 | 30.9065
050397 | 0.8283 | 1.0848 | 24.7279 | 27.4716 | 28.1640 | 26.7356
050407 | 1.1949 | 1.4970 | 33.2894 | 35.6035 | 37.9066 | 35.6609
050410 | 0.9616 | * | 19.8436 | 19.4995 | 21.3814 | 20.2094
050411 | 1.4055 | 1.1762 | 35.5207 | 37.3817 | 37.8064 | 36.9551
050414 | 1.3026 | 1.2953 | 28.2381 | 28.8561 | 34.6532 | 30.6007
050417 | 1.2841 | 1.0848 | 24.5360 | 25.2930 | 29.5031 | 26.5285
050419 | 1.3330 | 1.1909 | 26.4357 | 28.4471 | 33.3125 | 29.3954
050420 | 1.1285 | 1.1762 | 26.7537 | 26.1838 | 24.9401 | 25.8686
050423 | 0.9475 | 1.1297 | 26.5188 | 28.5944 | 30.6416 | 28.6936
050424 | 1.9635 | 1.1417 | 27.5273 | 29.9133 | 31.0730 | 29.4697
050425 | 1.3899 | 1.2953 | 37.7347 | 38.5317 | 42.4177 | 39.7789
050426 | 1.3183 | 1.1660 | 30.9610 | 30.0077 | 30.6899 | 30.5313
050430 | 0.9585 | 1.0848 | 31.5170 | 24.6684 | 25.0607 | 26.4412
050432 | 1.5149 | 1.1762 | 28.1105 | 30.3547 | 30.8030 | 29.8170
050433 | 0.9214 | 1.0848 | 14.3846 | 20.7565 | 23.0806 | 19.1896
050434 | 1.1299 | 1.0848 | * | 25.9506 | 26.1621 | 26.0550
050435 | 1.0952 | 1.1417 | 22.6618 | 32.2183 | 28.0306 | 27.3138
050438 | 1.5305 | 1.1762 | 26.5535 | 26.4668 | 27.2662 | 26.7804
050441 | 1.9649 | 1.5114 | 36.6680 | 38.2823 | 42.9765 | 39.2937
050444 | 1.3319 | 1.1123 | 23.5299 | 27.6971 | 30.5504 | 27.3177
050447 | 0.8880 | 1.1417 | 25.7274 | 21.8552 | 25.2573 | 24.1974
050448 | 1.1326 | 1.0848 | 26.6967 | 25.0983 | 27.9759 | 26.6380
050454 | 1.8679 | 1.4970 | 34.4813 | 36.8383 | 43.3278 | 38.3744
050455 | 1.6861 | 1.0848 | 24.1694 | 24.5314 | 21.8846 | 23.4157
050456 | 1.2166 | 1.1762 | 23.7594 | 22.1675 | 22.5630 | 22.8117
050457 | 1.6122 | 1.4970 | 37.4570 | 40.2725 | 45.5829 | 41.0011
050464 | 1.6731 | 1.1885 | 31.4768 | 37.1342 | 37.3692 | 35.4838
050468 | 1.4533 | 1.1762 | 17.8128 | 29.4280 | 29.5448 | 24.3346
050469 | 1.0831 | 1.0848 | 25.7995 | 27.3281 | 28.9079 | 27.4122
050470 | 1.0907 | 1.0848 | 21.6981 | 18.4689 | 23.6649 | 21.2384
050471 | 1.7659 | 1.1762 | 32.3570 | 34.5484 | 34.5211 | 33.8184
050476 | 1.3587 | 1.0848 | 26.0482 | 30.9974 | 34.6585 | 30.3567
050477 | 1.4963 | 1.1762 | 32.1676 | 34.6400 | 34.6995 | 33.8960
050478 | 0.9760 | 1.1525 | 28.3894 | 30.9865 | 33.3998 | 30.9361
050481 | 1.4169 | 1.1762 | 30.3890 | 31.9177 | 33.7446 | 32.0928
050485 | 1.5976 | 1.1762 | 27.1437 | 28.8459 | 31.4233 | 29.1407
050488 | 1.3096 | 1.5474 | 37.2438 | 40.5313 | 42.9904 | 40.3037
050491 | *** | 1.1564 | 29.2987 | 30.6461 | 32.1379 | 30.5664
050492 | 1.4025 | 1.0848 | 23.7384 | 27.4933 | 27.1540 | 26.2639
050494 | 1.3712 | 1.0848 | 30.8706 | 35.1457 | 34.8963 | 33.6068
050496 | 1.7798 | 1.5474 | 35.7115 | 38.2871 | 42.2672 | 38.6931
050497 | *** | * | 14.4481 | 15.9501 | * | 15.1581
050498 | 1.2871 | 1.2953 | 28.2196 | 28.2667 | 32.7708 | 29.8260
050502 | 1.7452 | 1.1762 | 28.0102 | 28.7200 | 29.5615 | 28.8118
050503 | 1.4596 | 1.1417 | 26.7924 | 29.2001 | 31.6418 | 29.3049
050506 | 1.7058 | 1.1357 | 30.4731 | 32.4509 | 36.0164 | 33.1455
050510 | 1.2059 | 1.5474 | 39.6005 | 44.3883 | 47.5510 | 44.1129
050512 | 1.4016 | 1.5474 | 39.0767 | 41.8921 | 46.9233 | 42.8915
050515 | 1.3200 | 1.1417 | 36.3131 | 37.4251 | 38.9978 | 37.6365
050516 | 1.4489 | 1.2953 | 30.0985 | 29.4936 | 36.2618 | 31.8675
050517 | 1.0642 | 1.1660 | 23.4131 | 23.6034 | 23.9007 | 23.6377
050522 | *** | * | 38.9157 | * | * | 38.9157
050526 | 1.2090 | 1.1660 | 29.0004 | 29.9495 | 31.3744 | 30.1287
050528 | 1.1389 | 1.0848 | 23.9177 | 28.6273 | 29.6838 | 27.7337
050531 | 1.0915 | 1.1762 | 22.7311 | 25.0157 | 26.9420 | 24.9597
050534 | 1.2648 | 1.1297 | 26.7941 | 29.7546 | 29.8603 | 28.8863
050535 | 1.3449 | 1.1660 | 29.7904 | 32.3646 | 32.3723 | 31.6438
050537 | 1.3781 | 1.2953 | 25.1291 | 27.4196 | 31.4527 | 28.1309
050539 | 1.2398 | 1.0848 | 25.3328 | 28.0586 | 29.6856 | 27.7611
050541 | 1.5362 | 1.5474 | 41.1980 | 43.7765 | 46.1121 | 43.8355
050542 | 1.0327 | 1.0848 | 21.2846 | * | * | 21.2846
050545 | 0.6959 | 1.1762 | 33.4322 | 42.9451 | 30.5554 | 35.4562
050546 | 0.7147 | 1.0848 | 42.8052 | 52.7180 | 30.2329 | 41.5266
050547 | 0.8260 | 1.4739 | 40.6483 | 45.1842 | 33.2205 | 39.9154
050548 | 0.7101 | 1.1660 | 32.3944 | 37.1314 | * | 34.6019
050549 | 1.5565 | 1.1604 | 31.8525 | 33.8288 | 34.9818 | 33.6342
050550 | 1.3762 | 1.1660 | 29.0938 | 31.1918 | 30.2302 | 30.2108
050551 | 1.2853 | 1.1660 | 28.6834 | 31.6782 | 31.6165 | 30.7425
050552 | 1.1118 | 1.1762 | 24.9755 | 26.8274 | 27.1744 | 26.5471
050557 | 1.5548 | 1.1885 | 25.8719 | 28.3111 | 31.1871 | 28.6462
050559 | *** | * | 25.3299 | 26.9662 | * | 26.0948
050561 | 1.2178 | 1.1762 | 35.9611 | 37.5863 | 38.8651 | 37.5449
050567 | 1.5865 | 1.1660 | 27.8475 | 30.1167 | 32.9829 | 30.4114
050568 | 1.2251 | 1.0848 | 20.8324 | 22.5008 | 24.4061 | 22.5795
050569 | 1.3462 | 1.3480 | 27.7955 | 30.4874 | 33.0259 | 30.5066
050570 | 1.5162 | 1.1660 | 29.9470 | 32.6896 | 34.0171 | 32.2949
050571 | 1.2578 | 1.1762 | 29.1716 | 32.1656 | 33.6156 | 31.7338
050573 | 1.7100 | 1.1297 | 27.2328 | 30.5249 | 33.3268 | 30.3962
050575 | 1.2597 | 1.1762 | 23.1358 | 23.2447 | 25.2513 | 23.9658
050577 | 1.2157 | 1.1762 | 26.4806 | 28.7060 | 30.8841 | 28.7176
050578 | 1.7450 | 1.1762 | 30.4934 | 31.5953 | 33.8825 | 31.9512
050579 | 1.4291 | 1.1762 | 34.9794 | 40.2740 | 39.4976 | 38.3190
050580 | 1.2595 | 1.1660 | 27.2431 | 29.4337 | 31.6256 | 29.3950
050581 | 1.4452 | 1.1762 | 28.9696 | 32.0823 | 32.1801 | 31.1581
050583 | 1.5670 | 1.1417 | 30.0427 | 33.5209 | 33.3697 | 32.3610
050584 | 1.2914 | 1.1660 | 24.5544 | 24.5757 | 24.8180 | 24.6565
050585 | 1.1457 | 1.1660 | 26.0595 | 27.2982 | 22.7121 | 24.9986
050586 | 1.1583 | 1.1660 | 25.7172 | 25.3551 | 27.4173 | 26.0841
050588 | 1.3347 | 1.1762 | 30.5453 | 32.3603 | 32.8212 | 31.9715
050589 | 1.2362 | 1.1660 | 27.9845 | 30.6273 | 30.9547 | 29.9199
050590 | 1.2814 | 1.2953 | 27.0620 | 31.5987 | 32.1654 | 30.1866
050591 | 1.1623 | 1.1762 | 28.6151 | 28.5915 | 28.8549 | 28.6959
050592 | 1.1716 | 1.1660 | 25.9545 | 32.5000 | 24.4542 | 27.4073
050594 | 1.9876 | 1.1660 | 30.8028 | 34.6747 | 34.7946 | 33.5328
050597 | 1.2330 | 1.1762 | 24.5542 | 25.4868 | 27.5691 | 25.8776
050598 | *** | * | 24.6875 | * | * | 24.6875
050601 | 1.5414 | 1.1762 | 32.3033 | 35.0325 | 34.7409 | 34.0841
050603 | 1.3839 | 1.1660 | 25.0996 | 28.6982 | 30.2464 | 28.0787
050604 | 1.2162 | 1.5114 | 42.0018 | 45.4433 | 49.9429 | 45.9484
050608 | 1.3821 | 1.0848 | 20.7955 | 22.1999 | 23.3630 | 22.1922
050609 | 1.3707 | 1.1660 | 37.4563 | 38.4561 | 41.1797 | 39.1280
050615 | 1.3061 | 1.1762 | 29.4323 | 32.8786 | 33.2909 | 31.8903
050616 | 1.3796 | 1.1660 | 23.1748 | 28.5636 | 36.9017 | 29.6253
050618 | 1.0245 | 1.0848 | 22.3481 | 25.4500 | 27.4539 | 25.0614
050623 | *** | 1.1762 | 29.9553 | 29.6550 | 32.0627 | 30.4768
050624 | 1.2620 | 1.1762 | 23.3492 | 28.1941 | 32.2907 | 27.6796
050625 | 1.7422 | 1.1762 | 30.8013 | 33.5137 | 36.3631 | 33.6260
050630 | *** | * | 27.7051 | 28.0726 | 30.9410 | 28.9666
050633 | 1.2315 | 1.1357 | 30.2883 | 33.4771 | 35.3734 | 33.1070
050636 | 1.3084 | 1.1417 | 23.2573 | 27.2360 | 30.5156 | 27.0926
050641 | 1.2243 | 1.1762 | 21.5030 | 20.4720 | 21.4612 | 21.1520
050644 | 0.8876 | 1.1762 | 28.4054 | 25.6614 | 27.6547 | 27.1915
050662 | 0.7678 | 1.5114 | 40.9242 | 47.5065 | 32.6362 | 40.4932
050663 | 1.0263 | 1.1762 | 22.9161 | 25.1493 | 25.7747 | 24.4728
050667 | 0.8884 | 1.3955 | 31.4906 | 25.9250 | 26.3937 | 27.9100
050668 | 0.9981 | 1.5474 | 55.9594 | * | 31.8065 | 41.1707
050674 | 1.2840 | 1.2953 | 36.8871 | 38.4454 | 42.6866 | 39.5960
050677 | 1.4811 | 1.1762 | 36.2702 | 37.3389 | 38.7984 | 37.5511
050678 | 1.2324 | 1.1660 | 27.1337 | 29.1159 | 30.7220 | 29.1295
050680 | 1.2133 | 1.4888 | 32.7065 | 35.6614 | 38.3946 | 35.9028
050682 | 0.8920 | 1.0848 | 23.0984 | 21.7264 | 21.7791 | 22.0865
050684 | 1.1341 | 1.1297 | 23.7443 | 25.2575 | 26.4234 | 25.2119
050686 | 1.2605 | 1.1297 | 37.3033 | 38.5595 | 40.9486 | 39.0574
050688 | 1.2096 | 1.5114 | 36.5555 | 41.3305 | 41.9325 | 39.9230
050689 | 1.5618 | 1.5474 | 37.5449 | 40.3815 | 42.2018 | 40.1932
050690 | 1.2343 | 1.4739 | 41.1385 | 43.9228 | 47.2769 | 44.3743
050693 | 1.2978 | 1.1660 | 32.6638 | 34.8040 | 35.0621 | 34.2547
050694 | 1.1914 | 1.1297 | 25.8298 | 26.7041 | 28.9544 | 27.1978
050695 | 1.1012 | 1.1333 | 27.8742 | 30.1226 | 35.6549 | 31.4872
050696 | 2.0751 | 1.1762 | 29.9410 | 36.9314 | 35.9220 | 34.4812
050697 | 1.0277 | 1.2207 | 18.6962 | 19.2603 | 25.1984 | 20.8006
050699 | *** | * | 26.0909 | 25.6818 | 26.8210 | 26.1958
050701 | 1.2779 | 1.1297 | 28.4650 | 29.6896 | 29.6253 | 29.3536
050704 | 1.0120 | 1.1762 | 24.6072 | 24.6609 | 25.3488 | 24.8998
050707 | 1.3813 | 1.4970 | 27.7366 | 32.4877 | 34.0550 | 31.4563
050708 | 1.6591 | 1.0848 | 22.1606 | 21.2163 | 22.5034 | 21.9751
050709 | 1.2193 | 1.1660 | 22.7897 | 21.9079 | 25.6119 | 23.3937
050710 | 1.4396 | 1.0848 | 33.7204 | 34.8311 | 39.9858 | 36.4647
050713 | 1.2543 | 1.1762 | 19.0071 | 20.7448 | 20.2803 | 19.9969
050714 | 1.3580 | 1.5159 | 30.3263 | 32.4491 | 33.6676 | 32.2064
050717 | 1.0612 | 1.1762 | 33.0719 | 34.5519 | 38.0796 | 35.2375
050718 | 1.0152 | 1.1297 | 21.7835 | 15.4037 | 21.4996 | 18.9377
050719 | *** | * | 22.0998 | * | * | 22.0998
050723 | 1.2353 | 1.1762 | 33.0797 | 34.9814 | 35.0119 | 34.4384
050724 | 2.1341 | 1.0848 | 23.7567 | * | 34.4267 | 28.5323
050725 | 0.9684 | 1.1762 | 20.6592 | 22.0946 | 21.7816 | 21.6358
050726 | 1.6664 | 1.1885 | 25.8742 | 27.0928 | 27.8433 | 27.0367
050727 | 1.2727 | 1.1762 | * | 23.7179 | 23.9437 | 23.8301
050728 | 1.3207 | 1.4739 | * | 31.4768 | 36.0820 | 33.6891
050729 | 1.4238 | 1.1762 | * | * | 34.2580 | 34.2580
050730 | 1.2649 | 1.1762 | * | * | 51.5425 | 51.5425
060001 | 1.5772 | 1.0517 | 23.1548 | 24.9410 | 26.8470 | 25.0779
060003 | 1.3962 | 1.0517 | 23.0807 | 24.7856 | 24.2224 | 24.0730
060004 | 1.1960 | 1.0710 | 25.0037 | 28.0656 | 29.9649 | 27.8289
060006 | 1.3423 | 0.9379 | 21.8609 | 22.7493 | 24.5704 | 23.0964
060007 | 1.0128 | 0.9379 | 21.4244 | 21.4792 | * | 21.4535
060008 | 1.1014 | 0.9379 | 19.8803 | 21.8037 | 23.3859 | 21.7601
060009 | 1.4646 | 1.0710 | 24.7920 | 27.0511 | 28.7645 | 26.9116
060010 | 1.7149 | 1.0146 | 25.8475 | 27.2290 | 28.9850 | 27.4402
060011 | 1.4232 | 1.0710 | 25.8919 | 26.1958 | 27.2833 | 0126.4630
060012 | 1.4557 | 0.9379 | 22.6374 | 24.1557 | 26.2469 | 24.3434
060013 | 1.3659 | 0.9379 | 23.3954 | 24.9708 | 24.5994 | 24.0758
060014 | 1.7846 | 1.0710 | 27.0326 | 29.6744 | 31.2588 | 29.2315
060015 | 1.7206 | 1.0710 | 27.6338 | 30.1158 | 30.4533 | 29.4109
060016 | 1.1655 | 0.9379 | 22.9300 | 23.9655 | 25.6527 | 24.2479
060018 | 1.2136 | 0.9379 | 21.0581 | 23.6620 | 25.7628 | 23.4747
060020 | 1.5388 | 0.9379 | 20.9025 | 22.2052 | 22.6748 | 21.9753
060022 | 1.5930 | 0.9457 | 24.7928 | 25.7832 | 26.5238 | 25.7483
060023 | 1.6438 | 0.9578 | 24.3749 | 26.7285 | 27.7644 | 26.3625
060024 | 1.7403 | 1.0710 | 25.2409 | 28.7231 | 29.0130 | 27.7028
060027 | 1.5666 | 1.0517 | 25.1480 | 26.6348 | 28.0909 | 26.7085
060028 | 1.3838 | 1.0710 | 27.1303 | 27.9686 | 30.0448 | 28.4352
060029 | *** | 0.9379 | 19.7379 | * | * | 19.7379
060031 | 1.5393 | 0.9457 | 23.8781 | 25.6207 | 26.3650 | 25.3306
060032 | 1.5419 | 1.0710 | 27.1783 | 28.2234 | 30.4247 | 28.6396
060033 | 0.9865 | 0.9379 | 16.7266 | * | * | 16.7266
060036 | 1.1170 | 0.9379 | 19.4144 | 20.4635 | 20.7131 | 20.1878
060041 | 0.9219 | 0.9379 | 20.8746 | 22.7123 | 23.4978 | 22.3670
060043 | 0.9477 | 0.9379 | 19.1085 | 20.0939 | 18.7896 | 19.3418
060044 | 1.1417 | 1.0517 | 25.6112 | 25.2471 | 25.0360 | 25.3737
060049 | 1.2784 | 1.0146 | 25.3425 | 26.8089 | 29.0598 | 27.1748
060050 | 1.1981 | 0.9379 | 20.4386 | 21.9108 | * | 21.1679
060054 | 1.4335 | 0.9590 | 21.1281 | 23.5803 | 22.3490 | 22.3633
060057 | 1.0788 | 0.9379 | 24.3982 | 26.9891 | * | 25.7472
060064 | 1.4680 | 1.0710 | 29.1806 | 30.0963 | 31.3105 | 30.2470
060065 | 1.2936 | 1.0710 | 29.2377 | 28.5282 | 31.1987 | 29.6323
060070 | *** | 0.9379 | 22.6894 | * | * | 22.6894
060075 | 1.2070 | 0.9379 | 27.7835 | 30.7835 | 32.7563 | 30.4907
060076 | 1.2848 | 0.9379 | 23.6266 | 25.5406 | 26.8236 | 25.4496
060096 | 1.5124 | 1.0517 | 26.4167 | 27.4085 | 30.0602 | 27.9908
060100 | 1.6735 | 1.0710 | 28.0561 | 29.7690 | 32.1537 | 30.0220
060103 | 1.1833 | 1.0517 | 26.6863 | 28.8063 | 30.3002 | 28.6961
060104 | 1.3558 | 1.0710 | 26.7683 | 30.8625 | 32.0889 | 29.9703
060107 | 1.4178 | 1.0710 | * | 26.8267 | 26.1883 | 26.4984
060108 | *** | * | 19.0011 | * | * | 19.0011
060111 | *** | * | * | 31.2571 | * | 31.2571
070001 | 1.6316 | 1.1790 | 29.9592 | 32.2718 | 34.0302 | 32.0467
070002 | 1.8165 | 1.1790 | 28.1101 | 29.0663 | 31.1530 | 29.4722
070003 | 1.0898 | 1.1790 | 29.8684 | 31.3716 | 32.7173 | 31.3528
070004 | 1.1896 | 1.1790 | 25.7207 | 27.3004 | 29.2292 | 27.3764
070005 | 1.3796 | 1.1790 | 29.8173 | 29.3265 | 32.1668 | 30.4848
070006 ² | 1.3118 | 1.2607 | 33.3814 | 33.9310 | 36.8469 | 34.7695
070007 | 1.2843 | 1.1790 | 29.0336 | 30.3648 | 31.7097 | 30.4054
070008 | 1.2463 | 1.1790 | 24.3907 | 24.9176 | 26.4806 | 25.2986
070009 | 1.1856 | 1.1790 | 25.6072 | 28.8649 | 30.2706 | 28.2076
070010 | 1.8269 | 1.2607 | 30.4192 | 33.1535 | 32.5798 | 32.0648
070011 | 1.3577 | 1.1790 | 24.9457 | 27.5391 | 29.9105 | 27.3901
070012 | 1.1771 | 1.1790 | 34.9099 | 40.3337 | 44.1424 | 39.6372
070015 | 1.4329 | 1.1790 | 30.0614 | 30.9728 | 33.4595 | 31.5141
070016 | 1.3424 | 1.1790 | 29.7505 | 29.6662 | 31.0903 | 30.2000
070017 | 1.3696 | 1.1790 | 29.2978 | 30.3951 | 31.7223 | 30.4949
070018 ² | 1.3351 | 1.2607 | 33.8654 | 35.7189 | 37.6081 | 35.8796
070019 | 1.2584 | 1.1790 | 27.9838 | 29.6290 | 31.8148 | 29.8448
070020 | 1.3392 | 1.1790 | 28.4084 | 29.9507 | 31.0935 | 29.8423
070021 | 1.2614 | 1.1790 | 30.3254 | 31.4397 | 33.2357 | 31.7179
070022 | 1.7784 | 1.1790 | 29.7376 | 32.3625 | 33.9804 | 32.0199
070024 | 1.3851 | 1.1790 | 28.3460 | 30.8308 | 32.0430 | 30.4352
070025 | 1.8564 | 1.1790 | 28.3017 | 29.2540 | 30.9938 | 29.5451
070027 | 1.2911 | 1.1790 | 36.9700 | 27.3487 | 31.8018 | 31.4568
070028 | 1.5983 | 1.2607 | 28.2078 | 29.5653 | 31.5036 | 29.7843
070029 | 1.2773 | 1.1790 | 25.8107 | 26.3871 | 27.7213 | 26.6692
070031 | 1.2393 | 1.1790 | 25.5880 | 27.2359 | 28.9190 | 27.3126
070033 | 1.2635 | 1.3191 | 34.3904 | 35.5355 | 37.1929 | 35.7524
070034 ² | 1.3877 | 1.2607 | 32.8074 | 35.6831 | 36.2719 | 34.9418
070035 | 1.2964 | 1.1790 | 26.1693 | 27.1816 | 27.5585 | 26.9760
070036 | 1.6654 | 1.1790 | 35.0701 | 34.0555 | 36.1610 | 35.1155
070038 | 1.1608 | * | * | 31.1133 | 25.7516 | 26.9407
070039 | 0.9382 | 1.1790 | 32.6059 | 35.0164 | 31.2269 | 32.9340
080001 | 1.6701 | 1.0652 | 28.0859 | 30.2463 | 30.0242 | 29.4815
080002 | *** | * | 23.7309 | 26.4192 | 27.9670 | 26.0445
080003 | 1.5462 | 1.0652 | 24.8199 | 27.1131 | 29.2266 | 26.9651
080004 | 1.3741 | 1.0652 | 24.2251 | 26.0092 | 27.4735 | 25.9428
080006 | 1.2769 | 0.9606 | 23.6838 | 24.4204 | 25.6160 | 24.5955
080007 | 1.3900 | 1.0289 | 23.4964 | 24.6485 | 27.0074 | 25.0565
090001 | 1.7108 | 1.0935 | 29.5432 | 31.3552 | 35.0413 | 32.0128
090002 | *** | * | 23.5158 | 29.6780 | * | 25.5760
090003 | 1.2607 | 1.0935 | 22.7014 | 27.0514 | 29.2660 | 26.1789
090004 | 1.9783 | 1.0935 | 28.7417 | 29.9785 | 32.0186 | 30.3834
090005 | 1.3818 | 1.0935 | 28.6142 | 30.2504 | 30.7728 | 29.9417
090006 | 1.3806 | 1.0935 | 23.7241 | 25.9086 | 29.5590 | 26.3083
090007 | *** | * | 25.8430 | 30.1419 | * | 27.7359
090008 | 1.4284 | 1.0935 | 19.3212 | 29.6744 | 29.1059 | 25.7761
090011 | 2.0113 | 1.0935 | 31.7710 | 32.4412 | 34.0693 | 32.7262
100001 | 1.5628 | 0.9303 | 22.6150 | 25.2381 | 24.4060 | 24.0790
100002 | 1.3511 | 1.0061 | 22.5982 | 22.1269 | 25.3389 | 23.3729
100004 | 0.9314 | 0.8613 | 15.6306 | 16.2637 | 16.5974 | 16.2012
100006 | 1.6100 | 0.9446 | 23.3745 | 26.2372 | 26.2258 | 25.3340
100007 | 1.6285 | 0.9446 | 24.3305 | 25.4333 | 26.5612 | 25.5135
100008 | 1.6365 | 0.9757 | 22.7706 | 25.7377 | 27.4314 | 25.4374
100009 | 1.4157 | 0.9757 | 24.7811 | 24.4666 | 25.9381 | 25.0983
100010 | *** | * | 25.5614 | 26.9486 | * | 26.2759
100012 | 1.6376 | 0.9333 | 24.2602 | 24.5762 | 26.3798 | 25.1067
100014 | 1.2930 | 0.9307 | 21.7566 | 22.3054 | 24.5862 | 22.8508
100015 | 1.3050 | 0.9292 | 22.1272 | 22.5781 | 24.6038 | 23.0946
100017 | 1.5188 | 0.9307 | 21.1905 | 22.9545 | 26.1580 | 23.5300
100018 | 1.6120 | 1.0115 | 24.1885 | 27.8582 | 28.1191 | 26.7581
100019 | 1.6412 | 0.9826 | 24.2888 | 25.5566 | 27.5435 | 25.8847
100020 | 1.3242 | 0.9757 | 23.5303 | 23.6106 | 23.8785 | 23.6811
100022 | 1.7131 | 1.0508 | 27.9072 | 29.0519 | 29.9345 | 29.0212
100023 | 1.4290 | 0.9446 | 21.8111 | 21.4015 | 23.0074 | 22.0889
100024 | 1.2486 | 0.9757 | 24.4070 | 27.6476 | 30.2395 | 27.3189
100025 | 1.6929 | 0.8613 | 21.2568 | 21.1174 | 22.1580 | 21.5429
100026 | 1.6114 | 0.8613 | 20.1602 | 21.3533 | 21.3651 | 20.9595
100027 | 1.2106 | 0.8613 | 23.8982 | 12.0314 | 16.1223 | 16.3797
100028 | 1.2795 | 0.9826 | 21.8879 | 23.7818 | 26.8661 | 24.1693
100029 | 1.1347 | 0.9757 | 24.6814 | 26.9307 | 27.5844 | 26.4439
100030 | 1.2887 | 0.9446 | 21.8567 | 22.4887 | 24.0943 | 22.9211
100032 | 1.6962 | 0.9292 | 21.6415 | 23.0174 | 25.2033 | 23.3437
100034 | 1.8227 | 0.9757 | 23.1111 | 24.4064 | 25.9415 | 24.5360
100035 | 1.5678 | 0.9554 | 22.6349 | 25.3590 | 26.9407 | 24.9239
100038 | 1.8717 | 1.0508 | 25.7948 | 27.4422 | 29.8583 | 27.7714
100039 | 1.3916 | 1.0508 | 23.8060 | 26.6016 | 28.4627 | 26.3398
100040 | 1.6805 | 0.9303 | 22.4679 | 23.5372 | 23.6443 | 23.2382
100043 | 1.2649 | 0.9292 | 21.7738 | 22.8963 | 25.2273 | 23.3549
100044 | 1.4156 | 1.0162 | 23.9952 | 26.3208 | 28.3596 | 26.2570
100045 | 1.3130 | 0.9446 | 25.2285 | 23.0520 | 26.9641 | 25.0756
100046 | 1.2283 | 0.9292 | 24.2746 | 26.6169 | 26.3673 | 25.8723
100047 | 1.6670 | 0.9274 | 24.3522 | 24.4212 | 25.0404 | 24.6186
100048 | 0.9388 | 0.8613 | 17.5533 | 18.3767 | 18.8771 | 18.2575
100049 | 1.1939 | 0.8934 | 21.8679 | 22.9532 | 22.9810 | 22.6230
100050 | 1.1699 | 0.9757 | 20.0405 | 20.6893 | 19.8713 | 20.2035
100051 | 1.3249 | 0.9446 | 20.0231 | 22.3311 | 23.2764 | 22.0397
100052 | 1.3546 | 0.8934 | 20.5916 | 20.9078 | 22.3920 | 21.3174
100053 | 1.2271 | 0.9757 | 23.7837 | 27.3383 | 27.3224 | 26.2170
100054 | 1.1950 | 0.8877 | 22.0352 | 25.7279 | 28.0512 | 25.3241
100055 | 1.3505 | 0.9292 | 19.6350 | 22.1051 | 23.5332 | 21.7040
100056 | *** | * | 25.9245 | 25.7945 | * | 25.8574
100057 | 1.4813 | 0.9446 | 24.6417 | 22.6038 | 25.3897 | 24.1823
100061 | 1.5361 | 0.9757 | 26.1273 | 26.7673 | 29.2565 | 27.4077
100062 | 1.7092 | 0.8955 | 24.9807 | 24.1413 | 25.2340 | 24.7789
100063 | 1.2093 | 0.9292 | 21.5620 | 21.5566 | 24.7026 | 22.5862
100067 | 1.4142 | 0.9292 | 23.8892 | 23.9333 | 25.4597 | 24.4499
100068 | 1.7170 | 0.9307 | 23.7840 | 24.9025 | 25.9202 | 25.2289
100069 | 1.3251 | 0.9292 | 19.6037 | 22.4386 | 24.3111 | 22.1685
100070 | 1.6333 | 0.9554 | 23.5524 | 23.7746 | 24.9751 | 24.0912
100071 | 1.2241 | 0.9292 | 21.7675 | 23.4176 | 24.9682 | 23.4234
100072 | 1.3679 | 0.9307 | 23.5362 | 24.2934 | 26.0379 | 24.6995
100073 | 1.6820 | 1.0508 | 23.5843 | 25.3685 | 30.3358 | 26.4443
100075 | 1.4565 | 0.9292 | 22.3890 | 23.3503 | 25.1691 | 23.6907
100076 | 1.2340 | 0.9757 | 19.6444 | 21.0777 | 21.9483 | 20.8673
100077 | 1.4278 | 0.9274 | 22.3755 | 24.3478 | 26.0347 | 24.2410
100080 | 1.7259 | 1.0061 | 22.8704 | 26.3596 | 27.0126 | 25.4415
100081 | 1.0413 | 0.8672 | 16.8087 | 16.9168 | 15.6662 | 16.4022
100084 | 1.7911 | 0.9446 | 24.1122 | 25.4140 | 26.3475 | 25.2653
100086 | 1.2082 | 1.0508 | 25.2375 | 26.4817 | 28.2641 | 26.6950
100087 | 1.8721 | 0.9554 | 26.5915 | 25.9909 | 26.4999 | 26.3569
100088 | 1.6620 | 0.9303 | 23.6270 | 24.8729 | 25.9182 | 24.8465
100090 | 1.4618 | 0.9303 | 22.5894 | 24.0501 | 24.2422 | 23.6608
100092 | 1.5036 | 0.9826 | 25.4630 | 26.0856 | 28.4789 | 26.7319
100093 | 1.6987 | 0.8613 | 20.2949 | 21.1547 | 21.3524 | 20.9431
100098 | 1.0859 | 0.8613 | 20.0639 | 21.2505 | * | 20.6613
100099 | 1.0146 | 0.8934 | 18.5287 | 20.4328 | 21.3036 | 20.1035
100102 | 1.0412 | 0.8613 | 21.6772 | 22.8850 | 23.8596 | 22.8413
100103 | 0.9567 | 0.8613 | 20.3633 | 21.7494 | 22.9256 | 21.7001
100105 | 1.3654 | 0.9458 | 24.5464 | 24.9503 | 26.8091 | 25.4381
100106 | 0.9426 | 0.8613 | 20.3417 | 20.2882 | 24.0389 | 21.6406
100107 | 1.1491 | 0.9333 | 23.3789 | 24.4484 | 26.1337 | 24.6951
100108 | 0.7656 | 0.8613 | 14.8039 | 16.3757 | 22.0750 | 17.7359
100109 | 1.2500 | 0.9446 | 23.0779 | 23.8836 | 24.9951 | 24.0208
100110 | 1.5138 | 0.9446 | 24.4533 | 28.3699 | 29.1494 | 27.5406
100113 | 1.9521 | 0.9461 | 24.3614 | 25.0067 | 26.6479 | 25.3817
100114 | 1.3471 | 0.9757 | 25.3699 | 27.7413 | 29.2195 | 27.4364
100117 | 1.1856 | 0.9303 | 23.9134 | 26.0451 | 26.4536 | 25.5634
100118 | 1.3280 | 0.9303 | 24.1104 | 23.6669 | 28.0569 | 25.5448
100121 | 1.0708 | 0.8934 | 23.1100 | 24.0937 | 24.8579 | 24.0497
100122 | 1.2187 | 0.8877 | 24.1820 | 21.2597 | 23.4751 | 22.8811
100124 | 1.1623 | 0.8613 | 24.3048 | 21.6483 | 22.7023 | 22.7933
100125 | 1.1807 | 0.9757 | 22.4185 | 25.3532 | 26.7452 | 24.9756
100126 | 1.4012 | 0.9292 | 21.7977 | 23.2996 | 24.0192 | 23.0655
100127 | 1.6390 | 0.9292 | 21.0153 | 21.3223 | 23.8920 | 22.0931
100128 | 2.1468 | 0.9292 | 24.4104 | 25.6763 | 29.4979 | 26.6451
100130 | 1.1903 | 1.0061 | 20.2478 | 22.8324 | 24.2046 | 22.4252
100131 | 1.2656 | 0.9757 | 25.4811 | 25.8316 | 29.2462 | 26.9103
100132 | 1.2174 | 0.9292 | 21.1538 | 23.0428 | 24.3293 | 22.8670
100134 | 0.9426 | 0.8613 | 18.3391 | 19.5337 | 20.9244 | 19.6271
100135 | 1.5934 | 0.8712 | 20.4915 | 22.3071 | 24.0024 | 22.2526
100137 | 1.1612 | 0.8934 | 20.4007 | 23.3692 | 25.1974 | 23.1447
100139 | 0.8526 | 0.9461 | 18.2204 | 14.5046 | 17.5489 | 16.8211
100140 | 1.1665 | 0.9303 | 22.5124 | 24.8165 | 26.4720 | 24.7189
100142 | 1.2175 | 0.8613 | 20.0689 | 20.7219 | 22.9577 | 21.2432
100147 | *** | 0.8613 | 17.1045 | * | * | 17.1045
100151 | 1.7655 | 0.9303 | 26.6470 | 26.1848 | 28.1322 | 27.0891
100154 | 1.5497 | 0.9757 | 23.0820 | 26.3703 | 27.6127 | 25.8181
100156 | 1.1022 | 0.8613 | 20.6928 | 22.2757 | 26.7092 | 23.2451
100157 | 1.5782 | 0.9292 | 23.1045 | 25.9133 | 27.3851 | 25.4671
100160 | 1.1887 | 0.8613 | 23.4877 | 27.2019 | 26.9851 | 25.9544
100161 | 1.5792 | 0.9446 | 24.6268 | 28.3607 | 28.8077 | 27.4143
100162 | *** | * | 23.8001 | * | * | 23.8001
100167 | 1.2864 | 1.0508 | 26.4517 | 26.8584 | 30.3694 | 27.8827
100168 | 1.3732 | 1.0061 | 24.6276 | 26.0864 | 27.1292 | 25.9577
100169 | *** | * | 23.4575 | * | * | 23.4575
100173 | 1.7343 | 0.9292 | 19.7190 | 22.4866 | 24.5390 | 22.2987
100175 | 0.9876 | 0.8613 | 21.0474 | 22.0666 | 23.5455 | 22.2224
100176 | 1.8792 | 1.0162 | 26.8740 | 29.8326 | 31.2694 | 29.3692
100177 | 1.3177 | 0.9826 | 24.5078 | 25.3973 | 26.6781 | 25.6089
100179 | 1.7603 | 0.9303 | 24.1801 | 26.6537 | 29.5619 | 26.9037
100180 | 1.3719 | 0.9292 | 24.9433 | 26.3299 | 27.1804 | 26.1924
100181 | 1.0880 | 0.9757 | 18.1320 | 19.5022 | 21.8540 | 19.8108
100183 | 1.1753 | 0.9757 | 24.4575 | 26.7893 | 27.4951 | 26.3276
100187 | 1.2686 | 0.9757 | 23.4760 | 26.1394 | 27.3653 | 25.7401
100189 | 1.3096 | 1.0508 | 26.6846 | 26.5763 | 28.4136 | 27.3048
100191 | 1.3075 | 0.9292 | 24.1911 | 24.3553 | 26.6340 | 25.0785
100200 | 1.3785 | 1.0508 | 24.8120 | 28.0926 | 29.8963 | 27.6635
100204 | 1.5254 | 0.9461 | 22.2613 | 24.4697 | 25.7537 | 24.2423
100206 | 1.2968 | 0.9292 | 22.8782 | 23.0340 | 25.2196 | 23.7228
100208 | *** | * | 24.1482 | 24.9854 | * | 24.5807
100209 | 1.3575 | 0.9757 | 23.8502 | 25.0778 | 26.6246 | 25.2683
100210 | 1.5359 | 1.0508 | 26.0933 | 28.6449 | 28.9486 | 27.9114
100211 | 1.1787 | 0.9292 | 24.3243 | * | 24.7095 | 24.5352
100212 | 1.4636 | 0.8955 | 22.6584 | 24.2669 | 24.7566 | 23.9351
100213 | 1.5843 | 0.9554 | 24.4467 | 25.1893 | 27.1983 | 25.6153
100217 | 1.1771 | 1.0162 | 24.0291 | 25.2635 | 25.2907 | 24.8791
100220 | 1.6524 | 0.9333 | 24.9733 | 25.0154 | 26.0905 | 25.3692
100223 | 1.5843 | 0.8877 | 21.2434 | 23.4556 | 24.7015 | 23.2004
100224 | 1.2340 | 1.0508 | 23.0804 | 23.3593 | 24.8077 | 23.7932
100225 | 1.2707 | 1.0508 | 23.9971 | 27.9473 | 28.4316 | 26.8326
100226 | 1.2697 | 0.9303 | 23.8701 | 27.8003 | 29.3317 | 27.1288
100228 | 1.3187 | 1.0508 | 26.2593 | 27.2873 | 29.8952 | 28.0013
100229 | *** | * | 21.0038 | * | * | 21.0038
100231 | 1.6878 | 0.8613 | 23.5418 | 24.6994 | 25.5175 | 24.6455
100232 ʰ | 1.2214 | 0.9303 | 21.8105 | 23.9405 | 24.9322 | 23.5285
100234 | 1.3110 | 1.0061 | 24.9141 | 25.2574 | 26.3601 | 25.5144
100236 | 1.3623 | 0.9274 | 23.9781 | 25.9282 | 26.6585 | 25.5663
100237 | 1.9568 | 1.0508 | 26.7664 | 25.6112 | 31.3543 | 27.7849
100238 | 1.5077 | 0.9292 | 24.6513 | 27.1748 | 28.4302 | 26.8154
100239 | 1.2789 | 0.9554 | 25.0509 | 26.9668 | 27.7592 | 26.6605
100240 | 0.9534 | 0.9757 | 23.0650 | 23.4830 | 25.3265 | 24.0024
100242 | 1.3586 | 0.8613 | 20.4681 | 21.5130 | 24.0990 | 22.0856
100243 | 1.5324 | 0.9292 | 23.2812 | 25.2987 | 26.1131 | 24.9766
100244 | 1.3330 | 0.9333 | 23.4876 | 24.1515 | 25.2584 | 24.3502
100246 | 1.6049 | 1.0162 | 26.7630 | 27.6382 | 28.9894 | 27.8151
100248 | 1.4986 | 0.9292 | 23.8742 | 25.9170 | 27.7797 | 25.9263
100249 | 1.2539 | 0.8955 | 21.3942 | 23.4021 | 23.2084 | 22.6697
100252 | 1.1974 | 1.0162 | 22.6475 | 24.9860 | 25.8540 | 24.5257
100253 | 1.3797 | 1.0061 | 23.6939 | 24.4051 | 25.7121 | 24.6472
100254 | 1.5814 | 0.8712 | 23.2794 | 25.0192 | 25.7338 | 24.6995
100255 | 1.1947 | 0.9292 | 22.9793 | 22.2341 | 24.1169 | 23.1055
100256 | 1.9673 | 0.9292 | 24.1969 | 26.0629 | 28.8856 | 26.4333
100258 | 1.4847 | 1.0061 | 24.5699 | 31.8772 | 31.2482 | 29.0443
100259 | 1.2244 | 0.9292 | 24.1148 | 24.9404 | 26.0175 | 25.0705
100260 | 1.3413 | 1.0162 | 23.5164 | 25.2630 | 27.5188 | 25.5518
100262 | *** | * | 23.8006 | 26.3954 | * | 25.1412
100264 | 1.2531 | 0.9292 | 22.4800 | 25.0250 | 25.5489 | 24.4115
100265 | 1.2774 | 0.9292 | 21.0688 | 23.4758 | 23.6151 | 22.8276
100266 | 1.4031 | 0.8613 | 21.5258 | 22.6614 | 23.2340 | 22.5196
100267 | 1.2776 | 0.9554 | 23.3760 | 26.5059 | 27.3768 | 25.7444
100268 | 1.1529 | 1.0061 | 26.0297 | 29.8289 | 29.2898 | 28.4053
100269 | 1.3034 | 1.0061 | 24.9002 | 25.3228 | 26.7450 | 25.7303
100275 | 1.2616 | 1.0061 | 23.1419 | 24.3059 | 26.0361 | 24.5544
100276 | 1.2369 | 1.0508 | 25.4557 | 27.2589 | 30.0576 | 27.6322
100277 | 1.3339 | 0.9757 | 25.2985 | 47.3905 | 16.5427 | 24.0477
100279 | 1.2334 | 0.9333 | 24.8484 | 25.4909 | 26.8606 | 25.7747
100281 | 1.2641 | 1.0508 | 25.3382 | 27.0864 | 28.6660 | 27.1929
100284 | 1.0813 | 0.9757 | 22.3046 | 22.5927 | 23.8170 | 22.9628
100286 | 1.5579 | 1.0115 | * | 27.1051 | 29.4284 | 28.3288
100287 | 1.3676 | 1.0061 | * | 28.2229 | 28.3427 | 28.2858
100288 | 1.5140 | 1.0061 | * | 37.4785 | 33.8141 | 35.4781
100289 | 1.7415 | 1.0508 | * | 28.4504 | 29.2915 | 28.8970
100290 | 1.1280 | 0.8613 | * | * | 23.5080 | 23.5080
100292 | 1.2103 | 0.8672 | * | * | 25.9093 | 25.9093
110001 | 1.2172 | 0.9637 | 24.0561 | 25.1164 | 25.2695 | 24.8146
110002 | 1.2471 | 0.9637 | 20.4502 | 21.8616 | 25.3897 | 22.5380
110003 | 1.2762 | 0.9303 | 19.7061 | 20.0968 | 21.4002 | 20.4029
110004 | 1.2242 | 0.9099 | 21.8791 | 22.7929 | 23.9911 | 22.8563
110005 | 1.1543 | 0.9637 | 23.6146 | 22.3645 | 22.8082 | 22.9077
110006 | 1.4983 | 0.9813 | 23.8762 | 25.0719 | 28.6090 | 25.8225
110007 | 1.5952 | 0.8645 | 28.2025 | 30.7430 | 23.8785 | 27.0990
110008 | 1.3541 | 0.9637 | 22.6308 | 23.4662 | 27.0198 | 24.4256
110010 | 2.1112 | 0.9637 | 27.2029 | 28.7690 | 29.7142 | 28.5850
110011 | 1.1841 | 0.9637 | 23.2149 | 25.4620 | 26.0899 | 24.9213
110015 | 1.1253 | 0.9637 | 23.2280 | 25.5661 | 26.6610 | 25.2080
110016 | 1.1938 | 0.7684 | 18.8228 | 18.8376 | 21.7610 | 19.7802
110018 | 1.1764 | 0.9637 | 24.7007 | 25.6485 | 28.2431 | 26.2640
110020 | 1.2808 | 0.9637 | 23.3004 | 24.8735 | 26.8501 | 25.0177
110023 | 1.3725 | 0.9637 | 23.5673 | 25.3746 | 27.3029 | 25.5307
110024 | 1.3712 | 0.9483 | 22.1471 | 23.8091 | 25.7205 | 23.8901
110025 | 1.4319 | 0.9303 | 29.0965 | 31.5253 | 26.1311 | 28.6493
110026 | 1.1005 | 0.7684 | 19.3201 | 20.5740 | 21.2826 | 20.4005
110027 | 1.0627 | 0.7684 | 19.8351 | 19.2323 | 20.2175 | 19.7328
110028 | 1.7504 | 0.9567 | 25.9474 | 25.1836 | 27.9184 | 26.3393
110029 | 1.6515 | 0.9637 | 22.7981 | 25.2335 | 24.8893 | 24.3542
110030 | 1.1953 | 0.9637 | 22.2341 | 25.0842 | 26.4770 | 24.7162
110031 | 1.2600 | 0.9637 | 22.8695 | 24.1711 | 26.0384 | 24.4325
110032 | 1.1631 | 0.7684 | 18.0744 | 20.7211 | 21.9407 | 20.2437
110033 | 1.3973 | 0.9637 | 24.1447 | 25.2326 | 28.3210 | 25.8930
110034 | 1.6993 | 0.9567 | 24.0791 | 24.4141 | 27.0099 | 25.1876
110035 | 1.4949 | 0.9637 | 24.2581 | 25.7562 | 27.5532 | 25.9518
110036 | 1.7799 | 0.9483 | 24.4788 | 25.4854 | 26.8789 | 25.6507
110038 | 1.5400 | 0.8420 | 20.1710 | 20.5880 | 21.2138 | 20.6802
110039 | 1.4119 | 0.9567 | 17.0608 | 19.4032 | 19.7892 | 18.7582
110040 | 1.1097 | 0.9637 | 17.3095 | 18.8744 | 19.7509 | 18.6568
110041 | 1.2580 | 0.9684 | 20.8080 | 21.5402 | 23.4074 | 21.9417
110042 | 1.0979 | 0.9637 | 25.5588 | 26.8321 | 23.4645 | 25.2397
110043 | 1.7289 | 0.9483 | 22.7589 | 25.2788 | 26.7522 | 24.9357
110044 | 1.1609 | 0.7684 | 19.2562 | 19.6940 | 20.9654 | 19.9819
110045 | 1.1384 | 0.9637 | 19.7746 | 21.3922 | 24.9821 | 22.1119
110046 | 1.1501 | 0.9637 | 21.6201 | 24.0022 | 23.8292 | 23.2190
110049 | 0.9635 | 0.7684 | 18.9096 | 19.8706 | * | 19.4074
110050 | 1.0937 | 0.9033 | * | 25.6020 | * | 25.6020
110051 | 1.1347 | 0.7684 | 17.6816 | 19.0995 | 19.4276 | 18.7634
110054 | 1.4875 | 0.9637 | 20.5387 | 22.2250 | 25.7085 | 22.7254
110056 | 0.9430 | 0.7684 | 21.7608 | 23.0080 | * | 22.3710
110059 | 1.0697 | 0.7684 | 19.9802 | 18.7097 | 20.5565 | 19.6943
110061 | *** | 0.8873 | 18.6696 | * | * | 18.6696
110064 | 1.4700 | 0.8570 | 21.7636 | 23.8739 | 24.2739 | 23.3486
110069 | 1.2734 | 0.9087 | 21.0518 | 22.3006 | 24.1669 | 22.5324
110071 | 0.9739 | 0.7684 | 15.2336 | 13.3731 | 18.0224 | 15.4555
110073 | 1.0759 | 0.7684 | 15.2711 | 16.3610 | 18.6336 | 16.6863
110074 | 1.4999 | 0.9813 | 24.4094 | 27.5836 | 27.0337 | 26.3402
110075 | 1.2670 | 0.9316 | 20.4634 | 20.9973 | 22.0935 | 21.2149
110076 | 1.4563 | 0.9637 | 23.8211 | 25.2424 | 26.3506 | 25.1774
110078 | 2.0424 | 0.9637 | 28.2149 | 27.8627 | 24.8746 | 26.9445
110079 | 1.3966 | 0.9637 | 22.8017 | 24.5255 | 23.1024 | 23.4646
110080 | 1.2439 | 0.9637 | 24.1958 | 21.5482 | 22.3213 | 22.5788
110082 | 1.9154 | 0.9637 | 27.2931 | 28.9731 | 29.8366 | 28.7072
110083 | 1.9070 | 0.9637 | 24.6460 | 26.2604 | 27.8245 | 26.3029
110086 | 1.3847 | 0.7684 | 18.8751 | 20.8557 | 21.1509 | 20.2673
110087 | 1.4065 | 0.9637 | 25.7908 | 26.2872 | 28.0471 | 26.7332
110089 | 1.1502 | 0.7684 | 20.6757 | 21.2013 | 21.9509 | 21.2887
110091 | 1.2996 | 0.9637 | 24.3354 | 26.3857 | 26.5523 | 25.8218
110092 | 1.0125 | 0.7684 | 16.9116 | 18.7397 | 18.5527 | 18.0853
110095 | 1.3953 | 0.8710 | 20.1024 | 21.8709 | 23.4846 | 21.8636
110096 | 0.9779 | 0.7684 | 18.5513 | 19.4498 | * | 19.0000
110100 | 0.9643 | 0.7684 | 15.1316 | 16.5833 | 16.5600 | 16.0845
110101 | 1.0706 | 0.7684 | 13.3943 | 14.4630 | 16.4270 | 14.7428
110104 | 1.0494 | 0.7684 | 17.9805 | 19.5575 | 18.7951 | 18.8040
110105 | 1.3229 | 0.7684 | 19.2156 | 20.6270 | 21.1077 | 20.3365
110107 | 1.8630 | 0.9485 | 21.8167 | 26.0763 | 26.2526 | 24.6977
110109 | 1.0104 | 0.7684 | 18.7397 | 20.4726 | 21.4280 | 20.2690
110111 | 1.1313 | 0.9567 | 20.9535 | 20.5577 | 29.2190 | 22.9282
110112 | 0.9374 | 0.7684 | 20.4565 | 21.0612 | 24.2463 | 21.7104
110113 | 1.0686 | 0.9567 | 18.0770 | 16.7641 | 19.1753 | 18.0155
110115 | 1.6816 | 0.9637 | 26.3274 | 29.8699 | 32.0197 | 29.3454
110118 | *** | 0.7684 | 17.7344 | * | * | 17.7344
110121 | 1.0384 | 0.7684 | 19.5230 | 21.2534 | 21.6637 | 20.8173
110122 | 1.5295 | 0.8420 | 20.4184 | 22.0210 | 23.7589 | 22.1314
110124 | 1.0742 | 0.7684 | 19.7004 | 20.9334 | 22.7058 | 21.1178
110125 | 1.2373 | 0.9087 | 19.8695 | 22.1458 | 22.4238 | 21.5044
110128 | 1.2076 | 0.9316 | 28.4943 | 23.2576 | 24.4596 | 24.9779
110129 | 1.5230 | 0.8570 | 21.8204 | 22.4202 | 23.3631 | 22.5595
110130 | 0.9412 | 0.7684 | 17.5272 | 17.6529 | 18.7549 | 18.0115
110132 | 1.0349 | 0.7684 | 17.2924 | 18.9927 | 19.2307 | 18.5224
110135 | 1.2847 | 0.7684 | 18.5125 | 20.0057 | 20.4411 | 19.6750
110136 | 1.0675 | 0.7684 | 21.1235 | 22.7715 | 15.3030 | 19.7964
110142 | 0.9587 | 0.7684 | 16.3359 | 17.3328 | 18.1980 | 17.2921
110143 | 1.3701 | 0.9637 | 24.3898 | 25.4932 | 24.2240 | 24.6996
110146 | 1.0472 | 0.7684 | 17.2250 | 19.9221 | 23.9067 | 20.1122
110149 | 1.3335 | 0.9637 | 25.3619 | 24.7686 | 27.1477 | 25.8232
110150 | 1.2656 | 0.9087 | 22.7366 | 23.8157 | 22.6624 | 23.0726
110153 | 1.1467 | 0.9087 | 21.5300 | 22.8660 | 24.5368 | 22.9872
110155 | *** | * | 16.1785 | * | * | 16.1785
110163 | 1.4114 | 0.8645 | 21.9411 | 25.5461 | 26.0764 | 24.4314
110164 | 1.5149 | 0.9485 | 23.7801 | 26.4450 | 27.0600 | 25.7931
110165 | 1.3808 | 0.9637 | 23.4071 | 24.3897 | 26.8378 | 24.9170
110166 | *** | 0.9485 | 23.6665 | 25.2264 | 26.8070 | 25.1758
110168 | 1.8280 | 0.9637 | 23.3426 | 24.6321 | 27.0022 | 25.0628
110169 | *** | * | 24.7083 | * | * | 24.7083
110172 | 1.1832 | 0.9637 | 25.2396 | 27.0240 | 29.1703 | 27.1002
110177 | 1.6699 | 0.9567 | 24.0700 | 25.0129 | 26.7504 | 25.3590
110179 | *** | * | 26.0365 | 26.1173 | 26.0759 | 26.0760
110183 | 1.2345 | 0.9637 | 26.4248 | 27.6020 | 26.8591 | 26.9602
110184 | 1.2007 | 0.9637 | 24.3379 | 25.5420 | 23.3803 | 24.3763
110186 | 1.3771 | 0.8570 | 21.1176 | 23.2348 | 25.0299 | 23.1796
110187 | 1.2237 | 0.9637 | 23.2571 | 22.5730 | 24.2933 | 23.3967
110188 | *** | * | 24.4785 | * | * | 24.4785
110190 | 1.0046 | 0.7684 | 21.9008 | 19.1054 | 14.2517 | 17.7557
110191 | 1.2930 | 0.9637 | 24.0572 | 25.8409 | 26.8277 | 25.5872
110192 | 1.3222 | 0.9637 | 24.3823 | 25.7406 | 26.7852 | 25.7103
110193 | 1.4229 | 0.9637 | 25.1779 | 27.8223 | 27.3341 | 26.8213
110194 | 0.9346 | 0.7684 | 16.8075 | 16.3148 | 18.4776 | 17.2529
110198 | 1.3834 | 0.9637 | 28.0634 | 30.8014 | 31.7748 | 30.3084
110200 | 1.8830 | 0.8570 | 20.1816 | 21.2177 | 22.3249 | 21.2486
110201 | 1.3894 | 0.9485 | 24.1171 | 27.0388 | 28.2232 | 26.3653
110203 | 0.9912 | 0.9637 | 30.2609 | 25.8951 | 26.8768 | 27.4232
110205 | 1.0674 | 0.9637 | 23.1969 | 20.6150 | 19.7409 | 21.0203
110209 | 0.5352 | 0.7684 | 17.4145 | 19.1000 | 19.0450 | 18.5793
110212 | 1.0406 | 0.8873 | 18.7651 | 20.9365 | 40.5120 | 27.9394
110215 | 1.2618 | 0.9637 | 22.5679 | 23.9657 | 25.7886 | 24.2458
110218 | *** | * | * | 26.1073 | * | 26.1073
110219 | 1.3845 | 0.9637 | * | 27.1880 | 27.0362 | 27.1115
120001 | 1.7853 | 1.1206 | 30.0871 | 31.7108 | 34.6602 | 32.1463
120002 | 1.2134 | 1.0598 | 24.2715 | 26.9900 | 29.9913 | 27.2572
120004 | 1.2673 | 1.1206 | 26.8010 | 28.3569 | 28.6527 | 27.9367
120005 | 1.2757 | 1.0598 | 23.0113 | 26.9053 | 29.3405 | 26.3828
120006 | 1.2232 | 1.1206 | 28.1562 | 29.6751 | 31.1372 | 29.6846
120007 | 1.6776 | 1.1206 | 27.8497 | 28.7964 | 30.4247 | 29.0434
120010 | 1.6785 | 1.1206 | 25.4050 | 27.1265 | 30.1659 | 27.2823
120011 | 1.4508 | 1.1206 | 30.9308 | 31.7447 | 34.1643 | 32.3199
120014 | 1.2099 | 1.0598 | 25.3682 | 28.0786 | 28.6416 | 27.3772
120016 | 1.6705 | * | 39.1173 | 52.1034 | 19.6034 | 33.6763
120019 | 1.2043 | 1.0598 | 24.4036 | 28.9661 | 30.3809 | 27.8836
120022 | 1.8525 | 1.1206 | 22.4951 | 24.7875 | 26.6100 | 24.7024
120025 | *** | 1.0598 | 40.2473 | 48.7148 | 30.2358 | 39.7283
120026 | 1.2887 | 1.1206 | 26.3653 | 28.5048 | 30.3293 | 28.4200
120027 | 1.2295 | 1.1206 | 24.9464 | 26.4630 | 28.4378 | 26.4965
120028 | 1.2577 | 1.1206 | 29.5070 | 31.3195 | 30.3794 | 30.4272
130002 | 1.3569 | 0.9048 | 20.1143 | 21.6626 | 23.6078 | 21.8876
130003 | 1.3696 | 1.0061 | 23.9403 | 25.4904 | 27.6345 | 25.7287
130005 | *** | * | 24.4844 | 25.2550 | 25.7523 | 25.1326
130006 | 1.7884 | 0.9048 | 22.8567 | 24.3982 | 25.3221 | 24.2894
130007 | 1.7321 | 0.9048 | 22.8475 | 24.8764 | 24.9562 | 24.2827
130011 | 1.2145 | 0.8810 | 23.1120 | 22.9336 | * | 23.0196
130013 | 1.2894 | 0.9048 | 23.5316 | 26.3118 | 27.9209 | 25.9669
130014 | 1.1794 | 0.9048 | 21.6495 | 23.4789 | 24.3884 | 23.2115
130018 | 1.5937 | 0.8810 | 22.2249 | 23.9798 | 26.4125 | 24.2860
130021 | *** | 0.8810 | 18.0006 | 18.9400 | 16.1658 | 17.7607
130022 | 1.1803 | 0.8810 | 21.5602 | * | * | 21.5602
130025 | 1.1842 | 0.8810 | 18.7814 | 19.7066 | 20.1452 | 19.5513
130026 | 1.1103 | 0.8810 | 24.4976 | 25.4020 | * | 24.9502
130028 | 1.3641 | 0.9348 | 21.1492 | 25.2938 | 26.3443 | 24.2492
130036 | *** | * | 18.5921 | 16.7907 | * | 17.6689
130045 | *** | 0.9183 | 19.0270 | * | * | 19.0270
130060 | *** | * | 24.6773 | 26.7516 | * | 25.7861
130062 | *** | 0.9409 | 24.0494 | 16.7951 | 20.6642 | 20.3051
130063 | 1.4243 | 0.9048 | 18.8782 | 20.9502 | 22.5904 | 20.7967
140001 | 1.0825 | 0.8285 | 20.0247 | 21.4779 | 22.3170 | 21.3141
140002 | 1.2711 | 0.8953 | 23.0207 | 24.4908 | 24.6954 | 24.0687
140003 | 1.0209 | 0.8285 | 19.2097 | 22.6230 | * | 20.9305
140005 | *** | 0.8285 | 13.2365 | * | * | 13.2365
140008 | 1.4951 | 1.0846 | 26.3287 | 27.2211 | 28.5297 | 27.3790
140010 | 1.4434 | 1.0846 | 29.0224 | 31.5774 | 36.6365 | 32.6197
140011 | 1.1508 | 0.8285 | 19.0903 | 20.6338 | 22.4091 | 20.7429
140012 | 1.2283 | 1.0698 | 24.4070 | 24.3675 | 28.6564 | 25.7920
140013 | 1.4165 | 0.8844 | 19.9800 | 22.6022 | 23.3065 | 21.9604
140015 | 1.3843 | 0.8953 | 21.4328 | 22.2266 | 23.0600 | 22.2778
140016 | 1.0074 | 0.8285 | 16.3417 | 17.1372 | 18.1242 | 17.2195
140018 | 1.4161 | 1.0846 | 24.3285 | 27.3334 | 27.7548 | 26.4350
140019 | 0.9635 | 0.8285 | 17.4206 | 18.4554 | 18.9228 | 18.2432
140024 | 0.9981 | 0.8285 | 15.6616 | 16.9672 | 17.5249 | 16.7192
140026 | 1.1611 | 0.8285 | 20.4084 | 21.6847 | 23.0470 | 21.6994
140027 | 1.1589 | 0.8285 | 20.9855 | 22.6208 | * | 21.8225
140029 | 1.5505 | 1.0846 | 25.0485 | 27.7304 | 28.9717 | 27.3787
140030 | 1.6859 | 1.0846 | 26.5733 | 28.7623 | 29.3100 | 28.2629
140032 | 1.1817 | 0.8953 | 20.6273 | 22.8157 | 24.0574 | 22.5257
140033 | 1.2115 | 1.0444 | 23.4279 | 26.1553 | 25.6068 | 25.0497
140034 | 1.2308 | 0.8953 | 20.9635 | 22.1003 | 23.0034 | 21.9987
140037 | 0.8583 | 0.8285 | 15.5578 | * | * | 15.5578
140043 | 1.2327 | 0.9667 | 23.3751 | 26.0330 | 26.7996 | 25.3939
140045 | 1.0328 | 0.8285 | 18.9587 | 21.0042 | 20.6548 | 20.2345
140046 | 1.4582 | 0.8953 | 21.7969 | 22.5022 | 23.2127 | 22.5567
140048 | 1.2496 | 1.0846 | 25.9122 | 27.0874 | 28.2222 | 27.0819
140049 | 1.5568 | 1.0846 | 21.9546 | 26.6533 | 27.4009 | 25.3465
140051 | 1.5044 | 1.0846 | 24.2472 | 27.9935 | 27.7901 | 26.6740
140052 | 1.1992 | 0.8953 | 21.8161 | 22.2588 | 23.5662 | 22.5560
140053 | 1.8567 | 0.8879 | 22.6099 | 23.5477 | 24.8455 | 23.6468
140054 | 1.4302 | 1.0846 | 35.5659 | 31.7265 | 31.8564 | 32.8769
140058 | 1.2547 | 0.8953 | 20.5089 | 22.1269 | 22.8423 | 21.8133
140059 | 1.0783 | 0.8953 | 19.9777 | 22.7121 | 22.4651 | 21.7552
140061 | 0.9751 | 0.8953 | 22.7515 | 30.9925 | 20.8063 | 24.6734
140062 | 1.2085 | 1.0846 | 30.7005 | 31.2359 | 34.7113 | 32.2167
140063 | 1.3649 | 1.0846 | 30.5430 | 26.5584 | 27.8306 | 28.2367
140064 | 1.1568 | 0.8844 | 20.6505 | 21.7470 | 22.0407 | 21.4911
140065 | 1.3774 | 1.0846 | 26.3521 | 26.1904 | 34.6406 | 28.8914
140066 | 1.1153 | 0.8953 | 18.0915 | 20.4353 | 19.4775 | 19.2927
140067 | 1.8344 | 0.8844 | 21.9579 | 23.5906 | 25.3986 | 23.6801
140068 | 1.1769 | 1.0846 | 24.1316 | 25.8963 | 27.3956 | 25.8156
140070 | *** | * | 25.2960 | * | * | 25.2960
140077 | 0.9555 | 0.8953 | 18.0487 | 19.0922 | 19.1363 | 18.7657
140079 | *** | * | 25.7090 | 29.3040 | * | 27.5634
140080 | 1.4264 | 1.0846 | 24.4056 | 26.0109 | 23.2575 | 24.4826
140082 | 1.3940 | 1.0846 | 25.0474 | 26.8077 | 25.6645 | 25.8332
140083 | 1.0155 | 1.0846 | 23.2822 | 24.6491 | 26.5562 | 24.8886
140084 | 1.1998 | 1.0444 | 25.4818 | 27.6819 | 29.2515 | 27.5306
140088 | 1.8091 | 1.0846 | 28.4219 | 31.0364 | 32.4978 | 30.6729
140089 | 1.1918 | 0.8285 | 20.7632 | 22.1227 | 23.3401 | 22.0452
140090 | *** | * | 35.0300 | * | * | 35.0300
140093 | 1.1539 | 0.9048 | 21.5376 | 22.1540 | 25.3127 | 22.9099
140094 | 1.0354 | 1.0846 | 24.2166 | 25.3678 | 27.0578 | 25.5410
140095 | 1.2149 | 1.0846 | 24.7706 | 29.9746 | 27.6799 | 27.5947
140100 | 1.2204 | 1.0444 | 27.1868 | 32.8743 | 37.0819 | 32.5610
140101 | 1.1371 | 1.0846 | 24.6106 | 25.4784 | 28.5365 | 26.3107
140102 | 1.0407 | 0.8285 | 19.8678 | 21.2278 | * | 20.5493
140103 | 1.2439 | 1.0846 | 21.2404 | 21.7512 | 23.3258 | 22.1297
140105 | 1.2336 | 1.0846 | 27.3323 | 26.3054 | 27.4531 | 27.0018
140109 | 1.1423 | 0.8285 | 16.4261 | 17.8103 | 19.5675 | 17.9602
140110 | 1.0533 | 1.0698 | 21.9880 | 25.6561 | 27.9844 | 25.2166
140113 | 1.5519 | 0.9591 | 25.6621 | 23.5337 | 26.7969 | 25.2477
140114 | 1.4645 | 1.0846 | 24.1926 | 25.7968 | 28.3014 | 26.1695
140115 | 1.1252 | 1.0846 | 25.3410 | 26.3677 | 25.1498 | 25.6313
140116 | 1.2744 | 1.0846 | 26.8924 | 30.5166 | 31.9902 | 29.9696
140117 | 1.5049 | 1.0846 | 23.3531 | 25.6314 | 26.8973 | 25.3122
140118 | 1.6963 | 1.0846 | 26.7350 | 27.7392 | 29.7570 | 28.1023
140119 | 1.7432 | 1.0846 | 31.3486 | 33.6302 | 36.1419 | 33.6518
140120 | 1.2478 | 0.8844 | 20.3237 | 22.5795 | 22.7375 | 21.8812
140121 | 1.6002 | 0.8844 | 17.6019 | * | * | 17.6019
140124 | 1.2606 | 1.0846 | 30.9648 | 35.2798 | 36.1327 | 34.0784
140125 | 1.2180 | 0.8953 | 19.5359 | 20.7189 | 20.4014 | 20.2151
140127 | 1.5733 | 0.9083 | 21.3102 | 22.8172 | 24.1658 | 22.7988
140129 | *** | 0.8285 | 21.6495 | * | * | 21.6495
140132 | *** | * | 23.0595 | * | * | 23.0595
140135 | 1.3954 | 0.8285 | 19.7919 | 21.2104 | 22.3264 | 21.1811
140137 | 1.0383 | 0.8953 | 21.6017 | 20.5053 | 21.4700 | 21.1955
140140 | 1.0049 | 0.8285 | 19.1636 | 21.4710 | * | 20.3063
140141 | 1.0111 | 0.8953 | 20.3706 | 23.0515 | 21.7871 | 21.7302
140143 | 1.1472 | 0.8844 | 22.0009 | 23.8255 | 26.2954 | 24.0154
140144 | 0.9464 | 1.0846 | 26.9258 | 27.8046 | * | 27.3474
140145 | 1.1245 | 0.8953 | 19.6429 | 21.6168 | 23.4608 | 21.6090
140147 | 1.1208 | 0.8285 | 18.2692 | 19.5896 | 19.8541 | 19.2467
140148 | 1.7042 | 0.8879 | 21.5777 | 23.0022 | 25.2030 | 23.2104
140150 | 1.5763 | 1.0846 | 32.9291 | 33.9013 | 35.2711 | 34.0702
140151 | 0.8471 | 1.0846 | 21.5167 | 22.4842 | 23.4879 | 22.5018
140152 | 1.1463 | 1.0846 | 28.5468 | 29.6882 | 27.6086 | 28.6011
140155 ² | 1.2537 | 1.0991 | 25.2034 | 27.6610 | 28.9724 | 27.2937
140158 | 1.3922 | 1.0846 | 22.5638 | 23.8542 | 28.6818 | 24.8001
140160 | 1.2262 | 0.9667 | 20.9986 | 22.7002 | 24.5373 | 22.7502
140161 | 1.1181 | 1.0698 | 22.2191 | 24.1071 | 23.1647 | 23.1691
140162 | 1.5842 | 0.9083 | 22.6426 | 26.0312 | 27.4472 | 25.4182
140164 | 1.7335 | 0.8953 | 19.7774 | 22.0424 | 23.7457 | 21.8696
140165 | 1.0648 | 0.8285 | 17.0666 | 15.9312 | 16.6304 | 16.5175
140166 | 1.1685 | 0.8285 | 20.7849 | 21.7776 | 23.1005 | 21.8859
140167 | 1.0308 | 0.8285 | 19.5959 | 19.7610 | 22.8911 | 20.7477
140168 | 1.1558 | 0.8953 | 18.7504 | 20.0225 | * | 19.4021
140170 | 0.9276 | 0.8285 | 17.0665 | 17.1608 | * | 17.1147
140171 | *** | 0.8285 | 17.3214 | * | * | 17.3214
140174 | 1.4550 | 1.0846 | 23.6893 | 24.7011 | 27.8131 | 25.3970
140176 | 1.2096 | 1.0846 | 25.6824 | 28.9378 | 31.3490 | 28.8390
140177 | 0.8782 | 1.0846 | 20.8526 | 19.3328 | 22.5610 | 20.9656
140179 | 1.3651 | 1.0846 | 24.1539 | 26.3200 | 27.6376 | 26.0525
140180 | 1.2658 | 1.0846 | 25.4022 | 27.4366 | 28.3649 | 27.0717
140181 | 1.1677 | 1.0846 | 23.7308 | 23.6034 | 25.0100 | 24.1182
140182 | 1.4864 | 1.0846 | 32.1969 | 28.0337 | 28.2211 | 28.8901
140184 | 1.2150 | 0.8285 | 20.6499 | 20.1279 | 21.1802 | 20.6885
140185 | 1.4160 | 0.8953 | 20.0903 | 22.0222 | 23.8531 | 22.0093
140186 ² | 1.4842 | 1.0991 | 26.0970 | 28.1977 | 31.7593 | 28.8521
140187 | 1.4808 | 0.8953 | 20.5829 | 22.0674 | 23.2892 | 21.9710
140189 | 1.1406 | 0.9335 | 22.5875 | 25.6954 | 23.7198 | 24.0159
140190 | 1.0678 | 0.8285 | 17.9193 | 18.8530 | 19.8297 | 18.8585
140191 | 1.3038 | 1.0846 | 24.5446 | 25.2817 | 25.8813 | 25.2456
140193 | 0.9615 | 0.8285 | 20.5958 | 22.9443 | * | 21.7731
140197 | 1.2361 | 1.0846 | 19.2980 | 21.8060 | 23.0684 | 21.2577
140199 | 1.0379 | 0.8285 | 19.7888 | 21.3464 | 22.0315 | 21.0597
140200 | 1.4887 | 1.0846 | 24.1358 | 24.9217 | 26.6881 | 25.2459
140202 | 1.5458 | 1.0444 | 26.2460 | 27.4336 | 29.7870 | 27.9702
140203 | 1.0810 | 1.0846 | 26.5789 | 28.2212 | * | 27.4338
140205 | 0.5846 | 0.9975 | 25.1010 | * | * | 25.1010
140207 | 1.3693 | 1.0846 | 23.3197 | 25.7331 | 24.1048 | 24.4812
140208 | 1.6342 | 1.0846 | 27.4671 | 27.6586 | 29.4708 | 28.2131
140209 | 1.5435 | 0.8844 | 22.0813 | 23.3886 | 24.4266 | 23.3169
140210 | 1.0967 | 0.8285 | 15.5339 | 16.6729 | 19.2639 | 17.1406
140211 | 1.3023 | 1.0846 | 25.8556 | 29.5114 | 29.7054 | 28.4947
140213 | 1.1645 | 1.0846 | 27.4607 | 29.1649 | 30.2945 | 29.0178
140215 | *** | * | 18.6962 | 22.3097 | * | 20.4262
140217 | 1.4239 | 1.0846 | 24.7146 | 29.3711 | 31.5324 | 28.5274
140223 | 1.4296 | 1.0846 | 27.4355 | 29.2540 | 30.4923 | 29.0769
140224 | 1.3921 | 1.0846 | 27.1725 | 29.0350 | 28.2177 | 28.1560
140228 | 1.5304 | 0.9975 | 22.9899 | 25.0074 | 25.6419 | 24.5738
140231 | 1.4741 | 1.0846 | 25.5536 | 28.3545 | 30.6410 | 28.2754
140233 | 1.5549 | 1.0698 | 24.7103 | 27.3379 | 28.6305 | 26.9841
140234 | 1.0501 | 0.8844 | 20.8676 | 23.2604 | 23.6928 | 22.6766
140239 | 1.5495 | 0.9975 | 23.9205 | 24.2112 | 29.0092 | 25.6976
140240 | 1.3929 | 1.0846 | 25.0325 | 27.2654 | 31.8945 | 27.8715
140242 | 1.4842 | 1.0846 | 28.8686 | 30.4005 | 32.0522 | 30.5576
140245 | 0.9866 | 0.8285 | 15.2537 | 16.0772 | * | 15.6642
140246 | *** | 0.8285 | 16.1305 | * | * | 16.1305
140251 | 1.2806 | 1.0846 | 24.8256 | 26.7266 | 27.1870 | 26.2433
140252 | 1.3977 | 1.0846 | 28.3479 | 30.2656 | 33.3885 | 30.8286
140258 | 1.5252 | 1.0846 | 27.5741 | 27.9478 | 30.2639 | 28.6430
140271 | 0.8733 | 0.8285 | 17.5174 | 18.8535 | * | 18.2163
140275 | 1.2740 | 0.8716 | 23.1871 | 25.2824 | 26.1473 | 24.8583
140276 | 1.7772 | 1.0846 | 25.3222 | 27.5936 | 29.1983 | 27.3299
140280 | 1.4521 | 0.8716 | 21.7004 | 21.9302 | 23.4343 | 22.3632
140281 | 1.6920 | 1.0846 | 27.9115 | 29.2602 | 30.4849 | 29.2420
140285 | *** | 0.8879 | * | 17.7824 | 20.7576 | 19.1679
140286 | 1.1088 | 1.0846 | 25.5805 | 28.4378 | 29.1543 | 27.7906
140288 | 1.5237 | 1.0846 | 26.3572 | 26.9581 | 29.3988 | 27.5648
140289 | 1.3248 | 0.8953 | 20.7506 | 22.3274 | 22.6211 | 21.9308
140290 | 1.3237 | 1.0846 | 29.9098 | 28.6926 | 31.7341 | 30.1371
140291 | 1.2597 | 1.0698 | 27.6675 | 28.2338 | 29.8958 | 28.6610
140292 | 1.1534 | 1.0846 | 26.4077 | 26.1781 | 27.6230 | 26.7673
140294 | 1.1263 | 0.8285 | 21.7473 | 22.6123 | 23.4504 | 22.6034
140300 | 1.1599 | 1.0846 | 30.5172 | 33.3983 | 34.8568 | 32.8808
140301 | 1.1555 | 1.0846 | * | * | 31.7073 | 31.7073
150001 | 1.1532 | 0.9922 | 25.4897 | 27.1021 | 29.6844 | 27.4774
150002 | 1.3813 | 1.0698 | 22.3327 | 23.3804 | 25.0063 | 23.5866
150003 | 1.6528 | 0.8730 | 21.0944 | 23.3196 | 25.3458 | 23.2610
150004 | 1.5181 | 1.0698 | 23.6169 | 24.8884 | 26.8458 | 25.1066
150005 | 1.1975 | 0.9922 | 23.8818 | 25.4443 | 27.2369 | 25.6152
150006 | 1.2943 | 0.9785 | 23.1779 | 24.8976 | 26.4061 | 24.8616
150007 | 1.2960 | 0.9555 | 22.1098 | 23.5841 | 26.6073 | 24.2353
150008 | 1.4015 | 1.0698 | 23.8916 | 23.6953 | 26.6928 | 24.7814
150009 | 1.3653 | 0.9264 | 19.4763 | 20.4993 | 22.2147 | 20.7473
150010 | 1.3255 | 0.9555 | 22.5445 | 23.9740 | 26.8524 | 24.4792
150011 | 1.1602 | 0.9776 | 22.1559 | 23.2249 | 24.3490 | 23.2593
150012 | 1.5342 | 0.9785 | 23.1644 | 22.9314 | 27.3031 | 24.2924
150013 | 0.9799 | 0.8632 | 19.8564 | 19.7689 | 21.8465 | 20.4949
150014 | 1.2880 | 0.9922 | 24.3754 | 26.5785 | * | 25.4309
150015 | 1.3161 | 1.0698 | 23.1616 | 24.3015 | 26.2434 | 24.6064
150017 | 1.8224 | 0.9797 | 22.7979 | 23.7180 | 25.2342 | 23.9446
150018 | 1.6280 | 0.9616 | 24.6138 | 24.7048 | 26.3289 | 25.2344
150019 | 1.0534 | 0.8632 | 17.3170 | * | * | 17.3170
150021 | 1.7262 | 0.9797 | 24.3658 | 27.8168 | 29.6967 | 27.2581
150022 | 1.0471 | 0.8632 | 22.2973 | 22.8035 | 22.6773 | 22.6089
150023 | 1.5248 | 0.8632 | 20.6926 | 23.1253 | 23.7159 | 22.4697
150024 | 1.3936 | 0.9922 | 21.7593 | 24.7879 | 27.1589 | 24.7582
150026 | 1.2781 | 0.9616 | 23.2169 | 23.7185 | 28.1127 | 25.1166
150027 | 0.9951 | 0.9922 | 21.5766 | 21.2855 | 17.4862 | 19.9164
150029 | 1.4269 | 0.9785 | 25.2067 | 23.4103 | 26.9680 | 25.0754
150030 | 1.2034 | 0.9776 | 23.0196 | 24.4361 | 26.9533 | 24.8565
150031 | 1.0678 | 0.8632 | 18.9180 | * | * | 18.9180
150034 | 1.4639 | 0.9366 | 22.8812 | 23.9388 | 26.0465 | 24.3610
150035 | 1.4585 | 0.9366 | 23.5468 | 26.0952 | 26.6620 | 25.4702
150037 | 1.2877 | 0.9922 | 24.4997 | 27.7009 | 28.5451 | 26.8949
150038 | 1.0995 | 0.9922 | 21.6608 | 24.4188 | 28.8054 | 24.9650
150042 | 1.3907 | 0.8632 | 23.7838 | 21.9917 | 23.0102 | 22.8781
150044 | 1.3121 | 0.9264 | 20.5156 | 23.1200 | 23.7065 | 22.4683
150045 ʰ | 1.0499 | 0.9797 | 23.0361 | 24.2899 | 25.2225 | 24.2205
150046 | 1.4135 | 0.8632 | 20.3453 | 21.0417 | 21.9369 | 21.1254
150047 | 1.7002 | 0.9797 | 24.8786 | 24.5455 | 25.8349 | 25.1035
150048 | 1.3259 | 0.9604 | 22.5181 | 24.5864 | 27.1817 | 24.7509
150049 | 1.1169 | 0.8632 | 18.4942 | 20.2178 | 22.3370 | 20.2342
150051 | 1.5540 | 0.8632 | 21.4009 | 22.6866 | 23.7061 | 22.5941
150052 ʰ | 1.0320 | 0.9264 | 19.1070 | 19.6073 | 20.6339 | 19.7871
150056 | 1.8253 | 0.9922 | 24.7841 | 27.6754 | 28.2842 | 26.9368
150057 | 2.0135 | 0.9922 | 28.0884 | 22.7804 | 24.8605 | 24.9551
150058 | 1.5550 | 0.9785 | 24.9479 | 26.9753 | 27.5341 | 26.5322
150059 | 1.5671 | 0.9922 | 25.6738 | 27.0792 | 28.5715 | 27.1975
150060 | 1.0728 | 0.8632 | 19.8990 | 23.2409 | 24.8544 | 22.6276
150061 | 1.1040 | 0.8632 | 19.2826 | 21.3640 | 22.2822 | 20.9919
150062 | 1.1136 | 0.8632 | 22.9214 | 23.5550 | 24.6088 | 23.7293
150063 | *** | * | 24.4091 | 19.0377 | * | 21.8339
150064 | 1.1597 | 0.8632 | 21.2512 | 21.6370 | 23.7707 | 22.2400
150065 | 1.2439 | 0.9776 | 23.0636 | 24.4451 | 25.9461 | 24.5094
150067 | 1.0162 | 0.8632 | 21.4374 | * | * | 21.4374
150070 | 0.9415 | 0.8632 | 20.7413 | 22.6260 | * | 21.7117
150072 | 1.1999 | 0.8632 | 18.5447 | 20.3191 | 20.5111 | 19.8274
150073 | *** | * | 14.8287 | * | * | 14.8287
150075 | 1.0759 | 0.9797 | 20.1119 | 24.2085 | 24.0745 | 22.8038
150076 | 1.2278 | 0.9785 | 25.4519 | 24.1434 | 28.1874 | 25.9085
150078 | 0.9426 | 0.8632 | 20.1259 | 21.2476 | 21.9771 | 21.1303
150079 | 1.0871 | 0.9264 | 19.3860 | 20.6486 | 21.4067 | 20.5165
150082 | 1.7137 | 0.8735 | 21.0651 | 22.2054 | 25.5860 | 22.9776
150084 | 1.7636 | 0.9922 | 27.8354 | 28.7722 | 29.3905 | 28.6939
150086 | 1.2074 | 0.9604 | 21.5815 | 22.4471 | 23.9404 | 22.7151
150088 | 1.2662 | 0.9776 | 22.2627 | 23.0998 | 23.6253 | 23.0168
150089 | 1.4706 | 0.8952 | 21.6806 | 22.6545 | 25.0449 | 23.0977
150090 | 1.4690 | 1.0698 | 24.9021 | 24.6758 | 26.2899 | 25.3163
150091 ʰ | 1.0853 | 0.9797 | 26.4248 | 27.8087 | 30.6209 | 28.2762
150096 | 0.9741 | 0.8632 | 19.7975 | 21.9091 | 23.8092 | 21.8206
150097 | 1.0577 | 0.9922 | 22.4564 | 24.4179 | 25.0367 | 24.0346
150100 | 1.6892 | 0.8735 | 21.2980 | 22.2687 | 24.3530 | 22.6387
150101 | 1.0267 | 0.9797 | 26.1271 | 27.9745 | 29.1657 | 27.6430
150102 | 1.0711 | 0.9366 | 21.3313 | 22.6870 | 24.5923 | 22.8112
150104 | 1.0414 | 0.9922 | 21.0799 | 21.8172 | 25.5871 | 22.8454
150106 ʰ | 1.0517 | 0.9797 | 19.1976 | 20.9955 | 20.9387 | 20.4063
150109 | 1.3698 | 0.8730 | 23.4642 | 24.3786 | 23.5865 | 23.8124
150112 | 1.4147 | 0.9776 | 23.5151 | 24.7455 | 26.5643 | 24.9478
150113 | 1.1907 | 0.9776 | 21.2412 | 23.0450 | 24.8760 | 23.1460
150115 | 1.3246 | 0.8632 | 20.3863 | 20.5215 | 19.3411 | 20.0486
150122 | 1.1182 | 0.8632 | 22.2752 | 24.2471 | 26.0173 | 24.2508
150123 | *** | 0.8735 | 15.5997 | 15.3050 | * | 15.4580
150124 | 1.1187 | 0.8632 | 17.9063 | 18.8218 | 21.3933 | 19.4269
150125 | 1.4937 | 1.0698 | 23.1464 | 24.3872 | 26.7666 | 24.8140
150126 | 1.4161 | 1.0698 | 24.1917 | 25.5585 | 26.9887 | 25.6255
150128 | 1.3711 | 0.9922 | 20.9869 | 23.1660 | 26.4976 | 23.5710
150129 | 1.1881 | 0.9922 | 34.3166 | 35.4311 | 29.9099 | 32.9368
150130 | 1.0196 | 0.8735 | 18.5578 | 21.5678 | 21.7399 | 20.5294
150132 | 1.3880 | 1.0698 | 22.2707 | 24.2559 | 25.6257 | 24.1021
150133 | 1.2457 | 0.9797 | 21.8807 | 21.8839 | 22.7293 | 22.1682
150134 | 1.0951 | 0.9264 | 20.7680 | 22.1085 | 23.8526 | 22.2228
150136 | *** | 0.9922 | 25.8467 | 25.7004 | 26.2703 | 25.9403
150146 | 1.0119 | 0.9797 | 25.1827 | 26.1168 | 29.3383 | 26.7878
150147 | 1.1985 | 1.0698 | * | 32.3336 | 22.8456 | 26.0420
150148 | *** | * | 26.2188 | 27.2081 | * | 26.7661
150149 | 0.9756 | 0.8735 | * | 23.8554 | 23.6361 | 23.7419
150150 | 1.2639 | 0.9797 | * | 26.5138 | 25.5331 | 26.0172
150151 | *** | * | * | * | 38.1446 | 38.1446
150152 | *** | 0.9922 | * | * | 44.7143 | 44.7143
160001 | 1.1965 | 0.9231 | 22.8426 | 23.8657 | 25.1220 | 23.9155
160002 | *** | 0.8563 | 19.9607 | * | * | 19.9607
160005 | 1.1819 | 0.8563 | 20.3313 | 21.1745 | 21.8950 | 21.1337
160008 | 1.0624 | 0.8563 | 17.9463 | 19.8066 | 20.7200 | 19.4883
160013 | 1.2044 | 0.8563 | 21.0541 | 23.0163 | 23.7163 | 22.5118
160014 | 0.9866 | 0.8563 | 18.3097 | 19.2447 | 20.9256 | 19.5050
160016 | 1.5746 | 0.9413 | 21.8400 | 21.2785 | 23.3031 | 22.1576
160020 | 1.0649 | 0.8563 | 16.6092 | 19.0043 | 19.5752 | 18.4226
160024 | 1.5772 | 0.9650 | 22.4256 | 24.2385 | 26.2392 | 24.3248
160026 | 0.9843 | 0.9231 | 22.8967 | 24.2045 | 24.7424 | 23.9779
160028 | 1.3058 | 0.9555 | 25.1998 | 26.0052 | 26.2948 | 25.8671
160029 | 1.6068 | 0.9751 | 23.7268 | 24.9493 | 27.9277 | 25.5651
160030 | 1.2629 | 0.9546 | 23.3687 | 24.9920 | 26.7068 | 25.0247
160031 | 0.9566 | 0.8563 | 17.8994 | 18.5281 | 19.7585 | 18.7487
160032 | 1.0533 | 0.8563 | 20.5024 | 22.3837 | 23.4727 | 22.1329
160033 | 1.7259 | 0.8716 | 22.2660 | 23.4148 | 24.6768 | 23.4865
160034 | 0.9398 | 0.8563 | 19.0684 | 19.4837 | 19.3503 | 19.3060
160039 | 0.9260 | 0.8563 | 19.8851 | 20.9623 | 22.1629 | 21.0029
160040 | 1.2162 | 0.8564 | 20.0567 | 21.8187 | 23.9053 | 21.9454
160043 | *** | 0.8563 | 15.5765 | * | * | 15.5765
160045 | 1.6924 | 0.8605 | 22.1285 | 24.4957 | 25.4153 | 24.0445
160047 | 1.3599 | 0.9555 | 22.1550 | 24.5000 | 25.2072 | 23.9813
160048 | 1.0546 | 0.8563 | 18.1174 | 19.5701 | 19.6431 | 19.1317
160050 | 1.1022 | 0.8563 | 21.6247 | 23.8830 | 24.5403 | 23.3364
160057 | 1.2499 | 0.9574 | 20.8345 | 22.0472 | 23.2913 | 22.0638
160058 | 1.8388 | 0.9751 | 23.5663 | 25.5244 | 27.1646 | 25.4595
160064 | 1.5830 | 0.8563 | 23.8367 | 27.6301 | 28.6139 | 26.8350
160066 | 1.0921 | 0.8563 | 20.4609 | 21.4631 | 22.7453 | 21.6034
160067 | 1.3469 | 0.8564 | 19.9422 | 21.9418 | 23.4060 | 21.8952
160069 | 1.4317 | 0.9116 | 21.7197 | 22.7514 | 25.8067 | 23.4426
160072 | *** | 0.8563 | 15.8236 | * | * | 15.8236
160076 | 0.9917 | 0.8563 | 20.1603 | 20.9749 | * | 20.5825
160079 | 1.4983 | 0.8605 | 21.6562 | 22.5299 | 22.4291 | 22.2178
160080 | 1.3105 | 0.9667 | 21.1713 | 23.5721 | 23.0138 | 22.5698
160081 | 1.1704 | 0.8563 | 20.4415 | 21.3614 | 23.1930 | 21.6437
160082 | 1.7449 | 0.9650 | 21.6230 | 23.8181 | 26.2453 | 23.8567
160083 | 1.6465 | 0.9650 | 23.4670 | 25.0617 | 28.2193 | 25.6738
160089 | 1.2795 | 0.9413 | 19.9688 | 21.5693 | 22.6551 | 21.4092
160090 | 0.9949 | 0.8563 | 19.6767 | 21.2753 | * | 20.4851
160091 | 0.9514 | 0.8563 | 16.1660 | 18.0630 | 17.9255 | 17.3725
160092 | 0.9582 | 0.8563 | 20.4731 | 22.0841 | * | 21.2805
160093 | *** | 0.8605 | 22.8553 | * | * | 22.8553
160104 | 1.3676 | 0.8716 | 23.2832 | 24.0075 | 24.9134 | 24.0516
160106 | 1.1242 | 0.8563 | 19.8905 | 21.4912 | * | 20.6919
160107 | 1.0394 | 0.8563 | 19.5111 | 21.3754 | * | 20.4402
160110 | 1.6369 | 0.8564 | 21.9299 | 24.1762 | 24.9434 | 23.7256
160112 | 1.2659 | 0.8563 | 20.4038 | 21.8901 | 23.0673 | 21.8008
160113 | 0.9601 | 0.8563 | 16.7574 | 18.6599 | * | 17.7162
160114 | 0.9804 | 0.8563 | 19.1743 | * | * | 19.1743
160116 | 1.0412 | 0.8563 | 19.6923 | 22.2019 | * | 20.9445
160117 | 1.2747 | 0.9116 | 22.3228 | 23.4250 | 25.0278 | 23.6002
160118 | 1.0219 | 0.8563 | 16.9466 | 18.3322 | 19.7764 | 18.4025
160122 | 1.0854 | 0.8563 | 21.2843 | 22.9565 | 22.5810 | 22.2832
160124 | 1.1255 | 0.8563 | 21.2279 | 22.7223 | 23.1690 | 22.3848
160126 | 1.0455 | 0.8563 | 20.0149 | 20.3748 | 19.6296 | 20.0068
160131 | 0.9332 | 0.8563 | 18.0486 | * | * | 18.0486
160143 | 1.0569 | 0.8563 | 19.0623 | * | * | 19.0623
160147 | 1.2103 | 0.9231 | 22.7993 | 26.6577 | 25.1228 | 24.8830
160153 | 1.5766 | 0.9360 | 23.5212 | 26.3671 | 28.9881 | 26.3386
170001 | 1.1572 | 0.8032 | 19.8149 | 20.9837 | 21.9131 | 20.9143
170006 | 1.2459 | 0.8458 | 19.4488 | 20.6460 | 21.9019 | 20.7240
170008 | *** | 0.8032 | 18.2352 | * | * | 18.2352
170010 | 1.2414 | 0.8313 | 20.6294 | 21.2131 | 24.0008 | 21.9435
170012 | 1.6156 | 0.8946 | 21.8587 | 22.6869 | 24.7392 | 23.0750
170013 | 1.5825 | 0.8946 | 21.4954 | 23.1159 | 24.9709 | 23.1630
170014 | 0.9823 | 0.9454 | 21.3416 | 22.9772 | 23.5960 | 22.6522
170015 | 1.0532 | 0.8032 | 18.0485 | 19.1902 | 20.2367 | 19.1620
170016 | 1.6153 | 0.8921 | 22.9479 | 24.2336 | 25.9482 | 24.4090
170017 | 1.1022 | 0.9156 | 21.6323 | 23.3030 | 24.7771 | 23.3226
170018 | 0.8898 | 0.8032 | 16.9169 | 17.9497 | 17.2199 | 17.3753
170019 | 1.2134 | 0.8032 | 18.7916 | 20.3243 | 22.0251 | 20.4068
170020 | 1.5747 | 0.8946 | 20.6658 | 22.2571 | 23.1800 | 22.0586
170022 | 1.0924 | 0.9454 | 21.1947 | 22.9313 | 22.2878 | 22.1486
170023 | 1.4742 | 0.8946 | 21.6273 | 23.2690 | 22.5551 | 22.4908
170024 | *** | 0.8032 | 16.1196 | * | * | 16.1196
170026 | *** | 0.8032 | 17.0836 | * | * | 17.0836
170033 | 1.3844 | 0.8946 | 20.0627 | 20.0801 | 20.5954 | 20.2325
170034 | 0.8698 | 0.8032 | 18.1074 | * | * | 18.1074
170040 | 1.8787 | 0.9454 | 24.5234 | 27.1771 | 28.2856 | 26.8014
170041 | *** | 0.8032 | 13.9709 | * | * | 13.9709
170052 | 1.1985 | 0.8032 | 15.8809 | 17.3794 | 18.5291 | 17.3370
170054 | 0.9966 | 0.8032 | 18.5239 | 17.5500 | * | 18.0250
170056 | *** | 0.8032 | 17.1872 | * | * | 17.1872
170068 | 1.1985 | 0.9165 | 20.5512 | 20.8771 | 22.6087 | 21.3531
170070 | 1.0679 | 0.8032 | 15.0539 | 16.4767 | 16.0162 | 15.8428
170074 | 1.1969 | 0.8032 | 18.5446 | 20.4936 | 21.0565 | 20.0516
170075 | 0.8302 | 0.8032 | 15.6809 | 16.2047 | 16.5444 | 16.1586
170077 | *** | 0.8032 | 14.6377 | * | * | 14.6377
170082 | *** | 0.8032 | 15.9973 | * | * | 15.9973
170086 | 1.5458 | 0.8921 | 22.1067 | 22.7737 | 24.0812 | 23.0117
170090 | 0.9249 | 0.8032 | 16.3550 | 15.9807 | * | 16.1812
170093 | 0.8184 | 0.8032 | 15.0307 | 16.8710 | 16.5553 | 16.1514
170094 | 0.9938 | 0.8032 | 20.1253 | 20.3678 | 21.3887 | 20.6420
170097 | 0.8884 | 0.8032 | 18.9865 | 20.3391 | * | 19.6594
170098 | 1.0009 | 0.8032 | 18.6676 | 20.0078 | 19.8881 | 19.5154
170099 | 0.8971 | 0.8032 | 15.8117 | * | * | 15.8117
170103 | 1.2452 | 0.9156 | 20.1263 | 21.4985 | 22.8707 | 21.5590
170104 | 1.5039 | 0.9454 | 23.6589 | 26.1866 | 26.6100 | 25.5135
170105 | 1.0723 | 0.8032 | 18.3824 | 19.6687 | 21.4422 | 19.8723
170109 | 0.9921 | 0.9454 | 20.7580 | 22.7166 | 23.2626 | 22.2703
170110 | 0.9659 | 0.8032 | 16.5883 | 21.8904 | 22.2650 | 20.1717
170113 | 1.0330 | 0.8032 | 19.9957 | * | * | 19.9957
170116 | 0.9958 | 0.8032 | 20.8800 | 23.1127 | * | 21.9980
170120 | 1.2748 | 0.8458 | 18.5895 | 19.8723 | 21.0499 | 19.8632
170122 | 1.6149 | 0.9156 | 22.2681 | 24.5826 | 25.3981 | 24.1100
170123 | 1.6579 | 0.9156 | 25.0073 | 26.4676 | 27.2239 | 26.2255
170133 | 1.0482 | 0.9454 | 20.0593 | 21.7748 | 22.9309 | 21.5574
170137 | 1.2299 | 0.8032 | 21.4394 | 22.7676 | 23.8863 | 22.7099
170142 | 1.3359 | 0.8785 | 19.8269 | 22.4095 | 22.5778 | 21.6027
170143 | 1.1294 | 0.8032 | 18.0308 | 19.7643 | 20.4459 | 19.4072
170144 | *** | * | 23.9180 | 24.4259 | 24.6260 | 24.3634
170145 | 1.0646 | 0.8032 | 20.5143 | 21.4472 | 21.2071 | 21.0600
170146 | 1.5346 | 0.9454 | 27.0312 | 28.1965 | 28.8062 | 28.0903
170147 | 1.2185 | 0.9156 | 18.2480 | 23.1610 | 20.7436 | 20.6771
170148 | *** | * | 26.3491 | * | * | 26.3491
170151 | 1.0014 | 0.8032 | 15.7242 | * | * | 15.7242
170171 | *** | * | 14.7251 | * | * | 14.7251
170176 | 1.2996 | 0.9454 | 25.5404 | 24.2283 | 26.2366 | 25.2863
170180 | *** | * | 25.0935 | * | 25.1366 | 25.1166
170182 | 1.4072 | 0.9454 | 23.2115 | 24.3820 | 25.7443 | 24.4497
170183 | 1.9491 | 0.9156 | 19.6919 | 22.8633 | 24.5539 | 22.4468
170185 | 1.2969 | 0.9454 | 26.8307 | 24.8478 | 26.7797 | 26.1506
170186 | 2.9412 | 0.9156 | 28.5602 | 30.5157 | 31.7896 | 30.4381
170187 | 1.1355 | 0.8032 | 20.8289 | 21.0780 | 23.3702 | 21.8354
170188 | 2.0008 | 0.9454 | 25.2504 | 27.2225 | 29.9751 | 27.6756
170189 | *** | * | 28.1996 | * | * | 28.1996
170191 | 1.1514 | 0.8032 | * | 24.9599 | 21.3069 | 23.1771
170192 | 2.0555 | 0.9156 | * | * | 27.0380 | 27.0380
170193 | 1.2126 | 0.8032 | * | * | 24.7430 | 24.7430
170194 | 1.6735 | 0.9454 | * | * | 27.9904 | 27.9904
180001 | 1.2733 | 0.9604 | 22.2674 | 24.7647 | 25.4217 | 24.1342
180002 | 1.0456 | 0.7788 | 20.5135 | 21.6843 | 22.9727 | 21.7424
180004 | 1.0968 | 0.7788 | 19.8552 | 19.0834 | 19.5437 | 19.4871
180005 | 1.1514 | 0.9119 | 22.6704 | 22.8871 | 24.5561 | 23.3888
180006 | 0.8988 | 0.7788 | 14.4066 | 15.7136 | 14.8011 | 14.9439
180007 | 1.4096 | 0.9060 | 21.3545 | 21.8724 | 22.7606 | 21.9873
180009 | 1.6162 | 0.9482 | 22.4450 | 24.0971 | 25.3837 | 24.0052
180010 | 1.9470 | 0.9060 | 22.6846 | 16.6893 | 24.7256 | 20.7808
180011 | 1.3310 | 0.8830 | 18.8056 | 22.3183 | 22.7364 | 21.2726
180012 | 1.4989 | 0.9264 | 20.2758 | 22.9096 | 24.6642 | 22.6125
180013 | 1.4422 | 0.9492 | 21.0512 | 21.4728 | 22.9512 | 21.8902
180016 | 1.3138 | 0.9264 | 20.5203 | 22.2148 | 23.1832 | 22.0005
180017 | 1.2408 | 0.8286 | 18.0329 | 19.0694 | 20.8630 | 19.3296
180018 | 1.3264 | 0.8830 | 17.5670 | 18.3314 | 19.0992 | 18.3166
180019 | 1.1667 | 0.9604 | 20.8416 | 22.0379 | 24.1342 | 22.3292
180020 | 1.0301 | 0.7788 | 20.9964 | 22.3477 | 21.9494 | 21.7537
180021 | 1.0255 | 0.7788 | 17.6331 | 17.9346 | 18.5966 | 18.0522
180024 | 1.1362 | 0.9264 | 22.3922 | 23.6826 | 32.1824 | 25.9352
180025 | 1.0433 | 0.9264 | 18.3306 | 17.4781 | 19.1543 | 18.3232
180026 | 1.1055 | 0.7788 | 15.5354 | 15.8431 | 18.2120 | 16.5328
180027 | 1.2138 | 0.8092 | 20.5017 | 22.1072 | 23.8763 | 22.1722
180028 | 0.8828 | 0.9119 | 20.6324 | 21.4766 | 24.7968 | 22.1418
180029 | 1.2700 | 0.8095 | 20.4262 | 21.2110 | 23.0536 | 21.5776
180035 | 1.5412 | 0.9604 | 24.3874 | 26.7702 | 29.8438 | 27.1206
180036 | 1.1727 | 0.9482 | 22.2389 | 23.1636 | 25.1154 | 23.5250
180037 | 1.2780 | 0.9264 | 22.7893 | 24.4451 | 25.7361 | 24.4985
180038 | 1.3465 | 0.8806 | 20.6888 | 22.2750 | 24.6348 | 22.4970
180040 | 2.0835 | 0.9264 | 23.2341 | 24.5590 | 26.2125 | 24.7248
180041 | 1.0740 | 0.7788 | 19.1325 | 18.5483 | * | 18.8494
180043 | 1.1986 | 0.7788 | 20.6498 | 18.8436 | 19.0617 | 19.4791
180044 | 1.5046 | 0.9119 | 21.8163 | 21.6837 | 23.0971 | 22.1791
180045 | 1.3290 | 0.9604 | 22.1027 | 24.5856 | 25.8349 | 24.1325
180046 | 1.0500 | 0.9060 | 23.1139 | 24.7562 | 27.2244 | 25.0514
180047 | 0.8429 | 0.7788 | 17.8574 | 20.4768 | 21.8037 | 20.0588
180048 | 1.2624 | 0.9264 | 20.0114 | 22.3601 | 21.6571 | 21.3621
180049 ʰ | 1.3812 | 0.9060 | 18.5188 | 19.4488 | 23.3407 | 20.4067
180050 | 1.1118 | 0.7788 | 19.9082 | 21.7150 | 22.6473 | 21.3727
180051 | 1.3901 | 0.8272 | 18.8186 | 19.2100 | 21.3312 | 19.7863
180053 | 1.0384 | 0.7788 | 17.6239 | 18.6610 | 19.1578 | 18.5083
180054 | 0.9619 | 0.7788 | 19.1340 | 19.0657 | * | 19.0979
180055 ʰ | 1.0038 | 0.9060 | 17.8704 | 21.1989 | 20.7237 | 19.9661
180056 | 1.0631 | 0.8735 | 19.4072 | 21.4695 | 22.8910 | 21.2490
180063 | 1.1680 | 0.7788 | 15.5078 | 15.9185 | 17.9741 | 16.5674
180064 | 1.2463 | 0.7788 | 21.1067 | 15.3819 | 16.2638 | 17.3349
180066 | 1.0468 | 0.9492 | 21.1884 | 24.6359 | 24.9543 | 23.6588
180067 | 1.9180 | 0.9060 | 22.0056 | 24.0551 | 25.4080 | 23.7960
180069 | 1.0456 | 0.9119 | 20.3982 | 20.8797 | 22.3674 | 21.2166
180070 | 1.1131 | 0.7788 | 16.9892 | 17.4266 | 20.1308 | 18.1917
180072 | *** | * | 17.5411 | * | * | 17.5411
180079 | 1.1252 | 0.7788 | 18.0472 | 19.5783 | 19.7791 | 19.1405
180080 | 1.3087 | 0.8470 | 18.9582 | 20.1651 | 21.7380 | 20.2813
180087 | 1.1742 | 0.7788 | 16.4726 | 17.7758 | 18.4331 | 17.6017
180088 | 1.5651 | 0.9264 | 23.7217 | 24.6053 | 27.5767 | 25.3642
180092 | 1.1282 | 0.9060 | 19.6790 | 22.4864 | 22.5679 | 21.6047
180093 | 1.4227 | 0.8508 | 18.8469 | 19.2748 | 20.5422 | 19.5520
180094 | 0.9602 | 0.7788 | 15.7640 | * | * | 15.7640
180099 | *** | 0.7788 | 14.0115 | * | * | 14.0115
180102 | 1.5476 | 0.8092 | 20.1885 | 19.1136 | 18.4388 | 19.1595
180103 | 2.2069 | 0.9060 | 21.3867 | 25.1577 | 26.9407 | 24.4722
180104 | 1.6243 | 0.8092 | 21.3866 | 22.8911 | 24.9441 | 23.1113
180105 | 0.8484 | 0.7788 | 18.3521 | 19.5364 | 19.7615 | 19.2381
180106 | 0.9458 | 0.7788 | 15.4937 | 15.7851 | 17.8020 | 16.4485
180108 | *** | 0.7788 | 16.7327 | * | * | 16.7327
180116 | 1.2066 | 0.8285 | 20.5453 | 21.8698 | 22.7353 | 21.7465
180117 | 0.9835 | 0.7788 | 17.7885 | 20.5952 | 21.1854 | 19.7909
180120 | 0.7761 | 0.7788 | 20.4507 | * | * | 20.4507
180124 | 1.3086 | 0.9492 | 20.5369 | 21.4270 | 23.1917 | 21.6877
180126 | 1.0372 | 0.7788 | 14.5644 | 15.1776 | * | 14.8844
180127 | 1.2754 | 0.9264 | 20.0059 | 21.4633 | 23.4765 | 21.6735
180128 | 0.9399 | 0.7788 | 19.8502 | 20.5575 | 20.8406 | 20.4307
180129 | *** | 0.7788 | 14.1861 | * | * | 14.1861
180132 | 1.3264 | 0.8830 | 19.9358 | 22.2101 | 23.7652 | 21.9796
180134 | 1.0635 | 0.7788 | * | 17.3449 | 18.6779 | 18.0324
180138 | 1.2100 | 0.9264 | 23.0996 | 25.1789 | 27.3400 | 25.1767
180139 | 1.0372 | 0.8830 | 20.6287 | 21.3797 | 23.5363 | 21.8425
180141 | 1.7146 | 0.9264 | 22.6722 | 24.3140 | 25.3042 | 24.1450
180143 | 1.4820 | 0.9060 | 20.1309 | 14.2734 | 25.1613 | 19.0124
190001 | 1.0754 | 0.9003 | 20.4946 | 19.5680 | 19.7516 | 19.8963
190002 | 1.7155 | 0.8429 | 20.7172 | 21.7000 | 22.0056 | 21.4744
190003 | 1.4560 | 0.8429 | 20.7505 | 21.8156 | 23.4977 | 22.0368
190004 | 1.2890 | 0.7903 | 20.5272 | 22.1835 | 23.3290 | 21.9727
190005 | 1.4326 | 0.9003 | 20.0551 | 20.7987 | 22.3208 | 21.0635
190006 | 1.2504 | 0.8429 | 18.8115 | 19.4573 | 22.2467 | 20.1618
190007 | 1.1174 | 0.7445 | 17.9392 | 18.7854 | 19.7528 | 18.8587
190008 | 1.6429 | 0.7903 | 20.3278 | 21.4137 | 24.0111 | 21.9572
190009 | 1.2155 | 0.8048 | 17.5144 | 18.8295 | 19.8404 | 18.6932
190010 | 1.1212 | 0.7445 | 18.1797 | 19.9788 | 21.6889 | 19.9508
190011 | 1.0256 | 0.8044 | 15.4699 | 18.1525 | 19.7319 | 17.7235
190013 | 1.3334 | 0.7847 | 18.7538 | 19.6346 | 20.8626 | 19.7509
190014 | 1.1677 | 0.7445 | 17.0630 | 17.4740 | 22.4596 | 18.7727
190015 | 1.3076 | 0.9003 | 20.6167 | 22.1046 | 22.8875 | 21.9289
190017 ʰ | 1.3418 | 0.8429 | 18.3528 | 18.6962 | 21.5033 | 19.4006
190018 | *** | 0.7445 | 19.2055 | * | * | 19.2055
190020 | 1.1401 | 0.8605 | 18.5659 | 19.8505 | 21.6136 | 19.9828
190025 | 1.2473 | 0.7445 | 19.9969 | 20.4651 | 20.8950 | 20.4776
190026 | 1.5166 | 0.8048 | 19.9229 | 21.3386 | 22.5087 | 0121.3125
190027 | 1.6352 | 0.7847 | 19.4057 | 21.2449 | 21.2526 | 20.6470
190034 | 1.1567 | 0.7445 | 16.8439 | 17.5002 | 19.6943 | 18.0127
190036 | 1.6456 | 0.9003 | 23.3903 | 23.7356 | 24.8359 | 24.0024
190037 | 0.9457 | 0.7847 | 15.6062 | 16.7629 | 18.6393 | 17.0499
190039 | 1.4625 | 0.9003 | 20.4900 | 23.3105 | 25.6665 | 23.2338
190040 | 1.3133 | 0.9003 | 22.9262 | 23.8076 | 26.7428 | 24.3506
190041 | 1.4459 | 0.8767 | 21.9983 | 23.9082 | 24.6734 | 23.4433
190043 | 1.0017 | 0.7445 | 15.7333 | 16.8944 | 17.3477 | 16.6784
190044 ʰ | 1.2058 | 0.8429 | 17.7460 | 19.5304 | 19.5567 | 18.9595
190045 | 1.5902 | 0.9003 | 22.8709 | 24.0490 | 25.3854 | 24.1220
190046 | 1.4233 | 0.9003 | 21.1019 | 22.2884 | 24.2128 | 22.4847
190048 | 1.0523 | 0.7445 | 18.1698 | 18.6148 | 19.6288 | 18.7855
190049 | 1.0149 | 0.7445 | 19.3768 | 20.1229 | * | 19.7625
190050 | 1.0741 | 0.7445 | 18.6663 | 18.5287 | 19.1076 | 18.7685
190053 | 1.1232 | 0.7445 | 13.8037 | 15.7258 | 16.4968 | 15.3819
190054 | 1.3671 | 0.7445 | 19.9370 | 20.3525 | 20.1108 | 20.1339
190059 | 0.8367 | 0.8605 | 18.3334 | 19.2396 | * | 18.7888
190060 | 1.5006 | 0.7847 | 20.2207 | 22.1499 | 23.6278 | 21.9859
190064 | 1.5577 | 0.8605 | 21.1262 | 21.5514 | 23.3617 | 22.0132
190065 | 1.4890 | 0.8605 | 20.3583 | 23.0523 | 23.7450 | 22.3992
190077 | 0.8526 | 0.8044 | 17.0480 | 18.4043 | 18.8409 | 18.0986
190078 ʰ | 1.0049 | 0.8429 | 19.8607 | 21.5782 | 21.3786 | 20.9721
190079 | 1.2488 | 0.9003 | 20.5000 | 21.8158 | 21.2546 | 21.1972
190081 | 0.8882 | 0.7445 | 11.4756 | 14.9141 | 15.6146 | 13.9838
190083 | 0.8728 | 0.7445 | 18.4954 | 19.2683 | * | 18.9013
190086 | 1.2357 | 0.8767 | 18.2005 | 18.8306 | 19.8823 | 18.9783
190088 ʰ | 1.0702 | 0.8767 | 18.6738 | 22.5045 | 22.3480 | 20.9939
190089 | 0.9609 | 0.7445 | 15.5151 | 16.2961 | * | 15.9103
190090 | 1.0843 | 0.7445 | 19.0519 | 20.0745 | 20.2045 | 19.8076
190095 | *** | * | 16.9519 | 18.7302 | 18.0174 | 17.8930
190098 | 1.5840 | 0.8767 | 20.7537 | 23.0802 | 24.6353 | 22.7792
190099 | 1.0296 | 0.8470 | 23.1606 | 21.1657 | 20.4597 | 21.4552
190102 | 1.6258 | 0.8429 | 22.0190 | 23.4618 | 25.2267 | 23.6255
190106 | 1.2114 | 0.8048 | 20.3114 | 21.5643 | 21.7228 | 21.2163
190109 | 1.1376 | 0.7903 | 16.6515 | 17.4842 | 18.6524 | 17.5941
190110 ʰ | 0.8513 | 0.8429 | 16.5007 | 19.0611 | * | 17.8105
190111 | 1.5580 | 0.8767 | 24.4380 | 25.2370 | 24.4998 | 24.7275
190114 | 1.0513 | 0.7445 | 13.6101 | 14.6258 | 15.8031 | 14.6821
190115 | 1.1772 | 0.8767 | 25.4984 | 26.0272 | 26.6295 | 26.0395
190116 | 1.2394 | 0.7445 | 17.8297 | 18.6074 | 20.3844 | 18.9443
190118 | 0.9389 | 0.8767 | 17.5060 | 19.0200 | 19.7025 | 18.7558
190122 | 1.1878 | 0.8605 | 17.7811 | 19.3131 | 23.7082 | 20.0706
190124 | 1.5270 | 0.9003 | 23.3859 | 23.4862 | 24.6675 | 23.8477
190125 | 1.6350 | 0.8044 | 21.5692 | 22.3976 | 23.9649 | 22.6514
190128 | 1.0700 | 0.8605 | 23.8786 | 24.7842 | 27.9136 | 25.5637
190130 | 0.9482 | 0.7445 | 15.2678 | 16.6910 | * | 15.9880
190131 | 1.1718 | 0.9003 | 21.3154 | 22.5032 | 25.1917 | 22.9740
190133 | 0.8895 | 0.7445 | 13.4062 | 14.3089 | 13.6266 | 13.7628
190135 | 1.4454 | 0.9003 | 24.4908 | 26.9920 | 26.8238 | 26.1247
190140 | 0.9845 | 0.7445 | 15.4030 | 17.0371 | 17.6936 | 16.7104
190144 ʰ | 1.1367 | 0.8767 | 21.3838 | 21.1658 | 21.7547 | 21.4426
190145 | 0.9459 | 0.7445 | 17.4407 | 17.3361 | 18.9678 | 17.9319
190146 | 1.5445 | 0.9003 | 22.1502 | 23.7721 | 26.1792 | 24.0255
190147 | *** | 0.7445 | 16.3596 | * | * | 16.3596
190149 | 0.9266 | 0.7445 | 18.4197 | 17.1671 | 18.8819 | 18.1219
190151 | 1.0072 | 0.7445 | 17.3402 | 17.8741 | 18.6293 | 17.9597
190152 | 1.3530 | 0.9003 | 25.1136 | 27.4708 | 27.6099 | 26.7879
190156 | 0.8717 | 0.7445 | 18.0528 | 18.3702 | * | 18.2089
190158 | 1.3600 | 0.9003 | 23.2361 | 26.2352 | 26.3042 | 25.4140
190160 | 1.4780 | 0.8044 | 19.8428 | 20.0025 | 21.6740 | 20.5204
190161 | 1.1157 | 0.7847 | 16.5322 | 17.8794 | 19.1022 | 17.8227
190162 | *** | 0.9003 | 20.7350 | 22.1781 | 25.0328 | 22.6102
190164 | 1.1345 | 0.8048 | 20.2791 | 21.4247 | 22.8599 | 21.6241
190167 | 1.2264 | 0.7445 | 17.2643 | 17.8604 | 24.3185 | 19.7786
190175 | 1.3314 | 0.9003 | 22.7574 | 24.6790 | 27.1531 | 25.0038
190176 | 1.7308 | 0.9003 | 25.2536 | 25.8482 | 25.6997 | 25.6097
190177 | 1.5627 | 0.9003 | 22.3318 | 25.4769 | 27.4621 | 25.2171
190182 | 0.9036 | 0.9003 | 23.6016 | 25.0837 | 28.4799 | 25.6314
190183 | 1.1870 | 0.7903 | 17.1805 | 18.3151 | 19.8084 | 18.4205
190184 | 1.0174 | 0.7445 | 20.6096 | 21.3191 | 23.9609 | 21.8425
190185 | 1.3314 | 0.9003 | 29.7870 | 24.4176 | 24.7912 | 25.8807
190190 | 0.8693 | 0.7445 | 16.2819 | 14.0052 | 16.1195 | 15.4593
190191 ʰ | 1.3627 | 0.8470 | 21.9141 | 22.3755 | 23.5734 | 22.6642
190196 | 0.8706 | 0.8429 | 20.7601 | 21.9355 | 24.7135 | 22.5497
190197 | 1.3476 | 0.8044 | 21.6908 | 22.9631 | 24.3735 | 23.0241
190199 | 1.1533 | 0.8605 | 19.7776 | 18.5317 | 14.1410 | 17.3575
190200 | 1.5526 | 0.9003 | 24.1667 | 26.4258 | 27.5681 | 25.9873
190201 | 1.2736 | 0.7847 | 21.4335 | 22.5588 | 24.5877 | 22.9165
190202 | 1.2371 | 0.8605 | 22.4062 | 21.8900 | 24.7944 | 23.0825
190203 | 1.5000 | 0.9003 | 24.9518 | 26.9099 | 26.8795 | 26.2979
190204 | 1.4751 | 0.9003 | 26.1231 | 28.8777 | 28.3684 | 27.8932
190205 | 1.7106 | 0.8429 | 20.2374 | 21.7696 | 24.4540 | 22.1979
190206 | 1.6684 | 0.9003 | 24.2892 | 26.9117 | 26.0139 | 25.7960
190207 | *** | * | 21.5325 | * | * | 21.5325
190218 | 1.1570 | 0.7445 | 21.6206 | 23.9182 | 25.0356 | 23.6192
190236 | 1.4154 | 0.8767 | 24.4661 | 23.8233 | 23.6824 | 23.9582
190240 | 0.9780 | 0.7445 | 15.4026 | 13.9888 | * | 14.7116
190241 | 1.2944 | 0.7903 | 24.2462 | 28.9620 | 23.9700 | 25.7012
190242 | 1.1208 | 0.8605 | 18.6672 | 20.5937 | 23.0072 | 20.7608
190243 | *** | * | * | 30.6060 | * | 30.6060
190245 | 2.1960 | 0.8044 | * | * | 27.1786 | 27.1786
200001 | 1.2980 | 0.9985 | 21.6050 | 23.2210 | 25.1145 | 23.3710
200002 | 1.1625 | 0.9884 | 22.0700 | 24.1446 | 25.7478 | 23.9468
200007 | 1.0638 | 1.0382 | 21.0603 | 22.3920 | * | 21.7470
200008 | 1.2535 | 1.0382 | 25.1115 | 25.1741 | 27.4412 | 25.9041
200009 | 1.9724 | 1.0382 | 24.9041 | 28.1409 | 31.1056 | 28.0391
200012 | 1.1372 | 0.8840 | 21.8529 | 24.1243 | 25.7623 | 23.9787
200013 | 1.1001 | 0.8840 | 22.8909 | 23.9048 | 24.4131 | 23.7685
200018 | 1.1627 | 0.8840 | 21.1330 | 24.3294 | 23.6337 | 23.0851
200019 | 1.2839 | 1.0382 | 23.1114 | 24.0926 | 25.1367 | 24.1296
200020 | 1.2562 | 1.0503 | 27.0798 | 28.7351 | 31.7083 | 29.2990
200021 | 1.1892 | 1.0382 | 24.9925 | 25.1027 | 24.5519 | 24.8792
200024 | 1.5272 | 0.9884 | 22.9698 | 24.6484 | 26.0080 | 24.6372
200025 | 1.0696 | 1.0382 | 22.9023 | 24.3646 | 26.0573 | 24.4151
200026 | 1.0384 | 0.8840 | 19.7172 | 21.9997 | * | 20.8927
200027 | 1.2155 | 0.8840 | 21.0156 | 23.2912 | 26.3118 | 23.4478
200028 | 1.0270 | 0.8840 | 21.2180 | 24.3061 | 24.3271 | 23.3297
200031 | 1.3580 | 0.8840 | 18.8262 | 20.6202 | 21.9489 | 20.4626
200032 | 1.2155 | 0.8840 | 23.0487 | 24.2221 | 25.5227 | 24.3050
200033 | 1.8521 | 0.9985 | 25.1723 | 26.8727 | 28.6479 | 26.9328
200034 | 1.3802 | 0.9884 | 23.5415 | 26.1150 | 26.2926 | 25.3574
200037 | 1.1932 | 0.8840 | 22.6534 | 23.3490 | 23.2333 | 23.0870
200039 | 1.2758 | 0.9884 | 22.1333 | 24.0474 | 25.1196 | 23.8217
200040 | 1.2240 | 1.0382 | 21.8528 | 23.6791 | 25.5405 | 23.6763
200041 | 1.1389 | 0.8840 | 21.3816 | 23.6797 | 24.5532 | 23.3316
200050 | 1.2560 | 0.9985 | 23.4391 | 25.5233 | 26.4992 | 25.2144
200052 | 1.0527 | 0.8840 | 19.0535 | 22.7763 | 21.8726 | 21.2769
200063 | 1.1744 | 0.9884 | 23.0135 | 24.7235 | 25.0167 | 24.2686
200066 | 1.2279 | 0.8840 | 19.5890 | 21.6354 | * | 20.6005
210001 | 1.4095 | 0.9528 | 22.6614 | 26.3144 | 27.7561 | 25.5750
210002 | 1.9808 | 0.9892 | 25.6975 | 25.2859 | 26.4992 | 25.8584
210003 | 1.6574 | 1.0935 | 23.0790 | 32.3042 | 29.8684 | 28.0698
210004 | 1.4432 | 1.1471 | 29.4841 | 29.4300 | 34.2392 | 31.0347
210005 | 1.2836 | 1.1471 | 24.7185 | 27.1276 | 28.7557 | 26.8963
210006 | 1.0893 | 0.9892 | 24.7327 | 25.6396 | 25.4081 | 25.2468
210007 | 1.8793 | 0.9892 | 27.5104 | 28.4496 | 30.2548 | 28.7829
210008 | 1.3153 | 0.9892 | 24.6569 | 26.3008 | 25.2833 | 25.4086
210009 | 1.8013 | 0.9892 | 23.4889 | 24.6332 | 26.2360 | 24.8136
210010 | *** | 0.9099 | 23.7761 | 24.5071 | 25.7850 | 24.6945
210011 | 1.4100 | 0.9892 | 22.3262 | 24.8373 | 27.5031 | 24.9589
210012 | 1.5973 | 0.9892 | 25.2892 | 25.7934 | 27.4103 | 26.2116
210013 | 1.2668 | 0.9892 | 23.0151 | 23.9875 | 25.1348 | 24.0450
210015 | 1.3230 | 0.9892 | 23.8419 | 25.8532 | 28.2029 | 25.9683
210016 | 1.8143 | 1.1471 | 27.2632 | 28.6992 | 32.2081 | 29.4293
210017 | 1.1663 | 0.9099 | 19.0248 | 21.3983 | 23.2168 | 21.2523
210018 | 1.2267 | 1.1471 | 25.3112 | 27.5431 | 29.2153 | 27.3955
210019 | 1.7403 | 0.9099 | 23.5259 | 24.9252 | 26.1824 | 24.9054
210022 | 1.4002 | 1.1471 | 27.6680 | 30.1470 | 33.8015 | 30.5481
210023 | 1.4502 | 0.9892 | 26.7837 | 29.0844 | 30.4656 | 28.8005
210024 | 1.6742 | 0.9892 | 24.8939 | 27.1756 | 29.5579 | 27.2560
210025 | 1.2278 | 0.9310 | 22.8882 | 23.8943 | 26.0771 | 24.3114
210027 | 1.4821 | 0.9310 | 19.3517 | 23.9255 | 26.0111 | 22.9283
210028 | 1.0800 | 0.9099 | 22.4054 | 24.1265 | 25.9221 | 24.1901
210029 | 1.2469 | 0.9892 | 26.2082 | 31.2888 | 27.9741 | 28.3176
210030 | 1.2604 | 0.9099 | 20.7802 | 27.5507 | 29.5702 | 25.7230
210032 | 1.1336 | 1.0652 | 20.3407 | 25.7138 | 26.1829 | 23.9925
210033 | 1.1618 | 0.9892 | 25.0301 | 26.6113 | 29.0420 | 26.9838
210034 | 1.2910 | 0.9892 | 22.8827 | 26.3896 | 28.4308 | 25.7800
210035 | 1.3279 | 1.0935 | 21.6973 | 24.5198 | 26.1082 | 24.1712
210037 | 1.1827 | 0.9099 | 23.5536 | 24.1913 | 24.8719 | 24.2175
210038 | 1.2100 | 0.9892 | 26.5696 | 28.3414 | 29.5979 | 28.1851
210039 | 1.1063 | 1.0935 | 24.0987 | 25.8415 | 27.6940 | 25.8514
210040 | 1.2556 | 0.9892 | 25.4729 | 28.3723 | 29.3514 | 27.8674
210043 | 1.3070 | 0.9892 | 22.2177 | 24.3070 | 27.5657 | 24.7038
210044 | 1.3455 | 0.9892 | 23.8101 | 24.8083 | 28.8700 | 25.7966
210045 | 1.0505 | 0.9099 | 11.8350 | 15.0867 | 15.6380 | 14.3653
210048 | 1.3334 | 0.9892 | 24.4328 | 25.0617 | 28.4638 | 26.0370
210049 | 1.2251 | 0.9892 | 24.7148 | 25.9342 | 26.9656 | 25.9278
210051 | 1.3202 | 1.0935 | 25.7103 | 27.3692 | 29.2998 | 27.5052
210054 | 1.3345 | 1.0935 | 27.3551 | 24.6658 | 26.2295 | 26.0806
210055 | 1.1840 | 1.0935 | 27.4218 | 28.0014 | 29.9708 | 28.5097
210056 | 1.3191 | 0.9892 | 23.5881 | 26.6884 | 28.6091 | 26.3638
210057 | 1.4185 | 1.1471 | 27.3520 | 29.2233 | 32.2883 | 29.7939
210058 | 1.0819 | 0.9892 | 22.0351 | 24.8576 | 29.7841 | 25.5191
210060 | 1.1664 | 1.0935 | 25.8377 | 28.7531 | 28.5087 | 27.8143
210061 | 1.2457 | 0.9099 | 22.5455 | 24.1369 | 23.6662 | 23.5086
220001 | 1.2068 | 1.1233 | 25.8030 | 27.3238 | 28.9854 | 27.3824
220002 | 1.3775 | 1.1233 | 26.3348 | 28.9722 | 30.3598 | 28.5921
220003 | 1.1465 | 1.1233 | 18.8150 | 20.5790 | 22.0549 | 20.5049
220006 | 1.5005 | 1.0525 | 27.1576 | 29.5946 | 30.7583 | 29.2881
220008 | 1.2473 | 1.0952 | 25.6647 | 27.1675 | 30.1043 | 27.7253
220010 | 1.2849 | 1.1233 | 24.5020 | 27.4161 | 29.7998 | 27.3015
220011 | 1.1320 | 1.1233 | 32.2266 | 32.6624 | 33.6258 | 32.9286
220012 | 1.4769 | 1.2518 | 32.0521 | 32.9791 | 36.2075 | 33.8319
220015 | 1.1789 | 1.0259 | 25.0272 | 25.5449 | 28.3397 | 26.3904
220016 | 1.1162 | 1.0259 | 25.7740 | 26.8798 | 28.0609 | 26.8986
220017 | 1.3302 | 1.1537 | 28.9024 | 28.8264 | 29.7108 | 29.1461
220019 | 1.1847 | 1.1233 | 21.6620 | 22.2294 | 23.2544 | 22.3943
220020 | 1.2561 | 1.0952 | 23.5737 | 24.2279 | 26.3475 | 24.7620
220024 | 1.2397 | 1.0259 | 24.1071 | 25.5837 | 27.3488 | 25.6784
220025 | 1.1085 | 1.1233 | 23.2374 | 24.5186 | 23.0637 | 23.5753
220028 | 1.4399 | 1.1233 | 31.4858 | 31.3592 | 32.0980 | 31.6438
220029 | 1.1188 | 1.1233 | 27.4792 | 28.1432 | 28.6970 | 28.1288
220030 | 1.1096 | 1.0259 | 20.0816 | 23.6257 | 24.4289 | 22.7602
220031 | 1.5358 | 1.1537 | 30.8324 | 32.2660 | 34.7388 | 32.5988
220033 | 1.1835 | 1.1233 | 25.4500 | 26.8049 | 28.1859 | 26.8967
220035 | 1.3734 | 1.1233 | 26.8486 | 27.5533 | 28.6238 | 27.6997
220036 | 1.4886 | 1.1537 | 28.2182 | 29.6296 | 31.5184 | 29.8330
220041 | *** | * | 28.8184 | 29.7464 | * | 29.2230
220046 | 1.3512 | 1.0183 | 26.1955 | 27.7726 | 28.1396 | 27.3951
220049 | 1.1526 | 1.1233 | 26.7688 | 27.0464 | 27.7517 | 27.2011
220050 | 1.1149 | 1.0259 | 23.7326 | 24.9945 | 26.3768 | 25.0718
220051 | 1.2065 | 1.0183 | 22.2965 | 26.5575 | 29.8380 | 26.3369
220052 | 1.1597 | 1.1537 | 26.3043 | 28.0925 | 29.8577 | 28.1429
220058 | 1.0018 | 1.1233 | 22.4885 | 25.0598 | 24.9642 | 24.1665
220060 | 1.1851 | 1.2254 | 29.6960 | 30.8242 | 32.3362 | 31.0565
220062 | 0.5670 | 1.1233 | 22.6598 | 21.9489 | 24.2779 | 22.9699
220063 | 1.1890 | 1.1233 | 23.3704 | 25.5840 | 27.3967 | 25.3936
220065 | 1.2103 | 1.0259 | 22.4143 | 24.8737 | 26.5513 | 24.6535
220066 | 1.2809 | 1.0259 | 27.5575 | 26.2561 | 27.1317 | 26.9786
220067 | 1.1716 | 1.1537 | 22.4968 | 28.5220 | 29.8911 | 26.7470
220070 | 1.1474 | 1.1233 | 26.2697 | 28.9100 | 31.9283 | 28.7436
220071 | 1.8635 | 1.1537 | 27.7773 | 31.8322 | 32.2591 | 30.6680
220073 | 1.2181 | 1.0952 | 27.9309 | 29.2399 | 31.2591 | 29.4595
220074 | 1.2979 | 1.1537 | 25.7840 | 27.5763 | 28.4930 | 27.3187
220075 | 1.3687 | 1.1537 | 26.0527 | 27.9503 | 29.1588 | 27.7387
220076 | *** | 1.1078 | 24.8040 | 27.2534 | 29.7507 | 27.1315
220077 | 1.7008 | 1.1085 | 27.0946 | 28.0935 | 30.2684 | 28.5352
220080 | 1.2093 | 1.1233 | 24.7399 | 27.1578 | 28.9101 | 27.0523
220082 | 1.2445 | 1.1233 | 23.9542 | 24.8060 | 26.9841 | 25.2609
220083 | 1.1182 | 1.1537 | 28.3533 | 29.9001 | 32.9143 | 30.3719
220084 | 1.2198 | 1.1233 | 26.8596 | 29.0505 | 32.5711 | 29.5958
220086 | 1.7240 | 1.1537 | 29.4911 | 31.7482 | 34.1236 | 31.7544
220088 | 1.8430 | 1.1537 | 26.5849 | 28.5711 | 28.5462 | 27.9606
220089 | 1.2383 | 1.1233 | 28.9252 | 32.4409 | 31.1708 | 30.8836
220090 | 1.2019 | 1.1233 | 26.5552 | 29.7945 | 30.8685 | 29.1558
220095 | 1.0909 | 1.1233 | 23.7629 | 24.9871 | 27.4273 | 25.3894
220098 | 1.1705 | 1.1233 | 26.2287 | 26.8538 | 28.8314 | 27.2888
220100 | 1.2709 | 1.1537 | 27.0265 | 28.4848 | 29.6912 | 28.4369
220101 | 1.3268 | 1.1233 | 26.9992 | 31.0834 | 33.1690 | 30.4912
220105 | 1.2174 | 1.1233 | 26.7570 | 30.0892 | 31.9421 | 29.7099
220108 | 1.2235 | 1.1537 | 26.0166 | 29.0804 | 30.6252 | 28.5516
220110 | 2.0895 | 1.1537 | 33.0445 | 35.4242 | 36.6043 | 35.0919
220111 | 1.1852 | 1.1537 | 27.7395 | 28.9092 | 31.1850 | 29.2950
220116 | 2.0126 | 1.1537 | 30.9871 | 32.2337 | 32.9988 | 32.0845
220119 | 1.1414 | 1.1537 | 25.9789 | 27.8372 | 28.2844 | 27.4417
220126 | 1.1438 | 1.1537 | 26.9853 | 26.7660 | 28.7805 | 27.5408
220133 | *** | * | 33.0819 | 31.2981 | 33.6003 | 32.6683
220135 | 1.3023 | 1.2518 | 31.9159 | 31.3246 | 32.1205 | 31.7903
220153 | 1.0112 | 1.0259 | * | 18.9267 | * | 18.9267
220154 | 1.0325 | 1.1537 | 25.6069 | 30.9009 | 28.6462 | 28.0721
220163 | 1.6217 | 1.1233 | 29.9312 | 30.5056 | 33.6484 | 31.2574
220171 | 1.7280 | 1.1233 | 27.2647 | 28.9733 | 29.5666 | 28.6148
220174 | 1.1830 | 1.1233 | * | 30.3356 | 31.7572 | 31.0464
230001 | 1.1145 | 0.8923 | 22.0875 | 24.3660 | * | 23.2049
230002 | 1.2858 | 1.0453 | 23.7972 | 27.0305 | 28.7861 | 26.5792
230003 | 1.1978 | 0.9133 | 22.4322 | 25.2596 | 26.1278 | 24.6604
230004 | 1.6865 | 0.9677 | 23.0827 | 25.5573 | 26.7206 | 25.1973
230005 ʰ | 1.2420 | 1.0885 | 20.3750 | 22.1018 | 24.1902 | 22.4061
230006 | 1.1260 | 0.9786 | 22.0733 | 22.7656 | 23.8835 | 22.9495
230013 | 1.3537 | 0.9858 | 20.4633 | 22.7014 | 23.7822 | 22.3686
230015 | 1.0330 | 0.8923 | 21.7640 | 23.4512 | 24.6570 | 23.3267
230017 | 1.6186 | 1.0403 | 26.1609 | 27.3259 | 29.5178 | 27.7392
230019 | 1.5499 | 0.9858 | 24.7472 | 27.6563 | 28.4575 | 26.9496
230020 | 1.6718 | 1.0453 | 25.8267 | 26.8516 | 29.2869 | 27.3788
230021 | 1.5066 | 0.8923 | 22.0757 | 23.4663 | 24.9551 | 23.5352
230022 | 1.1968 | 1.0628 | 22.2179 | 22.2528 | 23.3000 | 22.6032
230024 | 1.5303 | 1.0453 | 24.7364 | 27.6555 | 30.0866 | 27.3402
230027 | 1.0785 | 0.9398 | 21.2223 | 22.5736 | 23.5511 | 22.4431
230029 | 1.6353 | 0.9858 | 26.7646 | 27.9012 | 29.0935 | 27.9121
230030 | 1.2551 | 0.9090 | 19.9853 | 20.9867 | 22.3174 | 21.1301
230031 | 1.3778 | 0.9858 | 22.1874 | 23.2910 | 25.4678 | 23.7275
230032 | *** | * | 23.8366 | * | * | 23.8366
230035 | 1.2892 | 0.9398 | 18.0735 | 20.9197 | 21.2317 | 19.9973
230036 | 1.3478 | 0.8923 | 25.9801 | 26.5854 | 28.3622 | 26.9984
230037 | 1.1932 | 1.0628 | 24.4115 | 24.7875 | 26.0167 | 25.1030
230038 | 1.6544 | 0.9398 | 23.4685 | 25.2499 | 26.3480 | 25.2371
230040 | 1.1923 | 0.9398 | 21.8062 | 21.9813 | 24.2349 | 22.7262
230041 | 1.4739 | 0.9535 | 24.2297 | 25.2518 | 26.1760 | 25.1852
230042 | 1.1899 | 0.9133 | 21.8241 | 24.3640 | 26.2037 | 24.1687
230046 | 1.8546 | 1.0885 | 28.2320 | 29.2683 | 30.3591 | 29.3515
230047 | 1.3775 | 1.0453 | 24.3622 | 26.2447 | 28.1351 | 26.3210
230053 | 1.5876 | 1.0453 | 26.1415 | 28.3030 | 29.9871 | 28.0856
230054 | 2.0368 | 0.9439 | 23.0818 | 24.0137 | 24.9905 | 24.0601
230055 | 1.2813 | 0.8923 | 20.9350 | 23.7671 | 25.4143 | 23.4450
230058 | 1.1454 | 0.8923 | 22.4516 | 21.9308 | 24.0657 | 22.7966
230059 | 1.4370 | 0.9398 | 21.2743 | 23.1451 | 25.5350 | 23.3695
230060 | 1.2849 | 0.8923 | 22.3512 | 24.5073 | 25.5015 | 24.1280
230065 | *** | 1.0453 | 26.3217 | 27.9179 | 28.4631 | 27.5421
230066 | 1.3075 | 0.9677 | 23.9696 | 25.8517 | 27.4928 | 25.8295
230069 | 1.1753 | 1.0654 | 26.0438 | 27.6815 | 29.5556 | 27.8051
230070 | 1.5701 | 0.9474 | 22.8588 | 25.1587 | 24.2342 | 24.0769
230071 | 0.8485 | 0.9858 | 23.6674 | 24.7707 | 26.3907 | 24.9681
230072 | 1.3590 | 0.9133 | 22.9626 | 24.1560 | 24.4933 | 23.9114
230075 | 1.3133 | 0.9492 | 22.6799 | 24.1482 | 27.6193 | 24.8869
230077 | 1.9292 | 1.0654 | 29.2041 | 27.3117 | 30.3431 | 28.9610
230078 | 1.0254 | 0.8923 | 20.5427 | 21.9200 | 23.9901 | 22.2077
230080 | 1.2619 | 0.9090 | 20.2405 | 21.2840 | 21.2314 | 20.9185
230081 | 1.1862 | 0.8923 | 20.4289 | 20.6777 | 23.0788 | 21.3975
230082 | 1.0168 | 0.8923 | 21.3100 | 23.1240 | 22.2165 | 22.1964
230085 | 1.2173 | 1.0403 | 24.2802 | 22.2569 | 22.7314 | 23.1872
230086 | 1.1453 | 0.8923 | 27.8923 | 20.8759 | 22.2965 | 23.4562
230087 | *** | * | 22.2688 | * | 16.9168 | 19.0752
230089 | 1.3414 | 1.0453 | 23.3847 | 23.9486 | 28.7015 | 25.3973
230092 | 1.2758 | 0.9300 | 22.3122 | 24.3768 | 26.3584 | 24.3257
230093 | 1.1471 | 0.9398 | 25.1213 | 24.5055 | 26.4967 | 25.3702
230095 | 1.2485 | 0.8923 | 19.1810 | 19.2244 | 21.3915 | 19.9401
230096 | 1.1644 | 1.0403 | 26.7156 | 26.7578 | 28.7681 | 27.4077
230097 | 1.7922 | 0.8923 | 22.9902 | 25.2104 | 26.5773 | 24.9608
230099 | 1.2029 | 1.0628 | 23.5490 | 25.0390 | 26.4882 | 25.0486
230100 | 1.0901 | 0.8923 | 19.8016 | 20.4565 | 21.8895 | 20.6965
230101 | 1.0867 | 0.8923 | 22.3310 | 23.1349 | 24.3772 | 23.3147
230103 | 0.9926 | 0.9786 | 19.4434 | 18.4304 | 21.6609 | 19.7646
230104 | 1.5316 | 1.0453 | 27.4119 | 27.8864 | 30.5570 | 28.5801
230105 | 1.9274 | 0.9535 | 23.9851 | 24.6853 | 27.2705 | 25.3146
230106 | 1.1151 | 0.9398 | 23.1962 | 24.1128 | 24.3980 | 23.9236
230108 | 1.1539 | 0.8923 | 19.9842 | 22.4966 | 18.4063 | 20.1757
230110 | 1.2559 | 0.8923 | 21.5523 | 22.7621 | 28.7704 | 24.4693
230117 | 1.8428 | 1.0403 | 28.1220 | 29.6361 | 29.4775 | 29.0873
230118 | 1.0609 | 0.8923 | 22.2208 | 21.4886 | 22.3636 | 22.0278
230119 | 1.2750 | 1.0453 | 25.3562 | 29.2509 | 30.4910 | 28.0624
230120 ʰ | 1.1085 | 1.0885 | 22.7243 | 21.7894 | 24.1485 | 22.9095
230121 | 1.2547 | 0.9786 | 22.3708 | 23.4394 | 24.5220 | 23.4095
230124 | 1.3011 | 0.8923 | 22.0097 | 23.0508 | * | 22.5308
230130 | 1.7348 | 0.9858 | 23.7854 | 26.9907 | 26.6076 | 25.8001
230132 | 1.3708 | 1.0654 | 29.0292 | 29.9106 | 30.5074 | 29.8111
230133 | 1.4219 | 0.8923 | 20.4801 | 21.2273 | 22.7380 | 21.5235
230135 | 1.1067 | 1.0453 | 19.8290 | 23.9000 | 25.8406 | 23.1673
230141 | 1.6290 | 1.0654 | 23.9885 | 30.4643 | 28.6326 | 27.6090
230142 | 1.2390 | 1.0453 | 22.9036 | 25.6044 | 26.9433 | 25.2019
230143 | 1.2372 | 0.8923 | 19.5446 | 19.5387 | 21.4083 | 20.1494
230144 | *** | 1.0885 | 23.6959 | * | * | 23.6959
230146 | 1.2340 | 1.0453 | 21.3539 | 24.3891 | 26.3432 | 24.1395
230149 | 0.9394 | 0.8923 | 20.8933 | 21.4753 | * | 21.1778
230151 | 1.3038 | 0.9858 | 23.8527 | 26.4669 | 27.1965 | 25.8699
230153 | 1.0978 | 0.9786 | 22.8584 | 22.3404 | 22.8644 | 22.6896
230155 | 1.0445 | 0.8923 | 18.0743 | 24.0404 | * | 20.6336
230156 | 1.5897 | 1.0885 | 27.7164 | 29.4855 | 31.1909 | 29.5181
230165 | 1.6979 | 1.0453 | 25.9534 | 27.3164 | 28.9636 | 27.4184
230167 | 1.6158 | 0.9786 | 24.7935 | 26.6828 | 27.3362 | 26.2749
230169 | *** | 1.0453 | 24.9265 | 27.1172 | 31.8442 | 27.6798
230171 | 1.0700 | 0.8923 | 19.9097 | 22.0635 | * | 20.9931
230172 | 1.2263 | 1.0403 | 23.0023 | 24.0236 | 25.7402 | 24.2756
230174 | 1.3089 | 0.9133 | 24.4671 | 26.2770 | 27.6920 | 26.1839
230175 | *** | * | 22.5964 | * | * | 22.5964
230180 | 1.0957 | 0.8923 | 20.9832 | 22.5454 | 24.7358 | 22.8206
230184 | 1.2135 | 0.9300 | 21.4031 | 21.9346 | 23.6707 | 22.3438
230186 | *** | * | 21.6147 | 27.1126 | 26.2282 | 24.5338
230188 | 0.9259 | 0.8923 | 18.8076 | * | * | 18.8076
230190 | 1.0114 | 1.0403 | 27.3430 | 28.7365 | 29.9604 | 28.6717
230193 | 1.2672 | 0.9858 | 22.8916 | 24.3181 | 23.3565 | 23.5189
230195 | 1.4253 | 1.0453 | 25.3285 | 27.1266 | 28.2892 | 26.9865
230197 | 1.5717 | 1.0654 | 26.9840 | 28.3439 | 30.0367 | 28.4836
230204 | 1.2871 | 1.0453 | 24.4095 | 25.9871 | 29.1466 | 26.3875
230207 | 1.3574 | 0.9858 | 22.2848 | 22.2854 | 24.4641 | 22.9909
230208 | 1.1926 | 0.9398 | 20.3171 | 20.9420 | 21.9651 | 21.0908
230212 | 1.0168 | 1.0885 | 26.0656 | 27.3686 | 29.7980 | 27.6833
230216 | 1.5428 | 0.9858 | 23.4262 | 26.1468 | 27.5230 | 25.7787
230217 | 1.2812 | 0.9786 | 24.3650 | 26.7929 | 28.5002 | 26.7214
230222 ʰ | 1.3221 | 0.9474 | 24.6101 | 24.8925 | 26.3990 | 25.3118
230223 | 1.2599 | 0.9858 | 28.5549 | 27.1503 | 29.2853 | 28.3304
230227 | 1.5008 | 1.0453 | 27.7510 | 28.1105 | 29.6068 | 28.4994
230230 | 1.4934 | 0.9786 | 23.9568 | 25.4471 | 27.9607 | 25.8281
230235 | 1.0134 | 0.9090 | 19.9118 | 19.6046 | 21.8777 | 20.4653
230236 | 1.4098 | 0.9398 | 25.7463 | 26.3988 | 28.4754 | 26.9289
230239 | 1.2173 | 0.8923 | 19.8370 | 21.1643 | 22.1040 | 21.0930
230241 | 1.1712 | 0.9858 | 24.2063 | 25.8671 | 27.4890 | 25.8668
230244 | 1.3245 | 1.0453 | 23.9004 | 25.3817 | 26.4326 | 25.2154
230254 | 1.3405 | 0.9858 | 24.2594 | 26.4431 | 28.1216 | 26.2901
230257 | 1.0228 | 1.0453 | 24.8069 | 25.4086 | 27.8197 | 25.8794
230259 | 1.2092 | 1.0885 | 24.8598 | 24.3067 | 26.8677 | 25.3750
230264 | 2.1560 | 1.0453 | 17.4847 | 19.9992 | 19.2398 | 19.0176
230269 | 1.3453 | 0.9858 | 25.3367 | 27.4732 | 28.8187 | 27.2692
230270 | 1.2537 | 1.0453 | 22.8842 | 26.1113 | 27.8488 | 25.6802
230273 | 1.4149 | 1.0453 | 25.8466 | 30.2209 | 29.9307 | 28.6762
230275 | 0.4478 | 0.9474 | 29.4180 | 30.2244 | 23.1095 | 27.7059
230276 | *** | * | 23.4928 | * | * | 23.4928
230279 | 0.5281 | 1.0654 | 21.2467 | 23.1636 | 24.7673 | 22.9663
230283 | 0.8624 | 1.0453 | 25.0038 | 24.9272 | 26.2622 | 25.3910
230288 | *** | * | 30.3422 | * | * | 30.3422
230290 | *** | * | * | 29.4792 | * | 29.4792
230291 | *** | * | * | * | 30.9655 | 30.9655
230292 | *** | 0.9474 | * | * | 31.8943 | 31.8943
240001 | 1.5054 | 1.1055 | 28.2239 | 29.9123 | 31.5753 | 29.9731
240002 | 1.8195 | 1.0224 | 24.7674 | 26.9608 | 28.9860 | 26.9851
240004 | 1.5291 | 1.1055 | 26.8197 | 27.8796 | 30.8072 | 28.5006
240006 | 1.0536 | 1.1128 | 29.5789 | 30.2330 | 30.1950 | 30.0237
240007 | 1.1446 | 0.9183 | 21.4367 | 23.7588 | 24.7344 | 23.3456
240010 | 2.0425 | 1.1128 | 29.0955 | 30.4139 | 31.3733 | 30.3196
240011 | 1.0425 | 0.9183 | 24.0364 | 22.9561 | * | 23.3835
240013 | 1.2687 | 1.0905 | 27.3855 | 28.7202 | 28.3860 | 28.1704
240014 | 1.0309 | 0.9183 | 26.5144 | 28.3788 | 29.8623 | 28.2985
240016 | 1.2584 | 0.9183 | 25.2629 | 24.9211 | 26.7814 | 25.7376
240017 | 1.2467 | 0.9183 | 21.6243 | 23.3314 | 24.4417 | 23.1535
240018 | 1.2293 | 1.0905 | 27.3634 | 27.9218 | 25.6484 | 26.6329
240019 | 1.1105 | 1.0224 | 25.1331 | 27.5441 | 28.6723 | 27.1439
240020 | 1.0806 | 1.1055 | 24.7516 | 28.1568 | 31.2443 | 28.0203
240021 | 0.8545 | 0.9183 | 23.9568 | 23.7096 | 27.1235 | 24.8433
240022 | 1.1064 | 0.9183 | 23.4702 | 23.7368 | 25.2066 | 24.1392
240025 | 1.0776 | 0.9183 | 21.2597 | 27.8656 | * | 24.3444
240027 | 0.9440 | 0.9183 | 18.3340 | 20.2531 | 18.2481 | 18.8765
240029 | 1.0819 | 0.9183 | 21.2342 | 24.3017 | 25.3568 | 23.3870
240030 | 1.3564 | 0.9785 | 22.0200 | 23.3753 | 24.7154 | 23.4178
240031 | 0.9494 | 1.0905 | 23.4389 | 26.7242 | 26.7778 | 25.6303
240036 | 1.6880 | 1.0905 | 23.4857 | 27.0821 | 28.0812 | 26.3323
240037 | 1.0359 | 0.9183 | 21.8392 | 24.3986 | * | 23.1115
240038 | 1.5291 | 1.1055 | 28.9676 | 29.8465 | 31.0779 | 30.0073
240040 | 1.0854 | 1.0224 | 21.3870 | 26.3177 | 27.4895 | 24.8843
240043 | 1.1301 | 0.9183 | 19.5532 | 20.7155 | 21.8685 | 20.7481
240044 | 1.1203 | 0.9183 | 22.7482 | 24.3009 | 22.5843 | 23.1864
240045 | 1.1212 | 1.0224 | 25.9223 | 26.1743 | 27.5013 | 26.5626
240047 | 1.5649 | 1.0224 | 29.6184 | 29.1211 | 28.8288 | 29.1562
240050 | 1.0196 | 1.1055 | 24.7589 | 26.6687 | 26.4854 | 26.0710
240052 | 1.1991 | 0.9183 | 23.5898 | 24.9870 | 26.4256 | 25.0236
240053 | 1.4186 | 1.1055 | 26.7122 | 28.4733 | 29.5315 | 28.3118
240056 | 1.2420 | 1.1055 | 28.5169 | 30.8619 | 31.6623 | 30.4153
240057 | 1.8473 | 1.1055 | 27.7600 | 29.4870 | 30.6258 | 29.3431
240059 | 1.0902 | 1.1055 | 27.0517 | 28.6340 | 29.7916 | 28.5358
240061 | 1.7485 | 1.1128 | 28.7372 | 30.0031 | 30.6383 | 29.8381
240063 | 1.5546 | 1.1055 | 26.7960 | 29.9603 | 32.3487 | 29.6692
240064 | 1.2568 | 1.0224 | 24.9928 | 26.6996 | 29.9662 | 27.5790
240066 | 1.3913 | 1.1055 | 27.4066 | 30.2716 | 33.4532 | 30.4657
240069 | 1.1378 | 1.1128 | 25.6943 | 27.4990 | 28.9496 | 27.4534
240071 | 1.1486 | 1.1128 | 24.8036 | 26.4780 | 28.0585 | 26.4808
240075 | 1.1988 | 0.9785 | 24.4084 | 26.6607 | 26.1956 | 25.7681
240076 | 1.1046 | 1.1055 | 26.7112 | 28.4519 | 29.8562 | 28.4067
240077 | *** | 0.9183 | 18.9735 | * | * | 18.9735
240079 | 0.9411 | 1.1521 | 20.6644 | 20.9220 | * | 20.8010
240080 | 1.6892 | 1.1055 | 27.8807 | 29.6274 | 31.6484 | 29.7472
240083 | 1.2481 | 0.9183 | 24.4352 | 25.0214 | 26.6582 | 25.4096
240084 | 1.1252 | 1.0224 | 23.9942 | 24.7856 | 26.8142 | 25.2047
240087 | 1.0235 | 0.9183 | 20.1002 | 24.8479 | 24.9419 | 23.3753
240088 | 1.2698 | 0.9785 | 25.5587 | 27.6323 | 28.0825 | 27.1245
240089 | *** | 0.9183 | 23.4028 | * | * | 23.4028
240094 | 1.0759 | 1.1055 | 24.4166 | 27.3974 | 28.3973 | 26.8076
240097 | *** | * | 34.2810 | * | * | 34.2810
240101 | 1.1412 | 0.9183 | 24.3455 | 26.6078 | 25.5355 | 25.5132
240103 | 1.0495 | 0.9183 | 20.2324 | 22.5416 | 22.7078 | 21.8542
240104 | 1.1424 | 1.1055 | 27.4946 | 30.1392 | 31.4306 | 29.9577
240106 | 1.4870 | 1.1055 | 25.5890 | 27.5171 | 29.3455 | 27.5527
240107 | 0.9093 | 0.9183 | 24.5583 | 25.5199 | 26.1078 | 25.4514
240109 | 0.9472 | 0.9183 | 14.5892 | 15.2076 | 16.5051 | 15.4279
240115 | 1.6156 | 1.1055 | 27.0312 | 29.0261 | 31.3869 | 29.1786
240117 | 1.1377 | 0.9183 | 20.1436 | 22.0463 | 23.8076 | 22.0056
240121 | 0.9139 | 1.0224 | 24.5455 | * | * | 24.5455
240123 | 1.0528 | 0.9183 | 20.0721 | 20.5755 | 21.7500 | 20.8397
240124 | 0.9638 | 0.9183 | 23.5139 | 23.9297 | * | 23.7277
240127 | *** | * | 19.3857 | 24.4824 | * | 21.5460
240128 | 1.0138 | 0.9183 | 20.1960 | 21.2638 | 21.5791 | 21.0226
240132 | 1.2654 | 1.1055 | 26.7063 | 29.5310 | 31.7139 | 29.3306
240133 | 1.1406 | 0.9183 | 23.6068 | 26.1836 | 27.7658 | 25.8348
240135 | *** | * | 17.8573 | 16.1837 | * | 16.9824
240137 | 1.1919 | 0.9183 | 23.1752 | 23.8666 | * | 23.5315
240139 | 1.0798 | 0.9183 | 22.4473 | 23.7898 | * | 23.1612
240141 | 1.0222 | 1.1055 | 25.1597 | 26.7173 | 26.4016 | 26.1666
240143 | 0.8521 | 0.9183 | 18.9442 | 21.1180 | 21.7416 | 20.6376
240145 | *** | 0.9183 | 22.6063 | * | * | 22.6063
240154 | 1.0199 | 0.9183 | 21.3809 | 23.9643 | * | 22.6453
240162 | 1.1601 | 0.9183 | 20.4807 | 22.3136 | 22.2721 | 21.7043
240166 | 1.1135 | 0.9183 | 21.5002 | 23.4265 | 25.7509 | 23.5628
240179 | 0.8255 | 0.9183 | 19.8249 | 20.8449 | * | 20.3419
240187 | 1.2137 | 1.0905 | 24.8879 | 26.5129 | 27.8811 | 26.4667
240196 | 0.8421 | 1.1055 | 27.2901 | 28.9380 | 30.7719 | 29.0287
240207 | 1.2007 | 1.1055 | 27.4330 | 29.2395 | 31.7414 | 29.5819
240210 | 1.2500 | 1.1055 | 26.6545 | 29.7227 | 32.1564 | 29.5372
240211 | 0.9023 | 1.0905 | 32.8801 | 44.4214 | 18.8503 | 27.6876
240213 | 1.3095 | 1.1055 | 27.5104 | 31.3974 | 32.7532 | 30.8794
250001 | 1.8170 | 0.8313 | 20.9338 | 21.9176 | 22.7827 | 21.9287
250002 | 0.8813 | 0.7685 | 21.6643 | 20.1310 | 23.3845 | 21.6434
250004 | 1.8313 | 0.9108 | 20.9295 | 20.6828 | 24.1065 | 21.8737
250006 | 1.0428 | 0.9108 | 20.3061 | 21.4038 | 24.0191 | 21.9290
250007 | 1.2343 | 0.8922 | 21.2226 | 23.6933 | 25.8710 | 23.5817
250009 | 1.2453 | 0.8799 | 19.7610 | 20.4329 | 22.2323 | 20.8522
250010 | 0.9833 | 0.7685 | 17.6204 | 19.4130 | 19.4403 | 18.8097
250012 | 0.9469 | 0.9346 | 15.6117 | 20.0493 | 20.2921 | 18.4571
250015 | 1.0268 | 0.7685 | 19.3794 | 20.6931 | 20.7555 | 20.2702
250017 | 1.0970 | 0.7685 | 19.0436 | 18.1013 | 21.3950 | 19.5260
250018 | 0.9215 | 0.7685 | 16.8783 | 17.0689 | 16.6294 | 16.8678
250019 | 1.5528 | 0.8922 | 22.9085 | 22.8358 | 23.9741 | 23.2493
250020 | 0.9918 | 0.7685 | 19.1877 | 19.3390 | 21.4019 | 19.9847
250021 | *** | * | 15.8485 | 15.1242 | 20.3559 | 16.0142
250023 | 0.8443 | 0.8612 | 14.7355 | 16.1820 | 16.2418 | 15.7024
250025 | 1.0405 | 0.7685 | 21.2651 | 20.6892 | 20.5258 | 20.8816
250027 | 0.9794 | 0.7685 | 17.5937 | 17.3313 | 17.3481 | 17.4314
250030 | *** | 0.7685 | 27.2140 | * | * | 27.2140
250034 | 1.5307 | 0.9108 | 20.3681 | 20.6752 | 24.3189 | 21.8100
250035 | 0.8545 | 0.7685 | 17.1071 | 14.6149 | 17.2045 | 16.2933
250036 | 1.0038 | 0.8164 | 17.0469 | 17.8313 | 19.1975 | 18.0476
250037 | 0.8638 | 0.7685 | 16.6347 | 17.4463 | 17.4012 | 17.1789
250038 | 0.9832 | 0.8313 | 16.8610 | 18.0209 | 18.9050 | 17.9032
250039 | 0.9125 | 0.8313 | 16.8729 | 15.2939 | 17.3155 | 16.4505
250040 | 1.4718 | 0.8612 | 20.8178 | 21.3451 | 23.2285 | 21.8161
250042 | 1.2038 | 0.9108 | 19.4367 | 21.4117 | 23.4135 | 21.3957
250043 | 1.0429 | 0.7685 | 17.7554 | 18.3322 | 19.8098 | 18.6971
250044 | 1.0199 | 0.7685 | 20.3711 | 21.1198 | 23.3862 | 21.6199
250045 | 1.0872 | 0.8922 | 25.3236 | 25.0863 | 26.3831 | 25.6144
250048 | 1.5843 | 0.8313 | 19.3635 | 21.6547 | 22.9765 | 21.3756
250049 | 0.8410 | 0.7685 | 13.4396 | 17.8154 | 17.7005 | 16.2411
250050 | 1.1957 | 0.7685 | 16.6723 | 18.3170 | 19.1467 | 18.0183
250051 | 0.8358 | 0.7685 | 10.5027 | 10.6908 | 10.6095 | 10.6008
250057 | 1.1292 | 0.7685 | 19.0571 | 19.6789 | 20.1900 | 19.6573
250058 | 1.2515 | 0.7685 | 16.5565 | 17.5160 | 18.1704 | 17.4280
250059 | 0.9814 | 0.7685 | 19.0733 | 17.7270 | 19.2977 | 18.6884
250060 | 0.7926 | 0.7685 | 14.0155 | 20.8115 | 16.8247 | 17.2475
250061 | 0.8412 | 0.7685 | 11.4573 | 15.2515 | 12.8174 | 12.9127
250065 | 0.8170 | 0.8313 | 16.2010 | 16.1984 | * | 16.1997
250066 | 0.7831 | 0.7685 | 16.1044 | * | * | 16.1044
250068 | 0.7547 | 0.7685 | 16.3759 | 16.9585 | * | 16.6506
250069 | 1.4860 | 0.8614 | 21.2224 | 21.6617 | 22.8162 | 21.9460
250071 | 0.8305 | 0.7685 | 13.7056 | 17.7149 | * | 15.4400
250072 | 1.4976 | 0.8313 | 20.7827 | 22.9316 | 24.6587 | 22.7773
250077 | 0.9403 | 0.7685 | 14.0318 | 14.2271 | 14.7632 | 14.3259
250078 ² | 1.5963 | 0.7685 | 17.5186 | 18.6563 | 20.9354 | 19.1036
250079 | 0.8383 | 0.8182 | 21.3506 | 27.2549 | 38.0031 | 29.5848
250081 | 1.2295 | 0.8182 | 20.4513 | 21.3830 | 24.7031 | 21.9463
250082 | 1.2744 | 0.8099 | 19.5962 | 20.5212 | 19.6966 | 19.9404
250083 | 0.9072 | 0.7685 | 19.5217 | 19.9484 | * | 19.7505
250084 | 1.1575 | 0.7685 | 22.4632 | 21.8001 | 18.5775 | 20.7280
250085 | 0.9532 | 0.7685 | 18.0473 | 18.7367 | 19.7007 | 18.8283
250089 | 1.0502 | 0.7685 | 16.0203 | * | * | 16.0203
250094 | 1.5886 | 0.8612 | 19.9619 | 22.3312 | 22.7312 | 21.7001
250095 | 0.9965 | 0.7685 | 18.6616 | 19.9553 | 21.3511 | 19.9748
250096 | 1.0784 | 0.8313 | 20.7246 | 22.7458 | 22.6298 | 22.0767
250097 | 1.3963 | 0.8470 | 18.8399 | 19.4534 | 20.1687 | 19.4858
250098 | *** | 0.7685 | 17.9561 | * | * | 17.9561
250100 | 1.4464 | 0.8614 | 18.8877 | 22.0328 | 24.2209 | 21.7570
250101 | *** | * | * | 21.2234 | * | 9.7147
250102 | 1.5446 | 0.8313 | 21.3213 | 22.5518 | 24.2868 | 22.7655
250104 | 1.4244 | 0.8182 | 20.5035 | 21.4431 | 22.6591 | 21.5782
250105 | 0.8995 | 0.7685 | 17.0136 | 17.9468 | 18.1196 | 17.6992
250107 | 0.9071 | 0.7685 | 16.7104 | 16.5369 | 17.8999 | 17.0742
250112 | 0.9521 | 0.7685 | 16.8696 | 19.6172 | 21.2824 | 19.4217
250117 | 1.0298 | 0.8612 | 18.8863 | 19.9774 | 23.3673 | 20.6608
250119 | *** | 0.7685 | 17.1373 | * | * | 17.1373
250122 | 1.0617 | 0.7685 | 19.7966 | 23.7230 | 24.5854 | 22.7156
250123 | 1.2675 | 0.8922 | 22.2184 | 22.0486 | 24.5115 | 22.9495
250124 | 0.8390 | 0.8313 | 15.6866 | 15.4343 | 17.2181 | 16.1302
250125 | 1.2819 | 0.8922 | 25.3415 | 26.8379 | 27.7077 | 26.6997
250126 | 0.9380 | 0.9346 | 20.1118 | 20.4085 | 21.7111 | 20.7174
250128 | 0.8826 | 0.7685 | 15.8352 | 15.9344 | 17.6269 | 16.4363
250131 | 0.8879 | 0.7685 | 11.5396 | * | * | 11.5396
250136 | 0.9767 | 0.8313 | 21.9977 | 22.5832 | 23.0637 | 22.5479
250138 | 1.2637 | 0.8313 | 21.2490 | 22.7902 | 23.8861 | 22.6997
250141 | 1.5358 | 0.9346 | 22.5187 | 24.5772 | 27.6158 | 25.2301
250146 | 0.8784 | 0.7685 | 16.9341 | 17.2328 | 18.6486 | 17.5743
250149 | 0.8979 | 0.7685 | 16.4228 | 15.0367 | 15.0641 | 15.5315
250151 | 0.7214 | 0.7685 | 20.4581 | 21.8697 | 17.2205 | 18.4362
250152 | 1.6630 | 0.8313 | * | * | 25.7837 | 25.7837
250153 | *** | 0.8313 | * | * | 29.0461 | 29.0461
260001 | 1.6129 | 0.8594 | 22.6646 | 25.3084 | 25.9250 | 24.6413
260002 | *** | 0.8953 | 24.6812 | 27.2329 | 26.4879 | 26.0819
260003 | 1.0250 | 0.7927 | 16.5931 | 17.6339 | * | 17.1135
260004 | 0.9578 | 0.7927 | 16.4423 | 16.7742 | 16.9421 | 16.7356
260005 | 1.4759 | 0.8953 | 25.5927 | 24.6142 | 26.5773 | 25.6220
260006 | 1.4271 | 0.7927 | 24.1078 | 26.4948 | 26.7587 | 25.8174
260008 | *** | * | 21.6256 | 17.6040 | 18.9522 | 19.2926
260009 | 1.1793 | 0.9454 | 20.1679 | 21.2729 | 22.1816 | 21.2122
260011 | 1.3859 | 0.8346 | 21.1625 | 21.4409 | 22.7061 | 21.7937
260012 | 1.0499 | 0.7927 | 17.7854 | 19.3389 | 20.3061 | 19.2632
260013 | 1.0044 | 0.8594 | 18.4857 | 19.2065 | 20.5007 | 19.3903
260015 | 1.0786 | 0.7927 | 21.7581 | 22.4450 | 22.5409 | 22.2644
260017 | 1.3014 | 0.8953 | 20.7837 | 21.1359 | 22.7022 | 21.5787
260018 | 1.0599 | 0.7927 | 14.3278 | 14.8425 | 17.0434 | 15.4340
260020 | 1.7361 | 0.8953 | 22.4709 | 25.7898 | 26.0407 | 24.8648
260021 | 1.3546 | 0.8953 | 27.2478 | 27.8332 | 27.6330 | 27.5756
260022 | 1.2242 | 0.8563 | 20.5417 | 21.7707 | 22.8085 | 21.6784
260023 | 1.2675 | 0.8953 | 19.6324 | 21.2519 | 21.2077 | 20.7002
260024 | 1.1370 | 0.7927 | 16.9968 | 17.5351 | 18.4829 | 17.6819
260025 | 1.2646 | 0.8953 | 19.3535 | 20.0901 | 22.4645 | 20.6596
260027 | 1.5961 | 0.9454 | 22.9973 | 24.7605 | 25.3348 | 24.3810
260029 | 1.0866 | 0.9454 | 22.0390 | 22.2892 | 23.1185 | 22.4857
260031 | *** | * | 24.3626 | 24.2877 | * | 24.3260
260032 | 1.7985 | 0.8953 | 21.8830 | 23.1125 | 23.8459 | 22.9657
260034 | 0.9517 | 0.9454 | 21.6108 | 23.3034 | 24.1143 | 23.0518
260035 | 0.9459 | 0.7927 | 15.0468 | 16.8502 | 17.8741 | 16.5641
260036 | 0.9500 | 0.9454 | 19.4559 | 20.1324 | 22.1912 | 20.4830
260040 | 1.6194 | 0.8251 | 20.0422 | 21.9452 | 23.3566 | 21.8297
260044 | 0.9352 | 0.7927 | 18.2413 | 20.0686 | 22.4498 | 20.3210
260047 | 1.5009 | 0.8346 | 22.4585 | 22.6169 | 24.4185 | 23.1892
260048 | 1.2518 | 0.9454 | 26.6363 | 25.8089 | 24.3906 | 25.5119
260050 | 1.1354 | 0.7927 | 20.8510 | 20.6364 | 23.6849 | 21.9007
260052 | 1.3148 | 0.8953 | 21.1297 | 22.5809 | 24.5165 | 22.8077
260053 | 1.0393 | 0.8594 | 18.9606 | 20.0051 | 21.6607 | 20.2038
260057 | 1.0346 | 0.9454 | 15.8404 | 16.4875 | 19.3335 | 17.1879
260059 | 1.1931 | 0.7927 | 17.2807 | 18.6379 | 19.7243 | 18.6135
260061 | 1.0883 | 0.7927 | 18.7280 | 19.6674 | 21.5264 | 19.9180
260062 | 1.1811 | 0.9454 | 25.2958 | 26.0439 | 26.4539 | 25.9705
260063 | 0.9686 | 0.9454 | 21.1284 | 22.0826 | * | 21.6180
260064 | 1.3672 | 0.8346 | 17.5188 | 19.1587 | 19.0543 | 18.5908
260065 | 1.7230 | 0.8251 | 22.0058 | 23.6969 | 23.0015 | 22.9155
260067 | 0.8937 | 0.7927 | 14.9792 | 16.5364 | 17.6256 | 16.4270
260068 | 1.7577 | 0.8346 | 22.0951 | 23.9340 | 24.9504 | 23.7077
260070 | 0.9581 | 0.7927 | 11.2251 | 14.3881 | 18.4779 | 14.0836
260073 | 1.0189 | 0.7927 | 17.8185 | 19.2744 | 21.6214 | 19.6354
260074 | 1.1674 | 0.8346 | 18.7639 | 23.9301 | 24.8654 | 22.4254
260077 | 1.6385 | 0.8953 | 21.9947 | 23.5466 | 25.5782 | 23.7347
260078 | 1.1970 | 0.7927 | 16.9217 | 18.4017 | 19.0802 | 18.1811
260080 | 0.8933 | 0.7927 | 13.6815 | 11.2817 | 14.7774 | 13.2210
260081 | 1.4823 | 0.8953 | 22.6627 | 23.7447 | 26.3969 | 24.2793
260085 | 1.5874 | 0.9454 | 22.7394 | 24.6046 | 25.6302 | 24.3659
260086 | 0.8704 | 0.7927 | 17.2048 | 17.1202 | 19.1702 | 17.8711
260091 | 1.5058 | 0.8953 | 23.9975 | 26.1149 | 27.2407 | 25.8446
260094 | 1.6399 | 0.8251 | 20.1043 | 20.6805 | 23.2544 | 21.4540
260095 | 1.3081 | 0.9454 | 22.8156 | 23.8671 | 25.5668 | 24.0702
260096 | 1.4315 | 0.9454 | 23.5009 | 25.9932 | 27.5592 | 25.8492
260097 | 1.1515 | 0.7927 | 19.6203 | 21.5077 | 21.3957 | 20.9049
260102 | 0.8325 | 0.9454 | 24.1041 | 22.9283 | 24.2368 | 23.7509
260103 | *** | * | 21.6192 | 23.3175 | * | 22.4894
260104 | 1.4636 | 0.8953 | 22.4769 | 24.0038 | 26.2867 | 24.3941
260105 | 1.7197 | 0.8953 | 24.6572 | 28.4652 | 28.8849 | 27.3498
260107 | 1.3072 | 0.9454 | 23.1564 | 24.2001 | 26.7782 | 24.6444
260108 | 1.8305 | 0.8953 | 22.7975 | 24.0936 | 25.0171 | 23.9907
260110 | 1.6192 | 0.8953 | 22.0026 | 22.2730 | 3.7978 | 22.7167
260113 | 1.0827 | 0.8285 | 16.3440 | 19.2467 | 20.9644 | 18.7740
260115 | 1.1542 | 0.8953 | 20.4880 | 21.7450 | 21.9859 | 21.4408
260116 | 1.1207 | 0.8285 | 16.9807 | 17.2698 | 18.5076 | 17.6168
260119 | 1.3355 | 0.7927 | 18.7959 | 22.1588 | 24.9937 | 22.8442
260120 | *** | * | 18.7651 | * | * | 18.7651
260123 | 0.9970 | 0.7927 | 17.7996 | 16.1169 | * | 17.0002
260127 | 0.9648 | 0.7927 | 19.7946 | 22.5328 | 21.8534 | 21.3553
260134 | 1.1483 | 0.8953 | 18.4511 | 18.1531 | * | 18.2845
260137 | 1.6384 | 0.8594 | 20.7638 | 21.3426 | 22.7431 | 21.6630
260138 | 1.9066 | 0.9454 | 25.6579 | 27.8229 | 28.5610 | 27.3740
260141 | 1.9089 | 0.8346 | 21.0771 | 21.1511 | 22.4886 | 21.5378
260142 | 1.0487 | 0.7927 | 18.6412 | 19.6582 | 20.3993 | 19.6104
260147 | 0.9384 | 0.7927 | 16.1171 | 17.2291 | 18.5153 | 17.2858
260159 | *** | 0.8953 | 23.1093 | 26.8924 | 23.7427 | 24.4817
260160 | 1.0773 | 0.7927 | 18.8723 | 19.4997 | 21.0544 | 19.7923
260162 | 1.3864 | 0.8953 | 22.5705 | 24.1246 | 25.1423 | 23.9984
260163 | 1.1422 | 0.7927 | 18.1310 | 19.2885 | 20.1949 | 19.2038
260164 | 1.0696 | 0.7927 | 16.9403 | 19.5539 | 19.7068 | 18.6878
260166 | 1.1854 | 0.9454 | 22.8409 | 25.5151 | 27.0237 | 25.1725
260172 | 0.9089 | 0.7927 | 17.1504 | 18.1438 | * | 17.6539
260175 | 1.1001 | 0.7927 | 19.7939 | 21.1257 | 22.6171 | 21.1462
260176 | 1.5811 | 0.8953 | 25.7802 | 29.2184 | 27.4244 | 27.5317
260177 | 1.2174 | 0.9454 | 24.0550 | 25.0724 | 26.1178 | 25.1274
260178 | 1.8186 | 0.8346 | 21.7704 | 21.4781 | 22.2251 | 21.8190
260179 | 1.5692 | 0.8953 | 23.2824 | 24.8541 | 26.1419 | 24.7933
260180 | 1.5399 | 0.8953 | 21.8585 | 21.9679 | 26.7461 | 23.4659
260183 | 1.6506 | 0.8953 | 24.2330 | 23.3924 | 26.0418 | 24.6030
260186 | 1.6276 | 0.8346 | 21.6620 | 23.4317 | 25.3148 | 23.5713
260190 | 1.1384 | 0.9454 | 24.5014 | 25.1653 | 26.4505 | 25.4095
260191 | 1.3158 | 0.8953 | 21.1331 | 22.4369 | 23.3856 | 22.3648
260193 | 1.2140 | 0.9454 | 22.9556 | 24.4705 | 26.2979 | 24.7042
260195 | 1.2803 | 0.8251 | 20.0889 | 20.1327 | 22.3958 | 20.9711
260198 | 1.1855 | 0.8953 | 25.3390 | 27.6116 | 27.5996 | 26.8633
260200 | 1.2198 | 0.8953 | 22.3913 | 25.1134 | 24.8624 | 24.2536
260207 | 1.0594 | 0.8251 | 18.5247 | 19.2467 | 19.7294 | 19.2332
260208 | *** | * | 28.3158 | * | * | 28.3158
260210 | 1.2045 | 0.8953 | * | * | 25.3782 | 25.3782
260211 | 1.5796 | 0.9454 | * | * | 33.9109 | 33.9109
270002 ² | 1.2881 | 0.8822 | 19.7588 | 20.7620 | 22.7322 | 21.1317
270003 | 1.2770 | 0.9074 | 23.0396 | 24.2823 | 26.4843 | 24.5714
270004 | 1.6910 | 0.8855 | 21.5577 | 22.9081 | 23.5454 | 22.7035
270009 | 1.2674 | 0.8822 | 21.5655 | * | * | 21.5655
270012 ² | 1.4482 | 0.9074 | 21.7634 | 23.1697 | 25.2873 | 23.4084
270014 | 1.8188 | 0.9535 | 20.3456 | 25.0650 | 26.2025 | 23.6425
270017 | 1.2612 | 0.9535 | 23.2320 | 24.6186 | 27.5483 | 25.1665
270021 | 1.0085 | 0.8822 | 21.1624 | 21.6758 | 21.7056 | 21.5330
270023 | 1.5160 | 0.9535 | 23.7486 | 25.5525 | 26.7576 | 25.3555
270032 | 1.0500 | 0.8822 | 20.1801 | 18.2377 | 19.6212 | 19.3552
270036 | 0.7848 | 0.8822 | 18.8785 | 21.8255 | 20.4242 | 20.3944
270040 | 1.1798 | 0.8822 | 20.7240 | * | * | 20.7240
270050 | 1.0303 | 0.8822 | 21.0901 | 22.4195 | * | 21.7451
270051 | 1.5685 | 0.9535 | 22.2580 | 26.4457 | 26.6619 | 25.1119
270057 | 1.2222 | 0.8822 | 21.9997 | 22.6251 | 24.2980 | 23.0119
270060 | 0.8776 | 0.8822 | * | 16.6592 | * | 16.6592
270079 | 0.8473 | 0.8822 | * | 21.6382 | * | 21.6382
270081 | 1.0052 | 0.8822 | 15.6833 | 17.3174 | 17.4862 | 16.8348
270082 | 1.0621 | 0.8822 | 21.0150 | 19.6173 | * | 20.3610
270084 ² | 0.9843 | 0.8822 | 19.6104 | 22.2340 | * | 21.0235
280003 | 1.8332 | 1.0197 | 26.0937 | 27.2844 | 29.3921 | 27.8614
280005 | *** | * | 23.9753 | * | * | 23.9753
280010 | *** | * | 23.8325 | 22.6516 | * | 23.2571
280013 | 1.8041 | 0.9555 | 23.4920 | 24.5214 | 26.1908 | 24.7334
280020 | 1.7943 | 1.0197 | 23.4577 | 25.7522 | 26.5068 | 25.3300
280021 | 1.1390 | 0.8666 | 21.5215 | 22.2864 | 22.0489 | 21.9595
280023 | 1.4073 | 0.9666 | 19.6265 | 22.7207 | 22.3230 | 21.6126
280030 | 1.9343 | 0.9555 | 29.2221 | 32.5601 | 30.7481 | 30.8807
280032 | 1.3356 | 0.9666 | 21.5150 | 22.6510 | 23.6462 | 22.6240
280040 | 1.6685 | 0.9555 | 23.6597 | 25.2965 | 26.9827 | 25.3499
280047 | 0.7767 | 0.9555 | 19.5815 | * | * | 19.5815
280057 | 0.8190 | 0.9666 | 22.5481 | 23.6793 | 20.4830 | 22.0597
280060 | 1.6115 | 0.9555 | 23.1128 | 25.2288 | 26.2139 | 24.9273
280061 | 1.3565 | 0.9207 | 21.2901 | 23.9110 | 24.9482 | 23.4090
280065 | 1.2692 | 0.9597 | 23.8128 | 27.9937 | 26.0135 | 25.9591
280077 | 1.3308 | 0.9555 | 22.7244 | 24.0516 | 25.5624 | 24.1150
280081 | 1.6019 | 0.9555 | 24.3199 | 25.1973 | 26.0541 | 25.2026
280085 | *** | * | 21.8473 | * | * | 21.8473
280108 | 1.0415 | 0.8666 | 20.9016 | 22.5584 | 23.2502 | 22.2006
280111 | 1.2083 | 0.8666 | 20.7398 | 22.1424 | 23.4770 | 22.1827
280117 | 1.0762 | 0.8666 | 20.5464 | 22.0611 | 24.1521 | 22.2744
280118 | 0.9146 | 0.8666 | 19.3466 | * | * | 19.3466
280125 | 1.5050 | 0.8666 | 20.0643 | 21.8385 | 21.7658 | 21.2295
280126 | *** | * | 33.8918 | * | * | 33.8918
290002 | 0.8621 | 0.9786 | 16.8363 | 16.8433 | 18.3469 | 17.3909
290003 | 1.7448 | 1.1416 | 27.4732 | 27.1099 | 28.1625 | 27.5886
290005 | 1.3375 | 1.1416 | 24.6877 | 27.1531 | 27.6697 | 26.5417
290006 | 1.2159 | 1.0805 | 24.2211 | 26.3617 | 27.9502 | 26.1547
290007 | 1.5966 | 1.1416 | 35.1020 | 35.4193 | 37.5559 | 36.0546
290008 | 1.1726 | 1.1249 | 27.0115 | 26.4086 | 27.9714 | 27.1141
290009 | 1.8521 | 1.0984 | 26.9020 | 27.6011 | 29.8019 | 28.1837
290010 | 1.0895 | 1.1416 | 25.4598 | 23.8733 | 23.9654 | 24.4204
290012 | 1.3288 | 1.1416 | 25.8036 | 27.2675 | 31.0843 | 28.0502
290016 | 1.1453 | 0.9079 | 22.5111 | 25.1726 | 26.1925 | 24.6281
290019 | 1.3967 | 1.0805 | 25.1684 | 27.2484 | 28.6158 | 27.0192
290020 ʰ | 0.9611 | 1.1416 | 24.2373 | 21.3094 | 21.6993 | 22.1469
290021 | 1.7247 | 1.1416 | 26.2510 | 28.3837 | 33.2116 | 29.2014
290022 | 1.5056 | 1.1416 | 27.5364 | 29.8144 | 29.4422 | 28.9634
290027 | 0.9165 | 0.9079 | 13.5031 | 17.8850 | 15.1448 | 15.3083
290032 | 1.3609 | 1.0984 | 27.5425 | 29.4164 | 31.7105 | 29.6070
290039 | 1.5069 | 1.1416 | 28.7599 | 29.6801 | 31.2941 | 30.0435
290041 | 1.3172 | 1.1416 | 28.6294 | 30.1346 | 33.9878 | 31.0661
290045 | 1.5063 | 1.1416 | 26.5644 | 26.9319 | 30.9612 | 28.4883
300001 | 1.5520 | 1.0668 | 27.1312 | 29.4130 | 27.5032 | 28.0073
300003 | 2.0702 | 1.0668 | 26.7859 | 27.8059 | 33.3560 | 29.3633
300005 | 1.4218 | 1.0668 | 22.8163 | 25.1869 | 25.5583 | 24.5574
300006 | 1.1092 | 1.0668 | 22.0187 | 20.6787 | 23.3200 | 21.9532
300007 | 1.2560 | 1.0903 | 23.6919 | 25.3125 | 26.8347 | 25.3232
300010 | 1.2942 | 1.0668 | 24.6295 | 26.9346 | 27.5028 | 26.4641
300011 | 1.3026 | 1.0903 | 25.0979 | 27.3325 | 28.4044 | 26.9920
300012 | 1.3884 | 1.0903 | 26.3914 | 28.4234 | 30.5198 | 28.4955
300013 | 1.0657 | 1.0668 | 21.3397 | 23.1529 | * | 22.1888
300014 | 1.2155 | 1.0668 | 23.7144 | 25.5059 | 27.5151 | 25.6846
300015 | 1.0860 | 1.0668 | 24.4869 | 24.0620 | * | 24.2732
300016 | *** | 1.0668 | 18.9756 | 24.5498 | * | 21.6922
300017 | 1.2121 | 1.0668 | 26.1104 | 28.3959 | 29.6957 | 28.0967
300018 | 1.3882 | 1.0668 | 25.7851 | 28.0308 | 29.7209 | 27.9654
300019 | 1.2223 | 1.0903 | 23.8076 | 25.3845 | 25.9656 | 25.1005
300020 | 1.1875 | 1.0903 | 24.8189 | 26.8402 | 28.6723 | 26.8622
300022 | 1.1118 | 1.0668 | 22.3918 | 23.5948 | 24.4048 | 23.4922
300023 | 1.4230 | 1.0668 | 24.9992 | 25.4873 | 28.6309 | 26.4774
300024 | 1.2139 | 1.0668 | 22.4883 | 23.9205 | * | 23.2005
300029 | 1.7645 | 1.0668 | 24.5772 | 26.9484 | 29.0806 | 26.9920
300034 | 2.0805 | 1.0903 | 26.9093 | 28.5375 | 29.7484 | 28.4471
310001 | 1.7701 | 1.3191 | 30.1786 | 33.9360 | 35.3612 | 33.2483
310002 | 1.8371 | 1.3191 | 33.9058 | 35.4567 | 37.3461 | 35.5944
310003 | 1.2057 | 1.3191 | 30.4234 | 31.1040 | 32.8935 | 31.5180
310005 | 1.3245 | 1.2192 | 26.0227 | 27.5690 | 29.0084 | 27.5943
310006 | 1.2346 | 1.3191 | 25.9000 | 27.0436 | 27.4545 | 26.7958
310008 | 1.3149 | 1.3191 | 28.0970 | 29.5857 | 31.2579 | 29.6725
310009 | 1.2458 | 1.3191 | 24.6353 | 29.7760 | 32.7384 | 29.0885
310010 | 1.2847 | 1.0837 | 26.7889 | 25.3139 | 28.5852 | 26.9172
310011 | 1.2662 | 1.1031 | 26.1586 | 28.5241 | 30.8612 | 28.5543
310012 | 1.6801 | 1.3191 | 31.1705 | 33.1622 | 34.6882 | 33.0545
310013 | 1.3585 | 1.3191 | 25.0951 | 28.5016 | 30.6248 | 28.1586
310014 | 1.8139 | 1.0607 | 29.1931 | 32.7222 | 29.7204 | 30.4762
310015 | 1.8694 | 1.3191 | 30.1767 | 32.4980 | 36.4776 | 33.0707
310016 | 1.3353 | 1.3191 | 25.7368 | 28.9788 | 33.9862 | 29.9150
310017 | 1.3378 | 1.2192 | 25.2636 | 28.0930 | 30.9233 | 28.1646
310018 | 1.1407 | 1.3191 | 25.9108 | 26.9399 | 30.3381 | 27.8107
310019 | 1.6282 | 1.3191 | 26.8663 | 31.0524 | 29.6592 | 29.1388
310020 | 1.5855 | 1.3191 | 25.0147 | 29.3392 | 30.6722 | 28.2107
310021 | 1.6207 | 1.0837 | 29.4003 | 29.6308 | 31.3410 | 30.1313
310022 | 1.2275 | 1.0607 | 26.7487 | 26.1914 | 28.2024 | 27.0808
310024 | 1.3520 | 1.2192 | 26.9499 | 27.5278 | 30.9171 | 28.3714
310025 | 1.2683 | 1.3191 | 26.8719 | 27.7960 | 31.1274 | 28.7415
310026 | 1.2192 | 1.3191 | 24.6697 | 25.3970 | 27.5171 | 25.9064
310027 | 1.2914 | 1.2192 | 22.1935 | 27.0982 | 53.3590 | 32.8604
310028 | 1.2218 | 1.2192 | 25.7246 | 29.1101 | 31.3849 | 28.7946
310029 | 1.8622 | 1.0607 | 25.9606 | 29.1439 | 30.7707 | 28.6905
310031 | 2.9677 | 1.1301 | 29.5581 | 30.2345 | 33.9685 | 31.2972
310032 | 1.2894 | 1.0652 | 25.7088 | 27.8754 | 27.5232 | 27.0476
310034 | 1.3320 | 1.1301 | 26.5224 | 27.8517 | 29.9162 | 28.1036
310037 | 1.3242 | 1.3191 | 30.1264 | 32.1471 | 35.0329 | 32.5209
310038 | 1.9813 | 1.3191 | 32.3865 | 32.1977 | 33.4822 | 32.7188
310039 | 1.2457 | 1.1301 | 24.6045 | 27.1054 | 28.8292 | 26.9337
310040 | 1.3638 | 1.3191 | 27.4041 | 28.0068 | 34.1113 | 29.8744
310041 | 1.2679 | 1.1301 | 26.8145 | 29.7335 | 32.8085 | 29.8863
310042 | 1.1514 | 1.3191 | 26.9695 | 29.0207 | 30.7358 | 28.9101
310044 | 1.3163 | 1.0837 | 25.1618 | 27.7752 | 31.3206 | 28.1678
310045 | 1.5833 | 1.3191 | 31.7376 | 32.6359 | 34.0151 | 32.8526
310047 | 1.3107 | 1.1618 | 26.1353 | 28.3415 | 32.8380 | 29.2921
310048 | 1.3562 | 1.2192 | 27.4050 | 28.4715 | 30.2025 | 28.7345
310049 | *** | * | 26.5332 | 32.7666 | 27.8564 | 27.2897
310050 | 1.2751 | 1.2192 | 25.3772 | 27.2276 | 27.3033 | 26.7397
310051 | 1.3708 | 1.2192 | 29.2386 | 32.0113 | 33.7168 | 31.6981
310052 | 1.3032 | 1.1301 | 27.0324 | 28.1498 | 30.8036 | 28.6341
310054 | 1.2802 | 1.3191 | 28.1880 | 30.6905 | 34.1860 | 31.0476
310057 | 1.3058 | 1.0607 | 26.3903 | 26.4606 | 29.5221 | 27.5782
310058 | 1.0940 | 1.3191 | 28.1753 | 26.4816 | 28.0815 | 27.5746
310060 | 1.2669 | 1.0607 | 22.1914 | 23.2146 | 25.1575 | 23.5782
310061 | 1.2605 | 1.0607 | 24.9678 | 27.5400 | 28.2129 | 26.9521
310063 | 1.3317 | 1.2192 | 25.9868 | 28.3457 | 31.4884 | 28.5345
310064 | 1.5192 | 1.1618 | 27.8388 | 29.5979 | 33.4440 | 30.4173
310067 | *** | 1.2192 | 26.3624 | 26.8068 | * | 26.5479
310069 | 1.2630 | 1.0652 | 25.7690 | 27.9656 | 28.1681 | 27.3281
310070 | 1.3475 | 1.3191 | 30.1917 | 32.1806 | 33.2310 | 31.9325
310072 | *** | * | 25.3145 | 26.3520 | * | 25.8709
310073 | 1.7716 | 1.1301 | 28.8791 | 29.6611 | 32.0329 | 30.2191
310074 | 1.2859 | 1.3191 | 27.6789 | 28.4361 | 29.4834 | 28.5348
310075 | 1.2656 | 1.1301 | 25.7726 | 26.2479 | 31.6870 | 27.8786
310076 | 1.5940 | 1.3191 | 32.4533 | 34.9428 | 36.4280 | 34.6292
310077 | 1.6607 | 1.3191 | 28.7352 | 30.7465 | 32.6644 | 30.7450
310078 | 1.2963 | 1.3191 | 24.7753 | 26.9589 | 29.8014 | 27.2209
310081 | 1.2485 | 1.0607 | 24.6083 | 26.4259 | 26.6136 | 25.9041
310083 | 1.2961 | 1.3191 | 25.2465 | 24.6563 | 28.2392 | 25.9836
310084 | 1.2192 | 1.1301 | 27.3680 | 29.9437 | 32.9001 | 30.0920
310086 | 1.2110 | 1.0607 | 25.2751 | 27.3601 | 29.3058 | 27.3522
310088 | 1.1766 | 1.1618 | 23.7846 | 25.5274 | 26.4966 | 25.2810
310090 | 1.2599 | 1.2192 | 25.3640 | 27.1661 | 30.8941 | 27.8574
310091 | 1.1909 | 1.0652 | 25.6405 | 27.1115 | 27.7204 | 26.8559
310092 | 1.3547 | 1.0837 | 23.2226 | 25.7071 | 29.4999 | 26.1525
310093 | 1.1809 | 1.3191 | 24.6942 | 25.8727 | 28.0401 | 26.2654
310096 | 2.0766 | 1.3191 | 28.4705 | 30.3675 | 34.4275 | 31.1262
310105 | 1.2212 | 1.3191 | 28.7333 | 30.9968 | 31.9769 | 30.6308
310108 | 1.3809 | 1.1301 | 24.9090 | 29.1548 | 30.1002 | 28.0512
310110 | 1.2871 | 1.0837 | 26.4175 | 27.8707 | 31.2164 | 28.8347
310111 | 1.1936 | 1.1301 | 26.2496 | 28.8692 | 30.7475 | 28.7020
310112 | 1.2335 | 1.1301 | 27.8796 | 28.9928 | 30.4192 | 29.1502
310113 | 1.2365 | 1.1301 | 25.9143 | 27.5203 | 29.6079 | 27.7501
310115 | 1.2658 | 1.0607 | 24.5413 | 26.2803 | 29.6020 | 26.9083
310116 | 1.2404 | 1.3191 | 25.1189 | 26.6287 | 25.6976 | 25.7970
310118 | 1.2786 | 1.3191 | 28.0517 | 28.1238 | 28.8797 | 28.3510
310119 | 1.7690 | 1.3191 | 34.7468 | 35.6786 | 37.7876 | 36.1340
310120 | 1.1565 | 1.2192 | 24.7078 | 27.2010 | 31.4110 | 27.6263
320001 | 1.4765 | 0.9696 | 23.0290 | 26.1962 | 26.9434 | 25.3673
320002 | 1.3821 | 1.0908 | 26.7332 | 28.6963 | 30.5158 | 28.6521
320003 | 1.1105 | 0.8649 | 20.7939 | 22.3911 | 28.1402 | 23.4549
320004 | 1.2830 | 0.8649 | 19.4799 | 24.0362 | 24.9481 | 23.1709
320005 | 1.4230 | 0.9558 | 22.1677 | 21.2164 | 23.8264 | 22.4376
320006 | 1.3163 | 1.0163 | 21.1222 | 22.5615 | 24.2812 | 22.6734
320009 | 1.5090 | 0.9696 | 21.5870 | 24.4237 | 22.8293 | 22.9608
320011 | 1.1653 | 0.8649 | 20.7714 | 23.1539 | 24.2279 | 22.7686
320013 | 1.1462 | 1.0163 | 19.4487 | 27.8671 | 28.9276 | 24.8284
320014 | 1.1040 | 0.8649 | 19.7656 | 26.7112 | 24.5310 | 23.5594
320016 | 1.1520 | 0.8649 | 19.9326 | 21.7001 | 23.5040 | 21.7285
320017 | 1.2523 | 0.9696 | 22.5460 | 23.6861 | 25.0286 | 23.7296
320018 | 1.4565 | 0.8649 | 21.4650 | 23.0915 | 23.2360 | 22.6002
320019 | 1.5397 | 0.9696 | 26.6900 | 31.2250 | 31.5192 | 29.7045
320021 | 1.6254 | 0.9696 | 21.0913 | 28.5620 | 27.2357 | 25.1851
320022 | 1.0969 | 0.8649 | 20.7919 | 22.1492 | 23.7160 | 22.2284
320030 | 1.0284 | 0.8649 | 16.8696 | 18.0990 | 22.1971 | 18.9458
320033 | 1.1545 | 1.0163 | 24.2703 | 24.1185 | 27.6393 | 25.3263
320037 | 1.1552 | 0.9696 | 19.6466 | 21.6080 | 23.3999 | 21.6108
320038 | 1.1959 | 0.8649 | 19.2962 | 21.2181 | 20.1533 | 20.2270
320046 | 1.1718 | 0.8649 | 21.5915 | 22.9114 | 24.3534 | 22.9610
320063 | 1.2785 | 0.9593 | 20.7804 | 24.9141 | 24.4696 | 23.4155
320065 | 1.0973 | 0.9593 | 19.9012 | 21.6189 | 26.6603 | 22.8070
320067 | 0.8271 | 0.8649 | 13.9459 | 20.4431 | 23.7745 | 19.8406
320069 | 1.0924 | 0.8649 | 18.5375 | 19.7296 | 20.9167 | 19.7352
320074 | 1.1664 | 0.9696 | 28.3086 | 35.5980 | 22.2175 | 28.2084
320079 | 1.1142 | 0.9696 | 21.9090 | 23.8092 | 25.2105 | 23.6814
320083 | 2.5985 | 0.9696 | 20.6771 | * | 28.2114 | 23.7546
320084 | 1.0974 | 0.8649 | * | * | 17.2511 | 17.2511
320085 | 1.6090 | 0.8649 | * | * | 24.8752 | 24.8752
330001 | *** | 1.3191 | 30.8509 | 31.3735 | 33.4718 | 31.9148
330002 | 1.4447 | 1.3191 | 28.0882 | 29.3459 | 31.1924 | 29.5603
330003 | 1.2641 | 0.8565 | 20.2744 | 21.6506 | 22.9945 | 21.6443
330004 | 1.2725 | 1.0576 | 24.3703 | 23.9959 | 26.0445 | 24.8414
330005 | 1.5973 | 0.8888 | 24.3578 | 25.9287 | * | 25.1198
330006 | 1.2917 | 1.3191 | 28.3904 | 29.7509 | 31.5370 | 29.8730
330008 | 1.1113 | 0.8888 | 20.6816 | 21.3269 | 21.8198 | 21.2850
330009 | 1.2845 | 1.3191 | 33.3605 | 35.8367 | 35.4986 | 34.8796
330010 | *** | * | 19.8211 | 17.9178 | 19.6920 | 19.0804
330011 | 1.2998 | 0.8588 | 19.8035 | 20.3641 | 21.8008 | 20.6687
330013 | 2.1105 | 0.8565 | 21.2063 | 23.9070 | 24.3512 | 23.1632
330014 | 1.3351 | 1.3191 | 32.0824 | 35.4053 | 38.8123 | 35.4565
330016 | 0.9933 | 0.8220 | 18.1603 | 18.9388 | 28.4392 | 20.9735
330019 | 1.2932 | 1.3191 | 31.9042 | 32.3413 | 34.7814 | 33.0323
330023 ² | 1.5678 | 1.0767 | 29.4538 | 29.2669 | 29.8943 | 29.5534
330024 | 1.7206 | 1.3191 | 35.3598 | 36.5648 | 38.8643 | 36.8845
330025 | 1.0421 | 0.8888 | 18.7663 | 19.7561 | 20.2775 | 19.6152
330027 | 1.4553 | 1.3191 | 34.1281 | 35.1325 | 39.0717 | 36.0189
330028 | 1.3838 | 1.3191 | 31.8452 | 33.5312 | 34.2709 | 33.2330
330029 | 0.4208 | 0.8888 | 18.4354 | 18.6623 | 19.1589 | 18.7332
330030 | 1.2550 | 0.9117 | 22.0574 | 22.4368 | 22.9937 | 22.4866
330033 | 1.2667 | 0.8220 | 18.6316 | 21.3762 | 22.5681 | 20.8260
330036 | 1.1360 | 1.3191 | 27.0970 | 27.6813 | 28.9409 | 27.8674
330037 | 1.0926 | 0.9117 | 18.3557 | 19.6385 | 20.6904 | 19.5992
330041 | 1.1922 | 1.3191 | 34.5461 | 36.2481 | 36.0286 | 35.6239
330043 | 1.2957 | 1.2781 | 31.7873 | 34.1039 | 34.7480 | 33.5850
330044 | 1.2690 | 0.8313 | 22.0465 | 23.1450 | 23.8719 | 23.0325
330045 | 1.3308 | 1.2781 | 30.9046 | 34.4956 | 36.1749 | 33.9185
330046 | 1.4018 | 1.3191 | 41.6759 | 42.0900 | 44.8494 | 42.8629
330047 ʰ | 1.1968 | 0.8565 | 20.1646 | 21.1244 | 24.0678 | 21.8925
330049 | 1.3533 | 1.0767 | 24.7766 | 25.7022 | 29.2904 | 26.5366
330053 | 1.0847 | 0.9117 | 18.1728 | 19.6807 | 18.5290 | 18.7942
330055 | 1.6314 | 1.3191 | 34.9709 | 35.1393 | 38.4839 | 36.2207
330056 | 1.4539 | 1.3191 | 32.0982 | 32.9295 | 37.8444 | 34.2883
330057 | 1.6969 | 0.8565 | 20.9282 | 22.6519 | 24.4680 | 22.6890
330058 | 1.3165 | 0.9117 | 19.2916 | 19.5520 | 20.8234 | 19.9138
330059 | 1.5179 | 1.3191 | 36.4176 | 38.1019 | 39.7386 | 38.0767
330061 | 1.2264 | 1.3191 | 28.6725 | 32.7427 | 33.2848 | 31.6301
330062 | 1.1819 | 0.9204 | 20.0222 | 21.4270 | 21.0464 | 20.8258
330064 | 1.1415 | 1.3191 | 36.0976 | 38.5719 | 36.6153 | 37.0956
330065 | 1.0281 | 0.8888 | 20.5958 | 21.9192 | 23.9128 | 22.1517
330066 | 1.3120 | 0.8565 | 20.9990 | 23.0916 | 24.7941 | 23.0025
330067 ² | 1.4150 | 1.0767 | 24.8927 | 34.8416 | 26.4243 | 28.0084
330072 | 1.3818 | 1.3191 | 32.9665 | 32.7905 | 36.4336 | 34.0607
330073 | 1.1228 | 0.9117 | 18.4162 | 19.0781 | 20.1490 | 19.1772
330074 | 1.3126 | 0.9117 | 21.7299 | 20.2874 | 21.4274 | 21.1093
330075 | 1.1656 | 0.9595 | 19.9781 | 22.0240 | 22.4188 | 21.4854
330078 | 1.4256 | 0.8888 | 20.8379 | 22.7762 | 23.3786 | 22.3586
330079 | 1.3180 | 0.8220 | 21.1153 | 22.1064 | 22.5237 | 21.9214
330080 | 1.1477 | 1.3191 | 33.5537 | 36.1171 | 39.1724 | 36.3260
330084 | 1.0829 | 0.8220 | 19.2135 | 22.6365 | 21.5455 | 21.1058
330085 | 1.1913 | 0.9315 | 21.8271 | 23.2927 | 23.9568 | 23.0352
330086 | 1.3193 | 1.3191 | 27.1585 | 28.8425 | 29.1784 | 28.3884
330088 | 1.0442 | 1.2781 | 29.5181 | 31.2631 | * | 39.0244
330090 | 1.4373 | 0.8276 | 20.9327 | 22.7721 | 23.6174 | 22.4292
330091 | 1.3675 | 0.8888 | 22.9396 | 22.5796 | 23.1637 | 22.8973
330094 | 1.2532 | 0.8904 | 21.3659 | 22.1495 | 23.0001 | 22.1769
330095 | *** | * | 28.9794 | 28.9914 | 31.9872 | 29.7944
330096 | 1.0690 | 0.8220 | 21.1648 | 22.4895 | 22.0337 | 21.9119
330097 | 1.1327 | 0.8220 | 18.6291 | 19.2233 | 20.2158 | 19.3250
330100 | 1.0066 | 1.3191 | 31.5775 | 32.8406 | 34.4621 | 32.9762
330101 | 1.8242 | 1.3191 | 38.4810 | 39.2601 | 38.7468 | 38.8311
330102 | 1.3460 | 0.8888 | 23.5254 | 23.6141 | 24.8184 | 23.9846
330103 | 1.0963 | 0.8220 | 17.9017 | 18.8763 | 21.1452 | 19.3116
330104 | 1.3563 | 1.3191 | 36.8451 | 33.7556 | 32.8818 | 34.4566
330106 | 1.7244 | 1.2781 | 38.7822 | 39.8558 | 41.2202 | 39.9816
330107 | 1.2325 | 1.2781 | 29.1958 | 31.8528 | 31.3888 | 30.7790
330108 | 1.1108 | 0.8276 | 20.2536 | 21.4680 | 22.2607 | 21.3131
330111 | 1.0397 | 0.8888 | 17.7020 | 17.6185 | 20.9387 | 18.7250
330114 | *** | * | 19.2566 | * | * | 19.2566
330119 | 1.7468 | 1.3191 | 34.6591 | 36.5873 | 39.1114 | 36.7610
330121 | 0.9116 | 0.8220 | 17.9757 | 19.7388 | 23.9397 | 20.5934
330122 | *** | * | 25.6500 | 26.3849 | * | 26.0090
330125 | 1.7658 | 0.9117 | 22.8078 | 24.6945 | 26.6379 | 24.8334
330126 | 1.2826 | 1.0767 | 27.7155 | 28.8299 | 31.6370 | 29.4715
330127 | 1.2655 | 1.3191 | 42.2836 | 43.7479 | 44.4667 | 43.5141
330128 | 1.1790 | 1.3191 | 32.7050 | 34.5289 | * | 33.6278
330132 | 1.0730 | 0.8220 | 16.0311 | 16.3088 | 17.4946 | 16.8474
330133 | 1.3118 | 1.3191 | 35.3136 | 44.0704 | 36.6962 | 38.2248
330135 | 1.2237 | 1.0767 | 25.6504 | 26.9969 | 29.0837 | 27.3649
330136 | 1.4654 | 0.9315 | 21.4225 | 22.5447 | 24.2010 | 22.7506
330140 | 1.7896 | 0.9595 | 21.1787 | 23.5774 | 25.7573 | 23.5011
330141 | 1.3034 | 1.2781 | 29.3283 | 30.6616 | 34.8902 | 31.6934
330144 | 1.0332 | 0.8220 | 17.3920 | 20.1805 | 20.9935 | 19.3948
330148 | 1.0266 | 0.8313 | 17.6560 | 18.5443 | * | 18.0744
330151 | 1.1030 | 0.8220 | 16.4028 | 17.6782 | 19.1841 | 17.7056
330152 | 1.3177 | 1.3191 | 32.3332 | 32.0616 | 36.5136 | 33.6447
330153 | 1.7022 | 0.8565 | 21.2843 | 21.9935 | 23.7172 | 22.3124
330157 | 1.3678 | 0.9315 | 23.5522 | 23.6939 | 24.9042 | 24.0644
330158 | 1.5489 | 1.3191 | 32.7159 | 33.0067 | 32.2990 | 32.6514
330159 | 1.3811 | 0.9595 | 22.5580 | 24.1916 | 28.8391 | 25.0788
330160 | 1.5392 | 1.3191 | 32.1266 | 34.0373 | 34.1960 | 33.4347
330162 | 1.2612 | 1.3191 | 29.6042 | 31.3812 | 32.1783 | 31.0913
330163 | 1.2015 | 0.8888 | 21.1517 | 22.4644 | 24.0200 | 22.5391
330164 | 1.4792 | 0.9117 | 23.5427 | 24.4306 | 28.8481 | 25.6753
330166 ʰ | 1.0593 | 0.8220 | 18.4262 | 18.8777 | 19.4360 | 18.9008
330167 | 1.7665 | 1.2781 | 30.9667 | 33.7365 | 34.4405 | 33.1152
330169 | 1.4095 | 1.3191 | 36.2725 | 38.3498 | 39.3361 | 37.9349
330171 | 1.1728 | 1.3191 | 25.9946 | 27.7810 | 30.0122 | 27.7871
330175 | 1.1137 | 0.8220 | 20.4628 | 21.1944 | 22.2067 | 21.3007
330177 | 0.9453 | 0.8220 | 19.0005 | 20.1850 | 19.6100 | 19.6031
330180 | 1.2265 | 0.8565 | 19.8951 | 21.9641 | 22.1920 | 21.3178
330181 | 1.3091 | 1.3191 | 37.1218 | 35.8846 | 38.5351 | 37.1836
330182 | 2.3204 | 1.3191 | 35.2416 | 36.3831 | 39.6038 | 37.1311
330184 | 1.4141 | 1.3191 | 30.7479 | 33.2843 | 34.4044 | 32.7893
330185 | 1.2671 | 1.2781 | 28.9787 | 31.0179 | 32.3466 | 30.8714
330188 | 1.2490 | 0.8888 | 21.1196 | 22.6803 | 23.9210 | 22.6030
330189 | 0.9765 | 0.8565 | 19.0726 | 19.2538 | 21.6229 | 19.9266
330191 | 1.2880 | 0.8565 | 20.9392 | 22.3719 | 24.0232 | 22.4577
330193 | 1.2567 | 1.3191 | 36.2427 | 36.9866 | 37.1807 | 36.8214
330194 | 1.7888 | 1.3191 | 38.5372 | 39.9177 | 43.9910 | 40.8421
330195 | 1.7407 | 1.3191 | 36.4249 | 38.6867 | 40.0206 | 38.4696
330196 | 1.2724 | 1.3191 | 31.1915 | 32.5883 | 33.2171 | 32.3484
330197 | 1.1300 | 0.8220 | 20.8386 | 22.3117 | 23.4291 | 22.2164
330198 | 1.3527 | 1.2781 | 25.3622 | 29.5359 | 30.5485 | 28.5487
330199 | 1.1121 | 1.3191 | 34.1354 | 32.7870 | 35.0059 | 33.9687
330201 | 1.6454 | 1.3191 | 29.3745 | 33.3215 | 39.3682 | 33.7813
330202 | 1.2540 | 1.3191 | 30.7990 | 34.3545 | 35.0804 | 33.5414
330203 | 1.4787 | 0.9595 | 24.7422 | 26.2459 | 26.5882 | 25.8191
330204 | 1.3191 | 1.3191 | 30.3699 | 30.3273 | 37.6849 | 32.8372
330205 | 1.2677 | 1.0767 | 29.0622 | 30.0101 | 32.1617 | 30.4707
330208 | 1.1879 | 1.3191 | 30.6158 | 28.2667 | 29.6282 | 29.4819
330209 | 1.1738 | 1.0767 | 27.7071 | 28.7213 | 29.7988 | 28.7477
330211 | 1.1533 | 0.8220 | 20.8224 | 21.1094 | 22.9966 | 21.6469
330212 | *** | 1.3191 | 24.9434 | 27.0585 | 27.2232 | 26.1185
330213 | 1.1308 | 0.8220 | 20.7967 | 21.7208 | 22.5191 | 21.6931
330214 | 1.9065 | 1.3191 | 32.7647 | 33.7670 | 37.8500 | 34.8451
330215 | 1.3146 | 0.8313 | 19.9226 | 20.6343 | 22.5715 | 21.0552
330218 | 1.0371 | 0.9595 | 20.6012 | 21.4095 | 24.1106 | 22.0618
330219 | 1.6407 | 0.8888 | 28.7448 | 27.7400 | 29.3803 | 28.6143
330221 | 1.3773 | 1.3191 | 34.9345 | 34.7033 | 36.5539 | 35.4233
330222 | 1.2919 | 0.8565 | 23.5491 | 25.9825 | 23.9746 | 24.4778
330223 | 1.0310 | 0.8220 | 18.8253 | 18.4291 | 19.4229 | 18.9058
330224 | 1.2912 | 0.9260 | 22.7847 | 23.9379 | 25.7396 | 24.1533
330225 | 1.1790 | 1.2781 | 29.1744 | 28.9952 | 29.2719 | 29.1527
330226 | 1.3067 | 0.9117 | 23.5405 | 23.4783 | 21.8977 | 22.8832
330229 ʰ | 1.1699 | 0.8424 | 18.5590 | 19.5670 | 20.6095 | 19.5838
330230 | 0.9941 | 1.3191 | 32.5997 | 32.1101 | 33.3175 | 32.6586
330231 | 0.9977 | 1.3191 | 30.2184 | 33.9324 | 37.0175 | 33.7403
330232 | 1.1923 | 0.8565 | 21.1277 | 21.4765 | 24.2810 | 22.2924
330233 | 1.4170 | 1.3191 | 39.5133 | 41.9968 | 45.5132 | 42.4372
330234 | 2.2593 | 1.3191 | 37.7135 | 36.8500 | 40.6314 | 38.3961
330235 | 1.1320 | 0.9315 | 21.4643 | 22.1217 | 23.3866 | 22.3225
330236 | 1.4277 | 1.3191 | 31.8491 | 32.9391 | 35.6347 | 33.4921
330238 | 1.2507 | 0.9117 | 18.3846 | 19.2407 | 20.8639 | 19.5443
330239 ʰ | 1.2261 | 0.8424 | 19.7561 | 20.4936 | 21.5397 | 20.5927
330240 | 1.2179 | 1.3191 | 37.3866 | 40.7478 | 36.7910 | 38.3109
330241 | 1.8763 | 0.9595 | 26.7598 | 27.7213 | 29.0882 | 27.8974
330242 | 1.2925 | 1.3191 | 30.5172 | 32.2178 | 46.0013 | 35.2529
330245 | 1.9001 | 0.8313 | 20.2037 | 21.6857 | 22.7032 | 21.5626
330246 | 1.3295 | 1.2781 | 31.8857 | 31.6763 | 34.6329 | 32.7279
330247 | 1.0067 | 1.3191 | 25.6063 | 32.1733 | 32.2300 | 29.8298
330249 | 1.2019 | 0.9595 | 19.1469 | 21.4345 | 22.9834 | 21.2588
330250 | 1.2791 | 0.9306 | 22.1272 | 23.0641 | 25.1664 | 23.4900
330259 | 1.4142 | 1.2781 | 27.4131 | 30.0488 | 31.9495 | 29.9063
330261 | 1.2516 | 1.3191 | 30.4771 | 30.9356 | 30.7942 | 30.7386
330263 | 0.9776 | 0.8220 | 20.0831 | 20.8456 | 22.4675 | 21.1560
330264 | 1.2367 | 1.0767 | 26.3652 | 28.1501 | 30.0139 | 28.1122
330265 | 1.2729 | 0.9117 | 18.2547 | 19.9414 | 20.4635 | 19.5583
330267 | 1.4649 | 1.3191 | 29.0499 | 30.3709 | 31.5478 | 30.3522
330268 | 0.9506 | 0.8565 | 18.7991 | 18.9142 | 20.9720 | 19.5863
330270 | 2.0316 | 1.3191 | 36.5976 | 38.2605 | 52.4880 | 42.6074
330273 | 1.4020 | 1.3191 | 28.8548 | 29.5106 | 30.3976 | 29.6096
330276 | 1.1013 | 0.8220 | 20.7973 | 21.7826 | 22.2353 | 21.6210
330277 | 1.1667 | 0.9204 | 21.8866 | 25.1438 | 25.3582 | 24.1682
330279 | 1.4462 | 0.8888 | 23.8793 | 23.4816 | 24.9772 | 24.1439
330285 | 1.9363 | 0.9117 | 26.0446 | 27.1260 | 27.9018 | 27.0364
330286 | 1.3657 | 1.2781 | 31.1344 | 32.3244 | 33.3377 | 32.3174
330290 | 1.7357 | 1.3191 | 35.5617 | 36.3764 | 36.9981 | 36.3009
330293 | *** | * | 17.6506 | 19.0290 | * | 18.3452
330304 | 1.2821 | 1.3191 | 31.1146 | 33.4431 | 34.5111 | 33.0739
330306 | 1.4608 | 1.3191 | 30.4426 | 30.7551 | 35.6640 | 32.2831
330307 | 1.2103 | 0.9855 | 23.8583 | 25.4128 | 27.5699 | 25.6624
330314 | 1.2270 | 1.2781 | 26.2954 | 26.0150 | 25.5597 | 25.9594
330316 | 1.2997 | 1.3191 | 33.7857 | 33.1512 | 34.8623 | 33.9322
330327 | *** | * | 19.3465 | * | * | 19.3465
330332 | 1.2570 | 1.2781 | 30.5104 | 31.8389 | 33.0652 | 31.9293
330333 | *** | 1.2781 | 29.7725 | 33.7637 | 26.1917 | 29.6723
330336 | *** | * | 32.9548 | * | * | 32.9548
330339 | 0.8062 | 0.8565 | 20.8424 | 22.2812 | 22.6569 | 21.9390
330340 | 1.1756 | 1.2781 | 29.8140 | 31.4322 | 33.5504 | 31.6312
330350 | 1.4934 | 1.3191 | 35.5656 | 39.3541 | 36.6250 | 37.1672
330353 | 1.1504 | 1.3191 | 35.6821 | 38.6962 | 37.6549 | 37.3737
330357 | 1.2908 | 1.3191 | 36.5461 | 34.3965 | 35.5975 | 35.5017
330372 | 1.2505 | 1.2781 | 28.2490 | 30.1505 | 32.6721 | 30.3998
330385 | 1.1112 | 1.3191 | 44.3387 | 42.6671 | 34.7820 | 40.7280
330386 | 1.2069 | 1.0576 | 25.2064 | 25.9228 | 27.9943 | 26.4367
330389 | 1.9214 | 1.3191 | 32.2112 | 34.7552 | 34.7669 | 33.9210
330390 | 1.2676 | 1.3191 | 32.7450 | 33.2628 | 36.0573 | 33.8898
330393 | 1.7382 | 1.2781 | 33.0953 | 34.8213 | 34.8095 | 34.2742
330394 | 1.6408 | 0.8588 | 21.3678 | 23.3505 | 25.2229 | 23.3324
330395 | 1.3921 | 1.3191 | 32.1089 | 35.4619 | 39.6666 | 35.4994
330396 | 1.2486 | 1.3191 | 31.2429 | 32.5345 | 35.0297 | 32.9828
330397 | 1.3537 | 1.3191 | 40.0884 | 34.5110 | 38.4741 | 37.5361
330399 | 1.1709 | 1.3191 | 32.1248 | 33.6753 | 32.3688 | 32.7392
330401 | 1.3161 | 1.2781 | 33.8633 | 35.7435 | 40.5332 | 36.7926
330402 | 0.7916 | 0.9260 | * | 21.3302 | * | 21.3302
330403 | *** | 0.9117 | * | * | 23.1887 | 23.1887
340001 | 1.4809 | 0.9717 | 21.6113 | 23.2436 | 25.0041 | 23.2441
340002 | 1.7358 | 0.9312 | 24.0145 | 25.1099 | 27.3349 | 25.5169
340003 | 1.0930 | 0.8570 | 20.8205 | 21.5562 | 23.3066 | 21.9251
340004 | 1.4023 | 0.9020 | 23.3756 | 24.2055 | 25.4474 | 24.3851
340005 | 0.9977 | 0.8570 | 20.8150 | 22.9830 | 22.3814 | 22.0177
340007 | *** | 0.9133 | 19.5208 | 21.1519 | * | 20.3174
340008 | 1.0820 | 0.9585 | 22.7338 | 24.2089 | 26.6314 | 25.0622
340010 | 1.3214 | 0.9476 | 21.3024 | 23.1349 | 24.5666 | 23.0280
340011 | 1.0509 | 0.8570 | 18.1926 | 18.1843 | 19.9484 | 18.7756
340012 | 1.2823 | 0.8570 | 19.6350 | 22.0583 | 22.7189 | 21.4818
340013 | 1.2354 | 0.9585 | 21.0066 | 22.4787 | 23.0261 | 22.1688
340014 | 1.5332 | 0.9020 | 22.6757 | 24.4831 | 25.1872 | 24.1069
340015 ʰ | 1.3596 | 0.9717 | 24.3410 | 24.3870 | 26.2276 | 25.0387
340016 | 1.2110 | 0.8570 | 20.2859 | 22.7574 | 23.0359 | 22.0228
340017 | 1.2648 | 0.9312 | 21.7083 | 22.8879 | 23.8229 | 22.8228
340018 | 1.1294 | 0.9183 | 17.3480 | 20.3840 | 23.7243 | 20.2881
340019 | 0.9618 | 0.9020 | 16.7901 | 17.8768 | * | 17.3292
340020 | 1.1895 | 0.8570 | 21.3385 | 24.1955 | 23.7995 | 23.1233
340021 | 1.2956 | 0.9585 | 22.9208 | 23.6884 | 26.0995 | 24.2587
340022 | *** | 0.8570 | 19.9078 | * | * | 19.9078
340024 | 1.1553 | 0.8570 | 20.4906 | 21.2671 | 22.2521 | 21.3515
340025 | 1.2401 | 0.9312 | 20.2864 | 20.9915 | 21.2276 | 20.8493
340027 | 1.1523 | 0.9414 | 21.0975 | 22.6107 | 23.6326 | 22.4564
340028 | 1.5451 | 0.9426 | 22.2028 | 24.6836 | 26.3298 | 24.3471
340030 | 2.0360 | 1.0260 | 26.7753 | 27.4664 | 29.3043 | 27.9060
340032 | 1.3877 | 0.9717 | 23.2204 | 24.8031 | 26.7475 | 25.0122
340035 | 1.0281 | 0.8570 | 16.4821 | 21.2407 | 23.5476 | 20.1377
340036 | 1.1712 | 0.9709 | 20.8313 | 22.2089 | 25.2077 | 22.9528
340037 | 1.0024 | 0.8570 | 21.9524 | 22.5089 | 21.6411 | 22.0344
340038 | 1.1871 | 0.8570 | 13.9936 | 14.0203 | 14.0713 | 14.0327
340039 | 1.2862 | 0.9585 | 24.8246 | 25.6605 | 27.1275 | 25.9204
340040 | 1.9063 | 0.9414 | 22.4777 | 24.1523 | 26.3325 | 24.3631
340041 | 1.2302 | 0.8931 | 17.6319 | 23.0497 | 23.4891 | 21.2362
340042 | 1.0903 | 0.8570 | 21.1107 | 22.1107 | 23.0236 | 22.0702
340044 | 0.9395 | 0.8570 | 18.2154 | 21.7089 | 22.8948 | 20.8194
340045 | 0.9726 | 0.8570 | 17.4066 | 14.5004 | 23.1918 | 18.0750
340047 | 1.8926 | 0.9020 | 22.5199 | 25.3727 | 25.0605 | 24.3496
340049 | 2.0329 | 1.0260 | 21.2734 | 22.3082 | 30.4827 | 24.7548
340050 | 1.0881 | 0.9193 | 20.3262 | 21.4511 | 24.2533 | 22.0481
340051 | 1.2288 | 0.8931 | 20.3057 | 21.9069 | 23.4091 | 21.9456
340053 | 1.5911 | 0.9717 | 24.9768 | 26.9361 | 27.7261 | 26.5947
340055 | 1.2318 | 0.8931 | 23.2990 | 24.3728 | 24.1057 | 23.9407
340060 | 1.0613 | 0.9133 | 20.8077 | 22.4303 | 22.8657 | 22.0570
340061 | 1.8009 | 1.0260 | 25.1081 | 26.6657 | 27.5594 | 26.4994
340064 | 1.0787 | 0.8570 | 19.4523 | 22.3631 | 22.9143 | 21.5916
340065 | 1.1887 | 0.8570 | 20.3296 | 20.8413 | * | 20.5941
340067 | *** | * | 22.2565 | * | * | 22.2565
340069 | 1.8692 | 0.9993 | 24.4650 | 27.5045 | 27.4473 | 26.5163
340070 | 1.2588 | 0.8902 | 22.2605 | 23.6045 | 24.9033 | 23.6142
340071 | 1.1237 | 0.9476 | 19.9561 | 22.1854 | 25.4537 | 22.5747
340072 | 1.1835 | 0.8570 | 19.2773
21.3320 | 22.6474 | 21.0148
340073 | 1.3746 | 0.9993 | 26.6829 | 29.4189 | 30.2076 | 28.9147
340075 | 1.2112 | 0.8931 | 23.2904 | 24.1297 | 26.0225 | 24.4391
340084 | 1.1875 | 0.9717 | 20.8175 | 21.3227 | 21.2580 | 21.1447
340085 ʰ | 1.1572 | 0.9133 | 21.7112 | 23.0890 | 23.9793 | 22.8869
340087 | 1.1889 | 0.8570 | 17.8215 | 18.4202 | 22.0070 | 19.3351
340088 | 1.3425 | 0.8570 | 22.8687 | 24.3299 | * | 23.5994
340090 | 1.2312 | 0.9709 | 20.3261 | 21.7173 | 23.4542 | 21.9222
340091 | 1.5335 | 0.9020 | 23.1430 | 24.9411 | 25.8266 | 24.6682
340096 ʰ | 1.1818 | 0.9133 | 22.1174 | 23.6345 | 25.2169 | 23.6523
340097 | 1.1843 | 0.8570 | 20.8690 | 22.5775 | 24.2127 | 22.5886
340098 | 1.4546 | 0.9717 | 24.2262 | 25.4823 | 27.3308 | 25.7030
340099 | 1.1671 | 0.8570 | 17.5114 | 20.0178 | 20.3683 | 19.3181
340104 | 0.8280 | 0.8570 | 12.9949 | 14.3252 | 15.7521 | 14.3947
340106 | 1.0782 | 0.8570 | 20.1076 | 22.6979 | 22.4894 | 21.8047
340107 | 1.1794 | 0.8924 | 21.0960 | 22.5583 | 22.9698 | 22.2242
340109 | 1.3188 | 0.8841 | 20.4341 | 22.3826 | 23.4419 | 22.1467
340113 | 1.8523 | 0.9717 | 25.0729 | 26.0776 | 28.2546 | 26.5138
340114 | 1.6227 | 0.9993 | 19.9142 | 25.4533 | 26.6813 | 23.7911
340115 | 1.5773 | 0.9993 | 23.8284 | 25.1907 | 25.0212 | 24.7040
340116 | 1.7011 | 0.8931 | 23.9643 | 26.1641 | 25.3213 | 25.1777
340119 | 1.1252 | 0.9717 | 21.2239 | 22.4821 | 24.2287 | 22.6894
340120 | 1.0360 | 0.8570 | 19.9860 | 21.8548 | 23.0916 | 21.7078
340121 | 1.0374 | 0.9580 | 19.9409 | 20.3701 | 21.7576 | 20.7129
340123 | 1.1858 | 0.9133 | 22.3711 | 23.1879 | 26.1083 | 23.9306
340124 | 1.0791 | 0.9476 | 17.5691 | 18.3866 | 20.8018 | 18.8482
340126 ʰ | 1.2269 | 0.9709 | 21.4271 | 23.5405 | 25.0189 | 23.3764
340127 | 1.1717 | 0.9993 | 22.9672 | 24.6096 | 25.4786 | 24.4245
340129 | 1.2519 | 0.9585 | 22.3260 | 24.1356 | 25.4902 | 24.1365
340130 | 1.3631 | 0.9717 | 22.7687 | 23.0937 | 25.2941 | 23.7854
340131 | 1.5298 | 0.9414 | 24.1370 | 25.2989 | 27.9358 | 25.8415
340132 | 1.1782 | 0.8570 | 17.8771 | 20.4222 | 21.3521 | 19.8892
340133 | 0.9920 | 0.8570 | 23.1444 | 22.1588 | 22.5558 | 22.6188
340137 | 0.9669 | 0.8931 | 33.1751 | 29.9903 | 21.0642 | 28.4915
340138 | 0.8241 | 0.9993 | 29.5286 | 27.4767 | * | 28.5643
340141 | 1.6446 | 0.9580 | 24.2033 | 24.8132 | 27.3355 | 25.5266
340142 | 1.1805 | 0.8570 | 20.4320 | 22.1298 | 22.9907 | 21.8836
340143 | 1.4579 | 0.8931 | 23.0416 | 24.8904 | 25.3633 | 24.4002
340144 | 1.2329 | 0.9585 | 25.4598 | 25.6538 | 27.2686 | 26.1330
340145 | 1.2957 | 0.9585 | 21.8120 | 23.7028 | 23.7131 | 23.0768
340146 | 1.0505 | 0.8570 | 20.7252 | 18.8354 | * | 19.6880
340147 | 1.2003 | 0.9476 | 22.6057 | 23.9998 | 25.4534 | 24.0568
340148 | 1.3349 | 0.9020 | 20.8156 | 22.4205 | 23.5880 | 22.2985
340151 | 1.1033 | 0.8570 | 19.2593 | 22.2613 | 22.0052 | 21.1161
340153 | 1.9092 | 0.9717 | 23.7426 | 25.7078 | 26.4896 | 25.3204
340155 | 1.4341 | 1.0260 | 26.3663 | 28.8758 | 30.5006 | 28.6119
340158 | 1.1034 | 0.9580 | 21.7489 | 23.4724 | 26.4849 | 23.8953
340159 | 1.1424 | 1.0260 | 21.2983 | 22.1872 | 23.2991 | 22.2743
340160 | 1.2720 | 0.8570 | 18.7569 | 19.1330 | 20.7525 | 19.5589
340166 | 1.3649 | 0.9717 | 22.8349 | 25.7398 | 26.0557 | 24.9254
340168 | *** | 0.9580 | 16.8278 | 16.8076 | 17.3249 | 17.0046
340171 | 1.1811 | 0.9717 | 25.9603 | 27.2074 | 28.2734 | 27.2246
340173 | 1.2448 | 0.9993 | 23.7037 | 26.6128 | 27.5072 | 26.0994
340176 | *** | * | 26.5277 | * | * | 26.5277
340178 | *** | 0.9426 | * | * | 28.7219 | 28.7219
350002 | 1.7334 | 0.7519 | 20.4398 | 20.6474 | 22.0283 | 21.0339
350003 | 1.1580 | 0.7278 | 21.0585 | 25.3076 | 21.8061 | 22.5764
350004 | *** | * | 28.3773 | 27.5891 | * | 28.0246
350006 | 1.6770 | 0.7278 | 19.7577 | 19.5870 | 19.4985 | 19.5737
350009 | 1.0756 | 0.8778 | 20.2558 | 20.7014 | 23.0873 | 21.3437
350010 | 1.0942 | 0.7278 | 17.2489 | 18.5682 | 19.1965 | 18.3109
350011 | 1.9473 | 0.8778 | 21.9111 | 22.3896 | 23.1947 | 22.5594
350014 | 0.9131 | 0.7278 | 16.1718 | 18.5360 | 17.7565 | 17.4777
350015 | 1.6703 | 0.7519 | 18.5437 | 18.6381 | 19.7027 | 18.9716
350017 | 1.4352 | 0.7278 | 19.1952 | 20.1943 | 21.0243 | 20.1512
350019 ² | 1.6643 | 1.1521 | 21.3589 | 24.2382 | 32.2306 | 26.4362
350027 | 1.0413 | 0.7278 | 17.6731 | 14.2262 | * | 15.5713
350030 | 0.9514 | 0.7278 | 18.8822 | 19.2282 | 18.9978 | 19.0373
350043 | *** | * | 18.8378 | 20.9732 | * | 19.9618
350058 | 0.9697 | 0.7278 | 15.0196 | * | * | 15.0196
350070 | 1.9138 | 0.8778 | * | 24.4464 | 25.2836 | 24.8833
360001 | 1.3315 | 0.9604 | 22.2387 | 23.7750 | 23.9101 | 23.2970
360002 | 1.1905 | 0.8788 | 20.7586 | 22.6923 | 24.5789 | 22.7274
360003 | 1.8081 | 0.9604 | 24.4144 | 26.3180 | 27.5029 | 26.0650
360006 | 1.9867 | 0.9848 | 24.0814 | 25.7041 | 27.9925 | 25.9633
360007 | *** | * | 19.1315 | * | * | 19.1315
360009 | 1.5653 | 0.9263 | 22.4076 | 23.2659 | 23.1012 | 22.9250
360010 | 1.1890 | 0.8979 | 20.6290 | 22.0262 | 23.1178 | 21.9858
360011 | 1.3220 | 0.9848 | 21.4293 | 22.4482 | 25.5340 | 23.0257
360012 | 1.3639 | 0.9848 | 24.3618 | 25.5913 | 27.5470 | 25.9629
360013 | 1.0996 | 0.9263 | 24.4232 | 25.1588 | 26.8129 | 25.4875
360014 | 1.1458 | 0.9848 | 22.9372 | 23.8305 | 25.3861 | 24.0832
360016 | 1.4261 | 0.9604 | 22.8430 | 24.6587 | 26.1283 | 24.5377
360017 | 1.7197 | 0.9848 | 23.6181 | 25.4969 | 27.2910 | 25.5905
360018 | *** | * | 29.9085 | * | * | 29.9085
360020 | 1.6198 | 0.9197 | 21.5085 | 22.3795 | 24.4343 | 22.8262
360024 | *** | * | 22.5356 | 24.0612 | 23.5499 | 23.3173
360025 | 1.3926 | 0.9197 | 21.6676 | 23.6574 | 25.5633 | 23.7829
360026 | 1.2762 | 0.9069 | 20.8825 | 22.3303 | 23.5898 | 22.2676
360027 | 1.6543 | 0.9197 | 23.5907 | 24.7093 | 25.4894 | 24.6187
360029 | 1.0888 | 0.9573 | 20.4924 | 20.8778 | 22.7785 | 21.4073
360031 | *** | * | 24.3482 | 24.4324 | * | 24.3900
360032 ʰ | 1.1314 | 0.9263 | 21.1743 | 22.9759 | 23.2638 | 22.4807
360034 | 1.1035 | 0.8788 | 21.5621 | 25.1366 | * | 23.3553
360035 | 1.7092 | 0.9848 | 24.2433 | 25.6895 | 27.5220 | 25.8774
360036 | 1.2117 | 0.9197 | 22.3567 | 25.0910 | 27.6094 | 25.0649
360037 | 1.3504 | 0.9197 | 32.6245 | 25.1615 | 24.3982 | 26.6839
360038 | 1.4244 | 0.9604 | 23.4855 | 24.8294 | 22.8009 | 23.7144
360039 | 1.4713 | 0.9848 | 23.4642 | 22.5921 | 24.0218 | 23.3755
360040 | 1.1396 | 0.8788 | 21.3307 | 22.8729 | 24.0942 | 22.7498
360041 | 1.4432 | 0.9197 | 22.1352 | 23.2625 | 24.1080 | 23.2048
360044 | 1.0612 | 0.8788 | 19.7212 | 20.4724 | 21.8411 | 20.6845
360046 | 1.1923 | 0.9604 | 22.8425 | 23.8918 | 25.0775 | 23.9800
360047 | 0.9522 | 0.8788 | 17.5885 | 17.1973 | 21.7248 | 18.9388
360048 | 1.7400 | 0.9573 | 24.7150 | 27.2274 | 28.8107 | 26.8831
360049 | 1.1298 | 0.9197 | 22.4939 | 24.2605 | 25.8367 | 24.2864
360051 | 1.6658 | 0.9069 | 23.0658 | 25.1785 | 25.7556 | 24.7297
360052 | 1.5398 | 0.9069 | 22.5005 | 23.3285 | 24.5405 | 23.5101
360054 | 1.2774 | 0.8788 | 19.2884 | 20.3176 | 22.6157 | 20.7734
360055 | 1.3753 | 0.8788 | 23.5586 | 25.1475 | 26.3112 | 24.9991
360056 | 1.5352 | 0.9604 | 22.4475 | 23.4638 | 23.1024 | 22.9631
360058 | 1.1220 | 0.8788 | 21.0768 | 22.7943 | 23.4434 | 22.4515
360059 | 1.4684 | 0.9197 | 23.0775 | 25.5222 | 25.3516 | 24.6433
360062 | 1.5341 | 0.9848 | 24.5746 | 26.8091 | 28.6518 | 26.7475
360064 | 1.5318 | 0.8788 | 21.3424 | 22.8729 | 22.2393 | 22.1811
360065 | 1.2012 | 0.9197 | 22.9727 | 24.0868 | 26.3036 | 24.5445
360066 | 1.5310 | 0.9263 | 24.6806 | 25.2316 | 27.3362 | 25.7779
360068 | 1.8254 | 0.9573 | 22.1110 | 23.7895 | 25.8414 | 23.9678
360069 | 1.1231 | 0.9573 | 20.5349 | 25.7032 | 24.2444 | 23.4234
360070 | 1.6302 | 0.8957 | 21.8228 | 23.1687 | 24.8863 | 23.3191
360071 ʰ | 1.2089 | 0.9263 | 21.4478 | 21.6176 | 22.0786 | 21.6950
360072 | 1.3941 | 0.9848 | 21.3736 | 23.0464 | 24.1825 | 22.9257
360074 | 1.2640 | 0.9573 | 22.2368 | 23.6172 | 24.9055 | 23.6214
360075 | 1.1808 | 0.9197 | 23.8492 | 24.7610 | 26.8453 | 25.2573
360076 | 1.3773 | 0.9604 | 22.5863 | 22.5943 | 25.9369 | 23.7285
360077 | 1.5368 | 0.9197 | 23.3686 | 24.7086 | 25.6505 | 24.5864
360078 | 1.2606 | 0.9197 | 23.3799 | 24.6821 | 26.1313 | 24.7447
360079 | 1.7689 | 0.9604 | 25.9623 | 25.8762 | 26.0935 | 25.9804
360080 | 1.0696 | 0.8788 | 18.7213 | 19.5436 | 20.8309 | 19.7267
360081 | 1.3058 | 0.9573 | 22.1973 | 25.1439 | 27.5695 | 24.8761
360082 | 1.3694 | 0.9197 | 25.2254 | 27.4264 | 27.1197 | 26.6255
360084 | 1.5327 | 0.8957 | 23.3257 | 25.2059 | 25.8415 | 24.8445
360085 | 2.0605 | 0.9848 | 24.6618 | 27.5792 | 29.0081 | 27.1579
360086 | 1.5132 | 0.9069 | 21.5983 | 22.3005 | 22.1859 | 22.0265
360087 | 1.4212 | 0.9197 | 23.9638 | 25.9131 | 25.4040 | 25.0901
360089 | 1.1144 | 0.8788 | 21.0229 | 21.0253 | 22.7951 | 21.6142
360090 | 1.4694 | 0.9573 | 22.6236 | 24.4291 | 26.7717 | 24.5859
360091 | 1.2086 | 0.9197 | 23.5759 | 26.0541 | 27.5067 | 25.7352
360092 | 1.2241 | 0.9848 | 21.9732 | 23.5100 | 25.6618 | 23.7647
360093 | 1.0308 | 0.8788 | 21.4623 | 24.1238 | 23.2648 | 22.9528
360094 | *** | * | 22.6440 | 27.1864 | 26.6348 | 24.9723
360095 | 1.2895 | 0.8788 | 23.6518 | 24.6984 | * | 24.1867
360096 | 1.0859 | 0.8788 | 22.0673 | 22.2333 | 24.6317 | 22.9802
360098 | 1.4042 | 0.9197 | 22.7644 | 23.6413 | 24.8447 | 23.7933
360099 | *** | 0.8788 | 20.8524 | * | * | 20.8524
360101 | 1.3585 | 0.9197 | 26.2875 | 27.7584 | 26.6208 | 26.9092
360106 | 1.0794 | 0.8788 | 19.8658 | 21.6450 | 24.1588 | 21.9428
360107 | 1.0416 | 0.9197 | 23.6880 | 24.5365 | 25.9697 | 24.7438
360109 | 1.0852 | 0.8788 | 23.0178 | 24.3236 | 25.4184 | 24.2613
360112 | 2.0143 | 1.0628 | 25.5910 | 26.7880 | 28.6784 | 26.9982
360113 | 1.2415 | 0.9604 | 22.3348 | 23.5138 | 25.6493 | 23.7408
360115 | 1.2494 | 0.9197 | 22.3926 | 24.0232 | 24.0052 | 23.4857
360116 | 1.2224 | 0.9604 | 21.3809 | 23.4049 | 18.0655 | 20.9510
360118 | 1.4861 | * | 23.0070 | 24.2526 | * | 23.6564
360121 | 1.2367 | 0.8788 | 23.2515 | 25.2037 | * | 24.2319
360123 | 1.4129 | 0.9197 | 23.1310 | 24.1761 | 22.6523 | 23.2730
360125 | 1.1792 | 0.9197 | 21.1408 | 22.6871 | 22.1096 | 21.9849
360126 | *** | * | 22.2409 | * | * | 22.2409
360129 | 0.9317 | 0.8788 | 17.9151 | 19.5336 | * | 18.7493
360130 | 1.4471 | 0.9197 | 20.1257 | 21.7015 | 22.9762 | 21.5955
360131 | 1.2314 | 0.8957 | 21.7838 | 23.1730 | 24.0495 | 23.0299
360132 | 1.2426 | 0.9604 | 23.4179 | 25.7991 | 25.9453 | 25.1258
360133 | 1.6206 | 0.9069 | 22.0958 | 23.9457 | 24.6208 | 23.6001
360134 | 1.6811 | 0.9604 | 23.6817 | 25.3013 | 29.2975 | 26.0944
360137 | 1.6781 | 0.9197 | 23.8947 | 25.7647 | 26.9522 | 25.5442
360141 | 1.6446 | 0.8788 | 25.1442 | 31.0127 | 27.7085 | 27.9618
360142 | 0.9699 | 0.8788 | 20.6728 | 21.2084 | 22.1610 | 21.3780
360143 | 1.3211 | 0.9197 | 22.2275 | 23.8938 | 24.6306 | 23.6169
360144 | 1.3179 | 0.9197 | 24.7973 | 26.7160 | 24.0350 | 25.1500
360145 | 1.7297 | 0.9197 | 22.4813 | 23.4743 | 25.8268 | 23.9319
360147 | 1.3504 | 0.8788 | 20.0409 | 22.7172 | 24.1953 | 22.4020
360148 | 1.0603 | 0.8788 | 21.3211 | 24.4873 | 26.1946 | 24.0470
360150 | 1.1923 | 0.9197 | 24.8485 | 25.8703 | 24.7667 | 25.1568
360151 | 1.4859 | 0.8957 | 21.7215 | 22.2179 | 24.8629 | 22.8949
360152 | 1.4689 | 0.9848 | 22.9352 | 24.9894 | 27.9147 | 25.0211
360153 | 0.9512 | 0.8788 | 17.3367 | 19.0844 | 19.0226 | 18.4206
360154 | 0.9805 | 0.8788 | 16.2416 | 17.1274 | * | 16.6874
360155 | 1.4857 | 0.9197 | 23.0020 | 23.9466 | 25.3787 | 24.1428
360156 | 1.1333 | 0.8788 | 21.2853 | 22.6709 | 24.0510 | 22.6856
360159 | 1.2322 | 0.9848 | 23.3359 | 25.7108 | 33.1613 | 27.1828
360161 | 1.3645 | 0.8788 | 21.5114 | 22.6005 | 24.3792 | 22.8785
360163 | 1.8834 | 0.9604 | 23.1500 | 25.7966 | 26.9728 | 25.2619
360170 | 1.1824 | 0.9848 | 22.2815 | 22.9359 | 24.3620 | 23.3031
360172 | 1.3907 | 0.9197 | 22.7104 | 23.4727 | 26.3388 | 24.1922
360174 | 1.2111 | 0.9069 | 21.7129 | 22.8167 | 24.9990 | 23.2230
360175 | 1.1979 | 0.9848 | 22.7887 | 24.6152 | 26.5949 | 24.7311
360177 | 1.1457 | 0.8788 | 20.8194 | 23.4256 | 24.4712 | 22.9543
360178 | *** | 0.8788 | 18.2393 | * | * | 18.2393
360180 | 2.2595 | 0.9197 | 25.1499 | 26.8720 | 26.1514 | 26.0861
360185 | 1.1807 | 0.8788 | 21.1245 | 21.8641 | 23.7173 | 22.2403
360187 | 1.5760 | 0.9069 | 21.9499 | 23.8362 | 24.8173 | 23.5639
360189 | 1.1222 | 0.9848 | 20.0275 | 24.2512 | 24.2136 | 22.8164
360192 | 1.3138 | 0.9197 | 24.9995 | 26.2976 | 26.7577 | 26.0512
360194 ʰ | 1.1529 | * | 20.3677 | 22.3297 | * | 21.3611
360195 | 1.0716 | 0.9197 | 23.1897 | 25.8043 | 26.1280 | 25.1222
360197 | 1.0908 | 0.9848 | 23.1378 | 24.7539 | 26.7508 | 24.9131
360203 | 1.1451 | 0.8788 | 19.3642 | 21.5564 | 22.1414 | 21.0862
360210 | 1.1668 | 0.9848 | 25.0811 | 26.5665 | 27.8415 | 26.5578
360211 | 1.5541 | 0.8840 | 22.4529 | 23.0884 | 22.5449 | 22.6945
360212 | 1.3654 | 0.9197 | 22.8041 | 24.5310 | 25.2756 | 24.2166
360218 | 1.1698 | 0.9848 | 22.8060 | 24.4720 | 27.4288 | 25.0106
360230 | 1.6048 | 0.9197 | 24.7681 | 26.6444 | 27.0223 | 26.1931
360234 | 1.3014 | 0.9604 | 22.1787 | 23.3325 | 24.2539 | 23.2304
360236 | 1.1515 | 0.9604 | 22.8821 | 21.3795 | 35.8144 | 24.3729
360239 | 1.3119 | 0.9069 | 23.5802 | 24.4398 | 25.2474 | 24.5362
360241 | *** | 0.9197 | 23.4061 | 24.8089 | 24.7001 | 24.1133
360245 | 0.5232 | 0.9197 | 18.1015 | 18.7966 | 19.1885 | 18.7327
360247 | 0.3785 | 0.9848 | * | 25.1083 | 19.8892 | 22.3390
360253 | 2.2434 | 0.9069 | 31.3006 | 28.2555 | 30.4276 | 29.8452
360254 | *** | * | 30.0792 | * | * | 30.0792
360257 | 1.0766 | 0.8788 | * | 17.9652 | * | 17.9652
360259 | 1.1777 | 0.9573 | * | * | 25.1338 | 25.1338
360260 | *** | 0.8979 | * | * | 27.3903 | 27.3903
360261 | 1.7759 | 0.9482 | * | * | 22.5431 | 22.5431
360262 | 1.3387 | 0.9573 | * | * | 27.1680 | 27.1680
360263 | 1.6685 | 0.9263 | * | * | 20.8884 | 20.8884
370001 | 1.6782 | 0.8313 | 25.5838 | 26.2391 | 27.7549 | 26.5495
370002 | 1.1821 | 0.7615 | 18.9544 | 19.7718 | 20.1479 | 19.6308
370004 | 1.0932 | 0.8458 | 21.5041 | 24.7694 | 25.3919 | 23.7972
370006 | 1.2069 | 0.7615 | 15.6333 | 16.9469 | 20.1063 | 17.6384
370007 | 1.0399 | 0.7615 | 16.7598 | 17.2084 | 17.6547 | 17.2160
370008 | 1.3885 | 0.9043 | 22.1596 | 22.7419 | 24.2978 | 23.1423
370011 | 1.0810 | 0.9043 | 17.1458 | 19.2266 | 19.7821 | 18.6737
370013 | 1.5187 | 0.9043 | 21.1512 | 22.6451 | 24.9295 | 22.9792
370014 | 1.0403 | 0.8971 | 21.8473 | 24.8138 | 25.3576 | 24.0194
370015 | 0.9737 | 0.8313 | 20.3966 | 21.1833 | 23.6693 | 21.7009
370016 ʰ | 1.4747 | 0.8682 | 20.4407 | 24.2737 | 25.4062 | 23.3330
370018 | 1.4098 | 0.8313 | 20.8357 | 23.4286 | 23.5336 | 22.5984
370019 | 1.2184 | 0.7615 | 18.1260 | 19.6761 | 21.4474 | 19.7475
370020 | 1.2243 | 0.7615 | 16.8631 | 17.4835 | 18.5046 | 17.6368
370022 | 1.1976 | 0.7673 | 20.2432 | 18.4217 | 19.6495 | 19.4375
370023 | 1.2396 | 0.7615 | 19.3386 | 20.6002 | 21.5762 | 20.5441
370025 | 1.2545 | 0.8313 | 20.2845 | 22.0287 | 23.5659 | 21.9757
370026 ʰ | 1.5077 | 0.8682 | 21.9140 | 22.5734 | 23.0848 | 22.5236
370028 | 1.8453 | 0.9043 | 24.1009 | 24.8661 | 26.6153 | 25.1976
370029 | 1.0293 | 0.7615 | 19.5811 | 22.1163 | 23.9956 | 21.8559
370030 | 1.0428 | 0.7615 | 18.6541 | 20.3315 | 23.3037 | 20.7201
370032 | 1.4479 | 0.9043 | 20.0827 | 21.6029 | 23.4843 | 21.7536
370034 | 1.1924 | 0.7986 | 16.1540 | 17.6247 | 18.2341 | 17.3349
370036 | 1.0216 | 0.7615 | 16.5844 | 16.9222 | 17.7576 | 17.1504
370037 | 1.6563 | 0.9043 | 21.0719 | 23.1256 | 23.9685 | 22.7803
370039 | 1.0902 | 0.8313 | 20.3137 | 21.0793 | 21.8220 | 21.0783
370040 | 1.0053 | 0.8231 | 18.9981 | 21.1061 | 22.4048 | 20.8291
370041 | 0.8812 | 0.8313 | 19.0144 | 22.0082 | 22.3496 | 21.1267
370042 | 0.9473 | 0.7615 | 14.0899 | 15.3613 | * | 14.7180
370043 | 0.9286 | 0.7615 | 20.2929 | 21.5588 | * | 20.9707
370045 | 0.9116 | 0.7615 | 12.6613 | 14.6370 | * | 13.6711
370047 | 1.4244 | 0.8971 | 19.4856 | 19.7112 | 20.4657 | 19.9082
370048 | 1.0975 | 0.7615 | 15.4768 | 17.7273 | 19.2464 | 17.4431
370049 | 1.2985 | 0.9043 | 20.4826 | 21.6878 | 23.2171 | 21.8100
370051 | 1.0467 | 0.7615 | 12.0397 | 14.6254 | 17.2618 | 14.4702
370054 | 1.2568 | 0.7615 | 20.3788 | 21.5521 | 21.5043 | 21.1653
370056 | 1.6060 | 0.7916 | 20.4872 | 21.7647 | 22.0312 | 21.4507
370057 | 0.9425 | 0.8313 | 17.3020 | 18.0426 | 19.7284 | 18.3749
370060 | 0.9342 | 0.8313 | 23.1897 | 23.8007 | 18.7592 | 21.7395
370064 | 0.8954 | 0.7615 | 11.9044 | 14.1879 | 14.2053 | 13.4809
370065 | 1.0179 | 0.7615 | 18.3966 | 20.6537 | 20.0226 | 19.6691
370072 | 0.7985 | 0.7615 | 12.5765 | 14.6387 | 9.9616 | 11.8723
370076 | *** | * | 19.0230 | 21.5461 | * | 20.2863
370078 | 1.6061 | 0.8313 | 22.2318 | 23.9507 | 25.4161 | 23.9078
370080 | 0.9012 | 0.7615 | 16.1444 | 17.4857 | 18.0665 | 17.2314
370082 | *** | 0.7615 | 12.6060 | * | * | 12.6060
370084 | 0.9685 | 0.7615 | 16.1278 | 17.2735 | 16.6514 | 16.7384
370089 | 1.0714 | 0.7615 | 18.0505 | 19.9021 | 20.4699 | 19.4850
370091 | 1.6980 | 0.8313 | 24.2117 | 22.9893 | 20.8950 | 22.6316
370093 | 1.6152 | 0.9043 | 23.5685 | 25.7296 | 26.9774 | 25.3740
370094 | 1.3966 | 0.9043 | 20.6507 | 22.0591 | 23.1191 | 21.9907
370095 | 0.8800 | 0.7615 | 14.3563 | 16.5310 | * | 15.4277
370097 | 1.2850 | 0.7916 | 20.3218 | 21.7150 | 22.3267 | 21.5064
370099 | 1.0065 | 0.8313 | 20.2001 | 20.5217 | 20.5075 | 20.4227
370100 | 0.9736 | 0.7615 | 13.0681 | 14.1883 | 14.7712 | 14.0181
370103 | 0.9494 | 0.8038 | 15.6110 | 16.1408 | 17.8018 | 16.5505
370105 | 1.8469 | 0.9043 | 22.4493 | 22.1584 | 23.8978 | 22.8583
370106 | 1.3329 | 0.9043 | 24.1115 | 24.2393 | 26.5867 | 25.0105
370108 | *** | 0.7615 | 13.8170 | * | * | 13.8170
370113 | 1.1317 | 0.8615 | 21.4267 | 23.3011 | 25.3565 | 23.3322
370114 | 1.5494 | 0.8313 | 19.4933 | 21.0603 | 21.7880 | 20.8230
370123 | *** | 0.9043 | 20.5180 | 22.8174 | 25.4733 | 22.7986
370125 | 0.8500 | 0.7615 | 17.9240 | 17.2013 | 17.1361 | 17.4038
370138 | 1.0187 | 0.7615 | 19.0403 | 19.8308 | 18.3113 | 19.0435
370139 | 0.9394 | 0.7615 | 16.3224 | 17.8900 | 18.5225 | 17.5400
370141 | *** | * | 24.7859 | * | * | 24.7859
370149 ʰ | 1.2033 | 0.9043 | 18.2260 | 21.0608 | 22.3537 | 20.7832
370153 | 1.0423 | 0.7615 | 17.9692 | 18.5417 | 19.8349 | 18.7951
370154 | *** | 0.7615 | 17.4760 | * | * | 17.4760
370158 | 1.0192 | 0.9043 | 17.3412 | 17.3161 | 18.5578 | 17.7592
370166 | 0.9772 | 0.8313 | 21.3628 | 21.9070 | 23.1681 | 22.1327
370169 | 0.8969 | 0.7615 | 16.5607 | 15.7686 | 15.8002 | 16.0704
370176 | 1.1057 | 0.8313 | 22.1456 | 23.0324 | 25.0509 | 23.4362
370177 | 1.0170 | 0.7615 | 14.0279 | 15.6723 | 14.7193 | 14.7923
370178 | 0.8922 | 0.7615 | 12.9635 | 14.9767 | 14.6070 | 14.1857
370179 | 0.9231 | 0.8313 | 21.9673 | 22.8322 | 23.5794 | 22.6918
370183 | 1.0143 | 0.8313 | 17.9270 | 20.5025 | 21.8147 | 20.0076
370186 | 0.9064 | 0.7615 | 16.3879 | * | * | 16.3879
370192 | 1.7741 | 0.9043 | 24.3832 | 26.1338 | 31.4930 | 27.6466
370196 | 1.0758 | 0.9043 | 23.6334 | 29.4383 | 22.6824 | 25.4359
370199 | 0.9440 | 0.9043 | 20.7075 | 23.7340 | 26.0451 | 23.4652
370200 | 1.1666 | 0.7615 | 16.7164 | 18.1008 | 17.6317 | 17.5059
370201 | 1.7335 | 0.9043 | 18.9906 | 23.1240 | 23.3550 | 21.7730
370202 | 1.5326 | 0.8313 | 24.0239 | 24.4920 | 25.1181 | 24.5965
370203 | 1.3678 | 0.9043 | 19.8772 | 21.2426 | 23.5190 | 21.5182
370206 | 1.6351 | 0.9043 | 22.3471 | 27.4495 | 26.0912 | 25.5795
370207 | *** | * | 26.3746 | * | * | 26.3746
370210 | 2.0839 | 0.8313 | * | 20.0360 | 21.2682 | 20.6946
370211 | 0.9454 | 0.9043 | * | * | 26.5344 | 26.5344
370212 | 1.5402 | 0.9043 | * | * | 21.0758 | 21.0758
370213 | *** | 0.9043 | * | * | 29.3777 | 29.3777
370215 | 2.4364 | 0.9043 | * | * | 32.3589 | 32.3589
380001 | 1.1877 | 1.1229 | 20.9585 | 27.8554 | 29.7467 | 26.1275
380002 | 1.1956 | 1.0284 | 25.2629 | 26.3348 | 27.1861 | 26.3148
380003 | *** | 1.0284 | 24.6377 | * | * | 24.6377
380005 | 1.3582 | 1.0284 | 26.3472 | 28.0682 | 30.2211 | 28.3075
380006 | 1.1408 | 1.0284 | 24.7492 | 26.0475 | * | 25.3948
380007 | 1.9556 | 1.1229 | 30.0497 | 31.5207 | 33.9969 | 31.9322
380008 | 1.1289 | 1.0328 | 24.6149 | 25.4494 | 25.8356 | 25.3227
380009 | 1.8990 | 1.1229 | 26.0012 | 30.4198 | 31.7042 | 29.4616
380010 | 0.9763 | 1.1229 | 25.5234 | 27.5291 | 30.2957 | 27.8451
380011 | *** | 1.0284 | 21.9382 | * | * | 21.9382
380014 | 1.8048 | 1.0711 | 28.4536 | 27.7255 | 29.9648 | 28.7806
380017 | 1.7793 | 1.1229 | 29.2543 | 31.7440 | 32.2447 | 31.1318
380018 | 1.7996 | 1.0284 | 27.5171 | 27.8952 | 28.0701 | 27.8359
380020 | 1.3856 | 1.0810 | 23.7066 | 25.8320 | 28.3563 | 26.0268
380021 | 1.4351 | 1.1229 | 28.0334 | 29.3001 | 29.3295 | 28.9428
380022 | 1.2181 | 1.0328 | 26.4794 | 27.8683 | 29.2642 | 27.9316
380023 | 1.1682 | 1.0284 | 23.0079 | 23.7073 | 26.5439 | 24.4358
380025 | 1.2837 | 1.1229 | 28.8525 | 30.2628 | 33.2105 | 30.8181
380026 | 1.1324 | 1.0284 | 23.8666 | 26.5217 | * | 25.2072
380027 | 1.2867 | 1.0492 | 21.5822 | 23.8758 | 25.5161 | 23.7359
380029 | 1.2971 | 1.0445 | 24.2939 | 26.2070 | 26.9966 | 25.9075
380033 | 1.6592 | 1.0810 | 30.4783 | 29.7995 | 30.8767 | 30.3883
380035 | 1.0421 | 1.0284 | 26.2434 | 26.4784 | * | 26.3599
380037 | 1.2266 | 1.1229 | 25.0200 | 27.1884 | 30.5818 | 27.7342
380038 | 1.2591 | 1.1229 | 29.1804 | 30.5903 | 34.2303 | 31.3814
380039 | 0.9755 | 1.1229 | 27.5115 | 30.1544 | 32.3959 | 30.0601
380040 | 1.1950 | 1.0284 | 21.5958 | 28.4373 | 32.0103 | 27.1504
380047 | 1.8037 | 1.0492 | 26.5017 | 27.8385 | 29.8627 | 28.1638
380050 | 1.3931 | 1.0284 | 23.1332 | 24.2416 | 25.6190 | 24.3627
380051 | 1.5718 | 1.0445 | 26.2384 | 28.1305 | 29.7219 | 28.0410
380052 | 1.1643 | 1.0284 | 21.2567 | 22.6799 | 24.9476 | 22.9567
380056 | 0.9458 | 1.0445 | 22.3571 | 25.0068 | 25.1475 | 24.2275
380060 | 1.4020 | 1.1229 | 27.8551 | 30.2507 | 29.5370 | 29.2476
380061 | 1.6536 | 1.1229 | 27.3827 | 29.5145 | 29.8217 | 28.9273
380066 | 1.2243 | 1.0284 | 23.3581 | 27.5412 | * | 25.5211
380070 | 1.1747 | 1.1229 | 34.1039 | * | * | 34.1039
380072 | 0.8417 | 1.0284 | 21.9516 | 22.5275 | * | 22.2419
380075 | 1.3046 | 1.0284 | 25.1930 | 27.4795 | 29.0368 | 27.3082
380081 | 1.1379 | 1.0284 | 22.1822 | 21.0708 | 21.8850 | 21.7195
380082 | 1.2215 | 1.1229 | 28.0668 | 30.2721 | 32.4909 | 30.3569
380089 | 1.2717 | 1.1229 | 29.6989 | 30.8396 | 33.4214 | 31.3234
380090 | 1.2689 | 1.0284 | 31.8702 | 33.6822 | 34.4536 | 33.3615
380091 | 1.2950 | 1.1229 | 31.2807 | 35.7002 | 33.8950 | 33.5968
390001 | 1.6397 | 0.8530 | 21.5154 | 22.4407 | 22.5309 | 22.1581
390002 | 1.2571 | 0.8840 | 22.0646 | 23.0113 | 22.4388 | 22.5092
390003 ʰ | 1.1657 | 0.8530 | 19.1857 | 21.3182 | 21.6478 | 20.7084
390004 | 1.5540 | 0.9317 | 21.3475 | 23.4063 | 24.3249 | 23.1020
390005 | 0.9829 | 0.8746 | 19.0727 | 19.0318 | * | 19.0497
390006 | 1.8357 | 0.9145 | 23.0378 | 23.3960 | 25.1216 | 23.8687
390008 ʰ | 1.1582 | 0.8840 | 19.9417 | 21.0021 | 22.2680 | 21.0752
390009 | 1.7277 | 0.8746 | 21.9459 | 24.2789 | 25.5482 | 23.9471
390010 | 1.2001 | 0.8840 | 19.4377 | 21.6273 | 23.5390 | 21.5537
390011 | 1.3112 | 0.8348 | 18.6548 | 19.8602 | 21.9279 | 20.1129
390012 | 1.2176 | 1.1030 | 28.5114 | * | 28.5076 | 28.5093
390013 | 1.2121 | 0.9145 | 22.1679 | 23.3180 | 24.0044 | 23.1713
390016 ʰ | 1.1998 | 0.8446 | 18.1536 | 19.9899 | 21.9549 | 20.1569
390017 ʰ | *** | 0.8840 | 19.1962 | 20.6575 | * | 19.8788
390018 | *** | * | 19.9117 | * | * | 19.9117
390022 | 1.3090 | 1.1030 | 27.5504 | 31.0971 | 29.0710 | 29.1659
390023 | 1.2577 | 1.1030 | 25.3767 | 27.1600 | 31.7149 | 28.1614
390024 | 1.0501 | 1.1030 | 25.9806 | 37.4330 | 35.3959 | 29.4333
390025 | 0.5266 | 1.1030 | 14.8690 | 15.0282 | 17.2977 | 15.7085
390026 | 1.2353 | 1.1030 | 24.0326 | 27.0802 | 29.5157 | 26.9256
390027 | 1.5482 | 1.1030 | 33.2139 | 28.9159 | 35.6568 | 32.4911
390028 | 1.5912 | 0.8840 | 24.6796 | 23.6616 | 25.7246 | 24.7268
390029 | *** | * | * | 24.4276 | * | 24.4276
390030 | 1.1837 | 0.9844 | 20.0598 | 20.9859 | 22.1581 | 21.0867
390031 | 1.2104 | 0.9500 | 20.3568 | 21.2949 | 22.6828 | 21.4388
390032 | 1.1735 | 0.8840 | 20.8450 | 20.9971 | 22.7205 | 21.5225
390035 | 1.2222 | 1.1030 | 23.2173 | 24.7281 | 26.2647 | 24.7742
390036 | 1.4446 | 0.8840 | 20.5751 | 23.3858 | 24.6032 | 22.8336
390037 | 1.3365 | 0.8840 | 20.1665 | 22.9008 | 24.7820 | 22.6385
390039 ʰ | 1.1565 | 0.8348 | 18.4580 | 17.8461 | 20.3787 | 18.9083
390040 | *** | * | 20.5371 | 23.1807 | * | 21.7860
390041 | 1.3009 | 0.8840 | 21.0074 | 20.6789 | 21.5925 | 21.0799
390042 | 1.3204 | 0.8840 | 22.2351 | 23.9632 | 25.6328 | 23.9486
390043 | 1.1602 | 0.8300 | 19.8641 | 20.9835 | 22.2549 | 21.0509
390044 | 1.6591 | 0.9698 | 22.4235 | 24.2586 | 27.1505 | 24.6634
390045 | 1.5712 | 0.8368 | 20.2082 | 22.2582 | 23.0877 | 21.8830
390046 | 1.5379 | 0.9422 | 23.1271 | 25.0825 | 27.6367 | 25.3031
390048 | 1.0828 | 0.9145 | 20.3523 | 23.6622 | 24.7738 | 22.8564
390049 | 1.5860 | 0.9844 | 24.0933 | 25.4056 | 27.1366 | 25.5929
390050 | 2.0343 | 0.8840 | 22.6951 | 24.5424 | 26.6931 | 24.6339
390052 | 1.1848 | 0.8942 | 22.1380 | 21.6736 | 23.6105 | 22.4994
390054 | 1.1909 | 0.8530 | 19.8602 | 21.4983 | 22.8087 | 21.3801
390055 | *** | 0.8840 | 23.5292 | 25.5675 | 25.6945 | 24.9860
390056 | 1.0653 | 0.8300 | 21.4239 | * | 19.5537 | 20.4834
390057 | 1.3195 | 1.1030 | 24.8235 | 25.1901 | 27.9583 | 26.0368
390058 | 1.2715 | 0.9317 | 22.0113 | 25.3415 | 27.4799 | 24.8349
390061 | 1.5355 | 0.9716 | 24.4550 | 25.5012 | 28.4538 | 26.1704
390062 | 1.1167 | 0.8942 | 17.6303 | 19.0692 | 21.4052 | 19.4592
390063 | 1.7404 | 0.8746 | 21.7120 | 23.5469 | 24.7614 | 23.4097
390065 | 1.2046 | 1.0813 | 23.1384 | 23.4021 | 25.9184 | 24.2223
390066 | 1.2713 | 0.9145 | 21.7717 | 23.0891 | 24.2087 | 23.0471
390067 | 1.8233 | 0.9317 | 23.5136 | 25.4576 | 26.3287 | 25.0668
390068 | 1.3022 | 0.9716 | 21.1177 | 25.9890 | 25.8291 | 24.3019
390070 | 1.3629 | 1.1030 | 24.4403 | 26.9235 | 30.9499 | 27.4435
390071 | 0.9895 | 0.8300 | 17.8117 | 20.9443 | 20.6652 | 19.7095
390072 ʰ | 1.0397 | 0.8530 | 20.0561 | 22.0155 | 24.9388 | 22.3043
390073 | 1.5559 | 0.8942 | 22.7073 | 24.8013 | 26.3698 | 24.6228
390074 | 1.1407 | 0.8840 | 21.8456 | 21.0941 | 22.8545 | 21.9412
390075 | *** | * | 19.9775 | 22.6530 | 24.6359 | 22.3701
390076 | 1.3409 | 1.1030 | 21.2039 | 18.1276 | 27.9004 | 21.9007
390079 | 1.8970 | 0.8471 | 19.9169 | 21.4323 | 23.3053 | 21.5091
390080 | 1.2828 | 1.1030 | 23.3742 | 25.0921 | 27.2616 | 25.2851
390081 | 1.2236 | 1.0652 | 28.1056 | 28.7974 | 30.3840 | 29.1503
390084 | 1.2243 | 0.8300 | 18.3551 | 20.7799 | 19.8605 | 19.6630
390086 | 1.5445 | 0.8300 | 19.6488 | 20.7383 | 22.5317 | 20.9944
390090 | 1.7972 | 0.8840 | 22.4688 | 20.7474 | 25.2014 | 22.8601
390091 | 1.1421 | 0.8446 | 19.7361 | 20.8243 | 21.5586 | 20.7010
390093 | 1.1685 | 0.8446 | 19.9209 | 21.0427 | 21.4401 | 20.8186
390095 | 1.1908 | 0.8530 | 18.3939 | 21.0754 | 23.6240 | 20.9725
390096 | 1.4974 | 0.9698 | 22.9502 | 24.4145 | 27.0763 | 24.8874
390097 | 1.1901 | 1.1030 | 24.5304 | 25.3012 | 25.6660 | 25.2008
390100 | 1.6968 | 0.9716 | 23.4155 | 26.7267 | 27.7208 | 26.0717
390101 | 1.2400 | 0.9422 | 20.1271 | 20.1694 | 21.2641 | 20.5324
390102 | 1.3469 | 0.8840 | 20.9807 | 21.6629 | 24.8898 | 22.6239
390103 | 1.0080 | 0.8840 | 21.0637 | 18.6703 | 20.6775 | 20.1561
390104 | 1.0501 | 0.8300 | 16.5081 | 19.1803 | 19.6428 | 18.4897
390107 | 1.3679 | 0.8840 | 21.5852 | 23.1023 | 24.1386 | 23.0080
390108 | 1.2171 | 1.1030 | 23.7842 | 24.7486 | 27.2661 | 25.2833
390109 | 1.1229 | 0.8530 | 17.2667 | 18.7558 | 19.9156 | 18.6551
390110 | 1.5720 | 0.8840 | 22.3968 | 23.3355 | 23.9808 | 23.2737
390111 | 2.0139 | 1.1030 | 30.5814 | 30.6809 | 32.6510 | 31.3439
390112 ʰ | 1.1736 | 0.8348 | 15.6710 | 16.6113 | 19.2126 | 17.1537
390113 | 1.2850 | 0.8446 | 20.1160 | 21.7729 | 22.2591 | 21.3940
390114 | 1.3024 | 0.8840 | 23.6162 | 22.6630 | 24.0473 | 23.4341
390115 | 1.4409 | 1.1030 | 24.1951 | 26.4751 | 27.7333 | 26.1536
390116 | 1.2529 | 1.1030 | 24.9581 | 28.5563 | 29.7436 | 27.8303
390117 | 1.0952 | 0.8300 | 19.0983 | 20.0040 | 20.3946 | 19.8418
390118 | 1.1665 | 0.8300 | 17.8460 | 19.3332 | 21.5001 | 19.5328
390119 | 1.2920 | 0.8530 | 20.3034 | 21.2761 | 22.2746 | 21.3271
390121 | 1.6614 | 0.8942 | 20.8017 | 22.0556 | 23.1408 | 22.0024
390122 | 1.0973 | 0.8300 | 18.5130 | 21.6981 | 22.5785 | 20.8388
390123 | 1.1985 | 1.1030 | 23.2232 | 25.2209 | 28.6269 | 25.7365
390125 | 1.2705 | 0.8300 | 18.2411 | 19.4406 | 20.9456 | 19.5654
390127 | 1.3061 | 1.1030 | 25.0836 | 28.9238 | 30.9374 | 28.4999
390128 | 1.1865 | 0.8840 | 21.3668 | 21.8837 | 23.0255 | 22.1158
390130 | 1.2623 | 0.8348 | 19.4835 | 21.0694 | 24.0685 | 21.4556
390131 | 1.2940 | 0.8840 | 19.5296 | 21.2164 | 22.5177 | 21.1193
390132 | 1.3983 | 1.1030 | 24.6889 | 26.8153 | 27.7250 | 26.4427
390133 | 1.6988 | 1.1030 | 25.2110 | 26.1458 | 28.7162 | 26.7622
390135 | *** | 1.1030 | 24.0445 | * | 24.4738 | 24.2670
390136 | 1.0748 | 0.8840 | 21.9531 | 24.8042 | 22.1415 | 22.9715
390137 | 1.4810 | 0.8530 | 19.5457 | 21.8830 | 23.4877 | 21.5609
390138 | 1.1787 | 1.0813 | 21.4705 | 22.7210 | 24.2769 | 22.8713
390139 | 1.3178 | 1.1030 | 26.3622 | 28.2089 | 30.4246 | 28.3708
390142 | 1.4621 | 1.1030 | 29.8874 | 32.0827 | 32.3517 | 31.4330
390145 | 1.4545 | 0.8840 | 20.6580 | 22.4255 | 23.8041 | 22.3138
390146 | 1.2491 | 0.8300 | 21.4580 | 22.3260 | 25.2460 | 23.0540
390147 | 1.2294 | 0.8840 | 22.3135 | 23.6380 | 25.0971 | 23.6939
390150 | 1.1557 | 0.8840 | 20.0261 | 24.5256 | 24.1855 | 22.9524
390151 | 1.2703 | 1.0813 | 24.7843 | 25.1422 | 27.1539 | 25.7127
390152 | 0.9999 | 0.8942 | 21.5474 | 11.7774 | * | 15.1275
390153 | 1.3749 | 1.1030 | 25.3391 | 27.5167 | 30.0586 | 27.7812
390154 | 1.2331 | 0.8300 | 19.1300 | 20.4408 | 20.6982 | 20.0794
390156 | 1.3484 | 1.0652 | 25.0801 | 27.8096 | 31.2571 | 28.0054
390157 | 1.2887 | 0.8840 | 20.6933 | 22.0222 | 22.7493 | 21.8431
390160 | 1.1601 | 0.8840 | 19.3598 | 19.5942 | 21.4877 | 20.1709
390162 | 1.4642 | 0.9844 | 24.0291 | * | 30.0900 | 26.8901
390163 | 1.2667 | 0.8840 | 18.8585 | 19.8863 | 22.1741 | 20.2736
390164 | 2.0562 | 0.8840 | 24.2334 | 25.1277 | 26.4971 | 25.3882
390166 | 1.1534 | 0.8840 | 19.8531 | 20.9510 | 24.9810 | 21.8402
390168 | 1.4369 | 0.8840 | 20.6777 | 21.9344 | 24.5820 | 22.5085
390169 | 1.4033 | 0.8530 | 22.7695 | 24.1682 | 27.2242 | 24.7030
390173 | 1.1624 | 0.8300 | 20.6958 | 21.6562 | 22.8220 | 21.7639
390174 | 1.7303 | 1.1030 | 28.4490 | 30.3725 | 32.6265 | 30.5109
390176 | 1.1510 | 0.8840 | 18.0752 | 17.1387 | * | 17.5532
390178 | 1.2958 | 0.8609 | 17.2384 | 19.2731 | 20.7270 | 19.1018
390179 | 1.3648 | 1.1030 | 24.0501 | 24.8350 | 27.2222 | 25.3975
390180 | 1.4462 | 1.0652 | 28.4842 | 30.4264 | 32.4375 | 30.5043
390181 | 1.0361 | 0.8300 | * | 25.7357 | 24.4573 | 25.1039
390183 | 1.0850 | 0.8300 | 21.6811 | 22.0117 | 25.6554 | 23.0449
390184 | 1.0849 | 0.8840 | 21.1962 | 21.3407 | 22.5519 | 21.7060
390185 | 1.2694 | 0.8530 | 20.4476 | 21.8871 | 23.0202 | 21.7597
390189 | 1.1071 | 0.8300 | 20.1365 | 21.2711 | 22.3722 | 21.3477
390191 | 1.0835 | 0.8300 | 18.5972 | 19.2308 | 20.8761 | 19.5306
390192 | 1.0157 | 0.8530 | 19.1883 | 20.0395 | 21.2620 | 20.1833
390193 | *** | 0.8746 | 18.9764 | 18.5516 | 20.1024 | 19.2196
390194 | 1.1011 | 0.9844 | 21.5850 | 23.1814 | 25.4235 | 23.4479
390195 | 1.6321 | 1.1030 | 26.2024 | 28.3480 | 31.0019 | 28.5392
390197 | 1.3925 | 0.9844 | 22.8349 | 24.9234 | 25.7739 | 24.4854
390198 | 1.1641 | 0.8746 | 17.3937 | 16.8529 | 18.7222 | 17.6295
390199 | 1.2174 | 0.8300 | 18.9787 | 19.9653 | 21.3157 | 20.1079
390200 | *** | 0.9716 | 19.4471 | 23.1486 | 23.7471 | 21.9484
390201 | 1.2961 | 0.8300 | 22.7849 | 24.8222 | 26.3658 | 24.6735
390203 | 1.6357 | 1.1030 | 26.9436 | 28.2741 | 28.9054 | 28.0870
390204 | 1.2498 | 1.1030 | 23.9673 | 25.6342 | 28.6829 | 26.1129
390211 | 1.2717 | 0.8609 | 21.0450 | 22.4472 | 23.1450 | 22.2313
390215 | *** | * | 25.2617 | 26.4180 | 28.0402 | 26.4046
390217 | 1.1533 | 0.8840 | 21.4058 | 21.3281 | 24.3610 | 22.3261
390219 | 1.2908 | 0.8840 | 20.0594 | 22.8559 | 25.1705 | 22.7113
390220 | 1.0977 | 1.1030 | 23.4385 | 24.7553 | 41.6138 | 28.9098
390222 | 1.2483 | 1.0652 | 24.9345 | 27.0954 | 28.7488 | 26.9594
390223 | 1.9554 | 1.1030 | 22.8725 | 28.2538 | 27.6407 | 26.2383
390224 | 0.8462 | 0.8471 | 16.1289 | 18.1226 | 18.7624 | 17.7120
390225 | 1.1871 | 0.9716 | 20.9232 | 23.4945 | 24.9391 | 23.3545
390226 | 1.7312 | 1.1030 | 25.6917 | 27.0061 | 28.5890 | 27.1866
390228 | 1.3206 | 0.8840 | 21.0164 | 22.5999 | 23.3078 | 22.3536
390231 | 1.4382 | 1.1030 | 24.7757 | 27.0576 | 29.2653 | 27.1070
390233 | 1.3700 | 0.9422 | 21.8043 | 22.8667 | 24.8690 | 23.1907
390235 | *** | * | 23.7068 | * | * | 23.7068
390237 | 1.5540 | 0.8530 | 23.2054 | 24.6316 | 26.9533 | 24.9348
390238 | *** | * | 19.2171 | 26.4748 | * | 22.5836
390246 | 1.1671 | 0.8300 | 22.0687 | 23.3275 | 20.1581 | 21.8667
390249 | 0.8767 | 0.8471 | 14.7215 | * | * | 14.7215
390258 | 1.5307 | 1.1030 | 25.0634 | 27.2038 | 29.4626 | 27.3466
390262 | *** | * | 21.3264 | * | * | 21.3264
390265 | 1.4456 | 0.8840 | 20.5948 | 21.6751 | 23.4836 | 21.9520
390266 | 1.1763 | 0.8609 | 18.2424 | 19.2836 | 20.3918 | 19.3171
390267 | 1.1835 | 0.8840 | 21.4801 | 22.5464 | 23.1051 | 22.3821
390268 | 1.3066 | 0.8368 | 23.1124 | 24.2050 | 25.0021 | 24.1351
390270 | 1.4615 | 0.8530 | 22.5258 | 24.0837 | 24.1496 | 23.6565
390278 | 0.5214 | 1.1030 | 21.1387 | 21.6893 | 23.6843 | 22.1694
390279 | 1.1519 | 0.8368 | 16.0510 | 15.3569 | 17.0012 | 16.1304
390285 | 1.5472 | 1.1030 | 30.6300 | 33.5347 | 35.0427 | 33.0866
390286 | 1.1613 | 1.1030 | 25.4499 | 27.4090 | 28.1761 | 27.0003
390287 | 1.4298 | 1.1030 | 32.9709 | 35.7147 | 37.6569 | 35.5140
390288 | *** | 1.1030 | 28.0957 | 28.5267 | 29.7287 | 28.6956
390289 | 1.0920 | 1.1030 | 25.1658 | 28.4577 | 28.8826 | 27.4320
390290 | 1.9082 | 1.1030 | 31.0967 | 36.4991 | 37.9040 | 35.0787
390291 | *** | 0.8840 | 21.0057 | 21.3015 | * | 21.1542
390294 | *** | * | 33.3537 | * | * | 33.3537
390296 | *** | * | 25.6981 | * | * | 25.6981
390298 | *** | * | * | 26.8290 | * | 26.8290
390299 | *** | * | * | 31.9423 | * | 31.9423
390300 | *** | * | * | 40.4697 | * | 40.4697
390301 | *** | 0.8530 | * | * | 30.9838 | 30.9838
400001 | 1.2643 | 0.4686 | 11.7572 | 16.1114 | 13.1847 | 13.4859
400002 | 1.7313 | 0.5178 | 11.6804 | 14.8607 | 16.7583 | 14.1458
400003 | 1.3456 | 0.5178 | 10.5963 | 13.0776 | 13.6751 | 12.3819
400004 | 1.1394 | 0.4686 | 11.4041 | 10.4716 | 14.3108 | 11.8780
400005 | 1.1205 | 0.4686 | 10.5356 | 10.2878 | 10.7207 | 10.5186
400006 | 1.1887 | 0.4686 | 9.2852 | 8.9919 | 9.2265 | 9.1710
400007 | 1.1804 | 0.4686 | 8.6022 | 8.7152 | 9.2463 | 8.8511
400009 | 1.0804 | 0.3186 | 9.4413 | 9.2007 | 9.3116 | 9.3159
400010 | 0.8250 | 0.4736 | 9.2799 | 10.9354 | 10.0962 | 10.0495
400011 | 1.0865 | 0.4686 | 8.9111 | 8.5868 | 8.5534 | 8.6726
400012 | 1.3545 | 0.4686 | 9.0740 | 8.3580 | 8.3802 | 8.5938
400013 | 1.2691 | 0.4686 | 9.9905 | 9.5584 | 10.3347 | 9.9727
400014 | 1.3193 | 0.4016 | 11.4580 | 11.7023 | 12.5363 | 11.8896
400015 | 1.3649 | 0.4686 | * | 15.6066 | 17.4086 | 16.6535
400016 | 1.3515 | 0.4686 | 14.6491 | 15.3497 | 14.7607 | 14.9193
400017 | 1.1959 | 0.4686 | 10.7475 | 10.1238 | 10.2734 | 10.3916
400018 | 1.1949 | 0.4686 | 10.8254 | 10.7948 | 11.6165 | 11.0939
400019 | 1.3212 | 0.4686 | 13.7007 | 14.9892 | 13.7754 | 14.1263
400021 | 1.3102 | 0.4646 | 13.5224 | 13.8643 | 14.1533 | 13.8469
400022 | 1.3444 | 0.5178 | 15.2904 | 16.0539 | 16.8806 | 16.0784
400024 | 0.8372 | 0.4016 | 9.8650 | 9.1316 | 12.4649 | 10.2156
400026 | 1.0673 | 0.3186 | 5.9206 | 5.2085 | 5.8200 | 5.6501
400028 | 1.2057 | 0.5178 | 9.5266 | 10.3354 | 10.9808 | 10.2872
400032 | 1.1946 | 0.4686 | 10.7100 | 10.7195 | 10.2652 | 10.5650
400044 | 1.2777 | 0.5178 | 9.0275 | 10.7890 | 13.7509 | 11.4819
400048 | 1.0975 | 0.4686 | 10.8618 | 14.0887 | 10.4266 | 11.8488
400061 | 1.7250 | 0.4686 | 16.5895 | 15.1639 | 20.3206 | 17.3616
400079 | 1.1310 | 0.4736 | 8.7218 | 9.4218 | 12.7825 | 10.1505
400087 | 1.1988 | 0.4686 | 10.7118 | 9.5860 | 10.6849 | 10.3421
400094 | *** | * | 9.2871 | 8.8646 | * | 9.1244
400098 | 1.5719 | 0.4686 | 13.8036 | 13.7938 | 12.8230 | 13.4850
400102 | 1.1198 | 0.4686 | 10.9973 | 10.1795 | 10.2677 | 10.4779
400103 | 1.7425 | 0.4016 | 11.5797 | 12.8288 | 9.3859 | 10.9876
400104 | 1.1364 | 0.4686 | 7.1781 | 8.2758 | 8.3900 | 7.8760
400105 | 1.1274 | 0.4686 | 11.5608 | 12.7725 | 14.5339 | 12.8828
400106 | 1.1815 | 0.4686 | 10.1241 | 9.6902 | 11.4507 | 10.3951
400109 | 1.4714 | 0.4686 | 12.8921 | 14.2169 | 14.2111 | 13.7444
400110 | 1.0965 | 0.4413 | 12.0159 | 11.8458 | 12.3449 | 12.0750
400111 | 1.0774 | 0.4736 | 12.7701 | 13.4777 | 14.5029 | 13.5496
400112 | 1.1915 | 0.4686 | 12.2859 | 8.9469 | 19.3945 | 12.3541
400113 | 1.2040 | 0.5178 | 10.4416 | 10.0830 | 11.0072 | 10.4939
400114 | 1.0880 | 0.4686 | 9.7444 | 12.1920 | 11.5478 | 11.0784
400115 | 1.1179 | 0.4686 | 7.0411 | 9.1132 | 13.7392 | 9.2213
400117 | 1.1002 | 0.4686 | 9.7314 | 10.2911 | 12.7600 | 10.8102
400118 | 1.2310 | 0.4686 | 12.4590 | 11.9324 | 12.5743 | 12.3218
400120 | 1.2997 | 0.4686 | 11.8837 | 11.9714 | 12.7955 | 12.2196
400121 | 1.0671 | 0.4686 | 8.3575 | 8.6665 | 8.2197 | 8.4118
400122 | 1.9548 | 0.4686 | 9.6644 | 9.6463 | 8.3069 | 9.4955
400123 | 1.1994 | 0.4016 | 10.5643 | 11.8135 | 11.9825 | 11.4619
400124 | 2.8727 | 0.4686 | 14.3496 | 17.2258 | 16.1812 | 15.8787
400125 | 1.1319 | 0.4160 | 10.6642 | 10.7425 | 11.6386 | 11.0069
400126 | 1.2093 | 0.4646 | * | 13.3932 | 9.8008 | 11.0632
410001 | 1.3081 | 1.1233 | 24.0033 | 27.0309 | 28.0816 | 26.3767
410004 | 1.2319 | 1.1233 | 23.6409 | 25.4578 | 27.4209 | 25.5908
410005 | 1.2822 | 1.1233 | 24.6522 | 27.1171 | 30.1606 | 27.3044
410006 | 1.2503 | 1.1233 | 26.1372 | 27.1842 | 29.4395 | 27.6190
410007 | 1.7094 | 1.1233 | 27.7171 | 30.1360 | 31.8548 | 30.0135
410008 | 1.2098 | 1.1233 | 25.4183 | 28.4245 | 29.6092 | 27.8277
410009 | 1.2932 | 1.1233 | 26.9135 | 27.7337 | 29.4094 | 28.0697
410010 | 1.1636 | 1.0952 | 30.3860 | 30.7826 | 32.8599 | 31.3979
410011 | 1.2966 | 1.1233 | 29.7664 | 28.5875 | 29.9001 | 29.4052
410012 | 1.7532 | 1.1233 | 28.1791 | 32.1679 | 32.6009 | 31.1120
410013 | 1.2276 | 1.1233 | 28.9386 | 31.7482 | 35.4624 | 32.1157
420002 | 1.5184 | 0.9717 | 25.1067 | 27.9312 | 28.2848 | 27.1910
420004 | 1.9550 | 0.9433 | 23.4579 | 26.0279 | 28.4845 | 26.0443
420005 | 1.0179 | 0.8663 | 19.5521 | 19.8167 | 23.1943 | 20.8182
420006 | 1.0874 | 0.9433 | 22.7896 | 22.8920 | 24.0811 | 23.2220
420007 | 1.5636 | 0.9183 | 22.0228 | 25.0395 | 25.2650 | 24.2318
420009 | 1.3786 | 0.9807 | 18.6866 | 23.8668 | 25.5079 | 22.5621
420010 | 1.1844 | 0.8988 | 19.1746 | 21.6478 | 23.4562 | 21.5057
420011 | 1.1190 | 1.0138 | 17.7300 | 20.8895 | 21.4030 | 20.0081
420014 | 0.9635 | 0.9057 | 21.2045 | 21.5658 | * | 21.3876
420015 | 1.2398 | 1.0138 | 23.1274 | 24.7383 | 26.1298 | 24.6961
420016 | 0.9619 | 0.8663 | 17.0051 | 17.3837 | 17.1229 | 17.1752
420018 | 1.7534 | 0.9057 | 20.4649 | 23.6356 | 24.7324 | 22.8696
420019 | 1.1129 | 0.8663 | 19.6836 | 20.5472 | 22.5312 | 20.8812
420020 | 1.2595 | 0.9317 | 22.1616 | 24.6592 | 25.7225 | 24.3050
420023 | 1.6530 | 1.0138 | 23.2568 | 25.1035 | 26.7263 | 25.0152
420026 | 1.8566 | 0.9057 | 23.7406 | 29.2961 | 27.4814 | 26.8241
420027 | 1.5759 | 0.8887 | 21.0637 | 22.8322 | 24.8624 | 22.9488
420030 | 1.2331 | 0.9317 | 22.6766 | 24.2847 | 26.0079 | 24.3704
420033 | 1.1361 | 1.0138 | 26.2711 | 27.5740 | 31.8759 | 28.5975
420036 | 1.2525 | 0.9585 | 20.6649 | 21.9641 | 22.8294 | 21.8110
420037 | 1.2494 | 1.0138 | 25.5492 | 26.8750 | 29.4156 | 27.3838
420038 | 1.2524 | 1.0138 | 21.6133 | 22.6741 | 24.2259 | 22.8531
420039 | 1.0376 | 0.9183 | 21.9737 | 24.0637 | 25.1148 | 23.7048
420043 ʰ | 1.0680 | 0.9183 | 21.8816 | 22.9764 | 23.0555 | 22.6545
420048 | 1.2700 | 0.9057 | 21.9517 | 23.1515 | 24.1910 | 23.1357
420049 | 1.2080 | 0.8869 | 21.2604 | 23.2156 | 23.4769 | 22.6938
420051 | 1.4889 | 0.8988 | 20.6629 | 23.9455 | 24.8026 | 23.1828
420053 | 1.1415 | 0.8663 | 19.9013 | 21.1177 | 22.2825 | 21.1778
420054 | 1.0212 | 0.8663 | 20.8471 | 24.0653 | 24.8931 | 23.2676
420055 | 1.0684 | 0.8663 | 19.6817 | 20.3599 | 21.9764 | 20.6871
420056 | 1.4085 | 0.8663 | 20.0527 | 21.1640 | 21.6963 | 20.9682
420057 | 1.0376 | 0.8988 | 17.6727 | 19.7653 | 23.4311 | 20.1207
420059 | 1.0455 | 0.8663 | 20.2917 | 21.4260 | * | 20.8684
420061 | 1.1273 | 0.8663 | 19.9789 | 20.8684 | * | 20.4341
420062 | 1.0823 | 0.8663 | 17.4764 | 25.6683 | 25.8389 | 22.4958
420064 | 1.1956 | 0.8869 | 20.9057 | 22.1290 | 23.3610 | 22.2043
420065 | 1.3471 | 0.9433 | 22.0784 | 22.8674 | 24.5715 | 23.1699
420066 | 0.9655 | 0.8988 | 20.7782 | 20.5893 | 23.9048 | 21.7523
420067 | 1.2942 | 0.9316 | 22.8104 | 24.6038 | 25.0345 | 24.2301
420068 | 1.3390 | 0.9317 | 21.7257 | 22.2638 | 23.4248 | 22.4620
420069 | 1.0589 | 0.8663 | 17.6291 | 19.6959 | 20.5546 | 19.3217
420070 | 1.2778 | 0.9057 | 20.3664 | 22.4370 | 23.4355 | 22.1331
420071 | 1.3635 | 0.9807 | 21.8579 | 23.1727 | 24.9418 | 23.3888
420072 | 1.0926 | 0.8663 | 16.2578 | 17.5899 | 18.6742 | 17.5511
420073 | 1.3459 | 0.9057 | 21.4718 | 24.0274 | 24.5813 | 23.3018
420074 | *** | * | 18.7010 | * | * | 18.7010
420078 | 1.8001 | 1.0138 | 24.3273 | 25.3032 | 29.4985 | 26.4127
420079 | 1.5104 | 0.9433 | 23.3992 | 25.2939 | 25.5354 | 24.7810
420080 | 1.3725 | 0.9316 | 26.7489 | 28.4569 | 28.4734 | 27.9158
420082 | 1.4774 | 0.9567 | 23.6936 | 26.1221 | 29.8528 | 26.5169
420083 | 1.3224 | 0.9183 | 24.8508 | 25.3043 | 27.1322 | 25.7973
420085 | 1.6210 | 0.9394 | 24.4040 | 25.3180 | 26.8692 | 25.5532
420086 | 1.3930 | 0.9057 | 24.5760 | 25.1372 | 25.7580 | 25.1689
420087 | 1.7766 | 0.9433 | 22.4526 | 23.2230 | 24.3609 | 23.3441
420088 | *** | * | 23.5174 | 23.1273 | * | 23.4240
420089 | 1.3873 | 0.9433 | 23.3240 | 25.2729 | 26.0074 | 24.9015
420091 | 1.3034 | 0.8988 | 23.7936 | 23.4710 | 27.0189 | 24.8440
420093 | 0.9851 | 0.9183 | 21.4678 | 25.1457 | 27.4766 | 24.8258
420097 | *** | * | * | 24.7809 | * | 24.7809
430005 | 1.2209 | 0.8475 | 18.2647 | 19.9454 | 21.8605 | 19.9621
430008 ² | 1.1152 | 0.8475 | 20.0124 | 20.9442 | 22.9340 | 21.2902
430011 | 1.2481 | 0.8475 | 19.9835 | 20.6597 | * | 20.3142
430012 | 1.2707 | 0.9616 | 21.2588 | 22.7530 | 24.0850 | 22.7129
430013 ² | 1.1784 | 0.8475 | 21.3389 | 22.9675 | 23.8572 | 22.7428
430014 | 1.2515 | 0.8778 | 22.0285 | 25.5387 | 26.4964 | 24.6896
430015 | 1.1338 | 0.8475 | 20.5849 | 23.2035 | 22.7947 | 22.1979
430016 | 1.5813 | 0.9616 | 24.2450 | 26.1495 | 27.8453 | 26.0153
430018 | *** | 0.8475 | 17.9850 | * | * | 17.9850
430024 | *** | 0.8475 | 18.8357 | * | * | 18.8357
430029 | 0.8995 | 0.8475 | 18.9464 | 20.2708 | * | 19.6526
430031 ² | 0.9339 | 0.8475 | 15.2321 | 15.6112 | 15.9156 | 15.5961
430033 | *** | 0.8475 | 21.6254 | * | * | 21.6254
430047 | 0.9833 | 0.8475 | 18.2774 | 21.9116 | 18.8982 | 19.7432
430048 | 1.2364 | 0.8475 | 20.0607 | 21.1718 | 23.0783 | 21.5127
430054 | 0.9420 | 0.9616 | 17.8871 | * | * | 17.8871
430064 | 1.0393 | 0.8475 | 14.3407 | 16.4314 | 17.5376 | 16.1075
430077 | 1.6950 | 0.9027 | 21.6786 | 23.4835 | 25.1763 | 23.4802
430089 | 1.6248 | 0.9360 | 19.8572 | 21.1109 | 22.5625 | 21.3078
430090 | 1.4120 | 0.9616 | 25.6873 | 26.0851 | 25.7499 | 25.8502
430091 | 2.1791 | 0.9027 | 22.2824 | 23.8897 | 25.0828 | 23.8977
430092 | 1.7787 | 0.8475 | 19.7354 | 20.2570 | 23.8858 | 21.3414
430093 | 0.9141 | 0.9027 | 23.8820 | 23.1526 | 29.5244 | 25.7876
430094 | 1.8543 | 0.9207 | 20.8743 | 18.5429 | 19.0014 | 19.4190
430095 | 2.3163 | 0.9616 | * | 24.7074 | 28.1749 | 26.5823
430096 | 1.9499 | 0.8475 | * | * | 21.7103 | 21.7103
440001 | 1.1144 | 0.7958 | 18.9833 | 17.4802 | 19.3100 | 18.5533
440002 | 1.6911 | 0.8964 | 22.0178 | 23.2177 | 24.6664 | 23.3294
440003 | 1.2046 | 0.9757 | 21.6336 | 24.5168 | 25.9209 | 24.0777
440006 | 1.4022 | 0.9757 | 24.3173 | 26.7983 | 28.5951 | 26.6300
440007 | 0.9406 | 0.7915 | 14.8015 | 13.7042 | 25.8236 | 17.2437
440008 | 0.9974 | 0.8508 | 20.9237 | 22.1405 | 23.4301 | 22.0908
440009 | 1.1859 | 0.7915 | 19.6564 | 21.1274 | 21.5970 | 20.8327
440010 | 0.9389 | 0.7915 | 16.7270 | 16.9060 | 17.1803 | 16.9489
440011 | 1.3028 | 0.8470 | 20.5036 | 21.6861 | 22.5068 | 21.6145
440012 | 1.4390 | 0.8095 | 21.1213 | 21.4769 | 22.3029 | 21.6368
440015 | 1.8237 | 0.8470 | 23.4485 | 22.5583 | 23.7422 | 23.2495
440016 | 0.9690 | 0.7915 | 20.1504 | 20.0982 | 22.1646 | 20.8341
440017 | 1.7649 | 0.8095 | 21.8033 | 22.5313 | 22.9364 | 22.4333
440018 | 1.1326 | 0.7958 | 21.2242 | 21.7239 | 23.3444 | 22.1229
440019 | 1.7880 | 0.8470 | 21.8854 | 23.8802 | 25.2553 | 23.6676
440020 | 1.0554 | 0.9124 | 21.1075 | 23.1718 | 23.9475 | 22.7656
440023 | 0.9515 | 0.7915 | 15.5410 | 17.0335 | 18.2884 | 16.9816
440024 | 1.2316 | 0.8160 | 19.9751 | 20.3658 | 23.2478 | 21.1469
440025 | 1.1856 | 0.7915 | 19.1478 | 19.5995 | 20.6798 | 19.8282
440026 | *** | * | 25.1655 | 26.9149 | 26.8986 | 26.2876
440029 | 1.3373 | 0.9757 | 24.1379 | 25.8538 | 28.0779 | 26.0679
440030 | 1.2498 | 0.8758 | 19.9056 | 20.0586 | 26.1060 | 22.0081
440031 | 1.0626 | 0.7915 | 17.0289 | 18.0944 | 19.6685 | 18.2797
440032 | 1.0136 | 0.8095 | 14.7683 | 16.0734 | 18.5277 | 16.4708
440033 | 1.0486 | 0.7915 | 17.2637 | 18.7749 | 20.7917 | 19.0076
440034 | 1.5293 | 0.8470 | 22.2478 | 23.1121 | 23.5403 | 22.9348
440035 | 1.3430 | 0.9492 | 21.4990 | 22.3230 | 24.3752 | 22.7486
440039 | 1.9897 | 0.9757 | 25.0874 | 26.4647 | 28.1729 | 26.6593
440040 | 0.9253 | 0.7915 | 16.9886 | 17.7647 | 17.8510 | 17.5455
440041 | 0.9316 | 0.8160 | 15.5784 | 17.4074 | 17.9409 | 17.0933
440046 | 1.1385 | 0.9757 | 22.3380 | 25.5329 | 26.1341 | 24.7333
440047 | 0.8547 | 0.7915 | 18.7962 | 20.4812 | 21.4280 | 20.2387
440048 | 1.8251 | 0.9346 | 23.1553 | 24.3283 | 27.7560 | 24.7999
440049 | 1.5582 | 0.9346 | 21.1930 | 22.9755 | 25.3043 | 23.1991
440050 | 1.2790 | 0.9312 | 21.1397 | 21.8972 | 23.1362 | 22.0679
440051 | 0.9362 | 0.7915 | 19.0165 | 20.7948 | 21.9108 | 20.5095
440052 | 0.9561 | 0.7915 | 18.1935 | 20.1875 | 21.1133 | 19.9032
440053 | 1.2082 | 0.9757 | 22.0345 | 23.9083 | 25.4345 | 23.8916
440054 | 1.1252 | 0.7915 | 15.4208 | 20.5992 | 21.4400 | 18.6411
440056 | 1.1345 | 0.8758 | 19.3108 | 20.4088 | 22.1068 | 20.7270
440057 | 1.0371 | 0.7915 | 14.1477 | 14.6242 | 16.4451 | 15.0915
440058 | 1.1730 | 0.9099 | 21.7512 | 22.6014 | 22.9263 | 22.4470
440059 | 1.5012 | 0.9492 | 22.4248 | 23.9301 | 26.3531 | 24.2538
440060 | 1.0098 | 0.8799 | 20.2189 | 22.7133 | 23.3014 | 22.1119
440061 | 1.0870 | 0.7915 | 19.5458 | 21.2085 | 21.8274 | 20.8215
440063 | 1.5962 | 0.7958 | 19.7468 | 21.8578 | 22.3256 | 21.2848
440064 | 0.9863 | 0.9099 | 19.4020 | 20.9742 | 22.0955 | 20.8374
440065 | 1.2170 | 0.9757 | 19.9099 | 21.4794 | 22.3247 | 21.2895
440067 | 1.1694 | 0.8470 | 19.5643 | 22.1410 | 23.1089 | 21.6500
440068 | 1.1443 | 0.9099 | 20.9188 | 23.1705 | 24.5971 | 22.9451
440070 | 0.9466 | 0.7915 | 18.3717 | 19.0240 | 19.4372 | 18.9540
440072 | 1.1880 | 0.9108 | 19.6579 | 20.9294 | 27.1443 | 22.1374
440073 | 1.3595 | 0.9492 | 20.7181 | 22.2959 | 23.9198 | 22.3108
440081 ʰ | 1.1378 | 0.8470 | 18.3141 | 19.0328 | 19.7918 | 19.0786
440082 | 2.1607 | 0.9757 | 26.1497 | 28.7828 | 27.9724 | 27.6484
440083 | 0.9067 | 0.7915 | 15.7015 | 16.0956 | 17.3329 | 16.4160
440084 | 1.1637 | 0.7915 | 15.0510 | 15.2825 | 16.3738 | 15.6128
440091 | 1.6254 | 0.9099 | 23.0296 | 26.1122 | 25.6797 | 24.9494
440102 | 1.1346 | 0.7915 | 16.6548 | 17.5140 | 17.5261 | 17.2560
440104 | 1.7607 | 0.9099 | 21.9870 | 23.3731 | 25.3739 | 23.6244
440105 | 1.0199 | 0.7958 | 19.2902 | 20.7821 | 22.3438 | 20.8223
440109 | 0.9843 | 0.7915 | 17.3578 | 18.2508 | 18.6720 | 18.1156
440110 | 1.1772 | 0.8470 | 19.9715 | 20.9039 | 21.3287 | 20.7233
440111 | 1.2422 | 0.9757 | 24.9883 | 25.8821 | 28.5705 | 26.5016
440114 | 0.9851 | 0.7915 | 20.1152 | 21.4271 | 24.0147 | 21.9369
440115 | 0.9888 | 0.7915 | 18.5389 | 20.0642 | 21.7830 | 20.1587
440120 | 1.5755 | 0.8470 | 22.4031 | 23.9003 | 25.7636 | 24.0777
440125 | 1.5716 | 0.8470 | 21.1018 | 21.9337 | 22.3888 | 21.8259
440130 | 1.1649 | 0.7915 | 20.6363 | 21.6480 | 23.4517 | 21.9020
440131 | 1.1987 | 0.9346 | 21.0640 | 22.4119 | 24.9598 | 22.8950
440132 | 1.2681 | 0.7915 | 18.9580 | 20.5716 | 21.5085 | 20.3655
440133 | 1.5674 | 0.9757 | 23.3600 | 27.5019 | 26.2422 | 25.6963
440135 | 1.0782 | 0.9757 | 23.9749 | 25.3928 | 26.6615 | 25.3742
440137 | 1.0485 | 0.7915 | 16.5529 | 18.2073 | 20.6663 | 18.4329
440141 | 0.9487 | 0.7915 | 19.2607 | 19.4528 | 21.3313 | 20.0578
440142 | 0.8702 | 0.9757 | 17.7587 | * | * | 17.7587
440144 | 1.1976 | 0.7915 | 19.7938 | 22.3671 | 23.3828 | 21.8222
440145 | 0.9916 | 0.7915 | 18.2019 | 20.9863 | 20.7875 | 19.9424
440147 | *** | * | 25.0780 | 28.9038 | 31.2003 | 28.2394
440148 | 1.1199 | 0.9492 | 20.7693 | 23.0697 | 24.6412 | 22.8692
440149 | 1.0185 | 0.7915 | 18.1316 | 19.8020 | 20.4562 | 19.4498
440150 | 1.3517 | 0.9757 | 22.8733 | 25.4952 | 26.8308 | 25.0868
440151 | 1.0856 | 0.9492 | 21.1576 | 23.3037 | 23.9808 | 22.8559
440152 | 1.8738 | 0.9346 | 22.7498 | 25.9495 | 26.5513 | 25.0265
440153 | 1.0018 | 0.7915 | 19.9486 | 22.7744 | 22.2846 | 21.7049
440156 | 1.4931 | 0.9099 | 23.7799 | 25.6333 | 26.9689 | 25.5243
440159 | 1.4244 | 0.9346 | 20.5719 | 21.1073 | 22.8645 | 21.5659
440161 | 1.8202 | 0.9757 | 26.1354 | 28.6774 | 28.6854 | 27.8923
440162 | *** | * | 20.3909 | 16.5305 | 21.1418 | 19.2406
440166 | 1.5235 | 0.9346 | 23.1692 | 27.1355 | 22.6509 | 24.5576
440168 | 0.9905 | 0.9346 | 21.2113 | 22.1764 | 22.8768 | 22.0809
440173 | 1.6407 | 0.8470 | 20.8442 | 20.8723 | 22.8692 | 21.5604
440174 | 0.8745 | 0.7915 | 19.2201 | 20.7960 | 22.0974 | 20.6472
440175 | 1.0488 | 0.9492 | 22.3331 | 24.0005 | 22.7299 | 23.0174
440176 | 1.2854 | 0.8095 | 20.4861 | 22.0079 | 23.6659 | 22.0556
440180 | 1.2061 | 0.8470 | 21.2398 | 21.9781 | 23.3808 | 22.2150
440181 | 0.9106 | 0.7915 | 19.6133 | 21.1406 | 22.7150 | 21.1984
440182 | 0.9022 | 0.7915 | 19.3928 | 20.2630 | 22.3612 | 20.6845
440183 | 1.5283 | 0.9346 | 24.9282 | 27.7769 | 27.1515 | 26.6633
440184 | 0.9990 | 0.7958 | 21.4484 | 20.8219 | 22.3475 | 21.5303
440185 | 1.1611 | 0.9099 | 22.1845 | 23.4172 | 23.9052 | 23.2612
440186 | 1.0310 | 0.9757 | 23.0193 | 24.6773 | 25.7445 | 24.4615
440187 | 1.0821 | 0.7915 | 19.9478 | 21.7637 | 21.3252 | 21.0131
440189 | 1.3728 | 0.8964 | 23.2866 | 24.7851 | 27.5435 | 25.2579
440192 | 1.0167 | 0.9492 | 21.3228 | 25.1119 | 25.7495 | 24.1386
440193 | 1.2566 | 0.9757 | 22.0345 | 24.3911 | 24.4299 | 23.6341
440194 | 1.3630 | 0.9757 | 24.4508 | 26.2498 | 26.6527 | 25.8291
440197 | 1.2605 | 0.9757 | 24.2660 | 26.4999 | 27.1534 | 25.9812
440200 | 0.9405 | 0.9757 | 16.7752 | 17.0633 | 17.7491 | 17.1850
440203 | 0.9753 | 0.7915 | * | 17.7639 | 19.3864 | 18.5423
440217 | 1.3463 | 0.9346 | 23.3544 | 25.9667 | 28.5968 | 26.1820
440218 | 0.8931 | 0.9757 | 20.1377 | 26.3741 | 24.6465 | 23.5719
440220 | *** | * | 21.9117 | * | * | 21.9117
450002 | 1.4427 | 0.8954 | 24.0411 | 25.4975 | 25.7171 | 25.1126
450005 | 1.0651 | 0.8422 | 21.7110 | 23.4049 | 23.5576 | 22.9913
450007 | 1.2962 | 0.8987 | 18.3738 | 19.2875 | 20.7321 | 19.4904
450008 | 1.3133 | 0.8566 | 20.1816 | 22.0934 | 22.9669 | 21.7810
450010 | 1.5052 | 0.8327 | 20.3023 | 22.4133 | 23.7529 | 22.1525
450011 | 1.6756 | 0.8911 | 22.1472 | 24.0715 | 24.8831 | 23.7169
450014 | 1.0286 | 0.8148 | 20.6936 | 22.5001 | * | 21.5732
450015 | 1.5729 | 1.0226 | 23.9526 | 24.0730 | 27.4012 | 25.2046
450016 | *** | * | 20.1232 | 22.1368 | * | 21.1548
450018 | 1.3942 | 1.0008 | 22.9019 | 24.6443 | 26.7999 | 24.7633
450020 | 0.9466 | 0.9451 | 19.1087 | 17.7148 | 18.3047 | 18.3252
450021 | 1.8194 | 1.0226 | 25.0769 | 28.5578 | 29.1350 | 27.5806
450023 | 1.3878 | 0.8148 | 19.1645 | 20.9278 | 22.0558 | 20.7053
450024 | 1.3228 | 0.8954 | 20.7727 | 20.5868 | 23.6211 | 21.6539
450028 | 1.5658 | 0.9853 | 22.7775 | 25.6030 | 26.8250 | 25.1270
450029 | 1.5162 | 0.8101 | 19.9198 | 23.9709 | 23.2995 | 22.4069
450031 | 1.4488 | 1.0226 | 21.7621 | 27.0328 | 27.9626 | 25.5466
450032 | 1.1987 | 0.8767 | 20.5217 | 20.8306 | 27.0748 | 22.7202
450033 | 1.6186 | 0.9853 | 26.5990 | 29.0541 | 28.5266 | 28.0983
450034 | 1.5259 | 0.8422 | 21.6097 | 23.4615 | 24.1589 | 23.0888
450035 | 1.5166 | 1.0008 | 24.1860 | 25.4580 | 26.2838 | 25.3196
450037 | 1.5141 | 0.8741 | 23.1179 | 23.1176 | 24.2684 | 23.5229
450039 | 1.3588 | 0.9955 | 22.0058 | 23.3034 | 24.7347 | 23.3847
450040 | 1.7455 | 0.8790 | 21.2990 | 23.8047 | 24.9590 | 23.3165
450042 | 1.6976 | 0.8532 | 21.8886 | 22.6936 | 24.1181 | 22.9317
450044 | 1.6507 | 1.0226 | 24.1127 | 25.8403 | 28.8098 | 26.9711
450046 | 1.5525 | 0.8557 | 20.9239 | 22.0695 | 23.4907 | 22.1959
450047 | 0.8562 | 0.9853 | 21.8840 | 22.7242 | 19.8221 | 21.4269
450050 | 0.9271 | 0.8038 | 19.5171 | 21.6933 | 23.3044 | 21.3893
450051 | 1.7617 | 1.0226 | 24.5533 | 27.2523 | 28.0411 | 26.6907
450052 | 0.9686 | 0.8038 | 17.6543 | 19.7185 | 19.7774 | 19.2138
450053 | 0.9574 | 0.8038 | 18.6556 | 19.4978 | 21.9082 | 20.0823
450054 | 1.6531 | 0.8566 | 23.2915 | 25.1229 | 24.2782 | 24.2283
450055 | 1.1284 | 0.8038 | 18.2235 | 20.5235 | 22.1979 | 20.3131
450056 | 1.7820 | 0.9451 | 24.4197 | 25.6685 | 27.0530 | 25.7808
450058 | 1.5325 | 0.8987 | 22.0158 | 24.7442 | 25.9653 | 24.1658
450059 | 1.3149 | 0.9451 | 22.8792 | 26.8209 | 26.6535 | 25.4407
450064 | 1.4037 | 0.9955 | 19.1271 | 24.2920 | 23.8748 | 22.4752
450068 | 2.0137 | 1.0008 | 24.0925 | 26.2864 | 27.9633 | 26.1666
450072 | 1.1350 | 1.0008 | 20.3683 | 22.5010 | 24.0166 | 22.2336
450073 | 0.9362 | 0.8038 | 19.2398 | 20.0464 | 21.7337 | 20.3411
450078 | 0.9261 | 0.8038 | 14.8285 | 17.2196 | 15.8968 | 15.9697
450079 | 1.5320 | 1.0226 | 24.0085 | 27.0443 | 28.1096 | 26.3674
450080 | 1.1799 | 0.8621 | 21.0353 | 21.2482 | 22.9835 | 21.7735
450081 | 1.0360 | 0.8038 | 19.2632 | * | * | 19.2632
450083 | 1.7207 | 0.9322 | 22.5063 | 24.9182 | 25.8214 | 24.4447
450085 | 1.0173 | 0.8038 | 18.1922 | 19.4524 | 22.0840 | 19.8958
450087 | 1.3393 | 0.9955 | 24.5976 | 26.4203 | 29.1587 | 26.8455
450090 | 1.1561 | 0.8038 | 17.1073 | 17.6506 | 19.4244 | 18.0792
450092 | 1.1362 | 0.8038 | 16.0199 | 20.4921 | 23.2071 | 19.7031
450094 | 1.0935 | 1.0226 | 25.8313 | 25.3618 | 25.2434 | 25.4570
450096 | 1.3677 | 0.8422 | 19.8012 | 22.8722 | 24.1619 | 22.3082
450097 | 1.4253 | 1.0008 | 22.2467 | 24.9380 | 26.4965 | 24.6105
450098 | 0.9223 | 0.8621 | 20.4795 | 22.9005 | 22.6626 | 21.9800
450099 | 1.1731 | 0.9165 | 21.4482 | 24.0293 | 26.6796 | 24.1168
450101 | 1.5502 | 0.8532 | 20.1473 | 20.6575 | 23.6905 | 21.4670
450102 | 1.7209 | 0.9322 | 20.9900 | 23.1773 | 24.5503 | 22.9587
450104 | 1.1697 | 0.8987 | 19.7126 | 22.5165 | 23.8469 | 22.0194
450107 | 1.4575 | 0.8954 | 23.2209 | 23.8770 | 25.9326 | 24.3252
450108 | 1.1001 | 0.8987 | 18.8084 | 19.3561 | 19.4935 | 19.2181
450109 | *** | 0.8038 | 15.1459 | * | * | 15.1459
450113 | *** | 0.8038 | 37.8944 | * | 54.6681 | 43.1390
450119 | 1.2979 | 0.8945 | 20.8840 | 24.1392 | 25.7008 | 23.6793
450121 | 1.4458 | 0.9955 | 24.6090 | 25.8826 | 25.7051 | 25.4063
450123 | 1.1207 | 0.8422 | 17.8629 | 19.5872 | 21.2154 | 19.5002
450124 | 1.8251 | 0.9451 | 24.2788 | 26.0280 | 27.4198 | 26.0262
450126 | 1.3283 | 1.0008 | 24.1961 | 27.3021 | 28.3033 | 26.6832
450128 | 1.2202 | 0.8945 | * | 21.4190 | 23.3633 | 22.3457
450130 | 1.1654 | 0.8987 | 19.6199 | 20.2777 | 21.5226 | 20.5273
450131 | 1.2121 | 0.8557 | 20.0434 | 23.2317 | 23.7098 | 22.3750
450132 | 1.5283 | 0.9893 | 22.4680 | 26.8476 | 28.6954 | 25.9595
450133 | 1.5415 | 0.9522 | 25.3928 | 25.0972 | 26.8344 | 25.8308
450135 | 1.6894 | 0.9955 | 22.5673 | 24.3858 | 26.0755 | 24.4084
450137 | 1.6059 | 0.9955 | 24.9732 | 27.0081 | 30.4254 | 27.6976
450140 | 0.8835 | 0.8038 | 18.3835 | 22.4695 | * | 20.3190
450143 | 1.0330 | 0.9451 | 18.4204 | 19.7487 | 21.8705 | 20.0996
450144 | 1.1455 | 0.9593 | 21.3896 | 20.9599 | 21.3289 | 21.2289
450146 | *** | 0.8038 | 16.6808 | * | * | 16.6808
450148 | 1.1489 | 0.9955 | 22.1351 | 23.5037 | 25.3498 | 23.7382
450151 | 1.1987 | 0.8038 | 17.9127 | 20.1356 | 22.2915 | 20.0948
450152 | 1.1854 | 0.8566 | 20.0146 | 21.6351 | 22.7463 | 21.4376
450154 | 1.2665 | 0.8038 | 16.5204 | 18.6058 | 21.2021 | 18.7210
450155 | 1.0266 | 0.8038 | 18.4021 | 17.9306 | 18.0589 | 18.1275
450157 | 1.0057 | 0.8038 | 17.8764 | 17.8812 | * | 17.8788
450160 | 0.9248 | 0.8038 | 20.7736 | 21.9118 | * | 21.3607
450162 | 1.3639 | 0.8790 | 26.0570 | 31.0645 | 30.9903 | 29.3951
450163 | 0.9730 | 0.8038 | 19.8194 | 20.3280 | 23.1400 | 21.0903
450165 | 1.1177 | 0.8987 | 16.1632 | 20.2414 | 24.3242 | 20.2279
450176 | 1.3178 | 0.8945 | 19.1823 | 20.9392 | 20.9297 | 20.4107
450177 | 1.2130 | 0.8038 | 17.2637 | 19.7657 | 21.3322 | 19.4690
450178 | 0.9642 | 0.8038 | 19.1186 | 20.2992 | 24.7301 | 21.2492
450184 | 1.5254 | 1.0008 | 24.0596 | 25.3935 | 26.8458 | 25.4934
450185 | 0.9793 | 0.8038 | 14.3594 | 15.5838 | * | 14.9644
450187 | 1.1635 | 1.0008 | 22.6275 | 24.2400 | 25.6786 | 24.2306
450188 | 0.9262 | 0.8038 | 17.6158 | 18.9586 | 20.4070 | 19.0169
450191 | 1.1247 | 0.9451 | 23.2261 | 25.9078 | 26.0298 | 25.1584
450192 | 1.0805 | 0.9955 | 20.1718 | 22.5118 | 22.5880 | 21.7848
450193 | 2.0537 | 1.0008 | 26.6580 | 29.2751 | 32.2964 | 29.4595
450194 | 1.3506 | 0.9955 | 22.7310 | 22.3348 | 24.8972 | 23.2572
450196 | 1.4168 | 0.9955 | 20.1938 | 23.6170 | 24.7557 | 23.2376
450200 | 1.4482 | 0.8293 | 20.4656 | 22.0923 | 23.5344 | 22.0868
450201 | 0.9125 | 0.8038 | 19.5907 | 20.3350 | 20.9809 | 20.3028
450203 | 1.1655 | 0.9514 | 22.9226 | 23.3953 | 24.1675 | 23.5222
450209 | 1.8856 | 0.9165 | 23.4794 | 24.4977 | 26.0958 | 24.6956
450210 | 0.9537 | 0.8038 | 16.7851 | 19.6340 | 19.9832 | 18.8463
450211 | 1.3415 | 1.0008 | 20.0280 | 20.7982 | 23.8230 | 21.4806
450213 | 1.7482 | 0.8987 | 21.1280 | 21.7930 | 23.9676 | 22.3693
450214 | 1.1722 | 1.0008 | 22.4543 | 23.9112 | 25.9598 | 24.1177
450219 | 0.9721 | 0.8038 | 21.0691 | 20.8255 | 21.7934 | 21.2690
450221 | 1.1435 | 0.8038 | 19.6778 | 20.6887 | 20.3186 | 20.2506
450222 | 1.5561 | 1.0008 | 23.5033 | 26.2975 | 27.4426 | 25.8797
450224 | 1.4143 | 0.9164 | 20.4453 | 22.2250 | 24.1956 | 22.3315
450229 | 1.6333 | 0.8038 | 17.9811 | 19.8279 | 21.4459 | 19.7433
450231 | 1.6297 | 0.9165 | 21.3086 | 23.9532 | 25.2852 | 23.5313
450234 | 0.9831 | 0.8038 | 22.3954 | 23.6695 | 18.4451 | 21.2354
450235 | 0.9124 | 0.8038 | 18.7028 | 19.1453 | 21.5138 | 19.8415
450236 | 1.0405 | 0.8038 | 17.7373 | 19.2987 | 22.0788 | 19.5556
450237 | 1.6743 | 0.8987 | 22.4477 | 25.1504 | 24.8901 | 24.1935
450239 | 0.9310 | 0.8566 | 19.3655 | 21.8595 | 21.1945 | 20.7705
450241 | 0.9436 | 0.8038 | 17.4151 | 18.1155 | 18.7957 | 18.0879
450243 | 1.0022 | 0.8038 | 13.0790 | 14.0589 | 15.4636 | 14.1605
450249 | 0.9833 | 0.8038 | 13.1222 | 16.5616 | * | 14.7712
450250 | *** | 0.8038 | 13.3731 | * | * | 13.3731
450264 | 0.9236 | 0.8038 | 13.5345 | 15.4111 | * | 14.4829
450269 | 1.0146 | 0.8038 | 12.6907 | 14.8204 | * | 13.7206
450270 | 1.0976 | 0.8038 | 13.9053 | 15.0879 | 14.4325 | 14.4468
450271 | 1.1532 | 0.9514 | 18.3659 | 19.4299 | 21.7719 | 19.9620
450272 | 1.2039 | 0.9451 | 21.4520 | 23.7933 | 25.9864 | 23.7631
450276 | 0.8990 | 0.8038 | 12.8895 | 16.0264 | 16.6319 | 15.2952
450280 | 1.5066 | 1.0226 | 23.1664 | 27.4523 | 28.7233 | 26.4522
450283 | 1.0602 | 0.9955 | 17.1013 | 20.0069 | 20.9680 | 19.5520
450289 | 1.3288 | 1.0008 | 23.7108 | 27.3864 | 28.5665 | 26.5635
450292 | 1.2940 | 1.0226 | 23.4257 | 23.5330 | 25.0411 | 24.0121
450293 | 0.8704 | 0.8038 | 17.7673 | 20.0898 | 21.3136 | 19.7647
450296 | 1.0400 | 1.0008 | 20.4483 | 29.2006 | 27.9690 | 25.4406
450299 | 1.5781 | 0.8911 | 22.9849 | 25.8183 | 26.4933 | 25.0990
450303 | 0.8372 | 0.8790 | 16.1330 | * | * | 16.1330
450315 | *** | 1.0226 | 26.4677 | 27.9780 | * | 27.2229
450320 | *** | * | 26.8089 | * | * | 26.8089
450327 | *** | 0.8038 | 14.3848 | * | * | 14.3848
450340 | 1.3755 | 0.8287 | 20.0621 | 22.7826 | 24.0636 | 22.3350
450346 | 1.3855 | 0.8422 | 20.1921 | 21.9717 | 22.2469 | 21.4909
450347 | 1.1384 | 1.0008 | 21.7142 | 22.8133 | 27.2203 | 23.9176
450348 | 0.9886 | 0.8038 | 15.6324 | 17.0198 | 18.7675 | 17.1642
450351 | 1.2212 | 0.9514 | 22.2597 | 23.5895 | 25.6859 | 23.9245
450352 | 1.1057 | 1.0226 | 21.8138 | 23.4297 | 24.8012 | 23.3447
450353 | 1.2803 | 0.8038 | 19.5263 | 20.9271 | 24.4454 | 21.5974
450358 | 2.0076 | 1.0008 | 25.9105 | 29.3408 | 30.4280 | 28.6741
450362 | 0.9855 | 0.8038 | 20.6340 | 22.0223 | 25.4372 | 22.7898
450369 | 1.0166 | 0.8038 | 16.5636 | 17.5360 | 18.4848 | 17.6077
450370 | 1.1704 | 0.8038 | 19.0340 | 22.6815 | 20.0832 | 20.4877
450371 | *** | * | 17.3415 | * | * | 17.3415
450373 | 0.9087 | 0.8038 | 17.7955 | 20.5789 | 22.2213 | 20.1017
450374 | 0.9164 | 0.8038 | 15.0670 | 17.4509 | 23.2285 | 18.2702
450378 | 1.3340 | 1.0008 | 25.8048 | 29.5108 | 30.7684 | 28.7797
450379 | 1.3574 | 1.0226 | 29.0865 | 31.1573 | 30.6072 | 30.3060
450381 | 0.9257 | 0.9451 | 19.0584 | 20.9200 | 22.0482 | 20.7572
450388 | 1.6460 | 0.8987 | 22.4441 | 24.1598 | 25.8674 | 24.3854
450389 | 1.1827 | 0.9955 | 20.7160 | 22.3803 | 23.8764 | 22.4221
450393 | *** | 0.9518 | 23.8237 | 24.6872 | 18.4551 | 22.6427
450395 | 1.0142 | 0.8038 | 19.1938 | 23.9689 | 24.8656 | 22.6314
450399 | 0.9249 | 0.8038 | 19.1571 | 19.5928 | 18.2074 | 18.9826
450400 | 1.1916 | 0.8532 | 20.1376 | 22.0103 | 23.1739 | 21.7697
450403 | 1.2709 | 1.0226 | 24.6215 | 27.8138 | 29.3063 | 27.2736
450411 | 0.9558 | 0.8038 | 16.9558 | 17.6570 | 19.6086 | 18.1139
450417 | 0.8643 | 1.0008 | 16.1957 | 17.8078 | 20.0350 | 18.0319
450418 | 1.2488 | 1.0008 | 25.1306 | 27.0283 | 26.8434 | 26.3230
450419 | 1.1760 | 0.9955 | 26.7662 | 28.4122 | 31.0404 | 28.7694
450422 | 1.0462 | 1.0226 | 29.0032 | 29.5592 | 30.6659 | 29.7888
450424 | 1.2797 | 1.0008 | 22.0682 | 23.1253 | 28.3149 | 24.8057
450431 | 1.5343 | 0.9451 | 22.9545 | 24.7346 | 25.2477 | 24.3602
450438 | 1.1444 | 1.0008 | 19.2165 | 22.0476 | 21.9351 | 21.1413
450446 | 0.6161 | 1.0008 | 14.1684 | 14.9983 | 14.3132 | 14.4984
450447 | 1.1971 | 0.9955 | 21.0247 | 22.5602 | 23.5047 | 22.3940
450451 | 1.0873 | 0.9514 | 21.1046 | 22.3834 | 23.3042 | 22.3121
450460 | 0.9348 | 0.8038 | 17.9487 | 19.5709 | 20.5812 | 19.4136
450462 | 1.6600 | 1.0226 | 24.0081 | 25.6952 | 27.8923 | 25.9496
450464 | *** | 0.8038 | 16.1987 | * | * | 16.1987
450469 | 1.4541 | 0.9518 | 24.0794 | 26.6781 | 28.7890 | 26.6238
450473 | *** | * | 18.6002 | * | * | 18.6002
450484 | 1.3734 | 1.0008 | 23.2881 | 23.0604 | 25.3527 | 23.9206
450488 | 1.1123 | 0.8741 | 22.5650 | 22.3949 | 23.9144 | 22.9600
450489 | 1.0160 | 0.8038 | 18.5941 | 19.6884 | 21.4771 | 19.8409
450497 | 1.0329 | 0.8038 | 17.1327 | 17.6614 | 18.8344 | 17.8832
450498 | 0.8732 | 0.8038 | 19.2984 | 16.4358 | 17.7822 | 17.7509
450508 | 1.4085 | 0.9164 | 20.8183 | 23.5066 | 23.9572 | 22.7686
450514 | 1.1119 | 0.8422 | 21.0116 | 21.4034 | 22.6552 | 21.6987
450517 | 0.9088 | 0.8038 | 14.4246 | 15.2707 | 22.0440 | 17.2013
450518 | 1.6338 | 0.8422 | 21.1015 | 22.2587 | 24.1194 | 22.4755
450523 | *** | * | 22.3034 | 28.6387 | * | 25.2834
450530 | 1.1553 | 1.0008 | 23.3005 | 26.1998 | 28.7451 | 26.1850
450534 | 0.8962 | 0.8038 | 22.5156 | 20.4715 | * | 21.4079
450535 | *** | * | 23.7255 | 29.4427 | * | 26.5477
450537 | 1.3531 | 1.0226 | 22.5972 | 23.9256 | 27.5856 | 24.8361
450539 | 1.2112 | 0.8038 | 18.4299 | 20.0343 | 21.0442 | 19.8677
450545 | *** | * | 21.7762 | 22.8130 | * | 22.2858
450547 | 0.9601 | 0.9955 | 22.6557 | 21.8106 | 21.6542 | 22.0062
450558 | 1.7596 | 0.8038 | 21.4201 | 25.0837 | 26.1551 | 24.1840
450563 | 1.3725 | 0.9955 | 27.5671 | 27.9427 | 28.7289 | 28.1251
450565 | 1.2388 | 0.8038 | 17.2171 | 22.1971 | 23.8847 | 20.9966
450571 | 1.4990 | 0.8287 | 21.5688 | 20.9651 | 22.7703 | 21.7784
450573 | 1.1238 | 0.8038 | 18.6233 | 21.6974 | 20.1479 | 20.0755
450578 | 0.9390 | 0.8038 | 17.3010 | 20.0454 | 20.2695 | 19.1233
450580 | 1.1057 | 0.8038 | 18.5225 | 20.4293 | 21.1574 | 20.0321
450584 | 1.0396 | 0.8038 | 16.9021 | 19.0373 | 21.0808 | 18.9453
450586 | 0.9605 | 0.8038 | 14.9061 | 14.6574 | 16.1003 | 15.2149
450587 | 1.1650 | 0.8038 | 19.0648 | 19.9712 | 20.4512 | 19.8609
450591 | 1.2007 | 1.0008 | 19.6229 | 22.4991 | 23.9992 | 22.0639
450596 ʰ | 1.0985 | 0.9514 | 24.3714 | 24.7477 | 25.3317 | 24.8345
450597 | 0.9702 | 0.8038 | 19.9596 | 22.9337 | 23.1711 | 22.1268
450603 | *** | 0.8038 | 20.6138 | * | * | 20.6138
450605 | 1.1521 | 0.8557 | 22.0210 | 23.8820 | 22.2205 | 22.7037
450609 | 0.9809 | 0.8038 | 16.6870 | 18.3856 | * | 17.5807
450610 | 1.5974 | 1.0008 | 24.7706 | 22.5451 | 26.8710 | 24.6655
450614 | *** | * | 18.5895 | * | * | 18.5895
450617 | 1.3959 | 1.0008 | 22.7514 | 25.2211 | 26.5026 | 24.9284
450620 | 0.9943 | 0.8038 | 17.1333 | 18.1819 | 17.7138 | 17.6710
450623 | 1.0833 | 0.9955 | 25.1400 | 28.3354 | 28.3552 | 27.2112
450626 | 0.9113 | 0.8038 | 17.7454 | 21.4445 | 26.8375 | 21.3925
450630 | 1.5237 | 1.0008 | 24.8096 | 27.8856 | 29.6796 | 27.5230
450631 | *** | * | 22.8637 | 24.5409 | * | 23.7681
450634 | 1.5840 | 1.0226 | 24.8258 | 27.0412 | 28.1705 | 26.8022
450638 | 1.5909 | 1.0008 | 26.3653 | 29.5385 | 29.6184 | 28.6129
450639 | 1.5269 | 0.9955 | 24.2919 | 27.3593 | 29.2669 | 27.0735
450641 | 0.9690 | 0.8038 | 17.4072 | 17.0805 | 17.5845 | 17.3565
450643 | 1.3272 | 0.8101 | 20.2000 | 20.9674 | 21.1205 | 20.7972
450644 | 1.4121 | 1.0008 | 24.4574 | 27.2047 | 29.0186 | 27.0517
450646 | 1.3665 | 0.8954 | 21.8500 | 22.6541 | 23.8908 | 22.8626
450647 | 1.8080 | 1.0226 | 26.8276 | 28.8881 | 30.7334 | 28.8704
450648 | 0.9048 | 0.8038 | 17.3678 | 18.2826 | * | 17.7872
450649 | 0.9413 | 0.8038 | 17.5761 | 18.1118 | * | 17.8381
450651 | 1.6207 | 1.0226 | 26.9215 | 28.9829 | 32.4822 | 29.5833
450653 | 1.1208 | 0.9317 | 22.7236 | 21.8654 | 23.2603 | 22.6099
450654 | 0.9014 | 0.8038 | 16.3057 | 19.6054 | 19.9992 | 18.6631
450656 | 1.3925 | 0.9164 | 20.7824 | 22.7284 | 23.8280 | 22.4984
450658 | 0.9005 | 0.8038 | 19.6855 | 19.9597 | 20.5398 | 20.0788
450659 | 1.4288 | 1.0008 | 26.0224 | 28.8671 | 30.1727 | 28.5108
450661 | 1.1620 | 0.9893 | 20.0716 | 21.5537 | 23.2989 | 21.6941
450662 | 1.5437 | 0.9853 | 26.3794 | 24.5815 | 28.0913 | 26.3697
450665 | 0.8590 | 0.8038 | 15.8571 | 17.2566 | 18.6054 | 17.2495
450668 | 1.5024 | 0.8954 | 24.0081 | 26.4508 | 26.2375 | 25.5681
450669 | 1.2076 | 1.0226 | 25.0200 | 25.6411 | 27.4677 | 26.1106
450670 | 1.3351 | 1.0008 | 19.9621 | 22.0495 | 25.1575 | 22.3620
450672 | 1.6955 | 0.9955 | 25.3106 | 26.7785 | 27.6359 | 26.6135
450673 | 1.0764 | 0.8327 | 16.3319 | 19.4030 | * | 17.7858
450674 | 0.9403 | 1.0008 | 24.8137 | 26.8081 | * | 25.8948
450675 | 1.4122 | 0.9955 | 24.8661 | 26.1555 | 28.7765 | 26.7882
450677 | 1.3184 | 0.9955 | 22.9529 | 24.0218 | 28.4544 | 25.1326
450678 | 1.3836 | 1.0226 | 28.1917 | 30.1134 | 30.1500 | 29.5324
450683 | 1.1313 | 1.0226 | 24.5013 | 24.0080 | 24.6609 | 24.3870
450684 | 1.2141 | 1.0008 | 23.8945 | 26.2906 | 27.6789 | 25.9648
450686 | 1.6245 | 0.8790 | 17.9181 | 21.0565 | 23.2367 | 20.7924
450688 | 1.1771 | 1.0226 | 21.7922 | 23.7796 | 27.9057 | 24.4771
450690 | 1.4853 | 0.9322 | 33.1576 | 28.7529 | 28.0400 | 29.1149
450694 | 1.0990 | 1.0008 | 21.4784 | 22.3081 | 23.5790 | 22.4747
450697 | 1.3237 | 0.8987 | 20.8951 | 21.2662 | 23.7155 | 22.0489
450698 | 0.8758 | 0.8038 | 18.1764 | 18.5436 | 18.6494 | 18.4560
450700 | 0.9198 | 0.8038 | 17.3458 | 18.6373 | 18.4602 | 18.1609
450702 | 1.5061 | 0.8741 | 22.2953 | 24.8628 | 25.6147 | 24.3137
450709 | 1.2645 | 1.0008 | 23.4246 | 25.0932 | 25.4855 | 24.7135
450711 | 1.6067 | 0.8945 | 22.1489 | 24.8277 | 28.0104 | 25.1428
450712 | *** | * | 18.4547 | * | * | 18.4547
450715 | 1.2343 | 1.0226 | * | 16.1897 | 28.0365 | 20.5948
450716 | 1.2179 | 1.0008 | 24.8614 | 28.8043 | 30.8440 | 28.2641
450718 | 1.1954 | 0.9451 | 24.9162 | 27.6672 | 27.3408 | 26.7229
450723 | 1.3817 | 1.0226 | 24.1618 | 27.0055 | 28.0812 | 26.5571
450724 | *** | * | 21.9630 | * | * | 21.9630
450730 | 1.2563 | 1.0226 | 27.8476 | 30.7567 | 29.9430 | 29.5510
450733 | *** | * | 23.8143 | 25.5624 | 26.4976 | 25.4115
450742 | 1.1492 | 1.0226 | 25.1295 | 26.3414 | 26.1190 | 25.8920
450743 | 1.4553 | 1.0226 | 23.7424 | 24.7397 | 27.3213 | 25.3404
450746 | 0.9449 | 0.8038 | 11.1672 | 16.9209 | 12.4748 | 13.1222
450747 | 1.1996 | 0.9955 | 21.5883 | 24.2674 | 22.2870 | 22.7471
450749 | 1.0081 | 0.8038 | 17.8696 | 18.4095 | 17.8227 | 18.0184
450751 | 1.2551 | 0.8293 | 23.3154 | 22.9070 | 19.3265 | 21.7472
450754 | 0.9215 | 0.8038 | 19.2827 | 21.3043 | 20.8968 | 20.5167
450755 | 0.9643 | 0.8790 | 19.2768 | 19.5168 | 18.0092 | 18.8178
450758 | 1.2430 | 1.0226 | 22.8713 | 24.0226 | 25.6548 | 24.1232
450760 | 1.1495 | 0.8954 | 23.2959 | 25.7453 | 24.6349 | 24.3909
450761 | 0.8380 | 0.8038 | 15.5151 | 16.2605 | 15.7483 | 15.8642
450763 | 1.1245 | 0.8038 | 19.8939 | 21.4171 | 22.4905 | 21.2790
450766 | 1.8603 | 1.0226 | 27.2499 | 28.8576 | 30.0441 | 28.7197
450770 | 1.1786 | 0.9451 | 19.9412 | 20.1763 | 20.3656 | 20.1550
450771 | 1.6492 | 1.0226 | 25.0490 | 26.0618 | 31.3924 | 27.9152
450774 | 1.7122 | 1.0008 | 21.7906 | 24.8562 | 24.9683 | 23.8170
450775 | 1.1967 | 1.0008 | 23.6621 | 25.3924 | 24.4006 | 24.5023
450776 | 0.9653 | 0.8038 | 14.6695 | * | * | 14.6695
450780 | 1.9234 | 0.8987 | 21.9046 | 22.8688 | 23.9516 | 22.9443
450788 | 1.5485 | 0.8557 | 21.4467 | 24.2643 | 25.4172 | 23.7014
450795 | 1.1361 | 1.0008 | 19.1371 | 28.1448 | 23.7510 | 23.4235
450796 | 2.1587 | 0.9165 | 22.4973 | 24.7564 | 27.9734 | 25.1133
450797 | *** | 1.0008 | 18.6839 | 23.8708 | 20.5379 | 20.9547
450801 | 1.4873 | 0.8293 | 19.7790 | 22.2426 | 23.0373 | 21.7315
450803 | 1.2163 | 1.0008 | 23.8343 | 26.3054 | 30.6093 | 27.0662
450804 | 1.8040 | 1.0008 | 22.8275 | 26.0003 | 26.0980 | 25.0247
450808 | 1.6335 | 0.9451 | 18.6555 | 22.8247 | 23.8067 | 21.6597
450809 | 1.5600 | 0.9451 | 23.8758 | 24.7763 | 26.3659 | 25.0664
450811 | 1.8007 | 0.8945 | 22.7583 | 23.1022 | 25.8491 | 24.4306
450813 | 1.1082 | 0.8038 | 21.7208 | 22.1326 | 25.5949 | 23.1456
450817 | *** | * | 28.4441 | * | * | 28.4441
450822 | 1.1421 | 1.0226 | 26.7821 | 29.7067 | 31.1431 | 29.3455
450824 | 2.3620 | 0.9451 | 24.5885 | * | 26.7803 | 25.7897
450825 | 1.4475 | 0.8945 | 18.8510 | 18.7069 | 20.2959 | 19.3490
450827 | 1.4188 | 0.8327 | 29.5838 | 21.1788 | 20.9704 | 23.0851
450828 | 1.1739 | 0.8038 | 20.9509 | 21.4128 | 22.3667 | 21.5956
450829 | *** | 0.8987 | 14.4463 | 18.2860 | 19.5014 | 17.2726
450830 | 0.9282 | 0.9593 | 24.7834 | 26.9917 | 28.1617 | 26.6450
450831 | 1.6369 | 1.0008 | * | 20.0581 | 22.7885 | 21.7038
450832 | 1.1025 | 1.0008 | 24.8572 | 26.4725 | 26.6628 | 26.1075
450833 | 1.1371 | 1.0226 | 18.3196 | 26.1256 | 26.0044 | 23.5951
450834 | 1.3563 | 0.8911 | 21.7217 | 22.7691 | 21.2204 | 21.8968
450835 | *** | * | 24.8374 | * | * | 24.8374
450838 | 1.1289 | 0.8038 | * | 15.0454 | 15.8026 | 15.4717
450839 | 0.9271 | 0.8767 | * | 21.1905 | 22.9711 | 22.0566
450840 | 0.9946 | 1.0226 | * | 29.5215 | 31.1914 | 30.4233
450841 | 1.6236 | 0.9853 | * | 17.6635 | 18.9468 | 18.3289
450842 | *** | * | * | 23.0945 | * | 23.0945
450844 | 1.2573 | 1.0008 | * | 34.4235 | 28.7296 | 30.4450
450845 | 1.8144 | 0.8954 | * | 26.5040 | 27.7461 | 27.1743
450846 | *** | * | * | 24.0791 | * | 24.0791
450847 | 1.1792 | 1.0008 | * | 26.8892 | 27.6854 | 27.3036
450848 | 1.1875 | 1.0008 | * | 26.5609 | 27.8100 | 27.1855
450850 | 1.4887 | 0.9522 | * | * | 22.1334 | 22.1334
450851 | 2.2455 | 1.0226 | * | * | 30.1213 | 30.1213
450852 | *** | 1.0226 | * | * | 30.0191 | 30.0191
460001 | 1.8903 | 0.9578 | 24.8844 | 25.6932 | 27.0757 | 25.8934
460003 | 1.4892 | 0.9436 | 26.5141 | 24.3527 | 26.1372 | 25.6304
460004 | 1.6546 | 0.9436 | 24.3409 | 25.2191 | 26.4498 | 25.3907
460005 | 1.4234 | 0.9436 | 25.0063 | 22.6809 | 23.5633 | 23.6783
460006 | 1.2864 | 0.9436 | 23.4200 | 24.4350 | 25.4787 | 24.4752
460007 | 1.3119 | 0.9416 | 23.3603 | 24.2875 | 25.6686 | 24.4644
460008 | 1.3319 | 0.9436 | 24.8233 | 24.4453 | 26.5672 | 25.2587
460009 | 1.9172 | 0.9436 | 24.5865 | 25.0984 | 26.2833 | 25.3688
460010 | 2.0750 | 0.9436 | 25.1240 | 26.2331 | 27.4648 | 26.2912
460011 | 1.2723 | 0.9578 | 21.2634 | 22.3601 | 23.4023 | 22.3027
460013 | 1.3340 | 0.9578 | 23.1467 | 23.4765 | 25.2448 | 23.9897
460014 | 1.0825 | 0.9436 | 22.6125 | 23.9400 | 24.5384 | 23.7842
460015 | 1.2767 | 0.9183 | 23.1068 | 24.0939 | 25.6576 | 24.3035
460016 | *** | 0.8134 | 18.7453 | * | * | 18.7453
460018 ʰ | 0.8785 | 1.2094 | 16.7143 | 18.8942 | 20.3755 | 18.6334
460019 | 1.0897 | 0.8134 | 18.1995 | 20.3625 | 19.9900 | 19.5496
460020 | 1.0465 | 0.8134 | 15.2162 | 19.4960 | 19.5669 | 17.9384
460021 | 1.6825 | 1.1249 | 23.8565 | 24.9725 | 26.3420 | 25.1139
460023 | 1.1620 | 0.9578 | 25.0874 | 25.0376 | 25.3094 | 25.1556
460025 | 0.9769 | 0.8134 | 22.3098 | 18.7978 | * | 20.4201
460026 | 0.9752 | 0.8134 | 21.9316 | 22.7589 | 24.1547 | 22.9505
460029 | 1.0584 | 0.8134 | 24.4379 | * | * | 24.4379
460032 | 0.9659 | 0.9578 | 21.2715 | 22.8987 | * | 22.1308
460033 | 0.9161 | 0.8134 | 21.7216 | 22.7816 | 22.0248 | 22.1909
460035 | 0.9171 | 0.8134 | 16.9657 | 16.9019 | 17.5723 | 17.1694
460036 | 1.2351 | 0.9578 | 23.9910 | 25.2647 | 27.2865 | 25.5949
460037 | 0.8624 | 0.8134 | 20.0323 | 19.8478 | 21.1035 | 20.3240
460039 | 1.0000 | 0.9048 | 26.3795 | 27.5912 | 28.5656 | 27.5288
460041 | 1.3167 | 0.9436 | 23.5132 | 24.0431 | 25.2744 | 24.2809
460042 | 1.3210 | 0.9436 | 22.0844 | 23.5819 | 22.9949 | 22.8865
460043 | 0.9066 | 0.9578 | 26.0277 | 26.6870 | 28.2089 | 27.0296
460044 | 1.2356 | 0.9436 | 24.7138 | 25.7342 | 26.6795 | 25.7463
460047 | 1.6135 | 0.9436 | 24.9214 | 25.1721 | 25.7920 | 25.3219
460049 | 1.9769 | 0.9436 | 21.9357 | 23.0683 | 24.5164 | 23.1856
460051 | 1.1333 | 0.9436 | 22.7540 | 23.4970 | 25.5881 | 24.0241
460052 | 1.4446 | 0.9578 | 23.1717 | 24.0797 | 25.3163 | 24.2177
460053 | *** | * | 23.2274 | * | * | 23.2274
470001 | 1.2123 | 1.0668 | 23.5882 | 24.5499 | 27.7329 | 25.2768
470003 | 1.8981 | 1.0199 | 24.1739 | 24.6660 | 26.4919 | 25.1321
470005 | 1.3303 | 1.0199 | 24.9625 | 25.7288 | 29.8255 | 26.8311
470006 | 1.1851 | 1.0199 | 21.6036 | 26.0884 | 26.9651 | 24.9417
470008 | 1.1624 | 1.0199 | 20.7659 | 21.8951 | * | 21.3386
470010 | 1.1493 | 1.0199 | 23.2072 | 22.9777 | 26.1273 | 24.1019
470011 | 1.2027 | 1.0903 | 24.6034 | 25.9246 | 28.3911 | 26.3395
470012 | 1.2167 | 1.0199 | 20.5072 | 22.9159 | 24.3425 | 22.6924
470018 | 1.1669 | 1.0199 | 21.2904 | 25.9300 | 28.3419 | 25.0848
470023 | 1.2183 | 1.0199 | 24.1395 | 26.7486 | * | 25.4614
470024 | 1.1449 | 1.0199 | 22.4659 | 23.7745 | 25.8652 | 24.1048
490001 | 1.0907 | 0.8024 | 22.3622 | 21.7111 | 21.9953 | 22.0191
490002 | 1.0623 | 0.8024 | 17.5098 | 18.5220 | 19.5613 | 18.6066
490003 | *** | * | 20.9783 | 23.8112 | 27.3456 | 23.8351
490004 | 1.2757 | 0.9806 | 22.7154 | 24.4580 | 25.4597 | 24.2345
490005 | 1.6453 | 1.0813 | 25.2213 | 27.6425 | 28.5744 | 27.1963
490006 | 1.1847 | 1.0214 | 13.4277 | 16.7679 | * | 15.2211
490007 | 2.2466 | 0.8841 | 22.2526 | 24.9533 | 26.2481 | 24.5292
490009 | 1.9263 | 1.0230 | 25.2181 | 27.5905 | 29.1962 | 27.2686
490011 | 1.4460 | 0.8841 | 20.0136 | 22.4410 | 24.5687 | 22.4266
490012 | 0.9964 | 0.8024 | 15.8346 | 18.3697 | 19.2275 | 17.8014
490013 | 1.2634 | 0.8596 | 19.5094 | 21.4838 | 22.2736 | 21.0913
490015 | *** | * | 21.2557 | 22.5641 | * | 21.9516
490017 | 1.3989 | 0.8841 | 20.7691 | 22.9632 | 24.6845 | 22.9273
490018 | 1.2537 | 0.9806 | 22.0810 | 23.2215 | 24.5196 | 23.2792
490019 ʰ | 1.1521 | 1.0935 | 23.3077 | 24.4524 | 25.9761 | 24.6213
490020 | 1.2668 | 0.9319 | 21.2094 | 23.6611 | 24.8001 | 23.2943
490021 | 1.4407 | 0.8706 | 22.2537 | 23.5930 | 24.6440 | 23.5199
490022 | 1.4865 | 1.0935 | 24.4682 | 25.0277 | 28.0749 | 25.8811
490023 | 1.2256 | 1.0935 | 24.9734 | 28.8354 | 29.7774 | 27.9947
490024 | 1.6758 | 0.8450 | 21.2619 | 21.7268 | 23.0982 | 22.0522
490027 | 1.1416 | 0.8024 | 20.3644 | 19.8345 | 18.9409 | 19.7128
490031 | 1.1051 | 0.8024 | 18.4826 | 22.4300 | 22.0579 | 20.9706
490032 | 1.8812 | 0.9319 | 23.6489 | 22.8942 | 25.1381 | 23.9005
490033 | 1.0518 | 1.0935 | 24.4370 | 27.6355 | 30.0909 | 27.5418
490037 | 1.1577 | 0.8024 | 17.5104 | 19.0583 | 21.3035 | 19.2834
490038 | 1.1503 | 0.8024 | 18.1405 | 19.6427 | 22.1374 | 19.9691
490040 | 1.5115 | 1.0935 | 27.0513 | 30.1820 | 32.8738 | 30.0780
490041 | 1.4077 | 0.8841 | 19.9314 | 22.2955 | 24.5738 | 22.3542
490042 | 1.2563 | 0.8024 | 19.5127 | 20.5845 | 21.8749 | 20.7701
490043 | 1.1666 | 1.0935 | 25.4354 | 28.2969 | 30.8871 | 28.4640
490044 | 1.3756 | 0.8841 | 20.8739 | 22.1324 | 20.8351 | 21.2628
490045 | 1.3043 | 1.0935 | 24.7131 | 27.2132 | 28.8279 | 27.0743
490046 | 1.5526 | 0.8841 | 22.0040 | 24.6391 | 25.6328 | 24.1719
490047 | 1.0113 | 0.8998 | 19.8220 | 21.9156 | 22.5424 | 21.3597
490048 | 1.4287 | 0.8450 | 22.3138 | 24.1639 | 25.0097 | 23.8716
490050 | 1.5254 | 1.0935 | 26.1521 | 29.4660 | 30.5037 | 28.7334
490052 | 1.6709 | 0.8841 | 19.2480 | 21.4035 | 22.8889 | 21.2086
490053 | 1.2926 | 0.8095 | 18.6541 | 20.9367 | 21.8432 | 20.4783
490057 | 1.5826 | 0.8841 | 22.1612 | 25.1898 | 26.1128 | 24.5153
490059 | 1.5692 | 0.9319 | 23.3895 | 26.1518 | 28.7276 | 26.1974
490060 | 1.0283 | 0.8024 | 20.6028 | 21.0828 | 22.4200 | 21.3908
490063 | 1.8332 | 1.0935 | 31.0162 | 29.4216 | 30.3648 | 30.2236
490066 | 1.3174 | 0.8841 | 22.1034 | 23.3835 | 24.7146 | 23.4575
490067 | 1.1859 | 0.9319 | 20.4058 | 21.8730 | 22.9188 | 21.7183
490069 | 1.5306 | 0.9319 | 20.6957 | 24.4542 | 26.8791 | 24.1400
490071 | 1.2929 | 0.9319 | 25.4678 | 27.0374 | 28.4381 | 27.0687
490073 | 1.6276 | 1.0935 | 27.6711 | 25.2859 | 31.7743 | 27.8898
490075 | 1.4205 | 0.8514 | 22.3230 | 22.8303 | 23.8191 | 23.0000
490077 | 1.3109 | 1.0230 | 22.2643 | 24.8309 | 26.0800 | 24.4773
490079 | 1.2705 | 0.9020 | 19.2196 | 19.8100 | 23.4728 | 20.7435
490084 | 1.1954 | 0.8024 | 19.8598 | 22.7945 | 24.6045 | 22.3588
490088 | 1.0683 | 0.8706 | 19.7549 | 21.4818 | 22.4186 | 21.1984
490089 | 1.0461 | 0.8450 | 21.1522 | 21.2123 | 22.6461 | 21.7546
490090 | 1.1132 | 0.8024 | 20.3015 | 21.3410 | 22.2907 | 21.2854
490092 | 1.1103 | 0.9319 | 23.8364 | 21.6466 | 23.8656 | 23.0587
490093 | 1.4305 | 0.8841 | 20.7388 | 23.6779 | 25.0751 | 23.2941
490094 | 0.9993 | 0.9319 | 21.9886 | 26.0755 | 26.5726 | 25.0296
490097 | 1.0181 | 0.8024 | 18.1022 | 23.5366 | 23.8005 | 21.5573
490098 | 1.2311 | 0.8024 | 19.7116 | 20.9805 | 21.7231 | 20.8214
490101 | 1.2761 | 1.0935 | 28.5200 | 30.1800 | 30.4285 | 29.7644
490104 | 0.7943 | 0.9319 | 28.0286 | 33.1215 | 17.3295 | 24.4559
490105 | 0.7131 | 0.8095 | 40.6821 | 38.2813 | 24.7923 | 34.3492
490106 | 0.9458 | 0.9806 | 31.6541 | 30.1492 | 23.0199 | 28.3157
490107 | 1.2758 | 1.0935 | 26.5312 | 28.7296 | 29.7000 | 28.3786
490108 | 0.9611 | 0.8706 | 28.7277 | 27.9090 | 22.4345 | 26.3471
490109 | 0.9766 | 0.9319 | 28.0978 | 28.0548 | 21.9878 | 25.9914
490110 | 1.3198 | 0.8024 | 23.6080 | 21.3126 | 22.5974 | 22.4319
490111 | 1.2838 | 0.8024 | 19.4041 | 20.6373 | 22.0199 | 20.6805
490112 | 1.6692 | 0.9319 | 23.6028 | 25.8312 | 26.6453 | 25.4222
490113 | 1.2540 | 1.0935 | 28.0893 | 29.1786 | 29.5698 | 28.9669
490114 | 0.9717 | 0.8024 | 19.9725 | 20.0555 | 20.7017 | 20.2462
490115 | 1.1772 | 0.8024 | 19.9151 | 20.3615 | 21.4666 | 20.5969
490116 | 1.1327 | 0.8024 | 19.7007 | 21.3083 | 22.9017 | 21.2429
490117 | 1.1880 | 0.8024 | 15.6078 | 17.4111 | 18.0277 | 17.0302
490118 | 1.7046 | 0.9319 | 25.2230 | 26.8810 | 27.4050 | 26.6600
490119 | 1.3161 | 0.8841 | 21.3883 | 23.7813 | 25.2549 | 23.5234
490120 | 1.3813 | 0.8841 | 22.2389 | 23.1535 | 24.4434 | 23.3020
490122 | 1.4487 | 1.0935 | 27.3509 | 28.7020 | 31.0449 | 29.0227
490123 | 1.0953 | 0.8024 | 20.9506 | 22.9511 | 23.9233 | 22.6075
490124 | *** | * | 21.3713 | 29.7939 | * | 25.7258
490126 | 1.2378 | 0.8024 | 20.4660 | 23.1423 | 22.2859 | 21.9403
490127 | 1.0786 | 0.8024 | 17.8070 | 19.4005 | 20.4289 | 19.2585
490130 | 1.3182 | 0.8841 | 18.6038 | 22.0769 | 22.8512 | 21.1640
490132 | *** | 0.8024 | 19.5849 | * | * | 19.5849
500001 | 1.5872 | 1.1573 | 26.6420 | 26.7502 | 29.3707 | 27.5939
500002 | 1.4024 | 1.0459 | 24.0374 | 25.0665 | 25.3347 | 24.8482
500003 | 1.2634 | 1.1573 | 27.3435 | 28.4174 | 29.6341 | 28.5098
500005 | 1.8137 | 1.1573 | 28.9512 | 31.4415 | 32.0972 | 30.7955
500007 | 1.2933 | 1.0459 | 23.5774 | 26.1318 | 28.0476 | 25.9648
500008 | 1.9138 | 1.1573 | 28.9380 | 31.0128 | 31.8837 | 30.6288
500011 | 1.3458 | 1.1573 | 27.6762 | 28.3391 | 30.6508 | 28.9502
500012 | 1.5792 | 1.0459 | 26.2263 | 29.2045 | 30.6856 | 28.7227
500014 | 1.6444 | 1.1573 | 27.4248 | 30.1061 | 33.7536 | 30.6058
500015 | 1.3785 | 1.1573 | 27.3397 | 30.1596 | 32.0592 | 29.8941
500016 | 1.6460 | 1.1573 | 27.7863 | 29.3634 | 31.4221 | 29.6282
500019 | 1.2688 | 1.0459 | 25.7691 | 26.9702 | 28.6669 | 27.1697
500021 | 1.3005 | 1.0794 | 26.4648 | 28.5926 | 30.1690 | 28.5893
500023 | 1.1295 | 1.0459 | 23.9513 | 27.3823 | * | 25.6872
500024 | 1.6961 | 1.0794 | 27.2967 | 29.3946 | 30.7917 | 29.1683
500025 | 1.7523 | 1.1573 | 29.0400 | 31.7335 | 34.7252 | 31.7861
500026 | 1.4441 | 1.1573 | 28.7532 | 31.4152 | 33.2937 | 31.1325
500027 | 1.5647 | 1.1573 | 30.6901 | 29.5939 | 34.2175 | 31.5063
500030 | 1.5791 | 1.1705 | 29.0487 | 30.5926 | 32.7446 | 30.8324
500031 | 1.1888 | 1.0970 | 26.0740 | 28.5398 | 31.2186 | 28.5887
500033 | 1.2976 | 1.0459 | 25.4345 | 26.6704 | 29.4627 | 27.2338
500036 | 1.3747 | 1.0459 | 25.4753 | 26.0223 | 27.0072 | 26.1929
500037 | 1.0310 | 1.0459 | 23.5414 | 24.6548 | 26.9969 | 25.0377
500039 | 1.4511 | 1.1573 | 26.1409 | 27.9651 | 29.8809 | 28.0919
500041 | 1.2975 | 1.1229 | 24.9004 | 26.9101 | 26.5976 | 26.1814
500044 | 1.9843 | 1.0898 | 27.0880 | 26.9323 | 30.3164 | 28.1645
500049 | 1.3010 | 1.0459 | 26.6407 | 25.6104 | 27.1819 | 26.4960
500050 | 1.4422 | 1.1229 | 25.0907 | 26.8971 | 29.9791 | 27.4347
500051 | 1.7552 | 1.1573 | 26.9538 | 29.0100 | 31.9406 | 29.4441
500053 | 1.2441 | 1.0619 | 26.0112 | 26.8074 | 28.4130 | 27.1467
500054 | 2.0525 | 1.0898 | 27.1965 | 28.8062 | 30.8067 | 28.9786
500055 | *** | 1.0459 | 25.3095 | * | * | 25.3095
500058 | 1.6605 | 1.0619 | 27.3411 | 28.4247 | 30.4699 | 28.8635
500060 | 1.2823 | 1.1573 | 31.7480 | 33.5169 | 34.1523 | 33.1768
500064 | 1.7416 | 1.1573 | 29.2539 | 31.1459 | 31.5371 | 30.6791
500065 | 1.2445 | 1.0459 | 26.5880 | 26.0960 | * | 26.3295
500071 | 1.1734 | 1.0459 | 23.2071 | * | * | 23.2071
500074 | *** | 1.0459 | 21.9019 | * | * | 21.9019
500079 | 1.3420 | 1.0794 | 27.1775 | 28.4934 | 29.6623 | 28.4444
500084 | 1.3103 | 1.1573 | 26.5864 | 27.6306 | 29.3484 | 27.9397
500086 | 1.2807 | 1.0459 | 25.9705 | * | * | 25.9705
500092 | 0.8995 | 1.0459 | 20.8601 | 23.2466 | * | 22.0417
500104 | 1.0691 | 1.1573 | 26.8007 | 27.0034 | * | 26.9067
500108 | 1.6596 | 1.0794 | 27.4156 | 28.7206 | 29.4244 | 28.5667
500110 | 1.1857 | 1.0459 | 24.8448 | 25.4785 | 26.4560 | 25.6025
500118 | 1.1171 | 1.0459 | 26.1971 | 28.1074 | * | 27.1693
500119 | 1.3607 | 1.0898 | 25.1576 | 27.2335 | 30.9999 | 27.7928
500122 | 1.1916 | 1.0459 | 26.9006 | 27.4405 | 30.1396 | 28.2069
500124 | 1.4090 | 1.1573 | 24.8357 | 28.6598 | 31.5438 | 28.2647
500129 | 1.5325 | 1.0794 | 27.8351 | 30.0223 | 30.7536 | 29.5772
500134 | 0.4749 | 1.1573 | 21.3921 | 24.2990 | 26.8608 | 24.3808
500139 | 1.5310 | 1.0794 | 27.7281 | 29.2357 | 31.6591 | 29.5383
500141 | 1.2664 | 1.1573 | 28.2968 | 30.7478 | 30.5456 | 29.9289
500143 | 0.4570 | 1.0794 | 19.0982 | 20.7093 | 22.1419 | 20.7552
500147 | 0.8043 | 1.0459 | * | 16.3669 | 24.5807 | 16.9814
500148 | 1.1051 | 1.0459 | * | 18.2168 | 22.2161 | 20.0814
510001 | 1.9174 | 0.8840 | 21.4247 | 22.9351 | 23.4477 | 22.6536
510002 | 1.1623 | 0.8450 | 20.9822 | 22.4751 | 25.9597 | 23.1031
510006 | 1.2491 | 0.8840 | 21.0214 | 22.2947 | 23.5727 | 22.3142
510007 | 1.5458 | 0.9482 | 23.4411 | 24.3499 | 25.2835 | 24.3672
510008 | 1.1920 | 0.9528 | 22.7595 | 24.5293 | 24.6959 | 24.0287
510012 | 0.9435 | 0.7742 | 16.7710 | 18.5816 | 18.2845 | 17.8391
510013 | 1.1671 | 0.7742 | 19.7937 | 19.9710 | 20.8782 | 20.2065
510015 | 0.9561 | 0.8429 | 17.9040 | * | * | 17.9040
510022 | 1.8301 | 0.8429 | 22.7534 | 24.1481 | 24.2125 | 23.7112
510023 | 1.2510 | 0.7821 | 17.9267 | 19.4321 | 20.4908 | 19.2664
510024 | 1.7224 | 0.8840 | 21.3662 | 23.3115 | 24.0444 | 22.9061
510026 | 1.0110 | 0.7742 | 16.5389 | 18.0855 | 16.6192 | 17.0257
510028 | 0.9965 | 0.8274 | 24.6544 | 23.0518 | 21.7134 | 23.1596
510029 | 1.2527 | 0.8429 | 19.8202 | 21.7527 | 22.0060 | 21.2311
510030 | 1.1843 | 0.8332 | 19.8220 | 22.3658 | 21.5583 | 21.2766
510031 | 1.3895 | 0.8429 | 20.5743 | 21.6294 | 21.7637 | 21.3498
510033 | 1.3921 | 0.8303 | 19.6921 | 21.0707 | 23.0305 | 21.2329
510038 | 1.0245 | 0.7742 | 16.1016 | 16.8744 | 17.2832 | 16.7659
510039 | 1.2658 | 0.7742 | 17.6173 | 19.1280 | 19.5468 | 18.7692
510043 | 0.8986 | 0.7742 | 15.5857 | 16.0586 | * | 15.8328
510046 | 1.2834 | 0.8274 | 19.2802 | 21.2792 | 21.2540 | 20.5978
510047 | 1.1340 | 0.8840 | 22.1953 | 23.2093 | 24.0954 | 23.1668
510048 | 1.1071 | 0.7742 | 16.3761 | 17.6785 | 17.5096 | 17.1529
510050 | 1.5329 | 0.7742 | 18.9990 | 20.1943 | 19.9766 | 19.7250
510053 | 1.1350 | 0.7742 | 18.1054 | 20.7538 | 20.8609 | 19.9625
510055 | 1.4505 | 0.9482 | 27.7422 | 29.3962 | 30.7868 | 29.3287
510058 | 1.2970 | 0.8303 | 20.1104 | 21.9352 | 22.6976 | 21.6021
510059 | 0.6811 | 0.8429 | 18.1543 | 18.8712 | 21.9550 | 19.5138
510061 | 0.9818 | 0.9310 | 14.8848 | 15.3355 | * | 15.1074
510062 | 1.1655 | 0.7742 | 21.3405 | 21.1568 | 23.3216 | 21.9387
510067 | 1.1669 | 0.7742 | 18.0113 | 22.1582 | 21.2099 | 20.4433
510068 | 1.1126 | 1.0935 | 19.9056 | 20.0007 | 23.1011 | 21.0310
510070 | 1.1882 | 0.8274 | 20.0974 | 21.1895 | 23.2382 | 21.5724
510071 | 1.2853 | 0.8274 | 19.4029 | 21.5439 | 23.1685 | 21.4107
510072 | 1.0629 | 0.7742 | 18.4566 | 19.7990 | 20.1997 | 19.5568
510077 | 1.1621 | 0.9119 | 20.9153 | 22.8104 | 23.6585 | 22.4770
510082 | 1.1043 | 0.7742 | 17.2891 | 16.4742 | 19.1878 | 17.5963
510085 | 1.2020 | 0.8429 | 20.6364 | 22.6563 | 23.7173 | 22.3503
510086 | 1.0874 | 0.7742 | 16.3051 | 17.8234 | 17.5933 | 17.2267
510088 | 0.9820 | 0.7742 | 16.4373 | 18.3401 | * | 17.3534
510089 | *** | * | * | * | 27.7062 | 27.7062
520002 | 1.2821 | 0.9964 | 22.0838 | 23.7316 | 24.9950 | 23.6544
520003 | 1.1724 | 0.9478 | 20.4234 | 21.8662 | * | 21.1608
520004 | 1.3395 | 0.9557 | 22.8530 | 24.4711 | 25.4639 | 24.2888
520008 | 1.5856 | 1.0111 | 26.0931 | 27.8127 | 29.8354 | 27.9737
520009 | 1.6869 | 0.9478 | 21.5169 | 23.4265 | 26.1503 | 23.6455
520010 | 1.1228 | 1.1055 | 26.3965 | 28.5569 | 29.2491 | 28.0349
520011 | 1.2647 | 0.9478 | 22.7880 | 23.7785 | 25.2747 | 23.9992
520013 | 1.3725 | 0.9478 | 23.1173 | 24.4766 | 26.6225 | 24.8211
520014 | 1.0762 | 1.0629 | 20.4281 | 22.1064 | * | 21.2683
520015 | 1.1411 | .9478 | 22.8094 | 23.0403 | * | 22.9239
520017 | 1.1442 | 0.9478 | 21.7542 | 23.4044 | 24.6676 | 23.3009
520019 | 1.2709 | 0.9478 | 22.6895 | 24.9871 | 25.0377 | 24.2463
520021 | 1.3765 | 1.0698 | 24.1284 | 25.4872 | 26.6935 | 25.4468
520024 | 1.0697 | 0.9478 | 17.5368 | 18.5072 | * | 18.0423
520026 | 1.0913 | 1.1055 | 25.0504 | 26.1056 | * | 25.6168
520027 | 1.2710 | 1.0111 | 22.2089 | 26.2516 | 27.5490 | 25.5645
520028 | 1.2544 | 1.0416 | 24.3592 | 25.7778 | 25.4164 | 25.1844
520030 | 1.7713 | 0.9964 | 23.9474 | 25.3807 | 27.0185 | 25.5053
520032 | 1.1260 | 1.0629 | 22.7220 | 25.3059 | 25.3696 | 24.4819
520033 | 1.3031 | 0.9478 | 22.2650 | 23.9791 | 24.6125 | 23.6548
520034 | 1.1362 | 0.9478 | 22.6160 | 23.6563 | 23.9850 | 23.4634
520035 | 1.2757 | 0.9478 | 20.8563 | 23.2625 | 24.7767 | 23.0160
520037 | 1.7957 | 0.9964 | 25.0587 | 28.6984 | 29.7234 | 27.8508
520038 | 1.2023 | 1.0111 | 23.1036 | 24.6650 | 26.6470 | 24.8476
520040 | 1.3551 | 1.0111 | 21.5671 | 23.8501 | 25.1096 | 23.5636
520041 | 1.1069 | 1.0629 | 22.6216 | 22.8236 | 22.7596 | 22.7396
520042 | 1.0666 | 0.9478 | 21.9935 | 24.0788 | 23.6326 | 23.2471
520044 | 1.3206 | 0.9478 | 22.7627 | 24.9387 | 26.0191 | 24.5777
520045 | 1.4958 | 0.9478 | 24.1624 | 24.5844 | 26.0030 | 24.9427
520047 | 0.9463 | 0.9478 | 22.5686 | 25.5346 | * | 24.0011
520048 | 1.6494 | 0.9478 | 20.5069 | 23.1653 | 25.1724 | 22.8848
520049 | 2.1923 | 0.9478 | 22.7424 | 24.1083 | 25.9256 | 24.2130
520051 | 1.6606 | 1.0111 | 27.6695 | 28.8249 | 28.3040 | 28.2799
520057 | 1.1487 | 0.9478 | 21.2729 | 23.3205 | 25.3745 | 23.3399
520058 | *** | 1.0224 | 23.2907 | * | * | 23.2907
520060 | 1.3001 | 0.9478 | 21.1271 | 22.0132 | 23.8817 | 22.3382
520062 | 1.2975 | 1.0111 | 23.7166 | 24.9988 | 28.2215 | 25.7059
520063 | 1.1228 | 1.0111 | 23.3037 | 25.3674 | 27.4101 | 25.4095
520064 | 1.4701 | 1.0111 | 24.3043 | 27.1120 | 28.6101 | 26.6968
520066 | 1.5188 | 1.0416 | 23.9212 | 25.8812 | 27.1657 | 25.6782
520068 | 0.8883 | 0.9478 | 21.4413 | 23.4746 | 24.8184 | 23.2981
520069 | *** | * | 32.6484 | * | * | 32.6484
520071 | 1.2141 | 0.9957 | 23.4832 | 26.3154 | 27.6202 | 25.7950
520075 | 1.5364 | 0.9478 | 23.7322 | 26.0600 | 27.1699 | 25.6758
520076 | 1.1767 | 1.0416 | 22.2993 | 24.0879 | 26.1698 | 24.2625
520078 | 1.4830 | 1.0111 | 23.4414 | 25.7662 | 27.5989 | 25.6772
520083 | 1.7454 | 1.0629 | 25.7108 | 27.0012 | 28.8407 | 27.2481
520084 | 1.0616 | 1.0629 | 24.7909 | 25.5777 | * | 25.1765
520087 | 1.6953 | 0.9557 | 22.8974 | 24.5280 | 27.3374 | 24.8782
520088 | 1.3362 | 0.9957 | 23.8938 | 26.0882 | 26.9936 | 25.7252
520089 | 1.5475 | 1.0629 | 24.4435 | 26.6013 | 30.0448 | 27.0527
520091 | 1.2659 | 0.9478 | 22.8914 | 24.8269 | 24.6320 | 24.0764
520092 | 1.0263 | 0.9478 | 21.8662 | 23.4043 | * | 22.6433
520094 | *** | 0.9957 | 22.3925 | 25.3166 | 25.7567 | 24.5483
520095 | 1.2045 | 1.0416 | 25.1402 | 28.6376 | 26.7863 | 26.8360
520096 | 1.3205 | 0.9957 | 21.1759 | 22.9929 | 24.5758 | 22.9775
520097 | 1.3919 | 0.9478 | 23.6512 | 25.1135 | 26.3321 | 25.1104
520098 | 2.0001 | 1.0629 | 25.8184 | 28.0730 | 30.6150 | 28.2679
520100 | 1.2767 | 0.9561 | 21.7072 | 24.5914 | 26.2161 | 24.1896
520102 | 1.0905 | 0.9957 | 23.7739 | 25.6146 | 26.8234 | 25.4621
520103 | 1.6066 | 1.0111 | 23.5984 | 25.5361 | 27.9147 | 25.8275
520107 | 1.2224 | 0.9478 | 25.7379 | 27.7413 | 28.3431 | 27.2253
520109 | 1.0371 | 0.9478 | 20.6357 | 22.4048 | 24.9379 | 22.6443
520111 | *** | * | 26.9666 | 26.3095 | * | 26.6016
520112 | 1.1078 | 0.9478 | 19.1409 | 20.4034 | * | 19.7623
520113 | 1.2717 | 0.9478 | 24.0822 | 26.7926 | 27.4135 | 26.1479
520114 | 1.1620 | 0.9478 | 21.9847 | 22.0536 | * | 22.0194
520116 | 1.2099 | 0.9957 | 23.9066 | 26.3057 | 26.9902 | 25.8557
520117 | 1.0283 | 0.9478 | 21.9915 | 22.0023 | * | 21.9973
520123 | 1.0715 | 1.1055 | 21.2360 | 22.2430 | * | 21.7461
520130 | *** | 0.9478 | 20.0277 | * | * | 20.0277
520134 | *** | 0.9478 | 20.8502 | * | * | 20.8502
520136 | 1.6003 | 1.0111 | 23.2573 | 25.5145 | 27.7703 | 25.5032
520138 | 1.8350 | 1.0111 | 25.1434 | 26.9047 | 28.4394 | 26.8513
520139 | 1.2505 | 1.0111 | 23.7727 | 25.4424 | 26.5110 | 25.3279
520140 | 1.6615 | 1.0111 | 23.9176 | 26.1616 | 28.3001 | 26.0657
520145 | *** | * | 25.0770 | * | * | 25.0770
520151 | 1.0251 | 0.9478 | 20.1995 | 22.9592 | * | 21.5728
520152 | 1.0564 | 0.9478 | 22.5440 | 23.2493 | 24.9392 | 23.6620
520154 | 1.1733 | 0.9478 | 23.2635 | 23.7160 | * | 23.4910
520156 | 1.0529 | 1.1055 | 23.7157 | 24.9258 | * | 24.3330
520160 | 1.8094 | 0.9478 | 22.9475 | 24.3528 | 25.7588 | 24.4208
520161 | 0.9206 | 0.9478 | 22.1857 | 24.0673 | * | 23.1340
520170 | 1.2905 | 1.0111 | 25.5470 | 25.6124 | 27.2221 | 26.1781
520173 | 1.0948 | 1.0224 | 24.4723 | 26.2224 | 28.0995 | 26.3133
520177 | 1.6337 | 1.0111 | 27.5560 | 28.4663 | 30.7317 | 29.0456
520178 | 0.9691 | 0.9478 | 22.3193 | 23.0419 | 20.2666 | 21.8785
520189 | 1.1063 | 1.0698 | 23.1658 | 26.3172 | 28.4720 | 26.3169
520192 | *** | * | 22.5641 | * | * | 22.5641
520194 | 1.5971 | * | * | * | 24.9408 | 24.9408
520195 | 0.3562 | 1.0111 | * | * | 36.6973 | 36.6973
520196 | 1.5022 | 0.9478 | * | * | 35.1043 | 35.1043
530002 | 1.1527 | 0.9207 | 23.8852 | 25.2983 | 26.8356 | 25.4030
530004 | *** | * | 19.7857 | * | * | 19.7857
530007 | 1.2447 | 0.9207 | 22.3309 | 19.3476 | 20.4391 | 20.6774
530008 ² | 1.2307 | 0.9207 | 21.8714 | 23.8271 | 23.8589 | 23.1777
530009 | 0.9699 | 0.9207 | 22.0450 | 24.2426 | 26.8316 | 24.1997
530010 ² | 1.2457 | 0.9207 | 21.4890 | 23.9255 | 25.8482 | 23.7290
530011 | 1.0112 | 0.9207 | 22.5720 | 24.1396 | 24.8245 | 23.8464
530012 | 1.6902 | 0.9207 | 22.4716 | 24.3454 | 25.2526 | 24.0014
530014 | 1.6077 | 0.9207 | 21.7314 | 23.6907 | 24.5947 | 23.3995
530015 | 1.2773 | 0.9207 | 25.3915 | 26.3107 | 27.6876 | 26.4934
530016 | 1.3351 | 0.9207 | 21.0666 | 21.6575 | * | 21.3685
530017 | 0.9556 | 0.9207 | 19.5630 | 23.5415 | 25.3362 | 22.8987
530023 | 1.1558 | 0.9207 | 22.5535 | 24.1493 | 21.3813 | 22.6451
530025 | 1.2781 | 1.0146 | 25.4693 | 27.7988 | 28.6938 | 27.3568
530026 | *** | 0.9207 | 21.0732 | * | * | 21.0732
530031 | 0.9546 | 0.9207 | 16.8825 | 16.3472 | * | 16.6017
530032 | 1.0215 | 0.9207 | 19.4449 | 22.6584 | 22.9391 | 21.6640
¹ Based on salaries adjusted for occupational mix, according to the calculation in section III.C.2. of the preamble to this proposed rule.
² These hospitals are assigned a wage index value according to section III.H. of the preamble of this proposed rule.
ʰ These hospitals are assigned a wage index value according to section III.G. of the preamble to this proposed rule.
*Denotes wage data not available for the provider for that year.
**Based on the sum of the salaries and hours computed for Federal FYs 2004, 2005, and 2006.
***Denotes MedPAR data not available for the provider for FY 2004.

Table 3A.—FY 2006 and 3-Year* Average Hourly Wage for Urban Areas by CBSA
[*Based on the sum of the salaries and hours computed for Federal fiscal years 2004, 2005, and 2006]
CBSA code | Urban area | FY 2006 average hourly wage | 3-Year average hourly wage
10180 | Abilene, TX | 22.1701 | 20.4985
10380 | Aguadilla-Isabela-San Sebastín, PR | 13.2502 | 11.5908
10420 | Akron, OH | 25.1189 | 23.9584
10500 | Albany, GA | 24.1844 | 26.6216
10580 | Albany-Schenectady-Troy, NY | 23.9528 | 22.6259
10740 | Albuquerque, NM | 27.1248 | 25.7999
10780 | Alexandria, LA | 22.5148 | 21.3129
10900 | Allentown-Bethlehem-Easton, PA-NJ | 27.5389 | 25.5680
11020 | Altoona, PA | 25.0167 | 22.9759
11100 | Amarillo, TX | 25.6410 | 24.0270
11180 | Ames, IA | 26.7068 | 25.0247
11260 | Anchorage, AK | 33.8779 | 32.1826
11300 | Anderson, IN | 24.1549 | 23.0714
11340 | Anderson, SC | 24.8624 | 22.9488
11460 | Ann Arbor, MI | 30.4505 | 29.2076
11500 | Anniston-Oxford, AL | 21.4718 | 20.7611
11540 | Appleton, WI | 25.9098 | 24.1044
11700 | Asheville, NC | 26.0511 | 24.5466
12020 | Athens-Clarke County, GA | 27.4532 | 26.1928
12060 | Atlanta-Sandy Springs-Marietta, GA | 26.9604 | 26.0983
12100 | Atlantic City, NJ | 32.5013 | 29.4922
12220 | Auburn-Opelika, AL | 22.6976 | 21.8061
12260 | Augusta-Richmond County, GA-SC | 26.7647 | 24.8652
12420 | Austin-Round Rock, TX | 26.4408 | 25.2181
12540 | Bakersfield, CA | 28.9777 | 26.6414
12580 | Baltimore-Towson, MD | 27.6740 | 26.1267
12620 | Bangor, ME | 27.9343 | 26.2399
12700 | Barnstable Town, MA | 35.0207 | 33.2353
12940 | Baton Rouge, LA | 24.0727 | 22.2239
12980 | Battle Creek, MI | 26.5543 | 24.8160
13020 | Bay City, MI | 26.1760 | 25.1852
13140 | Beaumont-Port Arthur, TX | 23.5603 | 22.3855
13380 | Bellingham, WA | 32.7446 | 30.8324
13460 | Bend, OR | 30.1666 | 28.0136
13644 | Bethesda-Frederick-Gaithersburg, MD | 32.0917 | 29.4434
13740 | Billings, MT | 24.7710 | 23.5742
13780 | Binghamton, NY | 24.0264 | 22.4051
13820 | Birmingham-Hoover, AL | 25.1185 | 23.9577
13900 | Bismarck, ND | 21.0353 | 20.1696
13980 | Blacksburg-Christiansburg-Radford, VA | 22.3143 | 21.3890
14020 | Bloomington, IN | 23.7061 | 22.5941
14060 | Bloomington-Normal, IL | 25.4101 | 23.7897
14260 | Boise City-Nampa, ID | 25.3133 | 24.3052
14484 | Boston-Quincy, MA | 32.2755 | 30.7174
14500 | Boulder, CO | 27.2574 | 26.2715
14540 | Bowling Green, KY | 23.0011 | 21.8437
14740 | Bremerton-Silverdale, WA | 29.8809 | 28.0919
14860 | Bridgeport-Stamford-Norwalk, CT | 35.2686 | 33.7851
15180 | Brownsville-Harlingen, TX | 27.5656 | 26.6683
15260 | Brunswick, GA | 26.1311 | 28.6493
15380 | Buffalo-Niagara Falls, NY | 24.8634 | 24.3177
15500 | Burlington, NC | 24.9033 | 23.6142
15540 | Burlington-South Burlington, VT | 26.4165 | 25.0134
15764 | Cambridge-Newton-Framingham, MA | 30.9921 | 29.2429
15804 | Camden, NJ | 29.4132 | 28.1192
15940 | Canton-Massillon, OH | 25.0564 | 23.6833
15980 | Cape Coral-Fort Myers, FL | 26.1095 | 25.0250
16180 | Carson City, NV | 28.6158 | 27.0192
16220 | Casper, WY | 25.2526 | 24.0014
16300 | Cedar Rapids, IA | 24.0727 | 23.2382
16580 | Champaign-Urbana, IL | 26.8325 | 25.4853
16620 | Charleston, WV | 23.5802 | 22.9895
16700 | Charleston-North Charleston, SC | 26.3883 | 24.7642
16740 | Charlotte-Gastonia-Concord, NC-SC | 27.1825 | 25.6465
16820 | Charlottesville, VA | 28.6200 | 26.8014
16860 | Chattanooga, TN-GA | 25.4537 | 24.0895
16940 | Cheyenne, WY | 24.5947 | 23.3995
16974 | Chicago-Naperville-Joliet, IL | 30.3410 | 28.6963
17020 | Chico, CA | 29.4447 | 27.4655
17140 | Cincinnati-Middletown, OH-KY-IN | 26.8669 | 25.0229
17300 | Clarksville, TN-KY | 23.1419 | 21.5444
17420 | Cleveland, TN | 22.8278 | 21.2133
17460 | Cleveland-Elyria-Mentor, OH | 25.7303 | 25.0687
17660 | Coeur d'Alene, ID | 26.9749 | 25.1364
17780 | College Station-Bryan, TX | 24.9298 | 23.8550
17820 | Colorado Springs, CO | 26.4562 | 25.5825
17860 | Columbia, MO | 23.3470 | 22.3003
17900 | Columbia, SC | 25.3362 | 24.0049
17980 | Columbus, GA-AL | 23.9764 | 22.7919
18020 | Columbus, IN | 26.8458 | 25.0573
18140 | Columbus, OH | 27.5495 | 25.7193
18580 | Corpus Christi, TX | 23.9399 | 22.6210
18700 | Corvallis, OR | 29.9648 | 28.7806
19060 | Cumberland, MD-WV | 26.0448 | 22.8828
19124 | Dallas-Plano-Irving, TX | 28.6076 | 26.7125
19140 | Dalton, GA | 25.2695 | 24.8431
19180 | Danville, IL | 25.3127 | 22.9099
19260 | Danville, VA | 23.8191 | 23.0000
19340 | Davenport-Moline-Rock Island, IA-IL | 24.3842 | 23.2403
19380 | Dayton, OH | 25.3708 | 24.4405
19460 | Decatur, AL | 23.7138 | 22.9734
19500 | Decatur, IL | 22.5852 | 21.4281
19660 | Deltona-Daytona Beach-Ormond Beach, FL | 26.0379 | 24.0560
19740 | Denver-Aurora, CO | 29.9610 | 28.5110
19780 | Des Moines, IA | 26.9975 | 24.6647
19804 | Detroit-Livonia-Dearborn, MI | 29.2431 | 27.2952
20020 | Dothan, AL | 21.6602 | 20.2540
20100 | Dover, DE | 27.4735 | 25.9428
20220 | Dubuque, IA | 25.5030 | 23.5042
20260 | Duluth, MN-WI | 28.5299 | 27.0543
20500 | Durham, NC | 28.7033 | 27.3555
20740 | Eau Claire, WI | 25.7563 | 24.1573
20764 | Edison, NJ | 31.5082 | 29.5433
20940 | El Centro, CA | 25.1083 | 23.7136
21060 | Elizabethtown, KY | 24.6642 | 22.6125
21140 | Elkhart-Goshen, IN | 26.9005 | 25.1975
21300 | Elmira, NY | 23.1540 | 22.0419
21340 | El Paso, TX | 25.0500 | 23.9275
21500 | Erie, PA | 24.4677 | 22.8915
21604 | Essex County, MA | 29.4434 | 27.9641
21660 | Eugene-Springfield, OR | 30.2425 | 29.2693
21780 | Evansville, IN-KY | 24.4379 | 22.4627
21820 | Fairbanks, AK | 31.8995 | 29.8198
21940 | Fajardo, PR | 11.6386 | 10.6772
22020 | Fargo, ND-MN | 23.7360 | 23.9742
22140 | Farmington, NM | 23.8264 | 22.4376
22180 | Fayetteville, NC | 26.3708 | 24.3719
22220 | Fayetteville-Springdale-Rogers, AR-MO | 24.0127 | 22.5998
22380 | Flagstaff, AZ | 33.8333 | 30.2808
22420 | Flint, MI | 29.7989 | 28.6871
22500 | Florence, SC | 25.1444 | 23.2705
22520 | Florence-Muscle Shoals, AL | 23.2344 | 21.0532
22540 | Fond du Lac, WI | 26.9936 | 25.7252
22660 | Fort Collins-Loveland, CO | 28.2568 | 26.7964
22744 | Fort Lauderdale-Pompano Beach-Deerfield Beach, FL | 29.1773 | 27.0873
22900 | Fort Smith, AR-OK | 23.0272 | 21.9069
23020 | Fort Walton Beach-Crestview-Destin, FL | 24.8333 | 23.4332
23060 | Fort Wayne, IN | 27.4082 | 25.7154
23104 | Fort Worth-Arlington, TX | 26.6167 | 24.9487
23420 | Fresno, CA | 29.6215 | 27.6921
23460 | Gadsden, AL | 22.3074 | 21.3197
23540 | Gainesville, FL | 26.4676 | 25.1553
23580 | Gainesville, GA | 24.8893 | 24.3542
23844 | Gary, IN | 26.2014 | 24.6755
24020 | Glens Falls, NY | 24.0232 | 22.4577
24140 | Goldsboro, NC | 24.5666 | 23.0280
24220 | Grand Forks, ND-MN | 32.2306 | 26.3170
24300 | Grand Junction, CO | 26.8293 | 25.6655
24340 | Grand Rapids-Wyoming, MI | 26.2918 | 24.9274
24500 | Great Falls, MT | 25.2873 | 23.4084
24540 | Greeley, CO | 26.8470 | 25.0779
24580 | Green Bay, WI | 26.4060 | 25.1220
24660 | Greensboro-High Point, NC | 25.5495 | 24.2161
24780 | Greenville, NC | 26.3325 | 24.3631
24860 | Greenville, SC | 28.3616 | 25.8028
25020 | Guayama, PR | 08.9125 | 09.5939
25060 | Gulfport-Biloxi, MS | 24.9592 | 23.9056
25180 | Hagerstown-Martinsburg, MD-WV | 26.6548 | 25.0347
25260 | Hanford-Corcoran, CA | 28.1814 | 25.1270
25420 | Harrisburg-Carlisle, PA | 26.0656 | 24.4935
25500 | Harrisonburg, VA | 25.4597 | 24.2345
25540 | Hartford-West Hartford-East Hartford, CT | 31.0121 | 29.5959
25620 | Hattiesburg, MS | 21.3089 | 19.6542
25860 | Hickory-Lenoir-Morganton, NC | 24.9837 | 24.3032
25980 | ¹Hinesville-Fort Stewart, GA | .------- | .-------
26100 | Holland-Grand Haven, MI | 25.4579 | 24.5609
26180 | Honolulu, HI | 31.3501 | 29.2509
26300 | Hot Springs, AR | 25.3627 | 24.1181
26380 | Houma-Bayou Cane-Thibodaux, LA | 22.1079 | 20.5356
26420 | Houston-Baytown-Sugar Land, TX | 27.9993 | 26.1356
26580 | Huntington-Ashland, WV-KY-OH | 26.5266 | 25.2510
26620 | Huntsville, AL | 25.5254 | 23.9276
26820 | Idaho Falls, ID | 26.3236 | 24.2135
26900 | Indianapolis, IN | 27.7571 | 26.3923
26980 | Iowa City, IA | 27.2791 | 25.4755
27060 | Ithaca, NY | 27.5699 | 25.6624
27100 | Jackson, MI | 26.0171 | 24.0809
27140 | Jackson, MS | 23.2553 | 21.9059
27180 | Jackson, TN | 25.0772 | 23.6035
27260 | Jacksonville, FL | 26.0254 | 24.9544
27340 | Jacksonville, NC | 23.0236 | 22.0702
27500 | Janesville, WI | 26.7462 | 25.0136
27620 | Jefferson City, MO | 23.4699 | 22.4350
27740 | Johnson City, TN | 22.2633 | 21.2152
27780 | Johnstown, PA | 23.3540 | 22.1239
27860 | Jonesboro, AR | 22.2913 | 21.0721
27900 | Joplin, MO | 24.0416 | 22.8597
28020 | Kalamazoo-Portage, MI | 29.1036 | 28.0902
28100 | Kankakee-Bradley, IL | 30.7469 | 28.2579
28140 | Kansas City, MO-KS | 26.4479 | 25.2795
28420 | Kennewick-Richland-Pasco, WA | 29.7070 | 27.8472
28660 | Killeen-Temple-Fort Hood, TX | 23.9626 | 23.6807
28700 | Kingsport-Bristol-Bristol, TN-VA | 22.5380 | 21.6656
28740 | Kingston, NY | 25.9063 | 24.4214
28940 | Knoxville, TN | 23.6960 | 22.7400
29020 | Kokomo, IN | 26.7312 | 24.3627
29100 | La Crosse, WI-MN | 26.7369 | 24.6616
29140 | Lafayette, IN | 24.4215 | 23.5470
29180 | Lafayette, LA | 23.5797 | 22.0745
29340 | Lake Charles, LA | 21.9512 | 20.7252
29404 | Lake County-Kenosha County, IL-WI | 29.2180 | 27.3940
29460 | Lakeland, FL | 24.9925 | 23.4702
29540 | Lancaster, PA | 27.1801 | 25.5025
29620 | Lansing-East Lansing, MI | 27.3767 | 25.6366
29700 | Laredo, TX | 22.6637 | 21.9619
29740 | Las Cruces, NM | 23.6548 | 22.8284
29820 | Las Vegas-Paradise, NV | 31.9355 | 30.3760
29940 | Lawrence, KS | 23.8863 | 22.7099
30020 | Lawton, OK | 22.1442 | 21.4717
30140 | Lebanon, PA | 24.2087 | 23.0471
30300 | Lewiston, ID-WA | 27.6345 | 24.9793
30340 | Lewiston-Auburn, ME | 26.1064 | 24.8965
30460 | Lexington-Fayette, KY | 25.3464 | 22.7343
30620 | Lima, OH | 25.7797 | 24.7454
30700 | Lincoln, NE | 28.5262 | 27.0530
30780 | Little Rock-North Little Rock, AR | 24.5286 | 23.3089
30860 | Logan, UT-ID | 25.6905 | 24.3475
30980 | Longview, TX | 24.4521 | 23.4643
31020 | Longview, WA | 26.5976 | 26.1814
31084 | Los Angeles-Long Beach-Glendale, CA | 32.9050 | 31.0454
31140 | Louisville, KY-IN | 25.9154 | 24.2971
31180 | Lubbock, TX | 24.5905 | 22.7060
31340 | Lynchburg, VA | 24.3559 | 23.5846
31420 | Macon, GA | 26.5343 | 25.0025
31460 | Madera, CA | 24.4061 | 22.5247
31540 | Madison, WI | 29.7363 | 27.4059
31700 | Manchester-Nashua, NH | 28.8847 | 27.6772
31900 | ¹Mansfield, OH | ------- | -------
32420 | Mayagüez, PR | 11.2362 | 11.3917
32580 | McAllen-Edinburg-Pharr, TX | 25.0238 | 22.9932
32780 | Medford, OR | 28.6299 | 27.7062
32820 | Memphis, TN-MS-AR | 26.1471 | 24.2118
32900 | Merced, CA | 31.1184 | 27.6673
33124 | Miami-Miami Beach-Kendall, FL | 27.2942 | 25.9755
33140 | Michigan City-La Porte, IN | 26.3221 | 24.7313
33260 | Midland, TX | 26.6395 | 25.3824
33340 | Milwaukee-Waukesha-West Allis, WI | 28.2858 | 26.5793
33460 | Minneapolis-St. Paul-Bloomington, MN-WI | 30.9281 | 29.1156
33540 | Missoula, MT | 26.4227 | 24.2896
33660 | Mobile, AL | 22.1076 | 20.9624
33700 | Modesto, CA | 33.0964 | 31.0034
33740 | Monroe, LA | 22.5035 | 20.9918
33780 | Monroe, MI | 26.4882 | 25.0486
33860 | Montgomery, AL | 24.0586 | 21.7643
34060 | Morgantown, WV | 23.6097 | 22.7263
34100 | Morristown, TN | 24.5017 | 21.6486
34580 | Mount Vernon-Anacortes, WA | 29.2146 | 27.8316
34620 | Muncie, IN | 25.0449 | 23.0977
34740 | Muskegon-Norton Shores, MI | 27.0713 | 25.4822
34820 | Myrtle Beach-Conway-North Myrtle Beach, SC | 24.8106 | 23.7419
34900 | Napa, CA | 35.3683 | 32.9923
34940 | Naples-Marco Island, FL | 28.2979 | 26.9037
34980 | Nashville-Davidson—Murfreesboro, TN | 27.2968 | 26.1014
35004 | Nassau-Suffolk, NY | 35.7543 | 34.1418
35084 | Newark-Union, NJ-PA | 34.1064 | 31.1564
35300 | New Haven-Milford, CT | 32.7989 | 31.1765
35380 | New Orleans-Metairie-Kenner, LA | 25.1852 | 23.9697
35644 | New York-Wayne-White Plains, NY-NJ | 36.9026 | 35.2542
35660 | Niles-Benton Harbor, MI | 24.8541 | 23.3997
35980 | Norwich-New London, CT | 31.8510 | 30.4182
36084 | Oakland-Fremont-Hayward, CA | 42.8742 | 40.0207
36100 | Ocala, FL | 25.0519 | 24.4578
36140 | Ocean City, NJ | 30.8612 | 28.5543
36220 | Odessa, TX | 27.6769 | 25.1761
36260 | Ogden-Clearfield, UT | 25.2772 | 24.5654
36420 | Oklahoma City, OK | 25.2975 | 23.7988
36500 | Olympia, WA | 30.5859 | 28.9079
36540 | Omaha-Council Bluffs, NE-IA | 26.7314 | 25.5410
36740 | Orlando, FL | 26.4250 | 25.3813
36780 | Oshkosh-Neenah, WI | 25.6249 | 23.9585
36980 | Owensboro, KY | 24.6348 | 22.4970
37100 | Oxnard-Thousand Oaks-Ventura, CA | 32.4624 | 29.7410
37340 | Palm Bay-Melbourne-Titusville, FL | 27.4887 | 25.7496
37460 | Panama City-Lynn Haven, FL | 22.3439 | 21.3568
37620 | Parkersburg-Marietta, WV-OH | 23.2293 | 21.7277
37700 | Pascagoula, MS | 22.8397 | 21.4591
37860 | Pensacola-Ferry Pass-Brent, FL | 22.6287 | 22.0289
37900 | Peoria, IL | 24.7421 | 23.2730
37964 | Philadelphia, PA | 30.8573 | 28.8565
38060 | Phoenix-Mesa-Scottsdale, AZ | 28.3642 | 26.6530
38220 | Pine Bluff, AR | 24.3824 | 22.1870
38300 | Pittsburgh, PA | 24.7296 | 23.2597
38340 | Pittsfield, MA | 28.4877 | 27.1701
38540 | Pocatello, ID | 26.1526 | 24.5528
38660 | Ponce, PR | 14.4851 | 13.0375
38860 | Portland-South Portland-Biddeford, ME | 29.0440 | 26.7442
38900 | Portland-Vancouver-Beaverton, OR-WA | 31.4148 | 29.7614
38940 | Port St. Lucie-Fort Pierce, FL | 28.3669 | 26.5761
39100 | Poughkeepsie-Newburgh-Middletown, NY | 30.1207 | 29.3034
39140 | Prescott, AZ | 27.6508 | 26.3318
39300 | Providence-New Bedford-Fall River, RI-MA | 30.6398 | 28.8359
39340 | Provo-Orem, UT | 26.5574 | 25.4669
39380 | Pueblo, CO | 24.1431 | 23.0046
39460 | Punta Gorda, FL | 25.9442 | 24.8140
39540 | Racine, WI | 25.2201 | 23.6789
39580 | Raleigh-Cary, NC | 27.1623 | 25.4788
39660 | Rapid City, SD | 25.2538 | 23.5560
39740 | Reading, PA | 27.1301 | 24.7239
39820 | Redding, CA | 34.1503 | 31.2183
39900 | Reno-Sparks, NV | 30.7272 | 28.3079
40060 | Richmond, VA | 26.0695 | 24.6756
40140 | Riverside-San Bernardino-Ontario, CA | 30.8328 | 29.3251
40220 | Roanoke, VA | 23.4915 | 22.4289
40340 | Rochester, MN | 31.1302 | 30.1737
40380 | Rochester, NY | 25.5065 | 24.5493
40420 | Rockford, IL | 27.9047 | 25.7304
40484 | Rockingham County-Strafford County, NH | 29.0055 | 27.0997
40580 | Rocky Mount, NC | 24.9648 | 23.6953
40660 | Rome, GA | 26.3370 | 23.8100
40900 | Sacramento--Arden-Arcade--Roseville, CA | 36.2362 | 32.0754
40980 | Saginaw-Saginaw Township North, MI | 26.5050 | 25.8822
41060 | St. Cloud, MN | 28.0585 | 26.3196
41100 | St. George, UT | 26.3420 | 25.1139
41140 | St. Joseph, MO-KS | 26.7587 | 25.8174
41180 | St. Louis, MO-IL | 25.0452 | 23.7896
41420 | Salem, OR | 29.2207 | 27.6647
41500 | Salinas, CA | 39.5570 | 37.1828
41540 | Salisbury, MD | 25.3485 | 24.0517
41620 | Salt Lake City, UT | 26.3970 | 25.4439
41660 | San Angelo, TX | 23.1837 | 21.9567
41700 | San Antonio, TX | 25.1428 | 23.6255
41740 | San Diego-Carlsbad-San Marcos, CA | 31.9401 | 29.8191
41780 | Sandusky, OH | 25.2690 | 23.6568
41884 | San Francisco-San Mateo-Redwood City, CA | 41.8804 | 38.9640
41900 | San Germán-Cabo Rojo, PR | 12.9971 | 13.4135
41940 | San Jose-Sunnyvale-Santa Clara, CA | 42.2833 | 39.0995
41980 | San Juan-Caguas-Guaynabo, PR | 13.1085 | 12.3738
42020 | San Luis Obispo-Paso Robles, CA | 31.7731 | 29.7965
42044 | Santa Ana-Anaheim-Irvine, CA | 32.3515 | 30.4088
42060 | Santa Barbara-Santa Maria-Goleta, CA | 32.2413 | 28.8239
42100 | Santa Cruz-Watsonville, CA | 42.4095 | 37.7929
42140 | Santa Fe, NM | 30.5158 | 28.6521
42220 | Santa Rosa-Petaluma, CA | 37.7122 | 34.7294
42260 | Sarasota-Bradenton-Venice, FL | 26.6769 | 25.5601
42340 | Savannah, GA | 26.5289 | 24.9832
42540 | Scranton—Wilkes-Barre, PA | 23.8629 | 22.4039
42644 | Seattle-Bellevue-Everett, WA | 32.3774 | 30.4447
43100 | Sheboygan, WI | 24.9924 | 23.3301
43300 | Sherman-Denison, TX | 26.6281 | 25.3544
43340 | Shreveport-Bossier City, LA | 24.5258 | 23.6868
43580 | Sioux City, IA-NE-SD | 26.1843 | 24.0956
43620 | Sioux Falls, SD | 26.9025 | 25.0103
43780 | South Bend-Mishawaka, IN-MI | 27.3743 | 25.4781
43900 | Spartanburg, SC | 25.6900 | 24.5737
44060 | Spokane, WA | 30.4868 | 28.5450
44100 | Springfield, IL | 24.8405 | 23.3039
44140 | Springfield, MA | 28.7008 | 27.2255
44180 | Springfield, MO | 23.0819 | 22.2164
44220 | Springfield, OH | 23.4939 | 22.7752
44300 | State College, PA | 23.4099 | 22.4626
44700 | Stockton, CA | 31.7047 | 28.5078
44940 | Sumter, SC | 23.4355 | 22.1331
45060 | Syracuse, NY | 26.8425 | 25.0698
45104 | Tacoma, WA | 30.0701 | 28.9533
45220 | Tallahassee, FL | 24.3724 | 22.7559
45300 | Tampa-St. Petersburg-Clearwater, FL | 25.8608 | 24.1485
45460 | Terre Haute, IN | 23.2574 | 22.0638
45500 | Texarkana, TX-Texarkana, AR | 23.2000 | 21.8927
45780 | Toledo, OH | 26.7822 | 25.0440
45820 | Topeka, KS | 24.9561 | 23.6665
45940 | Trenton-Ewing, NJ | 30.3180 | 27.8778
46060 | Tucson, AZ | 25.1965 | 23.6781
46140 | Tulsa, OK | 23.2484 | 22.9280
46220 | Tuscaloosa, AL | 24.4051 | 22.1412
46340 | Tyler, TX | 26.0797 | 24.9826
46540 | Utica-Rome, NY | 23.2558 | 21.9605
46660 | Valdosta, GA | 24.8233 | 22.4638
46700 | Vallejo-Fairfield, CA | 41.6513 | 38.4022
46940 | Vero Beach, FL | 26.4579 | 25.3120
47020 | Victoria, TX | 22.7937 | 21.7127
47220 | Vineland-Millville-Bridgeton, NJ | 27.5232 | 27.0476
47260 | Virginia Beach-Norfolk-Newport News, VA-NC | 24.7332 | 23.2422
47300 | Visalia-Porterville, CA | 28.2676 | 26.4299
47380 | Waco, TX | 23.8678 | 22.0533
47580 | Warner Robins, GA | 24.2312 | 22.6117
47644 | Warren-Farmington Hills-Troy, MI | 27.5791 | 26.2703
47894 | Washington-Arlington-Alexandria, DC-VA-MD-WV | 30.5916 | 28.8815
47940 | Waterloo-Cedar Falls, IA | 23.9572 | 22.5445
48140 | Wausau, WI | 27.0185 | 25.5053
48260 | Weirton-Steubenville, WV-OH | 21.8793 | 21.4989
48300 | Wenatchee, WA | 28.1544 | 26.5892
48424 | West Palm Beach-Boca Raton-Boynton Beach, FL | 28.1452 | 26.6150
48540 | Wheeling, WV-OH | 20.0483 | 19.3905
48620 | Wichita, KS | 25.6152 | 24.4842
48660 | Wichita Falls, TX | 23.2954 | 21.9177
48700 | Williamsport, PA | 23.4090 | 21.9892
48864 | Wilmington, DE-MD-NJ | 29.4490 | 28.5184
48900 | Wilmington, NC | 26.7996 | 24.9839
49020 | Winchester, VA-WV | 28.5744 | 27.1963
49180 | Winston-Salem, NC | 25.0655 | 24.1158
49340 | Worcester, MA | 30.8969 | 29.3320
49420 | Yakima, WA | 28.4267 | 27.0960
49500 | Yauco, PR | 12.3449 | 12.0750
49620 | York-Hanover, PA | 26.3577 | 24.3575
49660 | Youngstown-Warren-Boardman, OH-PA | 24.0832 | 23.4935
49700 | Yuba City, CA | 30.6351 | 27.8070
49740 | Yuma, AZ | 25.7050 | 23.8047
¹This area has no average hourly wage because there are no IPPS hospitals in the area.

Table 3B.—FY 2006 and 3-Year* Average Hourly Wage for Rural Areas by CBSA
[*Based on the sum of the salaries and hours computed for Federal fiscal years 2004, 2005, and 2006]
CBSA code | Nonurban area | FY 2006 average hourly wage | 3-Year Average Hourly Wage
01 | Alabama | 20.9677 | 19.9301
02 | Alaska | 33.5065 | 31.4748
03 | Arizona | 24.5771 | 23.5781
04 | Arkansas | 20.9189 | 19.6660
05 | California | 30.3466 | 27.6453
06 | Colorado | 26.2370 | 24.6175
07 | Connecticut | 32.9843 | 31.5388
08 | Delaware | 26.8747 | 25.1962
10 | Florida | 24.0946 | 22.8362
11 | Georgia | 21.4961 | 20.5018
12 | Hawaii | 29.6476 | 27.4203
13 | Idaho | 22.5556 | 21.6678
14 | Illinois | 23.1784 | 21.8542
15 | Indiana | 24.1494 | 22.9960
16 | Iowa | 23.7869 | 22.2470
17 | Kansas | 22.3594 | 21.2491
18 | Kentucky | 21.7864 | 20.6370
19 | Louisiana | 20.8290 | 19.5920
20 | Maine | 24.7292 | 23.4474
21 | Maryland | 25.4559 | 24.0971
22 | Massachusetts ¹ |  |
23 | Michigan | 24.8226 | 23.3712
24 | Minnesota | 25.6894 | 24.4485
25 | Mississippi | 21.5005 | 20.3551
26 | Missouri | 22.1717 | 20.6813
27 | Montana | 24.6808 | 23.0871
28 | Nebraska | 24.2446 | 23.3257
29 | Nevada | 25.3983 | 24.4345
30 | New Hampshire | 29.8455 | 26.8676
31 | New Jersey ¹ |  |
32 | New Mexico | 24.1961 | 22.4946
33 | New York | 22.8600 | 21.6353
34 | North Carolina | 23.9761 | 22.5825
35 | North Dakota | 20.3602 | 20.0510
36 | Ohio | 24.5857 | 23.0443
37 | Oklahoma | 21.2973 | 20.1660
38 | Oregon | 27.4748 | 25.9138
39 | Pennsylvania | 23.2205 | 21.9390
40 | Puerto Rico ¹ |  |
41 | Rhode Island ¹ |  |
42 | South Carolina | 24.2359 | 22.7771
43 | South Dakota | 23.7080 | 21.9887
44 | Tennessee | 22.1430 | 20.8103
45 | Texas | 22.4855 | 21.0274
46 | Utah | 22.7561 | 21.7771
47 | Vermont | 27.4761 | 24.9413
49 | Virginia | 22.4489 | 21.2273
50 | Washington | 29.2600 | 27.4343
51 | West Virginia | 21.6576 | 20.5854
52 | Wisconsin | 26.5156 | 24.7363
53 | Wyoming | 25.7561 | 24.1767
¹ All counties within the State or territory are classified as urban.

Table 4A.—Wage Index and Capital Geographic Adjustment Factor (GAF) for Urban Areas by CBSA
CBSA code | Urban area (constituent counties) | Wage index | GAF
10180 | ² Abilene, TX | 0.8038 | 0.8611
| Callahan County, TX
| Jones County, TX
| Taylor County, TX
10380 | Aguadilla-Isabela-San Sebastián, PR | 0.4736 | 0.5994
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8979 | 0.9289
| Portage County, OH
| Summit County, OH
10500 | Albany, GA | 0.8645 | 0.9051
| Baker County, GA
| Dougherty County, GA
| Lee County, GA
| Terrell County, GA
| Worth County, GA
10580 | Albany-Schenectady-Troy, NY | 0.8565 | 0.8994
| Albany County, NY
| Rensselaer County, NY
| Saratoga County, NY
| Schenectady County, NY
| Schoharie County, NY
10740 | Albuquerque, NM | 0.9696 | 0.9791
| Bernalillo County, NM
| Sandoval County, NM
| Torrance County, NM
| Valencia County, NM
10780 | Alexandria, LA | 0.8048 | 0.8618
| Grant Parish, LA
| Rapides Parish, LA
10900 | Allentown-Bethlehem-Easton, PA-NJ (PA Hospitals) | 0.9844 | 0.9893
| Warren County, NJ
| Carbon County, PA
| Lehigh County, PA
| Northampton County, PA
10900 | ² Allentown-Bethlehem-Easton, PA-NJ (NJ Hospitals) | 1.0607 | 1.0412
| Warren County, NJ
| Carbon County, PA
| Lehigh County, PA
| Northampton County, PA
11020 | Altoona, PA | 0.8942 | 0.9263
| Blair County, PA
11100 | Amarillo, TX | 0.9165 | 0.9420
| Armstrong County, TX
| Carson County, TX
| Potter County, TX
| Randall County, TX
11180 | Ames, IA | 0.9546 | 0.9687
| Story County, IA
11260 | Anchorage, AK | 1.2110 | 1.1401
| Anchorage Municipality, AK
| Matanuska-Susitna Borough, AK
11300 | Anderson, IN | 0.8634 | 0.9043
| Madison County, IN
11340 | Anderson, SC | 0.8887 | 0.9224
| Anderson County, SC
11460 | Ann Arbor, MI | 1.0885 | 1.0598
| Washtenaw County, MI
11500 | Anniston-Oxford, AL | 0.7702 | 0.8363
| Calhoun County, AL
11540 | ²Appleton, WI | 0.9478 | 0.9640
| Calumet County, WI
| Outagamie County, WI
11700 | Asheville, NC | 0.9312 | 0.9524
| Buncombe County, NC
| Haywood County, NC
| Henderson County, NC
| Madison County, NC
12020 | Athens-Clarke County, GA | 0.9813 | 0.9872
| Clarke County, GA
| Madison County, GA
| Oconee County, GA
| Oglethorpe County, GA
12060 | ¹ Atlanta-Sandy Springs-Marietta, GA | 0.9637 | 0.9750
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1618 | 1.1082
| Atlantic County, NJ
12220 | Auburn-Opelika, AL | 0.8113 | 0.8666
| Lee County, AL
12260 | Augusta-Richmond County, GA-SC | 0.9567 | 0.9701
| Burke County, GA
| Columbia County, GA
| McDuffie County, GA
| Richmond County, GA
| Aiken County, SC
| Edgefield County, SC
12420 | ¹Austin-Round Rock, TX | 0.9451 | 0.9621
| Bastrop County, TX
| Caldwell County, TX
| Hays County, TX
| Travis County, TX
| Williamson County, TX
12540 | ² Bakersfield, CA | 1.0848 | 1.0573
| Kern County, CA
12580 | ¹ Baltimore-Towson, MD | 0.9892 | 0.9926
| Anne Arundel County, MD
| Baltimore County, MD
| Carroll County, MD
| Harford County, MD
| Howard County, MD
| Queen Anne's County, MD
| Baltimore City, MD
12620 | Bangor, ME | 0.9985 | 0.9990
| Penobscot County, ME
12700 | Barnstable Town, MA | 1.2518 | 1.1663
| Barnstable County, MA
12940 | Baton Rouge, LA | 0.8605 | 0.9022
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9492 | 0.9649
| Calhoun County, MI
13020 | Bay City, MI | 0.9535 | 0.9679
| Bay County, MI
13140 | Beaumont-Port Arthur, TX | 0.8422 | 0.8890
| Hardin County, TX
| Jefferson County, TX
| Orange County, TX
13380 | Bellingham, WA | 1.1705 | 1.1138
| Whatcom County, WA
13460 | Bend, OR | 1.0783 | 1.0530
| Deschutes County, OR
13644 | ¹ Bethesda-Frederick-Gaithersburg, MD | 1.1471 | 1.0985
| Frederick County, MD
| Montgomery County, MD
13740 | Billings, MT | 0.8855 | 0.9201
| Carbon County, MT
| Yellowstone County, MT
13780 | Binghamton, NY | 0.8588 | 0.9010
| Broome County, NY
| Tioga County, NY
13820 | ¹ Birmingham-Hoover, AL | 0.8979 | 0.9289
| Bibb County, AL
| Blount County, AL
| Chilton County, AL
| Jefferson County, AL
| St. Clair County, AL
| Shelby County, AL
| Walker County, AL
13900 | Bismarck, ND | 0.7519 | 0.8226
| Burleigh County, ND
| Morton County, ND
13980 | ² Blacksburg-Christiansburg-Radford, VA | 0.8024 | 0.8601
| Giles County, VA
| Montgomery County, VA
| Pulaski County, VA
| Radford City, VA
14020 | ² Bloomington, IN | 0.8632 | 0.9042
| Greene County, IN
| Monroe County, IN
| Owen County, IN
14060 | Bloomington-Normal, IL | 0.9083 | 0.9363
| McLean County, IL
14260 | Boise City-Nampa, ID | 0.9048 | 0.9338
| Ada County, ID
| Boise County, ID
| Canyon County, ID
| Gem County, ID
| Owyhee County, ID
14484 | ¹ Boston-Quincy, MA | 1.1537 | 1.1029
| Norfolk County, MA
| Plymouth County, MA
| Suffolk County, MA
14500 | Boulder, CO | 0.9743 | 0.9823
| Boulder County, CO
14540 | Bowling Green, KY | 0.8222 | 0.8745
| Edmonson County, KY
| Warren County, KY
14740 | Bremerton-Silverdale, WA | 1.0681 | 1.0461
| Kitsap County, WA
14860 | Bridgeport-Stamford-Norwalk, CT | 1.2607 | 1.1719
| Fairfield County, CT
15180 | Brownsville-Harlingen, TX | 0.9853 | 0.9899
| Cameron County, TX
15260 | Brunswick, GA | 0.9341 | 0.9544
| Brantley County, GA
| Glynn County, GA
| McIntosh County, GA
15380 | ¹ Buffalo-Niagara Falls, NY | 0.8888 | 0.9224
| Erie County, NY
| Niagara County, NY
15500 | Burlington, NC | 0.8902 | 0.9234
| Alamance County, NC
15540 | ² Burlington-South Burlington, VT | 1.0199 | 1.0136
| Chittenden County, VT
| Franklin County, VT
| Grand Isle County, VT
15764 | ¹ Cambridge-Newton-Framingham, MA | 1.1078 | 1.0726
| Middlesex County, MA
15804 | ¹ ² Camden, NJ | 1.0607 | 1.0412
| Burlington County, NJ
| Camden County, NJ
| Gloucester County, NJ
15940 | Canton-Massillon, OH | 0.8957 | 0.9273
| Carroll County, OH
| Stark County, OH
15980 | Cape Coral-Fort Myers, FL | 0.9333 | 0.9538
| Lee County, FL
16180 | Carson City, NV | 1.0229 | 1.0156
| Carson City, NV
16220 | ² Casper, WY | 0.9207 | 0.9450
| Natrona County, WY
16300 | Cedar Rapids, IA | 0.8605 | 0.9022
| Benton County, IA
| Jones County, IA
| Linn County, IA
16580 | Champaign-Urbana, IL | 0.9591 | 0.9718
| Champaign County, IL
| Ford County, IL
| Piatt County, IL
16620 | Charleston, WV | 0.8429 | 0.8896
| Boone County, WV
| Clay County, WV
| Kanawha County, WV
| Lincoln County, WV
| Putnam County, WV
16700 | Charleston-North Charleston, SC | 0.9433 | 0.9608
| Berkeley County, SC
| Charleston County, SC
| Dorchester County, SC
16740 | ¹ Charlotte-Gastonia-Concord, NC-SC | 0.9717 | 0.9805
| Anson County, NC
| Cabarrus County, NC
| Gaston County, NC
| Mecklenburg County, NC
| Union County, NC
| York County, SC
16820 | Charlottesville, VA | 1.0230 | 1.0157
| Albemarle County, VA
| Fluvanna County, VA
| Greene County, VA
| Nelson County, VA
| Charlottesville City, VA
16860 | Chattanooga, TN-GA | 0.9099 | 0.9374
| Catoosa County, GA
| Dade County, GA
| Walker County, GA
| Hamilton County, TN
| Marion County, TN
| Sequatchie County, TN
16940 | ² Cheyenne, WY | 0.9207 | 0.9450
| Laramie County, WY
16974 | ¹ Chicago-Naperville-Joliet, IL | 1.0846 | 1.0572
| Cook County, IL
| DeKalb County, IL
| DuPage County, IL
| Grundy County, IL
| Kane County, IL
| Kendall County, IL
| McHenry County, IL
| Will County, IL
17020 | ² Chico, CA | 1.0848 | 1.0573
| Butte County, CA
17140 | ¹ Cincinnati-Middletown, OH-KY-IN | 0.9604 | 0.9727
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8272 | 0.8782
| Christian County, KY
| Trigg County, KY
| Montgomery County, TN
| Stewart County, TN
17420 | Cleveland, TN | 0.8160 | 0.8700
| Bradley County, TN
| Polk County, TN
17460 | ¹ Cleveland-Elyria-Mentor, OH | 0.9197 | 0.9443
| Cuyahoga County, OH
| Geauga County, OH
| Lake County, OH
| Lorain County, OH
| Medina County, OH
17660 | Coeur d'Alene, ID | 0.9642 | 0.9753
| Kootenai County, ID
17780 | College Station-Bryan, TX | 0.8911 | 0.9241
| Brazos County, TX
| Burleson County, TX
| Robertson County, TX
17820 | Colorado Springs, CO | 0.9457 | 0.9625
| El Paso County, CO
| Teller County, CO
17860 | Columbia, MO | 0.8346 | 0.8835
| Boone County, MO
| Howard County, MO
17900 | Columbia, SC | 0.9057 | 0.9344
| Calhoun County, SC
| Fairfield County, SC
| Kershaw County, SC
| Lexington County, SC
| Richland County, SC
| Saluda County, SC
17980 | Columbus, GA-AL | 0.8570 | 0.8997
| Russell County, AL
| Chattahoochee County, GA
| Harris County, GA
| Marion County, GA
| Muscogee County, GA
18020 | Columbus, IN | 0.9596 | 0.9722
| Bartholomew County, IN
18140 | ¹ Columbus, OH | 0.9848 | 0.9896
| Delaware County, OH
| Fairfield County, OH
| Franklin County, OH
| Licking County, OH
| Madison County, OH
| Morrow County, OH
| Pickaway County, OH
| Union County, OH
18580 | Corpus Christi, TX | 0.8557 | 0.8988
| Aransas County, TX
| Nueces County, TX
| San Patricio County, TX
18700 | Corvallis, OR | 1.0711 | 1.0482
| Benton County, OR
19060 | Cumberland, MD-WV | 0.9310 | 0.9522
| Allegany County, MD
| Mineral County, WV
19124 | ¹ Dallas-Plano-Irving, TX | 1.0226 | 1.0154
| Collin County, TX
| Dallas County, TX
| Delta County, TX
| Denton County, TX
| Ellis County, TX
| Hunt County, TX
| Kaufman County, TX
| Rockwall County, TX
19140 | Dalton, GA | 0.9033 | 0.9327
| Murray County, GA
| Whitfield County, GA
19180 | Danville, IL | 0.9048 | 0.9338
| Vermilion County, IL
19260 | Danville, VA | 0.8514 | 0.8957
| Pittsylvania County, VA
| Danville City, VA
19340 | Davenport-Moline-Rock Island, IA-IL | 0.8716 | 0.9102
| Henry County, IL
| Mercer County, IL
| Rock Island County, IL
| Scott County, IA
19380 | Dayton, OH | 0.9069 | 0.9353
| Greene County, OH
| Miami County, OH
| Montgomery County, OH
| Preble County, OH
19460 | Decatur, AL | 0.8517 | 0.8959
| Lawrence County, AL
| Morgan County, AL
19500 | ² Decatur, IL | 0.8285 | 0.8791
| Macon County, IL
19660 | Deltona-Daytona Beach-Ormond Beach, FL | 0.9307 | 0.9520
| Volusia County, FL
19740 | ¹ Denver-Aurora, CO | 1.0710 | 1.0481
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9650 | 0.9759
| Dallas County, IA
| Guthrie County, IA
| Madison County, IA
| Polk County, IA
| Warren County, IA
19804 | ¹ Detroit-Livonia-Dearborn, MI | 1.0453 | 1.0308
| Wayne County, MI
20020 | Dothan, AL | 0.7743 | 0.8393
| Geneva County, AL
| Henry County, AL
| Houston County, AL
20100 | Dover, DE | 0.9821 | 0.9877
| Kent County, DE
20220 | Dubuque, IA | 0.9116 | 0.9386
| Dubuque County, IA
20260 | Duluth, MN-WI | 1.0224 | 1.0153
| Carlton County, MN
| St. Louis County, MN
| Douglas County, WI
20500 | Durham, NC | 1.0260 | 1.0177
| Chatham County, NC
| Durham County, NC
| Orange County, NC
| Person County, NC
20740 | ² Eau Claire, WI | 0.9478 | 0.9640
| Chippewa County, WI
| Eau Claire County, WI
20764 | ¹ Edison, NJ | 1.1301 | 1.0874
| Middlesex County, NJ
| Monmouth County, NJ
| Ocean County, NJ
| Somerset County, NJ
20940 | ² El Centro, CA | 1.0848 | 1.0573
| Imperial County, CA
21060 | Elizabethtown, KY | 0.8816 | 0.9173
| Hardin County, KY
| Larue County, KY
21140 | Elkhart-Goshen, IN | 0.9616 | 0.9735
| Elkhart County, IN
21300 | Elmira, NY | 0.8276 | 0.8785
| Chemung County, NY
21340 | El Paso, TX | 0.8954 | 0.9271
| El Paso County, TX
21500 | Erie, PA | 0.8746 | 0.9123
| Erie County, PA
21604 | Essex County, MA | 1.0525 | 1.0357
| Essex County, MA
21660 | Eugene-Springfield, OR | 1.0810 | 1.0548
| Lane County, OR
21780 | Evansville, IN-KY | 0.8735 | 0.9115
| Gibson County, IN
| Posey County, IN
| Vanderburgh County, IN
| Warrick County, IN
| Henderson County, KY
| Webster County, KY
21820 | ² Fairbanks, AK | 1.1977 | 1.1315
| Fairbanks North Star Borough, AK
21940 | Fajardo, PR | 0.4160 | 0.5485
| Ceiba Municipio, PR
| Fajardo Municipio, PR
| Luquillo Municipio, PR
22020 | Fargo, ND-MN (ND Hospitals) | 0.8778 | 0.9146
| Clay County, MN
| Cass County, ND
22020 | ² Fargo, ND-MN (MN Hospitals) | 0.9183 | 0.9433
| Clay County, MN
| Cass County, ND
22140 | ² Farmington, NM | 0.8649 | 0.9054
| San Juan County, NM
22180 | Fayetteville, NC | 0.9426 | 0.9603
| Cumberland County, NC
| Hoke County, NC
22220 | Fayetteville-Springdale-Rogers, AR-MO | 0.8615 | 0.9029
| Benton County, AR
| Madison County, AR
| Washington County, AR
| McDonald County, MO
22380 | Flagstaff, AZ | 1.2094 | 1.1391
| Coconino County, AZ
22420 | Flint, MI | 1.0654 | 1.0443
| Genesee County, MI
22500 | Florence, SC | 0.8988 | 0.9295
| Darlington County, SC
| Florence County, SC
22520 | Florence-Muscle Shoals, AL | 0.8305 | 0.8806
| Colbert County, AL
| Lauderdale County, AL
22540 | Fond du Lac, WI | 0.9649 | 0.9758
| Fond du Lac County, WI
22660 | Fort Collins-Loveland, CO | 1.0146 | 1.0100
| Larimer County, CO
22744 | ¹ Fort Lauderdale-Pompano Beach-Deerfield Beach, FL | 1.0508 | 1.0345
| Broward County, FL
22900 | Fort Smith, AR-OK | 0.8231 | 0.8752
| Crawford County, AR
| Franklin County, AR
| Sebastian County, AR
| Le Flore County, OK
| Sequoyah County, OK
23020 | Fort Walton Beach-Crestview-Destin, FL | 0.8877 | 0.9217
| Okaloosa County, FL
23060 | Fort Wayne, IN | 0.9797 | 0.9861
| Allen County, IN
| Wells County, IN
| Whitley County, IN
23104 | ¹ Fort Worth-Arlington, TX | 0.9514 | 0.9665
| Johnson County, TX
| Parker County, TX
| Tarrant County, TX
| Wise County, TX
23420 | ² Fresno, CA | 1.0848 | 1.0573
| Fresno County, CA
23460 | Gadsden, AL | 0.7974 | 0.8564
| Etowah County, AL
23540 | Gainesville, FL | 0.9461 | 0.9628
| Alachua County, FL
| Gilchrist County, FL
23580 | Gainesville, GA | 0.8897 | 0.9231
| Hall County, GA
23844 | Gary, IN | 0.9366 | 0.9561
| Jasper County, IN
| Lake County, IN
| Newton County, IN
| Porter County, IN
24020 | Glens Falls, NY | 0.8587 | 0.9009
| Warren County, NY
| Washington County, NY
24140 | Goldsboro, NC | 0.8781 | 0.9148
| Wayne County, NC
24220 | Grand Forks, ND-MN | 1.1521 | 1.1018
| Polk County, MN
| Grand Forks County, ND
24300 | Grand Junction, CO | 0.9590 | 0.9717
| Mesa County, CO
24340 | Grand Rapids-Wyoming, MI | 0.9398 | 0.9584
| Barry County, MI
| Ionia County, MI
| Kent County, MI
| Newaygo County, MI
24500 | Great Falls, MT | 0.9074 | 0.9356
| Cascade County, MT
24540 | Greeley, CO | 0.9597 | 0.9722
| Weld County, CO
24580 | ² Green Bay, WI | 0.9478 | 0.9640
| Brown County, WI
| Kewaunee County, WI
| Oconto County, WI
24660 | Greensboro-High Point, NC | 0.9133 | 0.9398
| Guilford County, NC
| Randolph County, NC
| Rockingham County, NC
24780 | Greenville, NC | 0.9414 | 0.9595
| Greene County, NC
| Pitt County, NC
24860 | Greenville, SC | 1.0138 | 1.0094
| Greenville County, SC
| Laurens County, SC
| Pickens County, SC
25020 | Guayama, PR | 0.3186 | 0.4569
| Arroyo Municipio, PR
| Guayama Municipio, PR
| Patillas Municipio, PR
25060 | Gulfport-Biloxi, MS | 0.8922 | 0.9249
| Hancock County, MS
| Harrison County, MS
| Stone County, MS
25180 | Hagerstown-Martinsburg, MD-WV | 0.9528 | 0.9674
| Washington County, MD
| Berkeley County, WV
| Morgan County, WV
25260 | ² Hanford-Corcoran, CA | 1.0848 | 1.0573
| Kings County, CA
25420 | Harrisburg-Carlisle, PA | 0.9317 | 0.9527
| Cumberland County, PA
| Dauphin County, PA
| Perry County, PA
25500 | Harrisonburg, VA | 0.9101 | 0.9375
| Rockingham County, VA
| Harrisonburg City, VA
25540 | ¹ ² Hartford-West Hartford-East Hartford, CT | 1.1790 | 1.1194
| Hartford County, CT
| Litchfield County, CT
| Middlesex County, CT
| Tolland County, CT
25620 | ² Hattiesburg, MS | 0.7685 | 0.8350
| Forrest County, MS
| Lamar County, MS
| Perry County, MS
25860 | Hickory-Lenoir-Morganton, NC | 0.8931 | 0.9255
| Alexander County, NC
| Burke County, NC
| Caldwell County, NC
| Catawba County, NC
25980 | Hinesville-Fort Stewart, GA | 0.7684 | 0.8349
| Liberty County, GA
| Long County, GA
26100 | Holland-Grand Haven, MI | 0.9133 | 0.9398
| Ottawa County, MI
26180 | Honolulu, HI | 1.1206 | 1.0811
| Honolulu County, HI
26300 | Hot Springs, AR | 0.9066 | 0.9351
| Garland County, AR
26380 | Houma-Bayou Cane-Thibodaux, LA | 0.7903 | 0.8512
| Lafourche Parish, LA
| Terrebonne Parish, LA
26420 | ¹ Houston-Baytown-Sugar Land, TX | 1.0008 | 1.0005
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9482 | 0.9642
| Boyd County, KY
| Greenup County, KY
| Lawrence County, OH
| Cabell County, WV
| Wayne County, WV
26620 | Huntsville, AL | 0.9124 | 0.9391
| Limestone County, AL
| Madison County, AL
26820 | Idaho Falls, ID | 0.9409 | 0.9591
| Bonneville County, ID
| Jefferson County, ID
26900 | ¹ Indianapolis, IN | 0.9922 | 0.9947
| Boone County, IN
| Brown County, IN
| Hamilton County, IN
| Hancock County, IN
| Hendricks County, IN
| Johnson County, IN
| Marion County, IN
| Morgan County, IN
| Putnam County, IN
| Shelby County, IN
26980 | Iowa City, IA | 0.9751 | 0.9829
| Johnson County, IA
| Washington County, IA
27060 | Ithaca, NY | 0.9855 | 0.9900
| Tompkins County, NY
27100 | Jackson, MI | 0.9300 | 0.9515
| Jackson County, MI
27140 | Jackson, MS | 0.8313 | 0.8812
| Copiah County, MS
| Hinds County, MS
| Madison County, MS
| Rankin County, MS
| Simpson County, MS
27180 | Jackson, TN | 0.8964 | 0.9278
| Chester County, TN
| Madison County, TN
27260 | ¹ Jacksonville, FL | 0.9303 | 0.9517
| Baker County, FL
| Clay County, FL
| Duval County, FL
| Nassau County, FL
| St. Johns County, FL
27340 | ² Jacksonville, NC | 0.8570 | 0.8997
| Onslow County, NC
27500 | Janesville, WI | 0.9561 | 0.9697
| Rock County, WI
27620 | Jefferson City, MO | 0.8389 | 0.8867
| Callaway County, MO
| Cole County, MO
| Moniteau County, MO
| Osage County, MO
27740 | Johnson City, TN | 0.7958 | 0.8552
| Carter County, TN
| Unicoi County, TN
| Washington County, TN
27780 | Johnstown, PA | 0.8348 | 0.8837
| Cambria County, PA
27860 | Jonesboro, AR | 0.7968 | 0.8559
| Craighead County, AR
| Poinsett County, AR
27900 | Joplin, MO | 0.8594 | 0.9014
| Jasper County, MO
| Newton County, MO
28020 | Kalamazoo-Portage, MI | 1.0403 | 1.0274
| Kalamazoo County, MI
| Van Buren County, MI
28100 | Kankakee-Bradley, IL | 1.0991 | 1.0668
| Kankakee County, IL
28140 | ¹ Kansas City, MO-KS | 0.9454 | 0.9623
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0619 | 1.0420
| Benton County, WA
| Franklin County, WA
28660 | Killeen-Temple-Fort Hood, TX | 0.8566 | 0.8994
| Bell County, TX
| Coryell County, TX
| Lampasas County, TX
28700 | Kingsport-Bristol-Bristol, TN-VA | 0.8095 | 0.8653
| Hawkins County, TN
| Sullivan County, TN
| Bristol City, VA
| Scott County, VA
| Washington County, VA
28740 | Kingston, NY | 0.9260 | 0.9487
| Ulster County, NY
28940 | Knoxville, TN | 0.8470 | 0.8925
| Anderson County, TN
| Blount County, TN
| Knox County, TN
| Loudon County, TN
| Union County, TN
29020 | Kokomo, IN | 0.9555 | 0.9693
| Howard County, IN
| Tipton County, IN
29100 | La Crosse, WI-MN | 0.9557 | 0.9694
| Houston County, MN
| La Crosse County, WI
29140 | Lafayette, IN | 0.8730 | 0.9112
| Benton County, IN
| Carroll County, IN
| Tippecanoe County, IN
29180 | Lafayette, LA | 0.8429 | 0.8896
| Lafayette Parish, LA
| St. Martin Parish, LA
29340 | Lake Charles, LA | 0.7847 | 0.8470
| Calcasieu Parish, LA
| Cameron Parish, LA
29404 | Lake County-Kenosha County, IL-WI | 1.0444 | 1.0302
| Lake County, IL
| Kenosha County, WI
29460 | Lakeland, FL | 0.8934 | 0.9257
| Polk County, FL
29540 | Lancaster, PA | 0.9716 | 0.9805
| Lancaster County, PA
29620 | Lansing-East Lansing, MI | 0.9786 | 0.9853
| Clinton County, MI
| Eaton County, MI
| Ingham County, MI
29700 | Laredo, TX | 0.8101 | 0.8657
| Webb County, TX
29740 | ² Las Cruces, NM | 0.8649 | 0.9054
| Dona Ana County, NM
29820 | ¹ Las Vegas-Paradise, NV | 1.1416 | 1.0949
| Clark County, NV
29940 | Lawrence, KS | 0.8538 | 0.8974
| Douglas County, KS
30020 | Lawton, OK | 0.7916 | 0.8521
| Comanche County, OK
30140 | Lebanon, PA | 0.8654 | 0.9057
| Lebanon County, PA
30300 | Lewiston, ID-WA (ID Hospitals) | 0.9878 | 0.9916
| Nez Perce County, ID
| Asotin County, WA
30300 | ² Lewiston, ID-WA (WA Hospitals) | 1.0459 | 1.0312
| Nez Perce County, ID
| Asotin County, WA
30340 | Lewiston-Auburn, ME | 0.9332 | 0.9538
| Androscoggin County, ME
30460 | Lexington-Fayette, KY | 0.9060 | 0.9346
| Bourbon County, KY
| Clark County, KY
| Fayette County, KY
| Jessamine County, KY
| Scott County, KY
| Woodford County, KY
30620 | Lima, OH | 0.9263 | 0.9489
| Allen County, OH
30700 | Lincoln, NE | 1.0197 | 1.0134
| Lancaster County, NE
| Seward County, NE
30780 | Little Rock-North Little Rock, AR | 0.8768 | 0.9139
| Faulkner County, AR
| Grant County, AR
| Lonoke County, AR
| Perry County, AR
| Pulaski County, AR
| Saline County, AR
30860 | Logan, UT-ID | 0.9183 | 0.9433
| Franklin County, ID
| Cache County, UT
30980 | Longview, TX | 0.8741 | 0.9120
| Gregg County, TX
| Rusk County, TX
| Upshur County, TX
31020 | ² Longview, WA | 1.0459 | 1.0312
| Cowlitz County, WA
31084 | ¹ Los Angeles-Long Beach-Glendale, CA | 1.1762 | 1.1175
| Los Angeles County, CA
31140 | ¹ Louisville, KY-IN | 0.9264 | 0.9490
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8790 | 0.9155
| Crosby County, TX
| Lubbock County, TX
31340 | Lynchburg, VA | 0.8706 | 0.9095
| Amherst County, VA
| Appomattox County, VA
| Bedford County, VA
| Campbell County, VA
| Bedford City, VA
| Lynchburg City, VA
31420 | Macon, GA | 0.9485 | 0.9644
| Bibb County, GA
| Crawford County, GA
| Jones County, GA
| Monroe County, GA
| Twiggs County, GA
31460 | ² Madera, CA | 1.0848 | 1.0573
| Madera County, CA
31540 | Madison, WI | 1.0629 | 1.0427
| Columbia County, WI
| Dane County, WI
| Iowa County, WI
31700 | ² Manchester-Nashua, NH | 1.0668 | 1.0453
| Hillsborough County, NH
| Merrimack County, NH
31900 | Mansfield, OH | 0.8788 | 0.9153
| Richland County, OH
32420 | Mayagüez, PR | 0.4016 | 0.5354
| Hormigueros Municipio, PR
| Mayagüez Municipio, PR
32580 | McAllen-Edinburg-Pharr, TX | 0.8945 | 0.9265
| Hidalgo County, TX
32780 | ² Medford, OR | 1.0284 | 1.0194
| Jackson County, OR
32820 | ¹ Memphis, TN-MS-AR | 0.9346 | 0.9547
| Crittenden County, AR
| DeSoto County, MS
| Marshall County, MS
| Tate County, MS
| Tunica County, MS
| Fayette County, TN
| Shelby County, TN
| Tipton County, TN
32900 | Merced, CA | 1.1123 | 1.0756
| Merced County, CA
33124 | ¹ Miami-Miami Beach-Kendall, FL | 0.9757 | 0.9833
| Miami-Dade County, FL
33140 | Michigan City-La Porte, IN | 0.9409 | 0.9591
| LaPorte County, IN
33260 | Midland, TX | 0.9522 | 0.9670
| Midland County, TX
33340 | ¹ Milwaukee-Waukesha-West Allis, WI | 1.0111 | 1.0076
| Milwaukee County, WI
| Ozaukee County, WI
| Washington County, WI
| Waukesha County, WI
33460 | ¹ Minneapolis-St. Paul-Bloomington, MN-WI | 1.1055 | 1.0711
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9535 | 0.9679
| Missoula County, MT
33660 | Mobile, AL | 0.7902 | 0.8511
| Mobile County, AL
33700 | Modesto, CA | 1.1885 | 1.1255
| Stanislaus County, CA
33740 | Monroe, LA | 0.8044 | 0.8615
| Ouachita Parish, LA
| Union Parish, LA
33780 | Monroe, MI | 0.9468 | 0.9633
| Monroe County, MI
33860 | Montgomery, AL | 0.8600 | 0.9019
| Autauga County, AL
| Elmore County, AL
| Lowndes County, AL
| Montgomery County, AL
34060 | Morgantown, WV | 0.8439 | 0.8903
| Monongalia County, WV
| Preston County, WV
34100 | Morristown, TN | 0.8758 | 0.9132
| Grainger County, TN
| Hamblen County, TN
| Jefferson County, TN
34580 | ² Mount Vernon-Anacortes, WA | 1.0459 | 1.0312
| Skagit County, WA
34620 | Muncie, IN | 0.8952 | 0.9270
| Delaware County, IN
34740 | Muskegon-Norton Shores, MI | 0.9677 | 0.9778
| Muskegon County, MI
34820 | Myrtle Beach-Conway-North Myrtle Beach, SC | 0.8869 | 0.9211
| Horry County, SC
34900 | Napa, CA | 1.2643 | 1.1742
| Napa County, CA
34940 | Naples-Marco Island, FL | 1.0115 | 1.0079
| Collier County, FL
34980 | ¹ Nashville-Davidson—Murfreesboro, TN | 0.9757 | 0.9833
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹ Nassau-Suffolk, NY | 1.2781 | 1.1830
| Nassau County, NY
| Suffolk County, NY
35084 | ¹ Newark-Union, NJ-PA | 1.2192 | 1.1454
| Essex County, NJ
| Hunterdon County, NJ
| Morris County, NJ
| Sussex County, NJ
| Union County, NJ
| Pike County, PA
35300 | ² New Haven-Milford, CT | 1.1790 | 1.1194
| New Haven County, CT
35380 | ¹ New Orleans-Metairie-Kenner, LA | 0.9003 | 0.9306
| Jefferson Parish, LA
| Orleans Parish, LA
| Plaquemines Parish, LA
| St. Bernard Parish, LA
| St. Charles Parish, LA
| St. John the Baptist Parish, LA
| St. Tammany Parish, LA
35644 | ¹ New York-Wayne-White Plains, NY-NJ | 1.3191 | 1.2088
| Bergen County, NJ
| Hudson County, NJ
| Passaic County, NJ
| Bronx County, NY
| Kings County, NY
| New York County, NY
| Putnam County, NY
| Queens County, NY
| Richmond County, NY
| Rockland County, NY
| Westchester County, NY
35660 | ² Niles-Benton Harbor, MI | 0.8923 | 0.9249
| Berrien County, MI
35980 | ² Norwich-New London, CT | 1.1790 | 1.1194
| New London County, CT
36084 | ¹ Oakland-Fremont-Hayward, CA | 1.5474 | 1.3485
| Alameda County, CA
| Contra Costa County, CA
36100 | Ocala, FL | 0.8955 | 0.9272
| Marion County, FL
36140 | Ocean City, NJ | 1.1031 | 1.0695
| Cape May County, NJ
36220 | Odessa, TX | 0.9893 | 0.9927
| Ector County, TX
36260 | Ogden-Clearfield, UT | 0.9048 | 0.9338
| Davis County, UT
| Morgan County, UT
| Weber County, UT
36420 | ¹ Oklahoma City, OK | 0.9043 | 0.9334
| Canadian County, OK
| Cleveland County, OK
| Grady County, OK
| Lincoln County, OK
| Logan County, OK
| McClain County, OK
| Oklahoma County, OK
36500 | Olympia, WA | 1.0970 | 1.0655
| Thurston County, WA
36540 | Omaha-Council Bluffs, NE-IA | 0.9555 | 0.9693
| Harrison County, IA
| Mills County, IA
| Pottawattamie County, IA
| Cass County, NE
| Douglas County, NE
| Sarpy County, NE
| Saunders County, NE
| Washington County, NE
36740 | ¹ Orlando, FL | 0.9446 | 0.9617
| Lake County, FL
| Orange County, FL
| Osceola County, FL
| Seminole County, FL
36780 | ² Oshkosh-Neenah, WI | 0.9478 | 0.9640
| Winnebago County, WI
36980 | Owensboro, KY | 0.8806 | 0.9166
| Daviess County, KY
| Hancock County, KY
| McLean County, KY
37100 | Oxnard-Thousand Oaks-Ventura, CA | 1.1604 | 1.1072
| Ventura County, CA
37340 | Palm Bay-Melbourne-Titusville, FL | 0.9826 | 0.9881
| Brevard County, FL
37460 | ² Panama City-Lynn Haven, FL | 0.8613 | 0.9028
| Bay County, FL
37620 | Parkersburg-Marietta, WV-OH (WV Hospitals) | 0.8303 | 0.8804
| Washington County, OH
| Pleasants County, WV
| Wirt County, WV
| Wood County, WV
37620 | ² Parkersburg-Marietta, WV-OH (OH Hospitals) | 0.8788 | 0.9153
| Washington County, OH
| Pleasants County, WV
| Wirt County, WV
| Wood County, WV
37700 | Pascagoula, MS | 0.8164 | 0.8703
| George County, MS
| Jackson County, MS
37860 | ² Pensacola-Ferry Pass-Brent, FL | 0.8613 | 0.9028
| Escambia County, FL
| Santa Rosa County, FL
37900 | Peoria, IL | 0.8844 | 0.9193
| Marshall County, IL
| Peoria County, IL
| Stark County, IL
| Tazewell County, IL
| Woodford County, IL
37964 | ¹ Philadelphia, PA | 1.1030 | 1.0694
| Bucks County, PA
| Chester County, PA
| Delaware County, PA
| Montgomery County, PA
| Philadelphia County, PA
38060 | ¹ Phoenix-Mesa-Scottsdale, AZ | 1.0139 | 1.0095
| Maricopa County, AZ
| Pinal County, AZ
38220 | Pine Bluff, AR | 0.8716 | 0.9102
| Cleveland County, AR
| Jefferson County, AR
| Lincoln County, AR
38300 | ¹ Pittsburgh, PA | 0.8840 | 0.9190
| Allegheny County, PA
| Armstrong County, PA
| Beaver County, PA
| Butler County, PA
| Fayette County, PA
| Washington County, PA
| Westmoreland County, PA
38340 | Pittsfield, MA | 1.0183 | 1.0125
| Berkshire County, MA
38540 | Pocatello, ID | 0.9348 | 0.9549
| Bannock County, ID
| Power County, ID
38660 | Ponce, PR | 0.5178 | 0.6372
| Juana Díaz Municipio, PR
| Ponce Municipio, PR
| Villalba Municipio, PR
38860 | Portland-South Portland-Biddeford, ME | 1.0382 | 1.0260
| Cumberland County, ME
| Sagadahoc County, ME
| York County, ME
38900 | ¹ Portland-Vancouver-Beaverton, OR-WA | 1.1229 | 1.0826
| Clackamas County, OR
| Columbia County, OR
| Multnomah County, OR
| Washington County, OR
| Yamhill County, OR
| Clark County, WA
| Skamania County, WA
38940 | Port St. Lucie-Fort Pierce, FL | 1.0162 | 1.0111
| Martin County, FL
| St. Lucie County, FL
39100 | Poughkeepsie-Newburgh-Middletown, NY | 1.0767 | 1.0519
| Dutchess County, NY
| Orange County, NY
39140 | Prescott, AZ | 0.9884 | 0.9920
| Yavapai County, AZ
39300 | ¹ Providence-New Bedford-Fall River, RI-MA | 1.0952 | 1.0643
| Bristol County, MA
| Bristol County, RI
| Kent County, RI
| Newport County, RI
| Providence County, RI
| Washington County, RI
39340 | Provo-Orem, UT | 0.9578 | 0.9709
| Juab County, UT
| Utah County, UT
39380 | ² Pueblo, CO | 0.9379 | 0.9570
| Pueblo County, CO
39460 | Punta Gorda, FL | 0.9274 | 0.9497
| Charlotte County, FL
39540 | ² Racine, WI | 0.9478 | 0.9640
| Racine County, WI
39580 | Raleigh-Cary, NC | 0.9709 | 0.9800
| Franklin County, NC
| Johnston County, NC
| Wake County, NC
39660 | Rapid City, SD | 0.9027 | 0.9323
| Meade County, SD
| Pennington County, SD
39740 | Reading, PA | 0.9698 | 0.9792
| Berks County, PA
39820 | Redding, CA | 1.2207 | 1.1463
| Shasta County, CA
39900 | Reno-Sparks, NV | 1.0984 | 1.0664
| Storey County, NV
| Washoe County, NV
40060 | ¹ Richmond, VA | 0.9319 | 0.9528
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹ Riverside-San Bernardino-Ontario, CA | 1.1021 | 1.0688
| Riverside County, CA
| San Bernardino County, CA
40220 | Roanoke, VA | 0.8450 | 0.8911
| Botetourt County, VA
| Craig County, VA
| Franklin County, VA
| Roanoke County, VA
| Roanoke City, VA
| Salem City, VA
40340 | Rochester, MN | 1.1128 | 1.0759
| Dodge County, MN
| Olmsted County, MN
| Wabasha County, MN
40380 | ¹ Rochester, NY | 0.9117 | 0.9387
| Livingston County, NY
| Monroe County, NY
| Ontario County, NY
| Orleans County, NY
| Wayne County, NY
40420 | Rockford, IL | 0.9975 | 0.9983
| Boone County, IL
| Winnebago County, IL
40484 | ² Rockingham County-Strafford County, NH | 1.0668 | 1.0453
| Rockingham County, NH
| Strafford County, NH
40580 | Rocky Mount, NC | 0.8924 | 0.9250
| Edgecombe County, NC
| Nash County, NC
40660 | Rome, GA | 0.9414 | 0.9595
| Floyd County, GA
40900 | ¹ Sacramento—Arden-Arcade—Roseville, CA | 1.2953 | 1.1939
| El Dorado County, CA
| Placer County, CA
| Sacramento County, CA
| Yolo County, CA
40980 | Saginaw-Saginaw Township North, MI | 0.9474 | 0.9637
| Saginaw County, MI
41060 | St. Cloud, MN | 1.0030 | 1.0021
| Benton County, MN
| Stearns County, MN
41100 | St. George, UT | 0.9416 | 0.9596
| Washington County, UT
41140 | St. Joseph, MO-KS | 0.9565 | 0.9700
| Doniphan County, KS
| Andrew County, MO
| Buchanan County, MO
| DeKalb County, MO
41180 | St. Louis, MO-IL | 0.8953 | 0.9271
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0445 | 1.0303
| Marion County, OR
| Polk County, OR
41500 | Salinas, CA | 1.4140 | 1.2677
| Monterey County, CA
41540 | ² Salisbury, MD | 0.9099 | 0.9374
| Somerset County, MD
| Wicomico County, MD
41620 | Salt Lake City, UT | 0.9436 | 0.9610
| Salt Lake County, UT
| Summit County, UT
| Tooele County, UT
41660 | San Angelo, TX | 0.8287 | 0.8793
| Irion County, TX
| Tom Green County, TX
41700 | ¹ San Antonio, TX | 0.8987 | 0.9295
| Atascosa County, TX
| Bandera County, TX
| Bexar County, TX
| Comal County, TX
| Guadalupe County, TX
| Kendall County, TX
| Medina County, TX
| Wilson County, TX
41740 | ¹ San Diego-Carlsbad-San Marcos, CA | 1.1417 | 1.0950
| San Diego County, CA
41780 | Sandusky, OH | 0.9033 | 0.9327
| Erie County, OH
41884 | ¹ San Francisco-San Mateo-Redwood City, CA | 1.4970 | 1.3182
| Marin County, CA
| San Francisco County, CA
| San Mateo County, CA
41900 | San Germán-Cabo Rojo, PR | 0.4646 | 0.5916
| Cabo Rojo Municipio, PR
| Lajas Municipio, PR
| Sabana Grande Municipio, PR
| San Germán Municipio, PR
41940 | ¹ San Jose-Sunnyvale-Santa Clara, CA | 1.5114 | 1.3269
| San Benito County, CA
| Santa Clara County, CA
41980 | ¹ San Juan-Caguas-Guaynabo, PR | 0.4686 | 0.5951
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1357 | 1.0910
| San Luis Obispo County, CA
42044 | ¹ Santa Ana-Anaheim-Irvine, CA | 1.1564 | 1.1046
| Orange County, CA
42060 | Santa Barbara-Santa Maria-Goleta, CA | 1.1525 | 1.1021
| Santa Barbara County, CA
42100 | Santa Cruz-Watsonville, CA | 1.5159 | 1.3296
| Santa Cruz County, CA
42140 | Santa Fe, NM | 1.0908 | 1.0613
| Santa Fe County, NM
42220 | Santa Rosa-Petaluma, CA | 1.3480 | 1.2269
| Sonoma County, CA
42260 | Sarasota-Bradenton-Venice, FL | 0.9554 | 0.9692
| Manatee County, FL
| Sarasota County, FL
42340 | Savannah, GA | 0.9483 | 0.9643
| Bryan County, GA
| Chatham County, GA
| Effingham County, GA
42540 | Scranton—Wilkes-Barre, PA | 0.8530 | 0.8968
| Lackawanna County, PA
| Luzerne County, PA
| Wyoming County, PA
42644 | ¹ Seattle-Bellevue-Everett, WA | 1.1573 | 1.1052
| King County, WA
| Snohomish County, WA
43100 | ² Sheboygan, WI | 0.9478 | 0.9640
| Sheboygan County, WI
43300 | Sherman-Denison, TX | 0.9518 | 0.9667
| Grayson County, TX
43340 | Shreveport-Bossier City, LA | 0.8767 | 0.9138
| Bossier Parish, LA
| Caddo Parish, LA
| De Soto Parish, LA
43580 | Sioux City, IA-NE-SD | 0.9360 | 0.9557
| Woodbury County, IA
| Dakota County, NE
| Dixon County, NE
| Union County, SD
43620 | Sioux Falls, SD | 0.9616 | 0.9735
| Lincoln County, SD
| McCook County, SD
| Minnehaha County, SD
| Turner County, SD
43780 | South Bend-Mishawaka, IN-MI | 0.9785 | 0.9852
| St. Joseph County, IN
| Cass County, MI
43900 | Spartanburg, SC | 0.9183 | 0.9433
| Spartanburg County, SC
44060 | Spokane, WA | 1.0898 | 1.0607
| Spokane County, WA
44100 | Springfield, IL | 0.8879 | 0.9218
| Menard County, IL
| Sangamon County, IL
44140 | Springfield, MA | 1.0259 | 1.0177
| Franklin County, MA
| Hampden County, MA
| Hampshire County, MA
44180 | Springfield, MO | 0.8251 | 0.8766
| Christian County, MO
| Dallas County, MO
| Greene County, MO
| Polk County, MO
| Webster County, MO
44220 | ² Springfield, OH | 0.8788 | 0.9153
| Clark County, OH
44300 | State College, PA | 0.8368 | 0.8851
| Centre County, PA
44700 | Stockton, CA | 1.1333 | 1.0895
| San Joaquin County, CA
44940 | ² Sumter, SC | 0.8663 | 0.9064
| Sumter County, SC
45060 | Syracuse, NY | 0.9595 | 0.9721
| Madison County, NY
| Onondaga County, NY
| Oswego County, NY
45104 | Tacoma, WA | 1.0794 | 1.0537
| Pierce County, WA
45220 | Tallahassee, FL | 0.8712 | 0.9099
| Gadsden County, FL
| Jefferson County, FL
| Leon County, FL
| Wakulla County, FL
45300 | ¹ Tampa-St. Petersburg-Clearwater, FL | 0.9292 | 0.9510
| Hernando County, FL
| Hillsborough County, FL
| Pasco County, FL
| Pinellas County, FL
45460 | ² Terre Haute, IN | 0.8632 | 0.9042
| Clay County, IN
| Sullivan County, IN
| Vermillion County, IN
| Vigo County, IN
45500 | Texarkana, TX-Texarkana, AR | 0.8293 | 0.8797
| Miller County, AR
| Bowie County, TX
45780 | Toledo, OH | 0.9573 | 0.9706
| Fulton County, OH
| Lucas County, OH
| Ottawa County, OH
| Wood County, OH
45820 | Topeka, KS | 0.8921 | 0.9248
| Jackson County, KS
| Jefferson County, KS
| Osage County, KS
| Shawnee County, KS
| Wabaunsee County, KS
45940 | Trenton-Ewing, NJ | 1.0837 | 1.0566
| Mercer County, NJ
46060 | Tucson, AZ | 0.9007 | 0.9309
| Pima County, AZ
46140 | Tulsa, OK | 0.8313 | 0.8812
| Creek County, OK
| Okmulgee County, OK
| Osage County, OK
| Pawnee County, OK
| Rogers County, OK
| Tulsa County, OK
| Wagoner County, OK
46220 | Tuscaloosa, AL | 0.8724 | 0.9108
| Greene County, AL
| Hale County, AL
| Tuscaloosa County, AL
46340 | Tyler, TX | 0.9322 | 0.9531
| Smith County, TX
46540 | Utica-Rome, NY | 0.8313 | 0.8812
| Herkimer County, NY
| Oneida County, NY
46660 | Valdosta, GA | 0.8873 | 0.9214
| Brooks County, GA
| Echols County, GA
| Lanier County, GA
| Lowndes County, GA
46700 | Vallejo-Fairfield, CA | 1.4888 | 1.3133
| Solano County, CA
46940 | Vero Beach, FL | 0.9458 | 0.9626
| Indian River County, FL
47020 | Victoria, TX | 0.8148 | 0.8691
| Calhoun County, TX
| Goliad County, TX
| Victoria County, TX
47220 | ² Vineland-Millville-Bridgeton, NJ | 1.0607 | 1.0412
| Cumberland County, NJ
47260 | ¹ Virginia Beach-Norfolk-Newport News, VA-NC | 0.8841 | 0.9191
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | ² Visalia-Porterville, CA | 1.0848 | 1.0573
| Tulare County, CA
47380 | Waco, TX | 0.8532 | 0.8970
| McLennan County, TX
47580 | Warner Robins, GA | 0.8662 | 0.9063
| Houston County, GA
47644 | ¹ Warren-Farmington Hills-Troy, MI | 0.9858 | 0.9903
| Lapeer County, MI
| Livingston County, MI
| Macomb County, MI
| Oakland County, MI
| St. Clair County, MI
47894 | ¹ Washington-Arlington-Alexandria, DC-VA-MD-WV | 1.0935 | 1.0631
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8564 | 0.8993
| Black Hawk County, IA
| Bremer County, IA
| Grundy County, IA
48140 | Wausau, WI | 0.9964 | 0.9975
| Marathon County, WI
48260 | Weirton-Steubenville, WV-OH (WV Hospitals) | 0.7821 | 0.8451
| Jefferson County, OH
| Brooke County, WV
| Hancock County, WV
48260 | ² Weirton-Steubenville, WV-OH (OH Hospitals) | 0.8788 | 0.9153
| Jefferson County, OH
| Brooke County, WV
| Hancock County, WV
48300 | ² Wenatchee, WA | 1.0459 | 1.0312
| Chelan County, WA
| Douglas County, WA
48424 | ¹ West Palm Beach-Boca Raton-Boynton Beach, FL | 1.0061 | 1.0042
| Palm Beach County, FL
48540 | ² Wheeling, WV-OH (WV Hospitals) | 0.7742 | 0.8392
| Belmont County, OH
| Marshall County, WV
| Ohio County, WV
48540 | ² Wheeling, WV-OH (OH Hospitals) | 0.8788 | 0.9153
| Belmont County, OH
| Marshall County, WV
| Ohio County, WV
48620 | Wichita, KS | 0.9156 | 0.9414
| Butler County, KS
| Harvey County, KS
| Sedgwick County, KS
| Sumner County, KS
48660 | Wichita Falls, TX | 0.8327 | 0.8822
| Archer County, TX
| Clay County, TX
| Wichita County, TX
48700 | Williamsport, PA | 0.8368 | 0.8851
| Lycoming County, PA
48864 | Wilmington, DE-MD-NJ | 1.0652 | 1.0442
| New Castle County, DE
| Cecil County, MD
| Salem County, NJ
48900 | Wilmington, NC | 0.9580 | 0.9710
| Brunswick County, NC
| New Hanover County, NC
| Pender County, NC
49020 | Winchester, VA-WV | 1.0214 | 1.0146
| Frederick County, VA
| Winchester City, VA
| Hampshire County, WV
49180 | Winston-Salem, NC | 0.9020 | 0.9318
| Davie County, NC
| Forsyth County, NC
| Stokes County, NC
| Yadkin County, NC
49340 | Worcester, MA | 1.1044 | 1.0704
| Worcester County, MA
49420 | ² Yakima, WA | 1.0459 | 1.0312
| Yakima County, WA
49500 | Yauco, PR | 0.4413 | 0.5711
| Guánica Municipio, PR
| Guayanilla Municipio, PR
| Peñuelas Municipio, PR
| Yauco Municipio, PR
49620 | York-Hanover, PA | 0.9422 | 0.9600
| York County, PA
49660 | ² Youngstown-Warren-Boardman, OH-PA (OH Hospitals) | 0.8788 | 0.9153
| Mahoning County, OH
| Trumbull County, OH
| Mercer County, PA
49660 | Youngstown-Warren-Boardman, OH-PA (PA Hospitals) | 0.8609 | 0.9025
| Mahoning County, OH
| Trumbull County, OH
| Mercer County, PA
49700 | Yuba City, CA | 1.0951 | 1.0642
| Sutter County, CA
| Yuba County, CA
49740 | Yuma, AZ | 0.9188 | 0.9437
| Yuma County, AZ
¹ Large urban area.
² Hospitals geographically located in the area are assigned the statewide rural wage index for FY 2006.

Table 4B.—Wage Index and Capital Geographic Adjustment Factor (GAF) for Rural Areas by CBSA
CBSA code | Nonurban area | Wage index | GAF
01 | Alabama | 0.7495 | 0.8208
02 | Alaska | 1.1977 | 1.1315
03 | Arizona | 0.8991 | 0.9298
04 | Arkansas | 0.7478 | 0.8195
05 | California | 1.0848 | 1.0573
06 | Colorado | 0.9379 | 0.9570
07 | Connecticut | 1.1790 | 1.1194
08 | Delaware | 0.9606 | 0.9728
10 | Florida | 0.8613 | 0.9028
11 | Georgia | 0.7684 | 0.8349
12 | Hawaii | 1.0598 | 1.0406
13 | Idaho | 0.8810 | 0.9169
14 | Illinois | 0.8285 | 0.8791
15 | Indiana | 0.8632 | 0.9042
16 | Iowa | 0.8563 | 0.8992
17 | Kansas | 0.8032 | 0.8606
18 | Kentucky | 0.7788 | 0.8427
19 | Louisiana | 0.7445 | 0.8171
20 | Maine | 0.8840 | 0.9190
21 | Maryland | 0.9099 | 0.9374
22 | Massachusetts ¹ | 1.0066 | 1.0045
23 | Michigan | 0.8923 | 0.9249
24 | Minnesota | 0.9183 | 0.9433
25 | Mississippi | 0.7685 | 0.8350
26 | Missouri | 0.7927 | 0.8529
27 | Montana | 0.8822 | 0.9177
28 | Nebraska | 0.8666 | 0.9066
29 | Nevada | 0.9079 | 0.9360
30 | New Hampshire | 1.0668 | 1.0453
31 | New Jersey ¹ | 1.0607 | 1.0412
32 | New Mexico | 0.8649 | 0.9054
33 | New York | 0.8220 | 0.8744
34 | North Carolina | 0.8570 | 0.8997
35 | North Dakota | 0.7278 | 0.8045
36 | Ohio | 0.8788 | 0.9153
37 | Oklahoma | 0.7615 | 0.8298
38 | Oregon | 1.0284 | 1.0194
39 | Pennsylvania | 0.8300 | 0.8802
40 | Puerto Rico ¹ |  |
41 | Rhode Island ¹ | 0.8807 | 0.9167
42 | South Carolina | 0.8663 | 0.9064
43 | South Dakota | 0.8475 | 0.8929
44 | Tennessee | 0.7915 | 0.8520
45 | Texas | 0.8038 | 0.8611
46 | Utah | 0.8134 | 0.8681
47 | Vermont | 1.0199 | 1.0136
49 | Virginia | 0.8024 | 0.8601
50 | Washington | 1.0459 | 1.0312
51 | West Virginia | 0.7742 | 0.8392
52 | Wisconsin | 0.9478 | 0.9640
53 | Wyoming | 0.9207 | 0.9450
¹ All counties within the State are classified as urban, with the exception of Massachusetts. Massachusetts has area(s) designated as rural, however, no short-term, acute care hospitals are located in the area(s) for FY 2006.
Massachusetts, New Jersey, and Rhode Island rural floors are imputed as discussed in section III. H. of the preamble of this proposed rule.

Table 4C.—Wage Index and Capital Geographic Adjustment Factor (GAF) for Hospitals That Are Reclassified by CBSA
CBSA code | Area | Wage index | GAF
10180 | Abilene, TX | 0.8038 | 0.8611
10420 | Akron, OH | 0.8979 | 0.9289
10580 | Albany-Schenectady-Troy, NY | 0.8565 | 0.8994
10740 | Albuquerque, NM | 0.9558 | 0.9695
10780 | Alexandria, LA | 0.8048 | 0.8618
10900 | Allentown-Bethlehem-Easton, PA-NJ | 0.9844 | 0.9893
11020 | Altoona, PA | 0.8942 | 0.9263
11100 | Amarillo, TX | 0.9165 | 0.9420
11180 | Ames, IA | 0.9231 | 0.9467
11460 | Ann Arbor, MI | 1.0628 | 1.0426
11500 | Anniston-Oxford, AL | 0.7702 | 0.8363
11700 | Asheville, NC | 0.9312 | 0.9524
12020 | Athens-Clarke County, GA | 0.9684 | 0.9783
12060 | Atlanta-Sandy Springs-Marietta, GA | 0.9637 | 0.9750
12420 | Austin-Round Rock, TX | 0.9451 | 0.9621
12620 | Bangor, ME | 0.9985 | 0.9990
12700 | Barnstable Town, MA | 1.2254 | 1.1494
12940 | Baton Rouge, LA | 0.8470 | 0.8925
13020 | Bay City, MI | 0.9535 | 0.9679
13780 | Binghamton, NY | 0.8471 | 0.8926
13820 | Birmingham-Hoover, AL | 0.8872 | 0.9213
14260 | Boise City-Nampa, ID | 0.9048 | 0.9338
14484 | Boston-Quincy, MA | 1.1233 | 1.0829
14540 | Bowling Green, KY | 0.8222 | 0.8745
15380 | Buffalo-Niagara Falls, NY | 0.8888 | 0.9224
15540 | Burlington-South Burlington, VT | 0.9306 | 0.9519
15764 | Cambridge-Newton-Framingham, MA | 1.0903 | 1.0610
16180 | Carson City, NV | 0.9786 | 0.9853
16220 | Casper, WY | 0.9207 | 0.9450
16580 | Champaign-Urbana, IL | 0.9335 | 0.9540
16620 | Charleston, WV (WV Hospitals) | 0.8274 | 0.8783
16620 | Charleston, WV(OH Hospitals) | 0.8788 | 0.9153
16700 | Charleston-North Charleston, SC | 0.9317 | 0.9527
16740 | Charlotte-Gastonia-Concord, NC-SC | 0.9585 | 0.9714
16820 | Charlottesville, VA | 0.9806 | 0.9867
16860 | Chattanooga, TN-GA | 0.9099 | 0.9374
16974 | Chicago-Naperville-Joliet, IL | 1.0698 | 1.0473
17140 | Cincinnati-Middletown, OH-KY-IN | 0.9604 | 0.9727
17300 | Clarksville, TN-KY | 0.8092 | 0.8650
17460 | Cleveland-Elyria-Mentor, OH | 0.9197 | 0.9443
17780 | College Station-Bryan, TX | 0.8911 | 0.9241
17860 | Columbia, MO | 0.8346 | 0.8835
17900 | Columbia, SC | 0.9057 | 0.9344
17980 | Columbus, GA-AL | 0.8402 | 0.8876
18140 | Columbus, OH | 0.9848 | 0.9896
18700 | Corvallis, OR | 1.0328 | 1.0223
19124 | Dallas-Plano-Irving, TX | 0.9955 | 0.9969
19380 | Dayton, OH | 0.9069 | 0.9353
19460 | Decatur, AL | 0.8517 | 0.8959
19740 | Denver-Aurora, CO | 1.0517 | 1.0351
19780 | Des Moines, IA | 0.9413 | 0.9594
19804 | Detroit-Livonia-Dearborn, MI | 1.0453 | 1.0308
20260 | Duluth, MN-WI | 1.0224 | 1.0153
20500 | Durham, NC | 0.9993 | 0.9995
20764 | Edison, NJ | 1.1301 | 1.0874
20940 | El Centro, CA | 0.9102 | 0.9376
21060 | Elizabethtown, KY | 0.8286 | 0.8792
21500 | Erie, PA | 0.8424 | 0.8892
21604 | Essex County, MA | 1.0668 | 1.0453
21660 | Eugene-Springfield, OR | 1.0492 | 1.0334
21780 | Evansville, IN-KY | 0.8508 | 0.8953
22020 | Fargo, ND-MN (ND, SD Hospitals) | 0.8778 | 0.9146
22020 | Fargo, ND-MN (MN Hospitals) | 0.9183 | 0.9433
22180 | Fayetteville, NC | 0.9193 | 0.9440
22220 | Fayetteville-Springdale-Rogers, AR-MO | 0.8615 | 0.9029
22380 | Flagstaff, AZ | 1.1713 | 1.1144
22420 | Flint, MI | 1.0654 | 1.0443
22540 | Fond du Lac, WI | 0.9478 | 0.9640
22660 | Fort Collins-Loveland, CO | 1.0146 | 1.0100
22744 | Ft Lauderdale-Pompano Beach-Deerfield Beach, FL | 1.0508 | 1.0345
22900 | Fort Smith, AR-OK | 0.7986 | 0.8573
23020 | Fort Walton Beach-Crestview-Destin, FL | 0.8672 | 0.9070
23060 | Fort Wayne, IN | 0.9797 | 0.9861
23104 | Fort Worth-Arlington, TX | 0.9514 | 0.9665
23540 | Gainesville, FL | 0.9461 | 0.9628
23844 | Gary, IN | 0.9366 | 0.9561
24340 | Grand Rapids-Wyoming, MI | 0.9398 | 0.9584
24500 | Great Falls, MT | 0.9074 | 0.9356
24540 | Greeley, CO | 0.9597 | 0.9722
24580 | Green Bay, WI (MI Hospitals) | 0.9439 | 0.9612
24580 | Green Bay, WI (WI Hospitals) | 0.9478 | 0.9640
24780 | Greenville, NC | 0.9414 | 0.9595
24860 | Greenville, SC | 0.9807 | 0.9867
25060 | Gulfport-Biloxi, MS | 0.8612 | 0.9027
25420 | Harrisburg-Carlisle, PA | 0.9145 | 0.9406
25500 | Harrisonburg, VA | 0.8998 | 0.9302
25540 | Hartford-West Hartford-East Hartford, CT (MA Hospitals) | 1.1085 | 1.0731
25540 | Hartford-West Hartford-East Hartford, CT (CT Hospitals) | 1.1790 | 1.1194
25860 | Hickory-Lenoir-Morganton, NC | 0.8931 | 0.9255
26100 | Holland-Grand Haven, MI | 0.9133 | 0.9398
26180 | Honolulu, HI | 1.1206 | 1.0811
26420 | Houston-Baytown-Sugar Land, TX | 1.0008 | 1.0005
26580 | Huntington-Ashland, WV-KY-OH | 0.9119 | 0.9388
26620 | Huntsville, AL | 0.9124 | 0.9391
26900 | Indianapolis, IN | 0.9776 | 0.9846
26980 | Iowa City, IA | 0.9574 | 0.9706
27060 | Ithaca, NY | 0.9204 | 0.9448
27140 | Jackson, MS | 0.8182 | 0.8716
27180 | Jackson, TN | 0.8799 | 0.9161
27260 | Jacksonville, FL | 0.9303 | 0.9517
27860 | Jonesboro, AR | 0.7793 | 0.8430
27900 | Joplin, MO | 0.8458 | 0.8916
28020 | Kalamazoo-Portage, MI | 1.0403 | 1.0274
28100 | Kankakee-Bradley, IL | 1.0991 | 1.0668
28140 | Kansas City, MO-KS | 0.9454 | 0.9623
28420 | Kennewick-Richland-Pasco, WA | 1.0459 | 1.0312
28700 | Kingsport-Bristol-Bristol, TN-VA | 0.8095 | 0.8653
28740 | Kingston, NY | 0.8904 | 0.9236
28940 | Knoxville, TN | 0.8470 | 0.8925
29180 | Lafayette, LA | 0.8429 | 0.8896
29404 | Lake County-Kenosha County, IL-WI | 1.0444 | 1.0302
29460 | Lakeland, FL | 0.8934 | 0.9257
29620 | Lansing-East Lansing, MI | 0.9786 | 0.9853
29740 | Las Cruces, NM | 0.8649 | 0.9054
29820 | Las Vegas-Paradise, NV | 1.1249 | 1.0839
30020 | Lawton, OK | 0.7673 | 0.8341
30460 | Lexington-Fayette, KY | 0.8830 | 0.9183
30620 | Lima, OH | 0.9263 | 0.9489
30700 | Lincoln, NE | 0.9666 | 0.9770
30780 | Little Rock-North Little Rock, AR | 0.8552 | 0.8984
30980 | Longview, TX | 0.8621 | 0.9034
31084 | Los Angeles-Long Beach-Santa Ana, CA | 1.1660 | 1.1109
31140 | Louisville, KY-IN | 0.9264 | 0.9490
31180 | Lubbock, TX | 0.8790 | 0.9155
31340 | Lynchburg, VA | 0.8596 | 0.9016
31420 | Macon, GA | 0.9087 | 0.9365
31540 | Madison, WI | 1.0416 | 1.0283
31700 | Manchester-Nashua, NH | 1.0668 | 1.0453
32780 | Medford, OR | 1.0284 | 1.0194
32820 | Memphis, TN-MS-AR | 0.9108 | 0.9380
33124 | Miami-Miami Beach-Kendall, FL | 0.9757 | 0.9833
33260 | Midland, TX | 0.9317 | 0.9527
33340 | Milwaukee-Waukesha-West Allis, WI | 0.9957 | 0.9971
33460 | Minneapolis-St. Paul-Bloomington, MN-WI | 1.0905 | 1.0611
33540 | Missoula, MT | 0.9535 | 0.9679
33660 | Mobile, AL | 0.7902 | 0.8511
33700 | Modesto, CA | 1.1885 | 1.1255
33860 | Montgomery, AL | 0.8276 | 0.8785
34060 | Morgantown, WV | 0.8332 | 0.8825
34980 | Nashville-Davidson—Murfreesboro, TN | 0.9492 | 0.9649
35084 | Newark-Union, NJ-PA | 1.2192 | 1.1454
35380 | New Orleans-Metairie-Kenner, LA | 0.9003 | 0.9306
35644 | New York-Wayne-White Plains, NY-NJ | 1.3191 | 1.2088
36084 | Oakland-Fremont-Hayward, CA | 1.5474 | 1.3485
36100 | Ocala, FL | 0.8955 | 0.9272
36140 | Ocean City, NJ | 1.0289 | 1.0197
36220 | Odessa, TX | 0.9593 | 0.9719
36260 | Ogden-Clearfield, UT | 0.9048 | 0.9338
36420 | Oklahoma City, OK | 0.9043 | 0.9334
36500 | Olympia, WA | 1.0970 | 1.0655
36540 | Omaha-Council Bluffs, NE-IA | 0.9555 | 0.9693
36740 | Orlando, FL | 0.9446 | 0.9617
37860 | Pensacola-Ferry Pass-Brent, FL | 0.8089 | 0.8648
37900 | Peoria, IL | 0.8844 | 0.9193
37964 | Philadelphia, PA | 1.1030 | 1.0694
38220 | Pine Bluff, AR | 0.8099 | 0.8656
38300 | Pittsburgh, PA | 0.8840 | 0.9190
38340 | Pittsfield, MA | 1.0199 | 1.0136
38860 | Portland-South Portland-Biddeford, ME | 0.9884 | 0.9920
38900 | Portland-Vancouver-Beaverton, OR-WA | 1.1229 | 1.0826
38940 | Port St. Lucie-Fort Pierce, FL | 1.0162 | 1.0111
39100 | Poughkeepsie-Newburgh-Middletown, NY | 1.0576 | 1.0391
39340 | Provo-Orem, UT | 0.9578 | 0.9709
39580 | Raleigh-Cary, NC | 0.9476 | 0.9638
39740 | Reading, PA | 0.9500 | 0.9655
39820 | Redding, CA | 1.1909 | 1.1271
39900 | Reno-Sparks, NV (NV Hospitals) | 1.0805 | 1.0545
39900 | Reno-Sparks, NV (CA Hospitals) | 1.0848 | 1.0573
40060 | Richmond, VA | 0.9319 | 0.9528
40220 | Roanoke, VA | 0.8450 | 0.8911
40340 | Rochester, MN | 1.1128 | 1.0759
40380 | Rochester, NY | 0.9117 | 0.9387
40420 | Rockford, IL | 0.9667 | 0.9771
40484 | Rockingham County, NH | 1.0503 | 1.0342
40660 | Rome, GA | 0.9414 | 0.9595
40900 | Sacramento—Arden-Arcade—Roseville, CA | 1.2953 | 1.1939
40980 | Saginaw-Saginaw Township North, MI | 0.9090 | 0.9368
41060 | St. Cloud, MN | 0.9785 | 0.9852
41100 | St. George, UT | 0.9416 | 0.9596
41180 | St. Louis, MO-IL | 0.8953 | 0.9271
41620 | Salt Lake City, UT | 0.9436 | 0.9610
41700 | San Antonio, TX | 0.8987 | 0.9295
41884 | San Francisco-San Mateo-Redwood City,CA | 1.4739 | 1.3043
41980 | San Juan-Caguas-Guaynabo, PR | 0.4686 | 0.5951
42044 | Santa Ana-Anaheim-Irvine, CA | 1.1297 | 1.0871
42140 | Santa Fe, NM | 1.0163 | 1.0111
42220 | Santa Rosa-Petaluma, CA | 1.3480 | 1.2269
42260 | Sarasota-Bradenton-Venice, FL | 0.9554 | 0.9692
42340 | Savannah, GA | 0.9316 | 0.9526
42644 | Seattle-Bellevue-Everett, WA | 1.1573 | 1.1052
43300 | Sherman-Denison, TX | 0.8971 | 0.9283
43340 | Shreveport-Bossier City, LA | 0.8767 | 0.9138
43620 | Sioux Falls, SD | 0.9616 | 0.9735
43780 | South Bend-Mishawaka, IN-MI | 0.9785 | 0.9852
43900 | Spartanburg, SC | 0.9183 | 0.9433
44060 | Spokane, WA | 1.0722 | 1.0489
44180 | Springfield, MO | 0.8251 | 0.8766
44300 | State College, PA | 0.8300 | 0.8802
44940 | Sumter, SC | 0.8663 | 0.9064
45060 | Syracuse, NY | 0.9315 | 0.9526
45104 | Tacoma, WA | 1.0794 | 1.0537
45220 | Tallahassee, FL | 0.8420 | 0.8889
45300 | Tampa-St. Petersburg-Clearwater, FL | 0.9292 | 0.9510
45500 | Texarkana, TX-Texarkana, AR | 0.8293 | 0.8797
45820 | Topeka, KS | 0.8785 | 0.9151
46140 | Tulsa, OK | 0.8313 | 0.8812
46220 | Tuscaloosa, AL | 0.8614 | 0.9029
46340 | Tyler, TX | 0.9164 | 0.9420
46660 | Valdosta, GA | 0.8710 | 0.9098
46700 | Vallejo-Fairfield, CA | 1.3955 | 1.2564
47260 | Virginia Beach-Norfolk-Newport News, VA | 0.8841 | 0.9191
47380 | Waco, TX | 0.8532 | 0.8970
47894 | Washington-Arlington-Alexandria DC-VA | 1.0813 | 1.0550
48140 | Wausau, WI | 0.9964 | 0.9975
48620 | Wichita, KS | 0.8946 | 0.9266
48700 | Williamsport, PA | 0.8300 | 0.8802
48864 | Wilmington, DE-MD-NJ | 1.0652 | 1.0442
48900 | Wilmington, NC | 0.9394 | 0.9581
49020 | Winchester, VA-WV | 1.0214 | 1.0146
49180 | Winston-Salem, NC | 0.9020 | 0.9318
49660 | Youngstown-Warren-Boardman, OH-PA (PA Hospitals) | 0.8446 | 0.8908
49660 | Youngstown-Warren-Boardman, OH-PA (OH Hospitals) | 0.8788 | 0.9153
03 | Rural Arizona | 0.8991 | 0.9298
04 | Rural Arkansas | 0.7478 | 0.8195
05 | Rural California | 1.0848 | 1.0573
07 | Rural Connecticut | 1.0448 | 1.0305
10 | Rural Florida | 0.8613 | 0.9028
13 | Rural Idaho | 0.8810 | 0.9169
14 | Rural Illinois | 0.8285 | 0.8791
15 | Rural Indiana | 0.8632 | 0.9042
16 | Rural Iowa | 0.8563 | 0.8992
17 | Rural Kansas | 0.8032 | 0.8606
19 | Rural Louisiana | 0.7445 | 0.8171
23 | Rural Michigan | 0.8923 | 0.9249
24 | Rural Minnesota | 0.9183 | 0.9433
26 | Rural Missouri | 0.7927 | 0.8529
30 | Rural New Hampshire | 1.0668 | 1.0453
37 | Rural Oklahoma | 0.7615 | 0.8298
38 | Rural Oregon | 1.0284 | 1.0194
45 | Rural Texas | 0.8038 | 0.8611
50 | Rural Washington (ID Hospitals) | 1.0061 | 1.0042
50 | Rural Washington (WA Hospitals) | 1.0459 | 1.0312
53 | Rural Wyoming | 0.9207 | 0.9450

Table 4F.—Puerto Rico Wage Index and Capital Geographic Adjustment Factor (GAF) by CBSA
CBSA Code | Area | Wage Index | GAF | Wage Index -Reclassified Hospitals | GAF -Reclassified Hospitals
10380 | Aguadilla-Isabela-San Sebastián, PR | 1.0196 | 1.0134 |  |
21940 | Fajardo, PR | 0.8956 | 0.9273 |  |
25020 | Guayama, PR | 0.6858 | 0.7724 |  |
32420 | Mayagüez, PR | 0.8647 | 0.9052 |  |
38660 | Ponce, PR | 1.1147 | 1.0772 |  |
41900 | San Germán-Cabo Rojo, PR | 1.0002 | 1.0001 |  |
41980 | San Juan-Caguas-Guaynabo, PR | 1.0087 | 1.0059 | 1.0087 | 1.0059
49500 | Yauco, PR | 0.9500 | 0.9655 |  |

The following list represents all hospitals that are eligible to have their wage index increased by the out-migration adjustment listed in this table. Hospitals cannot receive the out-migration adjustment if they are reclassified under section 1886(d)(10) of the Act or redesignated under section 1886(d)(8)(B) of the Act. Hospitals that have already been reclassified under section 1886(d)(10) of the Act or redesignated under section 1886(d)(8)(B) of the Act are designated with an asterisk. Hospitals have the opportunity to use the new additional 30-day period to review their individual situation to determine whether to submit a request to withdraw their reclassification/redesignation and receive the out-migration adjustment instead. We will automatically assume that hospitals that have already been reclassified under section 1886(d)(10) of the Act or redesignated under section 1886(d)(8)(B) of the Act wish to retain their reclassification/redesignation status and waive the application of the out-migration adjustment. Hospitals are not required to provide CMS with any type of formal notification that they wish to remain reclassified/redesignated.

Table 4J.—Out-Migration Adjustment—FY 2006
Provider number | Out-migration adjustment | Qualifying county name
010005* | 0.0259 | MARSHALL
010008* | 0.0212 | CRENSHAW
010009 | 0.0092 | MORGAN
010010 | 0.0259 | MARSHALL
010012* | 0.0205 | DE KALB
010022* | 0.0714 | CHEROKEE
010025* | 0.0225 | CHAMBERS
010029* | 0.0107 | LEE
010035* | 0.0375 | CULLMAN
010038 | 0.0062 | CALHOUN
010045* | 0.0160 | FAYETTE
010047 | 0.0155 | BUTLER
010054 | 0.0092 | MORGAN
010061 | 0.0506 | JACKSON
010072* | 0.0310 | TALLADEGA
010078 | 0.0062 | CALHOUN
010083* | 0.0121 | BALDWIN
010085 | 0.0092 | MORGAN
010100* | 0.0121 | BALDWIN
010101* | 0.0310 | TALLADEGA
010109 | 0.0464 | PICKENS
010115 | 0.0093 | FRANKLIN
010129 | 0.0121 | BALDWIN
010143* | 0.0375 | CULLMAN
010146 | 0.0062 | CALHOUN
010150 | 0.0155 | BUTLER
010158* | 0.0093 | FRANKLIN
040014* | 0.0159 | WHITE
040019* | 0.0697 | ST. FRANCIS
040047* | 0.0090 | RANDOLPH
040066 | 0.0382 | CLARK
040069* | 0.0140 | MISSISSIPPI
040070 | 0.0140 | MISSISSIPPI
040071* | 0.0026 | JEFFERSON
040076* | 0.1075 | HOT SPRING
040100* | 0.0159 | WHITE
040143 | 0.0026 | JEFFERSON
050008 | 0.0028 | SAN FRANCISCO
050009* | 0.0478 | NAPA
050013* | 0.0478 | NAPA
050014* | 0.0131 | AMADOR
050016 | 0.0087 | SAN LUIS OBISPO
050042* | 0.0219 | TEHAMA
050046* | 0.0156 | VENTURA
050047 | 0.0028 | SAN FRANCISCO
050055 | 0.0028 | SAN FRANCISCO
050065* | 0.0029 | ORANGE
050069* | 0.0029 | ORANGE
050073* | 0.0269 | SOLANO
050076* | 0.0028 | SAN FRANCISCO
050082* | 0.0156 | VENTURA
050084 | 0.0555 | SAN JOAQUIN
050088 | 0.0087 | SAN LUIS OBISPO
050089* | 0.0152 | SAN BERNARDINO
050090* | 0.0308 | SONOMA
050099* | 0.0152 | SAN BERNARDINO
050101 | 0.0269 | SOLANO
050117 | 0.0463 | MERCED
050118* | 0.0555 | SAN JOAQUIN
050122 | 0.0555 | SAN JOAQUIN
050129* | 0.0152 | SAN BERNARDINO
050133 | 0.017 | YUBA
050136* | 0.0308 | SONOMA
050140* | 0.0152 | SAN BERNARDINO
050150* | 0.0316 | NEVADA
050152 | 0.0028 | SAN FRANCISCO
050159* | 0.0156 | VENTURA
050167 | 0.0555 | SAN JOAQUIN
050168* | 0.0029 | ORANGE
050173* | 0.0029 | ORANGE
050174* | 0.0308 | SONOMA
050177* | 0.0156 | VENTURA
050193* | 0.0029 | ORANGE
050224* | 0.0029 | ORANGE
050226* | 0.0029 | ORANGE
050228* | 0.0028 | SAN FRANCISCO
050230* | 0.0029 | ORANGE
050232 | 0.0087 | SAN LUIS OBISPO
050236* | 0.0156 | VENTURA
050245* | 0.0152 | SAN BERNARDINO
050253 | 0.0029 | ORANGE
050272* | 0.0152 | SAN BERNARDINO
050279* | 0.0152 | SAN BERNARDINO
050291* | 0.0308 | SONOMA
050298* | 0.0152 | SAN BERNARDINO
050300* | 0.0152 | SAN BERNARDINO
050313 | 0.0555 | SAN JOAQUIN
050325 | 0.0176 | TUOLUMNE
050327* | 0.0152 | SAN BERNARDINO
050331* | 0.0308 | SONOMA
050335 | 0.0176 | TUOLUMNE
050336 | 0.0555 | SAN JOAQUIN
050348* | 0.0029 | ORANGE
050366 | 0.0096 | CALAVERAS
050367 | 0.0269 | SOLANO
050385* | 0.0308 | SONOMA
050394* | 0.0156 | VENTURA
050407 | 0.0028 | SAN FRANCISCO
050426* | 0.0029 | ORANGE
050444 | 0.0463 | MERCED
050454 | 0.0028 | SAN FRANCISCO
050457 | 0.0028 | SAN FRANCISCO
050469* | 0.0152 | SAN BERNARDINO
050476 | 0.0257 | LAKE
050491 | 0.0029 | ORANGE
050494 | 0.0316 | NEVADA
050506 | 0.0087 | SAN LUIS OBISPO
050517* | 0.0152 | SAN BERNARDINO
050526* | 0.0029 | ORANGE
050528* | 0.0463 | MERCED
050535* | 0.0029 | ORANGE
050539 | 0.0257 | LAKE
050543* | 0.0029 | ORANGE
050547* | 0.0308 | SONOMA
050548* | 0.0029 | ORANGE
050549 | 0.0156 | VENTURA
050550* | 0.0029 | ORANGE
050551* | 0.0029 | ORANGE
050567* | 0.0029 | ORANGE
050568 | 0.0062 | MADERA
050570* | 0.0029 | ORANGE
050580* | 0.0029 | ORANGE
050584* | 0.0152 | SAN BERNARDINO
050585* | 0.0029 | ORANGE
050586* | 0.0152 | SAN BERNARDINO
050589* | 0.0029 | ORANGE
050592* | 0.0029 | ORANGE
050594* | 0.0029 | ORANGE
050603* | 0.0029 | ORANGE
050609* | 0.0029 | ORANGE
050616* | 0.0156 | VENTURA
050618* | 0.0152 | SAN BERNARDINO
050633 | 0.0087 | SAN LUIS OBISPO
050667* | 0.0478 | NAPA
050668* | 0.0028 | SAN FRANCISCO
050678* | 0.0029 | ORANGE
050680 | 0.0269 | SOLANO
050690* | 0.0308 | SONOMA
050693 | 0.0029 | ORANGE
050695 | 0.0555 | SAN JOAQUIN
050720* | 0.0029 | ORANGE
050728* | 0.0308 | SONOMA
060001* | 0.0294 | WELD
060003* | 0.0203 | BOULDER
060027* | 0.0203 | BOULDER
060103* | 0.0203 | BOULDER
070003* | 0.0009 | WINDHAM
070006 | 0.0047 | FAIRFIELD
070010 | 0.0047 | FAIRFIELD
070018 | 0.0047 | FAIRFIELD
070020 | 0.0073 | MIDDLESEX
070021* | 0.0009 | WINDHAM
070028 | 0.0047 | FAIRFIELD
070033* | 0.0047 | FAIRFIELD
070034 | 0.0047 | FAIRFIELD
080001 | 0.0059 | NEW CASTLE
080003 | 0.0059 | NEW CASTLE
100014 | 0.0118 | VOLUSIA
100017 | 0.0118 | VOLUSIA
100023* | 0.0069 | CITRUS
100045* | 0.0118 | VOLUSIA
100047 | 0.0021 | CHARLOTTE
100062 | 0.0060 | MARION
100068 | 0.0118 | VOLUSIA
100072 | 0.0118 | VOLUSIA
100077 | 0.0021 | CHARLOTTE
100102 | 0.0133 | COLUMBIA
100118* | 0.0398 | FLAGLER
100156 | 0.0133 | COLUMBIA
100175 | 0.0231 | DE SOTO
100212 | 0.0060 | MARION
100232* | 0.0347 | PUTNAM
100236 | 0.0021 | CHARLOTTE
100249* | 0.0069 | CITRUS
100252* | 0.0233 | OKEECHOBEE
110023* | 0.0500 | GORDON
110026 | 0.0220 | ELBERT
110027 | 0.0387 | FRANKLIN
110029* | 0.0063 | HALL
110041* | 0.0777 | HABERSHAM
110063 | 0.0290 | LIBERTY
110069* | 0.0474 | HOUSTON
110120 | 0.0873 | POLK
110124 | 0.0428 | WAYNE
110136 | 0.0261 | BALDWIN
110146 | 0.0642 | CAMDEN
110150* | 0.0261 | BALDWIN
110153* | 0.0474 | HOUSTON
110187* | 0.1172 | LUMPKIN
110189* | 0.0031 | FANNIN
110190 | 0.0182 | MACON
110205* | 0.0779 | GILMER
130003* | 0.0095 | NEZ PERCE
130011 | 0.0218 | LATAH
130024 | 0.0275 | BONNER
130049* | 0.0349 | KOOTENAI
140001 | 0.0199 | FULTON
140012* | 0.022 | LEE
140026 | 0.0346 | LA SALLE
140033 | 0.0147 | LAKE
140043* | 0.0046 | WHITESIDE
140058* | 0.0081 | MORGAN
140084 | 0.0147 | LAKE
140100 | 0.0147 | LAKE
140110* | 0.0346 | LA SALLE
140129 | 0.0096 | WABASH
140130 | 0.0147 | LAKE
140155 | 0.0027 | KANKAKEE
140160* | 0.0286 | STEPHENSON
140161* | 0.0138 | LIVINGSTON
140167* | 0.0937 | IROQUOIS
140173 | 0.0046 | WHITESIDE
140186 | 0.0027 | KANKAKEE
140199 | 0.0109 | MONTGOMERY
140202 | 0.0147 | LAKE
140205 | 0.0163 | BOONE
140234* | 0.0346 | LA SALLE
140291* | 0.0147 | LAKE
150002* | 0.0241 | LAKE
150004* | 0.0241 | LAKE
150008* | 0.0241 | LAKE
150022 | 0.0249 | MONTGOMERY
150030* | 0.0201 | HENRY
150034 | 0.0241 | LAKE
150035 | 0.0083 | PORTER
150045 | 0.0416 | DE KALB
150060 | 0.0052 | VERMILLION
150062 | 0.0153 | DECATUR
150065* | 0.0139 | JACKSON
150076* | 0.0189 | MARSHALL
150088* | 0.0196 | MADISON
150090* | 0.0241 | LAKE
150091 | 0.0573 | HUNTINGTON
150102* | 0.0160 | STARKE
150113* | 0.0196 | MADISON
150122 | 0.0199 | RIPLEY
150125* | 0.0241 | LAKE
150126* | 0.0241 | LAKE
150132* | 0.0241 | LAKE
150147* | 0.0241 | LAKE
150156 | 0.0241 | LAKE
160013 | 0.0218 | MUSCATINE
160026* | 0.0496 | BOONE
160030 | 0.0032 | STORY
160032 | 0.0272 | JASPER
160080* | 0.0049 | CLINTON
160140 | 0.0364 | PLYMOUTH
170137* | 0.0331 | DOUGLAS
180012* | 0.0083 | HARDIN
180049 | 0.0532 | MADISON
180055 | 0.0532 | MADISON
180066* | 0.0567 | LOGAN
180127* | 0.0352 | FRANKLIN
180128 | 0.0282 | LAWRENCE
190001* | 0.0645 | WASHINGTON
190003* | 0.0107 | IBERIA
190010 | 0.0401 | TANGIPAHOA
190015* | 0.0401 | TANGIPAHOA
190017 | 0.0235 | ST. LANDRY
190049 | 0.0645 | WASHINGTON
190054 | 0.0107 | IBERIA
190078 | 0.0235 | ST. LANDRY
190086* | 0.0129 | LINCOLN
190088 | 0.0705 | WEBSTER
190099* | 0.039 | AVOYELLES
190106* | 0.0238 | ALLEN
190116 | 0.0179 | MOREHOUSE
190133 | 0.0238 | ALLEN
190144 | 0.0705 | WEBSTER
190147 | 0.0401 | TANGIPAHOA
190148 | 0.039 | AVOYELLES
190191* | 0.0235 | ST. LANDRY
200002* | 0.0129 | LINCOLN
200013 | 0.0186 | WALDO
200019 | 0.0067 | YORK
200020* | 0.0067 | YORK
200024* | 0.0071 | ANDROSCOGGIN
200032 | 0.046 | OXFORD
200034* | 0.0071 | ANDROSCOGGIN
200040 | 0.0067 | YORK
200050* | 0.0140 | HANCOCK
210001 | 0.0129 | WASHINGTON
210004 | 0.0040 | MONTGOMERY
210016 | 0.0040 | MONTGOMERY
210018 | 0.0040 | MONTGOMERY
210022 | 0.0040 | MONTGOMERY
210023 | 0.0209 | ANNE ARUNDEL
210028 | 0.0512 | ST. MARYS
210043 | 0.0209 | ANNE ARUNDEL
210048 | 0.0287 | HOWARD
210057 | 0.0040 | MONTGOMERY
220001* | 0.0056 | WORCESTER
220002* | 0.0249 | MIDDLESEX
220003* | 0.0056 | WORCESTER
220006 | 0.0306 | ESSEX
220010* | 0.0306 | ESSEX
220011* | 0.0249 | MIDDLESEX
220019* | 0.0056 | WORCESTER
220025* | 0.0056 | WORCESTER
220028* | 0.0056 | WORCESTER
220029* | 0.0306 | ESSEX
220033* | 0.0306 | ESSEX
220035* | 0.0306 | ESSEX
220049* | 0.0249 | MIDDLESEX
220058* | 0.0056 | WORCESTER
220062* | 0.0056 | WORCESTER
220063* | 0.0249 | MIDDLESEX
220070* | 0.0249 | MIDDLESEX
220076 | 0.0249 | MIDDLESEX
220080* | 0.0306 | ESSEX
220082* | 0.0249 | MIDDLESEX
220084* | 0.0249 | MIDDLESEX
220089* | 0.0249 | MIDDLESEX
220090* | 0.0056 | WORCESTER
220095* | 0.0056 | WORCESTER
220098* | 0.0249 | MIDDLESEX
220101* | 0.0249 | MIDDLESEX
220105* | 0.0249 | MIDDLESEX
220163* | 0.0056 | WORCESTER
220171* | 0.0249 | MIDDLESEX
220174* | 0.0306 | ESSEX
230003 | 0.0035 | OTTAWA
230005 | 0.0598 | LENAWEE
230013 | 0.0091 | OAKLAND
230015 | 0.0359 | ST. JOSEPH
230019 | 0.0091 | OAKLAND
230021 | 0.0136 | BERRIEN
230022* | 0.0113 | BRANCH
230029 | 0.0091 | OAKLAND
230037* | 0.0178 | HILLSDALE
230041 | 0.0099 | BAY
230042* | 0.0685 | ALLEGAN
230047* | 0.0082 | MACOMB
230069* | 0.0487 | LIVINGSTON
230071 | 0.0091 | OAKLAND
230072 | 0.0035 | OTTAWA
230075 | 0.0145 | CALHOUN
230078* | 0.0136 | BERRIEN
230092 | 0.0389 | JACKSON
230093* | 0.0079 | MECOSTA
230096* | 0.0359 | ST. JOSEPH
230099* | 0.0339 | MONROE
230106 | 0.0030 | NEWAYGO
230120 | 0.0598 | LENAWEE
230121* | 0.0691 | SHIAWASSEE
230130 | 0.0091 | OAKLAND
230151 | 0.0091 | OAKLAND
230174 | 0.0035 | OTTAWA
230184 | 0.0389 | JACKSON
230195* | 0.0082 | MACOMB
230204* | 0.0082 | MACOMB
230207 | 0.0091 | OAKLAND
230217* | 0.0145 | CALHOUN
230222 | 0.0228 | MIDLAND
230223 | 0.0091 | OAKLAND
230227* | 0.0082 | MACOMB
230254 | 0.0091 | OAKLAND
230257* | 0.0082 | MACOMB
230264* | 0.0082 | MACOMB
230269 | 0.0091 | OAKLAND
230277 | 0.0091 | OAKLAND
230279* | 0.0487 | LIVINGSTON
230295* | 0.0685 | ALLEGAN
240011 | 0.0506 | MC LEOD
240013* | 0.0226 | MORRISON
240014 | 0.0454 | RICE
240018* | 0.1196 | GOODHUE
240021 | 0.0897 | LE SUEUR
240044 | 0.0868 | WINONA
240064* | 0.0138 | ITASCA
240069* | 0.0419 | STEELE
240071* | 0.0454 | RICE
240089 | 0.1196 | GOODHUE
240133 | 0.0319 | MEEKER
240152* | 0.0735 | KANABEC
240154 | 0.0138 | ITASCA
240187* | 0.0506 | MC LEOD
240205 | 0.0138 | ITASCA
240211* | 0.0705 | PINE
250030 | 0.0318 | LEAKE
250040* | 0.0294 | JACKSON
250045 | 0.0042 | HANCOCK
250088 | 0.0122 | WILKINSON
250154 | 0.0318 | LEAKE
260011* | 0.0007 | COLE
260025* | 0.0078 | MARION
260047* | 0.0007 | COLE
260073 | 0.0197 | BARTON
260074* | 0.0158 | RANDOLPH
260097 | 0.0425 | JOHNSON
260127 | 0.0158 | PIKE
280054 | 0.0137 | GAGE
280077* | 0.0089 | DODGE
280123 | 0.0137 | GAGE
290019* | 0.0026 | CARSON CITY
290020 | 0.1013 | NYE
300007* | 0.0080 | HILLSBOROUGH
300011* | 0.0080 | HILLSBOROUGH
300012* | 0.0080 | HILLSBOROUGH
300017* | 0.0361 | ROCKINGHAM
300020* | 0.0080 | HILLSBOROUGH
300023* | 0.0361 | ROCKINGHAM
300029* | 0.0361 | ROCKINGHAM
300034* | 0.0080 | HILLSBOROUGH
310002* | 0.0351 | ESSEX
310009* | 0.0351 | ESSEX
310010 | 0.0180 | MERCER
310011 | 0.0181 | CAPE MAY
310013* | 0.0351 | ESSEX
310014 | 0.0156 | CAMDEN
310018* | 0.0351 | ESSEX
310021 | 0.0180 | MERCER
310022 | 0.0156 | CAMDEN
310029 | 0.0156 | CAMDEN
310031* | 0.0137 | BURLINGTON
310032* | 0.0065 | CUMBERLAND
310038* | 0.0350 | MIDDLESEX
310039 | 0.0350 | MIDDLESEX
310044 | 0.0180 | MERCER
310054* | 0.0351 | ESSEX
310057 | 0.0137 | BURLINGTON
310061 | 0.0137 | BURLINGTON
310070* | 0.0350 | MIDDLESEX
310076* | 0.0351 | ESSEX
310078* | 0.0351 | ESSEX
310083* | 0.0351 | ESSEX
310086 | 0.0156 | CAMDEN
310092 | 0.0180 | MERCER
310093* | 0.0351 | ESSEX
310096* | 0.0351 | ESSEX
310108 | 0.0350 | MIDDLESEX
310110 | 0.0180 | MERCER
310119* | 0.0351 | ESSEX
320003 | 0.0630 | SAN MIGUEL
320011 | 0.0442 | RIO ARRIBA
320018 | 0.0063 | DONA ANA
320085 | 0.0063 | DONA ANA
330001* | 0.0560 | ORANGE
330004* | 0.0959 | ULSTER
330008* | 0.0470 | WYOMING
330027* | 0.0137 | NASSAU
330094* | 0.0778 | COLUMBIA
330106 | 0.0137 | NASSAU
330126 | 0.0560 | ORANGE
330135 | 0.0560 | ORANGE
330167 | 0.0137 | NASSAU
330175 | 0.0268 | CORTLAND
330181* | 0.0137 | NASSAU
330182* | 0.0137 | NASSAU
330191* | 0.0026 | WARREN
330198 | 0.0137 | NASSAU
330205 | 0.0560 | ORANGE
330209 | 0.0560 | ORANGE
330222 | 0.0003 | SARATOGA
330224 | 0.0959 | ULSTER
330225 | 0.0137 | NASSAU
330235* | 0.0270 | CAYUGA
330259 | 0.0137 | NASSAU
330264 | 0.0560 | ORANGE
330276 | 0.0063 | FULTON
330331 | 0.0137 | NASSAU
330332 | 0.0137 | NASSAU
330333 | 0.0137 | NASSAU
330372 | 0.0137 | NASSAU
330386* | 0.1139 | SULLIVAN
330402 | 0.0959 | ULSTER
340003 | 0.0116 | SURRY
340015 | 0.0267 | ROWAN
340016 | 0.1312 | JACKSON
340020 | 0.0207 | LEE
340021* | 0.0216 | CLEVELAND
340027* | 0.0126 | LENOIR
340037 | 0.0216 | CLEVELAND
340039* | 0.0144 | IREDELL
340069* | 0.0053 | WAKE
340070 | 0.0448 | ALAMANCE
340073* | 0.0053 | WAKE
340085 | 0.0377 | DAVIDSON
340088 | 0.0115 | TRANSYLVANIA
340096 | 0.0377 | DAVIDSON
340097 | 0.0116 | SURRY
340104 | 0.0216 | CLEVELAND
340114* | 0.0053 | WAKE
340126 | 0.0161 | WILSON
340127* | 0.0961 | GRANVILLE
340129* | 0.0144 | IREDELL
340133 | 0.0302 | MARTIN
340138* | 0.0053 | WAKE
340144* | 0.0144 | IREDELL
340145* | 0.0563 | LINCOLN
340173* | 0.0053 | WAKE
360013* | 0.0166 | SHELBY
360025* | 0.0087 | ERIE
360034 | 0.0263 | WAYNE
360036* | 0.0263 | WAYNE
360040 | 0.0327 | KNOX
360065* | 0.0141 | HURON
360070 | 0.0028 | STARK
360078* | 0.0159 | PORTAGE
360084 | 0.0028 | STARK
360086* | 0.0168 | CLARK
360093 | 0.0120 | DEFIANCE
360095 | 0.0087 | HANCOCK
360096* | 0.0031 | COLUMBIANA
360099 | 0.0087 | HANCOCK
360100 | 0.0028 | STARK
360107* | 0.0213 | SANDUSKY
360131 | 0.0028 | STARK
360151 | 0.0028 | STARK
360156 | 0.0213 | SANDUSKY
360175* | 0.0159 | CLINTON
360177 | 0.0212 | FAYETTE
360185* | 0.0031 | COLUMBIANA
360187* | 0.0168 | CLARK
360197* | 0.0092 | LOGAN
370004* | 0.0193 | OTTAWA
370014* | 0.0831 | BRYAN
370015* | 0.0463 | MAYES
370023 | 0.0084 | STEPHENS
370043 | 0.0294 | MARSHALL
370065 | 0.0121 | CRAIG
370113* | 0.0205 | DELAWARE
370138 | 0.0073 | TEXAS
370149 | 0.0356 | POTTAWATOMIE
370179* | 0.0314 | OKFUSKEE
380002 | 0.0130 | JOSEPHINE
380008* | 0.0201 | LINN
380022* | 0.0201 | LINN
380029 | 0.0073 | MARION
380051 | 0.0073 | MARION
380056 | 0.0073 | MARION
390011 | 0.0012 | CAMBRIA
390030* | 0.0274 | SCHUYLKILL
390031* | 0.0274 | SCHUYLKILL
390044 | 0.0200 | BERKS
390046 | 0.0098 | YORK
390052* | 0.0036 | CLEARFIELD
390056 | 0.0042 | HUNTINGDON
390065* | 0.0501 | ADAMS
390066* | 0.0259 | LEBANON
390086* | 0.0036 | CLEARFIELD
390096 | 0.0200 | BERKS
390101 | 0.0098 | YORK
390110* | 0.0012 | CAMBRIA
390130 | 0.0012 | CAMBRIA
390138* | 0.0325 | FRANKLIN
390146 | 0.0053 | WARREN
390150* | 0.0206 | GREENE
390151* | 0.0325 | FRANKLIN
390162 | 0.0149 | NORTHAMPTON
390173 | 0.0074 | INDIANA
390181* | 0.0274 | SCHUYLKILL
390183* | 0.0274 | SCHUYLKILL
390201* | 0.1127 | MONROE
390233 | 0.0098 | YORK
420007 | 0.0001 | SPARTANBURG
420009* | 0.0162 | OCONEE
420020* | 0.0035 | GEORGETOWN
420027 | 0.0210 | ANDERSON
420030* | 0.0103 | COLLETON
420039* | 0.0156 | UNION
420043 | 0.0177 | CHEROKEE
420062 | 0.0247 | CHESTERFIELD
420068* | 0.0097 | ORANGEBURG
420070* | 0.0101 | SUMTER
420083 | 0.0001 | SPARTANBURG
420093 | 0.0001 | SPARTANBURG
420098 | 0.0035 | GEORGETOWN
430008 | 0.0504 | BROOKINGS
430048 | 0.0088 | LAWRENCE
430094* | 0.0088 | LAWRENCE
440008* | 0.0663 | HENDERSON
440016 | 0.0224 | CARROLL
440024 | 0.0387 | BRADLEY
440025 | 0.0037 | GREENE
440033 | 0.0159 | CAMPBELL
440035* | 0.0441 | MONTGOMERY
440047 | 0.0499 | GIBSON
440050* | 0.0037 | GREENE
440051 | 0.0110 | MC NAIRY
440056 | 0.0321 | JEFFERSON
440060* | 0.0499 | GIBSON
440063 | 0.0011 | WASHINGTON
440073* | 0.0513 | MAURY
440105 | 0.0011 | WASHINGTON
440114 | 0.0523 | LAUDERDALE
440115 | 0.0499 | GIBSON
440143 | 0.0448 | MARSHALL
440148* | 0.0568 | DE KALB
440153 | 0.0145 | COCKE
440174 | 0.0372 | HAYWOOD
440180* | 0.0159 | CAMPBELL
440181 | 0.0407 | HARDEMAN
440182 | 0.0224 | CARROLL
440184 | 0.0011 | WASHINGTON
440185* | 0.0387 | BRADLEY
450032* | 0.0416 | HARRISON
450039* | 0.0097 | TARRANT
450050 | 0.0750 | WARD
450059* | 0.0073 | COMAL
450064* | 0.0097 | TARRANT
450087* | 0.0097 | TARRANT
450099* | 0.0180 | GRAY
450113 | 0.0195 | ANDERSON
450121* | 0.0097 | TARRANT
450135* | 0.0097 | TARRANT
450137* | 0.0097 | TARRANT
450144* | 0.0573 | ANDREWS
450151 | 0.0210 | FAYETTE
450163 | 0.0134 | KLEBERG
450187* | 0.0264 | WASHINGTON
450194* | 0.0328 | CHEROKEE
450214* | 0.0368 | WHARTON
450224* | 0.0411 | WOOD
450347* | 0.0427 | WALKER
450362 | 0.0486 | BURNET
450370 | 0.0258 | COLORADO
450389* | 0.0881 | HENDERSON
450395 | 0.0484 | POLK
450419* | 0.0097 | TARRANT
450438* | 0.0258 | COLORADO
450447* | 0.0358 | NAVARRO
450451* | 0.0551 | SOMERVELL
450465 | 0.0435 | MATAGORDA
450547* | 0.0411 | WOOD
450563* | 0.0097 | TARRANT
450565 | 0.0492 | PALO PINTO
450596 | 10.0808 | HOOD
450597 | 0.0077 | DE WITT
450623* | 0.0492 | FANNIN
450626 | 0.0294 | JACKSON
450639* | 0.0097 | TARRANT
450672* | 0.0097 | TARRANT
450675* | 0.0097 | TARRANT
450677* | 0.0097 | TARRANT
450694* | 0.0368 | WHARTON
450747* | 0.0195 | ANDERSON
450755* | 0.0484 | HOCKLEY
450763 | 0.0236 | HUTCHINSON
450779* | 0.0097 | TARRANT
450813 | 0.0195 | ANDERSON
450858* | 0.0097 | TARRANT
460017 | 0.0392 | BOX ELDER
460036* | 0.0700 | WASATCH
460039* | 0.0392 | BOX ELDER
470018 | 0.0287 | WINDSOR
470023 | 0.0118 | CALEDONIA
490019 | 0.1240 | CULPEPER
490038 | 0.0022 | SMYTH
490047* | 0.0198 | PAGE
490084 | 0.0167 | ESSEX
490105* | 0.0022 | SMYTH
490110 | 0.0082 | MONTGOMERY
500003* | 0.0208 | SKAGIT
500007 | 0.0208 | SKAGIT
500019 | 0.0213 | LEWIS
500021 | 0.0055 | PIERCE
500024* | 0.0023 | THURSTON
500039* | 0.0174 | KITSAP
500041* | 0.0118 | COWLITZ
500079 | 0.0055 | PIERCE
500108 | 0.0055 | PIERCE
500118 | 0.0548 | MASON
500122* | 0.0459 | ISLAND
500129 | 0.0055 | PIERCE
500139* | 0.0023 | THURSTON
500143* | 0.0023 | THURSTON
510018* | 0.0209 | JACKSON
510028* | 0.0141 | FAYETTE
510039 | 0.0112 | OHIO
510047* | 0.0275 | MARION
510050 | 0.0112 | OHIO
510077* | 0.0021 | MINGO
510088 | 0.0141 | FAYETTE
520028* | 0.0157 | GREEN
520035 | 0.0077 | SHEBOYGAN
520042 | 0.0118 | SAUK
520044 | 0.0077 | SHEBOYGAN
520057 | 0.0118 | SAUK
520059* | 0.0200 | RACINE
520071* | 0.0239 | JEFFERSON
520076* | 0.0181 | DODGE
520094* | 0.0200 | RACINE
520095* | 0.0118 | SAUK
520096* | 0.0200 | RACINE
520102* | 0.0298 | WALWORTH
520116* | 0.0239 | JEFFERSON
520132 | 0.0077 | SHEBOYGAN

Table 5.—List of Diagnosis-Related Groups (DRGs, Relative Weighting Factors, and Geometric and Arithmetic Mean Length of Stay (LOS)
DRG | MDC | TYPE | DRG Title | Weights | Mean LOS | Mean LOS
1 | 01 | SURG | CRANIOTOMY AGE >17 W CC | 3.4276 | 7.6 | 10.1
2 | 01 | SURG | CRANIOTOMY AGE >17 W/O CC | 1.9544 | 3.5 | 4.6
3 | 01 | SURG * | CRANIOTOMY AGE 0-17 | 1.9830 | 12.7 | 12.7
4 | 01 | SURG | NO LONGER VALID | .0000 | .0 | .0
5 | 01 | SURG | NO LONGER VALID | .0000 | .0 | 0
6 | 01 | SURG | CARPAL TUNNEL RELEASE | .7868 | 2.2 | 3.1
7 | 01 | SURG | PERIPH & CRANIAL NERVE & OTHER NERV SYST PROC W CC | 2.6679 | 6.6 | 9.5
8 | 01 | SURG | PERIPH & CRANIAL NERVE & OTHER NERV SYST PROC W/O CC | 1.5008 | 2.0 | 2.9
9 | 01 | MED | SPINAL DISORDERS & INJURIES | 1.3993 | 4.5 | 6.3
10 | 01 | MED | NERVOUS SYSTEM NEOPLASMS W CC | 1.2219 | 4.6 | 6.2
11 | 01 | MED | NERVOUS SYSTEM NEOPLASMS W/O CC | .8704 | 2.9 | 3.8
12 | 01 | MED | DEGENERATIVE NERVOUS SYSTEM DISORDERS | .8972 | 4.3 | 5.5
13 | 01 | MED | MULTIPLE SCLEROSIS & CEREBELLAR ATAXIA | .8520 | 4.0 | 5.0
14 | 01 | MED | INTRACRANIAL HEMORRHAGE OR STROKE WITH INFARCT | 1.2533 | 4.5 | 5.8
15 | 01 | MED | NONSPECIFIC CVA & PRECEREBRAL OCCLUSION W/O INFARCT | .9402 | 3.7 | 4.6
16 | 01 | MED | NONSPECIFIC CEREBROVASCULAR DISORDERS W CC | 1.3315 | 5.0 | 6.5
17 | 01 | MED | NONSPECIFIC CEREBROVASCULAR DISORDERS W/O CC | .7191 | 2.5 | 3.2
18 | 01 | MED | CRANIAL & PERIPHERAL NERVE DISORDERS W CC | .9891 | 4.1 | 5.3
19 | 01 | MED | CRANIAL & PERIPHERAL NERVE DISORDERS W/O CC | .7058 | 2.7 | 3.4
20 | 01 | MED | NERVOUS SYSTEM INFECTION EXCEPT VIRAL MENINGITIS | 2.7787 | 8.0 | 10.4
21 | 01 | MED | VIRAL MENINGITIS | 1.4424 | 4.9 | 6.4
22 | 01 | MED | HYPERTENSIVE ENCEPHALOPATHY | 1.1269 | 4.0 | 5.2
23 | 01 | MED | NONTRAUMATIC STUPOR & COMA | .7695 | 3.0 | 3.9
24 | 01 | MED | SEIZURE & HEADACHE AGE >17 W CC | .9954 | 3.6 | 4.8
25 | 01 | MED | SEIZURE & HEADACHE AGE >17 W/O CC | .6165 | 2.5 | 3.1
26 | 01 | MED | SEIZURE & HEADACHE AGE 0-17 | 1.8098 | 3.4 | 6.3
27 | 01 | MED | TRAUMATIC STUPOR & COMA, COMA >1 HR | 1.3455 | 3.2 | 5.1
28 | 01 | MED | TRAUMATIC STUPOR & COMA, COMA <1 HR AGE >17 W CC | 1.3324 | 4.4 | 5.9
29 | 01 | MED | TRAUMATIC STUPOR & COMA, COMA <1 HR AGE >17 W/O CC | .7210 | 2.6 | 3.4
30 | 01 | MED * | TRAUMATIC STUPOR & COMA, COMA <1 HR AGE 0-17 | .3354 | 2.0 | 2.0
31 | 01 | MED | CONCUSSION AGE >17 W CC | .9529 | 3.0 | 4.0
32 | 01 | MED | CONCUSSION AGE >17 W/O CC | .6185 | 1.9 | 2.4
33 | 01 | MED * | CONCUSSION AGE 0-17 | .2106 | 1.6 | 1.6
34 | 01 | MED | OTHER DISORDERS OF NERVOUS SYSTEM W CC | 1.0047 | 3.7 | 4.8
35 | 01 | MED | OTHER DISORDERS OF NERVOUS SYSTEM W/O CC | .6253 | 2.4 | 3.0
36 | 02 | SURG | RETINAL PROCEDURES | .7238 | 1.3 | 1.6
37 | 02 | SURG | ORBITAL PROCEDURES | 1.1761 | 2.7 | 4.1
38 | 02 | SURG | PRIMARY IRIS PROCEDURES | .6963 | 2.5 | 3.5
39 | 02 | SURG | LENS PROCEDURES WITH OR WITHOUT VITRECTOMY | .7109 | 1.7 | 2.4
40 | 02 | SURG | EXTRAOCULAR PROCEDURES EXCEPT ORBIT AGE >17 | .9624 | 3.0 | 4.1
41 | 02 | SURG * | EXTRAOCULAR PROCEDURES EXCEPT ORBIT AGE 0-17 | .3414 | 1.6 | 1.6
42 | 02 | SURG | INTRAOCULAR PROCEDURES EXCEPT RETINA, IRIS & LENS | .7865 | 2.0 | 2.8
43 | 02 | MED | HYPHEMA | .6146 | 2.4 | 3.1
44 | 02 | MED | ACUTE MAJOR EYE INFECTIONS | .6811 | 3.9 | 4.8
45 | 02 | MED | NEUROLOGICAL EYE DISORDERS | .7462 | 2.5 | 3.1
46 | 02 | MED | OTHER DISORDERS OF THE EYE AGE >17 W CC | .7471 | 3.2 | 4.2
47 | 02 | MED | OTHER DISORDERS OF THE EYE AGE >17 W/O CC | .5189 | 2.3 | 2.9
48 | 02 | MED * | OTHER DISORDERS OF THE EYE AGE 0-17 | .3008 | 2.9 | 2.9
49 | 03 | SURG | MAJOR HEAD & NECK PROCEDURES | 1.6375 | 3.2 | 4.4
50 | 03 | SURG | SIALOADENECTOMY | .8661 | 1.5 | 1.8
51 | 03 | SURG | SALIVARY GLAND PROCEDURES EXCEPT SIALOADENECTOMY | .8829 | 1.9 | 2.8
52 | 03 | SURG | CLEFT LIP & PALATE REPAIR | .8428 | 1.5 | 2.0
53 | 03 | SURG | SINUS & MASTOID PROCEDURES AGE >17 | 1.3302 | 2.5 | 4.0
54 | 03 | SURG * | SINUS & MASTOID PROCEDURES AGE 0-17 | .4874 | 3.2 | 3.2
55 | 03 | SURG | MISCELLANEOUS EAR, NOSE, MOUTH & THROAT PROCEDURES | .9577 | 2.1 | 3.1
56 | 03 | SURG | RHINOPLASTY | .8623 | 1.9 | 2.6
57 | 03 | SURG | T&A PROC, EXCEPT TONSILLECTOMY &/OR ADENOIDECTOMY ONLY, AGE >17 | 1.1330 | 2.6 | 4.2
58 | 03 | SURG * | T&A PROC, EXCEPT TONSILLECTOMY &/OR ADENOIDECTOMY ONLY, AGE 0-17 | .2768 | 1.5 | 1.5
59 | 03 | SURG | TONSILLECTOMY &/OR ADENOIDECTOMY ONLY, AGE >17 | .7950 | 1.8 | 2.5
60 | 03 | SURG * | TONSILLECTOMY &/OR ADENOIDECTOMY ONLY, AGE 0-17 | .2107 | 1.5 | 1.5
61 | 03 | SURG | MYRINGOTOMY W TUBE INSERTION AGE >17 | 1.2804 | 3.3 | 5.4
62 | 03 | SURG * | MYRINGOTOMY W TUBE INSERTION AGE 0-17 | .2984 | 1.3 | 1.3
63 | 03 | SURG | OTHER EAR, NOSE, MOUTH & THROAT O.R. PROCEDURES | 1.3908 | 3.0 | 4.5
64 | 03 | MED | EAR, NOSE, MOUTH & THROAT MALIGNANCY | 1.1606 | 4.1 | 6.1
65 | 03 | MED | DYSEQUILIBRIUM | .5987 | 2.3 | 2.8
66 | 03 | MED | EPISTAXIS | .5940 | 2.4 | 3.1
67 | 03 | MED | EPIGLOTTITIS | .7724 | 2.9 | 3.7
68 | 03 | MED | OTITIS MEDIA & URI AGE >17 W CC | .6646 | 3.2 | 4.0
69 | 03 | MED | OTITIS MEDIA & URI AGE >17 W/O CC | .4860 | 2.5 | 3.0
70 | 03 | MED | OTITIS MEDIA & URI AGE 0-17 | .4062 | 2.1 | 2.4
71 | 03 | MED | LARYNGOTRACHEITIS | .7509 | 3.2 | 4.0
72 | 03 | MED | NASAL TRAUMA & DEFORMITY | .7479 | 2.6 | 3.5
73 | 03 | MED | OTHER EAR, NOSE, MOUTH & THROAT DIAGNOSES AGE >17 | .8285 | 3.3 | 4.4
74 | 03 | MED * | OTHER EAR, NOSE, MOUTH & THROAT DIAGNOSES AGE 0-17 | .3393 | 2.1 | 2.1
75 | 04 | SURG | MAJOR CHEST PROCEDURES | 3.0699 | 7.6 | 9.9
76 | 04 | SURG | OTHER RESP SYSTEM O.R. PROCEDURES W CC | 2.8748 | 8.4 | 11.1
77 | 04 | SURG | OTHER RESP SYSTEM O.R. PROCEDURES W/O CC | 1.1897 | 3.4 | 4.7
78 | 04 | MED | PULMONARY EMBOLISM | 1.2411 | 5.4 | 6.4
79 | 04 | MED | RESPIRATORY INFECTIONS & INFLAMMATIONS AGE >17 W CC | 1.6212 | 6.7 | 8.4
80 | 04 | MED | RESPIRATORY INFECTIONS & INFLAMMATIONS AGE >17 W/O CC | .8872 | 4.4 | 5.5
81 | 04 | MED * | RESPIRATORY INFECTIONS & INFLAMMATIONS AGE 0-17 | 1.5360 | 6.1 | 6.1
82 | 04 | MED | RESPIRATORY NEOPLASMS | 1.3925 | 5.1 | 6.8
83 | 04 | MED | MAJOR CHEST TRAUMA W CC | .9818 | 4.2 | 5.3
84 | 04 | MED | MAJOR CHEST TRAUMA W/O CC | .5736 | 2.6 | 3.2
85 | 04 | MED | PLEURAL EFFUSION W CC | 1.2401 | 4.8 | 6.4
86 | 04 | MED | PLEURAL EFFUSION W/O CC | .6943 | 2.8 | 3.6
87 | 04 | MED | PULMONARY EDEMA & RESPIRATORY FAILURE | 1.3592 | 4.9 | 6.4
88 | 04 | MED | CHRONIC OBSTRUCTIVE PULMONARY DISEASE | .8854 | 4.0 | 4.9
89 | 04 | MED | SIMPLE PNEUMONIA & PLEURISY AGE >17 W CC | 1.0317 | 4.7 | 5.7
90 | 04 | MED | SIMPLE PNEUMONIA & PLEURISY AGE >17 W/O CC | .6085 | 3.2 | 3.8
91 | 04 | MED | SIMPLE PNEUMONIA & PLEURISY AGE 0-17 | .8173 | 3.4 | 4.4
92 | 04 | MED | INTERSTITIAL LUNG DISEASE W CC | 1.1859 | 4.9 | 6.1
93 | 04 | MED | INTERSTITIAL LUNG DISEASE W/O CC | .7022 | 3.1 | 3.8
94 | 04 | MED | PNEUMOTHORAX W CC | 1.1435 | 4.7 | 6.2
95 | 04 | MED | PNEUMOTHORAX W/O CC | .6039 | 2.9 | 3.7
96 | 04 | MED | BRONCHITIS & ASTHMA AGE >17 W CC | .7356 | 3.6 | 4.4
97 | 04 | MED | BRONCHITIS & ASTHMA AGE >17 W/O CC | .5340 | 2.8 | 3.4
98 | 04 | MED * | BRONCHITIS & ASTHMA AGE 0-17 | .5552 | 3.7 | 3.7
99 | 04 | MED | RESPIRATORY SIGNS & SYMPTOMS W CC | .7075 | 2.4 | 3.1
100 | 04 | MED | RESPIRATORY SIGNS & SYMPTOMS W/O CC | .5386 | 1.7 | 2.1
101 | 04 | MED | OTHER RESPIRATORY SYSTEM DIAGNOSES W CC | .8715 | 3.3 | 4.3
102 | 04 | MED | OTHER RESPIRATORY SYSTEM DIAGNOSES W/O CC | .5390 | 2.0 | 2.5
103 | PRE | SURG | HEART TRANSPLANT OR IMPLANT OF HEART ASSIST SYSTEM | 18.3069 | 23.5 | 37.5
104 | 05 | SURG | CARDIAC VALVE & OTH MAJOR CARDIOTHORACIC PROC W CARD CATH | 8.2206 | 12.7 | 14.9
105 | 05 | SURG | CARDIAC VALVE & OTH MAJOR CARDIOTHORACIC PROC W/O CARD CATH | 6.0149 | 8.5 | 10.2
106 | 05 | SURG | CORONARY BYPASS W PTCA | 7.0409 | 9.5 | 11.2
107 | 05 | SURG | CORONARY BYPASS W CARDIAC CATH | 5.4802 | 9.4 | 10.7
108 | 05 | SURG | OTHER CARDIOTHORACIC PROCEDURES | 5.7861 | 8.6 | 10.9
109 | 05 | SURG | CORONARY BYPASS W/O PTCA OR CARDIAC CATH | 4.0452 | 6.8 | 7.9
110 | 05 | SURG | MAJOR CARDIOVASCULAR PROCEDURES W CC | 3.8908 | 5.8 | 8.4
111 | 05 | SURG | MAJOR CARDIOVASCULAR PROCEDURES W/O CC | 2.4927 | 2.6 | 3.4
112 | 05 | SURG | NO LONGER VALID | .0000 | .0 | .0
113 | 05 | SURG | AMPUTATION FOR CIRC SYSTEM DISORDERS EXCEPT UPPER LIMB & TOE | 3.1547 | 10.8 | 13.7
114 | 05 | SURG | UPPER LIMB & TOE AMPUTATION FOR CIRC SYSTEM DISORDERS | 1.7288 | 6.7 | 8.9
115 | 05 | SURG | PRM CARD PACEM IMPL W AMI/HR/SHOCK OR AICD LEAD OR GNRTR | 3.5839 | 4.5 | 6.8
116 | 05 | SURG | OTHER PERMANENT CARDIAC PACEMAKER IMPLANT | 2.2975 | 3.0 | 4.3
117 | 05 | SURG | CARDIAC PACEMAKER REVISION EXCEPT DEVICE REPLACEMENT | 1.3232 | 2.6 | 4.2
118 | 05 | SURG | CARDIAC PACEMAKER DEVICE REPLACEMENT | 1.6347 | 2.1 | 3.0
119 | 05 | SURG | VEIN LIGATION & STRIPPING | 1.3473 | 3.3 | 5.5
120 | 05 | SURG | OTHER CIRCULATORY SYSTEM O.R. PROCEDURES | 2.3814 | 5.9 | 9.2
121 | 05 | MED | CIRCULATORY DISORDERS W AMI & MAJOR COMP, DISCHARGED ALIVE | 1.6110 | 5.3 | 6.6
122 | 05 | MED | CIRCULATORY DISORDERS W AMI W/O MAJOR COMP, DISCHARGED ALIVE | .9818 | 2.8 | 3.5
123 | 05 | MED | CIRCULATORY DISORDERS W AMI, EXPIRED | 1.5321 | 2.9 | 4.8
124 | 05 | MED | CIRCULATORY DISORDERS EXCEPT AMI, W CARD CATH & COMPLEX DIAG | 1.4417 | 3.3 | 4.4
125 | 05 | MED | CIRCULATORY DISORDERS EXCEPT AMI, W CARD CATH W/O COMPLEX DIAG | 1.0932 | 2.1 | 2.7
126 | 05 | MED | ACUTE & SUBACUTE ENDOCARDITIS | 2.7261 | 9.4 | 11.9
127 | 05 | MED | HEART FAILURE & SHOCK | 1.0330 | 4.1 | 5.2
128 | 05 | MED | DEEP VEIN THROMBOPHLEBITIS | .6919 | 4.4 | 5.2
129 | 05 | MED | CARDIAC ARREST, UNEXPLAINED | 1.0365 | 1.7 | 2.6
130 | 05 | MED | PERIPHERAL VASCULAR DISORDERS W CC | .9412 | 4.4 | 5.5
131 | 05 | MED | PERIPHERAL VASCULAR DISORDERS W/O CC | .5555 | 3.2 | 3.9
132 | 05 | MED | ATHEROSCLEROSIS W CC | .6252 | 2.2 | 2.8
133 | 05 | MED | ATHEROSCLEROSIS W/O CC | .5323 | 1.8 | 2.2
134 | 05 | MED | HYPERTENSION | .6057 | 2.5 | 3.1
135 | 05 | MED | CARDIAC CONGENITAL & VALVULAR DISORDERS AGE >17 W CC | .8969 | 3.3 | 4.4
136 | 05 | MED | CARDIAC CONGENITAL & VALVULAR DISORDERS AGE >17 W/O CC | .6228 | 2.2 | 2.8
137 | 05 | MED * | CARDIAC CONGENITAL & VALVULAR DISORDERS AGE 0-17 | .8275 | 3.3 | 3.3
138 | 05 | MED | CARDIAC ARRHYTHMIA & CONDUCTION DISORDERS W CC | .8313 | 3.1 | 3.9
139 | 05 | MED | CARDIAC ARRHYTHMIA & CONDUCTION DISORDERS W/O CC | .5222 | 2.0 | 2.4
140 | 05 | MED | ANGINA PECTORIS | .5076 | 2.0 | 2.4
141 | 05 | MED | SYNCOPE & COLLAPSE W CC | .7513 | 2.7 | 3.5
142 | 05 | MED | SYNCOPE & COLLAPSE W/O CC | .5848 | 2.0 | 2.5
143 | 05 | MED | CHEST PAIN | .5655 | 1.7 | 2.1
144 | 05 | MED | OTHER CIRCULATORY SYSTEM DIAGNOSES W CC | 1.2734 | 4.1 | 5.8
145 | 05 | MED | OTHER CIRCULATORY SYSTEM DIAGNOSES W/O CC | .5843 | 2.1 | 2.6
146 | 06 | SURG | RECTAL RESECTION W CC | 2.6565 | 8.6 | 10.0
147 | 06 | SURG | RECTAL RESECTION W/O CC | 1.4778 | 5.2 | 5.8
148 | 06 | SURG | MAJOR SMALL & LARGE BOWEL PROCEDURES W CC | 3.4400 | 10.0 | 12.3
149 | 06 | SURG | MAJOR SMALL & LARGE BOWEL PROCEDURES W/O CC | 1.4304 | 5.4 | 6.0
150 | 06 | SURG | PERITONEAL ADHESIOLYSIS W CC | 2.7986 | 8.9 | 11.0
151 | 06 | SURG | PERITONEAL ADHESIOLYSIS W/O CC | 1.2620 | 4.0 | 5.1
152 | 06 | SURG | MINOR SMALL & LARGE BOWEL PROCEDURES W CC | 1.8768 | 6.7 | 8.0
153 | 06 | SURG | MINOR SMALL & LARGE BOWEL PROCEDURES W/O CC | 1.0833 | 4.5 | 5.0
154 | 06 | SURG | STOMACH, ESOPHAGEAL & DUODENAL PROCEDURES AGE >17 W CC | 4.0333 | 9.9 | 13.2
155 | 06 | SURG | STOMACH, ESOPHAGEAL & DUODENAL PROCEDURES AGE >17 W/O CC | 1.2855 | 3.1 | 4.1
156 | 06 | SURG * | STOMACH, ESOPHAGEAL & DUODENAL PROCEDURES AGE 0-17 | .8522 | 6.0 | 6.0
157 | 06 | SURG | ANAL & STOMAL PROCEDURES W CC | 1.3317 | 4.1 | 5.8
158 | 06 | SURG | ANAL & STOMAL PROCEDURES W/O CC | .6634 | 2.1 | 2.6
159 | 06 | SURG | HERNIA PROCEDURES EXCEPT INGUINAL & FEMORAL AGE >17 W CC | 1.4163 | 3.8 | 5.1
160 | 06 | SURG | HERNIA PROCEDURES EXCEPT INGUINAL & FEMORAL AGE >17 W/O CC | .8423 | 2.2 | 2.7
161 | 06 | SURG | INGUINAL & FEMORAL HERNIA PROCEDURES AGE >17 W CC | 1.1998 | 3.1 | 4.4
162 | 06 | SURG | INGUINAL & FEMORAL HERNIA PROCEDURES AGE >17 W/O CC | .6763 | 1.7 | 2.1
163 | 06 | SURG | HERNIA PROCEDURES AGE 0-17 | .6711 | 2.2 | 2.9
164 | 06 | SURG | APPENDECTOMY W COMPLICATED PRINCIPAL DIAG W CC | 2.2488 | 6.6 | 8.0
165 | 06 | SURG | APPENDECTOMY W COMPLICATED PRINCIPAL DIAG W/O CC | 1.1833 | 3.6 | 4.2
166 | 06 | SURG | APPENDECTOMY W/O COMPLICATED PRINCIPAL DIAG W CC | 1.4517 | 3.3 | 4.5
167 | 06 | SURG | APPENDECTOMY W/O COMPLICATED PRINCIPAL DIAG W/O CC | .8918 | 1.9 | 2.2
168 | 03 | SURG | MOUTH PROCEDURES W CC | 1.2650 | 3.3 | 4.9
169 | 03 | SURG | MOUTH PROCEDURES W/O CC | .7251 | 1.8 | 2.3
170 | 06 | SURG | OTHER DIGESTIVE SYSTEM O.R. PROCEDURES W CC | 2.9522 | 7.8 | 11.0
171 | 06 | SURG | OTHER DIGESTIVE SYSTEM O.R. PROCEDURES W/O CC | 1.1837 | 3.1 | 4.1
172 | 06 | MED | DIGESTIVE MALIGNANCY W CC | 1.4115 | 5.1 | 7.0
173 | 06 | MED | DIGESTIVE MALIGNANCY W/O CC | .7442 | 2.7 | 3.6
174 | 06 | MED | G.I. HEMORRHAGE W CC | 1.0138 | 3.8 | 4.7
175 | 06 | MED | G.I. HEMORRHAGE W/O CC | .5644 | 2.4 | 2.9
176 | 06 | MED | COMPLICATED PEPTIC ULCER | 1.1228 | 4.1 | 5.2
177 | 06 | MED | UNCOMPLICATED PEPTIC ULCER W CC | .9158 | 3.6 | 4.4
178 | 06 | MED | UNCOMPLICATED PEPTIC ULCER W/O CC | .7014 | 2.6 | 3.1
179 | 06 | MED | INFLAMMATORY BOWEL DISEASE | 1.0877 | 4.5 | 5.9
180 | 06 | MED | G.I. OBSTRUCTION W CC | .9769 | 4.2 | 5.4
181 | 06 | MED | G.I. OBSTRUCTION W/O CC | .5609 | 2.8 | 3.3
182 | 06 | MED | ESOPHAGITIS, GASTROENT & MISC DIGEST DISORDERS AGE >17 W CC | .8463 | 3.4 | 4.5
183 | 06 | MED | ESOPHAGITIS, GASTROENT & MISC DIGEST DISORDERS AGE >17 W/O CC | .5846 | 2.3 | 2.9
184 | 06 | MED | ESOPHAGITIS, GASTROENT & MISC DIGEST DISORDERS AGE 0-17 | .5700 | 2.5 | 3.3
185 | 03 | MED | DENTAL & ORAL DIS EXCEPT EXTRACTIONS & RESTORATIONS, AGE >17 | .8689 | 3.3 | 4.5
186 | 03 | MED * | DENTAL & ORAL DIS EXCEPT EXTRACTIONS & RESTORATIONS, AGE 0-17 | .3248 | 2.9 | 2.9
187 | 03 | MED | DENTAL EXTRACTIONS & RESTORATIONS | .8435 | 3.1 | 4.2
188 | 06 | MED | OTHER DIGESTIVE SYSTEM DIAGNOSES AGE >17 W CC | 1.1257 | 4.2 | 5.6
189 | 06 | MED | OTHER DIGESTIVE SYSTEM DIAGNOSES AGE >17 W/O CC | .6052 | 2.4 | 3.1
190 | 06 | MED | OTHER DIGESTIVE SYSTEM DIAGNOSES AGE 0-17 | .6258 | 3.2 | 4.4
191 | 07 | SURG | PANCREAS, LIVER & SHUNT PROCEDURES W CC | 3.9443 | 9.0 | 12.8
192 | 07 | SURG | PANCREAS, LIVER & SHUNT PROCEDURES W/O CC | 1.6802 | 4.3 | 5.7
193 | 07 | SURG | BILIARY TRACT PROC EXCEPT ONLY CHOLECYST W OR W/O C.D.E. W CC | 3.2837 | 9.9 | 12.1
194 | 07 | SURG | BILIARY TRACT PROC EXCEPT ONLY CHOLECYST W OR W/O C.D.E. W/O CC | 1.5786 | 5.6 | 6.7
195 | 07 | SURG | CHOLECYSTECTOMY W C.D.E. W CC | 3.0503 | 8.8 | 10.6
196 | 07 | SURG | CHOLECYSTECTOMY W C.D.E. W/O CC | 1.6011 | 4.9 | 5.7
197 | 07 | SURG | CHOLECYSTECTOMY EXCEPT BY LAPAROSCOPE W/O C.D.E. W CC | 2.5397 | 7.5 | 9.2
198 | 07 | SURG | CHOLECYSTECTOMY EXCEPT BY LAPAROSCOPE W/O C.D.E. W/O CC | 1.1571 | 3.7 | 4.3
199 | 07 | SURG | HEPATOBILIARY DIAGNOSTIC PROCEDURE FOR MALIGNANCY | 2.4077 | 6.8 | 9.5
200 | 07 | SURG | HEPATOBILIARY DIAGNOSTIC PROCEDURE FOR NON-MALIGNANCY | 2.7777 | 6.4 | 9.8
201 | 07 | SURG | OTHER HEPATOBILIARY OR PANCREAS O.R. PROCEDURES | 3.7156 | 9.9 | 13.8
202 | 07 | MED | CIRRHOSIS & ALCOHOLIC HEPATITIS | 1.3463 | 4.7 | 6.3
203 | 07 | MED | MALIGNANCY OF HEPATOBILIARY SYSTEM OR PANCREAS | 1.3719 | 4.9 | 6.6
204 | 07 | MED | DISORDERS OF PANCREAS EXCEPT MALIGNANCY | 1.1216 | 4.2 | 5.6
205 | 07 | MED | DISORDERS OF LIVER EXCEPT MALIG, CIRR, ALC HEPA W CC | 1.2026 | 4.4 | 6.0
206 | 07 | MED | DISORDERS OF LIVER EXCEPT MALIG, CIRR, ALC HEPA W/O CC | .7289 | 3.0 | 3.9
207 | 07 | MED | DISORDERS OF THE BILIARY TRACT W CC | 1.1730 | 4.1 | 5.3
208 | 07 | MED | DISORDERS OF THE BILIARY TRACT W/O CC | .6880 | 2.3 | 2.9
209 | 08 | SURG | NO LONGER VALID | .0000 | 17.1 | 17.1
210 | 08 | SURG | HIP & FEMUR PROCEDURES EXCEPT MAJOR JOINT AGE >17 W CC | 1.9035 | 6.1 | 6.9
211 | 08 | SURG | HIP & FEMUR PROCEDURES EXCEPT MAJOR JOINT AGE >17 W/O CC | 1.2676 | 4.4 | 4.7
212 | 08 | SURG | HIP & FEMUR PROCEDURES EXCEPT MAJOR JOINT AGE 0-17 | 1.2786 | 2.4 | 2.9
213 | 08 | SURG | AMPUTATION FOR MUSCULOSKELETAL SYSTEM & CONN TISSUE DISORDERS | 2.0393 | 7.2 | 9.7
214 | 08 | SURG | NO LONGER VALID | .0000 | .0 | .0
215 | 08 | SURG | NO LONGER VALID | .0000 | .0 | .0
216 | 08 | SURG | BIOPSIES OF MUSCULOSKELETAL SYSTEM & CONNECTIVE TISSUE | 1.9099 | 3.3 | 5.8
217 | 08 | SURG | WND DEBRID & SKN GRFT EXCEPT HAND, FOR MUSCSKELET & CONN TISS DIS | 3.0414 | 9.3 | 13.2
218 | 08 | SURG | LOWER EXTREM & HUMER PROC EXCEPT HIP, FOOT, FEMUR AGE >17 W CC | 1.6068 | 4.3 | 5.5
219 | 08 | SURG | LOWER EXTREM & HUMER PROC EXCEPT HIP, FOOT, FEMUR AGE >17 W/O CC | 1.0427 | 2.6 | 3.1
220 | 08 | SURG * | LOWER EXTREM & HUMER PROC EXCEPT HIP, FOOT, FEMUR AGE 0-17 | .5904 | 5.3 | 5.3
221 | 08 | SURG | NO LONGER VALID | .0000 | .0 | .0
222 | 08 | SURG | NO LONGER VALID | .0000 | .0 | .0
223 | 08 | SURG | MAJOR SHOULDER/ELBOW PROC, OR OTHER UPPER EXTREMITY PROC W CC | 1.1119 | 2.3 | 3.2
224 | 08 | SURG | SHOULDER, ELBOW OR FOREARM PROC, EXC MAJOR JOINT PROC, W/O CC | .8172 | 1.6 | 1.9
225 | 08 | SURG | FOOT PROCEDURES | 1.2189 | 3.7 | 5.2
226 | 08 | SURG | SOFT TISSUE PROCEDURES W CC | 1.5839 | 4.5 | 6.5
227 | 08 | SURG | SOFT TISSUE PROCEDURES W/O CC | .8338 | 2.1 | 2.6
228 | 08 | SURG | MAJOR THUMB OR JOINT PROC, OR OTH HAND OR WRIST PROC W CC | 1.1414 | 2.8 | 4.1
229 | 08 | SURG | HAND OR WRIST PROC, EXCEPT MAJOR JOINT PROC, W/O CC | .6957 | 1.9 | 2.5
230 | 08 | SURG | LOCAL EXCISION & REMOVAL OF INT FIX DEVICES OF HIP & FEMUR | 1.3137 | 3.7 | 5.6
231 | 08 | SURG | NO LONGER VALID | .0000 | .0 | .0
232 | 08 | SURG | ARTHROSCOPY | .9699 | 1.8 | 2.8
233 | 08 | SURG | OTHER MUSCULOSKELET SYS & CONN TISS O.R. PROC W CC | 1.9137 | 4.6 | 6.8
234 | 08 | SURG | OTHER MUSCULOSKELET SYS & CONN TISS O.R. PROC W/O CC | 1.2204 | 2.0 | 2.8
235 | 08 | MED | FRACTURES OF FEMUR | .7770 | 3.8 | 4.8
236 | 08 | MED | FRACTURES OF HIP & PELVIS | .7393 | 3.8 | 4.6
237 | 08 | MED | SPRAINS, STRAINS, & DISLOCATIONS OF HIP, PELVIS & THIGH | .6084 | 3.0 | 3.7
238 | 08 | MED | OSTEOMYELITIS | 1.4237 | 6.7 | 8.6
239 | 08 | MED | PATHOLOGICAL FRACTURES & MUSCULOSKELETAL & CONN TISS MALIGNANCY | 1.0758 | 5.0 | 6.2
240 | 08 | MED | CONNECTIVE TISSUE DISORDERS W CC | 1.4024 | 5.0 | 6.7
241 | 08 | MED | CONNECTIVE TISSUE DISORDERS W/O CC | .6613 | 3.0 | 3.7
242 | 08 | MED | SEPTIC ARTHRITIS | 1.1452 | 5.1 | 6.7
243 | 08 | MED | MEDICAL BACK PROBLEMS | .7752 | 3.6 | 4.6
244 | 08 | MED | BONE DISEASES & SPECIFIC ARTHROPATHIES W CC | .7098 | 3.6 | 4.5
245 | 08 | MED | BONE DISEASES & SPECIFIC ARTHROPATHIES W/O CC | .4555 | 2.5 | 3.1
246 | 08 | MED | NON-SPECIFIC ARTHROPATHIES | .5910 | 2.8 | 3.6
247 | 08 | MED | SIGNS & SYMPTOMS OF MUSCULOSKELETAL SYSTEM & CONN TISSUE | .5787 | 2.6 | 3.3
248 | 08 | MED | TENDONITIS, MYOSITIS & BURSITIS | .8556 | 3.8 | 4.8
249 | 08 | MED | AFTERCARE, MUSCULOSKELETAL SYSTEM & CONNECTIVE TISSUE | .7025 | 2.7 | 3.8
250 | 08 | MED | FX, SPRN, STRN & DISL OF FOREARM, HAND, FOOT AGE >17 W CC | .6949 | 3.2 | 3.9
251 | 08 | MED | FX, SPRN, STRN & DISL OF FOREARM, HAND, FOOT AGE >17 W/O CC | .4752 | 2.3 | 2.8
252 | 08 | MED * | FX, SPRN, STRN & DISL OF FOREARM, HAND, FOOT AGE 0-17 | .2563 | 1.8 | 1.8
253 | 08 | MED | FX, SPRN, STRN & DISL OF UPARM, LOWLEG EX FOOT AGE >17 W CC | .7734 | 3.8 | 4.6
254 | 08 | MED | FX, SPRN, STRN & DISL OF UPARM, LOWLEG EX FOOT AGE >17 W/O CC | .4588 | 2.6 | 3.1
255 | 08 | MED * | FX, SPRN, STRN & DISL OF UPARM, LOWLEG EX FOOT AGE 0-17 | .2985 | 2.9 | 2.9
256 | 08 | MED | OTHER MUSCULOSKELETAL SYSTEM & CONNECTIVE TISSUE DIAGNOSES | .8459 | 3.9 | 5.1
257 | 09 | SURG | TOTAL MASTECTOMY FOR MALIGNANCY W CC | .8958 | 2.0 | 2.6
258 | 09 | SURG | TOTAL MASTECTOMY FOR MALIGNANCY W/O CC | .7129 | 1.5 | 1.7
259 | 09 | SURG | SUBTOTAL MASTECTOMY FOR MALIGNANCY W CC | .9650 | 1.8 | 2.8
260 | 09 | SURG | SUBTOTAL MASTECTOMY FOR MALIGNANCY W/O CC | .7028 | 1.2 | 1.4
261 | 09 | SURG | BREAST PROC FOR NON-MALIGNANCY EXCEPT BIOPSY & LOCAL EXCISION | .9710 | 1.6 | 2.2
262 | 09 | SURG | BREAST BIOPSY & LOCAL EXCISION FOR NON-MALIGNANCY | .9783 | 3.4 | 4.8
263 | 09 | SURG | SKIN GRAFT &/OR DEBRID FOR SKN ULCER OR CELLULITIS W CC | 2.1033 | 8.5 | 11.4
264 | 09 | SURG | SKIN GRAFT &/OR DEBRID FOR SKN ULCER OR CELLULITIS W/O CC | 1.0576 | 5.0 | 6.5
265 | 09 | SURG | SKIN GRAFT &/OR DEBRID EXCEPT FOR SKIN ULCER OR CELLULITIS W CC | 1.6577 | 4.4 | 6.7
266 | 09 | SURG | SKIN GRAFT &/OR DEBRID EXCEPT FOR SKIN ULCER OR CELLULITIS W/O CC | .8664 | 2.3 | 3.2
267 | 09 | SURG | PERIANAL & PILONIDAL PROCEDURES | .8946 | 2.8 | 4.2
268 | 09 | SURG | SKIN, SUBCUTANEOUS TISSUE & BREAST PLASTIC PROCEDURES | 1.1389 | 2.4 | 3.5
269 | 09 | SURG | OTHER SKIN, SUBCUT TISS & BREAST PROC W CC | 1.8291 | 6.2 | 8.6
270 | 09 | SURG | OTHER SKIN, SUBCUT TISS & BREAST PROC W/O CC | .8270 | 2.7 | 3.8
271 | 09 | MED | SKIN ULCERS | 1.0072 | 5.5 | 7.0
272 | 09 | MED | MAJOR SKIN DISORDERS W CC | .9814 | 4.5 | 5.9
273 | 09 | MED | MAJOR SKIN DISORDERS W/O CC | .5536 | 2.9 | 3.7
274 | 09 | MED | MALIGNANT BREAST DISORDERS W CC | 1.1223 | 4.7 | 6.3
275 | 09 | MED | MALIGNANT BREAST DISORDERS W/O CC | .5302 | 2.4 | 3.2
276 | 09 | MED | NON-MALIGANT BREAST DISORDERS | .6879 | 3.5 | 4.5
277 | 09 | MED | CELLULITIS AGE >17 W CC | .8652 | 4.6 | 5.6
278 | 09 | MED | CELLULITIS AGE >17 W/O CC | .5371 | 3.4 | 4.1
279 | 09 | MED * | CELLULITIS AGE 0-17 | .7810 | 4.2 | 4.2
280 | 09 | MED | TRAUMA TO THE SKIN, SUBCUT TISS & BREAST AGE >17 W CC | .7309 | 3.2 | 4.1
281 | 09 | MED | TRAUMA TO THE SKIN, SUBCUT TISS & BREAST AGE >17 W/O CC | .4897 | 2.3 | 2.9
282 | 09 | MED * | TRAUMA TO THE SKIN, SUBCUT TISS & BREAST AGE 0-17 | .2596 | 2.2 | 2.2
283 | 09 | MED | MINOR SKIN DISORDERS W CC | .7398 | 3.5 | 4.6
284 | 09 | MED | MINOR SKIN DISORDERS W/O CC | .4563 | 2.4 | 3.0
285 | 10 | SURG | AMPUTAT OF LOWER LIMB FOR ENDOCRINE, NUTRIT,& METABOL DISORDERS | 2.1793 | 8.2 | 10.5
286 | 10 | SURG | ADRENAL & PITUITARY PROCEDURES | 1.9353 | 4.0 | 5.5
287 | 10 | SURG | SKIN GRAFTS & WOUND DEBRID FOR ENDOC, NUTRIT & METAB DISORDERS | 1.9237 | 7.8 | 10.3
288 | 10 | SURG | O.R. PROCEDURES FOR OBESITY | 2.0358 | 3.2 | 4.1
289 | 10 | SURG | PARATHYROID PROCEDURES | .9314 | 1.7 | 2.6
290 | 10 | SURG | THYROID PROCEDURES | .8875 | 1.6 | 2.1
291 | 10 | SURG | THYROGLOSSAL PROCEDURES | 1.1155 | 1.5 | 2.8
292 | 10 | SURG | OTHER ENDOCRINE, NUTRIT & METAB O.R. PROC W CC | 2.6316 | 7.3 | 10.3
293 | 10 | SURG | OTHER ENDOCRINE, NUTRIT & METAB O.R. PROC W/O CC | 1.3434 | 3.2 | 4.5
294 | 10 | MED | DIABETES AGE >35 | .7642 | 3.3 | 4.3
295 | 10 | MED | DIABETES AGE 0-35 | .7250 | 2.9 | 3.7
296 | 10 | MED | NUTRITIONAL & MISC METABOLIC DISORDERS AGE >17 W CC | .8175 | 3.7 | 4.8
297 | 10 | MED | NUTRITIONAL & MISC METABOLIC DISORDERS AGE >17 W/O CC | .4845 | 2.5 | 3.1
298 | 10 | MED | NUTRITIONAL & MISC METABOLIC DISORDERS AGE 0-17 | .5246 | 2.5 | 4.0
299 | 10 | MED | INBORN ERRORS OF METABOLISM | 1.0293 | 3.7 | 5.2
300 | 10 | MED | ENDOCRINE DISORDERS W CC | 1.0918 | 4.6 | 6.0
301 | 10 | MED | ENDOCRINE DISORDERS W/O CC | .6113 | 2.7 | 3.4
302 | 11 | SURG | KIDNEY TRANSPLANT | 3.1542 | 7.0 | 8.2
303 | 11 | SURG | KIDNEY, URETER & MAJOR BLADDER PROCEDURES FOR NEOPLASM | 2.2358 | 5.9 | 7.4
304 | 11 | SURG | KIDNEY, URETER & MAJOR BLADDER PROC FOR NON-NEOPL W CC | 2.3647 | 6.1 | 8.6
305 | 11 | SURG | KIDNEY, URETER & MAJOR BLADDER PROC FOR NON-NEOPL W/O CC | 1.1580 | 2.6 | 3.2
306 | 11 | SURG | PROSTATECTOMY W CC | 1.2674 | 3.6 | 5.5
307 | 11 | SURG | PROSTATECTOMY W/O CC | .6192 | 1.7 | 2.1
308 | 11 | SURG | MINOR BLADDER PROCEDURES W CC | 1.6518 | 4.0 | 6.2
309 | 11 | SURG | MINOR BLADDER PROCEDURES W/O CC | .9082 | 1.6 | 2.0
310 | 11 | SURG | TRANSURETHRAL PROCEDURES W CC | 1.1948 | 3.1 | 4.5
311 | 11 | SURG | TRANSURETHRAL PROCEDURES W/O CC | .6425 | 1.5 | 1.9
312 | 11 | SURG | URETHRAL PROCEDURES, AGE >17 W CC | 1.1170 | 3.2 | 4.8
313 | 11 | SURG | URETHRAL PROCEDURES, AGE >17 W/O CC | .6756 | 1.8 | 2.2
314 | 11 | SURG * | URETHRAL PROCEDURES, AGE 0-17 | .5004 | 2.3 | 2.3
315 | 11 | SURG | OTHER KIDNEY & URINARY TRACT O.R. PROCEDURES | 2.0801 | 3.6 | 6.8
316 | 11 | MED | RENAL FAILURE | 1.2673 | 4.9 | 6.4
317 | 11 | MED | ADMIT FOR RENAL DIALYSIS | .7965 | 2.4 | 3.5
318 | 11 | MED | KIDNEY & URINARY TRACT NEOPLASMS W CC | 1.1535 | 4.2 | 5.8
319 | 11 | MED | KIDNEY & URINARY TRACT NEOPLASMS W/O CC | .6388 | 2.1 | 2.8
320 | 11 | MED | KIDNEY & URINARY TRACT INFECTIONS AGE >17 W CC | .8644 | 4.2 | 5.2
321 | 11 | MED | KIDNEY & URINARY TRACT INFECTIONS AGE >17 W/O CC | .5644 | 3.0 | 3.6
322 | 11 | MED | KIDNEY & URINARY TRACT INFECTIONS AGE 0-17 | .5569 | 2.9 | 3.5
323 | 11 | MED | URINARY STONES W CC, &/OR ESW LITHOTRIPSY | .8200 | 2.3 | 3.1
324 | 11 | MED | URINARY STONES W/O CC | .5045 | 1.6 | 1.9
325 | 11 | MED | KIDNEY & URINARY TRACT SIGNS & SYMPTOMS AGE >17 W CC | .6417 | 2.9 | 3.7
326 | 11 | MED | KIDNEY & URINARY TRACT SIGNS & SYMPTOMS AGE >17 W/O CC | .4385 | 2.1 | 2.6
327 | 11 | MED * | KIDNEY & URINARY TRACT SIGNS & SYMPTOMS AGE 0-17 | .3742 | 3.1 | 3.1
328 | 11 | MED | URETHRAL STRICTURE AGE >17 W CC | .7085 | 2.6 | 3.5
329 | 11 | MED | URETHRAL STRICTURE AGE >17 W/O CC | .4712 | 1.5 | 1.8
330 | 11 | MED * | URETHRAL STRICTURE AGE 0-17 | .3222 | 1.6 | 1.6
331 | 11 | MED | OTHER KIDNEY & URINARY TRACT DIAGNOSES AGE >17 W CC | 1.0606 | 4.1 | 5.5
332 | 11 | MED | OTHER KIDNEY & URINARY TRACT DIAGNOSES AGE >17 W/O CC | .6119 | 2.4 | 3.1
333 | 11 | MED | OTHER KIDNEY & URINARY TRACT DIAGNOSES AGE 0-17 | .9788 | 3.6 | 5.4
334 | 12 | SURG | MAJOR MALE PELVIC PROCEDURES W CC | 1.4366 | 3.5 | 4.3
335 | 12 | SURG | MAJOR MALE PELVIC PROCEDURES W/O CC | 1.0980 | 2.4 | 2.7
336 | 12 | SURG | TRANSURETHRAL PROSTATECTOMY W CC | .8409 | 2.5 | 3.3
337 | 12 | SURG | TRANSURETHRAL PROSTATECTOMY W/O CC | .5737 | 1.7 | 1.9
338 | 12 | SURG | TESTES PROCEDURES, FOR MALIGNANCY | 1.3738 | 3.9 | 6.2
339 | 12 | SURG | TESTES PROCEDURES, NON-MALIGNANCY AGE >17 | 1.1809 | 3.2 | 5.1
340 | 12 | SURG * | TESTES PROCEDURES, NON-MALIGNANCY AGE 0-17 | .2864 | 2.4 | 2.4
341 | 12 | SURG | PENIS PROCEDURES | 1.2585 | 1.9 | 3.2
342 | 12 | SURG | CIRCUMCISION AGE >17 | .8721 | 2.5 | 3.4
343 | 12 | SURG * | CIRCUMCISION AGE 0-17 | .1557 | 1.7 | 1.7
344 | 12 | SURG | OTHER MALE REPRODUCTIVE SYSTEM O.R. PROCEDURES FOR MALIGNANCY | 1.2458 | 1.7 | 2.7
345 | 12 | SURG | OTHER MALE REPRODUCTIVE SYSTEM O.R. PROC EXCEPT FOR MALIGNANCY | 1.1474 | 3.1 | 4.8
346 | 12 | MED | MALIGNANCY, MALE REPRODUCTIVE SYSTEM, W CC | 1.0439 | 4.2 | 5.7
347 | 12 | MED | MALIGNANCY, MALE REPRODUCTIVE SYSTEM, W/O CC | .6080 | 2.2 | 3.0
348 | 12 | MED | BENIGN PROSTATIC HYPERTROPHY W CC | .7191 | 3.2 | 4.1
349 | 12 | MED | BENIGN PROSTATIC HYPERTROPHY W/O CC | .4223 | 1.9 | 2.4
350 | 12 | MED | INFLAMMATION OF THE MALE REPRODUCTIVE SYSTEM | .7274 | 3.5 | 4.5
351 | 12 | MED * | STERILIZATION, MALE | .2389 | 1.3 | 1.3
352 | 12 | MED | OTHER MALE REPRODUCTIVE SYSTEM DIAGNOSES | .7388 | 2.9 | 4.0
353 | 13 | SURG | PELVIC EVISCERATION, RADICAL HYSTERECTOMY & RADICAL VULVECTOMY | 1.8474 | 4.7 | 6.3
354 | 13 | SURG | UTERINE, ADNEXA PROC FOR NON-OVARIAN/ADNEXAL MALIG W CC | 1.5238 | 4.6 | 5.7
355 | 13 | SURG | UTERINE, ADNEXA PROC FOR NON-OVARIAN/ADNEXAL MALIG W/O CC | .8834 | 2.8 | 3.1
356 | 13 | SURG | FEMALE REPRODUCTIVE SYSTEM RECONSTRUCTIVE PROCEDURES | .7429 | 1.7 | 1.9
357 | 13 | SURG | UTERINE & ADNEXA PROC FOR OVARIAN OR ADNEXAL MALIGNANCY | 2.2212 | 6.5 | 8.1
358 | 13 | SURG | UTERINE & ADNEXA PROC FOR NON-MALIGNANCY W CC | 1.1428 | 3.2 | 4.0
359 | 13 | SURG | UTERINE & ADNEXA PROC FOR NON-MALIGNANCY W/O CC | .7936 | 2.2 | 2.4
360 | 13 | SURG | VAGINA, CERVIX & VULVA PROCEDURES | .8559 | 2.0 | 2.6
361 | 13 | SURG | LAPAROSCOPY & INCISIONAL TUBAL INTERRUPTION | 1.0844 | 2.2 | 3.0
362 | 13 | SURG * | ENDOSCOPIC TUBAL INTERRUPTION | .3053 | 1.4 | 1.4
363 | 13 | SURG | D&C, CONIZATION & RADIO-IMPLANT, FOR MALIGNANCY | .9742 | 2.7 | 3.8
364 | 13 | SURG | D&C, CONIZATION EXCEPT FOR MALIGNANCY | .8710 | 3.0 | 4.2
365 | 13 | SURG | OTHER FEMALE REPRODUCTIVE SYSTEM O.R. PROCEDURES | 2.0317 | 5.3 | 7.7
366 | 13 | MED | MALIGNANCY, FEMALE REPRODUCTIVE SYSTEM W CC | 1.2296 | 4.8 | 6.5
367 | 13 | MED | MALIGNANCY, FEMALE REPRODUCTIVE SYSTEM W/O CC | .5734 | 2.3 | 3.0
368 | 13 | MED | INFECTIONS, FEMALE REPRODUCTIVE SYSTEM | 1.1668 | 5.2 | 6.7
369 | 13 | MED | MENSTRUAL & OTHER FEMALE REPRODUCTIVE SYSTEM DISORDERS | .6297 | 2.4 | 3.2
370 | 14 | SURG | CESAREAN SECTION W CC | .8956 | 4.1 | 5.2
371 | 14 | SURG | CESAREAN SECTION W/O CC | .6037 | 3.1 | 3.4
372 | 14 | MED | VAGINAL DELIVERY W COMPLICATING DIAGNOSES | .5047 | 2.6 | 3.2
373 | 14 | MED | VAGINAL DELIVERY W/O COMPLICATING DIAGNOSES | .3562 | 2.0 | 2.2
374 | 14 | SURG | VAGINAL DELIVERY W STERILIZATION &/OR D&C | .6762 | 2.4 | 2.7
375 | 14 | SURG * | VAGINAL DELIVERY W O.R. PROC EXCEPT STERIL &/OR D&C | .5829 | 4.4 | 4.4
376 | 14 | MED | POSTPARTUM & POST ABORTION DIAGNOSES W/O O.R. PROCEDURE | .5215 | 2.6 | 3.4
377 | 14 | SURG | POSTPARTUM & POST ABORTION DIAGNOSES W O.R. PROCEDURE | 1.6547 | 2.9 | 4.5
378 | 14 | MED | ECTOPIC PREGNANCY | .7508 | 1.9 | 2.3
379 | 14 | MED | THREATENED ABORTION | .3590 | 2.0 | 2.8
380 | 14 | MED | ABORTION W/O D&C | .3913 | 1.6 | 2.1
381 | 14 | SURG | ABORTION W D&C, ASPIRATION CURETTAGE OR HYSTEROTOMY | .6059 | 1.7 | 2.3
382 | 14 | MED | FALSE LABOR | .2071 | 1.3 | 1.4
383 | 14 | MED | OTHER ANTEPARTUM DIAGNOSES W MEDICAL COMPLICATIONS | .5053 | 2.6 | 3.7
384 | 14 | MED | OTHER ANTEPARTUM DIAGNOSES W/O MEDICAL COMPLICATIONS | .3187 | 1.8 | 2.6
385 | 15 | MED * | NEONATES, DIED OR TRANSFERRED TO ANOTHER ACUTE CARE FACILITY | 1.3909 | 1.8 | 1.8
386 | 15 | MED * | EXTREME IMMATURITY OR RESPIRATORY DISTRESS SYNDROME, NEONATE | 4.5865 | 17.9 | 17.9
387 | 15 | MED * | PREMATURITY W MAJOR PROBLEMS | 3.1325 | 13.3 | 13.3
388 | 15 | MED * | PREMATURITY W/O MAJOR PROBLEMS | 1.8900 | 8.6 | 8.6
389 | 15 | MED * | FULL TERM NEONATE W MAJOR PROBLEMS | 3.2177 | 4.7 | 4.7
390 | 15 | MED * | NEONATE W OTHER SIGNIFICANT PROBLEMS | 1.1388 | 3.4 | 3.4
391 | 15 | MED * | NORMAL NEWBORN | .1542 | 3.1 | 3.1
392 | 16 | SURG | SPLENECTOMY AGE >17 | 3.0278 | 6.5 | 9.2
393 | 16 | SURG * | SPLENECTOMY AGE 0-17 | 1.3624 | 9.1 | 9.1
394 | 16 | SURG | OTHER O.R. PROCEDURES OF THE BLOOD AND BLOOD FORMING ORGANS | 1.9019 | 4.5 | 7.4
395 | 16 | MED | RED BLOOD CELL DISORDERS AGE >17 | .8303 | 3.2 | 4.3
396 | 16 | MED * | RED BLOOD CELL DISORDERS AGE 0-17 | 2.5374 | 4.1 | 4.1
397 | 16 | MED | COAGULATION DISORDERS | 1.3113 | 3.8 | 5.2
398 | 16 | MED | RETICULOENDOTHELIAL & IMMUNITY DISORDERS W CC | 1.2212 | 4.5 | 5.8
399 | 16 | MED | RETICULOENDOTHELIAL & IMMUNITY DISORDERS W/O CC | .6665 | 2.7 | 3.3
400 | 17 | SURG | NO LONGER VALID | .0000 | .0 | .0
401 | 17 | SURG | LYMPHOMA & NON-ACUTE LEUKEMIA W OTHER O.R. PROC W CC | 2.9643 | 8.0 | 11.3
402 | 17 | SURG | LYMPHOMA & NON-ACUTE LEUKEMIA W OTHER O.R. PROC W/O CC | 1.1793 | 2.8 | 4.1
403 | 17 | MED | LYMPHOMA & NON-ACUTE LEUKEMIA W CC | 1.8406 | 5.8 | 8.1
404 | 17 | MED | LYMPHOMA & NON-ACUTE LEUKEMIA W/O CC | .9244 | 3.0 | 4.2
405 | 17 | MED * | ACUTE LEUKEMIA W/O MAJOR O.R. PROCEDURE AGE 0-17 | 1.9316 | 4.9 | 4.9
406 | 17 | SURG | MYELOPROLIF DISORD OR POORLY DIFF NEOPL W MAJ O.R.PROC W CC | 2.7989 | 7.0 | 9.9
407 | 17 | SURG | MYELOPROLIF DISORD OR POORLY DIFF NEOPL W MAJ O.R.PROC W/O CC | 1.2325 | 3.0 | 3.8
408 | 17 | SURG | MYELOPROLIF DISORD OR POORLY DIFF NEOPL W OTHER O.R.PROC | 2.2303 | 4.8 | 8.2
409 | 17 | MED | RADIOTHERAPY | 1.2066 | 4.3 | 5.8
410 | 17 | MED | CHEMOTHERAPY W/O ACUTE LEUKEMIA AS SECONDARY DIAGNOSIS | 1.1022 | 3.0 | 3.8
411 | 17 | MED | HISTORY OF MALIGNANCY W/O ENDOSCOPY | .3645 | 2.5 | 3.3
412 | 17 | MED | HISTORY OF MALIGNANCY W ENDOSCOPY | .8442 | 1.8 | 2.8
413 | 17 | MED | OTHER MYELOPROLIF DIS OR POORLY DIFF NEOPL DIAG W CC | 1.3035 | 5.0 | 6.8
414 | 17 | MED | OTHER MYELOPROLIF DIS OR POORLY DIFF NEOPL DIAG W/O CC | .7784 | 3.0 | 4.0
415 | 18 | SURG | O.R. PROCEDURE FOR INFECTIOUS & PARASITIC DISEASES | 3.9753 | 11.0 | 14.8
416 | 18 | MED | SEPTICEMIA AGE >17 | 1.6705 | 5.6 | 7.5
417 | 18 | MED | SEPTICEMIA AGE 0-17 | 1.2962 | 3.6 | 5.3
418 | 18 | MED | POSTOPERATIVE & POST-TRAUMATIC INFECTIONS | 1.1035 | 4.9 | 6.4
419 | 18 | MED | FEVER OF UNKNOWN ORIGIN AGE >17 W CC | .8526 | 3.4 | 4.4
420 | 18 | MED | FEVER OF UNKNOWN ORIGIN AGE >17 W/O CC | .6088 | 2.7 | 3.4
421 | 18 | MED | VIRAL ILLNESS AGE >17 | .7680 | 3.1 | 4.1
422 | 18 | MED | VIRAL ILLNESS & FEVER OF UNKNOWN ORIGIN AGE 0-17 | .6185 | 2.6 | 3.7
423 | 18 | MED | OTHER INFECTIOUS & PARASITIC DISEASES DIAGNOSES | 1.9163 | 6.0 | 8.4
424 | 19 | SURG | O.R. PROCEDURE W PRINCIPAL DIAGNOSES OF MENTAL ILLNESS | 2.2400 | 7.3 | 11.7
425 | 19 | MED | ACUTE ADJUSTMENT REACTION & PSYCHOSOCIAL DYSFUNCTION | .6187 | 2.6 | 3.5
426 | 19 | MED | DEPRESSIVE NEUROSES | .4655 | 3.0 | 4.1
427 | 19 | MED | NEUROSES EXCEPT DEPRESSIVE | .5159 | 3.2 | 4.7
428 | 19 | MED | DISORDERS OF PERSONALITY & IMPULSE CONTROL | .6944 | 4.6 | 7.2
429 | 19 | MED | ORGANIC DISTURBANCES & MENTAL RETARDATION | .7893 | 4.3 | 5.6
430 | 19 | MED | PSYCHOSES | .6306 | 5.6 | 7.7
431 | 19 | MED | CHILDHOOD MENTAL DISORDERS | .5194 | 4.0 | 5.9
432 | 19 | MED | OTHER MENTAL DISORDER DIAGNOSES | .6322 | 2.9 | 4.3
433 | 20 | MED | ALCOHOL/DRUG ABUSE OR DEPENDENCE, LEFT AMA | .2774 | 2.2 | 3.0
434 | 20 | MED | NO LONGER VALID | .0000 | .0 | .0
435 | 20 | MED | NO LONGER VALID | .0000 | .0 | .0
436 | 20 | MED | NO LONGER VALID | .0000 | .0 | .0
437 | 20 | MED | NO LONGER VALID | .0000 | .0 | .0
438 | 20 |  | NO LONGER VALID | .0000 | .0 | .0
439 | 21 | SURG | SKIN GRAFTS FOR INJURIES | 1.9204 | 5.4 | 8.8
440 | 21 | SURG | WOUND DEBRIDEMENTS FOR INJURIES | 1.9346 | 5.9 | 9.2
441 | 21 | SURG | HAND PROCEDURES FOR INJURIES | .9334 | 2.3 | 3.4
442 | 21 | SURG | OTHER O.R. PROCEDURES FOR INJURIES W CC | 2.5647 | 6.0 | 8.9
443 | 21 | SURG | OTHER O.R. PROCEDURES FOR INJURIES W/O CC | .9911 | 2.6 | 3.4
444 | 21 | MED | TRAUMATIC INJURY AGE >17 W CC | .7540 | 3.2 | 4.1
445 | 21 | MED | TRAUMATIC INJURY AGE >17 W/O CC | .5016 | 2.3 | 2.8
446 | 21 | MED * | TRAUMATIC INJURY AGE 0-17 | .2995 | 2.4 | 2.4
447 | 21 | MED | ALLERGIC REACTIONS AGE >17 | .5572 | 1.9 | 2.6
448 | 21 | MED * | ALLERGIC REACTIONS AGE 0-17 | .0985 | 2.9 | 2.9
449 | 21 | MED | POISONING & TOXIC EFFECTS OF DRUGS AGE >17 W CC | .8509 | 2.6 | 3.7
450 | 21 | MED | POISONING & TOXIC EFFECTS OF DRUGS AGE >17 W/O CC | .4288 | 1.6 | 2.0
451 | 21 | MED * | POISONING & TOXIC EFFECTS OF DRUGS AGE 0-17 | .2658 | 2.1 | 2.1
452 | 21 | MED | COMPLICATIONS OF TREATMENT W CC | 1.0388 | 3.5 | 4.9
453 | 21 | MED | COMPLICATIONS OF TREATMENT W/O CC | .5278 | 2.2 | 2.8
454 | 21 | MED | OTHER INJURY, POISONING & TOXIC EFFECT DIAG W CC | .8128 | 2.9 | 4.1
455 | 21 | MED | OTHER INJURY, POISONING & TOXIC EFFECT DIAG W/O CC | .4700 | 1.7 | 2.2
456 | 22 |  | NO LONGER VALID | .0000 | .0 | .0
457 | 22 | MED | NO LONGER VALID | .0000 | .0 | .0
458 | 22 | SURG | NO LONGER VALID | .0000 | .0 | .0
459 | 22 | SURG | NO LONGER VALID | .0000 | .0 | .0
460 | 22 | MED | NO LONGER VALID | .0000 | .0 | .0
461 | 23 | SURG | O.R. PROC W DIAGNOSES OF OTHER CONTACT W HEALTH SERVICES | 1.3957 | 3.0 | 5.1
462 | 23 | MED | REHABILITATION | .8496 | 8.8 | 10.7
463 | 23 | MED | SIGNS & SYMPTOMS W CC | .6946 | 3.1 | 3.9
464 | 23 | MED | SIGNS & SYMPTOMS W/O CC | .5057 | 2.4 | 2.9
465 | 23 | MED | AFTERCARE W HISTORY OF MALIGNANCY AS SECONDARY DIAGNOSIS | .6015 | 2.4 | 3.6
466 | 23 | MED | AFTERCARE W/O HISTORY OF MALIGNANCY AS SECONDARY DIAGNOSIS | .6922 | 2.7 | 4.7
467 | 23 | MED | OTHER FACTORS INFLUENCING HEALTH STATUS | .4789 | 2.0 | 2.7
468 |  |  | EXTENSIVE O.R. PROCEDURE UNRELATED TO PRINCIPAL DIAGNOSIS | 3.9877 | 9.7 | 13.2
469 |  | ** | PRINCIPAL DIAGNOSIS INVALID AS DISCHARGE DIAGNOSIS | .0000 | .0 | .0
470 |  | ** | UNGROUPABLE | .0000 | .0 | .0
471 | 08 | SURG | BILATERAL OR MULTIPLE MAJOR JOINT PROCS OF LOWER EXTREMITY | 3.1328 | 4.5 | 5.1
472 | 22 | SURG | NO LONGER VALID | .0000 | .0 | .0
473 | 17 | MED | ACUTE LEUKEMIA W/O MAJOR O.R. PROCEDURE AGE >17 | 3.4949 | 7.6 | 12.9
474 | 04 | SURG | NO LONGER VALID | .0000 | .0 | .0
475 | 04 | MED | RESPIRATORY SYSTEM DIAGNOSIS WITH VENTILATOR SUPPORT | 3.5930 | 8.1 | 11.3
476 |  | SURG | PROSTATIC O.R. PROCEDURE UNRELATED TO PRINCIPAL DIAGNOSIS | 2.1792 | 7.4 | 10.5
477 |  | SURG | NON-EXTENSIVE O.R. PROCEDURE UNRELATED TO PRINCIPAL DIAGNOSIS | 2.0539 | 5.8 | 8.7
478 | 05 | SURG | OTHER VASCULAR PROCEDURES W CC | 2.4118 | 4.7 | 7.2
479 | 05 | SURG | OTHER VASCULAR PROCEDURES W/O CC | 1.4433 | 2.1 | 2.8
480 | PRE | SURG | LIVER TRANSPLANT AND/OR INTESTINAL TRANSPLANT | 8.9426 | 13.7 | 17.9
481 | PRE | SURG | BONE MARROW TRANSPLANT | 6.2341 | 18.3 | 21.8
482 | PRE | SURG | TRACHEOSTOMY FOR FACE, MOUTH & NECK DIAGNOSES | 3.3281 | 9.7 | 12.1
483 | PRE | SURG | NO LONGER VALID | .0000 | .0 | .0
484 | 24 | SURG | CRANIOTOMY FOR MULTIPLE SIGNIFICANT TRAUMA | 5.1050 | 9.3 | 12.8
485 | 24 | SURG | LIMB REATTACHMENT, HIP AND FEMUR PROC FOR MULTIPLE SIGNIFICANT TRA | 3.4619 | 8.3 | 10.2
486 | 24 | SURG | OTHER O.R. PROCEDURES FOR MULTIPLE SIGNIFICANT TRAUMA | 4.7225 | 8.5 | 12.4
487 | 24 | MED | OTHER MULTIPLE SIGNIFICANT TRAUMA | 1.9309 | 5.3 | 7.3
488 | 25 | SURG | HIV W EXTENSIVE O.R. PROCEDURE | 4.4100 | 11.7 | 16.4
489 | 25 | MED | HIV W MAJOR RELATED CONDITION | 1.8294 | 6.0 | 8.5
490 | 25 | MED | HIV W OR W/O OTHER RELATED CONDITION | 1.0638 | 3.9 | 5.4
491 | 08 | SURG | MAJOR JOINT & LIMB REATTACHMENT PROCEDURES OF UPPER EXTREMITY | 1.6734 | 2.6 | 3.1
492 | 17 | MED | CHEMOTHERAPY W ACUTE LEUKEMIA OR W USE OF HI DOSE CHEMOAGENT | 3.5856 | 8.8 | 13.6
493 | 07 | SURG | LAPAROSCOPIC CHOLECYSTECTOMY W/O C.D.E. W CC | 1.8413 | 4.6 | 6.1
494 | 07 | SURG | LAPAROSCOPIC CHOLECYSTECTOMY W/O C.D.E. W/O CC | 1.0275 | 2.1 | 2.7
495 | PRE | SURG | LUNG TRANSPLANT | 8.5766 | 13.9 | 17.3
496 | 08 | SURG | COMBINED ANTERIOR/POSTERIOR SPINAL FUSION | 6.2260 | 6.6 | 9.0
497 | 08 | SURG | SPINAL FUSION EXCEPT CERVICAL W CC | 3.6385 | 5.0 | 5.9
498 | 08 | SURG | SPINAL FUSION EXCEPT CERVICAL W/O CC | 2.7792 | 3.4 | 3.8
499 | 08 | SURG | BACK & NECK PROCEDURES EXCEPT SPINAL FUSION W CC | 1.3903 | 3.1 | 4.3
500 | 08 | SURG | BACK & NECK PROCEDURES EXCEPT SPINAL FUSION W/O CC | .9033 | 1.8 | 2.2
501 | 08 | SURG | KNEE PROCEDURES W PDX OF INFECTION W CC | 2.6488 | 8.5 | 10.4
502 | 08 | SURG | KNEE PROCEDURES W PDX OF INFECTION W/O CC | 1.4419 | 4.9 | 5.8
503 | 08 | SURG | KNEE PROCEDURES W/O PDX OF INFECTION | 1.2014 | 2.9 | 3.8
504 | 22 | SURG | EXTEN. BURNS OR FULL THICKNESS BURN W/MV 96+HRS W/SKIN GFT | 11.6990 | 21.6 | 27.3
505 | 22 | MED | EXTEN. BURNS OR FULL THICKNESS BURN W/MV 96+HRS W/O SKIN GFT | 2.3035 | 2.4 | 4.7
506 | 22 | SURG | FULL THICKNESS BURN W SKIN GRAFT OR INHAL INJ W CC OR SIG TRAUMA | 4.1098 | 11.2 | 15.9
507 | 22 | SURG | FULL THICKNESS BURN W SKIN GRFT OR INHAL INJ W/O CC OR SIG TRAUMA | 1.7419 | 5.9 | 8.5
508 | 22 | MED | FULL THICKNESS BURN W/O SKIN GRFT OR INHAL INJ W CC OR SIG TRAUMA | 1.2672 | 5.1 | 7.3
509 | 22 | MED | FULL THICKNESS BURN W/O SKIN GRFT OR INH INJ W/O CC OR SIG TRAUMA | .8233 | 3.6 | 5.2
510 | 22 | MED | NON-EXTENSIVE BURNS W CC OR SIGNIFICANT TRAUMA | 1.1808 | 4.4 | 6.5
511 | 22 | MED | NON-EXTENSIVE BURNS W/O CC OR SIGNIFICANT TRAUMA | .7452 | 2.7 | 4.1
512 | PRE | SURG | SIMULTANEOUS PANCREAS/KIDNEY TRANSPLANT | 5.3328 | 10.7 | 12.8
513 | PRE | SURG | PANCREAS TRANSPLANT | 5.9670 | 8.9 | 10.0
514 | 05 | SURG | NO LONGER VALID | .0000 | .0 | .0
515 | 05 | SURG | CARDIAC DEFIBRILLATOR IMPLANT W/O CARDIAC CATH | 5.5196 | 2.6 | 4.3
516 | 05 | SURG | NO LONGER VALID | .0000 | .0 | .0
517 | 05 | SURG | PERC CARDIO PROC W NON-DRUG ELUTING STENT W/O AMI | 2.0601 | 1.8 | 2.6
518 | 05 | SURG | PERC CARDIO PROC W/O CORONARY ARTERY STENT OR AMI | 1.7772 | 2.3 | 3.5
519 | 08 | SURG | CERVICAL SPINAL FUSION W CC | 2.4826 | 3.0 | 4.8
520 | 08 | SURG | CERVICAL SPINAL FUSION W/O CC | 1.6774 | 1.6 | 2.0
521 | 20 | MED | ALCOHOL/DRUG ABUSE OR DEPENDENCE W CC | .6935 | 4.2 | 5.6
522 | 20 | MED | ALC/DRUG ABUSE OR DEPEND W REHABILITATION THERAPY W/O CC | .4767 | 7.7 | 9.6
523 | 20 | MED | ALC/DRUG ABUSE OR DEPEND W/O REHABILITATION THERAPY W/O CC | .3785 | 3.2 | 3.9
524 | 01 | MED | TRANSIENT ISCHEMIA | .7274 | 2.6 | 3.2
525 | 05 | SURG | OTHER HEART ASSIST SYSTEM IMPLANT | 11.5451 | 7.3 | 13.9
526 | 05 | SURG | NO LONGER VALID | .0000 | .0 | .0
527 | 05 | SURG | PERCUTNEOUS CARDIOVASULAR PROC W DRUG ELUTING STENT W/O AMI | 2.3161 | 1.6 | 2.2
528 | 01 | SURG | INTRACRANIAL VASCULAR PROC W PDX HEMORRHAGE | 7.0396 | 13.8 | 17.2
529 | 01 | SURG | VENTRICULAR SHUNT PROCEDURES W CC | 2.3118 | 5.3 | 8.3
530 | 01 | SURG | VENTRICULAR SHUNT PROCEDURES W/O CC | 1.2020 | 2.4 | 3.1
531 | 01 | SURG | SPINAL PROCEDURES W CC | 3.1221 | 6.5 | 9.6
532 | 01 | SURG | SPINAL PROCEDURES W/O CC | 1.4172 | 2.8 | 3.7
533 | 01 | SURG | EXTRACRANIAL PROCEDURES W CC | 1.5728 | 2.4 | 3.7
534 | 01 | SURG | EXTRACRANIAL PROCEDURES W/O CC | 1.0198 | 1.5 | 1.8
535 | 05 | SURG | CARDIAC DEFIB IMPLANT W CARDIAC CATH W AMI/HF/SHOCK | 8.0777 | 8.0 | 10.4
536 | 05 | SURG | CARDIAC DEFIB IMPLANT W CARDIAC CATH W/O AMI/HF/SHOCK | 6.9110 | 5.9 | 7.7
537 | 08 | SURG | LOCAL EXCIS & REMOV OF INT FIX DEV EXCEPT HIP & FEMUR W CC | 1.8333 | 4.8 | 6.9
538 | 08 | SURG | LOCAL EXCIS & REMOV OF INT FIX DEV EXCEPT HIP & FEMUR W/O CC | .9815 | 2.1 | 2.8
539 | 17 | SURG | LYMPHOMA & LEUKEMIA W MAJOR OR PROCEDURE W CC | 3.2371 | 7.0 | 10.8
540 | 17 | SURG | LYMPHOMA & LEUKEMIA W MAJOR OR PROCEDURE W/O CC | 1.1892 | 2.6 | 3.6
541 | PRE | SURG | ECMO OR TRACH W MV 96+HRS OR PDX EXC FACE, MTH, FACE&NECK DX W/MAJ OR | 19.6693 | 38.0 | 45.4
542 | PRE | SURG | TRACH W MV 96+HRS OR PDX EXC FACE, MTH, FACE&NECK DX W/O MJ OR | 12.7797 | 29.0 | 34.9
543 | 01 | SURG | CRANIOTOMY W/IMPLANT OF CHEMO AGENT OR ACUTE COMPLX CNS PDX | 4.4062 | 8.5 | 12.2
544 | 08 | SURG | MAJOR JOINT REPLACEMENT OR REATTACHMENT OF LOWER EXTREMITY | 1.9612 | 4.1 | 4.6
545 | 08 | SURG | REVISION OF HIP OR KNEE REPLACEMENT | 2.4781 | 4.5 | 5.2
546 | 08 | SURG | SPINAL FUSION EXC CERV WITH PDX OF CURVATURE OF THE SPINE OR MALIG | 5.0779 | 7.2 | 9.1
547 | 05 | SURG | PERCUTANEOUS CARDIOVASCULAR PROC W AMI W CC | 2.8246 | 4.4 | 5.6
548 | 05 | SURG | PERCUTANEOUS CARDIOVASCULAR PROC W AMI W/O CC | 2.0984 | 2.7 | 3.0
549 | 05 | SURG | PERCUTANEOUS CARDIOVASCULAR PROC W DRUG ELUTING STENT W AMI W CC | 3.2154 | 4.1 | 5.2
550 | 05 | SURG | PERCUTANEOUS CARDIOVASCULAR PROC W DRUG ELUTING STENT W AMI W/O CC | 2.5116 | 2.5 | 2.9
*Medicare data has been supplemented by data from 19 States for low-volume DRGs.
**DRGs 469 and 470 contain cases which could not be assigned to valid DRGs.
Note: Geometric mean is used only to determine payment for transfer cases.
Note: Arithmetic means are presented for informational purposes only.
Note: Relative weights are based on Medicare patient data and may not be appropriate for other patients.

Table 6A.—New Diagnosis Codes
Diagnosis code | Description | CC | MDC | DRG
259.5 | Androgen insensitivity syndrome | N | 10 | 300, 301
276.50 | Volume depletion, unspecified | Y | 10 15 ² 25 | 296, 297, 298 387,¹ 3891 490
276.51 | Dehydration | Y | 10 15 ² 52 | 296, 297, 298 387,¹ 389 ¹ 490
276.52 | Hypovolemia | Y | 10 15 ² 52 | 296, 297, 298 387,¹ 389 ¹ 490
278.02 | Overweight | N | 10 | 296, 297, 298
287.30 | Primary thrombocytopenia, unspecified | Y | 16 | 397
287.31 | Immune thrombocytopenic purpura | Y | 16 | 397
287.32 | Evans' syndrome | Y | 16 | 397
287.33 | Congenital and hereditary thrombocytopenic purpura | Y | 16 | 397
287.39 | Other primary thrombocytopenia | Y | 16 | 397
291.82 | Alcohol induced sleep disorders | N | 20 | 521, 522, 523
292.85 | Drug induced sleep disorders | N | 20 | 521, 522, 523
327.00 | Organic insomnia, unspecified | N | 19 | 432
327.01 | Insomnia due to medical condition classified elsewhere | N | 19 | 432
327.02 | Insomnia due to mental disorder | N | 19 | 432
327.09 | Other organic insomnia | N | 19 | 432
327.10 | Organic hypersomnia, unspecified | N | 19 | 432
327.11 | Idiopathic hypersomnia with long sleep time | N | 19 | 432
327.12 | Idiopathic hypersomnia without long sleep time | N | 19 | 432
327.13 | Recurrent hypersomnia | N | 19 | 432
327.14 | Hypersomnia due to medical condition | N | 19 | 432
327.15 | Hypersomnia due to mental disorder | N | 19 | 432
327.19 | Other organic hypersomnia | N | 19 | 432
327.20 | Organic sleep apnea, unspecified | N | PRE 3 | 482 73, 74
327.21 | Primary central sleep apnea | N | PRE 1 | 482 34, 35
327.22 | High altitude periodic breathing | N | PRE 4 | 482 99, 100
327.23 | Obstructive sleep apnea (adult) (pediatric) | N | PRE 3 | 482 73, 74
327.24 | Idiopathic sleep related non-obstructive alveolar hypoventilation | N | PRE 3 | 482 73, 74
327.26 | Sleep related hypoventilation/hypoxemia in conditions classifiable elsewhere | N | PRE 3 | 482 73, 74
327.27 | Central sleep apnea in conditions classified elsewhere | N | PRE 1 | 482 34, 35
327.29 | Other organic sleep apnea | N | PRE 3 | 482 73, 74
362.03 | Nonproliferative diabetic retinopathy NOS | N | 2 | 46, 47, 48
362.04 | Mild nonproliferative diabetic retinopathy | N | 2 | 46, 47, 48
362.05 | Moderate nonproliferative diabetic retinopathy | N | 2 | 46, 47, 48
362.06 | Severe nonproliferative diabetic retinopathy | N | 2 | 46, 47, 48
362.07 | Diabetic macular edema | N | 2 | 46, 47, 48
426.82 | Long QT syndrome | N | 5 | 138, 139
443.82 | Erythromelalgia | N | 5 | 130, 131
525.40 | Complete edentulism, unspecified | N | PRE 3 | 482 185, 186, 187
525.41 | Complete edentulism, class I | N | PRE 3 | 482 185, 186, 187
525.42 | Complete edentulism, class II | N | PRE 3 | 482 185, 186, 187
525.43 | Complete edentulism, class III | N | PRE 3 | 482 185, 186, 187
525.44 | Complete edentulism, class IV | N | PRE 3 | 482 185, 186, 187
525.50 | Partial edentulism, unspecified | N | PRE 3 | 482 185, 186, 187
525.51 | Partial edentulism, class I | N | PRE 3 | 482 185, 186, 187
525.52 | Partial edentulism, class II | N | PRE 3 | 482 185, 186, 187
525.53 | Partial edentulism, class III | N | PRE 3 | 482 185, 186, 187
525.54 | Partial edentulism, class IV | N | PRE 3 | 482 185, 186, 187
567.21 | Peritonitis (acute) generalized | Y | 6 15 | 188, 189, 190 387,¹ 389 ¹
567.22 | Peritoneal abscess | Y | 6 15 | 188, 189, 190 387,¹ 389 ¹
567.23 | Spontaneous bacterial peritonitis | Y | 6 15 | 188, 189, 190 387,¹ 389 ¹
567.29 | Other suppurative peritonitis | Y | 6 15 | 188, 189, 190 387,¹ 389 ¹
567.38 | Other retroperitoneal abscess | Y | 6 15 | 188, 189, 190 387,¹ 389 ¹
567.39 | Other retroperitoneal infections | Y | 6 15 | 188, 189, 190 387,¹ 389 ¹
567.81 | Choleperitonitis | Y | 6 15 | 188, 189, 190 387,¹ 389 ¹
567.82 | Sclerosing mesenteritis | Y | 6 15 | 188, 189, 190 387,¹ 389 ¹
567.89 | Other specified peritonitis | Y | 6 15 | 188, 189, 190 387,¹ 389 ¹
585.1 | Chronic kidney disease, Stage I | Y | PRE 11 | 512, 513 315, 316
585.2 | Chronic kidney disease, Stage II (mild) | Y | PRE 11 | 512, 513 315, 316
585.3 | Chronic kidney disease, Stage III (moderate) | Y | PRE 11 | 512, 513 315, 316
585.4 | Chronic kidney disease, Stage IV (severe) | Y | PRE 11 | 512, 513 315, 316
585.5 | Chronic kidney disease, Stage V | Y | PRE 11 | 512, 513 315, 316
585.6 | End stage renal disease | Y | PRE 11 | 512, 513 315, 316
585.9 | Chronic kidney disease, unspecified | Y | PRE 11 | 512, 513 315, 316
599.60 | Urinary obstruction, unspecified | Y 11 | 15 | 331, 332, 333 387,¹ 389 ¹
599.69 | Urinary obstruction, not elsewhere classified | Y | 11 15 | 331, 332, 333 387,¹ 389 ¹
651.70 | Multiple gestation following (elective) fetal reduction, unspecified as to episode of care or not applicable | N | 14 | 469
651.71 | Multiple gestation following (elective) fetal reduction, delivered, with or without mention of antepartum condition | N | 14 | 370, 371, 372, 373, 374, 375
651.73 | Multiple gestation following (elective) fetal reduction, antepartum condition or complication | N | 14 | 383, 384
760.77 | Anticonvulsants | N | 15 | 390
760.78 | Antimetabolic agents | N | 15 | 390
763.84 | Meconium passage during delivery | N | 15 | 390
770.10 | Fetal and newborn aspiration, unspecified | N | 15 | 387,³ 389 ³
770.11 | Meconium aspiration without respiratory symptoms | N | 15 | 387,³ 389 ³
770.12 | Meconium aspiration with respiratory symptoms | Y | 15 | 387,³ 389 ³
770.17 | Other fetal and newborn aspiration without respiratory symptoms | N | 15 | 387,³ 389 ³
770.18 | Other fetal and newborn aspiration with respiratory symptoms | Y | 15 | 387,³ 389 ³
779.84 | Meconium staining | N | 15 | 390
780.95 | Other excessive crying | N | 23 | 463, 464
799.01 | Asphyxia | Y | 4 | 101, 102
799.02 | Hypoxemia | Y | 4 | 101, 102
996.40 | Unspecified mechanical complication of internal orthopedic device, implant, and graft | Y | 8 | 249
996.41 | Mechanical loosening of prosthetic joint | Y | 8 | 249
996.42 | Dislocation of prosthetic joint | Y | 8 | 249
996.43 | Prosthetic joint implant failure | Y | 8 | 249
996.44 | Peri-prosthetic fracture around prosthetic joint | Y | 8 | 249
996.45 | Peri-prosthetic osteolysis | Y | 8 | 249
996.46 | Articular bearing surface wear of prosthetic joint | Y | 8 | 249
996.47 | Other mechanical complication of prosthetic joint implant | Y | 8 | 249
996.49 | Other mechanical complication of other internal orthopedic device, implant, and graft | Y | 8 | 249
V12.42 | Person history, Infections of the central nervous system | N | 23 | 467
V12.60 | Person history, Unspecified disease of respiratory system | N | 23 | 467
V12.61 | Person history, Pneumonia (recurrent) | N | 23 | 467
V12.69 | Person history, Other diseases of respiratory system | N | 23 | 467
V13.02 | Person history, Urinary (tract) infection | N | 23 | 467
V13.03 | Person history, Nephrotic syndrome | N | 23 | 467
V15.88 | History of fall | N | 23 | 467
V17.81 | Family history, Osteoporosis | N | 23 | 467
V17.89 | Family history, Other musculoskeletal diseases | N | 23 | 467
V18.9 | Family history, Genetic disease carrier | N | 23 | 467
V26.31 | Testing for genetic disease carrier status | N | 23 | 467
V26.32 | Other genetic testing | N | 23 | 467
V26.33 | Genetic counseling | N | 23 | 467
V46.13 | Encounter for weaning from respirator [ventilator] | Y | 23 | 467
V46.14 | Mechanical complication of respirator [ventilator] | Y | 23 | 467
V49.84 | Bed confinement status | N | 23 | 467
V59.70 | Egg (oocyte) (ovum) donor, unspecified | N | 23 | 467
V59.71 | Egg (oocyte) (ovum) donor, under age 35,anonymous recipient | N | 23 | 467
V59.72 | Egg (oocyte) (ovum) donor, under age 35, designated recipient | N | 23 | 467
V59.73 | Egg (oocyte) (ovum) donor, age 35 and over,anonymous recipient | N | 23 | 467
V59.74 | Egg (oocyte) (ovum) donor, age 35 and over, designated recipient | N | 23 | 467
V62.84 | Suicidal ideation | N | 19 | 425
V64.00 | Vaccination not carried out, unspecified reason | N | 23 | 467
V64.01 | Vaccination not carried out because of acute illness | N | 23 | 467
V64.02 | Vaccination not carried out because of chronic illness or condition | N | 23 | 467
V64.03 | Vaccination not carried out because of immune compromised state | N | 23 | 467
V64.04 | Vaccination not carried out because of allergy to vaccine or component | N | 23 | 467
V64.05 | Vaccination not carried out because of caregiver refusal | N | 23 | 467
V64.06 | Vaccination not carried out because of patient refusal | N | 23 | 467
V64.07 | Vaccination not carried out for religious reasons | N | 23 | 467
V64.08 | Vaccination not carried out because patient had disease being vaccinated against | N | 23 | 467
V64.09 | Vaccination not carried out for other reason | N | 23 | 467
V69.5 | Behavioral insomnia of childhood | N | 23 | 467
V72.86 | Encounter for blood typing | N | 23 | 467
V85.0 | Body Mass Index less than 19, adult | N | 23 | 467
V85.1 | Body Mass Index between 19-24, adult | N | 23 | 467
V85.21 | Body Mass Index 25.0-25.9, adult | N | 23 | 467
V85.22 | Body Mass Index 26.0-26.9, adult | N | 23 | 467
V85.23 | Body Mass Index 27.0-27.9, adult | N | 23 | 467
V85.24 | Body Mass Index 28.0-28.9, adult | N | 23 | 467
V85.25 | Body Mass Index 29.0-29.9, adult | N | 23 | 467
V85.30 | Body Mass Index 30.0-30.9, adult | N | 23 | 467
V85.31 | Body Mass Index 31.0-31.9, adult | N | 23 | 467
V85.32 | Body Mass Index 32.0-32.9, adult | N | 23 | 467
V85.33 | Body Mass Index 33.0-33.9, adult | N | 23 | 467
V85.34 | Body Mass Index 34.0-34.9, adult | N | 23 | 467
V85.35 | Body Mass Index 35.0-35.9, adult | N | 23 | 467
V85.36 | Body Mass Index 36.0-36.9, adult | N | 23 | 467
V85.37 | Body Mass Index 37.0-37.9, adult | N | 23 | 467
V85.38 | Body Mass Index 38.0-38.9, adult | N | 23 | 467
V85.39 | Body Mass Index 39.0-39.9, adult | N | 23 | 467
V85.4 | Body Mass Index 40 and over, adult | N | 10 | 296, 297, 298
¹ Secondary diagnosis of major problem in DRGs 387 and 389.
² Principal diagnosis of significant HIV-related condition.
³ Principal or secondary diagnosis of major problem.

Table 6B.—New Procedure Codes
Procedure code | Description | OR | MDC | DRG
00.40 | Procedure on single vessel | N
00.41 | Procedure on two vessels | N
00.42 | Procedure on three vessels | N
00.43 | Procedure on four or more vessels | N
00.45 | Insertion of one vascular stent | N
00.46 | Insertion of two vascular stents | N
00.47 | Insertion of three vascular stents | N
00.48 | Insertion of four or more vascular stents | N
00.70 | Revision of hip replacement, both acetabular and femoral components | Y | 8 10 21 24 | 471, 545 292, 293 442, 443 485
00.71 | Revision of hip replacement, acetabular component | Y | 8 10 21 2 4 | 471, 545 292, 293 442, 443 485
00.72 | Revision of hip replacement, femoral component | Y | 8 10 21 24 | 471, 545 292, 293 442, 443 485
00.73 | Revision of hip replacement, acetabular liner and/or femoral head only | Y | 8 10 21 24 | 471, 545 292, 293 442, 443 485
00.80 | Revision of knee replacement, total (all components) | Y | 8 21 24 | 471, 545 442, 443 486
00.81 | Revision of knee replacement, tibial component | Y | 8 21 24 | 471, 545 442, 443 486
00.82 | Revision of knee replacement, femoral component | Y | 8 21 24 | 471, 545 442, 443 486
00.83 | Revision of knee replacement, patellar component | Y | 8 21 24 | 471, 545 442, 443 486
00.84 | Revision of total knee replacement, tibial insert (liner) | Y | 8 21 24 | 471, 545 442, 443 486
37.41 | Implantation of prosthetic cardiac support device around the heart | Y | 5 | 110, 111
37.49 | Other repair of heart and pericardium | Y | 5 21 24 | 110, 111 442, 443 486
84.56 | Insertion of (cement) spacer | N
84.57 | Removal of (cement) spacer | N
86.97 | Insertion or replacement of single array rechargeable neurostimulator pulse generator | Y | 1 | 7, 8
86.98 | Insertion or replacement of dual array rechargeable neurostimulator pulse generator | Y | 1 | 7, 8

Table 6C.—Invalid Diagnosis Codes
Diagnosis code | Description | CC | MDC | DRG
276.5 | Volume depletion | Y | 10 15 ² 25 | 296, 297, 298 387,¹ 3891 490
287.3 | Primary thrombocytopenia | Y | 16 | 397
567.2 | Other suppurative peritonitis | Y | 6 15 | 188, 189, 190 387,¹ 389 ¹
67.8 | Other specified peritonitis | Y | 6 15 | 188, 189, 190 387,¹ 389 ¹
585 | Chronic renal failure | Y | PRE 11 | 512, 513 315,316
599.6 | Urinary obstruction, unspecified | Y | 11 15 | 331, 332, 333 387,¹ 389 ¹
770.1 | Meconium aspiration syndrome | Y | 15 | 387,³ 389 ³
799.0 | Asphyxia | N | 4 | 101, 102
996.4 | Mechanical complication of internal orthopedic device, implant, and graft | Y | 8 | 249
V12.6 | Diseases of the respiratory system | N | 23 | 467
V17.8 | Other musculoskeletal diseases | N | 23 | 467
V26.3 | Genetic counseling and testing | N | 23 | 467
V64.0 | Vaccination not carried out because of contradiction | N | 23 | 467
¹ Secondary Diagnosis of Major Problem
² Principal diagnosis of Significant HIV Related Condition
³ Principal or Secondary Diagnosis of Major Problem

Table 6D.—Invalid Procedure Codes
Procedure Code | Description | OR | MDC | DRG
36.02 | Single vessel percutaneous transluminal coronary angioplasty [PTCA] or coronary atherectomy with mention of thrombolytic agent | Y | 5 | 106, 516, 517, 518, 526, 527
36.05 | Multiple vessel percutaneous transluminal coronary angioplasty [PTCA] or coronary atherectomy performed during the same operation, with or without mention of thrombolytic agent | Y | 5 | 106, 516, 517, 518, 526, 527
37.4 | Repair of heart and pericardium | Y | 5 21 24 | 110, 111 442, 443 486

Table 6E.—Revised Diagnosis Code Titles
Diagnosis Code | Description | CC | MDC | DRG
403.00 | Hypertensive kidney disease, malignant, without chronic kidney disease | Y | 11 | 331, 332, 333
403.01 | Hypertensive kidney disease, malignant, with chronic kidney disease | Y | 11 | 315, 316
403.10 | Hypertensive kidney disease, benign, without chronic kidney disease | N | 11 | 331, 332, 333
403.11 | Hypertensive kidney disease, benign, with chronic kidney disease | Y | 11 | 315, 316
403.90 | Hypertensive kidney disease, unspecified, without chronic kidney disease | N | 11 | 331, 332, 333
403.91 | Hypertensive kidney disease, unspecified, with chronic kidney disease | Y | 11 | 315, 316
404.00 | Hypertensive heart and kidney disease, malignant, without heart failure or chronic kidney disease | Y | 5 | 134
404.01 | Hypertensive heart and kidney disease, malignant, with heart failure | Y | 5 15 | 115, 121, 124, 127, 535 1387, 389 ¹
404.02 | Hypertensive heart and kidney disease, malignant, with chronic kidney disease | Y | 11 | 315, 316
404.03 | Hypertensive heart and kidney disease, malignant, with heart failure and chronic kidney disease | Y | 5 15 | 115, 121, 124, 127, 535 387, 389 ¹
404.10 | Hypertensive heart and kidney disease, benign, without heart failure or chronic kidney disease | N | 5 | 134
404.11 | Hypertensive heart and kidney disease, benign, with heart failure | Y | 5 15 | 115, 121, 124, 127, 535 387, 389 ¹
404.12 | Hypertensive heart and kidney disease, benign, with chronic kidney disease | Y | 11 | 315, 316
404.13 | Hypertensive heart and kidney disease, benign, with heart failure and chronic kidney disease | Y | 5 15 | 115, 121, 124, 127, 535 387, 3891
404.90 | Hypertensive heart and kidney disease, unspecified, without heart failure or chronic kidney disease | N | 5 | 34
404.91 | Hypertensive heart and kidney disease, unspecified, with heart failure | Y | 5 15 | 115, 121, 124, 127, 535 387, 389 ¹
404.92 | Hypertensive heart and kidney disease, unspecified, with chronic kidney disease | Y | 11 | 315, 316
404.93 | Hypertensive heart and kidney disease, unspecified, with heart failure and chronic kidney disease | Y | 5 15 | 115, 121, 124, 127, 535 387, 389 ¹
728.87 | Muscle weakness (generalized) | N | 8 | 247
780.51 | Insomnia with sleep apnea, unspecified | N | PRE 3 | 482 73, 74
780.52 | Insomnia, unspecified | N | 19 | 432
780.53 | Hypersomnia with sleep apnea, unspecified | N | PRE 3 | 482 73, 74
780.54 | Hypersomnia, unspecified | N | 19 | 432
780.57 | Unspecified sleep apnea | N | PRE 3 | 482 73, 74
¹ Major problem in DRGs 387 and 389.

Table 6F.—Revised Procedure Code Titles
Procedure Code | Description | OR | MDC | DRG
36.01 | Percutaneous transluminal coronary angioplasty [PTCA] or coronary atherectomy | Y | 5 | 106, 516, 517, 518, 526, 527
37.79 | Revision or relocation of cardiac device pocket | Y | 1 5 9 21 24 | 7, 8 117 269, 270 442, 443 486
81.53 | Revision of hip replacement, not otherwise specified | Y | 8 10 21 24 | 471, 545 292, 293 442, 443 485
81.55 | Revision of knee replacement, not otherwise specified | Y | 8 21 24 | 471, 545 442, 443 486

Table 6G.—Additions to the CC Exclusions List
[CCs that are added to the list are in Table 6G-Additions to the CC Exclusions List. Each of the principal diagnoses is shown with an asterisk, and the revisions to the CC Exclusions List are provided in an indented column immediately following the affected principal diagnosis.]
*185
59960
59969
*1880
59960
59969
*1881
59960
59969
*1882
59960
59969
*1883
59960
59969
*1884
59960
59969
*1885
59960
59969
*1886
59960
59969
*1887
59960
59969
*1888
59960
59969
*1889
59960
59969
*1892
59960
59969
*1893
59960
59969
*1894
59960
59969
*1898
59960
59969
*1899
59960
59969
*25040
5851
5852
5853
5854
5855
5856
5859
*25041
5851
5852
5853
5854
5855
5856
5859
*25042
5851
5852
5853
5854
5855
5856
5859
*25043
5851
5852
5853
5854
5855
5856
5859
*25080
5851
5852
5853
5854
5855
5856
5859
*25081
5851
5852
5853
5854
5855
5856
5859
*25082
5851
5852
5853
5854
5855
5856
5859
*25083
5851
5852
5853
5854
5855
5856
5859
*25090
5851
5852
5853
5854
5855
5856
5859
*25091
5851
5852
5853
5854
5855
5856
5859
*25092
5851
5852
5853
5854
5855
5856
5859
*25093
5851
5852
5853
5854
5855
5856
5859
*2595
24200
24201
24210
24211
24220
24221
24230
24231
24240
24241
24280
24281
24290
24291
25001
25002
25003
25011
25012
25013
25021
25022
25023
25031
25032
25033
25041
25042
25043
25051
25052
25053
25061
25062
25063
25071
25072
25073
25081
25082
25083
25091
25092
25093
2510
2513
2521
2532
2535
2541
2550
2553
2554
2555
2556
2580
2581
2588
2589
2592
*27410
5851
5852
5853
5854
5855
5856
5859
*27411
59960
59969
*27419
5851
5852
5853
5854
5855
5856
5859
*2760
27650
27651
27652
*2761
27650
27651
27652
*2762
27650
27651
27652
*2763
27650
27651
27652
*2764
27650
27651
27652
*27650
2760
2761
2762
2763
2764
27650
27651
27652
2766
2767
2769
*27651
2760
2761
2762
2763
2764
27650
27651
27652
2766
2767
2769
*27652
2760
2761
2762
2763
2764
27650
27651
27652
2766
2767
2769
*2766
27650
27651
27652
*2767
27650
27651
27652
*2768
27650
27651
27652
*2769
27650
27651
27652
*2860
28730
28731
28732
28733
28739
*2861
28730
28731
28732
28733
28739
*2862
28730
28731
28732
28733
28739
*2863
28730
28731
28732
28733
28739
*2864
28730
28731
28732
28733
28739
*2865
28730
28731
28732
28733
28739
*2866
28730
28731
28732
28733
28739
*2867
28730
28731
28732
28733
28739
*2869
28730
28731
28732
28733
28739
*2870
28730
28731
28732
28733
28739
*2871
28730
28731
28732
28733
28739
*2872
28730
28731
28732
28733
28739
*28730
2860
2861
2862
2863
2864
2865
2866
2867
2869
2870
2871
2872
28730
28731
28732
28733
28739
2874
2875
2878
2879
*28731
2860
2861
2862
2863
2864
2865
2866
2867
2869
2870
2871
2872
28730
28731
28732
28733
28739
2874
2875
2878
2879
*28732
2860
2861
2862
2863
2864
2865
2866
2867
2869
2870
2871
2872
28730
28731
28732
28733
28739
2874
2875
2878
2879
*28733
2860
2861
2862
2863
2864
2865
2866
2867
2869
2870
2871
2872
28730
28731
28732
28733
28739
2874
2875
2878
2879
*28739
2860
2861
2862
2863
2864
2865
2866
2867
2869
2870
2871
2872
28730
28731
28732
28733
28739
2874
2875
2878
2879
*2874
28730
28731
28732
28733
28739
*2875
28730
28731
28732
28733
28739
*2878
28730
28731
28732
28733
28739
*2879
28730
28731
28732
28733
28739
*28981
28730
28731
28732
28733
28739
*28982
28730
28731
28732
28733
28739
*28989
28730
28731
28732
28733
28739
*2899
28730
28731
28732
28733
28739
*29182
2910
2911
2912
2913
2914
29181
29189
2919
2920
29211
29212
2922
29281
29282
29283
29284
29289
2929
29381
29382
29383
29384
30300
30301
30302
30390
30391
30392
30400
30401
30402
30410
30411
30412
30420
30421
30422
30440
30441
30442
30450
30451
30452
30460
30461
30462
30470
30471
30472
30480
30481
30482
30490
30491
30492
30500
30501
30502
30530
30531
30532
30540
30541
30542
30550
30551
30552
30560
30561
30562
30570
30571
30572
30590
30591
30592
*29285
2910
2911
2912
2913
2914
29181
29189
2919
2920
29211
29212
2922
29281
29282
29283
29284
29289
2929
29381
29382
29383
29384
30300
30301
30302
30390
30391
30392
30400
30401
30402
30410
30411
30412
30420
30421
30422
30440
30441
30442
30450
30451
30452
30460
30461
30462
30470
30471
30472
30480
30481
30482
30490
30491
30492
30500
30501
30502
30530
30531
30532
30540
30541
30542
30550
30551
30552
30560
30561
30562
30570
30571
30572
30590
30591
30592
7105
*34461
59960
59969
*42682
4260
42612
42613
42653
42654
4266
4267
42681
42689
4269
4270
4271
4272
42731
42732
42741
42742
*51881
79901
79902
*51882
79901
79902
*51883
79901
79902
*51884
79901
79902
*5670
56721
56722
56723
56729
56733
56739
56781
56782
56789
*5671
56721
56722
56723
56729
56733
56739
56781
56782
56789
*56721
5670
5671
56721
56722
56723
56729
56733
56739
56781
56782
56789
5679
*56722
5670
5671
56721
56722
56723
56729
56733
56739
56781
56782
56789
5679
*56723
5670
5671
56721
56722
56723
56729
56733
56739
56781
56782
56789
5679
*56729
5670
5671
56721
56722
56723
56729
56733
56739
56781
56782
56789
5679
*56733
5670
5671
56721
56722
56723
56729
56733
56739
56781
56782
56789
5679
*56739
5670
5671
56721
56722
56723
56729
56733
56739
56781
56782
56789
5679
*56781
5670
5671
56721
56722
56723
56729
56733
56739
56781
56782
56789
5679
*56782
5670
5671
56721
56722
56723
56729
56733
56739
56781
56782
56789
5679
*56789
5670
5671
56721
56722
56723
56729
56733
56739
56781
56782
56789
5679
*5679
56721
56722
56723
56729
56733
56739
56781
56782
56789
*56989
56721
56722
56723
56729
56733
56739
56781
56782
56789
*5699
56721
56722
56723
56729
56733
56739
56781
56782
56789
*5800
5851
5852
5853
5854
5855
5856
5859
*5804
5851
5852
5853
5854
5855
5856
5859
*58081
5851
5852
5853
5854
5855
5856
5859
*58089
5851
5852
5853
5854
5855
5856
5859
*5809
5851
5852
5853
5854
5855
5856
5859
*5810
5851
5852
5853
5854
5855
5856
5859
*5811
5851
5852
5853
5854
5855
5856
5859
*5812
5851
5852
5853
5854
5855
5856
5859
*5813
5851
5852
5853
5854
5855
5856
5859
*58181
5851
5852
5853
5854
5855
5856
5859
*58189
5851
5852
5853
5854
5855
5856
5859
*5819
5851
5852
5853
5854
5855
5856
5859
*5820
5851
5852
5853
5854
5855
5856
5859
*5821
5851
5852
5853
5854
5855
5856
5859
*5822
5851
5852
5853
5854
5855
5856
5859
*5824
5851
5852
5853
5854
5855
5856
5859
*58281
5851
5852
5853
5854
5855
5856
5859
*58289
5851
5852
5853
5854
5855
5856
5859
*5829
5851
5852
5853
5854
5855
5856
5859
*5830
5851
5852
5853
5854
5855
5856
5859
*5831
5851
5852
5853
5854
5855
5856
5859
*5832
5851
5852
5853
5854
5855
5856
5859
*5834
5851
5852
5853
5854
5855
5856
5859
*5836
5851
5852
5853
5854
5855
5856
5859
*5837
5851
5852
5853
5854
5855
5856
5859
*58381
5851
5852
5853
5854
5855
5856
5859
*58389
5851
5852
5853
5854
5855
5856
5859
*5839
5851
5852
5853
5854
5855
5856
5859
*5845
5851
5852
5853
5854
5855
5856
5859
*5846
5851
5852
5853
5854
5855
5856
5859
*5847
5851
5852
5853
5854
5855
5856
5859
*5848
5851
5852
5853
5854
5855
5856
5859
*5849
5851
5852
5853
5854
5855
5856
5859
*5851
5800
5804
58081
58089
5809
5810
5811
5812
5813
58181
58189
5819
5834
5845
5846
5847
5848
5849
5851
5852
5853
5854
5855
5856
5859
59010
59011
5902
5903
59080
59081
5909
591
*5852
5800
5804
58081
58089
5809
5810
5811
5812
5813
58181
58189
5819
5834
5845
5846
5847
5848
5849
5851
5852
5853
5854
5855
5856
5859
59010
59011
5902
5903
59080
59081
5909
591
*5853
5800
5804
58081
58089
5809
5810
5811
5812
5813
58181
58189
5819
5834
5845
5846
5847
5848
5849
5851
5852
5853
5854
5855
5856
5859
59010
59011
5902
5903
59080
59081
5909
591
*5854
5800
5804
58081
58089
5809
5810
5811
5812
5813
58181
58189
5819
5834
5845
5846
5847
5848
5849
5851
5852
5853
5854
5855
5856
5859
59010
59011
5902
5903
59080
59081
5909
591
*5855
5800
5804
58081
58089
5809
5810
5811
5812
5813
58181
58189
5819
5834
5845
5846
5847
5848
5849
5851
5852
5853
5854
5855
5856
5859
59010
59011
5902
5903
59080
59081
5909
591
*5856
5800
5804
58081
58089
5809
5810
5811
5812
5813
58181
58189
5819
5834
5845
5846
5847
5848
5849
5851
5852
5853
5854
5855
5856
5859
59010
59011
5902
5903
59080
59081
5909
591
*5859
5800
5804
58081
58089
5809
5810
5811
5812
5813
58181
58189
5819
5834
5845
5846
5847
5848
5849
5851
5852
5853
5854
5855
5856
5859
59010
59011
5902
5903
59080
59081
5909
591
*586
5851
5852
5853
5854
5855
5856
5859
*587
5851
5852
5853
5854
5855
5856
5859
*5880
5851
5852
5853
5854
5855
5856
5859
*5881
5851
5852
5853
5854
5855
5856
5859
*58881
5851
5852
5853
5854
5855
5856
5859
*58889
5851
5852
5853
5854
5855
5856
5859
*5889
5851
5852
5853
5854
5855
5856
5859
*5890
5851
5852
5853
5854
5855
5856
5859
*5891
5851
5852
5853
5854
5855
5856
5859
*5899
5851
5852
5853
5854
5855
5856
5859
*59000
5851
5852
5853
5854
5855
5856
5859
*59001
5851
5852
5853
5854
5855
5856
5859
*59010
5851
5852
5853
5854
5855
5856
5859
*59011
5851
5852
5853
5854
5855
5856
5859
*5902
5851
5852
5853
5854
5855
5856
5859
*5903
5851
5852
5853
5854
5855
5856
5859
*59080
5851
5852
5853
5854
5855
5856
5859
*59081
5851
5852
5853
5854
5855
5856
5859
*5909
5851
5852
5853
5854
5855
5856
5859
*591
5851
5852
5853
5854
5855
5856
5859
*5921
59960
59969
*5929
59960
59969
*5930
5851
5852
5853
5854
5855
5856
5859
*5931
5851
5852
5853
5854
5855
5856
5859
*5932
5851
5852
5853
5854
5855
5856
5859
*5933
59960
59969
*5934
59960
59969
*5935
59960
59969
*59389
5851
5852
5853
5854
5855
5856
5859
59960
59969
*5939
5851
5852
5853
5854
5855
5856
5859
59960
59969
*5940
59960
59969
*5941
59960
59969
*5942
59960
59969
*5948
59960
59969
*5949
59960
59969
*5950
59960
59969
*5951
59960
59969
*5952
59960
59969
*5953
59960
59969
*5954
59960
59969
*59581
59960
59969
*59582
59960
59969
*59589
59960
59969
*5959
59960
59969
*5960
59960
59969
*59651
59960
59969
*59652
59960
59969
*59653
59960
59969
*59654
59960
59969
*59655
59960
59969
*59659
59960
59969
*5968
59960
59969
*5969
59960
59969
*5970
59960
59969
*59780
59960
59969
*59781
59960
59969
*59789
59960
59969
*59800
59960
59969
*59801
59960
59969
*5981
59960
59969
*5982
59960
59969
*5988
59960
59969
*5989
59960
59969
*5990
59960
59969
*5991
59960
59969
*5992
59960
59969
*5993
59960
59969
*5994
59960
59969
*5995
59960
59969
*59960
5921
5935
5950
5951
5952
5954
59581
59582
59589
5959
5970
5981
5982
5990
5994
59960
59969
78820
78829
*59969
5921
5935
5950
5951
5952
5954
59581
59582
59589
5959
5970
5981
5982
5990
5994
59960
59969
78820
78829
*5997
5851
5852
5853
5854
5855
5856
5859
59960
59969
*59981
5851
5852
5853
5854
5855
5856
5859
59960
59969
*59982
5851
5852
5853
5854
5855
5856
5859
59960
59969
*59983
5851
5852
5853
5854
5855
5856
5859
59960
59969
*59984
5851
5852
5853
5854
5855
5856
5859
59960
59969
*59989
5851
5852
5853
5854
5855
5856
5859
59960
59969
*5999
5851
5852
5853
5854
5855
5856
5859
59960
59969
*60000
59960
59969
*60001
59960
59969
*60010
59960
59969
*60011
59960
59969
*60020
59960
59969
*60021
59960
59969
*6003
59960
59969
*60090
59960
59969
*60091
59960
59969
*6010
59960
59969
*6011
59960
59969
*6012
59960
59969
*6013
59960
59969
*6014
59960
59969
*6018
59960
59969
*6019
59960
59969
*6020
59960
59969
*6021
59960
59969
*6022
59960
59969
*6023
59960
59969
*6028
59960
59969
*6029
59960
59969
*7530
5851
5852
5853
5854
5855
5856
5859
59960
59969
*75310
5851
5852
5853
5854
5855
5856
5859
59960
59969
*75311
5851
5852
5853
5854
5855
5856
5859
59960
59969
*75312
5851
5852
5853
5854
5855
5856
5859
59960
59969
*75313
5851
5852
5853
5854
5855
5856
5859
59960
59969
*75314
5851
5852
5853
5854
5855
5856
5859
59960
59969
*75315
5851
5852
5853
5854
5855
5856
5859
59960
59969
*75316
5851
5852
5853
5854
5855
5856
5859
59960
59969
*75317
5851
5852
5853
5854
5855
5856
5859
59960
59969
*75319
5851
5852
5853
5854
5855
5856
5859
59960
59969
*75320
5851
5852
5853
5854
5855
5856
5859
59960
59969
*75321
5851
5852
5853
5854
5855
5856
5859
59960
59969
*75322
5851
5852
5853
5854
5855
5856
5859
59960
59969
*75323
5851
5852
5853
5854
5855
5856
5859
59960
59969
*75329
5851
5852
5853
5854
5855
5856
5859
59960
59969
*7533
5851
5852
5853
5854
5855
5856
5859
59960
59969
*7534
59960
59969
*7535
59960
59969
*7536
59960
59969
*7537
59960
59969
*7538
59960
59969
*7539
5851
5852
5853
5854
5855
5856
5859
59960
59969
*7685
77012
77018
*7686
77012
77018
*7689
77012
77018
*769
77012
77018
*7700
77012
77018
*77010
7685
769
7700
77012
77018
7702
7703
7704
7705
7707
77084
*77011
7685
769
7700
77012
77018
7702
7703
7704
7705
7707
77084
*77012
7685
769
7700
77012
77018
7702
7703
7704
7705
7707
77084
*77017
7685
769
7700
77012
77018
7702
7703
7704
7705
7707
77084
*77018
7685
769
7700
77012
77018
7702
7703
7704
7705
7707
77084
*7702
77012
77018
*7703
77012
77018
*7704
77012
77018
*7705
77012
77018
*7706
77012
77018
*7707
77012
77018
*77081
77012
77018
*77082
77012
77018
*77083
77012
77018
*77084
77012
77018
*77089
77012
77018
*7709
77012
77018
*77981
77012
77018
*77982
77012
77018
*77983
77012
77018
*77984
76501
76502
76503
76504
76505
76506
76507
76508
7670
76711
7685
769
7700
77012
77018
7702
7703
7704
7705
7707
77084
7710
7711
7713
77181
77183
77210
77211
77212
77213
77214
7722
7724
7725
7730
7731
7732
7733
7734
7740
7741
7742
77430
77431
77439
7744
7745
7747
7751
7752
7753
7754
7755
7756
7757
7760
7761
7762
7763
7771
7772
7775
7776
7780
7790
7791
7797
*77989
77012
77018
*78091
79901
79902
*78092
79901
79902
*78093
79901
79902
*78094
79901
79902
*78095
04082
44024
78001
78003
7801
78031
78039
7817
7854
78550
78551
78552
78559
7863
78820
78829
7895
7907
7911
7913
79901
79902
7991
7994
*78099
79901
79902
*7881
59960
59969
*7980
79901
79902
*79901
79901
79902
7991
*79902
79901
79902
7991
*7991
79901
79902
*79981
79901
79902
*79989
79901
79902
*99640
99640
99641
99642
99643
99644
99645
99646
99647
99649
99657
99660
99666
99667
99669
99670
99677
99678
99679
*99641
99640
99641
99642
99643
99644
99645
99646
99647
99649
99657
99660
99666
99667
99669
99670
99677
99678
99679
*99642
99640
99641
99642
99643
99644
99645
99646
99647
99649
99657
99660
99666
99667
99669
99670
99677
99678
99679
*99643
99640
99641
99642
99643
99644
99645
99646
99647
99649
99657
99660
99666
99667
99669
99670
99677
99678
99679
*99644
99640
99641
99642
99643
99644
99645
99646
99647
99649
99657
99660
99666
99667
99669
99670
99677
99678
99679
*99645
99640
99641
99642
99643
99644
99645
99646
99647
99649
99657
99660
99666
99667
99669
99670
99677
99678
99679
*99646
99640
99641
99642
99643
99644
99645
99646
99647
99649
99657
99660
99666
99667
99669
99670
99677
99678
99679
*99647
99640
99641
99642
99643
99644
99645
99646
99647
99649
99657
99660
99666
99667
99669
99670
99677
99678
99679
*99649
99640
99641
99642
99643
99644
99645
99646
99647
99649
99657
99660
99666
99667
99669
99670
99677
99678
99679
*99666
99640
99641
99642
99643
99644
99645
99646
99647
99649
*99667
99640
99641
99642
99643
99644
99645
99646
99647
99649
*99677
99640
99641
99642
99643
99644
99645
99646
99647
99649
*99678
99640
99641
99642
99643
99644
99645
99646
99647
99649
*99791
99640
99641
99642
99643
99644
99645
99646
99647
99649
*99799
99640
99641
99642
99643
99644
99645
99646
99647
99649
*99881
99640
99641
99642
99643
99644
99645
99646
99647
99649
*99883
99640
99641
99642
99643
99644
99645
99646
99647
99649
*99889
99640
99641
99642
99643
99644
99645
99646
99647
99649
*9989
99640
99641
99642
99643
99644
99645
99646
99647
99649
*V460
V4613
V4614
*V4611
V4613
V4614
*V4612
V4613
V4614
*V4613
V4611
V4612
V4613
V4614
*V4614
V4611
V4612
V4613
V4614
*V462
V4613
V4614
*V468
V4613
V4614
*V469
V4613
V4614

Table 6H.—Deletions to the CC Exclusions List
[CCs that are deleted from the list are in Table 6H-Deletions to the CC Exclusions List. Each of the principal diagnoses is shown with an asterisk, and the revisions to the CC Exclusions List are provided in an indented column immediately following the affected] principal diagnosis.
*185
5996
*1880
5996
*1881
5996
*1882
5996
*1883
5996
*1884
5996
*1885
5996
*1886
5996
*1887
5996
*1888
5996
*1889
5996
*1892
5996
*1893
5996
*1894
5996
*1898
5996
*1899
5996
*25040
585
*25041
585
*25042
585
*25043
585
*25080
585
*25081
585
*25082
585
*25083
585
*25090
585
*25091
585
*25092
585
*25093
585
*27410
585
*27411
5996
*27419
585
*2760
2765
*2761
2765
*2762
2765
*2763
2765
*2764
2765
*2765
2760
2761
2762
2763
2764
2765
2766
2767
2769
*2766
2765
*2767
2765
*2768
2765
*2769
2765
*2860
2873
*2861
2873
*2862
2873
*2863
2873
*2864
2873
*2865
2873
*2866
2873
*2867
2873
*2869
2873
*2870
2873
*2871
2873
*2872
2873
*2873
2860
2861
2862
2863
2864
2865
2866
2867
2869
2870
2871
2872
2873
2874
2875
2878
2879
*2874
2873
*2875
2873
*2878
2873
*2879
2873
*28981
2873
*28982
2873
*28989
2873
*2899
2873
*34461
5996
*5670
5672
5678
*5671
5672
5678
*5672
5670
5671
5672
5678
5679
*5678
5670
5671
5672
5678
5679
*5679
5672
5678
*56989
5672
5678
*5699
5672
5678
*5800
585
*5804
585
*58081
585
*58089
585
*5809
585
*5810
585
*5811
585
*5812
585
*5813
585
*58181
585
*58189
585
*5819
585
*5820
585
*5821
585
*5822
585
*5824
585
*58281
585
*58289
585
*5829
585
*5830
585
*5831
585
*5832
585
*5834
585
*5836
585
*5837
585
*58381
585
*58389
585
*5839
585
*5845
585
*5846
585
*5847
585
*5848
585
*5849
585
*585
5800
5804
58081
58089
5809
5810
5811
5812
5813
58181
58189
5819
5834
5845
5846
5847
5848
5849
585
59010
59011
5902
5903
59080
59081
5909
591
*586
585
*587
585
*5880
585
*5881
585
*58881
585
*58889
585
*5889
585
*5890
585
*5891
585
*5899
585
*59000
585
*59001
585
*59010
585
*59011
585
*5902
585
*5903
585
*59080
585
*59081
585
*5909
585
*591
585
*5921
5996
*5929
5996
*5930
585
*5931
585
*5932
585
*5933
5996
*5934
5996
*5935
5996
*59389
585
5996
*5939
585
5996
*5940
5996
*5941
5996
*5942
5996
*5948
5996
*5949
5996
*5950
5996
*5951
5996
*5952
5996
*5953
5996
*5954
5996
*59581
5996
*59582
5996
*59589
5996
*5959
5996
*5960
5996
*59651
5996
*59652
5996
*59653
5996
*59654
5996
*59655
5996
*59659
5996
*5968
5996
*5969
5996
*5970
5996
*59780
5996
*59781
5996
*59789
5996
*59800
5996
*59801
5996
*5981
5996
*5982
5996
*5988
5996
*5989
5996
*5990
5996
*5991
5996
*5992
5996
*5993
5996
*5994
5996
*5995
5996
*5996
5921
5935
5950
5951
5952
5954
59581
59582
59589
5959
5970
5981
5982
5990
5994
5996
78820
78829
*5997
585
5996
*59981
585
5996
*59982
585
5996
*59983
585
5996
*59984
585
5996
*59989
585
5996
*5999
585
5996
*60000
5996
*60001
5996
*60010
5996
*60011
5996
*60020
5996
*60021
5996
*6003
5996
*60090
5996
*60091
5996
*6010
5996
*6011
5996
*6012
5996
*6013
5996
*6014
5996
*6018
5996
*6019
5996
*6020
5996
*6021
5996
*6022
5996
*6023
5996
*6028
5996
*6029
5996
*7530
585
5996
*75310
585
5996
*75311
585
5996
*75312
585
5996
*75313
585
5996
*75314
585
5996
*75315
585
5996
*75316
585
5996
*75317
585
5996
*75319
585
5996
*75320
585
5996
*75321
585
5996
*75322
585
5996
*75323
585
5996
*75329
585
5996
*7533
585
5996
*7534
5996
*7535
5996
*7536
5996
*7537
5996
*7538
5996
*7539
585
5996
*7685
7701
*7686
7701
*7689
7701
*769
7701
*7700
7701
*7701
7685
769
7700
7701
7702
7703
7704
7705
7707
77084
*7702
7701
*7703
7701
*7704
7701
*7705
7701
*7706
7701
*7707
7701
*77081
7701
*77082
7701
*77083
7701
*77084
7701
*77089
7701
*7709
7701
*77981
7701
*77982
7701
*77983
7701
*77989
7701
*7881
5996
*7990
7991
*9964
9964
99657
99660
99666
99667
99669
99670
99677
99678
99679
*99666
9964
*99667
9964
*99677
9964
*99678
9964
*99791
9964
*99799
9964
*99881
9964
*99883
9964
*99889
9964
*9989
9964

Table 7A.—Medicare Prospective Payment System Selected Percentile Lengths of Stay
[FY 2004 MedPAR Update December 2004 GROUPER V22.0]
DRG | Number of discharges | Arithmetic means LOS | 10th percentile | 25th percentile | 50th percentile | 75 percentile | 90th percentile
1 | 23,272 | 9.8371 | 3 | 5 | 8 | 13 | 19
2 | 10,351 | 4.5604 | 1 | 2 | 4 | 6 | 9
3 | 4 | 9.5000 | 1 | 1 | 8 | 14 | 15
6 | 410 | 3.0512 | 1 | 1 | 2 | 4 | 7
7 | 15,592 | 9.2952 | 2 | 4 | 7 | 12 | 19
8 | 3,701 | 2.8652 | 1 | 1 | 2 | 4 | 7
9 | 1,945 | 6.1594 | 1 | 3 | 5 | 7 | 12
10 | 19,511 | 6.0234 | 2 | 3 | 5 | 8 | 12
11 | 3,279 | 3.7600 | 1 | 2 | 3 | 5 | 7
12 | 54,431 | 5.3747 | 2 | 3 | 4 | 6 | 10
13 | 7,337 | 4.9162 | 2 | 3 | 4 | 6 | 8
14 | 236,958 | 5.6626 | 2 | 3 | 4 | 7 | 11
15 | 76,129 | 4.5225 | 1 | 2 | 4 | 6 | 8
16 | 16,264 | 6.3451 | 2 | 3 | 5 | 8 | 12
17 | 3,008 | 3.2114 | 1 | 2 | 2 | 4 | 6
18 | 33,082 | 5.2590 | 2 | 3 | 4 | 7 | 10
19 | 8,568 | 3.4383 | 1 | 2 | 3 | 4 | 6
20 | 6,532 | 9.8403 | 3 | 5 | 8 | 12 | 19
21 | 2,197 | 6.3245 | 2 | 3 | 5 | 8 | 13
22 | 3,316 | 5.2223 | 2 | 2 | 4 | 7 | 10
23 | 10,732 | 3.8906 | 1 | 2 | 3 | 5 | 7
24 | 63,863 | 4.7303 | 1 | 2 | 4 | 6 | 9
25 | 28,153 | 3.1246 | 1 | 2 | 3 | 4 | 6
26 | 18 | 6.2778 | 1 | 2 | 3 | 4 | 8
27 | 5,387 | 5.1142 | 1 | 1 | 3 | 6 | 11
28 | 17,558 | 5.7440 | 1 | 3 | 4 | 7 | 12
29 | 6,274 | 3.3202 | 1 | 1 | 3 | 4 | 6
30 | 1 | 19.0000 | 19 | 19 | 19 | 19 | 19
31 | 5,090 | 3.9800 | 1 | 2 | 3 | 5 | 8
32 | 1,982 | 2.4001 | 1 | 1 | 2 | 3 | 5
34 | 27,872 | 4.7722 | 1 | 2 | 4 | 6 | 9
35 | 7,895 | 3.0011 | 1 | 1 | 3 | 4 | 6
36 | 1,472 | 1.6019 | 1 | 1 | 1 | 1 | 3
37 | 1,241 | 4.1281 | 1 | 1 | 3 | 5 | 9
38 | 56 | 3.5179 | 1 | 1 | 2 | 4 | 6
39 | 448 | 2.3772 | 1 | 1 | 1 | 2 | 5
40 | 1,383 | 4.1063 | 1 | 1 | 4 | 5 | 8
42 | 1,145 | 2.7721 | 1 | 1 | 2 | 4 | 6
43 | 125 | 3.1440 | 1 | 1 | 2 | 4 | 6
44 | 1,160 | 4.7836 | 2 | 3 | 4 | 6 | 8
45 | 2,803 | 3.0756 | 1 | 2 | 2 | 4 | 6
46 | 3,819 | 4.1712 | 1 | 2 | 3 | 5 | 8
47 | 1,335 | 2.8854 | 1 | 1 | 2 | 4 | 5
49 | 2,478 | 4.3906 | 1 | 2 | 3 | 5 | 8
50 | 2,170 | 1.8143 | 1 | 1 | 1 | 2 | 3
51 | 190 | 2.7632 | 1 | 1 | 1 | 3 | 6
52 | 165 | 1.9818 | 1 | 1 | 1 | 2 | 4
53 | 2,225 | 3.9542 | 1 | 1 | 2 | 5 | 9
54 | 1 | 7.0000 | 7 | 7 | 7 | 7 | 7
55 | 1,354 | 3.1300 | 1 | 1 | 2 | 4 | 7
56 | 435 | 2.5724 | 1 | 1 | 1 | 3 | 6
57 | 698 | 4.1547 | 1 | 1 | 2 | 5 | 9
59 | 102 | 2.5392 | 1 | 1 | 1 | 2 | 6
60 | 8 | 3.2500 | 1 | 1 | 2 | 4 | 4
61 | 219 | 5.4064 | 1 | 1 | 3 | 7 | 12
63 | 2,842 | 4.4838 | 1 | 2 | 3 | 5 | 9
64 | 3,343 | 6.0464 | 1 | 2 | 4 | 8 | 13
65 | 41,424 | 2.7728 | 1 | 1 | 2 | 3 | 5
66 | 8,007 | 3.1309 | 1 | 1 | 2 | 4 | 6
67 | 419 | 3.6826 | 1 | 2 | 3 | 4 | 7
68 | 17,328 | 3.9720 | 1 | 2 | 3 | 5 | 7
69 | 4,816 | 3.0328 | 1 | 2 | 3 | 4 | 5
70 | 25 | 2.3600 | 1 | 1 | 2 | 3 | 4
71 | 68 | 4.0000 | 1 | 2 | 3 | 5 | 7
72 | 1,066 | 3.4531 | 1 | 2 | 3 | 4 | 7
73 | 7,935 | 4.3806 | 1 | 2 | 3 | 6 | 9
74 | 4 | 2.5000 | 2 | 2 | 2 | 3 | 3
75 | 45,034 | 9.8129 | 3 | 5 | 7 | 12 | 20
76 | 47,341 | 10.8198 | 3 | 5 | 8 | 13 | 21
77 | 2,153 | 4.6716 | 1 | 2 | 4 | 6 | 9
78 | 45,631 | 6.2559 | 2 | 4 | 6 | 8 | 10
79 | 170,684 | 8.1939 | 3 | 4 | 7 | 10 | 15
80 | 7,724 | 5.3718 | 2 | 3 | 4 | 7 | 10
81 | 4 | 11.5000 | 8 | 8 | 11 | 13 | 14
82 | 65,161 | 6.6908 | 2 | 3 | 5 | 9 | 13
83 | 6,950 | 5.2373 | 2 | 3 | 4 | 7 | 10
84 | 1,472 | 3.1454 | 1 | 2 | 3 | 4 | 6
85 | 21,878 | 6.2321 | 2 | 3 | 5 | 8 | 12
86 | 1,861 | 3.6239 | 1 | 2 | 3 | 5 | 7
87 | 82,727 | 6.4131 | 2 | 3 | 5 | 8 | 12
88 | 413,844 | 4.9009 | 2 | 3 | 4 | 6 | 9
89 | 550,707 | 5.6477 | 2 | 3 | 5 | 7 | 10
90 | 45,868 | 3.8123 | 2 | 2 | 3 | 5 | 7
91 | 45 | 4.3556 | 1 | 2 | 3 | 5 | 9
92 | 16,495 | 5.9978 | 2 | 3 | 5 | 8 | 11
93 | 1,598 | 3.8273 | 1 | 2 | 3 | 5 | 7
94 | 13,338 | 6.1223 | 2 | 3 | 5 | 8 | 12
95 | 1,612 | 3.6340 | 1 | 2 | 3 | 5 | 7
96 | 59,134 | 4.3754 | 2 | 2 | 4 | 5 | 8
97 | 27,017 | 3.3864 | 1 | 2 | 3 | 4 | 6
98 | 8 | 2.5000 | 1 | 2 | 2 | 3 | 3
99 | 21,547 | 3.1101 | 1 | 1 | 2 | 4 | 6
100 | 6,953 | 2.1151 | 1 | 1 | 2 | 3 | 4
101 | 23,105 | 4.2502 | 1 | 2 | 3 | 5 | 8
102 | 5,237 | 2.4921 | 1 | 1 | 2 | 3 | 5
103 | 724 | 37.3798 | 8 | 12 | 23 | 48 | 79
104 | 20,953 | 14.4988 | 6 | 8 | 12 | 18 | 25
105 | 31,568 | 9.9544 | 4 | 6 | 8 | 12 | 18
106 | 3,499 | 11.2138 | 5 | 7 | 9 | 13 | 19
107 | 70,111 | 10.5005 | 5 | 7 | 9 | 12 | 17
108 | 8,878 | 9.8314 | 1 | 5 | 8 | 12 | 19
109 | 50,742 | 7.7661 | 4 | 5 | 6 | 9 | 13
110 | 57,167 | 8.3880 | 1 | 3 | 7 | 11 | 17
111 | 10,077 | 3.4273 | 1 | 1 | 3 | 5 | 7
113 | 37,263 | 12.5945 | 4 | 6 | 10 | 16 | 24
114 | 8,514 | 8.4514 | 2 | 4 | 7 | 11 | 16
115 | 22,137 | 6.8327 | 1 | 2 | 5 | 9 | 14
116 | 118,685 | 4.2655 | 1 | 1 | 3 | 6 | 9
117 | 5,151 | 4.2386 | 1 | 1 | 2 | 5 | 10
118 | 7,605 | 3.0473 | 1 | 1 | 2 | 4 | 7
119 | 993 | 5.4945 | 1 | 1 | 3 | 7 | 13
120 | 36,309 | 9.0439 | 1 | 3 | 6 | 12 | 20
121 | 159,575 | 6.2485 | 2 | 3 | 5 | 8 | 12
122 | 61,768 | 3.3855 | 1 | 2 | 3 | 4 | 6
123 | 33,656 | 4.7990 | 1 | 1 | 3 | 6 | 11
124 | 130,770 | 4.3991 | 1 | 2 | 3 | 6 | 9
125 | 95,808 | 2.7249 | 1 | 1 | 2 | 3 | 5
126 | 5,823 | 11.2705 | 3 | 6 | 9 | 14 | 21
127 | 695,800 | 5.1260 | 2 | 3 | 4 | 6 | 10
128 | 5,181 | 5.1662 | 2 | 3 | 5 | 6 | 9
129 | 3,762 | 2.5944 | 1 | 1 | 1 | 3 | 6
130 | 89,126 | 5.4275 | 1 | 3 | 5 | 7 | 10
131 | 23,839 | 3.8048 | 1 | 2 | 4 | 5 | 7
132 | 117,297 | 2.8049 | 1 | 1 | 2 | 3 | 5
133 | 7,287 | 2.1806 | 1 | 1 | 2 | 3 | 4
134 | 42,414 | 3.1069 | 1 | 2 | 2 | 4 | 6
135 | 7,439 | 4.2879 | 1 | 2 | 3 | 5 | 8
136 | 1,133 | 2.7643 | 1 | 1 | 2 | 3 | 5
138 | 207,068 | 3.9126 | 1 | 2 | 3 | 5 | 7
139 | 78,609 | 2.4367 | 1 | 1 | 2 | 3 | 5
140 | 38,178 | 2.4370 | 1 | 1 | 2 | 3 | 5
141 | 121,892 | 3.4612 | 1 | 2 | 3 | 4 | 6
142 | 52,279 | 2.4785 | 1 | 1 | 2 | 3 | 5
143 | 249,312 | 2.0936 | 1 | 1 | 2 | 3 | 4
144 | 99,715 | 5.6964 | 1 | 2 | 4 | 7 | 12
145 | 6,187 | 2.6198 | 1 | 1 | 2 | 3 | 5
146 | 10,769 | 9.8862 | 5 | 6 | 8 | 12 | 17
147 | 2,634 | 5.8193 | 3 | 4 | 6 | 7 | 9
148 | 135,681 | 12.0864 | 5 | 7 | 9 | 15 | 22
149 | 19,915 | 5.9490 | 3 | 4 | 6 | 7 | 9
150 | 22,708 | 10.8769 | 4 | 6 | 9 | 14 | 20
151 | 5,353 | 5.1362 | 1 | 2 | 5 | 7 | 10
152 | 5,007 | 8.0429 | 3 | 5 | 7 | 9 | 14
153 | 2,092 | 4.9809 | 2 | 3 | 5 | 6 | 8
154 | 28,497 | 13.0520 | 3 | 6 | 10 | 16 | 25
155 | 6,161 | 4.1344 | 1 | 2 | 3 | 6 | 8
156 | 6 | 24.1667 | 1 | 5 | 9 | 27 | 27
157 | 8,260 | 5.7196 | 1 | 2 | 4 | 7 | 12
158 | 4,106 | 2.6086 | 1 | 1 | 2 | 3 | 5
159 | 19,174 | 5.1209 | 1 | 2 | 4 | 7 | 10
160 | 11,988 | 2.6625 | 1 | 1 | 2 | 3 | 5
161 | 10,428 | 4.3945 | 1 | 2 | 3 | 6 | 9
162 | 5,497 | 2.0806 | 1 | 1 | 1 | 3 | 4
163 | 10 | 2.9000 | 1 | 1 | 2 | 3 | 6
164 | 5,945 | 7.9862 | 3 | 5 | 7 | 10 | 14
165 | 2,523 | 4.2089 | 2 | 3 | 4 | 5 | 7
166 | 4,933 | 4.5046 | 1 | 2 | 3 | 5 | 9
167 | 4,634 | 2.2169 | 1 | 1 | 2 | 3 | 4
168 | 1,544 | 4.9087 | 1 | 2 | 3 | 6 | 10
169 | 756 | 2.2844 | 1 | 1 | 2 | 3 | 5
170 | 17,471 | 10.7718 | 2 | 5 | 8 | 14 | 22
171 | 1,484 | 4.0964 | 1 | 2 | 3 | 5 | 8
172 | 32,879 | 6.8401 | 2 | 3 | 5 | 9 | 14
173 | 2,392 | 3.5920 | 1 | 1 | 3 | 5 | 7
174 | 267,905 | 4.7020 | 2 | 3 | 4 | 6 | 9
175 | 32,657 | 2.8910 | 1 | 2 | 2 | 4 | 5
176 | 14,560 | 5.1422 | 2 | 3 | 4 | 6 | 10
177 | 8,554 | 4.4329 | 2 | 2 | 4 | 5 | 8
178 | 2,909 | 3.1158 | 1 | 2 | 3 | 4 | 5
179 | 14,429 | 5.8559 | 2 | 3 | 5 | 7 | 11
180 | 92,193 | 5.3215 | 2 | 3 | 4 | 7 | 10
181 | 25,897 | 3.3265 | 1 | 2 | 3 | 4 | 6
182 | 292,198 | 4.4293 | 1 | 2 | 3 | 5 | 8
183 | 86,576 | 2.8664 | 1 | 1 | 2 | 4 | 5
184 | 78 | 3.2821 | 1 | 2 | 2 | 4 | 6
185 | 5,680 | 4.4905 | 1 | 2 | 3 | 5 | 9
186 | 4 | 2.0000 | 1 | 1 | 1 | 3 | 3
187 | 621 | 4.1723 | 1 | 2 | 3 | 5 | 8
188 | 90,968 | 5.5332 | 1 | 2 | 4 | 7 | 11
189 | 13,182 | 3.0882 | 1 | 1 | 2 | 4 | 6
190 | 69 | 4.3768 | 1 | 2 | 3 | 5 | 8
191 | 10,411 | 12.6933 | 3 | 6 | 9 | 16 | 26
192 | 1,322 | 5.6899 | 1 | 3 | 5 | 7 | 10
193 | 4,514 | 12.0549 | 5 | 7 | 10 | 15 | 22
194 | 521 | 6.6756 | 3 | 4 | 6 | 8 | 11
195 | 3,249 | 10.6190 | 4 | 6 | 9 | 13 | 19
196 | 701 | 5.7275 | 2 | 4 | 5 | 7 | 9
197 | 17,317 | 9.0988 | 3 | 5 | 7 | 11 | 17
198 | 4,645 | 4.3208 | 2 | 3 | 4 | 6 | 7
199 | 1,425 | 9.5298 | 2 | 4 | 7 | 13 | 19
200 | 936 | 9.6976 | 1 | 4 | 7 | 12 | 20
201 | 2,665 | 13.7471 | 3 | 6 | 10 | 18 | 28
202 | 27,281 | 6.1787 | 2 | 3 | 5 | 8 | 12
203 | 31,656 | 6.4850 | 2 | 3 | 5 | 8 | 13
204 | 72,845 | 5.5246 | 2 | 3 | 4 | 7 | 11
205 | 31,474 | 5.8950 | 2 | 3 | 4 | 7 | 12
206 | 2,081 | 3.8847 | 1 | 2 | 3 | 5 | 8
207 | 35,754 | 5.2393 | 1 | 2 | 4 | 7 | 10
208 | 9,758 | 2.9364 | 1 | 1 | 2 | 4 | 6
209 | 461,222 | 4.5677 | 3 | 3 | 4 | 5 | 7
210 | 128,455 | 6.6967 | 3 | 4 | 6 | 8 | 11
211 | 26,708 | 4.6708 | 3 | 3 | 4 | 5 | 7
212 | 10 | 2.9000 | 1 | 1 | 3 | 4 | 4
213 | 10,257 | 9.1059 | 2 | 4 | 7 | 12 | 18
216 | 17,656 | 5.7608 | 1 | 1 | 3 | 8 | 14
217 | 17,622 | 12.4479 | 3 | 5 | 9 | 15 | 26
218 | 28,708 | 5.4480 | 2 | 3 | 4 | 7 | 10
219 | 21,361 | 3.1063 | 1 | 2 | 3 | 4 | 5
220 | 4 | 2.7500 | 2 | 2 | 3 | 3 | 3
223 | 13,425 | 3.2055 | 1 | 1 | 2 | 4 | 6
224 | 10,889 | 1.8875 | 1 | 1 | 1 | 2 | 3
225 | 6,514 | 5.1650 | 1 | 2 | 4 | 7 | 11
226 | 6,660 | 6.3380 | 1 | 2 | 4 | 8 | 13
227 | 5,074 | 2.6139 | 1 | 1 | 2 | 3 | 5
228 | 2,640 | 4.1258 | 1 | 1 | 3 | 5 | 9
229 | 1,201 | 2.5129 | 1 | 1 | 2 | 3 | 5
230 | 2,565 | 5.5922 | 1 | 2 | 4 | 7 | 12
232 | 729 | 2.8230 | 1 | 1 | 1 | 3 | 6
233 | 15,118 | 6.6726 | 1 | 2 | 5 | 9 | 14
234 | 7,676 | 2.7952 | 1 | 1 | 2 | 4 | 6
235 | 4,970 | 4.6463 | 1 | 2 | 4 | 6 | 9
236 | 42,408 | 4.4748 | 1 | 3 | 4 | 5 | 8
237 | 2,022 | 3.6682 | 1 | 2 | 3 | 4 | 7
238 | 9,869 | 8.2633 | 3 | 4 | 6 | 10 | 15
239 | 42,943 | 6.0632 | 2 | 3 | 5 | 7 | 11
240 | 12,653 | 6.6177 | 2 | 3 | 5 | 8 | 13
241 | 2,696 | 3.7066 | 1 | 2 | 3 | 5 | 7
242 | 2,742 | 6.5864 | 2 | 3 | 5 | 8 | 12
243 | 101,477 | 4.5166 | 1 | 2 | 4 | 6 | 8
244 | 15,792 | 4.4924 | 1 | 2 | 4 | 6 | 8
245 | 5,840 | 3.1334 | 1 | 1 | 3 | 4 | 6
246 | 1,430 | 3.5664 | 1 | 2 | 3 | 4 | 7
247 | 21,671 | 3.3172 | 1 | 2 | 3 | 4 | 6
248 | 15,118 | 4.8397 | 1 | 3 | 4 | 6 | 9
249 | 14,026 | 3.8285 | 1 | 1 | 3 | 5 | 8
250 | 4,155 | 3.8876 | 1 | 2 | 3 | 5 | 7
251 | 2,148 | 2.7514 | 1 | 1 | 3 | 3 | 5
252 | 1 | 1.0000 | 1 | 1 | 1 | 1 | 1
253 | 24,857 | 4.5324 | 2 | 3 | 4 | 5 | 8
254 | 10,420 | 3.0461 | 1 | 2 | 3 | 4 | 5
255 | 1 | 7.0000 | 7 | 7 | 7 | 7 | 7
256 | 7,152 | 5.0301 | 1 | 2 | 4 | 6 | 10
257 | 13,512 | 2.6104 | 1 | 1 | 2 | 3 | 5
258 | 12,042 | 1.7498 | 1 | 1 | 1 | 2 | 3
259 | 2,903 | 2.7689 | 1 | 1 | 1 | 3 | 7
260 | 2,991 | 1.4055 | 1 | 1 | 1 | 1 | 2
261 | 1,603 | 2.2052 | 1 | 1 | 1 | 2 | 4
262 | 636 | 4.8428 | 1 | 2 | 4 | 7 | 10
263 | 23,809 | 10.7403 | 3 | 5 | 8 | 13 | 21
264 | 3,922 | 6.2358 | 2 | 3 | 5 | 8 | 12
265 | 4,307 | 6.5677 | 1 | 2 | 4 | 8 | 14
266 | 2,304 | 3.1788 | 1 | 1 | 2 | 4 | 7
267 | 272 | 4.1838 | 1 | 1 | 3 | 5 | 10
268 | 1,004 | 3.5508 | 1 | 1 | 2 | 4 | 7
269 | 10,686 | 8.3273 | 2 | 4 | 6 | 11 | 16
270 | 2,639 | 3.8151 | 1 | 1 | 3 | 5 | 8
271 | 21,054 | 6.7875 | 2 | 3 | 5 | 8 | 12
272 | 5,942 | 5.8009 | 2 | 3 | 4 | 7 | 11
273 | 1,349 | 3.6449 | 1 | 2 | 3 | 5 | 7
274 | 2,288 | 6.2592 | 2 | 3 | 5 | 8 | 12
275 | 228 | 3.2456 | 1 | 1 | 2 | 4 | 7
276 | 1,447 | 4.4630 | 1 | 2 | 4 | 6 | 8
277 | 112,318 | 5.5013 | 2 | 3 | 5 | 7 | 10
278 | 33,865 | 4.0567 | 2 | 2 | 3 | 5 | 7
279 | 6 | 4.6667 | 1 | 3 | 5 | 6 | 6
280 | 19,272 | 4.0080 | 1 | 2 | 3 | 5 | 7
281 | 7,093 | 2.8429 | 1 | 1 | 2 | 4 | 5
283 | 6,274 | 4.5695 | 1 | 2 | 3 | 6 | 9
284 | 1,833 | 3.0295 | 1 | 1 | 2 | 4 | 6
285 | 7,623 | 10.0454 | 3 | 5 | 8 | 12 | 19
286 | 2,703 | 5.4802 | 2 | 2 | 4 | 6 | 10
287 | 6,114 | 9.8368 | 3 | 5 | 7 | 12 | 19
288 | 10,450 | 4.1090 | 2 | 2 | 3 | 4 | 7
289 | 6,894 | 2.5582 | 1 | 1 | 1 | 2 | 5
290 | 10,859 | 2.1325 | 1 | 1 | 1 | 2 | 4
291 | 64 | 2.7969 | 1 | 1 | 1 | 2 | 5
292 | 7,331 | 10.0308 | 2 | 4 | 8 | 13 | 20
293 | 368 | 4.4674 | 1 | 2 | 3 | 6 | 9
294 | 98,963 | 4.2920 | 1 | 2 | 3 | 5 | 8
295 | 4,102 | 3.6675 | 1 | 2 | 3 | 4 | 7
296 | 254,706 | 4.7202 | 1 | 2 | 4 | 6 | 9
297 | 45,347 | 3.0710 | 1 | 2 | 3 | 4 | 6
298 | 81 | 3.9383 | 1 | 1 | 2 | 4 | 7
299 | 1,478 | 5.1604 | 1 | 2 | 4 | 6 | 10
300 | 21,343 | 5.8673 | 2 | 3 | 5 | 7 | 11
301 | 3,901 | 3.4107 | 1 | 2 | 3 | 4 | 6
302 | 9,649 | 8.1898 | 4 | 5 | 6 | 9 | 14
303 | 23,760 | 7.3943 | 3 | 4 | 6 | 9 | 14
304 | 13,826 | 8.4735 | 2 | 3 | 6 | 11 | 18
305 | 3,087 | 3.2096 | 1 | 2 | 3 | 4 | 6
306 | 6,350 | 5.4737 | 1 | 2 | 3 | 8 | 12
307 | 2,066 | 2.0736 | 1 | 1 | 2 | 2 | 3
308 | 7,093 | 6.1095 | 1 | 2 | 4 | 8 | 14
309 | 3,559 | 2.0014 | 1 | 1 | 1 | 2 | 4
310 | 26,035 | 4.5265 | 1 | 2 | 3 | 6 | 10
311 | 6,480 | 1.8782 | 1 | 1 | 1 | 2 | 3
312 | 1,456 | 4.8365 | 1 | 1 | 3 | 6 | 11
313 | 508 | 2.2165 | 1 | 1 | 2 | 3 | 4
314 | 1 | 2.0000 | 2 | 2 | 2 | 2 | 2
315 | 36,565 | 6.7584 | 1 | 1 | 4 | 9 | 16
316 | 180,999 | 6.2874 | 2 | 3 | 5 | 8 | 12
317 | 2,766 | 3.4678 | 1 | 1 | 2 | 4 | 7
318 | 5,927 | 5.7441 | 1 | 2 | 4 | 7 | 11
319 | 383 | 2.7546 | 1 | 1 | 2 | 3 | 6
320 | 218,684 | 5.0953 | 2 | 3 | 4 | 6 | 9
321 | 31,401 | 3.5963 | 1 | 2 | 3 | 4 | 6
322 | 61 | 3.4918 | 2 | 2 | 3 | 4 | 6
323 | 20,482 | 3.0937 | 1 | 1 | 2 | 4 | 6
324 | 5,421 | 1.8843 | 1 | 1 | 1 | 2 | 3
325 | 9,615 | 3.6813 | 1 | 2 | 3 | 5 | 7
326 | 2,584 | 2.6207 | 1 | 1 | 2 | 3 | 5
327 | 5 | 2.6000 | 1 | 1 | 2 | 3 | 5
328 | 606 | 3.4719 | 1 | 1 | 3 | 5 | 7
329 | 72 | 1.8333 | 1 | 1 | 1 | 2 | 3
331 | 54,798 | 5.4332 | 1 | 2 | 4 | 7 | 11
332 | 4,389 | 3.1246 | 1 | 1 | 2 | 4 | 6
333 | 252 | 5.4921 | 1 | 2 | 3 | 7 | 13
334 | 9,810 | 4.3009 | 2 | 2 | 3 | 5 | 7
335 | 11,931 | 2.6866 | 1 | 2 | 3 | 3 | 4
336 | 31,264 | 3.2999 | 1 | 2 | 2 | 4 | 7
337 | 25,156 | 1.9182 | 1 | 1 | 2 | 2 | 3
338 | 652 | 6.1748 | 1 | 2 | 3 | 9 | 14
339 | 1,253 | 5.1173 | 1 | 1 | 3 | 7 | 11
340 | 2 | 5.0000 | 4 | 4 | 6 | 6 | 6
341 | 3,185 | 3.1586 | 1 | 1 | 2 | 3 | 7
342 | 565 | 3.4248 | 1 | 2 | 2 | 4 | 8
344 | 2,693 | 2.7037 | 1 | 1 | 1 | 2 | 6
345 | 1,461 | 4.8077 | 1 | 1 | 3 | 6 | 11
346 | 3,966 | 5.7307 | 1 | 3 | 4 | 7 | 11
347 | 247 | 3.0202 | 1 | 1 | 2 | 4 | 7
348 | 4,171 | 4.0897 | 1 | 2 | 3 | 5 | 8
349 | 575 | 2.3583 | 1 | 1 | 2 | 3 | 4
350 | 7,137 | 4.4541 | 2 | 2 | 4 | 5 | 8
352 | 975 | 4.0133 | 1 | 2 | 3 | 5 | 8
353 | 2,735 | 6.3192 | 2 | 3 | 4 | 7 | 12
354 | 7,612 | 5.6967 | 2 | 3 | 4 | 6 | 10
355 | 4,937 | 3.0614 | 2 | 2 | 3 | 4 | 4
356 | 23,993 | 1.9281 | 1 | 1 | 2 | 2 | 3
357 | 5,570 | 8.1269 | 3 | 4 | 6 | 10 | 15
358 | 20,798 | 3.9629 | 2 | 2 | 3 | 4 | 7
359 | 28,741 | 2.4058 | 1 | 2 | 2 | 3 | 4
360 | 14,764 | 2.5880 | 1 | 1 | 2 | 3 | 4
361 | 272 | 3.0184 | 1 | 1 | 2 | 3 | 7
362 | 2 | 1.0000 | 1 | 1 | 1 | 1 | 1
363 | 2,128 | 3.7810 | 1 | 2 | 2 | 4 | 8
364 | 1,451 | 4.1909 | 1 | 2 | 3 | 5 | 9
365 | 1,622 | 7.7404 | 2 | 3 | 5 | 9 | 17
366 | 4,789 | 6.4792 | 2 | 3 | 5 | 8 | 13
367 | 456 | 2.9934 | 1 | 1 | 2 | 4 | 6
368 | 3,924 | 6.6351 | 2 | 3 | 5 | 8 | 13
369 | 3,613 | 3.2419 | 1 | 1 | 2 | 4 | 6
370 | 1,843 | 5.1557 | 2 | 3 | 4 | 5 | 8
371 | 2,244 | 3.3944 | 2 | 3 | 3 | 4 | 5
372 | 1,164 | 3.1847 | 2 | 2 | 2 | 3 | 5
373 | 4,871 | 2.2373 | 1 | 2 | 2 | 3 | 3
374 | 156 | 2.7436 | 2 | 2 | 2 | 3 | 4
375 | 6 | 4.0000 | 1 | 2 | 2 | 6 | 6
376 | 388 | 3.3711 | 1 | 2 | 2 | 4 | 6
377 | 77 | 4.4805 | 1 | 1 | 3 | 4 | 8
378 | 196 | 2.3163 | 1 | 1 | 2 | 3 | 4
379 | 508 | 2.8130 | 1 | 1 | 2 | 3 | 6
380 | 91 | 2.1099 | 1 | 1 | 1 | 2 | 4
381 | 212 | 2.2642 | 1 | 1 | 1 | 2 | 4
382 | 43 | 1.4419 | 1 | 1 | 1 | 2 | 2
383 | 2,473 | 3.6526 | 1 | 1 | 2 | 4 | 7
384 | 132 | 2.5606 | 1 | 1 | 1 | 3 | 5
385 | 1 | 1.0000 | 1 | 1 | 1 | 1 | 1
389 | 1 | 21.0000 | 21 | 21 | 21 | 21 | 21
390 | 1 | 1.0000 | 1 | 1 | 1 | 1 | 1
392 | 2,203 | 9.1770 | 2 | 4 | 6 | 11 | 19
393 | 1 | 4.0000 | 4 | 4 | 4 | 4 | 4
394 | 2,820 | 7.3553 | 1 | 2 | 5 | 9 | 16
395 | 116,129 | 4.2575 | 1 | 2 | 3 | 5 | 8
396 | 9 | 4.4444 | 1 | 1 | 2 | 3 | 6
397 | 18,482 | 5.1407 | 1 | 2 | 4 | 6 | 10
398 | 18,288 | 5.7016 | 2 | 3 | 4 | 7 | 11
399 | 1,640 | 3.3250 | 1 | 2 | 3 | 4 | 6
401 | 6,328 | 11.0390 | 2 | 5 | 9 | 14 | 22
402 | 1,401 | 4.0293 | 1 | 1 | 3 | 5 | 9
403 | 31,865 | 7.9367 | 2 | 3 | 6 | 10 | 16
404 | 3,802 | 4.1528 | 1 | 2 | 3 | 5 | 8
406 | 2,224 | 9.9150 | 2 | 4 | 7 | 12 | 21
407 | 584 | 3.8253 | 1 | 2 | 3 | 5 | 7
408 | 2,170 | 8.1949 | 1 | 2 | 5 | 10 | 19
409 | 1,808 | 5.7954 | 1 | 3 | 4 | 6 | 12
410 | 28,417 | 3.8214 | 1 | 2 | 3 | 5 | 6
411 | 12 | 3.2500 | 1 | 2 | 2 | 4 | 4
412 | 12 | 2.7500 | 1 | 1 | 1 | 3 | 4
413 | 5,198 | 6.7563 | 2 | 3 | 5 | 9 | 13
414 | 573 | 4.0244 | 1 | 2 | 3 | 5 | 8
415 | 50,827 | 14.0035 | 4 | 6 | 11 | 18 | 28
416 | 239,006 | 7.3769 | 2 | 3 | 6 | 9 | 14
417 | 23 | 5.2174 | 1 | 2 | 3 | 5 | 10
418 | 28,508 | 6.1657 | 2 | 3 | 5 | 8 | 12
419 | 16,282 | 4.3857 | 1 | 2 | 3 | 5 | 8
420 | 2,941 | 3.3747 | 1 | 2 | 3 | 4 | 6
421 | 11,882 | 4.0613 | 1 | 2 | 3 | 5 | 7
422 | 52 | 3.7115 | 1 | 1 | 2 | 4 | 7
423 | 8,637 | 8.2173 | 2 | 3 | 6 | 10 | 17
424 | 1,071 | 11.7274 | 2 | 4 | 8 | 14 | 22
425 | 14,779 | 3.4569 | 1 | 1 | 3 | 4 | 7
426 | 4,313 | 4.1203 | 1 | 2 | 3 | 5 | 8
427 | 1,505 | 4.7375 | 1 | 2 | 3 | 5 | 9
428 | 773 | 7.2549 | 1 | 2 | 5 | 8 | 15
429 | 25,479 | 5.4228 | 2 | 3 | 4 | 6 | 10
430 | 71,439 | 7.6737 | 2 | 3 | 6 | 9 | 15
431 | 304 | 5.8947 | 1 | 2 | 4 | 7 | 12
432 | 420 | 4.2548 | 1 | 2 | 3 | 5 | 8
433 | 5,191 | 2.9626 | 1 | 1 | 2 | 3 | 6
439 | 1,739 | 8.7993 | 1 | 3 | 5 | 10 | 19
440 | 5,613 | 8.7825 | 2 | 3 | 6 | 10 | 18
441 | 779 | 3.3813 | 1 | 1 | 2 | 4 | 7
442 | 18,017 | 8.6810 | 2 | 3 | 6 | 11 | 18
443 | 3,385 | 3.4003 | 1 | 1 | 3 | 4 | 7
444 | 5,892 | 4.0324 | 1 | 2 | 3 | 5 | 8
445 | 2,346 | 2.8372 | 1 | 1 | 2 | 4 | 5
447 | 6,264 | 2.5686 | 1 | 1 | 2 | 3 | 5
448 | 1 | 2.0000 | 2 | 2 | 2 | 2 | 2
449 | 38,802 | 3.6742 | 1 | 1 | 3 | 4 | 7
450 | 7,805 | 1.9867 | 1 | 1 | 1 | 2 | 4
451 | 3 | 1.6667 | 1 | 1 | 1 | 3 | 3
452 | 27,634 | 4.8762 | 1 | 2 | 3 | 6 | 10
453 | 5,437 | 2.7993 | 1 | 1 | 2 | 3 | 5
454 | 3,837 | 4.1058 | 1 | 2 | 3 | 5 | 8
455 | 846 | 2.2222 | 1 | 1 | 2 | 3 | 4
461 | 2,722 | 5.1267 | 1 | 1 | 3 | 6 | 12
462 | 7,761 | 10.1584 | 4 | 6 | 8 | 13 | 18
463 | 31,045 | 3.8939 | 1 | 2 | 3 | 5 | 7
464 | 7,661 | 2.9141 | 1 | 1 | 2 | 4 | 5
465 | 219 | 3.6347 | 1 | 1 | 2 | 4 | 7
466 | 1,377 | 4.7117 | 1 | 1 | 2 | 5 | 9
467 | 1,015 | 2.6788 | 1 | 1 | 2 | 3 | 5
468 | 50,481 | 12.8082 | 3 | 6 | 10 | 16 | 25
471 | 15,614 | 5.0496 | 3 | 3 | 4 | 5 | 8
473 | 8,778 | 12.4026 | 2 | 3 | 7 | 18 | 32
475 | 116,534 | 11.0157 | 2 | 5 | 9 | 14 | 21
476 | 3,025 | 10.4998 | 2 | 4 | 9 | 14 | 21
477 | 29,407 | 8.5221 | 1 | 3 | 6 | 11 | 18
478 | 113,660 | 7.1046 | 1 | 2 | 5 | 9 | 15
479 | 24,603 | 2.7884 | 1 | 1 | 2 | 4 | 6
480 | 802 | 17.9102 | 7 | 9 | 13 | 22 | 36
481 | 1,066 | 21.8208 | 10 | 16 | 20 | 25 | 35
482 | 5,076 | 11.4967 | 4 | 6 | 9 | 14 | 21
484 | 449 | 12.7506 | 2 | 6 | 10 | 17 | 25
485 | 3,420 | 9.6038 | 4 | 5 | 7 | 11 | 18
486 | 2,562 | 12.3478 | 2 | 6 | 10 | 16 | 25
487 | 4,644 | 7.0540 | 1 | 3 | 5 | 9 | 14
488 | 786 | 16.3422 | 4 | 7 | 13 | 22 | 35
489 | 13,461 | 8.3538 | 2 | 3 | 6 | 10 | 17
490 | 5,204 | 5.3918 | 1 | 2 | 4 | 7 | 11
491 | 19,789 | 3.1423 | 1 | 2 | 3 | 3 | 5
492 | 4,012 | 13.6269 | 3 | 5 | 6 | 23 | 31
493 | 61,628 | 6.0515 | 1 | 3 | 5 | 8 | 12
494 | 25,626 | 2.6772 | 1 | 1 | 2 | 4 | 5
495 | 307 | 17.4072 | 8 | 9 | 13 | 19 | 31
496 | 3,261 | 8.9877 | 3 | 4 | 6 | 11 | 18
497 | 29,453 | 6.0617 | 3 | 4 | 5 | 7 | 10
498 | 19,400 | 3.7954 | 2 | 3 | 3 | 5 | 6
499 | 35,676 | 4.3236 | 1 | 2 | 3 | 5 | 9
500 | 48,323 | 2.2420 | 1 | 1 | 2 | 3 | 4
501 | 3,122 | 9.9308 | 4 | 5 | 8 | 13 | 18
502 | 717 | 5.6987 | 2 | 3 | 5 | 7 | 9
503 | 5,909 | 3.8284 | 1 | 2 | 3 | 5 | 7
504 | 187 | 27.1818 | 8 | 16 | 23 | 36 | 49
505 | 179 | 4.6704 | 1 | 1 | 1 | 6 | 11
506 | 1,004 | 15.9273 | 3 | 7 | 13 | 21 | 33
507 | 307 | 8.4919 | 1 | 3 | 7 | 11 | 18
508 | 641 | 7.2044 | 1 | 3 | 5 | 9 | 15
509 | 168 | 5.1607 | 1 | 2 | 3 | 6 | 11
510 | 1,755 | 6.4160 | 1 | 2 | 4 | 8 | 14
511 | 635 | 4.0787 | 1 | 1 | 2 | 5 | 8
512 | 513 | 12.7719 | 7 | 8 | 10 | 14 | 23
513 | 227 | 9.9824 | 5 | 7 | 8 | 12 | 16
515 | 27,312 | 4.2899 | 1 | 1 | 2 | 6 | 11
516 | 38,732 | 4.7893 | 2 | 2 | 4 | 6 | 9
517 | 66,287 | 2.5801 | 1 | 1 | 1 | 3 | 6
518 | 41,113 | 3.4800 | 1 | 1 | 2 | 4 | 8
519 | 11,506 | 4.8233 | 1 | 1 | 3 | 6 | 11
520 | 15,266 | 2.0074 | 1 | 1 | 1 | 2 | 4
521 | 32,148 | 5.4742 | 2 | 3 | 4 | 7 | 11
522 | 5,646 | 9.3666 | 3 | 4 | 7 | 12 | 19
523 | 15,866 | 3.8769 | 1 | 2 | 3 | 5 | 7
524 | 118,949 | 3.1907 | 1 | 2 | 3 | 4 | 6
525 | 315 | 13.4222 | 1 | 3 | 8 | 16 | 32
526 | 55,877 | 4.3572 | 1 | 2 | 3 | 5 | 8
527 | 192,230 | 2.2326 | 1 | 1 | 1 | 2 | 5
528 | 1,770 | 17.1090 | 6 | 10 | 15 | 22 | 30
529 | 4,032 | 7.9923 | 1 | 2 | 5 | 10 | 18
530 | 2,363 | 3.1240 | 1 | 1 | 2 | 4 | 6
531 | 4,799 | 9.4049 | 2 | 4 | 7 | 12 | 20
532 | 2,622 | 3.7227 | 1 | 1 | 3 | 5 | 8
533 | 47,609 | 3.7364 | 1 | 1 | 2 | 4 | 9
534 | 45,285 | 1.7909 | 1 | 1 | 1 | 2 | 3
535 | 13,002 | 8.2678 | 1 | 3 | 7 | 11 | 17
536 | 19,606 | 5.4113 | 1 | 2 | 4 | 7 | 12
537 | 8,641 | 6.7775 | 1 | 3 | 5 | 8 | 14
538 | 5,604 | 2.8164 | 1 | 1 | 2 | 4 | 6
539 | 5,020 | 10.7639 | 2 | 4 | 7 | 14 | 23
540 | 1,510 | 3.5808 | 1 | 1 | 3 | 4 | 7
541 | 22,369 | 42.8902 | 17 | 25 | 35 | 52 | 76
542 | 24,376 | 32.5434 | 12 | 18 | 27 | 40 | 58
543 | 5,415 | 11.9830 | 2 | 5 | 10 | 16 | 24
| 12,140,152

Table 7B.—Medicare Prospective Payment System Selected Percentile Lengths of Stay
[FY 2004 MedPAR Update December 2004 GROUPER V23.0]
DRG | Number of discharges | Arithmetic mean LOS | 10th percentile | 25th percentile | 50th percentile | 75th percentile | 90th percentile
1 | 23,271 | 9.8373 | 3 | 5 | 8 | 13 | 19
2 | 10,351 | 4.5604 | 1 | 2 | 4 | 6 | 9
3 | 4 | 9.5000 | 1 | 1 | 8 | 14 | 15
6 | 410 | 3.0512 | 1 | 1 | 2 | 4 | 7
7 | 15,592 | 9.2952 | 2 | 4 | 7 | 12 | 19
8 | 3,701 | 2.8652 | 1 | 1 | 2 | 4 | 7
9 | 1,945 | 6.1594 | 1 | 3 | 5 | 7 | 12
10 | 19,511 | 6.0234 | 2 | 3 | 5 | 8 | 12
11 | 3,279 | 3.7600 | 1 | 2 | 3 | 5 | 7
12 | 54,431 | 5.3747 | 2 | 3 | 4 | 6 | 10
13 | 7,337 | 4.9162 | 2 | 3 | 4 | 6 | 8
14 | 236,958 | 5.6626 | 2 | 3 | 4 | 7 | 11
15 | 76,129 | 4.5225 | 1 | 2 | 4 | 6 | 8
16 | 16,264 | 6.3451 | 2 | 3 | 5 | 8 | 12
17 | 3,008 | 3.2114 | 1 | 2 | 2 | 4 | 6
18 | 33,082 | 5.2590 | 2 | 3 | 4 | 7 | 10
19 | 8,568 | 3.4383 | 1 | 2 | 3 | 4 | 6
20 | 6,532 | 9.8403 | 3 | 5 | 8 | 12 | 19
21 | 2,197 | 6.3245 | 2 | 3 | 5 | 8 | 13
22 | 3,316 | 5.2223 | 2 | 2 | 4 | 7 | 10
23 | 10,732 | 3.8906 | 1 | 2 | 3 | 5 | 7
24 | 63,863 | 4.7303 | 1 | 2 | 4 | 6 | 9
25 | 28,153 | 3.1246 | 1 | 2 | 3 | 4 | 6
26 | 18 | 6.2778 | 1 | 2 | 3 | 4 | 8
27 | 5,387 | 5.1142 | 1 | 1 | 3 | 6 | 11
28 | 17,558 | 5.7440 | 1 | 3 | 4 | 7 | 12
29 | 6,274 | 3.3202 | 1 | 1 | 3 | 4 | 6
30 | 1 | 19.0000 | 19 | 19 | 19 | 19 | 19
31 | 5,090 | 3.9800 | 1 | 2 | 3 | 5 | 8
32 | 1,982 | 2.4001 | 1 | 1 | 2 | 3 | 5
34 | 27,872 | 4.7722 | 1 | 2 | 4 | 6 | 9
35 | 17,895 | 3.0011 | 1 | 1 | 3 | 4 | 6
36 | 1,472 | 1.6019 | 1 | 1 | 1 | 1 | 3
37 | 1,241 | 4.1281 | 1 | 1 | 3 | 5 | 9
38 | 56 | 3.5179 | 1 | 1 | 2 | 4 | 6
39 | 448 | 2.3772 | 1 | 1 | 1 | 2 | 5
40 | 1,383 | 4.1063 | 1 | 1 | 4 | 5 | 8
42 | 1,145 | 2.7721 | 1 | 1 | 2 | 4 | 6
43 | 125 | 3.1440 | 1 | 1 | 2 | 4 | 6
44 | 1,160 | 4.7836 | 2 | 3 | 4 | 6 | 8
45 | 2,803 | 3.0756 | 1 | 2 | 2 | 4 | 6
46 | 3,819 | 4.1712 | 1 | 2 | 3 | 5 | 8
47 | 1,335 | 2.8854 | 1 | 1 | 2 | 4 | 5
49 | 2,478 | 4.3906 | 1 | 2 | 3 | 5 | 8
50 | 2,170 | 1.8143 | 1 | 1 | 1 | 2 | 3
51 | 190 | 2.7632 | 1 | 1 | 1 | 3 | 6
52 | 165 | 1.9818 | 1 | 1 | 1 | 2 | 4
53 | 2,225 | 3.9542 | 1 | 1 | 2 | 5 | 9
54 | 1 | 7.0000 | 7 | 7 | 7 | 7 | 7
55 | 1,354 | 3.1300 | 1 | 1 | 2 | 4 | 7
56 | 435 | 2.5724 | 1 | 1 | 1 | 3 | 6
57 | 698 | 4.1547 | 1 | 1 | 2 | 5 | 9
59 | 102 | 2.5392 | 1 | 1 | 1 | 2 | 6
60 | 8 | 3.2500 | 1 | 1 | 2 | 4 | 4
61 | 219 | 5.4064 | 1 | 1 | 3 | 7 | 12
63 | 2,842 | 4.4838 | 1 | 2 | 3 | 5 | 9
64 | 3,343 | 6.0464 | 1 | 2 | 4 | 8 | 13
65 | 41,424 | 2.7728 | 1 | 1 | 2 | 3 | 5
66 | 8,007 | 3.1309 | 1 | 1 | 2 | 4 | 6
67 | 419 | 3.6826 | 1 | 2 | 3 | 4 | 7
68 | 17,328 | 3.9720 | 1 | 2 | 3 | 5 | 7
69 | 4,816 | 3.0328 | 1 | 2 | 3 | 4 | 5
70 | 25 | 2.3600 | 1 | 1 | 2 | 3 | 4
71 | 68 | 4.0000 | 1 | 2 | 3 | 5 | 7
72 | 1,066 | 3.4531 | 1 | 2 | 3 | 4 | 7
73 | 7,935 | 4.3806 | 1 | 2 | 3 | 6 | 9
74 | 4 | 2.5000 | 2 | 2 | 2 | 3 | 3
75 | 45,031 | 9.8127 | 3 | 5 | 7 | 12 | 20
76 | 47,341 | 10.8198 | 3 | 5 | 8 | 13 | 21
77 | 2,153 | 4.6716 | 1 | 2 | 4 | 6 | 9
78 | 45,631 | 6.2559 | 2 | 4 | 6 | 8 | 10
79 | 170,684 | 8.1939 | 3 | 4 | 7 | 10 | 15
80 | 7,724 | 5.3718 | 2 | 3 | 4 | 7 | 10
81 | 4 | 11.5000 | 8 | 8 | 11 | 13 | 14
82 | 65,161 | 6.6908 | 2 | 3 | 5 | 9 | 13
83 | 6,950 | 5.2373 | 2 | 3 | 4 | 7 | 10
84 | 1,472 | 3.1454 | 1 | 2 | 3 | 4 | 6
85 | 21,878 | 6.2321 | 2 | 3 | 5 | 8 | 12
86 | 1,861 | 3.6239 | 1 | 2 | 3 | 5 | 7
87 | 82,727 | 6.4131 | 2 | 3 | 5 | 8 | 12
88 | 413,844 | 4.9009 | 2 | 3 | 4 | 6 | 9
89 | 550,707 | 5.6477 | 2 | 3 | 5 | 7 | 10
90 | 45,868 | 3.8123 | 2 | 2 | 3 | 5 | 7
91 | 45 | 4.3556 | 1 | 2 | 3 | 5 | 9
92 | 16,495 | 5.9978 | 2 | 3 | 5 | 8 | 11
93 | 1,598 | 3.8273 | 1 | 2 | 3 | 5 | 7
94 | 13,338 | 6.1223 | 2 | 3 | 5 | 8 | 12
95 | 1,612 | 3.6340 | 1 | 2 | 3 | 5 | 7
96 | 59,134 | 4.3754 | 2 | 2 | 4 | 5 | 8
97 | 27,017 | 3.3864 | 1 | 2 | 3 | 4 | 6
98 | 8 | 2.5000 | 1 | 2 | 2 | 3 | 3
99 | 21,547 | 3.1101 | 1 | 1 | 2 | 4 | 6
100 | 6,953 | 2.1151 | 1 | 1 | 2 | 3 | 4
101 | 23,105 | 4.2502 | 1 | 2 | 3 | 5 | 8
102 | 5,237 | 2.4921 | 1 | 1 | 2 | 3 | 5
103 | 724 | 37.3798 | 8 | 12 | 23 | 48 | 79
104 | 20,929 | 14.5053 | 6 | 8 | 12 | 18 | 25
105 | 31,544 | 9.9561 | 4 | 6 | 8 | 12 | 18
106 | 3,499 | 11.2138 | 5 | 7 | 9 | 13 | 19
107 | 70,111 | 10.5005 | 5 | 7 | 9 | 12 | 17
108 | 7,947 | 10.6922 | 4 | 6 | 9 | 13 | 19
109 | 50,742 | 7.7661 | 4 | 5 | 6 | 9 | 13
110 | 57,167 | 8.3880 | 1 | 3 | 7 | 11 | 17
111 | 10,077 | 3.4273 | 1 | 1 | 3 | 5 | 7
113 | 37,263 | 12.5945 | 4 | 6 | 10 | 16 | 24
114 | 8,514 | 8.4514 | 2 | 4 | 7 | 11 | 16
115 | 22,137 | 6.8327 | 1 | 2 | 5 | 9 | 14
116 | 118,685 | 4.2655 | 1 | 1 | 3 | 6 | 9
117 | 5,151 | 4.2386 | 1 | 1 | 2 | 5 | 10
118 | 7,605 | 3.0473 | 1 | 1 | 2 | 4 | 7
119 | 993 | 5.4945 | 1 | 1 | 3 | 7 | 13
120 | 36,309 | 9.0439 | 1 | 3 | 6 | 12 | 20
121 | 159,575 | 6.2485 | 2 | 3 | 5 | 8 | 12
122 | 61,768 | 3.3855 | 1 | 2 | 3 | 4 | 6
123 | 33,656 | 4.7990 | 1 | 1 | 3 | 6 | 11
124 | 130,770 | 4.3991 | 1 | 2 | 3 | 6 | 9
125 | 95,808 | 2.7249 | 1 | 1 | 2 | 3 | 5
126 | 5,823 | 11.2705 | 3 | 6 | 9 | 14 | 21
127 | 695,800 | 5.1260 | 2 | 3 | 4 | 6 | 10
128 | 5,181 | 5.1662 | 2 | 3 | 5 | 6 | 9
129 | 3,762 | 2.5944 | 1 | 1 | 1 | 3 | 6
130 | 89,126 | 5.4275 | 1 | 3 | 5 | 7 | 10
131 | 23,839 | 3.8048 | 1 | 2 | 4 | 5 | 7
132 | 117,297 | 2.8049 | 1 | 1 | 2 | 3 | 5
133 | 7,287 | 2.1806 | 1 | 1 | 2 | 3 | 4
134 | 42,414 | 3.1069 | 1 | 2 | 2 | 4 | 6
135 | 7,439 | 4.2879 | 1 | 2 | 3 | 5 | 8
136 | 1,133 | 2.7643 | 1 | 1 | 2 | 3 | 5
138 | 207,068 | 3.9126 | 1 | 2 | 3 | 5 | 7
139 | 78,609 | 2.4367 | 1 | 1 | 2 | 3 | 5
140 | 38,178 | 2.4370 | 1 | 1 | 2 | 3 | 5
141 | 121,892 | 3.4612 | 1 | 2 | 3 | 4 | 6
142 | 52,279 | 2.4785 | 1 | 1 | 2 | 3 | 5
143 | 249,312 | 2.0936 | 1 | 1 | 2 | 3 | 4
144 | 99,715 | 5.6964 | 1 | 2 | 4 | 7 | 12
145 | 6,187 | 2.6198 | 1 | 1 | 2 | 3 | 5
146 | 10,769 | 9.8862 | 5 | 6 | 8 | 12 | 17
147 | 2,634 | 5.8193 | 3 | 4 | 6 | 7 | 9
148 | 135,681 | 12.0864 | 5 | 7 | 9 | 15 | 22
149 | 19,915 | 5.9490 | 3 | 4 | 6 | 7 | 9
150 | 22,708 | 10.8769 | 4 | 6 | 9 | 14 | 20
151 | 5,353 | 5.1362 | 1 | 2 | 5 | 7 | 10
152 | 5,007 | 8.0429 | 3 | 5 | 7 | 9 | 14
153 | 2,092 | 4.9809 | 2 | 3 | 5 | 6 | 8
154 | 28,496 | 13.0519 | 3 | 6 | 10 | 16 | 25
155 | 6,161 | 4.1344 | 1 | 2 | 3 | 6 | 8
156 | 6 | 24.1667 | 1 | 5 | 9 | 27 | 27
157 | 8,260 | 5.7196 | 1 | 2 | 4 | 7 | 12
158 | 4,106 | 2.6086 | 1 | 1 | 2 | 3 | 5
159 | 19,174 | 5.1209 | 1 | 2 | 4 | 7 | 10
160 | 11,988 | 2.6625 | 1 | 1 | 2 | 3 | 5
161 | 10,428 | 4.3945 | 1 | 2 | 3 | 6 | 9
162 | 5,497 | 2.0806 | 1 | 1 | 1 | 3 | 4
163 | 10 | 2.9000 | 1 | 1 | 2 | 3 | 6
164 | 5,945 | 7.9862 | 3 | 5 | 7 | 10 | 14
165 | 2,523 | 4.2089 | 2 | 3 | 4 | 5 | 7
166 | 4,933 | 4.5046 | 1 | 2 | 3 | 5 | 9
167 | 4,634 | 2.2169 | 1 | 1 | 2 | 3 | 4
168 | 1,544 | 4.9087 | 1 | 2 | 3 | 6 | 10
169 | 756 | 2.2844 | 1 | 1 | 2 | 3 | 5
170 | 17,471 | 10.7718 | 2 | 5 | 8 | 14 | 22
171 | 1,484 | 4.0964 | 1 | 2 | 3 | 5 | 8
172 | 32,879 | 6.8401 | 2 | 3 | 5 | 9 | 14
173 | 2,392 | 3.5920 | 1 | 1 | 3 | 5 | 7
174 | 267,905 | 4.7020 | 2 | 3 | 4 | 6 | 9
175 | 32,657 | 2.8910 | 1 | 2 | 2 | 4 | 5
176 | 14,560 | 5.1422 | 2 | 3 | 4 | 6 | 10
177 | 8,554 | 4.4329 | 2 | 2 | 4 | 5 | 8
178 | 2,909 | 3.1158 | 1 | 2 | 3 | 4 | 5
179 | 14,429 | 5.8559 | 2 | 3 | 5 | 7 | 11
180 | 92,193 | 5.3215 | 2 | 3 | 4 | 7 | 10
181 | 25,897 | 3.3265 | 1 | 2 | 3 | 4 | 6
182 | 292,198 | 4.4293 | 1 | 2 | 3 | 5 | 8
183 | 86,576 | 2.8664 | 1 | 1 | 2 | 4 | 5
184 | 78 | 3.2821 | 1 | 2 | 2 | 4 | 6
185 | 5,680 | 4.4905 | 1 | 2 | 3 | 5 | 9
186 | 4 | 2.0000 | 1 | 1 | 1 | 3 | 3
187 | 621 | 4.1723 | 1 | 2 | 3 | 5 | 8
188 | 90,968 | 5.5332 | 1 | 2 | 4 | 7 | 11
189 | 13,182 | 3.0882 | 1 | 1 | 2 | 4 | 6
190 | 69 | 4.3768 | 1 | 2 | 3 | 5 | 8
191 | 10,411 | 12.6933 | 3 | 6 | 9 | 16 | 26
192 | 1,322 | 5.6899 | 1 | 3 | 5 | 7 | 10
193 | 4,514 | 12.0549 | 5 | 7 | 10 | 15 | 22
194 | 521 | 6.6756 | 3 | 4 | 6 | 8 | 11
195 | 3,249 | 10.6190 | 4 | 6 | 9 | 13 | 19
196 | 701 | 5.7275 | 2 | 4 | 5 | 7 | 9
197 | 17,316 | 9.0988 | 3 | 5 | 7 | 11 | 17
198 | 4,645 | 4.3208 | 2 | 3 | 4 | 6 | 7
199 | 1,425 | 9.5298 | 2 | 4 | 7 | 13 | 19
200 | 936 | 9.6976 | 1 | 4 | 7 | 12 | 20
201 | 2,665 | 13.7471 | 3 | 6 | 10 | 18 | 28
202 | 27,281 | 6.1787 | 2 | 3 | 5 | 8 | 12
203 | 31,656 | 6.4850 | 2 | 3 | 5 | 8 | 13
204 | 72,845 | 5.5246 | 2 | 3 | 4 | 7 | 11
205 | 31,474 | 5.8950 | 2 | 3 | 4 | 7 | 12
206 | 2,081 | 3.8847 | 1 | 2 | 3 | 5 | 8
207 | 35,754 | 5.2393 | 1 | 2 | 4 | 7 | 10
208 | 9,758 | 2.9364 | 1 | 1 | 2 | 4 | 6
210 | 128,455 | 6.6967 | 3 | 4 | 6 | 8 | 11
211 | 26,708 | 4.6708 | 3 | 3 | 4 | 5 | 7
212 | 10 | 2.9000 | 1 | 1 | 3 | 4 | 4
213 | 10,257 | 9.1059 | 2 | 4 | 7 | 12 | 18
216 | 17,656 | 5.7608 | 1 | 1 | 3 | 8 | 14
217 | 17,622 | 12.4479 | 3 | 5 | 9 | 15 | 26
218 | 28,708 | 5.4480 | 2 | 3 | 4 | 7 | 10
219 | 21,361 | 3.1063 | 1 | 2 | 3 | 4 | 5
220 | 4 | 2.7500 | 2 | 2 | 3 | 3 | 3
223 | 13,425 | 3.2055 | 1 | 1 | 2 | 4 | 6
224 | 10,889 | 1.8875 | 1 | 1 | 1 | 2 | 3
225 | 6,514 | 5.1650 | 1 | 2 | 4 | 7 | 11
226 | 6,660 | 6.3380 | 1 | 2 | 4 | 8 | 13
227 | 5,074 | 2.6139 | 1 | 1 | 2 | 3 | 5
228 | 2,640 | 4.1258 | 1 | 1 | 3 | 5 | 9
229 | 1,201 | 2.5129 | 1 | 1 | 2 | 3 | 5
230 | 2,565 | 5.5922 | 1 | 2 | 4 | 7 | 12
232 | 729 | 2.8230 | 1 | 1 | 1 | 3 | 6
233 | 15,118 | 6.6726 | 1 | 2 | 5 | 9 | 14
234 | 7,676 | 2.7952 | 1 | 1 | 2 | 4 | 6
235 | 4,970 | 4.6463 | 1 | 2 | 4 | 6 | 9
236 | 42,408 | 4.4748 | 1 | 3 | 4 | 5 | 8
237 | 2,022 | 3.6682 | 1 | 2 | 3 | 4 | 7
238 | 9,869 | 8.2633 | 3 | 4 | 6 | 10 | 15
239 | 42,943 | 6.0632 | 2 | 3 | 5 | 7 | 11
240 | 12,653 | 6.6177 | 2 | 3 | 5 | 8 | 13
241 | 2,696 | 3.7066 | 1 | 2 | 3 | 5 | 7
242 | 2,742 | 6.5864 | 2 | 3 | 5 | 8 | 12
243 | 101,477 | 4.5166 | 1 | 2 | 4 | 6 | 8
244 | 15,792 | 4.4924 | 1 | 2 | 4 | 6 | 8
245 | 5,840 | 3.1334 | 1 | 1 | 3 | 4 | 6
246 | 1,430 | 3.5664 | 1 | 2 | 3 | 4 | 7
247 | 21,671 | 3.3172 | 1 | 2 | 3 | 4 | 6
248 | 15,118 | 4.8397 | 1 | 3 | 4 | 6 | 9
249 | 14,026 | 3.8285 | 1 | 1 | 3 | 5 | 8
250 | 4,155 | 3.8876 | 1 | 2 | 3 | 5 | 7
251 | 2,148 | 2.7514 | 1 | 1 | 3 | 3 | 5
252 | 1 | 1.0000 | 1 | 1 | 1 | 1 | 1
253 | 24,857 | 4.5324 | 2 | 3 | 4 | 5 | 8
254 | 10,420 | 3.0461 | 1 | 2 | 3 | 4 | 5
255 | 1 | 7.0000 | 7 | 7 | 7 | 7 | 7
256 | 7,152 | 5.0301 | 1 | 2 | 4 | 6 | 10
257 | 13,512 | 2.6104 | 1 | 1 | 2 | 3 | 5
258 | 12,042 | 1.7498 | 1 | 1 | 1 | 2 | 3
259 | 2,903 | 2.7689 | 1 | 1 | 1 | 3 | 7
260 | 2,991 | 1.4055 | 1 | 1 | 1 | 1 | 2
261 | 1,603 | 2.2052 | 1 | 1 | 1 | 2 | 4
262 | 636 | 4.8428 | 1 | 2 | 4 | 7 | 10
263 | 23,809 | 10.7403 | 3 | 5 | 8 | 13 | 21
264 | 3,922 | 6.2358 | 2 | 3 | 5 | 8 | 12
265 | 4,307 | 6.5677 | 1 | 2 | 4 | 8 | 14
266 | 2,304 | 3.1788 | 1 | 1 | 2 | 4 | 7
267 | 272 | 4.1838 | 1 | 1 | 3 | 5 | 10
268 | 1,004 | 3.5508 | 1 | 1 | 2 | 4 | 7
269 | 10,686 | 8.3273 | 2 | 4 | 6 | 11 | 16
270 | 2,639 | 3.8151 | 1 | 1 | 3 | 5 | 8
271 | 21,054 | 6.7875 | 2 | 3 | 5 | 8 | 12
272 | 5,942 | 5.8009 | 2 | 3 | 4 | 7 | 11
273 | 1,349 | 3.6449 | 1 | 2 | 3 | 5 | 7
274 | 2,288 | 6.2592 | 2 | 3 | 5 | 8 | 12
275 | 228 | 3.2456 | 1 | 1 | 2 | 4 | 7
276 | 1,447 | 4.4630 | 1 | 2 | 4 | 6 | 8
277 | 112,318 | 5.5013 | 2 | 3 | 5 | 7 | 10
278 | 33,865 | 4.0567 | 2 | 2 | 3 | 5 | 7
279 | 6 | 4.6667 | 1 | 3 | 5 | 6 | 6
280 | 19,272 | 4.0080 | 1 | 2 | 3 | 5 | 7
281 | 7,093 | 2.8429 | 1 | 1 | 2 | 4 | 5
283 | 6,274 | 4.5695 | 1 | 2 | 3 | 6 | 9
284 | 1,833 | 3.0295 | 1 | 1 | 2 | 4 | 6
285 | 7,623 | 10.0454 | 3 | 5 | 8 | 12 | 19
286 | 2,703 | 5.4802 | 2 | 2 | 4 | 6 | 10
287 | 6,114 | 9.8368 | 3 | 5 | 7 | 12 | 19
288 | 10,450 | 4.1090 | 2 | 2 | 3 | 4 | 7
289 | 6,894 | 2.5582 | 1 | 1 | 1 | 2 | 5
290 | 10,859 | 2.1325 | 1 | 1 | 1 | 2 | 4
291 | 64 | 2.7969 | 1 | 1 | 1 | 2 | 5
292 | 7,331 | 10.0308 | 2 | 4 | 8 | 13 | 20
293 | 368 | 4.4674 | 1 | 2 | 3 | 6 | 9
294 | 98,963 | 4.2920 | 1 | 2 | 3 | 5 | 8
295 | 4,102 | 3.6675 | 1 | 2 | 3 | 4 | 7
296 | 254,706 | 4.7202 | 1 | 2 | 4 | 6 | 9
297 | 45,347 | 3.0710 | 1 | 2 | 3 | 4 | 6
298 | 81 | 3.9383 | 1 | 1 | 2 | 4 | 7
299 | 1,478 | 5.1604 | 1 | 2 | 4 | 6 | 10
300 | 21,343 | 5.8673 | 2 | 3 | 5 | 7 | 11
301 | 3,901 | 3.4107 | 1 | 2 | 3 | 4 | 6
302 | 9,649 | 8.1898 | 4 | 5 | 6 | 9 | 14
303 | 23,760 | 7.3943 | 3 | 4 | 6 | 9 | 14
304 | 13,826 | 8.4735 | 2 | 3 | 6 | 11 | 18
305 | 3,087 | 3.2096 | 1 | 2 | 3 | 4 | 6
306 | 6,350 | 5.4737 | 1 | 2 | 3 | 8 | 12
307 | 2,066 | 2.0736 | 1 | 1 | 2 | 2 | 3
308 | 7,093 | 6.1095 | 1 | 2 | 4 | 8 | 14
309 | 3,559 | 2.0014 | 1 | 1 | 1 | 2 | 4
310 | 26,035 | 4.5265 | 1 | 2 | 3 | 6 | 10
311 | 6,480 | 1.8782 | 1 | 1 | 1 | 2 | 3
312 | 1,456 | 4.8365 | 1 | 1 | 3 | 6 | 11
313 | 508 | 2.2165 | 1 | 1 | 2 | 3 | 4
314 | 1 | 2.0000 | 2 | 2 | 2 | 2 | 2
315 | 36,565 | 6.7584 | 1 | 1 | 4 | 9 | 16
316 | 180,999 | 6.2874 | 2 | 3 | 5 | 8 | 12
317 | 2,766 | 3.4678 | 1 | 1 | 2 | 4 | 7
318 | 5,927 | 5.7441 | 1 | 2 | 4 | 7 | 11
319 | 383 | 2.7546 | 1 | 1 | 2 | 3 | 6
320 | 218,684 | 5.0953 | 2 | 3 | 4 | 6 | 9
321 | 31,401 | 3.5963 | 1 | 2 | 3 | 4 | 6
322 | 61 | 3.4918 | 2 | 2 | 3 | 4 | 6
323 | 20,482 | 3.0937 | 1 | 1 | 2 | 4 | 6
324 | 5,421 | 1.8843 | 1 | 1 | 1 | 2 | 3
325 | 9,615 | 3.6813 | 1 | 2 | 3 | 5 | 7
326 | 2,584 | 2.6207 | 1 | 1 | 2 | 3 | 5
327 | 5 | 2.6000 | 1 | 1 | 2 | 3 | 5
328 | 606 | 3.4719 | 1 | 1 | 3 | 5 | 7
329 | 72 | 1.8333 | 1 | 1 | 1 | 2 | 3
331 | 54,798 | 5.4332 | 1 | 2 | 4 | 7 | 11
332 | 4,389 | 3.1246 | 1 | 1 | 2 | 4 | 6
333 | 252 | 5.4921 | 1 | 2 | 3 | 7 | 13
334 | 9,810 | 4.3009 | 2 | 2 | 3 | 5 | 7
335 | 11,931 | 2.6866 | 1 | 2 | 3 | 3 | 4
336 | 31,264 | 3.2999 | 1 | 2 | 2 | 4 | 7
337 | 25,156 | 1.9182 | 1 | 1 | 2 | 2 | 3
338 | 652 | 6.1748 | 1 | 2 | 3 | 9 | 14
339 | 1,253 | 5.1173 | 1 | 1 | 3 | 7 | 11
340 | 2 | 5.0000 | 4 | 4 | 6 | 6 | 6
341 | 3,185 | 3.1586 | 1 | 1 | 2 | 3 | 7
342 | 565 | 3.4248 | 1 | 2 | 2 | 4 | 8
344 | 2,693 | 2.7037 | 1 | 1 | 1 | 2 | 6
345 | 1,461 | 4.8077 | 1 | 1 | 3 | 6 | 11
346 | 3,966 | 5.7307 | 1 | 3 | 4 | 7 | 11
347 | 247 | 3.0202 | 1 | 1 | 2 | 4 | 7
348 | 4,171 | 4.0897 | 1 | 2 | 3 | 5 | 8
349 | 575 | 2.3583 | 1 | 1 | 2 | 3 | 4
350 | 7,137 | 4.4541 | 2 | 2 | 4 | 5 | 8
352 | 975 | 4.0133 | 1 | 2 | 3 | 5 | 8
353 | 2,735 | 6.3192 | 2 | 3 | 4 | 7 | 12
354 | 7,612 | 5.6967 | 2 | 3 | 4 | 6 | 10
355 | 4,937 | 3.0614 | 2 | 2 | 3 | 4 | 4
356 | 23,993 | 1.9281 | 1 | 1 | 2 | 2 | 3
357 | 5,570 | 8.1269 | 3 | 4 | 6 | 10 | 15
358 | 20,798 | 3.9629 | 2 | 2 | 3 | 4 | 7
359 | 28,741 | 2.4058 | 1 | 2 | 2 | 3 | 4
360 | 14,764 | 2.5880 | 1 | 1 | 2 | 3 | 4
361 | 272 | 3.0184 | 1 | 1 | 2 | 3 | 7
362 | 2 | 1.0000 | 1 | 1 | 1 | 1 | 1
363 | 2,128 | 3.7810 | 1 | 2 | 2 | 4 | 8
364 | 1,451 | 4.1909 | 1 | 2 | 3 | 5 | 9
365 | 1,622 | 7.7404 | 2 | 3 | 5 | 9 | 17
366 | 4,789 | 6.4792 | 2 | 3 | 5 | 8 | 13
367 | 456 | 2.9934 | 1 | 1 | 2 | 4 | 6
368 | 3,924 | 6.6351 | 2 | 3 | 5 | 8 | 13
369 | 3,613 | 3.2419 | 1 | 1 | 2 | 4 | 6
370 | 1,843 | 5.1557 | 2 | 3 | 4 | 5 | 8
371 | 2,244 | 3.3944 | 2 | 3 | 3 | 4 | 5
372 | 1,164 | 3.1847 | 2 | 2 | 2 | 3 | 5
373 | 4,871 | 2.2373 | 1 | 2 | 2 | 3 | 3
374 | 156 | 2.7436 | 2 | 2 | 2 | 3 | 4
375 | 6 | 4.0000 | 1 | 2 | 2 | 6 | 6
376 | 388 | 3.3711 | 1 | 2 | 2 | 4 | 6
377 | 77 | 4.4805 | 1 | 1 | 3 | 4 | 8
378 | 196 | 2.3163 | 1 | 1 | 2 | 3 | 4
379 | 508 | 2.8130 | 1 | 1 | 2 | 3 | 6
380 | 91 | 2.1099 | 1 | 1 | 1 | 2 | 4
381 | 212 | 2.2642 | 1 | 1 | 1 | 2 | 4
382 | 43 | 1.4419 | 1 | 1 | 1 | 2 | 2
383 | 2,473 | 3.6526 | 1 | 1 | 2 | 4 | 7
384 | 132 | 2.5606 | 1 | 1 | 1 | 3 | 5
385 | 1 | 1.0000 | 1 | 1 | 1 | 1 | 1
389 | 1 | 21.0000 | 21 | 21 | 21 | 21 | 21
390 | 1 | 1.0000 | 1 | 1 | 1 | 1 | 1
392 | 2,203 | 9.1770 | 2 | 4 | 6 | 11 | 19
393 | 1 | 4.0000 | 4 | 4 | 4 | 4 | 4
394 | 2,820 | 7.3553 | 1 | 2 | 5 | 9 | 16
395 | 116,129 | 4.2575 | 1 | 2 | 3 | 5 | 8
396 | 9 | 4.4444 | 1 | 1 | 2 | 3 | 6
397 | 18,482 | 5.1407 | 1 | 2 | 4 | 6 | 10
398 | 18,288 | 5.7016 | 2 | 3 | 4 | 7 | 11
399 | 1,640 | 3.3250 | 1 | 2 | 3 | 4 | 6
401 | 6,328 | 11.0390 | 2 | 5 | 9 | 14 | 22
402 | 1,401 | 4.0293 | 1 | 1 | 3 | 5 | 9
403 | 31,865 | 7.9367 | 2 | 3 | 6 | 10 | 16
404 | 3,802 | 4.1528 | 1 | 2 | 3 | 5 | 8
406 | 2,224 | 9.9150 | 2 | 4 | 7 | 12 | 21
407 | 584 | 3.8253 | 1 | 2 | 3 | 5 | 7
408 | 2,170 | 8.1949 | 1 | 2 | 5 | 10 | 19
409 | 1,808 | 5.7954 | 1 | 3 | 4 | 6 | 12
410 | 28,417 | 3.8214 | 1 | 2 | 3 | 5 | 6
411 | 12 | 3.2500 | 1 | 2 | 2 | 4 | 4
412 | 12 | 2.7500 | 1 | 1 | 1 | 3 | 4
413 | 5,198 | 6.7563 | 2 | 3 | 5 | 9 | 13
414 | 573 | 4.0244 | 1 | 2 | 3 | 5 | 8
415 | 50,826 | 14.0037 | 4 | 6 | 11 | 18 | 28
416 | 239,006 | 7.3769 | 2 | 3 | 6 | 9 | 14
417 | 23 | 5.2174 | 1 | 2 | 3 | 5 | 10
418 | 28,508 | 6.1657 | 2 | 3 | 5 | 8 | 12
419 | 16,282 | 4.3857 | 1 | 2 | 3 | 5 | 8
420 | 2,941 | 3.3747 | 1 | 2 | 3 | 4 | 6
421 | 11,882 | 4.0613 | 1 | 2 | 3 | 5 | 7
422 | 52 | 3.7115 | 1 | 1 | 2 | 4 | 7
423 | 8,637 | 8.2173 | 2 | 3 | 6 | 10 | 17
424 | 1,071 | 11.7274 | 2 | 4 | 8 | 14 | 22
425 | 14,779 | 3.4569 | 1 | 1 | 3 | 4 | 7
426 | 4,313 | 4.1203 | 1 | 2 | 3 | 5 | 8
427 | 1,505 | 4.7375 | 1 | 2 | 3 | 5 | 9
428 | 773 | 7.2549 | 1 | 2 | 5 | 8 | 15
429 | 25,479 | 5.4228 | 2 | 3 | 4 | 6 | 10
430 | 71,439 | 7.6737 | 2 | 3 | 6 | 9 | 15
431 | 304 | 5.8947 | 1 | 2 | 4 | 7 | 12
432 | 420 | 4.2548 | 1 | 2 | 3 | 5 | 8
433 | 5,191 | 2.9626 | 1 | 1 | 2 | 3 | 6
439 | 1,739 | 8.7993 | 1 | 3 | 5 | 10 | 19
440 | 5,613 | 8.7825 | 2 | 3 | 6 | 10 | 18
441 | 779 | 3.3813 | 1 | 1 | 2 | 4 | 7
442 | 18,017 | 8.6810 | 2 | 3 | 6 | 11 | 18
443 | 3,384 | 3.3992 | 1 | 1 | 3 | 4 | 7
444 | 5,892 | 4.0324 | 1 | 2 | 3 | 5 | 8
445 | 2,346 | 2.8372 | 1 | 1 | 2 | 4 | 5
447 | 6,264 | 2.5686 | 1 | 1 | 2 | 3 | 5
448 | 1 | 2.0000 | 2 | 2 | 2 | 2 | 2
449 | 38,802 | 3.6742 | 1 | 1 | 3 | 4 | 7
450 | 7,805 | 1.9867 | 1 | 1 | 1 | 2 | 4
451 | 3 | 1.6667 | 1 | 1 | 1 | 3 | 3
452 | 27,634 | 4.8762 | 1 | 2 | 3 | 6 | 10
453 | 5,437 | 2.7993 | 1 | 1 | 2 | 3 | 5
454 | 3,837 | 4.1058 | 1 | 2 | 3 | 5 | 8
455 | 846 | 2.2222 | 1 | 1 | 2 | 3 | 4
461 | 2,722 | 5.1267 | 1 | 1 | 3 | 6 | 12
462 | 7,761 | 10.1584 | 4 | 6 | 8 | 13 | 18
463 | 31,045 | 3.8939 | 1 | 2 | 3 | 5 | 7
464 | 7,661 | 2.9141 | 1 | 1 | 2 | 4 | 5
465 | 219 | 3.6347 | 1 | 1 | 2 | 4 | 7
466 | 1,377 | 4.7117 | 1 | 1 | 2 | 5 | 9
467 | 1,015 | 2.6788 | 1 | 1 | 2 | 3 | 5
468 | 50,458 | 12.8082 | 3 | 6 | 10 | 16 | 25
471 | 15,614 | 5.0496 | 3 | 3 | 4 | 5 | 8
473 | 8,778 | 12.4026 | 2 | 3 | 7 | 18 | 32
475 | 116,534 | 11.0157 | 2 | 5 | 9 | 14 | 21
476 | 3,025 | 10.4998 | 2 | 4 | 9 | 14 | 21
477 | 29,425 | 8.5246 | 1 | 3 | 6 | 11 | 18
478 | 113,660 | 7.1046 | 1 | 2 | 5 | 9 | 15
479 | 24,603 | 2.7884 | 1 | 1 | 2 | 4 | 6
480 | 802 | 17.9102 | 7 | 9 | 13 | 22 | 36
481 | 1,066 | 21.8208 | 10 | 16 | 20 | 25 | 35
482 | 5,076 | 11.4967 | 4 | 6 | 9 | 14 | 21
484 | 449 | 12.7506 | 2 | 6 | 10 | 17 | 25
485 | 3,420 | 9.6038 | 4 | 5 | 7 | 11 | 18
486 | 2,562 | 12.3478 | 2 | 6 | 10 | 16 | 25
487 | 4,644 | 7.0540 | 1 | 3 | 5 | 9 | 14
488 | 786 | 16.3422 | 4 | 7 | 13 | 22 | 35
489 | 13,461 | 8.3538 | 2 | 3 | 6 | 10 | 17
490 | 5,204 | 5.3918 | 1 | 2 | 4 | 7 | 11
491 | 19,789 | 3.1423 | 1 | 2 | 3 | 3 | 5
492 | 4,012 | 13.6269 | 3 | 5 | 6 | 23 | 31
493 | 61,628 | 6.0515 | 1 | 3 | 5 | 8 | 12
494 | 25,626 | 2.6772 | 1 | 1 | 2 | 4 | 5
495 | 304 | 17.3092 | 8 | 9 | 13 | 19 | 31
496 | 3,261 | 8.9877 | 3 | 4 | 6 | 11 | 18
497 | 27,838 | 5.8368 | 3 | 3 | 5 | 7 | 10
498 | 19,057 | 3.7703 | 2 | 3 | 3 | 5 | 6
499 | 35,676 | 4.3236 | 1 | 2 | 3 | 5 | 9
500 | 48,323 | 2.2420 | 1 | 1 | 2 | 3 | 4
501 | 3,122 | 9.9308 | 4 | 5 | 8 | 13 | 18
502 | 717 | 5.6987 | 2 | 3 | 5 | 7 | 9
503 | 5,909 | 3.8284 | 1 | 2 | 3 | 5 | 7
504 | 187 | 27.1818 | 8 | 16 | 23 | 36 | 49
505 | 179 | 4.6704 | 1 | 1 | 1 | 6 | 11
506 | 1,004 | 15.9273 | 3 | 7 | 13 | 21 | 33
507 | 307 | 8.4919 | 1 | 3 | 7 | 11 | 18
508 | 641 | 7.2044 | 1 | 3 | 5 | 9 | 15
509 | 168 | 5.1607 | 1 | 2 | 3 | 6 | 11
510 | 1,755 | 6.4160 | 1 | 2 | 4 | 8 | 14
511 | 635 | 4.0787 | 1 | 1 | 2 | 5 | 8
512 | 513 | 12.7719 | 7 | 8 | 10 | 14 | 23
513 | 227 | 9.9824 | 5 | 7 | 8 | 12 | 16
515 | 44,478 | 4.3401 | 1 | 1 | 2 | 6 | 10
517 | 66,287 | 2.5801 | 1 | 1 | 1 | 3 | 6
518 | 42,044 | 3.4580 | 1 | 1 | 2 | 4 | 8
519 | 11,506 | 4.8233 | 1 | 1 | 3 | 6 | 11
520 | 15,266 | 2.0074 | 1 | 1 | 1 | 2 | 4
521 | 32,148 | 5.4742 | 2 | 3 | 4 | 7 | 11
522 | 5,646 | 9.3666 | 3 | 4 | 7 | 12 | 19
523 | 15,866 | 3.8769 | 1 | 2 | 3 | 5 | 7
524 | 118,949 | 3.1907 | 1 | 2 | 3 | 4 | 6
525 | 313 | 13.4952 | 1 | 3 | 8 | 16 | 32
527 | 192,230 | 2.2326 | 1 | 1 | 1 | 2 | 5
528 | 1,770 | 17.1090 | 6 | 10 | 15 | 22 | 30
529 | 4,032 | 7.9923 | 1 | 2 | 5 | 10 | 18
530 | 2,363 | 3.1240 | 1 | 1 | 2 | 4 | 6
531 | 4,799 | 9.4049 | 2 | 4 | 7 | 12 | 20
532 | 2,622 | 3.7227 | 1 | 1 | 3 | 5 | 8
533 | 47,609 | 3.7364 | 1 | 1 | 2 | 4 | 9
534 | 45,285 | 1.7909 | 1 | 1 | 1 | 2 | 3
535 | 7,387 | 10.3013 | 3 | 5 | 8 | 13 | 20
536 | 8,055 | 7.6500 | 2 | 4 | 6 | 9 | 14
537 | 8,641 | 6.7775 | 1 | 3 | 5 | 8 | 14
538 | 5,604 | 2.8164 | 1 | 1 | 2 | 4 | 6
539 | 5,020 | 10.7639 | 2 | 4 | 7 | 14 | 23
540 | 1,510 | 3.5808 | 1 | 1 | 3 | 4 | 7
541 | 22,435 | 42.7921 | 17 | 24 | 35 | 52 | 76
542 | 24,376 | 32.5434 | 12 | 18 | 27 | 40 | 58
543 | 5,415 | 11.9830 | 2 | 5 | 10 | 16 | 24
544 | 418,885 | 4.5100 | 3 | 3 | 4 | 5 | 7
545 | 42,337 | 5.1387 | 3 | 3 | 4 | 6 | 8
546 | 1,958 | 9.1062 | 3 | 5 | 7 | 11 | 18
547 | 26,797 | 5.5682 | 2 | 3 | 4 | 7 | 10
548 | 11,935 | 3.0404 | 1 | 2 | 3 | 4 | 5
549 | 35,690 | 5.2044 | 2 | 3 | 4 | 6 | 10
550 | 20,187 | 2.8595 | 1 | 2 | 3 | 4 | 5
| 12,140,152

Table 8A.—Statewide Average Operating Cost-to-Charge Ratios—March 2005
State | Urban | Rural
Alabama | 0.279 | 0.348
Alaska | 0.454 | 0.784
Arizona | 0.295 | 0.392
Arkansas | 0.359 | 0.383
California | 0.251 | 0.354
Colorado | 0.328 | 0.483
Connecticut | 0.458 | 0.522
Delaware | 0.546 | 0.548
District of Columbia | 0.386 |
Florida | 0.257 | 0.304
Georgia | 0.373 | 0.426
Hawaii | 0.404 | 0.479
Idaho | 0.487 | 0.577
Illinois | 0.337 | 0.442
Indiana | 0.439 | 0.47
Iowa | 0.407 | 0.505
Kansas | 0.313 | 0.471
Kentucky | 0.401 | 0.404
Louisiana | 0.306 | 0.369
Maine | 0.504 | 0.489
Maryland | 0.762 | 0.827
Massachusetts | 0.485 |
Michigan | 0.396 | 0.496
Minnesota | 0.404 | 0.531
Mississippi | 0.354 | 0.391
Missouri | 0.346 | 0.408
Montana | 0.437 | 0.481
Nebraska | 0.371 | 0.503
Nevada | 0.245 | 0.558
New Hampshire | 0.467 | 0.508
New Jersey | 0.196 |
New Mexico | 0.428 | 0.414
New York | 0.372 | 0.526
North Carolina | 0.454 | 0.439
North Dakota | 0.418 | 0.467
Ohio | 0.389 | 0.543
Oklahoma | 0.332 | 0.423
Oregon | 0.499 | 0.481
Pennsylvania | 0.299 | 0.472
Puerto Rico | 0.443 |
Rhode Island | 0.439 |
South Carolina | 0.313 | 0.34
South Dakota | 0.385 | 0.498
Tennessee | 0.337 | 0.402
Texas | 0.309 | 0.38
Utah | 0.428 | 0.598
Vermont | 0.577 | 0.635
Virginia | 0.386 | 0.398
Washington | 0.454 | 0.497
West Virginia | 0.492 | 0.472
Wisconsin | 0.458 | 0.497
Wyoming | 0.442 | 0.614

Table 8B.—Statewide Average Capital Cost-to-Charge Ratios—March 2005
State | Ratio
Alabama | 0.027
Alaska | 0.044
Arizona | 0.029
Arkansas | 0.03
California | 0.019
Colorado | 0.03
Connecticut | 0.035
Delaware | 0.047
District of Columbia | 0.029
Florida | 0.026
Georgia | 0.035
Hawaii | 0.034
Idaho | 0.041
Illinois | 0.03
Indiana | 0.041
Iowa | 0.033
Kansas | 0.033
Kentucky | 0.033
Louisiana | 0.032
Maine | 0.036
Maryland | 0.016
Massachusetts | 0.036
Michigan | 0.037
Minnesota | 0.034
Mississippi | 0.032
Missouri | 0.029
Montana | 0.039
Nebraska | 0.039
Nevada | 0.019
New Hampshire | 0.037
New Jersey | 0.015
New Mexico | 0.036
New York | 0.033
North Carolina | 0.039
North Dakota | 0.041
Ohio | 0.032
Oklahoma | 0.031
Oregon | 0.038
Pennsylvania | 0.026
Puerto Rico | 0.033
Rhode Island | 0.022
South Carolina | 0.03
South Dakota | 0.04
Tennessee | 0.034
Texas | 0.03
Utah | 0.039
Vermont | 0.045
Virginia | 0.039
Washington | 0.037
West Virginia | 0.033
Wisconsin | 0.038
Wyoming | 0.046

Table 9A.—Hospitals Reclassifications and Redesignations by Individual Hospitals and CBSA—FY 2006
Provider number | Geographic CBSA | Reclassified CBSA | Lugar
010005 | 01 | 13820 |
010008 | 01 | 33860 |
010012 | 01 | 16860 |
010022 | 01 | 40660 | LUGAR
010025 | 01 | 17980 |
010029 | 12220 | 17980 |
010035 | 01 | 13820 |
010044 | 01 | 13820 |
010045 | 01 | 13820 |
010065 | 01 | 33860 |
010072 | 01 | 11500 | LUGAR
010083 | 01 | 37860 |
010100 | 01 | 37860 |
010101 | 01 | 11500 | LUGAR
010118 | 01 | 33860 |
010120 | 01 | 33660 |
010126 | 01 | 33860 |
010143 | 01 | 13820 |
010158 | 01 | 19460 |
030013 | 49740 | 20940 |
030033 | 03 | 22380 |
040014 | 04 | 30780 |
040017 | 04 | 44180 |
040019 | 04 | 32820 |
040020 | 27860 | 32820 |
040027 | 04 | 44180 |
040039 | 04 | 27860 |
040041 | 04 | 30780 |
040047 | 04 | 27860 |
040069 | 04 | 32820 |
040071 | 38220 | 30780 |
040072 | 04 | 30780 |
040076 | 04 | 30780 |
040078 | 26300 | 30780 |
040080 | 04 | 27860 |
040088 | 04 | 43340 |
040091 | 04 | 45500 |
040100 | 04 | 30780 |
040119 | 04 | 30780 |
050006 | 05 | 39820 |
050009 | 34900 | 46700 |
050013 | 34900 | 46700 |
050014 | 05 | 40900 |
050022 | 40140 | 42044 |
050042 | 05 | 39820 |
050046 | 37100 | 31084 |
050054 | 40140 | 42044 |
050065 | 42044 | 31084 |
050069 | 42044 | 31084 |
050071 | 41940 | 36084 |
050073 | 46700 | 36084 |
050076 | 41884 | 36084 |
050082 | 37100 | 31084 |
050089 | 40140 | 31084 |
050090 | 42220 | 41884 |
050099 | 40140 | 31084 |
050102 | 40140 | 42044 |
050118 | 44700 | 33700 |
050129 | 40140 | 31084 |
050136 | 42220 | 41884 |
050140 | 40140 | 31084 |
050150 | 05 | 40900 |
050159 | 37100 | 31084 |
050168 | 42044 | 31084 |
050173 | 42044 | 31084 |
050174 | 42220 | 41884 |
050177 | 37100 | 31084 |
050193 | 42044 | 31084 |
050224 | 42044 | 31084 |
050226 | 42044 | 31084 |
050228 | 41884 | 36084 |
050230 | 42044 | 31084 |
050236 | 37100 | 31084 |
050243 | 40140 | 42044 |
050245 | 40140 | 31084 |
050251 | 05 | 39900 |
050272 | 40140 | 31084 |
050279 | 40140 | 31084 |
050291 | 42220 | 41884 |
050292 | 40140 | 42044 |
050298 | 40140 | 31084 |
050300 | 40140 | 31084 |
050327 | 40140 | 31084 |
050329 | 40140 | 42044 |
050331 | 42220 | 41884 |
050348 | 42044 | 31084 |
050385 | 42220 | 41884 |
050390 | 40140 | 42044 |
050394 | 37100 | 31084 |
050419 | 05 | 39820 |
050423 | 40140 | 42044 |
050426 | 42044 | 31084 |
050430 | 05 | 39900 |
050510 | 41884 | 36084 |
050517 | 40140 | 31084 |
050526 | 42044 | 31084 |
050534 | 40140 | 42044 |
050535 | 42044 | 31084 |
050541 | 41884 | 36084 |
050543 | 42044 | 31084 |
050547 | 42220 | 41884 |
050548 | 42044 | 31084 |
050550 | 42044 | 31084 |
050551 | 42044 | 31084 |
050567 | 42044 | 31084 |
050569 | 05 | 42220 |
050570 | 42044 | 31084 |
050573 | 40140 | 42044 |
050580 | 42044 | 31084 |
050584 | 40140 | 31084 |
050585 | 42044 | 31084 |
050586 | 40140 | 31084 |
050589 | 42044 | 31084 |
050592 | 42044 | 31084 |
050594 | 42044 | 31084 |
050603 | 42044 | 31084 |
050609 | 42044 | 31084 |
050616 | 37100 | 31084 |
050667 | 34900 | 46700 |
050668 | 41884 | 36084 |
050678 | 42044 | 31084 |
050684 | 40140 | 42044 |
050686 | 40140 | 42044 |
050690 | 42220 | 41884 |
050693 | 42044 | 31084 |
050694 | 40140 | 42044 |
050701 | 40140 | 42044 |
050709 | 40140 | 31084 |
050718 | 40140 | 42044 |
050720 | 42044 | 31084 |
050728 | 42220 | 41884 |
060001 | 24540 | 19740 |
060003 | 14500 | 19740 |
060023 | 24300 | 39340 |
060027 | 14500 | 19740 |
060044 | 06 | 19740 |
060049 | 06 | 22660 |
060096 | 06 | 19740 |
060103 | 14500 | 19740 |
070003 | 07 | 25540 | LUGAR
070021 | 07 | 25540 | LUGAR
070033 | 14860 | 35644 |
080004 | 20100 | 48864 |
080007 | 08 | 36140 |
100022 | 33124 | 22744 |
100023 | 10 | 36740 |
100024 | 10 | 33124 |
100045 | 19660 | 36740 |
100049 | 10 | 29460 |
100081 | 10 | 23020 | LUGAR
100109 | 10 | 36740 |
100118 | 10 | 27260 |
100139 | 10 | 23540 | LUGAR
100150 | 10 | 33124 |
100157 | 29460 | 45300 |
100176 | 48424 | 38940 |
100217 | 46940 | 38940 |
100232 | 10 | 27260 |
100239 | 45300 | 42260 |
100249 | 10 | 36100 |
100252 | 10 | 38940 |
100292 | 10 | 23020 | LUGAR
110001 | 19140 | 12060 |
110002 | 11 | 12060 |
110003 | 11 | 27260 |
110023 | 11 | 12060 |
110025 | 15260 | 27260 |
110029 | 23580 | 12060 |
110038 | 11 | 45220 |
110040 | 11 | 12060 | LUGAR
110041 | 11 | 12020 |
110052 | 11 | 16860 | LUGAR
110054 | 40660 | 12060 |
110069 | 47580 | 31420 |
110075 | 11 | 42340 |
110088 | 11 | 12060 | LUGAR
110095 | 11 | 46660 |
110117 | 11 | 12060 | LUGAR
110122 | 46660 | 45220 |
110125 | 11 | 31420 |
110128 | 11 | 42340 |
110150 | 11 | 31420 |
110153 | 47580 | 31420 |
110168 | 40660 | 12060 |
110187 | 11 | 12060 | LUGAR
110189 | 11 | 12060 |
110205 | 11 | 12060 |
120028 | 12 | 26180 |
130002 | 13 | 14260 |
130003 | 30300 | 50 |
130049 | 17660 | 44060 |
140012 | 14 | 16974 |
140015 | 14 | 41180 |
140032 | 14 | 41180 |
140034 | 14 | 41180 |
140040 | 14 | 37900 |
140043 | 14 | 40420 |
140046 | 14 | 41180 |
140058 | 14 | 41180 |
140061 | 14 | 41180 |
140064 | 14 | 37900 |
140110 | 14 | 16974 |
140143 | 14 | 37900 |
140160 | 14 | 40420 |
140161 | 14 | 16974 |
140164 | 14 | 41180 |
140189 | 14 | 16580 |
140233 | 40420 | 16974 |
140234 | 14 | 37900 |
140236 | 14 | 28100 | LUGAR
140291 | 29404 | 16974 |
150002 | 23844 | 16974 |
150004 | 23844 | 16974 |
150006 | 33140 | 43780 |
150008 | 23844 | 16974 |
150011 | 15 | 26900 |
150015 | 33140 | 16974 |
150030 | 15 | 26900 | LUGAR
150048 | 15 | 17140 |
150065 | 15 | 26900 |
150069 | 15 | 17140 |
150076 | 15 | 43780 |
150088 | 11300 | 26900 |
150090 | 23844 | 16974 |
150102 | 15 | 23844 | LUGAR
150112 | 18020 | 26900 |
150113 | 11300 | 26900 |
150125 | 23844 | 16974 |
150126 | 23844 | 16974 |
150132 | 23844 | 16974 |
150133 | 15 | 23060 |
150146 | 15 | 23060 |
150147 | 23844 | 16974 |
160001 | 16 | 11180 |
160016 | 16 | 19780 |
160026 | 16 | 11180 | LUGAR
160057 | 16 | 26980 |
160080 | 16 | 40420 |
160089 | 16 | 19780 |
160147 | 16 | 11180 |
170006 | 17 | 27900 |
170010 | 17 | 46140 |
170012 | 17 | 48620 |
170013 | 17 | 48620 |
170020 | 17 | 48620 |
170022 | 17 | 28140 |
170023 | 17 | 48620 |
170033 | 17 | 48620 |
170058 | 17 | 28140 |
170068 | 17 | 11100 |
170120 | 17 | 27900 |
170142 | 17 | 45820 |
170175 | 17 | 48620 |
180005 | 18 | 26580 |
180011 | 18 | 30460 |
180012 | 21060 | 31140 |
180013 | 14540 | 34980 |
180017 | 18 | 21060 |
180018 | 18 | 30460 |
180019 | 18 | 17140 |
180024 | 18 | 31140 |
180027 | 18 | 17300 |
180028 | 18 | 26580 |
180029 | 18 | 28700 |
180044 | 18 | 26580 |
180048 | 18 | 31140 |
180066 | 18 | 34980 |
180069 | 18 | 26580 |
180075 | 18 | 14540 | LUGAR
180078 | 18 | 26580 |
180080 | 18 | 28940 |
180093 | 18 | 21780 |
180102 | 18 | 17300 |
180104 | 18 | 17300 |
180116 | 18 | 14 |
180124 | 14540 | 34980 |
180127 | 18 | 31140 |
180132 | 18 | 30460 |
180139 | 18 | 30460 |
190001 | 19 | 35380 |
190003 | 19 | 29180 |
190015 | 19 | 35380 |
190086 | 19 | 43340 |
190099 | 19 | 12940 |
190106 | 19 | 10780 |
190131 | 12940 | 35380 |
190155 | 19 | 12940 | LUGAR
190164 | 19 | 10780 |
190191 | 19 | 12940 |
190223 | 19 | 12940 | LUGAR
200002 | 20 | 38860 |
200020 | 38860 | 40484 |
200024 | 30340 | 38860 |
200034 | 30340 | 38860 |
200039 | 20 | 38860 |
200050 | 20 | 12620 |
200063 | 20 | 38860 |
220001 | 49340 | 14484 |
220002 | 15764 | 14484 |
220003 | 49340 | 14484 |
220010 | 21604 | 14484 |
220011 | 15764 | 14484 |
220019 | 49340 | 14484 |
220025 | 49340 | 14484 |
220028 | 49340 | 14484 |
220029 | 21604 | 14484 |
220033 | 21604 | 14484 |
220035 | 21604 | 14484 |
220049 | 15764 | 14484 |
220058 | 49340 | 14484 |
220060 | 14484 | 12700 |
220062 | 49340 | 14484 |
220063 | 15764 | 14484 |
220070 | 15764 | 14484 |
220077 | 44140 | 25540 |
220080 | 21604 | 14484 |
220082 | 15764 | 14484 |
220084 | 15764 | 14484 |
220089 | 15764 | 14484 |
220090 | 49340 | 14484 |
220095 | 49340 | 14484 |
220098 | 15764 | 14484 |
220101 | 15764 | 14484 |
220105 | 15764 | 14484 |
220133 | 15764 | 14484 |
220163 | 49340 | 14484 |
220171 | 15764 | 14484 |
220174 | 21604 | 14484 |
230022 | 23 | 11460 |
230030 | 23 | 40980 |
230035 | 23 | 24340 | LUGAR
230037 | 23 | 11460 |
230042 | 23 | 26100 | LUGAR
230047 | 47644 | 19804 |
230054 | 23 | 24580 |
230069 | 47644 | 22420 |
230077 | 40980 | 22420 |
230080 | 23 | 40980 |
230093 | 23 | 24340 |
230096 | 23 | 28020 |
230099 | 33780 | 11460 |
230105 | 23 | 13020 |
230121 | 23 | 29620 | LUGAR
230134 | 23 | 26100 | LUGAR
230195 | 47644 | 19804 |
230204 | 47644 | 19804 |
230208 | 23 | 24340 | LUGAR
230217 | 12980 | 29620 |
230227 | 47644 | 19804 |
230235 | 23 | 40980 | LUGAR
230257 | 47644 | 19804 |
230264 | 47644 | 19804 |
230279 | 47644 | 22420 |
230295 | 23 | 26100 | LUGAR
240013 | 24 | 33460 |
240018 | 24 | 33460 |
240030 | 24 | 41060 |
240031 | 41060 | 33460 |
240036 | 41060 | 33460 |
240052 | 24 | 22020 |
240064 | 24 | 20260 |
240069 | 24 | 40340 |
240071 | 24 | 40340 |
240075 | 24 | 41060 |
240088 | 24 | 41060 |
240093 | 24 | 33460 |
240105 | 24 | 40340 | LUGAR
240150 | 24 | 40340 | LUGAR
240152 | 24 | 33460 |
240187 | 24 | 33460 |
240211 | 24 | 33460 |
250004 | 25 | 32820 |
250006 | 25 | 32820 |
250009 | 25 | 27180 |
250023 | 25 | 25060 | LUGAR
250031 | 25 | 27140 |
250034 | 25 | 32820 |
250040 | 37700 | 25060 |
250042 | 25 | 32820 |
250069 | 25 | 46220 |
250079 | 25 | 27140 |
250081 | 25 | 27140 |
250082 | 25 | 38220 |
250094 | 25620 | 25060 |
250097 | 25 | 12940 |
250099 | 25 | 27140 |
250100 | 25 | 46220 |
250104 | 25 | 27140 |
250117 | 25 | 25060 | LUGAR
260009 | 26 | 28140 |
260011 | 27620 | 17860 |
260017 | 26 | 41180 |
260022 | 26 | 16 |
260025 | 26 | 41180 |
260047 | 27620 | 17860 |
260049 | 26 | 44180 | LUGAR
260064 | 26 | 17860 |
260074 | 126 | 17860 |
260094 | 26 | 44180 |
260110 | 26 | 41180 |
260113 | 26 | 14 |
260116 | 26 | 14 |
260183 | 26 | 41180 |
260186 | 26 | 17860 |
270003 | 27 | 24500 |
270011 | 27 | 24500 |
270017 | 27 | 33540 |
270051 | 27 | 33540 |
280009 | 28 | 30700 |
280023 | 28 | 30700 |
280032 | 28 | 30700 |
280057 | 28 | 30700 |
280061 | 28 | 53 |
280065 | 28 | 24540 |
280077 | 28 | 36540 |
290002 | 29 | 16180 | LUGAR
290006 | 29 | 39900 |
290008 | 29 | 29820 |
290019 | 16180 | 39900 |
300003 | 30 | 31700 |
300005 | 30 | 31700 |
300007 | 31700 | 15764 |
300011 | 31700 | 15764 |
300012 | 31700 | 15764 |
300014 | 40484 | 31700 |
300017 | 40484 | 21604 |
300018 | 40484 | 31700 |
300019 | 30 | 15764 |
300020 | 31700 | 15764 |
300023 | 40484 | 21604 |
300029 | 40484 | 21604 |
300034 | 31700 | 15764 |
310002 | 35084 | 35644 |
310009 | 35084 | 35644 |
310013 | 35084 | 35644 |
310015 | 35084 | 35644 |
310018 | 35084 | 35644 |
310031 | 15804 | 20764 |
310032 | 47220 | 48864 |
310038 | 20764 | 35644 |
310048 | 20764 | 35084 |
310054 | 35084 | 35644 |
310070 | 20764 | 35644 |
310076 | 35084 | 35644 |
310078 | 35084 | 35644 |
310083 | 35084 | 35644 |
310093 | 35084 | 35644 |
310096 | 35084 | 35644 |
310119 | 35084 | 35644 |
320005 | 22140 | 10740 |
320006 | 32 | 42140 |
320013 | 32 | 42140 |
320014 | 32 | 29740 |
320033 | 32 | 42140 | LUGAR
320063 | 32 | 36220 |
320065 | 32 | 36220 |
330001 | 39100 | 35644 |
330004 | 28740 | 39100 |
330008 | 33 | 15380 | LUGAR
330027 | 35004 | 35644 |
330038 | 33 | 40380 | LUGAR
330062 | 33 | 27060 | LUGAR
330073 | 33 | 40380 | LUGAR
330085 | 33 | 45060 |
330094 | 33 | 28740 |
330136 | 33 | 45060 |
330157 | 33 | 45060 |
330181 | 35004 | 35644 |
330182 | 35004 | 35644 |
330191 | 24020 | 10580 |
330229 | 27460 | 21500 |
330235 | 33 | 45060 | LUGAR
330239 | 27460 | 21500 |
330250 | 33 | 15540 |
330277 | 33 | 27060 |
330359 | 33 | 39100 | LUGAR
330386 | 33 | 39100 | LUGAR
340004 | 24660 | 49180 |
340008 | 34 | 16740 |
340010 | 24140 | 39580 |
340013 | 34 | 16740 |
340018 | 34 | 43900 | LUGAR
340021 | 34 | 16740 |
340023 | 11700 | 24860 |
340027 | 34 | 24780 |
340039 | 34 | 16740 |
340050 | 34 | 22180 |
340051 | 34 | 25860 |
340068 | 34 | 48900 |
340069 | 39580 | 20500 |
340071 | 34 | 39580 | LUGAR
340073 | 39580 | 20500 |
340091 | 24660 | 49180 |
340109 | 34 | 47260 |
340114 | 39580 | 20500 |
340115 | 34 | 20500 |
340124 | 34 | 39580 | LUGAR
340127 | 34 | 20500 | LUGAR
340129 | 34 | 16740 |
340131 | 34 | 24780 |
340136 | 34 | 20500 | LUGAR
340138 | 39580 | 20500 |
340144 | 34 | 16740 |
340145 | 34 | 16740 | LUGAR
340147 | 40580 | 39580 |
340173 | 39580 | 20500 |
350009 | 35 | 22020 |
360008 | 36 | 26580 |
360010 | 36 | 10420 |
360011 | 36 | 18140 |
360013 | 36 | 30620 |
360014 | 36 | 18140 |
360019 | 10420 | 17460 |
360020 | 10420 | 17460 |
360025 | 41780 | 17460 |
360027 | 10420 | 17460 |
360036 | 36 | 17460 |
360039 | 36 | 18140 |
360054 | 36 | 16620 |
360065 | 36 | 17460 |
360078 | 10420 | 17460 |
360079 | 19380 | 17140 |
360086 | 44220 | 19380 |
360096 | 36 | 49660 | LUGAR
360107 | 36 | 17460 |
360112 | 45780 | 11460 |
360125 | 36 | 17460 | LUGAR
360150 | 10420 | 17460 |
360159 | 36 | 18140 |
360175 | 36 | 18140 |
360185 | 36 | 49660 | LUGAR
360187 | 44220 | 19380 |
360197 | 36 | 18140 |
360211 | 48260 | 38300 |
360238 | 36 | 49660 | LUGAR
360241 | 10420 | 17460 |
360245 | 36 | 17460 | LUGAR
370004 | 37 | 27900 |
370014 | 37 | 43300 |
370015 | 37 | 46140 |
370018 | 37 | 46140 |
370022 | 37 | 30020 |
370025 | 37 | 46140 |
370034 | 37 | 22900 |
370047 | 37 | 43300 |
370049 | 37 | 36420 |
370099 | 37 | 46140 |
370103 | 37 | 45 |
370113 | 37 | 22220 |
370179 | 37 | 46140 |
380001 | 38 | 38900 |
380008 | 38 | 18700 | LUGAR
380022 | 38 | 18700 | LUGAR
380027 | 38 | 21660 |
380047 | 13460 | 21660 |
380050 | 38 | 32780 |
380070 | 38 | 38900 |
390006 | 39 | 25420 |
390013 | 39 | 25420 |
390016 | 39 | 49660 |
390030 | 39 | 10900 |
390031 | 39 | 39740 | LUGAR
390048 | 39 | 25420 |
390052 | 39 | 11020 |
390065 | 39 | 47894 |
390066 | 30140 | 25420 |
390071 | 39 | 48700 | LUGAR
390079 | 39 | 13780 |
390081 | 37964 | 48864 |
390086 | 39 | 44300 |
390091 | 39 | 49660 |
390093 | 39 | 49660 |
390110 | 27780 | 38300 |
390113 | 39 | 49660 |
390133 | 10900 | 37964 |
390138 | 39 | 47894 |
390150 | 39 | 38300 | LUGAR
390151 | 39 | 47894 |
390156 | 37964 | 48864 |
390180 | 37964 | 48864 |
390222 | 37964 | 48864 |
390224 | 39 | 13780 | LUGAR
390244 | 39 | 48700 | LUGAR
390246 | 39 | 48700 |
390249 | 39 | 13780 | LUGAR
400048 | 25020 | 41980 |
410001 | 39300 | 14484 |
410004 | 39300 | 14484 |
410005 | 39300 | 14484 |
410006 | 39300 | 14484 |
410007 | 39300 | 14484 |
410008 | 39300 | 14484 |
410009 | 39300 | 14484 |
410011 | 39300 | 14484 |
410012 | 39300 | 14484 |
410013 | 39300 | 14484 |
420009 | 42 | 24860 | LUGAR
420020 | 42 | 16700 |
420028 | 42 | 44940 | LUGAR
420030 | 42 | 16700 |
420036 | 42 | 16740 |
420039 | 42 | 43900 | LUGAR
420067 | 42 | 42340 |
420068 | 42 | 16700 |
420069 | 42 | 44940 | LUGAR
420070 | 44940 | 17900 |
420071 | 42 | 24860 |
420080 | 42 | 42340 |
420085 | 34820 | 48900 |
430012 | 43 | 43620 |
430014 | 43 | 22020 |
430094 | 43 | 53 |
440008 | 44 | 21780 |
440020 | 44 | 26620 |
440035 | 17300 | 34980 |
440050 | 44 | 11700 |
440058 | 44 | 16860 |
440059 | 44 | 34980 |
440060 | 44 | 27180 |
440067 | 34100 | 28940 |
440068 | 44 | 16860 |
440072 | 44 | 32820 |
440073 | 44 | 34980 |
440148 | 44 | 34980 |
440151 | 44 | 34980 |
440175 | 44 | 34980 |
440180 | 44 | 28940 |
440185 | 17420 | 16860 |
440192 | 44 | 34980 |
450007 | 45 | 41700 |
450032 | 45 | 43340 |
450039 | 23104 | 19124 |
450059 | 41700 | 12420 |
450064 | 23104 | 19124 |
450073 | 45 | 10180 |
450080 | 45 | 30980 |
450087 | 23104 | 19124 |
450098 | 45 | 30980 |
450099 | 45 | 11100 |
450121 | 23104 | 19124 |
450135 | 23104 | 19124 |
450137 | 23104 | 19124 |
450144 | 45 | 36220 |
450148 | 23104 | 19124 |
450187 | 45 | 26420 |
450192 | 45 | 19124 |
450194 | 45 | 19124 |
450196 | 45 | 19124 |
450211 | 45 | 26420 |
450214 | 45 | 26420 |
450224 | 45 | 46340 |
450283 | 45 | 19124 | LUGAR
450286 | 45 | 17780 | LUGAR
450347 | 45 | 26420 |
450351 | 45 | 23104 |
450389 | 45 | 19124 | LUGAR
450400 | 45 | 47380 |
450419 | 23104 | 19124 |
450438 | 45 | 26420 |
450447 | 45 | 19124 |
450451 | 45 | 23104 |
450484 | 45 | 26420 |
450508 | 45 | 46340 |
450547 | 45 | 19124 |
450563 | 23104 | 19124 |
450623 | 45 | 19124 | LUGAR
450639 | 23104 | 19124 |
450653 | 45 | 33260 |
450656 | 45 | 46340 |
450672 | 23104 | 19124 |
450675 | 23104 | 19124 |
450677 | 23104 | 19124 |
450694 | 45 | 26420 |
450747 | 45 | 19124 |
450755 | 45 | 31180 |
450770 | 45 | 12420 | LUGAR
450779 | 23104 | 19124 |
450830 | 45 | 36220 |
450839 | 45 | 43340 |
450858 | 23104 | 19124 |
450872 | 23104 | 19124 |
450880 | 23104 | 19124 |
460004 | 36260 | 41620 |
460005 | 36260 | 41620 |
460007 | 46 | 41100 |
460011 | 46 | 39340 |
460021 | 41100 | 29820 |
460036 | 46 | 39340 |
460039 | 46 | 36260 |
460041 | 36260 | 41620 |
460042 | 36260 | 41620 |
470001 | 47 | 30 |
470011 | 47 | 15764 |
470012 | 47 | 38340 |
490004 | 25500 | 16820 |
490005 | 49020 | 47894 |
490006 | 49 | 49020 | LUGAR
490013 | 49 | 31340 |
490018 | 49 | 16820 |
490047 | 49 | 25500 | LUGAR
490079 | 49 | 49180 |
490092 | 49 | 40060 |
490105 | 49 | 28700 |
490106 | 49 | 16820 |
490109 | 47260 | 40060 |
500002 | 50 | 28420 |
500003 | 34580 | 42644 |
500016 | 48300 | 42644 |
500024 | 36500 | 45104 |
500031 | 50 | 36500 |
500039 | 14740 | 42644 |
500041 | 31020 | 38900 |
500072 | 50 | 42644 |
500139 | 36500 | 45104 |
500143 | 36500 | 45104 |
510001 | 34060 | 38300 |
510002 | 51 | 40220 |
510006 | 51 | 38300 |
510018 | 51 | 16620 | LUGAR
510024 | 34060 | 38300 |
510028 | 51 | 16620 |
510030 | 51 | 34060 |
510046 | 51 | 16620 |
510047 | 51 | 38300 |
510070 | 51 | 16620 |
510071 | 51 | 16620 |
510077 | 51 | 26580 |
520002 | 52 | 48140 |
520021 | 29404 | 16974 |
520028 | 52 | 31540 | LUGAR
520037 | 52 | 48140 |
520059 | 39540 | 29404 |
520060 | 52 | 22540 | LUGAR
520066 | 27500 | 31540 |
520071 | 52 | 33340 | LUGAR
520076 | 52 | 31540 |
520088 | 22540 | 33340 |
520094 | 39540 | 33340 |
520095 | 52 | 31540 |
520096 | 39540 | 33340 |
520102 | 52 | 33340 | LUGAR
520107 | 52 | 24580 |
520113 | 52 | 24580 |
520116 | 52 | 33340 | LUGAR
520152 | 52 | 24580 |
520173 | 52 | 20260 |
520189 | 29404 | 16974 |
530002 | 53 | 16220 |
530025 | 53 | 22660

Table 9B.—Hospital Reclassifications and Redesignations by Individual Hospital Under Section 508 of Pub. L. 108-173
Provider number | Geographic CBSA | Wage index CBSA 508 reclassification | Own wage index
010150 | 01 | 17980 |
020008 | 02 |  | 1.2841
050494 | 05 | 42220 |
050549 | 37100 | 42220 |
060057 | 06 | 19740 |
060075 | 06 |  | 1.1709
070001 | 35300 | 35004 |
070005 | 35300 | 35004 |
070010 | 14860 | 35644 |
070016 | 35300 | 35004 |
070017 | 35300 | 35004 |
070019 | 35300 | 35004 |
070022 | 35300 | 35004 |
070028 | 14860 | 35644 |
070031 | 35300 | 35004 |
070036 | 25540 |  | 1.2926
070039 | 35300 | 35004 |
120025 | 12 | 26180 |
150034 | 23844 | 16974 |
160040 | 47940 | 16300 |
160064 | 16 |  | 1.0228
160067 | 47940 | 16300 |
160110 | 47940 | 16300 |
190218 | 19 | 43340 |
220046 | 38340 | 14484 |
230003 | 26100 | 28020 |
230004 | 34740 | 28020 |
230013 | 47644 | 22420 |
230019 | 47644 | 22420 |
230020 | 19804 | 11460 |
230024 | 19804 | 11460 |
230029 | 47644 | 22420 |
230036 | 23 | 22420 |
230038 | 24340 | 28020 |
230053 | 19804 | 11460 |
230059 | 24340 | 28020 |
230066 | 34740 | 28020 |
230071 | 47644 | 22420 |
230072 | 26100 | 28020 |
230089 | 19804 | 11460 |
230092 | 27100 | 24340 |
230097 | 23 | 28020 |
230104 | 19804 | 11460 |
230106 | 24340 | 28020 |
230119 | 19804 | 11460 |
230130 | 47644 | 22420 |
230135 | 19804 | 11460 |
230146 | 19804 | 11460 |
230151 | 47644 | 22420 |
230165 | 19804 | 11460 |
230174 | 26100 | 28020 |
230176 | 19804 | 11460 |
230207 | 47644 | 22420 |
230223 | 47644 | 22420 |
230236 | 24340 | 28020 |
230254 | 47644 | 22420 |
230269 | 47644 | 22420 |
230270 | 19804 | 11460 |
230273 | 19804 | 11460 |
230277 | 47644 | 22420 |
250002 | 25 | 25060 |
250122 | 25 | 25060 |
270021 | 27 | 13740 |
270023 | 33540 | 13740 |
270032 | 27 | 13740 |
270050 | 27 | 13740 |
270057 | 27 | 13740 |
310021 | 45940 | 35644 |
310028 | 35084 | 35644 |
310050 | 35084 | 35644 |
310051 | 35084 | 35644 |
310060 | 10900 | 35644 |
310115 | 10900 | 35644 |
310120 | 35084 | 35644 |
330049 | 39100 | 35644 |
330067 | 39100 | 35300 |
330106 | 35004 |  | 1.4734
330126 | 39100 | 35644 |
330135 | 39100 | 35644 |
330205 | 39100 | 35644 |
330264 | 39100 | 35004 |
340002 | 11700 | 16740 |
350002 | 13900 | 22020 |
350003 | 35 | 22020 |
350006 | 35 | 22020 |
350010 | 35 | 22020 |
350014 | 35 | 22020 |
350015 | 13900 | 22020 |
350017 | 35 | 22020 |
350030 | 35 | 22020 |
350061 | 35 | 22020 |
380090 | 38 |  | 1.2316
390001 | 42540 | 10900 |
390003 | 39 | 10900 |
390054 | 42540 | 29540 |
390072 | 39 | 10900 |
390095 | 42540 | 10900 |
390109 | 42540 | 10900 |
390119 | 42540 | 10900 |
390137 | 42540 | 10900 |
390169 | 42540 | 10900 |
390185 | 42540 | 29540 |
390192 | 42540 | 10900 |
390237 | 42540 | 10900 |
390270 | 42540 | 29540 |
410010 | 39300 |  | 1.1746
430005 | 43 | 39660 |
430015 | 43 | 43620 |
430048 | 43 | 43620 |
430060 | 43 | 43620 |
430064 | 43 | 43620 |
430077 | 39660 | 43620 |
430091 | 39660 | 43620 |
450010 | 48660 | 32580 |
450072 | 26420 | 26420 |
450591 | 26420 | 26420 |
470003 | 15540 | 14484 |
490001 | 49 | 31340 |
490024 | 40220 | 19260 |
530015 | 53 |  | 0.9897
070006* | 14860 | 35644 |
070018* | 14860 | 35644 |
070034* | 14860 | 35644 |
140155* | 28100 | 16974 |
140186* | 28100 | 16974 |
250078* | 25620 | 25060 |
270002* | 27 | 33540 |
270012* | 24500 | 33540 |
270084* | 27 | 33540 |
330023* | 39100 | 35644 |
330067* | 39100 | 35644 |
350019* | 24220 | 22020 |
430008* | 43 | 43620 |
430013* | 43 | 43620 |
430031* | 43 | 43620 |
530008* | 53 | 16220 |
530010* | 53 | 16220

Table 9C.—Hospitals Redesignated as Rural Under Section 1886(d)(8)(E) of the Act
Provider number | Geographic CBSA | Redesignated rural area
030007 | 39140 | 03
040075 | 22220 | 04
050192 | 23420 | 05
050469 | 40140 | 05
050528 | 32900 | 05
050618 | 40140 | 05
070004 | 25540 | 07
100048 | 37860 | 10
100134 | 27260 | 10
130018 | 26820 | 13
140167 | 14 | 14
150051 | 14020 | 15
150078 | 23844 | 15
170137 | 29940 | 17
190048 | 26380 | 19
230078 | 35660 | 23
240037 | 33460 | 24
260006 | 41140 | 26
300009 | 31700 | 30
370054 | 36420 | 37
380040 | 13460 | 38
380084 | 41420 | 38
390181 | 39 | 39
390183 | 39 | 39
390201 | 39 | 39
450052 | 45 | 45
450078 | 10180 | 45
450243 | 10180 | 45
450276 | 48660 | 45
450348 | 45 | 45
500023 | 28420 | 50
500037 | 49420 | 50
500122 | 50 | 50
500147 | 42644 | 50
500148 | 48300 | 50

Table 10.—Geometric Mean Plus the Lesser of .75 of the National Adjusted Operating Standardized Payment Amount (Increased to Reflect the Difference Between Costs and Charges) or .75 of One Standard Deviation of Mean Charges by Diagnosis-Related Group (DRG)—March 2005 ¹
DRG | Cases | Threshold
1 | 23,252 | $53,083
2 | 10,344 | $37,759
3 | 4 | $48,426
6 | 410 | $15,918
7 | 15,583 | $41,465
8 | 3,699 | $30,770
9 | 1,942 | $26,987
10 | 19,496 | $24,514
11 | 3,278 | $17,942
12 | 54,365 | $17,418
13 | 7,327 | $16,737
14 | 236,739 | $24,767
15 | 76,007 | $18,842
16 | 16,254 | $26,229
17 | 3,005 | $14,673
18 | 33,048 | $19,757
19 | 8,553 | $14,440
20 | 6,528 | $41,346
21 | 2,195 | $28,454
22 | 3,315 | $23,057
23 | 10,714 | $15,561
24 | 63,800 | $19,706
25 | 28,130 | $12,635
26 | 18 | $25,170
27 | 5,385 | $26,078
28 | 17,543 | $26,266
29 | 6,262 | $14,651
31 | 5,087 | $19,123
32 | 1,981 | $12,778
34 | 27,853 | $19,761
35 | 7,887 | $12,867
36 | 1,469 | $14,560
37 | 1,237 | $23,489
38 | 56 | $14,212
39 | 447 | $14,248
40 | 1,382 | $19,777
42 | 1,144 | $16,384
43 | 125 | $11,950
44 | 1,159 | $13,657
45 | 2,798 | $15,147
46 | 3,816 | $15,156
47 | 1,334 | $10,768
49 | 2,474 | $32,109
50 | 2,161 | $17,332
51 | 190 | $18,236
52 | 165 | $17,220
53 | 2,223 | $26,424
55 | 1,353 | $18,794
56 | 435 | $17,620
57 | 697 | $22,175
59 | 102 | $15,452
60 | 8 | $16,595
61 | 219 | $25,804
63 | 2,841 | $27,928
64 | 3,339 | $23,367
65 | 41,395 | $12,285
66 | 8,002 | $11,762
67 | 418 | $15,509
68 | 17,310 | $13,327
69 | 4,810 | $9,913
70 | 25 | $8,304
71 | 68 | $15,084
72 | 1,065 | $15,307
73 | 7,925 | $16,547
74 | 4 | $7,279
75 | 45,004 | $47,996
76 | 47,304 | $43,717
77 | 2,153 | $24,202
78 | 45,589 | $24,850
79 | 170,543 | $30,457
80 | 7,717 | $17,767
81 | 4 | $37,091
82 | 65,088 | $27,672
83 | 6,944 | $19,629
84 | 1,470 | $11,706
85 | 21,855 | $24,898
86 | 1,859 | $14,235
87 | 82,642 | $27,783
88 | 413,274 | $17,776
89 | 550,119 | $20,636
90 | 45,801 | $12,316
91 | 45 | $16,785
92 | 16,483 | $23,911
93 | 1,596 | $14,444
94 | 13,330 | $23,013
95 | 1,609 | $12,307
96 | 59,079 | $14,840
97 | 26,996 | $10,870
98 | 8 | $8,495
99 | 21,531 | $14,399
100 | 6,934 | $11,081
101 | 23,083 | $17,487
102 | 5,236 | $11,147
103 | 724 | $214,160
104 | 20,904 | $117,844
105 | 31,499 | $89,729
106 | 3,492 | $108,656
107 | 69,982 | $85,171
108 | 7,942 | $85,326
109 | 50,600 | $65,918
110 | 57,121 | $59,055
111 | 10,070 | $44,900
113 | 37,225 | $44,754
114 | 8,509 | $31,122
115 | 22,119 | $58,803
116 | 118,448 | $43,379
117 | 5,146 | $26,461
118 | 7,591 | $33,464
119 | 993 | $26,580
120 | 36,272 | $36,812
121 | 159,450 | $30,813
122 | 61,715 | $19,625
123 | 33,617 | $27,218
124 | 130,598 | $28,749
125 | 95,641 | $22,067
126 | 5,822 | $42,108
127 | 695,047 | $20,505
128 | 5,170 | $13,906
129 | 3,751 | $20,637
130 | 89,029 | $18,640
131 | 23,806 | $11,216
132 | 117,219 | $12,597
133 | 7,276 | $10,986
134 | 42,382 | $12,400
135 | 7,433 | $17,747
136 | 1,133 | $12,797
138 | 206,854 | $16,622
139 | 78,506 | $10,671
140 | 38,098 | $10,335
141 | 121,790 | $15,337
142 | 52,218 | $12,040
143 | 249,138 | $11,604
144 | 99,593 | $25,098
145 | 6,178 | $11,899
146 | 10,762 | $44,908
147 | 2,627 | $29,912
148 | 135,543 | $51,340
149 | 19,884 | $28,508
150 | 22,692 | $45,073
151 | 5,351 | $25,703
152 | 5,006 | $34,651
153 | 2,089 | $21,823
154 | 28,473 | $55,952
155 | 6,159 | $25,835
156 | 6 | $52,265
157 | 8,254 | $26,362
158 | 4,104 | $13,493
159 | 19,160 | $28,111
160 | 11,968 | $17,182
161 | 10,417 | $23,781
162 | 5,486 | $13,865
163 | 10 | $14,004
164 | 5,941 | $39,874
165 | 2,518 | $23,716
166 | 4,928 | $28,877
167 | 4,623 | $17,916
168 | 1,544 | $25,383
169 | 754 | $14,788
170 | 17,464 | $44,402
171 | 1,483 | $24,371
172 | 32,853 | $27,512
173 | 2,388 | $15,475
174 | 267,618 | $20,328
175 | 32,616 | $11,567
176 | 14,542 | $22,357
177 | 8,545 | $18,625
178 | 2,903 | $14,386
179 | 14,417 | $21,872
180 | 92,094 | $19,340
181 | 25,878 | $11,462
182 | 291,824 | $16,956
183 | 86,469 | $12,060
184 | 78 | $10,539
185 | 5,678 | $17,264
186 | 4 | $6,213
187 | 621 | $17,068
188 | 90,890 | $22,183
189 | 13,170 | $12,414
190 | 69 | $12,679
191 | 10,395 | $54,119
192 | 1,322 | $33,415
193 | 4,505 | $50,334
194 | 520 | $32,038
195 | 3,247 | $49,676
196 | 699 | $32,386
197 | 17,294 | $41,808
198 | 4,629 | $24,029
199 | 1,422 | $38,851
200 | 936 | $39,812
201 | 2,664 | $51,676
202 | 27,245 | $26,568
203 | 31,633 | $27,380
204 | 72,764 | $22,089
205 | 31,436 | $23,369
206 | 2,075 | $14,944
207 | 35,719 | $23,543
208 | 9,747 | $14,208
210 | 128,257 | $35,917
211 | 26,620 | $24,559
212 | 10 | $26,686
213 | 10,256 | $34,143
216 | 17,645 | $36,166
217 | 17,611 | $42,611
218 | 28,683 | $32,278
219 | 21,323 | $20,929
220 | 4 | $31,838
223 | 13,414 | $22,467
224 | 10,864 | $16,561
225 | 6,508 | $24,064
226 | 6,656 | $29,923
227 | 5,068 | $16,786
228 | 2,639 | $23,112
229 | 1,198 | $14,205
230 | 2,564 | $26,523
232 | 721 | $19,464
233 | 15,107 | $35,245
234 | 7,659 | $25,357
235 | 4,964 | $14,917
236 | 42,358 | $14,238
237 | 2,019 | $12,305
238 | 9,863 | $27,442
239 | 42,910 | $21,095
240 | 12,638 | $25,924
241 | 2,693 | $13,360
242 | 2,742 | $22,347
243 | 101,378 | $15,581
244 | 15,777 | $14,369
245 | 5,832 | $9,431
246 | 1,429 | $12,106
247 | 21,645 | $11,781
248 | 15,098 | $17,268
249 | 14,017 | $13,881
250 | 4,149 | $13,866
251 | 2,146 | $9,765
253 | 24,829 | $15,141
254 | 10,404 | $9,271
256 | 7,144 | $16,671
257 | 13,494 | $17,881
258 | 12,014 | $14,270
259 | 2,898 | $19,381
260 | 2,981 | $14,202
261 | 1,603 | $19,576
262 | 636 | $19,862
263 | 23,791 | $33,555
264 | 3,921 | $20,803
265 | 4,304 | $29,777
266 | 2,303 | $17,605
267 | 272 | $18,035
268 | 1,003 | $23,142
269 | 10,670 | $31,752
270 | 2,635 | $16,856
271 | 21,019 | $19,407
272 | 5,931 | $19,148
273 | 1,348 | $11,532
274 | 2,287 | $23,181
275 | 228 | $11,152
276 | 1,445 | $13,974
277 | 112,171 | $17,127
278 | 33,823 | $10,861
279 | 6 | $17,172
280 | 19,255 | $14,562
281 | 7,092 | $9,993
283 | 6,268 | $14,563
284 | 1,829 | $9,200
285 | 7,615 | $35,872
286 | 2,702 | $35,486
287 | 6,107 | $32,104
288 | 10,432 | $37,872
289 | 6,881 | $18,298
290 | 10,827 | $17,619
291 | 64 | $18,543
292 | 7,321 | $41,142
293 | 367 | $27,840
294 | 98,864 | $15,044
295 | 4,096 | $14,601
296 | 254,455 | $16,168
297 | 45,318 | $9,887
298 | 81 | $9,998
299 | 1,478 | $20,010
300 | 21,321 | $21,770
301 | 3,896 | $12,544
302 | 9,646 | $52,723
303 | 23,740 | $39,286
304 | 13,816 | $38,375
305 | 3,084 | $23,623
306 | 6,341 | $25,247
307 | 2,061 | $12,398
308 | 7,089 | $30,158
309 | 3,555 | $18,659
310 | 26,019 | $23,711
311 | 6,468 | $13,013
312 | 1,454 | $22,529
313 | 507 | $14,119
315 | 36,526 | $35,138
316 | 180,759 | $25,061
317 | 2,756 | $16,124
318 | 5,923 | $23,425
319 | 382 | $13,277
320 | 218,425 | $17,103
321 | 31,366 | $11,424
322 | 61 | $11,164
323 | 20,454 | $16,793
324 | 5,414 | $10,413
325 | 9,600 | $13,014
326 | 2,574 | $9,069
327 | 5 | $5,743
328 | 606 | $14,673
329 | 71 | $10,155
331 | 54,748 | $20,954
332 | 4,387 | $12,467
333 | 251 | $18,573
334 | 9,802 | $28,443
335 | 11,919 | $21,877
336 | 31,235 | $16,658
337 | 25,130 | $11,427
338 | 652 | $27,712
339 | 1,253 | $23,286
340 | 2 | $18,734
341 | 3,183 | $25,976
342 | 563 | $17,354
344 | 2,691 | $25,572
345 | 1,461 | $22,328
346 | 3,962 | $21,235
347 | 247 | $12,515
348 | 4,171 | $14,696
349 | 575 | $8,797
350 | 7,134 | $14,636
352 | 973 | $14,967
353 | 2,725 | $32,476
354 | 7,603 | $29,914
355 | 4,922 | $17,549
356 | 23,932 | $14,960
357 | 5,563 | $38,097
358 | 20,763 | $22,658
359 | 28,654 | $15,907
360 | 14,748 | $17,209
361 | 272 | $22,454
362 | 2 | $11,608
363 | 2,127 | $19,999
364 | 1,449 | $17,758
365 | 1,620 | $32,955
366 | 4,786 | $24,830
367 | 455 | $12,018
368 | 3,920 | $23,343
369 | 3,610 | $12,832
370 | 1,838 | $17,389
371 | 2,236 | $11,866
372 | 1,162 | $9,834
373 | 4,860 | $7,061
374 | 156 | $13,290
375 | 6 | $33,543
376 | 388 | $10,147
377 | 77 | $25,958
378 | 195 | $15,828
379 | 507 | $7,202
380 | 91 | $7,834
381 | 212 | $12,620
382 | 43 | $4,126
383 | 2,472 | $9,812
384 | 132 | $6,300
392 | 2,202 | $45,471
394 | 2,818 | $31,480
395 | 115,973 | $16,480
396 | 9 | $15,832
397 | 18,425 | $24,257
398 | 18,256 | $24,100
399 | 1,634 | $13,682
401 | 6,325 | $43,589
402 | 1,401 | $24,076
403 | 31,827 | $30,787
404 | 3,799 | $18,943
406 | 2,222 | $42,772
407 | 583 | $24,742
408 | 2,170 | $33,802
409 | 1,807 | $24,850
410 | 28,395 | $22,712
411 | 12 | $7,141
412 | 12 | $16,545
413 | 5,193 | $26,451
414 | 572 | $16,081
415 | 50,799 | $51,864
416 | 238,848 | $29,646
417 | 23 | $20,595
418 | 28,478 | $21,320
419 | 16,269 | $17,124
420 | 2,939 | $12,324
421 | 11,866 | $14,876
422 | 52 | $10,935
423 | 8,631 | $29,978
424 | 1,071 | $36,011
425 | 14,758 | $12,572
426 | 4,309 | $9,562
427 | 1,504 | $10,543
428 | 769 | $13,558
429 | 25,454 | $15,545
430 | 71,402 | $12,774
431 | 304 | $10,532
432 | 420 | $12,850
433 | 5,189 | $5,613
439 | 1,738 | $30,816
440 | 5,606 | $30,736
441 | 779 | $18,744
442 | 18,000 | $37,969
443 | 3,382 | $20,255
444 | 5,891 | $14,879
445 | 2,345 | $10,336
447 | 6,258 | $10,696
449 | 38,766 | $16,579
450 | 7,787 | $8,697
451 | 3 | $5,847
452 | 27,610 | $20,394
453 | 5,431 | $10,730
454 | 3,835 | $15,920
455 | 846 | $9,717
461 | 2,722 | $27,440
462 | 7,751 | $16,591
463 | 31,026 | $13,855
464 | 7,651 | $10,292
465 | 219 | $12,019
466 | 1,377 | $12,550
467 | 1,013 | $9,726
468 | 50,411 | $55,817
470 | 32 | $13,204
471 | 15,474 | $55,297
473 | 8,761 | $39,707
475 | 116,437 | $51,182
476 | 3,018 | $36,994
477 | 29,401 | $33,866
478 | 113,571 | $40,296
479 | 24,583 | $29,518
480 | 800 | $120,367
481 | 1,065 | $86,015
482 | 5,070 | $49,484
484 | 449 | $74,694
485 | 3,412 | $50,963
486 | 2,562 | $66,540
487 | 4,640 | $32,711
488 | 786 | $58,001
489 | 13,453 | $29,620
490 | 5,203 | $21,034
491 | 19,730 | $32,883
492 | 4,005 | $44,873
493 | 61,564 | $35,020
494 | 25,546 | $20,780
495 | 303 | $109,115
496 | 3,255 | $92,679
497 | 27,777 | $59,046
498 | 19,008 | $49,170
499 | 35,640 | $27,782
500 | 48,213 | $18,126
501 | 3,120 | $43,064
502 | 717 | $28,008
503 | 5,905 | $24,316
504 | 187 | $136,123
505 | 179 | $27,684
506 | 1,004 | $51,873
507 | 307 | $32,100
508 | 641 | $24,619
509 | 168 | $14,897
510 | 1,755 | $21,890
511 | 633 | $12,748
512 | 513 | $81,413
513 | 227 | $97,844
515 | 44,389 | $88,758
517 | 66,155 | $40,225
518 | 42,015 | $35,092
519 | 11,497 | $43,638
520 | 15,218 | $33,659
521 | 32,138 | $13,596
522 | 5,642 | $9,515
523 | 15,863 | $7,639
524 | 118,842 | $14,823
525 | 313 | $139,715
527 | 191,680 | $44,147
528 | 1,767 | $102,318
529 | 4,030 | $37,957
530 | 2,362 | $24,232
531 | 4,796 | $45,158
532 | 2,622 | $29,368
533 | 47,549 | $31,277
534 | 45,166 | $20,426
535 | 7,384 | $123,742
536 | 8,047 | $108,821
537 | 8,640 | $33,393
538 | 5,598 | $20,028
539 | 5,014 | $44,863
540 | 1,509 | $23,964
541 | 22,410 | $242,891
542 | 24,343 | $155,852
543 | 5,403 | $62,826
544 | 417,780 | $37,604
545 | 42,280 | $44,313
546 | 1,954 | $77,955
547 | 26,756 | $49,899
548 | 11,898 | $41,613
549 | 35,640 | $55,680
550 | 20,130 | $47,573
¹ Cases are taken from the FY 2004 MedPAR file; DRGs are from GROUPER Version 23.0.

Table 11.—Proposed FY 2006 LTC-DRGs, Relative Weights, Geometric Average Length of Stay, and 5/6ths of the Geometric Average Length of Stay
LTC-DRG | Description | Relative weight | Geometric average length of stay | 5/6ths of the geometric average length of stay
1 | ⁵ CRANIOTOMY AGE >17 W CC | 1.6862 | 38.0 | 31.7
2 | ⁷ CRANIOTOMY AGE >17 W/O CC | 1.6862 | 38.0 | 31.7
3 | ⁷ CRANIOTOMY AGE 0-17 | 1.6862 | 38.0 | 31.7
6 | ⁷ CARPAL TUNNEL RELEASE | 0.4502 | 18.8 | 15.7
7 | PERIPH & CRANIAL NERVE & OTHER NERV SYST PROC W CC | 1.3854 | 37.5 | 31.3
8 | ³ PERIPH & CRANIAL NERVE & OTHER NERV SYST PROC W/O CC | 0.7586 | 24.5 | 20.4
9 | SPINAL DISORDERS & INJURIES | 0.9617 | 33.2 | 27.7
10 | NERVOUS SYSTEM NEOPLASMS W CC | 0.7441 | 24.2 | 20.2
11 | ² NERVOUS SYSTEM NEOPLASMS W/O CC | 0.5834 | 21.0 | 17.5
12 | DEGENERATIVE NERVOUS SYSTEM DISORDERS | 0.6903 | 25.5 | 21.3
13 | MULTIPLE SCLEROSIS & CEREBELLAR ATAXIA | 0.6625 | 23.0 | 19.2
14 | INTERCRANIAL HEMORRHAGE OR STROKE WITH INFARCT | 0.7758 | 25.9 | 21.6
15 | NONSPECIFIC CVA & PRECEREBRAL OCCULUSION WITHOUT INFARCT | 0.7398 | 27.0 | 22.5
16 | NONSPECIFIC CEREBROVASCULAR DISORDERS W CC | 0.7507 | 23.5 | 19.6
17 | ¹ NONSPECIFIC CEREBROVASCULAR DISORDERS W/O CC | 0.4502 | 18.8 | 15.7
18 | CRANIAL & PERIPHERAL NERVE DISORDERS W CC | 0.7242 | 23.6 | 19.7
19 | CRANIAL & PERIPHERAL NERVE DISORDERS W/O CC | 0.4809 | 21.2 | 17.7
20 | NERVOUS SYSTEM INFECTION EXCEPT VIRAL MENINGITIS | 1.0284 | 27.1 | 22.6
21 | ³ VIRAL MENINGITIS | 0.7586 | 24.5 | 20.4
22 | ⁴ HYPERTENSIVE ENCEPHALOPATHY | 1.1679 | 29.6 | 24.7
23 | NONTRAUMATIC STUPOR & COMA | 0.8101 | 25.4 | 21.2
24 | SEIZURE & HEADACHE AGE >17 W CC | 0.6262 | 22.4 | 18.7
25 | ¹ SEIZURE & HEADACHE AGE >17 W/O CC | 0.4502 | 18.8 | 15.7
26 | ⁷ SEIZURE & HEADACHE AGE 0-17 | 0.4502 | 18.8 | 15.7
27 | TRAUMATIC STUPOR & COMA, COMA >1 HR | 0.9658 | 27.7 | 23.1
28 | TRAUMATIC STUPOR & COMA, COMA <1 HR AGE >17 W CC | 0.9042 | 30.2 | 25.2
29 | ¹ TRAUMATIC STUPOR & COMA, COMA <1 HR AGE >17 W/O CC | 0.4502 | 18.8 | 15.7
30 | ⁷ TRAUMATIC STUPOR & COMA, COMA <1 HR AGE 0-17 | 0.4502 | 18.8 | 15.7
31 | ³ CONCUSSION AGE >17 W CC | 0.7586 | 24.5 | 20.4
32 | ⁷ CONCUSSION AGE >17 W/O CC | 0.4502 | 18.8 | 15.7
33 | ⁷ CONCUSSION AGE 0-17 | 0.4502 | 18.8 | 15.7
34 | OTHER DISORDERS OF NERVOUS SYSTEM W CC | 0.8056 | 25.2 | 21
35 | OTHER DISORDERS OF NERVOUS SYSTEM W/O CC | 0.5758 | 24.0 | 20
36 | ⁷ RETINAL PROCEDURES | 1.1679 | 29.6 | 24.7
37 | ⁷ ORBITAL PROCEDURES | 1.1679 | 29.6 | 24.7
38 | ⁷ PRIMARY IRIS PROCEDURES | 1.1679 | 29.6 | 24.7
39 | ⁷ LENS PROCEDURES WITH OR WITHOUT VITRECTOMY | 1.1679 | 29.6 | 24.7
40 | ⁴ EXTRAOCULAR PROCEDURES EXCEPT ORBIT AGE >17 | 1.1679 | 29.6 | 24.7
41 | ⁷ EXTRAOCULAR PROCEDURES EXCEPT ORBIT AGE 0-17 | 1.1679 | 29.6 | 24.7
42 | ⁷ INTRAOCULAR PROCEDURES EXCEPT RETINA, IRIS & LENS | 1.1679 | 29.6 | 24.7
43 | ⁷ HYPHEMA | 1.1679 | 29.6 | 24.7
44 | ² ACUTE MAJOR EYE INFECTIONS | 0.5834 | 21.0 | 17.5
45 | ⁷ NEUROLOGICAL EYE DISORDERS | 1.1679 | 29.6 | 24.7
46 | ² OTHER DISORDERS OF THE EYE AGE >17 W CC | 0.5834 | 21.0 | 17.5
47 | ⁷ OTHER DISORDERS OF THE EYE AGE >17 W/O CC | 1.1679 | 29.6 | 24.7
48 | ⁷ OTHER DISORDERS OF THE EYE AGE 0-17 | 1.1679 | 29.6 | 24.7
49 | ⁷ MAJOR HEAD & NECK PROCEDURES | 1.1679 | 29.6 | 24.7
50 | ⁷ SIALOADENECTOMY | 1.1679 | 29.6 | 24.7
51 | ⁷ SALIVARY GLAND PROCEDURES EXCEPT SIALOADENECTOMY | 1.1679 | 29.6 | 24.7
52 | ⁷ CLEFT LIP & PALATE REPAIR | 1.1679 | 29.6 | 24.7
53 | ⁷ SINUS & MASTOID PROCEDURES AGE >17 | 1.1679 | 29.6 | 24.7
54 | ⁷ SINUS & MASTOID PROCEDURES AGE 0-17 | 1.1679 | 29.6 | 24.7
55 | ⁷ MISCELLANEOUS EAR, NOSE, MOUTH & THROAT PROCEDURES | 1.1679 | 29.6 | 24.7
56 | ⁷ RHINOPLASTY | 1.1679 | 29.6 | 24.7
57 | ⁷ T&A PROC, EXCEPT TONSILLECTOMY &/OR ADENOIDECTOMY ONLY, AGE >17 | 0.4502 | 18.8 | 15.7
58 | ⁷ T&A PROC, EXCEPT TONSILLECTOMY &/OR ADENOIDECTOMY ONLY, AGE 0-17 | 0.4502 | 18.8 | 15.7
59 | ⁷ TONSILLECTOMY &/OR ADENOIDECTOMY ONLY, AGE >17 | 0.4502 | 18.8 | 15.7
60 | ⁷ TONSILLECTOMY &/OR ADENOIDECTOMY ONLY, AGE 0-17 | 0.4502 | 18.8 | 15.7
61 | ³ MYRINGOTOMY W TUBE INSERTION AGE >17 | 0.7586 | 24.5 | 20.4
62 | ⁷ MYRINGOTOMY W TUBE INSERTION AGE 0-17 | 0.4502 | 18.8 | 15.7
63 | ⁴ OTHER EAR, NOSE, MOUTH & THROAT O.R. PROCEDURES | 1.1679 | 29.6 | 24.7
64 | EAR, NOSE, MOUTH & THROAT MALIGNANCY | 1.1477 | 26.2 | 21.8
65 | ¹ DYSEQUILIBRIUM | 0.4502 | 18.8 | 15.7
66 | ⁷ EPISTAXIS | 0.4502 | 18.8 | 15.7
67 | ³ EPIGLOTTITIS | 0.7586 | 24.5 | 20.4
68 | OTITIS MEDIA & URI AGE &gt;17 W CC | 0.5134 | 18.0 | 15
69 | ¹ OTITIS MEDIA & URI AGE &gt;17 W/O CC | 0.4502 | 18.8 | 15.7
70 | ⁷ OTITIS MEDIA & URI AGE 0-17 | 0.4502 | 18.8 | 15.7
71 | ⁷ LARYNGOTRACHEITIS | 0.5834 | 21.0 | 17.5
72 | ⁷ NASAL TRAUMA & DEFORMITY | 0.5834 | 21.0 | 17.5
73 | OTHER EAR, NOSE, MOUTH & THROAT DIAGNOSES AGE >17 | 0.6360 | 20.4 | 17
74 | ⁷ OTHER EAR, NOSE, MOUTH & THROAT DIAGNOSES AGE 0-17 | 0.4502 | 18.8 | 15.7
75 | ⁵ MAJOR CHEST PROCEDURES | 1.6862 | 38.0 | 31.7
76 | OTHER RESP SYSTEM O.R. PROCEDURES W CC | 2.5324 | 43.6 | 36.3
77 | ⁵ OTHER RESP SYSTEM O.R. PROCEDURES W/O CC | 1.6862 | 38.0 | 31.7
78 | PULMONARY EMBOLISM | 0.6955 | 21.9 | 18.3
79 | RESPIRATORY INFECTIONS & INFLAMMATIONS AGE >17 W CC | 0.8252 | 22.8 | 19
80 | RESPIRATORY INFECTIONS & INFLAMMATIONS AGE >17 W/O CC | 0.5993 | 21.5 | 17.9
81 | ⁷ RESPIRATORY INFECTIONS & INFLAMMATIONS AGE 0-17 | 0.4502 | 18.8 | 15.7
82 | RESPIRATORY NEOPLASMS | 0.7138 | 20.1 | 16.8
83 | ² MAJOR CHEST TRAUMA W CC | 0.5834 | 21.0 | 17.5
84 | ⁷ MAJOR CHEST TRAUMA W/O CC | 0.5834 | 21.0 | 17.5
85 | PLEURAL EFFUSION W CC | 0.7308 | 21.2 | 17.7
86 | ² PLEURAL EFFUSION W/O CC | 0.5834 | 21.0 | 17.5
87 | PULMONARY EDEMA & RESPIRATORY FAILURE | 1.0797 | 25.3 | 21.1
88 | CHRONIC OBSTRUCTIVE PULMONARY DISEASE | 0.6620 | 19.6 | 16.3
89 | SIMPLE PNEUMONIA & PLEURISY AGE >17 W CC | 0.7027 | 20.8 | 17.3
90 | SIMPLE PNEUMONIA & PLEURISY AGE >17 W/O CC | 0.5004 | 17.8 | 14.8
91 | ⁷ SIMPLE PNEUMONIA & PLEURISY AGE 0-17 | 0.4502 | 18.8 | 15.7
92 | INTERSTITIAL LUNG DISEASE W CC | 0.6764 | 20.2 | 16.8
93 | ² INTERSTITIAL LUNG DISEASE W/O CC | 0.5834 | 21.0 | 17.5
94 | PNEUMOTHORAX W CC | 0.5913 | 17.0 | 14.2
95 | ¹ PNEUMOTHORAX W/O CC | 0.4502 | 18.8 | 15.7
96 | BRONCHITIS & ASTHMA AGE >17 W CC | 0.6436 | 19.4 | 16.2
97 | ² BRONCHITIS & ASTHMA AGE >17 W/O CC | 0.5834 | 21.0 | 17.5
98 | ⁷ BRONCHITIS & ASTHMA AGE 0-17 | 0.5834 | 21.0 | 17.5
99 | RESPIRATORY SIGNS & SYMPTOMS W CC | 0.9262 | 23.3 | 19.4
100 | ³ RESPIRATORY SIGNS & SYMPTOMS W/O CC | 0.7586 | 24.5 | 20.4
101 | OTHER RESPIRATORY SYSTEM DIAGNOSES W CC | 0.8143 | 21.1 | 17.6
102 | ¹ OTHER RESPIRATORY SYSTEM DIAGNOSES W/O CC | 0.4502 | 18.8 | 15.7
103 | ⁶ HEART TRANSPLANT OR IMPLANT OF HEART ASSIST SYSTEM | 0.0000 | 1.0 | 0.8
104 | ⁷ CARDIAC VALVE & OTH MAJOR CARDIOTHORACIC PROC W CARD CATH | 1.1679 | 29.6 | 24.7
105 | ⁷ CARDIAC VALVE & OTH MAJOR CARDIOTHORACIC PROC W/O CARD CATH | 1.1679 | 29.6 | 24.7
106 | ⁷ CORONARY BYPASS W PTCA | 1.1679 | 29.6 | 24.7
107 | ⁷ CORONARY BYPASS W CARDIAC CATH | 1.1679 | 29.6 | 24.7
108 | ⁷ OTHER CARDIOTHORACIC PROCEDURES | 1.1679 | 29.6 | 24.7
109 | ⁷ CORONARY BYPASS W/O PTCA OR CARDIAC CATH | 1.1679 | 29.6 | 24.7
110 | ⁴ MAJOR CARDIOVASCULAR PROCEDURES W CC | 1.1679 | 29.6 | 24.7
111 | ⁷ MAJOR CARDIOVASCULAR PROCEDURES W/O CC | 1.1679 | 29.6 | 24.7
113 | AMPUTATION FOR CIRC SYSTEM DISORDERS EXCEPT UPPER LIMB & TOE | 1.4877 | 39.2 | 32.7
114 | UPPER LIMB & TOE AMPUTATION FOR CIRC SYSTEM DISORDERS | 1.2453 | 33.2 | 27.7
115 | ⁵ PRM CARD PACEM IMPL W AMI,HRT FAIL OR SHK,OR AICD LEAD OR GNRTR P | 1.6862 | 38.0 | 31.7
116 | ⁴ OTH PERM CARD PACEMAK IMPL OR PTCA W CORONARY ARTERY STENT IMPLNT | 1.1679 | 29.6 | 24.7
117 | 5CARDIAC PACEMAKER REVISION EXCEPT DEVICE REPLACEMENT | 1.6862 | 38.0 | 31.7
118 | ⁴ CARDIAC PACEMAKER DEVICE REPLACEMENT | 1.1679 | 29.6 | 24.7
119 | ³ VEIN LIGATION & STRIPPING | 0.7586 | 24.5 | 20.4
120 | OTHER CIRCULATORY SYSTEM O.R. PROCEDURES | 1.1050 | 31.8 | 26.5
121 | CIRCULATORY DISORDERS W AMI & MAJOR COMP, DISCHARGED ALIVE | 0.8200 | 22.6 | 18.8
122 | ² CIRCULATORY DISORDERS W AMI W/O MAJOR COMP, DISCHARGED ALIVE | 0.5834 | 21.0 | 17.5
123 | CIRCULATORY DISORDERS W AMI, EXPIRED | 0.8678 | 18.7 | 15.6
124 | ⁴ CIRCULATORY DISORDERS EXCEPT AMI, W CARD CATH & COMPLEX DIAG | 1.1679 | 29.6 | 24.7
125 | ³ CIRCULATORY DISORDERS EXCEPT AMI, W CARD CATH W/O COMPLEX DIAG | 0.7586 | 24.5 | 20.4
126 | ACUTE & SUBACUTE ENDOCARDITIS | 0.8467 | 25.3 | 21.1
127 | HEART FAILURE & SHOCK | 0.6890 | 21.1 | 17.6
128 | ² DEEP VEIN THROMBOPHLEBITIS | 0.5834 | 21.0 | 17.5
129 | ⁷ CARDIAC ARREST, UNEXPLAINED | 1.1679 | 29.6 | 24.7
130 | PERIPHERAL VASCULAR DISORDERS W CC | 0.6755 | 23.1 | 19.3
131 | PERIPHERAL VASCULAR DISORDERS W/O CC | 0.4698 | 20.4 | 17
132 | ATHEROSCLEROSIS W CC | 0.6639 | 21.8 | 18.2
133 | ¹ ATHEROSCLEROSIS W/O CC | 0.4502 | 18.8 | 15.7
134 | HYPERTENSION | 0.6388 | 24.7 | 20.6
135 | CARDIAC CONGENITAL & VALVULAR DISORDERS AGE >17 W CC | 0.7272 | 23.7 | 19.8
136 | ² CARDIAC CONGENITAL & VALVULAR DISORDERS AGE >17 W/O CC | 0.5834 | 21.0 | 17.5
137 | ⁷ CARDIAC CONGENITAL & VALVULAR DISORDERS AGE 0-17 | 0.5834 | 21.0 | 17.5
138 | CARDIAC ARRHYTHMIA & CONDUCTION DISORDERS W CC | 0.6183 | 20.4 | 17
139 | ² CARDIAC ARRHYTHMIA & CONDUCTION DISORDERS W/O CC | 0.5834 | 21.0 | 17.5
140 | ¹ ANGINA PECTORIS | 0.4502 | 18.8 | 15.7
141 | SYNCOPE & COLLAPSE W CC | 0.4356 | 18.3 | 15.3
142 | ¹ SYNCOPE & COLLAPSE W/O CC | 0.4502 | 18.8 | 15.7
143 | ² CHEST PAIN | 0.5834 | 21.0 | 17.5
144 | OTHER CIRCULATORY SYSTEM DIAGNOSES W CC | 0.7364 | 21.6 | 18
145 | OTHER CIRCULATORY SYSTEM DIAGNOSES W/O CC | 0.4544 | 18.0 | 15
146 | ⁷ RECTAL RESECTION W CC | 1.6862 | 38.0 | 31.7
147 | ⁷ RECTAL RESECTION W/O CC | 1.6862 | 38.0 | 31.7
148 | MAJOR SMALL & LARGE BOWEL PROCEDURES W CC | 1.8800 | 40.8 | 34
149 | ⁷ MAJOR SMALL & LARGE BOWEL PROCEDURES W/O CC | 0.7586 | 24.5 | 20.4
150 | ⁴ PERITONEAL ADHESIOLYSIS W CC | 1.1679 | 29.6 | 24.7
151 | ² PERITONEAL ADHESIOLYSIS W/O CC | 0.5834 | 21.0 | 17.5
152 | ³ MINOR SMALL & LARGE BOWEL PROCEDURES W CC | 0.7586 | 24.5 | 20.4
153 | ⁷ MINOR SMALL & LARGE BOWEL PROCEDURES W/O CC | 0.7586 | 24.5 | 20.4
154 | ⁵ STOMACH, ESOPHAGEAL & DUODENAL PROCEDURES AGE >17 W CC | 1.6862 | 38.0 | 31.7
155 | ⁷ STOMACH, ESOPHAGEAL & DUODENAL PROCEDURES AGE >17 W/O CC | 1.6862 | 38.0 | 31.7
156 | ⁷ STOMACH, ESOPHAGEAL & DUODENAL PROCEDURES AGE 0-17 | 1.6862 | 38.0 | 31.7
157 | ⁴ ANAL & STOMAL PROCEDURES W CC | 1.1679 | 29.6 | 24.7
158 | ⁷ ANAL & STOMAL PROCEDURES W/O CC | 1.1679 | 29.6 | 24.7
159 | ⁷ HERNIA PROCEDURES EXCEPT INGUINAL & FEMORAL AGE >17 W CC | 0.7586 | 24.5 | 20.4
160 | ⁷ HERNIA PROCEDURES EXCEPT INGUINAL & FEMORAL AGE >17 W/O CC | 0.7586 | 24.5 | 20.4
161 | ⁵ INGUINAL & FEMORAL HERNIA PROCEDURES AGE >17 W CC | 1.6862 | 38.0 | 31.7
162 | ⁷ INGUINAL & FEMORAL HERNIA PROCEDURES AGE >17 W/O CC | 0.7586 | 24.5 | 20.4
163 | ⁷ HERNIA PROCEDURES AGE 0-17 | 0.7586 | 24.5 | 20.4
164 | ⁷ APPENDECTOMY W COMPLICATED PRINCIPAL DIAG W CC | 1.6862 | 38.0 | 31.7
165 | ⁷ APPENDECTOMY W COMPLICATED PRINCIPAL DIAG W/O CC | 1.6862 | 38.0 | 31.7
166 | ⁷ APPENDECTOMY W/O COMPLICATED PRINCIPAL DIAG W CC | 1.6862 | 38.0 | 31.7
167 | ⁷ APPENDECTOMY W/O COMPLICATED PRINCIPAL DIAG W/O CC | 1.6862 | 38.0 | 31.7
168 | ⁴ MOUTH PROCEDURES W CC | 1.1679 | 29.6 | 24.7
169 | ⁷ MOUTH PROCEDURES W/O CC | 0.7586 | 24.5 | 20.4
170 | OTHER DIGESTIVE SYSTEM O.R. PROCEDURES W CC | 1.6319 | 35.9 | 29.9
171 | ¹ OTHER DIGESTIVE SYSTEM O.R. PROCEDURES W/O CC | 0.4502 | 18.8 | 15.7
172 | DIGESTIVE MALIGNANCY W CC | 0.8568 | 21.8 | 18.2
173 | ² DIGESTIVE MALIGNANCY W/O CC | 0.5834 | 21.0 | 17.5
174 | G.I. HEMORRHAGE W CC | 0.6984 | 22.0 | 18.3
175 | ¹ G.I. HEMORRHAGE W/O CC | 0.4502 | 18.8 | 15.7
176 | COMPLICATED PEPTIC ULCER | 0.8510 | 21.5 | 17.9
177 | ³ UNCOMPLICATED PEPTIC ULCER W CC | 0.7586 | 24.5 | 20.4
178 | ³ UNCOMPLICATED PEPTIC ULCER W/O CC | 0.7586 | 24.5 | 20.4
179 | INFLAMMATORY BOWEL DISEASE | 0.9834 | 24.1 | 20.1
180 | G.I. OBSTRUCTION W CC | 0.9417 | 23.5 | 19.6
181 | ³ G.I. OBSTRUCTION W/O CC | 0.7586 | 24.5 | 20.4
182 | ESOPHAGITIS, GASTROENT & MISC DIGEST DISORDERS AGE >17 W CC | 0.7753 | 22.6 | 18.8
183 | ESOPHAGITIS, GASTROENT & MISC DIGEST DISORDERS AGE >17 W/O CC | 0.3959 | 17.2 | 14.3
184 | ⁷ ESOPHAGITIS, GASTROENT & MISC DIGEST DISORDERS AGE 0-17 | 0.4502 | 18.8 | 15.7
185 | ³ DENTAL & ORAL DIS EXCEPT EXTRACTIONS & RESTORATIONS, AGE >17 | 0.7586 | 24.5 | 20.4
186 | ⁷ DENTAL & ORAL DIS EXCEPT EXTRACTIONS & RESTORATIONS, AGE 0-17 | 0.7586 | 24.5 | 20.4
187 | ⁷ DENTAL EXTRACTIONS & RESTORATIONS | 0.7586 | 24.5 | 20.4
188 | OTHER DIGESTIVE SYSTEM DIAGNOSES AGE >17 W CC | 1.0009 | 24.0 | 20
189 | OTHER DIGESTIVE SYSTEM DIAGNOSES AGE >17 W/O CC | 0.4730 | 18.2 | 15.2
190 | ⁷ OTHER DIGESTIVE SYSTEM DIAGNOSES AGE 0-17 | 0.4502 | 18.8 | 15.7
191 | ⁴ PANCREAS, LIVER & SHUNT PROCEDURES W CC | 1.1679 | 29.6 | 24.7
192 | ⁷ PANCREAS, LIVER & SHUNT PROCEDURES W/O CC | 1.1679 | 29.6 | 24.7
193 | ³ BILIARY TRACT PROC EXCEPT ONLY CHOLECYST W OR W/O C.D.E. W CC | 0.7586 | 24.5 | 20.4
194 | ⁷ BILIARY TRACT PROC EXCEPT ONLY CHOLECYST W OR W/O C.D.E. W/O CC | 0.7586 | 24.5 | 20.4
195 | ⁴ CHOLECYSTECTOMY W C.D.E. W CC | 1.1679 | 29.6 | 24.7
196 | ⁷ CHOLECYSTECTOMY W C.D.E. W/O CC | 0.7586 | 24.5 | 20.4
197 | ³ CHOLECYSTECTOMY EXCEPT BY LAPAROSCOPE W/O C.D.E. W CC | 0.7586 | 24.5 | 20.4
198 | ⁷ CHOLECYSTECTOMY EXCEPT BY LAPAROSCOPE W/O C.D.E. W/O CC | 0.7586 | 24.5 | 20.4
199 | ⁷ HEPATOBILIARY DIAGNOSTIC PROCEDURE FOR MALIGNANCY | 1.6862 | 38.0 | 31.7
200 | ⁵ HEPATOBILIARY DIAGNOSTIC PROCEDURE FOR NON-MALIGNANCY | 1.6862 | 38.0 | 31.7
201 | OTHER HEPATOBILIARY OR PANCREAS O.R. PROCEDURES | 2.0391 | 36.1 | 30.1
202 | CIRRHOSIS & ALCOHOLIC HEPATITIS | 0.6636 | 20.5 | 17.1
203 | MALIGNANCY OF HEPATOBILIARY SYSTEM OR PANCREAS | 0.7939 | 19.5 | 16.3
204 | DISORDERS OF PANCREAS EXCEPT MALIGNANCY | 0.9564 | 22.9 | 19.1
205 | DISORDERS OF LIVER EXCEPT MALIG,CIRR,ALC HEPA W CC | 0.6709 | 20.6 | 17.2
206 | ² DISORDERS OF LIVER EXCEPT MALIG,CIRR,ALC HEPA W/O CC | 0.5834 | 21.0 | 17.5
207 | DISORDERS OF THE BILIARY TRACT W CC | 0.7600 | 21.5 | 17.9
208 | ² DISORDERS OF THE BILIARY TRACT W/O CC | 0.5834 | 21.0 | 17.5
210 | ⁵ HIP & FEMUR PROCEDURES EXCEPT MAJOR JOINT AGE >17 W CC | 1.6862 | 38.0 | 31.7
211 | ⁴ HIP & FEMUR PROCEDURES EXCEPT MAJOR JOINT AGE >17 W/O CC | 1.1679 | 29.6 | 24.7
212 | ⁷ HIP & FEMUR PROCEDURES EXCEPT MAJOR JOINT AGE 0-17 | 1.6862 | 38.0 | 31.7
213 | AMPUTATION FOR MUSCULOSKELETAL SYSTEM & CONN TISSUE DISORDERS | 1.2016 | 33.9 | 28.3
216 | ⁴ BIOPSIES OF MUSCULOSKELETAL SYSTEM & CONNECTIVE TISSUE | 1.1679 | 29.6 | 24.7
217 | WND DEBRID & SKN GRFT EXCEPT HAND,FOR MUSCSKELET & CONN TISS DIS | 1.2917 | 38.0 | 31.7
218 | ⁵ LOWER EXTREM & HUMER PROC EXCEPT HIP,FOOT,FEMUR AGE >17 W CC | 1.6862 | 38.0 | 31.7
219 | ¹ LOWER EXTREM & HUMER PROC EXCEPT HIP,FOOT,FEMUR AGE >17 W/O CC | 0.4502 | 18.8 | 15.7
220 | ⁷ LOWER EXTREM & HUMER PROC EXCEPT HIP,FOOT,FEMUR AGE 0-17 | 1.6862 | 38.0 | 31.7
223 | ³ MAJOR SHOULDER/ELBOW PROC, OR OTHER UPPER EXTREMITY PROC W CC | 0.7586 | 24.5 | 20.4
224 | ⁷ SHOULDER,ELBOW OR FOREARM PROC,EXC MAJOR JOINT PROC, W/O CC | 0.7586 | 24.5 | 20.4
225 | FOOT PROCEDURES | 0.9996 | 28.9 | 24.1
226 | SOFT TISSUE PROCEDURES W CC | 0.9487 | 30.0 | 25
227 | ³ SOFT TISSUE PROCEDURES W/O CC | 0.7586 | 24.5 | 20.4
228 | ⁴ MAJOR THUMB OR JOINT PROC,OR OTH HAND OR WRIST PROC W CC | 1.1679 | 29.6 | 24.7
229 | ⁷ HAND OR WRIST PROC, EXCEPT MAJOR JOINT PROC, W/O CC | 0.4502 | 18.8 | 15.7
230 | ⁵ LOCAL EXCISION & REMOVAL OF INT FIX DEVICES OF HIP & FEMUR | 1.6862 | 38.0 | 31.7
232 | ⁷ ARTHROSCOPY | 0.4502 | 18.8 | 15.7
233 | OTHER MUSCULOSKELET SYS & CONN TISS O.R. PROC W CC | 1.2832 | 33.9 | 28.3
234 | ⁷ OTHER MUSCULOSKELET SYS & CONN TISS O.R. PROC W/O CC | 0.4502 | 18.8 | 15.7
235 | ³ FRACTURES OF FEMUR | 0.7586 | 24.5 | 20.4
236 | FRACTURES OF HIP & PELVIS | 0.6553 | 25.2 | 21
237 | ¹ SPRAINS, STRAINS, & DISLOCATIONS OF HIP, PELVIS & THIGH | 0.4502 | 18.8 | 15.7
238 | OSTEOMYELITIS | 0.8271 | 28.2 | 23.5
239 | PATHOLOGICAL FRACTURES & MUSCULOSKELETAL & CONN TISS MALIGNANCY | 0.6923 | 23.6 | 19.7
240 | CONNECTIVE TISSUE DISORDERS W CC | 0.7320 | 24.5 | 20.4
241 | ¹ CONNECTIVE TISSUE DISORDERS W/O CC | 0.4502 | 18.8 | 15.7
242 | SEPTIC ARTHRITIS | 0.7931 | 26.6 | 22.2
243 | MEDICAL BACK PROBLEMS | 0.6107 | 23.4 | 19.5
244 | BONE DISEASES & SPECIFIC ARTHROPATHIES W CC | 0.5280 | 22.2 | 18.5
245 | BONE DISEASES & SPECIFIC ARTHROPATHIES W/O CC | 0.4651 | 20.4 | 17
246 | ¹ NON-SPECIFIC ARTHROPATHIES | 0.4502 | 18.8 | 15.7
247 | SIGNS & SYMPTOMS OF MUSCULOSKELETAL SYSTEM & CONN TISSUE | 0.5269 | 21.4 | 17.8
248 | TENDONITIS, MYOSITIS & BURSITIS | 0.6627 | 22.6 | 18.8
249 | AFTERCARE, MUSCULOSKELETAL SYSTEM & CONNECTIVE TISSUE | 0.6614 | 24.7 | 20.6
250 | ² FX, SPRN, STRN & DISL OF FOREARM, HAND, FOOT AGE >17 W CC | 0.5834 | 21.0 | 17.5
251 | ¹ FX, SPRN, STRN & DISL OF FOREARM, HAND, FOOT AGE >17 W/O CC | 0.4502 | 18.8 | 15.7
252 | ⁷ FX, SPRN, STRN & DISL OF FOREARM, HAND, FOOT AGE 0-17 | 0.7586 | 24.5 | 20.4
253 | FX, SPRN, STRN & DISL OF UPARM,LOWLEG EX FOOT AGE >17 W CC | 0.6838 | 26.3 | 21.9
254 | ¹ FX, SPRN, STRN & DISL OF UPARM,LOWLEG EX FOOT AGE >17 W/O CC | 0.4502 | 18.8 | 15.7
255 | ⁷ FX, SPRN, STRN & DISL OF UPARM,LOWLEG EX FOOT AGE 0-17 | 0.7586 | 24.5 | 20.4
256 | OTHER MUSCULOSKELETAL SYSTEM & CONNECTIVE TISSUE DIAGNOSES | 0.7953 | 25.3 | 21.1
257 | ⁷ TOTAL MASTECTOMY FOR MALIGNANCY W CC | 0.7586 | 24.5 | 20.4
258 | ⁷ TOTAL MASTECTOMY FOR MALIGNANCY W/O CC | 0.7586 | 24.5 | 20.4
259 | ² SUBTOTAL MASTECTOMY FOR MALIGNANCY W CC | 0.5834 | 21.0 | 17.5
260 | ⁷ SUBTOTAL MASTECTOMY FOR MALIGNANCY W/O CC | 0.7586 | 24.5 | 20.4
261 | ⁷ BREAST PROC FOR NON-MALIGNANCY EXCEPT BIOPSY & LOCAL EXCISION | 0.7586 | 24.5 | 20.4
262 | ¹ BREAST BIOPSY & LOCAL EXCISION FOR NON-MALIGNANCY | 0.4502 | 18.8 | 15.7
263 | SKIN GRAFT &/OR DEBRID FOR SKN ULCER OR CELLULITIS W CC | 1.3245 | 39.4 | 32.8
264 | SKIN GRAFT &/OR DEBRID FOR SKN ULCER OR CELLULITIS W/O CC | 0.9555 | 31.9 | 26.6
265 | SKIN GRAFT &/OR DEBRID EXCEPT FOR SKIN ULCER OR CELLULITIS W CC | 1.0426 | 33.1 | 27.6
266 | ³ SKIN GRAFT &/OR DEBRID EXCEPT FOR SKIN ULCER OR CELLULITIS W/O CC | 0.7586 | 24.5 | 20.4
267 | ⁷ PERIANAL & PILONIDAL PROCEDURES | 0.7586 | 24.5 | 20.4
268 | ⁵ SKIN, SUBCUTANEOUS TISSUE & BREAST PLASTIC PROCEDURES | 1.6862 | 38.0 | 31.7
269 | OTHER SKIN, SUBCUT TISS & BREAST PROC W CC | 1.2945 | 35.9 | 29.9
270 | ³ OTHER SKIN, SUBCUT TISS & BREAST PROC W/O CC | 0.7586 | 24.5 | 20.4
271 | SKIN ULCERS | 0.8707 | 27.6 | 23
272 | MAJOR SKIN DISORDERS W CC | 0.7490 | 22.5 | 18.8
273 | ¹ MAJOR SKIN DISORDERS W/O CC | 0.4502 | 18.8 | 15.7
274 | ³ MALIGNANT BREAST DISORDERS W CC | 0.7586 | 24.5 | 20.4
275 | ⁷ MALIGNANT BREAST DISORDERS W/O CC | 0.7586 | 24.5 | 20.4
276 | ² NON-MALIGANT BREAST DISORDERS | 0.5834 | 21.0 | 17.5
277 | CELLULITIS AGE >17 W CC | 0.6281 | 20.9 | 17.4
278 | CELLULITIS AGE >17 W/O CC | 0.4440 | 17.8 | 14.8
279 | ⁷ CELLULITIS AGE 0-17 | 0.4502 | 18.8 | 15.7
280 | TRAUMA TO THE SKIN, SUBCUT TISS & BREAST AGE >17 W CC | 0.6728 | 24.3 | 20.3
281 | ¹ TRAUMA TO THE SKIN, SUBCUT TISS & BREAST AGE >17 W/O CC | 0.4502 | 18.8 | 15.7
282 | ⁷ TRAUMA TO THE SKIN, SUBCUT TISS & BREAST AGE 0-17 | 0.4502 | 18.8 | 15.7
283 | MINOR SKIN DISORDERS W CC | 0.6968 | 23.9 | 19.9
284 | ¹ MINOR SKIN DISORDERS W/O CC | 0.4502 | 18.8 | 15.7
285 | AMPUTAT OF LOWER LIMB FOR ENDOCRINE,NUTRIT,& METABOL DISORDERS | 1.3552 | 35.6 | 29.7
286 | ⁷ ADRENAL & PITUITARY PROCEDURES | 1.6862 | 38.0 | 31.7
287 | SKIN GRAFTS & WOUND DEBRID FOR ENDOC, NUTRIT & METAB DISORDERS | 1.1270 | 33.6 | 28
288 | ⁴ O.R. PROCEDURES FOR OBESITY | 1.1679 | 29.6 | 24.7
289 | ⁷ PARATHYROID PROCEDURES | 1.1679 | 29.6 | 24.7
290 | ⁵ THYROID PROCEDURES | 1.6862 | 38.0 | 31.7
291 | ⁷ THYROGLOSSAL PROCEDURES | 1.1679 | 29.6 | 24.7
292 | OTHER ENDOCRINE, NUTRIT & METAB O.R. PROC W CC | 1.3437 | 31.7 | 26.4
293 | ² OTHER ENDOCRINE, NUTRIT & METAB O.R. PROC W/O CC | 0.5834 | 21.0 | 17.5
294 | DIABETES AGE >35 | 0.7330 | 24.8 | 20.7
295 | ³ DIABETES AGE 0-35 | 0.7586 | 24.5 | 20.4
296 | NUTRITIONAL & MISC METABOLIC DISORDERS AGE >17 W CC | 0.7232 | 23.1 | 19.3
297 | NUTRITIONAL & MISC METABOLIC DISORDERS AGE >17 W/O CC | 0.5262 | 18.4 | 15.3
298 | ⁷ NUTRITIONAL & MISC METABOLIC DISORDERS AGE 0-17 | 0.5834 | 21.0 | 17.5
299 | ⁴ INBORN ERRORS OF METABOLISM | 1.1679 | 29.6 | 24.7
300 | ENDOCRINE DISORDERS W CC | 0.6413 | 21.2 | 17.7
301 | ¹ ENDOCRINE DISORDERS W/O CC | 0.4502 | 18.8 | 15.7
302 | ⁶ KIDNEY TRANSPLANT | 0.0000 | 1.0 | 0.8
303 | ⁴ KIDNEY,URETER & MAJOR BLADDER PROCEDURES FOR NEOPLASM | 1.1679 | 29.6 | 24.7
304 | ⁵ KIDNEY,URETER & MAJOR BLADDER PROC FOR NON-NEOPL W CC | 1.6862 | 38.0 | 31.7
305 | ¹ KIDNEY,URETER & MAJOR BLADDER PROC FOR NON-NEOPL W/O CC | 0.4502 | 18.8 | 15.7
306 | ² PROSTATECTOMY W CC | 0.5834 | 21.0 | 17.5
307 | ⁷ PROSTATECTOMY W/O CC | 0.5834 | 21.0 | 17.5
308 | ⁴ MINOR BLADDER PROCEDURES W CC | 1.1679 | 29.6 | 24.7
309 | ⁷ MINOR BLADDER PROCEDURES W/O CC | 1.1679 | 29.6 | 24.7
310 | ⁴ TRANSURETHRAL PROCEDURES W CC | 1.1679 | 29.6 | 24.7
311 | ⁷ TRANSURETHRAL PROCEDURES W/O CC | 1.1679 | 29.6 | 24.7
312 | ¹ URETHRAL PROCEDURES, AGE >17 W CC | 0.4502 | 18.8 | 15.7
313 | ⁷ URETHRAL PROCEDURES, AGE >17 W/O CC | 0.4502 | 18.8 | 15.7
314 | ⁷ URETHRAL PROCEDURES, AGE 0-17 | 0.4502 | 18.8 | 15.7
315 | OTHER KIDNEY & URINARY TRACT O.R. PROCEDURES | 1.4005 | 31.5 | 26.3
316 | RENAL FAILURE | 0.8208 | 22.6 | 18.8
317 | ADMIT FOR RENAL DIALYSIS | 1.0001 | 25.5 | 21.3
318 | KIDNEY & URINARY TRACT NEOPLASMS W CC | 0.7648 | 20.2 | 16.8
319 | ¹ KIDNEY & URINARY TRACT NEOPLASMS W/O CC | 0.4502 | 18.8 | 15.7
320 | KIDNEY & URINARY TRACT INFECTIONS AGE >17 W CC | 0.6185 | 22.1 | 18.4
321 | KIDNEY & URINARY TRACT INFECTIONS AGE >17 W/O CC | 0.4813 | 19.0 | 15.8
322 | ⁷ KIDNEY & URINARY TRACT INFECTIONS AGE 0-17 | 0.4502 | 18.8 | 15.7
323 | ⁴ URINARY STONES W CC, &/OR ESW LITHOTRIPSY | 1.1679 | 29.6 | 24.7
324 | ⁷ URINARY STONES W/O CC | 0.4502 | 18.8 | 15.7
325 | ² KIDNEY & URINARY TRACT SIGNS & SYMPTOMS AGE >17 W CC | 0.5834 | 21.0 | 17.5
326 | ¹ KIDNEY & URINARY TRACT SIGNS & SYMPTOMS AGE >17 W/O CC | 0.4502 | 18.8 | 15.7
327 | ⁷ KIDNEY & URINARY TRACT SIGNS & SYMPTOMS AGE 0-17 | 0.4502 | 18.8 | 15.7
328 | ¹ URETHRAL STRICTURE AGE >17 W CC | 0.4502 | 18.8 | 15.7
329 | ⁷ URETHRAL STRICTURE AGE >17 W/O CC | 0.4502 | 18.8 | 15.7
330 | ⁷ URETHRAL STRICTURE AGE 0-17 | 0.4502 | 18.8 | 15.7
331 | OTHER KIDNEY & URINARY TRACT DIAGNOSES AGE >17 W CC | 0.8033 | 23.0 | 19.2
332 | ³ OTHER KIDNEY & URINARY TRACT DIAGNOSES AGE >17 W/O CC | 0.7586 | 24.5 | 20.4
333 | ⁷ OTHER KIDNEY & URINARY TRACT DIAGNOSES AGE 0-17 | 0.7586 | 24.5 | 20.4
334 | ² MAJOR MALE PELVIC PROCEDURES W CC | 0.5834 | 21.0 | 17.5
335 | ⁷ MAJOR MALE PELVIC PROCEDURES W/O CC | 1.6862 | 38.0 | 31.7
336 | ² TRANSURETHRAL PROSTATECTOMY W CC | 0.5834 | 21.0 | 17.5
337 | ⁷ TRANSURETHRAL PROSTATECTOMY W/O CC | 0.5834 | 21.0 | 17.5
338 | ⁷ TESTES PROCEDURES, FOR MALIGNANCY | 0.5834 | 21.0 | 17.5
339 | ⁴ TESTES PROCEDURES, NON-MALIGNANCY AGE >17 | 1.1679 | 29.6 | 24.7
340 | ⁷ TESTES PROCEDURES, NON-MALIGNANCY AGE 0-17 | 1.1679 | 29.6 | 24.7
341 | ⁴ PENIS PROCEDURES | 1.1679 | 29.6 | 24.7
342 | ⁷ CIRCUMCISION AGE >17 | 1.1679 | 29.6 | 24.7
343 | ⁷ CIRCUMCISION AGE 0-17 | 1.1679 | 29.6 | 24.7
344 | ¹ OTHER MALE REPRODUCTIVE SYSTEM O.R. PROCEDURES FOR MALIGNANCY | 0.4502 | 18.8 | 15.7
345 | ⁵ OTHER MALE REPRODUCTIVE SYSTEM O.R. PROC EXCEPT FOR MALIGNANCY | 1.6862 | 38.0 | 31.7
346 | MALIGNANCY, MALE REPRODUCTIVE SYSTEM, W CC | 0.6105 | 20.6 | 17.2
347 | ² MALIGNANCY, MALE REPRODUCTIVE SYSTEM, W/O CC | 0.5834 | 21.0 | 17.5
348 | ² BENIGN PROSTATIC HYPERTROPHY W CC | 0.5834 | 21.0 | 17.5
349 | ⁷ BENIGN PROSTATIC HYPERTROPHY W/O CC | 1.1679 | 29.6 | 24.7
350 | INFLAMMATION OF THE MALE REPRODUCTIVE SYSTEM | 0.6562 | 21.6 | 18
351 | ⁷ STERILIZATION, MALE | 1.1679 | 29.6 | 24.7
352 | OTHER MALE REPRODUCTIVE SYSTEM DIAGNOSES | 0.6360 | 23.4 | 19.5
353 | ⁷ PELVIC EVISCERATION, RADICAL HYSTERECTOMY & RADICAL VULVECTOMY | 1.1679 | 29.6 | 24.7
354 | ⁷ UTERINE,ADNEXA PROC FOR NON-OVARIAN/ADNEXAL MALIG W CC | 1.1679 | 29.6 | 24.7
355 | ⁷ UTERINE,ADNEXA PROC FOR NON-OVARIAN/ADNEXAL MALIG W/O CC | 1.1679 | 29.6 | 24.7
356 | ⁷ FEMALE REPRODUCTIVE SYSTEM RECONSTRUCTIVE PROCEDURES | 1.1679 | 29.6 | 24.7
357 | ⁷ UTERINE & ADNEXA PROC FOR OVARIAN OR ADNEXAL MALIGNANCY | 1.1679 | 29.6 | 24.7
358 | ⁷ UTERINE & ADNEXA PROC FOR NON-MALIGNANCY W CC | 1.1679 | 29.6 | 24.7
359 | ⁷ UTERINE & ADNEXA PROC FOR NON-MALIGNANCY W/O CC | 1.1679 | 29.6 | 24.7
360 | ⁴ VAGINA, CERVIX & VULVA PROCEDURES | 1.1679 | 29.6 | 24.7
361 | ⁷ LAPAROSCOPY & INCISIONAL TUBAL INTERRUPTION | 1.1679 | 29.6 | 24.7
362 | ⁷ ENDOSCOPIC TUBAL INTERRUPTION | 1.1679 | 29.6 | 24.7
363 | ⁷ D&C, CONIZATION & RADIO-IMPLANT, FOR MALIGNANCY | 1.1679 | 29.6 | 24.7
364 | ⁵ D&C, CONIZATION EXCEPT FOR MALIGNANCY | 1.6862 | 38.0 | 31.7
365 | ⁵ OTHER FEMALE REPRODUCTIVE SYSTEM O.R. PROCEDURES | 1.6862 | 38.0 | 31.7
366 | MALIGNANCY, FEMALE REPRODUCTIVE SYSTEM W CC | 0.7126 | 20.3 | 16.9
367 | ⁷ MALIGNANCY, FEMALE REPRODUCTIVE SYSTEM W/O CC | 1.1679 | 29.6 | 24.7
368 | INFECTIONS, FEMALE REPRODUCTIVE SYSTEM | 0.6455 | 20.7 | 17.3
369 | ³ MENSTRUAL & OTHER FEMALE REPRODUCTIVE SYSTEM DISORDERS | 0.7586 | 24.5 | 20.4
370 | ⁷ CESAREAN SECTION W CC | 0.7586 | 24.5 | 20.4
371 | ⁷ CESAREAN SECTION W/O CC | 0.5834 | 21.0 | 17.5
372 | ⁷ VAGINAL DELIVERY W COMPLICATING DIAGNOSES | 1.1679 | 29.6 | 24.7
373 | ⁷ VAGINAL DELIVERY W/O COMPLICATING DIAGNOSES | 1.1679 | 29.6 | 24.7
374 | ⁷ VAGINAL DELIVERY W STERILIZATION &/OR D&C | 1.1679 | 29.6 | 24.7
375 | ⁷ VAGINAL DELIVERY W O.R. PROC EXCEPT STERIL &/OR D&C | 1.1679 | 29.6 | 24.7
376 | ⁷ POSTPARTUM & POST ABORTION DIAGNOSES W/O O.R. PROCEDURE | 1.1679 | 29.6 | 24.7
377 | ⁷ POSTPARTUM & POST ABORTION DIAGNOSES W O.R. PROCEDURE | 1.1679 | 29.6 | 24.7
378 | ⁷ ECTOPIC PREGNANCY | 0.7586 | 24.5 | 20.4
379 | ⁷ THREATENED ABORTION | 1.1679 | 29.6 | 24.7
380 | ⁷ ABORTION W/O D&C | 1.1679 | 29.6 | 24.7
381 | ⁷ ABORTION W D&C, ASPIRATION CURETTAGE OR HYSTEROTOMY | 1.1679 | 29.6 | 24.7
382 | ⁷ FALSE LABOR | 1.1679 | 29.6 | 24.7
383 | ⁷ OTHER ANTEPARTUM DIAGNOSES W MEDICAL COMPLICATIONS | 1.1679 | 29.6 | 24.7
384 | ⁷ OTHER ANTEPARTUM DIAGNOSES W/O MEDICAL COMPLICATIONS | 1.1679 | 29.6 | 24.7
385 | ⁷ NEONATES, DIED OR TRANSFERRED TO ANOTHER ACUTE CARE FACILITY | 1.1679 | 29.6 | 24.7
386 | ⁷ EXTREME IMMATURITY OR RESPIRATORY DISTRESS SYNDROME, NEONATE | 1.1679 | 29.6 | 24.7
387 | ⁷ PREMATURITY W MAJOR PROBLEMS | 1.1679 | 29.6 | 24.7
388 | ⁷ PREMATURITY W/O MAJOR PROBLEMS | 1.1679 | 29.6 | 24.7
389 | ⁷ FULL TERM NEONATE W MAJOR PROBLEMS | 1.1679 | 29.6 | 24.7
390 | ⁷ NEONATE W OTHER SIGNIFICANT PROBLEMS | 1.1679 | 29.6 | 24.7
391 | ⁷ NORMAL NEWBORN | 1.1679 | 29.6 | 24.7
392 | ⁷ SPLENECTOMY AGE >17 | 0.7586 | 24.5 | 20.4
393 | ⁷ SPLENECTOMY AGE 0-17 | 0.7586 | 24.5 | 20.4
394 | ⁵ OTHER O.R. PROCEDURES OF THE BLOOD AND BLOOD FORMING ORGANS | 1.6862 | 38.0 | 31.7
395 | RED BLOOD CELL DISORDERS AGE >17 | 0.6611 | 21.8 | 18.2
396 | ⁷ RED BLOOD CELL DISORDERS AGE 0-17 | 0.5834 | 21.0 | 17.5
397 | COAGULATION DISORDERS | 0.8665 | 22.5 | 18.8
398 | RETICULOENDOTHELIAL & IMMUNITY DISORDERS W CC | 0.8193 | 23.5 | 19.6
399 | ² RETICULOENDOTHELIAL & IMMUNITY DISORDERS W/O CC | 0.5834 | 21.0 | 17.5
401 | ⁵ LYMPHOMA & NON-ACUTE LEUKEMIA W OTHER O.R. PROC W CC | 1.6862 | 38.0 | 31.7
402 | ⁷ LYMPHOMA & NON-ACUTE LEUKEMIA W OTHER O.R. PROC W/O CC | 0.5834 | 21.0 | 17.5
403 | LYMPHOMA & NON-ACUTE LEUKEMIA W CC | 0.8844 | 21.3 | 17.8
404 | ² LYMPHOMA & NON-ACUTE LEUKEMIA W/O CC | 0.5834 | 21.0 | 17.5
405 | ⁷ ACUTE LEUKEMIA W/O MAJOR O.R. PROCEDURE AGE 0-17 | 0.5834 | 21.0 | 17.5
406 | ⁴ MYELOPROLIF DISORD OR POORLY DIFF NEOPL W MAJ O.R.PROC W CC | 1.1679 | 29.6 | 24.7
407 | ⁷ MYELOPROLIF DISORD OR POORLY DIFF NEOPL W MAJ O.R.PROC W/O CC | 1.1679 | 29.6 | 24.7
408 | ⁴ MYELOPROLIF DISORD OR POORLY DIFF NEOPL W OTHER O.R.PROC | 1.1679 | 29.6 | 24.7
409 | RADIOTHERAPY | 0.8567 | 23.4 | 19.5
410 | CHEMOTHERAPY W/O ACUTE LEUKEMIA AS SECONDARY DIAGNOSIS | 1.1719 | 26.4 | 22
411 | ⁷ HISTORY OF MALIGNANCY W/O ENDOSCOPY | 1.1679 | 29.6 | 24.7
412 | ⁷ HISTORY OF MALIGNANCY W ENDOSCOPY | 1.1679 | 29.6 | 24.7
413 | OTHER MYELOPROLIF DIS OR POORLY DIFF NEOPL DIAG W CC | 0.8990 | 20.5 | 17.1
414 | ⁷ OTHER MYELOPROLIF DIS OR POORLY DIFF NEOPL DIAG W/O CC | 0.5834 | 21.0 | 17.5
415 | O.R. PROCEDURE FOR INFECTIOUS & PARASITIC DISEASES | 1.4237 | 35.5 | 29.6
416 | SEPTICEMIA AGE >17 | 0.8255 | 23.4 | 19.5
417 | ⁷ SEPTICEMIA AGE 0-17 | 0.7586 | 24.5 | 20.4
418 | POSTOPERATIVE & POST-TRAUMATIC INFECTIONS | 0.8296 | 24.7 | 20.6
419 | ³ FEVER OF UNKNOWN ORIGIN AGE >17 W CC | 0.7586 | 24.5 | 20.4
420 | ⁷ FEVER OF UNKNOWN ORIGIN AGE >17 W/O CC | 0.7586 | 24.5 | 20.4
421 | VIRAL ILLNESS AGE >17 | 0.9474 | 27.3 | 22.8
422 | ⁷ VIRAL ILLNESS & FEVER OF UNKNOWN ORIGIN AGE 0-17 | 0.4502 | 18.8 | 15.7
423 | OTHER INFECTIOUS & PARASITIC DISEASES DIAGNOSES | 0.9403 | 21.7 | 18.1
424 | ³ O.R. PROCEDURE W PRINCIPAL DIAGNOSES OF MENTAL ILLNESS | 0.7586 | 24.5 | 20.4
425 | ² ACUTE ADJUSTMENT REACTION & PSYCHOLOGICAL DYSFUNCTION | 0.5834 | 21.0 | 17.5
426 | DEPRESSIVE NEUROSES | 0.4131 | 20.7 | 17.3
427 | NEUROSES EXCEPT DEPRESSIVE | 0.4713 | 23.8 | 19.8
428 | ¹ DISORDERS OF PERSONALITY & IMPULSE CONTROL | 0.4502 | 18.8 | 15.7
429 | ORGANIC DISTURBANCES & MENTAL RETARDATION | 0.5831 | 26.5 | 22.1
430 | PSYCHOSES | 0.4350 | 24.1 | 20.1
431 | ¹ CHILDHOOD MENTAL DISORDERS | 0.4502 | 18.8 | 15.7
432 | ² OTHER MENTAL DISORDER DIAGNOSES | 0.5834 | 21.0 | 17.5
433 | ² ALCOHOL/DRUG ABUSE OR DEPENDENCE, LEFT AMA | 0.5834 | 21.0 | 17.5
439 | SKIN GRAFTS FOR INJURIES | 1.3758 | 35.6 | 29.7
440 | WOUND DEBRIDEMENTS FOR INJURIES | 1.3261 | 35.9 | 29.9
441 | ¹ HAND PROCEDURES FOR INJURIES | 0.4502 | 18.8 | 15.7
442 | OTHER O.R. PROCEDURES FOR INJURIES W CC | 1.4028 | 33.4 | 27.8
443 | ³ OTHER O.R. PROCEDURES FOR INJURIES W/O CC | 0.7586 | 24.5 | 20.4
444 | TRAUMATIC INJURY AGE >17 W CC | 0.7551 | 25.9 | 21.6
445 | ¹ TRAUMATIC INJURY AGE >17 W/O CC | 0.4502 | 18.8 | 15.7
446 | ⁷ TRAUMATIC INJURY AGE 0-17 | 0.4502 | 18.8 | 15.7
447 | ² ALLERGIC REACTIONS AGE >17 | 0.5834 | 21.0 | 17.5
448 | ⁷ ALLERGIC REACTIONS AGE 0-17 | 0.5834 | 21.0 | 17.5
449 | ³ POISONING & TOXIC EFFECTS OF DRUGS AGE >17 W CC | 0.7586 | 24.5 | 20.4
450 | ⁷ POISONING & TOXIC EFFECTS OF DRUGS AGE >17 W/O CC | 0.7586 | 24.5 | 20.4
451 | ⁷ POISONING & TOXIC EFFECTS OF DRUGS AGE 0-17 | 0.7586 | 24.5 | 20.4
452 | COMPLICATIONS OF TREATMENT W CC | 0.9139 | 25.2 | 21
453 | COMPLICATIONS OF TREATMENT W/O CC | 0.5449 | 23.2 | 19.3
454 | ³ OTHER INJURY, POISONING & TOXIC EFFECT DIAG W CC | 0.7586 | 24.5 | 20.4
455 | ⁷ OTHER INJURY, POISONING & TOXIC EFFECT DIAG W/O CC | 0.7586 | 24.5 | 20.4
461 | O.R. PROC W DIAGNOSES OF OTHER CONTACT W HEALTH SERVICES | 1.2315 | 34.0 | 28.3
462 | REHABILITATION | 0.5815 | 22.4 | 18.7
463 | SIGNS & SYMPTOMS W CC | 0.6234 | 23.7 | 19.8
464 | SIGNS & SYMPTOMS W/O CC | 0.5565 | 24.1 | 20.1
465 | AFTERCARE W HISTORY OF MALIGNANCY AS SECONDARY DIAGNOSIS | 0.6959 | 21.8 | 18.2
466 | AFTERCARE W/O HISTORY OF MALIGNANCY AS SECONDARY DIAGNOSIS | 0.6713 | 21.9 | 18.3
467 | ³ OTHER FACTORS INFLUENCING HEALTH STATUS | 0.7586 | 24.5 | 20.4
468 | EXTENSIVE O.R. PROCEDURE UNRELATED TO PRINCIPAL DIAGNOSIS | 2.1439 | 40.0 | 33.3
469 | ⁶ PRINCIPAL DIAGNOSIS INVALID AS DISCHARGE DIAGNOSIS | 0.0000 | 1.0 | 0.8
470 | ⁶ UNGROUPABLE | 0.0000 | 1.0 | 0.8
471 | ⁵ BILATERAL OR MULTIPLE MAJOR JOINT PROCS OF LOWER EXTREMITY | 1.6862 | 38.0 | 31.7
473 | ACUTE LEUKEMIA W/O MAJOR O.R. PROCEDURE AGE >17 | 0.8580 | 20.0 | 16.7
475 | RESPIRATORY SYSTEM DIAGNOSIS WITH VENTILATOR SUPPORT | 2.0848 | 34.5 | 28.8
476 | ⁴ PROSTATIC O.R. PROCEDURE UNRELATED TO PRINCIPAL DIAGNOSIS | 1.1679 | 29.6 | 24.7
477 | NON-EXTENSIVE O.R. PROCEDURE UNRELATED TO PRINCIPAL DIAGNOSIS | 1.5867 | 35.2 | 29.3
478 | OTHER VASCULAR PROCEDURES W CC | 1.3338 | 30.7 | 25.6
479 | ⁷ OTHER VASCULAR PROCEDURES W/O CC | 1.1679 | 29.6 | 24.7
480 | ⁶ LIVER TRANSPLANT | 0.0000 | 1.0 | 0.8
481 | ⁷ BONE MARROW TRANSPLANT | 1.6862 | 38.0 | 31.7
482 | ³ TRACHEOSTOMY FOR FACE, MOUTH & NECK DIAGNOSES | 0.7586 | 24.5 | 20.4
484 | ² CRANIOTOMY FOR MULTIPLE SIGNIFICANT TRAUMA | 0.5834 | 21.0 | 17.5
485 | ⁷ LIMB REATTACHMENT, HIP AND FEMUR PROC FOR MULTIPLE SIGNIFICANT TR | 0.7586 | 24.5 | 20.4
486 | ⁵ OTHER O.R. PROCEDURES FOR MULTIPLE SIGNIFICANT TRAUMA | 1.6862 | 38.0 | 31.7
487 | OTHER MULTIPLE SIGNIFICANT TRAUMA | 0.9046 | 26.0 | 21.7
488 | ⁵ HIV W EXTENSIVE O.R. PROCEDURE | 1.6862 | 38.0 | 31.7
489 | HIV W MAJOR RELATED CONDITION | 0.8348 | 21.1 | 17.6
490 | HIV W OR W/O OTHER RELATED CONDITION | 0.5012 | 16.4 | 13.7
491 | ⁵ MAJOR JOINT & LIMB REATTACHMENT PROCEDURES OF UPPER EXTREMITY | 1.6862 | 38.0 | 31.7
492 | ⁷ CHEMOTHERAPY W ACUTE LEUKEMIA OR W USE OF HI DOSE CHEMOAGENT | 1.6862 | 38.0 | 31.7
493 | ⁴ LAPAROSCOPIC CHOLECYSTECTOMY W/O C.D.E. W CC | 1.1679 | 29.6 | 24.7
494 | ⁷ LAPAROSCOPIC CHOLECYSTECTOMY W/O C.D.E. W/O CC | 1.1679 | 29.6 | 24.7
495 | ⁶ LUNG TRANSPLANT | 0.0000 | 1.0 | 0.8
496 | ⁷ COMBINED ANTERIOR/POSTERIOR SPINAL FUSION | 1.1679 | 29.6 | 24.7
497 | ⁴ SPINAL FUSION W CC | 1.1679 | 29.6 | 24.7
498 | ⁷ SPINAL FUSION EXCEPT CERVICAL W/O CC | 1.1679 | 29.6 | 24.7
499 | ⁵ BACK & NECK PROCEDURES EXCEPT SPINAL FUSION W CC | 1.6862 | 38.0 | 31.7
500 | ⁴ BACK & NECK PROCEDURES EXCEPT SPINAL FUSION W/O CC | 1.1679 | 29.6 | 24.7
501 | ⁵ KNEE PROCEDURES W PDX OF INFECTION W CC | 1.6862 | 38.0 | 31.7
502 | ⁴ KNEE PROCEDURES W PDX OF INFECTION W/O CC | 1.1679 | 29.6 | 24.7
503 | ² KNEE PROCEDURES W/O PDX OF INFECTION | 0.5834 | 21.0 | 17.5
504 | ⁷ EXTENSIVE BURNS OF FULL THICKNESS BURNS WITH MECH VENT 96+HRS WITH SKIN GRAFT | 1.6862 | 38.0 | 31.7
505 | ⁴ EXTENSIVE BURN OR FULL THICKNESS BURNS WITH MECH VENT 96+ HOURS WITHOUT SKIN GRAFT | 1.1679 | 29.6 | 24.7
506 | ⁴ FULL THICKNESS BURN W SKIN GRAFT OR INHAL INJ W CC OR SIG TRAUMA | 1.1679 | 29.6 | 24.7
507 | ³ FULL THICKNESS BURN W SKIN GRFT OR INHAL INJ W/O CC OR SIG TRAUMA | 0.7586 | 24.5 | 20.4
508 | FULL THICKNESS BURN W/O SKIN GRFT OR INHAL INJ W CC OR SIG TRAUMA | 0.8403 | 29.4 | 24.5
509 | ¹ FULL THICKNESS BURN W/O SKIN GRFT OR INH INJ W/O CC OR SIG TRAUMA | 0.4502 | 18.8 | 15.7
510 | NON-EXTENSIVE BURNS W CC OR SIGNIFICANT TRAUMA | 0.7737 | 24.6 | 20.5
511 | ¹ NON-EXTENSIVE BURNS W/O CC OR SIGNIFICANT TRAUMA | 0.4502 | 18.8 | 15.7
512 | ⁶ SIMULTANEOUS PANCREAS/KIDNEY TRANSPLANT | 0.0000 | 1.0 | 0.8
513 | ⁶ PANCREAS TRANSPLANT | 0.0000 | 1.0 | 0.8
515 | ⁵ CARDIAC DEFIBRILATOR IMPLANT W/O CARDIAC CATH | 1.6862 | 38.0 | 31.7
517 | ⁵ PERCUTANEOUS CARDIVASCULAR PROC W NON-DRUG ELUTING STENT W/O AMI | 1.6862 | 38.0 | 31.7
518 | ³ PERCUTANEOUS CARDIVASCULAR PROC W/O CORONARY ARTERY STENT OR AMI | 0.7586 | 24.5 | 20.4
519 | ⁵ CERVICAL SPINAL FUSION W CC | 1.6862 | 38.0 | 31.7
520 | ⁷ CERVICAL SPINAL FUSION W/O CC | 1.1679 | 29.6 | 24.7
521 | ALCOHOL/DRUG ABUSE OR DEPENDENCE W CC | 0.4533 | 19.8 | 16.5
522 | ⁷ ALCOHOL/DRUG ABUSE OR DEPENDENCE W REHABILITATION THERAPY W/O CC | 0.4502 | 18.8 | 15.7
523 | ⁷ ALCOHOL/DRUG ABUSE OR DEPENDENCE W/O REHABILITATION THERAPY W/O CC | 0.4502 | 18.8 | 15.7
524 | TRANSIENT ISCHEMIA | 0.5069 | 21.1 | 17.6
525 | ⁷ OTHER HEART ASSIST SYSTEM IMPLANT | 1.6862 | 38.0 | 31.7
527 | ⁵ PERCUTANEOUS CARVIOVASCULAR PROC W DRUG-ELUTING STENT W/O AMI | 1.6862 | 38.0 | 31.7
528 | ⁷ INTRACRANIAL VASCULAR PROC W PDX HEMORRHAGE | 1.6862 | 38.0 | 31.7
529 | ⁵ VENTRICULAR SHUNT PROCEDURES W CC | 1.6862 | 38.0 | 31.7
530 | ⁷ VENTRICULAR SHUNT PROCEDURES W/O CC | 1.6862 | 38.0 | 31.7
531 | ³ SPINAL PROCEDURES WITH CC | 0.7586 | 24.5 | 20.4
532 | ⁸ SPINAL PROCEDURES WITHOUT CC | 0.7586 | 24.5 | 20.4
533 | ⁵ EXTRACRANIAL VASCULAR PROCEDURES WITH CC | 1.6862 | 38.0 | 31.7
534 | ⁷ EXTRACRANIAL PROCEDURES W/O CC | 1.1679 | 29.6 | 24.7
535 | ⁷ CARDIAC DEFIB IMPLANT W CARDIAC CATH W AMI/HF/SHOCK | 1.6862 | 38.0 | 31.7
536 | ⁷ CARDIAC DEFIB IMPLANT W CARDIAC CATH W/O AMI/HF/SHOCK | 1.6862 | 38.0 | 31.7
537 | LOCAL EXCISION AND REMOVAL OF INTERNAL FIXATION DEVICES EXCEPT HIP AND FEMUR WITH CC | 1.1670 | 34.6 | 28.8
538 | ⁷ LOCAL EXCISION AND REMOVAL OF INTERNAL FIXATION DEVICES EXCEPT HIP AND FEMUR WITHOUT CC | 1.1679 | 29.6 | 24.7
539 | ⁴ LYMPHOMA AND LEUKEMIA WITH MAJOR O.R. PROCEDURE WITH CC | 1.1679 | 29.6 | 24.7
540 | ⁷ LYMPHOMA & LEUKEMIA W MAJOR OR PROCEDURE W/O CC | 0.5834 | 21.0 | 17.5
541 | ECMO OR TRACH W MECH VENT 96+ HRS OR PDX EXCEPT FACE, MOUTH & NECK DIAG WITH MAJOR OR | 4.2566 | 65.6 | 54.7
542 | TRACH W MECH VENT 96+ HRS OR PDX EXCEPT FACE, MOUTH & NECK DIAG WITHOUT MAJOR OR | 3.1821 | 47.9 | 39.9
543 | ⁵ CRANIOTOMY W IMPLANT OF CHEMO AGENT OR ACUTE COMPLEX CNS PDX | 1.6862 | 38.0 | 31.7
544 | ⁵ MAJOR JOINT REPLACEMENT OR REATTACHMENT OF LOWER EXTREMITY | 1.6862 | 38.0 | 31.7
545 | ⁵ REVISION OF HIP OR KNEE REPLACEMENT | 1.6862 | 38.0 | 31.7
546 | ⁷ SPINAL FUSION EXCEPT CERVICAL WITH PRINCIPAL DIAGNOSIS OF CURVATURE OF SPINE OR MALIGNANCY | 1.6862 | 38.0 | 31.7
547 | ⁷ PERCUTANEOUS CARDIOVASCULAR PROCEDURE WITH AMI WITH CC | 1.6862 | 38.0 | 31.7
548 | ⁷ PERCUTANEOUS CARDIOVASCULAR PROCEDURE WITH AMI WITHOUT CC | 1.6862 | 38.0 | 31.7
549 | ⁷ PERCUTANEOUS CARDIOVASCULAR PROCEDURE WITH DRUG-ELUTING STENT WITH AMI WITH CC | 1.6862 | 38.0 | 31.7
550 | ⁷ PERCUTANEOUS CARDIOVASCULAR PROCEDURE WITH DRUG-ELUTING STENT WITH AMI WITHOUT CC | 1.6862 | 38.0 | 31.7
¹ Proposed relative weights for these proposed LTC-DRGs were determined by assigning these cases to proposed low-volume quintile 1.
² Proposed relative weights for these proposed LTC-DRGs were determined by assigning these cases to proposed low-volume quintile 2.
³ Proposed relative weights for these proposed LTC-DRGs were determined by assigning these cases to proposed low-volume quintile quintile 3.
⁴ Proposed relative weights for these proposed LTC-DRGs were determined by assigning these cases to proposed low-volume quintile 4.
⁵ Proposed relative weights for these proposed LTC-DRGs were determined by assigning these cases to proposed low-volume quintile quintile 5.
⁶ Proposed relative weights for these proposed LTC-DRGs were assigned a value of 0.0000.
⁷ Proposed relative weights for these proposed LTC-DRGs were determined by assigning these cases to the appropriate proposed low volume quintile because there are no LTCH cases in the FY 2004 MedPAR file.
⁸ Proposed relative weights for these proposed LTC-DRGs were determined after adjusting to account for nonmonotonicity (see step 5 above).

Appendix A—Regulatory Analysis of Impacts

(If you choose to comment on issues in this section, please include the caption “Impact Analyses” at the beginning of your comment.)

I. Background and Summary

We have examined the impacts of this proposed rule as required by Executive Order 12866 (September 1993, Regulatory Planning and Review) and the Regulatory Flexibility Act (RFA) (September 19, 1980, Pub. L. 96-354), section 1102(b) of the Social Security Act, the Unfunded Mandates Reform Act of 1995 (Pub. L. 104-4), and Executive Order 13132.

Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We have determined that this proposed rule is a major rule as defined in 5 U.S.C. 804(2). We estimate that the total impact of these proposed changes for FY 2006 payments compared to FY 2005 payments to be approximately a $2.40 billion increase. This amount does not reflect changes in hospital admissions or case-mix intensity, which would also affect overall payment changes.

The RFA requires agencies to analyze options for regulatory relief of small businesses. For purposes of the RFA, small entities include small businesses, nonprofit organizations, and government agencies. Most hospitals and most other providers and suppliers are small entities, either by nonprofit status or by having revenues of $5 million to $25 million in any 1 year. For purposes of the RFA, all hospitals and other providers and suppliers are considered to be small entities. Individuals and States are not included in the definition of a small entity.

In addition, section 1102(b) of the Act requires us to prepare a regulatory impact analysis for any proposed rule that may have a significant impact on the operations of a substantial number of small rural hospitals. This analysis must conform to the provisions of section 603 of the RFA. With the exception of hospitals located in certain New England counties, for purposes of section 1102(b) of the Act, we previously defined a small rural hospital as a hospital with fewer than 100 beds that is located outside of a Metropolitan Statistical Area (MSA) or New England County Metropolitan Area (NECMA). However, under the new labor market definitions, we no longer employ NECMAs to define urban areas in New England. Therefore, we now define a small rural hospital as a hospital with fewer than 100 beds that is located outside of a Metropolitan Statistical Area (MSA). Section 601(g) of the Social Security Amendments of 1983 (Pub. L. 98-21) designated hospitals in certain New England counties as belonging to the adjacent NECMA. Thus, for purposes of the IPPS, we continue to classify these hospitals as urban hospitals.

Section 202 of the Unfunded Mandates Reform Act of 1995 (Pub. L. 104-4) also requires that agencies assess anticipated costs and benefits before issuing any proposed rule (or a final rule that has been preceded by a proposed rule) that may result in an expenditure in any one year by State, local, or tribal governments, in the aggregate, or by the private sector, of $110 million. This proposed rule will not mandate any requirements for State, local, or tribal governments.

Executive Order 13132 establishes certain requirements that an agency must meet when it promulgates a proposed rule (and subsequent final rule) that imposes substantial direct requirement costs on State and local governments, preempts State law, or otherwise has Federalism implications. We have reviewed this proposed rule in light of Executive Order 13132 and have determined that it would not have any negative impact on the rights, roles, and responsibilities of State, local, or tribal governments.

In accordance with the provisions of Executive Order 12866, this proposed rule was reviewed by the Office of Management and Budget.

The following analysis, in conjunction with the remainder of this document, demonstrates that this proposed rule is consistent with the regulatory philosophy and principles identified in Executive Order 12866, the RFA, and section 1102(b) of the Act. The proposed rule will affect payments to a substantial number of small rural hospitals, as well as other classes of hospitals, and the effects on some hospitals may be significant.

II. Objectives

The primary objective of the IPPS is to create incentives for hospitals to operate efficiently and minimize unnecessary costs while at the same time ensuring that payments are sufficient to adequately compensate hospitals for their legitimate costs. In addition, we share national goals of preserving the Medicare Trust Fund.

We believe the proposed changes in this proposed rule will further each of these goals while maintaining the financial viability of the hospital industry and ensuring access to high quality health care for Medicare beneficiaries. We expect that these proposed changes will ensure that the outcomes of this payment system are reasonable and equitable while avoiding or minimizing unintended adverse consequences.

III. Limitations of Our Analysis

The following quantitative analysis presents the projected effects of our proposed policy changes, as well as statutory changes effective for FY 2006, on various hospital groups. We estimate the effects of individual policy changes by estimating payments per case while holding all other payment policies constant. We use the best data available, but we do not attempt to predict behavioral responses to our policy changes, and we do not make adjustments for future changes in such variables as admissions, lengths of stay, or case-mix. As we have done in the previous proposed rules, we are soliciting comments and information about the anticipated effects of these proposed changes on hospitals and our methodology for estimating them. Any comments that we receive in response to this proposed rule will be addressed in the final rule.

IV. Hospitals Included In and Excluded From the IPPS

The prospective payment systems for hospital inpatient operating and capital-related costs encompass nearly all general short-term, acute care hospitals that participate in the Medicare program. There were 35 Indian Health Service hospitals in our database, which we excluded from the analysis due to the special characteristics of the prospective payment method for these hospitals. Among other short-term, acute care hospitals, only the 46 such hospitals in Maryland remain excluded from the IPPS under the waiver at section 1814(b)(3) of the Act.

As of March 2005, there are 3,693 IPPS hospitals to be included in our analysis. This represents about 63 percent of all Medicare-participating hospitals. The majority of this impact analysis focuses on this set of hospitals. There are also approximately 974 critical access hospitals (CAHs). These small, limited service hospitals are paid on the basis of reasonable costs rather than under the IPPS. There are also 1,138 specialty hospitals and units that are excluded from the IPPS. These specialty hospitals include psychiatric hospitals and units, rehabilitation hospitals and units, long-term care hospitals, children's hospitals, and cancer hospitals. The impacts of our proposed policy changes on these hospitals are discussed below.

V. Impact on Excluded Hospitals and Hospital Units

As of March 2005, there were 1,138 specialty hospitals excluded from the IPPS. Of these 1,138 specialty hospitals, 467 psychiatric hospitals, 80 children's, 11 cancer hospitals, and 21 LTCHs that are paid under the LTCH PPS blend methodology are being paid, in whole or in part, on a reasonable cost basis subject to the rate-of-increase ceiling under § 413.40. The remaining providers—218 IRFs and 361 LTCHs are paid 100 percent of the Federal prospective rate under the IRF PPS and the LTCH PPS, respectively. In addition, there were 1,342 psychiatric units (paid on a blend of the IPF PPS per diem payment and the TEFRA reasonable cost-based payment) and 1,006 rehabilitation units (paid under the IRF PPS) in hospitals otherwise subject to the IPPS. Under § 413.40(a)(2)(i)(A), the rate-of-increase ceiling is not applicable to the 46 specialty hospitals and units in Maryland that are paid in accordance with the waiver at section 1814(b)(3) of the Act.

In the past, hospitals and units excluded from the IPPS have been paid based on their reasonable costs subject to limits as established by the Tax Equity and Fiscal Responsibility Act of 1982 (TEFRA). Hospitals that continue to be paid based on their reasonable costs are subject to TEFRA limits for FY 2006. For these hospitals, the proposed update is the percentage increase in the excluded hospital market basket, currently estimated at 3.4 percent.

Inpatient rehabilitation facilities (IRFs) are paid under a prospective payment system (IRF PPS) for cost reporting periods beginning on or after January 1, 2002. For cost reporting periods beginning during FY 2005, the IRF PPS is based on 100 percent of the adjusted Federal IRF prospective payment amount, updated annually. Therefore, these hospitals are not impacted by this proposed rule.

Effective for cost reporting periods beginning on or after October 1, 2002, LTCHs are paid under a LTCH PPS, based on a Federal prospective payment amount that is updated annually. LTCHs will receive a blended payment that consists of the Federal prospective payment rate and a reasonable cost-based payment rate over a 5-year transition period. However, under the LTCH PPS, a LTCH may also elect to be paid at 100 percent of the Federal prospective rate at the beginning of any of its cost reporting periods during the 5-year transition period. For purposes of the update factor, the portion of the LTCH PPS transition blend payment based on reasonable costs for inpatient operating services would be determined by updating the LTCH's TEFRA limit by the estimate of the excluded hospital market basket (or 3.4 percent).

Section 124 of the Medicare, Medicaid, and SCHIP Balanced Budget Refinement Act of 1999 (BBRA) required the development of a per diem prospective payment system (PPS) for payment of inpatient hospital services furnished in psychiatric hospitals and psychiatric units of acute care hospitals and CAHs (inpatient psychiatric facilities (IPFs)). We published a final rule to implement the IPF PPS on November 15, 2004 (69 FR 66922). The final rule established a 3-year transition to the IPF PPS during which some providers will receive a blend of the IPF PPS per diem payment and the TEFRA reasonable cost-based payment. For purposes of determining what the TEFRA payment to the IPF would be, we are proposing that the IPF's TEFRA limit will be updated by the estimate of the excluded hospital market basket (or 3.4 percent).

The impact on excluded hospitals and hospital units of the update in the rate-of-increase limit depends on the cumulative cost increases experienced by each excluded hospital or unit since its applicable base period. For excluded hospitals and units that have maintained their cost increases at a level below the rate-of-increase limits since their base period, the major effect is on the level of incentive payments these hospitals and hospital units receive. Conversely, for excluded hospitals and hospital units with per-case cost increases above the cumulative update in their rate-of-increase limits, the major effect is the amount of excess costs that will not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and hospital units can obtain payment adjustments for justifiable increases in operating costs that exceed the limit. However, at the same time, by generally limiting payment increases, we continue to provide an incentive for excluded hospitals and hospital units to restrain the growth in their spending for patient services.

VI. Quantitative Impact Analysis of the Policy Changes Under the IPPS for Operating Costs

A. Basis and Methodology of Estimates

In this proposed rule, we are announcing policy changes and payment rate updates for the IPPS for operating costs. Changes to the capital payments are discussed in section VIII. of this Appendix. Based on the overall percentage change in payments per case estimated using our payment simulation model (a 2.5 percent increase), we estimate the total impact of these proposed changes for FY 2006 operating payments compared to FY 2005 operating payments to be approximately a $2.41 billion increase. This amount does not reflect changes in hospital admissions or case-mix intensity, which would also affect overall payment changes.

We have prepared separate impact analyses of the proposed changes to each system. This section deals with proposed changes to the operating prospective payment system. Our payment simulation model relies on the most recent available data to enable us to estimate the impacts on payments per case of certain changes we are proposing in this rule. However, there are other changes we are proposing for which we do not have data available that would allow us to estimate the payment impacts using this model. For those proposed changes, we have attempted to predict the payment impacts of those proposed changes based upon our experience and other more limited data.

The data used in developing the quantitative analyses of changes in payments per case presented below are taken from the FY 2004 MedPAR file and the most current Provider-Specific File that is used for payment purposes. Although the analyses of the changes to the operating PPS do not incorporate cost data, data from the most recently available hospital cost report were used to categorize hospitals. Our analysis has several qualifications. First, we do not make adjustments for behavioral changes that hospitals may adopt in response to the proposed policy changes, and we do not adjust for future changes in such variables as admissions, lengths of stay, or case-mix. Second, due to the interdependent nature of the IPPS payment components, it is very difficult to precisely quantify the impact associated with each proposed change. Third, we draw upon various sources for the data used to categorize hospitals in the tables. In some cases, particularly the number of beds, there is a fair degree of variation in the data from different sources. We have attempted to construct these variables with the best available source overall. However, for individual hospitals, some miscategorizations are possible.

Using cases in the FY 2004 MedPAR file, we simulated payments under the operating IPPS given various combinations of payment parameters. Any short-term, acute care hospitals not paid under the IPPS (Indian Health Service hospitals and hospitals in Maryland) were excluded from the simulations. The impact of payments under the capital IPPS, or the impact of payments for costs other than inpatient operating costs, are not analyzed in this section. Estimated payment impacts of proposed FY 2006 changes to the capital IPPS are discussed in section VIII of this Appendix.

The proposed changes discussed separately below are the following:

• The effects of the annual reclassification of diagnoses and procedures and the recalibration of the DRG relative weights required by section 1886(d)(4)(C) of the Act.

• The effects of the proposed changes in hospitals' wage index values reflecting wage data from hospitals' cost reporting periods beginning during FY 2002, compared to the FY 2001 wage data.

• The effect of the proposed change in the way we use the wage data for hospitals that reclassify as rural under section 401 of the BBRA to compute wage indexes.

• The effect of the proposed wage and recalibration budget neutrality factors.

• The effect of the remaining labor market area transition for those hospitals that were urban under the old labor market area designations and are now considered rural hospitals.

• The effects of geographic reclassifications by the MGCRB that will be effective in FY 2006.

• The effects of section 505 of Pub. L. 108-173, which provides for an increase in a hospital's wage index if the hospital qualifies by meeting a threshold percentage of residents of the county where the hospital is located who commute to work at hospitals in counties with higher wage indexes.

• The total change in payments based on proposed FY 2006 policies and MMA-imposed changes relative to payments based on FY 2005 policies.

To illustrate the impacts of the proposed FY 2006 changes, our analysis begins with a FY 2006 baseline simulation model using: the proposed update of 3.2 percent; the FY 2005 DRG GROUPER (version 22.0); the CBSA designations for hospitals based on OMB's June 2003 MSA definitions; the FY 2005 wage index; and no MGCRB reclassifications. Outlier payments are set at 5.1 percent of total operating DRG and outlier payments.

Section 1886(b)(3)(B)(vii) of the Act, as added by section 501(b) of Pub. L. 108-173, provides that, for FYs 2005 through 2007, the update factors will be reduced by 0.4 percentage points for any hospital that does not submit quality data. For purposes of the FY 2006 simulations in this proposed impact analysis, we are assuming all hospitals will qualify for the full update.

Each proposed and statutory policy change is then added incrementally to this baseline model, finally arriving at an FY 2006 model incorporating all of the proposed changes. This allows us to isolate the effects of each proposed change.

Our final comparison illustrates the percent change in payments per case from FY 2005 to FY 2006. Three factors not discussed separately have significant impacts here. The first is the update to the standardized amount. In accordance with section 1886(b)(3)(B)(i) of the Act, we have updated standardized amounts for FY 2006 using the most recently forecasted hospital market basket increase for FY 2006 of 3.2 percent. (Hospitals that fail to comply with the quality data submission requirement to receive the full update will receive an update reduced by 0.4 percentage points to 2.8 percent.) Under section 1886(b)(3)(B)(iv) of the Act, the updates to the hospital-specific amounts for sole community hospitals (SCHs) and for Medicare-dependent small rural hospitals (MDHs) are also equal to the market basket increase, or 3.2 percent.

A second significant factor that impacts changes in hospitals' payments per case from FY 2005 to FY 2006 is the change in MGCRB status from one year to the next. That is, hospitals reclassified in FY 2005 that are no longer reclassified in FY 2006 may have a negative payment impact going from FY 2005 to FY 2006; conversely, hospitals not reclassified in FY 2005 that are reclassified in FY 2006 may have a positive impact. In some cases, these impacts can be quite substantial, so if a relatively small number of hospitals in a particular category lose their reclassification status, the percentage change in payments for the category may be below the national mean. However, this effect is alleviated by section 1886(d)(10)(D)(v) of the Act, which provides that reclassifications for purposes of the wage index are for a 3-year period.

A third significant factor is that we currently estimate that actual outlier payments during FY 2005 will be 4.4 percent of total DRG payments. When the FY 2005 final rule was published, we projected FY 2005 outlier payments would be 5.1 percent of total DRG plus outlier payments; the average standardized amounts were offset correspondingly. The effects of the lower than expected outlier payments during FY 2005 (as discussed in the Addendum to this proposed rule) are reflected in the analyses below comparing our current estimates of FY 2005 payments per case to estimated FY 2006 payments per case (with outlier payments projected to equal 5.1 percent of total DRG payments).

B. Analysis of Table I

Table I displays the results of our analysis of proposed changes for FY 2006. The table categorizes hospitals by various geographic and special payment consideration groups to illustrate the varying impacts on different types of hospitals. The top row of the table shows the overall impact on the 3,693 hospitals included in the analysis. This number is 204 fewer hospitals than were included in the impact analysis in the FY 2005 final rule (69 FR 49758 ).

The next four rows of Table I contain hospitals categorized according to their geographic location: All urban, which is further divided into large urban and other urban; and rural. There are 2,537 hospitals located in urban areas included in our analysis. Among these, there are 1,399 hospitals located in large urban areas (populations over 1 million), and 1,138 hospitals in other urban areas (populations of 1 million or fewer). In addition, there are 1,156 hospitals in rural areas. The next two groupings are by bed-size categories, shown separately for urban and rural hospitals. The final groupings by geographic location are by census divisions, also shown separately for urban and rural hospitals.

The second part of Table I shows hospital groups based on hospitals' FY 2006 payment classifications, including any reclassifications under section 1886(d)(10) of the Act. For example, the rows labeled urban, large urban, other urban, and rural show that the number of hospitals paid based on these categorizations after consideration of geographic reclassifications are 2,575, 1,410, 1,165, and 1,118, respectively.

The next three groupings examine the impacts of the proposed changes on hospitals grouped by whether or not they have GME residency programs (teaching hospitals that receive an IME adjustment) or receive DSH payments, or some combination of these two adjustments. There are 2,615 nonteaching hospitals in our analysis, 841 teaching hospitals with fewer than 100 residents, and 237 teaching hospitals with 100 or more residents.

In the DSH categories, hospitals are grouped according to their DSH payment status, and whether they are considered urban or rural for DSH purposes. The next category groups hospitals considered urban after geographic reclassification, in terms of whether they receive the IME adjustment, the DSH adjustment, both, or neither.

The next five rows examine the impacts of the proposed changes on rural hospitals by special payment groups (SCHs, rural referral centers (RRCs), and Medicare dependant hospitals (MDHs)), as well as rural hospitals not receiving a special payment designation. There were 134 RRCs, 405 SCHs, 158 MDHs, and 73 hospitals that are both SCH and RRC.

The next two groupings are based on type of ownership and the hospital's Medicare utilization expressed as a percent of total patient days. These data are taken primarily from the FY 2002 Medicare cost report files, if available (otherwise FY 2001 data are used).

The next series of groupings concern the geographic reclassification status of hospitals. The first grouping displays all hospitals that were reclassified by the MGCRB for FY 2006. The next two groupings separate the hospitals in the first group by urban and rural status. The final two rows in Table I contain hospitals located in rural counties but deemed to be urban under section 1886(d)(8)(B) of the Act and hospitals located in urban counties, but deemed to be rural under section 1886(d)(8)(E) of the Act.

BILLING CODE 4120-01-P

BILLING CODE 4120-01-C

C. Impact of the Proposed Changes to the Postacute Care Transfer Policy (Column 2)

In Column 2 of Table I, we present the effects of Option 2 for the proposed expansion of the postacute care transfer policy, as discussed in section V.A. of the preamble to this proposed rule. We compared aggregate payments using the FY 2005 DRG relative weights (GROUPER version 22.0) and Option 2 for the proposed expansion of the postacute care transfer policy to aggregate payments using the FY 2005 DRG relative weights (GROUPER version 22.0) and the FY 2005 postacute care transfer policy. The changes we are proposing are estimated to result in a 1.1 percent decrease in payments to hospitals overall. We estimate the total savings at approximately $880 million.

To simulate the impact of this proposed policy, we calculated two sets of transfer-adjusted discharges and case-mix index values for hospitals. The first set was based on the FY 2005 transfer policy rules and the second was based on Option 2 for the proposed expanded transfer policy discussed in the preamble to this proposed rule. Estimated payments were computed for both sets of data and were then compared. The transfer-adjusted discharge fraction is calculated in one of two ways, depending on the transfer payment methodology. Under the transfer payment methodology in place in FY 2005, for all but the three DRGs receiving special payment consideration (DRGs 209, 210, and 211), this adjustment is made by adding 1 to the length of stay and dividing that amount by the geometric mean length of stay for the DRG (with the resulting fraction not to exceed 1.0). For example, a transfer after 3 days from a DRG with a geometric mean length of stay of 6 days would have a transfer-adjusted discharge fraction of 0.667 ((3+1)/6).

For transfers from any one of the three DRGs receiving the alternative payment methodology, the transfer-adjusted discharge fraction is 0.5 (to reflect that these cases receive half the full DRG amount the first day), plus one half of the result of dividing 1 plus the length of stay prior to transfer by the geometric mean length of stay for the DRG. There are 88 DRGs (including 210, 211) that would qualify to receive the special payment consideration. DRG 209 which formerly received the special payment has been split into two new DRGs 544 and 545. Both DRG 544 and DRG 545 are included in the 88 special payment DRGs as they continue to qualify to receive the alternative payment methodology. As with the above adjustment, the result is equal to the lesser of the transfer adjusted discharge fraction or 1.

The transfer-adjusted case-mix index values are calculated by summing the transfer-adjusted DRG weights and dividing by the transfer-adjusted discharges. The transfer-adjusted DRG weights are calculated by multiplying the DRG weight by the lesser of 1 or the transfer-adjusted discharge fraction for the case, divided by the geometric mean length of stay for the DRG. In this way, simulated payments per case can be compared before and after the proposed change to the transfer policy.

This proposed expansion of the policy, which represents a significant change from our prior policy, has a negative 1.1 percent payment impact overall among both urban and rural hospitals. There is only small variation among all of the hospital categories from this negative 1.1 percent impact. The areas that are most dramatically impacted are urban areas, with urban New England experiencing a 1.9 percent decline in payments and the Middle Atlantic experiencing a 1.2 percent decline. Although rural New England hospitals are losing 1.1 percent, most of the other rural regions lose less than 1 percent from this policy change. Urban areas tend to have a greater concentration of postacute care facilities to which to discharge patients than do rural areas and are, therefore, more likely to be impacted by this policy proposal.

D. Impact of the Proposed Changes to the DRG Reclassifications and Recalibration of Relative Weights (Column 3)

In Column 3 of Table I, we present the combined effects of the DRG reclassifications and recalibration, as discussed in section II. of the preamble to this proposed rule. Section 1886(d)(4)(C)(i) of the Act requires us annually to make appropriate classification changes and to recalibrate the DRG weights in order to reflect changes in treatment patterns, technology, and any other factors that may change the relative use of hospital resources.

We compared aggregate payments using the FY 2005 DRG relative weights (GROUPER version 22.0) to aggregate payments using the proposed FY 2006 DRG relative weights (GROUPER version 23.0). We note that, consistent with section 1886(d)(4)(C)(iii) of the Act, we have applied a budget neutrality factor to ensure that the overall payment impact of the DRG changes (combined with the wage index changes) is budget neutral. This proposed budget neutrality factor of 1.002494 is applied to payments in Column 6. Because this is a combined DRG reclassification and recalibration and wage index budget neutrality factor, it is not applied to payments in Column 3.

The major DRG classification changes we are proposing include: reassigning procedure code 35.52 (Repair of atrial septal defect with prosthesis, closed technique) from DRG 108 to DRG 518 (Percutaneous Cardiovascular Procedure Without Coronary Artery Stent or AMI); reassigning procedure code 37.26 (Cardiac electrophysiologic stimulation and recording studies) from DRGs 535 and 536 to DRGs 515 (Cardiac Defibrillator Implant Without Cardiac Catheterization); splitting DRG 209 into two new DRGs based on the presence or absence of the procedure codes for major joint replacement or reattachment of lower extremity and revision of hip or knee replacement, DRG 545 (Revision of Hip or Knee Replacement) and DRG 544 (Major Joint Replacement or Reattachment of Lower Extremity); reassigning procedure code 26.12 (Open biopsy of salivary gland or duct) from DRG 468 to DRG 477 (Non-Extensive O.R. Procedure Unrelated To Principal Diagnosis); reassigning the principal diagnosis codes for curvature of the spine or malignancy from DRGs 497 and 498 to new DRG 546 (Spinal Fusion Except Cervical with PDX of Curvature of the Spine or Malignancy); splitting DRGs 516 and 526 into four new DRGs based on the presence or absence of a CC, DRG 547 (Percutaneous Cardiovascular Procedure With AMI With CC), DRG 548 (Percutaneous Cardiovascular Procedure With AMI Without CC), DRG 549 (Percutaneous Cardiovascular Procedure With Drug-Eluting Stent With AMI With CC), DRG 550 (Percutaneous Cardiovascular Procedure With Drug-Eluting Stent With AMI Without CC); reassigning procedure code 39.65 (Extracorporeal membrane oxygenation [ECMO]) from DRGs 104 and 105 to DRG 541 (ECMO or Tracheostomy with Mechanical Ventilation 96+ Hours or Principal Diagnosis Except Face, Mouth and Neck Diagnoses With Major Operating Room Procedure).

In the aggregate, these proposed changes would result in a 0.1 percent increase in overall payments to hospitals. On average, the impacts of these changes on any particular hospital group are very small, with urban hospitals experiencing a 0.2 percent increase and rural hospitals experiencing a 0.1 percent decrease. The largest impact is a 0.4 percent increase among urban hospitals in New England. This is in part due to the residual effects of the proposed change to the postacute care transfer policy on the relative weights. Including a DRG in the postacute care transfer group reduces the number of cases in the DRG (cases that qualify as transfers are only counted as a fraction of a case) which in turn increases the average charge for the DRG and the weight.

E. Impact of Proposed Wage Index Changes (Column 4)

Section 1886(d)(3)(E) of the Act requires that, beginning October 1, 1993, we annually update the wage data used to calculate the wage index. In accordance with this requirement, the proposed wage index for FY 2006 is based on data submitted for hospital cost reporting periods beginning on or after October 1, 2001 and before October 1, 2002. The impact of the new data on hospital payments is isolated in Column 4 by holding the other payment parameters constant in this simulation. That is, Column 4 shows the percentage changes in payments when going from a model using the FY 2005 wage index, based on FY 2001 wage data, to a model using the FY 2006 pre-reclassification wage index, based on FY 2002 wage data. The FY 2005 wage index baseline incorporated a blended wage index of 50 percent of the MSA wage index and 50 percent of the CBSA wage index in areas where the CBSA wage index was lower than the MSA wage index to reflect the transition policy that was in effect in FY 2005. The wage data collected on the FY 2002 cost report is the same as the FY 2001 wage data that were used to calculate the FY 2005 wage index.

Column 4 shows the impacts of updating the wage data using FY 2002 cost reports. Overall, the new wage data will lead to a 0.4 percent decrease for all hospitals and for hospitals in urban areas. This decrease is due to both fluctuations in the wage data itself and the fact that the transition blended wage index, which benefited areas that were negatively impacted by the labor market transition is no longer in effect for FY 2006. Among regions, the largest increase is in the rural New England which is experiencing a 1.0 percent increase. The largest decline from updating the wage data is seen in the urban New England region (a 1.1 percent decrease).

In looking at the wage data itself, the national average hourly wage increased 6.1 percent compared to FY 2005. Therefore, the only manner in which to maintain or exceed the previous year's wage index was to match the national 6.1 increase in average hourly wage. Of the 3,617 hospitals with wage index values in both FYs 2005 and 2006, 1,642, or 45.4 percent, also experienced an average hourly wage increase of 6.1 percent or more.

The following chart compares the shifts in wage index values for hospitals for FY 2006 relative to FY 2005. Among urban hospitals, 58 will experience an increase of between 5 percent and 10 percent and 24 will experience an increase of more than 10 percent. A total of 14 rural hospitals would experience increases greater than 5 percent, but none will experience increases of greater than 10 percent. On the negative side, 56 urban hospitals will experience decreases in their wage index values of at least 5 percent, but less than 10 percent. Fourteen urban hospitals will experience decreases in their wage index values greater than 10 percent.

The following chart shows the projected impact for urban and rural hospitals.

F. Impact of Proposed Change in Treatment of Section 1886(d)(8)(E) Wage Data (Column 5)

For the FY 2006 wage index, we are proposing to leave the wage data for a hospital redesignated as rural under section 1886(d)(8)(E) of the Act in the urban area in which the hospital is geographically located for purposes of calculating the wage index of those areas. We are proposing to move the wage data for these hospitals into the rural wage index only if it increases the wage index in the rural area. In this way, the rural floor is only affected by the wage data for these redesignated hospitals if it would increase the rural wage index and thus reset the rural floor at a higher value. Previously, the wage data for these redesignated hospitals was moved into the rural area wage index calculations regardless of whether it increased or decreased the rural wage index, and this caused the rural floor for several States to be lower than it would have been had the redesignated providers' data not been included.

Column 5 shows the impact of adopting this policy. In aggregate, this policy proposal has no effect on payments to providers. Hospitals in the urban New England region experience an increase in payments of 0.2 percent, which indicates that CBSAs in that region that receive the rural floor are now receiving a higher wage index. Hospitals in West North Central are shown to experience a 0.2 decline. However, when the redesignated data are added to the rural wage index, their rural floor increases and they do not actually experience a loss from this policy. Hospitals reclassified as rural under section 1886(d)(8)(E) of the Act will experience a 0.2 percent increase.

G. Combined Impact of Proposed DRG and Wage Index Changes, Including Budget Neutrality Adjustment (Column 6)

The impact of the DRG reclassifications and recalibration on aggregate payments is required by section 1886(d)(4)(C)(iii) of the Act to be budget neutral. In addition, section 1886(d)(3)(E) of the Act specifies that any updates or adjustments to the wage index are to be budget neutral. As noted in the Addendum to this proposed rule compared simulated aggregate payments using the FY 2005 DRG relative weights and wage index to simulated aggregate payments using the proposed FY 2006 DRG relative weights and blended wage index.

We computed a proposed wage and recalibration budget neutrality factor of 1.002494. The 0.0 percent impact for all hospitals demonstrates that these changes, in combination with the budget neutrality factor, are budget neutral. In Table I, the combined overall impacts of the effects of both the DRG reclassifications and recalibration and the updated wage index are shown in Column 6. The changes in this column are the sum of the proposed changes in Columns 3, 4, and 5, combined with the budget neutrality factor and the wage index floor for urban areas required by section 4410 of Pub. L. 105-33 to be budget neutral. There also may be some variation of plus or minus 0.1 percentage point due to rounding.

Among urban regions, the largest impacts are in the West North Central region and Puerto Rico, with 0.3 and 0.4 percent declines, respectively. The Pacific region experiences the largest increase of 1.1 percent. Among rural regions, the New England region benefits the most with a 1.3 percent increase, while the Mountain region experiences the largest decline (1.2 percent).

H. Impact of Allowing Urban Hospitals That Were Converted to Rural as a Result of the CBSA Designations To Maintain the Wage Index of the MSA Where They Are Located (Column 7)

To help alleviate the decreased payments for urban hospitals that became rural under the new labor market area definitions, for purposes of the wage index, we adopted a policy in FY 2005 to allow them to maintain the wage index assignment of the MSA where they were located for the 3-year period FY 2005, FY 2006, and FY 2007. Column 7 shows the impact of the remaining labor market area transition, for those hospitals that were urban under the old labor market area designations and are now considered rural hospitals. Section 1886(d)(3)(E) of the Act specifies that any updates or adjustments to the wage index are to be budget neutral. Therefore, we applied an adjustment of 0.999529 to ensure that the effects of reclassification are budget neutral as indicated by the zero effect on payments to hospitals overall. The rural hospital row shows a 0.3 percent benefit from this provision as these hold harmless hospitals are now considered geographically rural.

I. Impact of MGCRB Reclassifications (Column 8)

Our impact analysis to this point has assumed hospitals are paid on the basis of their actual geographic location (with the exception of ongoing policies that provide that certain hospitals receive payments on bases other than where they are geographically located, such as hospitals in rural counties that are deemed urban under section 1886(d)(8)(B) of the Act). The changes in Column 8 reflect the per case payment impact of moving from this baseline to a simulation incorporating the MGCRB decisions for FY 2006. These decisions affect hospitals' standardized amount and wage index area assignments.

By February 28 of each year, the MGCRB makes reclassification determinations that will be effective for the next fiscal year, which begins on October 1. The MGCRB may approve a hospital's reclassification request for the purpose of using another area's wage index value. The proposed FY 2006 wage index values incorporate all of the MGCRB's reclassification decisions for FY 2006. The wage index values also reflect any decisions made by the CMS Administrator through the appeals and review process through February 28, 2005. Additional changes that result from the Administrator's review of MGCRB decisions or a request by a hospital to withdraw its application will be reflected in the final rule for FY 2006.

The overall effect of geographic reclassification is required by section 1886(d)(8)(D) of the Act to be budget neutral. Therefore, we applied an adjustment of 0.992905 to ensure that the effects of reclassification are budget neutral. (See section II.A.4.b. of the Addendum to this proposed rule.)

As a group, rural hospitals benefit from geographic reclassification. We estimate that their payments will rise 2.0 percent in Column 8. Payments to urban hospitals will decline by 0.3 percent. Hospitals in other urban areas will experience an overall decrease in payments of 0.2 percent, while large urban hospitals will lose 0.4 percent. Among urban hospital groups (that is, bed size, census division, and special payment status), payments generally would decline.

A positive impact is evident among all of the rural hospital groups. The smallest increase among the rural census divisions is 0.5 for the Mountain and New England regions. The largest increases are in the rural East South Central region, with an increase of 3.0 percent and in the West South Central region, which would experience an increase of 2.5 percent.

Urban hospitals reclassified for FY 2006 are expected to receive an increase of 2.3 percent, while rural reclassified hospitals are expected to benefit from the MGCRB changes with a 3.7 percent increase in payments. Payments to urban and rural hospitals that did not reclassify are expected to decrease slightly due to the MGCRB changes, decreasing by 0.6 percent for urban hospitals and 0.3 percent for rural hospitals.

J. Impacts of the Proposed Wage Index Adjustment for Out-Migration (Column 9)

Section 1886(d)(13) of the Act, as added by section 505 of Pub. L. 108-173, provides for an increase in the wage index for hospitals located in certain counties that have a relatively high percentage of hospital employees who reside in the county, but work in a different area with a higher wage index. Hospitals located in counties that qualify for the payment adjustment are to receive an increase in the wage index that is equal to a weighted average of the difference between the wage index of the resident county and the higher wage index work area(s), weighted by the overall percentage of workers who are employed in an area with a higher wage index. Using our established criteria, 345 counties and 688 hospitals qualify to receive a commuting adjustment in FY 2006.

Due to the statutory formula to calculate the adjustment and the small number of counties that qualify, the impact on hospitals is minimal, with an overall impact on all hospitals of 0.1 percent.

K. All Changes (Column 10)

Column 10 compares our estimate of payments per case, incorporating all changes reflected in this proposed rule for FY 2006 (including statutory changes), to our estimate of payments per case in FY 2005. This column includes all of the proposed policy changes. Because the reclassifications shown in Column 8 do not reflect FY 2005 reclassifications, the impacts of FY 2006 reclassifications only affect the impacts from FY 2005 to FY 2006 if the reclassification impacts for any group of hospitals are different in FY 2006 compared to FY 2005.

• Column 10 reflects all FY 2006 changes relative to FY 2005, shown in Columns 2 through 9 and those not applied until the final rates are calculated. The average increase for all hospitals is approximately 2.5 percent. This increase includes the effects of the proposed 3.2 percent market basket update. It also reflects the 0.7 percentage point difference between the projected outlier payments in FY 2005 (5.1 percent of total DRG payments) and the current estimate of the percentage of actual outlier payments in FY 2005 (4.4 percent), as described in the introduction to this Appendix and the Addendum to this proposed rule. As a result, payments are projected to be 0.7 percentage point lower in FY 2005 than originally estimated, resulting in a 0.7 percentage point greater increase for FY 2006 than would otherwise occur. In addition, the impact of section 505 adjustments accounted for a 0.1 percent increase. Payment decreases of 1.5 percent are primarily attributable to the impact of expanding the postacute care transfer policy (−1.1 percent). Indirect medical education formula changes for teaching hospitals under section 502 of Pub. L. 108-173, changes in payments due to the difference between the FY 2005 and FY 2006 wage index values assigned to providers reclassified under section 508 of Pub. L. 108-173, and changes in the incremental increase in payments from section 505 of Pub. L. 108-173 out migration adjustments account for the remaining −0.4 percent.

Section 213 of Pub. L. 106-554 provides that all SCHs may receive payment on the basis of their costs per case during their cost reporting period that began during 1996. For FY 2006, eligible SCHs receive 100 percent of their 1996 hospital-specific rate. In addition, in this proposed rule we are proposing to revise the budget neutrality adjustment applied to the hospital-specific rates to reflect only the payment changes resulting from DRG recalibration. Previously, we had also adjusted the hospital-specific rates to reflect payment changes based on area wage levels. The impact of this provision is modeled in Column 10 as well. In addition, section 402 of Pub. L. 108-173 increases the DSH adjustment for hospitals that serve a disproportionate share of low-income Medicare and Medicaid patients, which include rural hospitals and urban hospitals with fewer than 100 beds, SCHs, rural referral centers, and rural hospitals with less than 500 beds. The increase in DSH payments became effective for discharges occurring on or after April 1, 2004. As provided in the new Medicare law, the cap on DSH payment adjustments increased from 5.25 percent to 12 percent for urban hospitals with fewer than 100 beds, SCHs, and rural hospitals with less than 500 beds. There is no cap on rural referral centers, large urban hospitals over 100 beds, or rural hospitals over 500 beds.

There might also be interactive effects among the various factors comprising the payment system that we are not able to isolate. For these reasons, the values in Column 10 may not equal the sum of the changes described above.

The overall change in payments per case for hospitals in FY 2006 would increase by 2.5 percent. Hospitals in urban areas would experience a 2.5 percent increase in payments per case compared to FY 2005. Hospitals in rural areas, meanwhile, would experience a 2.6 percent payment increase. Hospitals in large urban areas would experience a 2.4 percent increase in payments and hospitals in other urban areas would experience a 2.7 percent increase in payments.

Among urban census divisions, the largest payment increase would be 4.0 percent in the Pacific region. Hospitals in the urban East South Central and West South Central regions would experience the next largest overall increases of 3.0 percent and 3.1 percent, respectively. The smallest urban increase would occur in the New England region, with an increase of 1.0 percent.

Among rural regions in Column 10, no hospital category will experience overall payment decreases. The Pacific and Middle Atlantic regions will benefit the most, with 3.3 and 3.2 percent increases, respectively. The smallest increase will occur in the West South Central region, with 2.2 percent increases in payments.

Among special categories of rural hospitals in Column 10, those hospitals receiving payment under the hospital-specific methodology (SCHs, MDHs, and SCH/RRCs) would experience payment increases of 2.8 percent, 2.4 percent, and 2.7 percent, respectively. This outcome is primarily related to the fact that, for hospitals receiving payments under the hospital-specific methodology, there were several increases to payments made in relation to implementation of the Pub. L. 108-173.

Urban hospitals reclassified for FY 2006 are anticipated to receive an increase of 3.0 percent, while rural reclassified hospitals are expected to benefit from reclassification with a 2.8 percent increase in payments. Those hospitals located in rural counties, but deemed to be urban under section 1886(d)(8)(B) of the Act, are expected to receive an increase in payments of 1.4 percent.

BILLING CODE 4120-01-P

Table II presents the projected impact of the proposed changes for FY 2006 for urban and rural hospitals and for the different categories of hospitals shown in Table I. It compares the estimated payments per case for FY 2005 with the average estimated per case payments for FY 2006, as calculated under our models. Thus, this table presents, in terms of the average dollar amounts paid per discharge, the combined effects of the changes presented in Table I. The percentage changes shown in the last column of Table II equal the percentage changes in average payments from Column 10 of Table I.

VII. Impact of Other Proposed Policy Changes

In addition to those proposed changes discussed above that we are able to model using our IPPS payment simulation model, we are proposing various other changes in this proposed rule. Generally, we have limited or no specific data available with which to estimate the impacts of these changes. Our estimates of the likely impacts associated with these other proposed changes are discussed below.

A. Impact of Proposed LTC-DRG Reclassifications and Relative Weights for LTCHs

In section II.D. of the preamble of this proposed rule, we discuss the proposed changes in the LTC-DRG relative weights for FY 2006 based on the proposed version 23.0 of the CMS GROUPER (including the proposed changes in the classifications, relative weights and geometric mean length of stay for each LTC-DRG). Based on LTCH cases in the FY 2004 MedPAR file, we estimate that the proposed changes would result in an aggregate decrease in LTCH payments of approximately 4.7 percent. When we compared the version 22 (FY 2005) LTC-DRG relative weights to the proposed version 23 (FY 2006) LTC-DRG relative weights, we found that approximately 72 percent of the LTC-DRGs had higher relative weights under version 22 in comparison to the proposed version 23. We also found that the version 22 LTC-DRG relative weights were, on average, approximately 16 percent higher than the proposed version 23 LTC-DRG relative weights.

In addition, based on an analysis of the most recent available LTCH claims data from the FY 2004 MedPAR file, we continue to observe that the proposed average LTC-DRG relative weight decreases due to an increase of relatively lower charge cases being assigned to LTC-DRGs with higher relative weights in the prior year. Contributing to this increase in these relatively lower charge cases being assigned to LTC-DRGs with higher relative weights in the prior year are improvements in coding practices, which are typically found when moving from a reasonable cost-based payment system to a PPS. The impact of including cases with relatively lower charges into LTC-DRGs that had a relatively higher relative weight in the version 22.0 (FY 2005) GROUPER is a decrease in the average relative weight for those LTC-DRGs in the proposed GROUPER version 23.0. We also found that there is over a 15 percent increase in the average LTCH charge across all LTC-DRGs from FY 2003 to FY 2004. For some LTC-DRGs in which the average charge within the LTC-DRG increase is less than 15 percent, the relative weights for those LTC-DRGs will decrease because the average charge for each of those LTC-DRGs is being divided by a larger number (that is, the average charge across all LTC-DRGs). For the reasons discussed above, we believe that the proposed changes in the LTC-DRG relative weights, which include a number of proposed LTC-DRGs with lower proposed relative weights, would result in approximately a 4.6 percent decrease in aggregate LTCH PPS payments.

B. Impact of Proposed New Technology Add-On Payments

We are no longer required to ensure that any add-on payments for new technology under section 1886(d)(5)(K) of the Act are budget neutral (see section II.E. of the preamble to this proposed rule). However, we are still providing an estimate of the payment increases here, as they will have a significant impact on total payments made in FY 2006. New technology add-on payments are limited to the lesser of 50 percent of the costs of the technology, or 50 percent of the costs in excess of the DRG payment for the case. Because it is difficult to predict the actual new technology add-on payment for each case, we are estimating the increase in payment for FY 2006 as if every claim with these add-on payments will receive the maximum add-on payment. As discussed in section II.E. of the preamble of this proposed rule, we are not proposing to approve any of the new technology applications that were filed for FY 2006. However, we are proposing to continue to make add-on payments in FY 2006 for an FY 2005 new technology: KinetraTM implants. We estimate this approval would increase overall payments by $12.8 million. The increase in payments for this new technology is not reflected in the tables.

C. Impact of Requirements for Hospital Reporting of Quality Data for Annual Hospital Payment Update

In section V.B. of the preamble to this proposed rule, we discuss our implementation of section 1886(b)(3)(B)(vii) of the Act, as added by section 501(b) of Pub. L. 108-173, which revised the mechanism used to update the standardized amount of payment for inpatient hospital operating costs. Specifically, section 1886(b)(3)(B)(vii) of the Act provides for a reduction of 0.4 percentage points to the update percentage increase (also known as the market basket update) for each of FYs 2005 through 2007 for any subsection (d) hospital that does not submit data on a set of 10 quality indicators established by the Secretary as of November 1, 2003. The statute also provides that any reduction will apply only to the year involved, and will not be taken into account in computing the applicable percentage increase for a subsequent fiscal year. We are unable to precisely estimate the effect of this provision because, while receiving the full update for those years is conditional upon the submission of quality data by a hospital, the submitted data must also be validated, as described in section V.B. above. The final date for submission of quality data for purposes of receiving the full adjustment in FY 2006 is May 15, 2005. Preliminary results indicate that over 98 percent of IPPS hospitals have submitted quality data. The QIOs are still in the process of validating that data and certifying those hospitals eligible to receive the full update for FY 2006. We have continued our efforts to ensure that QIOs provide assistance to all hospitals that wish to submit data. In the preamble to this proposed rule, we are proposing additional validation criteria to ensure that the quality data being sent to CMS are accurate. Our validation process requires participating hospitals to submit five charts per quarter. We reimburse each hospital for the cost of sending charts to the Clinical Data Abstraction Center at the rate of 12 cents per page for copying and approximately $4.00 per chart for postage. Based on our experience, the average size of a chart is 140 pages. Therefore, we estimate our expenditures for chart collection at $380,000 per quarter. Because we provide reimbursement to hospitals for the costs of chart submission, we believe that this requirement represents a minimal burden to participating hospitals. Based on test applications of these validation criteria to quality data that have been submitted thus far, we currently estimate that approximately 5 percent of hospitals will fail the edits and receive the reduced market basket update to the standardized amount. Based on this reduced payment to some hospitals, we estimate savings to the Medicare program of approximately $20 million for FY 2006.

D. Impact of Proposed Policy on Payment Adjustments for Low-Volume Hospitals

In section V.E. of the preamble to this proposed rule, we discussed our proposed FY 2006 implementation of section 1886(d)(12) of the Act, as added by section 406 of Pub. L. 108-173, which provides for a payment adjustment to account for the higher costs per discharge of low-volume hospitals under the IPPS. For FY 2006, we are proposing to continue to apply the low-volume adjustment criteria that we specified in the FY 2005 IPPS final rule (69 FR 49099). Currently, our fiscal intermediaries have identified 10 providers that are eligible for the low-volume adjustment. We estimate that the impact of these providers receiving the additional 25 percent payment increase to be approximately $1.5 million.

E. Impact of Proposed Policies on Payment for Indirect Costs of Graduate Medical Education

1. IME Adjustment for TEFRA Hospitals Converting to IPPS Hospitals

In section V.F.2. of the preamble of this proposed rule, we discuss our proposal to incorporate into regulations our existing policy regarding the IME adjustment for TEFRA hospitals converting to IPPS hospitals. We establish an FTE resident cap for TEFRA hospitals converting to an IPPS hospital for IME payment purposes as if the hospital had been an IPPS hospital during the base year used to compute the hospital's direct GME FTE resident cap. We are only aware of four hospitals where this issue has arisen. The proposed addition to the regulations clarifies the established policy for computing an IME FTE resident cap for these hospitals. Because this is a proposal to clarify existing policy and codify it in regulations, there is no financial impact for FY 2006.

2. Section 1886(d)(8)(E) Teaching Hospitals That Withdraw Rural Reclasssification

In section V.F.3. of the preamble to this proposed rule, we present our proposal to adjust the IME FTE resident caps of hospitals that rescind their section 1886(d)(8)(E) rural reclassifications so that they do not continue to receive the increase in the FTE resident cap that is applied for rural teaching hositals. The purpose of this policy is to prevent urban hospitals from reclassifying to rural areas under section 1886(d)(8)(E) of the Act for a short period of time, solely as a means of receiving a permanent increase to their IME FTE caps. The impact of this policy is that section 1886(d)(8)(E) hospitals may receive decreased IME payments if they return to urban status. This impact cannot be quantified because we are unable to determine the number of hospitals that would otherwise game the system in the absence of this proposal and we are not aware of any teaching hospitals that became rural under the provision of section 1886(d)(8)(E) of the Act that have subsequently reverted to urban status.

F. Impact of Proposed Policy Relating to Geographic Reclassifications of Multicampus Hospitals

In section V.H. of the preamble of this proposed rule, we discuss the impact of our implementation of the new labor market areas on multicampus hospital systems. Under our current policy, a multicampus hospital with campuses located in the same labor market area receives a single wage index. However, if the campuses are located in more than one labor market area, payment for each discharge is determined using the wage index value for the labor market area in which the campus of the hospital is located. In addition, current provisions provide that, in the case of a merger of hospitals, if the merged facilities operate as a single institution, the institution must submit a single cost report, which necessitates a single provider identification number. This provision also does not differentiate between merged facilities in a single wage index area or in multiple wage index areas. As a result, the wage index data for the merged facility is reported for the entire entity on a single cost report.

The current criteria for a hospital being reclassified to another wage area by the MGCRB do not address the circumstances under which a single campus of a multicampus hospital may seek reclassification.

Specifically, we are proposing that for reclassification applications submitted for FY 2006 (that is, applications received by September 1, 2004), we would allow a campus or campuses of a multicampus hospital system to seek geographic reclassification on the basis of the average hourly wage data submitted for the entire hospital system. For reclassification applications that would take effect for FY 2007 (that is, applications received by September 1, 2005) and thereafter, a campus of a multihospital system could not use the wage data of the entire hospital system, but rather, would have the opportunity to separate out campus-specific wage data for purposes of seeking reclassification for such campus. We estimate that this proposal will apply to fewer than 12 multicampus hospital systems nationwide and, therefore, will not lead to additional program expenditures because hospital geographic reclassifications are budget neutral under section 1886(d)(8)(D) of the Act.

G. Impact of Proposed Policy on Payment for Direct Costs of Graduate Medical Education

1. GME Initial Residency—Match for Second Year

In section V.I.2. of the preamble to this proposed rule, we discuss our proposed changes related to the initial residency period for residents that match into an advanced residency program, but fail to match into a clinical base year of training. We are proposing that, in instances where a hospital can document that, prior to commencement of any residency training, a resident matched into an advanced program that begins in the second residency year, that resident's initial residency period will be determined based on the period of board eligibility for the advanced program, without regard to the fact that the resident had not matched for a clinical base year training program. For purposes of this proposed rule, we have estimated the impact of this proposed rule change for FY 2006, using assumptions about the national average per resident amount, the number of affected residents, and the national average Medicare utilization rate. We estimate that this provision will affect approximately 600 residents. Using a national average per resident amount of $92,000, and an average Medicare utilization rate of 35 percent, we estimate that, for FY 2006, the impact of treating those residents as a full FTE rather than .50 FTE, Medicare payments for direct GME will increase by approximately $9.7 million.

2. New Teaching Hospitals' Participation in Medicare GME Affiliated Groups

In section V.I.3. of the preamble to this proposed rule, we discuss our proposed changes related to new teaching hospitals' participation in Medicare GME affiliated groups. Under current regulations, a new teaching hospital located in an urban area that establishes an FTE resident cap under § 413.79(e) may not participate in a Medicare GME affiliated group. We are proposing to revise the regulations to allow a new teaching hospital located in an urban area to participate in a Medicare GME affiliated group, but only if any adjustments made by the Medicare GME affiliation agreement result in an increase to the new teaching hospital's adjusted resident FTE resident caps for purposes of IME and direct GME payment. There is no estimated increase in program payments related to this proposed change because any additional residents that would be counted at the new teaching hospitals as a result of this change could have been counted prior to the affiliation for Medicare GME payment purposes at the hospital that is losing slots under the affiliation agreement.

H. Impact of Policy on Rural Community Hospital Demonstration Program

In section V.K. of the preamble to this proposed rule, we discuss our implementation of section 410A of Pub.L. 108-173 that required the Secretary to establish a demonstration that will modify reimbursement for inpatient services for up to 15 small rural hospitals. Section 410A(c)(2) requires that “in conducting the demonstration program under this section, the Secretary shall ensure that the aggregate payments made by the Secretary do not exceed the amount which the Secretary would have paid if the demonstration program under this section was not implemented.” As discussed in section V.K. of the preamble to this proposed rule, we are satisfying this requirement by adjusting national IPPS rates by a factor that is sufficient to account for the added costs of this demonstration. We estimate that the average additional annual payment for FY 2006 that will be made to each participating hospital under the demonstration will be approximately $977,410. We based this estimate on the recent historical experience of the difference between inpatient cost and payment for hospitals that have applied for the demonstration. For 13 participating hospitals, the total annual impact of the demonstration program is estimated to be $12,706,334. We describe the budget neutrality adjustment required for this purpose in the Addendum to this proposed rule.

I. Impact of Proposed Policy on CAH Relocation Provisions

In section VII.B.3. of the preamble to this proposed rule, we discuss the proposed change to the necessary provider provision as it applies to CAHs. As required by statute, no additional CAHs will be certified as a necessary provider on or after January 1, 2006. We are proposing to revise the regulations to allow some flexibility for those CAHs previously designated as necessary providers that embarked on a replacement facility project before the sunset provision was enacted on December 8, 2003, but find that they cannot be operational in the replacement facility by January 1, 2006. We are proposing that, when a CAH is determined to have relocated, it may continue to operate under its existing necessary provider designation that exempts CAHs from the distance from another provider requirement only if certain conditions are met. The proposed clarification to the sunset of the necessary provider provision is intended to allow CAHs to complete construction projects that were initiated prior to the enactment of Pub. L. 108-173. The Health Resources Services Administration (HRSA) estimates that this proposal will apply to fewer than six CAHs nationwide. The average cost of construction of a new 25 bed CAH is approximately $25 million. Given a depreciation schedule based on a 25 useful life and Medicare utilization of approximately 50 percent, the additional capital costs for six CAHs would be $3 million. However, the actual cost to the program would be further reduced since those 6 CAH are currently being reimbursed for their existing capital costs and also the increased operating costs that are associated with operating an aged facility. Accordingly, the budgetary impact for the proposed change on the affected CAHs is estimated at between $1 million and $2 million. Expressed on a per-facility basis, the budgetary impact of this proposed change is estimated at between $167,000 and $333,000 per CAH.

VIII. Impact of Proposed Changes in the Capital PPS

A. General Considerations

Fiscal year (FY) 2001 was the last year of the 10-year transition period established to phase in the PPS for hospital capital-related costs. During the transition period, hospitals were paid under one of two payment methodologies: fully prospective or hold harmless. Under the fully prospective methodology, hospitals were paid a blend of the capital Federal rate and their hospital-specific rate (see § 412.340). Under the hold-harmless methodology, unless a hospital elected payment based on 100 percent of the capital Federal rate, hospitals were paid 85 percent of reasonable costs for old capital costs (100 percent for SCHs) plus an amount for new capital costs based on a proportion of the capital Federal rate (see § 412.344). As we state in section VI. of the preamble of this proposed rule, with the 10-year transition period ending with hospital cost reporting periods beginning on or after October 1, 2001 (FY 2002), beginning in FY 2002 capital prospective payment system payments for most hospitals are based solely on the capital Federal rate. Therefore, we no longer include information on obligated capital costs or projections of old capital costs and new capital costs, which were factors needed to calculate payments during the transition period, for our impact analysis.

In accordance with § 412.312, the basic methodology for determining a capital PPS payment is:

(Standard Federal Rate) × (DRG weight) × (Geographic Adjustment Factor (GAF)) × (Large Urban Add-on, if applicable) × (COLA adjustment for hospitals located in Alaska and Hawaii) × (1 +3 Disproportionate Share (DSH) Adjustment Factor + Indirect Medical Education (IME) Adjustment Factor, if applicable).

In addition, hospitals may also receive outlier payments for those cases that qualify under the threshold established for each fiscal year.

The data used in developing the impact analysis presented below are taken from the December 2004 update of the FY 2004 MedPAR file and the December 2004 update of the Provider Specific File that is used for payment purposes. Although the analyses of the changes to the capital prospective payment system do not incorporate cost data, we used the December 2004 update of the most recently available hospital cost report data (FY 2003) to categorize hospitals. Our analysis has several qualifications. First, we do not make adjustments for behavioral changes that hospitals may adopt in response to policy changes. Second, due to the interdependent nature of the IPPS, it is very difficult to precisely quantify the impact associated with each change. Third, we draw upon various sources for the data used to categorize hospitals in the tables. In some cases (for instance, the number of beds), there is a fair degree of variation in the data from different sources. We have attempted to construct these variables with the best available sources overall. However, for individual hospitals, some miscategorizations are possible.

Using cases from the December 2004 update of the FY 2004 MedPAR file, we simulated payments under the capital PPS for FY 2005 and FY 2006 for a comparison of total payments per case. Any short-term, acute care hospitals not paid under the general IPPS (Indian Health Service hospitals and hospitals in Maryland) are excluded from the simulations.

As we explain in section III.A.4. of the Addendum of this proposed rule, payments are no longer made under the regular exceptions provision under §§ 412.348(b) through (e). Therefore, we no longer use the actuarial capital cost model (described in Appendix B of the August 1, 2001 proposed rule (66 FR 40099)). We modeled payments for each hospital by multiplying the capital Federal rate by the GAF and the hospital's case-mix. We then added estimated payments for indirect medical education, disproportionate share, large urban add-on, and outliers, if applicable. For purposes of this impact analysis, the model includes the following assumptions:

• We estimate that the Medicare case-mix index would increase by 1.0 percent in both FYs 2005 and 2006.

• We estimate that the Medicare discharges will be 13.5 million in FY 2005 and 13.3 million in FY 2006 for a 1.5 percent decrease from FY 2005 to FY 2006.

• The capital Federal rate was updated beginning in FY 1996 by an analytical framework that considers changes in the prices associated with capital-related costs and adjustments to account for forecast error, changes in the case-mix index, allowable changes in intensity, and other factors. The proposed FY 2006 update is 0.7 percent (see section III.A.1.a. of the Addendum to this proposed rule).

• In addition to the proposed FY 2006 update factor, the proposed FY 2006 capital Federal rate was calculated based on a proposed GAF/DRG budget neutrality factor of 1.0019, a proposed outlier adjustment factor of 0.9497, and a proposed (special) exceptions adjustment factor of 0.9997.

2. Results

In the past, in this impact section we presented the redistributive effects that were expected to occur between “hold-harmless” hospitals and “fully prospective” hospitals and a cross-sectional summary of hospital groupings by the capital PPS transition period payment methodology. We are no longer including this information because all hospitals (except new hospitals under § 412.324(b) and under § 412.304(c)(2)) will be paid 100 percent of the capital Federal rate in FY 2006.

We used the actuarial model described above to estimate the potential impact of our changes for FY 2006 on total capital payments per case, using a universe of 3,693 hospitals. As described above, the individual hospital payment parameters are taken from the best available data, including the December 2004 update of the FY 2004 MedPAR file, the December 2004 update to the Provider-Specific File, and the most recent cost report data from the December 2004 update of HCRIS. In Table III, we present a comparison of total payments per case for FY 2005 compared to FY 2006 based on the proposed FY 2006 payment policies. Column 2 shows estimates of payments per case under our model for FY 2005. Column 3 shows estimates of payments per case under our model for FY 2006. Column 4 shows the total percentage change in payments from FY 2005 to FY 2006. The change represented in Column 4 includes the 0.7 percent update to the capital Federal rate, a 1.0 percent increase in case-mix, changes in the adjustments to the capital Federal rate (for example, the effect of the new hospital wage index on the GAF), and reclassifications by the MGCRB, as well as changes in special exception payments. The comparisons are provided by: (1) Geographic location; (2) region; and (3) payment classification.

The simulation results show that, on average, capital payments per case can be expected to increase 1.7 percent in FY 2006. In addition to the 0.7 percent increase due to the capital market basket update, this projected increase in capital payments per case is largely attributable to an estimated increase in outlier payments in FY 2006. Our comparison by geographic location shows that urban hospitals are expected to experience a 1.8 percent increase in IPPS capital payments per case, while rural hospitals are only expected to experience a 1.2 percent increase in capital payments per case. This difference is mostly due to a projection that urban hospitals would experience a larger increase in estimated outlier payments from FY 2005 to FY 2006 compared to rural hospitals.

All regions are estimated to receive an increase in total capital payments per case from FY 2005 to FY 2006. Changes by region vary from a minimum increase of 0.1 percent (Middle Atlantic rural region) to a maximum increase of 3.3 percent (Pacific urban region). The relatively small increase in projected capital payments per discharge for hospitals located in the Middle Atlantic rural region is largely attributable to the proposed changes in the GAF values (that is, the proposed GAFs for most of these hospitals for FY 2006 are lower than the weighted average of the GAFs for FY 2005) . The relatively large increase in capital payments per discharge for hospitals located in the Pacific urban region is largely due to the proposed changes in the GAF values (that is, the proposed GAFs for most of these hospitals for FY 2006 are higher than the average of the GAFs for FY 2005) and a larger than average increase in estimated outlier payments for FY 2006.

Hospitals located in Puerto Rico are expected to experience an increase in total capital payments per case of 1.0 percent. This slightly lower than average increase in payment per case for hospitals located in Puerto Rico is largely due to the proposed changes in the proposed GAF values (that is, the proposed GAFs for most of these hospitals for FY 2006 are higher than the average of the GAFs for FY 2005).

By type of ownership, government hospitals are projected to have the largest rate of increase of total payment changes (2.0 percent). Similarly, payments to voluntary and proprietary hospitals are expected to increase 1.6 percent and 1.8 percent, respectively. As noted above, this slightly larger projected increase in capital payments per case for government hospitals is mostly due to the larger than average increase in projected outlier payments for FY 2006 and a smaller than average decrease in the proposed GAF values.

Section 1886(d)(10) of the Act established the MGCRB. Previously, hospitals could apply for reclassification for purposes of the standardized amount, wage index, or both. Section 401(c) of Pub. L. 108-173 equalized the standardized amounts under the operating IPPS. Therefore, beginning in FY 2005, there is no longer reclassification for the purposes of the standardized amounts; hospitals may apply for reclassification for purposes of the wage index in FY 2006. Reclassification for wage index purposes also affects the GAF because that factor is constructed from the hospital wage index.

To present the effects of the hospitals being reclassified for FY 2006 compared to the effects of reclassification for FY 2005, we show the average payment percentage increase for hospitals reclassified in each fiscal year and in total. The reclassified groups are compared to all other nonreclassified hospitals. These categories are further identified by urban and rural designation.

Hospitals reclassified for FY 2006 as a whole are projected to experience a 2.0 percent increase in payments. Payments to nonreclassified hospitals in FY 2006 are expected to increase 1.7 percent. Hospitals reclassified during both FY 2005 and FY 2006 are projected to experience an increase in payments of 1.3 percent. Hospitals reclassified during FY 2006 only are projected to receive an increase in payments of 3.2 percent. This relatively large increase is primarily due to the proposed changes in the GAF values (that is, the proposed GAFs for most of these hospitals for FY 2006 are higher than the average of the GAFs for FY 2005).

BILLING CODE 4120-01-P

Appendix B: Recommendation of Update Factors for Operating Cost Rates of Payment for Inpatient Hospital Services

(If you choose to comment on issues in this section, please include the caption “Update Factors” at the beginning of your comment.)

I. Background

Section 1886(e)(4)(A) of the Act requires that the Secretary, taking into consideration the recommendations of the Medicare Payment Advisory Commission (MedPAC), recommend update factors for inpatient hospital services for each fiscal year that take into account the amounts necessary for the efficient and effective delivery of medically appropriate and necessary care of high quality. Under section 1886(e)(5) of the Act, we are required to publish update factors recommended by the Secretary in the proposed and final rule. Accordingly, this Appendix provides the recommendations of appropriate update factors for the IPPS standardized amount, the hospital-specific rates for SCHs and MDHs, and the rate-of-increase limits and Federal prospective payment amounts for hospitals and hospitals units excluded from the IPPS. We also discuss our update framework and respond to MedPAC's recommendations concerning the update factors.

II. Secretary's Recommendations

Section 1886(b)(3)(B)(i)(XIX) of the Act sets the FY 2006 percentage increase in the operating cost standardized amount equal to the rate-of-increase in the hospital market basket for IPPS hospitals in all areas subject to the hospital submitting quality information under rules established by the Secretary under section 1886(b)(3)(B)(vii) of the Act. For hospitals that do not provide these data, the update is equal to the market basket percentage increase less 0.4 percentage points. Based on the Office of the Actuary's fourth quarter 2004 forecast of the FY 2006 market basket increase, we are proposing an update to the standardized amount of 3.2 percent (that is, the market basket rate-of-increase) for hospitals in all areas, provided the hospital submits quality data in accordance with our rules.

Section 1886(b)(3)(B)(iv) of the Act sets the FY 2006 percentage increase in the hospital-specific rates applicable to SCHs and MDHs equal to the rate set forth in section 1886(b)(3)(B)(i) of the Act (that is, the same update factor as for all other hospitals subject to the IPPS, or the rate-of-increase in the market basket). Therefore, the proposed update to the hospital-specific rate applicable to SCHs and MDHs is also 3.2 percent.

Section 1886(b)(3)(B)(ii) of the Act sets the FY 2006 percentage increase in the rate-of-increase limits for various hospitals and hospital units excluded from the IPPS, that is, certain psychiatric hospitals and units (now referred to as inpatient psychiatric facilities (IPFs)), certain LTCHs, cancer hospitals, and children's hospitals, equal to the market basket percentage increase. In the past, hospitals and hospital units excluded from the IPPS have been paid based on their reasonable costs subject to TEFRA limits. However, some of these categories of excluded hospitals and units are currently, or soon will be, paid under their own prospective payment systems. Currently, children's and cancer hospitals and RNHCIs are the remaining three types of hospitals still reimbursed fully under reasonable costs. Those psychiatric hospitals and units of hospitals not yet paid under a PPS are still reimbursed fully on a reasonable cost basis subject to TEFRA limits. In addition, those LTCHs and IPFs paid under a blend methodology have the TEFRA portion of that payment subject to the TEFRA limits. Hospitals and units that receive any reasonable cost-based payments will have those payments determined subject to the TEFRA limits for FY 2006.

As we discuss in section IV. of the preamble and in section IV. of the Addendum to this proposed rule, we are proposing to use the estimated FY 2006 IPPS operating market basket percentage increase (3.2 percent) to update the target limits for children's hospitals, cancer hospitals, and religious nonmedical institutions.

As described in greater detail below, under their respective PPSs, LTCHs and IPFs are in a transition period during which some LTCHs and IPFs are paid a blend of reasonable cost-based payments (subject to the TEFRA limits) and a Federal prospective payment amount. Under the respective transition period methodologies for the LTCH PPS and IPF PPS, which are described below, payment is based, in part, on a decreasing percentage of the reasonable cost-based payment amount. As we discuss in section IV. of the preamble of this proposed rule, we are proposing to rebase the market basket used to determine the reasonable cost-based payment amount for LTCHs and IPFs. We are proposing that the portion of payments to LTCHs and IPFs that are reasonable cost-based will be determined using the FY 2002-based excluded hospital market basket (currently estimated at 3.4 percent).

Effective for cost reporting periods beginning FY 2003, LTCHs are paid under the LTCH PPS, which was implemented with a 5-year transition period. (Refer to the August 30, 2002 final rule (67 FR 55954).) A LTCH may elect to be paid on 100 percent of the Federal prospective rate at the start of any of its cost reporting periods during the 5-year transition period. For purposes of the update factor for inpatient operating services for FY 2006, the portion of the LTCH PPS transition blend payment that is based on reasonable costs would be determined by updating the LTCH's TEFRA limit by the current estimate of the FY 2002-based excluded hospital market basket (or 3.4 percent).

Effective for cost reporting periods beginning on or after January 1, 2005, IPFs are paid under the IPF PPS under which they receive payment based on a Federal per diem rate that is based on the sum of the average routine operating, ancillary, and capital costs for each patient day of psychiatric care in an IPF, adjusted for budget neutrality. During a transition period between January 1, 2005 and January 1, 2008, some IPFs are paid based on a blend of the reasonable cost-based payments, subject to the TEFRA limit, and the Federal per diem base rate. For cost reporting periods beginning on or after January 1, 2008, IPFs will be paid based on 100 percent of the Federal per diem rate. For purposes of the update factor for FY 2006, the portion of the IPF PPS transitional blend payment based on reasonable costs would be determined by updating the IPF's TEFRA limit by the current estimate of the FY 2002-based excluded hospital market basket (or 3.4 percent).

IRFs are paid under the IRF PPS for cost reporting periods beginning on or after January 1, 2002. For cost reporting periods beginning during FY 2004, and thereafter, the Federal prospective payments to IRFs are based on 100 percent of the adjusted Federal IRF prospective payment amount, updated annually. (Refer to the July 30, 2004 final rule (69 FR 45721).)

III. Update Framework

Consistent with the current law, for FY 2006, for IPPS hospitals, we are recommending an update of 3.2 percent, which reflects the CMS Office of the Actuary's most recent (fourth quarter) 2004 forecast of the FY 2006 market basket increase. In previous years, in making a recommendation, we included an update framework that analyzed hospital productivity, scientific and technological advances, practice pattern changes, changes in case mix, the effects of reclassification on recalibration and forecast error correction. Although we have used this framework in past years, we are no longer including this analysis in our recommendation for the update. We are not discussing the framework because the productivity measure cannot be adequately computed for FY 2006 because of the anticipated effects on admissions due to the expected increases in enrollment in Medicare Advantage plans. The increased enrollment in Medicare Advantage plans has the effect of causing admissions to decline. However, we do not have information on how hospital employment will be affected for our methodology. Thus, in the absence of data to predict the effect of a decline in hospital admissions on hospital employment, we cannot appropriately reflect productivity in our framework. As a result, based on the discussion above, we believe it is appropriate to recommend an update of 3.2 percent, based on the Office of the Actuary's fourth quarter 2004 forecast of the FY 2006 market basket percentage increase.

We note that, although we are not using the framework for our recommendation to update the operating standardized amounts due to the reasons above, we continue to use the framework to calculate the capital standardized amounts as discussed in section III.A.1.a. of the Addendum to this proposed rule. This is due to the fact that the framework for the capital standardized amounts is calculated without a productivity factor and, therefore, the reasons discussed above do not apply to the update framework of the capital standardized amounts.

We also note that section 1886(e)(3) of the Act directs the Secretary to report to Congress an initial estimate of the recommendation of an appropriate payment inflation update for inpatient hospital services for the upcoming fiscal year. Earlier this year, the Secretary reported to Congress that the initial estimate of the recommendation of an update factor was 3.3 percent, which was the market basket update for the IPPS standardized amount in the President's FY 2006 budget. The difference between the Secretary's initial estimate and the update we are recommending in this proposed rule (3.2 percent) is due to the availability and use of more recent data for the market basket than were available at the time the Secretary's initial estimate was developed. In addition, the Secretary's initial estimate was based on the FY 1997-based hospital market basket, while the proposed update in this proposed rule (the current update recommendation) is based on the proposed FY 2002-based hospital market basket.

Aside from making a recommendation for IPPS hospitals, in accordance with section 1886(e)(4)(A) of the Act, it is necessary to make a recommendation of the update factor for all other types of hospitals. Consistent with current law, for FY 2006, for SCHs and MDHs, we are recommending an update of 3.2 percent, which reflects the CMS Office of the Actuary's most recent (fourth quarter) 2004 forecast of the FY 2006 market basket percentage increase.

Consistent with our proposal in section IV. of the preamble of this proposed rule, for FY 2006, for cancer hospitals, religious nonmedical health care institutions, and children's hospitals, we are recommending an update of 3.2 percent to the target limits. Consistent with our proposal in the February 3, 2005 LTCH PPS proposed rule (70 FR 5735), we are recommending an update factor of 3.1 percent for rate year (RY) 2006. For LTCHs that currently may be paid during a transition period a blend of reasonable cost-based payments (subject to the TEFRA limits) and Federal prospective payment amounts, we are recommending an update factor of 3.4 percent for the portion of the payment that is based on reasonable costs, subject to the TEFRA limits, consistent with our proposal in section IV. of the preamble of this proposed rule. For the Federal portion of this same blended payment amount, we are recommending an update of 3.1 percent. Because the IPF PPS was effective for cost reporting periods beginning on or after January 1, 2005, and the base rates are effective until July 1, 2006, we are recommending an update of zero for IPFs (69 FR 66922). Finally, for the IRF PPS, we have not published a proposed rule proposing an update for FY 2006. As a result, we are recommending an update of 3.1 percent to IRF PPS for FY 2006, the same update used for FY 2005.

IV. MedPAC Recommendation for Assessing Payment Adequacy and Updating Payments in Traditional Medicare

In the past, MedPAC has suggested specific adjustments to its update recommendation for each of the factors discussed under section III. of this Appendix. In its March 2005 Report to Congress, MedPAC assessed the adequacy of current payments and costs and the relationship between payments and an appropriate cost base, utilizing an established methodology used by the Commission in the past several years. MedPAC stressed that the issue at hand was whether payments were too high or too low, and not how they became either too high or too low.

In the first portion of MedPAC's analysis on the assessment of payment adequacy, the Commission reviewed the relationship between costs and payments. MedPAC's indicator of the relationship between payments and costs is the overall Medicare margin. The overall Medicare margin is calculated as the difference between payments and costs divided by payments. Based on the latest cost report data available, MedPAC estimated an inpatient hospital Medicare operating margin for FY 2003 of 1.3 percent (down from 5.9 percent and 9.8 percent for FY 2002 and FY 2001, respectively).

MedPAC also projected margins for FY 2005, making certain assumptions about changes in payments and costs. On the payment side, MedPAC applied the annual payment updates (as specified by law for FYs 2001 through 2005), and then modeled the effects of other policy changes that have affected the level of payments. On the cost side, MedPAC estimated the increases in cost per unit of output over the same time period at the rate of inflation as measured by the applicable market basket index generated by CMS.

In addition to considering the relationship between estimated payments and costs, MedPAC also considered the following three factors to assess whether current payments are adequate:

• Changes in access to or quality of care;

• Changes in the volume of services or number of providers; and

• Change in providers' access to capital.

MedPAC's recommendation was to increase payments under the IPPS by the projected increase in the hospital market basket index, less 0.4 percent, for FY 2006. MedPAC noted that the indicators of payment adequacy present a mixed picture. MedPAC was concerned about the trend of falling hospital margins, which may result in hospitals having a limited financial cushion for dealing with pressures that may arise in the coming year. On the other hand, MedPAC stated that the current cost trend was unsustainable and may have been driven by a lack of cost containment. Therefore, MedPAC concluded that an update of the hospital market basket index minus 0.4 percent is appropriate.

Response: As described above, we are recommending a full market basket update for FY 2006 consistent with current law. We believe this will appropriately balance incentives for hospitals to operate efficiently with the need to provide sufficient payments to maintain access to quality care for Medicare beneficiaries.

In addition, because the operating and capital prospective payment systems remain separate, we are proposing to continue to use separate updates for operating and capital payments. The proposed update to the capital payment rate is discussed in section III. of the Addendum to this proposed rule.

[FR Doc. 05-8507 Filed 4-25-05; 4:12 pm]

BILLING CODE 4120-01-P